DEPARTMENT OF HEALTH AND HUMAN SERVICES

Centers for Medicare & Medicaid Services

42 CFR Parts 419 and 485

[CMS-1501-P]

RIN 0938-AN46

Medicare Program; Proposed Changes to the Hospital Outpatient Prospective Payment System and Calendar Year 2006 Payment Rates

AGENCY: Centers for Medicare & Medicaid Services (CMS), HHS.

ACTION: Proposed rule.

SUMMARY: This proposed rule would revise the Medicare hospital outpatient prospective payment system to implement applicable statutory requirements and changes arising from our continuing experience with this system and to implement certain related provisions of the Medicare Prescription Drug, Improvement, and Modernization Act (MMA) of 2003. In addition, the proposed rule describes proposed changes to the amounts and factors used to determine the payment rates for Medicare hospital outpatient services paid under the prospective payment system. This proposed rule would also change the requirement for physician oversight of mid-level practitioners in critical access hospitals (CAHs). These changes would be applicable to services furnished on or after January 1, 2006.

DATES: To be ensured consideration, comments must be received at one of the addresses provided in the ADDRESSES section, no later than 5 p.m. on September 16, 2005.

ADDRESSES: In commenting, please refer to file code CMS-1501-P. Because of staff and resource limitations, we cannot accept comments by facsimile (FAX) transmission.

You may submit comments in one of three ways (no duplicates, please):

1. Electronically. You may submit electronic comments on specific issues in this proposed rule to http://www.cms.hhs.gov/regulations/ecomments. (Attachments should be in Microsoft Word, WordPerfect, or Excel; however, we prefer Microsoft Word).

2. By regular mail. You may mail written comments (one original and two copies) to the following address ONLY: Centers for Medicare & Medicaid Services, Department of Health and Human Services, Attention: CMS-1501-P, P.O. Box 8016, Baltimore, MD 21244-8018.

3. By express or overnight mail. You may send written comments (one original and two copies) to the following address ONLY: Centers for Medicare & Medicaid Services, Department of Health and Human Services, Attention: CMS-1501-P, Mail Stop C4-26-05, 7500 Security Boulevard, Baltimore, MD 21244-1850.

4. By hand or courier. If you prefer, you may deliver (by hand or courier) your written comments (one original and two copies) before the close of the comment period to one of the following addresses. If you intend to deliver your comments to the Baltimore address, please call telephone number (410) 786-7195 in advance to schedule your arrival with one of our staff members. Room 445-G, Hubert H. Humphrey Building, 200 Independence Avenue, SW., Washington, DC 20201, or 7500 Security Boulevard, Baltimore, MD 21244-1850.

(Because access to the interior of the Hubert H. Humphrey Building is not readily available to persons without Federal Government identification, commenters are encouraged to leave their comments in the CMS drop slots located in the main lobby of the building. A stamp-in clock is available for persons wishing to retain proof of filing by stamping in and retaining an extra copy of the comments being filed.)

Comments mailed to the addresses indicated as appropriate for hand or courier delivery may be delayed and received after the comment period.

Submission of Comments on Paperwork Requirements: For comments that relate to information collection requirements, mail a copy of comments to the following addresses: Centers for Medicare & Medicaid Services, Office of Strategic Operations and Regulatory Affairs, Security and Standards Group, Office of Issuances, Room C4-24-02, 7500 Security Boulevard, Baltimore, MD 21244-1850, Attn: James Wickliffe, CMS-1501-P; and, Office of Information and Regulatory Affairs, Office of Management and Budget, Room 3001, New Executive Office Building, Washington, DC 20503, Christopher Martin, CMS Desk Officer, CMS-1501-P.

Comments submitted to OMB may also be e-mailed to the following address: Christopher_Martin@omb.eop.gov, or faxed to OMB at (202) 395-6974.

Submitting Comments: We welcome comments from the public on all issues set forth in this rule to assist us in fully considering issues and developing policies. You can assist us by referencing the file code CMS-1501-P and the specific “issue identifier” that precedes the section on which you choose to comment.

Inspection of Public Comments: All comments received before the close of the comment period are available for viewing by the public, including any personally identifiable or confidential business information that is included in a comment. CMS posts all electronic comments received before the close of the comment period on its public Web site as soon as possible after they have been received. Hard copy comments received timely will be available for public inspection as they are received, generally beginning approximately 3 weeks after publication of a document, at the headquarters of the Centers for Medicare & Medicaid Services, 7500 Security Boulevard, Baltimore, MD 21244-1850, Monday through Friday of each week from 8:30 a.m. to 4 p.m. To schedule an appointment to view public comments, phone 1-800-743-3951.

FOR FURTHER INFORMATION, CONTACT: Rebecca Kane, (410) 786-0378, Outpatient prospective payment issues, and Suzanne Asplen, (410) 786-4558, Partial hospitalization and community mental health center issues.

SUPPLEMENTARY INFORMATION:

Electronic Access

This Federal Register document is available from the Federal Register online database through GPO Access, a service of the U.S. Government Printing Office. The Web site address is: http://www.gpoaccess.gov/fr/index.html.

Alphabetical List of Acronyms Appearing in the Proposed Rule

ACEP American College of Emergency Physicians

AHA American Hospital Association

AHIMA American Health Information Management Association

AMA American Medical Association

APC Ambulatory payment classification

AMP Average manufacturer price

ASP Average sales price

ASC Ambulatory surgical center

AWP Average wholesale price

BBA Balanced Budget Act of 1997, Pub. L. 105-33

BIPA Medicare, Medicaid, and SCHIP Benefits Improvement and Protection Act of 2000, Pub. L. 106-554

BBRA Medicare, Medicaid, and SCHIP Balanced Budget Refinement Act of 1999, Pub. L. 106-113

CAH Critical access hospital

CBSA Core-Based Statistical Areas

CCR (Cost center specific) cost-to-charge ratio

CMHC Community mental health center

CMS Centers for Medicare & Medicaid Services (formerly known as the Health Care Financing Administration)

CORF Comprehensive outpatient rehabilitation facility

CPT [Physicians'] Current Procedural Terminology, Fourth Edition, 2005, copyrighted by the American Medical Association

CRNA Certified registered nurse anesthetist

CY Calendar year

DMEPOS Durable medical equipment, prosthetics, orthotics, and supplies

DMERC Durable medical equipment regional carrier

DRG Diagnosis-related group

DSH Disproportionate share hospital

EACH Essential Access Community Hospital

E/M Evaluation and management

EPO Erythropoietin

ESRD End-stage renal disease

FACA Federal Advisory Committee Act, Pub. L. 92-463

FDA Food and Drug Administration

FI Fiscal intermediary

FSS Federal Supply Schedule

FY Federal fiscal year

GAO Government Accountability Office

HCPCS Healthcare Common Procedure Coding System

HCRIS Hospital Cost Report Information System

HHA Home health agency

HIPAA Health Insurance Portability and Accountability Act of 1996, Pub. L. 104-191

ICD-9-CM International Classification of Diseases, Ninth Edition, Clinical Modification

IME Indirect medical education

IPPS (Hospital) inpatient prospective payment system

IVIG Intravenous immune globulin

LTC Long-term care

MedPAC Medicare Payment Advisory Commission

MDH Medicare-dependent hospital

MMA Medicare Prescription Drug, Improvement, and Modernization Act of 2003, Pub. L. 108-173

MSA Metropolitan Statistical Area

NCCI National Correct Coding Initiative

NCD National Coverage Determination

OCE Outpatient code editor

OMB Office of Management and Budget

OPD (Hospital) outpatient department

OPPS (Hospital) outpatient prospective payment system

PHP Partial hospitalization program

PM Program memorandum

PPI Producer Price Index

PPS Prospective payment system

PPV Pneumococcal pneumonia (virus)

PRA Paperwork Reduction Act

QIO Quality Improvement Organization

RFA Regulatory Flexibility Act

RRC Rural referral center

SBA Small Business Administration

SCH Sole community hospital

SDP Single drug pricer

SI Status indicator

TEFRA Tax Equity and Fiscal Responsibility Act of 1982, Pub. L. 97-248

TOPS Transitional outpatient payments

USPDI United States Pharmacopoeia Drug Information

To assist readers in referencing sections contained in this document, we are providing the following outline of contents:

Outline of Contents

I. Background

A. Legislative and Regulatory Authority for the Hospital Outpatient Prospective Payment System

B. Excluded OPPS Services and Hospitals

C. Prior Rulemaking

D. APC Advisory Panel

1. Authority for the APC Panel

2. Establishment of the APC Panel

3. APC Panel Meetings and Organizational Structure

E. Provisions of the Medicare Prescription Drug, Improvement, and Modernization Act of 2003 To Be Implemented Beginning in CY 2006

1. Hold Harmless Provisions

2. Study and Authorization of Adjustment for Rural Hospitals

3. Payment for “Specified Covered Outpatient Drugs”

4. Adjustment in Payment Rates for “Specified Covered Outpatient Drugs” for Overhead Costs

5. Budget Neutrality Adjustment

F. CMS' Commitment to New Technologies

G. Summary of the Major Content of This Proposed Rule

II. Proposed Updates Affecting Payments for CY 2006

A. Recalibration of APC Relative Weights for CY 2006

1. Database Construction

a. Database Source and Methodology

b. Proposed Use of Single and Multiple Procedure Claims

2. Proposed Calculation of Median Costs for CY 2006

3. Proposed Calculation of Scaled OPPS Payment Weights

4. Proposed Changes to Packaged Services

B. Proposed Payment for Partial Hospitalization

1. Background

2. Proposed PHP APC Update for CY 2006

3. Proposed Separate Threshold for Outlier Payments to CMHCs

C. Proposed Conversion Factor Update for CY 2006

D. Proposed Wage Index Changes for CY 2006

E. Proposed Statewide Average Default Cost-to-Charge Ratios

F. Expiring Hold Harmless Provision for Transitional Corridor Payments for certain Rural Hospitals

G. Proposed Adjustment for Rural Hospitals

1. Factors Contributing to Unit Cost Differences Between Rural Hospitals and Urban Hospitals

2. Explanatory Variables

3. Results

H. Proposed Hospital Outpatient Outlier Payments

I. Calculation of Proposed National Unadjusted Medicare Payment

J. Proposed Beneficiary Copayments for CY 2006

1. Background

2. Proposed Copayment for CY 2006

3. Calculation of the Proposed Unadjusted Copayment Amount for CY 2006

III. Proposed Ambulatory Payment Classification (APC) Group Policies

A. Background

B. Proposed Changes—Variations Within APCs

1. Application of the 2 Times Rule

a. APC 0146: Level I Sigmoidoscopy

b. APC 0342: Level I Pathology

2. Proposed Exceptions to the 2 Times Rule

C. New Technology APCs

1. Background

2. Proposed Refinement of New Technology Cost Bands

3. Proposed Requirements for Assigning Services to New Technology APCs

4. Proposed Movement of Procedures from New Technology APCs to Clinically Appropriate APCs

a. Proton Beam Therapy

b. Stereotactic Radiosurgery

c. Other Services in New Technology APCs

D. Proposed APC-Specific Policies

1. Hyperbaric Oxygen Therapy

2. Allergy Testing

3. Stretta Procedure

4. Vascular Access Procedures

E. Proposed Addition of New Procedure Codes

IV. Proposed Payment Changes for Devices

A. Device-Dependent APCs

B. APC Panel Recommendations Pertaining to APC 0107 and APC 0108

C. Pass-Through Payments for Devices

1. Expiration of Transitional Pass-Through Payments for Certain Devices

2. Proposed Policy for CY 2006

D. Other Policy Issues Relating to Pass-Through Device Categories

1. Provisions for Reducing Transitional Pass-Through Payments to Offset Costs Packaged into APC Groups

a. Background

b. Proposed Policy for CY 2006

2. Criteria for Establishing New Pass-Through Device Categories

a. Surgical Insertion and Implantation Criterion

b. Public Comments Received and Our Responses

c. Existing Device Category Criterion

V. Proposed Payment Changes for Drugs, Biologicals, and Radiopharmaceutical Agents

A. Transitional Pass-Through Payment for Additional Costs of Drugs and Biologicals

1. Background

2. Expiration in CY 2005 of Pass-Through Status for Drugs and Biologicals

3. Drugs and Biologicals with Proposed Pass-Through Status in CY 2006

B. Proposed Payment for Drugs, Biologicals, and Radiopharmaceuticals Without Pass-Through Status

1. Background

2. Proposed Criteria for Packaging Payment for Drugs, Biologicals, and Radiopharmaceuticals

3. Proposed Payment for Drugs, Biologicals, and Radiopharmaceuticals Without Pass-Through Status That Are Not Packaged

a. Proposed Payment for Specified Covered Outpatient Drugs

(1) Background

(2) Proposed Changes for CY 2006 Related to Pub. L. 108-173

(3) Data Sources Available for Setting CY 2006 Payment Rates

(4) CY 2006 Proposed Payment Policy for Radiopharmaceutical Agents

(5) MedPAC Report on APC Payment Rate Adjustment of Specified Covered Outpatient Drugs

b. Proposed CY 2006 Payment for Nonpass-Through Drugs, Biologicals, and Radiopharmaceuticals with HCPCS Codes But Without OPPS Hospital Claims Data

C. Proposed Coding and Billing Changes for Specified Covered Outpatient Drugs

1. Background

2. Proposed Policy for CY 2006

D. Proposed Payment for New Drugs, Biologicals, and Radiopharmaceuticals Before HCPCS Codes Are Assigned

1. Background

2. Proposed Policy for CY 2006

E. Proposed Payment for Vaccines

F. Proposed Changes in Payments for Single Indication Orphan Drugs

VI. Estimate of Transitional Pass-Through Spending in CY 2006 for Drugs, Biologicals, and Devices

A. Total Allowed Pass-Through Spending

B. Estimate of Pass-Through Spending for CY 2006

VII. Proposed Brachytherapy Payment Changes

A. Background

B. Proposed Changes Related to Pub. L. 108-173

VIII. Proposed Coding and Payment for Drug Administration

A. Background

B. Proposed Changes for CY 2006

C. Proposed Changes to Vaccine Administration

IX. Hospital Coding for Evaluation and Management (E/M) Services

X. Proposed Payment for Blood and Blood Products

A. Background

B. Proposed Changes for CY 2006

XI. Proposed Payment for Observation Services

A. Background

B. Proposed CY 2006 Coding Changes for Observation Services

C. Proposed Criteria for Separately Payable Observation Services

1. Diagnosis Requirements

2. Observation Time

3. Additional Hospital Services

4. Physician Evaluation

D. Separate Payment for Direct Admission to Observation Care (APC 0600)

XII. Procedures That Will Be Paid Only as Inpatient Procedures

A. Background

B. Proposed Changes to the Inpatient List

C. Ancillary Outpatient Services When Patient Expires

XIII. Proposed Indicator Assignments

A. Proposed Status Indicator Assignments

B. Proposed Comment Indicators for the CY 2006 OPPS Final Rule

XIV. Proposed Nonrecurring Policy Changes

A. Proposed Payment for Multiple Diagnostic Imaging Procedures

B. Interrupted Procedure Payment Policies (Modifiers -52, -73, and -74)

XV. OPPS Policy and Payment Recommendations

A. MedPAC Recommendations

B. APC Panel Recommendations

C. GAO Recommendations

XVI. Physician Oversight of Mid-Level Practitioners in Critical Access Hospitals

A. Background

B. Proposed Policy Change

XVII. Files Available to the Public via the Internet

XVIII. Collection of Information Requirements

XIX. Response to Public Comments

XX. Regulatory Impact Analysis

A. OPPS: General

1. Executive Order 12866

2. Regulatory Flexibility Act (RFA)

3. Small Rural Hospitals

4. Unfunded Mandates

5. Federalism

B. Impact of Proposed Changes in this Proposed Rule

C. Alternatives Considered

1. Option Considered for Proposed Payment Policy for Separately Payable Drugs and Biologicals

2. Payment Adjustment for Rural Sole Community Hospitals

3. Change in the Percentage of Total OPPS Payments Dedicated to Outlier Payments

D. Limitations of Our Analysis

E. Estimated Impacts of this Proposed Rule on Hospitals

F. Estimated Impacts of this Proposed Rule on Beneficiaries

Regulation Text

Addenda

Addendum A—List of Ambulatory Payment Classification (APCs) with Status Indicators, Relative Weights, Payment Rates, and Copayment Amounts for CY 2006

Addendum B—Payment Status by HCPCS Code and Related Information—CY 2006

Addendum C—Healthcare Common Procedure Coding System (HCPCS) Codes by Ambulatory Payment Classification (APC) (Available only on CMS Web site via Internet. Refer to section XVII. of the preamble of this proposed rule.)

Addendum D1—Payment Status Indicators for the Hospital Outpatient Prospective Payment System

Addendum D2—Comment Indicators

Addendum E—CPT Codes That Are Paid Only as Inpatient Procedures

Addendum H—Wage Index for Urban Areas

Addendum I—Wage Index for Rural Areas

Addendum J—Wage Index for Hospitals That Are Reclassified

Addendum K—Puerto Rico Wage Index by CBSA

Addendum L—Out-Migration Wage Adjustment—CY 2006

Addendum M—Hospital Reclassifications and Redesignations by Individual Hospitals and CBSA

Addendum N—Hospital Reclassifications and Redesignations by Individual Hospitals under Section 508 of Pub. L. 108-173

Addendum O—Hospitals Redesignated as Rural Under Section 1886(d)(8)(E) of the Act

I. Background

A. Legislative and Regulatory Authority for the Hospital Outpatient Prospective Payment System

When the Medicare statute was originally enacted, Medicare payment for hospital outpatient services was based on hospital-specific costs. In an effort to ensure that Medicare and its beneficiaries pay appropriately for services and to encourage more efficient delivery of care, the Congress mandated replacement of the reasonable cost-based payment methodology with a prospective payment system (PPS). The Balanced Budget Act of 1997 (BBA) (Pub. L. 105-33), enacted on August 5, 1997, added section 1833(t) to the Social Security Act (the Act) authorizing implementation of a PPS for hospital outpatient services. The Medicare, Medicaid, and SCHIP Balanced Budget Refinement Act of 1999 (BBRA) (Pub. L. 106-113), enacted on November 29, 1999, made major changes that affected the hospital outpatient PPS (OPPS). The Medicare, Medicaid, and SCHIP Benefits Improvement and Protection Act of 2000 (BIPA) (Pub. L. 106-554), enacted on December 21, 2000, made further changes in the OPPS. Section 1833(t) of the Act was also amended by the Medicare Prescription Drug, Improvement, and Modernization Act of 2003 (MMA), Pub. L. 108-173, enacted on December 8, 2003. (Discussion of provisions related specifically to the CY 2006 OPPS is included in sections V. and VII. of this proposed rule.) The OPPS was first implemented for services furnished on or after August 1, 2000. Implementing regulations for the OPPS are located at 42 CFR part 419.

Under the OPPS, we pay for hospital outpatient services on a rate-per-service basis that varies according to the ambulatory payment classification (APC) group to which the service is assigned. We use Healthcare Common Procedure Coding System (HCPCS) codes (which include certain Current Procedural Terminology (CPT) codes) and descriptors to identify and group the services within each APC group. The OPPS includes payment for most hospital outpatient services, except those identified in section I.B. of this proposed rule. Section 1833(t)(1)(B)(ii) of the Act provides for Medicare payment under the OPPS for certain services designated by the Secretary that are furnished to inpatients who have exhausted their Part A benefits or who are otherwise not in a covered Part A stay. Section 611 of Pub. L. 108-173 provided for Medicare coverage of an initial preventive physical examination, subject to the applicable deductible and coinsurance, as an outpatient department service, payable under the OPPS. In addition, the OPPS includes payment for partial hospitalization services furnished by community mental health centers (CMHCs).

The OPPS rate is an unadjusted national payment amount that includes the Medicare payment and the beneficiary copayment. This rate is divided into a labor-related amount and a nonlabor-related amount. The labor-related amount is adjusted for area wage differences using the inpatient hospital wage index value for the locality in which the hospital or CMHC is located.

All services and items within an APC group are comparable clinically and with respect to resource use (section 1833(t)(2)(B) of the Act). In accordance with section 1833(t)(2) of the Act, subject to certain exceptions, services and items within an APC group cannot be considered comparable with respect to the use of resources if the highest median (or mean cost, if elected by the Secretary) for an item or service in the APC group is more than 2 times greater than the lowest median cost for an item or service within the same APC group (referred to as the “2 times rule”). In implementing this provision, we use the median cost of the item or service assigned to an APC group.

Special payments under the OPPS may be made for new technology items and services in one of two ways. Section 1833(t)(6) of the Act provides for temporary additional payments or “transitional pass-through payments” for certain drugs, biological agents, brachytherapy devices used for the treatment of cancer, and categories of medical devices for at least 2 but not more than 3 years. For new technology services that are not eligible for pass-through payments and for which we lack sufficient data to appropriately assign them to a clinical APC group, we have established special APC groups based on costs, which we refer to as “APC cost bands.” These cost bands allow us to price these new procedures more appropriately and consistently. Similar to pass-through payments, these special payments for new technology services are also temporary; that is, we retain a service within a new technology APC group until we acquire adequate data to assign it to a clinically appropriate APC group.

B. Excluded OPPS Services and Hospitals

Section 1833(t)(1)(B)(i) of the Act authorizes the Secretary to designate the hospital outpatient services that are paid under the OPPS. While most hospital outpatient services are payable under the OPPS, section 1833(t)(1)(B)(iv) of the Act excluded payment for ambulance, physical and occupational therapy, and speech-language pathology services, for which payment is made under a fee schedule. Section 614 of Pub. L. 108-173 amended section 1833(t)(1)(B)(iv) of the Act to exclude OPPS payment for screening and diagnostic mammography services. The Secretary exercised the broad authority granted under the statute to exclude from the OPPS those services that are paid under fee schedules or other payment systems. Such excluded services include, for example, the professional services of physicians and nonphysician practitioners paid under the Medicare Physician Fee Schedule (MPFS); laboratory services paid under the clinical diagnostic laboratory fee schedule; services for beneficiaries with end-stage renal disease (ESRD) that are paid under the ESRD composite rate; and services and procedures that require an inpatient stay that are paid under the hospital inpatient prospective payment system (IPPS). We set forth the services that are excluded from payment under the OPPS in § 419.22 of the regulations.

Under § 419.20 of the regulations, we specify the types of hospitals and entities that are excluded from payment under the OPPS. These excluded entities include Maryland hospitals, but only for services that are paid under a cost containment waiver in accordance with section 1814(b)(3) of the Act; critical access hospitals (CAHs); hospitals located outside of the 50 States, the District of Columbia, and Puerto Rico; and Indian Health Service hospitals.

C. Prior Rulemaking

On April 7, 2000, we published in the Federal Register a final rule with comment period (65 FR 18434) to implement a prospective payment system for hospital outpatient services. The hospital OPPS was first implemented for services furnished on or after August 1, 2000. Section 1833(t)(9) of the Act requires the Secretary to review certain components of the OPPS not less often than annually and to revise the groups, relative payment weights, and other adjustments to take into account changes in medical practice, changes in technology, and the addition of new services, new cost data, and other relevant information and factors. Since implementing the OPPS, we have published final rules in the Federal Register annually to implement statutory requirements and changes arising from our experience with this system. For a full discussion of the changes to the OPPS, we refer readers to these Federal Register final rules.¹

¹ Interim final rule with comment period, August 3, 2000 (65 FR 47670); interim final rule with comment period, November 13, 2000 (65 FR 67798); final rule and interim final rule with comment period, November 2, 2001 (66 FR 55850 and 55857); final rule, November 30, 2001 (66 FR 59856); final rule, December 31, 2001 (66 FR 67494); final rule, March 1, 2002 (67 FR 9556); final rule, November 1, 2002 (67 FR 66718); final rule with comment period, November 7, 2003 (68 FR 63398); correction of the November 7, 2003 final rule with comment period, December 31, 2003 (68 FR 75442); interim final rule with comment period, January 6, 2004 (69 FR 820); and final rule with comment period, November 15, 2004 (69 FR 65681).

On November 15, 2004, we published in the Federal Register a final rule with comment period (69 FR 65681) that revised the OPPS to update the payment weights and conversion factor for services payable under the calendar year (CY) 2005 OPPS on the basis of claims data from January 1, 2003 through December 31, 2003, and to implement certain provisions of Pub. L. 108-173. In addition, we responded to public comments received on the January 6, 2004 interim final rule with comment period relating to Pub. L. 108-173 provisions that were effective January 1, 2004, and finalized those policies. Further, we responded to public comments received on the November 7, 2003 final rule with comment period pertaining to the APC assignment of HCPCS codes identified in Addendum B of that rule with the new interim (NI) comment indicators; and public comments received on the August 16, 2004 OPPS proposed rule (69 FR 50448).

Subsequent to publishing the November 15, 2004 final rule with comment period, we published a correction of final rule with comment period on December 30, 2004 (69 FR 78315). This document corrected technical errors that appeared in the November 15, 2004 final rule with comment period. It also provided additional information about the CY 2005 wage indices for the OPPS that was not published in the November 15, 2004 final rule with comment period.

D. APC Advisory Panel

1. Authority of the APC Panel

Section 1833(t)(9)(A) of the Act, as amended by section 201(h) of the BBRA of 1999, requires that we consult with an outside panel of experts to review the clinical integrity of the payment groups and weights under the OPPS. The Advisory Panel on Ambulatory Payment Classification (APC) Groups (the APC Panel), discussed under section I.D.2. of this preamble, fulfills this requirement. The Act further specifies that the APC Panel will act in an advisory capacity. This expert panel, which is to be composed of 15 representatives of providers subject to the OPPS (currently employed full-time, not consultants, in their respective areas of expertise), reviews and advises us about the clinical integrity of the APC groups and their weights. The APC Panel is not restricted to using our data and may use data collected or developed by organizations outside the Department in conducting its review.

2. Establishment of the APC Panel

On November 21, 2000, the Secretary originally signed the charter establishing the APC Panel. The APC Panel is technical in nature and is governed by the provisions of the Federal Advisory Committee Act (FACA), as amended (Pub. L. 92-463). Since its initial chartering, the Secretary has twice renewed the APC Panel's charter: On November 1, 2002, and on November 8, 2004. The renewed charter indicates that the APC Panel continues to be technical in nature; is governed by the provisions of the FACA with a Designated Federal Official (DEO) to oversee the day-to-day administration of the FACA requirements and to provide to the Committee Management Officer all committee reports for forwarding to the Library of Congress; may convene up to three meetings per year; and is chaired by a Federal official who also serves as a CMS medical officer.

Originally, in establishing the APC Panel, we solicited members in a notice published in the Federal Register on December 5, 2000 (65 FR 75943). We received applications from more than 115 individuals who nominated either colleagues or themselves. After carefully reviewing the applications, we chose 15 highly qualified individuals to serve on the APC Panel. Because of the loss of four APC Panel members due to the expiration of terms of office on March 31, 2004, we published a Federal Register notice on January 23, 2004 (69 FR 3370) that solicited nominations for APC Panel membership. From the 24 nominations that we received, we chose four new members. Six members' terms expired on March 31, 2005; therefore, a Federal Register notice was published on February 25, 2005, requesting nominations to the APC Panel. We received only 13 nominations before the nomination period closed on March 15, 2005. Therefore, we extended the deadline for nominations to May 9, 2005, and announced the extension in the Federal Register on April 8, 2005 (70 FR 18028). The entire APC Panel membership and information pertaining to it, including Federal Register notices, meeting dates, agenda topics, and meeting reports are identified on the CMS Web site: http://www.cms.hhs.gov/faca/apc/apcmem.asp.

3. APC Panel Meetings and Organizational Structure

The APC Panel first met on February 27, February 28, and March 1, 2001. Since that initial meeting, the APC Panel has held six subsequent meetings, with the last meeting taking place on February 23 and 24, 2005. (The APC Panel did not meet on February 25, 2004, as announced in the meeting notice published on December 30, 2004, (69 FR 78464).) Prior to each of these biennial meetings, we published a notice in the Federal Register to announce each meeting and, when necessary, to solicit and announce nominations for APC Panel membership. For a more detailed discussion about these announcements, refer to the following Federal Register notices: December 5, 2000 (65 FR 75943), December 14, 2001 (66 FR 64838), December 27, 2002 (67 FR 79107), July 25, 2003 (68 FR 44089), December 24, 2003 (68 FR 74621), August 5, 2004 (69 FR 47446), and December 30, 2004 (69 FR 78464).

During these meetings, the APC Panel established its operational structure that, in part, includes the use of three subcommittees to facilitate its required APC review process. Currently, the three subcommittees are the Data Subcommittee, the Observation Subcommittee, and the Packaging Subcommittee. The Data Subcommittee is responsible for studying the data issues confronting the APC Panel and for recommending viable options for resolving them. This subcommittee was initially established on April 23, 2001, as the Research Subcommittee and reestablished as the Data Subcommittee on April 13, 2004, and February 11, 2005. The Observation Subcommittee, which was established on June 24, 2003, and reestablished with new members on March 8, 2004, and February 11, 2005, reviews and makes recommendations to the APC Panel on all issues pertaining to observation services paid under the OPPS, such as coding and operational issues. The Packaging Subcommittee, which was established on March 8, 2004 and reestablished with new members on February 11, 2005, studies and makes recommendations on issues pertaining to services that are not separately payable under the OPPS but are bundled or packaged APC payments. Each of these subcommittees was established by a majority vote of the APC Panel during a scheduled APC Panel meeting. All subcommittee recommendations are discussed and voted upon by the full APC Panel.

For a detailed discussion of the APC Panel meetings, refer to the hospital OPPS final rules cited in section I.C. of this preamble. Full discussion of the recommendations resulting from the APC Panel's February 2005 meeting are included in the sections of this preamble that are specific to each recommendation.

E. Provisions of the Medicare Prescription Drug, Improvement, and Modernization Act of 2003 To Be Implemented Beginning in CY 2006

On December 8, 2003, the Medicare Prescription Drug, Improvement, and Modernization Act of 2003 (MMA), Pub. L. 108-173, was enacted. Pub. L. 108-173 made changes to the Act relating to the Medicare OPPS. In the January 6, 2004 interim final rule with comment period and the November 15, 2004 final rule with comment period, we implemented provisions of Pub. L. 108-173 relating to the OPPS that were effective for CY 2004 and CY 2005, respectively. Provisions of Pub. L. 108-173 that were implemented in CY 2004 or CY 2005, and that are continuing in CY 2006, are discussed throughout this proposed rule. Moreover, in this proposed rule, we are proposing to implement the following provisions of Pub. L. 108-173 that affect the OPPS beginning in CY 2006:

1. Hold Harmless Provisions

Section 411 of Pub. L. 108-173 amended section 1833(t)(7)(D)(i) of the Act and extended the hold harmless provision for small rural hospitals having 100 or fewer beds through December 31, 2005. Section 411 of Pub. L. 108-173 further amended section 1833(t)(7) of the Act to provide that hold-harmless transitional corridor payments shall apply through December 31, 2005 to sole community hospitals (SCHs) (as defined in section 1886(d)(5)(D)(iii) of the Act) located in a rural area. In accordance with these provisions, effective January 1, 2006, we are proposing to discontinue transitional corridor payments for small rural hospitals having 100 or fewer beds and for SCHs located in a rural area.

2. Study and Authorization of Adjustment for Rural Hospitals

Section 411(b) of Pub. L. 108-173 added a new paragraph (13) to section 1833(t) of the Act to authorize an “Adjustment for Rural Hospitals”. This provision requires us to conduct a study to determine if costs incurred by hospitals located in rural areas by APCs exceed those costs incurred by hospitals located in urban areas. This provision further requires us to provide for an appropriate adjustment by January 1, 2006, if we find that the costs incurred by hospitals located in rural areas exceed those costs incurred by hospitals located in urban areas.

3. Payment for “Specified Covered Outpatient Drugs”

Section 621(a)(1) of Pub. L. 108-173 added section 1833(t)(14) to the Act that specifies payments for certain “specified covered outpatient drugs” beginning in 2006. Specifically, section 1833(t)(14)(A)(iii)(I) of the Act states that such payment shall be equal to what we determine to be the average acquisition cost for the drug, taking into account hospital acquisition cost survey data furnished by the Government Accountability Office (GAO). Section 1833(t)(14)(A)(iii)(II) of the Act further notes that if hospital acquisition cost data are not available, payment for specified covered outpatient drugs shall equal the average price for the drug established under section 1842(o), section 1847(A), or section 1847(B) of the Act as calculated and adjusted by the Secretary as necessary. Both payment approaches are subject to adjustments under section 1833(t)(14)(E) of the Act as discussed below.

4. Adjustment in Payment Rates for “Specified Covered Outpatient Drugs” for Overhead Costs

Section 621(a)(1) of Pub. L. 108-173 added section 1833(t)(14)(E) to the Act. Section 1833(t)(14)(E)(ii) of the Act authorizes us to make an adjustment to payments for “specified covered outpatient drugs” to take into account overhead and related expenses such as pharmacy services and handling costs, based on recommendations contained in a report prepared by the Medicare Payment Advisory Commission (MedPAC).

5. Budget Neutrality Adjustment

Section 621(a)(1) of Pub. L. 108-173 amended the Act by adding section 1833(t)(14)(H), which requires that additional expenditures resulting from adjustments in APC payment rates for specified covered outpatient drugs be taken into account beginning in CY 2006 and continuing in subsequent years, in establishing the OPPS conversion, weighting, and other adjustment factors.

F. CMS' Commitment to New Technologies

(If you choose to comment on issues in this section, please include the caption “Commitment to New Technologies” at the beginning of your comment.)

CMS is committed to ensuring that Medicare beneficiaries will have timely access to new medical treatments and technologies that are well-evaluated and demonstrated to be effective. We launched the Council on Technology and Innovation (CTI) to provide the Agency with improved methods for developing practical information about the clinical benefits of new medical technologies to result in faster and more efficient coverage and payment of these medical technologies. The CTI supports CMS efforts to develop better evidence on the safety, effectiveness, and cost of new and approved technologies to help promote their more effective use.

We want to provide doctors and patients with better information about the benefits of new medical treatments and/or technologies, especially compared to other treatment options. We also want beneficiaries to have access to valuable new medical innovations as quickly and efficiently as possible. We note there are a number of payment mechanisms in the OPPS and the IPPS designed to achieve appropriate payment of promising new technologies. In the OPPS, qualifying new medical devices may be paid on a cost basis by means of transitional pass-through payments, in addition to the APC payments for the procedures which utilize the devices. In addition, qualifying new services may be assigned for payment to New Technology APCs or, if appropriate, to regular clinical APCs. In the IPPS, qualifying new technologies may receive add-on payments to the standard diagnosis-related group (DRG) payments. We also note that collaborative efforts are underway to facilitate coordination between the Food and Drug Administration (FDA) and CMS with regard to streamlining the CMS coverage process by which new technologies come to the marketplace.

To promote timely access to new medical treatments and technologies, in this proposed rule we are proposing enhancements to both the OPPS pass-through payment criteria for devices as discussed in section IV.D.2. of this preamble and the qualifying process for assignment of new services to New Technology APCs or regular clinical APCs discussed in section III.C.3. of this preamble. We are proposing to make device pass-through eligibility available to a broader range of qualifying devices. We are also proposing to change the application and review process for assignment of new services to New Technology APCs to promote thoughtful review of the coding, clinical use and efficacy of new services by the wider medical community, encouraging appropriate dissemination of new technologies. These enhancements are explained in this proposed rule.

G. Summary of the Major Content of This Proposed Rule

In this proposed rule, we are setting forth proposed changes to the Medicare hospital OPPS for CY 2006. These changes would be effective for services furnished on or after January 1, 2006. The following is a summary of the major changes that we are proposing to make:

1. Proposed Updates to Payments for CY 2006

In section II. of this preamble, we set forth—

• The methodology used to recalibrate the proposed APC relative payment weights and the proposed recalibration of the relative payment weights for CY 2006.

• The proposed payment for partial hospitalization, including the proposed separate threshold for outlier payments for CMCHs.

• The proposed update to the conversion factor used to determine payment rates under the OPPS for CY 2006.

• The proposed retention of our current policy to apply the IPPS wage indices to wage adjust the APC median costs in determining the OPPS payment rate and the copayment standardized amount for CY 2006.

• The proposed update of statewide average default cost-to-charge ratios.

• Proposed changes relating to the expiring hold harmless payment provision.

• Proposed changes to payment for rural sole community hospitals for CY 2006.

• Proposed changes in the way we calculate hospital outpatient outlier payments for CY 2006.

• Calculation of the proposed national unadjusted Medicare OPPS payment.

• The proposed beneficiary copayment for OPPS services for CY 2006.

2. Proposed Ambulatory Payment Classification (APC) Group Policies

In section III. of this preamble, we discuss our proposal to establish a number of new APCs and to make changes to the assignment of HCPCS codes under a number of existing APCs based on our analyses of Medicare claims data and recommendations of the APC Panel. We also discuss in section III. of this preamble, the application of the 2 times rule and proposed exceptions to it; proposed changes for specific APCs; the proposed refinement of the New Technology cost bands; the proposed movement of procedures from the New Technology APCs; and the proposed additions of new procedure codes to the APC groups.

3. Proposed Payment Changes for Devices

In section IV. of this preamble, we discuss proposed changes to the device-dependent APCs and to the pass-through payment for three categories of devices.

4. Proposed Payment Changes for Drugs, Biologicals, and Radiopharmaceutical Agents

In section V. of this preamble, we discuss proposed changes for drugs, biologicals, radiopharmaceutical agents, and vaccines.

5. Estimate of Transitional Pass-Through Spending in CY 2006 for Drugs, Biologicals, and Devices

In section VI. of this preamble, we discuss the proposed methodology for estimating total pass-through spending and whether there should be a pro rata reduction for transitional pass-through drugs, biologicals, radiopharmacials, and categories of devices for CY 2006.

6. Proposed Brachytherapy Payment Changes

In section VII. of this preamble, we include a discussion of our proposal concerning coding and payment for the sources of brachytherapy.

7. Proposed Coding and Payment for Drug Administration

In section VIII. of this preamble, we discuss our proposed coding and payment changes for drug administration services.

8. Hospital Coding for Evaluation and Management (E/M) Services

In section IX. of this preamble, we include a discussion of our proposal for developing the coding guidelines for evaluation and management services.

9. Proposed Payment for Blood and Blood Products

In section X. of this preamble, we discuss our proposed payment changes for blood and blood products.

10. Proposed Payment for Observation Services

In section XI. of this preamble, we discuss our proposed criteria and coding changes for separately payable observation services.

11. Procedures That Will Be Paid Only as Inpatient Services

In section XII. of this preamble, we discuss the procedures that we are proposing to remove from the inpatient list and assign to APCs.

12. Proposed Indicator Assignments

In section XIII. of this preamble, we discuss the proposed changes to the list of status indicators assigned to APCs and present our proposed comment indicators for the CY 2006 OPPS final rule.

13. Proposed Nonrecurring Policy Changes

In section XIV. of this preamble, we discuss proposed changes in payments for multiple diagnostic imaging procedures and in the interrupted procedures payment policies.

14. OPPS Policy and Payment Recommendations

In section XV. of this preamble, we address recommendations made by MedPAC, the APC Panel, and the GAO regarding the OPPS for CY 2006.

15. Physician Oversight in Critical Access Hospitals

In section XVI. of this preamble, we address physician oversight for services provided by nonphysician practitioners such as physician assistants, nurse practitioners, and clinical nurse specialists in critical access hospitals (CAHs).

II. Proposed Updates Affecting Payments for CY 2006

A. Recalibration of APC Relative Weights for CY 2006

(If you choose to comment on the issues in this section, please include the caption “APC Relative Weights” at the beginning of your comment.)

1. Database Construction

a. Database Source and Methodology

Section 1833(t)(9)(A) of the Act requires that the Secretary review and revise the relative payment weights for APCs at least annually. In the April 7, 2000 OPPS final rule (65 FR 18482), we explained in detail how we calculated the relative payment weights that were implemented on August 1, 2000, for each APC group. Except for some reweighting due to a small number of APC changes, these relative payment weights continued to be in effect for CY 2001. This policy is discussed in the November 13, 2000 interim final rule (65 FR 67824 through 67827).

We are proposing to use the same basic methodology that we described in the April 7, 2000 final rule to recalibrate the APC relative payment weights for services furnished on or after January 1, 2006, and before January 1, 2007. That is, we would recalibrate the relative payment weights for each APC based on claims and cost report data for outpatient services. We are proposing to use the most recent available data to construct the database for calculating APC group weights. For the purpose of recalibrating APC relative payment weights for CY 2006, we used approximately 127 million final action claims for hospital OPD services furnished on or after January 1, 2004, and before January 1, 2005. Of the 127 million final action claims for services provided in hospital outpatient settings, 102 million claims were of the type of bill potentially appropriate for use in setting rates for OPPS services (but did not necessarily contain services payable under the OPPS). Of the 102 million claims, we were able to use 49 million whole claims to set the proposed OPPS APC relative weights for CY 2006 OPPS. From the 49 million whole claims, we created 81 million single records, of which 50 million were “pseudo” single claims (created from multiple procedure claims using the process we discuss in this section).

The proposed APC relative weights and payments in Addenda A and B to this proposed rule were calculated using claims from this period that had been processed before January 1, 2005. We selected claims for services paid under the OPPS and matched these claims to the most recent cost report filed by the individual hospitals represented in our claims data. We are proposing that the APC relative payment weights for CY 2006 under the OPPS would continue to be based on the median hospital costs for services in the APC groups. For the CY 2006 OPPS final rule, we are proposing to base APC median costs on claims for services furnished in CY 2004 and processed before June 30, 2005.

b. Proposed Use of Single and Multiple Procedure Claims

For CY 2006, we are proposing to continue to use single procedure claims to set the medians on which the APC relative payment weights would be based. As noted in the November 15, 2004 final rule with comment period, we have received many requests asking that we ensure that the data from claims that contain charges for multiple procedures are included in the data from which we calculate the relative payment weights (69 FR 65730 through 65731). Requesters believe that relying solely on single procedure claims to recalibrate APC relative payment weights fails to take into account data for many frequently performed procedures, particularly those commonly performed in combination with other procedures. They believe that, by depending upon single procedure claims, we base relative payment weights on the least-costly services, thereby introducing downward bias to the medians on which the weights are based.

We agree that, optimally, it is desirable to use the data from as many claims as possible to recalibrate the APC relative payment weights, including those with multiple procedures. We generally use single procedure claims to set the median costs for APCs because we are, so far, unable to ensure that packaged costs can be appropriately allocated across multiple procedures performed on the same date of service. However, by bypassing specified codes that we believe do not have significant packaged costs, we are able to use more data from multiple procedure claims. In many cases this enables us to create multiple “pseudo” single claims from claims that, as submitted, contained multiple separately paid procedures on the same claim. We have used the date of service on the claims and a list of codes to be bypassed to create “pseudo” single claims from multiple procedure claims the same as we did in recalibrating the CY 2005 APC relative payment weights. We refer to these newly created single procedure claims as “pseudo” singles because they were submitted by providers as multiple procedure claims.

For CY 2003, we created “pseudo” single claims by bypassing HCPCS codes 93005 (Electrocardiogram, tracing), 71010 (Chest x-ray), and 71020 (Chest x-ray) on a submitted claim. However, we did not use claims data for the bypassed codes in the creation of the median costs for the APCs to which these three codes were assigned because the level of packaging that would have remained on the claim after we selected the bypass code was not apparent and, therefore, it was difficult to determine if the medians for these codes would be correct.

For CY 2004, we created “pseudo” single claims by bypassing these three codes and also by bypassing an additional 269 HCPCS codes in APCs. We selected these codes based on a clinical review of the services and because it was presumed that these codes had only very limited packaging and could appropriately be bypassed for the purpose of creating “pseudo” single claims. The APCs to which these codes were assigned were varied and included mammography, cardiac rehabilitation, and Level I plain film x-rays. To derive more “pseudo” single claims, we also split the claims where there were dates of service for revenue code charges on that claim that could be matched to a single procedure code on the claim on the same date.

As in CY 2003, we did not include the claims data for the bypassed codes in the creation of the APCs to which the 269 codes were assigned because, again, we had not established that such an approach was appropriate and would aid in accurately estimating the median cost for that APC. For CY 2004, from about 16.3 million otherwise unusable claims, we used about 9.5 million multiple procedure claims to create about 27 million “pseudo” single claims. For CY 2005, we created 383 bypass codes and from approximately 24 million otherwise unusable claims, we used about 18 million multiple procedure claims to create about 52 million “pseudo” single claims.

For CY 2006, we are proposing to continue using date of service matching as a tool for creation of “pseudo” single claims and to continue the use of a bypass list to create “pseudo” single claims. The process we are proposing for CY 2006 OPPS results in our being able to use some part of 90 percent of the total claims that are eligible for use in OPPS ratesetting and modeling in developing this proposed rule. This process enabled us to use, for CY 2006, 81 million single bills for ratesetting: 50 million “pseudo” singles and 31 million “natural” single bills (bills that were submitted containing only one separately payable major HCPCS code).

We are proposing to bypass the 404 codes identified in Table 1 to create new single claims and to use the line-item costs associated with the bypass codes on these claims in the creation of the median costs for the APCs into which they are assigned. Of the codes on this list, 345 were used for bypass in CY 2005. We are proposing to continue the use of the codes on the CY 2005 OPPS bypass list and expand it by adding 46 codes that, using data presented to the APC Panel at its February 2005 meeting, meet the same empirical criteria as those used in CY 2005 to create the bypass list. Our examination of the data against the criteria for inclusion on the bypass list, as discussed below for the addition of new codes, shows that the empirically selected codes used for bypass for the CY 2005 OPPS generally continue to meet the criteria or come very close to meeting the criteria, and we have received no comments against bypassing them.

To facilitate comment, Table 1 indicates the list of codes we are proposing to bypass for creation of “pseudo” singles for CY 2006 OPPS and indicates those used in the CY 2005 OPPS for bypass and those proposed to be added for the CY 2006 OPPS. Bypass codes shown in Table 1 with an asterisk indicate the HCPCs codes we are proposing to add to the list for the CY 2006 OPPS. The criteria we are proposing to use to determine the additional codes to add to the CY 2005 OPPS bypass list in order to create the bypass list for CY 2006 OPPS are discussed below.

The following empirical criteria were developed by reviewing the frequency and magnitude of packaging in the single claims for payable codes other than drugs and biologicals. We assumed that the representation of packaging on the single claims for any given code is comparable to packaging for that code in the multiple claims:

• There were 100 or more single claims for the code. This number of single claims ensured that observed outcomes were sufficiently representative of packaging that might occur in the multiple claims.

• Five percent or fewer of the single claims for the code had packaged costs on that single claim for the code. This criterion results in limiting the amount of packaging being redistributed to the payable procedure remaining on the claim after the bypass code is removed and ensures that the costs associated with the bypass code represent the cost of the bypassed service.

• The median cost of packaging observed in the single claim was equal to or less than $50. This limits the amount of error in redistributed costs.

• The code is not a code for an unlisted service.

We also added to the bypass list three codes (CPT codes 51701, 51702, and 51703 for bladder catheterization) which do not meet these criteria. These codes have been packaged and have never been paid separately. For that reason, when these were the only services provided to the beneficiary, no payment was made to the hospital. The APC Panel's packaging subcommittee recommends that we make separate payment when they are the only service on the claim. See section II.A.4. of this preamble for further discussion of our proposal to pay them separately. We are proposing to add them to the bypass list because changing them from packaged to separately paid would result in the reduction of the number of single bills on which we could base median costs for other major separately paid procedures which are billed on the same claim with these procedure codes. Single bills which contain other procedures would become multiple procedure claims when these bladder catheterization codes were converted from packaged to separately paid status.

We examined the packaging on the single procedure claims in the CY 2004 data used for this proposed rule for these codes. We found that none of these codes met the empirical standards for the bypass list. However, we believe that when these services are performed on the same date as another separately paid procedure, any packaging that appears on the claim would appropriately be associated with the other procedures and not with these codes. Therefore, we believe that bypassing them does not adversely affect the medians for other procedures. Moreover, future separate payment for these codes does not harm the hospitals that furnish these services, in view of the historical absence of separate payment for them under the OPPS in the past. Hence, we propose to pay separately for these codes and to add them to the bypass list for the CY 2006 OPPS.

We specifically invite public comment on the “pseudo” single process, including the bypass list and the criteria.

Table 1.—Proposed CY 2006 HCPCS Bypass Codes for Creating “Pseudo” Single Claims for Calculating Median Costs
HCPCS code ¹ | Short description | Status indicator
11056* | Trim skin lesions, 2 to 4 | T
11057* | Trim skin lesions, over 4 | T
11719 | Trim nail(s) | T
11720 | Debride nail, 1-5 | T
11721 | Debride nail, 6 or more | T
17003* | Destroy lesions, 2-14 | T
31231* | Nasal endoscopy, dx | T
31579 | Diagnostic laryngoscopy | T
51701* | Insert bladder catheter | X
51702* | Insert temp bladder catheter | X
51703* | Insert bladder catheter, complex | X
51798* | Us urine capacity measure | X
54240 | Penis study | T
67820* | Revise eyelashes | S
70030* | X-ray eye for foreign body | X
70100 | X-ray exam of jaw | X
70110 | X-ray exam of jaw | X
70130 | X-ray exam of mastoids | X
70140 | X-ray exam of facial bones | X
70150 | X-ray exam of facial bones | X
70160 | X-ray exam of nasal bones | X
70200 | X-ray exam of eye sockets | X
70210 | X-ray exam of sinuses | X
70220 | X-ray exam of sinuses | X
70250 | X-ray exam of skull | X
70260 | X-ray exam of skull | X
70328 | X-ray exam of jaw joint | X
70330 | X-ray exam of jaw joints | X
70336* | Magnetic image, jaw joint | S
70355 | Panoramic x-ray of jaws | X
70360 | X-ray exam of neck | X
70370* | Throat x-ray & fluoroscopy | X
70371 | Speech evaluation, complex | X
70450 | Ct head/brain w/o dye | S
70480 | Ct orbit/ear/fossa w/o dye | S
70486 | Ct maxillofacial w/o dye | S
70544 | Mr angiography head w/o dye | S
70551* | Mri brain w/o dye | S
71010 | Chest x-ray | X
71015 | Chest x-ray | X
71020 | Chest x-ray | X
71021 | Chest x-ray | X
71022 | Chest x-ray | X
71023* | Chest x-ray and fluoroscopy | X
71030 | Chest x-ray | X
71034 | Chest x-ray and fluoroscopy | X
71090 | X-ray & pacemaker insertion | X
71100 | X-ray exam of ribs | X
71101 | X-ray exam of ribs/chest | X
71110 | X-ray exam of ribs | X
71111 | X-ray exam of ribs/chest | X
71120 | X-ray exam of breastbone | X
71130 | X-ray exam of breastbone | X
71250 | Ct thorax w/o dye | S
72040 | X-ray exam of neck spine | X
72050 | X-ray exam of neck spine | X
72052 | X-ray exam of neck spine | X
72069* | X-ray exam of trunk spine | X
72070 | X-ray exam of thoracic spine | X
72072 | X-ray exam of thoracic spine | X
72074 | X-ray exam of thoracic spine | X
72080 | X-ray exam of trunk spine | X
72090 | X-ray exam of trunk spine | X
72100 | X-ray exam of lower spine | X
72110 | X-ray exam of lower spine | X
72114 | X-ray exam of lower spine | X
72120 | X-ray exam of lower spine | X
72125 | Ct neck spine w/o dye | S
72128* | Ct chest spine w/o dye | S
72141 | Mri neck spine w/o dye | S
72146 | Mri chest spine w/o dye | S
72148 | Mri lumbar spine w/o dye | S
72170 | X-ray exam of pelvis | X
72190 | X-ray exam of pelvis | X
72192 | Ct pelvis w/o dye | S
72220 | X-ray exam of tailbone | X
73000 | X-ray exam of collar bone | X
73010 | X-ray exam of shoulder blade | X
73020 | X-ray exam of shoulder | X
73030 | X-ray exam of shoulder | X
73050 | X-ray exam of shoulders | X
73060 | X-ray exam of humerus | X
73070 | X-ray exam of elbow | X
73080 | X-ray exam of elbow | X
73090 | X-ray exam of forearm | X
73100 | X-ray exam of wrist | X
73110 | X-ray exam of wrist | X
73120 | X-ray exam of hand | X
73130 | X-ray exam of hand | X
73140 | X-ray exam of finger(s) | X
73218 | Mri upper extremity w/o dye | S
73221 | Mri joint upr extrem w/o dye | S
73510 | X-ray exam of hip | X
73520 | X-ray exam of hips | X
73540 | X-ray exam of pelvis & hips | X
73550 | X-ray exam of thigh | X
73560 | X-ray exam of knee, 1 or 2 | X
73562 | X-ray exam of knee, 3 | X
73564 | X-ray exam, knee, 4 or more | X
73565 | X-ray exam of knees | X
73590 | X-ray exam of lower leg | X
73600 | X-ray exam of ankle | X
73610 | X-ray exam of ankle | X
73620 | X-ray exam of foot | X
73630 | X-ray exam of foot | X
73650 | X-ray exam of heel | X
73660 | X-ray exam of toe(s) | X
73700 | Ct lower extremity w/o dye | S
73718* | Mri lower extremity w/o dye | S
73721 | Mri jnt of lwr extre w/o dye | S
74000 | X-ray exam of abdomen | X
74010* | X-ray exam of abdomen | X
74210 | Contrst x-ray exam of throat | S
74220 | Contrast x-ray, esophagus | S
74230 | Cine/vid x-ray, throat/esoph | S
74235 | Remove esophagus obstruction | S
74240 | X-ray exam, upper gi tract | S
74245 | X-ray exam, upper gi tract | S
74246 | Contrst x-ray uppr gi tract | S
74247 | Contrst x-ray uppr gi tract | S
74249 | Contrst x-ray uppr gi tract | S
74250 | X-ray exam of small bowel | S
74300 | X-ray bile ducts/pancreas | X
74301 | X-rays at surgery add-on | X
74305 | X-ray bile ducts/pancreas | X
74327 | X-ray bile stone removal | S
74340 | X-ray guide for GI tube | X
74350 | X-ray guide, stomach tube | X
74355 | X-ray guide, intestinal tube | X
74360 | X-ray guide, GI dilation | S
74363 | X-ray, bile duct dilation | S
74475 | X-ray control, cath insert | S
74480 | X-ray control, cath insert | S
74485 | X-ray guide, GU dilation | S
74742 | X-ray, fallopian tube | X
75894 | X-rays, transcath therapy | S
75898 | Follow-up angiography | X
75901 | Remove cva device obstruct | X
75902 | Remove cva lumen obstruct | X
75945 | Intravascular us | S
75946 | Intravascular us add-on | S
75960 | Transcatheter intro, stent | S
75961 | Retrieval, broken catheter | S
75962 | Repair arterial blockage | S
75964 | Repair artery blockage, each | S
75966 | Repair arterial blockage | S
75968 | Repair artery blockage, each | S
75970 | Vascular biopsy | S
75978 | Repair venous blockage | S
75980 | Contrast xray exam bile duct | S
75982 | Contrast xray exam bile duct | S
75984 | Xray control catheter change | X
75992 | Atherectomy, x-ray exam | S
75993 | Atherectomy, x-ray exam | S
75994 | Atherectomy, x-ray exam | S
75995 | Atherectomy, x-ray exam | S
75996 | Atherectomy, x-ray exam | S
76012 | Percut vertebroplasty fluor | S
76013 | Percut vertebroplasty, ct | S
76040 | X-rays, bone evaluation | X
76061 | X-rays, bone survey | X
76062 | X-rays, bone survey | X
76066 | Joint survey, single view | X
76070* | CT scan, bone density study | S
76075 | Dexa, axial skeleton study | S
76076 | Dexa, peripheral study | S
76078 | Radiographic absorptiometry | X
76095 | Stereotactic breast biopsy | T
76096 | X-ray of needle wire, breast | X
76100 | X-ray exam of body section | X
76101 | Complex body section x-ray | X
76360 | Ct scan for needle biopsy | S
76380 | CAT scan follow-up study | S
76393 | Mr guidance for needle place | S
76511 | Echo exam of eye | S
76512 | Echo exam of eye | S
76516 | Echo exam of eye | S
76519 | Echo exam of eye | S
76536 | Us exam of head and neck | S
76645 | Us exam, breast(s) | S
76700 | Us exam, abdom, complete | S
76705 | Echo exam of abdomen | S
76770 | Us exam abdo back wall, comp | S
76775 | Us exam abdo back wall, lim | S
76778* | Us exam kidney transplant | S
76801* | Ob us < 14 wks, single fetus | S
76811* | Ob us, detailed, sngl fetus | S
76817* | Transvaginal us, obstetric | S
76830 | Transvaginal us, non-ob | S
76856 | Us exam, pelvic, complete | S
76857 | Us exam, pelvic, limited | S
76870 | Us exam, scrotum | S
76880 | Us exam, extremity | S
76941 | Echo guide for transfusion | S
76945 | Echo guide, villus sampling | S
76946 | Echo guide for amniocentesis | S
76948 | Echo guide, ova aspiration | S
76950* | Echo guidance radiotherapy | S
76970* | Ultrasound exam follow-up | S
76977 | Us bone density measure | X
77280 | Set radiation therapy field | X
77285 | Set radiation therapy field | X
77295* | Set radiation therapy field | X
77300 | Radiation therapy dose plan | X
77301 | Radiotherapy dose plan, imrt | X
77315 | Teletx isodose plan complex | X
77326 | Radiation therapy dose plan | X
77327 | Brachytx isodose calc interm | X
77328 | Brachytx isodose plan compl | X
77331 | Special radiation dosimetry | X
77332 | Radiation treatment aid(s) | X
77333 | Radiation treatment aid(s) | X
77334 | Radiation treatment aid(s) | X
77336 | Radiation physics consult | X
77370 | Radiation physics consult | X
77402* | Radiation treatment delivery | S
77403 | Radiation treatment delivery | S
77404* | Radiation treatment delivery | S
77408* | Radiation treatment delivery | S
77409 | Radiation treatment delivery | S
77411 | Radiation treatment delivery | S
77412 | Radiation treatment delivery | S
77413 | Radiation treatment delivery | S
77414 | Radiation treatment delivery | S
77416 | Radiation treatment delivery | S
77417 | Radiology port film(s) | X
77418 | Radiation tx delivery, imrt | S
77470 | Special radiation treatment | S
78350 | Bone mineral, single photon | X
80502 | Lab pathology consultation | X
85060 | Blood smear interpretation | X
86585 | TB tine test | X
86850 | RBC antibody screen | X
86870 | RBC antibody identification | X
86880 | Coombs test, direct | X
86885 | Coombs test, indirect, qual | X
86886 | Coombs test, indirect, titer | X
86890 | Autologous blood process | X
86900 | Blood typing, ABO | X
86901 | Blood typing, Rh (D) | X
86905 | Blood typing, RBC antigens | X
86906 | Blood typing, Rh phenotype | X
86930 | Frozen blood prep | X
86970 | RBC pretreatment | X
88104 | Cytopathology, fluids | X
88106 | Cytopathology, fluids | X
88107 | Cytopathology, fluids | X
88108 | Cytopath, concentrate tech | X
88160 | Cytopath smear, other source | X
88161 | Cytopath smear, other source | X
88172 | Cytopathology eval of fna | X
88182 | Cell marker study | X
88300 | Surgical path, gross | X
88304 | Tissue exam by pathologist | X
88305 | Tissue exam by pathologist | X
88311 | Decalcify tissue | X
88312 | Special stains | X
88313 | Special stains | X
88321 | Microslide consultation | X
88323 | Microslide consultation | X
88325 | Comprehensive review of data | X
88331 | Path consult intraop, 1 bloc | X
88342 | Immunohistochemistry | X
88346 | Immunofluorescent study | X
88347 | Immunofluorescent study | X
90801 | Psy dx interview | S
90804* | Psytx, office, 20-30 min | S
90805 | Psytx, off, 20-30 min w/e&m | S
90806 | Psytx, off, 45-50 min | S
90807 | Psytx, off, 45-50 min w/e&m | S
90808 | Psytx, office, 75-80 min | S
90809 | Psytx, off, 75-80, w/e&m | S
90810 | Intac psytx, off, 20-30 min | S
90818 | Psytx, hosp, 45-50 min | S
90826 | Intac psytx, hosp, 45-50 min | S
90845 | Psychoanalysis | S
90846 | Family psytx w/o patient | S
90847 | Family psytx w/patient | S
90853 | Group psychotherapy | S
90857 | Intac group psytx | S
90862 | Medication management | X
92002 | Eye exam, new patient | V
92004 | Eye exam, new patient | V
92012 | Eye exam established pat | V
92014 | Eye exam & treatment | V
92020* | Special eye evaluation | S
92081* | Visual field examination(s) | S
92082 | Visual field examination(s) | S
92083 | Visual field examination(s) | S
92135 | Opthalmic dx imaging | S
92136 | Ophthalmic biometry | S
92225 | Special eye exam, initial | S
92226 | Special eye exam, subsequent | S
92230 | Eye exam with photos | T
92250 | Eye exam with photos | S
92275 | Electroretinography | S
92285 | Eye photography | S
92286 | Internal eye photography | S
92520 | Laryngeal function studies | X
92541* | Spontaneous nystagmus test | X
92546 | Sinusoidal rotational test | X
92548 | Posturography | X
92552 | Pure tone audiometry, air | X
92553 | Audiometry, air & bone | X
92555 | Speech threshold audiometry | X
92556 | Speech audiometry, complete | X
92557* | Comprehensive hearing test | X
92567 | Tympanometry | X
92582 | Conditioning play audiometry | X
92585 | Auditor evoke potent, compre | S
92604* | Reprogram cochlear implt 7 > | X
93005 | Electrocardiogram, tracing | S
93225 | ECG monitor/record, 24 hrs | X
93226 | ECG monitor/report, 24 hrs | X
93231 | Ecg monitor/record, 24 hrs | X
93232 | ECG monitor/report, 24 hrs | X
93236 | ECG monitor/report, 24 hrs | X
93270 | ECG recording | X
93278 | ECG/signal-averaged | S
93303 | Echo transthoracic | S
93307 | Echo exam of heart | S
93320 | Doppler echo exam, heart | S
93731 | Analyze pacemaker system | S
93732* | Analyze pacemaker system | S
93733 | Telephone analy, pacemaker | S
93734 | Analyze pacemaker system | S
93735* | Analyze pacemaker system | S
93736 | Telephonic analy, pacemaker | S
93741* | Analyze ht pace device sngl | S
93743 | Analyze ht pace device dual | S
93797 | Cardiac rehab | S
93798 | Cardiac rehab/monitor | S
93875 | Extracranial study | S
93880 | Extracranial study | S
93882 | Extracranial study | S
93886 | Intracranial study | S
93888 | Intracranial study | S
93922 | Extremity study | S
93923 | Extremity study | S
93924 | Extremity study | S
93925 | Lower extremity study | S
93926 | Lower extremity study | S
93930* | Upper extremity study | S
93931 | Upper extremity study | S
93965 | Extremity study | S
93970 | Extremity study | S
93971 | Extremity study | S
93975 | Vascular study | S
93976 | Vascular study | S
93978 | Vascular study | S
93979 | Vascular study | S
93990 | Doppler flow testing | S
94015 | Patient recorded spirometry | X
95115 | Immunotherapy, one injection | X
95117* | Immunotherapy injections | X
95165 | Antigen therapy services | X
95805 | Multiple sleep latency test | S
95806* | Sleep study, unattended | S
95807 | Sleep study, attended | S
95812 | Electroencephalogram (EEG) | S
95813 | Eeg, over 1 hour | S
95816 | Electroencephalogram (EEG) | S
95819 | Electroencephalogram (EEG) | S
95822 | Sleep electroencephalogram | S
95864 | Muscle test, 4 limbs | S
95867* | Muscle test, head or neck | S
95872 | Muscle test, one fiber | S
95900 | Motor nerve conduction test | S
95921 | Autonomic nerv function test | S
95925* | Somatosensory testing | S
95926 | Somatosensory testing | S
95930 | Visual evoked potential test | S
95937 | Neuromuscular junction test | S
95950 | Ambulatory eeg monitoring | S
95953 | EEG monitoring/computer | S
95970* | Analyze neurostim, no prog | S
95972* | Analyze neurostim, complex | S
95974* | Cranial neurostim, complex | S
96000 | Motion analysis, video/3d | S
96100 | Psychological testing | X
96115 | Neurobehavior status exam | X
96117* | Neuropsych test battery | X
96900 | Ultraviolet light therapy | S
96910 | Photochemotherapy with UV-B | S
96912 | Photochemotherapy with UV-A | S
96913 | Photochemotherapy, UV-A or B | S
98925* | Osteopathic manipulation | S
98940 | Chiropractic manipulation | S
99213 | Office/outpatient visit, est | V
99214 | Office/outpatient visit, est | V
99241 | Office consultation | V
99242* | Office consultation | V
99243 | Office consultation | V
99244 | Office consultation | V
99245 | Office consultation | V
99273 | Confirmatory consultation | V
99274 | Confirmatory consultation | V
99275 | Confirmatory consultation | V
D0473 | Micro exam, prep & report | S
G0101 | CA screen; pelvic/breast exam | V
G0127 | Trim nail(s) | T
G0166 | Extrnl counterpulse, per tx | T
G0175 | OPPS Service, sched team conf | V
HCPCS | Descriptor | SI
Q0091 | Obtaining screen pap smear | T
¹ HCPCS codes shown with an asterisk are bypass codes we are proposing to add to the list for CY 2006.

2. Proposed Calculation of Median Costs for CY 2006

In this section of the preamble, we discuss the use of claims to calculate the proposed OPPS payment rates for CY 2006. The hospital outpatient prospective payment page on the CMS Web site on which this proposed rule is posted provides an accounting of claims used in the development of the proposed rates: http://www.cms.hhs.gov/providers/hopps. The accounting of claims used in the development of the proposed rule is included on the Web site under supplemental materials for the CY 2006 proposed rule. That accounting provides additional detail regarding the number of claims derived at each stage of the process. In addition, below we discuss the files of claims that comprise the data sets that are available for purchase under a CMS data user contract. Our CMS Web site, http://www.cms.hhs.gov/providers/hopps, includes information about purchasing the following two OPPS data files: “OPPS Limited Data Set” and “OPPS Identifiable Data Set.”

We are proposing to use the following methodology to establish the relative weights to be used in calculating the proposed OPPS payment rates for CY 2006 shown in Addenda A and B to this proposed rule. This methodology is as follows:

We used outpatient claims for full CY 2004 to set the proposed relative weights for CY 2006. To begin the calculation of the relative weights for CY 2006, we pulled all claims for outpatient services furnished in CY 2004 from the national claims history file. This is not the population of claims paid under the OPPS, but all outpatient claims (including, for example, CAH claims, and hospital claims for clinical laboratory services for persons who are neither inpatients nor outpatients of the hospital).

We then excluded claims with condition codes 04, 20, 21, and 77. These are claims that providers submitted to Medicare knowing that no payment will be made. For example, providers submit claims with a condition code 21 to elicit an official denial notice from Medicare and document that a service is not covered. We then excluded claims for services furnished in Maryland, Guam, and the U.S. Virgin Islands because hospitals in those geographic areas are not paid under the OPPS.

We divided the remaining claims into the three groups shown below. Groups 2 and 3 comprise the 102 million claims that contain hospital bill types paid under the OPPS.

1. Claims that were not bill types 12X, 13X, 14X (hospital bill types), or 76X (CMHC bill types). Other bill types, such as ambulatory surgical centers (ASCs), bill type 83, are not paid under the OPPS and, therefore, these claims were not used to set OPPS payment.

2. Claims that were bill types 12X, 13X, or 14X (hospital bill types). These claims are hospital outpatient claims.

3. Claims that were bill type 76X (CMHC). (These claims are later combined with any claims in item 2 above with a condition code 41 to set the per diem partial hospitalization rate determined through a separate process.)

For the cost-to-charge ratio (CCR) calculation process, we used the same approach as that used in developing the final APC rates for CY 2005 (69 FR 65744). That is, we first limited the population of cost reports to only those for hospitals that filed outpatient claims in CY 2004 before determining whether the CCRs for such hospitals were valid. This initial limitation changed the distribution of CCRs used during the trimming process discussed below.

We then calculated the CCRs at a departmental level and overall for each hospital for which we had claims data. We did this using hospital-specific data from the Hospital Cost Report Information System (HCRIS). We used the most recent available cost report data, in most cases, cost reports for CY 2002 or CY 2003. We used the most recent cost report available whether submitted or settled. If the most recent available cost report was submitted but not settled, we looked at the last settled cost report to determine the ratio of submitted to settled cost, and we then adjusted the most recent available submitted but not settled cost report using that ratio. We propose to use the most recently submitted cost reports to calculate the CCRs to be used to calculate median costs for the OPPS CY 2006 final rule.

We then flagged CAHs, which are not paid under the OPPS, and hospitals with invalid CCRs. These included claims from hospitals without a CCR; those from hospitals paid an all-inclusive rate; those from hospitals with obviously erroneous CCRs (greater than 90 or less than .0001); and those from hospitals with CCRs that were identified as outliers (3 standard deviations from the geometric mean after removing error CCRs). In addition, we trimmed the CCRs at the departmental level by removing the CCRs for each cost center as outliers if they exceeded +/−3 standard deviations of the geometric mean. This is the same methodology that we used in developing the final CY 2005 CCRs. For CY 2006, we are proposing to trim at the departmental CCR level to eliminate aberrant CCRs that, if found in high volume hospitals, could skew the medians. We used a four-tiered hierarchy of cost center CCRs to match a cost center to a revenue code with the top tier being the most common cost center and the last tier being the default CCR. If a hospital's departmental CCR was deleted by trimming, we set the departmental CCR for that cost center to “missing,” so that another departmental CCR in the revenue center hierarchy could apply. If no other departmental CCR could apply to the revenue code on the claim, we used the hospital's overall CCR for the revenue code in question. The hierarchy of CCRs is available for inspection and comment at the CMS Web site: http://www.cms.hhs.gov/providers/hopps/default.asp.

We then converted the charges on the claim by applying the CCR that we believed was best suited to the revenue code indicated on the line with the charge. Table 2 below in this preamble contains a list of the allowed revenue codes. Revenue codes not included in Table 2 are those not allowed under the OPPS because their services cannot be paid under the OPPS (for example, inpatient room and board charges) and, thus charges with those revenue codes were not packaged for creation of the OPPS median costs. If a hospital did not have a CCR that was appropriate to the revenue code reported for a line-item charge (for example, a visit reported under the clinic revenue code, but the hospital did not have a clinic cost center), we applied the hospital-specific overall CCR, except as discussed in section X. of this preamble, for calculation of costs for blood.

Thus, we applied CCRs as described above to claims with bill types 12X, 13X, or 14X, excluding all claims from CAHs and hospitals in Maryland, Guam, and the U.S. Virgin Islands, and flagged hospitals with invalid CCRs. We excluded claims from all hospitals for which CCRs were flagged as invalid.

We identified claims with condition code 41 as partial hospitalization services of CMHCs and moved them to another file. These claims were combined with the 76X claims identified previously to calculate the proposed partial hospitalization per diem rate.

We then excluded claims without a HCPCS code. We also moved claims for observation services to another file. We moved to another file claims that contained nothing but flu and pneumococcal pneumonia (“PPV”) vaccine. Influenza and PPV vaccines are paid at reasonable cost and, therefore, these claims are not used to set OPPS rates. We note that the two above mentioned separate files containing partial hospitalization claims and the observation services claims are included in the files that are available for purchase as discussed above.

We next copied line-item costs for drugs, blood, and devices (the lines stay on the claim, but are copied off onto another file) to a separate file. No claims were deleted when we copied these lines onto another file. These line-items are used to calculate the per unit median for drugs, radiopharmaceuticals, and blood and blood products. The line-item costs were also used to calculate the per administration cost of drugs, radiopharmaceuticals, and biologicals (other than blood and blood products).

We then divided the remaining claims into five groups.

1. Single Major Claims: Claims with a single separately payable procedure, all of which would be used in median setting.

2. Multiple Major Claims: Claims with more than one separately payable procedure or multiple units for one payable procedure. As discussed below, some of these can be used in median setting.

3. Single Minor Claims: Claims with a single HCPCS code that is not separately payable. These claims may have a single packaged procedure or a drug code.

4. Multiple Minor Claims: Claims with multiple HCPCS codes that are not separately payable without examining dates of service. For example, pathology codes are not used unless the pathology service is the single code on the bill or unless the pathology code is on a separate date of service from the other procedure on the claim. The multiple minor file has claims with multiple occurrences of pathology codes, with packaged costs that cannot be appropriately allocated across the multiple pathology codes. However, by matching dates of service for the code and the reported costs through the “pseudo” single creation process discussed earlier, a claim with multiple pathology codes may become several “pseudo” single claims with a unique pathology code and its associated costs on each day. These “pseudo” singles for the pathology codes would then be considered a separately payable code and would be used the same as claims in the single major claim file.

5. Non-OPPS Claims: Claims that contain no services payable under the OPPS. These claims are excluded from the files used for the OPPS. Non-OPPS claims have codes paid under other fee schedules, for example, durable medical equipment or clinical laboratory.

We note that the claims listed in numbers 1, 2, and 4 above are included in the data files that can be purchased as described above.

We set aside the single minor claims and the non-OPPS claims (numbers 3 and 5 above) because we did not use either in calculating median cost. We then examined the multiple major and multiple minor claims (numbers 2 and 4 above) to determine if we could convert any of them to single major claims using the process described previously. We first grouped items on the claims by date of service. If each major procedure on the claim had a different date of service and if the line-items for packaged HCPCS and packaged revenue codes had dates of service, we split the claim into multiple “pseudo” single claims based on the date of service.

After those single claims were created, we used the list of “bypass codes” in Table 1 of this preamble to remove separately payable procedures that we determined contain limited costs or no packaged costs from a multiple procedure bill. A discussion of the creation of the list of bypass codes used for the creation of “pseudo” single claims is contained in section II.A.1.b. of this preamble.

When one of the two separately payable procedures on a multiple procedure claim was on the bypass code list, we split the claim into two single procedure claims records. The single procedure claim record that contained the bypass code did not retain packaged services. The single procedure claim record that contained the other separately payable procedure (but no bypass code) retained the packaged revenue code charges and the packaged HCPCS charges. This enables us to use a claim that would otherwise be a multiple procedure claim and could not be used.

We excluded those claims that we were not able to convert to singles even after applying both of the techniques for creation of “pseudo” singles. We then packaged the costs of packaged HCPCS codes (codes with status indicator “N” listed in Addendum B to this proposed rule) and packaged revenue codes into the cost of the single major procedure remaining on the claim. The list of packaged revenue codes is shown in Table 2 below.

After removing claims for hospitals with error CCRs, claims without HCPCS codes, claims for immunizations not covered under the OPPS, and claims for services not paid under the OPPS, 55 million claims were left. Of these 55 million claims, we were able to use some portion of 49 million whole claims (90 percent of the potentially usable claims) to create the 81 million single and “pseudo” single claims for use in the CY 2006 median payment ratesetting.

We also excluded (1) claims that had zero costs after summing all costs on the claim; (2) claims for which CMS lacked an appropriate provider wage index; and (3) claims containing token charges (charges of less than $1.01) or for which intermediary systems had allocated charges as if the charges were submitted on the claim. We are proposing to delete claims containing token charges. We do not believe that a charge of less than $1.01 would yield a cost that would be valid to set weights for a significant separately paid service. Moreover, effective for services furnished on or after July 1, 2004, the OCE assigns payment flag number 3 to claims on which hospitals submitted token charges for a service with status indicator “S” or “T” (a major separately paid service under OPPS) for which the intermediary is required to allocate the sum of charges for services with a status indicator equaling “S” or “T” based on the weight for the APC to which each code is assigned. We do not believe that these charges, which were token charges as submitted by the hospital, are valid reflections of hospital resource and that they should not be used to set median costs. Therefore, we are proposing to delete these claims.

For the remaining claims, we then wage adjusted 60 percent of the cost of the claim (which we have previously determined to be the labor-related portion), as has been our policy since the initial implementation of the OPPS, to adjust for geographic variation in labor-related costs. We made this adjustment by determining the wage index that applied to the hospital that furnished the service and dividing the cost for the separately paid HCPCS code furnished by the hospital by that wage index. As has been our policy since the inception of the OPPS, we are proposing to use the pre-reclassified wage indices for standardization because we believe that they better reflect the true costs of items and services in the area in which the hospital is located than the post-reclassification wage indices, and would result in the most accurate adjusted median costs.

We then excluded claims that were outside 3 standard deviations from the geometric mean cost for each HCPCS code. We used the remaining claims to calculate median costs for each separately payable HCPCS code; first, to determine the applicability of the “2 times” rule, and second, to determine APC medians based on the claims containing the HCPCS codes assigned to each APC. As stated previously, section 1833(t)(2) of the Act provides that, subject to certain exceptions, the items and services within an APC group cannot be considered comparable with respect to the use of resources if the highest median (or mean cost, if elected by the Secretary) for an item or service in the group is more than 2 times greater than the lowest median cost for an item or service within the same group (“the 2 times rule”). Finally, we reviewed the medians and reassigned HCPCS codes to different APCs as deemed appropriate. Section III.B. of this preamble includes a discussion of the HCPCS code assignment changes that resulted from examination of the medians and for other reasons. The APC medians were recalculated after we reassigned the affected HCPCS codes.

A detailed discussion of the medians for blood and blood products is included in section X. of this preamble. A discussion of the medians for APCs that require one or more devices when the service is performed is included in section IV.A. of this preamble. A discussion of the median for observation services is included in section XI. of this preamble and a discussion of the median for partial hospitalization is included below in section II.B. of this preamble.

Table 2.—CY 2006 Proposed Packaged Services by Revenue Code
Revenue code | Description
250 | PHARMACY.
251 | GENERIC.
252 | NONGENERIC.
254 | PHARMACY INCIDENT TO OTHER DIAGNOSTIC.
255 | PHARMACY INCIDENT TO RADIOLOGY.
257 | NONPRESCRIPTION DRUGS.
258 | IV SOLUTIONS.
259 | OTHER PHARMACY.
260 | IV THERAPY, GENERAL CLASS.
262 | IV THERAPY/PHARMACY SERVICES.
263 | SUPPLY/DELIVERY.
264 | IV THERAPY/SUPPLIES.
269 | OTHER IV THERAPY.
270 | M&S SUPPLIES.
271 | NONSTERILE SUPPLIES.
272 | STERILE SUPPLIES.
274 | PROSTHETIC/ORTHOTIC DEVICES.
275 | PACEMAKER DRUG.
276 | INTRAOCULAR LENS SOURCE DRUG.
278 | OTHER IMPLANTS.
279 | OTHER M&S SUPPLIES.
280 | ONCOLOGY.
289 | OTHER ONCOLOGY.
290 | DURABLE MEDICAL EQUIPMENT.
343 | DIAGNOSTIC RADIOPHARMS.
344 | THERAPEUTIC RADIOPHARMS.
370 | ANESTHESIA.
371 | ANESTHESIA INCIDENT TO RADIOLOGY.
372 | ANESTHESIA INCIDENT TO OTHER DIAGNOSTIC.
379 | OTHER ANESTHESIA.
390 | BLOOD STORAGE AND PROCESSING.
399 | OTHER BLOOD STORAGE AND PROCESSING.
560 | MEDICAL SOCIAL SERVICES.
569 | OTHER MEDICAL SOCIAL SERVICES.
621 | SUPPLIES INCIDENT TO RADIOLOGY.
622 | SUPPLIES INCIDENT TO OTHER DIAGNOSTIC.
624 | INVESTIGATIONAL DEVICE (IDE).
630 | DRUGS REQUIRING SPECIFIC IDENTIFICATION, GENERAL CLASS.
631 | SINGLE SOURCE.
632 | MULTIPLE.
633 | RESTRICTIVE PRESCRIPTION.
681 | TRAUMA RESPONSE, LEVEL I.
682 | TRAUMA RESPONSE, LEVEL II.
683 | TRAUMA RESPONSE, LEVEL III.
684 | TRAUMA RESPONSE, LEVEL IV.
689 | TRAUMA RESPONSE, OTHER.
700 | CAST ROOM.
709 | OTHER CAST ROOM.
710 | RECOVERY ROOM.
719 | OTHER RECOVERY ROOM.
720 | LABOR ROOM.
721 | LABOR.
762 | OBSERVATION ROOM.
810 | ORGAN ACQUISITION.
819 | OTHER ORGAN ACQUISITION.
942 | EDUCATION/TRAINING.

3. Proposed Calculation of Scaled OPPS Payment Weights

Using the median APC costs discussed previously, we calculated the proposed relative payment weights for each APC for CY 2006 shown in Addenda A and B to this proposed rule. As in prior years, we scaled all the relative payment weights to APC 0601 (Mid Level Clinic Visit) because it is one of the most frequently performed services in the hospital outpatient setting. We assigned APC 0601 a relative payment weight of 1.00 and divided the median cost for each APC by the median cost for APC 0601 to derive the relative payment weight for each APC. Using CY 2004 data, the median cost for APC 0601 is $60.57 for CY 2006.

Section 1833(t)(9)(B) of the Act requires that APC reclassification and recalibration changes, wage index changes, and other adjustments be made in a manner that assures that aggregate payments under the OPPS for CY 2006 are neither greater than nor less than the aggregate payments that would have been made without the changes. To comply with this requirement concerning the APC changes, we compared aggregate payments using the CY 2005 relative weights to aggregate payments using the CY 2006 proposed relative weights. Based on this comparison, we are proposing to make an adjustment to the relative weights for purposes of budget neutrality. The unscaled relative payment weights were adjusted by .999207669 for budget neutrality. The proposed relative payment weights are listed in Addenda A and B to this proposed rule. The proposed relative payment weights incorporate the recalibration adjustments discussed in sections II.A.1. and 2.

Section 1833(t)(14)(H) of the Act, as added by section 621(a)(1) of Pub. L. 108-173, states that “Additional expenditures resulting from this paragraph shall not be taken into account in establishing the conversion factor, weighting and other adjustment factors for 2004 and 2005 under paragraph (9) but shall be taken into account for subsequent years.” Section 1833(t)(14) of the Act provides the payment rates for certain “specified covered outpatient drugs.” Therefore, the incremental cost of those specified covered outpatient drugs (as discussed in section V. of this preamble) is included in the budget neutrality calculations.

Under section 1833(t)(16)(C) of the Act, as added by section 621(b)(1) of Pub. L. 108-173, payment for devices of brachytherapy consisting of a seed or seeds (or radioactive source) is to be made at charges adjusted to cost for services furnished on or after January 1, 2004, and before January 1, 2006. As we stated in our January 6, 2004 interim final rule, charges for the brachytherapy sources will not be used in determining outlier payments and payments for these items will be excluded from budget neutrality calculations. (We provide a discussion of brachytherapy payment issues at section VII. of this proposed rule.)

4. Proposed Changes to Packaged Services

Payments for packaged services under the OPPS are bundled into the payments providers receive for separately payable services provided on the same day. Packaged services are identified by the status indicator “N.” Hospitals include charges for packaged services on their claims, and the costs associated with these packaged services are then bundled into the costs for separately payable procedures on the claims for purposes of median cost calculations. Hospitals may use CPT codes to report any packaged services that were performed, consistent with CPT coding guidelines.

As a result of requests from the public, a Packaging Subcommittee to the APC Panel was established to review all the procedural CPT codes with a status indicator of “N.”

Providers have often suggested that many packaged services could be provided alone, without any other separately payable services on the claim, and requested that these codes not be assigned status indicator “N.” The Packaging Subcommittee reviewed every code that was packaged in the CY 2004 OPPS. Based on comments we have received and their own expert judgment, the subcommittee identified a set of packaged codes that are often provided separately and subsequently reviewed utilization and median cost data for these codes. One of the main criteria utilized by the Packaging Subcommittee to determine whether a code should become unpackaged was how likely it was for the code to be billed without any other separately payable services on the claim. The Packaging Subcommittee also examined median costs from hospital claims for packaged services that were billed alone.

The Packaging Subcommittee identified areas for change for some packaged CPT codes that they believe could frequently be provided to patients as the sole service on a given date and that require significant hospital resources as determined from hospital claims data. During the February 2005 meeting, the APC Panel accepted the report of the Packaging Subcommittee and made the following recommendations:

(1) That packaged codes be reviewed by the Panel individually.

(2) That the Packaging Subcommittee continue to meet throughout the year to discuss problematic packaged codes.

(3) That CMS assign a modifier to CPT codes 36540 (Collect blood, venous device); 36600 (Withdrawal of arterial blood); and 51701 (Insertion of non-indwelling bladder catheter), for use when there are no other separately payable codes on the claim. The modifier would flag the outpatient code editor (OCE) to assign payment to the claim.

(4) That CMS maintain the current packaged status indicator for CPT code 76937 (Ultrasound guidance for vascular access).

(5) That CMS change the status indicators for CPT immunization administration codes 90471 and 90472 to allow separate payment and ensure consistency with other injection codes.

(6) That CMS gather more data on CPT code 94762 (Overnight pulse oximetry) to determine how often this code is billed without any other separately payable codes and whether it is performed more frequently alone in rural settings than other settings.

(7) No changes to the packaged status of CPT codes 77790 (radiation source handling) and 94760 and 94761 (both codes measure blood oxygen levels).

(8) That CMS provide education and consistent guidelines to providers and fiscal intermediaries on correct billing procedures for packaged codes in general and in particular for CPT codes 36540, 36600, and 51701 and the recommended modifier, if approved.

(9) That the Packaging Subcommittee review CPT codes 42550 (Injection for salivary x-ray) and 38792 (Sentinel node imaging).

(10) That CPT code 97602 (Nonselective wound care) be referred to the Physician Payment Group within CMS for evaluation of its bundled status as it relates to services provided under the OPPS and that the Physician Payment Group report its conclusions back to the APC Panel.

For CY 2006, we are proposing to maintain CPT codes 36540 (Collect blood venous device) and 36600 (Withdrawal of arterial blood) as packaged services and not adopt the APC Panel's recommendation to add a modifier. We note CPT code 36540 is also bundled under the Medicare Physician Fee Schedule (MPFS), and our data demonstrate that the service is generally billed with other separately payable services. We also have relatively few single claims for CPT code 36600, compared to the procedure's overall frequency. Both of these codes have relatively low resource utilization. As these procedures are almost always provided with other separately payable services, hospitals' payments for those other services include the costs of CPT codes 36540 and 36600.

For CY 2006, we are proposing to pay separately for CPT code 51701 (Insertion of non-indwelling bladder catheter), and to map it to APC 0340 (Minor Ancillary Procedures), with status indicator “X”, and a median cost of $38.52. The APC Panel recommended that we pay separately for this code only when there are no other separately payable services on the claim. However, we are proposing to pay separately for this code every time it is billed. We believe that it is more appropriate to make payment for each procedure rather than increase hospitals' administrative burden by requiring specific coding changes to indicate that there are no other separately payable procedures on the claim. Based on our review of the data, the cost for this procedure is not insignificant, and the volume of single and multiple claims is modest. When we reviewed related codes, including CPT code 51702 (Insertion of temporary indwelling bladder catheter, simple) and CPT code 51703 (Insertion of temporary indwelling bladder catheter, complicate), we noted that these codes also had substantial median costs and a moderate volume of single claims. Therefore, for CY 2006, we are also proposing to pay separately for CPT codes 51702 and 51703, mapping them to APC 0340 with a median cost of $38.52 and APC 0164 (Level I Urinary and Anal Procedures) with a median cost of $71.54, respectively. CPT codes 51701, 51702, and 51703 will be placed on the bypass list, as discussed in section II.A.1.b. of this proposed rule.

For CY 2006, we are proposing to accept the APC Panel recommendation that CPT code 76937 (Ultrasound guidance for vascular access) remain packaged. We are concerned that there may be unnecessary overuse of this procedure if it is separately payable. In addition, we believe that the service would always be provided with another separately payable procedure, so its costs would be appropriately bundled with the definitive vascular access service. As stated in the CY 2005 final rule with comment period (69 FR 65697), CMS and the Packaging Subcommittee reviewed CY 2004 claims data for CPT code 76937 and determined that this code should remain packaged.

For CY 2006, see section VIII. of this preamble on drug administration regarding CPT codes 90471 and 90472.

For CY 2006, we are proposing to accept the APC Panel recommendations that CPT codes 77790 (Radiation handling), 94760 (Pulse oximetry for oxygen saturation, single determination), and 94761 (Pulse oximetry for oxygen saturation, multiple determinations) remain packaged. We believe that CPT code 77790 is integral to the provision of brachytherapy and should always be billed on the same day with brachytherapy sources and their loading, ensuring that the provider would receive appropriate payment for the radiation source handling and loading bundled with the payment for the brachytherapy service. The small number of single claims for this code in our data verifies that this code is rarely billed alone without other payable services on the claim, and those few single claims may be miscoded claims. Our data review of CPT codes 94760 and 94761 revealed that these codes have low resource utilization, and are most frequently provided with other services. Similar to CPT code 77790, there are many fewer single claims for CPT codes 94760 and 94761 than multiple procedure claims that include CPT codes 94760 and 94761. CPT codes 94760 and 94761 describe services that are very commonly performed in the hospital outpatient setting, and unpackaging these codes would likely significantly decrease the number of single claims available for use in calculating median costs for other services.

For CY 2006, we are proposing to accept the APC Panel recommendation to gather data and review CPT codes 94762, 42550, and 38792 with the Packaging Subcommittee. We will analyze single and multiple procedure claims' volumes and resource utilization data, and review these studies with the Packaging Subcommittee.

We referred CPT code 97602 (non-selective wound care) for MPFS evaluation of its bundled status as CPT code 97602 relates to services provided under the OPPS. CPT code 97602 is assigned status indicator “A” in this OPPS proposed rule, meaning that while it is no longer payable under the OPPS, it is payable under a fee schedule other than OPPS. Under the MPFS, the nonselective wound care services described by CPT code 97602 are “bundled” into the selective wound care debridement codes (CPT codes 97597 and 97598). Under the MPFS, a separate payment is never made for “bundled” services and, because of this designation, the provider does not receive separate payment for non-selective wound care described by CPT code 97602. While this code now falls under the MPFS rules, payment policy for this “bundled” service has not changed and separate payment is not made.

The APC Panel Packaging Subcommittee remains active, and additional issues and new data concerning the packaging status of codes will be shared for its consideration as information becomes available. We continue to encourage submission of common clinical scenarios involving currently packaged HCPCS codes to the Packaging Subcommittee for its ongoing review. Additional detailed suggestions for the Packaging Subcommittee should be submitted to APCPanel@cms.hhs.gov, with “Packaging Subcommittee” in the subject line.

B. Proposed Payment for Partial Hospitalization

(If you choose to comment on issues in this section, please include the caption “Partial Hospitalization” at the beginning of your comment.)

1. Background

Partial hospitalization is an intensive outpatient program of psychiatric services provided to patients as an alternative to inpatient psychiatric care for beneficiaries who have an acute mental illness. A partial hospitalization program (PHP) may be provided by a hospital to its outpatients or by a Medicare-certified CMHC. Section 1833(t)(1)(B)(i) of the Act provides the Secretary with the authority to designate the hospital outpatient services to be covered under the OPPS. Section 419.21(c) of the Medicare regulations that implement this provision specifies that payments under the OPPS will be made for partial hospitalization services furnished by CMHCs. Section 1883(t)(2)(C) of the Act requires that we establish relative payment weights based on median (or mean, at the election of the Secretary) hospital costs determined by 1996 claims data and data from the most recent available cost reports. Payment to providers under the OPPS for PHPs represents the provider's overhead costs associated with the program. Because a day of care is the unit that defines the structure and scheduling of partial hospitalization services, we established a per diem payment methodology for the PHP APC, effective for services furnished on or after August 1, 2000. For a detailed discussion, refer to the April 7, 2000 OPPS final rule (65 FR 18452).

2. Proposed PHP APC Update for CY 2006

To calculate the proposed CY 2006 PHP per diem payment, we used the same methodology that was used to compute the CY 2005 PHP per diem payment. For CY 2005, the per diem amount was based on 12 months of hospital and CMHC PHP claims data (for services furnished from January 1, 2003 through December 31, 2003). We used data from all hospital bills reporting condition code 41, which identifies the claim as partial hospitalization, and all bills from CMHCs because CMHCs are Medicare providers only for the purpose of providing partial hospitalization services. We used CCRs from the most recently available hospital and CMHC cost reports to convert each provider's line-item charges as reported on bills, to estimate the provider's cost for a day of PHP services. Per diem costs were then computed by summing the line-item costs on each bill and dividing by the number of days on the bill.

In a Program Memorandum issued on January 17, 2003 (Transmittal A-03-004), we directed fiscal intermediaries to recalculate hospital and CMHC CCRs using the most recently settled cost reports by April 30, 2003. Following the initial update of CCRs, fiscal intermediaries were further instructed to continue to update a provider's CCR and enter revised CCRs into the outpatient provider specific file. Therefore, for CMHCs, we use CCRs from the outpatient provider specific file.

Historically, the median per diem cost for CMHCs has greatly exceeded the median per diem cost for hospital-based PHPs and has fluctuated significantly from year to year while the median per diem cost for hospital-based PHPs has remained relatively constant ($200-$225). Medicare providers are required to maintain uniform charges for all payers. We believe that hospitals have multiple payers and are far less likely to significantly change their charges for PHP from year to year. However, many CMHCs have indicated that Medicare is their only payer. As a result, we believe that these providers may have increased and decreased their charges in response to Medicare payment policies. As discussed in more detail in the next section and in the final rule establishing the CY 2004 OPPS (68 FR 63470), we believe that some CMHCs manipulated their charges in order to inappropriately receive outlier payments.

In the CY 2003 update, the difference in median per diem cost for CMHCs and hospital-based PHPs was so great, $685 for CMHCs and $225 for hospital-based PHPs, that we applied an adjustment factor of .583 to CMHC costs to account for the difference between “as submitted” and “final settled” cost reports. By doing so, the CMHC median per diem cost was reduced to $384, resulting in a combined hospital-based and CMHC PHP median per diem cost of $273. As with all APCs in the OPPS, the median cost for each APC was scaled to be relative to the cost of a mid-level office visit and the conversion factor was applied. The resulting per diem rate for PHP for CY 2003 was $240.03.

In the CY 2004 OPPS update, the median per diem cost for CMHCs grew to $1038, while the median per diem cost for hospital-based PHPs was again $225. After applying the .583 adjustment factor to the median CMHC per diem cost, the median CMHC per diem cost was $605. As the CMHC median per diem cost exceeded the average per diem cost of inpatient psychiatric care, we proposed a per diem rate for CY 2004 based solely on hospital-based PHP data. The proposed PHP per diem for CY 2004, after scaling, was $208.95. However, by the time we published the OPPS final rule for CY 2004, we had received updated CCRs for CMHCs. Using the updated CCRs significantly lowered the CMHC median per diem cost to $440. As a result, we determined that the higher per diem cost for CMHCs was not due to the difference between “as submitted” and “final settled” cost reports, but were the result of excessive increases in charges which may have been done in order to receive higher outlier payments. Therefore, in calculating the PHP median per diem cost for CY 2004, we did not apply the .583 adjustment factor to CMHC costs to compute the PHP APC. Using the updated CCRs for CMHCs, the combined hospital-based and CMHC median per diem cost for PHP was $303. After scaling, we established the CY 2004 PHP APC of $286.82.

Then, in the CY 2005 OPPS update, the CMHC median per diem cost was $310 and the hospital-based PHP median per diem cost was $215. No adjustments were determined to be necessary and, after scaling, the combined median per diem cost of $289 was reduced to $281.33. We believed that the reduction in the CMHC median per diem cost indicated that the use of updated CCRs had accounted for the previous increase in CMHC charges, and represented a more accurate estimate of CMHC per diem costs for PHP.

For CY 2006, we analyzed 12 months of data for hospital and CMHC PHP claims for services furnished between January 1, 2004, and December 31, 2004. The data indicated that the median per diem cost for CMHCs had dropped to $143, while the median per diem cost for hospital-based PHPs was $209. It appears that CMHCs significantly reduced their charges in CY 2004. The average charge per day for CMHCs in CY 2003 was $1,184 and the average cost per day was $335. In CY 2004, the CMHC average charge per day dropped to $765 and the average cost per day was $167. We have determined that a combination of lower charges and slightly lower CCRs for CMHCs resulted in a significant decline in the CMHC median per diem cost.

Following the methodology used for the CY 2005 OPPS update, the combined hospital-based and CMHC median per diem cost would be $149, a decrease of 48 percent compared to the CY 2005 combined median per diem amount. We believe that after scaling this amount to the cost of a mid-level office visit, the resulting APC rate would be too low to cover the per diem cost for all PHPs.

We are considering an alternative update methodology for the PHP APC for CY 2006 that would mitigate this drastic reduction in payment for PHP. One alternative would be to base the PHP APC on hospital-based PHP data alone. The median per diem cost of hospital-based PHPs has remained in the $200-225 range over the last 5 years, while the median per diem cost for CMHC PHPs has fluctuated significantly from a high of $1,037 to a low of $143. Under this alternative, we would use $209, the median per diem cost for hospital-based PHPs during CY 2004 to establish the PHP APC for CY 2006. However, we believe using this amount would also result in an unacceptable drop in Medicare payments for all PHPs in CY 2006 compared to payments in CY 2005.

Another alternative we are considering is to apply a different trimming methodology to CMHC costs in an effort to eliminate the effect of data for those CMHCs that appeared to have excessively increased their charges in order to receive outlier payments. We compared CMHC per diem costs in CY 2003 to CMHC per diem costs in CY 2004 and determined the percentage change. Initially, we trimmed CMHCs claims where the CMHC's per diem costs changed by 50 percent or more from CY 2003 to CY 2004. After combining the remaining CMHC claims with the hospital-based PHP claims, we calculated a median per diem cost of $160.75. However, this approach did not eliminate the data for all of the CMHCs with unreasonable per diem costs. We then analyzed the resulting median per diem cost if we trimmed CMHC claims where the difference in CMHC per diem costs from 2003 to 2004 was 25 percent. This trimming approach resulted in a combined CMHC and hospital-based PHP median per diem cost of $176. We also trimmed the CMHC claims from the CY 2003 data to see how trimming aberrant data would affect the combined hospital/CMHC median per diem cost. We found that trimming the claims from the CMHCs with a 25 percent difference in per diem cost from CY 2003 to CY 2004 reduced the $289 median per diem cost to $218.

We believe it is important to eliminate aberrant data and we believe trimming certain CMHC data would provide an incentive for CMHCs to stabilize their charges so that we could use their data in future updates of the PHP APC. However, we believe that the trimming methods described above would also result in an unacceptably large decrease in payment. In addition, the trimming method we used was based on percentage change in cost per day, and may not have identified all the CMHCs that may have manipulated their charges in order to receive more outlier payments, for example, CMHCs with high charges and no reduction in charges compared to CY 2003.

Although we prefer to use both CMHC and hospital data to establish the PHP APC, we continue to be concerned about the volatility of the CMHC data. The analyses we have conducted seem to indicate that eliminating aberrant CMHC data results in a median per diem cost more in line with hospital data. We will continue to analyze the CMHC data in developing payment rates, however, if the data continues to be unstable, we may use only hospital data in the future.

We are considering an approach that would lessen the PHP payment reduction for CY 2006, yet, ensure an adequate payment amount and continue to ensure access to the partial hospitalization benefit for Medicare beneficiaries. For CY 2006, we are proposing to apply a 15-percent reduction in the combined hospital-based and CMHC median per diem cost that was used to establish the CY 2005 PHP APC. That amount would then be scaled to be relative to the cost of a mid-level office visit to establish the PHP APC for CY 2006. We believe a reduction in the CY 2005 median per diem cost would strike an appropriate balance between using the best available data and providing adequate payment for a program that often spans 5-6 hours a day. We believe 15 percent is an appropriate reduction because it recognizes decreases in median per diem costs in both the hospital data and the CMHC data, and also reduces the risk of any adverse impact on access to these services that might result from a large single-year rate reduction. However, we would propose that the reduction in payments for PHP be a transitional measure, and will continue to monitor CMHC costs and charges for these services and work with CMHCs to improve their reporting so that payments can be calculated based on better empirical data, consistent with the approach we have used to calculate payments in other areas of the OPPS.

To apply the methodology, we would reduce $289 (the CY 2005 combined hospital-based and CMHC median per diem cost) by 15 percent, resulting in a combined median per diem cost of $245.65. After scaling, we are proposing the resulting APC amount for PHP of $240.51 for CY 2006, of which $48.10 is the beneficiary's coinsurance. We will continue to analyze the data to determine whether there is a more targeted approach that would allow use of the CMHC and hospital PHP claims data to establish the final PHP rate for CY 2006.

3. Proposed Separate Threshold for Outlier Payments to CMHCs

In the November 7, 2003 final rule with comment period (68 FR 63469), we indicated that, given the difference in PHP charges between hospitals and CMHCs, we did not believe it was appropriate to make outlier payments to CMHCs using the outlier percentage target amount and threshold established for hospitals. There was a significant difference in the amount of outlier payments made to hospitals and CMHCs for PHP. Further analysis indicated the use of OPPS outlier payments for CMHCs was contrary to the intent of the general OPPS outlier policy. Therefore, for CYs 2004 and 2005, we established a separate outlier threshold for CMHCs. We designated a portion of the estimated 2.0 percent outlier target amount specifically for CMHCs, consistent with the percentage of projected payments to CMHCs under the OPPS in each of those years, excluding outlier payments.

As stated in the November 15, 2004 final rule with comment period, CMHCs were projected to receive 0.6 percent of the estimated total OPPS payments in CY 2005 (69 FR 65848). The CY 2005 CMHC outlier threshold is met when the cost of furnishing services by a CMHC exceeds 3.5 times the PHP APC payment amount. The current outlier payment percentage is 50 percent of the amount of costs in excess of the threshold.

CMS and the Office of the Inspector General are continuing to monitor the excessive outlier payments to CMHCs. As previously stated in section II.B.2. above, we used CY 2004 claims data to calculate the proposed CY 2006 per diem payment. These data show the effect of the separate outlier threshold for CMHCs that was effective January 1, 2004. During CY 2004, the separate outlier threshold for CMHCs resulted in $1.8 million in outlier payments to CMHCs, within the 2.0 percent of total OPPS payments identified for CMHCs. In CY 2003, more than $30 million was paid to CMHCs in outlier payments. We believe this difference in outlier payments indicates that the separate outlier threshold for CMHCs has been successful in keeping outlier payments to CMHCs in line with the percentage of OPPS payments made to CMHCs.

As noted in section II.H. of this preamble, for CY 2006, we are proposing to set the target for hospital outpatient outlier payments at 1.0 percent of total OPPS payments. We are also proposing to allocate a portion of that 1.0 percent, 0.006 percent (or 0.006 percent of total OPPS payments), to CMHCs for PHP services. As discussed in section II.G. below, we are proposing a dollar threshold in addition to an APC multiplier threshold for hospital OPPS outlier payments. However, because PHP is the only APC for which CMHCs may receive payment under the OPPS, we would not expect to redirect outlier payments by imposing a dollar threshold. Therefore, we are not proposing a dollar threshold for CMHC outliers. We are proposing to set the outlier threshold for CMHCs for CY 2006 at 3.45 percent times the APC payment amount and the CY 2006 outlier payment percentage applicable to costs in excess of the threshold at 50 percent. As we did with the hospital outlier threshold, we used hospital charge inflation factor to inflate charges to CY 2006.

C. Proposed Conversion Factor Update for CY 2006

(If you choose to comment on issues in this section, please include the caption “Conversion Factor” at the beginning of your comment.)

Section 1833(t)(3)(C)(ii) of the Act requires us to update the conversion factor used to determine payment rates under the OPPS on an annual basis. Section 1833(t)(3)(C)(iv) of the Act provides that, for CY 2006, the update is equal to the hospital inpatient market basket percentage increase applicable to hospital discharges under section 1886(b)(3)(B)(iii) of the Act.

The forecast of the hospital market basket increase for FY 2006 published in the IPPS proposed rule on May 4, 2005 is 3.2 percent (70 FR 23384). To set the OPPS proposed conversion factor for CY 2006, we increased the CY 2005 conversion factor of $56.983, as specified in the November 15, 2004 final rule with comment period (69 FR 65842), by 3.2 percent.

In accordance with section 1833(t)(9)(B) of the Act, we further adjusted the conversion factor for CY 2005 to ensure that the revisions we are making to our updates by means of the wage index are made on a budget-neutral basis. We calculated a proposed budget neutrality factor of 1.002015212 for wage index changes by comparing total payments from our simulation model using the FY 2006 IPPS proposed wage index values to those payments using the current (FY 2005) IPPS wage index values. In addition, to accommodate the proposed rural adjustment discussed in section II.G. of this preamble, we calculated a proposed budget neutrality factor of 0.99652023 by comparing payments with the rural adjustment to those without. For CY 2006, allowed pass-through payments are estimated to decrease to 0.05 percent of total OPPS payments, down from 0.1 percent in CY 2005. The proposed conversion factor is also adjusted by the difference in estimated pass-through payments of 0.05 percent. Finally, decreasing proposed payments for outliers to 1.0 percent of total payments returned 1.0 percent to the conversion factor.

The proposed market basket increase update factor of 3.2 percent for CY 2006, the required wage index budget neutrality adjustment of approximately 1.002015212, the return of 1.0 percent in total payments from a reduced outlier target, the 0.05 percent adjustment to the pass-through estimate, and the adjustment for the proposed rural payment adjustment of 0.99652023 result in a proposed conversion factor for CY 2006 of $59.350.

D. Proposed Wage Index Changes for CY 2006

(If you choose to comment on issues in this section, please include the caption “Wage Index” at the beginning of your comment.)

Section 1833(t)(2)(D) of the Act requires the Secretary to determine a wage adjustment factor to adjust, for geographic wage differences, the portion of the OPPS payment rate and the copayment standardized amount attributable to labor and labor-related cost. This adjustment must be made in a budget neutral manner. As we have done in prior years, we are proposing to adopt the IPPS wage indices and extend these wage indices to TEFRA hospitals that participate in the OPPS but not the IPPS.

As discussed in section II.A. of this preamble, we standardize 60 percent of estimated costs (labor-related costs) for geographic area wage variation using the IPPS wage indices that are calculated prior to adjustments for reclassification to remove the effects of differences in area wage levels in determining the OPPS payment rate and the copayment standardized amount.

As published in the original OPPS April 7, 2000 final rule (65 FR 18545), OPPS has consistently adopted the final IPPS wage indices as the wage indices for adjusting the OPPS standard payment amounts for labor market differences. As initially explained in the September 8, 1998 OPPS proposed rule, we believed and continue to believe that using the IPPS wage index as the source of an adjustment factor for OPPS is reasonable and logical, given the inseparable, subordinate status of the hospital outpatient within the hospital overall. In accordance with section 1886(d)(3)(E) of the Act, the IPPS wage index is updated annually. In this proposed rule, we are proposing to use the proposed FY 2006 hospital IPPS wage index published in the Federal Register on May 4, 2005 (70 FR 23550 through 23581), and as corrected and posted on the CMS Web site, to determine the wage adjustments for the OPPS payment rate and the copayment standardized amount for CY 2006. In accordance with our established policy, we are proposing to use the FY 2006 final version of these wage indices to determine the wage adjustments and copayment standardized amount that we will publish in our final rule for CY 2006.

We note that the FY 2006 IPPS wage indices continue to reflect a number of changes implemented in FY 2005 as a result of the new OMB standards for defining geographic statistical areas, the implementation of an occupational mix adjustment as part of the wage index, and new wage adjustments provided for under Pub. L. 108-173. The following is a brief summary of the proposed changes in the FY 2005 IPPS wage indices, continued for FY 2006, and any adjustments that we are proposing applying to the OPPS for CY 2006. We refer the reader to the FY 2006 IPPS proposed rule (70 FR 23367 through 23384, May 4, 2005) for a detailed discussion of the changes to the wage indices.)

1. The proposed continued use of the new Core Based Statistical Areas (CBSAs) issued by the Office of Management and Budget (OMB) as revised standards for designating geographical statistical areas based on the 2000 Census data, to define labor market areas for hospitals for purposes of the IPPS wage index. The OMB revised standards were published in the Federal Register on December 27, 2000 (65 FR 82235), and OMB announced the new CBSAs on June 6, 2003, through an OMB bulletin. In the FY 2005 hospital IPPS final rule, CMS adopted the new OMB definitions for wage index purposes. In the FY 2006 IPPS proposed rule, we again stated that hospitals located in MSAs would be urban and hospitals that are located in Micropolitan Areas or Outside CBSAs would be rural. To help alleviate the decreased payments for previously urban hospitals that became rural under the new MSA definitions, we allowed these hospitals to maintain their assignment to the MSA where they previously had been located for the 3-year period from FY 2005 through FY 2007. To be consistent with IPPS, we will continue the policy we began in CY 2005 of applying the same criterion to TEFRA hospitals paid under the OPPS but not under the IPPS and to maintain that MSA designation for determining a wage index for the specified period. Beginning in FY 2008, these hospitals will receive their statewide rural wage index, although those hospitals paid under the IPPS will be eligible to apply for reclassification. In addition to this “hold harmless” provision, the FY 2005 IPPS final rule implemented a one-year transition for hospitals that experienced a decrease in their FY 2005 wage index compared to their FY 2004 wage index due solely to the changes in labor market definitions. These hospitals received 50 percent of their wage indices based on the new MSA configurations and 50 percent based on the FY 2004 labor market areas. In the FY 2006 IPPS proposed rule, we discussed the cessation of the one-year transition and proposed that hospitals receive 100 percent of their wage index based upon the new CBSA configurations beginning in FY 2006. Again, for the sake of consistency with IPPS, we also are proposing that TEFRA hospitals would receive 100 percent of their wage index based upon the new CBSA configurations beginning in FY 2006.

2. We again proposed to apply the proposed occupational mix adjustment for FY 2006 IPPS to 10-percent of the average hourly wage and leave 90 percent of the average hourly wage unadjusted for occupational mix. As noted in the FY 2006 IPPS proposed rule, we are, essentially, using the same CMS Wage Index Occupational Mix Survey and Bureau of Labor Statistics data to calculate the adjustment. Because there are no significant differences between the FY 2005 and the FY 2006 occupational mix survey data and results, we believe it is appropriate to adopt the IPPS rule and apply the same occupational mix adjustment to 10 percent of the proposed FY 2006 wage index.

3. The reclassifications of hospitals to geographic areas for purposes of the wage index. For purposes of the OPPS wage index, we are proposing to adopt all of the IPPS reclassifications proposed for FY 2006, including reclassifications that the Medicare Geographic Classification Review Board (MGCRB) approved under the one-time appeal process for hospitals under section 508 of Pub. L. 108-173. We note that section 508 reclassifications will terminate March 31, 2007.

4. The proposed continuation of an adjustment to the wage index to reflect the “out-migration” of hospital employees who reside in one county but commute to work in a different county with a higher wage index, in accordance with section 505 of Pub. L. 108-173 (FY 2006 IPPS proposed rule (70 FR 23381 and 23382, May 4, 2005)). Hospitals paid under the IPPS located in the qualifying section 505 “out-migration” counties receive a wage index increase unless they have already been reclassified under section 1886(d)(10) of the Act, redesignated under section 1886(d)(8)(B) of the Act, or reclassified under section 508. As discussed in the FY 2006 IPPS proposed rule, we proposed that reclassified hospitals not receive the out-migration adjustment unless they waive their reclassified status. For OPPS purposes, we are continuing our policy from CY 2005 to apply the same 505 criterion to TEFRA hospitals paid under the OPPS but not paid under the IPPS. Because TEFRA hospitals cannot reclassify under sections 1886(d)(8) and 1886(d)(10) of the Act or section 508, they are eligible for the out-migration adjustment. Therefore, TEFRA hospitals located in a qualifying section 505 county will also receive an increase to their wage index under OPPS. Addendum L shows the hospitals, including TEFRA hospitals, that we currently believe will receive the out-migration adjustment. However, because we are proposing to adopt the final FY 2006 IPPS wage index, we will adopt any changes in a hospital's classification status that would make them either eligible or ineligible for the out-migration adjustment.

The following proposed FY 2006 IPPS wage indices that were published in the May 4, 2005 Federal Register (70 FR 23550 through 2323581) are reprinted as Addenda in this OPPS proposed rule: Addendum H—Wage Index for Urban Areas; Addendum I—Wage Index for Rural Areas; Addendum J—Wage Index for Hospitals That Are Reclassified; Addendum K—Puerto Rico Wage Index by CBSA; Addendum L—Out-Migration Wage Adjustment; Addendum M—Hospital Reclassifications and Redesignations by Individual Hospital and CBSA; Addendum N—Hospital Reclassifications and Redesignations by Individual Hospital under Section 508 of Pub. L. 108-173; and Addendum O—Hospitals Redesignated as Rural Under Section 1886(d)(8)(E) of the Act. We are proposing to use these FY 2006 IPPS indices, as they are finalized, to adjust the payment rates and coinsurance amounts that we will publish in the OPPS final rule for CY 2006.

With the exception of reclassifications resulting from the implementation of the one-time appeal process under section 508 of Pub. L. 108-173, all changes to the wage index resulting from geographic labor market area reclassifications or other adjustments must be incorporated in a budget neutral manner. Accordingly, in calculating the OPPS budget neutrality estimates for CY 2006, we have included the wage index changes that result from MGCRB reclassifications, implementation of section 505 of Pub. L. 108-173, and other refinements made in the FY 2006 IPPS proposed rule, such as the hold harmless provision for hospitals changing status from urban to rural under the new CBSA geographic statistical area definitions. However, section 508 set aside $900 million to implement the section 508 reclassifications. We considered the increased Medicare payments that the section 508 reclassifications would create in both the IPPS and OPPS when we determined the impact of the one-time appeal process. Because the increased OPPS payments already counted against the $900 million limit, we did not consider these reclassifications when we calculated the OPPS budget neutrality adjustment.

E. Proposed Statewide Average Default Cost-to-Charge Ratios

(If you choose to comment on issues in this section, please include the caption “Cost-to-Charge Ratios” at the beginning of your comment.)

CMS uses CCRs to determine outlier payments, payments for pass-through devices, and monthly interim transitional corridor payments under the OPPS. Some hospitals do not have a valid CCR. These hospitals include, but are not limited to, hospitals that are new and have not yet submitted a cost report, hospitals that have a CCR that falls outside predetermined floor and ceiling thresholds for a valid CCR, or hospitals that have recently given up their all-inclusive rate status. Last year we updated the default urban and rural CCRs for CY 2005 in our final rule published on November 15, 2004 (69 FR 65821 through 65825). We are proposing to update the default ratios using the most recent cost report data for CY 2006.

We calculated the proposed statewide default CCRs using the same CCRs that we use to adjust charges to costs on claims data. Table 3 lists the proposed CY 2006 default urban and rural CCRs by State. These CCRs are the ratio of total costs to total charges from each provider's most recently submitted cost report, for those cost centers relevant to outpatient services. We also adjusted these ratios to reflect final settled status by applying the differential between settled to submitted costs and charges from the most recent pair of settled to submitted cost reports.

The majority of submitted cost reports, 80.79 percent, were for CY 2003. We only used valid CCRs to calculate these default ratios. That is, we removed the CCRs for all-inclusive hospitals, CAHs, and hospitals in Guam and the U.S. Virgin Islands because these entities are not paid under the OPPS, or in the case of all-inclusive hospitals, because their CCRs are suspect. We further identified and removed any obvious error CCRs and trimmed any outliers. We limited the hospitals used in the calculation of the default CCRs to those hospitals that billed for services under the OPPS during CY 2003.

Finally, we calculated an overall average CCR, weighted by a measure of volume, for each State except Maryland. This measure of volume is the total lines on claims and is the same one that we use in our impact tables. For Maryland, we used an overall weighted average CCR for all hospitals in the nation as a substitute for Maryland CCRs, which appear in Table 3. Very few providers in Maryland are eligible to receive payment under the OPPS, which limits the data available to calculate an accurate and representative CCR. The overall decrease in default statewide CCRs can be attributed to the general decline in the ratio between costs and charges widely observed in the cost report data.

Table 3.—Statewide Average Cost-to-Charge Ratios
State | Urban/rural | Previous default CCR | Default CCR
ALABAMA | RURAL | 0.31552 | 0.26710
ALABAMA | URBAN | 0.29860 | 0.24570
ALASKA | RURAL | 0.59388 | 0.61850
ALASKA | URBAN | 0.38555 | 0.42710
ARIZONA | RURAL | 0.39748 | 0.32760
ARIZONA | URBAN | 0.30922 | 0.26980
ARKANSAS | RURAL | 0.35936 | 0.31750
ARKANSAS | URBAN | 0.38278 | 0.30470
CALIFORNIA | RURAL | 0.40335 | 0.29310
CALIFORNIA | URBAN | 0.32427 | 0.24210
COLORADO | RURAL | 0.51041 | 0.43060
COLORADO | URBAN | 0.41863 | 0.32170
CONNECTICUT | RURAL | 0.42702 | 0.47250
CONNECTICUT | URBAN | 0.46592 | 0.44620
DELAWARE | RURAL | 0.36289 | 0.36300
DELAWARE | URBAN | 0.45061 | 0.45940
DISTRICT OF COLUMBIA | URBAN | 0.38690 | 0.37510
FLORIDA | RURAL | 0.31782 | 0.24300
FLORIDA | URBAN | 0.28363 | 0.22400
GEORGIA | RURAL | 0.39829 | 0.33820
GEORGIA | URBAN | 0.40262 | 0.32100
HAWAII | RURAL | 0.44420 | 0.41020
HAWAII | URBAN | 0.34815 | 0.34470
IDAHO | RURAL | 0.49682 | 0.46450
IDAHO | URBAN | 0.51942 | 0.49170
ILLINOIS | RURAL | 0.41825 | 0.34060
ILLINOIS | URBAN | 0.36825 | 0.29960
INDIANA | RURAL | 0.44596 | 0.36860
INDIANA | URBAN | 0.44205 | 0.37230
IOWA | RURAL | 0.50166 | 0.41990
IOWA | URBAN | 0.46963 | 0.38780
KANSAS | RURAL | 0.48065 | 0.38970
KANSAS | URBAN | 0.34698 | 0.29270
KENTUCKY | RURAL | 0.36987 | 0.31080
KENTUCKY | URBAN | 0.37381 | 0.32470
LOUISIANA | RURAL | 0.34317 | 0.29910
LOUISIANA | URBAN | 0.34357 | 0.27730
MAINE | RURAL | 0.47857 | 0.38800
MAINE | URBAN | 0.54084 | 0.44890
MARYLAND | RURAL | 0.70380 | 0.36521
MARYLAND | URBAN | 0.68104 | 0.32997
MASSACHUSETTS | URBAN | 0.44439 | 0.38810
MICHIGAN | RURAL | 0.44890 | 0.39410
MICHIGAN | URBAN | 0.41143 | 0.37420
MINNESOTA | RURAL | 0.48514 | 0.47130
MINNESOTA | URBAN | 0.45259 | 0.37410
MISSISSIPPI | RURAL | 0.34264 | 0.30290
MISSISSIPPI | URBAN | 0.37097 | 0.29320
MISSOURI | RURAL | 0.42187 | 0.34160
MISSOURI | URBAN | 0.38128 | 0.31080
MONTANA | RURAL | 0.51173 | 0.47890
MONTANA | URBAN | 0.49396 | 0.44810
NEBRASKA | RURAL | 0.49386 | 0.42370
NEBRASKA | URBAN | 0.42043 | 0.33870
NEVADA | RURAL | 0.42878 | 0.50620
NEVADA | URBAN | 0.22854 | 0.22330
NEW HAMPSHIRE | RURAL | 0.50083 | 0.43580
NEW HAMPSHIRE | URBAN | 0.39954 | 0.33220
NEW JERSEY | URBAN | 0.49024 | 0.34030
NEW MEXICO | RURAL | 0.44932 | 0.33890
NEW MEXICO | URBAN | 0.50857 | 0.43310
NEW YORK | RURAL | 0.52062 | 0.43940
NEW YORK | URBAN | 0.54625 | 0.42550
NORTH CAROLINA | RURAL | 0.37776 | 0.35410
NORTH CAROLINA | URBAN | 0.42726 | 0.38110
NORTH DAKOTA | RURAL | 0.52829 | 0.41170
NORTH DAKOTA | URBAN | 0.47341 | 0.36740
OHIO | RURAL | 0.42562 | 0.41160
OHIO | URBAN | 0.42718 | 0.32810
OKLAHOMA | RURAL | 0.40628 | 0.32900
OKLAHOMA | URBAN | 0.36264 | 0.29190
OREGON | RURAL | 0.47915 | 0.42460
OREGON | URBAN | 0.49958 | 0.43760
PENNSYLVANIA | RURAL | 0.40582 | 0.36010
PENNSYLVANIA | URBAN | 0.33807 | 0.28010
PUERTO RICO | URBAN | 0.42208 | 0.41370
RHODE ISLAND | URBAN | 0.43930 | 0.35100
SOUTH CAROLINA | RURAL | 0.35996 | 0.29370
SOUTH CAROLINA | URBAN | 0.36961 | 0.29160
SOUTH DAKOTA | RURAL | 0.49599 | 0.39210
SOUTH DAKOTA | URBAN | 0.44259 | 0.33940
TENNESSEE | RURAL | 0.36663 | 0.30290
TENNESSEE | URBAN | 0.36464 | 0.28310
TEXAS | RURAL | 0.41763 | 0.33640
TEXAS | URBAN | 0.33611 | 0.30300
UTAH | RURAL | 0.49748 | 0.47090
UTAH | URBAN | 0.46733 | 0.45230
VERMONT | RURAL | 0.47278 | 0.46750
VERMONT | URBAN | 0.54533 | 0.44250
VIRGINIA | RURAL | 0.39408 | 0.33500
VIRGINIA | URBAN | 0.38604 | 0.32550
WASHINGTON | RURAL | 0.54246 | 0.43420
WASHINGTON | URBAN | 0.54658 | 0.41360
WEST VIRGINIA | RURAL | 0.42671 | 0.35070
WEST VIRGINIA | URBAN | 0.45616 | 0.40700
WISCONSIN | RURAL | 0.50126 | 0.42300
WISCONSIN | URBAN | 0.46268 | 0.38480
WYOMING | RURAL | 0.54596 | 0.51580
WYOMING | URBAN | 0.41265 | 0.41080

F. Expiring Hold Harmless Provision for Transitional Corridor Payments for Certain Rural Hospitals

When the OPPS was implemented, every provider was eligible to receive an additional payment adjustment (transitional corridor payment) if the payments it received for covered OPD services under the OPPS were less than the payments it would have received for the same services under the prior reasonable cost-based system (section 1833(t)(7) of the Act). Section 1833(t)(7) of the Act provides that the transitional corridor payments are temporary payments for most providers, with two exceptions, to ease their transition from the prior reasonable cost-based payment system to the OPPS system. Cancer hospitals and children's hospitals receive the transitional corridor payments on a permanent basis. Section 1833(t)(7)(D)(i) of the Act originally provided for transitional corridor payments to rural hospitals with 100 or fewer beds for covered OPD services furnished before January 1, 2004. However, section 411 of Pub. L. 108-173 amended section 1833(t)(7)(D)(i) of the Act to extend these payments through December 31, 2005, for rural hospitals with 100 or fewer beds. Section 411 also extended the transitional corridor payments to sole community hospitals located in rural areas for services furnished during the period that begins with the provider's first cost reporting period beginning on or after January 1, 2004, and ends on December 31, 2005. Accordingly, the authority for making transitional corridor payments under section 1833(t)(7)(D)(i) of the Act, as amended by section 411 of Pub . L. 108-173, will expire for rural hospitals having 100 or fewer beds and sole community hospitals located in rural areas on December 31, 2005. For CY 2006, transitional corridor payments will continue to be available to cancer and children's hospitals. (We note that the succeeding section II.G. of this preamble discusses an additional provision of section 411 of Pub. L. 108-173 that related to a study to determine appropriate adjustment to payments for rural hospitals under the OPPS beginning January 2006.)

G. Proposed Adjustment for Rural Hospitals

(If you choose to comment on issues in this section, please include the caption “Rural Hospital Adjustment” at the beginning of your comment.)

Section 411 of Pub. L. 108-173 added a new paragraph (13) to section 1833(t) of the Act. New section 1833(t)(13)(A) specifically instructs the Secretary to conduct a study to determine if rural hospital outpatient costs exceed urban hospital outpatient costs. Moreover, under new section 1833(t)(13)(B) of the Act, the Secretary is given authorization to provide an appropriate adjustment to rural hospitals by January 1, 2006, if rural hospital costs are determined to be greater than urban hospital costs.

To conduct the study required under section 1833(t)(13)(A), as added by section 411 of Pub. L. 108-173, we believe that a simple comparison of unit costs is insufficient because the costs faced by hospitals, whether urban or rural, will be a function of many factors. These include the local labor supply, and the complexity and volume of services provided. Therefore, we used regression analysis to study differences in the outpatient cost per unit between rural and urban hospitals in order to compare costs after accounting for the influence of these other factors.

Our regression analysis included all 4,077 hospitals billing under OPPS for which we could model accurate cost per unit estimates. For each hospital, total outpatient costs and descriptive information were derived from CY 2004 Medicare claims and the hospital's most recently submitted cost report. The description of claims used, our methodology for creating costs from charges, and a description of the specific hospitals included in our modeling are discussed in section II.A. of this preamble. We excluded separately payable drugs and biologicals, and clinical laboratory services paid on a fee schedule from our analysis. We excluded the 49 hospitals in Puerto Rico because their wage indices and unit costs are so different that they would have skewed results. Finally, we excluded facilities whose unit outpatient costs were outside of 3 standard deviations from the geometric mean unit outpatient cost.

Total unit outpatient cost for each hospital was calculated by dividing total outpatient cost by the total number of APC units discounted for the joint performance of multiple procedures. (See section II.G.2. below for a definition of discounted units.) We modeled both explanatory and payment regression models. In an “explanatory model” approach, all variables that are hypothesized to be important determinants of cost are included in the cost regression, whether or not they are going to be used as payment adjustments. In a “payment model” approach, the only independent variables included in the cost regression are those variables that are used as payment adjustments. The regression equations for both models were specified in double logarithmetic form. The dependent variable in the explanatory regression equation was unit outpatient cost. The dependent variable in the payment regressions was standardized unit outpatient costs, that is, unit outpatient costs adjusted to reflect payment by dividing through by the provider's service-mix index which was adjusted by the provider's wage index. The service-mix index is a measure of the resource intensity of services provided by each hospital. Both regression equation models included quantitative independent variables transformed into natural logarithms and categorical independent variables. Categorical independent (dummy) variables included hospital characteristics such as rural location or type of hospital (short stay or specialty hospital).

1. Factors Contributing to Unit Cost Differences Between Rural Hospitals and Urban Hospitals

In considering potential independent variables that might explain differences in unit outpatient costs between urban and rural hospitals, we determined that several factors would be important:

• First, unit outpatient costs are expected to vary directly with the prices of inputs used to produce outpatient services, especially labor. Wage rates tend to be lower in rural areas than in urban areas.

• Second, there may be economies of scale in producing outpatient services, which imply that unit costs will vary inversely with the volume of outpatient services provided.

• Third, independent of the volume of outpatient services, hospitals that provide more complex outpatient services are expected to have higher unit costs than hospitals with less complex service-mixes. Typically, greater complexity involves a combination of higher equipment and labor costs. Rural hospitals usually have less volume and perform less complex services than urban hospitals.

• Fourth, the size of a hospital may influence the volume and service-mix of outpatient services. Large hospitals generally provide a wider range of more complex services than do small hospitals. Large hospitals may also have larger volumes in ancillary departments that are shared between outpatient and inpatient services, and as a result, benefit from greater economies of scale than do small hospitals. Rural hospitals tend to be smaller than urban hospitals. Our primary measure of outpatient volume is units of APCs, which only reflects the volume of Medicare services paid under the outpatient PPS. This measure does not include the inpatient utilization of shared ancillary departments or non-Medicare outpatient services. For all these reasons, it seems appropriate to include a broader measure of facility size in the explanatory regression model. Therefore, as explained below, we used the total number of facility beds to measure facility size. Unit outpatient costs may be positively or negatively related to facility size depending on whether complexity effects or scale economies are more important.

2. Explanatory Variables

We used the hospital wage index as our measure of labor input prices. To reflect the complexity of outpatient services, we used a service-mix index defined as the ratio of the number of discounted units weighted by APC relative weights divided by the number of unweighted discounted units. Discounted units are the total number of units after we adjust for the multiple procedure reduction of 50 percent that applies to payment for surgical services when two surgical procedures are performed during the same operative session and for selected radiology procedures, as proposed (see section XIV. of the preamble). For example, if a procedure is paid at 100 percent of payment 1,000 times and the same procedure is paid at 50 percent of payment 100 times, the discounted units for that procedure equal 1,050 units (the sum of 1,000 units at full payment plus 100 units at 50 percent payment). We then calculate the total weight for that procedure by multiplying the discounted units by the full weight for the procedure. The service-mix index reflects the average APC weight of each facility's outpatient services. Outpatient service volume was measured as the total number of unweighted discounted units. We used the total number of facility beds as the broader measure of facility size. We also included categorical variables to indicate the types of specialty hospitals that participate in OPPS, specifically cancer, children's, long-term care, rehabilitation, and psychiatric hospitals. Finally, we included a categorical variable for rural/urban location to capture variation unexplained by the other independent variables in the model. For all of the rural dummy variables discussed below, urban hospitals are the reference group. Table 4 provides descriptive statistics for the dependent variable and key independent variables by urban and rural status. Without controlling for the other influences on per unit cost, rural hospitals have lower cost per unit than urban hospitals. However, when standardized for the service-mix wage indices, average unit costs are nearly identical between urban and rural hospitals

Table 4.—Means and Standard Deviations (In Parenthesis) for Key Variables by Urban-Rural Location
| Rural | Urban
Unit Outpatient Cost | $163.78 | $195.54
| ($65.69) | ($93.59)
Standardized Unit Outpatient Cost | $75.04 | $75.15
| ($26.97) | ($45.00)
Wage Index | 0.8798 | 1.0214
| (0.0771) | (0.1487)
Service-Mix Index | 2.4121 | 2.7741
| (0.8915) | (1.4579)
Outpatient Volume | 18,645 | 35,744
| (19,578) | (42,626)
Beds | 76.70 | 198
| (55.82) | (169)
Number of Hospitals | 1,257 | 2,820

3. Results

Overall, all rural hospitals give some indication of having higher cost per unit, after controlling for labor input prices, service-mix complexity, volume, facility size, and type of hospital. In an explanatory model regressing unit costs on all independent variables discussed above, the coefficient for the rural categorical variable was 0.024 (p=0.058), which suggests that rural hospitals are approximately 2.4 percent more costly than urban hospitals after accounting for the impact of other explanatory variables. The results of this regression appear in Table 5. This regression demonstrated reasonably good explanatory power with an adjusted R2 of 0.53 (rounded). Adjusted R2 is the percentage of variation in the dependent variable explained by the independent variables and is a standard measure of how well the regression model fits the data. The regression coefficients of the key explanatory variables all move in the expected direction: positive for the wage index, indicating that rural hospitals can be expected to have lower unit outpatient costs because they tend to be located in areas with lower wage rates; positive for the outpatient service-mix index, consistent with the hypothesis that rural hospitals' less complex outpatient service-mixes result in lower unit costs than those of the typical urban hospital; negative for outpatient service volume, implying that, on average, rural hospitals' lower service volumes are a source of higher unit cost compared to urban hospitals; and positive for the facility size variable (beds), suggesting that facility size is more reflective of complexity than any economies of scale. The rural dummy variable has a coefficient of 0.02414. If the unit costs of rural hospitals are the same as the unit costs of urban hospitals, the probability of observing a value as extreme as or more extreme than 2.4 percent would be approximately 6 percent or less. This explanatory regression model provides some evidence that outpatient services provided by rural hospitals are more costly than outpatient services provided by urban hospitals, but the evidence is weak. The payment regression that accompanies this explanatory model indicates an adjustment for all rural hospitals of 3.7 percent.

Table 5.—Regression Results for Unit Outpatient Cost: Rural Versus Urban
Variable | Explanatory: Regression coefficient | Explanatory: t Value ¹ | Explanatory: p Value ² | Payment: Regression coefficient | Payment: t Value ¹ | Payment: p Value ²
Intercept | 4.89665 | 124.65 | <.0001 | 4.24092 | 0.00624 | <0.0001
Wage Index | 0.64435 | 17.96 | <.0001 |  |  |
Service-Mix Index | 0.75813 | 58.51 | <.0001 |  |  |
Outpatient Volume | −0.06532 | −14.40 | <.0001 |  |  |
Beds | 0.04475 | 6.17 | <.0001 |  |  |
Rural | 0.02414 | 1.89 | 0.0582 | 0.03656 | 3.25 | 0.0012
Children's Hospital | 0.06497 | 1.33 | 0.1824 |  |  |
Psychiatric Hospital | −0.44446 | −15.13 | <.0001 |  |  |
Long-Term Care Hospital | −0.08759 | −2.77 | .0.0057 |  |  |
Rehabilitation Hospital | −0.25295 | −7.85 | <.0001 |  |  |
Cancer Hospital | 0.30897 | 3.45 | 0.0006 |  |  |
R2 | 0.5285 |  |  |  |  |
Note: Coefficients of all quantitative variables are elasticities since both the dependent variable, unit outpatient cost, and all quantitative independent variables were in natural logarithms. To calculate percentage differences for categorical variables, their coefficients must be raised to the power, e, the base of natural logarithms.
¹ A t value is an indicator of our degree of confidence that the regression coefficient is different from zero, taking into account the statistical variability of the estimated coefficient.
² A p value is the probability of observing the specific t value when the estimated coefficient is zero. The t values greater than 2 and less than −2 indicate a probability less than 5 percent, p-value<0.05, that the estimated coefficient is zero.

In order to assess whether the small difference in costs was uniform across rural hospitals or whether all of the variation was attributable to a specific class of rural hospitals, we included more specific categories of rural hospitals in our explanatory regression analysis. We divided rural hospitals into rural SCHs, rural hospitals with less than 100 beds that are not rural sole community hospitals, and other rural hospitals. The first two categories of rural hospitals are currently eligible for payments under the expiring hold-harmless provision. Because it appears that rural SCHs are responsible for the variation in rural hospital costs, we then collapsed the last remaining categories in an “all other” rural hospital category.

We found that rural SCHs demonstrated significantly higher cost per unit than urban hospitals after controlling for labor input prices, service-mix complexity, volume, facility size, and type of hospital. The results of this regression appear in Table 6. With the exception of the new rural variables, the independent variables have the same sign and significance as in Table 5. Rural SCHs have a positive and significant coefficient; all other rural hospitals do not. The rural SCH “dummy” variable has an explanatory regression coefficient of 0.05668 and an observed probability that the coefficient is zero of less than 0.001. If the unit costs of rural SCHs are the same as those of urban hospitals, the probability of observing a value as extreme or more extreme than 5.8 percent would be less than 0.1 percent. Accordingly, we have determined that rural SCHs are more costly than urban hospitals, holding all other variables constant. Notably, we observed no significant difference between all other rural hospitals and urban hospitals.

Table 6.—Regression Results for Unit Outpatient Cost: Rural Sole Community Hospitals
Variable | Explanatory: Regression coefficient | Explanatory: t Value ¹ | Explanatory: pValue ² | Payment: Regression coefficient | Payment: t Value ¹ | Payment: pValue ²
Intercept | 4.89444 | 124.70 | <.0001 | 4.24474 | 768.57 | <.0001
Wage Index | 0.64022 | 17.85 | <.0001 |  |  |
Service-Mix Index | 0.75798 | 58.56 | <.0001 |  |  |
Outpatient Volume | −0.06538 | −14.43 | <.0001 |  |  |
Beds | 0.04533 | 6.26 | <.0001 |  |  |
Rural SCH | 0.05668 | 3.42 | 0.0006 | 0.06354 | 3.94 | <.0001
All Other Rural | 0.00415 | 0.29 | 0.7715 |  |  |
Children's Hospital | 0.06475 | 1.33 | 0.1835 |  |  |
Psychiatric Hospital | −0.44345 | −15.11 | <.0001 |  |  |
Long-Term Care Hospital | −0.08644 | −2.73 | 0.0063 |  |  |
Rehabilitation Hospital | −0.25234 | −7.83 | <.0001 |  |  |
Cancer Hospital | 0.30957 | 3.46 | 0.0005 |  |  |
R2 | 0.5295 |  |  |  |  |
Note: Coefficients of all quantitative variables are elasticities since both the dependent variables, unit outpatient cost, and all quantitative independent variables were in natural logarithms. To calculate percentage differences for categorical variables, their coefficients must be raised to the power, e, the base of natural logarithms.
¹ A t value is an indicator of our degree of confidence that the regression coefficient is different from zero, taking into account the statistical variability of the estimated coefficient.
² A p value is the probability of observing the specific t value when the estimated coefficient is zero. The t values greater than 2 and less than −2 indicate a probability less than 5 percent, p-value <0.05, that the estimated coefficient is zero.

Based on the above analysis and as noted in the explanatory regression in Table 6, we believe that a payment adjustment for rural SCHs is warranted. The accompanying payment regression, also appearing in Table 6, indicates a cost impact of 6.6 percent. Thus, in accordance with the authority provided in section 1833(t)(13)(B) of the Act, as added by section 411 of Pub. L. 108-173, we are proposing a 6.6 percent payment increase for rural SCHs for CY 2006. This adjustment would apply to all services and procedures paid under the OPPS, excluding drugs and biologicals. We note that this adjustment would be budget neutral, and would be applied before calculating outliers and coinsurance. We may revisit this adjustment in the future.

Additional descriptive statistics are available on the CMS Web site.

H. Proposed Hospital Outpatient Outlier Payments

(If you choose to comment on issues in this section, please include the caption “Outlier Payments” at the beginning of your comment.)

Currently, the OPPS pays outlier payments on a service-by-service basis. For CY 2005, the outlier threshold is met when the cost of furnishing a service or procedure by a hospital exceeds 1.75 times the APC payment amount and exceeds the APC payment rate plus a $1,175 fixed dollar threshold. We introduced a fixed dollar threshold in CY 2005 in addition to the traditional multiple threshold to better target outliers to those high cost and complex procedures where a very costly case could present a hospital with significant financial loss. If a provider meets both of these conditions, the multiple threshold and the fixed dollar threshold, the outlier payment is calculated as 50 percent of the amount by which the cost of furnishing the service exceeds 1.75 times the APC payment rate. For CMHCs, the outlier threshold is met when the cost of furnishing a service or procedure by a CMHC exceeds 3.5 times the APC payment rate. If a CMHC provider meets this condition, the outlier payment is calculated as 50 percent of the amount by which the cost exceeds 3.5 times the APC payment rate.

As explained in our CY 2005 final rule (69 FR 65844), we set our projected target for aggregate outlier payments at 2.0 percent of aggregate total payments under OPPS. Our outlier thresholds were set so that estimated CY 2005 aggregate outlier payments would equal 2.0 percent of aggregate total payments under OPPS.

For CY 2006, we are proposing to set our projected target for aggregate outlier payments at 1.0 percent of aggregate total payments under OPPS. A portion of that 1.0 percent, an amount equal to .006 percent of aggregate total payments under OPPS, would be allocated to CMHCs for partial hospitalization program service outliers. In its March 2004 Report, MedPAC recommended that Congress should eliminate the outlier policy under the outpatient prospective payment system. While this would require a statutory change, many of the reasons cited by MedPAC for the elimination of the outlier policy are equally applicable to any reduction in the size of the percentage of total payments dedicated to outlier payments, including the following: the narrow definition of many of the services provided in hospital outpatient departments suggests that variability in costs should not be great; the distribution of outlier payments benefits some hospital groups more than others; the outlier policy is susceptible to “gaming” through charge inflation; and, the OPPS is the only ambulatory payment system with an outlier policy.

In order to ensure that estimated CY 2006 aggregate outlier payments would equal 1.0 percent of estimated aggregate total payments under OPPS, we are proposing that the outlier threshold be modified so that outlier payments are triggered when the cost of furnishing a service or procedure by a hospital exceeds 1.75 times the APC payment amount and exceeds the APC payment rate plus a $1,575 fixed dollar threshold. We choose to modify the fixed dollar threshold to target 1.0 percent of estimated aggregate total payment under OPPS and not modify the current 1.75 multiple to further our policy of targeting outlier payments to complex and expensive procedures with sufficient variability to pose a financial risk for hospitals. Modifying the multiple would do less to target outlier payments to complex and expensive procedures. For example, if we were to establish a multiple of 2.00 rather than 1.75, then an APC with a payment rate of $20,000 would see the outlier threshold associated with the multiple increase from $35,000 to $40,000. Raising the fixed dollar threshold to $1,575 only increases the threshold for expensive procedures by $400. For this reason, we believe it is more appropriate to focus the modification necessary to target 1.0 percent of aggregate OPPS payments on the fixed dollar threshold and increase it from $1,175 in CY 2005 to our proposed $1,575 in CY 2006 and have the multiple threshold remain at 1.75.

For CY 2006, the outlier threshold for CMHCs is met when the cost of furnishing a service or procedure by a CMHC exceeds 3.45 times the APC payment rate. If a CMHC provider meets this condition, the outlier payment is calculated as 50 percent of the amount by which the cost exceeds 3.45 times the APC payment rate.

The following is an example of an outlier calculation for CY 2006 under our proposed policy. A hospital charges $26,000 for a procedure. The APC payment for the procedure is $3,000, including a rural adjustment, if applicable. Using the provider's cost-to-charge ratio of 0.30, the estimated cost to the hospital is $7,800. To determine whether this provider is eligible for outlier payments for this procedure, the provider must determine whether the cost for the service exceeds both the APC outlier cost threshold (1.75 × APC payment) and the fixed dollar threshold ($1,575 + APC payment). In this example, the provider meets both criteria:

(1) $7,800 exceeds $5,250 (1.75 × $3,000)

(2) $7,800 exceeds $4,575 ($1,575 + $3,000)

To calculate the outlier payment, which is 50 percent of the amount by which the cost of furnishing the service exceeds 1.75 times the APC rate, subtract $5,250 (1.75 × $3,000) from $7,800 (resulting in $2,550). The provider is eligible for 50 percent of the difference, in this case $1,275 ($2,550/2). The formula is (cost −(1.75 × APC payment rate))/2.

I. Calculation of the Proposed National Unadjusted Medicare Payment

(If you choose to comment on issues in this section, please include the caption “Payment Rate for APCs” at the beginning of your comment.)

The basic methodology for determining prospective payment rates for OPD services under the OPPS is set forth in existing regulations at § 419.31 and § 419.32. The payment rate for services and procedures for which payment is made under the OPPS is the product of the conversion factor calculated in accordance with section II.C. of this proposed rule, and the relative weight determined under section II.A. of this proposed rule. Therefore, the national unadjusted payment rate for APCs contained in Addendum A to this proposed rule and for payable HCPCS codes in Addendum B to this proposed rule (Addendum B is provided as a convenience for readers) was calculated by multiplying the proposed CY 2006 scaled weight for the APC by the proposed CY 2006 conversion factor.

However, to determine the payment that would be made in a calendar year under the OPPS to a specific hospital for an APC for a service other than a drug, in a circumstance in which the multiple procedure discount does not apply, we take the following steps:

Step 1. Calculate 60 percent (the labor-related portion) of the national unadjusted payment rate. Since initial implementation of the OPPS, we have used 60 percent to represent our estimate of that portion of costs attributable, on average, to labor. (Refer to the April 7, 2000 final rule with comment period (65 FR 18496 through 18497), for a detailed discussion of how we derived this percentage.)

Step 2. Determine the wage index area in which the hospital is located and identify the wage index level that applies to the specific hospital. The wage index values assigned to each area reflect the new geographic statistical areas as a result of revised OMB standards (urban and rural) to which hospitals would be assigned for FY 2006 under the IPPS, reclassifications through the Medicare Classification Geographic Review Board, section 1866(d)(8)(B) “Lugar” hospitals, and section 401 of Pub. L. 108-173, and the reclassifications of hospitals under the one-time appeals process under section 508 of Pub. L. 108-173. Assess whether the previous MSA-based wage index is higher than the CBSA-based wage index, and, if higher, apply a 50/50 blend. The wage index values include the occupational mix adjustment described in section II.D. of this proposed rule that was developed for the IPPS.

Step 3. Adjust the wage index of hospitals located in certain qualifying counties that have a relatively high percentage of hospital employees who reside in the county, but who work in a different county with a higher wage index, in accordance with section 505 of Pub. L. 108-173. Addendum K contains the qualifying counties and the proposed wage index increase developed for the IPPS. This step is to be followed only if the hospital has chosen not to accept reclassification under Step 2 above.

Step 4. Multiply the applicable wage index determined under Steps 2 and 3 by the amount determined under Step 1 that represents the labor-related portion of the national unadjusted payment rate.

Step 5. Calculate 40 percent (the nonlabor-related portion) of the national unadjusted payment rate and add that amount to the resulting product of Step 4. The result is the wage index adjusted payment rate for the relevant wage index area.

Step 6. If a provider is a sole community hospital, as defined in § 419.92, and located in a rural area, as defined in § 412.63(b) or is treated as being located in a rural area under section 1886(d)(8)(E) of the Act, multiply the wage index adjusted payment rate by 1.066 to calculate the total payment.

J. Proposed Beneficiary Copayments for CY 2006

(If you choose to comment on issues in this section, please include the caption “Beneficiary Copayment” at the beginning of your comment.)

1. Background

Section 1833(t)(3)(B) of the Act requires the Secretary to set rules for determining copayment amounts to be paid by beneficiaries for covered OPD services. Section 1833(t)(8)(C)(ii) of the Act specifies that the Secretary must reduce the national unadjusted copayment amount for a covered OPD service (or group of such services) furnished in a year in a manner so that the effective copayment rate (determined on a national unadjusted basis) for that service in the year does not exceed specified percentages. For all services paid under the OPPS in CY 2006, and in calendar years thereafter, the specified percentage is 40 percent of the APC payment rate. Section 1833(t)(3)(B)(ii) of the Act provides that, for a covered OPD service (or group of such services) furnished in a year, the national unadjusted coinsurance amount cannot be less than 20 percent of the OPD fee schedule amount.

2. Proposed Copayment for CY 2006

For CY 2006, we are proposing to determine copayment amounts for new and revised APCs using the same methodology that we implemented for CY 2004 (see the November 7, 2003 OPPS final rule with comment period, 68 FR 63458). The proposed unadjusted copayment amounts for services payable under the OPPS that would be effective January 1, 2006, are shown in Addendum A and Addendum B of this proposed rule.

3. Calculation of the Proposed Unadjusted Copayment Amount for CY 2006

To calculate the unadjusted copayment amount for an APC group, take the following steps:

Step 1. Calculate the beneficiary payment percentage for the APC by dividing the APC's national unadjusted copayment by its payment rate. For example, using APC 0001, $9.95 is 40 percent of $24.89.

Step 2. Calculate the wage adjusted payment rate for the APC, for the provider in question, as indicated in section II.I. above.

Step 3. Multiply the percentage calculated in Step 1 by the payment rate calculated in Step 2. The result is the wage adjusted copayment amount for the APC.

III. Proposed Ambulatory Payment Classification (APC) Group Policies

A. Background

Section 1833(t)(2)(A) of the Act requires the Secretary to develop a classification system for covered hospital outpatient services. Section 1833(t)(2)(B) provides that this classification system may be composed of groups of services, so that services within each group are comparable clinically and with respect to the use of resources. In accordance with these provisions, we developed a grouping classification system, referred to as the Ambulatory Payment Classification Groups (or APCs), as set forth in § 419.31 of the regulations. We use Level I and Level II HCPCS codes and descriptors to identify and group the services within each APC. The APCs are organized such that each group is homogeneous both clinically and in terms of resource use. Using this classification system, we have established distinct groups of surgical, diagnostic, and partial hospitalization services, and medical visits. We also have developed separate APC groups for certain medical devices, drugs, biologicals, radiopharmaceuticals, and devices of brachytherapy.

We have packaged into each procedure or service within an APC group the cost associated with those items or services that are directly related and integral to performing a procedure or furnishing a service. Therefore, we do not make separate payment for packaged items or services. For example, packaged items and services include: use of an operating, treatment, or procedure room; use of a recovery room; use of an observation bed; anesthesia; medical/surgical supplies; pharmaceuticals (other than those for which separate payment may be allowed under the provisions discussed in section V. of this preamble); and incidental services such as venipuncture. Our packaging methodology is discussed in section II.A. of this proposed rule.

Under the OPPS, we pay for hospital outpatient services on a rate-per-service basis that varies according to the APC group to which the service is assigned. Each APC weight represents the median hospital cost of the services included in that APC relative to the median hospital cost of the services included in APC 0601 (Mid-Level Clinic Visits). The APC weights are scaled to APC 0601 because a mid-level clinic visit is one of the most frequently performed services in the outpatient setting.

Section 1833(t)(9)(A) of the Act requires the Secretary to review the components of the OPPS not less than annually and to revise the groups and relative payment weights and make other adjustments to take into account changes in medical practice, changes in technology, and the addition of new services, new cost data, and other relevant information and factors. Section 1833(t)(9)(A) of the Act, as amended by section 201(h) of the BBRA of 1999, also requires the Secretary, beginning in CY 2001, to consult with an outside panel of experts to review the APC groups and the relative payment weights (the APC Panel recommendations for CY 2006 OPPS and our responses to them are discussed in sections III.B. and III.C.4. of this preamble).

Finally, as discussed earlier, section 1833(t)(2) of the Act provides that, subject to certain exceptions, the items and services within an APC group cannot be considered comparable with respect to the use of resources if the highest median (or mean cost, if elected by the Secretary) for an item or service in the group is more than 2 times greater than the lowest median cost for an item or service within the same group (referred to as the “2 times rule”). We use the median cost of the item or service in implementing this provision. The statute authorizes the Secretary to make exceptions to the 2 times rule in unusual cases, such as low-volume items and services.

B. Proposed Changes—Variations Within APCs

(If you choose to comment on issues in this section, please include the caption “2 Times Rule” at the beginning of your comment.)

1. Application of the 2 Times Rule

In accordance with section 1833(t)(2) of the Act and § 419.31 of the regulations, we annually review the items and services within an APC group to determine with respect to comparability of the use of resources if the median of the highest cost item or service within an APC group is more than 2 times greater than the median of the lowest cost item or service within that same group (“2 times rule”). We make exceptions to this limit on the variation of costs within each APC group in unusual cases such as low-volume items and services. The statute provides no exception in the case of a drug or biological that has been designated as an orphan drug under section 526 of the Federal Food, Drug, and Cosmetic Act because these drugs are assigned to individual APC's.

During the APC Panel's February 2005 meeting, we presented median cost and utilization data for the period of January 1, 2004, through September 30, 2004, concerning a number of APCs that violate the 2 times rule and asked the APC Panel for its recommendation. After carefully considering the information and data we presented, the APC Panel recommended moving a total of 65 HCPCS codes from their currently assigned APC to a different APC to resolve the 2 times rule violations. Of the 65 HCPCS code reassignments recommended by the APC Panel, we concur with 58 of the recommended reassignments. Therefore, we are proposing to reassign these HCPCS codes as shown in Table 7.

Table 7.—Proposed Movement of HCPCS Codes Among APCs Based on the APC Panel's Recommendations for CY 2006
HCPCS code | Description | CY 2005 APC | Proposed CY 2006 APC
45307 | Proctosigmoidoscopy fb | 0146 | 0428
45320 | Proctosigmoidoscopy ablate | 0147 | 0428
45321 | Proctosigmoidoscopy volvul | 0147 | 0428
45335 | Sigmoidoscopy w/submuc inj | 0147 | 0146
45337 | Sigmoidoscopy & decompress | 0147 | 0146
46606 | Anoscopy and biopsy | 0147 | 0146
46610 | Anoscopy, remove lesion | 0147 | 0428
46612 | Anoscopy, remove lesions | 0147 | 0428
46614 | Anoscopy, control bleeding | 0147 | 0146
46615 | Anoscopy | 0147 | 0428
56405 | I & D of vulva/perineum | 0192 | 0189
57155 | Insert uteri tandems/ovoids | 0193 | 0192
65265 | Remove foreign body from eye | 0236 | 0237
65285 | Repair of eye wound | 0236 | 0672
66220 | Repair eye lesion | 0236 | 0672
67025 | Replace eye fluid | 0236 | 0237
67027 | Implant eye drug system | 0237 | 0672
67036 | Removal of inner eye fluid | 0237 | 0672
67038 | Strip retinal membrane | 0237 | 0672
67039 | Laser treatment of retina | 0237 | 0672
67121 | Remove eye implant material | 0236 | 0237
75790 | Visualize A-V shunt | 0281 | 0279
75820 | Vein x-ray, arm/leg | 0281 | 0668
75822 | Vein x-ray, arms/legs | 0281 | 0668
75831 | Vein x-ray, kidney | 0287 | 0279
75840 | Vein x-ray, adrenal gland | 0287 | 0280
75842 | Vein x-ray, adrenal glands | 0287 | 0280
75860 | Vein x-ray, neck | 0287 | 0668
75870 | Vein x-ray, skull | 0287 | 0668
75872 | Vein x-ray, skull | 0287 | 0279
75880 | Vein x-ray, eye socket | 0287 | 0668
86077 | Physician blood bank service | 0343 | 0433
86079 | Physician blood bank service | 0343 | 0433
88104 | Cytopathology, fluids | 0343 | 0433
88107 | Cytopathology, fluids | 0343 | 0433
88160 | Cytopath smear, other source | 0342 | 0433
88161 | Cytopath smear, other source | 0343 | 0433
88162 | Cytopath smear, other source | 0342 | 0433
88184 | Flowcytometry/tc, 1 marker | 0342 | 0344
88185 | Flowcytometry/tc, add-on | 0342 | 0343
88187 | Flowcytometry/read, 2-8 | 0342 | 0433
88188 | Flowcytometry/read, 9-15 | 0342 | 0433
88189 | Flowcytometry/read, 16 & > | 0344 | 0343
88312 | Special stains | 0342 | 0433
88313 | Special stains | 0342 | 0433
88318 | Chemical histochemistry | 0342 | 0433
88323 | Microslide consultation | 0344 | 0343
88329 | Path consult introp | 0342 | 0433
88332 | Path consult intraop, add'l | 0342 | 0433
88342 | Immunohistochemistry | 0344 | 0343
88346 | Immunofluorescent study | 0344 | 0343
88347 | Immunofluorescent study | 0344 | 0343
88355 | Analysis, skeletal muscle | 0344 | 0343
89230 | Collect sweat for test | 0343 | 0433
92004 | Eye exam, new patient | 0602 | 0601
92014 | Eye exam & treatment | 0602 | 0601

The seven HCPCS code movements that the APC Panel recommended, but upon further review we are proposing not to accept, are discussed below. We include in our discussion our proposal specific to each of them to resolve the 2 times rule violations.

a. APC 0146: Level I Sigmoidoscopy, APC 0147: Level II Sigmoidoscopy, APC 0428: Level III Sigmoidoscopy.

APCs 0146 and 0147 were exceptions to the 2 times rule in CY 2005. Our analysis of these two APCs based on the most current CY 2004 data revealed greater violations of the 2 times rule and changing relative frequencies of simple and complex procedures in these two APCs. Thus, for CY 2006, the APC Panel assisted us in reconfiguring these two APCs into three related APCs to resolve the two times violations and improve their clinical and resource homogeneity based on the most current hospital claims data and to remove these APCs from the list of exceptions. The APC Panel recommended moving CPT codes 45303 (Proctosigmoidoscopy dilate) and 45305 (Proctosigmoidoscopy w/bx) from APC 0147 to APC 0146 because the median cost for these codes appeared too high, and was likely based primarily on aberrant CY 2004 claims. In addition, the APC Panel recommended that CMS move CPT code 45309 (Proctosigmoidoscopy removal) from APC 0147 to a new proposed APC 0428. Based on the results of our review of several years of claims data and our study of hospital resource homogeneity, we disagree that these claims data are aberrant. We are proposing to move CPT codes 45303 and 45305 to APC 0147 and to keep CPT 45309 in APC 0147, to resolve the 2 times rule violation.

b. APC 0342: Level I Pathology, APC 0433: Level II Pathology, APC 0343: Level III Pathology.

To resolve a 2 times rule violation, the APC Panel recommended moving CPT codes 88108 (Cytopath, concentrate tech) and 88112 (Cytopath, cell enhance tech) from APC 0343 to a proposed new APC 0433. The APC Panel also recommended moving CPT codes 88319 (Enzyme histochemistry) and 88321 (Microslide consultation) from APC 0342 to a proposed new APC 0433. Based on the results of our review of several years of claims data and the study of hospital resource homogeneity, we are proposing a different way to resolve the 2 times rule violation: We are proposing to place CPT codes 88319 and 88112 in APC 0343 and to place CPT codes 88108 and 88321 in APC 0433.

2. Proposed Exceptions to the 2 Times Rule

As discussed earlier, we may make exceptions to the 2 times limit on the variation of costs within each APC group in unusual cases such as low-volume items and services. Taking into account the APC changes that we are proposing for CY 2006 based on the APC Panel recommendations discussed in section III.B.1. of this preamble and the use of CY 2004 claims data to calculate the median cost of procedures classified in the APCs, we reviewed all the APCs to determine which APCs would not meet the 2 times limit. We used the following criteria to decide whether to propose exceptions to the 2 times rule for affected APCs:

• Resource homogeneity

• Clinical homogeneity

• Hospital concentration

• Frequency of service (volume)

• Opportunity for upcoding and code fragments.

For a detailed discussion of these criteria, refer to the April 7, 2000 OPPS final rule with comment period (65 FR 18457).

Table 8 below contains the APCs that we are proposing to exempt from the 2 times rule based on the criteria cited above. In cases in which a recommendation of the APC Panel appeared to result in or allow a violation of the 2 times rule, we generally accepted the APC Panel's recommendation because these recommendations were based on explicit consideration of resource use, clinical homogeneity, hospital specialization, and the quality of the data used to determine the APC payment rates that we are proposing for CY 2006. The median cost for hospital outpatient services for these and all other APCs can be found on the CMS Web site: http//www.cms.hhs.gov.

Table 8.—Proposed APC Exceptions to the 2 Times Rule For CY 2006
APC | APC description
0004 | Level I Needle Biopsy/ Aspiration Except Bone Marrow
0005 | Level II Needle Biopsy/Aspiration Except Bone Marrow
0019 | Level I Excision/ Biopsy
0024 | Level I Skin Repair
0040 | Level I Implantation of Neurostimulator Electrodes
0043 | Closed Treatment Fracture Finger/Toe/Trunk
0046 | Open/Percutaneous Treatment Fracture or Dislocation
0060 | Manipulation Therapy
0080 | Diagnostic Cardiac Catheterization
0081 | Non-Coronary Angioplasty or Atherectomy
0093 | Vascular Reconstruction/Fistula Repair without Device
0099 | Electrocardiograms
0105 | Revision/Removal of Pacemakers, AICD, or Vascular
0120 | Infusion Therapy Except Chemotherapy
0140 | Esophageal Dilation without Endoscopy
0141 | Level I Upper GI Procedures
0148 | Level I Anal/Rectal Procedures
0164 | Level I Urinary and Anal Procedures
0191 | Level I Female Reproductive Proc
0204 | Level I Nerve Injections
0209 | Extended EEG Studies and Sleep Studies, Level II
0235 | Level I Posterior Segment Eye Procedures
0251 | Level I ENT Procedures
0252 | Level II ENT Procedures
0262 | Plain Film of Teeth
0274 | Myelography
0297 | Level II Therapeutic Radiologic Procedures
0303 | Treatment Device Construction
0312 | Radioelement Applications
0325 | Group Psychotherapy
0330 | Dental Procedures
0341 | Skin Tests
0353 | Level II Injections
0373 | Neuropsychological Testing
0397 | Vascular Imaging
0409 | Red Blood Cell Tests
0432 | Health and Behavior Services
0600 | Low Level Clinic Visits
0688 | Revision/Removal of Neurostimulator Pulse Generator Receiver
0004 | Level I Needle Biopsy/ Aspiration Except Bone Marrow
0005 | Level II Needle Biopsy/Aspiration Except Bone Marrow
0019 | Level I Excision/ Biopsy

C. New Technology APCs

(If you choose to comment on issues in this section, please include the caption “New Technology APCs” at the beginning of your comment.)

1. Background

In the November 30, 2001 final rule (66 FR 59903), we finalized changes to the time period a service was eligible for payment under a New Technology APC. Beginning in CY 2002, we retain services within New Technology APC groups until we gather sufficient claims data to enable us to assign the service to a clinically appropriate APC. This policy allows us to move a service from a New Technology APC in less than 2 years if sufficient data are available. It also allows us to retain a service in a New Technology APC for more than 3 years if sufficient data upon which to base a decision for reassignment have not been collected.

2. Proposed Refinement of New Technology Cost Bands

In the November 7, 2003 final rule with comment period, we last restructured the New Technology APC groups to make the cost intervals more consistent across payment levels (68 FR 63416). We established payment levels in $50, $100, and $500 intervals and expanded the number of New Technology APCs. We also retained two parallel sets of New Technology APCs, one set with a status indicator of “S” (Significant Procedure, Not Discounted When Multiple) and the other set with a status indicator of “T” (Significant Procedures, Multiple Reduction Applies). We did this restructuring because the number of procedures assigned to New Technology APCs had increased, and narrower cost bands were necessary to avoid significant payment inaccuracies for New Technology services. Therefore, we dedicated two new series of APCs to the restructured New Technology APCs, which allowed us to narrow the cost bands and afforded us the flexibility to create additional bands as future needs dictated.

As the number of procedures that qualify for placement in the New Technology APCs has continued to increase over the past 2 years, the $0 to $50 cost band represented by “S” status APC 1501 (New Technology, Level I, $0-$50) and “T” status APC 1538 (New Technology, Level I, $0-$50) spans too broad of a cost interval to accurately represent the lower costs of an ever-increasing number of procedures that qualify for New Technology payment. Therefore, we are proposing to refine this cost band to five $10 increments, resulting in the creation of an additional 10 New Technology APCs to accommodate the two parallel sets of New Technology APCs, one set with a status indicator of “S” and the other set with a status indicator of “T.” We are also proposing to eliminate the two $0 to $50 cost band New Technology APCs 1501 and 1538, so that the cost bands of all New Technology APCs would continue to be mutually exclusive. Table 9 contains a listing of the 10 additional New Technology APCs that we are proposing for CY 2006.

Table 9.—Proposed New Technology APCs for CY 2006
APC | Descriptor | Status indicator | Proposed CY 2006 payment rate
1491 | New Technology—Level IA ($0-$10) | S | $5
1492 | New Technology—Level IB ($10-$20) | S | 15
1493 | New Technology—Level IC ($20-$30) | S | 25
1494 | New Technology—Level ID ($30-$40) | S | 35
1495 | New Technology—Level IE ($40-$50) | S | 45
1496 | New Technology—Level IA ($0-$10) | T | 5
1497 | New Technology—Level B ($10-$20) | T | 15
1498 | New Technology—Level IC ($20-$30) | T | 25
1499 | New Technology—Level D ($30-$40) | T | 35
1500 | New Technology—Level E ($40-$50) | T | 45

As we explained in the November 30, 2001 final rule (66 FR 59897), we generally keep a procedure in the New Technology APC to which it is initially assigned until we have collected data sufficient to enable us to move the procedure to a clinically appropriate APC. However, in cases where we find that our original New Technology APC assignment was based on inaccurate or inadequate information, or where the New Technology APCs are restructured, we may, based on more recent resource utilization information (including claims data) or the availability of refined New Technology APC bands, reassign the procedure or service to a different New Technology APC that most appropriately reflects its cost. Therefore, we are proposing to discontinue New Technology APCs 1501 and 1538, and reassign the procedures currently assigned to them to proposed New Technology APCs 1491 through 1500. Table 10 summarizes these proposed New Technology APC reassignments.

Table 10.—Proposed Movement of HCPCS Codes From New Technology APCS 1501 and 1538 to New Technology APCs 1491 Through 1500 for CY 2006
HCPCS/CPT code | Descriptor | CY 2005 new technology APC assignment | CY 2006 proposed new technology APC reassignment
0003T | Cervicography | 1501 | 1492
90473 | Immunization Admin, one vaccine by intranasal or oral | N/A | 1491
90474 | Immunization Admin, each additional vaccine by intranasal or oral | N/A | 1491
G0375 | Smoking and tobacco-use cessation counseling visit; intermediate, greater than 3 minutes up to 10 minutes | 1501 | 1491
G0376 | Smoking and tobacco-use cessation counseling visit; intensive, greater than 10 minutes | 1501 | 1492

3. Proposed Requirements for Assigning Services to New Technology APCs

In the April 7, 2000 final rule (65 FR 18477), we created a set of New Technology APCs to pay for certain new technology services under the OPPS. We described a group of criteria for use in determining whether a service is eligible for assignment to a New Technology APC. We subsequently modified this set of criteria in our November 30, 2001 final rule (66 FR 59897 to 59901), effective January 1, 2002. These modifications were based on changes in the data (we were no longer required to use 1996 data to set payment rates) and on our continuing experience with the assignment of services to New Technology APCs.

Based on our history of reviewing applications for New Technology APC assignments under the OPPS, we have encountered situations where there is extremely limited clinical experience with new technology services regarding their use and efficacy in the typical Medicare population. In some cases, there may be ambiguity regarding how the new technology services fit within the standard coding framework for established procedures, and there may be no specific coding available for the new technology services in other settings or for use by other payers. Nevertheless, applicants requesting assignment of services to New Technology APCs request that we provide billing and payment mechanisms under the OPPS for the new technology services through the establishment of codes, descriptors, and payment rates. As stated in section I.F. of this preamble, we remain committed to the overarching goal of ensuring that Medicare beneficiaries have timely access to the most effective new medical treatments and technologies in clinically appropriate settings. We believe that our current New Technology APC assignment process helps to assure such access, and that an enhancement to the New Technology service application process may further encourage appropriate dissemination of and Medicare beneficiary access to new technology services.

We are interested in promoting review of the coding, clinical use, and efficacy of new technology services by the greater medical community through our New Technology service application and review process for the OPPS. Therefore, in addition to our current information requirements at the time of application, we are proposing to require that an application for a code for a new technology service be submitted to the American Medical Association's (AMA's) CPT Editorial Panel before we accept a New Technology APC application for review. This will not change our current criteria for assignment of a service to a New Technology APC. This requirement will encourage timely review by the wider medical community as CMS is reviewing the service for possible new coding and assignment to a New Technology APC under the OPPS. There is only one CPT code application that is used by applicants requesting consideration for either Category I or III codes. We would accept either a Category I or Category III code application to the CPT Editorial Panel. The application requests relevant clinical information regarding new services, including their appropriate use and the patient populations expected to benefit from the services which will provide us with useful additional information. CPT code applications are reviewed by the CPT Editorial Panel, whose members bring diverse clinical expertise to that review. We believe that consideration by the CPT Editorial Panel may facilitate appropriate dissemination of the new technology services across delivery settings and may bring to light other needed coding changes or clarifications. We are further proposing that a copy of the submitted CPT application be filed with us as part of the application for a New Technology APC assignment under the OPPS, along with CPT's letter acknowledging or accepting the coding application. We remind the public that we do not consider an application complete until all informational requirements are provided. In addition, we remind the public that when we assign a new service a HCPCS code and provide for payment under the OPPS, these actions do not imply coverage by the Medicare program, but indicate only how the procedure or service may be paid if covered by the program. Fiscal intermediaries must determine whether a service meets all program requirements for coverage, for example, that it is reasonable and necessary to treat the beneficiary's condition and whether it is excluded from payment. CMS may also make National Coverage Determinations (NCDs) on new technology procedures.

4. Proposed Movement of Procedures From New Technology APCs to Clinical APCs

The procedures discussed below represent New Technology services for which we believe we have sufficient data to reassign to a clinically appropriate APC.

a. Proton Beam Therapy

(If you choose to comment on issues in this section, please include the caption “Proton Beam Therapy” at the beginning of your comment.)

In the August 16, 2004 proposed rule (69 FR 50467), we proposed to reassign CPT codes 77523 (Proton treatment delivery, intermediate) and 77525 (Proton treatment delivery, complex) from New Technology APC 1511 (New Technology, Level XI, $900-$1,000) to clinical APC 0419 (Proton Beam Therapy, Level II). In response to this proposal, we received numerous comments urging that we maintain CPT codes 77523 and 77525 in New Technology APC 1511 at a payment rate of $950 for CY 2005, arguing that the proposed payment rate of $678.31 for CY 2005 would halt diffusion of this technology and negatively impact patient access to this cancer treatment. Commenters explained that the low volume of claims submitted by only two facilities provided volatile and insufficient data for movement into the proposed clinical APC 0419. They further explained that the extraordinary capital expense of between $70 and $125 million and high operating costs of a proton beam facility necessitate adequate payment for this service to protect the financial viability of this emerging technology.

In the November 15, 2004 final rule with comment period (69 FR 65719 through 65720), we considered the concerns expressed by numerous commenters that patient access to proton beam therapy might be impeded by a significant reduction in OPPS payment. Therefore, we set the CY 2005 payment rate for CPT codes 77523 and 77525 by calculating a 50/50 blend of the median cost for intermediate and complex proton beam therapies of $690.45 derived from CY 2003 claims and the CY 2004 New Technology payment rate of $950. We used the result of this calculation ($820) to assign intermediate and complex proton beam therapies (CPT codes 77523 and 77525) to New Technology APC 1510 (New Technology—Level X ($800-$900) for a blended payment rate of $850 for CY 2005.

Our examination of the CY 2004 claims data has revealed a second year of a stable, albeit modest, number of claims on which to set the CY 2006 payment rates for CPT codes 77523 and 77525. However, unlike the median of $690.45 for the CY 2005 Level II proton beam radiation therapy clinical APC containing CPT codes 77523 and 77525 derived from the CY 2003 claims data, the median for a comparable Level II proton beam radiation therapy clinical APC is $934.46 derived from CY 2004 claims data. This more recent median appears to more accurately reflect the significant capital expense and high operating costs of a proton beam therapy facility, and supports patient access to proton beam therapy. Therefore, we are proposing to move CPT codes 77523 and 77525 from New Technology APC 1510 to clinical APC 0667 (Level II Proton Beam Radiation Therapy) based on a median cost of $934.46 for CY 2006.

b. Stereotactic Radiosurgery

(If you choose to comment on issues in this section, please include the caption “Stereotactic Radiosurgery” at the beginning of your comment.)

In a correction to the November 7, 2003 final rule with comment period, issued on December 31, 2003 (68 FR 75442), we considered a commenter's request to combine HCPCS codes G0242 (Cobalt 60-based stereotactic radiosurgery planning) and G0243 (Cobalt 60-based stereotactic radiosurgery delivery) into a single procedure code in order to capture the costs of this treatment in single procedure claims because the majority of patients receive the planning and delivery of this treatment on the same day. We responded to the commenter's request by explaining that several other commenters stated that HCPCS code G0242 was being misused to code for the planning phase of linear accelerator-based stereotactic radiosurgery planning. Because the claims data for HCPCS code G0242 represented costs for linear accelerator-based stereotactic radiosurgery planning (due to misuse of the code), in addition to Cobalt 60-based stereotactic radiosurgery planning, we were uncertain of how to combine these data with HCPCS code G0243 to determine an accurate payment rate for a combined code for planning and delivery of Cobalt 60-based stereotactic radiosurgery.

In consideration of the misuse of HCPCS code G0242 and the potential for causing greater confusion by combining HCPCS codes G0242 and G0243 into a single procedure code, for CY 2004 we created a planning code for linear accelerator-based stereotactic radiosurgery (HCPCS code G0338) to distinguish this service from Cobalt 60-based stereotactic radiosurgery planning. We maintained both HCPCS codes G0242 and G0243 for the planning and delivery of Cobalt 60-based stereotactic radiosurgery, consistent with the use of the two G-codes for planning (HCPCS code G0338) and delivery (HCPCS codes G0173, G0251, G0339, G0340, as applicable) of each type of linear accelerator-based stereotactic radiosurgery (SRS). We indicated that we intended to maintain these new codes in their current New Technology APCs until we had sufficient hospital claims data reflecting the costs of the services to consider moving them to clinical APCs.

During the February 2005 APC Panel meeting, the APC Panel discussed the clinical and resource cost similarities between planning for Cobalt 60-based and linear accelerator-based SRS. The APC Panel also discussed the use of CPT codes instead of specific G-codes to describe the services involved in SRS planning, noting the clinical similarities in radiation treatment planning regardless of the mode of treatment delivery. Acknowledging the possible need for CMS to separately track planning for SRS, the APC Panel eventually recommended that we create a single HCPCS code to encompass both Cobalt 60-based and linear accelerator-based SRS planning. However, a hospital association and other presenters at the APC Panel meeting urged that we discontinue the use of G-codes for SRS planning, and instead, recognize the current CPT codes that describe the specific component services involved in SRS planning to reduce the burden on hospitals of maintaining duplicative codes for the same services to accommodate different payers. Lastly, one presenter urged that we combine HCPCS codes G0242 (Cobalt 60-based stereotactic radiosurgery planning) and G0243 (Cobalt 60-based stereotactic radiosurgery delivery) into a single procedure code to reflect that the majority of patients receive the planning and delivery of this treatment on the same day as a single fully integrated service.

The APC Panel recommended that we make no changes to the coding or APC placement of SRS delivery codes G0173, G0243, G0251, G0339, and G0340 for CY 2006. We first established the above full group of delivery codes in 2004, so we have only one year of hospital claims data reflecting costs of the services. In addition, presenters to the APC Panel described current ongoing deliberations amongst interested professional societies around the descriptions and coding for SRS. The APC Panel and presenters suggested that we wait for the outcome of these deliberations prior to making any significant changes to SRS delivery coding or payment rates.

In an effort to balance the recommendations of the APC Panel with the recommendations of presenters at the APC Panel meeting, in accordance with the APC Panel recommendations, we are proposing to make no changes to the APC placement of the following SRS treatment delivery codes for CY 2006: HCPCS codes G0173, G0243, G0251, G0339, and G0340.

We recognize concerns expressed by some presenters urging that we discontinue the use of the G-codes for SRS planning, and instead, recognize the current CPT codes that describe the specific component services involved in SRS planning to reduce the burden on hospitals of maintaining duplicative codes for the same services to accommodate different payers. In addition, we have no need to separately track SRS planning services, which share clinical and resource homogeneity with other radiation treatment planning services described by current CPT codes.

When HCPCS code G0242 was established for SRS planning, several radiology planning services were considered in determining its APC placement. In the November 30, 2001 final rule, in which we described our determination of the total cost for SRS planning based on our claims experience, we added the median costs of the following CPT codes that we found to be regularly billed with SRS delivery (CPT code 61793 in the available hospital data): 77295, 77300, 77370, and 77315. Our examination of the costs from the CY 2004 claims data for the above-mentioned CPT codes closely approximates the CY 2004 median costs reported for HCPCS codes G0242 and G0338. The APC median costs for the above-mentioned CPT codes based on the CY 2004 claims data total $1,297, while the median cost for HCPCS code G0242 is $1,366 and the median cost for HCPCS code G0338 is $1,100 based on the CY 2004 claims data. In addition, three of the above-mentioned CPT codes are included on the proposed bypass list for CY 2006, so we would not anticipate that the billing of these codes on the same day as an SRS treatment service would cause significant problems with multiple bills for SRS services. Therefore, we are proposing to discontinue HCPCS codes G0242 and G0338 for the reporting of charges for SRS planning under the OPPS, and to instruct hospitals to bill charges for SRS planning using all of the available CPT codes that most accurately reflect the services provided.

We acknowledge one APC Panel presenter's concern that the coding structure of Cobalt 60-based SRS, using either the current SRS planning G code or the appropriate CPT codes for planning services as we are proposing for CY 2006, may not necessarily reflect the same day, integrated Cobalt 60-based SRS service furnished to the majority of patients receiving Cobalt 60-based SRS. Thus, we are seeking public comment on the clinical, administrative, or other concerns that could arise if we were to bundle Cobalt 60-based SRS planning services, currently reported using HCPCS code G0242 and proposed for CY 2006 to be billed using the appropriate CPT codes for planning services, into the Cobalt 60-based SRS treatment service, currently reported under the OPPS using HCPCS code G0243. Under such a scenario, the SRS treatment service described by HCPCS code G0243 would be placed in a higher paying New Technology APC to reflect payment for the costs of the SRS planning and delivery as an integrated service. Hospitals would be prohibited from billing other radiation planning services along with the Cobalt 60-based SRS treatment delivery code. In contrast to Cobalt 60-based SRS coding, we would not consider bundling the planning for linear accelerator-based SRS with the treatment delivery services, given the various timeframes for planning that may occur with linear accelerator-based SRS.

c. Other Services in New Technology APCs

(If you choose to comment on issues in this section, please include the caption “Other New Technology Services” at the beginning of your comment.)

Other than proton beam and stereotactic radiosurgery services, there are 10 procedures currently assigned to New Technology APCs for which we have data adequate to support their assignment to clinical APCs. We are proposing to reassign these procedures to clinically appropriate APCs, using CY 2004 claims data to establish median costs on which payments would be based. These procedures and their proposed APC assignments are displayed below in Table 11.

Table 11.—Proposed APC Reassignment of New Technology Procedures Into Clinical APCs for CY 2006
HCPCS | Descriptor | CY 2005 APC | CY 2005 status indicator | Proposed CY 2006 APC | Proposed CY 2006 status indicator | CY 2005 payment amount | Proposed CY 2006 payment amount
0027T | Endoscopic epidural lysis | 1547 | T | 0220 | T | $850 | $1,025.57
33225 | L ventric pacing lead add-on | 1525 | S | 0418 | T | 3,750 | 6,457.83
61623 | Endovasc tempory vessel occl | 1555 | T | 0081 | T | 1,650 | 2,035.19
92974 | Cath place, cardio brachytx | 1559 | T | 0103 | T | 2,250 | 869.34
93580 | Transcath closure of asd | 1559 | T | 0434 | T | 2,250 | 5,363.85
93581 | Transcath closure of vsd | 1559 | T | 0434 | T | 2,250 | 5,363.85
95965 | Meg, spontaneous | 1528 | S | 0430 | T | 5,250 | 673.76
95966 | Meg, evoked, single | 1516 | S | 0430 | T | 1,450 | 673.76
95967 | Meg, evoked, each add'l | 1511 | S | 0430 | T | 950 | 673.76
C9713 | Non-contact laser vap prosta | 1525 | S | 0429 | T | 3,750 | 2,500.01

We are proposing to move these 10 procedures to new or established clinical APCs that contain services that exhibit clinical and resource homogeneity. HCPCS code C9713 (Noncontact laser vaporization of prostate, including coagulation control of intraoperative and post-operative bleeding) is similar to CPT code 52647 (Noncontact laser coagulation of prostate, including control of postoperative bleeding, complete (vasectomy, meatotomy, cystourethroscopy, urethral calibration and/or dilation, and internal urethrotomy are included)) and CPT code 52648 (Contact laser vaporization with or without transurethral resection of prostate, including control of postoperative bleeding, complete (vasectomy, meatotomy, cystourethroscopy, urethral calibration and/or dilation, and internal urethrotomy are included)) with respect to their clinical characteristics and hospital resource utilization. However, instead of mapping HCPCS code C9713 to APC 163 (Level IV Cystourethroscopy and other Genitourinary Procedures), where CPT codes 52647 and 52648 are currently mapped for CY 2005, we are proposing to create a Level V APC for Cystourethroscopy and Other Genitourinary Procedures. These codes are more clinically sound in this new Level V APC. We are also proposing to map CPT codes 52647 and 52648 to this new Level V APC. In addition, we are proposing to move CPT codes 50080 and 50081 from APC 0163 to this new Level V APC, since they are similar clinically and use similar hospital resources. We believe that this configuration would improve homogeneity as well as result in a clinically coherent Level V APC, where the procedures utilize similar hospital resources.

D. Proposed APC-Specific Policies

1. Hyperbaric Oxygen Therapy (APC 0659)

(If you choose to comment on issues in this section, please include the caption “Hyperbaric Oxygen” at the beginning of your comment.)

When hyperbaric oxygen therapy (HBOT) is prescribed for promoting the healing of chronic wounds, it typically is prescribed on average for 90 minutes, which would be billed using multiple units of HBOT to achieve full body hyperbaric oxygen therapy. In addition to the therapeutic time spent at full hyperbaric oxygen pressure, treatment involves additional time for achieving full pressure (descent), providing air breaks to prevent neurological and other complications from occurring during the course of treatment, and returning the patient to atmospheric pressure (ascent). The OPPS recognizes HCPCS code C1300 (Hyperbaric oxygen under pressure, full body chamber, per 30 minute interval) for HBOT provided in the hospital outpatient setting.

We explained in the August 16, 2004 proposed rule (69 FR 50495) that our CY 2003 claims data revealed that many providers were improperly reporting charges for 90 to 120 minutes under only one unit rather than three or four units of HBOT. This inaccurate coding resulted in an inflated median cost of $177.96 for HBOT, derived using single service claims and “pseudo” single service claims. Because of these single claims coding anomalies, we proposed to calculate a “per unit” median cost for APC 0659, using only multiple units or multiple occurrences of HBOT, excluding claims with only one unit of HBOT and excluding packaged costs. To convert HBOT charges to costs, we used the CCR from the respiratory therapy cost center when available; otherwise, we used the hospital's overall CCR. Using this “per unit” methodology, we proposed a median cost for APC 0659 of $82.91 for CY 2005.

In the November 15, 2004 final rule with comment period (69 FR 65758), we agreed with commenters that there was sufficient evidence that the CCR for HBOT was not reflected solely in the respiratory therapy cost center; rather, the CCR for HBOT was reflected in a variety of cost centers. Therefore, we calculated a “per unit” median of $93.26 for HBOT, using only multiple units or multiple occurrences of HBOT and each hospital's overall CCR.

Our examination of the CY 2004 single procedure claims filed for HCPCS code C1300 revealed similar coding anomalies to those encountered in the CY 2003 single procedure claims data. Therefore, for CY 2006 ratesetting, we recalculated a “per unit” median cost for HCPCS code C1300 using only multiple units or multiple occurrences of HBOT and each hospital's overall CCR, which is the same methodology we used for setting the CY 2005 payment rate for HBOT. Excluding claims with only one unit of HBOT, we used a total of 26,556 claims to calculate the median for APC 0659 for CY 2006. Applying the methodology described above, we are proposing a median cost for APC 0659 of $93.71 for CY 2006.

2. Allergy Testing (APC 0370)

(If you choose to comment on issues in this section, please include the caption “Allergy Testing” at the beginning of your comment.)

A number of providers have expressed confusion related to the reporting of units for allergy testing described by CPT codes 95004 through 95078. Most of the CPT codes in the code range are assigned to APC 0370 (Allergy Tests) for the CY 2005 OPPS. Nine of these CPT codes assigned to APC 0370 instruct providers to specify the number of tests or use the singular word “test” in their descriptors, while five of these CPT codes assigned to APC 0370 do not contain such an instruction or do not contain “tests” or “testing” in their descriptors. Some providers have stated that the lack of clarity related to the reporting of units has resulted in erroneous reporting of charges for multiple allergy tests under one unit (that is, “per visit”) for the CPT codes that instruct providers to specify the number of tests.

In light of the variable hospital billing that may be inconsistent with the CPT code descriptors, we have examined carefully the CY 2004 single and multiple procedure claims data for the allergy test codes that reside in APC 0370 to set the CY 2006 payment rates. Our examination of the CY 2004 claims data revealed that many of the services for which providers billed multiple units of an allergy test reported a consistent charge for each unit. Conversely, some providers that billed only a single unit of an allergy test reported a charge many times greater than the “per test” charge reported by providers billing multiple units of an allergy test.

Our analysis of the claims data appears to validate reports made by a number of providers that the charges reported on many of the single procedure claims represent a “per visit” charge, rather than a “per test” charge, including claims for the allergy test codes that instruct providers to specify the number of tests. Because the OPPS relies only on these single procedure claims in establishing payment rates, we believe this inaccurate coding would have resulted in an inflated CY 2006 median cost of $66.44 for services that are in the CY 2005 configuration of APC 0370.

Therefore, we are proposing to move the allergy test CPT codes that instruct providers to specify the number of tests or use the singular word “test” in their descriptors from APC 0370 (Allergy Tests) to proposed APC 0381 (Single Allergy Tests) for CY 2006. We are proposing to calculate a “per unit” median cost for proposed APC 0381 using a total of 306 claims containing multiple units or multiple occurrences of a single CPT code. Packaging on the claims was allocated equally to each unit of the CPT code. Using this “per unit” methodology, we are proposing a median cost for APC 0381 of $11.37 for CY 2006. Because we believe the single procedure claims for the codes remaining in APC 0370 reflect accurate coding of these services, we are proposing to use the standard OPPS methodology to calculate the median for APC 0370. Table 12 below lists the proposed assignment of CPT codes to APC 0370 and proposed APC 0381 for CY 2006.

Table 12.—Proposed Assignment of CPT Codes to APC 0370 and Proposed APC 0381 for CY 2006
APC 0370 | Proposed APC 0381
95056, Photosensitivity tests | 95004, Percut allergy skin tests.
95060, Eye allergy tests | 95010, Percut allergy titrate test.
95078, Provoactive testing | 95015, ld allergy titrate-drug/bug.
95180, Rapid desensitization | 95024, ld allergy test, drug/bug.
95199U, Unlisted allergy/clinical immunologic service or procedure | 95027, ld allergy titrate-airborne.
| 95028, ld allergy test-delayed type.
| 95044, Allergy patch tests.
| 95052, Photo patch test.
| 95065, Nose allergy test.

3. Stretta Procedure (APC 0322)

(If you choose to comment on issues in this section, please include the caption “Stretta” at the beginning of your comment.)

CPT code 43257, effective January 1, 2005, is used for esophagoscopy with delivery of thermal energy to the muscle of the lower esophageal sphincter and/or gastric cardia for the treatment of gastresophageal reflux disease. This code describes the Stretta procedure, including use of the Stretta System and all endoscopies associated with the Stretta procedure. Prior to CY 2005, the Stretta procedure was recognized under HCPCS code C9701 in the OPPS. For the CY 2005 OPPS, C9701 was deleted and CPT code 43257 was utilized for the Stretta procedure. In CY 2005, the Stretta procedure was transitioned from a New Technology APC to clinical APC 0422 (Level II Upper GI Procedures) based on several years of hospital cost data. Procedures within APC 0422 were similar to the Stretta procedure in terms of clinical characteristics and resource use.

For CY 2006, we are proposing to use both CY 2004 single claims for C9701 and multiple procedure claims containing one unit of HCPCS code C9701 and one unit of either CPT code 43234 or CPT code 43235 to calculate the Stretta procedure's contribution to the median for APC 0422. Claims reporting one endoscopy code (43234 or 43235) along with HCPCS code C9701 are included in the proposed median calculation because, in CY 2002, CMS authorized the separate and additional billing of a single endoscopy code with HCPCS code C9701, while CPT code 43257 now includes all endoscopies performed during the procedure.

Using this proposed methodology, we calculated a median for CPT code 43257 (HCPCS code C9701 in the CY 2004 claims data) of $1669.43. Using these claims in the calculation of the median cost for APC 0422, we calculated a median cost of $1385.77. We are proposing to use this methodology, applied to the more complete final rule claims set, to calculate the final CY 2006 OPPS median cost for APC 0422.

4. Vascular Access Procedures (APCs 0032, 0109, 0115, 0119, 0124, and 0187)

(If you choose to comment on issues in this section, please include the caption “Vascular Access Procedures” at the beginning of your comment.)

Many of the codes that currently describe vascular access procedures were new in the 2004 version of CPT and were assigned into APC groups by crosswalking the newly created CPT codes to the deleted codes' APC assignments. Although the new codes were implemented in January 2004, because of the delay between a bill being submitted to Medicare and when the bill data are viable for analysis, we did not have cost and utilization data for the new codes available for analysis until this year in preparation for the CY 2006 OPPS.

Since those original APC assignments were made, we have received requests from the public for specific APC assignment changes. We were reluctant to make changes without data to support reassignments and, therefore, made few changes to those original APC assignments.

As an outcome of an analysis of procedure-specific median costs and 2 times rule violations in preparation for the CY 2006 update of the OPPS, we developed a new APC configuration for vascular access procedure codes and several other related codes. The proposed new assignments are supported by CY 2004 hospital claims data and are based on median cost and clinical considerations.

Thus, for CY 2006, we are proposing to reassign many of the CPT codes that are currently in the following APCs:

• APC 0032 (Insertion of Central Venous/Arterial Catheter).

• APC 0109 (Removal of Implanted Devices).

• APC 0115 (Cannula/Access Device Procedures).

• APC 0119 (Implantation of Infusion Pump).

• APC 0124 (Revision of Implanted Infusion Pump).

• APC 0187 (Miscellaneous Placement/Repositioning).

The configuration that we are proposing places all of the procedures currently assigned to APC 0187 into more clinically appropriate APCs. We are also proposing to reassign all of the vascular access procedure codes currently assigned to any of the identified APCs to existing or newly reconfigured clinical APCs to create more clinical and median cost homogeneity. As a result of the proposed reassignments, those APCs are comprised of a different mix of codes than is currently the case for the CY 2005 OPPS. There are no codes assigned to APC 0187 because the only procedures that remained in APC 0187 after reassigning the vascular access procedures as we are proposing were CPT code 75940 (X-ray placement of vein filter) and CPT code 76095 (Stereotactic breast biopsy), which we reassigned to more clinically appropriate APCs. We are proposing to reassign CPT code 75940 to APC 0297 (Level II Therapeutic Radiologic Procedures) and CPT code 76095 to APC 0264 (Level II Miscellaneous Radiology Procedures).

We are proposing to create three new APCs, APC 0621 (Level I Vascular Access Codes), APC 0622 (Level II Vascular Access Codes), and APC 0623 (Level III Vascular Access Codes) and assign procedures to each of these based on median cost and clinical homogeneity. We are also proposing to rename APCs 0109 and 0115 as follows: APC 0109 (Removal of Implanted Devices); and APC 0115 (Cannula/Access Device Procedures). Table 13 displays the procedures and their current and the CY 2006 proposed APC assignments.

Table 13.—Current and Proposed APC Assignments for Vascular Access Procedures and Related Procedures for CY 2006
CPT code | Descriptor | CY 2005 APC | Proposed CY 2006 APC
APC 0621—Level I Vascular Access Procedure
36555 | Insertion non-tunneled cv cath | 0187 | 0621
36556 | Insertion non-tunneled cv cath | 0187 | 0621
36568 | Insert tunneled cv cath | 0187 | 0621
36569 | Insert tunneled cv cath | 0187 | 0621
36575 | Repair tunneled cv cath | 0187 | 0621
36576 | Repair tunneled cv cath | 0187 | 0621
36580 | Replace tunneled cv cath | 0187 | 0621
36584 | Replace tunneled cv cath | 0187 | 0621
36589 | Remove tunneled cv cath | 0109 | 0621
36590 | Remove tunneled cv cath | 0187 | 0621
36596 | Mech removal tunneled cv cath | 0187 | 0621
36597 | Reposition venous catheter | 0187 | 0621
APC 0622—Level II Vascular Access Procedures
36557 | Insert tunneled cv cath | 0032 | 0622
36558 | Insert tunneled cv cath | 0032 | 0622
36578 | Replace tunneled cv cath | 0187 | 0622
36581 | Replace tunneled cv cath | 0032 | 0622
36585 | Replace tunneled cv cath | 0032 | 0622
36570 | Insert tunneled cv cath | 0032 | 0622
36571 | Insert tunneled cv cath | 0032 | 0622
36595 | Mech removal tunneled cv cath | 0187 | 0622
36262 | Removal intra-arterial inf. Pump | 0124 | 0622
APC 0623—Level III Vascular Access Procedures
36560 | Insert tunneled cv cath | 0115 | 0623
36561 | Insert tunneled cv cath | 0115 | 0623
36563 | Insert tunneled cv cath | 0119 | 0623
36565 | Insert tunneled cv cath | 0115 | 0623
36582 | Replace tunneled cv cath | 0115 | 0623
36583 | Insertion of access device | 0119 | 0623
36640 | Insertion catheter, artery | 0032 | 0623
36260 | Insertion of infusion pump | 0119 | 0623
36261 | Revision of infusion pump | 0124 | 0623
APC 0115—Cannula/Access Device Procedures
36835 | Artery to vein shunt | 0115 | 0115
35903 | Excision, graft, extremity | 0115 | 0115
36815 | Insertion of cannula | 0115 | 0115
36861 | Cannula declotting | 0115 | 0115
35761 | Exploration of artery/vein | 0115 | 0115
49419 | Insert abdominal cath for chemo | 0115 | 0115
36800 | Insertion of cannula | 0115 | 0115
37204 | Transcatheter occlusion | 0115 | 0115
36810 | Insertion of cannula | 0115 | 0115
APC 0109—Removal of Implanted Devices
33284 | Remove pt-activated heart recorder | 0109 | 0109
63746 | Removal of spinal shunt | 0109 | 0109

We presented this proposal to the APC Panel at its February, 2005 meeting. The APC Panel was supportive of the proposed reassignments and recommended that we make these changes. Therefore, for the stated reasons, we are proposing the APC modifications for CY 2006 OPPS as summarized in Table 13 above.

E. Proposed Addition of New Procedure Codes

(If you choose to comment on issues in this section, please include the caption “New Procedure Codes” at the beginning of your comment.)

During the second quarter of CY 2005, we created 11 HCPCS codes that were not addressed in the November 15, 2004 final rule with comment period that updated the CY 2005 OPPS. We have designated the payment status of those codes and added them to the April update of the CY 2005 OPPS (Transmittal 514). The codes are shown in Table 14 below. In this proposed rule, we are soliciting comment on the APC assignment of these services.

Further, consistent with our annual APC updating policy, we are proposing to assign the new HCPCS codes for CY 2006 to the appropriate APC's and would incorporate them into our final rule for CY 2006.

Table 14.—New HCPCS Codes Implemented in April 2005
HCPCS code | Description
C9127 | Injection, paclitaxel protein-bound particles, per 1 mg.
C9128 | Injection, pegaptamib sodium, per 0.3 mg.
C9223 | Injection, adenosine for therapeutic or diagnostic use, 6 mg (not to be used to report any adenosine phosphate compounds, instead use A9270).
C9440 | Vinorelbine tartrate, brand name, per 10 mg.
C9723 | Dynamic infrared blood perfusion imaging (DIRI).
C9724 | Endoscopic full-thickness plication in the gastric cardia using endoscopic plication system (EPS); includes endoscopy.
Q4079 | Injection, natalizumab, 1 mg.
Q9941 | Injection, Immune Globulin, Intravenous, Lyophilized, 1g.
Q9942 | Injection, Immune Globulin, Intravenous, Lyophilized, 10 mg.
Q9943 | Injection, Immune Globulin, Intravenous, Non-Lyophilized, 1g.
Q9944 | Injection, Immune Globulin, Intravenous, Non-Lyophilized, 10 mg.

IV. Proposed Payment Changes for Devices

A. Device-Dependent APCs

(If you choose to comment on issues in this section, please include the caption “Device-Dependent APCs” at the beginning of your comment.)

Device-dependent APCs are populated by HCPCS codes that usually, but not always, require that a device be implanted or used to perform the procedure. For the CY 2002 OPPS, we used external data, in part, to establish the device-dependent APC medians used for weight setting. At that time, many devices were eligible for pass-through payment. For the CY 2002 OPPS, we estimated that the total amount of pass-through payments would far exceed the limit imposed by statute. To reduce the amount of a pro rata adjustment to all pass-through items, we packaged 75 percent of the cost of the devices, using external data furnished by commenters on the August 24, 2001 proposed rule and information furnished on applications for pass-through payment, into the median cost for the device-dependent APCs associated with these pass-through devices. The remaining 25 percent of the cost was considered to be pass-through payment.

In the CY 2003 OPPS, we determined APC medians for device-dependent APCs using a three pronged approach. First, we used only claims with device codes on the claim to set the medians for these APCs. Second, we used external data, in part, to set the medians for selected device-dependent APCs by blending that external data with claims data to establish the APC medians. Finally, we also adjusted the median for any APC (whether device-dependent or not) that declined more than 15 percent. In addition, in the CY 2003 OPPS, we deleted the device codes (“C” codes) from the HCPCS file in the belief that hospitals would include the charges for the devices on their claims, notwithstanding the absence of specific codes for devices used.

In the CY 2004 OPPS, we used only claims containing device codes to set the medians for device-dependent APCs and again used external data in a 50-percent blend with claims data to adjust medians for a few device-dependent codes when it appeared that the adjustments were important to ensure access to care. However, hospital device code reporting was optional.

In the CY 2005 OPPS, which was based on CY 2003 claims data, there were no device codes on the claims and, therefore, we could not use device-coded claims in median calculations as a proxy for completeness of the coding and charges on the claims. For the CY 2005 OPPS, we adjusted device-dependent APC medians for those device-dependent APCs for which the CY 2005 OPPS payment median was less than 95 percent of the CY 2004 OPPS payment median. In these cases, the CY 2005 OPPS payment median was adjusted to 95 percent of the CY 2004 OPPS payment median. We also reinstated the device codes and made the use of the device codes mandatory where an appropriate code exists to describe a device utilized in a procedure and also implemented HCPCS code edits to facilitate complete reporting of the charges for the devices used in the procedures assigned to the device-dependent APCs.

We are proposing to base the CY 2006 OPPS device-dependent APC medians on CY 2004 claims, the most current data available. In CY 2004, the use of device codes was optional. Thus, for the CY 2006 OPPS, we calculated median costs for these APCs using all single bills without regard to whether there was a device code on the claim. We calculated median costs for this set of APCs using the standard median calculation methodology. This methodology uses single procedure claims to set the median costs for the APC. We then compared these unadjusted median costs to the adjusted median costs that we used to set the payment rates for the CY 2005 OPPS. We found that 21 APCs experienced increases in median cost compared to the CY 2005 OPPS adjusted median costs, 1 APC median was unchanged, 16 APCs experienced decreases in median costs, and 8 APCs are proposed to be reconfigured in such a way that no valid comparison was possible. Table 15 shows the comparison of these median costs.

As we stated previously, in CY 2004, CMS reissued HCPCS codes for devices and asked that hospitals voluntarily code devices utilized to provide services. As part of our development of the proposed medians for this proposed rule, we examined CY 2004 claims that contained device codes that met our device edits, as posted on the OPPS Web site at http://www.cms.hhs.gov/providers/hopps/default.asp. We found that, in many cases, the number of claims that passed the device edits was quite small. To use these claims to set medians for the CY 2006 OPPS would mean that the medians for some of these APCs would be set based on very small numbers of claims, reflecting the fact that in CY 2004 when device coding was optional under the OPPS relatively few hospitals chose to code for devices. For example, if we used only claims that passed the device code edits, the median for APC 0089 (Insertion/Replacement of Permanent Pacemaker and Electrodes), would be based on 34 claims that passed the device edits (0.78 percent of all claims), rather than on 1,934 single bills out of 4,424 total bills (43.72 percent of all claims). Median costs for insertion/replacement of a permanent pacemaker and electrodes developed based upon these 34 claims from a small subset of hospitals are unlikely to be representative of the resource costs of most hospitals that provided the service. Moreover, there are a few procedures for which no device codes are required although the procedures require a device to be used. For this set of services, subsetting the claims to those that pass the device edits does not change the group of single bills available for median calculation. For these reasons, we decided not to use only claims that passed the device edits to set the median costs for device-dependent APCs for the CY 2006 OPPS.

When we considered whether to base the weights for these APCs on the unadjusted median costs, we found that for 10 of the 38 APCs for which the APC composition is stable, basing the payment weight on the unadjusted median cost would result in a reduction of more than 15 percent in the median cost for the CY 2006 OPPS compared to the CY 2005 OPPS.

We fully expect to use the unadjusted median costs for device-dependent APCs as the basis of their payment weights for the CY 2007 OPPS because device coding is required for CY 2005 and device editing is being implemented in CY 2005, so that all CY 2005 claims should reflect the costs of devices used to provide services. Nevertheless we recognize that a payment reduction of more than 15 percent from the CY 2005 OPPS to the CY 2006 OPPS may be problematic for hospitals that provide the services contained in these APCs. Therefore, for the CY 2006 OPPS, as we have consistently done for device-dependent APCs, we are proposing to adjust the median costs for the device-dependent APCs listed in Table 15 for which comparisons with prior years are valid to the higher of the CY 2006 unadjusted APC median or 85 percent of the adjusted median on which payment was based for the CY 2005 OPPS. This would result in the use of adjusted medians for 10 device-dependent APCs. We view this as a transitional step from the adjusted medians of past years to the use of unadjusted medians based solely on hospital claims data with device codes in future years.

We expect that this would be the last year in which we would make an across the board adjustment to the median costs for these device-dependent APCs based on comparisons to the prior year's payment medians. We believe that mandatory reporting of device codes for services furnished in CY 2005, combined with the editing of claims for the presence of device codes, where such codes are appropriate, would result in claims data that more fully reflect the relative costs of these services and that across the board adjustments to median costs for these APCs would no longer be appropriate.

We recognize that the APC Panel recommended that CMS set a corridor of median costs for device-dependent APCs at no less than 90 percent of the CY 2005 payment median nor more than 110 percent of the CY 2005 payment median for purposes of setting the payment rate for the CY 2006 OPPS for these APCs. We do not believe that setting a corridor to control both increases and decreases in median costs is consistent with the use of adjusted medians as a means of transitioning hospitals to the use of the unadjusted claims data. The purpose of the transition is to moderate the rate of decline in payments so that hospitals can determine how to best adjust to payments based on unadjusted claims data. Limiting the rate of increase in payments based on such claims data would be inconsistent with that purpose. Therefore, we are proposing to adjust median costs to the greater of the median from claims data or 85 percent of the CY 2005 median used to set the payment rate in CY 2005 and not to impose a limit on the extent to which a median cost can increase.

Table 15.—Proposed Median Cost Adjustments for Device-Dependent APCs for CY 2006
APC | Description | Status indicator | Adjusted final CY 2005 OPPS median cost (percent) | Proposed unadjusted CY 2006 APC median cost | Change from CY 2005 adjusted to CY 2006 unadjusted median cost (percent) | Proposed CY 2006 OPPS adjusted median cost | CY 2006 single frequency (CY 2004 claims) | CY 2006 total frequency (CY 2004 claims)
0039 | Implantation of Neurostimulator | S | $12,878.01 | $9,905.38 | −23 | $10,946.31 | 809 | 1,809
0040 | Level II Implantation of Neurostimulator Electrodes | S | 2,885.37 | 3,338.79 | 16 | 3,338.79 | 2,615 | 11,986
0080 | Diagnostic Cardiac Catheterization | T | 2,123.65 | 2,240.92 | 6 | 2,240.92 | 267,077 | 393,166
0081 | Non-Coronary Angioplasty or Atherectomy | T | 1,918.04 | 2,078.67 | 8 | 2,078.67 | 2,046 | 130,737
0082 | Coronary Atherectomy | T | 6,035.25 | 4,819.40 | −20 | 5,129.96 | 27 | 359
0083 | Coronary Angioplasty and Percutaneous Valvuloplasty | T | 3,241.85 | 3,071.03 | −5 | 3,071.03 | 539 | 5,492
0085 | Level II Electrophysiologic Evaluation | T | 2,034.82 | 2,123.46 | 4 | 2,123.46 | 3,088 | 20,401
0086 | Ablate Heart Dysrhythm Focus | T | 2,637.96 | 2,670.78 | 1 | 2,670.78 | 919 | 9,160
0087 | Cardiac Electrophysiologic Recording/Mapping | T | 2,180.19 | 853.76 | −61 | 1,853.16 | 330 | 12,969
0089 | Insertion/Replacement of Permanent Pacemaker and Electrodes | T | 6,416.90 | 6,373.13 | −1 | 6,373.13 | 1,934 | 4,424
0090 | Insertion/Replacement of Pacemaker Pulse Generator | T | 5,301.99 | 5,380.07 | 1 | 5,380.07 | 740 | 6,412
0104 | Transcatheter Placement of Intracoronary Stents | T | 4,750.06 | 4,767.70 | 0 | 4,767.70 | 1,103 | 8,137
0106 | Insertion/Replacement/Repair of Pacemaker and/or Electrodes | T | 3,229.10 | 1,908.38 | −41 | 2,744.73 | 489 | 3,938
0107 | Insertion of Cardioverter-Defibrillator | T | 18,460.10 | 15,166.64 | −18 | 15,691.08 | 445 | 8,073
0108 | Insertion/Replacement/Repair of Cardioverter-Defibrillator Leads | T | 24,788.26 | 18,165.78 | −27 | 21,070.02 | 520 | 6,003
0115 | Cannula/device access procedures | T | 1,502.71 | 1,899.17 | 26 | 1,899.17 | 3,022 | 10,115
0202 | Level X Female Reproductive Proc | T | 2,322.83 | 2,437.07 | 5 | 2,437.07 | 7,951 | 15,303
0222 | Implantation of Neurological Device | T | 12,714.60 | 9,742.78 | −23 | 10,807.41 | 1,678 | 5,629
0225 | Level I Implementation of Neurostimulator Electrodes | S | 12,327.52 | 14,162.16 | 15 | 14,162.16 | 185 | 939
0227 | Implantation of Drug Infusion Device | T | 8,806.84 | 8,236.41 | −6 | 8,236.41 | 442 | 2,776
0229 | Transcatherter Placement of Intravascular Shunts | T | 3,638.52 | 3,889.41 | 7 | 3,889.41 | 778 | 46,625
0259 | Level VI ENT Procedures | T | 26,006.74 | 21,424.48 | −18 | 22,105.73 | 554 | 964
0315 | Level II Implantation of Neurostimulator | T | 20,633.70 | 12,170.26 | −41 | 17,538.65 | 229 | 327
0384 | GI Procedures with Stents | T | 1,585.92 | 1,287.07 | −19 | 1,348.03 | 6,268 | 20,711
0385 | Level I Prosthetic Urological Procedures | S | 4,080.56 | 4,564.66 | 12 | 4,564.66 | 553 | 783
0386 | Level II Prosthetic Urological Procedures | S | 6,674.53 | 7,251.44 | 9 | 7,251.44 | 3,213 | 4,549
0418 | Left ventricular lead | T | 4,363.37 | 6,595.80 | 51 | 6,595.80 | 202 | 4,712
0425 | Level II Arthroplasty with prosthesis | T | 5,715.97 | 6,046.77 | 6 | 6,046.77 | 375 | 882
0648 | Breast Reconstruction with Prosthesis | T | 2,957.76 | 3,044.08 | 3 | 3,044.08 | 398 | 1,320
0652 | Insertion of Intraperitoneal Catheters | T | 1,626.29 | 1,743.61 | 7 | 1,743.61 | 3,067 | 4,986
0653 | Vascular Reconstruction/Fistula Repair with Device | T | 1,644.53 | 1,842.52 | 12 | 1,842.52 | 800 | 28,788
0654 | Insertion/Replacement of a permanent dual chamber pacemaker | T | 6,170.83 | 6,090.43 | −1 | 6,090.43 | 1,807 | 20,809
0655 | Insertion/Replacement/Conversion of a permanent dual chamber pacemaker | T | 7,913.85 | 8,072.56 | 2 | 8,072.56 | 7,353 | 13,991
0656 | Transcatheter Placement of Intracoronary Drug Eluting Stents | T | 6,156.14 | 6,633.18 | 8 | 6,633.18 | 2,394 | 19,898
0670 | Intravenous and Intracardiac Ultrasound | S | 1,779.08 | 1,533.52 | −14 | 1,533.52 | 111 | 7,041
0674 | Prostate Cryoablation | T | 6,569.33 | 5,780.04 | −12 | 5,780.04 | 1,248 | 2,080
0680 | Insertion of Patient Activated Event Recorders | S | 3,744.69 | 3,796.10 | 1 | 3,796.10 | 1,400 | 2,226
0681 | Knee Arthroplasty | T | 5,374.98 | 8,276.89 | 54 | 8,276.89 | 492 | 683
| No adjustment; major HCPCS migration:
0122 | Level II Tube changes and Repositioning | T | 485.26 | 420.72 |  | 420.72 | 5,138 | 14,701
0427 | Level III Tube changes and Repositioning (new for 2006) | T |  | 615.37 |  | 615.37 | 2,485 | 5,376
0166 | Level I Urethral procedures (contains part of deleted DD APC 167) | T | 1,040.53 | 1,066.53 |  | 1,066.53 | 778 | 2,282
0167 | Urethral procedures (deleted APC; codes moved to 167 and 168 for '06) | T | 1,664.80 | NA |  | NA | NA | NA
0168 | Level II Urethral procedures (contains part of deleted DD APC 167) | T | 1,801.96 | 1,705.82 |  | 1,705.82 | 7,684 | 10,018
0621 | Level I VAD | T | new in 06 | 500.77 |  | 500.77 | 60,115 | 113,720
0622 | Level II VAD | T | new in 06 | 1,283.33 |  | 1,283.33 | 21,792 | 54,816
0623 | Level III VAD | T | new in 06 | 1,635.94 |  | 1,635.94 | 23,963 | 62,538

B. APC Panel Recommendations Pertaining to APC 0107 and APC 0108

The median costs for APC 0107 (Implantation of Cardioverter-Defibrillator) and APC 0108 (Insertion/Replacement/Repair of Cardioverter-Defibrillator Leads and Insertion of Cardioverter-Defibrillator) have been adjusted each year since CY 2003 when pass-through payment expired for cardioverter-defibrillators, because the unadjusted medians have differed significantly from the prior year's payment medians. Moreover, because we use single procedure claims to set the median costs, the median costs for these APCs have always been set on a relatively small number of claims as compared to the total frequency of claims for the services under the OPPS. For example, for this CY 2006 OPPS proposed rule, the unadjusted median cost for APC 0107 was set based on 445 single procedure claims, which is 5.5 percent of the 8,073 claims on which a procedure code in the APC was billed. Similarly, the unadjusted median cost for APC 0108 was set based on 520 single procedure claims, which is 8.7 percent of the 6,003 claims on which a procedure code in the APC was billed. Commenters have frequently told us that using the single procedure median costs for these APCs does not accurately reflect the costs of the procedures because claims from typical clinical circumstances involving multiple procedures are not used to establish the medians.

At the February 2005 APC Panel meeting, the APC Panel recommended that CMS package CPT codes 93640 and 93641 (electrophysiologic evaluation at time of initial implantation or replacement of cardioverter-defibrillator leads). The APC Panel recommended that we always package the costs for these codes because the definitions of the codes state that these evaluations are done at the time of lead implantation. Therefore, CPT codes 93640 and 93641 would never be correctly reported without a code in APC 0107 or APC 0108 also being reported. In addition, when a service assigned to APC 0107 or APC 0108 is provided, we would expect that CPT codes 93640 or 93641 for electrophysiologic evaluation and testing would also be performed frequently, and CY 2004 claims data for services in APC 0107 and APC 0108 confirm this. The APC Panel believed that packaging the costs of CPT codes 93640 and 93641 would result in more single bills available for setting the median costs for APC 0107 and APC 0108, and thus would likely yield more appropriate median costs for those APCs. Those medians would then include the costs of the electrophysiologic testing commonly performed at the time of the implantable cardioverter-defibrillator (ICD) insertion.

The APC Panel further recommended that CMS treat CPT code 33241 (Subcutaneous removal of cardioverter-defibrillator) as a bypass code when the code appeared on the same claims with services assigned to APC 0107 or APC 0108. The APC Panel recommended bypassing charges for this code only when it appeared on the same claim with codes in APC 0107 or APC 0108, because when a cardioverter defibrillator (ICD) is removed and replaced in the same operative session, it is appropriate to attribute all of the packaged costs on the claim to the implantation of the device rather than to the removal of the device. The line costs for CPT code 33241 that are removed from the claims in this case would be discarded and would not be used to set the median for APC 0105 (the APC in which the code is located).

We modeled the median costs that would be calculated for APCs 0107 and 0108, if we were to make the changes recommended by the APC Panel for these APCs, under four possible scenarios: (1) The cardioverter-defibrillator device is inserted without removal or testing; (2) the device is inserted and tested with no removal; (3) the device is removed and inserted but not tested; and (4) the device is removed, inserted, and tested. We then compared the sum of the unadjusted median costs, the sum of the proposed adjusted median costs and the sum of the costs that we modeled using the APC Panel recommendations. These results are shown in Table 16 below.

Table 16.—Total Median Costs for APCs 0107 and 0108
| APC 0107 Using unadjusted median cost | APC 0107 Using adjusted median cost | APC 0107 With panel changes | APC 0108 Using unadjusted median cost | APC 0108 Using adjusted median cost | APC 0108 With panel changes
| (1) | (2) | (3) | (4) | (5) | (6)
Median for codes in APC | $15,166.64 | $15,691.08 | $15,961.14 | $18,165.78 | $21,070.02 | $21,517.00
50% of median for APC 0105 (CPT code 33241; removal); multiple procedure discount | 674.90 | 674.90 | 674.90 | 674.90 | 674.90 | 674.90
Proposed median for APC 0084 (CPT code 93640/93641; testing) | 604.67 | 604.67 | (¹) | 604.67 | 604.67 | (¹)
(A) Median total if device is inserted only (neither removal nor testing) | 15,166.64 | 15,691.08 | 15,961.14 | 18,165.78 | 21,070.02 | 21,517.00
(B) Median total if device is inserted and tested (no removal) | 15,771.31 | 16,295.75 | 15,961.14 | 18,770.45 | 21,674.69 | 21,517.00
(C) Median total if device is removed and inserted (no testing) | 15,841.54 | 16,365.98 | 16,636.04 | 18,840.68 | 21,744.92 | 22,191.90
(D) Median total if device is removed, inserted and tested | 16,446.21 | 16,970.65 | 16,636.04 | 19,445.35 | 22,349.59 | 22,191.90
¹ NA (testing is packaged).

We also found that if we were to adopt the APC Panel recommendations for APCs 0107 and 0108 for the CY 2006 OPPS, the number of single bills that would be available for use in median setting would increase significantly, as shown in Table 17.

Table 17.—Single Bills for APC 0107 and APC 0108
| Single bills without recommended changes | Single bills with recommended changes | Total frequency
APC 0107 | 445 | 4500 | 8073
APC 0108 | 520 | 1447 | 6003

In general, we believe that the recommendations of the APC Panel show great potential for providing a far more robust set of single bills for use in setting medians for APCs 0107 and 0108 and, therefore, for improving the accuracy of the median costs acquired from the claims data. However, for the CY 2006 OPPS, adopting the APC Panel recommendations would result in higher total payments for services related to cardioverter-defibrillator insertion for some possible clinical scenarios than under the proposed adjustment methodology but would result in lower total payments in other cases. Moreover, the effects are not identical for both APCs. Both APCs require the insertion of an ICD, but the codes in APC 0108 also require the repair, revision or insertion of leads. Because the APCs are so closely related clinically and both APCs include payments for expensive implanted cardioverter-defibrillators, we are proposing to apply the same payment policy to both APC 0107 and APC 0108. We would like to receive input from the APC Panel and from the affected parties regarding the results of modeling the methodology before we decide whether to implement this multiple procedure claim strategy for both of these APCs.

Specifically, we are proposing to set the medians for these APCs at 85 percent of their CY 2005 payment medians and have based our modeling of the scaler and the impact analysis on that proposal, although we believe that the APC Panel recommendations have significant merit, particularly when we move to complete reliance on claims data in updating the OPPS for CY 2007. Although we are proposing to adjust the median costs for these APCs in the same manner as other device-dependent APCs, we will consider, based on the public comments, whether it would be appropriate to apply the multiple procedure claims methodology to these APCs for the CY 2006 OPPS. We look forward to specifically receiving public comments on the APC Panel recommendations regarding packaging and bypassing services frequently performed with procedures assigned to APC 0107 and APC 0108, with the goal of increasing single bills available for ratesetting in order to improve the accuracy of median costs based upon hospital claims.

C. Pass-Through Payments for Devices

(If you choose to comment on issues in this section, please include the caption “Transitional Pass-Through Payments for Devices” at the beginning of your comment.)

1. Expiration of Transitional Pass-Through Payments for Certain Devices

Section 1833(t)(6)(B)(iii) of the Act requires that, under the OPPS, a category of devices be eligible for transitional pass-through payments for at least 2, but not more than 3 years. This period begins with the first date on which a transitional pass-through payment is made for any medical device that is described by the category. In our November 15, 2004 final rule with comment period (69 FR 65773), we specified three device categories currently in effect that would cease to be eligible for pass-through payment effective January 1, 2006.

The device category codes became effective April 1, 2001, under the provisions of the BIPA. Prior to pass-through device categories, we paid for pass-through devices under the OPPS on a brand-specific basis. All of the initial 97 category codes that were established as of April 1, 2001, have expired; 95 categories expired after CY 2002 and 2 categories expired after CY 2003. All of the categories listed in Table 18, along with their expected expiration dates, were created since we published the criteria and process for creating additional device categories for pass-through payment on November 2, 2001 (66 FR 55850 through 55857). We based the expiration dates for the category codes listed in Table 18 on the date on which a category was first eligible for pass-through payment.

There are three categories for devices that would have been eligible for pass-through payments for at least 2 years as of December 31, 2005. In the November 15, 2004 final rule with comment period, we finalized the December 31, 2005 expiration dates for these three categories—C1814 (Retinal tamponade device, silicone oil), C1818 (Integrated keratoprosthesis), and C1819 (Tissue localization excision device). Each category includes devices for which pass-through payment was first made under the OPPS in CY 2003 or CY 2004.

In the November 1, 2002 final rule, we established a policy for payment of devices included in pass-through categories that are due to expire (67 FR 66763). For CY 2003, we packaged the costs of the devices no longer eligible for pass-through payments into the costs of the procedures with which the devices were billed in CY 2001. There were few exceptions to this established policy (brachytherapy sources for other than prostate brachytherapy, which is now also separately paid in accordance with section 621(b)(2) of Pub. L. 108-173). For CY 2005, we continued to apply this policy, the same as we did in CY 2003 and 2004, to categories of devices that expired on December 31, 2004.

2. Proposed Policy for CY 2006

For CY 2006, we are proposing to implement the final decision we made in the November 15, 2004 final rule with comment period that finalizes the expiration date for pass-through status for device categories C1814, C1818, and C1819. Therefore, as of January 1, 2006, we will discontinue pass-through payment for C1814, C1818, and C1819. In accordance with our established policy, we are proposing to package the costs of the devices assigned to these three categories into the costs of the procedures with which the devices were billed in CY 2004, the year of hospital claims data used for this proposed OPPS update.

Table 18.—List of Current Pass-Through Device Categories By Expiration Date
HCPCS codes | Category long descriptor | Date(s) populated | Expiration date
C1814 | Retinal tamponade device, silicone oil | 4/1/03 | 12/31/05
C1818 | Integrated keratoprosthesis | 7/1/03 | 12/31/05
C1819 | Tissue localization excision device | 1/1/04 | 12/31/05

D. Other Policy Issues Relating To Pass-Through Device Categories

(If you choose to comment on issues in this section, please include the caption “Pass-Through Device Categories” at the beginning of your comment.)

1. Provisions for Reducing Transitional Pass-Through Payments to Offset Costs Packaged Into APC Groups

a. Background

In the November 30, 2001 final rule, we explained the methodology we used to estimate the portion of each APC payment rate that could reasonably be attributed to the cost of the associated devices that are eligible for pass-through payments (66 FR 59904). Beginning with the implementation of the CY 2002 OPPS quarterly update (April 1, 2002), we deducted from the pass-through payments for the identified devices an amount that reflected the portion of the APC payment amount that we determined was associated with the cost of the device, as required by section 1833(t)(6)(D)(ii) of the Act. In the November 1, 2002 interim final rule with comment period, we published the applicable offset amounts for CY 2003 (67 FR 66801).

For the CY 2002 and CY 2003 OPPS updates, to estimate the portion of each APC payment rate that could reasonably be attributed to the cost of an associated device eligible for pass-through payment, we used claims data from the period used for recalibration of the APC rates. That is, for CY 2002 OPPS updating, we used CY 2000 claims data and for CY 2003 OPPS updating, we used CY 2001 claims data. For CY 2002, we used median cost claims data based on specific revenue centers used for device related costs because C-code cost data were not available until CY 2003. For CY 2003, we calculated a median cost for every APC without packaging the costs of associated C-codes for device categories that were billed with the APC. We then calculated a median cost for every APC with the costs of the associated device category C-codes that were billed with the APC packaged into the median. Comparing the median APC cost without device packaging to the median APC cost including device packaging enabled us to determine the percentage of the median APC cost that is attributable to the associated pass-through devices. By applying those percentages to the APC payment rates, we determined the applicable amount to be deducted from the pass-through payment, the ”offset” amount. We created an offset list comprised of any APC for which the device cost was at least 1 percent of the APC's cost.

The offset list that we have published each year is a list of offset amounts associated with those APCs with identified offset amounts developed using the methodology described above. As a rule, we do not know in advance which procedures residing in certain APCs may be billed with new device categories. Therefore, an offset amount is applied only when a new device category is billed with a HCPCS procedure code that is assigned to an APC appearing on the offset list. The list of potential offsets for CY 2005 is currently published on the CMS Web site: http://www.cms.hhs.gov, as “Device-Related Portions of Ambulatory Payment Classification Costs for 2005.”

For CY 2004, we modified our policy for applying offsets to device pass-through payments. Specifically, we indicated that we would apply an offset to a new device category only when we could determine that an APC contains costs associated with the device. We continued our existing methodology for determining the offset amount, described earlier. We were able to use this methodology to establish the device offset amounts for CY 2004 because providers reported device codes (C-codes) on the CY 2002 claims used for the CY 2004 OPPS update. For the CY 2005 update to the OPPS, our data consisted of CY 2003 claims that did not contain device codes and, therefore, for CY 2005 we utilized the device percentages as developed for CY 2004. In the CY 2004 OPPS update, we reviewed the device categories eligible for continuing pass-through payment in CY 2004 to determine whether the costs associated with the device categories are packaged into the existing APCs. Based on our review of the data for the device categories existing in CY 2004, we determined that there were no close or identifiable costs associated with the devices relating to the respective APCs that are normally billed with them. Therefore, for those device categories, we set the offset to $0 for CY 2004. We continued this policy of setting offsets to $0 for the device categories that continued to receive pass-through payment in CY 2005.

For the CY 2006 OPPS update, CY 2004 hospital claims are available for analysis. Hospitals billed device C-codes in CY 2004 on a voluntary basis. We have reviewed our CY 2004 data, examining hospital claims for services that included device C-codes and utilizing the methodology for calculating device offsets noted above. The numbers of claims for services in many of the APCs for which we calculated device percentages using CY 2004 data were quite small. Many of these APCs already had relatively few single claims available for median calculations compared with the total bill frequencies because of our inability to use many multiple bills in establishing median costs for all APCs, and subsetting the single claims to only those including C-codes often reduced those single bills by 80 percent or more. Our claims demonstrate that relatively few hospitals specifically coded for devices utilized in CY 2004. Thus, we do not feel confident that CY 2004 claims reporting C-codes represent the typical costs of all hospitals providing the services. Therefore, we do not propose to use CY 2004 claims with device coding to propose CY 2006 device offset amounts at this time. In addition, we do not propose to use CY 2005's methodology, for which we utilized the device percentages as developed for CY 2004. Two years have passed since we developed the device offsets for CY 2004, and the device offsets originally calculated from CY 2002 hospitals' claims data may not appropriately reflect the contributions of device costs to procedural costs in the current outpatient hospital environment. In addition, a number of the APCs on the CY 2004 and CY 2005 device offset percentage lists are either no longer in existence or have been so significantly reconfigured that the past device offsets likely do not apply.

b. Proposed Policy for CY 2006

For CY 2006, we are proposing to continue to review each new device category on a case-by-case basis as we have done in CY 2004 and CY 2005, to determine whether device costs associated with the new category are packaged into the existing APC structure. If we do not determine that for any new device category that device costs associated with the new category are packaged into existing APCs, we are proposing to continue our current policy of setting the offset for the new category to $0 for CY 2006. There are currently no established categories that would continue for pass-through payment in CY 2006. However, we may establish new categories in any quarter. If we create a new device category and determine that our data contain a sufficient number of claims with identifiable costs associated with the devices in any APC, we would adjust the APC payment if the offset is greater than $0. If we determine that a device offset greater than $0 is appropriate for any new category that we create, we are proposing to announce the offset amounts in the program transmittal that announces the new category.

For CY 2006, we are proposing to use available partial year or full year CY 2005 hospital claims data to calculate device percentages and potential offsets for CY 2006 applications for new device categories. Effective January 1, 2005, we require hospitals to report device C-codes and their costs when hospitals bill for services which utilize devices described by the existing C-codes. In addition, during CY 2005 we are implementing device edits for many services which require devices and for which appropriate device C-codes exist. Therefore, we expect that the number of claims including device codes and their respective costs will be much more robust and representative for CY 2005 than for CY 2004. We also note that offsets would not be used for any existing categories at this time. If a new device category is created for payment, for CY 2006 we are proposing to examine the available CY 2005 claims data, including device costs, to determine whether device costs associated with the new category are already packaged into the existing APC structure, as indicated earlier. If we conclude that some related device costs are packaged into existing APCs, we are proposing to utilize the methodology described earlier and first used for the CY 2003 OPPS to determine an appropriate device offset percentage for those APCs with which the new category would be reported.

Our proposal not to publish a list of APCs with device percentages at this time would be a transitional policy for CY 2006 because of the previously discussed limitations of the CY 2004 OPPS data with respect to device costs associated with procedures. We expect that we will reexamine our previous methodology for calculating the device percentages and offset amounts for the CY 2007 OPPS update, which will be based on CY 2005 hospitals claims data where device C-code reporting is required.

2. Criteria for Establishing New Pass-Through Device Categories

a. Surgical Insertion and Implantation Criterion

One of our criteria, as set forth in § 419.66(b)(3) of the regulations, for establishing a new category of devices for pass-through payment is that the item be surgically inserted or implanted. The criterion that a device be surgically inserted or implanted is one of our original criteria adopted when we implemented the BBRA requirement that we establish pass-through payment for devices. This criterion helps us define whether an item is a device, as distinguished from other items, such as materials and supplies. We further clarified our definition of the surgical insertion and implantation criterion in the November 13, 2000 final rule (65 FR 67805). In that rule we stated that we consider a device to be surgically inserted or implanted if it is introduced into the human body through a surgically created incision. We also stated that we do not consider an item used to cut or otherwise create a surgical opening to be a device that is surgically inserted or implanted.

In our November 15, 2004 final rule with comment period, we responded to comments received on our August 16, 2004 proposed rule, which requested that we revisit our surgical insertion and implantation criterion for establishing a new device category. The commenters specifically requested that CMS eliminate the current requirement that items that are included in new pass-through device categories must be surgically inserted or implanted through a surgically created incision. The commenters expressed concern that the current requirement may prevent access to innovative and less invasive technologies, particularly in the areas of gynecologic, urologic, colorectal and gastrointestinal procedures. These commenters asked that CMS change the surgical insertion or implantation criterion to allow pass-through payment for potential new device categories that include items introduced into the human body through a natural orifice, as well as through a surgically created incision. Several of the commenters recommended that CMS allow the creation of a new pass-through category for items implanted or inserted through a natural orifice, as long as the other existing criteria are met.

In responding to the commenters, we stated in the November 15, 2004 final rule with comment period (69 FR 65774) that we were also interested in hearing the views of other parties and receiving additional information on these issues. While we appreciate and welcome additional comments on these issues from the medical device makers, we were also interested in hearing the views of Medicare beneficiaries, of the hospitals that are paid under the OPPS, and of physicians and other practitioners who attend to patients in the hospital outpatient setting. For that reason, we solicited additional comments on this topic within the 60-day comment period for the November 15, 2004 final rule with comment period (69 FR 65774 through 65775). In framing their comments, we asked that commenters consider the following questions specific to devices introduced into the body through natural orifices:

1. Whether orifices include those that are either naturally or surgically created, as in the case of ostomies. If you believe this includes only natural orifices, why do you distinguish between natural and surgically created orifices?

2. How would you define “new,” with respect to time and to predecessor technology? What additional criteria or characteristics do you believe distinguish “new” devices that are surgically introduced through an existing orifice from older technology that also is inserted through an orifice?

3. What characteristics do you consider to distinguish a device that might be eligible for a pass-through category even if inserted through an existing orifice from materials and supplies such as sutures, clips or customized surgical kits that are used incident to a service or procedure?

4. Are there differences with respect to instruments that are seen as supplies or equipment for open procedures when those same instruments are passed through an orifice using a scope?

b. Public Comments Received and Our Responses

Below is a summary of the public comments we received on the four stated surgical insertion and implantation device criterion questions and our response to them.

Comment: Most commenters generally framed their responses to the four questions listed above. Commenters were generally in favor of modifying our surgical insertion and implantation criterion so that devices that are placed into patients without the need for a surgical incision would not be ineligible for pass-through payment, claiming that devices that are inserted through a natural orifice offer important benefits to Medicare beneficiaries, such as avoidance of more costly and more invasive surgery. One commenter stated that procedures that could be performed with minimal morbidity and on an outpatient basis are the trend for surgery and should be encouraged. Another commenter believed that our criterion of surgical insertion or implantation through a surgically created incision was ineffective as a clear and comprehensive description of surgical procedures, including endoscopic and laparoscopic procedures.

Regarding the first specific question we posed, whether devices introduced into the body through natural orifices includes orifices that are either naturally or surgically created, commenters generally stated we should include devices as potentially eligible for pass-through categories whether they are introduced through orifices that are either naturally or surgically created, as in the case of ostomies, if the devices meet other cost and clinical criteria, in order to encourage the development of new technologies.

Regarding the second question restated above, which asked how the public would define “new” with respect to time and to predecessor technology, some commenters stated that they believed the current clinical and cost criteria are sufficient and that no additional criteria or characteristics are needed. Several commenters indicated that the timeframe for what we consider “new” could be clarified if the device in question was not FDA approved or in use in the OPD during the year that hospital claims are used for that calendar year's OPPS update, that is, it should be considered “new.” Some commenters elaborated by example. They stated that if we change the surgical insertion or implantation requirement to include devices inserted through natural orifices in 2005, devices approved by the FDA and in use in the OPD in 2003 or previously would not be eligible, while devices approved by FDA in 2004 or later and used in the OPD settings would be eligible for pass-through consideration. Another commenter stated that the definition of “new” device should include those devices that require only an FDA investigational device exemption (IDE) clearance. The commenter further stated that these devices should be granted “new” status at the time of FDA release as an IDE. The commenter stated that if FDA required a premarket approval (PMA) for the device, a determination of newness should be made on a case by case basis.

Regarding the question of what characteristics distinguish a device that might be eligible for a pass-through category even if inserted through an existing orifice from materials and supplies that are used incident to a service or procedure, some commenters generally stated their belief that the current clinical and cost criteria are sufficient to distinguish devices that might be eligible from materials and supplies. Other commenters stated that the device must be an integral part of the procedure or that it should include the characteristic of having a diagnostic or therapeutic purpose, without which the procedure could not be performed. Thus, according to these commenters, the device must function for a specific procedure, while supplies may be used for many procedures. One commenter pointed out that many devices are now implanted through the use of naturally occurring orifices or without significant incisions. This commenter indicated that the requirement of a “traditional incision” no longer serves the purpose of distinguishing between devices that are and are not implanted, or between devices and supplies and instruments. The commenter stated that retaining the requirement of a traditional incision could create incentives to use more invasive technology, if that is the technology that is eligible for pass-through payments and less invasive technology is not. This commenter suggested excluding tools and disposable supplies by excluding any item that is used primarily for the purpose of cutting or delivering an implantable device. However, the commenter recommended not reducing payment when delivery systems are packaged with the device. The commenter further recommended that the term incision be clearly defined to include all procedures involving the cutting, breaking or puncturing of tissue or skin, regardless of how small that cut is, provided that the device is attached to or inserted into the body via this cut or puncture or break. Another commenter stated that there are items included in a surgical kit that have significant cost and are single use, for example, guide wires, implying that it is sometimes difficult to determine what a supply is.

Regarding our question about whether there are differences with respect to instruments that are seen as supplies or equipment for open procedures when those same instruments are passed through an orifice using a scope, commenters believed that the definitions of supplies and eligible devices are independent of the use of a scope during a procedure, and stated there were no distinguishing features of supplies or equipment. A commenter reiterated that the current clinical and cost criteria are sufficient to distinguish eligible devices (that is, those with “a specific therapeutic use”) from materials and supplies. Commenters believed that the use of a scope should not be a factor in the distinction between devices and supplies.

One commenter urged us to consider the points that the surgical incision requirement is not mandated by statute and that CMS's criterion to limit devices to only those that are surgically inserted or implanted may have been based upon concern that less restrictive criteria would cause spending on pass-though items to exceed the pool of money set to fund the pass-though payments. This commenter indicated that this concern would no longer be valid, given the relatively few items currently paid on a pass-through basis.

Response: As we stated in the November 15, 2004 final rule, we share the view that it is important to ensure access for Medicare beneficiaries to new technologies that offer substantial clinical improvement in the treatment of their medical conditions. We also recognize that since the beginning of the OPPS, there have been beneficial advances in technologies and services for many conditions, which have both markedly altered the courses of medical care and ultimately improved the health outcomes of many beneficiaries.

We carefully considered the comments and are proposing to maintain our current criterion that a device must be surgically inserted or implanted, but are also proposing to modify the way we currently interpret this criterion under § 419.66(b)(3) of the regulations. We are proposing to consider eligible those items that are surgically inserted or implanted either through a natural orifice or a surgically created orifice (such as through an ostomy), as well as those that are inserted or implanted through a surgically created incision. We will maintain all of our other criteria in § 419.66 of the regulations, as elaborated in our various rules, such as the November 1, 2002 final rule (67 FR 66781 through 66787). Specifically, the clarification made at the time we clarified the surgically inserted or implanted criterion in our August 3, 2000 interim final rule with comment period, namely, that we do not consider an item used to cut or otherwise create a surgical opening to be a device that is surgically implanted or inserted (65 FR 67805).

With this revision of our definition of devices that are surgically inserted or implanted, we remind the public that device category eligibility for transitional pass-through payment continues to depend on meeting our substantial clinical improvement criterion, where we compare the clinical outcomes of treatment options using the device to currently available treatments, including treatments using devices in existing or previously established pass-through device categories. We expect that requested new pass-through device categories that successfully demonstrate substantial clinical improvement for Medicare beneficiaries would describe new devices, where the additional device costs would not be reflected in the hospital claims data providing the costs of treatments available during the time period used for the most recent OPPS update.

c. Existing Device Category Criterion

One of our criteria, as set forth in § 419.66(c)(1) of the regulations, to establish a new device category for pass-through payment, is that the devices that would populate the category not be described by any existing or previously existing category. Commenters to our various proposed rules, as well as applicants for new device categories, have expressed concern that some of our existing and previously existing device category descriptors are overly broad, and that the category descriptors as they are currently written may preclude some new technologies from qualifying for establishment of a new device category for pass-through payment. Such parties have recommended that we consider modifying the descriptors for existing device categories, especially when a device would otherwise meet all the other criteria for establishing a new device category to qualify for pass-through payment.

We agree that implementation of the requirement that a new device category not be described by an existing or previously existing category merits review. Beginning with CY 2006, 3 years will have elapsed since 95 of the 97 initial device categories we established on April 1, 2001 will have expired: 95 categories expired after December 31, 2002, and 2 categories expired after December 31, 2003. Several additional years will have passed since those categories were first populated in CY 2000 or CY 2001. Thus, while some of the initial device category descriptors sufficed at the time they were first created, further clarification as to the types of devices that they are meant to describe is indicated. Therefore, we are proposing to create an additional category for devices that meet all of the criteria required to establish a new category for pass-through payment in instances where we believe that an existing or previously existing category descriptor does not appropriately describe the new type of device. This may entail the need to clarify or refine the short or long descriptors of the previous category. We would evaluate each situation on a case by case basis. We are proposing that any such clarification would be made prospectively from the date the new category would be made effective.

We are also proposing to revise § 419.66(c)(1) of the regulations, accordingly, to reflect as one of the criteria for establishing a device category our determination that a device is not appropriately described by any of the existing categories or by any category previously in effect. In order to determine if a “new” device is appropriately described by an existing or previously existing category of devices, we are proposing to apply two tests based upon our evaluation of information provided to us in the device category application. First, we will expect an applicant for a new device category to show that their device is not similar to devices (including related predicate devices) whose costs are reflected in our OPPS claims data in the most recent OPPS update. Second, we will require an applicant for a new device category to demonstrate that utilization of their device provides a substantial clinical improvement for Medicare beneficiaries compared with currently available treatments, including procedures utilizing devices in existing or previously existing device categories. We would consider a new device that meets both of these tests not to be appropriately described by one of the existing or previously existing pass-through device categories.

V. Proposed Payment Changes for Drugs, Biologicals, and Radiopharmaceutical Agents

A. Transitional Pass-Through Payment for Additional Costs of Drugs and Biologicals

(If you choose to comment on issues in this section, please include the caption “Pass-Through” at the beginning of your comment.)

1. Background

Section 1833(t)(6) of the Act provides for temporary additional payments or “transitional pass-through payments” for certain drugs and biological agents. As originally enacted by the BBRA, this provision required the Secretary to make additional payments to hospitals for current orphan drugs, as designated under section 526 of the Federal Food, Drug, and Cosmetic Act (Pub. L. 107-186); current drugs and biological agents and brachytherapy used for the treatment of cancer; and current radiopharmaceutical drugs and biological products. For those drugs and biological agents referred to as “current,” the transitional pass-through payment began on the first date the hospital OPPS was implemented (before enactment of BIPA (Pub. L. 106-554), on December 21, 2000).

Transitional pass-through payments are also required for certain “new” drugs, devices, and biological agents that were not being paid for as a hospital OPD service as of December 31, 1996, and whose cost is “not insignificant” in relation to the OPPS payment for the procedures or services associated with the new drug, device, or biological. Under the statute, transitional pass-through payments can be made for at least 2 years but not more than 3 years. In Addenda A and B to this proposed rule, pass-through drugs and biological agents are identified by status indicator “G.”

The process to apply for transitional pass-through payment for eligible drugs and biological agents can be found on our CMS Web site: http://www.cms.hhs.gov. If we revise the application instructions in any way, we will post the revisions on our Web site and submit the changes to the Office of Management and Budget (OMB) for approval, as required under the Paperwork Reduction Act (PRA). Notification of new drugs and biologicals application processes is generally posted on the OPPS Web site at: http://www.cms.hhs.gov/providers/hopps.

2. Expiration in CY 2005 of Pass-Through Status for Drugs and Biologicals

Section 1833(t)(6)(C)(i) of the Act specifies that the duration of transitional pass-through payments for drugs and biologicals must be no less than 2 years and no longer than 3 years. The drugs whose pass-through status will expire on December 31, 2005, meet that criterion. Table 19 below lists the 10 drugs and biologicals for which we are proposing that pass-through status would expire on December 31, 2005.

Table 19.—Proposed List of Drugs and Biologicals for Which Pass-Through Status Expires December 31, 2005
HCPCS | APC | Short descriptor
C9123 | 9123 | Transcyte, per 247 sq cm.
C9205 | 9205 | Oxaliplatin.
C9211 | 9211 | Inj, alefacept, IV.
C9212 | 9212 | Inj, alefacept, IM.
J0180 | 9208 | Agalsidase beta injection.
J1931 | 9209 | Laronidase injection.
J2469 | 9210 | Palonosetron HCl.
J3486 | 9204 | Ziprasidone mesylate.
J9041 | 9207 | Bortezomib injection.
Q9955 | 9203 | Inj perflexane lip micros, ml.

3. Drugs and Biologicals With Proposed Pass-Through Status in CY 2006

We are proposing to continue pass-through status in CY 2006 for 14 drugs and biologicals. These items, which are listed in Table 20 below, were given pass-through status as of April 1, 2005. The APCs and HCPCS codes for drugs and biologicals that we are proposing to continue with pass-through status in CY 2006 are assigned status indicator “G” in Addendum A and Addendum B of this proposed rule.

Section 1833(t)(6)(D)(i) of the Act sets the payment rate for pass-through eligible drugs (assuming that no pro rata reduction in pass-through payment is necessary) as the amount determined under section 1842(o) of the Act. We note that this section of the Act also states that if a drug or biological is covered under a competitive acquisition contract under section 1847(B), then the payment rate be equal to the average price for the drug or biological for all competitive acquisition areas and year established as calculated and adjusted by the Secretary. The competitive acquisition program has not yet been implemented as of the development of this proposed rule; therefore, we do not have payment rates for certain drugs and biologicals that would be covered under this program at this time. Section 1847(A) of the Act, as added by section 303(c) of Pub. L. 108-173, establishes the use of the average sales price (ASP) methodology as the basis for payment of drugs and biologicals described in section 1842(o)(1)(C) of the Act and furnished on or after January 1, 2005. This payment methodology is set forth in § 419.64 of the regulations. Similar to the payment policy established for pass-through drugs and biologicals in CY 2005, we are proposing to pay under the OPPS for drugs and biologicals with pass-through status in CY 2006 consistent with the provisions of section 1842(o) of the Act, as amended by section 621 of Pub. L. 108-173, at a rate that is equivalent to the payment these drugs and biologicals would receive in the physician office setting.

Section 1833(t)(6)(D)(i) of the Act also sets the amount of additional payment for pass-through eligible drugs and biologicals (the pass-through payment amount). The pass-through payment amount is the difference between the amount authorized under section 1842(o) of the Act, and the portion of the otherwise applicable fee schedule amount (that is, the APC payment rate) that the Secretary determines is associated with the drug or biological.

As we explain in section V.B. of this proposed rule, we are proposing to continue to make separate payment in CY 2006 for new drugs and biologicals with a HCPCS code consistent with the provisions of section 1842(o) of the Act, as amended by section 621 of Pub. L. 108-173, at a rate that is equivalent to the payment they would receive in a physician office setting, whether or not we have received a pass-through application for the item. Accordingly, in CY 2006, the pass-through payment amount would equal zero for those new drugs and biologicals that we determine have pass-through status. That is, when we subtract the amount to be paid for pass-through drugs and biologicals under section 1842(o) of the Act, as amended by section 621 of Pub. L. 108-173, from the portion of the otherwise applicable fee schedule amount, or the APC payment rate associated with the drug or biological that would be the amount paid for drugs and biologicals under section 1842(o) of the Act as amended by section 621 of Pub. L. 108-173, the resulting difference is equal to zero.

We are proposing to use payment rates based on the ASP data from the fourth quarter of 2004 for budget neutrality estimates, impact analyses, and to complete Addenda A and B of this proposed rule because these are the most recent numbers available to us during the development of this proposed rule. These payment rates were also the basis for drug payments in the physician office setting effective April 1, 2005. To be consistent with the ASP-based payments that would be made when these drugs and biologicals are furnished in physician offices, we plan to make any appropriate adjustments to the amounts shown in Addenda A and B of this proposed rule when we publish our final rule and also on a quarterly basis on our Web site during CY 2006 if later quarter ASP submissions indicate that adjustments to the payment rates for these pass-through drugs and biologicals are necessary.

Table 20 lists the drugs and biologicals for which we are proposing that pass-through status continue in CY 2006. We assigned pass-through status to these drugs and biologicals as of April 1, 2005. We also have included in Addenda A and B to this proposed rule the proposed CY 2006 APC payment rates for these pass-through drugs and biologicals.

Table 20.—Proposed List of Drugs and Biologicals With Pass-Through Status in CY 2006
HCPCS code | APC | Short descriptor
C9220 | 9220 | Sodium hyaluronate.
C9221 | 9221 | Graftjacket Reg Matrix.
C9222 | 9222 | Graftjacket SftTis.
J0128 | 9216 | Abarelix injection.
J0878 | 9124 | Daptomycin injection.
J2357 | 9300 | Omalizumab injection.
J2783 | 0738 | Rasburicase.
J2794 | 9125 | Risperidone, long acting.
J7518 | 9219 | Mycophenolic acid.
J8501 | 0868 | Oral aprepitant.
J9035 | 9214 | Bevacizumab injection.
J9055 | 9215 | Cetuximab injection.
J9305 | 9213 | Pemetrexed injection.
Q4079 | 9126 | Injection, Natalizumab, 1 MG.

B. Proposed Payment for Drugs, Biologicals, and Radiopharmaceuticals Without Pass-Through Status

(If you choose to comment on issues in this section, please include the caption “NonPass-Throughs” at the beginning of your comment.)

1. Background

Under the OPPS, we currently pay for drugs, biologicals including blood and blood products, and radiopharmaceuticals that do not have pass-through status in one of two ways: packaged payment and separate payment (individual APCs). We explained in the April 7, 2000 final rule (65 FR 18450) that we generally package the cost of drugs and radiopharmaceuticals into the APC payment rate for the procedure or treatment with which the products are usually furnished. Hospitals do not receive separate payment from Medicare for packaged items and supplies, and hospitals may not bill beneficiaries separately for any packaged items and supplies whose costs are recognized and paid for within the national OPPS payment rate for the associated procedure or service. (Program Memorandum Transmittal A-01-133, issued on November 20, 2001, explains in greater detail the rules regarding separate payment for packaged services.)

Packaging costs into a single aggregate payment for a service, procedure, or episode of care is a fundamental principle that distinguishes a prospective payment system from a fee schedule. In general, packaging the costs of items and services into the payment for the primary procedure or service with which they are associated encourages hospital efficiencies and also enables hospitals to manage their resources with maximum flexibility. Notwithstanding our commitment to package as many costs as possible, we are aware that packaging payments for certain drugs, biologicals, and radiopharmaceuticals, especially those that are particularly expensive or rarely used, might result in insufficient payments to hospitals, which could adversely affect beneficiary access to medically necessary services.

Section 1833(t)(16)(B) of the Act, as added by section 621(a)(1) of Pub. L. 108-173, requires that the threshold for establishing separate APCs for drugs and biologicals be set at $50 per administration for CYs 2005 and 2006. For CY 2005, we finalized our policy to continue paying separately for drugs, biologicals, and radiopharmaceuticals whose median cost per day exceeds $50 and packaging the cost of drugs, biologicals, and radiopharmaceuticals whose median cost per day is less than $50 into the procedures with which they are billed. For CY 2005, we also adopted an exception policy to our packaging rule for one particular class of drugs, the oral and injectible 5HT3 forms of anti-emetic treatments (69 FR 65779 through 65780).

2. Proposed Criteria for Packaging Payment for Drugs, Biologicals, and Radiopharmaceuticals

For CY 2006, the threshold for establishing separate APCs for drugs and biologicals is required to be set at $50 per administration according to section 1833(t)(16)(B) of the Act. Therefore, we are proposing to continue our existing policy of paying separately for drugs, biologicals, and radiopharmaceuticals whose per day cost exceeds $50 and packaging the cost of drugs, biologicals, and radiopharmaceuticals whose per day cost is less than $50 into the procedures with which they are billed. We are also proposing to continue our policy of exempting the oral and injectible 5HT3 anti-emetic products from our packaging rule (Table 21), thereby making separate payment for all of the 5HT3 anti-emetic products. As stated in our CY 2005 final rule with comment period (69 FR 65779 through 65780), chemotherapy is very difficult for many patients to tolerate as the side effects are often debilitating. In order for beneficiaries to achieve the maximum therapeutic benefit from chemotherapy and other therapies with side effects of nausea and vomiting, anti-emetic use is often an integral part of the treatment regimen. We want to continue to ensure that our payment rules do not impede a beneficiary's access to the particular anti-emetic that is most effective for him or her as determined by the beneficiary and his or her physician.

Table 21.—Proposed Anti-Emetics To Exempt From $50 Packaging Requirement
HCPCS code | Short description
J2405 | Ondansetron HCl injection.
Q0179 | Ondansetron HCl 8 mg oral.
Q0180 | Dolasetron mesylate oral.
J1260 | Dolasetron mesylate.
J1626 | Granisetron HCl injection.
Q0166 | Granisetron HCl 1 mg oral.
J2469 | Palonosetron HCl.

For the CY 2006 proposed payment rates, we calculated the per day cost of all drugs, biologicals, and radiopharmaceuticals that had a HCPCS code in CY 2004 and were paid (via packaged or separate payment) under the OPPS using claims data from January 1, 2004, to December 31, 2004. In CY 2004, multisource drugs and radiopharmaceuticals had two HCPCS codes that distinguished the innovator multisource (brand) drug or radiopharmaceutical from the noninnovator multisource (generic) drug or radiopharmaceutical. We aggregated claims for both the brand and generic HCPCS codes in our packaging analysis of these multisource products. Items such as single indication orphan drugs, certain vaccines, and blood and blood products were excluded from these calculations and our treatment of these items is discussed separately in sections V.F., E., and I., respectively, of this preamble.

In order to calculate the per day cost for drugs, biologicals, and radiopharmaceuticals to determine their packaging status in CY 2006, we are proposing several changes in the methodology that was described in detail in the CY 2004 OPPS proposed rule (68 FR 47996 through 47997) and finalized in the CY 2004 final rule with comment period (68 FR 63444 through 63447). For CY 2006, to calculate the per day cost of the drugs, biologicals, and radiopharmaceuticals, we took the following steps:

Step 1. After application of the cost-to-charge ratios, we aggregated all line-items for a single date of service on a single claim for each product. This resulted in creation of a single line-item with the total number of units and the total cost of a drug or radiopharmaceutical given to a patient in a single day.

Step 2. We then created a separate record for each drug or radiopharmaceutical by date of service, regardless of the number of lines on which the drug or radiopharmaceutical was billed on each claim. For example, “drug X” is billed on a claim with two different dates of service, and for each date of service, the drug is billed on two line-items with a cost of $10 and 5 units for each line-item. In this case, the computer program would create two records for this drug, and each record would have a total cost of $20 and 10 units of the product.

Step 3. We trimmed records with unit counts per day greater or less than 3 standard deviations from the geometric mean (This is a new step in the methodology we are proposing for CY 2006).

Step 4. For each remaining record for a drug or radiopharmaceutical, we calculated the cost per unit of the drug. If the HCPCS descriptor for “drug X” is “per 1 mg” and one record was created for a total of 10 mg (as indicated by the total number of units for the drug on the claim for each unique date of service), then the computer program divided the total cost for the record by 10 to give a per unit cost. We then weighted this unit cost by the total number of units in the record. We did this by generating a number of line-items equivalent to the number of units in that particular claim. Thus, a claim with 100 units of “drug X” and a total cost of $200 would be given 100 line-items, each with a cost of $2, while a claim of 50 units with a cost of $50 would be given 50 line items, each with a cost of $1.

Step 5. We then trimmed the unit records with cost per unit greater or less than 3 standard deviations from the geometric mean.

Step 6. We aggregated the remaining unit records to determine the mean cost per unit of the drug or radiopharmaceutical.

Step 7. Using only the records that remained after records with unit counts per day greater or less than 3 standard deviations from the geometric mean were trimmed (step 3), the total number of units billed for each item and the total number of unique per-day records for each item were determined. We divided the count of the total number of units by the total number of unique per-day records for each item to calculate an average number of units per day.

Step 8. Instead of using median cost as done in previous years, we used the payment rate for each drug and biological effective April 1, 2005 furnished in the physician office setting, which was calculated using the ASP methodology, and multiplied the payment rate by the average number of units per day for each drug or biological to arrive at its per day cost. For items that did not have an ASP-based payment rate, we used their mean unit cost derived from the CY 2004 hospital claims data to determine their per day cost. Our reasoning for using these cost data is discussed in section V.B.3.a. of this preamble.

Step 9. We then packaged the items with per day cost based on the ASP methodology or mean cost less than $50 and made items with per day cost greater than $50 separately payable.

In the past, many commenters have alleged that hospitals do not accurately bill the number of units for drugs and radiopharmaceuticals. We have consistently decided not to identify which hospital claims contain correctly coded units because we do not believe we should be identifying when a dosage is clinically appropriate from hospital claims information. Variations among patients with respect to appropriate doses, the variety of indications with different dosing regimens for some agents, and the possibility of off-label uses make it difficult to know when units are incorrect. However, we do believe that trimming the units would improve the accuracy of estimates by removing those records with the most extreme units, without requiring us to speculate about clinically appropriate dosing. Therefore, we believe that trimming the records with unit counts greater or less than 3 standard deviations from the geometric mean will eliminate claims from our analysis that may not appropriately represent the actual number of units of a drug or radiopharmaceutical furnished by a hospital to a patient during a specific clinical encounter. Because it reduces extreme variation, trimming on greater or less than 3 standard deviations from the geometric mean makes this trim more conservative and removes fewer records. This change in methodology gives us even greater confidence in the cost estimates we use for our packaging decisions. We are seeking comments on the changes that we are proposing in our methodology for packaging drugs and radiopharmaceuticals.

Section 1833(t)(16)(B) of the Act that requires the threshold for establishing separate APCs for drugs and biologicals to be set at $50 per administration will expire at the end of CY 2006. Therefore, we will be evaluating other packaging thresholds for these products for the CY 2007 OPPS update. We are specifically requesting comments on the use of alternative thresholds for packaging drugs and radiopharmaceuticals in CY 2007.

3. Proposed Payment for Drugs, Biologicals, and Radiopharmaceuticals Without Pass-Through Status That Are Not Packaged

a. Proposed Payment for Specified Covered Outpatient Drugs

(1) Background

Section 1833(t)(14) of the Act, as added by section 621(a)(1) of Pub. L. 108-173, requires special classification of certain separately paid radiopharmaceutical agents, drugs, and biologicals and mandates specific payments for these items. Under section 1833(t)(14)(B)(i) of the Act, a “specified covered outpatient drug” is a covered outpatient drug, as defined in section 1927(k)(2) of the Act, for which a separate APC exists and that either is a radiopharmaceutical agent or is a drug or biological for which payment was made on a pass-through basis on or before December 31, 2002.

Under section 1833(t)(14)(B)(ii) of the Act, certain drugs and biologicals are designated as exceptions and are not included in the definition of “specified covered outpatient drugs.” These exceptions are—

• A drug or biological for which payment is first made on or after January 1, 2003, under the transitional pass-through payment provision in section 1833(t)(6) of the Act.

• A drug or biological for which a temporary HCPCS code has not been assigned.

• During CYs 2004 and 2005, an orphan drug (as designated by the Secretary).

Section 1833(t)(14)(F) of the Act defines the categories of drugs based on section 1861(t)(1) and sections 1927(k)(7)(A)(ii), (k)(7)(A)(iii), and (k)(7)(A)(iv) of the Act. The categories of drugs are “sole source drugs (includes a biological product or a single source drug),” “innovator multiple source drugs,” and “noninnovator multiple source drugs.” The definitions of these specified categories for drugs, biologicals, and radiopharmaceutical agents were discussed in the January 6, 2004 OPPS interim final rule with comment period (69 FR 822), along with our use of the Medicaid average manufacturer price database to determine the appropriate classification of these products. Because of the many comments received on the January 6, 2004 interim final rule with comment period, the classification of many of the drugs, biologicals, and radiopharmaceuticals changed from that initially published. We announced these changes to the public on February 27, 2004, Transmittal 112, Change Request 3144. We also implemented additional classification changes through Transmittals 132 (Change Request 3154, released March 30, 2004) and Transmittal 194 (Change Request 3322, released June 4, 2004).

Section 1833(t)(14)(A) of the Act, as added by section 621(a)(1) of Pub. L. 108-173, also provides that payment for these specified covered outpatient drugs for CYs 2004 and 2005 is to be based on its “reference average wholesale price.” Section 1833(t)(14)(G) of the Act) defines reference AWP as the AWP determined under section 1842(o) of the Act as of May 1, 2003. Section 1833(t)(14)(A)(ii) of the Act, as added by section 621(a) of Pub. L. 108-173 requires that in CY 2005—

• A sole source drug must be paid no less than 83 percent and no more than 95 percent of the reference AWP.

• An innovator multiple source drug must be paid no more than 68 percent of the reference AWP.

• A noninnovator multiple source drug must be paid no more than 46 percent of the reference AWP.

Section 1833(t)(14)(G) of the Act defines “reference AWP” as the AWP determined under section 1842(o) the Act as of May 1, 2003. We interpreted this to mean the AWP set under the CMS single drug pricer (SDP) based on prices published in the Red Book on May 1, 2003.

For CY 2005, we finalized our policy to determine the payment rates for specified covered outpatient drugs under the provisions of Pub. L. 108-173 by comparing the payment amount calculated under the median cost methodology as done for procedural APCs to the AWP percentages specified in section 1833(t)(14)(A)(ii) of the Act.

(2) Proposed Changes for CY 2006 Related to Pub. L. 108-173

Section 1833(t)(14)(A)(iii) of the Act, as added by section 621(a)(1) of Pub. L. 108-173, requires that payment for specified covered outpatient drugs in CY 2006 be equal to the average acquisition cost for the drug for that year as determined by the Secretary but subject to any adjustment for overhead costs and taking into account the hospital acquisition cost survey data collected by the GAO in 2004 and 2005. If hospital acquisition cost data are not available, then the law requires that payment be equal to payment rates established under the methodology described in section 1842(o), section 1847(A), or section 1847(B) of the Act as calculated and adjusted by the Secretary as necessary.

(3) Data Sources Available for Setting CY 2006 Payment Rates

Section 1833(t)(14)(D) of the Act, as added by section 621(a)(1) of Pub. L. 108-173, outlines the provisions of the hospital outpatient drug acquisition cost survey mandated for the GAO. This provision directs the GAO to collect data on hospital acquisition costs of specified covered outpatient drugs and to provide information based on these data that can be taken into consideration for setting CY 2006 payment rates for these products under the OPPS. Accordingly, the GAO conducted a survey of 1,400 acute care, Medicare-certified hospitals requesting hospitals to provide purchase prices for specified covered outpatient drugs purchased from July 1, 2003 to June 30, 2004. The survey yielded a response rate of 83 percent where 1,157 hospitals provided usable information. To ensure that its methodology for data collection and analysis were sound, the GAO consulted an advisory panel of experts in pharmaceutical economics, pharmacy, medicine, survey sampling and Medicare payment.

The GAO reported the average and median purchase prices for 55 specified covered outpatient drug categories for the period July 1, 2003 to June 30, 2004. These items represented 86 percent of the Medicare spending for specified covered outpatient drugs during the first 9 months of 2004. The initial GAO data did not include any radiopharmaceuticals. The report noted that the purchase price information accounted for volume and other discounts provided at the time of purchase, but excluded subsequent rebates from manufacturers and payments from group purchasing organizations.

Another source of drug pricing information that we have is the ASP data from the fourth quarter of 2004, which were used to set payment rates for drugs and biologicals in the physician office setting effective April 1, 2005. We have ASP-based prices for approximately 475 drugs and biologicals (including contrast agents) payable under the OPPS; however, we currently do not have any ASP data on radiopharmaceuticals. Payments for most of the drugs and biologicals paid in the physician office setting are based on the ASP+6 percent. Payments for items with no reported ASP are based on wholesale acquisition cost (WAC).

Lastly, the third source of cost data we have for drugs, biologicals, and radiopharmaceuticals are the mean and median costs derived from the CY 2004 hospital claims data. In our data analysis, we compared the payment rates for drugs and biologicals using data from all three sources described above. As section 1833(t)(14)(A)(iii) of the Act clearly specifies that payment for specified covered outpatient drugs in CY 2006 be equal to the “average” acquisition cost for the drug, we limited our analysis to the mean costs of drugs determined using the GAO acquisition cost survey and the hospital claims data, instead of using median costs.

We estimated aggregate expenditures for all drugs and biologicals (excluding radiopharmaceuticals) that would be separately payable in CY 2006 and for the 55 drugs and biologicals reported by the GAO using mean cost from the claims data, the GAO mean purchase price, and the ASP-based payment amount (ASP+6 percent in most cases), and then calculated the equivalent average ASP-based payment rate under each of the three payment methodologies. The results are presented in Table 22 below.

Table 22.—Comparison of Relative Pricing for OPPS Drugs and Biologicals Under Various Payment Methodologies
Type of pricing data | Time period of pricing data | ASP equivalent (55 GAO drugs only) (percent) | ASP equivalent (all separately billable drugs)
GAO mean purchase price | 12 months ending June 2004 | ASP+3 | N/A
ASP+6% | 4th quarter of 2004 | ASP+6 | ASP+6%
Mean cost from claims data | 1st 9 months of 2004 | ASP+8 | ASP+8%

Prior to any adjustments for the differing time periods of the pricing data, the results indicated that using the GAO mean purchase prices as the basis for paying the 55 drugs and biologicals would be equivalent to paying for those drugs and biologicals, on average, at ASP+3 percent. Additionally, using mean unit cost to set the payment rates for the drugs and biologicals that would be separately payable in CY 2006 would be equivalent to basing their payment rates, on average, at ASP+8 percent.

In determining the payment rates for drugs and biologicals in CY 2006, we are not proposing to use the GAO mean purchase prices for the 55 drugs and biologicals because the GAO data reflect hospital acquisition costs from a less recent period of time. The survey was conducted from July 1, 2003 to June 30, 2004; thus, the purchase prices are generally reflective of the time that is the midpoint of this period, which is January 1, 2004. The hospital purchase price data also does not fully account for rebates from manufacturers or payments from group purchasing organizations made to hospitals. We also note that it would be difficult to update the GAO mean purchase prices during CY 2006 and in future years.

We are also not proposing, in general, to use mean costs from CY 2004 hospital claims data to set payment rates for drugs and biologicals in CY 2006. In previous OPPS rules, we stated that pharmacy overhead costs are captured in the pharmacy revenue cost centers and reflected in the median cost of drug administration APCs, and the payment rate we established for a drug, biological, or radiopharmaceutical APC was intended to pay only for the cost of acquiring the item (66 FR 59896 and 67 FR 66769). However, findings from a MedPAC survey of hospital charging practices indicated that hospitals set charges for drugs, biologicals, and radiopharmaceuticals high enough to reflect their handling costs as well as their acquisition costs; therefore, the mean costs calculated using charges from hospital claims data converted to costs are representative of hospital acquisition costs for these products, as well as their overhead costs. For CY 2006, the statute specifies that payments for specified covered outpatient drugs are required to be equal to the “average” acquisition cost for the drug. Payments based on mean costs would represent the products' acquisition costs plus overhead costs, instead of acquisition costs only. Therefore, we believe that it is appropriate for us to use a source of cost information other than the CY 2004 hospital claims data to set the payment rates for most drugs and biologicals in CY 2006.

We are proposing to pay ASP+6 percent for separately payable drugs and biologicals in CY 2006. Given the data as described above, we believe this is our best estimate of average acquisition costs for CY 2006. We note that the comparison between the GAO purchase price data and the ASP data indicated that the GAO data on average were equivalent to ASP+3 percent. However, as noted earlier, this comparison is problematic for two reasons. First, there are differences in the time periods for two sources of data. The GAO data are from the 12 months ending June 2004 and the ASP data are from the fourth quarter of 2004. It could be argued that prices increased in the intervening time period. However, we do not have a source of reliable information on specific price changes for this time period for the drugs studied by the GAO. In the future, we will have better information on price trends for Medicare Part B drugs as more quarters of pricing information are reported under the ASP system.

We also note the comparison between the GAO data and the ASP data is problematic as the ASP data include rebates and other price concessions and the GAO data do not. Inclusion of these rebates and price concession in the GAO data would decrease the GAO prices relative to the ASP prices, suggesting that ASP+6 percent may be an overestimate of hospitals' average acquisition costs. Unfornately, we do not have a source of information on the magnitude of the rebates and price concessions for the specific drugs in the GAO data at this time.

At the present time, therefore, it is difficult to adjust the GAO prices for inflation, rebates, and price concessions to make the comparison with ASP more precise. We will continue to examine new data to improve our future estimates of acquisition costs. In future years, our proposed pricing will be modified as appropriate to reflect the most recent data and analyses available. We also note that, in addition to the importance of making accurate estimates of acquisition costs for drug pricing, there are important implications for prices of other services due to the required budget neutrality of the OPPS. For example, drugs and biological prices set at ASP+3 percent instead of ASP+6 percent would have made available approximately an additional $60 million for other items and services under the OPPS.

We note that ASP data are unavailable for some drugs and biologicals. For the few drugs and biologicals, other than radiopharmaceuticals as discussed later, where ASP data are unavailable, we are proposing to use the mean costs from the CY 2004 hospital claims data to determine their packaging status for ratesetting. Until we receive ASP data for these items, payment will be based on their mean cost.

Our proposal uses payment rates based on ASP data from the fourth quarter of 2004 because these are the most recent numbers available to us during the development of this proposed rule. To be consistent with the ASP-based payments that would be made when these drugs and biologicals are furnished in physician offices, we plan to make any appropriate adjustments to the amounts shown in Addenda A and B to this proposed rule for these items based on more recent ASP data from the second quarter of 2005, which will be the basis for setting payment rates for drugs and biologicals in the physician office setting effective October 1, 2005, prior to our publication of the CY 2006 OPPS final rule and also on a quarterly basis on our Web site during CY 2006. We note that we would determine the packaging status of each drug or biological only once during the year during the update process; however, for the separately payable drugs and biologicals, we would update their ASP-based payment rates on a quarterly basis.

We intend for the quarterly updates of the ASP-based payment rates for separately payable drugs and biologicals to function as future surveys of hospital acquisition cost data, as section 1833(t)(14)(D)(ii) of the Act instructs us to conduct periodic subsequent surveys to determine hospital acquisition cost for each specified covered outpatient drug.

We are specifically requesting comments on our proposal to pay for drugs and biologicals (including contrast agents) under the OPPS using the ASP-based methodology that is also used to set the payment rates for drugs and biologicals furnished in physician offices and the adequacy of the payment rates to account for acquisition costs of the drugs and biologicals.

In CY 2005, we applied an equitable adjustment to determine the payment rate for darbepoetin alfa (Q0137) pursuant to section 1833(t)(2)(E) of the Act. However, for CY 2006, we are proposing to establish the payment rate for this biological using the ASP methodology. The ASP data represents market prices for this biological; therefore, we believe it is appropriate to use the ASP methodology to establish payment rates for darbepoetin alfa because this method will permit market forces to determine the appropriate payment for this biological. We are seeking comments on the proposed payment policy for this biological.

Effective April 1, 2005, several HCPCS codes were created to describe various concentrations of low osmolar contrast material (LOCM). These new codes are Q9945 through Q9951. However, in Transmittal 514 (April 2005 Update of the OPPS), we instructed hospitals to continue reporting LOCM in CY 2005 using the existing HCPCS codes A4644, A4645, and A4646 and made Q9945 through Q9951 not payable under the OPPS. For CY 2006, we are proposing to activate the new Q-codes for hospitals and discontinue the use of HCPCS codes A4644 through A4646 for billing LOCM products. We have CY 2004 hospital claims data for HCPCS codes A4644 through A4646, which show that the mean costs per day for these products are greater than $50. Because we do not have CY 2004 hospital claims data for HCPCS codes Q9945 through Q9951, we crosswalked the cost data for the HCPCS A-codes to the new Q-codes. There is no predecessor code which crosswalks to HCPCS code Q9951 for LOCM with a concentration of 400 or greater mg/ml of iodine. Therefore, our general payment policy of paying separately for new codes while hospital data are being collected applies to HCPCS code Q9951. As our historical hospital mean per day costs for the three A codes exceed the packaging threshold and our payment policy for new codes without predecessors applies to one of the new codes, we are proposing to pay for the HCPCS codes Q9945 through Q9951 separately in CY 2006 at payment rates calculated using the ASP methodology. We note that because the new Q-codes describing LOCM are more descriptively discriminating and have different units than the previous A-codes for LOCM as well as widely varying ASPs, we expect that the packaging status of these Q-codes may change in future years when we have specific OPPS claims data for these new codes. We are seeking comments specifically on our proposed policy to pay separately for LOCM described by HCPCS codes Q9945 through Q9951 in CY 2006.

(4) CY 2006 Proposed Payment Policy for Radiopharmaceutical Agents

We do not have ASP data for radiopharmaceuticals. Therefore, for CY 2006, we are proposing to calculate per day costs of radiopharmaceuticals using mean unit cost from the CY 2004 hospital claims data to determine the items' packaging status similar to the drugs and biologicals with no ASP data. In a separate report, the GAO provided CMS with hospital purchase price information for nine radiopharmaceutical agents. As part of the GAO survey described earlier, the GAO surveyed 1,400 acute-care, Medicare-certified hospitals requesting hospitals to provide purchase prices for radiopharmaceuticals from July 1, 2003 to June 30, 2004. The radiopharmaceutical part of the survey yielded a response rate of 61 percent, where 808 hospitals provided usable information. The GAO reported the average and median purchase prices for nine radiopharmaceuticals for the period July 1, 2003 to June 30, 2004. These items represented 9 percent of the Medicare spending for specified covered outpatient drugs during the first 9 months of 2004. The report noted that the purchase price information accounted for volume and other discounts provided at the time of purchase, but excluded subsequent rebates from manufacturers and payments from group purchasing organizations.

When we examined differences between the CY 2005 payment rates for these nine radiopharmaceutical agents and their GAO mean purchase prices, we saw that the GAO purchase prices were substantially lower for several of these agents. We also saw similar patterns when we compared the CY 2005 payment rates for radiopharmaceutical agents with their CY 2004 median and mean costs from hospital claims data. Our intent is to maintain consistency, whenever possible between the payment rates for these agents from CY 2005 to CY 2006, because such rapid reductions could adversely affect beneficiary access to services utilizing radiopharmaceuticals.

As we do not have ASPs for radiopharmaceuticals that best represent market prices, we are proposing as a temporary 1-year policy for CY 2006 to pay for radiopharmaceutical agents that are separately payable in CY 2006 based on the hospital's charge for each radiopharmaceutical agent adjusted to cost. As MedPAC has indicated that hospitals currently include the charge for pharmacy overhead costs in their charge for the radiopharmaceutical, if we pay for these items using charges converted to cost, we believe that payment at cost would be the best available proxy for the average acquisition cost of the radiopharmaceutical along with its handling cost until we receive ASP information and overhead information on these agents. We expect that hospitals' different purchasing and preparation and handling practices for radiopharmaceuticals would be reflected in their charges, which would be converted to costs using hospital-specific cost-to-charge ratios. To better identify the separately payable radiopharmaceutical agents to which this policy would apply, we propose to assign them to status indicator “H” in Addendum B of this rule. Should ASP data be unavailable for radiopharmaceuticals for CY 2007, it is not apparent to us what methodology we could use to establish payment rates for these items in CY 2007 other than the hospital CY 2006 claims-based methodology. We are seeking comments specifically on the proposed payment policy for separately payable radiopharmaceutical agents in CY 2006.

Section 303(h) of Pub. L. 108-173 exempted radiopharmaceuticals from ASP pricing in the physician office setting where the fewer numbers (relative to the hospital outpatient setting) of radiopharmaceuticals are priced locally by Medicare contractors. However, radiopharmaceuticals are subject to ASP reporting. We currently do not require reporting for radiopharmaceuticals because we do not pay for any of the radiopharmaceuticals using the ASP methodology. However, for CY 2006, we are proposing to begin collecting ASP data on all radiopharmaceutical agents for purposes of ASP-based payment of radiopharmaceuticals beginning in CY 2007.

We recognize that there are significant complex issues surrounding the reporting of ASPs for radiopharmaceutical agents. Most radiopharmaceuticals must be compounded from a “cold kit” containing necessary nonradioactive materials for the final product to which a radioisotope is added. There are critical timing issues, given the short half-lives of many radioisotopes used for diagnostic or therapeutic purposes. Significant variations in practices exist with respect to what entity purchases the constituents and who then compounds the radiopharmaceutical to develop a final product for administration to a patient. For example, manufacturers may sell the components of a radiopharmaceutical to independent radiopharmacies. These radiopharmacies may then sell unit or multi-doses to many hospitals; however, some hospitals also may purchase the components of the radiopharmaceutical and prepare the radiopharmaceutical themselves. In some cases, hospitals may generate the radioisotope on-site, rather than purchasing it. The costs associated with acquiring the radiopharmaceutical in these instances may significantly vary. Also, there may only be manufacturer pricing for the components; however, the price set by the manufacturer for one component of a radiopharmaceutical may not directly translate into the acquisition cost of the ”complete” radiopharmaceutical, which may result from the combination of several components. In general, for drugs other than radiopharmaceuticals, the products sold by manufacturers with National Drug Codes (NDCs) correspond directly with the HCPCS codes for the products administered to patients so ASPs may be directly calculated for the HCPCS codes. In the case of radiopharmaceuticals this 1:1 relationship may not hold, potentially making the calculation of ASPs for radiopharmaceuticals more complex. In addition, some hospitals may generate their own radioisotopes, which they then use for radiopharmaceutical compounding, and they may sell these complete products to other sites. The costs associated with this practice could be difficult to capture through ASP reporting. We seek very specific comments on these and all other relevant issues surrounding implementation of ASP reporting for radiopharmaceuticals. We discuss in section V.B.3.a.(5) of this preamble under the MedPAC report on APC payment rate adjustments, our CY 2006 proposed payment policies for overhead costs of drugs, biologicals, and radiopharmaceuticals.

In section V.D. of the preamble we discuss the methodology that we are proposing to use to determine the CY 2006 payment rates for new drugs, biologicals, and radiopharmaceuticals.

While payments for drugs, biologicals and radiopharmaceuticals are taken into account when calculating budget neutrality, we note that we are proposing to pay for drugs, biologicals and radiopharmaceuticals without scaling these payment amounts. We believe that these payment amounts are the best proxies we have for the average acquisition costs of drugs, biologicals, and radiopharmaceuticals for CY 2006; therefore, Congress would not have intended for us to scale these payment rates. In section V.B.3.a.(5) of this preamble, we also discuss that we propose to add 2 percent of the ASP to the payment rates for drugs and biologicals with rates based on the ASP methodology to provide payment to hospitals for pharmacy overhead costs associated with furnishing these products. We are proposing to scale these additional payment amounts for pharmacy overhead costs. We are seeking comments on whether it is appropriate to exempt payment rates for drugs, biologicals, and radiopharmaceuticals from scaling and scale the additional payment amount for pharmacy overhead costs.

We note that further discussion of the budget neutrality implications of the various drug payment proposals that we considered is included in section XIV.C. of this preamble.

(5) MedPAC Report on APC Payment Rate Adjustment of Specified Covered Outpatient Drugs

Section 1833(t)(14)(E) of the Act, as added by section 621(a)(1) of Pub. L. 108-173, requires MedPAC to submit a report to the Secretary, not later than July 1, 2005, on adjusting the APC rates for specified covered outpatient drugs to take into account overhead and related expenses, such as pharmacy services and handling costs. This provision also requires that the MedPAC report include the following: A description and analysis of the data available for adjusting such overhead expenses; recommendation as to whether a payment adjustment should be made; and the methodology for adjusting payment, if an adjustment is recommended. Section 1833(t)(14)(E)(ii) of the Act, as added by section 621(a)(1) of Pub. L. 108-173, authorizes the Secretary to adjust the APC weights for specified covered outpatient drugs to reflect the MedPAC recommendation.

The statute mandates MedPAC to report on whether drug APC payments under the OPPS should be adjusted to account for pharmacy overhead and nuclear medicine handling costs associated with providing specified covered outpatient drugs. In creating its framework for analysis, MedPAC interviewed stakeholders, analyzed cost report data, conducted four individual hospital case studies, and received technical advice on grouping items with similar handling costs from a team of experts in hospital pharmacy, hospital finance, cost accounting, and nuclear medicine.

MedPAC concluded that the handling costs for drugs, biologicals, and radiopharmaceuticals delivered in the hospital outpatient department are not insignificant, as medications typically administered in outpatient departments generally require greater pharmacy preparation time than do those provided to inpatients. MedPAC found that little information is currently available about the magnitude of these costs. According to the MedPAC analysis, hospitals historically set charges for drugs, biologicals, and radiopharmaceuticals at levels that reflected their respective handling costs, and payments covered both drug acquisition and handling. Moreover, hospitals vary considerably in their likelihood of providing services which utilize drugs, biologicals, or radiopharmaceuticals with different handling costs.

MedPAC developed seven drug categories for pharmacy and nuclear medicine handling costs, according to the level of resources used to prepare the products (Table 23). Characteristics associated with the level of handling resources required included radioactivity, toxicity, mode of administration, and the need for special handling. Groupings ranged from dispensing an oral medication on the low end of relative cost to providing radiopharmaceuticals on the high end. MedPAC collected cost data from four hospitals that were then used to develop relative median costs for all categories but radiopharmaceuticals (Category 7+). The case study facilities were not able to provide sufficient cost information regarding the handling of outpatient radiopharmaceuticals to develop a cost relative for Category 7+. The MedPAC study classified about 230 different drugs, biologicals, and radiopharmaceuticals into the seven categories based on input from their expert panel and each case study facility.

Table 23.—MedPAC Recommended Drug Categories and Median Cost Relatives
Drug category | Description | Median cost relative
Category 1 | Orals (oral tablets, capsules, solutions) | 0.36
Category 2 | Injection/Sterile Preparation (draw up a drug for administration) | 1.00
Category 3 | Single IV Solution/Sterile Preparation (adding a drug or drugs to a sterile IV solution) or Controlled Substances | 1.28
Category 4 | Compounded/Reconstituted IV Preparations (requiring calculations performed correctly and then compounded correctly) | 1.61
Category 5 | Specialty IV or Agents requiring special handling in order to preserve their therapeutic value or Cytotoxic Agents, oral (chemotherapeutic, teratogenic, or toxic) requiring PPE | 2.70
Category 6 | Cytotoxic Agents (chemotherapeutic, teratogenic, or toxic) in all formulations except oral requiring personal protective equipment (PPE) | 5.33
Category 7+ | Radiopharmaceuticals: Basic and Complex Diagnostic Agents, PET Agents, Therapeutic Agents, and Radioimmunoconjugates | (¹)
¹ Not available.

In its report, MedPAC recommended the following:

(1) Establish separate, budget neutral payments to cover the costs hospitals incur for handling separately payable drugs, biologicals, and radiopharmaceuticals; and

(2) Define a set of handling fee APCs that group drugs, biologicals, and radiopharmaceuticals based on attributes of the products that affect handling costs; instruct hospitals to submit charges for these APCs; and base payment rates for the handling fee APCs on submitted charges reduced to costs.

MedPAC found some differences in the categorizations of drug and radiopharmaceutical products by different experts and across the case study sites. In the majority of cases where groupings disagreed, hospitals used different forms of the products which were coded with the same HCPCS code. For example, a drug may be purchased as a prepackaged liquid or as a powder requiring reconstitution. Such a drug would vary in the handling resources required for its preparation and would fall into a different drug category depending on its form. In addition, the handling cost groupings may vary depending on the intended method of drug delivery, such as via intravenous push or intravenous infusion. For a number of commonly used drugs, MedPAC provided two categories in their final consensus categorizations, with the categories 2 and 3 reported as the most frequent combination. For example, MedPAC placed HCPCS codes J1260 (Injection, dolasetron mesylate, 10 mg) and J2020 (Injection, linezolid, 200 mg) in consensus categories 2 and 3, acknowledging that the appropriate categorization could vary depending on the clinical preparation and use of the drug. We note that we have no information regarding hospitals' frequencies of use of various forms of drugs provided in the outpatient department under the OPPS, as the case studies only included four facilities and the technical advisory committee was similarly small. Thus, in many cases it is impossible to exclusively and appropriately assign a drug to a certain overhead category that would apply to all hospital outpatient uses of the drug because of the different handling resources required to prepare different forms of the drugs.

There are over 100 separately payable drugs, biologicals, and radiopharmaceuticals that are separately payable under the OPPS but for which MedPAC provided no consensus categorizations in its seven drug groups. We independently examined these products and considered the handling cost categories that could be appropriately assigned to each product as described by an individual HCPCS code. As discussed above, many of the drugs had several forms which would place them in different handling cost groupings depending on the specific form of the drug prepared by the hospital pharmacy for a patient's treatment. Additionally, we believe that hospitals may have difficulty discriminating among the seven categories for some drugs, because the applicability of a given category description to a specific clinical situation may be ambiguous. Indeed, in the MedPAC study, initially only about 80 percent of the case study pharmacists agreed with the expert panel category assignments; however, concurrence increased that percentage to almost 90 percent after discussion and review. Nevertheless, there remained a number of drugs for which differences in categorization by the case study facilities and the expert panel persisted.

In light of our concerns over our ability to appropriately assign drugs to the seven MedPAC drug categories so that the categories accurately describe the drugs' attributes in all of the OPPS hospitals and the MedPAC recommendations, for CY 2006 we are proposing to establish three distinct HCPCS C-codes and three corresponding APCs for drug handling categories to differentiate overhead costs for drugs and biologicals, by combining several of the categories identified in the MedPAC report. We collapsed the MedPAC categories 2, 3, and 4 into a single category described by HCPCS code CXXXX, and MedPAC categories 5 and 6 into another category described by HCPCS code CYYYY, while maintaining MedPAC category 1 as described by HCPCS code CWWWW. Our rationale for not creating an overhead payment category for radiopharmaceuticals is discussed below. We believe that merging categories in this way generally resolves the categorization dilemmas resulting from the most common scenarios where drugs may fall into more than one grouping and minimizes the administrative burden on hospitals to determine which category applies to the handling of a drug in a specific clinical situation. In addition, these broader handling cost groupings minimize any undesirable payment policy incentives to utilize particular forms of drugs or specific preparation methods. We have only collapsed those categories whose MedPAC relative weights differ by less than a factor of two, consistent with the principle outlined in section 1833(t)(2) of the Act that provides that items and services within an APC group cannot be considered comparable with respect to the use of resources if the median of the highest cost item or service within an APC group is more than 2 times greater than the median of the lowest cost item or service within that same group.

As noted previously, we believe that pharmacy overhead costs are captured in the pharmacy revenue cost centers and reflected in the median cost of drug administration APCs, and the payment rate we established for a drug, biological, or radiopharmaceutical APC was intended to pay only for the cost of acquiring the item (66 FR 59896 and 67 FR 66769). As a MedPAC survey of hospital charging practices indicated that hospitals' charges for drugs, biologicals, and radiopharmaceuticals reflect their handling costs as well as their acquisition costs, we believe pharmacy overhead costs would be incorporated into the OPPS payment rates for drugs, biologicals, and radiopharmaceuticals if the rates are based on hospital claims data. However, in light of our proposal to establish three distinct C-codes for drug handling categories, we are proposing to instruct hospitals to charge the appropriate pharmacy overhead C-code for overhead costs associated with each administration of each separately payable drug and biological based on the code description which best reflects the service the hospital provides to prepare the product for administration to a patient. We would then collect hospital charges for these C-codes for 2 years, and consider basing payment for the corresponding drug handling APCs on the charges reduced to costs in CY 2008, similar to the payment methodology for other procedural APCs. Median hospital costs for the drug handling APCs should reflect the CY 2006 practice patterns across all OPPS hospitals of handling drugs whose preparation is described by each of the C-codes, reflecting the differential utilization of various forms of drugs and alternative methods of preparation and delivery through hospitals' billing and charges for the C-codes. Table 24 contains the drug handling categories, C-codes, and APCs we are proposing for CY 2006.

Table 24.—Proposed CY 2006 Drug Handling Categories, C-Codes, and APCs
Drug handling category | C code | Drug candling APC | Description
Category 1 | CWWWW | WWWW | • Orals (oral tablets, capsules, solutions).
Category 2 | CXXXX | XXXX | • Injection/Sterile Preparation (draw up a drug for administration).
|  |  | • Single IV Solution/Sterile Preparation (adding a drug or drugs to a sterile IV solution) or Controlled Substances.
|  |  | • Compounded/Reconstituted IV Preparations (requiring calculations performed correctly and then compounded correctly).
Category 3 | CYYYY | YYYY | • Specialty IV or Agents requiring special handling in order to preserve their therapeutic value or Cytotoxic Agents, oral (chemotherapeutic, teratogenic, or toxic) requiring PPE.
|  |  | • Cytotoxic Agents (chemotherapeutic, teratogenic, or toxic) in all formulations except oral requiring personal protective equipment (PPE).

We believe that these three categories are sufficiently distinct and reflective of the resources necessary for drug handling to permit appropriate hospital billing and to capture the varying overhead costs of the drugs and biologicals separately payable under the OPPS. We are not proposing to adopt the median cost relatives reported for MedPAC's six categories (excluding radiopharmaceuticals). It is very difficult to accurately crosswalk the cost relatives for the six categories to the three categories we are proposing. In addition, we are not confident that the cost relatives that were based on cost data from four hospitals appropriately reflect the median relative resource costs of all hospitals that would bill these drug handling services under the OPPS. Instead, we believe it is most appropriate to collect hospital charges for the drug handling services based on attributes of the products that affect the hospital resources required for their handling, and consider making future payments under the OPPS using the proposed C-codes based on the medians of charges converted to costs for the drug handling APC associated with each administration of a separately payable drug or biological.

For CY 2006, pursuant to section 1833(t)(14)(E)(ii) of the Act, we propose an adjustment to cover the costs hospitals incur for handling separately payable drugs and biologicals. As we do not currently have separate hospital charge data on pharmacy overhead, we are proposing for CY 2006 to pay for drug and biological overhead costs based on 2 percent of the ASP. As described earlier, we estimated aggregate expenditure for all separately payable OPPS drugs and biologicals (excluding radiopharmaceuticals) using mean costs from the claims data and then determined the equivalent average ASP-based rates. Our calculations indicated that using mean unit costs to set the payment rates for all separately payable drugs and biologicals would be equivalent to basing their payment rates on the ASP+8 percent. As noted previously, because pharmacy overhead costs are already built into the charges for drugs, biologicals, and radiopharmaceuticals as indicated by the MedPAC study described above, we believe that payment for drugs and biologicals and overhead at a combined ASP+8 percent would serve as a proxy for representing both the acquisition cost and overhead cost of each of these products. Moreover, as we are proposing to pay for all separately payable drugs and biologicals using the ASP methodology, where payment rates for most of these items are set at the ASP+6 percent, we believe that an additional 2 percent of the ASP would provide adequate additional payment for the overhead cost of these products and be consistent with historical hospital costs for drug acquisition and handling. Even though we are not proposing to scale the payment rates for drugs and biologicals based on the ASP methodology, we are proposing to scale the additional payment amount of 2 percent of the ASP for pharmacy overhead costs. Therefore, for CY 2006, we are proposing to pay an additional 2 percent of the ASP scaled for budget neutrality for overhead costs associated with separately payable drugs and biologicals, along with paying ASP+6 percent for the acquisition costs of the drugs and biologicals. The payment rate for a separately payable drug or biological shown in Addenda A and B to this proposed rule represents the payment rate for the drug or biological in addition to payment for its overhead costs. We are specifically seeking comments on this proposed policy for paying for pharmacy overhead costs in CY 2006 and on the proposed policy regarding hospital billing of drug handling charges associated with each administration of each separately payable drug or biological using the proposed C-codes.

As discussed earlier, we are proposing to pay for separately payable radiopharmaceutical agents based on their charges in the claims submitted by hospitals converted to costs. MedPAC found that the handling resource costs associated with radiopharmaceuticals were especially difficult to study because of the varying resource requirements for handling them in a variety of hospital outpatient settings for different clinical uses. These various methods of preparation of radiopharmaceuticals, and the individual radiopharmaceuticals themselves, differ significantly in the costs of their handling, with substantial variation in such factors as site of preparation, personnel time, shielding, transportation, equipment, waste disposal, and regulatory compliance requirements. However, as MedPAC also found that handling costs for drugs, biologicals, and radiopharmaceuticals were built into hospitals' charges for the products themselves, we believe that the charges from hospital claims converted to costs are representative of hospital acquisition costs for these agents, as well as their overhead costs. These costs would appropriately reflect each hospital's potentially diverse patterns of acquisition or production of radiopharmaceuticals for use in the outpatient hospital setting and their related handling costs that vary across radiopharmaceutical products and the circumstances of their production and use. Therefore, we are not proposing to create separate handling categories for radiopharmaceutical agents for CY 2006.

However, because we are proposing to collect ASP information for radiopharmaceuticals in CY 2006, we are seeking specific comments on appropriate categories for potentially capturing radiopharmaceutical handling costs. We believe that these handling costs may vary depending on many factors. The handling cost categories should exclude any resources covered by specific diagnostic procedures or administration codes for patient services that utilize the radiopharmaceuticals. However, the handling cost categories should include all aspects of radiopharmaceutical handling and preparation, including transportation, storage, compounding, required shielding, inventory management, revision of dosages based on patient conditions, documentation, disposal, and regulatory compliance. The MedPAC study contractor suggested a variety of discriminating factors which may be related to the magnitude of radiopharmaceutical handling costs, including the complexity of the calculations and manipulations involved with compounding, the intended use of the product for diagnostic or therapeutic purposes, the item's status as a radioimmunoconjugate or non-radioimmunoconjugate, short-lived agents produced in-house, and preparation of the radiopharmaceutical in-house versus production in a commercial radiopharmacy. We are seeking comments on the construction of radiopharmaceutical handling cost categories that would meaningfully reflect differences in the levels of necessary hospital resources and that could easily be understood and applied by hospitals characterizing their preparation of radiopharmaceuticals.

b. Proposed CY 2006 Payment for Nonpass-Through Drugs, Biologicals, and Radiopharmaceuticals With HCPCS Codes, But Without OPPS Hospital Claims Data

Pub. L. 108-173 does not address the OPPS payment in CY 2005 and after for new drugs, biologicals, and radiopharmaceuticals that have assigned HCPCS codes, but that do not have a reference AWP or approval for payment as pass-through drugs or biologicals. Because there is no statutory provision that dictated payment for such drugs and biologicals in CY 2005, and because we had no hospital claims data to use in establishing a payment rate for them, we investigated several payment options for CY 2005 and discussed them in detail in the CY 2005 OPPS final rule with comment period (69 FR 65797 through 65799).

For CY 2006, we are proposing to use the same methodology that we used in CY 2005. That is, we are proposing to pay for these new drugs and biologicals with HCPCS codes but which do not have pass-through status at a rate that is equivalent to the payment they would receive in the physician office setting, which would be established in accordance with the ASP methodology described in the CY 2005 Medicare Physician Fee Schedule final rule (69 FR 66299). As discussed in the OPPS CY 2005 final rule (69 FR 65797), new drugs, biologicals, and radiopharmaceuticals may be expensive and we are concerned that packaging these new items may jeopardize beneficiary access to them. In addition, we do not want to delay separate payment for these items solely because a pass-through application was not submitted. We note that this payment methodology is the same as the methodology that would be used to calculate the OPPS payment amount that pass-through drugs and biologicals would be paid in CY 2006 in accordance with section 1842(o) of the Act, as amended by section 303(b) of Pub. L. 108-173, and section 1847A of the Act. Thus, we are proposing to continue to treat new drugs, biologicals, and radiopharmaceuticals with established HCPCS codes the same, irrespective of whether pass-through status has been determined. We are also proposing to assign status indicator “K” to HCPCS codes for new drugs and biologicals for which we have not received a pass-through application.

There are several drugs, biologicals, and radiopharmaceuticals that were payable during CY 2004 or their HCPCS codes were created effective January 1, 2005 for which we do not have any CY 2004 hospital claims data. In order to determine the packaging status of these items for CY 2006, we calculated an estimate of per day cost of each of these items by multiplying the payment rate for each product as determined using the ASP methodology by an estimated average number of units of each product that would be furnished to a patient during one administration. We are proposing to package items for which we estimated the per administration cost to be less than $50 and pay separately for items with estimated per administration cost greater than $50. Payment for the separately payable items would be based on rates determined using the ASP methodology established in the physician office setting. There are two codes 90393 (Vaccina ig, im) and Q9953 (Inj Fe-based MR contrast, ml) for which we were not able to determine payment rates based on the ASP methodology. Because we are unable to estimate the per administration cost of these items, we are proposing to package them in CY 2006. We are specifically seeking comments on our proposed policy for determining per administration cost of these drugs, biologicals, and radiopharmaceuticals that are payable under the OPPS, but do not have any CY 2004 claims data.

Table 25.—Proposed CY ASP Payment Rate for Drugs, Biologicals, and Radiopharmaceuticals Without CY 2004 Claims Data
HCPCS code | Description | APC | ASP-based payment rate | Est. average number of units per administration | Proposed 2006 status indicator
C1093 | TC99M fanolesomab | 1093 | $1,197.00 | 1 | H
C9206 | Integra, per cm2 | 9206 | 9.06 | 19 | K
J0135 | Adalimumab injection | 1083 | 294.63 | 2 | K
J0288 | Ampho b cholesteryl sulfate | 0735 | 12.00 | 35 | K
J0395 | Arbutamine HCl injection | 9031 | 160.00 | 1 | K
J1180 | Dyphylline injection | 9166 | 7.59 | 8.4 | K
J1457 | Gallium nitrate injection | 1085 | 1.28 | 340 | K
J3315 | Triptorelin pamoate | 9122 | 363.24 | 1 | K
J7350 | Injectable human tissue | 9055 | 3.47 | 33 | K
J9357 | Valrubicin, 200 mg | 9167 | 369.60 | 4 | K
Q2012 | Pegademase bovine, 25 iu | 9168 | 158.05 | 56 | K
Q2018 | Urofollitropin, 75 iu | 7037 | 43.87 | 2 | K
90581 | Anthrax vaccine, sc | 9169 | 126.46 | 1 | K
J0200 | Alatrofloxacin mesylate |  | 14.75 | 2.5 | N
J7674 | Methacholine chloride, neb |  | 0.40 | 8.875 | N
J0190 | Inj biperiden lactate/5 mg |  | 3.16 | 1 | N
J3530 | Nasal vaccine inhalation |  | 15.00 | 1 | N

C. Proposed Coding and Billing Changes for Specified Covered Outpatient Drugs

(If you choose to comment on issues in this section, please include the caption “Drug Coding and Billing” at the beginning of your comment.)

1. Background

As discussed in the January 6, 2004 interim final rule with comment period (69 FR 826), we instructed hospitals to bill for sole source drugs using the existing HCPCS codes, which were priced in accordance with the provisions of section 1833(t)(14)(A)(i) of the Act, as added by Pub. L. 108-173. However, at that time, the existing HCPCS codes did not allow us to differentiate payment amounts for innovator multiple source and noninnovator multiple source forms of the drug. Therefore, effective April 1, 2004, we implemented new HCPCS codes via Program Transmittal 112 (Change Request 3144, February 27, 2004) and Program Transmittal 132 (Change Request 3154, March 30, 2004) that providers were instructed to use to bill for innovator multiple source drugs in order to receive appropriate payment in accordance with section 1833(t)(14)(A)(i)(II) of the Act. We also instructed providers to continue to use the existing HCPCS codes to bill for noninnovator multiple source drugs to receive payment in accordance with section 1833(t)(14)(A)(i)(III) of the Act. These coding policies allowed hospitals to appropriately code for drugs, biologicals, and radiopharmaceuticals based on their classification and to be paid accordingly. We continued this coding practice in CY 2005 with payment made in accordance with section 1833(t)(14)(A)(ii) of the Act.

2. Proposed Policy for CY 2006

For CY 2006, we are proposing to base the payment rates for drugs and biologicals and their pharmacy overhead costs on the ASP methodology that is used to set payment rates for these items in the physician office setting. Under this methodology, a single payment rate for the drug is calculated by considering the prices for both the innovator multiple source (brand) and noninnovator multiple source (generic) forms of the drug. Therefore, under the OPPS, we believe that there is no longer a need to differentiate between the brand and generic forms of a drug. Thus, we are proposing to discontinue use of the C-codes that were created to represent the innovator multiple source drugs. In CY 2006, hospitals would use the HCPCS codes for noninnovator multiple source (generic) drugs to bill for both the brand and generic forms of a drug as they did prior to implementation of section 1833(t)(14)(A) in Pub. L. 108-173. We are specifically requesting comments on this proposed policy.

D. Proposed Payment for New Drugs, Biologicals, and Radiopharmaceuticals Before HCPCS Codes Are Assigned

(If you choose to comment on issues in this section, please include the caption “HCPCS Codes” at the beginning of your comment.)

1. Background

Historically, hospitals have used a HCPCS code for an unlisted or unclassified drug, biological, or radiopharmaceutical or used an appropriate revenue code to bill for drugs, biologicals, and radiopharmaceuticals furnished in the outpatient department that do not have an assigned HCPCS code. The codes for not otherwise classified drugs, biologicals, and radiopharmaceuticals are assigned packaged status under the OPPS. That is, separate payment is not made for the code, but charges for the code would be eligible for an outlier payment and, in future OPPS updates, the charges for the code are packaged with the separately payable service with which the code is reported for the same date of service.

Drugs and biologicals that are newly approved by the FDA and for which a HCPCS code has not yet been assigned by the National HCPCS Alpha-Numeric Workgroup could qualify for pass-through payment under the OPPS. An application must be submitted to CMS in order for a drug or biological to be assigned pass-through status, a temporary C-code assigned for billing purposes, and an APC payment amount to be determined. Pass-through applications are reviewed on a flow basis, and payment for drugs and biologicals approved for pass-through status is implemented throughout the year as part of the quarterly updates of the OPPS.

2. Proposed Policy for CY 2006

Section 1833(t)(15) of the Act, as added by section 621(a)(1) of Pub. L. 108-173, provides for payment for new drugs and biologicals until HCPCS codes are assigned under the OPPS. Under this provision, we are required to make payment for an outpatient drug or biological that is furnished as part of the covered OPD services for which a HCPCS code has not been assigned in an amount equal to 95 percent of AWP. This provision applies only to payments made under the OPPS on or after January 1, 2004.

We initially adopted the methodology for determining payment under section 1833(t)(15) of the Act on an interim basis on May 28, 2004, via Transmittal 188, Change Request 3287, and finalized the methodology for CY 2005 in our CY 2005 OPPS final rule with comment period. In that final rule with comment period, we also expanded the methodology to include payment for new radiopharmaceuticals to which a HCPCS code is not assigned (69 FR 65804 through 65807). We instructed hospitals to bill for a drug or biological that is newly approved by the FDA by reporting the NDC for the product along with a new HCPCS code, C9399 (Unclassified drug or biological). When HCPCS code C9399 appears on a claim, the OCE suspends the claim for manual pricing by the fiscal intermediary. The fiscal intermediary prices the claim at 95 percent of its AWP using the Red Book or an equivalent recognized compendium, and processes the claim for payment. This approach enables hospitals to bill and receive payment for a new drug, biological, or radiopharmaceutical concurrent with its approval by the FDA. The hospital does not have to wait for the next OPPS quarterly release or for approval of a product-specific HCPCS code to receive payment for a newly approved drug, biological, or radiopharmaceutical. In addition, the hospital does not have to resubmit claims for adjustment. Hospitals would discontinue billing HCPCS code C9399 and the NDC upon implementation of a HCPCS code, status indicator, and appropriate payment amount with the next OPPS quarterly update.

For CY 2006, we are proposing to continue the same methodology for paying for new drugs, biologicals, and radiopharmaceuticals without HCPCS codes.

E. Proposed Payment for Vaccines

(If you choose to comment on issues in this section, please include the caption “Vaccines” at the beginning of your comment.)

Outpatient hospital departments administer large numbers of immunizations for influenza (flu) and pneumococcal pneumonia (PPV), typically by participating in immunization programs. In recent years, the availability and cost of some vaccines (particularly the flu vaccine) have fluctuated considerably. As discussed in the November 1, 2002 final rule (67 FR 66718), we were advised by providers that the OPPS payment was insufficient to cover the costs of the flu vaccine and that access of Medicare beneficiaries to flu vaccines might be limited. They cited the timing of updates to the OPPS rates as a major concern. They indicated that our update methodology, which uses 2-year-old claims data to recalibrate payment rates, would never be able to take into account yearly fluctuations in the costs of the flu vaccine. We agreed with this concern and decided to pay hospitals for influenza and pneumococcal pneumonia vaccines based on a reasonable cost methodology. As a result of this change, hospitals, home health agencies (HHAs), and hospices, which were paid for these vaccines under the OPPS in CY 2002, have been receiving payment at reasonable cost for these vaccines since CY 2003.

Influenza, pneumococcal, and hepatitis B vaccines and their administration are specifically covered by Medicare under section 1861(s)(10) of the Act. We are proposing to continue to pay influenza and pneumococcal vaccines at reasonable cost in CY 2006. However, hepatitis B vaccines so far have been paid under clinical APCs that also include other vaccines. For CY 2006, we are proposing to pay for all hepatitis B vaccines at reasonable cost, consistent with the payment methodology for influenza and pneumococcal vaccines. Influenza and pneumococcal vaccines are exempt from coinsurance and deductible payments under sections 1833(a)(3) and 1833(b) of the Act and have been assigned to status indicator “L”. However, hepatitis B vaccines have no similar coinsurance or deductible exemption. Therefore, we are proposing to assign these items to status indicator “F”.

Previously, under the OPPS, separately payable vaccines other than influenza and pneumococcal were grouped into clinical APCs 355 and 356 for payment purposes. Payment rates for these APCs were based on the APCs' median costs, calculated from the costs of all of the vaccines grouped within the APCs. For CY 2006, we are proposing to pay for each separately payable vaccine under its own APC, consistent with our policy for separately payable drugs other than vaccines, instead of aggregating them into clinical APCs with other vaccines. We believe this policy would allow us to more appropriately establish a payment rate for each separately payable vaccine based on the ASP methodology. We are specifically requesting comments on our proposed vaccine policies for CY 2006. Proposed policy changes to coding and payments for the administration of these vaccines are discussed in section VIII. of this preamble.

F. Proposed Changes in Payment for Single Indication Orphan Drugs

(If you choose to comment on issues in this section, please include the caption “Orphan Drugs” at the beginning of your comment.)

Section 1833 (t)(1)((B)(i) of the Act gives the Secretary the authority to designate the hospital outpatient services to be covered. The Secretary has specified coverage for certain drugs as orphan drugs (section 1833(t)(14)(B)(ii)(III) of the Act, as added by section 621(a)(1) of Pub. L. 108-173). Section 1833 (t)(14)(C) of the Act, as added by section 621(a)(1) of Pub. L. 108-173, gives the Secretary the authority in CYs 2004 and 2005 to specify the amount of payment for an orphan drug that has been designated as such by the Secretary.

We recognize that orphan drugs that are used solely for an orphan condition or conditions are generally expensive and, by definition, are rarely used. We believe that if the costs of these drugs were packaged into the payment for an associated procedure or visit, the payment for the procedure might be insufficient to compensate a hospital for the typically high costs of this special type of drug. Therefore, we are proposing to continue paying for them separately.

In the November 1, 2002 final rule (67 FR 66772), we identified 11 single indication orphan drugs that are used solely for orphan conditions by applying the following criteria:

• The drug is designated as an orphan drug by the FDA and approved by the FDA for treatment of only one or more orphan condition(s).

• The current United States Pharmacopoeia Drug Information (USPDI) shows that the drug has neither an approved use nor an off-label use for other than the orphan condition(s).

Eleven single indication orphan drugs were identified as having met these criteria and payments for these drugs were made outside of the OPPS on a reasonable cost basis.

In the November 7, 2003 final rule with comment period (68 FR 63452), we discontinued payment for orphan drugs on a reasonable cost basis and made separate payments for each single indication orphan drug under its own APC. Payments for the orphan drugs were made at 88 percent of the AWP listed for these drugs in the April 1, 2003 single drug pricer, unless we were presented with verifiable information that showed that our payment rate did not reflect the price that was widely available to the hospital market. For CY 2004, Ceredase (alglucerase) and Cerezyme (imiglucerase) were paid at 94 percent of the AWP because external data submitted by commenters on the August 12, 2003 proposed rule caused us to believe that payment at 88 percent of the AWP would be insufficient to ensure beneficiaries' access to these drugs.

In the December 31, 2003 correction of the November 7, 2003 final rule with comment period (68 FR 75442), we added HCPCS code J9017 (Arsenic trioxide, 1 mg) to our list of single indication orphan drugs. In the November 15, 2004 final rule with comment period (69 FR 65807), we retained the same criteria for identifying single indication orphan drugs and added two HCPCS codes to our list—C9218 (Injection, Azactidine, per 1 mg) and J9010 (Alemtuzumab, 10 mg) (69 FR 65808). As of CY 2005, the following are the 14 orphan drugs that we have identified as meeting our criteria: C9218 (Injection, Azactidine, per 1 mg); J0205 (Injection, Alglucerase, per 10 units); J0256 (Injection, Alpha 1-proteinase inhibitor, 10 mg); J9300 (Gemtuzumab ozogamicin, 5mg); J1785 (Injection, Imiglucerase, per unit); J2355 (Injection, Oprelvekin, 5 mg); J3240 (Injection, Thyrotropin alpha, 0.9 mg); J7513 (Daclizumab, parenteral, 25 mg); J9010 (Alemtuzumab, 10 mg); J9015 (Aldesleukin, per single use vial); J9017 (Arsenic trioxide, 1 mg); J9160 (Denileukin diftitox, 300 mcg); J9216 (Interferon, gamma 1-b, 3 million units); and Q2019 (Injection, Basiliximab, 20 mg).

In the November 15, 2004 final rule with comment period (69 FR 65808), we stated that had we not classified these drugs as single indication orphan drugs for payment under the OPPS, they would have met the definition of single source specified covered outpatient drugs and received lower payments, which could have impeded beneficiary access to these unique drugs dedicated to the treatment of rare diseases. Instead, for CY 2005, under our authority at section 1833(t)(14)(C) of the Act, we set payment for all 14 single indication orphan drugs at the higher of 88 percent of the AWP or the ASP+6 percent. For CY 2005, we also updated on a quarterly basis the payment rates through comparison of the most current ASP and AWP information available to us. Given that CY 2005 was the first year of mandatory ASP reporting by manufacturers, we did not want potential significant fluctuations in the ASPs to affect payments to hospitals furnishing these drugs, which in turn might cause access problems for beneficiaries. Therefore, in the November 15, 2004 final rule, we did not implement the proposed 95 percent AWP cap on payments for single indication orphan drugs which was described in the August 16, 2004 proposed rule (69 FR 50518), as we intended to monitor the impact of our payment policy and consider the need for a cap in future OPPS updates if appropriate (69 FR 65809).

As a part of the GAO study on hospital acquisition costs of specified covered outpatient drugs, the GAO provided the average hospital purchase prices for four orphan drugs: J0256 (Injection, Alpha 1-proteinase inhibitor, 10 mg), J1785 (Injection, Imiglucerase, per unit), J9160 (Denileukin difitox, 300 mcg), and J9010 (Alemtuzumab, 10 mg).

For alpha 1-proteinase inhibitor (J0256), the hospitals in the study sample represented only about 14 percent of the estimated total number of hospitals purchasing the drug. The mean hospital purchase price was about 73 percent of the payment rate based on ASP+6 percent rate and about 63 percent of the CY 2005 payment rate updated in April 2005. We believe the GAO acquisition data for alpha 1-proteinase inhibitor are likely not representative of hospital acquisition costs for the drug because the number of hospitals providing data was so small compared to the total number of hospitals expected to utilize the drug. Furthermore, we recognize that the GAO data on hospital drug acquisition costs do not reflect the current acquisition costs experienced by hospitals but instead, rely on past cost data from late CY 2003 through early CY 2004. On the other hand, the ASP data are more current and thus are likely more reflective of present hospital acquisition costs for alpha 1-proteinase inhibitor.

In contrast to the GAO data for alpha 1-proteinase inhibitor, the GAO data for imiglucerase (J1785) reflect hospital purchase prices from about 69 percent of the hospitals expected to utilize the drug. For this drug, the mean hospital purchase price was about 93 percent of the CY 2005 payment rate for imiglucerase updated in April 2005, which was based on ASP+6 percent rate. Thus, the ASP-based payment rate also would appear to be appropriately reflective of hospital acquisition costs for imiglucerase, and to be consistent with the GAO mean purchase price.

For denileukin difitox (J9160) and alemtuzumab (J9010), the GAO data for these drugs reflect hospital purchase prices from about 77 percent and 66 percent of the hospitals expected to acquire these drugs, respectively. The mean hospital purchase price for denileukin difitox was about 94 percent of the payment rate based on the ASP+6 percent rate and about 79 percent of the CY 2005 payment rate. As for alemtuzumab, the mean hospital purchase price was about 95 percent of the payment rate based on the ASP+6 percent rate and about 89 percent of the CY 2005 payment rate. For both of these drugs, the ASP-based payment rates also appear to be appropriately reflective of their hospital acquisition costs, based on confirmation by the GAO average purchase price data from over two-thirds of the hospitals expected to acquire the drugs.

During the quarterly updates to payment rates for single indication orphan drugs for CY 2005, we observed significant improvement in the accuracy and consistency of manufacturers' reporting of the ASPs for these orphan drugs. Overall, we found that the ASPs as compared to the AWPs were less likely to experience dramatic fluctuations in prices from quarter to quarter. We expect that as the ASP system continues to mature, manufacturers will further refine their quarterly reporting, leading to even greater stability and accuracy in their reporting of sales prices. As the ASPs reflect the average sales prices to all purchasers, the ASP data also include drug sales to hospitals. Past commenters have indicated to us that some orphan drugs are administered principally in hospitals, and to the extent that this is true their ASPs should predominantly be based upon the sales of drugs used by hospitals. For three of the orphan drugs for which the GAO provided average purchase prices from a large percentage of hospitals expected to acquire the drugs, the GAO data were very consistent with the ASP+6 percent. For the fourth drug, the GAO mean was significantly lower than the ASP+6 percent and the confidence interval around that mean was quite tight, although only a small proportion of hospitals expected to acquire the drug reported their purchase prices. Thus, we believe that proposing to pay for orphan drugs based on an ASP methodology is appropriate for the CY 2006 OPPS and should assure patients' continued access to these orphan drugs in the hospital outpatient department. Therefore, for CY 2006, we are proposing to pay for single indication orphan drugs at the ASP+6 percent. We believe that paying for orphan drugs using the ASP methodology is consistent with our proposed general drug payment policy for other separately payable drugs and biologicals in the CY 2006 and reflects our general view that ASP-based payment rates serve as the best proxy for the average acquisition cost for these items as described in this section V. of the preamble. In addition, we are proposing to pay an additional 2 percent of the ASP scaled for budget neutrality to cover the handling costs of these drugs, also consistent with our proposed general pharmacy overhead payment policy for handling costs associated with separately payable drugs and biologicals. We believe that the ASPs plus 6 percent for orphan drugs will provide appropriate payment for hospital acquisition costs for these drugs that are administered by a relatively small number of providers, so that patients will continue to have access to orphan drugs in the hospital outpatient setting. Hospitals will also receive additional payments for costs associated with their storage, handling, and preparation of orphan drugs. Payment rates will be updated on a quarterly basis to reflect the most current ASPs available to us. Appropriate adjustments to the payment amounts shown in Addendum A and B would be made if the ASP submissions in a later quarter indicate that adjustments to the payment rates are necessary. These changes to the Addenda would be announced in our program instructions released on a quarterly basis and posted on our Web site at http://www.cms.hhs.gov. We are specifically requesting comments on our proposed payment policy for orphan drugs in CY 2006.

VI. Estimate of Transitional Pass-Through Spending in CY 2006 for Drugs, Biologicals, and Devices

(If you choose to comment on issues in this section, please include the caption “Estimated Transitional Pass-Through Spending” at the beginning of your comment.)

A. Total Allowed Pass-Through Spending

Section 1833(t)(6)(E) of the Act limits the total projected amount of transitional pass-through payments for drugs, biologicals, radiopharmaceuticals, and categories of devices for a given year to an “applicable percentage” of projected total Medicare and beneficiary payments under the hospital OPPS. For a year before CY 2004, the applicable percentage was 2.5 percent; for CY 2005 and subsequent years, we specify the applicable percentage up to 2.0 percent.

If we estimate before the beginning of the calendar year that the total amount of pass-through payments in that year would exceed the applicable percentage, section 1833(t)(6)(E)(iii) of the Act requires a uniform reduction in the amount of each of the transitional pass-through payments made in that year to ensure that the limit is not exceeded. We make an estimate of pass-through spending to determine not only whether payments exceed the applicable percentage, but also to determine the appropriate reduction to the conversion factor for the projected level of pass-through spending in the following year.

For devices, making an estimate of pass-through spending in CY 2006 entails estimating spending for two groups of items. The first group consists of those items for which we have claims data for procedures that we believe used devices that were eligible for pass-through status in CY 2004 and CY 2005 and that would continue to be eligible for pass-through payment in CY 2006. The second group consists of those items for which we have no direct claims data, that is, items that became, or would become, eligible in CY 2005 and would retain pass-through status in CY 2006, as well as items that would be newly eligible for pass-through payment beginning in CY 2006.

B. Estimate of Pass-Through Spending for CY 2006

We are proposing to set the applicable percentage cap at 2.0 percent of the total OPPS projected payments for CY 2006. As we discuss in section IV.C. of this preamble, the three remaining device categories receiving pass-through payment in CY 2005 will expire on December 31, 2005. Therefore, we estimate pass-through spending attributable to the first group of items described above to equal zero.

To estimate CY 2006 pass-through spending for device categories in the second group, that is, items for which we have no direct claims data, we are proposing to use the following approach: For additional device categories that are approved for pass-through status after July 1, 2005, but before January 1, 2006, we are proposing to use price information from manufacturers and volume estimates based on claims for procedures that would most likely use the devices in question because we would have no CY 2004 claims data upon which to base a spending estimate. We are proposing to project these data forward to CY 2006 using inflation and utilization factors based on total growth in OPPS services as projected by CMS' Office of the Actuary (OACT) to estimate CY 2006 pass-through spending for this group of device categories. For device categories that become eligible for pass-through status in CY 2006, we are proposing to use the same methodology. We anticipate that any new categories for January 1, 2006, would be announced after the publication of this proposed rule, but before publication of the final rule. Therefore, the estimate of pass-through spending in the CY 2006 OPPS final rule would incorporate any pass-through spending for device categories made effective January 1, 2006, and during subsequent quarters of CY 2006.

With respect to CY 2006 pass-through spending for drugs and biologicals, as we explain in section V.A.3. of this proposed rule, the pass-through payment amount for new drugs and biologicals that we determine have pass-through status would equal zero. Therefore, our estimate of pass-through spending for drugs and biologicals with pass-through status in CY 2006 equals zero.

In accordance with the methodology described above and the methodology for estimating pass-through spending discussed in the August 16, 2004 proposed rule (69 FR 50526), we estimate that total pass-through spending for device categories that first become eligible for pass-through status after publication of this proposed rule for which pass-through payment continues in CY 2006 or become eligible during CY 2006 would equal approximately $12.5 million, which represents 0.05 percent of total OPPS projected payments for CY 2006. This figure includes estimates for the current device categories continuing into CY 2006, which equals zero, in addition to projections for categories that first become eligible during the second half of CY 2005 or in CY 2006.

This estimate of total pass-through spending for CY 2006 is significantly lower than previous years' estimates both because of the method we are proposing in section V.A.3. of this preamble for determining the amount of pass-through payment for drugs and biologicals with pass-through status, and the fact that there are no CY 2005 pass-through device categories that are being carried over to CY 2006.

Because we estimate pass-through spending in CY 2006 would not amount to 2.0 percent of total projected OPPS CY 2006 spending, we are proposing to return 1.95 percent of the pass-through pool to adjust the conversion factor, as we discuss in section II.C. of this preamble.

VII. Proposed Brachytherapy Payment Changes

(If you choose to comment on issues in this section, please include the caption “Brachytherapy” at the beginning of your comment.)

A. Background

Section 1833(t)(16)(C) and section 1833(t)(2)(H) of the Act, as added by sections 621(b)(1) and (b)(2) of Pub. L. 108-173, respectively, establish separate payment for devices of brachytherapy consisting of a seed or seeds (or radioactive source) based on a hospital's charges for the service, adjusted to cost. Charges for the brachytherapy devices may not be used in determining any outlier payments under the OPPS. In addition, consistent with our practice under the OPPS to exclude items paid at cost from budget neutrality consideration, these items must be excluded from budget neutrality as well. The period of payment under this provision is for brachytherapy sources furnished from January 1, 2004, through December 31, 2006.

Section 621(b)(3) of Pub. L. 108-173 requires the Government Accountability Office (GAO) to conduct a study to determine appropriate payment amounts for devices of brachytherapy, and to submit a report on its study to the Congress and the Secretary, including recommendations. We are awaiting the report and any recommendations on the payment of brachytherapy, which would pertain to brachytherapy payments after December 31, 2006.

In the OPPS interim final rule with comment period published on January 6, 2004 (69 FR 827), we implemented sections 621(b)(1) and (b)(2)(C) of Pub. L. 108-173. In that rule, we stated that we will pay for the brachytherapy sources listed in Table 4 of the interim final rule with comment period (69 FR 828) on a cost basis, as required by the statute. The status indicator for brachytherapy sources was changed to “H.” The definition of status indicator “H” was for pass-through payment only for devices, but the brachytherapy sources affected by sections 1833(t)(16)(C) and 1833(t)(2)(H) of the Act are not pass-through device categories. Therefore, we also changed, for CY 2004, the definition of payment status indicator “H” to include nonpass-through brachytherapy sources paid on a cost basis. This use of status indicator “H” was a pragmatic decision that allowed us to pay for brachytherapy sources in accordance with section 1833(t)(16)(C) of the Act, effective January 1, 2004, without having to modify our claims processing systems. We stated in the January 6, 2004 interim final rule with comment period that we would revisit the use and definition of status indicator “H” for this purpose in the OPPS update for CY 2005. In the November 15, 2004 final rule with comment period, we finalized this policy for CY 2005 (69 FR 65838).

As we indicated in the January 6, 2004 interim final rule with comment period, we began payment for the brachytherapy source in HCPCS code C1717 (Brachytx source, HCR lr-192) based on the hospital's charge adjusted to cost beginning January 1, 2004. Prior to enactment of Pub. L. 108-173, these sources were paid as packaged services in APC 0313. As a result of the requirement under Pub. L. 108-173 to pay for HCPCS code C1717 separately, we adjusted the payment rate for APC 0313, Brachytherapy, to reflect the unpackaging of the brachytherapy source. We finalized this payment methodology in our November 15, 2004 final rule with comment period (69 FR 65839).

Section 1833(t)(2)(H) of the Act, as added by section 621(b)(2)(C) of Pub. L. 108-173, mandated the creation of separate groups of covered OPD services that classify brachytherapy devices separately from other services or groups of services. The additional groups must be created in a manner that reflects the number, isotope, and radioactive intensity of the devices of brachytherapy furnished, including separate groups for Palladium-103 and Iodine-125 devices. At its meetings in February 2004, the APC Panel heard from parties that recommended the addition of two new codes to describe brachtherapy sources in a manner that reflects the number, radioisostope, and radioactive intensity of the sources. The presenters recommended two new brachytherapy HCPCS codes and APCs for high activity Iodine-125 and high activity Palladium-103. The APC Panel, in turn, recommended that CMS establish new HCPCS codes and new APCs, on a per source basis, for these two brachytherapy sources.

We considered this recommendation and agreed with the APC Panel. Therefore, in the November 15, 2004 final rule with comment period, we established the following two new brachytherapy source codes for CY 2005:

C2634 Brachytherapy source, High Activity Iodine-125, greater than 1.01 mCi (NIST), per source

C2635 Brachytherapy source, High Activity Palladium-103, greater than 2.2 mCi (NIST), per source

In addition, we believed the APC Panel's recommendation to establish new HCPCS codes that would distinguish high activity Iodine-125 from high activity Palladium-103 on a per source basis should have been implemented for other brachytherapy code descriptors, as well. Therefore, beginning January 1, 2005, we included “per source” in the HCPCS code descriptors for all those brachytherapy source descriptors for which units of payment were not already delineated. Table 40 published in the November 15, 2004 final rule with comment period included a complete listing of the HCPCS codes, long descriptors, APC assignments, and status indicators that we used for brachytherapy sources paid under the OPPS in CY 2005 (69 FR 65840 through 65841).

Further, for CY 2005, we added the following code of linear source Palladium-103 to be paid at cost: C2636 Brachytherapy linear source, Palladium-103, per 1 mm. We had indicated in our August 16, 2004 proposed rule that we were aware of a new linear source Palladium-103, which came to our attention in CY 2003 through an application for a new device category for pass-through payment. We stated that, while we decided not to create a new category for pass-through payment, we believed that the new linear source fell under the provisions of Pub. L. 108-173. Therefore, we made final our proposal to add HCPCS code C2636 as a new brachytherapy source to be paid at cost in CY 2005.

B. Proposed Changes Related to Pub. L. 108-173

We have consistently invited the public to submit recommendations for new codes to describe brachytherapy sources in a manner reflecting the number, radioisotope, and radioactivity intensity of the sources. We requested that commenters provide a detailed rationale to support recommended new codes and to send recommendations to us. We stated that we would endeavor to add new brachytherapy source codes and descriptors to our systems for payment on a quarterly basis. We have only very recently received one such request for coding and payment of a new brachytherapy source since we added separate APC payment beginning in CY 2005 for the three brachytherapy sources discussed above. We will evaluate this source prior to our final rule for CY 2006. Therefore, we are not proposing any coding changes to the sources of brachytherapy for CY 2006 at this time. Table 26 below includes a list of the separately payable brachytherapy sources that we are proposing to continue for CY 2006.

Table 26.—Proposed Separately Payable Brachytherapy Sources for CY 2006
HCPCS | Long descriptor | APC | APC title | New status indicator
C1716 | Brachytherapy source, Gold 198, per source | 1716 | Brachytx source, Gold 198 | H
C1717 | Brachytherapy source, High Dose Rate Iridium 192, per source | 1717 | Brachytx source, HDR Ir-192 | H
C1718 | Brachytherapy source, Iodine 125, per source | 1718 | Brachytx source, Iodine 125 | H
C1719 | Brachytherapy source, Non-High Dose Rate Iridium 192, per source | 1719 | Brachytx source, Non-HDR Ir-192 | H
C1720 | Brachytherapy source, Palladium 103, per source | 1720 | Brachytx source, Palladium 103 | H
C2616 | Brachytherapy source, Yttrium-90, per source | 2616 | Brachytx source, Yttrium-90 | H
C2632 | Brachytherapy solution, Iodine 125, per mCi | 2632 | Brachytx sol, I-125, per mCi | H
C2633 | Brachytherapy source, Cesium-131, per source | 2633 | Brachytx source, Cesium-131 | H
C2634 | Brachytherapy source, High Activity, Iodine-125, greater than 1.01 mCi (NIST), per source | 2634 | Brachytx source, HA, I-125 | H
C2635 | Brachytherapy source, High Activity, Palladium-103, greater than 2.2 mCi (NIST), per source | 2635 | Brachytx source, HA, P-103 | H

VIII. Proposed Coding and Payment for Drug Administration

(If you choose to comment on issues in this section, please include the caption “Drug Administration” at the beginning of your comment.)

A. Background

From the start of the OPPS until the end of CY 2004, three HCPCS codes were used to bill drug administration services provided in the hospital outpatient department:

• Q0081 (Infusion therapy, using other than chemotherapeutic drugs, per visit)

• Q0083 (Chemotherapy administration by other than infusion technique only, per visit)

• Q0084 (Chemotherapy administration by infusion technique only, per visit) A fourth OPPS drug administration HCPCS code, Q0085 (Administration of chemotherapy by both infusion and another route, per visit) was active from the beginning of the OPPS through the end of CY 2003.

Each of these four HCPCS codes mapped to an APC (that is, Q0081 mapped to APC 0120, Q0083 mapped to APC 0116, Q0084 mapped to APC 0117, and Q0085 mapped to APC 0118), and APC payment rates for these codes were made on a per-visit basis. The per-visit payment included payment for all hospital resources (except separately payable drugs) associated with the drug administration procedures. For CY 2004, we discontinued using HCPCS code Q0085 to identify drug administration services, moving to a combination of HCPCS codes Q0083 and Q0084 that allowed more accurate calculations when determining OPPS payment rates.

In response to comments we received concerning the available opportunities to gather additional drug administration data (and subsequently facilitate development of more accurate payment rates for drug administration services in future years) and to reduce hospital administrative burden, we proposed for the CY 2005 OPPS to change our coding and payment methodologies related to drug administration services.

After examining comments and suggestions, including recommendations of the APC Panel, we adopted a crosswalk for the CY 2005 OPPS that identified all active CPT drug administration codes and the corresponding Q-codes, which hospitals had previously used to report their charges for the procedures. Hospitals were instructed to begin billing CPT codes for drug administration services in the hospital outpatient department effective January 1, 2005.

Payment rates for CY 2005 drug administration services were set using CY 2003 claims data. These data reflected per-visit costs associated with the four Q-codes listed above. To allow for the time necessary to collect data at the more specific CPT code level and to continue accurate payments based on available claims data, we used the Q-code crosswalk to map CPT drug administration codes to existing drug administration APCs. While hospitals were instructed to bill all relevant CPT codes that describe the services provided, the Outpatient Code Editor (OCE) collapsed payments for drug administration services attributed to the same APC and paid a single APC amount for those services for each visit, unless a modifier was used to identify drug administration services provided more than once in a separate encounter on the same day.

B. Proposed Changes for CY 2006

In 2004, the CPT Editorial Panel approved several new drug administration codes and revised several existing codes for use beginning in 2006. For use in the physician office setting in CY 2005, we established HCPCS G-codes that correspond with the expected new CPT codes that will become active in 2006.

For CY 2006 OPPS billing purposes, we are proposing to continue our policy of using CPT codes to bill for drug administration services provided in the hospital outpatient department. We anticipate that the current CPT codes will no longer be effective in CY 2006, and, therefore, we are proposing a CY 2006 crosswalk that maps current CPT codes to the CPT drug administration codes approved by the CPT Editorial Panel in 2004, which correspond to the G-codes used in the physician office setting for CY 2005 and which we expect to become active CPT codes for 2006.

The OPPS drug administration payment rates that we are proposing for CY 2006 are dependent on CY 2004 data containing per-visit charges for HCPCS codes Q0081, Q0083, and Q0084. While HCPCS code Q0085 was used to inform payment rates for drug administration APCs for CY 2005, there are no data from this code to develop payment rates for drug administration APCs for CY 2006 because this code was not used in CY 2004. We are proposing to map the new CPT codes to existing drug administration APC groups (APC 0116, APC 0117, and APC 0120) as we did in CY 2005. Again, hospitals would be expected to bill all relevant CPT codes for services provided, but payment for services within the same APC group would be collapsed by the OCE into a single per-visit APC payment, unless a modifier is used to identify drug administration services provided more than once in a separate encounter on the same day.

Table 27 shows the crosswalk from the CY 2005 CPT codes to the expected CY 2006 CPT codes (indicated by definition and 2005 HCPCS G-code) and includes the proposed CY 2006 status indicators and APC payment groups for these services. At its February 2005 meeting, the APC Panel recommended that this crosswalk be used to establish drug administration payments for the CY 2006 OPPS. Therefore, we are proposing to use the crosswalk as illustrated in Table 27 to assign drug administration services to APC payment groups for CY 2006 OPPS.

Table 27.—Proposed Crosswalk From Expected CY 2006 Drug Administration CPT Codes to Drug Administration APCs
[Note: G-codes are only for use in the physician office setting in CY 2005]
2005 CPT code | 2005 HCPCS code | Description | CY 2006 Proposed status indicator | APC | OCE maximum APC units without modifier 59 | OCE maximum APC units with modifier 59
90780 | G0345 | Intravenous Infusion, Hydration; Initial, up to one hour | S | 0120 | 1 | 4
90781 | G0346 | Intravenous Infusion, Hydration; each additional hour, up to eight (8) hours | N |  | 0 | 0
90780 | G0347 | Intravenous Infusion, for Therapeutic/Diagnostic; Initial, up to one hour | S | 0120 | 1 | 4
90781 | G0348 | Intravenous Infusion, for Therapeutic/Diagnostic; each additional hour, up to eight (8) hours | N |  | 0 | 0
| G0349 | Intravenous Infusion, for Therapeutic/Diagnostic; additional sequential infusion, up to one hour | N |  | 0 | 0
| G0350 | Intravenous Infusion, for Therapeutic/Diagnostic; concurrent infusion | N |  | 0 | 0
90782 | G0351 | Therapeutic or Diagnostic Injection; subcutaneous or intramuscular | X | 0353 | N/A | N/A
90784 | G0353 | Intravenous Push; single or initial substance/drug | X | 0359 | N/A | N/A
90784 | G0354 | Intravenous Push; each additional sequential intravenous push | X | 0359 | N/A | N/A
90783 | 90783 | Injection, ia | X | 0359 | N/A | N/A
90788 | 90788 | Injection of antibiotic | X | 0359 | N/A | N/A
96549 | 96549 | Chemotherapy, unspecified | S | 0116 | 1 | 2
96400 | G0355 | Chemotherapy Administration, subcutaneous or intramuscular non-hormonal antineoplastic | S | 0116 | 1 | 2
96400 | G0356 | Chemotherapy Administration, subcutaneous or intramuscular hormonal antineoplastic | S | 0116 | 1 | 2
96542 | 96542 | Chemotherapy injection | S | 0116 | 1 | 2
96405 | 96405 | Intralesional chemo admin | S | 0116 | 1 | 2
96406 | 96406 | Intralesional chemo admin | S | 0116 | 1 | 2
96408 | G0357 | Intravenous, push technique, single or initial substance/drug | S | 0116 | 1 | 2
96408 | G0358 | Intravenous, push technique, each additional substance/drug | S | 0116 | 1 | 2
96420 | 96420 | Chemotherapy, push technique | S | 0116 | 1 | 2
96440 | 96440 | Chemotherapy, intracavitary | S | 0116 | 1 | 2
96445 | 96445 | Chemotherapy, intracavitary | S | 0116 | 1 | 2
96450 | 96450 | Chemotherapy, into CNS | S | 0116 | 1 | 2
96410 | G0359 | Chemotherapy Administration, Intravenous Infusion Technique; up to one hour, single or initial substance/drug | S | 0117 | 1 | 2
96412 | G0360 | Chemotherapy Administration, Intravenous Infusion Technique; Each additional hour, one to eight (8) hours | N |  | 0 | 0
| G0362 | Chemotherapy Administration, Intravenous Infusion Technique; Each additional sequential infusion (different substance/drug), up to one hour | N |  | 0 | 0
96414 | G0361 | Initiation of prolonged chemotherapy infusion (more than eight hours), requiring use of a portable or implantable pump | S | 0117 | 1 | 2
96422 | 96422 | Chemotherapy, infusion method | S | 0117 | 1 | 2
96423 | 96423 | Chemo, infuse method add-on | N |  | 0 | 0
96425 | 96425 | Chemotherapy, infusion method | S | 0117 | 1 | 2
| G0363 | Irrigation of Implanted Venous Access Device for Drug Delivery Systems | N |  | 0 | 0
96520 | 96520 | Port pump refill & main | T | 0125 | N/A | N/A
96530 | 96530 | Syst pump refill & main | T | 0125 | N/A | N/A

C. Proposed Changes to Vaccine Administration

Hospitals currently use three HCPCS G-codes to indicate the administration of the following vaccines that have specific statutory coverage:

• G0008—Administration of Influenza Virus Vaccine

• G0009—Administration of Pneumococcal Vaccine

• G0010—Administration of Hepatitis B Vaccine

HCPCS codes G0008 and G0009 are exempt from beneficiary coinsurance and deductible applications and, as such, payment has been made outside of the OPPS since CY 2003 based on reasonable cost. We have made payment for HCPCS code G0010 through a clinical APC (that is, APC 0355) that included vaccines along with this vaccine administration code. Additional vaccine administration codes have been packaged or not paid under the OPPS.

We believe that HCPCS codes G0008, G0009 and G0010 are clinically similar and comparable in resource use to one another and to the administration of other immunizations and other therapeutic, prophylactic, or diagnostic injections. The appropriate APC assignment for these vaccine administration services is newly reconfigured APC 0353 (“Injection, Level II”). However, because of their statutory exemption regarding beneficiary deductible and coinsurance, for operational reasons we are unable to include HCPCS codes G0008 and G0009 in an APC with codes that do not share this exemption.

Therefore, for CY 2006, we are proposing to map HCPCS codes G0008 and G0009 to new APC 0350 (Administration of flu and PPV vaccines). As dictated by statute, HCPCS codes G0008 and G0009 will continue to be exempt from beneficiary coinsurance and deductible.

We are also proposing to change the status indicator for HCPCS code G0010 from “K” (Separate APC Payment) to “B” (Not paid under OPPS; Alternate code may be available), and to change the status indicators for vaccine administration codes 90471 and 90472 from “N” (Packaged) to “X” (Separate APC Payment), in agreement with the recommendation of the APC Panel to unpackage these services. Hospitals would code for hepatitis B vaccine administration using codes 96471 or 96472 (as appropriate), and payment would be mapped to reconfigured APC 0353 (“Injection, Level II”) that will include other injection services that are clinically similar and comparable in resource use.

Additionally, in order to pay appropriately for services that we believe are clinically similar and comparable in resource use and, barring technical restrictions, would otherwise be assigned to the same APC, we are proposing to calculate a combined median cost for all services assigned to APC 0350 and APC 0353 that would then serve as the median cost for both APCs. This combined median would be calculated using charges converted to costs from claims for services in both APCs and would have the effect of making the OPPS payment rates for APC 0350 and APC 0353 identical, although beneficiary copayment and deductible would not be applied to services in APC 0350.

In addition, we are proposing to change the status indicators for vaccine administration codes 90473 and 90474 from “E” (Not paid under OPPS) to “S” (Paid under OPPS) and make payments for these services when they are covered through proposed APC 1491 (New Technology—Level IA ($0-$10)). Finally, we are proposing to change the status indicators for the four remaining vaccine administration codes involving physician counseling (90465, 90466, 90467 and 90468) from “N” (Packaged) to “B” (Not paid under OPPS; Alternate code may be available). Hospitals providing immunization services with physician counseling would use the vaccine administration codes 90471, 90472, 90473, and 90473 to report such services, as we do not believe the provision of physician counseling significantly affects the hospital resources required for administration of immunizations. Table 28 displays the changes that we are proposing for CY 2006.

Table 28.—Proposed CY 2006 Vaccine Administration Codes and APC Median Cost
HCPCS | Description | CY 2005: SI | CY 2005: APC | CY 2006: SI | CY 2006: APC | CY 2006: Median
G0008 | Influenza Vaccine Administration | L | Reasonable Cost | X | 0350 | $24.00
G0009 | Pneumococcal Vaccine Administration | L | Reasonable Cost | X | 0350 | 24.00
G0010 | Hepatitis B Vaccine Administration | K | 0355 | B |  |
90465 | Immunization Admin, under 8 yrs old, with counseling; first injection | N |  | B |  |
90466 | Immunization Admin, under 8 yrs old, with counseling; each additional injection | N |  | B |  |
90467 | Immunization Admin, under 8 yrs old, with counseling; first intranasal or oral | N |  | B |  |
90468 | Immunization Admin, under 8 yrs old, with counseling; each additional intranasal or oral | N |  | B |  |
90471 | Immunization Admin, one vaccine injection | N |  | X | 0353 | 24.00
90472 | Immunization Admin, each additional vaccine injection | N |  | X | 0353 | 24.00
90473 | Immunization Admin, one vaccine by intranasal or oral | E |  | S | 1491 | 5.00
90474 | Immunization Admin, each additional vaccine by intranasal or oral | E |  | S | 1491 | 5.00

IX. Hospital Coding for Evaluation and Management (E/M) Services

(If you choose to comment on issues in this section, please include the caption “E/M Services” at the beginning of your comment.)

In the November 15, 2004 final rule with comment period (69 FR 65838), we noted our primary concerns and direction for developing the proposed coding guidelines for emergency department and clinic visits. We intend to make available for public comment the proposed coding guidelines that we are considering through the CMS OPPS Web site as soon as we have completed them. We will notify the public through our listserve when these proposed guidelines become available. To subscribe to this listserve, please go to the following CMS Web site: http://www.cms.hhs.gov/medlearn/listserv.asp and follow the directions to the OPPS listserve. We will provide ample opportunity for the public to comment on the proposal.

We will continue to be considerate of the time necessary to educate clinicians and coders on the use of the new codes and guidelines and for hospitals to modify their systems. We anticipate providing a minimum notice of between 6 and 12 months prior to implementation of the new evaluation and management codes and guidelines. We will continue developing and testing the new codes even though we have not yet made plans for their implementation.

X. Proposed Payment for Blood and Blood Products

(If you choose to comment on issues in this section, please include the caption “Blood and Blood Products” at the beginning of your comment.)

A. Background

Since the implementation of the OPPS in August 2000, separate payments have been made for blood and blood products through APCs rather than packaging them into payments for the procedures with which they were administered. Hospital payments for the costs of blood and blood products, as well as the costs of collecting, processing, and storing blood and blood products, are made through the OPPS payments for specific blood product APCs. On April 12, 2001, CMS issued the original billing guidance for blood products to hospitals (Program Transmittal A-01-50). In response to requests for clarification of these instructions, CMS issued Transmittal 496 on March 4, 2005. The comprehensive billing guidelines in the Transmittal also addressed specific concerns and issues related to billing for blood-related services, which the public had brought to our attention.

In CY 2000, payments for blood and blood products were established based on external data provided by commenters due to limited Medicare claims data. From CY 2000 to CY 2002, payment rates for blood and blood products were updated for inflation. For CY 2003, as described in the November 1, 2002 final rule with comment period (67 FR 66773), we applied a special dampening methodology to blood and blood products that had significant reductions in payment rates from CY 2002 to CY 2003, when median costs were first calculated from hospital claims. Using the dampening methodology, we limited the decrease in payment rates for blood and blood products to approximately 15 percent. For CY 2004, as recommended by the APC Panel, we froze payment rates for blood and blood products at CY 2003 levels as we studied concerns raised by commenters and presenters at the August 2003 and February 2004 APC Panel meetings.

For CY 2005, we established new APCs that allowed each blood product to be assigned to its own separate APC, as several of the previous blood product APCs contained multiple blood products with no clinical homogeneity or whose product-specific median costs may not have been similar. Some of the blood product HCPCS codes were reassigned to the new APCs (Table 34 of the November 15, 2004 final rule with comment period (69 FR 65819)).

We also noted in the November 15, 2004 final rule with comment period that public comments to previous OPPS rules had stated that the CCRs that were used to adjust charges to costs for blood products in past years were too low. Past commenters indicated that this approach resulted in an underestimation of the true hospital costs for blood and blood products. In response to these comments and APC Panel recommendations from their February 2004 and September 2004 meetings, we conducted a thorough analysis of the OPPS CY 2003 claims (used to calculate the CY 2005 APC payment rates) to compare CCRs between those hospitals reporting a blood-specific cost center and those hospitals defaulting to the overall hospital CCR in the conversion of their blood product charges to costs. As a result of this analysis, we observed a significant difference in CCRs utilized for conversion of blood product charges to costs for those hospitals with and without blood-specific cost centers. The median hospital blood-specific CCRs were almost two times the median overall hospital CCR. As discussed in the November 15, 2004 final rule with comment period, we applied a methodology for hospitals not reporting a blood-specific cost center, which simulated a blood-specific CCR for each hospital that we then used to convert charges to costs for blood products. Thus, we developed simulated medians for all blood and blood products based on CY 2003 hospital claims data (69 FR 65816).

For CY 2005, we also identified a subset of blood products that had less than 1,000 units billed in CY 2003. For these low-volume blood products, we based the CY 2005 payment rate on a 50/50 blend of CY 2004 product-specific OPPS median costs and the CY 2005 simulated medians based on the application of blood-specific CCRs to all claims. We were concerned that, given the low frequency in which these products were billed, a few occurrences of coding or billing errors may have led to significant variability in the median calculation. The claims data may not have captured the complete costs of these products to hospitals as fully as possible. This low-volume adjustment methodology also allowed us to further study the issues raised by commenters and by presenters at the September 2004 APC Panel meeting, without putting beneficiary access to these low-volume blood products at risk.

B. Proposed Changes for CY 2006

For CY 2006, we are proposing to continue to make separate payments for blood and blood products under the OPPS through individual APCs for each product. We are also proposing to establish payment rates for these blood and blood products by using the same simulation methodology described in the November 15, 2004 final rule with comment period (69 FR 65816), which utilized hospital-specific actual or simulated CCRs for blood cost centers to convert hospital charges to costs, with an adjustment applied to some products. We continue to believe that using blood-specific CCRs applied to hospital claims data will result in reasonably accurate payments that more fully reflect hospitals' true costs of providing blood and blood products than our general methodology of defaulting to the overall hospital CCR when more specific CCRs are unavailable.

For blood and blood products whose CY 2006 simulated medians experienced a decrease of more than 10 percent in comparison to their CY 2005 payment medians, we are proposing to limit the decrease in medians to 10 percent. Therefore, overall we are proposing to base median costs for blood and blood products in CY 2006 on the greater of: (1) Simulated medians calculated using CY 2004 claims data; or (2) 90 percent of the APC payment median for CY 2005 for such products. We recognize that possible errors in hospital billing or coding for blood products in CY 2004 may have contributed to these decreases in medians. In particular, hospitals may have been uncertain about which of their many different costs for providing blood and blood products should be captured in their charges for the products, based on variations in the specific circumstances of the services they provided. In addition, the six products affected by the proposed CY 2006 adjustment policy all were relatively low volume with fewer than 7,000 units billed in CY 2004. Three of these products were affected by the low-volume payment adjustment for CY 2005 because there were less than 1,000 units billed, and their CY 2005 payment medians would have decreased without the adjustment. In the interim, as hospitals become more familiar with the comprehensive billing guidelines for blood and blood products that are described in Program Transmittal 496, (Change Request 3681 dated March 4, 2005), we acknowledge the need to protect beneficiaries' access to a safe blood supply and are proposing to do so by limiting significant decreases in payment rates for blood and blood products from CY 2005 to CY 2006. We expect that our billing guidance will assist hospitals in more fully including all appropriate costs for providing blood and blood products in their charges for those products, so that our data for CY 2005, which will be used to set median costs for blood and blood products in the CY 2007 OPPS, should more accurately capture the hospital costs associated with each different blood product.

Displayed in Table 29 is the list of blood product HCPCS codes with their proposed CY 2006 payment medians. Overall, medians from CY 2005 and CY 2006 were relatively stable, and we expect that as hospitals improve their billing and coding practices, medians based on historical hospital claims data should continue to become more consistent and reflective of all hospital costs. For blood and blood products whose CY 2006 simulated median would have experienced a decrease from CY 2005 to CY 2006 of greater than 10 percent, the adjusted median is shown.

Therefore, for CY 2006, we are proposing to establish payment rates for blood and blood products under the OPPS by using the same simulation methodology described in the November 15, 2004 final rule with comment period (69 FR 65816). For blood and blood products whose 2006 medians would have otherwise experienced a decrease of more than 10 percent in comparison with their CY 2005 payment rates, we are proposing to adjust the simulated medians by limiting their decrease to 10 percent.

Table 29.—Proposed CY 2006 Payment Medians for Blood and Blood Products by HCPCS/APC Codes
HCPCS | APC | CY 2004 units | Description | CY 2005 payment median | Proposed CY 2006 median, (limited if applicable)
P9016 | 0954 | 609026 | RBC leukocytes reduced | $170.28 | $165.16
P9021 | 0959 | 158964 | Red blood cells unit | 116.42 | 122.50
P9040 | 0969 | 46732 | RBC leukoreduced irradiated | 211.28 | 219.96
P9035 | 9501 | 37199 | Platelet pheres leukoreduced | 486.18 | 491.77
P9019 | 0957 | 37079 | Platelets, each unit | 49.50 | 50.19
P9017 | 9508 | 36807 | Plasma 1 donor frz w/in 8 hr | 65.10 | 72.64
P9031 | 1013 | 21899 | Platelets leukocytes reduced | 88.78 | 96.69
P9037 | 1019 | 13873 | Plate pheres leukoredu irrad | 603.62 | 574.05
P9034 | 9507 | 10419 | Platelets, pheresis | 449.86 | 416.30
P9033 | 0968 | 6031 | Platelets leukoreduced irrad | 158.50 | *142.65
P9044 | 1009 | 5635 | Cryoprecipitate reduced plasma | 63.20 | 78.82
P9012 | 0952 | 5264 | Cryoprecipitate each unit | 49.58 | *44.62
P9055 | 1017 | 4546 | Plt, aph/pher, l/r, cmv-neg | 489.46 | 518.94
P9056 | 1018 | 3759 | Blood, l/r, irradiated | 187.76 | *168.98
P9038 | 9505 | 3149 | RBC irradiated | 122.09 | 144.08
P9010 | 0950 | 3012 | Whole blood for transfusion | 115.97 | 121.43
P9051 | 1010 | 2854 | Blood, l/r, cmv-neg | 172.35 | 179.17
P9022 | 0960 | 2086 | Washed red blood cells unit | 199.18 | *179.26
P9059 | 0955 | 1863 | Plasma, frz between 8-24 hour | 76.28 | 78.05
P9052 | 1011 | 1603 | Platelets, hla-m, l/r, unit | 583.87 | 661.91
P9036 | 9502 | 1166 | Platelet pheresis irradiated | 343.02 | 313.15
P9058 | 1022 | 1081 | RBC, l/r, cmv-neg, irrad | 280.94 | 258.88
P9032 | 9500 | 1080 | Platelets, irradiated | 91.11 | *82.00
P9020 | 0958 | 944 | Plaelet rich plasma unit | 155.53 | 312.67
P9039 | 9504 | 862 | RBC deglycerolized | 305.13 | 388.09
P9050 | 9506 | 793 | Granulocytes, pheresis unit | 1,046.99 | *942.29
P9023 | 0949 | 776 | Frozen plasma, pooled, sd | 80.16 | *72.14
P9054 | 1016 | 681 | Blood, l/r, froz/degly/wash | 275.72 | 317.59
P9053 | 1020 | 549 | Plt, pher, l/r cmv-neg, irr | 573.06 | 612.79
P9048 | 0966 | 524 | Plasmaprotein fract, 5%, 250 ml | 332.32 | *299.09
P9060 | 9503 | 488 | Fr frz plasma donor retested | 76.86 | 98.00
P9043 | 0956 | 43 | Plasma protein fract, 5%, 50 ml | 68.62 | 67.74
P9057 | 1021 | 27 | RBC, frz/deg/wsh, l/r, irrad | 327.11 | *294.40
* Indicates adjusted median.

In addition, we are proposing to change the status indicator for CPT code 85060 (Blood smear, peripheral, interpretation by physician with written report) from “X” (separately paid under the OPPS) to “B” (not paid under the OPPS). When a hospital provides a physician interpretation of an abnormal peripheral blood smear interpretation for a hospital outpatient, the charge for the facility resources associated with the interpretation should be bundled into the charge reported for the ordered hematology lab service, such as, CPT code 85007 (Blood count; blood smear, microscopic examination with manual differential WBC count) or CPT code 85008 (Blood count; blood smear, microscopic examination without manual differential WBC count), which are paid under the Clinical Laboratory Fee Schedule (CLFS). A physician interpretation of an abnormal peripheral blood smear is considered a routine part of the ordered hematology lab service, such as CPT codes 85007 and 85008 paid under the CLFS, so hospitals would receive duplicate payment for the facility resources associated with a physician's blood smear interpretation if we were to continue to pay separately for CPT code 85060 under the OPPS for hospital outpatients. Therefore, for CY 2006, we are proposing to discontinue payment under the OPPS for CPT code 85060 by changing its status indicator from “X” to “B.”

XI. Proposed Payment for Observation Services

(If you choose to comment on issues in this section, please include the caption “Observation Services” at the beginning of your comment.)

A. Background

Observation care is a well-defined set of specific, clinically appropriate services, which include ongoing short-term treatment, assessment, and reassessment, before a decision can be made regarding whether patients will require further treatment as hospital inpatients or if they are able to be discharged from the hospital. Observation status is commonly assigned to patients with unexpectedly prolonged recovery after surgery and to patients who present to the emergency department and who then require a significant period of treatment or monitoring before a decision is made concerning their next placement. For a detailed discussion of the clinical and payment history of observation services, refer to the November 1, 2002 final rule with comment period (67 FR 66794).

Before the implementation of the OPPS in CY 2000, payment for observation care was made on a reasonable cost basis. With the initiation of the OPPS, costs for observation services were packaged into payments for the services with which the observation care was associated but no separate payment for observation services was implemented.

For CY 2002, we implemented separate payment for observation services (APC 0339) under the OPPS for three medical conditions (chest pain, congestive heart failure, and asthma). Additional criteria, such as the billing of select diagnosis codes, an evaluation and management service, a minimum and maximum number of observation hours, and provision of certain condition-specific diagnostic tests, along with documentation of the physician's determination that the patient would benefit from observation care, were also required in order for hospitals to receive the separate APC payment (APC 0339) for observation services.

Taking into account numerous comments from providers about the increased administrative burden caused by reporting requirements associated with payment for APC 0339 and after reviewing comments and recommendations by the APC Panel, we removed the mandated diagnostic testing requirements beginning in CY 2005 (Transmittal 514, Change Request 3756, released March 30, 2005). Hospitals were instructed to rely on clinical judgment in combination with internal and external quality review processes to ensure that appropriate diagnostic testing is provided for patients receiving high quality, medically necessary observation care. In an effort to further reduce administrative burden related to accurate billing and in response to suggestions from hospitals and the APC Panel, effective January 1, 2005, we clarified our instructions for counting time in observation care to end at the time the outpatient is actually discharged from the hospital or admitted as an inpatient. Our expectation was that specific, medically necessary observation services were being provided to the patient up until the time of discharge. However, we did not expect reported observation time to include the time patients remain in the observation area after treatment is finished for reasons such as waiting for transportation home.

In updating the CY 2005 OPPS, we also looked at CY 2003 claims data for all packaged visit-related observation care for all medical conditions in order to determine whether or not there were other diagnoses that would be candidates for separately payable observation services. This year, we again reviewed the most recent claims data (CY 2004) for packaged and unpackaged observation services to assess the current appropriateness of the three medical conditions for separately payable observation services and to determine if the list of diagnosis codes was complete for those conditions. The APC Panel recommended at the February 2005 APC Panel meeting that CMS expand the list of diagnoses eligible for separate observation payments.

The diagnoses currently associated with the three medical conditions continue to be frequently reported on OPPS visit-related claims with packaged observation services, and there are a large number of claims for separately payable observation care for the three medical conditions. At this time, our data show almost 80,000 claims from CY 2004 for separately payable observation services, compared with 67,182 for CY 2003 hospital claims. We have also explored other diagnoses that appeared in hospital claims data with packaged observation services. However, the data on packaged observation services continue to be incomplete and unreliable, reported using a number of different CPT codes with “per day” in their code descriptors. Some hospitals appear to be reporting observation services per day, while others appear to be reporting each hour of observation care as one unit, as we instructed them to do when reporting HCPCS code G0244 for separately payable observation. As described in section XI.B. of this preamble, we are proposing to make changes to hospital coding for all observation services for CY 2006, both separately payable and packaged. We are currently not convinced that there are other conditions for which there is a well-defined set of hospital services that are distinct from the services provided during a clinic or emergency visit. Moreover, hospital data from CY 2004 do not reflect our CY 2005 changes in separately payable observation policy. We also seek to gain additional experience with more consistent hospital billing for observation services, both packaged and separately payable, to guide our future analyses of observation care. Thus, we believe it is premature to expand the conditions for which we would separately pay for visit-related observation services.

B. Proposed CY 2006 Coding Changes for Observation Services

In response to comments received regarding the continuing administrative burden on hospitals when attempting to differentiate between packaged and separately payable observation services for purposes of billing correctly, and recommendations put forward by the APC Panel and participants at the February 2005 APC Panel meeting, we are proposing two changes in payment policy for observation services in CY 2006. First, we are proposing to discontinue HCPCS codes G0244 (Observation care by facility to patient), G0263 (Direct admission with CHF, CP, asthma), and G0264 (Assessment other than CHF, CP, asthma) and to create two new HCPCS codes to be used by hospitals to report all observation services whether separately payable or packaged, and direct admission for observation care:

• GXXXX—Hospital observation services, per hour

• GYYYY—Direct admission of patient for hospital observation care

Second, we are proposing to shift determination of whether or not observation services are separately payable under APC 0339 from the hospital billing department to the OPPS claims processing logic. That is, hospitals would bill GXXXX when observation services are provided to any patient admitted to “observation status,” regardless of the patient's status as an inpatient or outpatient. Hospitals would additionally bill GYYYY when observation services are the result of a direct admission to “observation status” without an associated emergency room visit, hospital outpatient clinic visit, or critical care service on the day of or day before the observation services. Both of these new HCPCS codes would be assigned a new status indicator that would trigger OCE logic during the processing of the claim to determine if the observation service is packaged with the other separately payable hospital services provided or if a separate APC payment for observation services is appropriate in accordance with the criteria discussed below in section XI.C. of this preamble. In addition, we are proposing to change the status indicator for CPT codes 99217 through 99220 and 99234 through 99236 from “N” (packaged) to “B” (code not recognized by OPPS). We will expect hospitals to utilize GXXXX to accurately report all observation services provided to beneficiaries, whether the observation would be packaged or separately payable, to assist us in developing consistent and complete hospital claims data regarding the utilization and costs of observation services. The units of service reported with GXXXX would equal the number of hours the patient is in observation status.

C. Proposed Criteria for Separately Payable Observation Services (APC 0339)

For CY 2006, we are proposing to continue applying the existing CY 2005 criteria (69 FR 65830), which determine if hospitals may receive separate payment for medically necessary observation care provided to a patient with congestive heart failure, chest pain, or asthma. In addition, we are proposing to continue our policy of packaging payment for all other observation services into the payments for the separately payable services with which the observation service is reported. As explained previously in section XI.B. of this section, the only changes we are proposing are related to the codes hospitals would use to report observation services, and the point at which a payment determination is made. Rather than requiring the hospital to determine prior to claims submission whether patient condition and the services furnished meet the criteria for payment of APC 0339, that determination would shift to the claims processing modules installed by the fiscal intermediaries to process all OPPS bills, thereby reducing the administrative burden on hospitals.

Criteria for separate observation service payments include documentation of specific ICD-9-CM diagnostic codes (International Classification of Diseases, Ninth Edition, Clinical Modification); the length of time a patient is in observation status; hospital services provided before, during, and after the patient receives observation care; and ongoing physician evaluation of the patient's status.

As we stated in Transmittal A-02-129, released in January 2003, we will continue to update any changes in the list of ICD-9-CM codes required for payment of HCPCS code GXXXX resulting from the October 1 annual update of ICD-9-CM in the October quarterly update of the OPPS. In addition, changes to the ICD-9-CM codes, which are listed in Table 30 below, would be included in the OPPS CY 2006 final rule.

Below are the criteria that we are proposing to continue using in CY 2006 to determine if hospitals may receive separate OPPS payment for medically necessary observation care provided to a patient with congestive heart failure, chest pain, or asthma.

1. Diagnosis Requirements

a. The beneficiary must have one of three medical conditions: Congestive heart failure, chest pain, or asthma.

b. The hospital bill must report as the reason for visit or principal diagnosis an appropriate ICD-9-CM code (as shown in Table 30 below) to reflect the condition.

c. The qualifying ICD-9-CM diagnosis code must be reported in Form Locator (FL) 76, Patient Reason for Visit, or FL 67, principal diagnosis, or both, in order for the hospital to receive separate payment for APC 0339. If a qualifying ICD-9-CM diagnosis code(s) is reported in the secondary diagnosis field but is not reported in either the Patient Reason for Visit field (FL 76) or in the principal diagnosis field (FL 67), separate payment for APC 0339 will not be allowed.

Table 30.—CY 2006 Eligible Diagnosis Codes for Billing Observation Services
Required diagnosis for | Eligible ICD-9-CM code | Code descriptor
Chest pain | 411.0 | Postmyocardial infarction syndrome.
| 411.1 | Intermediate coronary syndrome.
| 411.81 | Coronary occlusion without myocardial infarction.
| 411.89 | Other acute ischemic heart disease.
| 413.0 | Angina decubitus.
| 413.1 | Prinzmetal angina.
| 413.9 | Other and unspecified angina pectoris.
| 786.05 | Shortness of breath.
| 786.50 | Chest pain, unspecified.
| 786.51 | Precordial pain.
| 786.52 | Painful respiration.
| 786.59 | Other chest pain.
Asthma | 493.01 | Extrinsic asthma with status asthmaticus.
| 493.02 | Extrinsic asthma with acute exacerbation.
| 493.11 | Intrinsic asthma with status asthmaticus.
| 493.12 | Intrinsic asthma with acute exacerbation.
| 493.21 | Chronic obstructive asthma with status asthmaticus.
| 493.22 | Chronic obstructive asthma with acute exacerbation.
| 493.91 | Asthma, unspecified with status asthmaticus.
| 493.92 | Asthma, unspecified with acute exacerbation.
Heart Failure | 391.8 | Other acute rheumatic heart disease.
| 398.91 | Rheumatic heart failure (congestive).
| 402.01 | Malignant hypertensive heart disease with congestive heart failure.
| 402.11 | Benign hypertensive heart disease with congestive heart failure.
| 402.91 | Unspecified hypertensive heart disease with congestive heart failure.
| 404.01 | Malignant hypertensive heart and renal disease with congestive heart failure.
| 404.03 | Malignant hypertensive heart and renal disease with congestive heart and renal failure.
| 404.11 | Benign hypertensive heart and renal disease with congestive heart failure.
| 404.13 | Benign hypertensive heart and renal disease with congestive heart and renal failure.
| 404.91 | Unspecified hypertensive heart and renal disease with congestive heart failure.
| 404.93 | Unspecified hypertensive heart and renal disease with heart and renal failure.
| 428.0 | Congestive heart failure.
| 428.1 | Left heart failure.
| 428.20 | Unspecified systolic heart failure.
| 428.21 | Acute systolic heart failure.
| 428.22 | Chronic systolic heart failure.
| 428.23 | Acute on chronic systolic heart failure.
| 428.30 | Unspecified diastolic heart failure.
| 428.31 | Acute diastolic heart failure.
| 428.32 | Chronic diastolic heart failure.
| 428.33 | Acute on chronic diastolic heart failure.
| 428.40 | Unspecified combined systolic and diastolic heart failure.
| 428.41 | Acute combined systolic and diastolic heart failure.
| 428.42 | Chronic combined systolic and diastolic heart failure.
| 428.43 | Acute on chronic combined systolic and diastolic heart failure.
| 428.9 | Heart failure, unspecified.

2. Observation Time

a. Observation time must be documented in the medical record.

b. A beneficiary's time in observation (and hospital billing) begins with the beneficiary's admission to an observation bed.

c. A beneficiary's time in observation (and hospital billing) ends when all clinical or medical interventions have been completed, including followup care furnished by hospital staff and physicians that may take place after a physician has ordered the patient be released or admitted as an inpatient.

d. The number of units reported with HCPCS code GXXXX must equal or exceed 8 hours.

3. Additional Hospital Services

a. The hospital must provide on the same day or the day before and report on the bill:

• An emergency department visit (APC 0610, 0611, or 0612),

• A clinic visit (APC 0600, 0601, or 0602), or

• Critical care (APC 0620).

b. No procedure with a “T” status indicator can be reported on the same day or day before observation care is provided.

4. Physician Evaluation

a. The beneficiary must be in the care of a physician during the period of observation, as documented in the medical record by admission, discharge, and other appropriate progress notes that are timed, written, and signed by the physician.

b. The medical record must include documentation that the physician explicitly assessed patient risk to determine that the beneficiary would benefit from observation care.

D. Separate Payment for Direct Admission to Observation Care (APC 0600)

For CY 2006, we are proposing to continue paying for direct admission to observation at a rate equal to that of a Level I Clinic Visit when a Medicare beneficiary is directly admitted into a hospital outpatient department for observation care that does not qualify for separate payment under APC 0339. In order to receive separate payment for a direct admission into observation (APC 0600), the claim must show:

1. Both HCPCS codes GXXXX (Hourly Observation) and GYYYY (Direct Admit to Observation) with the same date of service.

2. That no services with a status indicator “T” or “V” were provided on the same day of service as HCPCS code GYYYY.

XII. Procedures That Will Be Paid Only as Inpatient Procedures

(If you choose to comment on issues in this section, please include the caption “Inpatient Procedures” at the beginning of your comment.)

A. Background

Section 1833(t)(B)(i) of the Act gives the Secretary broad authority to determine the services to be covered and paid for under the OPPS. Before implementation of the OPPS in August 2000, Medicare paid reasonable costs for services provided in the outpatient department. The claims submitted were subject to medical review by the fiscal intermediaries to determine the appropriateness of providing certain services in the outpatient setting. We did not specify in regulations those services that were appropriate to provide only in the inpatient setting and that, therefore, should be payable only when provided in that setting.

In the April 7, 2000 final rule with comment period, we identified procedures that are typically provided only in an inpatient setting and, therefore, would not be paid by Medicare under the OPPS (65 FR 18455). These procedures comprise what is referred to as the “inpatient list.” The inpatient list specifies those services that are only paid when provided in an inpatient setting because of the nature of the procedure, the need for at least 24 hours of postoperative recovery time or monitoring before the patient can be safely discharged, or the underlying physical condition of the patient. As we discussed in the April 7, 2000 final rule with comment period (65 FR 18455) and the November 30, 2001 final rule (66 FR 59856), we use the following criteria when reviewing procedures to determine whether or not they should be moved from the inpatient list and assigned to an APC group for payment under the OPPS:

• Most outpatient departments are equipped to provide the services to the Medicare population.

• The simplest procedure described by the code may be performed in most outpatient departments.

• The procedure is related to codes that we have already removed from the inpatient list.

In the November 1, 2002 final rule with comment period (67 FR 66792), we removed 43 procedures from the inpatient list for payment under OPPS. We also added the following criteria for use in reviewing procedures to determine whether they should be removed from the inpatient list and assigned to an APC group for payment under the OPPS:

• We have determined that the procedure is being performed in multiple hospitals on an outpatient basis; or

• We have determined that the procedure can be appropriately and safely performed in an ambulatory surgical center (ASC) and is on the list of approved ASC procedures or proposed by us for addition to the ASC list.

We believe that these additional criteria help us to identify procedures that are appropriate for removal from the inpatient list.

In the November 7, 2003 final rule with comment period (68 FR 63465), no significant changes were made to the inpatient list. In the November 15, 2004 final rule 5with comment period (69 FR 65834), we removed 22 procedures from the inpatient list, effective for services furnished on or after January 1, 2005.

B. Proposed Changes to the Inpatient List

We used the same methodology as described in the November 15, 2004 final rule with comment period (69 FR 65837) to identify a subset of procedures currently on the inpatient list that were being widely performed on an outpatient basis. These procedures were then clinically reviewed for possible removal from the inpatient list. We solicited input from the APC Panel on the appropriateness of the removal of 26 procedures from the inpatient list at the February 2005 APC Panel meeting. The APC Panel recommended that these 26 procedures be removed from the list and further recommended that CMS consider CPT code 37183 (Remove hepatic shunt (TIPS)) for removal. We agree with the APC Panel's recommendation that CPT code 37183 be removed from the inpatient list for CY 2006 and we are proposing to remove it from the inpatient list.

However, subsequent to the APC Panel's February 2005 meeting, we conducted further clinical evaluations of three procedures (CPT codes 33420, 65273, and 59856) included among the 26 procedures that the APC Panel recommended for removal from the inpatient list. Upon further clinical evaluation of CPT code 33420 (Valvotomy, mitral valve; closed heart), we believe that the utilization data suggesting that this procedure is an office-based procedure were errant. Additional sources of utilization data suggest that this procedure is predominately performed on an inpatient basis. Concomitant with not meeting our criteria of being performed on an outpatient basis in multiple hospitals and not appearing on the ASC list of approved procedures, we are not compelled to support the removal of this procedure from the inpatient list. For this reason, we are proposing to retain CPT code 33420 on the inpatient list for CY 2006.

CPT codes 65273 and 59856 were similarly reevaluated because of our concern with the HCPCS long descriptors for these two codes. The long descriptors for these codes are as follows: CPT code 65273 (Repair of laceration; conjunctiva, by mobilization and rearrangement, with hospitalization) and CPT code 59856 (Induced abortion, by one or more vaginal suppositories (eg, prostaglandin) with or without cervical dilation (eg, laminaria), including hospital admission and visits, delivery of fetus and secundines; with dilation and curettage and/or evacuation). The long descriptors indicate that hospital admission or hospitalization is included in the codes for these two procedures, which leads us to believe that these two procedures do not meet the established criteria for removal from the inpatient list. The same code descriptor for CPT code 65273, but without hospitalization, is assigned to CPT code 65272, which is already separately payable under the OPPS. Therefore, we are proposing to retain CPT codes 65273 and 59856 on the inpatient list for CY 2006.

In addition, we are proposing to remove CPT code 62160 (Neuroendoscopy) from the inpatient list. Questions about this service have been raised to us by the hospital community because CPT code 62160 is an add-on CPT code (that is, a code that is commonly performed as an “additional or supplemental” procedure to the primary procedure). Two of the separately coded services that CPT indicates are to be used with the add-on code are currently payable under the OPPS. Further clinical evaluation of this add-on procedure and its use in various sites of service leads us to believe it is appropriate for removal from the inpatient list.

Therefore, for CY 2006, we are proposing to remove 25 procedures from the inpatient list and to assign 23 of these procedures to clinically appropriate APCs, as shown below in Table 31. We are not proposing to assign two of these procedures to APC groups, that is, CPT codes 00634 (Anesthesia for procedures in lumbar region; chemonucleoysis) and 01190 (Anesthesia for obturator neurectomy; intrapelvic) because they are anesthesia procedures for which a separate payment is not made under the OPPS. Payment for these two procedures would be packaged into the procedures with which they are billed. The proposed changes to the inpatient list would be effective for services furnished on or after January 1, 2006.

Table 31.—Proposed Procedure Codes to Remove From Inpatient List and Proposed APC Assignment, Effective January 1, 2006
HCPCS | Long descriptor | New APC assignment | Old status indicator | New status indicator
00634 | ANESTHESIA FOR PROCEDURES IN LUMBAR REGION; CHEMONUCLEOLYSIS | n/a | C | N
01190 | ANESTHESIA FOR OBTURATOR NEURECTOMY; INTRAPELVIC | n/a | C | N
20662 | APPLICATION OF HALO, INCLUDING REMOVAL; PELVIC | 0049 | C | T
20663 | APPLICATION OF HALO, INCLUDING REMOVAL; FEMORAL | 0049 | C | T
20822 | REPLANTATION, DIGIT, EXCLUDING THUMB (INCLUDES DISTAL TIP TO SUBLIMIS TENDON INSERTION), COMPLETE AMPUTATION | 0054 | C | T
20972 | FREE OSTEOCUTANEOUS FLAP WITH MICROVASCULAR ANASTOMOSIS; METATARSAL | 0056 | C | T
20973 | FREE OSTEOCUTANEOUS FLAP WITH MICROVASCULAR ANASTOMOSIS; GREAT TOE WITH WEB SPACE | 0056 | C | T
21150 | RECONSTRUCTION MIDFACE, LEFORT II; ANTERIOR INTRUSION (EG, TREACHER-COLLINS SYNDROME) | 0256 | C | T
21175 | RECONSTRUCTION, BIFRONTAL, SUPERIOR-LATERAL ORBITAL RIMS AND LOWER FOREHEAD, ADVANCEMENT OR ALTERATION (EG, PLAGIOCEPHALY, TRIGONOCEPHALY, BRACHYCEPHALY), WITH OR WITHOUT GRAFTS (INCLUDES OBTAINING AUTOGRAFTS) | 0256 | C | T
21195 | RECONSTRUCTION OF MANDIBULAR RAMI AND/OR BODY, SAGITTAL SPLIT; WITHOUT INTERNAL RIGID FIXATION | 0256 | C | T
21408 | OPEN TREATMENT OF FRACTURE OF ORBIT, EXCEPT BLOWOUT; WITH BONE GRAFTING (INCLUDES OBTAINING GRAFT) | 0256 | C | T
21495 | OPEN TREATMENT OF HYOID FRACTURE | 0253 | C | T
27475 | ARREST, EPIPHYSEAL, ANY METHOD (EG, EPIPHYSIODESIS); DISTAL FEMUR | 0050 | C | T
31293 | NASAL/SINUS ENDOSCOPY, SURGICAL; WITH MEDIAL ORBITAL WALL AND INFERIOR ORBITAL WALL DECOMPRESSION | 0075 | C | T
31294 | NASAL/SINUS ENDOSCOPY, SURGICAL; WITH OPTIC NERVE DECOMPRESSION | 0075 | C | T
36510 | CATHETERIZATION OF UMBILICAL VEIN FOR DIAGNOSIS OR THERAPY, NEWBORN | n/a | C | T
37183 | REMOVE HEPATIC SHUNT (TIPS) | 0229 | C | T
37195 | THROMBOLYSIS, CEREBRAL, BY INTRAVENOUS INFUSION | 0676 | C | T
54560 | EXPLORATION FOR UNDESCENDED TESTIS WITH ABDOMINAL EXPLORATION | 0183 | C | T
55600 | VESICULOTOMY | 0183 | C | T
59100 | HYSTEROTOMY, ABDOMINAL (EG, FOR HYDATIDIFORM MOLE, ABORTION) | 0195 | C | T
61334 | EXPLORATION OF ORBIT (TRANSCRANIAL APPROACH); WITH REMOVAL OF FOREIGN BODY | 0256 | C | T
62160 | NEUROENDOSCOPY | 0122 | C | T
64763 | TRANSECTION OR AVULSION OF OBTURATOR NERVE, EXTRAPELVIC, WITH OR WITHOUT ADDUCTOR TENOTOMY | 0220 | C | T
64766 | TRANSECTION OR AVULSION OF OBTURATOR NERVE, INTRAPELVIC, WITH OR WITHOUT ADDUCTOR TENOTOMY | 0221 | C | T

C. Ancillary Outpatient Services When Patient Expires (-CA Modifier)

(If you choose to comment on issues in this section, please include the caption “Ancillary Outpatient Services” at the beginning of your comment.)

In the November 1, 2002 final rule with comment period (67 FR 66798), we discussed the creation of a new HCPCS modifier -CA to address situations where a procedure on the OPPS inpatient list must be performed to resuscitate or stabilize a patient (whose status is that of an outpatient) with an emergent, life-threatening condition, and the patient dies before being admitted as an inpatient. In Transmittal A-02-129, issued on January 3, 2003, we instructed hospitals on the use of this modifier when submitting a claim on bill type 13x for a procedure that is on the inpatient list and assigned the payment status indicator (SI) “C.” Conditions to be met for hospital payment for a claim reporting a service billed with modifier -CA include a patient with an emergent, life-threatening condition on whom a procedure on the inpatient list is performed on an emergency basis to resuscitate or stabilize the patient. For CY 2003, a single payment for otherwise payable outpatient services billed on a claim with a procedure appended with this new -CA modifier was made under APC 0977 (New Technology Level VIII, $1,000-$1,250), due to the lack of available claims data to establish a payment rate based on historical hospital costs.

As discussed in the November 7, 2003 final rule with comment period, we created APC 0375 to pay for services furnished on the same date as a procedure with SI “C” and billed with the modifier -CA (68 FR 63467) because we were concerned that payment under a New Technology APC would not result in an appropriate payment. Payment under a New Technology APC is a fixed amount that does not have a relative payment weight and, therefore, is not subject to recalibration based on hospital costs. In the absence of hospital claims data to determine costs, the clinical APC 0375 payment rate for CY 2004 was set at of $1,150, which was the payment amount for the newly structured New Technology APC that replaced APC 0977.

For CY 2005, payment for otherwise payable outpatient services furnished on the same date of service that a procedure with SI “C” was performed on an emergent basis on an outpatient who died before inpatient admission and where modifier -CA was appended to the inpatient procedure continued to be made under APC 0375 (Ancillary Outpatient Services When Patient Expires) at a payment rate of $3,217.47. As discussed in the November 15, 2004 final rule with comment period (69 FR 65841), the payment median was set in accordance with the same methodology we followed to set payment rates for the other procedural APCs in CY 2005, based on the relative payment weight calculated for APC 0375. A review of the 18 hospital claims utilized for ratesetting revealed a reasonable mix of outpatient services that a hospital could be expected to furnish during an encounter with a patient with an emergency condition requiring immediate medical intervention, as well as a wide range of costs.

For CY 2006, we are not proposing any changes to our payment policy for services billed on the same date as a “C” status procedure appended with modifier -CA. We are proposing to continue to make one payment under APC 0375 for the services that meet the specific conditions discussed in previous rules for using modifier -CA, based on calculation of the relative payment weight for APC 0375, using charge data from CY 2004 claims for line items with a HCPCS code and status indicator “V,” “S,” “T,” “X,” “N,” “K,” “G,” and “H,” in addition to charges for revenue codes without a HCPCS code.

In accordance with this methodology, for CY 2006, we calculated a median cost of $2,528.61 for APC 0375 for the aggregated otherwise payable outpatient hospital services based on 300 CY 2004 hospital claims reporting modifier -CA with an inpatient procedure. These 300 claims were billed by 218 different hospital providers, each submitting between 1 and 10 claims with modifier -CA appended to a “C” status procedure. This median cost for APC 0375 is relatively consistent with the median calculated for the CY 2005 OPPS update, and, as expected, the hospital claims once again show a wide range of costs. Nevertheless, we are concerned with the very large increase in the volume of hospital claims billed with the -CA modifier from CY 2003 to CY 2004, growing from 18 to 300 claims over that 1-year time period. We acknowledge that modifier -CA was first introduced quite recently in CY 2003, and in CY 2003 and CY 2004 hospitals may have been experiencing a learning curve with respect to its appropriate use on claims for services payable under the OPPS.

However, our clinical review of the 300 claims reporting modifier -CA lends some support to our early concerns regarding the increased CY 2004 modifier volume and hospitals' possible incorrect use of the modifier for services that do not meet the payment conditions we established. Hospitals should be using this modifier only under circumstances described in section VI. of Transmittal A-02-129, which provided specific billing guidance for the use of modifier -CA. In addition to expected use of the -CA modifier for exploratory laparotomies and insertions of intra-aortic balloon assist devices, other unanticipated examples of “C” status procedures reported with the -CA modifier by hospitals in CY 2004 include knee arthroplasty, thyroidectomy, repair of nonunion or malunion of the femur, and thromboendarterectomy of the carotid, vertebral, or subclavian arteries. Moreover, few of the claims also include a clinic or emergency room visit on the same date of service as the procedure appended with modifier -CA, as might be expected for some patients presenting to a hospital with serious medical conditions which require urgent interventions with inpatient procedures. We are concerned that some procedures reported by hospitals with the -CA modifier in CY 2004 may not have been provided to patients with emergent, life-threatening conditions, where the inpatient procedure was performed on an emergency basis to resuscitate or stabilize the patient. Instead, those procedures may have been provided to hospital outpatients as scheduled inpatient procedures that were not emergency interventions for patients in critical or unstable condition and such circumstances would have been inconsistent with our billing and payment rules regarding correct use of the -CA modifier to receive payment for APC 0375. In light of these claims findings and our current analysis, we will continue to closely monitor hospital use of modifier -CA, following changes in the claims volume, noting inpatient procedures to which the -CA modifier is appended, examining other services billed on the same date as the inpatient procedure, and analyzing specific hospital patterns of billing for services with modifier -CA appended, to assess whether a proposal to change our policies regarding payment for APC 0375 would be warranted in the future or whether hospitals require further education regarding correct use of the modifier -CA.

XIII. Proposed Indicator Assignments

A. Proposed Status Indicator Assignments

(If you choose to comment on issues in the section, please include the caption “Status Indicator” at the beginning of your comment.)

The payment status indicators (SIs) that we assign to HCPCS codes and APCs under the OPPS play an important role in determining payment for services under the OPPS because they indicate whether a service represented by a HCPCS code is payable under the OPPS or another payment system and also whether particular OPPS policies apply to the code. For CY 2006, we are providing our proposed status indicator assignments for APCs in Addendum A, for the HCPCS codes in Addendum B, and the definitions of the status indicators in Addendum D1 to this proposed rule.

Payment under the OPPS is based on HCPCS codes for medical and other health services. These codes are used for a wide variety of payment systems under Medicare, including, but not limited to, the Medicare fee schedule for physician services, the Medicare fee schedule for durable medical equipment and prosthetic devices, and the Medicare clinical laboratory fee schedule. For purposes of making payment under the OPPS, we must be able to signal the claims processing system through the OCE software as to HCPCS codes that are paid under the OPPS and those codes to which particular OPPS payment policies apply. We accomplish this identification in the OPPS through the establishment of a system of status indicators with specific meanings. Addendum D1 contains the proposed definitions of each status indicator for purposes of the OPPS for CY 2006.

We assign one and only one status indicator to each APC and to each HCPCS code. Each HCPCS code that is assigned to an APC has the same status indicator as the APC to which it is assigned.

Specifically, for CY 2006, we are proposing to use the following status indicators in the specified manner:

• “A” to indicate services that are billable to fiscal intermediaries but are paid under some payment method other than OPPS, such as under the durable medical equipment, prosthetics, orthotics, and supplies (DMEPOS) fee schedule or the Medicare Physician Fee Schedule. Some, but not all, of these other payment systems are identified in Addendum D1 to this proposed rule.

• “B” to indicate the services that are billable to fiscal intermediaries but are not payable under the OPPS when submitted on an outpatient hospital Part B bill type, but that may be payable by fiscal intermediaries to other provider types when submitted on an appropriate bill type.

• “C” to indicate inpatient services that are not payable under the OPPS.

• “D” to indicate a code that is discontinued, effective January 1, 2006.

• “E” to indicate items or services that are not covered by Medicare or codes that are not recognized by Medicare.

• “F” to indicate acquisition of corneal tissue which is paid on a reasonable cost basis, certain CRNA services, and hepatitis B vaccines that are paid on a reasonable cost basis.

• “G” to indicate drugs and biologicals that are paid under the OPPS transitional pass-through rules.

• “H” to indicate pass-through devices, brachytherapy sources, and separately payable radiopharmaceuticals that are paid on a cost basis.

• “K” to indicate drugs and biologicals (including blood and blood products) and radiopharmaceutical agents that are paid in separate APCs under the OPPS, but that are not paid under the OPPS transitional pass-through rules.

• “L” to indicate flu and pneumococcal immunizations that are paid at reasonable cost but to which no coinsurance or copayment apply.

• “M” to indicate services that are only billable to carriers and not to fiscal intermediaries and that are not payable under the OPPS.

• “N” to indicate services that are paid under the OPPS, but for which payment is packaged into another service or APC group.

• “P” to indicate services that are paid under the OPPS, but only in partial hospitalization programs.

• “Q” to indicate packaged services subject to separate payment under OPPS payment criteria.

• “S” to indicate significant services subject to separate payment under the OPPS.

• “T” to indicate significant services that are paid under the OPPS and to which the multiple procedure payment discount under the OPPS applies.

• “V” to indicate medical visits (including emergency department or clinic visits) that are paid under the OPPS.

• “X” to indicate ancillary services that are paid under the OPPS.

• “Y” to indicate nonimplantable durable medical equipment that must be billed directly to the durable medical equipment regional carrier rather than to the fiscal intermediary.

We are proposing the payment status indicators identified above, of which indicators “M” and “Q” are new for CY 2006, for each HCPCS code and each APC listed in Addenda A and B and are requesting comments on the appropriateness of the indicators we have assigned.

B. Proposed Comment Indicators for the CY 2006 OPPS Final Rule

(If you choose to comment on issues in the section, please include the caption “Comment Indicator” at the beginning of your comment.)

We are proposing to continue our use of the two comment indicators finalized in the November 15, 2004 final rule with comment period (69 FR 65827 and 65828) to identify in the CY 2006 OPPS final rule the assignment status of a specific HCPCS code to an APC and the timeframe when comments on the HCPCS APC assignment will be accepted. The two comment indicators are listed below, and in Addendum D2 of this proposed rule:

• “NF”—New code, final APC assignment; Comments were accepted on a proposed APC assignment in the Proposed Rule; APC assignment is no longer open to comment.

• “NI”—New code, interim APC assignment; Comments will be accepted on the interim APC assignment for the new code.

XIV. Proposed Nonrecurring Policy Changes

A. Proposed Payments for Multiple Diagnostic Imaging Procedures

(If you choose to comment on issues in this section, please include the caption “Multiple Diagnostic Imaging Procedures” at the beginning of your comment.)

Currently, under the OPPS, hospitals billing for diagnostic imaging procedures receive full APC payments for each service on a claim, regardless of how many procedures are performed using a single imaging modality and whether or not contiguous areas of the body are studied in the same session. In its March 2005 Report to Congress, MedPAC recommended that the Secretary should improve Medicare coding edits that detect unbundled diagnostic imaging services and reduce the technical component payment for multiple imaging services when they are performed on contiguous areas of the body (Recommendation 3-B). MedPAC pointed out that Medicare's payment rates are based on each service being provided independently and that the rates do not account for efficiencies that may be gained when multiple studies using the same imaging modality are performed in the same session. Those efficiencies are especially likely when contiguous body areas are the focus of the imaging because the patient and equipment have already been prepared for the second and subsequent procedures, potentially yielding resource savings in areas such as clerical time, technical preparation, and supplies, elements of hospital costs for imaging procedures that are reflected in APC payment rates under the OPPS.

Under the OPPS, we have a longstanding policy of reducing payment for multiple surgical procedures performed on the same patient in the same operative session (§ 419.44(a) of the regulations). In such cases, full payment is made for the procedure with the highest APC payment rate, and each subsequent procedure is paid at 50 percent of its respective APC payment rate. We believe that a similar policy for payment of diagnostic imaging services would be more appropriate than our current policy because it would lead to more appropriate payment for multiple imaging procedures of contiguous body areas that are performed during the same session.

In our efforts to determine whether or not such a policy would improve the accuracy of OPPS payments, we identified 11 “families” of imaging procedures by imaging modality (ultrasound, computerized tomography (CT) and computerized tomography angiography (CTA), magnetic resonance imaging (MRI) and magnetic resonance angiography (MRA)) and contiguous body area (for example, CT and CTA of Chest/Thorax/Abdomen/Pelvis), as displayed in Table 32. Using those Families of procedures, we examined OPPS bills for CY 2004 and found that there were numerous claims reporting more than one imaging procedure within the same Family provided to a beneficiary by a hospital on the same day. For instance, of the approximately 2.7 million OPPS claims billed for services within Family 2 (CT and CTA of the Chest/Thorax/Abdomen/Pelvis), approximately 1.1 million were claims for multiple procedures within Family 2. In particular, there were 288,200 claims for the combination of CPT codes 72192 (CT of the pelvis without dye) and 74150 (CT of the abdomen without dye).

Table 32.—Multiple Imaging Procedures Families by Imaging Modality and Contiguous Body Area
Family | Imaging modality/contiguous body area
Family 1—Ultrasound (Chest/Abdomen/Pelvis—Non-Obstetrical):
76604 | Us exam, chest, b-scan.
76645 | Us exam, breast(s).
76700 | Us exam, abdom, complete.
76705 | Echo exam of abdomen.
76770 | Us exam abdo back wall, comp.
76775 | Us exam abdo back wall, lim.
76778 | Us exam kidney transplant.
76830 | Transvaginal us, non-ob.
76831 | Echo exam, uterus.
76856 | Us exam, pelvic, complete.
76857 | Us exam, pelvic, limited.
Family 2—CT and CTA (Chest/Thorax/Abd/Pelvis):
71250 | Ct thorax w/o dye.
71260 | Ct thorax w/ dye.
71270 | Ct thorax w/o & w/ dye.
72192 | Ct pelvis w/o dye.
72193 | Ct pelvis w/ dye.
72194 | Ct pelvis w/o & w/ dye.
74150 | Ct abdomen w/o dye.
74160 | Ct abdomen w/ dye.
74170 | Ct abdomen w/o & w/ dye.
71275 | Ct angiography, chest.
72191 | Ct angiography, pelv w/o & w/ dye.
74175 | Ct angiography, abdom w/o & w/ dye.
75635 | Ct angio abdominal arteries.
0067T | Ct colonography; dx.
Family 3—CT and CTA (Head/Brain/Orbit/Maxillofacial/Neck):
70450 | Ct head/brain w/o dye.
70460 | Ct head/brain w/ dye.
70470 | Ct head/brain w/o & w/ dye.
70480 | Ct orbit/ear/fossa w/o dye.
70481 | Ct orbit/ear/fossa w/ dye.
70482 | Ct orbit/ear/fossa w/o & w/ dye.
70486 | Ct maxillofacial w/o dye.
70487 | Ct maxillofacial w/ dye.
70488 | Ct maxillofacial w/o & w/ dye.
70490 | Ct soft tissue neck w/o dye.
70491 | Ct soft tissue neck w/ dye.
70492 | Ct soft tissue neck w/o & w/ dye.
70496 | Ct angiography, head.
70498 | Ct angiography, neck.
Family 4—MRI and MRA (Chest/Abd/Pelvis):
71550 | Mri chest w/o dye.
71551 | Mri chest w/ dye.
71552 | Mri chest w/o & w/ dye.
72195 | Mri pelvis w/o dye.
72196 | Mri pelvis w/ dye.
72197 | Mri pelvis w/o &w/ dye.
74181 | Mri abdomen w/o dye.
74182 | Mri abdomen w/ dye.
74183 | Mri abdomen w/o and w/ dye.
C8900 | MRA w/contrast, abdomen.
C8901 | MRA w/o contrast, abdomen.
C8902 | MRA w/o fol w/contrast, abd.
C8903 | MRI w/contrast, breast, unilateral.
C8904 | MRI w/o contrast, breast, unilateral.
C8905 | MRI w/o fol w/contrast, breast, uni.
C8906 | MRI w/contrast, breast, bilateral.
C8907 | MRI w/o contrast, breast, bilateral.
C8908 | MRI w/o fol w/contrast, breast, bilat.
C8909 | MRA w/contrast, chest.
C8910 | MRA w/o contrast, chest.
C8911 | MRA w/o fol w/contrast, chest.
C8918 | MRA w/contrast, pelvis.
C8919 | MRA w/o contrast, pelvis.
C8920 | MRA w/o fol w/contrast, pelvis.
Family 5—MRI and MRA (Head/Brain/Neck):
70540 | Mri orbit/face/neck w/o dye.
70542 | Mri orbit/face/neck w/ dye.
70543 | Mri orbit/face/neck w/o & w/dye.
70551 | Mri brain w/o dye.
70552 | Mri brain w/dye.
70553 | Mri brain w/o & w/dye.
70544 | Mr angiography head w/o dye.
70545 | Mr angiography head w/dye.
70546 | Mr angiography head w/o & w/dye.
70547 | Mr angiography neck w/o dye.
70548 | Mr angiography neck w/dye.
70549 | Mr angiography neck w/o & w/dye.
Family 6—MRI and MRA (Spine):
72141 | Mri neck spine w/o dye.
72142 | Mri neck spine w/dye.
72146 | Mri chest spine w/o dye.
72147 | Mri chest spine w/dye.
72148 | Mri lumbar spine w/o dye.
72149 | Mri lumbar spine w/dye.
72156 | Mri neck spine w/o & w/dye.
72157 | Mri chest spine w/o & w/dye.
72158 | Mri lumbar spine w/o & w/dye.
Family 7—CT (Spine):
72125 | CT neck spine w/o dye.
72126 | Ct neck spine w/dye.
72127 | Ct neck spine w/o & w/dye.
72128 | Ct chest spine w/o dye.
72129 | Ct chest spine w/dye.
72130 | Ct chest spine w/o & w/dye.
72131 | Ct lumbar spine w/o dye.
72132 | Ct lumbar spine w/dye.
72133 | Ct lumbar spine w/o & w/dye.
Family 8—MRI and MRA (Lower Extremities):
73718 | Mri lower extremity w/o dye.
73719 | Mri lower extremity w/dye.
73720 | Mri lower ext w/ & w/o dye.
73721 | Mri joint of lwr extre w/o dye.
73722 | Mri joint of lwr extr w/dye.
73723 | Mri joint of lwr extr w/o & w/dye.
C8912 | MRA w/contrast, lwr extremity.
C8913 | MRA w/o contrast, lwr extremity.
C8914 | MRA w/o fol w/contrast, lwr extremity.
Family 9—CT and CTA (Lower Extremities):
73700 | Ct lower extremity w/o dye.
73701 | Ct lower extremity w/dye.
73702 | Ct lower extremity w/o & w/dye.
73706 | Ct angio lower ext w/o & w/dye.
Family 10—Mr and MRI (Upper Extremities and Joints):
73218 | Mri upper extr w/o dye.
73219 | Mri upper extr w/dye.
73220 | Mri upper extremity w/o & w/dye.
73221 | Mri joint upper extr w/o dye.
73222 | Mri joint upper extr w/dye.
73223 | Mri joint upper extr w/o & w/dye.
Family 11—CT and CTA (Upper Extremities):
73200 | Ct upper extremity w/o dye.
73201 | Ct upper extremity w/dye.
73202 | Ct upper extremity w/o & w/dye.
73206 | Ct angio upper extr w/o & w/dye.

The imaging procedures described by CPT codes 72192 and 74150 study two adjacent body regions. Appropriate diagnostic evaluation of many constellations of patients' signs and symptoms and potentially affected organ systems may involve assessment of pathology in both the abdomen and pelvis, body areas that are anatomically and functionally closely related. Therefore, both studies are frequently performed in the same session to provide the necessary clinical information to diagnose and treat a patient. Although each procedure, by itself, entails the use of hospital resources, including certain staff, equipment, and supplies, some of those resource costs are not incurred twice when the procedures are performed in the same session and thus, should not be paid as if they were. Beginning with the beneficiary's arrival in the outpatient department, costs are incurred only once for registering the patient, taking the patient to the procedure room, positioning the patient on the table for the CT scan, among others. We believe it is clear that reducing the payment for the second and subsequent procedures within the identified families would result in more accurate payments with respect to the hospital resources utilized for multiple imaging procedures performed in the same session.

OPPS bills do not contain detailed information on the hospitals' costs that are incurred in furnishing imaging procedures. Much of the costs are packaged and included in the overall charges for the procedures. Even if bundled costs are reported with charges on separate lines either with HCPCS codes or with revenue codes, when there are multiple procedures on the claims, it is impossible for us to accurately attribute bundled costs to each procedure. However, our analysis of CY 2004 hospital claims convinced us that some discounting of multiple imaging procedures is warranted. In order to determine the level of adjustment that would be appropriate for the second and subsequent procedures performed within a family in the same session, we used the MPFS methodology and data.

Under the resource-based practice expense methodology used for Medicare payments to physicians, specific practice expense inputs of clinical labor, supplies and equipment are used to calculate “relative value units” on which physician payments are based. When multiple images are acquired in a single session, most of the clinical labor activities are not performed twice and many of the supplies are not furnished twice. Specifically, we consider that the following clinical labor activities included in the “technical component” (TC) of the MPFS are not duplicated for subsequent procedures: Greeting, positioning and escorting the patient; providing education and obtaining consent; retrieving prior exams; setting up the IV; and preparing and cleaning the room. In addition, we consider that supplies, with the exception of film, are not duplicated for subsequent procedures. Equipment time and indirect costs are allocated based on clinical labor time in the physician payment methodology and, therefore, these inputs should be reduced accordingly.

We performed analyses and found that excluding those practice expense inputs, along with the corresponding portion of equipment time and indirect costs, supports a 50-percent reduction in the payment for the TC portion of subsequent procedures. The items and services that make up hospitals' facility costs are generally very similar to those that are counted in the TC portion of the MPFS for diagnostic imaging procedures. We believe that the analytic justification for a 50-percent reduction of the TC for the second and subsequent imaging procedures using the MPFS input data also provides a basis for a similar relative reduction to payments for multiple imaging procedures performed in the hospital outpatient department. Therefore, we are proposing to make a 50-percent reduction in the OPPS payments for some second and subsequent imaging procedures performed in the same session, similar to our policy of reducing payments for some second and subsequent surgical procedures.

We are proposing to apply the multiple imaging procedure reduction only to individual services described by codes within one Family, not across Families. Reductions would apply when more than one procedure within the Family is performed in the same session. For example, no reduction would apply to an MRI of the brain (CPT code 70552) in code Family 5, when performed in the same session as an MRI of the spinal canal and contents (CPT code 72142) in code Family 6. We are proposing to make full payment for the procedure with the highest APC payment rate, and payment at 50 percent of the applicable APC payment rate for every additional procedure, when performed in the same session.

B. Interrupted Procedure Payment Policies (Modifiers -52, -73, and -74)

(If you choose to comment on issues in this section, please include the caption “Interrupted Procedures” at the beginning of your comment.)

Since implementation of the OPPS in 2000, we have required hospitals to report modifiers -52, -73, and -74 to indicate procedures that were terminated before their completion. Modifier -52 indicates partial reduction or discontinuation of services that do not require anesthesia, while modifiers -73 and -74 are used for procedures requiring anesthesia, where the patient was taken to the treatment room and the procedure was discontinued before anesthesia administration or after anesthesia administration/procedure initiation respectively. The elective cancellation of procedures is not reported. Hospitals are paid 50 percent of the APC payment for services with -73 appended and 100 percent for procedures with modifier -52 or -74 reported, in accordance with § 419.44(b) of the regulations. In January 2005, we clarified in Program Transmittal 442 the definition of anesthesia for purposes of billing for services furnished in the hospital outpatient department in the context of reporting modifiers -73 and -74. The APC Panel considered the current OPPS payment policies for interrupted procedures at its February 2005 meeting and made a number of recommendations that are addressed in the following discussion.

Current OPPS policy requires providers to use modifier -52 to indicate that a service that did not require anesthesia was partially reduced or discontinued at the physician's discretion. The physician may discontinue or cancel a procedure that is not completed in its entirety due to a number of circumstances, such as adverse patient reaction or medical judgment that completion of the full study is unnecessary. Based on an analysis of CY 2004 hospital claims data, in the outpatient hospital setting modifier -52 is used infrequently. The modifier is reported most often to identify interrupted or reduced radiological and imaging procedures, and our current policy is to make full payment for procedures with a -52 modifier.

We are now reconsidering our payment policy for interrupted or reduced services not requiring anesthesia and reported with a -52 modifier. At its February 2005 meeting, the APC Panel recommended continuing current OPPS payment policy at 100 percent of the APC payment for reduced services reported with modifier -52, although the Panel members acknowledged their limited familiarity with the specific outpatient hospital services and their clinical circumstances that would warrant the reporting of modifier -52. We have examined our data to determine the appropriateness of our current policy regarding payment for services that are reduced, and although some hospital resources are used to provide even an incomplete service, such as a radiology service, we are skeptical that it is accurate to pay the full rate for a discontinued or reduced radiological service. Compared to surgical procedures that require anesthesia, a number of general and procedure-specific supplies, and reserved procedure rooms that must be cleaned and prepared prior to performance of each specific procedure, the costs to the hospital outpatient department for the rooms and supplies typically associated with procedures not requiring anesthesia are much more limited. For example, the scheduling maintained for radiological services not requiring anesthesia generally exhibits greater flexibility than that for surgical procedures, and the procedure rooms are used for many unscheduled services that are fit in, when possible, between those that are scheduled. Consequently, we believe that the loss of revenue that may result from a surgical procedure being discontinued prior to its initiation in the procedure room is usually more substantial than that lost as the result of a discontinued service not requiring anesthesia, such as a radiology procedure. Nonetheless, under our current policy, Medicare makes the full APC payment for discontinued or reduced radiological procedures and only 50 percent of the APC payment for surgical procedures that are discontinued prior to initiation of the procedure or the administration of anesthesia.

Therefore, we are proposing to pay 50 percent of the APC payment amount for a discontinued procedure that does not require anesthesia where modifier -52 is reported. We believe that this proposed payment would appropriately recognize the hospital's costs involved with the delivery of a typical reduced service, similar to our payment policies for interrupted procedures that require anesthesia.

When a procedure requiring anesthesia is discontinued after the beneficiary was prepared for the procedure and taken to the room where it was to be performed but before the administration of anesthesia, hospitals currently report modifier -73 and receive 50 percent of the APC payment for the planned service. The APC Panel recommended that we make full APC payment for services with modifier -73 reported, because significant hospital resources were expended to prepare the patient and the treatment room or operating room for the procedure. Although the circumstances that require use of modifier -73 occur infrequently, we continue to believe that hospitals realize significant savings when procedures are discontinued prior to initiation but after the beneficiary is taken to the procedure room. We believe savings are recognized for treatment/operating room time, single use devices, drugs, equipment, supplies, and recovery room time. Thus, we believe our policy of paying 50 percent of the procedure's APC payment when modifier -73 is reported remains appropriate.

Further, we are exploring the possibility of applying a payment reduction for interrupted procedures in which anesthesia was to be used (and may have been administered) and the procedure was initiated. Currently, those cases are reported using modifier -74, and we make the full APC payment for the planned service. We are now reviewing that policy and are soliciting comments that include information regarding what costs are incurred by providers in these cases.

The payment policy for interrupted procedures reported with modifier -74 was originally adopted because we believed that the facility costs incurred for discontinued procedures that were initiated to some degree were as significant to the hospital provider as for a completed procedure, including resources for patient preparation, operating room use, and recovery room care. However, we have come to question that underlying assumption, especially as many surgical procedures have come to require specialized and costly devices and equipment, and our APC payments include the costs for those devices and equipment. We now believe that there are costs that are not incurred in the event of a procedure's discontinuation, if a hospital is managing its use of devices, supplies, and equipment efficiently and conservatively. For example, the patient's recovery time may be less than the recovery time would have been for the planned procedure, because less extensive surgery was performed or costly devices planned for the procedure may not be used.

The APC Panel recommended that we continue to pay 100 percent of the procedural APC payment when modifier -74 is appended to the surgical service because, in its opinion, procedures may frequently be terminated prior to completion because the patient is experiencing adverse effects from the surgical service or the anesthesia. The Panel speculated that, in fact, significant additional resources could be expended in such a situation to stabilize and treat the patient if a procedure were discontinued because of patient complications. However, we believe that many of such additional services, including critical care, drugs, blood and blood products, and x-rays that may be necessary to manage and treat such patients, are separately payable under the OPPS and thus the hospital's costs need not be paid through the APC payment for the planned procedure. Because the OPPS is paying for the time in the operating room, recovery room, outpatient department staff, and supplies related to the typical procedure, it would seem that those costs may be lower in those infrequent cases when the procedure is initiated but not completed. We acknowledge that the costs on claims reporting a service with modifier -74 may be particularly diverse, depending upon the point in the procedure the service is interrupted. Thus, we are seeking comment on the clinical circumstances in which modifier -74 is used in the hospital outpatient department, and the degree to which hospitals may experience cost savings in such situations where procedures are not completed. We are specifically interested in comments regarding the disposition of devices and specialized equipment that are not used because a procedure is discontinued after its initiation. In particular, we are interested in obtaining information about when during the procedure the decision to discontinue is made.

XV. OPPS Policy and Payment Recommendations

A. MedPAC Recommendations

1. Report to the Congress: Medicare Payment Policy (March 2005)

The Medicare Payment Advisory Commission (MedPAC) submits reports to Congress in March and June that summarize payment policy recommendations. The March 2005 MedPAC report included the following two recommendations relating specifically to the hospital OPPS:

a. Recommendation 1: The Congress should increase payment rates for the outpatient prospective payment system by the projected increase in the hospital market basket index less 0.4 percent for calendar year 2006. A discussion regarding hospital update payments, and the effect of the market basket update in relation to other factors influencing OPPS proposed payment rates, is included in section II.C. (“Proposed Conversion Factor Update for CY 2006”) of this preamble.

b. Recommendation 2: The Congress should extend hold-harmless payments under the outpatient prospective payment system for rural sole community hospitals and other rural hospitals with 100 or fewer beds through calendar year 2006. A discussion of the expiration of the hold-harmless provision is included in section II.F. of this preamble. See also section II.G. (“Proposed Adjustment for Rural Hospitals”) of this preamble for a discussion of section 411 of Pub. L. 108-173.

2. Report to the Congress: Issues in a Modernized Medicare Program—Payment for Pharmacy Handling Costs in Hospital Outpatient Departments (June 2005)

A discussion of the MedPAC recommendations relating to pharmacy overhead payments in the hospital outpatient department can be found in section V. of the preamble of this proposed rule.

B. APC Panel Recommendations

Recommendations made by the APC Panel are discussed in sections of this preamble that correspond to topics addressed by the APC Panel. Minutes of the APC Panel's February 2005 meeting are available online at http://www.cms.hhs.gov/faca/apc/default.asp.

C. GAO Hospital Outpatient Drug Acquisition Cost Survey

A discussion of the June 30, 2005 GAO report entitled “Medicare: Drug Purchase Prices for CMS Consideration in Hospital Outpatient Rate-Setting” and section 621(a)(1) of the MMA is included in section V. of the preamble of this proposed rule.

XVI. Physician Oversight of Mid-Level Practitioners in Critical Access Hospitals

(If you choose to comment on issues in this section, please include the caption “Physician Oversight of Nonphysician Practitioners” at the beginning of your comment.)

A. Background

Section 1820 of the Act, as amended by section 4201 of the Balanced Budget Act of 1997, Pub. L. 105-33, provides for the establishment of Medicare Rural Hospital Flexibility Programs (MRHFPs), under which individual States may designate certain facilities as critical access hospitals (CAHs). Facilities that are so designated and meet the CAH conditions of participations (COPs) under 42 CFR Part 485, Subpart F, will be certified as CAHs by CMS. The MRHFP replaced the Essential Access Community Hospital (EACH)/ Rural Primary Care Hospital (RPCH) program.

B. Proposed Policy Change

Under the former EACH/RPCH program, physician oversight was required for services provided by nonphysician practitioners such as physician assistants (PAs), nurse practitioners (NPs), and clinical nurse specialists (CNSs) in a CAH. Under the MRHFP, the statute likewise required a physician oversight provision for nonphysician practitioners.

We note that under the EACH/RPCH program, we allowed for situations when the RPCH had an unusually high volume of outpatients (100 or more during a 2-week period) that were treated by nonphysician practitioners. We stated that it would be sufficient for a physician to review and sign a 25-percent sample of medical records for patients cared for by a mid-level practitioner unless State practice and laws require higher standards for physician oversight for mid-level practitioners.

However, the current regulation does not distinguish between inpatient and outpatient physician oversight. Although the CAH CoPs at § 485.631(b)(iv) provide that a doctor of medicine or osteopathy periodically reviews and signs the records of patients cared for by NPs, CNSs, or PAs, section 1820(c)(2)(B)(iv)(III) of the Act states that CAH inpatient care provided by a PA or NP is subject to the oversight of a physician. The review of outpatient records is not addressed in the statute. Presently, for patients cared for by nonphysician practitioners, the interpretative guidelines set forth in Appendix W of the State Operations Manual (CMS Publication 107) set parameters for inpatient and outpatient physician reviews. To maintain consistency from the EACH/RPCH program to the CAH program, we indicated that CAHs with a high volume of outpatients need to have a physician review and sign a random sample of 25 percent outpatient medical records. Therefore, the interpretative guidelines allow a physician to review and sign a 25-percent sample of outpatient records for patients under the care of a nonphysician practitioner.

Nonphysician practitioners recently brought to our attention their concerns regarding their ability to practice under their State laws governing scope of practice. Particularly, the nonphysician practitioners believe the current regulations and guidelines impede their ability to practice in CAHs. Certified nurse midwives, NPs, and CNSs disagree with the need for a physician to review records of patients that have been in their care when State law permits them to practice independently.

MedPAC, in its June 2002 Report to the Congress, stated that certified nurse midwives, NPs, CNSs, and PAs are health care practitioners who furnish many of the same health care services traditionally provided by physicians, such as diagnosing illnesses, performing physical examinations, ordering and interpreting laboratory tests, and providing preventive health services. In many States, advance practice nurses are permitted to practice independently or in collaboration with a physician. MedPAC reported that NPs have independent practice authority in 21 States, and CNSs have independent practice authority in 20 States. PAs, by law, must work under the supervision of a physician. Based on the American Medical Association's guidelines for PAs, the definition of supervision varies by State. Generally, the physician assistant is a representative of the physician, treating the patient in the style and manner developed and directed by the supervising physician.

MedPAC further reported that several studies have shown comparable patient outcomes for the services provided by physician and nonphysician practitioners. MedPAC reported that research conducted by Mundinger et al.² in 2000, Brown and Grimes ³ in 1993, Ryan in 1993,⁴ and the Office of Technology Assessment ⁵ in 1986 has shown that nonphysician practitioners can perform about 80 percent of the services provided by primary care physicians with comparable quality. A randomized trial of physicians and nurse practitioners providing care in ambulatory care settings who had the same authority, responsibilities, productivity, and administrative requirements were shown to have comparable patient outcomes (see pages 5 and 11 of the June 2002 MedPAC report). Nonphysician practitioners are trained with the expectation that they will exercise a certain degree of autonomy when providing patient care. About 90 percent of nurse practitioners and 50 percent of physician assistants provide primary care.

² Mundinger, M.O., Kane, R.I., Lenez, E.R., et al., Primary Care Outcomes in Patients Treated by Nurse Practitioners or Physicians, A Randomized Trial, The Journal of the American Medical Association, January 5, 2000, Vol. 283, No. 1, pages 59-68.

³ Brown, S.A. and Grimes, D.E., Nurse Practitioners and Certified Nurse Midwives: A Meta Analysis of Studies on Nurses in Primary Care Roles, American Nurses Association, Washington, DC, March 1993.

⁴ Ryan, S.A., Nurse Practitioners: Educational Issues, Practice Styles, and Service Barriers. In Clawson, D.K., Osterweis, M., eds: The Role of Physician Assistants and Nurse Practitioners in Primary Health Care, Association of Academic Health Centers, Washington, DC, 1993.

⁵ Office of Technology Assessment, U.S. Congress: Nurse Practitioners, Physician Assistants, and Certified Nurse Midwives: A Policy Analysis, Health Technology Case Study 37, Washington, DC, U.S Government Printing Office, 1986.

We believe sufficient control and oversight of these nonphysician practitioners is generated by State laws which allow independent practice authority. Moreover, it further appears that quality is not impaired by such nonphysician practitioners. We remain concerned, however, that in those States without independent practice laws we have a responsibility to continue to ensure the safety and quality of services provided to Medicare beneficiaries.

Therefore, we are proposing to revise the regulation at § 485.631(b)(iv) to defer to State law regarding the review of records for outpatients cared for by nonphysician practitioners. We are proposing that if State law allows these practitioners to practice independently, we would not require physicians to review and sign medical records of outpatients cared for by nonphysician practitioners. However, for those States that do not allow independent practice of nonphysician practitioners, we would continue to maintain that periodic review is performed by the physician on outpatient records under the care of a nonphysician practitioner. We believe a review of at least every 2 weeks provides a sufficient time period without unduly imposing an administrative burden on the physician or the CAH. In addition, we would allow the CAH to determine the sample size of the reviewed records in accordance with current standards of practice to allow the CAH flexibility in adapting the review to its particular circumstances. Specifically, we are proposing that the physician periodically (that is, at least once every 2 weeks) reviews and signs a sample of the outpatient records of nonphysician practitioners according to the facility policy and current standards of practice. We would still require periodic review and oversight of all inpatient records by physicians.

XVII. Files Available to the Public Via the Internet

The data referenced for Addendum C and Addendum P to this proposed rule are available on the following CMS Web site via Internet only: http://www.cms.hhs.gov/providers/hopps/. We are not republishing the data represented in these Addenda to this proposed rule because of their volume. For additional assistance, contact Rebecca Kane, at (410) 786-0378.

Addendum C—Healthcare Common Procedure Coding System (HCPCS) Codes by Ambulatory Payment Classification (APC)

This file contains the HCPCS codes sorted by the APCs into which they are assigned for payment under the OPPS. The file also includes the APC status indicators, relative weights, and OPPS payment amounts.

XVIII. Collection of Information Requirements

Under the Paperwork Reduction Act of 1995 (PRA), we are required to provide 60-day notice in the Federal Register and solicit public comment before a collection of information requirement is submitted to the Office of Management and Budget (OMB) for review and approval. In order to evaluate fairly whether an information collection should be approved by OMB, section 35006(c)(2)(A) of the PRA requires that we solicit comment on the following issues:

• The need for the information collection and its usefulness in carrying out the proper functions of the agency.

• The accuracy of our estimates of the information collection burden,

• The quality, utility, and clarity of the information to be collected.

• Recommendations to minimize the information collection burden on the affected public, including automated collection techniques.

We are soliciting public comments on each of these issues for the information requirement discussed below.

The following information collection requirements in this proposed rule and the associated burdens are subject to the PRA:

Proposed § 485.631(b)(1)(iv), (b)(1)(v), and (b)(1)(vi)—Condition of Participation: Staffing and Staff Responsibilities

Existing § 485.631(b)(1)(iv) requires, as a condition of participation for a CAH, that a doctor of medicine or osteopathy to periodically review and sign the records of patients cared for by nurse practitioners, clinical specialists, or physician assistants. This proposed rule would amend those requirements to require that a doctor of medicine or osteopathy (1) periodically review and sign the records of all inpatients cared for by nurse practitioners, clinical nurse specialists, certified nurse midwives, or physician assistants; and (2) periodically, but not less than every 2 weeks, review and sign a sample of outpatient records of patients cared for by nurse practitioners, clinical nurse specialists, certified nurse midwives, or physician assistants according to the policy and standard practice of the CAH when State law does not allow these nonphysician practitioners to practice independently. In addition, the proposed rule would provide that a doctor of medicine or osteopathy is not required to review and sign outpatient records of patients cared for by nurse practitioners, clinical nurse specialists, certified nurse midwives, or physician assistants when State law allows these nonphysician practitioners to practice independently.

The information collection requirements associated with these provisions are subject to the PRA. However, the collection requirement is currently approved under OMB control number 0938-0328 with an expiration date of January 31, 2008.

We have submitted a copy of this proposed rule to OMB for its review of the information collection requirements described above. These requirements are not effective until they have been approved by OMB.

If you comment on any of these information collection and record keeping requirements, please mail copies directly to the following:

Centers for Medicare & Medicaid Services, Office of Strategic Operations and Regulatory Affairs, Regulations Development and Issuances Group, Attn: James Wickliffe, CMS-1501-P, 7500 Security Boulevard, Baltimore, MD 21244-1850; and

Office of Information and Regulatory Affairs, Office of Management and Budget, Room 10235, New Executive Office Building, Washington, DC 20503, Attn: Christopher Martin, CMS Desk Officer.

Comments submitted to OMB may also be e-mailed to the following address: Christopher_Martin@omb.eop.gov, or faxed at (202) 395-6974.

XIX. Response to Comments

Because of the large number of items of correspondence we normally receive on a proposed rule, we are not able to acknowledge or respond to them individually. However, in preparing the final rule, we will consider all comments concerning the provisions of this proposed rule that we receive by the date and time specified in the DATES section of this preamble, and when we proceed with a subsequent document, we will respond to the comments in the preamble to that document.

XX. Regulatory Impact Analysis

(If you choose to comment on issues in this section, please include the caption “Impact” at the beginning of your comment.)

A. OPPS: General

We have examined the impacts of this proposed rule as required by Executive Order 12866 (September 1993, Regulatory Planning and Review), the Regulatory Flexibility Act (RFA) (September 19, 1980, Pub. L. 96-354), section 1102(b) of the Social Security Act, the Unfunded Mandates Reform Act of 1995 (Pub. L. 104-4), and Executive Order 13132.

1. Executive Order 12866

Executive Order 12866 (as amended by Executive Order 13258, which merely reassigns responsibility of duties) directs agencies to assess all costs and benefits of available regulatory alternatives and, if regulation is necessary, to select regulatory approaches that maximize net benefits (including potential economic, environmental, public health and safety effects, distributive impacts, and equity). A regulatory impact analysis (RIA) must be prepared for major rules with economically significant effects ($100 million or more in any 1 year).

We estimate the effects of the provisions that would be implemented by this proposed rule would result in expenditures exceeding $100 million in any 1 year. We estimate the total increase (from changes in this proposed rule as well as enrollment, utilization, and case-mix changes) in expenditures under the OPPS for CY 2006 compared to CY 2005 to be approximately $1.4 billion. Therefore, this proposed rule is an economically significant rule under Executive Order 12866, and a major rule under 5 U.S.C. 804(2).

2. Regulatory Flexibility Act (RFA)

The RFA requires agencies to determine whether a rule would have a significant economic impact on a substantial number of small entities. For purposes of the RFA, small entities include small businesses, nonprofit organizations, and government agencies. Most hospitals and most other providers and suppliers are small entities, either by nonprofit status or by having revenues of $6 million to $29 million in any 1 year (65 FR 69432).

For purposes of the RFA, we have determined that approximately 37 percent of hospitals would be considered small entities according to the Small Business Administration (SBA) size standards. We do not have data available to calculate the percentages of entities in the pharmaceutical preparation manufacturing, biological products, or medical instrument industries that would be considered to be small entities according to the SBA size standards. For the pharmaceutical preparation manufacturing industry (NAICS 325412), the size standard is 750 or fewer employees and $67.6 billion in annual sales (1997 business census). For biological products (except diagnostic) (NAICS 325414), with $5.7 billion in annual sales, and medical instruments (NAICS 339112), with $18.5 billion in annual sales, the standard is 50 or fewer employees (see the standards Web site at http://www.sba.gov/regulations/siccodes/). Individuals and States are not included in the definition of a small entity.

3. Small Rural Hospitals

In addition, section 1102(b) of the Act requires us to prepare a regulatory impact analysis if a rule may have a significant impact on the operations of a substantial number of small rural hospitals. This analysis must conform to the provisions of section 603 of the RFA. With the exception of hospitals located in certain New England counties, for purposes of section 1102(b) of the Act, we previously defined a small rural hospital as a hospital with fewer than 100 beds that is located outside of a Metropolitan Statistical Area (MSA) (or New England County Metropolitan Area (NECMA)). However, under the new labor market definitions that we are adopted in the November 15, 2004 final rule with comment period, for CY 2005, (consistent with the FY 2005 IPPS final rule), we no longer employ NECMAs to define urban areas in New England. Therefore, we now define a small rural hospital as a hospital with fewer than 100 beds that is located outside of an MSA. Section 601(g) of the Social Security Amendments of 1983 (Pub. L. 98-21) designated hospitals in certain New England counties as belonging to the adjacent NECMA. Thus, for purposes of the OPPS, we classify these hospitals as urban hospitals. We believe that the changes in this proposed rule would affect both a substantial number of rural hospitals as well as other classes of hospitals and that the effects on some may be significant. Therefore, we conclude that this proposed rule would have a significant impact on a substantial number of small entities.

4. Unfunded Mandates

Section 202 of the Unfunded Mandates Reform Act of 1995 (Pub. L. 104-4) also requires that agencies assess anticipated costs and benefits before issuing any rule that may result in an expenditure in any 1 year by State, local, or tribal governments, in the aggregate, or by the private sector, of $110 million. This proposed rule does not mandate any requirements for State, local, or tribal governments. This proposed rule also does not impose unfunded mandates on the private sector of more than $110 million dollars.

5. Federalism

Executive Order 13132 establishes certain requirements that an agency must meet when it publishes any rule (proposed or final rule) that imposes substantial direct costs on State and local governments, preempts State law, or otherwise has Federalism implications.

We have examined this proposed rule in accordance with Executive Order 13132, Federalism, and have determined that it would not have an impact on the rights, roles, and responsibilities of State, local or tribal governments. The impact analysis (refer to Table 33) shows that payments to governmental hospitals (including State, local, and tribal governmental hospitals) would increase by 1.8 percent under this proposed rule.

B. Impact of Proposed Changes in This Proposed Rule

We are proposing several changes to the OPPS that are required by the statute. We are required under section 1833(t)(3)(C)(ii) of the Act to update annually the conversion factor used to determine the APC payment rates. We are also required under section 1833(t)(9)(A) of the Act to revise, not less often than annually, the wage index and other adjustments. In addition, we must review the clinical integrity of payment groups and weights at least annually. Accordingly, in this proposed rule, we are proposing to update the conversion factor and the wage index adjustment for hospital outpatient services furnished beginning January 1, 2006, as we discuss in sections II.C. and II.D., respectively, of this proposed rule. We also are proposing to revise the relative APC payment weights using claims data from January 1, 2004, through December 31, 2004. In response to a provision in Pub. L. 108-173 that we analyze the cost of outpatient services in rural hospitals relative to urban hospitals, we are proposing to increase payments to rural sole community hospitals. Refer to section II.G. of the preamble to this proposed rule for greater detail on this adjustment. Finally, we are proposing to remove 3 device categories from pass-through payment status. In particular, refer to section IV.C.1 of the preamble of this proposed rule with regard to the expiration of pass-through status for devices.

Under this proposed rule, the update change to the conversion factor as provided by statute would increase total OPPS payments by 3.2 percent in CY 2006. The inclusion in CY 2006 of payment for specific covered outpatient drugs within budget neutrality, and the expiration of additional drug payment outside budget neutrality, which were authorized by Pub. L. 108-173 result in a net increase of 1.9 percent. The changes to the APC weights, the introduction of a multiple procedure discount for diagnostic imaging, changes to the wage index, and the introduction of a payment adjustment for rural sole community hospitals would not increase OPPS payments because these changes to the OPPS are budget neutral. However, these updates do change the distribution of payments within the budget neutral system as shown in Table 33 and described in more detail in this section.

C. Alternatives Considered

Alternatives to the changes we are making and the reasons that we have chosen the options we have are discussed throughout this proposed rule. Some of the major issues discussed in this proposed rule and the options considered are discussed below.

1. Option Considered for Proposed Payment Policy for Separately Payable Drugs and Biologicals

As discussed in detail in section V.B.3 of the preamble of this proposed rule, section 1833(t)(14)(A)(iii) of the Act requires that payment for specified covered outpatient drugs in CY 2006, as adjusted for pharmacy overhead costs, be equal to the average acquisition cost for the drug for that year as determined by the Secretary and taking into account the hospital acquisition cost survey data collected by the GAO in 2004 and 2005. If hospital acquisition cost data are not available, then the law requires that payment be equal to payment rates established under the methodology described in section 1842(o), section 1847(A), or section 1847(B) of the Act as calculated and adjusted by the Secretary as necessary.

The payment policy that we are proposing for CY 2006 is to pay for all separately payable drugs and biologicals at the payment rates effective in the physician office setting as determined using the manufacturer's average sales price (ASP) methodology. Our proposal uses payment rates based on ASP data from the fourth quarter of 2004, which were used to set payment rates for drugs and biologicals in the physician office setting effective April 1, 2005, as these are the most recent numbers available to us during the development of this proposed rule. For the few drugs and biologicals, other than radiopharmaceuticals as discussed earlier, where ASP data are unavailable, we are proposing to use the mean costs from the CY 2004 hospital claims data to determine their packaging status and for ratesetting. We believe that the ASP-based payment rates serve as the best proxy for the average acquisition cost for the drug or biological because the rates calculated using the ASP methodology are based on the manufacturers' sales prices from the fourth quarter of 2004 and take into consideration information on sales prices to hospitals. Furthermore, payments for drugs and biologicals using the ASP methodology would allow for consistency of drug pricing between the physician offices and hospital outpatient departments.

An alternative payment option for separately payable drugs and biologicals (before payment for pharmacy overhead) we considered was using ASP+3 percent based on the average relationship between the GAO mean purchase prices and ASP. A second payment option we considered using was ASP+8 percent (again before payment for pharmacy overhead) based on the average relationship between the mean costs from hospital claims data and ASP.

We are not proposing to set payment rates for separately payable drugs and biologcals at ASP+3 percent because the GAO data reflect hospital acquisition costs from a less recent period of time as the midpoint of the time period when the survey was conducted is January 1, 2004, and it would be difficult to update the GAO mean purchase prices during CY 2006 and in future years. Because the changes in drug payments are required to be budget neutral by law, we note that paying for separately payable drugs and biologicals at ASP+3 percent relative to ASP+6 percent would have made available approximately an additional $60 million for other items and services paid under the OPPS.

We are also not proposing to use ASP+8 percent to set payment rates for drugs and biologicals in CY 2006. The statute specifies that CY 2006 payments for specified covered outpatient drugs are required to be equal to the “average” acquisition cost for the drug. Payment at ASP+8 percent for drugs or biologicals, which represents the average relationship between the mean cost from hospital claims data and ASP, would reflect the product's acquisition cost plus overhead cost, instead of acquisition cost only. Therefore, we believe that it would not be appropriate for us to use ASP+8 percent to set the payment rates for drugs and biologicals in CY 2006. Using ASP+8 percent to set payments for separately payable drugs and biologicals relative to ASP+6 percent would have reduced payments for other items and services paid under the OPPS by approximately $40 million as the law requires that changes in drug payments be made in a budget neutral manner.

2. Payment Adjustment for Rural Sole Community Hospitals

In section II.G. of the preamble of this proposed rule, we propose a 6.6 percent payment adjustment increase to rural sole community hospitals. Section 1833(t)(13)(A) of the Act instructs the Secretary to conduct a study to determine if rural hospital outpatient costs exceed urban hospital outpatient costs. In addition, under new section 1833(t)(13)(B) of the Act, the Secretary is given authorization to provide an appropriate adjustment to rural hospitals, by January 1, 2006, if rural hospital costs are determined to be greater than urban hospital costs.

To conduct the study, we believe that a simple comparison of unit costs is insufficient because the costs faced by hospitals, whether urban or rural, will be a function of many factors. These include the local labor supply, and the complexity and volume of services provided. (We note that without controlling for the other influences on per unit cost, rural hospitals have lower cost per unit than urban hospitals.) Therefore, we rejected the option of using a simple comparison of unit costs and instead used regression analysis to analyze the differences in the outpatient cost per unit between rural and urban hospitals in order to compare costs after accounting for the influence of these other factors.

Our initial regression analysis found that all rural hospitals give some indication of having higher cost per unit, after controlling for labor input prices, service-mix complexity, volume, facility size, and type of hospital. Initially, we planned a small adjustment to all rural hospitals. However, in order to assess whether the small difference in costs was uniform across rural hospitals or whether all of the variation was attributable to a specific class of rural hospitals, we included more specific categories of rural hospitals in our explanatory regression analysis. Further analysis revealed that only rural sole community hospitals are more costly than urban hospitals holding all other variables constant. Notably, we observed no significant difference between all other rural hospitals and urban hospitals. Therefore, we propose not to pay a small adjustment increase to all rural hospitals, but to instead pay a 6.6 percent payment increase to rural sole community hospitals.

3. Change in the Percentage of Total OPPS Payments Dedicated to Outlier Payments

In section II.H. of the preamble of this proposed rule, we are proposing to change the percentage of total OPPS payments dedicated to outlier payments to 1.0 percent in CY 2006 from the current policy of 2.0 percent. We also are proposing to continue using a fixed-dollar threshold in addition to the threshold based on a multiple of the APC amount that we have applied since the beginning of the OPPS. In response to findings reported by the MedPAC in their March 2004 Report to Congress that the OPPS outlier policy did not provide sufficient insurance against large financial loses for certain complex procedures that ultimately could impact beneficiary access to services, we implemented the fixed-dollar threshold in the CY 2005 OPPS. Our decision to reduce the percentage of total payments dedicated to outlier payments continues to refine our outlier policy to improve its appropriateness for OPPS. Because OPPS pays by service, rather than by case, hospitals are already paid for every increased service associated with a costly case. A reduction in the size of the outlier pool combined with the fixed dollar threshold continues to target outlier payments to those services where one costly occurrence could pose a financial risk for hospitals, but limits these payments to the most complex and costly services. At the same time, reducing the outlier pool increases overall payments for all services by 1.0 percent.

Alternatives to this policy are either to remain at 2.0 percent or to increase the percentage of payments dedicated to outliers to the statutory limit of 3.0 percent. Increasing the percentage of payments dedicated to outliers could target more payment to outliers, but is at odds with OPPS payment by service rather than case. It is not possible to eliminate outlier payments entirely without a statutory change.

D. Limitations of Our Analysis

The distributional impacts presented here are the projected effects of the policy changes, as well as the statutory changes that would be effective for CY 2006, on various hospital groups. We estimate the effects of individual policy changes by estimating payments per service while holding all other payment policies constant. We use the best data available but do not attempt to predict behavioral responses to our policy changes. In addition, we are not proposing to make adjustments for future changes in variables such as service volume, service-mix, or number of encounters. As we have done in previous proposed rules, we are soliciting comments and information about the anticipated effects of these proposed changes on hospitals and our methodology for estimating them.

E. Estimated Impacts of This Proposed Rule on Hospitals

The estimated increase in the total payments made under OPPS is limited by the increase to the conversion factor set under the methodology in the statute. The distributional impacts presented do not include assumptions about changes in volume and service-mix. However, total payments actually made under the system also may be influenced by changes in volume and service-mix, which CMS cannot forecast. The enactment of Pub. L. 108-173 on December 8, 2003, provided for the payment of additional dollars in CY 2004 and CY 2005 to providers of OPPS services outside of the budget neutrality requirements for specified covered outpatient drugs. These provisions expire CY 2006, as noted in this proposed rule. Pub. L. 108-173 also provided for additional payment for wage indexes for specific hospitals reclassified under section 508 through 2007. Table 33 shows the estimated redistribution of hospital payments among providers as a result of a new APC structure, multiple procedure discount for diagnostic imaging, wage indices, and rural adjustment, which are budget neutral; the estimated distribution of increased payments in CY 2006 resulting from the combined impact of proposed APC recalibration, proposed wage effects, the proposed rural sole community hospital adjustment, and the proposed market basket update to the conversion factor; and, finally, estimated payments considering all proposed payments for CY 2006 relative to all payments for CY 2005 including the expiration of the provision in Pub. L. 108-173 that required payment for specified covered outpatient drugs outside budget neutrality and the proposed change in the percentage of total payments dedicated to outlier payments. The expiration of the requirement that payment for specified covered outpatient drugs need not be budget neutral, leaves most classes of hospitals with a positive update that is lower than the proposed market basket. We also estimate that a few classes of hospitals may receive less payment in CY 2006. Because updates to the conversion factor, including the market basket, any reintroduction of transitional pass-through dollars, and change in the percentage of total payments dedicated to outlier payments are applied uniformly, observed redistributions of payments in the impact table largely depends on the mix of services furnished by a hospital (for example, how the APCs for the hospital's most frequently furnished services would change) and the impact of the wage index changes on the hospital. However, the extent to which this proposed rule redistributes money during implementation would also depend on changes in volume, practice patterns, and case-mix of services billed between CY 2005 and CY 2006. Overall, the proposed OPPS rates for CY 2006 would have a positive effect for all hospitals paid under OPPS. Proposed changes would result in a 1.9 percent increase in Medicare payments to all hospitals, exclusive of transitional pass-through payments.

To illustrate the impact of the proposed CY 2006 changes, our analysis begins with a baseline simulation model that uses the final CY 2005 weights, the FY 2005 final post-reclassification IPPS wage indices, as subsequently corrected, without changes in wage indices resulting from section 508 reclassifications, and the final CY 2005 conversion factor. Columns 2, 3, and 4 in Table 33 reflect the independent effects of the proposed changes in the APC reclassification and recalibration changes, the proposed multiple procedure discount for diagnostic imaging, the proposed wage indices, and the proposed adjustment for rural sole community hospitals respectively. These effects are budget neutral, which is apparent in the overall zero impact in payment for all hospitals in the top row. Column 2 shows the independent effect of changes resulting from the proposed reclassification of HCPCS codes among APC groups and the proposed recalibration of APC weights based on a complete year of CY 2004 hospital OPPS claims data. This column also shows the impact of incorporating drug payment at 106 percent of ASP plus overhead and, for radiopharmaceuticals, at cost, within budget neutrality. This column also includes the impact of a multiple procedure discount for diagnostic imaging services. We modeled the independent effect of APC recalibration by varying only the weights, the final CY 2005 weights versus the proposed CY 2006 weights, in our baseline model, and calculating the percent difference in payments. Column 3 shows the impact of updating the wage indices used to calculate payment by applying the proposed FY 2006 IPPS wage indices. The OPPS wage indices used in Column 3 do not include changes to the wage indices for hospitals reclassified under section 508 of Pub. L. 108-173. We modeled the independent effect of introducing the new wage indices by varying only the wage index, using the proposed CY 2006 scaled weights, and a CY 2005 conversion factor that included a budget neutrality adjustment for changes in wage effects between CY 2005 and CY 2006. Column 4 shows the budget neutral impact of adding a proposed 6.6 percent adjustment to payment for services other than drugs and biologicals to rural sole community hospitals. We modeled the independent effect of the proposed payment adjustment for rural sole community hospitals by varying only the presence of the rural adjustment, using CY 2006 scaled weights, FY 2006 wage index, and a CY 2005 conversion factor with the wage and rural budget neutrality adjustments.

Column 5 demonstrates the combined “budget neutral” impact of proposed APC recalibration and wage index updates on various classes of hospitals, as well as the impact of updating the conversion factor with the market basket. We modeled the independent effect of proposed budget neutrality adjustments and the market basket update by using the weights and wage indices for each year to model CY 2006 requirements, and using a CY 2005 conversion factor that included a budget neutrality adjustment for differences in wages, the proposed adjustment for rural sole community hospitals, and the market basket increase.

Finally, Column 6 depicts the full impact of the proposed CY 2006 policy on each hospital group by including the effect of all the changes for CY 2006 and comparing them to the full effect of all payments in CY 2005, including those required by Pub. L. 108-173. Column 6 shows the combined budget neutral effects of Columns 2 through 5, as well as the impact of changing the percentage of total payments dedicated to outlier payments to 1.0 percent, changing the percentage of total payments dedicated to transitional pass-through payments to 0.05 percent, the effects of expiring monies added to OPPS in CY 2005 as a result of Pub. L. 108-173, and the continued presence of payment for wage indices reclassified under section 508 of Pub. L. 108-173.

We modeled the independent effect of all changes in column 6 using the final weights for CY 2005 with additional money for drugs required by section 621 of Pub. L. 108-173 and the proposed weights for CY 2006. The wage indices in each year include wage index increases for hospitals eligible for reclassification under section 508 of Pub. L. 108-173. We used the final conversion factor for CY 2005 and the proposed CY 2006 conversion factor of $59.35. Column 6 also contains simulated outlier payments for each year. We used the charge inflation factor used in the proposed FY 2006 IPPS rule of 8.65 percent to increase individual costs on the CY 2004 claims to reflect CY 2005 and CY 2006 dollars respectively. Using the CY 2004 claims and an 8.65 percent charge inflation factor, we currently estimate that actual outlier payments for CY 2005, using a multiple threshold of 1.75 and a fixed dollar threshold of $1,175 will be 1.0 percent of total payments, which is 1.0 percent lower than the 2.0 percent that we projected in setting outlier policies for CY 2005. Outlier payments of only 1.0 percent appear in the CY 2005 comparison in Column 6. We used the same set of claims and a charge inflation factor of 18.04 percent to model the proposed CY 2006 outliers at 1.0 percent of total payments using a multiple threshold of 1.75 and a fixed dollar threshold of $1,575.

Column 1: Total Number of Hospitals

Column 1 in Table 33 shows the total number of hospital providers (4,212) for which we were able to use CY 2004 hospital outpatient claims to model CY 2005 and CY 2006 payments by classes of hospitals. We excluded all hospitals for which we could not accurately estimate CY 2005 or CY 2006 payment and entities that are not paid under the OPPS. The latter include critical access hospitals, all-inclusive hospitals, and hospitals located in Guam, the U.S. Virgin Islands, and the State of Maryland. This process is discussed in greater detail in section II.A. of this proposed rule. At this time we are unable to calculate a disproportionate share (DSH) variable for hospitals not participating in the IPPS. Hospitals for whom we do not have a DSH variable are grouped separately. Finally, because section 1833(t)(7)(D) of the Act permanently holds harmless cancer hospitals and children's hospitals, that is, these hospitals cannot receive less payment in CY 2006 than they did in the CY 2005, we removed these hospitals from our impact analyses.

Column 2: APC Recalibration

The combined effect of proposed APC reclassification and recalibration, including the proposal to pay for drugs and biologicals as 106 percent of ASP plus 2 percent of ASP for overhead, and the introduction of a proposed multiple procedure discount for diagnostic imaging resulted in larger changes in Column 2 than are typically observed for APC recalibration. In general, these changes have a greater negative impact on some classes of urban hospitals than on rural hospitals. APC changes effect the distribution of hospital payments by increasing payments to specific subsets of urban hospitals while decreasing payments made to large urban hospitals and rural hospitals.

Overall, these changes have no impact on all urban hospitals, which show no projected change in payments, although some classes of urban hospitals experience large decreases in payments. However, changes to the APC structure for CY 2006 tend to favor, slightly, urban hospitals that are not located in large urban areas. Large urban hospitals experience a decline of 0.8 percent, while “other” urban hospitals experience an increase of 1.0 percent. Urban hospitals with between 100 and 199 beds and between 300 and 499 beds experienced decreases, while the largest urban hospitals, those with beds greater than 500, and moderately sized urban hospitals, those with beds between 200 and 299 beds report increases of at least 0.2 percent. The smallest urban hospitals do not appear to be impacted by changes to the APC structure. With regard to volume, all urban hospitals except those with the highest volume, experience a decrease in payments. The lowest volume hospitals experience the largest decrease of 5.8 percent. Urban hospitals providing the highest volume of services demonstrate a projected increase of 0.2 percent as a result of APC recalibration. Decreases for urban hospitals are also concentrated in some regions, specifically, New England, Pacific, South Atlantic, West South Central, and Mountain, with the first two experiencing the largest decreases of 1.2 and 1.8 percent respectively. On the other hand, a few regions experience moderate increases. Hospitals in the East South Central and West North Central regions experience increases of 1.5 and 2.6 percent respectively.

Overall, rural hospitals show a modest 0.1 percent decrease as a result of changes to the APC structure, and this 0.1 percent decrease appears to be concentrated in rural hospitals that are not rural sole community hospitals. Notwithstanding a modest overall decline, there is substantial variation among classes of rural hospitals. Specifically, rural hospitals with less than 100 beds and between 150 and 199 beds experience decreases, with hospitals having less than 50 beds experiencing the largest decrease of 0.9 percent. Rural hospitals with greater than 100 and less than 150 beds experience the largest increase of 1.4 percent. With regard to volume, all rural hospitals except those with the highest volume, experience a decrease in payments. The lowest volume hospitals experience the largest decrease of 2.9 percent. Rural hospitals providing the highest volume of services demonstrate a projected increase of 0.7 percent as a result of APC recalibration. Decreases for rural hospitals occur in every region except West North Central and the Middle Atlantic. The largest decreases are observed in West South Central and Mountain regions. On the other hand, hospitals in the Middle Atlantic and West North Central experience increases of 1.9 and 1.8 percent respectively.

Among other classes of hospitals, the largest observed impacts resulting from APC recalibration include declines of 0.4 percent for non-teaching hospitals and increases of 0.5 percent for major teaching hospitals. Hospitals without a valid DSH variable, most of which are TEFRA hospitals, experience decreases of 0.9 percent, and of these, those in urban areas experience a decline of 1.4 percent. Hospitals treating the most low-income patients (high DSH percentage) demonstrate declines of 0.3 percent, where as all other hospitals treating DSH patients appear to experience slight increases of 0.1 percent. Hospitals that are treating DSH patients and are also teaching hospitals experience increases of 0.4 percent. Classifying hospitals by type of ownership suggests that proprietary hospitals will lose 1.3 percent and voluntary and government hospitals will gain at least 0.1 percent.

Column 3: New Wage Index

Changes introduced by the proposed FY 2006 IPPS wage indices would have a modest impact in CY 2006, increasing payments to rural hospitals slightly and reducing payments to specific classes of urban hospitals. We estimate that rural hospitals, and specifically rural hospitals that are not sole community hospitals, will experience an increase in payments of 0.1 percent. With respect to facility size, only rural hospitals with between 150 and 199 beds experience a decrease in payments of 0.2 percent. Similarly, moderate rural volume hospitals experience a decrease of 0.1 percent. For both facility size and volume, no category of rural hospitals experiences an increase greater than 0.2 percent. Examining hospitals by region reveals slightly greater variability. We estimate that rural hospitals in several regions will experience decreases in payment up to 0.4 percent due to wage changes, including the Middle Atlantic, South Atlantic, West North Central, West South Central. However, rural hospitals in the remaining regions experience increases. We estimate that the Pacific region will see the largest increase of 1.8 percent.

Overall, urban hospitals experience no change in payments as a result of the new wage indices. With respect to facility size, we estimate that urban hospitals with between 300 and 499 beds will experience a decrease in payments of 0.1 percent. Urban hospitals with less than 99 beds experience the largest increase of 0.2 percent. When categorized by volume, no class of urban hospitals experience a decrease in payment as a result of changes to the wage index. We estimate that urban hospitals in all but the Pacific and East South Central region will experience modest decreases due to wage changes of no more than 0.4 percent. Urban hospitals in the Pacific region will experience an increase of 1.1 percent, and urban hospitals in the East South Central region will experience no change in payments.

Looking across other categories of hospitals, we estimate that updating the wage index will lead major teaching hospitals to lose 0.2 percent and hospitals without graduate medical education programs are estimated to gain 0.1 percent. Hospitals serving between 0.0 and 0.10 percent of low-income patients and between 0.23 and 0.35 percent of low-income patients lose up to 0.2 percent and 0.1 percent respectively, whereas hospitals serving other percentages of low-income patients gain by up to 0.1 percent or experience no change. Government hospitals will experience an increase of 0.1 percent.

Column 4: New Adjustment for Rural Sole Community Hospitals

As discussed in section II.G. of the preamble of this proposed rule, we have proposed to increase payments for all services except drugs and biologicals to rural sole community hospitals by 6.6 percent. This resulted in an adjustment to the conversion factor of 0.997. Targeting payments to these rural hospitals uniformly reduces payments to all other hospitals by 0.3 percent. The uniform reduction for all urban and other rural hospitals is evident in Column 4. The observed increase of 5.2 percent for rural sole community hospitals is lower than 6.6 percent because drugs and biologicals do not receive the proposed payment adjustment. The remaining classes of rural hospitals show variable increases that reflect the distribution of rural sole community hospitals. The largest increases are observed among rural hospitals with small numbers of beds, with moderate volume, and regions in the western half of the country.

Column 5: All Budget Neutrality Changes and Market Basket Update

With the exception of urban hospitals with the lowest volume of services, the addition of the market basket update alleviates any negative impacts on payments for CY 2006 created by the budget neutrality adjustments made in Columns 2, 3, and 4. In many instances, and especially among rural hospitals, the redistribution of payments created by proposed APC recalibration offset those introduced by updating the wage indices. In some instances, especially for urban hospitals, APC recalibration changes compound the impact of updating the wage index. In addition, all urban and other rural hospitals experience a decrease in payment of 0.3 percent as a result of the proposed payment adjustment for rural sole community hospitals.

We estimate that the cumulative impact of proposed budget neutrality adjustments and the addition of the market basket would result in an increase in payments for urban hospitals of 2.8 percent, which is less than the market basket update of 3.2 percent. Large urban hospitals would experience an increase of 2.0 percent and other urban hospitals would experience an increase of 3.8 percent. This trend of updates lower than the market basket holds for most other classes of urban hospitals. For example, of all classes of urban hospitals, urban hospitals with the lowest volume are the only group to experience a negative market basket update, which is largely a function of the 5.8 percent decrease in payments attributable to proposed changes to the APC structure. Urban hospitals with moderate volume would also lose the bulk of the market basket update as a result of a −2.8 percent change resulting from proposed APC recalibration and the addition of the proposed payment adjustment for rural sole community hospitals. The same compounding effect holds true for urban hospitals in New England as well. Urban hospitals in New England would experience a 1.2 percent loss due to changes in APC structure, a 0.1 percent loss for changes to the wage index and a 0.3 percent loss for the new rural adjustment, reducing their increase to 1.5 percent. Urban hospitals in a few regions experience increases in payment for CY 2006 above the market basket, including the East South Central, Middle Atlantic, and West North Central regions.

We estimate that the cumulative impact of budget neutrality adjustments and the market basket update will result in an overall increase for rural hospitals of 5.0 percent, with rural sole community hospitals experiencing an update of 8.6 percent and other rural hospitals experiencing an update of 2.8 percent. In general, rural hospitals with more than 100 beds and high volume rural hospitals experience increases of more than 5.0 percent, which generally results from the combined impact of increases in payment from APC recalibration, wage changes, and the new adjustment for rural sole community hospitals. Rural hospitals also demonstrate large increases by region, with Middle Atlantic, West North Central, Mountain, and Pacific regions experiencing large increases. For these regions, in aggregate, the payment adjustment for rural sole community hospitals compensates for observed loses in the APC recalibration column.

The changes across columns for other classes of hospitals are fairly moderate and most show updates relatively close to the market basket. TEFRA hospitals that are not paid under OPPS show payment updates much lower than the market basket as a result of negative payment changes for proposed APC recalibration and the proposed adjustment for rural sole community hospitals. Proprietary hospitals also show an increase much less than the market basket as a result of negative payments under APC recalibration.

Column 6: All Proposed Changes for CY 2006

Column 6 compares all proposed changes for CY 2006 to final payment for CY 2005 and includes any additional dollars resulting from provisions in Pub. L. 108-173 in both years, changes in outlier payment percentages and proposed thresholds, and the difference in pass-through estimates. Overall, we estimate that hospitals would gain 1.9 percent under this proposed rule in CY 2006 relative to total spending in CY 2005, which included Pub. L. 108-173 dollars for drugs and wage indices. While hospitals receive the 3.2 percent increase due to the market basket appearing in Column 5 and the additional 1.0 percent in outlier payments that we estimate as not being paid in CY 2005, we estimate that hospitals also experience an overall 2.3 percent loss due to the expiration of additional payment for drugs in CY 2005. That is, without the additional 1.0 percent increase in outlier payments due to lower than expected payment for outliers in CY 2005, hospitals would receive a positive increase in payments of 0.9 percent. Paying the additional 1.0 percent in outlier payments in CY 2006 increases overall gains to 1.9 percent, which is lower than the market basket. Overall, the change in the outlier thresholds has a minimal redistributive impact by class of hospital and the vast majority of redistributive impacts observed between Columns 5 and 6 can be attributed to the loss of additional payment for drugs outside budget neutrality required by Pub. L. 108-173.

In general, urban hospitals appear to experience the largest negative impacts from the loss of additional payments for drugs because of the combined effects of decreases in payment from the proposed payment adjustment for rural sole community hospitals and, frequently, negative changes in payments due to APC recalibration. We estimate that hospitals in large urban areas will gain 0.8 percent in CY 2006 and hospitals in other urban areas will gain 2.6 percent. We estimate that some urban hospitals will experience a decrease in total payments between CY 2005 and CY 2006. Specifically, low volume urban hospitals will experience a decrease in payments of 2.1 percent, which includes the cumulative effect of negative payments from APC recalibration, a negative impact of the payment adjustment for rural sole community hospitals, and a loss of payments outside budget neutrality for drugs. We estimate that urban hospitals in New England would experience a loss of 0.2 percent in CY 2006. The reason for this is the same as that for low volume urban hospitals, except that the urban hospitals in New England also experience a decrease in payments from updating the wage index. Other classes of urban hospitals generally show increases between 1.0 and 3.0 percent. Urban hospitals in the East South Central and West North Central experience the largest increases for urban hospitals of 3.4 and 3.7 percent, respectively.

Overall, rural hospitals experience larger increases than those observed for urban hospitals because the proposed payment adjustment for rural sole community hospitals tends to buffer the loss of payments for drugs from Pub. L. 108-173. However, this adjustment is only for rural sole community hospitals. Overall, we estimate that rural hospitals will experience an increase in payments of 3.4 percent. But, we also estimate that rural sole community hospitals will experience an increase of 6.4 percent and that other rural hospitals will only experience an increase of 1.6 percent. No rural hospital experiences a decrease in payments between CY 2005 and CY 2006 and some classes of rural hospitals show increases comparable to the market basket. For example rural hospitals with more than 100 beds experience increases of at least 3.1 percent. Rural hospitals with moderate to high volume experience increases comparable to the market basket. Across the regions, rural hospitals in the Middle Atlantic, South Atlantic, West North Central, West South Central, Mountain, and Pacific all experience increases in payments greater than 3 percent. Low volume rural hospitals and rural hospitals in New England experience the lowest updates of only 1.0 percent.

Among other classes of hospitals, we estimate that TEFRA hospitals not paid under IPPS would experience decreases in payments between CY 2005 and CY 2006 of 1.9 percent and that TEFRA hospitals in urban areas will experience a decrease in payments between CY 2005 and CY 2006 of 2.6 percent. Factoring in expiring payments for drugs through Pub. L. 108-173, we estimate that major teaching hospitals would only experience an increase of 0.8 percent.

G. Estimated Impacts of This Proposed Rule on Beneficiaries

For services for which the beneficiary pays a copayment of 20 percent of the payment rate, the beneficiary share of payment will increase for services for which OPPS payments will rise and will decrease for services for which OPPS payments will fall. For example, for a mid-level office visit (APC 0601), the minimum unadjusted copayment in CY 2005 was $11.22. In this proposed rule, the minimum unadjusted copayment for APC 601 is $11.86 because the OPPS payment for the service will increase under this proposed rule. In another example, for a Level IV Needle Biopsy (APC 0037), the minimum unadjusted copayment in CY 2005 was $234.20. In this proposed rule, the minimum unadjusted copayment for APC 0037 is $223.91 because the minimum unadjusted copayment is limited to 40 percent of the APC payment rate for CY 2006, as discussed in section II. of the preamble to this proposed rule. However, in all cases, the statute limits beneficiary liability for copayment for a service to the inpatient hospital deductible for the applicable year.

In order to better understand the impact of changes in copayment on beneficiaries we modeled the percent change in total copayment liability using CY 2004 claims. We estimate that total beneficiary liability for copayments will decline as an overall percentage of total payments from 32 percent in CY 2005 to 30 percent in CY 2006.

Conclusion

The changes in this proposed rule would affect all classes of hospitals. Some hospitals experience significant gains and others less significant gains, but all hospitals would experience positive updates in OPPS payments in CY 2006. Table 33 demonstrates the estimated distributional impact of the OPPS budget neutrality requirements and an additional 1.9 percent increase in payments for CY 2006, after considering the expiring provision for additional drug payment under Pub. L. 108-173 and a change in the percentage of total payments dedicated to outliers and transitional pass-through payments, exclusive of transitional pass-through payments, across various classes of hospitals. The accompanying discussion, in combination with the rest of this proposed rule constitutes a regulatory impact analysis.

Table 33.—Impact of Proposed Changes for CY 2006 Hospital Outpatient Prospective Payment System
Hospital category | (1) Number of hospitals | (2) APC changes | (3) New wage index | (4) New adj for rural sole community hospitals | (5) Cumulative (cols 2,3,4) with market basket update | (6) All changes
ALL HOSPITALS | 4212 | 0.0 | 0.0 | 0.0 | 3.2 | 1.9
URBAN HOSPITALS | 2949 | 0.0 | 0.0 | −0.3 | 2.8 | 1.6
LARGE URBAN | 1624 | −0.8 | 0.0 | −0.3 | 2.0 | 0.8
OTHER URBAN | 1325 | 1.0 | 0.0 | −0.3 | 3.8 | 2.6
RURAL HOSPITALS | 1263 | −0.1 | 0.1 | 1.8 | 5.0 | 3.4
SOLE COMMUNITY | 478 | 0.0 | 0.0 | 5.2 | 8.6 | 6.4
OTHER RURAL | 785 | −0.1 | 0.1 | −0.3 | 2.8 | 1.6
BEDS (URBAN):
0-99 BEDS | 917 | 0.0 | 0.2 | −0.3 | 3.0 | 2.1
100-199 BEDS | 964 | −0.4 | 0.0 | −0.3 | 2.4 | 1.4
200-299 BEDS | 503 | 0.2 | 0.1 | −0.3 | 3.1 | 2.3
300-499 BEDS | 402 | −0.1 | −0.1 | −0.3 | 2.6 | 1.5
500 + BEDS | 163 | 0.5 | 0.0 | −0.3 | 3.3 | 1.2
BEDS (RURAL):
0—49 BEDS | 551 | −0.9 | 0.2 | 2.0 | 4.5 | 3.0
50-100 BEDS | 419 | −0.8 | 0.2 | 2.2 | 4.8 | 2.9
101-149 BEDS | 180 | 1.4 | 0.0 | 1.1 | 5.8 | 4.7
150-199 BEDS | 62 | −0.3 | −0.2 | 1.7 | 4.5 | 3.5
200 + BEDS | 51 | 0.2 | 0.0 | 1.7 | 5.1 | 3.1
VOLUME (URBAN):
LT 5,000 claim lines | 600 | −5.8 | 0.5 | −0.3 | −2.7 | −2.1
5,000-10,999 | 180 | −2.8 | 0.2 | −0.3 | 0.2 | 0.2
11,000-20,999 | 299 | −0.8 | 0.2 | −0.3 | 2.2 | 2.3
21,000-42,999 | 575 | −0.8 | 0.1 | −0.3 | 2.2 | 1.8
GT 42,999 | 1295 | 0.2 | 0.0 | −0.3 | 3.0 | 1.6
VOLUME (RURAL):
LT 5,000 claim lines | 119 | −2.9 | 0.0 | 1.3 | 1.6 | 1.3
5,000—10,999 | 195 | −2.1 | 0.0 | 2.1 | 3.2 | 2.2
11,000—20,999 | 325 | −1.0 | −0.1 | 2.0 | 4.1 | 3.3
21,000—42,999 | 364 | −0.9 | 0.2 | 1.9 | 4.4 | 2.9
GT 42,999 | 260 | 0.7 | 0.0 | 1.6 | 5.7 | 3.8
REGION (URBAN):
NEW ENGLAND | 166 | −1.2 | −0.1 | −0.3 | 1.5 | −0.2
MIDDLE ATLANTIC | 393 | 0.7 | −0.1 | −0.3 | 3.5 | 2.2
SOUTH ATLANTIC | 453 | −0.4 | −0.4 | −0.3 | 2.0 | 1.0
EAST NORTH CENT | 466 | 0.5 | −0.1 | −0.3 | 3.2 | 1.7
EAST SOUTH CENT | 197 | 1.5 | 0.0 | −0.3 | 4.4 | 3.4
WEST NORTH CENT | 184 | 2.6 | −0.3 | −0.3 | 5.2 | 3.7
WEST SOUTH CENT | 445 | −0.3 | −0.1 | −0.3 | 2.4 | 1.3
MOUNTAIN | 163 | −0.1 | −0.2 | −0.3 | 2.5 | 1.3
PACIFIC | 431 | −1.8 | 1.1 | −0.3 | 2.1 | 1.3
PUERTO RICO | 51 | 0.1 | −0.3 | −0.3 | 2.7 | 1.9
REGION (RURAL):
NEW ENGLAND | 37 | −0.9 | 0.8 | 1.2 | 4.4 | 1.0
MIDDLE ATLANTIC | 78 | 1.9 | −0.4 | 1.4 | 6.1 | 4.2
SOUTH ATLANTIC | 189 | −0.4 | −0.2 | 1.7 | 4.3 | 3.2
EAST NORTH CENT | 171 | −0.5 | 0.1 | 1.3 | 4.1 | 2.2
EAST SOUTH CENT | 202 | −0.9 | 0.5 | 0.5 | 3.3 | 2.9
WEST NORTH CENT | 188 | 1.8 | −0.3 | 2.5 | 7.3 | 4.8
WEST SOUTH CENT | 242 | −1.1 | −0.2 | 2.2 | 4.1 | 3.5
MOUNTAIN | 95 | −1.0 | 0.1 | 4.4 | 6.8 | 5.0
PACIFIC | 61 | −0.6 | 1.8 | 2.6 | 7.1 | 5.2
TEACHING STATUS:
NON-TEACHING | 3115 | −0.4 | 0.1 | 0.2 | 3.1 | 2.2
MINOR | 769 | 0.2 | 0.0 | −0.2 | 3.3 | 2.2
MAJOR | 328 | 0.5 | −0.2 | −0.3 | 3.2 | 0.8
DSH PATIENT PERCENT:
0 | 16 | 0.0 | 0.0 | −0.3 | 2.8 | 2.8
GT 0-0.10 | 386 | 0.1 | −0.2 | −0.3 | 2.7 | 1.7
0.10-0.16 | 555 | 0.0 | 0.1 | 0.2 | 3.5 | 2.4
0.16-0.23 | 802 | 0.1 | 0.0 | 0.1 | 3.5 | 2.3
0.23-0.35 | 977 | 0.1 | −0.1 | 0.0 | 3.2 | 1.9
GE 0.35 | 792 | −0.3 | 0.1 | −0.1 | 3.0 | 1.8
TEFRA: DSH NOT AVAIL ¹ | 684 | −0.9 | 0.0 | −0.3 | 1.9 | −1.9
URBAN TEACHING/DSH:
TEACHING & DSH | 944 | 0.4 | −0.1 | −0.3 | 3.2 | 1.7
NO TEACHING/DSH | 1401 | −0.4 | 0.0 | −0.3 | 2.5 | 1.7
NO TEACHING/NO DSH | 16 | 0.0 | 0.0 | −0.3 | 2.8 | 2.8
TEFRA: DSH NOT AVAIL ¹ | 588 | −1.4 | 0.1 | −0.3 | 1.5 | −2.6
TYPE OF OWNERSHIP:
VOLUNTARY | 2397 | 0.2 | 0.0 | 0.0 | 3.3 | 2.0
PROPRIETARY | 1091 | −1.3 | 0.0 | 0.0 | 1.9 | 1.4
GOVERNMENT | 724 | 0.1 | 0.1 | 0.2 | 3.7 | 1.8
Col (1) Total hospitals in CY 2006.
Col (2) This column shows the impact of changes resulting from the reclassification of HCPCS codes among APC groups and from the addition of multiple procedure discounting for radiology procedures (budget neutral overall).
Col (3) This column shows the adjustment for updating the wage index (budget neutral overall).
Col (4) This column shows the adjustment for rural sole community hospitals (budget neutral overall).
Col (5) This column shows the cumulative impact of cols 2 through 4 and the addition of the market basket update.
Col (6) The column shows the impact of the change in MMA dollars in CY 2006 (drugs and 508) and outlier changes.
¹ Complete DSH numbers are not available for hospitals that are not paid under IPPS.

In accordance with the provisions of Executive Order 12866, this proposed rule was reviewed by the Office of Management and Budget.

List of Subjects

42 CFR Part 419

Hospitals, Medicare, Reporting and recordkeeping requirements.

42 CFR Part 485

Grant program-health, Health facilities, Medicaid, Medicare, Reporting and recordkeeping requirements.

For the reasons stated in the preamble of this proposed rule, the Centers for Medicare & Medicaid Services is proposing to amend 42 CFR Chapter IV as set forth below:

PART 419—PROSPECTIVE PAYMENT SYSTEM FOR HOSPITAL OUTPATIENT DEPARTMENT SERVICES

A. Part 419 is amended as follows:

1. The authority citation for Part 419 continues to read as follows:

Authority: Secs. 1102, 1833(t), and 1871 of the Social Security Act (42 U.S.C. 1302, 1395l(t), and 1395hh).

2. Section 419.43 is amended by adding a new paragraph (g) to read as follows:

§ 419.43 Adjustments to national program payment and beneficiary copayment amounts.

* * * * *

(g) Payment adjustment for certain rural hospitals. (1) General rule. CMS provides for additional payment for covered hospital outpatient service not excluded under paragraph (g)(4) of this section, furnished on or after January 1, 2006, if the hospital—

(i) Is a sole community hospital under § 412.92 of this chapter; and

(ii) Is located in a rural area as defined in § 412.64(b) of this chapter or is treated as being located in a rural area under section 1886(d)(8)(E) of the Act.

(2) Amount of adjustment. The amount of the additional payment under paragraph (g)(1) of this section is determined by CMS and is based on the difference between costs incurred by hospitals that meet the criteria in paragraphs (g)(1)(i) and (g)(1)(ii) of this section and costs incurred by hospitals located in urban areas.

(3) Budget neutrality. CMS establishes the payment adjustment under paragraph (g)(2) of this section in a budget neutral manner, excluding services and groups specified in paragraph (g)(4) of this section.

(4) Excluded services and groups. Drugs and biologicals that are paid under a separate APC and devices of brachytheraphy consisting of a seed or seeds (including a radioactive source) are excluded from qualification for the payment adjustment in paragraph (g)(2) of this section.

(5) Copayment The payment adjustment in paragraph (g)((2) of this section is applied before calculating copayment amounts.

(6) Outliers: The payment adjustment in paragraph (g) (2) of this section is applied before calculating outlier payments.

* * * * *

3. Section 419.66 is amended by revising paragraph (c)(1) to read as follows:

§ 419.66 Transitional pass-through payments: Medical devices.

* * * * *

(c) Criteria for establishing device categories. * * *

(1) CMS determines that a device to be included in the category is not appropriately described by any of the existing categories or by any category previously in effect, and was not being paid for as an outpatient service as of December 31, 1996.

* * * * *

PART 485—CONDITIONS OF PARTICIPATION: SPECIALIZED PROVIDERS

B. Part 485 is amended as follows:

1. The authority citation for Part 485 continues to read as follows:

Authority: Secs. 1102 and 1871 of the Social Security Act (42 U.S.C. 1302 and 1395hh).

2. Section 485.631 is amended by—

a. Republishing paragraph (b)(1).

b. Revising paragraph (b)(1)(iv).

c. Adding new paragraphs (b)(1)(v) and (b)(1)(vi).

The revision and additions read as follows:

§ 485.631 Condition of participation: Staffing and staff responsibilities.

* * * * *

(b) Standard: Responsibilities of the doctor of medicine or osteopathy. (1) The doctor of medicine or osteopathy—

* * * * *

(iv) Periodically reviews and signs the records of all inpatients cared for by nurse practitioners, clinical nurse specialists, certified nurse midwives, or physician assistants.

(v) Periodically, but not less than every 2 weeks, reviews and signs a sample of outpatient records of patients cared for by nurse practitioners, clinical nurse specialists, certified nurse midwives, or physician assistants according to the policies of the CAH and according to current standards of practice where State law does not allow these nonphysician practitioners to practice independently.

(vi) Is not required to review and sign outpatient records of patients cared for by nurse practitioners, clinical nurse specialists, certified nurse midwives, or physician assistants where State law allows these nonphysician practitioners to practice independently.

* * * * *

(Catalog of Federal Domestic Assistance Program No. 93.773, Medicare—Hospital Insurance; and Program No. 93.774, Medicare—Supplementary Medical Insurance Program)

Dated: July 8, 2005.
Mark B. McClellan,
Administrator, Centers for Medicare & Medicaid Services.
Dated: July 13, 2005.
Michael O. Leavitt,
Secretary.

Addendum A.—List of Ambulatory Payment Classifications (APCs) with Status Indicators, Relative Weights, Payment Rates, and Copayment Amounts Calendar Year 2006
APC | Group title | Status indicator | Relative weight | Payment rate | National unadjusted copayment | Minimum unadjusted copayment
0001 | Level I Photochemotherapy | S | 0.4194 | $24.89 | $7.00 | $4.98
0002 | Level I Fine Needle Biopsy/Aspiration | T | 0.9515 | $56.47 |  | $11.29
0003 | Bone Marrow Biopsy/Aspiration | T | 2.6410 | $156.74 |  | $31.35
0004 | Level I Needle Biopsy/Aspiration Except Bone Marrow | T | 1.7566 | $104.25 | $22.36 | $20.85
0005 | Level II Needle Biopsy/Aspiration Except Bone Marrow | T | 3.5831 | $212.66 | $71.45 | $42.53
0006 | Level I Incision & Drainage | T | 1.5430 | $91.58 | $22.18 | $18.32
0007 | Level II Incision & Drainage | T | 11.3983 | $676.49 |  | $135.30
0008 | Level III Incision and Drainage | T | 16.4242 | $974.78 |  | $194.96
0009 | Nail Procedures | T | 0.6650 | $39.47 | $8.34 | $7.89
0010 | Level I Destruction of Lesion | T | 0.5693 | $33.79 | $9.63 | $6.76
0011 | Level II Destruction of Lesion | T | 2.0745 | $123.12 | $25.06 | $24.62
0012 | Level I Debridement & Destruction | T | 0.8458 | $50.20 | $11.18 | $10.04
0013 | Level II Debridement & Destruction | T | 1.1028 | $65.45 | $14.20 | $13.09
0015 | Level III Debridement & Destruction | T | 1.6439 | $97.57 | $20.20 | $19.51
0016 | Level IV Debridement & Destruction | T | 2.5717 | $152.63 | $33.42 | $30.53
0017 | Level VI Debridement & Destruction | T | 18.3377 | $1,088.34 | $227.84 | $217.67
0018 | Biopsy of Skin/Puncture of Lesion | T | 1.1673 | $69.28 | $16.04 | $13.86
0019 | Level I Excision/Biopsy | T | 4.0363 | $239.55 | $71.87 | $47.91
0020 | Level II Excision/Biopsy | T | 6.9118 | $410.22 | $106.93 | $82.04
0021 | Level III Excision/Biopsy | T | 14.9098 | $884.90 | $219.48 | $176.98
0022 | Level IV Excision/Biopsy | T | 19.5582 | $1,160.78 | $354.45 | $232.16
0023 | Exploration Penetrating Wound | T | 4.7558 | $282.26 |  | $56.45
0024 | Level I Skin Repair | T | 1.6011 | $95.03 | $31.11 | $19.01
0025 | Level II Skin Repair | T | 5.4690 | $324.59 | $101.85 | $64.92
0027 | Level IV Skin Repair | T | 18.3348 | $1,088.17 | $329.72 | $217.63
0028 | Level I Breast Surgery | T | 19.4914 | $1,156.81 | $303.74 | $231.36
0029 | Level II Breast Surgery | T | 31.9024 | $1,893.41 | $632.64 | $378.68
0030 | Level III Breast Surgery | T | 39.9010 | $2,368.12 | $763.55 | $473.62
0033 | Partial Hospitalization | P | 4.0524 | $240.51 |  | $48.10
0035 | Venous Cutdown | T | 0.7125 | $42.29 |  | $8.46
0036 | Level II Fine Needle Biopsy/Aspiration | T | 2.1675 | $128.64 |  | $25.73
0037 | Level IV Needle Biopsy/Aspiration Except Bone Marrow | T | 9.4322 | $559.80 | $223.91 | $111.96
0039 | Level I Implantation of Neurostimulator | S | 180.5784 | $10,717.33 |  | $2,143.47
0040 | Level I Implantation of Neurostimulator Electrodes | S | 55.0791 | $3,268.94 |  | $653.79
0041 | Level I Arthroscopy | T | 28.0044 | $1,662.06 |  | $332.41
0042 | Level II Arthroscopy | T | 43.7761 | $2,598.11 | $804.74 | $519.62
0043 | Closed Treatment Fracture Finger/Toe/Trunk | T | 1.7614 | $104.54 |  | $20.91
0045 | Bone/Joint Manipulation Under Anesthesia | T | 14.4289 | $856.36 | $268.47 | $171.27
0046 | Open/Percutaneous Treatment Fracture or Dislocation | T | 37.5315 | $2,227.49 | $535.76 | $445.50
0047 | Arthroplasty without Prosthesis | T | 31.4675 | $1,867.60 | $537.03 | $373.52
0048 | Level I Arthroplasty with Prosthesis | T | 42.9335 | $2,548.10 | $570.30 | $509.62
0049 | Level I Musculoskeletal Procedures Except Hand and Foot | T | 20.2784 | $1,203.52 |  | $240.70
0050 | Level II Musculoskeletal Procedures Except Hand and Foot | T | 23.7998 | $1,412.52 |  | $282.50
0051 | Level III Musculoskeletal Procedures Except Hand and Foot | T | 36.3617 | $2,158.07 |  | $431.61
0052 | Level IV Musculoskeletal Procedures Except Hand and Foot | T | 43.7388 | $2,595.90 |  | $519.18
0053 | Level I Hand Musculoskeletal Procedures | T | 15.6085 | $926.36 | $253.49 | $185.27
0054 | Level II Hand Musculoskeletal Procedures | T | 25.2562 | $1,498.96 |  | $299.79
0055 | Level I Foot Musculoskeletal Procedures | T | 19.9783 | $1,185.71 | $355.34 | $237.14
0056 | Level II Foot Musculoskeletal Procedures | T | 40.1132 | $2,380.72 |  | $476.14
0057 | Bunion Procedures | T | 27.4246 | $1,627.65 | $475.91 | $325.53
0058 | Level I Strapping and Cast Application | S | 1.0884 | $64.60 |  | $12.92
0060 | Manipulation Therapy | S | 0.4913 | $29.16 |  | $5.83
0068 | CPAP Initiation | S | 1.2237 | $72.63 | $29.05 | $14.53
0069 | Thoracoscopy | T | 30.5386 | $1,812.47 | $591.64 | $362.49
0070 | Thoracentesis/Lavage Procedures | T | 3.1956 | $189.66 |  | $37.93
0071 | Level I Endoscopy Upper Airway | T | 0.7879 | $46.76 | $11.31 | $9.35
0072 | Level II Endoscopy Upper Airway | T | 1.4296 | $84.85 | $21.27 | $16.97
0073 | Level III Endoscopy Upper Airway | T | 4.1420 | $245.83 | $73.38 | $49.17
0074 | Level IV Endoscopy Upper Airway | T | 15.7042 | $932.04 | $295.70 | $186.41
0075 | Level V Endoscopy Upper Airway | T | 21.2460 | $1,260.95 | $445.92 | $252.19
0076 | Level I Endoscopy Lower Airway | T | 9.4163 | $558.86 | $189.82 | $111.77
0077 | Level I Pulmonary Treatment | S | 0.3428 | $20.35 | $7.74 | $4.07
0078 | Level II Pulmonary Treatment | S | 1.0190 | $60.48 | $14.55 | $12.10
0079 | Ventilation Initiation and Management | S | 2.3375 | $138.73 |  | $27.75
0080 | Diagnostic Cardiac Catheterization | T | 36.9679 | $2,194.04 | $838.92 | $438.81
0081 | Non-Coronary Angioplasty or Atherectomy | T | 34.2913 | $2,035.19 |  | $407.04
0082 | Coronary Atherectomy | T | 84.6276 | $5,022.65 | $1,080.41 | $1,004.53
0083 | Coronary Angioplasty and Percutaneous Valvuloplasty | T | 50.6620 | $3,006.79 |  | $601.36
0084 | Level I Electrophysiologic Evaluation | S | 9.9751 | $592.02 |  | $118.40
0085 | Level II Electrophysiologic Evaluation | T | 35.0288 | $2,078.96 | $426.25 | $415.79
0086 | Ablate Heart Dysrhythm Focus | T | 44.0592 | $2,614.91 | $833.33 | $522.98
0087 | Cardiac Electrophysiologic Recording/Mapping | T | 30.5711 | $1,814.39 |  | $362.88
0088 | Thrombectomy | T | 36.3961 | $2,160.11 | $655.22 | $432.02
0089 | Insertion/Replacement of Permanent Pacemaker and Electrodes | T | 105.1359 | $6,239.82 | $1,681.06 | $1,247.96
0090 | Insertion/Replacement of Pacemaker Pulse Generator | T | 88.7536 | $5,267.53 | $1,612.80 | $1,053.51
0091 | Level II Vascular Ligation | T | 28.8685 | $1,713.35 | $348.23 | $342.67
0092 | Level I Vascular Ligation | T | 26.3621 | $1,564.59 | $505.37 | $312.92
0093 | Vascular Reconstruction/Fistula Repair without Device | T | 23.3454 | $1,385.55 | $277.34 | $277.11
0094 | Level I Resuscitation and Cardioversion | S | 2.5248 | $149.85 | $47.41 | $29.97
0095 | Cardiac Rehabilitation | S | 0.5858 | $34.77 | $13.90 | $6.95
0096 | Non-Invasive Vascular Studies | S | 1.6233 | $96.34 | $38.53 | $19.27
0097 | Cardiac and Ambulatory Blood Pressure Monitoring | X | 1.0177 | $60.40 | $23.79 | $12.08
0098 | Injection of Sclerosing Solution | T | 1.1295 | $67.04 |  | $13.41
0099 | Electrocardiograms | S | 0.3804 | $22.58 |  | $4.52
0100 | Cardiac Stress Tests | X | 2.4855 | $147.51 | $41.44 | $29.50
0101 | Tilt Table Evaluation | S | 4.2593 | $252.79 | $101.11 | $50.56
0103 | Miscellaneous Vascular Procedures | T | 14.6476 | $869.34 | $223.63 | $173.87
0104 | Transcatheter Placement of Intracoronary Stents | T | 78.6515 | $4,667.97 |  | $933.59
0105 | Revision/Removal of Pacemakers, AICD, or Vascular | T | 22.2671 | $1,321.55 | $370.40 | $264.31
0106 | Insertion/Replacement/Repair of Pacemaker and/or Electrodes | T | 45.2791 | $2,687.31 |  | $537.46
0107 | Insertion of Cardioverter-Defibrillator | T | 258.8517 | $15,362.85 | $3,089.53 | $3,072.57
0108 | Insertion/Replacement/Repair of Cardioverter-Defibrillator Leads | T | 347.5867 | $20,629.27 |  | $4,125.85
0109 | Removal of Implanted Devices | T | 10.9933 | $652.45 | $131.49 | $130.49
0110 | Transfusion | S | 3.6428 | $216.20 |  | $43.24
0111 | Blood Product Exchange | S | 12.3394 | $732.34 | $200.18 | $146.47
0112 | Apheresis, Photopheresis, and Plasmapheresis | S | 26.6734 | $1,583.07 | $437.01 | $316.61
0113 | Excision Lymphatic System | T | 21.3681 | $1,268.20 |  | $253.64
0114 | Thyroid/Lymphadenectomy Procedures | T | 40.5805 | $2,408.45 | $485.91 | $481.69
0115 | Cannula/Access Device Procedures | T | 31.3302 | $1,859.45 | $459.35 | $371.89
0116 | Chemotherapy Administration by Other Technique Except Infusion | S | 1.1401 | $67.66 |  | $13.53
0117 | Chemotherapy Administration by Infusion Only | S | 3.2231 | $191.29 | $42.54 | $38.26
0120 | Infusion Therapy Except Chemotherapy | S | 2.0101 | $119.30 | $28.21 | $23.86
0121 | Level I Tube changes and Repositioning | T | 2.2663 | $134.50 | $43.80 | $26.90
0122 | Level II Tube changes and Repositioning | T | 6.9405 | $411.92 | $84.48 | $82.38
0123 | Bone Marrow Harvesting and Bone Marrow/Stem Cell Transplant | S | 22.8861 | $1,358.29 |  | $271.66
0125 | Refilling of Infusion Pump | T | 1.9244 | $114.21 |  | $22.84
0130 | Level I Laparoscopy | T | 31.7825 | $1,886.29 | $659.53 | $377.26
0131 | Level II Laparoscopy | T | 43.1426 | $2,560.51 | $1,001.89 | $512.10
0132 | Level III Laparoscopy | T | 62.7061 | $3,721.61 | $1,239.22 | $744.32
0140 | Esophageal Dilation without Endoscopy | T | 5.4489 | $323.39 | $93.77 | $64.68
0141 | Level I Upper GI Procedures | T | 8.1464 | $483.49 | $143.38 | $96.70
0142 | Small Intestine Endoscopy | T | 9.3063 | $552.33 | $152.78 | $110.47
0143 | Lower GI Endoscopy | T | 8.6475 | $513.23 | $186.06 | $102.65
0146 | Level I Sigmoidoscopy and Anoscopy | T | 4.6164 | $273.98 | $64.40 | $54.80
0147 | Level II Sigmoidoscopy and Anoscopy | T | 7.9318 | $470.75 |  | $94.15
0148 | Level I Anal/Rectal Procedures | T | 3.7213 | $220.86 | $56.96 | $44.17
0149 | Level III Anal/Rectal Procedures | T | 17.9907 | $1,067.75 | $293.06 | $213.55
0150 | Level IV Anal/Rectal Procedures | T | 23.7573 | $1,410.00 | $437.12 | $282.00
0151 | Endoscopic Retrograde Cholangio-Pancreatography (ERCP) | T | 18.6489 | $1,106.81 | $245.46 | $221.36
0152 | Level I Percutaneous Abdominal and Biliary Procedures | T | 12.2277 | $725.71 |  | $145.14
0153 | Peritoneal and Abdominal Procedures | T | 21.5979 | $1,281.84 | $381.07 | $256.37
0154 | Hernia/Hydrocele Procedures | T | 28.6544 | $1,700.64 | $464.85 | $340.13
0155 | Level II Anal/Rectal Procedures | T | 16.1810 | $960.34 |  | $192.07
0156 | Level II Urinary and Anal Procedures | T | 2.5635 | $152.14 | $40.52 | $30.43
0157 | Colorectal Cancer Screening: Barium Enema | S | 2.2800 | $135.32 |  | $27.06
0158 | Colorectal Cancer Screening: Colonoscopy | T | 7.6242 | $452.50 |  | $113.13
0159 | Colorectal Cancer Screening: Flexible Sigmoidoscopy | S | 3.1312 | $185.84 |  | $46.46
0160 | Level I Cystourethroscopy and other Genitourinary Procedures | T | 6.6450 | $394.38 | $105.06 | $78.88
0161 | Level II Cystourethroscopy and other Genitourinary Procedures | T | 18.4736 | $1,096.41 | $249.36 | $219.28
0162 | Level III Cystourethroscopy and other Genitourinary Procedures | T | 23.2858 | $1,382.01 |  | $276.40
0163 | Level IV Cystourethroscopy and other Genitourinary Procedures | T | 33.5826 | $1,993.13 |  | $398.63
0164 | Level I Urinary and Anal Procedures | T | 1.1802 | $70.04 | $17.21 | $14.01
0165 | Level III Urinary and Anal Procedures | T | 16.5934 | $984.82 |  | $196.96
0166 | Level I Urethral Procedures | T | 17.5942 | $1,044.22 | $218.73 | $208.84
0168 | Level II Urethral Procedures | T | 28.1405 | $1,670.14 | $386.32 | $334.03
0169 | Lithotripsy | T | 42.8184 | $2,541.27 | $1,016.50 | $508.25
0170 | Dialysis | S | 5.8726 | $348.54 |  | $69.71
0180 | Circumcision | T | 19.7926 | $1,174.69 | $304.87 | $234.94
0181 | Penile Procedures | T | 30.7265 | $1,823.62 | $621.82 | $364.72
0183 | Testes/Epididymis Procedures | T | 23.5344 | $1,396.77 |  | $279.35
0184 | Prostate Biopsy | T | 4.3369 | $257.40 | $96.27 | $51.48
0188 | Level II Female Reproductive Proc | T | 1.1348 | $67.35 |  | $13.47
0189 | Level III Female Reproductive Proc | T | 2.3602 | $140.08 |  | $28.02
0190 | Level I Hysteroscopy | T | 20.9699 | $1,244.56 | $424.28 | $248.91
0191 | Level I Female Reproductive Proc | T | 0.1663 | $9.87 | $2.77 | $1.97
0192 | Level IV Female Reproductive Proc | T | 4.2887 | $254.53 |  | $50.91
0193 | Level V Female Reproductive Proc | T | 14.5183 | $861.66 |  | $172.33
0194 | Level VIII Female Reproductive Proc | T | 20.6585 | $1,226.08 | $397.84 | $245.22
0195 | Level IX Female Reproductive Proc | T | 26.5582 | $1,576.23 | $483.80 | $315.25
0196 | Dilation and Curettage | T | 17.0200 | $1,010.14 | $338.23 | $202.03
0197 | Infertility Procedures | T | 2.3465 | $139.26 |  | $27.85
0198 | Pregnancy and Neonatal Care Procedures | T | 1.3621 | $80.84 | $32.19 | $16.17
0200 | Level VII Female Reproductive Proc | T | 17.7919 | $1,055.95 | $263.69 | $211.19
0201 | Level VI Female Reproductive Proc | T | 17.5250 | $1,040.11 | $329.65 | $208.02
0202 | Level X Female Reproductive Proc | T | 40.2037 | $2,386.09 | $954.43 | $477.22
0203 | Level IV Nerve Injections | T | 10.3544 | $614.53 | $245.81 | $122.91
0204 | Level I Nerve Injections | T | 2.1811 | $129.45 | $40.13 | $25.89
0206 | Level II Nerve Injections | T | 5.4672 | $324.48 | $75.55 | $64.90
0207 | Level III Nerve Injections | T | 5.9837 | $355.13 | $86.92 | $71.03
0208 | Laminotomies and Laminectomies | T | 42.1492 | $2,501.56 |  | $500.31
0209 | Extended EEG Studies and Sleep Studies, Level II | S | 11.5189 | $683.65 | $273.46 | $136.73
0212 | Nervous System Injections | T | 2.9606 | $175.71 | $70.28 | $35.14
0213 | Extended EEG Studies and Sleep Studies, Level I | S | 2.2828 | $135.48 | $54.19 | $27.10
0214 | Electroencephalogram | S | 1.1302 | $67.08 | $26.83 | $13.42
0215 | Level I Nerve and Muscle Tests | S | 0.6087 | $36.13 | $14.45 | $7.23
0216 | Level III Nerve and Muscle Tests | S | 2.6599 | $157.87 |  | $31.57
0218 | Level II Nerve and Muscle Tests | S | 1.1356 | $67.40 |  | $13.48
0220 | Level I Nerve Procedures | T | 17.2800 | $1,025.57 |  | $205.11
0221 | Level II Nerve Procedures | T | 29.7854 | $1,767.76 | $463.62 | $353.55
0222 | Implantation of Neurological Device | T | 178.2870 | $10,581.33 |  | $2,116.27
0223 | Implantation or Revision of Pain Management Catheter | T | 27.9956 | $1,661.54 |  | $332.31
0224 | Implantation of Reservoir/Pump/Shunt | T | 40.4614 | $2,401.38 |  | $480.28
0225 | Level II Implantation of Neurostimulator Electrodes | S | 233.6295 | $13,865.91 |  | $2,773.18
0226 | Implantation of Drug Infusion Reservoir | T | 138.2406 | $8,204.58 |  | $1,640.92
0227 | Implantation of Drug Infusion Device | T | 135.8740 | $8,064.12 |  | $1,612.82
0228 | Creation of Lumbar Subarachnoid Shunt | T | 51.4916 | $3,056.03 |  | $611.21
0229 | Transcatherter Placement of Intravascular Shunts | T | 64.1626 | $3,808.05 | $771.23 | $761.61
0230 | Level I Eye Tests & Treatments | S | 0.7823 | $46.43 | $14.97 | $9.29
0231 | Level III Eye Tests & Treatments | S | 1.9191 | $113.90 |  | $22.78
0232 | Level I Anterior Segment Eye Procedures | T | 6.6429 | $394.26 | $103.17 | $78.85
0233 | Level II Anterior Segment Eye Procedures | T | 14.8995 | $884.29 | $266.33 | $176.86
0234 | Level III Anterior Segment Eye Procedures | T | 21.8746 | $1,298.26 | $511.31 | $259.65
0235 | Level I Posterior Segment Eye Procedures | T | 4.6382 | $275.28 | $67.10 | $55.06
0236 | Level II Posterior Segment Eye Procedures | T | 16.9458 | $1,005.73 |  | $201.15
0237 | Level III Posterior Segment Eye Procedures | T | 28.8091 | $1,709.82 |  | $341.96
0238 | Level I Repair and Plastic Eye Procedures | T | 2.5816 | $153.22 |  | $30.64
0239 | Level II Repair and Plastic Eye Procedures | T | 6.8784 | $408.23 |  | $81.65
0240 | Level III Repair and Plastic Eye Procedures | T | 18.0686 | $1,072.37 | $315.31 | $214.47
0241 | Level IV Repair and Plastic Eye Procedures | T | 23.1980 | $1,376.80 | $384.47 | $275.36
0242 | Level V Repair and Plastic Eye Procedures | T | 30.4081 | $1,804.72 | $597.36 | $360.94
0243 | Strabismus/Muscle Procedures | T | 22.0667 | $1,309.66 | $431.39 | $261.93
0244 | Corneal Transplant | T | 38.1985 | $2,267.08 | $803.26 | $453.42
0245 | Level I Cataract Procedures without IOL Insert | T | 13.3020 | $789.47 | $220.91 | $157.89
0246 | Cataract Procedures with IOL Insert | T | 23.3535 | $1,386.03 | $495.96 | $277.21
0247 | Laser Eye Procedures Except Retinal | T | 5.0102 | $297.36 | $104.31 | $59.47
0248 | Laser Retinal Procedures | T | 4.6557 | $276.32 | $93.57 | $55.26
0249 | Level II Cataract Procedures without IOL Insert | T | 27.8103 | $1,650.54 | $524.67 | $330.11
0250 | Nasal Cauterization/Packing | T | 1.2838 | $76.19 | $26.67 | $15.24
0251 | Level I ENT Procedures | T | 2.0010 | $118.76 |  | $23.75
0252 | Level II ENT Procedures | T | 7.8317 | $464.81 | $113.41 | $92.96
0253 | Level III ENT Procedures | T | 16.0627 | $953.32 | $282.29 | $190.66
0254 | Level IV ENT Procedures | T | 23.2980 | $1,382.74 | $321.35 | $276.55
0256 | Level V ENT Procedures | T | 37.1513 | $2,204.93 |  | $440.99
0258 | Tonsil and Adenoid Procedures | T | 22.1458 | $1,314.35 | $437.25 | $262.87
0259 | Level VI ENT Procedures | T | 364.6725 | $21,643.31 | $8,034.61 | $4,328.66
0260 | Level I Plain Film Except Teeth | X | 0.7521 | $44.64 | $17.85 | $8.93
0261 | Level II Plain Film Except Teeth Including Bone Density Measurement | X | 1.2843 | $76.22 |  | $15.24
0262 | Plain Film of Teeth | X | 0.9186 | $54.52 |  | $10.90
0263 | Level I Miscellaneous Radiology Procedures | X | 1.7397 | $103.25 | $24.29 | $20.65
0264 | Level II Miscellaneous Radiology Procedures | X | 3.5080 | $208.20 | $79.41 | $41.64
0265 | Level I Diagnostic Ultrasound | S | 1.0167 | $60.34 | $24.13 | $12.07
0266 | Level II Diagnostic Ultrasound | S | 1.6319 | $96.85 | $38.74 | $19.37
0267 | Level III Diagnostic Ultrasound | S | 2.6208 | $155.54 | $62.18 | $31.11
0268 | Ultrasound Guidance Procedures | S | 1.0562 | $62.69 |  | $12.54
0269 | Level III Echocardiogram Except Transesophageal | S | 3.2290 | $191.64 | $76.65 | $38.33
0270 | Transesophageal Echocardiogram | S | 5.9919 | $355.62 | $142.24 | $71.12
0272 | Level I Fluoroscopy | X | 1.3738 | $81.54 | $32.61 | $16.31
0274 | Myelography | S | 3.0275 | $179.68 | $71.87 | $35.94
0275 | Arthrography | S | 3.5617 | $211.39 | $69.09 | $42.28
0276 | Level I Digestive Radiology | S | 1.5250 | $90.51 | $36.20 | $18.10
0277 | Level II Digestive Radiology | S | 2.3744 | $140.92 | $56.36 | $28.18
0278 | Diagnostic Urography | S | 2.6314 | $156.17 | $62.46 | $31.23
0279 | Level II Angiography and Venography except Extremity | S | 8.8914 | $527.70 | $150.03 | $105.54
0280 | Level III Angiography and Venography except Extremity | S | 20.6960 | $1,228.31 | $353.85 | $245.66
0282 | Miscellaneous Computerized Axial Tomography | S | 1.6467 | $97.73 | $39.09 | $19.55
0283 | Computerized Axial Tomography with Contrast Material | S | 4.4053 | $261.45 | $104.58 | $52.29
0284 | Magnetic Resonance Imaging and Magnetic Resonance Angiography with Contras | S | 6.3910 | $379.31 | $151.72 | $75.86
0285 | Myocardial Positron Emission Tomography (PET) | S | 17.1020 | $1,015.00 | $318.72 | $203.00
0288 | Bone Density:Axial Skeleton | S | 1.2511 | $74.25 |  | $14.85
0296 | Level I Therapeutic Radiologic Procedures | S | 2.2350 | $132.65 | $53.06 | $26.53
0297 | Level II Therapeutic Radiologic Procedures | S | 5.2293 | $310.36 | $122.13 | $62.07
0299 | Miscellaneous Radiation Treatment | S | 5.8217 | $345.52 |  | $69.10
0300 | Level I Radiation Therapy | S | 1.5129 | $89.79 |  | $17.96
0301 | Level II Radiation Therapy | S | 2.2094 | $131.13 |  | $26.23
0302 | Level III Radiation Therapy | S | 4.5936 | $272.63 | $103.28 | $54.53
0303 | Treatment Device Construction | X | 2.8228 | $167.53 | $66.95 | $33.51
0304 | Level I Therapeutic Radiation Treatment Preparation | X | 1.7658 | $104.80 | $41.52 | $20.96
0305 | Level II Therapeutic Radiation Treatment Preparation | X | 3.9854 | $236.53 | $91.38 | $47.31
0310 | Level III Therapeutic Radiation Treatment Preparation | X | 13.8858 | $824.12 | $325.27 | $164.82
0312 | Radioelement Applications | S | 4.9806 | $295.60 |  | $59.12
0313 | Brachytherapy | S | 12.8072 | $760.11 |  | $152.02
0314 | Hyperthermic Therapies | S | 5.9674 | $354.17 | $98.36 | $70.83
0315 | Level II Implantation of Neurostimulator | T | 289.3306 | $17,171.77 |  | $3,434.35
0320 | Electroconvulsive Therapy | S | 5.3522 | $317.65 | $80.06 | $63.53
0321 | Biofeedback and Other Training | S | 1.3517 | $80.22 | $21.61 | $16.04
0322 | Brief Individual Psychotherapy | S | 1.2263 | $72.78 |  | $14.56
0323 | Extended Individual Psychotherapy | S | 1.6153 | $95.87 | $19.99 | $19.17
0324 | Family Psychotherapy | S | 2.0901 | $124.05 |  | $24.81
0325 | Group Psychotherapy | S | 1.3130 | $77.93 | $17.03 | $15.59
0330 | Dental Procedures | S | 7.1431 | $423.94 |  | $84.79
0332 | Computerized Axial Tomography and Computerized Angiography without Contras | S | 3.2546 | $193.16 | $77.26 | $38.63
0333 | Computerized Axial Tomography and Computerized Angio w/o Contrast Material | S | 5.2596 | $312.16 | $124.86 | $62.43
0335 | Magnetic Resonance Imaging, Miscellaneous | S | 5.1347 | $304.74 | $121.89 | $60.95
0336 | Magnetic Resonance Imaging and Magnetic Resonance Angiography without Cont | S | 6.0467 | $358.87 | $143.54 | $71.77
0337 | MRI and Magnetic Resonance Angiography without Contrast Material followed | S | 8.7547 | $519.59 | $207.83 | $103.92
0339 | Observation | S | 7.1080 | $421.86 |  | $84.37
0340 | Minor Ancillary Procedures | X | 0.6355 | $37.72 |  | $7.54
0341 | Skin Tests | X | 0.1107 | $6.57 | $2.62 | $1.31
0342 | Level I Pathology | X | 0.1553 | $9.22 | $3.68 | $1.84
0343 | Level III Pathology | X | 0.4764 | $28.27 | $11.10 | $5.65
0344 | Level IV Pathology | X | 0.7960 | $47.24 | $15.66 | $9.45
0345 | Level I Transfusion Laboratory Procedures | X | 0.2266 | $13.45 | $2.99 | $2.69
0346 | Level II Transfusion Laboratory Procedures | X | 0.3418 | $20.29 | $4.52 | $4.06
0347 | Level III Transfusion Laboratory Procedures | X | 0.8395 | $49.82 | $12.30 | $9.96
0348 | Fertility Laboratory Procedures | X | 0.7891 | $46.83 |  | $9.37
0350 | Administration of flu and PPV vaccines | X | 0.3936 | $23.36 | $0.00 | $0.00
0352 | Level I Injections | X | 0.1407 | $8.35 |  | $1.67
0353 | Level II Injections | X | 0.3936 | $23.36 |  | $4.67
0359 | Level III Injections | X | 0.8274 | $49.11 |  | $9.82
0360 | Level I Alimentary Tests | X | 1.4672 | $87.08 | $34.83 | $17.42
0361 | Level II Alimentary Tests | X | 3.6052 | $213.97 | $83.23 | $42.79
0362 | Contact Lens and Spectacle Services | X | 2.6486 | $157.19 |  | $31.44
0363 | Level I Otorhinolaryngologic Function Tests | X | 0.9087 | $53.93 | $17.44 | $10.79
0364 | Level I Audiometry | X | 0.4686 | $27.81 | $9.06 | $5.56
0365 | Level II Audiometry | X | 1.2300 | $73.00 | $18.95 | $14.60
0366 | Level III Audiometry | X | 1.7663 | $104.83 | $27.36 | $20.97
0367 | Level I Pulmonary Test | X | 0.6629 | $39.34 | $14.80 | $7.87
0368 | Level II Pulmonary Tests | X | 0.9716 | $57.66 | $23.06 | $11.53
0369 | Level III Pulmonary Tests | X | 2.7394 | $162.58 | $44.18 | $32.52
0370 | Allergy Tests | X | 1.1181 | $66.36 |  | $13.27
0372 | Therapeutic Phlebotomy | X | 0.5675 | $33.68 | $10.09 | $6.74
0373 | Neuropsychological Testing | X | 2.1827 | $129.54 |  | $25.91
0374 | Monitoring Psychiatric Drugs | X | 1.0367 | $61.53 |  | $12.31
0375 | Ancillary Outpatient Services When Patient Expires | T | 42.3971 | $2,516.27 |  | $503.25
0376 | Level II Cardiac Imaging | S | 5.1740 | $307.08 | $121.42 | $61.42
0377 | Level III Cardiac Imaging | S | 6.8034 | $403.78 | $161.51 | $80.76
0378 | Level II Pulmonary Imaging | S | 5.4748 | $324.93 | $129.97 | $64.99
0379 | Injection adenosine | K |  | $33.44 |  | $6.69
0381 | Single Allergy Tests | X | 0.1876 | $11.13 | $2.34 | $2.23
0384 | GI Procedures with Stents | T | 22.2381 | $1,319.83 | $286.66 | $263.97
0385 | Level I Prosthetic Urological Procedures | S | 75.3020 | $4,469.17 |  | $893.83
0386 | Level II Prosthetic Urological Procedures | S | 119.6251 | $7,099.75 |  | $1,419.95
0387 | Level II Hysteroscopy | T | 32.3971 | $1,922.77 | $655.55 | $384.55
0388 | Discography | S | 12.2736 | $728.44 | $291.37 | $145.69
0389 | Non-imaging Nuclear Medicine | S | 1.4908 | $88.48 | $35.39 | $17.70
0390 | Level I Endocrine Imaging | S | 2.5446 | $151.02 | $60.40 | $30.20
0391 | Level II Endocrine Imaging | S | 2.8643 | $170.00 | $68.00 | $34.00
0393 | Red Cell/Plasma Studies | S | 3.4282 | $203.46 | $81.38 | $40.69
0394 | Hepatobiliary Imaging | S | 4.4428 | $263.68 | $105.47 | $52.74
0395 | GI Tract Imaging | S | 3.8523 | $228.63 | $91.45 | $45.73
0396 | Bone Imaging | S | 4.1238 | $244.75 | $97.90 | $48.95
0397 | Vascular Imaging | S | 2.2543 | $133.79 | $53.51 | $26.76
0398 | Level I Cardiac Imaging | S | 4.2898 | $254.60 | $101.84 | $50.92
0399 | Nuclear Medicine Add-on Imaging | S | 1.5123 | $89.76 | $35.90 | $17.95
0400 | Hematopoietic Imaging | S | 4.1147 | $244.21 | $97.68 | $48.84
0401 | Level I Pulmonary Imaging | S | 3.3995 | $201.76 | $80.70 | $40.35
0402 | Brain Imaging | S | 5.1612 | $306.32 | $122.52 | $61.26
0403 | CSF Imaging | S | 3.5974 | $213.51 | $85.40 | $42.70
0404 | Renal and Genitourinary Studies Level I | S | 3.8385 | $227.81 | $91.12 | $45.56
0405 | Renal and Genitourinary Studies Level II | S | 4.2480 | $252.12 | $100.84 | $50.42
0406 | Tumor/Infection Imaging | S | 4.2840 | $254.26 | $101.70 | $50.85
0407 | Radionuclide Therapy | S | 3.9659 | $235.38 | $94.15 | $47.08
0409 | Red Blood Cell Tests | X | 0.1252 | $7.43 | $2.22 | $1.49
0411 | Respiratory Procedures | S | 0.3852 | $22.86 |  | $4.57
0412 | IMRT Treatment Delivery | S | 5.3400 | $316.93 |  | $63.39
0415 | Level II Endoscopy Lower Airway | T | 21.9955 | $1,305.43 | $459.92 | $261.09
0416 | Level I Intravascular and Intracardiac Ultrasound and Flow Reserve | S | 19.4657 | $1,155.29 |  | $231.06
0417 | Computerized Reconstruction | S | 4.0566 | $240.76 |  | $48.15
0418 | Insertion of Left Ventricular Pacing Elect. | T | 108.8092 | $6,457.83 |  | $1,291.57
0421 | Prolonged Physiologic Monitoring | X | 1.6525 | $98.08 |  | $19.62
0422 | Level II Upper GI Procedures | T | 22.8607 | $1,356.78 | $448.81 | $271.36
0423 | Level II Percutaneous Abdominal and Biliary Procedures | T | 40.1041 | $2,380.18 |  | $476.04
0425 | Level II Arthroplasty with Prosthesis | T | 99.7520 | $5,920.28 | $1,378.01 | $1,184.06
0426 | Level II Strapping and Cast Application | S | 2.1147 | $125.51 |  | $25.10
0427 | Level III Tube Changes and Repositioning | T | 10.1516 | $602.50 | $123.56 | $120.50
0428 | Level III Sigmoidoscopy and Anoscopy | T | 19.8121 | $1,175.85 |  | $235.17
0429 | Level V Cystourethroscopy and other Genitourinary Procedures | T | 42.1231 | $2,500.01 |  | $500.00
0430 | Level IV Nerve and Muscle Tests | T | 11.3524 | $673.76 |  | $134.75
0432 | Health and Behavior Services | S | 0.6918 | $41.06 |  | $8.21
0433 | Level II Pathology | X | 0.2569 | $15.25 | $6.10 | $3.05
0434 | Cardiac Defect Repair | T | 90.3765 | $5,363.85 |  | $1,072.77
0600 | Low Level Clinic Visits | V | 0.8649 | $51.33 |  | $10.27
0601 | Mid Level Clinic Visits | V | 0.9992 | $59.30 |  | $11.86
0602 | High Level Clinic Visits | V | 1.4220 | $84.40 |  | $16.88
0610 | Low Level Emergency Visits | V | 1.2889 | $76.50 | $19.40 | $15.30
0611 | Mid Level Emergency Visits | V | 2.2615 | $134.22 | $35.60 | $26.84
0612 | High Level Emergency Visits | V | 3.9673 | $235.46 | $54.12 | $47.09
0620 | Critical Care | S | 8.2620 | $490.35 | $135.08 | $98.07
0621 | Level I Vascular Access Procedures | T | 8.2610 | $490.29 |  | $98.06
0622 | Level II Vascular Access Procedures | T | 21.1708 | $1,256.49 |  | $251.30
0623 | Level III Vascular Access Procedures | T | 26.9877 | $1,601.72 |  | $320.34
0648 | Breast Reconstruction with Prosthesis | T | 50.2174 | $2,980.40 |  | $596.08
0651 | Complex Interstitial Radiation Source Application | S | 12.0898 | $717.53 |  | $143.51
0652 | Insertion of Intraperitoneal Catheters | T | 28.7639 | $1,707.14 |  | $341.43
0653 | Vascular Reconstruction/Fistula Repair with Device | T | 30.3956 | $1,803.98 |  | $360.80
0654 | Insertion/Replacement of a permanent dual chamber pacemaker | T | 100.4722 | $5,963.03 |  | $1,192.61
0655 | Insertion/Replacement/Conversion of a permanent dual chamber pacemaker | T | 133.1709 | $7,903.69 |  | $1,580.74
0656 | Transcatheter Placement of Intracoronary Drug-Eluting Stents | T | 109.4258 | $6,494.42 |  | $1,298.88
0657 | Placement of Tissue Clips | S | 1.7015 | $100.98 |  | $20.20
0658 | Percutaneous Breast Biopsies | T | 6.0773 | $360.69 |  | $72.14
0659 | Hyperbaric Oxygen | S | 1.5403 | $91.42 |  | $18.28
0660 | Level II Otorhinolaryngologic Function Tests | X | 1.6345 | $97.01 | $30.60 | $19.40
0661 | Level V Pathology | X | 3.3622 | $199.55 | $79.82 | $39.91
0662 | CT Angiography | S | 5.1387 | $304.98 | $121.99 | $61.00
0664 | Level I Proton Beam Radiation Therapy | S | 12.8853 | $764.74 |  | $152.95
0665 | Bone Density:AppendicularSkeleton | S | 0.6435 | $38.19 |  | $7.64
0667 | Level II Proton Beam Radiation Therapy | S | 15.4156 | $914.92 |  | $182.98
0668 | Level I Angiography and Venography except Extremity | S | 6.4730 | $384.17 | $114.67 | $76.83
0670 | Level II Intravascular and Intracardiac Ultrasound and Flow Reserve | S | 25.2980 | $1,501.44 | $470.38 | $300.29
0671 | Level II Echocardiogram Except Transesophageal | S | 1.6951 | $100.60 | $40.24 | $20.12
0672 | Level IV Posterior Segment Eye Procedures | T | 36.7611 | $2,181.77 |  | $436.35
0673 | Level IV Anterior Segment Eye Procedures | T | 29.1257 | $1,728.61 | $649.56 | $345.72
0674 | Prostate Cryoablation | T | 95.3518 | $5,659.13 |  | $1,131.83
0675 | Prostatic Thermotherapy | T | 43.5348 | $2,583.79 |  | $516.76
0676 | Thrombolysis and Thrombectomy | T | 2.3996 | $142.42 |  | $28.48
0678 | External Counterpulsation | T | 1.7197 | $102.06 |  | $20.41
0679 | Level II Resuscitation and Cardioversion | S | 5.5521 | $329.52 | $95.30 | $65.90
0680 | Insertion of Patient Activated Event Recorders | S | 62.6232 | $3,716.69 |  | $743.34
0681 | Knee Arthroplasty | T | 136.5417 | $8,103.75 | $2,081.48 | $1,620.75
0682 | Level V Debridement & Destruction | T | 6.8794 | $408.29 | $161.70 | $81.66
0683 | Level II Photochemotherapy | S | 1.8920 | $112.29 | $25.23 | $22.46
0685 | Level III Needle Biopsy/Aspiration Except Bone Marrow | T | 5.9902 | $355.52 | $115.47 | $71.10
0686 | Level III Skin Repair | T | 13.7661 | $817.02 |  | $163.40
0687 | Revision/Removal of Neurostimulator Electrodes | T | 19.1476 | $1,136.41 | $454.56 | $227.28
0688 | Revision/Removal of Neurostimulator Pulse Generator Receiver | T | 42.8494 | $2,543.11 | $1,017.24 | $508.62
0689 | Electronic Analysis of Cardioverter-defibrillators | S | 0.5709 | $33.88 |  | $6.78
0690 | Electronic Analysis of Pacemakers and other Cardiac Devices | S | 0.3738 | $22.19 | $8.87 | $4.44
0691 | Electronic Analysis of Programmable Shunts/Pumps | S | 2.5138 | $149.19 | $59.67 | $29.84
0692 | Electronic Analysis of Neurostimulator Pulse Generators | S | 2.0020 | $118.82 | $30.16 | $23.76
0693 | Level II Breast Reconstruction | T | 42.0342 | $2,494.73 | $798.17 | $498.95
0694 | Mohs Surgery | T | 3.8278 | $227.18 | $61.59 | $45.44
0695 | Level VII Debridement & Destruction | T | 20.2244 | $1,200.32 | $266.59 | $240.06
0697 | Level I Echocardiogram Except Transesophageal | S | 1.5288 | $90.73 | $36.29 | $18.15
0698 | Level II Eye Tests & Treatments | S | 1.2381 | $73.48 | $16.48 | $14.70
0699 | Level IV Eye Tests & Treatments | T | 9.9723 | $591.86 |  | $118.37
0700 | Antepartum Manipulation | T | 5.3371 | $316.76 |  | $63.35
0701 | SR 89 chloride, per mCi | H |  |  |  |
0702 | SM 153 lexidronam | H |  |  |  |
0704 | IN 111 Satumomab pendetide per dose | H |  |  |  |
0705 | Technetium TC99M tetrofosmin | H |  |  |  |
0726 | Dexrazoxane hcl injection | K |  | $216.38 |  | $43.28
0728 | Filgrastim injection | K |  | $178.38 |  | $35.68
0730 | Pamidronate disodium | K |  | $58.41 |  | $11.68
0731 | Sargramostim injection | K |  | $21.11 |  | $4.22
0732 | Mesna injection | K |  | $13.68 |  | $2.74
0733 | Non esrd epoetin alpha inj | K |  | $9.99 |  | $2.00
0734 | Injection, darbepoetin alfa (for non-ESRD) | K |  | $3.28 |  | $.66
0735 | Ampho b cholesteryl sulfate | K |  | $12.24 |  | $2.45
0736 | Amphotericin b liposome inj | K |  | $21.91 |  | $4.38
0737 | Ammonia N-13, per dose | H |  |  |  |
0738 | Rasburicase | G |  | $109.17 |  | $21.83
0750 | Dolasetron mesylate | K |  | $6.55 |  | $1.31
0763 | Dolasetron mesylate oral | K |  | $48.54 |  | $9.71
0764 | Granisetron HCl injection | K |  | $7.24 |  | $1.45
0765 | Granisetron HCl oral | K |  | $33.50 |  | $6.70
0768 | Ondansetron hcl injection | K |  | $3.80 |  | $.76
0769 | Ondansetron hcl oral | K |  | $32.02 |  | $6.40
0800 | Leuprolide acetate | K |  | $441.74 |  | $88.35
0802 | Etoposide oral | K |  | $41.12 |  | $8.22
0807 | Aldesleukin/single use vial | K |  | $701.71 |  | $140.34
0809 | Bcg live intravesical vac | K |  | $121.74 |  | $24.35
0810 | Goserelin acetate implant | K |  | $196.24 |  | $39.25
0811 | Carboplatin injection | K |  | $77.15 |  | $15.43
0812 | Carmus bischl nitro inj | K |  | $141.27 |  | $28.25
0814 | Asparaginase injection | K |  | $55.41 |  | $11.08
0819 | Dacarbazine inj | K |  | $6.20 |  | $1.24
0820 | Daunorubicin | K |  | $35.28 |  | $7.06
0821 | Daunorubicin citrate liposom | K |  | $57.55 |  | $11.51
0823 | Docetaxel | K |  | $301.15 |  | $60.23
0827 | Floxuridine injection | K |  | $60.16 |  | $12.03
0828 | Gemcitabine HCL | K |  | $117.44 |  | $23.49
0830 | Irinotecan injection | K |  | $129.07 |  | $25.81
0831 | Ifosfomide injection | K |  | $53.53 |  | $10.71
0832 | Idarubicin hcl injection | K |  | $313.97 |  | $62.79
0834 | Interferon alfa-2a inj | K |  | $31.75 |  | $6.35
0835 | Inj cosyntropin | K |  | $69.27 |  | $13.85
0836 | Interferon alfa-2b inj recombinant, 1 million | K |  | $13.22 |  | $2.64
0838 | Interferon gamma 1-b inj | K |  | $277.77 |  | $55.55
0840 | Melphalan hydrochl | K |  | $523.18 |  | $104.64
0842 | Fludarabine phosphate inj | K |  | $262.39 |  | $52.48
0843 | Pegaspargase | K |  | $1,528.67 |  | $305.73
0844 | Pentostatin injection | K |  | $1,868.76 |  | $373.75
0849 | Rituximab | K |  | $447.93 |  | $89.59
0850 | Streptozocin injection | K |  | $153.31 |  | $30.66
0851 | Thiotepa injection | K |  | $44.55 |  | $8.91
0852 | Topotecan | K |  | $755.44 |  | $151.09
0855 | Vinorelbine tartrate | K |  | $62.84 |  | $12.57
0856 | Porfimer sodium | K |  | $2,457.78 |  | $491.56
0857 | Bleomycin sulfate injection | K |  | $54.17 |  | $10.83
0858 | Cladribine | K |  | $39.37 |  | $7.87
0860 | Plicamycin (mithramycin) inj | K |  | $80.54 |  | $16.11
0861 | Leuprolide acetate injection | K |  | $10.96 |  | $2.19
0862 | Mitomycin | K |  | $26.36 |  | $5.27
0863 | Paclitaxel injection | K |  | $19.11 |  | $3.82
0864 | Mitoxantrone hcl | K |  | $329.66 |  | $65.93
0865 | Interferon alfa-n3 inj, human leukocyte derived, 2 | K |  | $8.77 |  | $1.75
0868 | Oral aprepitant | G |  | $4.75 |  | $.95
0869 | IVIG lyophil 1g | K |  | $39.46 |  | $7.89
0870 | IVIG lyophil 10 mg | K |  | $.40 |  | $.08
0871 | IVIG non-lyophil 1g | K |  | $57.26 |  | $11.45
0872 | IVIG non-lyophil 10 mg | K |  | $.57 |  | $.11
0876 | Caffeine citrate injection | K |  | $3.34 |  | $.67
0880 | Penicillin g benzathine inj | K |  | $72.25 |  | $14.45
0884 | Rho d immune globulin inj | K |  | $113.90 |  | $22.78
0887 | Azathioprine parenteral | K |  | $47.39 |  | $9.48
0888 | Cyclosporine oral | K |  | $3.94 |  | $.79
0890 | Lymphocyte immune globulin | K |  | $290.28 |  | $58.06
0891 | Tacrolimus oral | K |  | $3.37 |  | $.67
0892 | Edetate calcium disodium inj | K |  | $40.34 |  | $8.07
0893 | Calcitonin salmon injection | K |  | $35.68 |  | $7.14
0895 | Deferoxamine mesylate inj | K |  | $14.91 |  | $2.98
0900 | Alglucerase injection | K |  | $39.94 |  | $7.99
0901 | Alpha 1 proteinase inhibitor | K |  | $3.30 |  | $.66
0902 | Botulinum toxin a, per unit | K |  | $4.80 |  | $.96
0903 | Cytomegalovirus imm IV/vial | K |  | $683.02 |  | $136.60
0906 | RSV-ivig | K |  | $15.56 |  | $3.11
0910 | Interferon beta-1b | K |  | $81.94 |  | $16.39
0911 | Streptokinase | K |  | $83.35 |  | $16.67
0912 | Interferon alfacon-1 | K |  | $3.91 |  | $.78
0913 | Ganciclovir long act implant | K |  | $4,318.33 |  | $863.67
0916 | Injection imiglucerase /unit | K |  | $3.98 |  | $.80
0917 | Adenosine injection | K |  | $71.52 |  | $14.30
0925 | Factor viii | K |  | $.51 |  | $.10
0926 | Factor VIII (porcine) | K |  | $1.75 |  | $.35
0927 | Factor viii recombinant | K |  | $.94 |  | $.19
0928 | Factor ix complex | K |  | $.52 |  | $.10
0929 | Anti-inhibitor per iu | K |  | $1.12 |  | $.22
0931 | Factor IX non-recombinant | K |  | $.75 |  | $.15
0932 | Factor IX recombinant | K |  | $.86 |  | $.17
0935 | Clonidine hydrochloride | K |  | $57.46 |  | $11.49
0949 | Plasma, Pooled Multiple Donor, Solvent/Detergent T | K | 1.1902 | $70.64 |  | $14.13
0950 | Blood (Whole) For Transfusion | K | 2.0032 | $118.89 |  | $23.78
0952 | Cryoprecipitate | K | 0.7361 | $43.69 |  | $8.74
0954 | RBC leukocytes reduced | K | 2.7246 | $161.71 |  | $32.34
0955 | Plasma, Fresh Frozen | K | 1.2876 | $76.42 |  | $15.28
0956 | Plasma Protein Fraction | K | 1.1175 | $66.32 |  | $13.26
0957 | Platelet Concentrate | K | 0.8279 | $49.14 |  | $9.83
0958 | Platelet Rich Plasma | K | 5.1580 | $306.13 |  | $61.23
0959 | Red Blood Cells | K | 2.0209 | $119.94 |  | $23.99
0960 | Washed Red Blood Cells | K | 2.9573 | $175.52 |  | $35.10
0961 | Infusion, Albumin (Human) 5%, 50 ml | K | 0.5119 | $30.38 |  | $6.08
0963 | Albumin (human), 5% | K | 1.3867 | $82.30 |  | $16.46
0964 | Albumin (human), 25% | K | 0.4878 | $28.95 |  | $5.79
0965 | Albumin (human), 25% | K | 1.1115 | $65.97 |  | $13.19
0966 | Plasmaprotein fract,5% | K | 4.9340 | $292.83 |  | $58.57
0967 | Split unit of blood | K | 1.2641 | $75.02 |  | $15.00
0968 | Platelets leukocyte reduced irradiated | K | 2.3532 | $139.66 |  | $27.93
0969 | Red blood cell leukocyte reduced irradiated | K | 3.6286 | $215.36 |  | $43.07
1009 | Cryoprecip reduced plasma | K | 1.3003 | $77.17 |  | $15.43
1010 | Blood, L/R, CMV-neg | K | 2.9558 | $175.43 |  | $35.09
1011 | Platelets, HLA-m, L/R, unit | K | 10.9193 | $648.06 |  | $129.61
1013 | Platelet concentrate, L/R, unit | K | 1.5950 | $94.66 |  | $18.93
1016 | Blood, L/R, froz/deglycerol/washed | K | 5.2392 | $310.95 |  | $62.19
1017 | Platelets, aph/pher, L/R, CMV-neg, unit | K | 8.5608 | $508.08 |  | $101.62
1018 | Blood, L/R, irradiated | K | 2.7877 | $165.45 |  | $33.09
1019 | Platelets, aph/pher, L/R, irradiated, unit | K | 9.4700 | $562.04 |  | $112.41
1020 | Pit, pher,L/R,CMV,irrad | K | 10.1091 | $599.98 |  | $120.00
1021 | RBC, frz/deg/wsh, L/R, irrad | K | 4.8566 | $288.24 |  | $57.65
1022 | RBC, L/R, CMV neg, irrad | K | 4.2707 | $253.47 |  | $50.69
1045 | Iobenguane sulfate I-131 | H |  |  |  |
1052 | Injection, Voriconazole | K |  | $4.63 |  | $.93
1064 | I-131 sodium iodide capsule | H |  |  |  |
1065 | I-131 sodium iodide solution | H |  |  |  |
1080 | I-131 tositumomab, dx | H |  |  |  |
1081 | I-131 tositumomab, tx | H |  |  |  |
1082 | Treprostinil | K |  | $55.02 |  | $11.00
1083 | Injection, Adalimumab | K |  | $300.07 |  | $60.01
1084 | Denileukin diftitox | K |  | $1,235.23 |  | $247.05
1085 | Injection, Gallium Nitrate | K |  | $1.30 |  | $.26
1086 | Temozolomide,oral | K |  | $7.28 |  | $1.46
1088 | Dx I131 so iodide cap millic | H |  |  |  |
1091 | IN 111 Oxyquinoline | H |  |  |  |
1092 | IN 111 Pentetate | H |  |  |  |
1093 | TC99M fanolesomab | H |  |  |  |
1096 | TC 99M Exametazime, per dose | H |  |  |  |
1150 | Th I131 so iodide sol millic | H |  |  |  |
1166 | Cytarabine liposome | K |  | $366.40 |  | $73.28
1167 | Epirubicin hcl | K |  | $25.15 |  | $5.03
1178 | Busulfan IV | K | 0.2851 | $16.92 |  | $3.38
1201 | TC 99M SUCCIMER, PER Vial | H |  |  |  |
1203 | Verteporfin for injection | K |  | $9.16 |  | $1.83
1207 | Octreotide injection, depot | K |  | $87.39 |  | $17.48
1210 | Inj dihydroergotamine mesylt | K |  | $27.82 |  | $5.56
1280 | Corticotropin injection | K |  | $95.43 |  | $19.09
1305 | Apligraf | K | 12.9206 | $766.84 |  | $153.37
1330 | Ergonovine maleate injection | K | 0.5262 | $31.23 |  | $6.25
1409 | Factor viia recombinant | K |  | $1,080.03 |  | $216.01
1436 | Etidronate disodium inj | K |  | $68.69 |  | $13.74
1491 | New Technology - Level I ($0-$10) | S |  | $5.00 |  | $1.00
1492 | New Technology - Level I ($10-$20) | S |  | $15.00 |  | $3.00
1493 | New Technology - Level I ($20-$30) | S |  | $25.00 |  | $5.00
1494 | New Technology - Level I ($30-$40) | S |  | $35.00 |  | $7.00
1495 | New Technology - Level I ($40-$50) | S |  | $45.00 |  | $9.00
1496 | New Technology - Level I ($0-$10) | T |  | $5.00 |  | $1.00
1497 | New Technology - Level I ($10-$20) | T |  | $15.00 |  | $3.00
1498 | New Technology - Level I ($20-$30) | T |  | $25.00 |  | $5.00
1499 | New Technology - Level I ($30-$40) | T |  | $35.00 |  | $7.00
1500 | New Technology - Level I ($40-$50) | T |  | $45.00 |  | $9.00
1502 | New Technology - Level II ($50 - $100) | S |  | $75.00 |  | $15.00
1503 | New Technology - Level III ($100 - $200) | S |  | $150.00 |  | $30.00
1504 | New Technology - Level IV ($200 - $300) | S |  | $250.00 |  | $50.00
1505 | New Technology - Level V ($300 - $400) | S |  | $350.00 |  | $70.00
1506 | New Technology - Level VI ($400 - $500) | S |  | $450.00 |  | $90.00
1507 | New Technology - Level VII ($500 - $600) | S |  | $550.00 |  | $110.00
1508 | New Technology - Level VIII ($600 - $700) | S |  | $650.00 |  | $130.00
1509 | New Technology - Level IX ($700 - $800) | S |  | $750.00 |  | $150.00
1510 | New Technology - Level X ($800 - $900) | S |  | $850.00 |  | $170.00
1511 | New Technology - Level XI ($900 - $1000) | S |  | $950.00 |  | $190.00
1512 | New Technology - Level XII ($1000 - $1100) | S |  | $1,050.00 |  | $210.00
1513 | New Technology - Level XIII ($1100 - $1200) | S |  | $1,150.00 |  | $230.00
1514 | New Technology-Level XIV ($1200- $1300) | S |  | $1,250.00 |  | $250.00
1515 | New Technology - Level XV ($1300 - $1400) | S |  | $1,350.00 |  | $270.00
1516 | New Technology - Level XVI ($1400 - $1500) | S |  | $1,450.00 |  | $290.00
1517 | New Technology - Level XVII ($1500-$1600) | S |  | $1,550.00 |  | $310.00
1518 | New Technology - Level XVIII ($1600-$1700) | S |  | $1,650.00 |  | $330.00
1519 | New Technology - Level IXX ($1700-$1800) | S |  | $1,750.00 |  | $350.00
1520 | New Technology - Level XX ($1800-$1900) | S |  | $1,850.00 |  | $370.00
1521 | New Technology - Level XXI ($1900-$2000) | S |  | $1,950.00 |  | $390.00
1522 | New Technology - Level XXII ($2000-$2500) | S |  | $2,250.00 |  | $450.00
1523 | New Technology - Level XXIII ($2500-$3000) | S |  | $2,750.00 |  | $550.00
1524 | New Technology - Level XIV ($3000-$3500) | S |  | $3,250.00 |  | $650.00
1525 | New Technology - Level XXV ($3500-$4000) | S |  | $3,750.00 |  | $750.00
1526 | New Technology - Level XXVI ($4000-$4500) | S |  | $4,250.00 |  | $850.00
1527 | New Technology - Level XXVII ($4500-$5000) | S |  | $4,750.00 |  | $950.00
1528 | New Technology - Level XXVIII ($5000-$5500) | S |  | $5,250.00 |  | $1,050.00
1529 | New Technology - Level XXIX ($5500-$6000) | S |  | $5,750.00 |  | $1,150.00
1530 | New Technology - Level XXX ($6000-$6500) | S |  | $6,250.00 |  | $1,250.00
1531 | New Technology - Level XXXI ($6500-$7000) | S |  | $6,750.00 |  | $1,350.00
1532 | New Technology - Level XXXII ($7000-$7500) | S |  | $7,250.00 |  | $1,450.00
1533 | New Technology - Level XXXIII ($7500-$8000) | S |  | $7,750.00 |  | $1,550.00
1534 | New Technology - Level XXXIV ($8000-$8500) | S |  | $8,250.00 |  | $1,650.00
1535 | New Technology - Level XXXV ($8500-$9000) | S |  | $8,750.00 |  | $1,750.00
1536 | New Technology - Level XXXVI ($9000-$9500) | S |  | $9,250.00 |  | $1,850.00
1537 | New Technology - Level XXXVII ($9500-$10000) | S |  | $9,750.00 |  | $1,950.00
1539 | New Technology - Level II ($50 - $100) | T |  | $75.00 |  | $15.00
1540 | New Technology - Level III ($100 - $200) | T |  | $150.00 |  | $30.00
1541 | New Technology - Level IV ($200 - $300) | T |  | $250.00 |  | $50.00
1542 | New Technology - Level V ($300 - $400) | T |  | $350.00 |  | $70.00
1543 | New Technology - Level VI ($400 - $500) | T |  | $450.00 |  | $90.00
1544 | New Technology - Level VII ($500 - $600) | T |  | $550.00 |  | $110.00
1545 | New Technology - Level VIII ($600 - $700) | T |  | $650.00 |  | $130.00
1546 | New Technology - Level IX ($700 - $800) | T |  | $750.00 |  | $150.00
1547 | New Technology - Level X ($800 - $900) | T |  | $850.00 |  | $170.00
1548 | New Technology - Level XI ($900 - $1000) | T |  | $950.00 |  | $190.00
1549 | New Technology - Level XII ($1000 - $1100) | T |  | $1,050.00 |  | $210.00
1550 | New Technology - Level XIII ($1100 - $1200) | T |  | $1,150.00 |  | $230.00
1551 | New Technology-Level XIV ($1200- $1300) | T |  | $1,250.00 |  | $250.00
1552 | New Technology - Level XV ($1300 - $1400) | T |  | $1,350.00 |  | $270.00
1553 | New Technology - Level XVI ($1400 - $1500) | T |  | $1,450.00 |  | $290.00
1554 | New Technology - Level XVII ($1500-$1600) | T |  | $1,550.00 |  | $310.00
1555 | New Technology - Level XVIII ($1600-$1700) | T |  | $1,650.00 |  | $330.00
1556 | New Technology - Level XIX ($1700-$1800) | T |  | $1,750.00 |  | $350.00
1557 | New Technology - Level XX ($1800-$1900) | T |  | $1,850.00 |  | $370.00
1558 | New Technology - Level XXI ($1900-$2000) | T |  | $1,950.00 |  | $390.00
1559 | New Technology - Level XXII ($2000-$2500) | T |  | $2,250.00 |  | $450.00
1560 | New Technology - Level XXIII ($2500-$3000) | T |  | $2,750.00 |  | $550.00
1561 | New Technology - Level XXIV ($3000-$3500) | T |  | $3,250.00 |  | $650.00
1562 | New Technology - Level XXV ($3500-$4000) | T |  | $3,750.00 |  | $750.00
1563 | New Technology - Level XXVI ($4000-$4500) | T |  | $4,250.00 |  | $850.00
1564 | New Technology - Level XXVII ($4500-$5000) | T |  | $4,750.00 |  | $950.00
1565 | New Technology - Level XXVIII ($5000-$5500) | T |  | $5,250.00 |  | $1,050.00
1566 | New Technology - Level XXIX ($5500-$6000) | T |  | $5,750.00 |  | $1,150.00
1567 | New Technology - Level XXX ($6000-$6500) | T |  | $6,250.00 |  | $1,250.00
1568 | New Technology - Level XXXI ($6500-$7000) | T |  | $6,750.00 |  | $1,350.00
1569 | New Technology - Level XXXII ($7000-$7500) | T |  | $7,250.00 |  | $1,450.00
1570 | New Technology - Level XXXIII ($7500-$8000) | T |  | $7,750.00 |  | $1,550.00
1571 | New Technology - Level XXXIV ($8000-$8500) | T |  | $8,250.00 |  | $1,650.00
1572 | New Technology - Level XXXV ($8500-$9000) | T |  | $8,750.00 |  | $1,750.00
1573 | New Technology - Level XXXVI ($9000-$9500) | T |  | $9,250.00 |  | $1,850.00
1574 | New Technology - Level XXXVII ($9500-$10000) | T |  | $9,750.00 |  | $1,950.00
1600 | Technetium TC 99m sestamibi | H |  |  |  |
1603 | Thallous chloride TL 201 | H |  |  |  |
1604 | IN 111 capromab pendetide, per dose | H |  |  |  |
1605 | Abciximab injection | K |  | $450.56 |  | $90.11
1607 | Eptifibatide injection | K |  | $12.73 |  | $2.55
1608 | Etanercept injection | K |  | $152.10 |  | $30.42
1609 | Rho(D) immune globulin h, sd | K |  | $12.04 |  | $2.41
1611 | Hylan G-F 20 injection | K |  | $203.13 |  | $40.63
1612 | Daclizumab, parenteral | K |  | $381.45 |  | $76.29
1613 | Trastuzumab | K |  | $53.97 |  | $10.79
1615 | Basiliximab | K |  | $1,473.45 |  | $294.69
1618 | Vonwillebrandfactrcmplx, per iu | K |  | $.74 |  | $.15
1619 | Gallium ga 67 | H |  |  |  |
1620 | Technetium tc99m bicisate | H |  |  |  |
1622 | Technetium tc99m mertiatide | H |  |  |  |
1624 | Sodium phosphate p32 | H |  |  |  |
1625 | Indium 111-in pentetreotide | H |  |  |  |
1628 | Chromic phosphate p32 | H |  |  |  |
1655 | Tinzaparin sodium injection | K |  | $2.53 |  | $.51
1670 | Tetanus immune globulin inj | K |  | $76.89 |  | $15.38
1716 | Brachytx source, Gold 198 | H |  |  |  |
1717 | Brachytx source, HDR Ir-192 | H |  |  |  |
1718 | Brachytx source, Iodine 125 | H |  |  |  |
1719 | Brachytx sour,Non-HDR Ir-192 | H |  |  |  |
1720 | Brachytx sour, Palladium 103 | H |  |  |  |
1740 | Diazoxide injection | K |  | $113.85 |  | $22.77
1775 | FDG, per dose (4-40 mCi/ml) | H |  |  |  |
2210 | Methyldopate hcl injection | K |  | $9.58 |  | $1.92
2616 | Brachytx source, Yttrium-90 | H |  |  |  |
2632 | Brachytx sol, I-125, per mCi | H |  |  |  |
2633 | Brachytx source, Cesium-131 | H |  |  |  |
2634 | Brachytx source, HA, I-125 | H |  |  |  |
2635 | Brachytx source, HA, P-103 | H |  |  |  |
2636 | Brachytx linear source, P-103 | H |  |  |  |
2730 | Pralidoxime chloride inj | K |  | $76.67 |  | $15.33
2770 | Quinupristin/dalfopristin | K |  | $105.48 |  | $21.10
2940 | Somatrem injection | K |  | $43.13 |  | $8.63
3030 | Sumatriptan succinate | K |  | $51.03 |  | $10.21
7000 | Amifostine | K |  | $435.98 |  | $87.20
7005 | Gonadorelin hydroch | K |  | $173.42 |  | $34.68
7011 | Oprelvekin injection | K |  | $249.04 |  | $49.81
7015 | Busulfan, oral | K |  | $1.98 |  | $.40
7019 | Aprotinin | K |  | $2.20 |  | $.44
7024 | Corticorelin ovine triflutat | K |  | $386.49 |  | $77.30
7025 | Digoxin immune FAB (ovine) | K |  | $552.14 |  | $110.43
7026 | Ethanolamine oleate | K |  | $64.53 |  | $12.91
7027 | Fomepizole | K |  | $12.31 |  | $2.46
7028 | Fosphenytoin | K |  | $5.19 |  | $1.04
7030 | Hemin | K |  | $6.51 |  | $1.30
7034 | Somatropin injection | K |  | $42.93 |  | $8.59
7035 | Teniposide | K |  | $266.21 |  | $53.24
7036 | Urokinase inj | K |  | $415.66 |  | $83.13
7037 | Urofollitropin | K |  | $44.73 |  | $8.95
7038 | Monoclonal antibodies | K |  | $885.29 |  | $177.06
7040 | Pentastarch 10% solution | K |  | $12.45 |  | $2.49
7041 | Tirofiban hcl | K |  | $7.89 |  | $1.58
7042 | Capecitabine, oral | K |  | $3.30 |  | $.66
7043 | Infliximab injection | K |  | $54.19 |  | $10.84
7045 | Trimetrexate glucoronate | K |  | $139.84 |  | $27.97
7046 | Doxorubicin hcl liposome inj | K |  | $365.61 |  | $73.12
7048 | Alteplase recombinant | K |  | $30.65 |  | $6.13
7049 | Filgrastim injection | K |  | $282.27 |  | $56.45
7051 | Leuprolide acetate implant | K |  | $2,262.01 |  | $452.40
7308 | Aminolevulinic acid hcl top | K |  | $96.79 |  | $19.36
7316 | Sodium hyaluronate injection | K |  | $110.64 |  | $22.13
7515 | Cyclosporine oral | K |  | $1.00 |  | $.20
9001 | Linezolid injection | K |  | $24.15 |  | $4.83
9002 | Tenecteplase | K |  | $2,052.60 |  | $410.52
9003 | Palivizumab | K | 4.1486 | $246.22 |  | $49.24
9004 | Gemtuzumab ozogamicin | K |  | $2,244.86 |  | $448.97
9005 | Reteplase injection | K |  | $898.74 |  | $179.75
9006 | Tacrolimus injection | K |  | $126.61 |  | $25.32
9008 | Baclofen Refill Kit-500mcg | K | 0.2447 | $14.52 |  | $2.90
9009 | Baclofen refill kit - per 2000 mcg | K | 0.7208 | $42.78 |  | $8.56
9012 | Arsenic Trioxide | K |  | $33.76 |  | $6.75
9015 | Mycophenolate mofetil oral | K |  | $2.50 |  | $.50
9018 | Botulinum toxin B | K |  | $7.89 |  | $1.58
9019 | Caspofungin acetate | K |  | $32.35 |  | $6.47
9020 | Sirolimus tablet | K |  | $6.85 |  | $1.37
9022 | IM inj interferon beta 1-a | K |  | $89.09 |  | $17.82
9023 | Rho d immune globulin | K |  | $25.08 |  | $5.02
9024 | Amphotericin b lipid complex | K |  | $11.95 |  | $2.39
9025 | Rubidium-Rb-82 | H |  |  |  |
9030 | Amphotericin B | K |  | $30.70 |  | $6.14
9031 | Arbutamine HCl injection | K |  | $163.13 |  | $32.63
9032 | Baclofen 10 MG injection | K |  | $188.00 |  | $37.60
9033 | Cidofovir injection | K |  | $782.91 |  | $156.58
9038 | Inj estrogen conjugate | K |  | $57.76 |  | $11.55
9040 | Intraocular Fomivirsen na | K |  | $203.91 |  | $40.78
9042 | Glucagon hydrochloride | K |  | $62.16 |  | $12.43
9044 | Ibutilide fumarate injection | K |  | $243.32 |  | $48.66
9045 | Iron dextran | K |  | $11.43 |  | $2.29
9046 | Iron sucrose injection | K |  | $.38 |  | $.08
9047 | Itraconazole injection | K |  | $36.93 |  | $7.39
9051 | Urea injection | K | 1.0453 | $62.04 |  | $12.41
9054 | Metabolically active tissue | K |  | $15.69 |  | $3.14
9055 | Injectable human tissue | K |  | $3.54 |  | $.71
9057 | Lepirudin | K |  | $128.16 |  | $25.63
9100 | Iodinated I-131 serumalbumin, per 5uci | H |  |  |  |
9104 | Anti-thymocycte globulin rabbit | K |  | $299.45 |  | $59.89
9105 | Hep B imm glob | K | 1.8810 | $111.64 |  | $22.33
9108 | Thyrotropin alfa | K |  | $712.52 |  | $142.50
9110 | Alemtuzumab injection | K |  | $516.83 |  | $103.37
9112 | Inj Perflutren lipid micros, ml | K |  | $63.50 |  | $12.70
9114 | Nesiritide | K |  | $75.18 |  | $15.04
9115 | Inj, zoledronic acid | K |  | $202.39 |  | $40.48
9117 | Yttrium 90 ibritumomab tiuxetan | H |  |  |  |
9118 | In-111 ibritumomab tiuxetan | H |  |  |  |
9119 | Pegfilgrastim | K |  | $2,178.11 |  | $435.62
9120 | Inj, Fulvestrant | K |  | $82.90 |  | $16.58
9121 | Inj, Argatroban | K | 0.1897 | $11.26 |  | $2.25
9122 | Triptorelin pamoate | K |  | $369.95 |  | $73.99
9123 | Transcyte | K |  | $719.36 |  | $143.87
9124 | Injection, daptomycin | G |  | $.30 |  | $.06
9125 | Risperidone, long acting | G |  | $4.71 |  | $.94
9126 | Injection, natalizumab | G |  | $6.51 |  | $1.30
9127 | Paclitaxel protein pr | K |  | $8.59 |  | $1.72
9128 | Inj pegaptanib sodium | K |  | $1,074.18 |  | $214.84
9130 | Na chromateCr51, per 0.25mCi | H |  |  |  |
9132 | 51 Na Chromate, 50mCi | H |  |  |  |
9133 | Rabies ig, im/sc | K |  | $64.56 |  | $12.91
9134 | Rabies ig, heat treated | K |  | $69.78 |  | $13.96
9135 | Varicella-zoster ig, im | K |  | $96.57 |  | $19.31
9136 | Adenovirus vaccine, type 4 | K | 0.9498 | $56.37 |  | $11.27
9137 | Bcg vaccine, percut | K |  | $124.53 |  | $24.91
9138 | Hep a/hep b vacc, adult im | K | 0.9673 | $57.41 |  | $11.48
9139 | Rabies vaccine, im | K |  | $128.03 |  | $25.61
9140 | Rabies vaccine, id | K | 1.4957 | $88.77 |  | $17.75
9141 | Measles-rubella vaccine, sc | K | 0.9466 | $56.18 |  | $11.24
9142 | Chicken pox vaccine, sc | K |  | $64.29 |  | $12.86
9143 | Meningococcal vaccine, sc | K |  | $56.74 |  | $11.35
9144 | Encephalitis vaccine, sc | K |  | $67.72 |  | $13.54
9145 | Meningococcal vaccine, im | K | 0.8947 | $53.10 |  | $10.62
9146 | Technetium TC99m Disofenin | H |  |  |  |
9147 | Technetium TC 99M Depreotide | H |  |  |  |
9148 | I-123 sodium iodide capsule | H |  |  |  |
9149 | Dx I131 so iodide microcurie | H |  |  |  |
9150 | I-125 serum albumin micro | H |  |  |  |
9151 | Tc 99M ARCITUMOMAB PER VIAL | H |  |  |  |
9152 | Baclofen Intrathecal kit-1am | K | 0.8561 | $50.81 |  | $10.16
9153 | Na Iothalamate I-125, 10 uCi | H |  |  |  |
9154 | Technetium tc99m glucepatate | H |  |  |  |
9155 | Technetium tc99mlabeledrbcs | H |  |  |  |
9156 | Nonmetabolic active tissue | K |  | $53.75 |  | $10.75
9157 | LOCM <=149 mg/ml iodine | K |  | $.51 |  | $.10
9158 | LOCM 150-199mg/ml iodine | K |  | $2.00 |  | $.40
9159 | LOCM 200-249mg/ml iodine | K |  | $.78 |  | $.16
9160 | LOCM 250-299mg/ml iodine | K |  | $.66 |  | $.13
9161 | LOCM 300-349mg/ml iodine | K |  | $.41 |  | $.08
9162 | LOCM 350-399mg/ml iodine | K |  | $.27 |  | $.05
9163 | LOCM >= 400 mg/ml iodine | K |  | $.20 |  | $.04
9164 | Inj Gad-base MR contrast | K |  | $3.01 |  | $.60
9165 | Oral MR contrast | K |  | $9.01 |  | $1.80
9166 | Dyphylline injection | K |  | $7.74 |  | $1.55
9167 | Valrubicin | K |  | $376.83 |  | $75.37
9168 | Pegademase bovine | K |  | $161.15 |  | $32.23
9169 | Anthrax vaccine, sc | K |  | $128.94 |  | $25.79
9200 | Orcel | K | 2.6890 | $159.59 |  | $31.92
9201 | Dermagraft | K | 6.2059 | $368.32 |  | $73.66
9202 | Inj Octafluoropropane mic,ml | K |  | $41.42 |  | $8.28
9203 | Inj Perflexane lipid micros, ml | K |  | $13.49 |  | $2.70
9205 | Oxaliplatin | K |  | $84.05 |  | $16.81
9206 | Integra | K |  | $9.23 |  | $1.85
9207 | Injection, bortezomib | K |  | $28.90 |  | $5.78
9208 | Injection, agalsidase beta | K |  | $123.35 |  | $24.67
9209 | Injection, laronidase | K |  | $23.16 |  | $4.63
9210 | Injection, palonosetron HCL | K |  | $18.42 |  | $3.68
9211 | Inj, alefacept, IV | K |  | $570.97 |  | $114.19
9212 | Inj, alefacept, IM | K |  | $401.97 |  | $80.39
9213 | Injection, Pemetrexed | G |  | $41.29 |  | $8.26
9214 | Injection, Bevacizumab | G |  | $58.17 |  | $11.63
9215 | Injection, Cetuximab | G |  | $50.58 |  | $10.12
9216 | Abarelix Injection | G |  | $66.96 |  | $13.39
9217 | Leuprolide acetate suspnsion | K |  | $230.85 |  | $46.17
9218 | Injection, Azacitidine | K |  | $4.03 |  | $.81
9219 | Mycophenolic Acid | G |  | $2.47 |  | $.49
9220 | Sodium hyaluronate | G |  | $203.82 |  | $40.76
9221 | Graftjacket Reg Matrix | G |  | $1,234.26 |  | $246.85
9222 | Graftjacket SftTis | G |  | $890.67 |  | $178.13
9300 | Injection, Omalizumab | G |  | $15.98 |  | $3.20
9500 | Platelets, irradiated | K | 1.3527 | $80.28 |  | $16.06
9501 | Platelets, pheresis, leukocytes reduced | K | 8.1126 | $481.48 |  | $96.30
9502 | Platelet pheresis irradiated | K | 5.1660 | $306.60 |  | $61.32
9503 | Fresh frozen plasma, ea unit | K | 1.6167 | $95.95 |  | $19.19
9504 | RBC deglycerolized | K | 6.4022 | $379.97 |  | $75.99
9505 | RBC irradiated | K | 2.3768 | $141.06 |  | $28.21
9506 | Granulocytes, pheresis | K | 15.5448 | $922.58 |  | $184.52
9507 | Platelets, pheresis | K | 6.8676 | $407.59 |  | $81.52
9508 | Plasma, frozen w/in 8 hours | K | 1.1983 | $71.12 |  | $14.22

——————————

*Code is subject to contiguous body area imaging discount policy discussed in Section XIV of this proposed rule.

CPT codes and descriptions only are copyright American Medical Association. All Rights Reserved. Applicable FARS/DFARS Apply.

Copyright American Dental Association. All rights reserved.

Addendum B.—Payment Status by HCPCS Code and Related Information Calendar Year 2006
CPT/HCPCS | SI | CI | Description | APC | Relative weight | Payment rate | National unadjusted copayment | Minimum unadjusted copayment
0003T | S |  | Cervicography | 1492 |  | $15.00 |  | $3.00
0008T | T |  | Upper gi endoscopy w/suture | 0422 | 22.8607 | $1,356.78 | $448.81 | $271.36
00100 | N |  | Anesth, salivary gland |  |  |  |  |
00102 | N |  | Anesth, repair of cleft lip |  |  |  |  |
00103 | N |  | Anesth, blepharoplasty |  |  |  |  |
00104 | N |  | Anesth, electroshock |  |  |  |  |
0010T | A |  | Tb test, gamma interferon |  |  |  |  |
00120 | N |  | Anesth, ear surgery |  |  |  |  |
00124 | N |  | Anesth, ear exam |  |  |  |  |
00126 | N |  | Anesth, tympanotomy |  |  |  |  |
00140 | N |  | Anesth, procedures on eye |  |  |  |  |
00142 | N |  | Anesth, lens surgery |  |  |  |  |
00144 | N |  | Anesth, corneal transplant |  |  |  |  |
00145 | N |  | Anesth, vitreoretinal surg |  |  |  |  |
00147 | N |  | Anesth, iridectomy |  |  |  |  |
00148 | N |  | Anesth, eye exam |  |  |  |  |
00160 | N |  | Anesth, nose/sinus surgery |  |  |  |  |
00162 | N |  | Anesth, nose/sinus surgery |  |  |  |  |
00164 | N |  | Anesth, biopsy of nose |  |  |  |  |
0016T | T |  | Thermotx choroid vasc lesion | 0235 | 4.6382 | $275.28 | $67.10 | $55.06
00170 | N |  | Anesth, procedure on mouth |  |  |  |  |
00172 | N |  | Anesth, cleft palate repair |  |  |  |  |
00174 | N |  | Anesth, pharyngeal surgery |  |  |  |  |
00176 | C |  | Anesth, pharyngeal surgery |  |  |  |  |
0017T | E |  | Photocoagulat macular drusen |  |  |  |  |
0018T | S |  | Transcranial magnetic stimul | 0215 | 0.6087 | $36.13 | $14.45 | $7.23
00190 | N |  | Anesth, face/skull bone surg |  |  |  |  |
00192 | C |  | Anesth, facial bone surgery |  |  |  |  |
0019T | E |  | Extracorp shock wave tx, ms |  |  |  |  |
0020T | B |  | Extracorp shock wave tx, ft |  |  |  |  |
00210 | N |  | Anesth, open head surgery |  |  |  |  |
00212 | N |  | Anesth, skull drainage |  |  |  |  |
00214 | C |  | Anesth, skull drainage |  |  |  |  |
00215 | C |  | Anesth, skull repair/fract |  |  |  |  |
00216 | N |  | Anesth, head vessel surgery |  |  |  |  |
00218 | N |  | Anesth, special head surgery |  |  |  |  |
0021T | C |  | Fetal oximetry, trnsvag/cerv |  |  |  |  |
00220 | N |  | Anesth, intrcrn nerve |  |  |  |  |
00222 | N |  | Anesth, head nerve surgery |  |  |  |  |
0023T | A |  | Phenotype drug test, hiv 1 |  |  |  |  |
0024T | C |  | Transcath cardiac reduction |  |  |  |  |
0026T | A |  | Measure remnant lipoproteins |  |  |  |  |
0027T | T |  | Endoscopic epidural lysis | 0220 | 17.2800 | $1,025.57 |  | $205.11
0028T | N |  | Dexa body composition study |  |  |  |  |
0029T | A |  | Magnetic tx for incontinence |  |  |  |  |
00300 | N |  | Anesth, head/neck/ptrunk |  |  |  |  |
0030T | A |  | Antiprothrombin antibody |  |  |  |  |
0031T | N |  | Speculoscopy |  |  |  |  |
00320 | N |  | Anesth, neck organ, 1 & over |  |  |  |  |
00322 | N |  | Anesth, biopsy of thyroid |  |  |  |  |
00326 | N |  | Anesth, larynx/trach, < 1 yr |  |  |  |  |
0032T | N |  | Speculoscopy w/direct sample |  |  |  |  |
0033T | C |  | Endovasc taa repr incl subcl |  |  |  |  |
0034T | C |  | Endovasc taa repr w/o subcl |  |  |  |  |
00350 | N |  | Anesth, neck vessel surgery |  |  |  |  |
00352 | N |  | Anesth, neck vessel surgery |  |  |  |  |
0035T | C |  | Insert endovasc prosth, taa |  |  |  |  |
0036T | C |  | Endovasc prosth, taa, add-on |  |  |  |  |
0037T | C |  | Artery transpose/endovas taa |  |  |  |  |
0038T | C |  | Rad endovasc taa rpr w/cover |  |  |  |  |
0039T | C |  | Rad s/i, endovasc taa repair |  |  |  |  |
00400 | N |  | Anesth, skin, ext/per/atrunk |  |  |  |  |
00402 | N |  | Anesth, surgery of breast |  |  |  |  |
00404 | C |  | Anesth, surgery of breast |  |  |  |  |
00406 | C |  | Anesth, surgery of breast |  |  |  |  |
0040T | C |  | Rad s/i, endovasc taa prosth |  |  |  |  |
00410 | N |  | Anesth, correct heart rhythm |  |  |  |  |
0041T | A |  | Detect ur infect agnt w/cpas |  |  |  |  |
0042T | N |  | Ct perfusion w/contrast, cbf |  |  |  |  |
0043T | A |  | Co expired gas analysis |  |  |  |  |
0044T | N |  | Whole body photography |  |  |  |  |
00450 | N |  | Anesth, surgery of shoulder |  |  |  |  |
00452 | C |  | Anesth, surgery of shoulder |  |  |  |  |
00454 | N |  | Anesth, collar bone biopsy |  |  |  |  |
0045T | N |  | Whole body photography |  |  |  |  |
0046T | T |  | Cath lavage, mammary duct(s) | 0021 | 14.9098 | $884.90 | $219.48 | $176.98
00470 | N |  | Anesth, removal of rib |  |  |  |  |
00472 | N |  | Anesth, chest wall repair |  |  |  |  |
00474 | C |  | Anesth, surgery of rib(s) |  |  |  |  |
0047T | T |  | Cath lavage, mammary duct(s) | 0021 | 14.9098 | $884.90 | $219.48 | $176.98
0048T | C |  | Implant ventricular device |  |  |  |  |
0049T | C |  | External circulation assist |  |  |  |  |
00500 | N |  | Anesth, esophageal surgery |  |  |  |  |
0050T | C |  | Removal circulation assist |  |  |  |  |
0051T | C |  | Implant total heart system |  |  |  |  |
00520 | N |  | Anesth, chest procedure |  |  |  |  |
00522 | N |  | Anesth, chest lining biopsy |  |  |  |  |
00524 | C |  | Anesth, chest drainage |  |  |  |  |
00528 | N |  | Anesth, chest partition view |  |  |  |  |
00529 | N |  | Anesth, chest partition view |  |  |  |  |
0052T | C |  | Replace component heart syst |  |  |  |  |
00530 | N |  | Anesth, pacemaker insertion |  |  |  |  |
00532 | N |  | Anesth, vascular access |  |  |  |  |
00534 | N |  | Anesth, cardioverter/defib |  |  |  |  |
00537 | N |  | Anesth, cardiac electrophys |  |  |  |  |
00539 | N |  | Anesth, trach-bronch reconst |  |  |  |  |
0053T | C |  | Replace component heart syst |  |  |  |  |
00540 | C |  | Anesth, chest surgery |  |  |  |  |
00541 | N |  | Anesth, one lung ventilation |  |  |  |  |
00542 | C |  | Anesth, release of lung |  |  |  |  |
00546 | C |  | Anesth, lung,chest wall surg |  |  |  |  |
00548 | N |  | Anesth, trachea,bronchi surg |  |  |  |  |
0054T | B |  | Bone surgery using computer |  |  |  |  |
00550 | N |  | Anesth, sternal debridement |  |  |  |  |
0055T | B |  | Bone surgery using computer |  |  |  |  |
00560 | C |  | Anesth, open heart surgery |  |  |  |  |
00561 | C |  | Anesth, heart surg < age 1 |  |  |  |  |
00562 | C |  | Anesth, open heart surgery |  |  |  |  |
00563 | N |  | Anesth, heart proc w/pump |  |  |  |  |
00566 | N |  | Anesth, cabg w/o pump |  |  |  |  |
0056T | B |  | Bone surgery using computer |  |  |  |  |
00580 | C |  | Anesth, heart/lung transplnt |  |  |  |  |
0058T | X |  | Cryopreservation, ovary tiss | 0348 | 0.7891 | $46.83 |  | $9.37
0059T | X |  | Cryopreservation, oocyte | 0348 | 0.7891 | $46.83 |  | $9.37
00600 | N |  | Anesth, spine, cord surgery |  |  |  |  |
00604 | C |  | Anesth, sitting procedure |  |  |  |  |
0060T | B |  | Electrical impedance scan |  |  |  |  |
0061T | B |  | Destruction of tumor, breast |  |  |  |  |
00620 | N |  | Anesth, spine, cord surgery |  |  |  |  |
00622 | C |  | Anesth, removal of nerves |  |  |  |  |
0062T | T |  | Rep intradisc annulus1 lev | 0203 | 10.3544 | $614.53 | $245.81 | $122.91
00630 | N |  | Anesth, spine, cord surgery |  |  |  |  |
00632 | C |  | Anesth, removal of nerves |  |  |  |  |
00634 | N |  | Anesth for chemonucleolysis |  |  |  |  |
00635 | N |  | Anesth, lumbar puncture |  |  |  |  |
0063T | T |  | Rep intradisc annulus>1lev | 0203 | 10.3544 | $614.53 | $245.81 | $122.91
00640 | N |  | Anesth, spine manipulation |  |  |  |  |
0064T | A |  | Spectroscop eval expired gas |  |  |  |  |
0065T | A |  | Ocular photoscreen bilat |  |  |  |  |
0066T | E |  | Ct colonography screen |  |  |  |  |
00670 | C |  | Anesth, spine, cord surgery |  |  |  |  |
0067T* | S |  | Ct colonography dx | 0333 | 5.2596 | $312.16 | $124.86 | $62.43
0068T | B |  | Interp/rept heart sound |  |  |  |  |
0069T | N |  | Analysis only heart sound |  |  |  |  |
00700 | N |  | Anesth, abdominal wall surg |  |  |  |  |
00702 | N |  | Anesth, for liver biopsy |  |  |  |  |
0070T | N |  | Interp only heart sound |  |  |  |  |
0071T | T |  | U/s leiomyomata ablate <200 | 0193 | 14.5183 | $861.66 |  | $172.33
0072T | T |  | U/s leiomyomata ablate >200 | 0193 | 14.5183 | $861.66 |  | $172.33
00730 | N |  | Anesth, abdominal wall surg |  |  |  |  |
0073T | S |  | Delivery, comp imrt | 0412 | 5.3400 | $316.93 |  | $63.39
00740 | N |  | Anesth, upper gi visualize |  |  |  |  |
0074T | E |  | Online physician e/m |  |  |  |  |
00750 | N |  | Anesth, repair of hernia |  |  |  |  |
00752 | N |  | Anesth, repair of hernia |  |  |  |  |
00754 | N |  | Anesth, repair of hernia |  |  |  |  |
00756 | N |  | Anesth, repair of hernia |  |  |  |  |
0075T | C |  | Perq stent/chest vert art |  |  |  |  |
0076T | C |  | S&i stent/chest vert art |  |  |  |  |
00770 | N |  | Anesth, blood vessel repair |  |  |  |  |
0077T | C |  | Cereb therm perfusion probe |  |  |  |  |
0078T | C |  | Endovasc aort repr w/device |  |  |  |  |
00790 | N |  | Anesth, surg upper abdomen |  |  |  |  |
00792 | C |  | Anesth, hemorr/excise liver |  |  |  |  |
00794 | C |  | Anesth, pancreas removal |  |  |  |  |
00796 | C |  | Anesth, for liver transplant |  |  |  |  |
00797 | N |  | Anesth, surgery for obesity |  |  |  |  |
0079T | C |  | Endovasc visc extnsn repr |  |  |  |  |
00800 | N |  | Anesth, abdominal wall surg |  |  |  |  |
00802 | C |  | Anesth, fat layer removal |  |  |  |  |
0080T | C |  | Endovasc aort repr rad s&i |  |  |  |  |
00810 | N |  | Anesth, low intestine scope |  |  |  |  |
0081T | C |  | Endovasc visc extnsn s&i |  |  |  |  |
00820 | N |  | Anesth, abdominal wall surg |  |  |  |  |
0082T | B |  | Stereotactic rad delivery |  |  |  |  |
00830 | N |  | Anesth, repair of hernia |  |  |  |  |
00832 | N |  | Anesth, repair of hernia |  |  |  |  |
00834 | N |  | Anesth, hernia repair < 1 yr |  |  |  |  |
00836 | N |  | Anesth hernia repair preemie |  |  |  |  |
0083T | N |  | Stereotactic rad tx mngmt |  |  |  |  |
00840 | N |  | Anesth, surg lower abdomen |  |  |  |  |
00842 | N |  | Anesth, amniocentesis |  |  |  |  |
00844 | C |  | Anesth, pelvis surgery |  |  |  |  |
00846 | C |  | Anesth, hysterectomy |  |  |  |  |
00848 | C |  | Anesth, pelvic organ surg |  |  |  |  |
0084T | T |  | Temp prostate urethral stent | 0164 | 1.1802 | $70.04 | $17.21 | $14.01
00851 | N |  | Anesth, tubal ligation |  |  |  |  |
0085T | X |  | Breath test heart reject | 0340 | 0.6355 | $37.72 |  | $7.54
00860 | N |  | Anesth, surgery of abdomen |  |  |  |  |
00862 | N |  | Anesth, kidney/ureter surg |  |  |  |  |
00864 | C |  | Anesth, removal of bladder |  |  |  |  |
00865 | C |  | Anesth, removal of prostate |  |  |  |  |
00866 | C |  | Anesth, removal of adrenal |  |  |  |  |
00868 | C |  | Anesth, kidney transplant |  |  |  |  |
0086T | N |  | L ventricle fill pressure |  |  |  |  |
00870 | N |  | Anesth, bladder stone surg |  |  |  |  |
00872 | N |  | Anesth kidney stone destruct |  |  |  |  |
00873 | N |  | Anesth kidney stone destruct |  |  |  |  |
0087T | X |  | Sperm eval hyaluronan | 0348 | 0.7891 | $46.83 |  | $9.37
00880 | N |  | Anesth, abdomen vessel surg |  |  |  |  |
00882 | C |  | Anesth, major vein ligation |  |  |  |  |
0088T | T |  | Rf tongue base vol reduxn | 0253 | 16.0627 | $953.32 | $282.29 | $190.66
00902 | N |  | Anesth, anorectal surgery |  |  |  |  |
00904 | C |  | Anesth, perineal surgery |  |  |  |  |
00906 | N |  | Anesth, removal of vulva |  |  |  |  |
00908 | C |  | Anesth, removal of prostate |  |  |  |  |
00910 | N |  | Anesth, bladder surgery |  |  |  |  |
00912 | N |  | Anesth, bladder tumor surg |  |  |  |  |
00914 | N |  | Anesth, removal of prostate |  |  |  |  |
00916 | N |  | Anesth, bleeding control |  |  |  |  |
00918 | N |  | Anesth, stone removal |  |  |  |  |
00920 | N |  | Anesth, genitalia surgery |  |  |  |  |
00921 | N |  | Anesth, vasectomy |  |  |  |  |
00922 | N |  | Anesth, sperm duct surgery |  |  |  |  |
00924 | N |  | Anesth, testis exploration |  |  |  |  |
00926 | N |  | Anesth, removal of testis |  |  |  |  |
00928 | N |  | Anesth, removal of testis |  |  |  |  |
00930 | N |  | Anesth, testis suspension |  |  |  |  |
00932 | C |  | Anesth, amputation of penis |  |  |  |  |
00934 | C |  | Anesth, penis, nodes removal |  |  |  |  |
00936 | C |  | Anesth, penis, nodes removal |  |  |  |  |
00938 | N |  | Anesth, insert penis device |  |  |  |  |
00940 | N |  | Anesth, vaginal procedures |  |  |  |  |
00942 | N |  | Anesth, surg on vag/urethral |  |  |  |  |
00944 | C |  | Anesth, vaginal hysterectomy |  |  |  |  |
00948 | N |  | Anesth, repair of cervix |  |  |  |  |
00950 | N |  | Anesth, vaginal endoscopy |  |  |  |  |
00952 | N |  | Anesth, hysteroscope/graph |  |  |  |  |
01112 | N |  | Anesth, bone aspirate/bx |  |  |  |  |
01120 | N |  | Anesth, pelvis surgery |  |  |  |  |
01130 | N |  | Anesth, body cast procedure |  |  |  |  |
01140 | C |  | Anesth, amputation at pelvis |  |  |  |  |
01150 | C |  | Anesth, pelvic tumor surgery |  |  |  |  |
01160 | N |  | Anesth, pelvis procedure |  |  |  |  |
01170 | N |  | Anesth, pelvis surgery |  |  |  |  |
01173 | N |  | Anesth, fx repair, pelvis |  |  |  |  |
01180 | N |  | Anesth, pelvis nerve removal |  |  |  |  |
01190 | N |  | Anesth, pelvis nerve removal |  |  |  |  |
01200 | N |  | Anesth, hip joint procedure |  |  |  |  |
01202 | N |  | Anesth, arthroscopy of hip |  |  |  |  |
01210 | N |  | Anesth, hip joint surgery |  |  |  |  |
01212 | C |  | Anesth, hip disarticulation |  |  |  |  |
01214 | C |  | Anesth, hip arthroplasty |  |  |  |  |
01215 | N |  | Anesth, revise hip repair |  |  |  |  |
01220 | N |  | Anesth, procedure on femur |  |  |  |  |
01230 | N |  | Anesth, surgery of femur |  |  |  |  |
01232 | C |  | Anesth, amputation of femur |  |  |  |  |
01234 | C |  | Anesth, radical femur surg |  |  |  |  |
01250 | N |  | Anesth, upper leg surgery |  |  |  |  |
01260 | N |  | Anesth, upper leg veins surg |  |  |  |  |
01270 | N |  | Anesth, thigh arteries surg |  |  |  |  |
01272 | C |  | Anesth, femoral artery surg |  |  |  |  |
01274 | C |  | Anesth, femoral embolectomy |  |  |  |  |
01320 | N |  | Anesth, knee area surgery |  |  |  |  |
01340 | N |  | Anesth, knee area procedure |  |  |  |  |
01360 | N |  | Anesth, knee area surgery |  |  |  |  |
01380 | N |  | Anesth, knee joint procedure |  |  |  |  |
01382 | N |  | Anesth, dx knee arthroscopy |  |  |  |  |
01390 | N |  | Anesth, knee area procedure |  |  |  |  |
01392 | N |  | Anesth, knee area surgery |  |  |  |  |
01400 | N |  | Anesth, knee joint surgery |  |  |  |  |
01402 | C |  | Anesth, knee arthroplasty |  |  |  |  |
01404 | C |  | Anesth, amputation at knee |  |  |  |  |
01420 | N |  | Anesth, knee joint casting |  |  |  |  |
01430 | N |  | Anesth, knee veins surgery |  |  |  |  |
01432 | N |  | Anesth, knee vessel surg |  |  |  |  |
01440 | N |  | Anesth, knee arteries surg |  |  |  |  |
01442 | C |  | Anesth, knee artery surg |  |  |  |  |
01444 | C |  | Anesth, knee artery repair |  |  |  |  |
01462 | N |  | Anesth, lower leg procedure |  |  |  |  |
01464 | N |  | Anesth, ankle/ft arthroscopy |  |  |  |  |
01470 | N |  | Anesth, lower leg surgery |  |  |  |  |
01472 | N |  | Anesth, achilles tendon surg |  |  |  |  |
01474 | N |  | Anesth, lower leg surgery |  |  |  |  |
01480 | N |  | Anesth, lower leg bone surg |  |  |  |  |
01482 | N |  | Anesth, radical leg surgery |  |  |  |  |
01484 | N |  | Anesth, lower leg revision |  |  |  |  |
01486 | C |  | Anesth, ankle replacement |  |  |  |  |
01490 | N |  | Anesth, lower leg casting |  |  |  |  |
01500 | N |  | Anesth, leg arteries surg |  |  |  |  |
01502 | C |  | Anesth, lwr leg embolectomy |  |  |  |  |
01520 | N |  | Anesth, lower leg vein surg |  |  |  |  |
01522 | N |  | Anesth, lower leg vein surg |  |  |  |  |
01610 | N |  | Anesth, surgery of shoulder |  |  |  |  |
01620 | N |  | Anesth, shoulder procedure |  |  |  |  |
01622 | N |  | Anes dx shoulder arthroscopy |  |  |  |  |
01630 | N |  | Anesth, surgery of shoulder |  |  |  |  |
01632 | C |  | Anesth, surgery of shoulder |  |  |  |  |
01634 | C |  | Anesth, shoulder joint amput |  |  |  |  |
01636 | C |  | Anesth, forequarter amput |  |  |  |  |
01638 | C |  | Anesth, shoulder replacement |  |  |  |  |
01650 | N |  | Anesth, shoulder artery surg |  |  |  |  |
01652 | C |  | Anesth, shoulder vessel surg |  |  |  |  |
01654 | C |  | Anesth, shoulder vessel surg |  |  |  |  |
01656 | C |  | Anesth, arm-leg vessel surg |  |  |  |  |
01670 | N |  | Anesth, shoulder vein surg |  |  |  |  |
01680 | N |  | Anesth, shoulder casting |  |  |  |  |
01682 | N |  | Anesth, airplane cast |  |  |  |  |
01710 | N |  | Anesth, elbow area surgery |  |  |  |  |
01712 | N |  | Anesth, uppr arm tendon surg |  |  |  |  |
01714 | N |  | Anesth, uppr arm tendon surg |  |  |  |  |
01716 | N |  | Anesth, biceps tendon repair |  |  |  |  |
01730 | N |  | Anesth, uppr arm procedure |  |  |  |  |
01732 | N |  | Anesth, dx elbow arthroscopy |  |  |  |  |
01740 | N |  | Anesth, upper arm surgery |  |  |  |  |
01742 | N |  | Anesth, humerus surgery |  |  |  |  |
01744 | N |  | Anesth, humerus repair |  |  |  |  |
01756 | C |  | Anesth, radical humerus surg |  |  |  |  |
01758 | N |  | Anesth, humeral lesion surg |  |  |  |  |
01760 | N |  | Anesth, elbow replacement |  |  |  |  |
01770 | N |  | Anesth, uppr arm artery surg |  |  |  |  |
01772 | N |  | Anesth, uppr arm embolectomy |  |  |  |  |
01780 | N |  | Anesth, upper arm vein surg |  |  |  |  |
01782 | N |  | Anesth, uppr arm vein repair |  |  |  |  |
01810 | N |  | Anesth, lower arm surgery |  |  |  |  |
01820 | N |  | Anesth, lower arm procedure |  |  |  |  |
01829 | N |  | Anesth, dx wrist arthroscopy |  |  |  |  |
01830 | N |  | Anesth, lower arm surgery |  |  |  |  |
01832 | N |  | Anesth, wrist replacement |  |  |  |  |
01840 | N |  | Anesth, lwr arm artery surg |  |  |  |  |
01842 | N |  | Anesth, lwr arm embolectomy |  |  |  |  |
01844 | N |  | Anesth, vascular shunt surg |  |  |  |  |
01850 | N |  | Anesth, lower arm vein surg |  |  |  |  |
01852 | N |  | Anesth, lwr arm vein repair |  |  |  |  |
01860 | N |  | Anesth, lower arm casting |  |  |  |  |
01905 | N |  | Anes, spine inject, x-ray/re |  |  |  |  |
01916 | N |  | Anesth, dx arteriography |  |  |  |  |
01920 | N |  | Anesth, catheterize heart |  |  |  |  |
01922 | N |  | Anesth, cat or MRI scan |  |  |  |  |
01924 | N |  | Anes, ther interven rad, art |  |  |  |  |
01925 | N |  | Anes, ther interven rad, car |  |  |  |  |
01926 | N |  | Anes, tx interv rad hrt/cran |  |  |  |  |
01930 | N |  | Anes, ther interven rad, vei |  |  |  |  |
01931 | N |  | Anes, ther interven rad, tip |  |  |  |  |
01932 | N |  | Anes, tx interv rad, th vein |  |  |  |  |
01933 | N |  | Anes, tx interv rad, cran v |  |  |  |  |
01951 | N |  | Anesth, burn, less 4 percent |  |  |  |  |
01952 | N |  | Anesth, burn, 4-9 percent |  |  |  |  |
01953 | N |  | Anesth, burn, each 9 percent |  |  |  |  |
01958 | N |  | Anesth, antepartum manipul |  |  |  |  |
01960 | N |  | Anesth, vaginal delivery |  |  |  |  |
01961 | N |  | Anesth, cs delivery |  |  |  |  |
01962 | N |  | Anesth, emer hysterectomy |  |  |  |  |
01963 | N |  | Anesth, cs hysterectomy |  |  |  |  |
01964 | N |  | Anesth, abortion procedures |  |  |  |  |
01967 | N |  | Anesth/analg, vag delivery |  |  |  |  |
01968 | N |  | Anes/analg cs deliver add-on |  |  |  |  |
01969 | N |  | Anesth/analg cs hyst add-on |  |  |  |  |
01990 | C |  | Support for organ donor |  |  |  |  |
01991 | N |  | Anesth, nerve block/inj |  |  |  |  |
01992 | N |  | Anesth, n block/inj, prone |  |  |  |  |
01995 | N |  | Regional anesthesia limb |  |  |  |  |
01996 | N |  | Hosp manage cont drug admin |  |  |  |  |
01999 | N |  | Unlisted anesth procedure |  |  |  |  |
0500F | E |  | Initial prenatal care visit |  |  |  |  |
0501F | E |  | Prenatal flow sheet |  |  |  |  |
0502F | E |  | Subsequent prenatal care |  |  |  |  |
0503F | E |  | Postpartum care visit |  |  |  |  |
1000F | E |  | Tobacco use, smoking, assess |  |  |  |  |
1001F | E |  | Tobacco use, non-smoking |  |  |  |  |
10021 | T |  | Fna w/o image | 0002 | 0.9515 | $56.47 |  | $11.29
10022 | T |  | Fna w/image | 0036 | 2.1675 | $128.64 |  | $25.73
1002F | E |  | Assess anginal symptom/level |  |  |  |  |
10040 | T |  | Acne surgery | 0010 | 0.5693 | $33.79 | $9.63 | $6.76
10060 | T |  | Drainage of skin abscess | 0006 | 1.5430 | $91.58 | $22.18 | $18.32
10061 | T |  | Drainage of skin abscess | 0006 | 1.5430 | $91.58 | $22.18 | $18.32
10080 | T |  | Drainage of pilonidal cyst | 0006 | 1.5430 | $91.58 | $22.18 | $18.32
10081 | T |  | Drainage of pilonidal cyst | 0007 | 11.3983 | $676.49 |  | $135.30
10120 | T |  | Remove foreign body | 0006 | 1.5430 | $91.58 | $22.18 | $18.32
10121 | T |  | Remove foreign body | 0021 | 14.9098 | $884.90 | $219.48 | $176.98
10140 | T |  | Drainage of hematoma/fluid | 0007 | 11.3983 | $676.49 |  | $135.30
10160 | T |  | Puncture drainage of lesion | 0018 | 1.1673 | $69.28 | $16.04 | $13.86
10180 | T |  | Complex drainage, wound | 0008 | 16.4242 | $974.78 |  | $194.96
11000 | T |  | Debride infected skin | 0015 | 1.6439 | $97.57 | $20.20 | $19.51
11001 | T |  | Debride infected skin add-on | 0012 | 0.8458 | $50.20 | $11.18 | $10.04
11004 | C |  | Debride genitalia & perineum |  |  |  |  |
11005 | C |  | Debride abdom wall |  |  |  |  |
11006 | C |  | Debride genit/per/abdom wall |  |  |  |  |
11008 | C |  | Remove mesh from abd wall |  |  |  |  |
11010 | T |  | Debride skin, fx | 0019 | 4.0363 | $239.55 | $71.87 | $47.91
11011 | T |  | Debride skin/muscle, fx | 0019 | 4.0363 | $239.55 | $71.87 | $47.91
11012 | T |  | Debride skin/muscle/bone, fx | 0019 | 4.0363 | $239.55 | $71.87 | $47.91
11040 | T |  | Debride skin, partial | 0015 | 1.6439 | $97.57 | $20.20 | $19.51
11041 | T |  | Debride skin, full | 0015 | 1.6439 | $97.57 | $20.20 | $19.51
11042 | T |  | Debride skin/tissue | 0016 | 2.5717 | $152.63 | $33.42 | $30.53
11043 | T |  | Debride tissue/muscle | 0016 | 2.5717 | $152.63 | $33.42 | $30.53
11044 | T |  | Debride tissue/muscle/bone | 0682 | 6.8794 | $408.29 | $161.70 | $81.66
11055 | T |  | Trim skin lesion | 0012 | 0.8458 | $50.20 | $11.18 | $10.04
11056 | T |  | Trim skin lesions, 2 to 4 | 0012 | 0.8458 | $50.20 | $11.18 | $10.04
11057 | T |  | Trim skin lesions, over 4 | 0013 | 1.1028 | $65.45 | $14.20 | $13.09
11100 | T |  | Biopsy, skin lesion | 0018 | 1.1673 | $69.28 | $16.04 | $13.86
11101 | T |  | Biopsy, skin add-on | 0018 | 1.1673 | $69.28 | $16.04 | $13.86
11200 | T |  | Removal of skin tags | 0013 | 1.1028 | $65.45 | $14.20 | $13.09
11201 | T |  | Remove skin tags add-on | 0015 | 1.6439 | $97.57 | $20.20 | $19.51
11300 | T |  | Shave skin lesion | 0012 | 0.8458 | $50.20 | $11.18 | $10.04
11301 | T |  | Shave skin lesion | 0012 | 0.8458 | $50.20 | $11.18 | $10.04
11302 | T |  | Shave skin lesion | 0013 | 1.1028 | $65.45 | $14.20 | $13.09
11303 | T |  | Shave skin lesion | 0015 | 1.6439 | $97.57 | $20.20 | $19.51
11305 | T |  | Shave skin lesion | 0013 | 1.1028 | $65.45 | $14.20 | $13.09
11306 | T |  | Shave skin lesion | 0013 | 1.1028 | $65.45 | $14.20 | $13.09
11307 | T |  | Shave skin lesion | 0013 | 1.1028 | $65.45 | $14.20 | $13.09
11308 | T |  | Shave skin lesion | 0013 | 1.1028 | $65.45 | $14.20 | $13.09
11310 | T |  | Shave skin lesion | 0013 | 1.1028 | $65.45 | $14.20 | $13.09
11311 | T |  | Shave skin lesion | 0013 | 1.1028 | $65.45 | $14.20 | $13.09
11312 | T |  | Shave skin lesion | 0013 | 1.1028 | $65.45 | $14.20 | $13.09
11313 | T |  | Shave skin lesion | 0016 | 2.5717 | $152.63 | $33.42 | $30.53
11400 | T |  | Removal of skin lesion | 0019 | 4.0363 | $239.55 | $71.87 | $47.91
11401 | T |  | Removal of skin lesion | 0019 | 4.0363 | $239.55 | $71.87 | $47.91
11402 | T |  | Removal of skin lesion | 0019 | 4.0363 | $239.55 | $71.87 | $47.91
11403 | T |  | Removal of skin lesion | 0020 | 6.9118 | $410.22 | $106.93 | $82.04
11404 | T |  | Removal of skin lesion | 0021 | 14.9098 | $884.90 | $219.48 | $176.98
11406 | T |  | Removal of skin lesion | 0021 | 14.9098 | $884.90 | $219.48 | $176.98
11420 | T |  | Removal of skin lesion | 0020 | 6.9118 | $410.22 | $106.93 | $82.04
11421 | T |  | Removal of skin lesion | 0020 | 6.9118 | $410.22 | $106.93 | $82.04
11422 | T |  | Removal of skin lesion | 0020 | 6.9118 | $410.22 | $106.93 | $82.04
11423 | T |  | Removal of skin lesion | 0021 | 14.9098 | $884.90 | $219.48 | $176.98
11424 | T |  | Removal of skin lesion | 0021 | 14.9098 | $884.90 | $219.48 | $176.98
11426 | T |  | Removal of skin lesion | 0022 | 19.5582 | $1,160.78 | $354.45 | $232.16
11440 | T |  | Removal of skin lesion | 0019 | 4.0363 | $239.55 | $71.87 | $47.91
11441 | T |  | Removal of skin lesion | 0019 | 4.0363 | $239.55 | $71.87 | $47.91
11442 | T |  | Removal of skin lesion | 0020 | 6.9118 | $410.22 | $106.93 | $82.04
11443 | T |  | Removal of skin lesion | 0020 | 6.9118 | $410.22 | $106.93 | $82.04
11444 | T |  | Removal of skin lesion | 0020 | 6.9118 | $410.22 | $106.93 | $82.04
11446 | T |  | Removal of skin lesion | 0022 | 19.5582 | $1,160.78 | $354.45 | $232.16
11450 | T |  | Removal, sweat gland lesion | 0022 | 19.5582 | $1,160.78 | $354.45 | $232.16
11451 | T |  | Removal, sweat gland lesion | 0022 | 19.5582 | $1,160.78 | $354.45 | $232.16
11462 | T |  | Removal, sweat gland lesion | 0022 | 19.5582 | $1,160.78 | $354.45 | $232.16
11463 | T |  | Removal, sweat gland lesion | 0022 | 19.5582 | $1,160.78 | $354.45 | $232.16
11470 | T |  | Removal, sweat gland lesion | 0022 | 19.5582 | $1,160.78 | $354.45 | $232.16
11471 | T |  | Removal, sweat gland lesion | 0022 | 19.5582 | $1,160.78 | $354.45 | $232.16
11600 | T |  | Removal of skin lesion | 0019 | 4.0363 | $239.55 | $71.87 | $47.91
11601 | T |  | Removal of skin lesion | 0019 | 4.0363 | $239.55 | $71.87 | $47.91
11602 | T |  | Removal of skin lesion | 0019 | 4.0363 | $239.55 | $71.87 | $47.91
11603 | T |  | Removal of skin lesion | 0020 | 6.9118 | $410.22 | $106.93 | $82.04
11604 | T |  | Removal of skin lesion | 0020 | 6.9118 | $410.22 | $106.93 | $82.04
11606 | T |  | Removal of skin lesion | 0021 | 14.9098 | $884.90 | $219.48 | $176.98
11620 | T |  | Removal of skin lesion | 0020 | 6.9118 | $410.22 | $106.93 | $82.04
11621 | T |  | Removal of skin lesion | 0019 | 4.0363 | $239.55 | $71.87 | $47.91
11622 | T |  | Removal of skin lesion | 0020 | 6.9118 | $410.22 | $106.93 | $82.04
11623 | T |  | Removal of skin lesion | 0021 | 14.9098 | $884.90 | $219.48 | $176.98
11624 | T |  | Removal of skin lesion | 0021 | 14.9098 | $884.90 | $219.48 | $176.98
11626 | T |  | Removal of skin lesion | 0022 | 19.5582 | $1,160.78 | $354.45 | $232.16
11640 | T |  | Removal of skin lesion | 0020 | 6.9118 | $410.22 | $106.93 | $82.04
11641 | T |  | Removal of skin lesion | 0020 | 6.9118 | $410.22 | $106.93 | $82.04
11642 | T |  | Removal of skin lesion | 0020 | 6.9118 | $410.22 | $106.93 | $82.04
11643 | T |  | Removal of skin lesion | 0020 | 6.9118 | $410.22 | $106.93 | $82.04
11644 | T |  | Removal of skin lesion | 0021 | 14.9098 | $884.90 | $219.48 | $176.98
11646 | T |  | Removal of skin lesion | 0022 | 19.5582 | $1,160.78 | $354.45 | $232.16
11719 | T |  | Trim nail(s) | 0009 | 0.6650 | $39.47 | $8.34 | $7.89
11720 | T |  | Debride nail, 1-5 | 0009 | 0.6650 | $39.47 | $8.34 | $7.89
11721 | T |  | Debride nail, 6 or more | 0009 | 0.6650 | $39.47 | $8.34 | $7.89
11730 | T |  | Removal of nail plate | 0013 | 1.1028 | $65.45 | $14.20 | $13.09
11732 | T |  | Remove nail plate, add-on | 0012 | 0.8458 | $50.20 | $11.18 | $10.04
11740 | T |  | Drain blood from under nail | 0009 | 0.6650 | $39.47 | $8.34 | $7.89
11750 | T |  | Removal of nail bed | 0019 | 4.0363 | $239.55 | $71.87 | $47.91
11752 | T |  | Remove nail bed/finger tip | 0022 | 19.5582 | $1,160.78 | $354.45 | $232.16
11755 | T |  | Biopsy, nail unit | 0019 | 4.0363 | $239.55 | $71.87 | $47.91
11760 | T |  | Repair of nail bed | 0024 | 1.6011 | $95.03 | $31.11 | $19.01
11762 | T |  | Reconstruction of nail bed | 0024 | 1.6011 | $95.03 | $31.11 | $19.01
11765 | T |  | Excision of nail fold, toe | 0015 | 1.6439 | $97.57 | $20.20 | $19.51
11770 | T |  | Removal of pilonidal lesion | 0022 | 19.5582 | $1,160.78 | $354.45 | $232.16
11771 | T |  | Removal of pilonidal lesion | 0022 | 19.5582 | $1,160.78 | $354.45 | $232.16
11772 | T |  | Removal of pilonidal lesion | 0022 | 19.5582 | $1,160.78 | $354.45 | $232.16
11900 | T |  | Injection into skin lesions | 0012 | 0.8458 | $50.20 | $11.18 | $10.04
11901 | T |  | Added skin lesions injection | 0012 | 0.8458 | $50.20 | $11.18 | $10.04
11920 | T |  | Correct skin color defects | 0024 | 1.6011 | $95.03 | $31.11 | $19.01
11921 | T |  | Correct skin color defects | 0024 | 1.6011 | $95.03 | $31.11 | $19.01
11922 | T |  | Correct skin color defects | 0024 | 1.6011 | $95.03 | $31.11 | $19.01
11950 | T |  | Therapy for contour defects | 0024 | 1.6011 | $95.03 | $31.11 | $19.01
11951 | T |  | Therapy for contour defects | 0024 | 1.6011 | $95.03 | $31.11 | $19.01
11952 | T |  | Therapy for contour defects | 0024 | 1.6011 | $95.03 | $31.11 | $19.01
11954 | T |  | Therapy for contour defects | 0024 | 1.6011 | $95.03 | $31.11 | $19.01
11960 | T |  | Insert tissue expander(s) | 0027 | 18.3348 | $1,088.17 | $329.72 | $217.63
11970 | T |  | Replace tissue expander | 0027 | 18.3348 | $1,088.17 | $329.72 | $217.63
11971 | T |  | Remove tissue expander(s) | 0022 | 19.5582 | $1,160.78 | $354.45 | $232.16
11975 | E |  | Insert contraceptive cap |  |  |  |  |
11976 | T |  | Removal of contraceptive cap | 0019 | 4.0363 | $239.55 | $71.87 | $47.91
11977 | E |  | Removal/reinsert contra cap |  |  |  |  |
11980 | X |  | Implant hormone pellet(s) | 0340 | 0.6355 | $37.72 |  | $7.54
11981 | X |  | Insert drug implant device | 0340 | 0.6355 | $37.72 |  | $7.54
11982 | X |  | Remove drug implant device | 0340 | 0.6355 | $37.72 |  | $7.54
11983 | X |  | Remove/insert drug implant | 0340 | 0.6355 | $37.72 |  | $7.54
12001 | T |  | Repair superficial wound(s) | 0024 | 1.6011 | $95.03 | $31.11 | $19.01
12002 | T |  | Repair superficial wound(s) | 0024 | 1.6011 | $95.03 | $31.11 | $19.01
12004 | T |  | Repair superficial wound(s) | 0024 | 1.6011 | $95.03 | $31.11 | $19.01
12005 | T |  | Repair superficial wound(s) | 0024 | 1.6011 | $95.03 | $31.11 | $19.01
12006 | T |  | Repair superficial wound(s) | 0024 | 1.6011 | $95.03 | $31.11 | $19.01
12007 | T |  | Repair superficial wound(s) | 0024 | 1.6011 | $95.03 | $31.11 | $19.01
12011 | T |  | Repair superficial wound(s) | 0024 | 1.6011 | $95.03 | $31.11 | $19.01
12013 | T |  | Repair superficial wound(s) | 0024 | 1.6011 | $95.03 | $31.11 | $19.01
12014 | T |  | Repair superficial wound(s) | 0024 | 1.6011 | $95.03 | $31.11 | $19.01
12015 | T |  | Repair superficial wound(s) | 0024 | 1.6011 | $95.03 | $31.11 | $19.01
12016 | T |  | Repair superficial wound(s) | 0024 | 1.6011 | $95.03 | $31.11 | $19.01
12017 | T |  | Repair superficial wound(s) | 0024 | 1.6011 | $95.03 | $31.11 | $19.01
12018 | T |  | Repair superficial wound(s) | 0024 | 1.6011 | $95.03 | $31.11 | $19.01
12020 | T |  | Closure of split wound | 0024 | 1.6011 | $95.03 | $31.11 | $19.01
12021 | T |  | Closure of split wound | 0024 | 1.6011 | $95.03 | $31.11 | $19.01
12031 | T |  | Layer closure of wound(s) | 0024 | 1.6011 | $95.03 | $31.11 | $19.01
12032 | T |  | Layer closure of wound(s) | 0024 | 1.6011 | $95.03 | $31.11 | $19.01
12034 | T |  | Layer closure of wound(s) | 0024 | 1.6011 | $95.03 | $31.11 | $19.01
12035 | T |  | Layer closure of wound(s) | 0024 | 1.6011 | $95.03 | $31.11 | $19.01
12036 | T |  | Layer closure of wound(s) | 0024 | 1.6011 | $95.03 | $31.11 | $19.01
12037 | T |  | Layer closure of wound(s) | 0025 | 5.4690 | $324.59 | $101.85 | $64.92
12041 | T |  | Layer closure of wound(s) | 0024 | 1.6011 | $95.03 | $31.11 | $19.01
12042 | T |  | Layer closure of wound(s) | 0024 | 1.6011 | $95.03 | $31.11 | $19.01
12044 | T |  | Layer closure of wound(s) | 0024 | 1.6011 | $95.03 | $31.11 | $19.01
12045 | T |  | Layer closure of wound(s) | 0024 | 1.6011 | $95.03 | $31.11 | $19.01
12046 | T |  | Layer closure of wound(s) | 0024 | 1.6011 | $95.03 | $31.11 | $19.01
12047 | T |  | Layer closure of wound(s) | 0025 | 5.4690 | $324.59 | $101.85 | $64.92
12051 | T |  | Layer closure of wound(s) | 0024 | 1.6011 | $95.03 | $31.11 | $19.01
12052 | T |  | Layer closure of wound(s) | 0024 | 1.6011 | $95.03 | $31.11 | $19.01
12053 | T |  | Layer closure of wound(s) | 0024 | 1.6011 | $95.03 | $31.11 | $19.01
12054 | T |  | Layer closure of wound(s) | 0024 | 1.6011 | $95.03 | $31.11 | $19.01
12055 | T |  | Layer closure of wound(s) | 0024 | 1.6011 | $95.03 | $31.11 | $19.01
12056 | T |  | Layer closure of wound(s) | 0024 | 1.6011 | $95.03 | $31.11 | $19.01
12057 | T |  | Layer closure of wound(s) | 0025 | 5.4690 | $324.59 | $101.85 | $64.92
13100 | T |  | Repair of wound or lesion | 0025 | 5.4690 | $324.59 | $101.85 | $64.92
13101 | T |  | Repair of wound or lesion | 0025 | 5.4690 | $324.59 | $101.85 | $64.92
13102 | T |  | Repair wound/lesion add-on | 0024 | 1.6011 | $95.03 | $31.11 | $19.01
13120 | T |  | Repair of wound or lesion | 0024 | 1.6011 | $95.03 | $31.11 | $19.01
13121 | T |  | Repair of wound or lesion | 0024 | 1.6011 | $95.03 | $31.11 | $19.01
13122 | T |  | Repair wound/lesion add-on | 0024 | 1.6011 | $95.03 | $31.11 | $19.01
13131 | T |  | Repair of wound or lesion | 0024 | 1.6011 | $95.03 | $31.11 | $19.01
13132 | T |  | Repair of wound or lesion | 0024 | 1.6011 | $95.03 | $31.11 | $19.01
13133 | T |  | Repair wound/lesion add-on | 0024 | 1.6011 | $95.03 | $31.11 | $19.01
13150 | T |  | Repair of wound or lesion | 0025 | 5.4690 | $324.59 | $101.85 | $64.92
13151 | T |  | Repair of wound or lesion | 0024 | 1.6011 | $95.03 | $31.11 | $19.01
13152 | T |  | Repair of wound or lesion | 0025 | 5.4690 | $324.59 | $101.85 | $64.92
13153 | T |  | Repair wound/lesion add-on | 0024 | 1.6011 | $95.03 | $31.11 | $19.01
13160 | T |  | Late closure of wound | 0027 | 18.3348 | $1,088.17 | $329.72 | $217.63
14000 | T |  | Skin tissue rearrangement | 0686 | 13.7661 | $817.02 |  | $163.40
14001 | T |  | Skin tissue rearrangement | 0027 | 18.3348 | $1,088.17 | $329.72 | $217.63
14020 | T |  | Skin tissue rearrangement | 0686 | 13.7661 | $817.02 |  | $163.40
14021 | T |  | Skin tissue rearrangement | 0027 | 18.3348 | $1,088.17 | $329.72 | $217.63
14040 | T |  | Skin tissue rearrangement | 0686 | 13.7661 | $817.02 |  | $163.40
14041 | T |  | Skin tissue rearrangement | 0027 | 18.3348 | $1,088.17 | $329.72 | $217.63
14060 | T |  | Skin tissue rearrangement | 0027 | 18.3348 | $1,088.17 | $329.72 | $217.63
14061 | T |  | Skin tissue rearrangement | 0686 | 13.7661 | $817.02 |  | $163.40
14300 | T |  | Skin tissue rearrangement | 0027 | 18.3348 | $1,088.17 | $329.72 | $217.63
14350 | T |  | Skin tissue rearrangement | 0027 | 18.3348 | $1,088.17 | $329.72 | $217.63
15000 | T |  | Skin graft | 0025 | 5.4690 | $324.59 | $101.85 | $64.92
15001 | T |  | Skin graft add-on | 0025 | 5.4690 | $324.59 | $101.85 | $64.92
15050 | T |  | Skin pinch graft | 0025 | 5.4690 | $324.59 | $101.85 | $64.92
15100 | T |  | Skin split graft | 0027 | 18.3348 | $1,088.17 | $329.72 | $217.63
15101 | T |  | Skin split graft add-on | 0027 | 18.3348 | $1,088.17 | $329.72 | $217.63
15120 | T |  | Skin split graft | 0027 | 18.3348 | $1,088.17 | $329.72 | $217.63
15121 | T |  | Skin split graft add-on | 0027 | 18.3348 | $1,088.17 | $329.72 | $217.63
15200 | T |  | Skin full graft | 0027 | 18.3348 | $1,088.17 | $329.72 | $217.63
15201 | T |  | Skin full graft add-on | 0025 | 5.4690 | $324.59 | $101.85 | $64.92
15220 | T |  | Skin full graft | 0027 | 18.3348 | $1,088.17 | $329.72 | $217.63
15221 | T |  | Skin full graft add-on | 0025 | 5.4690 | $324.59 | $101.85 | $64.92
15240 | T |  | Skin full graft | 0686 | 13.7661 | $817.02 |  | $163.40
15241 | T |  | Skin full graft add-on | 0025 | 5.4690 | $324.59 | $101.85 | $64.92
15260 | T |  | Skin full graft | 0686 | 13.7661 | $817.02 |  | $163.40
15261 | T |  | Skin full graft add-on | 0025 | 5.4690 | $324.59 | $101.85 | $64.92
15342 | T |  | Cultured skin graft, 25 cm | 0024 | 1.6011 | $95.03 | $31.11 | $19.01
15343 | T |  | Culture skn graft add'l 25 cm | 0024 | 1.6011 | $95.03 | $31.11 | $19.01
15350 | T |  | Skin homograft | 0686 | 13.7661 | $817.02 |  | $163.40
15351 | T |  | Skin homograft add-on | 0686 | 13.7661 | $817.02 |  | $163.40
15400 | T |  | Skin heterograft | 0025 | 5.4690 | $324.59 | $101.85 | $64.92
15401 | T |  | Skin heterograft add-on | 0025 | 5.4690 | $324.59 | $101.85 | $64.92
15570 | T |  | Form skin pedicle flap | 0027 | 18.3348 | $1,088.17 | $329.72 | $217.63
15572 | T |  | Form skin pedicle flap | 0027 | 18.3348 | $1,088.17 | $329.72 | $217.63
15574 | T |  | Form skin pedicle flap | 0027 | 18.3348 | $1,088.17 | $329.72 | $217.63
15576 | T |  | Form skin pedicle flap | 0686 | 13.7661 | $817.02 |  | $163.40
15600 | T |  | Skin graft | 0027 | 18.3348 | $1,088.17 | $329.72 | $217.63
15610 | T |  | Skin graft | 0027 | 18.3348 | $1,088.17 | $329.72 | $217.63
15620 | T |  | Skin graft | 0027 | 18.3348 | $1,088.17 | $329.72 | $217.63
15630 | T |  | Skin graft | 0027 | 18.3348 | $1,088.17 | $329.72 | $217.63
15650 | T |  | Transfer skin pedicle flap | 0027 | 18.3348 | $1,088.17 | $329.72 | $217.63
15732 | T |  | Muscle-skin graft, head/neck | 0027 | 18.3348 | $1,088.17 | $329.72 | $217.63
15734 | T |  | Muscle-skin graft, trunk | 0027 | 18.3348 | $1,088.17 | $329.72 | $217.63
15736 | T |  | Muscle-skin graft, arm | 0027 | 18.3348 | $1,088.17 | $329.72 | $217.63
15738 | T |  | Muscle-skin graft, leg | 0027 | 18.3348 | $1,088.17 | $329.72 | $217.63
15740 | T |  | Island pedicle flap graft | 0686 | 13.7661 | $817.02 |  | $163.40
15750 | T |  | Neurovascular pedicle graft | 0027 | 18.3348 | $1,088.17 | $329.72 | $217.63
15756 | C |  | Free muscle flap, microvasc |  |  |  |  |
15757 | C |  | Free skin flap, microvasc |  |  |  |  |
15758 | C |  | Free fascial flap, microvasc |  |  |  |  |
15760 | T |  | Composite skin graft | 0027 | 18.3348 | $1,088.17 | $329.72 | $217.63
15770 | T |  | Derma-fat-fascia graft | 0027 | 18.3348 | $1,088.17 | $329.72 | $217.63
15775 | T |  | Hair transplant punch grafts | 0025 | 5.4690 | $324.59 | $101.85 | $64.92
15776 | T |  | Hair transplant punch grafts | 0025 | 5.4690 | $324.59 | $101.85 | $64.92
15780 | T |  | Abrasion treatment of skin | 0022 | 19.5582 | $1,160.78 | $354.45 | $232.16
15781 | T |  | Abrasion treatment of skin | 0019 | 4.0363 | $239.55 | $71.87 | $47.91
15782 | T |  | Dressing change not for burn | 0019 | 4.0363 | $239.55 | $71.87 | $47.91
15783 | T |  | Abrasion treatment of skin | 0016 | 2.5717 | $152.63 | $33.42 | $30.53
15786 | T |  | Abrasion, lesion, single | 0013 | 1.1028 | $65.45 | $14.20 | $13.09
15787 | T |  | Abrasion, lesions, add-on | 0013 | 1.1028 | $65.45 | $14.20 | $13.09
15788 | T |  | Chemical peel, face, epiderm | 0012 | 0.8458 | $50.20 | $11.18 | $10.04
15789 | T |  | Chemical peel, face, dermal | 0015 | 1.6439 | $97.57 | $20.20 | $19.51
15792 | T |  | Chemical peel, nonfacial | 0013 | 1.1028 | $65.45 | $14.20 | $13.09
15793 | T |  | Chemical peel, nonfacial | 0012 | 0.8458 | $50.20 | $11.18 | $10.04
15810 | T |  | Salabrasion | 0016 | 2.5717 | $152.63 | $33.42 | $30.53
15811 | T |  | Salabrasion | 0016 | 2.5717 | $152.63 | $33.42 | $30.53
15819 | T |  | Plastic surgery, neck | 0025 | 5.4690 | $324.59 | $101.85 | $64.92
15820 | T |  | Revision of lower eyelid | 0027 | 18.3348 | $1,088.17 | $329.72 | $217.63
15821 | T |  | Revision of lower eyelid | 0027 | 18.3348 | $1,088.17 | $329.72 | $217.63
15822 | T |  | Revision of upper eyelid | 0027 | 18.3348 | $1,088.17 | $329.72 | $217.63
15823 | T |  | Revision of upper eyelid | 0027 | 18.3348 | $1,088.17 | $329.72 | $217.63
15824 | T |  | Removal of forehead wrinkles | 0027 | 18.3348 | $1,088.17 | $329.72 | $217.63
15825 | T |  | Removal of neck wrinkles | 0027 | 18.3348 | $1,088.17 | $329.72 | $217.63
15826 | T |  | Removal of brow wrinkles | 0027 | 18.3348 | $1,088.17 | $329.72 | $217.63
15828 | T |  | Removal of face wrinkles | 0027 | 18.3348 | $1,088.17 | $329.72 | $217.63
15829 | T |  | Removal of skin wrinkles | 0027 | 18.3348 | $1,088.17 | $329.72 | $217.63
15831 | T |  | Excise excessive skin tissue | 0022 | 19.5582 | $1,160.78 | $354.45 | $232.16
15832 | T |  | Excise excessive skin tissue | 0022 | 19.5582 | $1,160.78 | $354.45 | $232.16
15833 | T |  | Excise excessive skin tissue | 0022 | 19.5582 | $1,160.78 | $354.45 | $232.16
15834 | T |  | Excise excessive skin tissue | 0022 | 19.5582 | $1,160.78 | $354.45 | $232.16
15835 | T |  | Excise excessive skin tissue | 0025 | 5.4690 | $324.59 | $101.85 | $64.92
15836 | T |  | Excise excessive skin tissue | 0021 | 14.9098 | $884.90 | $219.48 | $176.98
15837 | T |  | Excise excessive skin tissue | 0021 | 14.9098 | $884.90 | $219.48 | $176.98
15838 | T |  | Excise excessive skin tissue | 0021 | 14.9098 | $884.90 | $219.48 | $176.98
15839 | T |  | Excise excessive skin tissue | 0021 | 14.9098 | $884.90 | $219.48 | $176.98
15840 | T |  | Graft for face nerve palsy | 0027 | 18.3348 | $1,088.17 | $329.72 | $217.63
15841 | T |  | Graft for face nerve palsy | 0027 | 18.3348 | $1,088.17 | $329.72 | $217.63
15842 | T |  | Flap for face nerve palsy | 0027 | 18.3348 | $1,088.17 | $329.72 | $217.63
15845 | T |  | Skin and muscle repair, face | 0027 | 18.3348 | $1,088.17 | $329.72 | $217.63
15850 | T |  | Removal of sutures | 0016 | 2.5717 | $152.63 | $33.42 | $30.53
15851 | T |  | Removal of sutures | 0016 | 2.5717 | $152.63 | $33.42 | $30.53
15852 | X |  | Dressing change not for burn | 0340 | 0.6355 | $37.72 |  | $7.54
15860 | X |  | Test for blood flow in graft | 0359 | 0.8274 | $49.11 |  | $9.82
15876 | T |  | Suction assisted lipectomy | 0027 | 18.3348 | $1,088.17 | $329.72 | $217.63
15877 | T |  | Suction assisted lipectomy | 0027 | 18.3348 | $1,088.17 | $329.72 | $217.63
15878 | T |  | Suction assisted lipectomy | 0686 | 13.7661 | $817.02 |  | $163.40
15879 | T |  | Suction assisted lipectomy | 0027 | 18.3348 | $1,088.17 | $329.72 | $217.63
15920 | T |  | Removal of tail bone ulcer | 0019 | 4.0363 | $239.55 | $71.87 | $47.91
15922 | T |  | Removal of tail bone ulcer | 0027 | 18.3348 | $1,088.17 | $329.72 | $217.63
15931 | T |  | Remove sacrum pressure sore | 0022 | 19.5582 | $1,160.78 | $354.45 | $232.16
15933 | T |  | Remove sacrum pressure sore | 0022 | 19.5582 | $1,160.78 | $354.45 | $232.16
15934 | T |  | Remove sacrum pressure sore | 0027 | 18.3348 | $1,088.17 | $329.72 | $217.63
15935 | T |  | Remove sacrum pressure sore | 0027 | 18.3348 | $1,088.17 | $329.72 | $217.63
15936 | T |  | Remove sacrum pressure sore | 0027 | 18.3348 | $1,088.17 | $329.72 | $217.63
15937 | T |  | Remove sacrum pressure sore | 0027 | 18.3348 | $1,088.17 | $329.72 | $217.63
15940 | T |  | Remove hip pressure sore | 0022 | 19.5582 | $1,160.78 | $354.45 | $232.16
15941 | T |  | Remove hip pressure sore | 0022 | 19.5582 | $1,160.78 | $354.45 | $232.16
15944 | T |  | Remove hip pressure sore | 0027 | 18.3348 | $1,088.17 | $329.72 | $217.63
15945 | T |  | Remove hip pressure sore | 0027 | 18.3348 | $1,088.17 | $329.72 | $217.63
15946 | T |  | Remove hip pressure sore | 0027 | 18.3348 | $1,088.17 | $329.72 | $217.63
15950 | T |  | Remove thigh pressure sore | 0022 | 19.5582 | $1,160.78 | $354.45 | $232.16
15951 | T |  | Remove thigh pressure sore | 0022 | 19.5582 | $1,160.78 | $354.45 | $232.16
15952 | T |  | Remove thigh pressure sore | 0027 | 18.3348 | $1,088.17 | $329.72 | $217.63
15953 | T |  | Remove thigh pressure sore | 0027 | 18.3348 | $1,088.17 | $329.72 | $217.63
15956 | T |  | Remove thigh pressure sore | 0027 | 18.3348 | $1,088.17 | $329.72 | $217.63
15958 | T |  | Remove thigh pressure sore | 0027 | 18.3348 | $1,088.17 | $329.72 | $217.63
15999 | T |  | Removal of pressure sore | 0019 | 4.0363 | $239.55 | $71.87 | $47.91
16000 | T |  | Initial treatment of burn(s) | 0012 | 0.8458 | $50.20 | $11.18 | $10.04
16010 | T |  | Treatment of burn(s) | 0016 | 2.5717 | $152.63 | $33.42 | $30.53
16015 | T |  | Treatment of burn(s) | 0017 | 18.3377 | $1,088.34 | $227.84 | $217.67
16020 | T |  | Treatment of burn(s) | 0013 | 1.1028 | $65.45 | $14.20 | $13.09
16025 | T |  | Treatment of burn(s) | 0013 | 1.1028 | $65.45 | $14.20 | $13.09
16030 | T |  | Treatment of burn(s) | 0015 | 1.6439 | $97.57 | $20.20 | $19.51
16035 | C |  | Incision of burn scab, initi |  |  |  |  |
16036 | C |  | Escharotomy addl incision |  |  |  |  |
17000 | T |  | Destroy benign/premlg lesion | 0010 | 0.5693 | $33.79 | $9.63 | $6.76
17003 | T |  | Destroy lesions, 2-14 | 0010 | 0.5693 | $33.79 | $9.63 | $6.76
17004 | T |  | Destroy lesions, 15 or more | 0011 | 2.0745 | $123.12 | $25.06 | $24.62
17106 | T |  | Destruction of skin lesions | 0011 | 2.0745 | $123.12 | $25.06 | $24.62
17107 | T |  | Destruction of skin lesions | 0011 | 2.0745 | $123.12 | $25.06 | $24.62
17108 | T |  | Destruction of skin lesions | 0011 | 2.0745 | $123.12 | $25.06 | $24.62
17110 | T |  | Destruct lesion, 1-14 | 0010 | 0.5693 | $33.79 | $9.63 | $6.76
17111 | T |  | Destruct lesion, 15 or more | 0010 | 0.5693 | $33.79 | $9.63 | $6.76
17250 | T |  | Chemical cautery, tissue | 0013 | 1.1028 | $65.45 | $14.20 | $13.09
17260 | T |  | Destruction of skin lesions | 0015 | 1.6439 | $97.57 | $20.20 | $19.51
17261 | T |  | Destruction of skin lesions | 0015 | 1.6439 | $97.57 | $20.20 | $19.51
17262 | T |  | Destruction of skin lesions | 0015 | 1.6439 | $97.57 | $20.20 | $19.51
17263 | T |  | Destruction of skin lesions | 0015 | 1.6439 | $97.57 | $20.20 | $19.51
17264 | T |  | Destruction of skin lesions | 0015 | 1.6439 | $97.57 | $20.20 | $19.51
17266 | T |  | Destruction of skin lesions | 0016 | 2.5717 | $152.63 | $33.42 | $30.53
17270 | T |  | Destruction of skin lesions | 0015 | 1.6439 | $97.57 | $20.20 | $19.51
17271 | T |  | Destruction of skin lesions | 0013 | 1.1028 | $65.45 | $14.20 | $13.09
17272 | T |  | Destruction of skin lesions | 0015 | 1.6439 | $97.57 | $20.20 | $19.51
17273 | T |  | Destruction of skin lesions | 0015 | 1.6439 | $97.57 | $20.20 | $19.51
17274 | T |  | Destruction of skin lesions | 0016 | 2.5717 | $152.63 | $33.42 | $30.53
17276 | T |  | Destruction of skin lesions | 0016 | 2.5717 | $152.63 | $33.42 | $30.53
17280 | T |  | Destruction of skin lesions | 0015 | 1.6439 | $97.57 | $20.20 | $19.51
17281 | T |  | Destruction of skin lesions | 0015 | 1.6439 | $97.57 | $20.20 | $19.51
17282 | T |  | Destruction of skin lesions | 0015 | 1.6439 | $97.57 | $20.20 | $19.51
17283 | T |  | Destruction of skin lesions | 0015 | 1.6439 | $97.57 | $20.20 | $19.51
17284 | T |  | Destruction of skin lesions | 0016 | 2.5717 | $152.63 | $33.42 | $30.53
17286 | T |  | Destruction of skin lesions | 0015 | 1.6439 | $97.57 | $20.20 | $19.51
17304 | T |  | Chemosurgery of skin lesion | 0694 | 3.8278 | $227.18 | $61.59 | $45.44
17305 | T |  | 2 stage mohs, up to 5 spec | 0694 | 3.8278 | $227.18 | $61.59 | $45.44
17306 | T |  | 3 stage mohs, up to 5 spec | 0694 | 3.8278 | $227.18 | $61.59 | $45.44
17307 | T |  | Mohs addl stage up to 5 spec | 0694 | 3.8278 | $227.18 | $61.59 | $45.44
17310 | T |  | Extensive skin chemosurgery | 0694 | 3.8278 | $227.18 | $61.59 | $45.44
17340 | T |  | Cryotherapy of skin | 0012 | 0.8458 | $50.20 | $11.18 | $10.04
17360 | T |  | Skin peel therapy | 0013 | 1.1028 | $65.45 | $14.20 | $13.09
17380 | T |  | Hair removal by electrolysis | 0013 | 1.1028 | $65.45 | $14.20 | $13.09
17999 | T |  | Skin tissue procedure | 0006 | 1.5430 | $91.58 | $22.18 | $18.32
19000 | T |  | Drainage of breast lesion | 0004 | 1.7566 | $104.25 | $22.36 | $20.85
19001 | T |  | Drain breast lesion add-on | 0004 | 1.7566 | $104.25 | $22.36 | $20.85
19020 | T |  | Incision of breast lesion | 0008 | 16.4242 | $974.78 |  | $194.96
19030 | N |  | Injection for breast x-ray |  |  |  |  |
19100 | T |  | Bx breast percut w/o image | 0005 | 3.5831 | $212.66 | $71.45 | $42.53
19101 | T |  | Biopsy of breast, open | 0028 | 19.4914 | $1,156.81 | $303.74 | $231.36
19102 | T |  | Bx breast percut w/image | 0005 | 3.5831 | $212.66 | $71.45 | $42.53
19103 | T |  | Bx breast percut w/device | 0658 | 6.0773 | $360.69 |  | $72.14
19110 | T |  | nipple exploration | 0028 | 19.4914 | $1,156.81 | $303.74 | $231.36
19112 | T |  | Excise breast duct fistula | 0028 | 19.4914 | $1,156.81 | $303.74 | $231.36
19120 | T |  | Removal of breast lesion | 0028 | 19.4914 | $1,156.81 | $303.74 | $231.36
19125 | T |  | Excision, breast lesion | 0028 | 19.4914 | $1,156.81 | $303.74 | $231.36
19126 | T |  | Excision, addl breast lesion | 0028 | 19.4914 | $1,156.81 | $303.74 | $231.36
19140 | T |  | Removal of breast tissue | 0028 | 19.4914 | $1,156.81 | $303.74 | $231.36
19160 | T |  | Removal of breast tissue | 0028 | 19.4914 | $1,156.81 | $303.74 | $231.36
19162 | T |  | Remove breast tissue, nodes | 0693 | 42.0342 | $2,494.73 | $798.17 | $498.95
19180 | T |  | Removal of breast | 0029 | 31.9024 | $1,893.41 | $632.64 | $378.68
19182 | T |  | Removal of breast | 0029 | 31.9024 | $1,893.41 | $632.64 | $378.68
19200 | C |  | Removal of breast |  |  |  |  |
19220 | C |  | Removal of breast |  |  |  |  |
19240 | T |  | Removal of breast | 0030 | 39.9010 | $2,368.12 | $763.55 | $473.62
19260 | T |  | Removal of chest wall lesion | 0021 | 14.9098 | $884.90 | $219.48 | $176.98
19271 | C |  | Revision of chest wall |  |  |  |  |
19272 | C |  | Extensive chest wall surgery |  |  |  |  |
19290 | N |  | Place needle wire, breast |  |  |  |  |
19291 | N |  | Place needle wire, breast |  |  |  |  |
19295 | S |  | Place breast clip, percut | 0657 | 1.7015 | $100.98 |  | $20.20
19296 | S |  | Place po breast cath for rad | 1524 |  | $3,250.00 |  | $650.00
19297 | S |  | Place breast cath for rad | 1523 |  | $2,750.00 |  | $550.00
19298 | S |  | Place breast rad tube/caths | 1524 |  | $3,250.00 |  | $650.00
19316 | T |  | Suspension of breast | 0029 | 31.9024 | $1,893.41 | $632.64 | $378.68
19318 | T |  | Reduction of large breast | 0693 | 42.0342 | $2,494.73 | $798.17 | $498.95
19324 | T |  | Enlarge breast | 0693 | 42.0342 | $2,494.73 | $798.17 | $498.95
19325 | T |  | Enlarge breast with implant | 0648 | 50.2174 | $2,980.40 |  | $596.08
19328 | T |  | Removal of breast implant | 0029 | 31.9024 | $1,893.41 | $632.64 | $378.68
19330 | T |  | Removal of implant material | 0029 | 31.9024 | $1,893.41 | $632.64 | $378.68
19340 | T |  | Immediate breast prosthesis | 0030 | 39.9010 | $2,368.12 | $763.55 | $473.62
19342 | T |  | Delayed breast prosthesis | 0648 | 50.2174 | $2,980.40 |  | $596.08
19350 | T |  | Breast reconstruction | 0028 | 19.4914 | $1,156.81 | $303.74 | $231.36
19355 | T |  | Correct inverted nipple(s) | 0029 | 31.9024 | $1,893.41 | $632.64 | $378.68
19357 | T |  | Breast reconstruction | 0648 | 50.2174 | $2,980.40 |  | $596.08
19361 | C |  | Breast reconstruction |  |  |  |  |
19364 | C |  | Breast reconstruction |  |  |  |  |
19366 | T |  | Breast reconstruction | 0029 | 31.9024 | $1,893.41 | $632.64 | $378.68
19367 | C |  | Breast reconstruction |  |  |  |  |
19368 | C |  | Breast reconstruction |  |  |  |  |
19369 | C |  | Breast reconstruction |  |  |  |  |
19370 | T |  | Surgery of breast capsule | 0029 | 31.9024 | $1,893.41 | $632.64 | $378.68
19371 | T |  | Removal of breast capsule | 0029 | 31.9024 | $1,893.41 | $632.64 | $378.68
19380 | T |  | Revise breast reconstruction | 0030 | 39.9010 | $2,368.12 | $763.55 | $473.62
19396 | T |  | Design custom breast implant | 0029 | 31.9024 | $1,893.41 | $632.64 | $378.68
19499 | T |  | Breast surgery procedure | 0028 | 19.4914 | $1,156.81 | $303.74 | $231.36
20000 | T |  | Incision of abscess | 0006 | 1.5430 | $91.58 | $22.18 | $18.32
20005 | T |  | Incision of deep abscess | 0049 | 20.2784 | $1,203.52 |  | $240.70
2000F | E |  | Blood pressure, measured |  |  |  |  |
20100 | T |  | Explore wound, neck | 0023 | 4.7558 | $282.26 |  | $56.45
20101 | T |  | Explore wound, chest | 0027 | 18.3348 | $1,088.17 | $329.72 | $217.63
20102 | T |  | Explore wound, abdomen | 0027 | 18.3348 | $1,088.17 | $329.72 | $217.63
20103 | T |  | Explore wound, extremity | 0023 | 4.7558 | $282.26 |  | $56.45
20150 | T |  | Excise epiphyseal bar | 0051 | 36.3617 | $2,158.07 |  | $431.61
20200 | T |  | Muscle biopsy | 0021 | 14.9098 | $884.90 | $219.48 | $176.98
20205 | T |  | Deep muscle biopsy | 0021 | 14.9098 | $884.90 | $219.48 | $176.98
20206 | T |  | Needle biopsy, muscle | 0005 | 3.5831 | $212.66 | $71.45 | $42.53
20220 | T |  | Bone biopsy, trocar/needle | 0019 | 4.0363 | $239.55 | $71.87 | $47.91
20225 | T |  | Bone biopsy, trocar/needle | 0020 | 6.9118 | $410.22 | $106.93 | $82.04
20240 | T |  | Bone biopsy, excisional | 0022 | 19.5582 | $1,160.78 | $354.45 | $232.16
20245 | T |  | Bone biopsy, excisional | 0022 | 19.5582 | $1,160.78 | $354.45 | $232.16
20250 | T |  | Open bone biopsy | 0049 | 20.2784 | $1,203.52 |  | $240.70
20251 | T |  | Open bone biopsy | 0049 | 20.2784 | $1,203.52 |  | $240.70
20500 | T |  | Injection of sinus tract | 0251 | 2.0010 | $118.76 |  | $23.75
20501 | N |  | Inject sinus tract for x-ray |  |  |  |  |
20520 | T |  | Removal of foreign body | 0019 | 4.0363 | $239.55 | $71.87 | $47.91
20525 | T |  | Removal of foreign body | 0022 | 19.5582 | $1,160.78 | $354.45 | $232.16
20526 | T |  | Ther injection, carp tunnel | 0204 | 2.1811 | $129.45 | $40.13 | $25.89
20550 | T |  | Inject tendon/ligament/cyst | 0204 | 2.1811 | $129.45 | $40.13 | $25.89
20551 | T |  | Inj tendon origin/insertion | 0204 | 2.1811 | $129.45 | $40.13 | $25.89
20552 | T |  | Inj trigger point, 1/2 muscl | 0204 | 2.1811 | $129.45 | $40.13 | $25.89
20553 | T |  | Inject trigger points, > 3 | 0204 | 2.1811 | $129.45 | $40.13 | $25.89
20600 | T |  | Drain/inject, joint/bursa | 0204 | 2.1811 | $129.45 | $40.13 | $25.89
20605 | T |  | Drain/inject, joint/bursa | 0204 | 2.1811 | $129.45 | $40.13 | $25.89
20610 | T |  | Drain/inject, joint/bursa | 0204 | 2.1811 | $129.45 | $40.13 | $25.89
20612 | T |  | Aspirate/inj ganglion cyst | 0204 | 2.1811 | $129.45 | $40.13 | $25.89
20615 | T |  | Treatment of bone cyst | 0004 | 1.7566 | $104.25 | $22.36 | $20.85
20650 | T |  | Insert and remove bone pin | 0049 | 20.2784 | $1,203.52 |  | $240.70
20660 | C |  | Apply, rem fixation device |  |  |  |  |
20661 | C |  | Application of head brace |  |  |  |  |
20662 | T |  | Application of pelvis brace | 0049 | 20.2784 | $1,203.52 |  | $240.70
20663 | T |  | Application of thigh brace | 0049 | 20.2784 | $1,203.52 |  | $240.70
20664 | C |  | Halo brace application |  |  |  |  |
20665 | X |  | Removal of fixation device | 0340 | 0.6355 | $37.72 |  | $7.54
20670 | T |  | Removal of support implant | 0021 | 14.9098 | $884.90 | $219.48 | $176.98
20680 | T |  | Removal of support implant | 0022 | 19.5582 | $1,160.78 | $354.45 | $232.16
20690 | T |  | Apply bone fixation device | 0050 | 23.7998 | $1,412.52 |  | $282.50
20692 | T |  | Apply bone fixation device | 0050 | 23.7998 | $1,412.52 |  | $282.50
20693 | T |  | Adjust bone fixation device | 0049 | 20.2784 | $1,203.52 |  | $240.70
20694 | T |  | Remove bone fixation device | 0049 | 20.2784 | $1,203.52 |  | $240.70
20802 | C |  | Replantation, arm, complete |  |  |  |  |
20805 | C |  | Replant forearm, complete |  |  |  |  |
20808 | C |  | Replantation hand, complete |  |  |  |  |
20816 | C |  | Replantation digit, complete |  |  |  |  |
20822 | T |  | Replantation digit, complete | 0054 | 25.2562 | $1,498.96 |  | $299.79
20824 | C |  | Replantation thumb, complete |  |  |  |  |
20827 | C |  | Replantation thumb, complete |  |  |  |  |
20838 | C |  | Replantation foot, complete |  |  |  |  |
20900 | T |  | Removal of bone for graft | 0050 | 23.7998 | $1,412.52 |  | $282.50
20902 | T |  | Removal of bone for graft | 0050 | 23.7998 | $1,412.52 |  | $282.50
20910 | T |  | Remove cartilage for graft | 0027 | 18.3348 | $1,088.17 | $329.72 | $217.63
20912 | T |  | Remove cartilage for graft | 0027 | 18.3348 | $1,088.17 | $329.72 | $217.63
20920 | T |  | Removal of fascia for graft | 0686 | 13.7661 | $817.02 |  | $163.40
20922 | T |  | Removal of fascia for graft | 0027 | 18.3348 | $1,088.17 | $329.72 | $217.63
20924 | T |  | Removal of tendon for graft | 0050 | 23.7998 | $1,412.52 |  | $282.50
20926 | T |  | Removal of tissue for graft | 0686 | 13.7661 | $817.02 |  | $163.40
20930 | C |  | Spinal bone allograft |  |  |  |  |
20931 | C |  | Spinal bone allograft |  |  |  |  |
20936 | C |  | Spinal bone autograft |  |  |  |  |
20937 | C |  | Spinal bone autograft |  |  |  |  |
20938 | C |  | Spinal bone autograft |  |  |  |  |
20950 | T |  | Fluid pressure, muscle | 0006 | 1.5430 | $91.58 | $22.18 | $18.32
20955 | C |  | Fibula bone graft, microvasc |  |  |  |  |
20956 | C |  | Iliac bone graft, microvasc |  |  |  |  |
20957 | C |  | Mt bone graft, microvasc |  |  |  |  |
20962 | C |  | Other bone graft, microvasc |  |  |  |  |
20969 | C |  | Bone/skin graft, microvasc |  |  |  |  |
20970 | C |  | Bone/skin graft, iliac crest |  |  |  |  |
20972 | T |  | Bone/skin graft, metatarsal | 0056 | 40.1132 | $2,380.72 |  | $476.14
20973 | T |  | Bone/skin graft, great toe | 0056 | 40.1132 | $2,380.72 |  | $476.14
20974 | A |  | Electrical bone stimulation |  |  |  |  |
20975 | X |  | Electrical bone stimulation | 0340 | 0.6355 | $37.72 |  | $7.54
20979 | A |  | Us bone stimulation |  |  |  |  |
20982 | T |  | Ablate, bone tumor(s) perq | 1557 |  | $1,850.00 |  | $370.00
20999 | T |  | Musculoskeletal surgery | 0049 | 20.2784 | $1,203.52 |  | $240.70
21010 | T |  | Incision of jaw joint | 0254 | 23.2980 | $1,382.74 | $321.35 | $276.55
21015 | T |  | Resection of facial tumor | 0253 | 16.0627 | $953.32 | $282.29 | $190.66
21025 | T |  | Excision of bone, lower jaw | 0256 | 37.1513 | $2,204.93 |  | $440.99
21026 | T |  | Excision of facial bone(s) | 0256 | 37.1513 | $2,204.93 |  | $440.99
21029 | T |  | Contour of face bone lesion | 0256 | 37.1513 | $2,204.93 |  | $440.99
21030 | T |  | Removal of face bone lesion | 0254 | 23.2980 | $1,382.74 | $321.35 | $276.55
21031 | T |  | Remove exostosis, mandible | 0254 | 23.2980 | $1,382.74 | $321.35 | $276.55
21032 | T |  | Remove exostosis, maxilla | 0254 | 23.2980 | $1,382.74 | $321.35 | $276.55
21034 | T |  | Removal of face bone lesion | 0256 | 37.1513 | $2,204.93 |  | $440.99
21040 | T |  | Removal of jaw bone lesion | 0254 | 23.2980 | $1,382.74 | $321.35 | $276.55
21044 | T |  | Removal of jaw bone lesion | 0256 | 37.1513 | $2,204.93 |  | $440.99
21045 | C |  | Extensive jaw surgery |  |  |  |  |
21046 | T |  | Remove mandible cyst complex | 0256 | 37.1513 | $2,204.93 |  | $440.99
21047 | T |  | Excise lwr jaw cyst w/repair | 0256 | 37.1513 | $2,204.93 |  | $440.99
21048 | T |  | Remove maxilla cyst complex | 0256 | 37.1513 | $2,204.93 |  | $440.99
21049 | T |  | Excis uppr jaw cyst w/repair | 0256 | 37.1513 | $2,204.93 |  | $440.99
21050 | T |  | Removal of jaw joint | 0256 | 37.1513 | $2,204.93 |  | $440.99
21060 | T |  | Remove jaw joint cartilage | 0256 | 37.1513 | $2,204.93 |  | $440.99
21070 | T |  | Remove coronoid process | 0256 | 37.1513 | $2,204.93 |  | $440.99
21076 | T |  | Prepare face/oral prosthesis | 0254 | 23.2980 | $1,382.74 | $321.35 | $276.55
21077 | T |  | Prepare face/oral prosthesis | 0256 | 37.1513 | $2,204.93 |  | $440.99
21079 | T |  | Prepare face/oral prosthesis | 0256 | 37.1513 | $2,204.93 |  | $440.99
21080 | T |  | Prepare face/oral prosthesis | 0256 | 37.1513 | $2,204.93 |  | $440.99
21081 | T |  | Prepare face/oral prosthesis | 0256 | 37.1513 | $2,204.93 |  | $440.99
21082 | T |  | Prepare face/oral prosthesis | 0256 | 37.1513 | $2,204.93 |  | $440.99
21083 | T |  | Prepare face/oral prosthesis | 0256 | 37.1513 | $2,204.93 |  | $440.99
21084 | T |  | Prepare face/oral prosthesis | 0256 | 37.1513 | $2,204.93 |  | $440.99
21085 | T |  | Prepare face/oral prosthesis | 0253 | 16.0627 | $953.32 | $282.29 | $190.66
21086 | T |  | Prepare face/oral prosthesis | 0256 | 37.1513 | $2,204.93 |  | $440.99
21087 | T |  | Prepare face/oral prosthesis | 0256 | 37.1513 | $2,204.93 |  | $440.99
21088 | T |  | Prepare face/oral prosthesis | 0256 | 37.1513 | $2,204.93 |  | $440.99
21089 | T |  | Prepare face/oral prosthesis | 0251 | 2.0010 | $118.76 |  | $23.75
21100 | T |  | Maxillofacial fixation | 0256 | 37.1513 | $2,204.93 |  | $440.99
21110 | T |  | Interdental fixation | 0252 | 7.8317 | $464.81 | $113.41 | $92.96
21116 | N |  | Injection, jaw joint x-ray |  |  |  |  |
21120 | T |  | Reconstruction of chin | 0254 | 23.2980 | $1,382.74 | $321.35 | $276.55
21121 | T |  | Reconstruction of chin | 0254 | 23.2980 | $1,382.74 | $321.35 | $276.55
21122 | T |  | Reconstruction of chin | 0254 | 23.2980 | $1,382.74 | $321.35 | $276.55
21123 | T |  | Reconstruction of chin | 0254 | 23.2980 | $1,382.74 | $321.35 | $276.55
21125 | T |  | Augmentation, lower jaw bone | 0254 | 23.2980 | $1,382.74 | $321.35 | $276.55
21127 | T |  | Augmentation, lower jaw bone | 0256 | 37.1513 | $2,204.93 |  | $440.99
21137 | T |  | Reduction of forehead | 0254 | 23.2980 | $1,382.74 | $321.35 | $276.55
21138 | T |  | Reduction of forehead | 0256 | 37.1513 | $2,204.93 |  | $440.99
21139 | T |  | Reduction of forehead | 0256 | 37.1513 | $2,204.93 |  | $440.99
21141 | C |  | Reconstruct midface, lefort |  |  |  |  |
21142 | C |  | Reconstruct midface, lefort |  |  |  |  |
21143 | C |  | Reconstruct midface, lefort |  |  |  |  |
21145 | C |  | Reconstruct midface, lefort |  |  |  |  |
21146 | C |  | Reconstruct midface, lefort |  |  |  |  |
21147 | C |  | Reconstruct midface, lefort |  |  |  |  |
21150 | T |  | Reconstruct midface, lefort | 0256 | 37.1513 | $2,204.93 |  | $440.99
21151 | C |  | Reconstruct midface, lefort |  |  |  |  |
21154 | C |  | Reconstruct midface, lefort |  |  |  |  |
21155 | C |  | Reconstruct midface, lefort |  |  |  |  |
21159 | C |  | Reconstruct midface, lefort |  |  |  |  |
21160 | C |  | Reconstruct midface, lefort |  |  |  |  |
21172 | C |  | Reconstruct orbit/forehead |  |  |  |  |
21175 | T |  | Reconstruct orbit/forehead | 0256 | 37.1513 | $2,204.93 |  | $440.99
21179 | C |  | Reconstruct entire forehead |  |  |  |  |
21180 | C |  | Reconstruct entire forehead |  |  |  |  |
21181 | T |  | Contour cranial bone lesion | 0254 | 23.2980 | $1,382.74 | $321.35 | $276.55
21182 | C |  | Reconstruct cranial bone |  |  |  |  |
21183 | C |  | Reconstruct cranial bone |  |  |  |  |
21184 | C |  | Reconstruct cranial bone |  |  |  |  |
21188 | C |  | Reconstruction of midface |  |  |  |  |
21193 | C |  | Reconst lwr jaw w/o graft |  |  |  |  |
21194 | C |  | Reconst lwr jaw w/graft |  |  |  |  |
21195 | T |  | Reconst lwr jaw w/o fixation | 0256 | 37.1513 | $2,204.93 |  | $440.99
21196 | C |  | Reconst lwr jaw w/fixation |  |  |  |  |
21198 | T |  | Reconstr lwr jaw segment | 0256 | 37.1513 | $2,204.93 |  | $440.99
21199 | T |  | Reconstr lwr jaw w/advance | 0256 | 37.1513 | $2,204.93 |  | $440.99
21206 | T |  | Reconstruct upper jaw bone | 0256 | 37.1513 | $2,204.93 |  | $440.99
21208 | T |  | Augmentation of facial bones | 0256 | 37.1513 | $2,204.93 |  | $440.99
21209 | T |  | Reduction of facial bones | 0256 | 37.1513 | $2,204.93 |  | $440.99
21210 | T |  | Face bone graft | 0256 | 37.1513 | $2,204.93 |  | $440.99
21215 | T |  | Lower jaw bone graft | 0256 | 37.1513 | $2,204.93 |  | $440.99
21230 | T |  | Rib cartilage graft | 0256 | 37.1513 | $2,204.93 |  | $440.99
21235 | T |  | Ear cartilage graft | 0254 | 23.2980 | $1,382.74 | $321.35 | $276.55
21240 | T |  | Reconstruction of jaw joint | 0256 | 37.1513 | $2,204.93 |  | $440.99
21242 | T |  | Reconstruction of jaw joint | 0256 | 37.1513 | $2,204.93 |  | $440.99
21243 | T |  | Reconstruction of jaw joint | 0256 | 37.1513 | $2,204.93 |  | $440.99
21244 | T |  | Reconstruction of lower jaw | 0256 | 37.1513 | $2,204.93 |  | $440.99
21245 | T |  | Reconstruction of jaw | 0256 | 37.1513 | $2,204.93 |  | $440.99
21246 | T |  | Reconstruction of jaw | 0256 | 37.1513 | $2,204.93 |  | $440.99
21247 | C |  | Reconstruct lower jaw bone |  |  |  |  |
21248 | T |  | Reconstruction of jaw | 0256 | 37.1513 | $2,204.93 |  | $440.99
21249 | T |  | Reconstruction of jaw | 0256 | 37.1513 | $2,204.93 |  | $440.99
21255 | C |  | Reconstruct lower jaw bone |  |  |  |  |
21256 | C |  | Reconstruction of orbit |  |  |  |  |
21260 | T |  | Revise eye sockets | 0256 | 37.1513 | $2,204.93 |  | $440.99
21261 | T |  | Revise eye sockets | 0256 | 37.1513 | $2,204.93 |  | $440.99
21263 | T |  | Revise eye sockets | 0256 | 37.1513 | $2,204.93 |  | $440.99
21267 | T |  | Revise eye sockets | 0256 | 37.1513 | $2,204.93 |  | $440.99
21268 | C |  | Revise eye sockets |  |  |  |  |
21270 | T |  | Augmentation, cheek bone | 0256 | 37.1513 | $2,204.93 |  | $440.99
21275 | T |  | Revision, orbitofacial bones | 0256 | 37.1513 | $2,204.93 |  | $440.99
21280 | T |  | Revision of eyelid | 0256 | 37.1513 | $2,204.93 |  | $440.99
21282 | T |  | Revision of eyelid | 0253 | 16.0627 | $953.32 | $282.29 | $190.66
21295 | T |  | Revision of jaw muscle/bone | 0252 | 7.8317 | $464.81 | $113.41 | $92.96
21296 | T |  | Revision of jaw muscle/bone | 0254 | 23.2980 | $1,382.74 | $321.35 | $276.55
21299 | T |  | Cranio/maxillofacial surgery | 0251 | 2.0010 | $118.76 |  | $23.75
21300 | T |  | Treatment of skull fracture | 0253 | 16.0627 | $953.32 | $282.29 | $190.66
21310 | T |  | Treatment of nose fracture | 0251 | 2.0010 | $118.76 |  | $23.75
21315 | T |  | Treatment of nose fracture | 0251 | 2.0010 | $118.76 |  | $23.75
21320 | T |  | Treatment of nose fracture | 0252 | 7.8317 | $464.81 | $113.41 | $92.96
21325 | T |  | Treatment of nose fracture | 0254 | 23.2980 | $1,382.74 | $321.35 | $276.55
21330 | T |  | Treatment of nose fracture | 0254 | 23.2980 | $1,382.74 | $321.35 | $276.55
21335 | T |  | Treatment of nose fracture | 0254 | 23.2980 | $1,382.74 | $321.35 | $276.55
21336 | T |  | Treat nasal septal fracture | 0046 | 37.5315 | $2,227.49 | $535.76 | $445.50
21337 | T |  | Treat nasal septal fracture | 0253 | 16.0627 | $953.32 | $282.29 | $190.66
21338 | T |  | Treat nasoethmoid fracture | 0254 | 23.2980 | $1,382.74 | $321.35 | $276.55
21339 | T |  | Treat nasoethmoid fracture | 0254 | 23.2980 | $1,382.74 | $321.35 | $276.55
21340 | T |  | Treatment of nose fracture | 0256 | 37.1513 | $2,204.93 |  | $440.99
21343 | C |  | Treatment of sinus fracture |  |  |  |  |
21344 | C |  | Treatment of sinus fracture |  |  |  |  |
21345 | T |  | Treat nose/jaw fracture | 0254 | 23.2980 | $1,382.74 | $321.35 | $276.55
21346 | C |  | Treat nose/jaw fracture |  |  |  |  |
21347 | C |  | Treat nose/jaw fracture |  |  |  |  |
21348 | C |  | Treat nose/jaw fracture |  |  |  |  |
21355 | T |  | Treat cheek bone fracture | 0256 | 37.1513 | $2,204.93 |  | $440.99
21356 | T |  | Treat cheek bone fracture | 0254 | 23.2980 | $1,382.74 | $321.35 | $276.55
21360 | C |  | Treat cheek bone fracture |  |  |  |  |
21365 | C |  | Treat cheek bone fracture |  |  |  |  |
21366 | C |  | Treat cheek bone fracture |  |  |  |  |
21385 | C |  | Treat eye socket fracture |  |  |  |  |
21386 | C |  | Treat eye socket fracture |  |  |  |  |
21387 | C |  | Treat eye socket fracture |  |  |  |  |
21390 | T |  | Treat eye socket fracture | 0256 | 37.1513 | $2,204.93 |  | $440.99
21395 | C |  | Treat eye socket fracture |  |  |  |  |
21400 | T |  | Treat eye socket fracture | 0252 | 7.8317 | $464.81 | $113.41 | $92.96
21401 | T |  | Treat eye socket fracture | 0253 | 16.0627 | $953.32 | $282.29 | $190.66
21406 | T |  | Treat eye socket fracture | 0256 | 37.1513 | $2,204.93 |  | $440.99
21407 | T |  | Treat eye socket fracture | 0256 | 37.1513 | $2,204.93 |  | $440.99
21408 | T |  | Treat eye socket fracture | 0256 | 37.1513 | $2,204.93 |  | $440.99
21421 | T |  | Treat mouth roof fracture | 0254 | 23.2980 | $1,382.74 | $321.35 | $276.55
21422 | C |  | Treat mouth roof fracture |  |  |  |  |
21423 | C |  | Treat mouth roof fracture |  |  |  |  |
21431 | C |  | Treat craniofacial fracture |  |  |  |  |
21432 | C |  | Treat craniofacial fracture |  |  |  |  |
21433 | C |  | Treat craniofacial fracture |  |  |  |  |
21435 | C |  | Treat craniofacial fracture |  |  |  |  |
21436 | C |  | Treat craniofacial fracture |  |  |  |  |
21440 | T |  | Treat dental ridge fracture | 0254 | 23.2980 | $1,382.74 | $321.35 | $276.55
21445 | T |  | Treat dental ridge fracture | 0254 | 23.2980 | $1,382.74 | $321.35 | $276.55
21450 | T |  | Treat lower jaw fracture | 0251 | 2.0010 | $118.76 |  | $23.75
21451 | T |  | Treat lower jaw fracture | 0252 | 7.8317 | $464.81 | $113.41 | $92.96
21452 | T |  | Treat lower jaw fracture | 0253 | 16.0627 | $953.32 | $282.29 | $190.66
21453 | T |  | Treat lower jaw fracture | 0256 | 37.1513 | $2,204.93 |  | $440.99
21454 | T |  | Treat lower jaw fracture | 0254 | 23.2980 | $1,382.74 | $321.35 | $276.55
21461 | T |  | Treat lower jaw fracture | 0256 | 37.1513 | $2,204.93 |  | $440.99
21462 | T |  | Treat lower jaw fracture | 0256 | 37.1513 | $2,204.93 |  | $440.99
21465 | T |  | Treat lower jaw fracture | 0256 | 37.1513 | $2,204.93 |  | $440.99
21470 | T |  | Treat lower jaw fracture | 0256 | 37.1513 | $2,204.93 |  | $440.99
21480 | T |  | Reset dislocated jaw | 0251 | 2.0010 | $118.76 |  | $23.75
21485 | T |  | Reset dislocated jaw | 0253 | 16.0627 | $953.32 | $282.29 | $190.66
21490 | T |  | Repair dislocated jaw | 0256 | 37.1513 | $2,204.93 |  | $440.99
21493 | T |  | Treat hyoid bone fracture | 0252 | 7.8317 | $464.81 | $113.41 | $92.96
21494 | T |  | Treat hyoid bone fracture | 0252 | 7.8317 | $464.81 | $113.41 | $92.96
21495 | T |  | Treat hyoid bone fracture | 0253 | 16.0627 | $953.32 | $282.29 | $190.66
21497 | T |  | Interdental wiring | 0253 | 16.0627 | $953.32 | $282.29 | $190.66
21499 | T |  | Head surgery procedure | 0251 | 2.0010 | $118.76 |  | $23.75
21501 | T |  | Drain neck/chest lesion | 0008 | 16.4242 | $974.78 |  | $194.96
21502 | T |  | Drain chest lesion | 0049 | 20.2784 | $1,203.52 |  | $240.70
21510 | C |  | Drainage of bone lesion |  |  |  |  |
21550 | T |  | Biopsy of neck/chest | 0021 | 14.9098 | $884.90 | $219.48 | $176.98
21555 | T |  | Remove lesion, neck/chest | 0022 | 19.5582 | $1,160.78 | $354.45 | $232.16
21556 | T |  | Remove lesion, neck/chest | 0022 | 19.5582 | $1,160.78 | $354.45 | $232.16
21557 | T |  | Remove tumor, neck/chest | 0022 | 19.5582 | $1,160.78 | $354.45 | $232.16
21600 | T |  | Partial removal of rib | 0050 | 23.7998 | $1,412.52 |  | $282.50
21610 | T |  | Partial removal of rib | 0050 | 23.7998 | $1,412.52 |  | $282.50
21615 | C |  | Removal of rib |  |  |  |  |
21616 | C |  | Removal of rib and nerves |  |  |  |  |
21620 | C |  | Partial removal of sternum |  |  |  |  |
21627 | C |  | Sternal debridement |  |  |  |  |
21630 | C |  | Extensive sternum surgery |  |  |  |  |
21632 | C |  | Extensive sternum surgery |  |  |  |  |
21685 | T |  | Hyoid myotomy & suspension | 0252 | 7.8317 | $464.81 | $113.41 | $92.96
21700 | T |  | Revision of neck muscle | 0049 | 20.2784 | $1,203.52 |  | $240.70
21705 | C |  | Revision of neck muscle/rib |  |  |  |  |
21720 | T |  | Revision of neck muscle | 0049 | 20.2784 | $1,203.52 |  | $240.70
21725 | T |  | Revision of neck muscle | 0006 | 1.5430 | $91.58 | $22.18 | $18.32
21740 | C |  | Reconstruction of sternum |  |  |  |  |
21742 | T |  | Repair stern/nuss w/o scope | 0051 | 36.3617 | $2,158.07 |  | $431.61
21743 | T |  | Repair sternum/nuss w/scope | 0051 | 36.3617 | $2,158.07 |  | $431.61
21750 | C |  | Repair of sternum separation |  |  |  |  |
21800 | T |  | Treatment of rib fracture | 0043 | 1.7614 | $104.54 |  | $20.91
21805 | T |  | Treatment of rib fracture | 0046 | 37.5315 | $2,227.49 | $535.76 | $445.50
21810 | C |  | Treatment of rib fracture(s) |  |  |  |  |
21820 | T |  | Treat sternum fracture | 0043 | 1.7614 | $104.54 |  | $20.91
21825 | C |  | Treat sternum fracture |  |  |  |  |
21899 | T |  | Neck/chest surgery procedure | 0251 | 2.0010 | $118.76 |  | $23.75
21920 | T |  | Biopsy soft tissue of back | 0020 | 6.9118 | $410.22 | $106.93 | $82.04
21925 | T |  | Biopsy soft tissue of back | 0022 | 19.5582 | $1,160.78 | $354.45 | $232.16
21930 | T |  | Remove lesion, back or flank | 0022 | 19.5582 | $1,160.78 | $354.45 | $232.16
21935 | T |  | Remove tumor, back | 0022 | 19.5582 | $1,160.78 | $354.45 | $232.16
22100 | T |  | Remove part of neck vertebra | 0208 | 42.1492 | $2,501.56 |  | $500.31
22101 | T |  | Remove part, thorax vertebra | 0208 | 42.1492 | $2,501.56 |  | $500.31
22102 | T |  | Remove part, lumbar vertebra | 0208 | 42.1492 | $2,501.56 |  | $500.31
22103 | T |  | Remove extra spine segment | 0208 | 42.1492 | $2,501.56 |  | $500.31
22110 | C |  | Remove part of neck vertebra |  |  |  |  |
22112 | C |  | Remove part, thorax vertebra |  |  |  |  |
22114 | C |  | Remove part, lumbar vertebra |  |  |  |  |
22116 | C |  | Remove extra spine segment |  |  |  |  |
22210 | C |  | Revision of neck spine |  |  |  |  |
22212 | C |  | Revision of thorax spine |  |  |  |  |
22214 | C |  | Revision of lumbar spine |  |  |  |  |
22216 | C |  | Revise, extra spine segment |  |  |  |  |
22220 | C |  | Revision of neck spine |  |  |  |  |
22222 | T |  | Revision of thorax spine | 0208 | 42.1492 | $2,501.56 |  | $500.31
22224 | C |  | Revision of lumbar spine |  |  |  |  |
22226 | C |  | Revise, extra spine segment |  |  |  |  |
22305 | T |  | Treat spine process fracture | 0043 | 1.7614 | $104.54 |  | $20.91
22310 | T |  | Treat spine fracture | 0043 | 1.7614 | $104.54 |  | $20.91
22315 | T |  | Treat spine fracture | 0043 | 1.7614 | $104.54 |  | $20.91
22318 | C |  | Treat odontoid fx w/o graft |  |  |  |  |
22319 | C |  | Treat odontoid fx w/graft |  |  |  |  |
22325 | C |  | Treat spine fracture |  |  |  |  |
22326 | C |  | Treat neck spine fracture |  |  |  |  |
22327 | C |  | Treat thorax spine fracture |  |  |  |  |
22328 | C |  | Treat each add spine fx |  |  |  |  |
22505 | T |  | Manipulation of spine | 0045 | 14.4289 | $856.36 | $268.47 | $171.27
22520 | T |  | Percut vertebroplasty thor | 0050 | 23.7998 | $1,412.52 |  | $282.50
22521 | T |  | Percut vertebroplasty lumb | 0050 | 23.7998 | $1,412.52 |  | $282.50
22522 | T |  | Percut vertebroplasty add'l | 0050 | 23.7998 | $1,412.52 |  | $282.50
22532 | C |  | Lat thorax spine fusion |  |  |  |  |
22533 | C |  | Lat lumbar spine fusion |  |  |  |  |
22534 | C |  | Lat thor/lumb, add'l seg |  |  |  |  |
22548 | C |  | Neck spine fusion |  |  |  |  |
22554 | C |  | Neck spine fusion |  |  |  |  |
22556 | C |  | Thorax spine fusion |  |  |  |  |
22558 | C |  | Lumbar spine fusion |  |  |  |  |
22585 | C |  | Additional spinal fusion |  |  |  |  |
22590 | C |  | Spine & skull spinal fusion |  |  |  |  |
22595 | C |  | Neck spinal fusion |  |  |  |  |
22600 | C |  | Neck spine fusion |  |  |  |  |
22610 | C |  | Thorax spine fusion |  |  |  |  |
22612 | T |  | Lumbar spine fusion | 0208 | 42.1492 | $2,501.56 |  | $500.31
22614 | T |  | Spine fusion, extra segment | 0208 | 42.1492 | $2,501.56 |  | $500.31
22630 | C |  | Lumbar spine fusion |  |  |  |  |
22632 | C |  | Spine fusion, extra segment |  |  |  |  |
22800 | C |  | Fusion of spine |  |  |  |  |
22802 | C |  | Fusion of spine |  |  |  |  |
22804 | C |  | Fusion of spine |  |  |  |  |
22808 | C |  | Fusion of spine |  |  |  |  |
22810 | C |  | Fusion of spine |  |  |  |  |
22812 | C |  | Fusion of spine |  |  |  |  |
22818 | C |  | Kyphectomy, 1-2 segments |  |  |  |  |
22819 | C |  | Kyphectomy, 3 or more |  |  |  |  |
22830 | C |  | Exploration of spinal fusion |  |  |  |  |
22840 | C |  | Insert spine fixation device |  |  |  |  |
22841 | C |  | Insert spine fixation device |  |  |  |  |
22842 | C |  | Insert spine fixation device |  |  |  |  |
22843 | C |  | Insert spine fixation device |  |  |  |  |
22844 | C |  | Insert spine fixation device |  |  |  |  |
22845 | C |  | Insert spine fixation device |  |  |  |  |
22846 | C |  | Insert spine fixation device |  |  |  |  |
22847 | C |  | Insert spine fixation device |  |  |  |  |
22848 | C |  | Insert pelv fixation device |  |  |  |  |
22849 | C |  | Reinsert spinal fixation |  |  |  |  |
22850 | C |  | Remove spine fixation device |  |  |  |  |
22851 | C |  | Apply spine prosth device |  |  |  |  |
22852 | C |  | Remove spine fixation device |  |  |  |  |
22855 | C |  | Remove spine fixation device |  |  |  |  |
22899 | T |  | Spine surgery procedure | 0043 | 1.7614 | $104.54 |  | $20.91
22900 | T |  | Remove abdominal wall lesion | 0022 | 19.5582 | $1,160.78 | $354.45 | $232.16
22999 | T |  | Abdomen surgery procedure | 0019 | 4.0363 | $239.55 | $71.87 | $47.91
23000 | T |  | Removal of calcium deposits | 0021 | 14.9098 | $884.90 | $219.48 | $176.98
23020 | T |  | Release shoulder joint | 0051 | 36.3617 | $2,158.07 |  | $431.61
23030 | T |  | Drain shoulder lesion | 0008 | 16.4242 | $974.78 |  | $194.96
23031 | T |  | Drain shoulder bursa | 0008 | 16.4242 | $974.78 |  | $194.96
23035 | T |  | Drain shoulder bone lesion | 0049 | 20.2784 | $1,203.52 |  | $240.70
23040 | T |  | Exploratory shoulder surgery | 0050 | 23.7998 | $1,412.52 |  | $282.50
23044 | T |  | Exploratory shoulder surgery | 0050 | 23.7998 | $1,412.52 |  | $282.50
23065 | T |  | Biopsy shoulder tissues | 0021 | 14.9098 | $884.90 | $219.48 | $176.98
23066 | T |  | Biopsy shoulder tissues | 0022 | 19.5582 | $1,160.78 | $354.45 | $232.16
23075 | T |  | Removal of shoulder lesion | 0021 | 14.9098 | $884.90 | $219.48 | $176.98
23076 | T |  | Removal of shoulder lesion | 0022 | 19.5582 | $1,160.78 | $354.45 | $232.16
23077 | T |  | Remove tumor of shoulder | 0022 | 19.5582 | $1,160.78 | $354.45 | $232.16
23100 | T |  | Biopsy of shoulder joint | 0049 | 20.2784 | $1,203.52 |  | $240.70
23101 | T |  | Shoulder joint surgery | 0050 | 23.7998 | $1,412.52 |  | $282.50
23105 | T |  | Remove shoulder joint lining | 0050 | 23.7998 | $1,412.52 |  | $282.50
23106 | T |  | Incision of collarbone joint | 0050 | 23.7998 | $1,412.52 |  | $282.50
23107 | T |  | Explore treat shoulder joint | 0050 | 23.7998 | $1,412.52 |  | $282.50
23120 | T |  | Partial removal, collar bone | 0051 | 36.3617 | $2,158.07 |  | $431.61
23125 | T |  | Removal of collar bone | 0051 | 36.3617 | $2,158.07 |  | $431.61
23130 | T |  | Remove shoulder bone, part | 0051 | 36.3617 | $2,158.07 |  | $431.61
23140 | T |  | Removal of bone lesion | 0049 | 20.2784 | $1,203.52 |  | $240.70
23145 | T |  | Removal of bone lesion | 0050 | 23.7998 | $1,412.52 |  | $282.50
23146 | T |  | Removal of bone lesion | 0050 | 23.7998 | $1,412.52 |  | $282.50
23150 | T |  | Removal of humerus lesion | 0050 | 23.7998 | $1,412.52 |  | $282.50
23155 | T |  | Removal of humerus lesion | 0050 | 23.7998 | $1,412.52 |  | $282.50
23156 | T |  | Removal of humerus lesion | 0050 | 23.7998 | $1,412.52 |  | $282.50
23170 | T |  | Remove collar bone lesion | 0050 | 23.7998 | $1,412.52 |  | $282.50
23172 | T |  | Remove shoulder blade lesion | 0050 | 23.7998 | $1,412.52 |  | $282.50
23174 | T |  | Remove humerus lesion | 0050 | 23.7998 | $1,412.52 |  | $282.50
23180 | T |  | Remove collar bone lesion | 0050 | 23.7998 | $1,412.52 |  | $282.50
23182 | T |  | Remove shoulder blade lesion | 0050 | 23.7998 | $1,412.52 |  | $282.50
23184 | T |  | Remove humerus lesion | 0050 | 23.7998 | $1,412.52 |  | $282.50
23190 | T |  | Partial removal of scapula | 0050 | 23.7998 | $1,412.52 |  | $282.50
23195 | T |  | Removal of head of humerus | 0050 | 23.7998 | $1,412.52 |  | $282.50
23200 | C |  | Removal of collar bone |  |  |  |  |
23210 | C |  | Removal of shoulder blade |  |  |  |  |
23220 | C |  | Partial removal of humerus |  |  |  |  |
23221 | C |  | Partial removal of humerus |  |  |  |  |
23222 | C |  | Partial removal of humerus |  |  |  |  |
23330 | T |  | Remove shoulder foreign body | 0020 | 6.9118 | $410.22 | $106.93 | $82.04
23331 | T |  | Remove shoulder foreign body | 0022 | 19.5582 | $1,160.78 | $354.45 | $232.16
23332 | C |  | Remove shoulder foreign body |  |  |  |  |
23350 | N |  | Injection for shoulder x-ray |  |  |  |  |
23395 | T |  | Muscle transfer,shoulder/arm | 0051 | 36.3617 | $2,158.07 |  | $431.61
23397 | T |  | Muscle transfers | 0052 | 43.7388 | $2,595.90 |  | $519.18
23400 | T |  | Fixation of shoulder blade | 0050 | 23.7998 | $1,412.52 |  | $282.50
23405 | T |  | Incision of tendon & muscle | 0050 | 23.7998 | $1,412.52 |  | $282.50
23406 | T |  | Incise tendon(s) & muscle(s) | 0050 | 23.7998 | $1,412.52 |  | $282.50
23410 | T |  | Repair of tendon(s) | 0052 | 43.7388 | $2,595.90 |  | $519.18
23412 | T |  | Repair rotator cuff, chronic | 0052 | 43.7388 | $2,595.90 |  | $519.18
23415 | T |  | Release of shoulder ligament | 0051 | 36.3617 | $2,158.07 |  | $431.61
23420 | T |  | Repair of shoulder | 0052 | 43.7388 | $2,595.90 |  | $519.18
23430 | T |  | Repair biceps tendon | 0052 | 43.7388 | $2,595.90 |  | $519.18
23440 | T |  | Remove/transplant tendon | 0052 | 43.7388 | $2,595.90 |  | $519.18
23450 | T |  | Repair shoulder capsule | 0052 | 43.7388 | $2,595.90 |  | $519.18
23455 | T |  | Repair shoulder capsule | 0052 | 43.7388 | $2,595.90 |  | $519.18
23460 | T |  | Repair shoulder capsule | 0052 | 43.7388 | $2,595.90 |  | $519.18
23462 | T |  | Repair shoulder capsule | 0052 | 43.7388 | $2,595.90 |  | $519.18
23465 | T |  | Repair shoulder capsule | 0052 | 43.7388 | $2,595.90 |  | $519.18
23466 | T |  | Repair shoulder capsule | 0052 | 43.7388 | $2,595.90 |  | $519.18
23470 | T |  | Reconstruct shoulder joint | 0425 | 99.7520 | $5,920.28 | $1,378.01 | $1,184.06
23472 | C |  | Reconstruct shoulder joint |  |  |  |  |
23480 | T |  | Revision of collar bone | 0051 | 36.3617 | $2,158.07 |  | $431.61
23485 | T |  | Revision of collar bone | 0051 | 36.3617 | $2,158.07 |  | $431.61
23490 | T |  | Reinforce clavicle | 0051 | 36.3617 | $2,158.07 |  | $431.61
23491 | T |  | Reinforce shoulder bones | 0051 | 36.3617 | $2,158.07 |  | $431.61
23500 | T |  | Treat clavicle fracture | 0043 | 1.7614 | $104.54 |  | $20.91
23505 | T |  | Treat clavicle fracture | 0043 | 1.7614 | $104.54 |  | $20.91
23515 | T |  | Treat clavicle fracture | 0046 | 37.5315 | $2,227.49 | $535.76 | $445.50
23520 | T |  | Treat clavicle dislocation | 0043 | 1.7614 | $104.54 |  | $20.91
23525 | T |  | Treat clavicle dislocation | 0043 | 1.7614 | $104.54 |  | $20.91
23530 | T |  | Treat clavicle dislocation | 0046 | 37.5315 | $2,227.49 | $535.76 | $445.50
23532 | T |  | Treat clavicle dislocation | 0046 | 37.5315 | $2,227.49 | $535.76 | $445.50
23540 | T |  | Treat clavicle dislocation | 0043 | 1.7614 | $104.54 |  | $20.91
23545 | T |  | Treat clavicle dislocation | 0043 | 1.7614 | $104.54 |  | $20.91
23550 | T |  | Treat clavicle dislocation | 0046 | 37.5315 | $2,227.49 | $535.76 | $445.50
23552 | T |  | Treat clavicle dislocation | 0046 | 37.5315 | $2,227.49 | $535.76 | $445.50
23570 | T |  | Treat shoulder blade fx | 0043 | 1.7614 | $104.54 |  | $20.91
23575 | T |  | Treat shoulder blade fx | 0043 | 1.7614 | $104.54 |  | $20.91
23585 | T |  | Treat scapula fracture | 0046 | 37.5315 | $2,227.49 | $535.76 | $445.50
23600 | T |  | Treat humerus fracture | 0043 | 1.7614 | $104.54 |  | $20.91
23605 | T |  | Treat humerus fracture | 0043 | 1.7614 | $104.54 |  | $20.91
23615 | T |  | Treat humerus fracture | 0046 | 37.5315 | $2,227.49 | $535.76 | $445.50
23616 | T |  | Treat humerus fracture | 0046 | 37.5315 | $2,227.49 | $535.76 | $445.50
23620 | T |  | Treat humerus fracture | 0043 | 1.7614 | $104.54 |  | $20.91
23625 | T |  | Treat humerus fracture | 0043 | 1.7614 | $104.54 |  | $20.91
23630 | T |  | Treat humerus fracture | 0046 | 37.5315 | $2,227.49 | $535.76 | $445.50
23650 | T |  | Treat shoulder dislocation | 0043 | 1.7614 | $104.54 |  | $20.91
23655 | T |  | Treat shoulder dislocation | 0045 | 14.4289 | $856.36 | $268.47 | $171.27
23660 | T |  | Treat shoulder dislocation | 0046 | 37.5315 | $2,227.49 | $535.76 | $445.50
23665 | T |  | Treat dislocation/fracture | 0043 | 1.7614 | $104.54 |  | $20.91
23670 | T |  | Treat dislocation/fracture | 0046 | 37.5315 | $2,227.49 | $535.76 | $445.50
23675 | T |  | Treat dislocation/fracture | 0043 | 1.7614 | $104.54 |  | $20.91
23680 | T |  | Treat dislocation/fracture | 0046 | 37.5315 | $2,227.49 | $535.76 | $445.50
23700 | T |  | Fixation of shoulder | 0045 | 14.4289 | $856.36 | $268.47 | $171.27
23800 | T |  | Fusion of shoulder joint | 0051 | 36.3617 | $2,158.07 |  | $431.61
23802 | T |  | Fusion of shoulder joint | 0051 | 36.3617 | $2,158.07 |  | $431.61
23900 | C |  | Amputation of arm & girdle |  |  |  |  |
23920 | C |  | Amputation at shoulder joint |  |  |  |  |
23921 | T |  | Amputation follow-up surgery | 0025 | 5.4690 | $324.59 | $101.85 | $64.92
23929 | T |  | Shoulder surgery procedure | 0043 | 1.7614 | $104.54 |  | $20.91
23930 | T |  | Drainage of arm lesion | 0008 | 16.4242 | $974.78 |  | $194.96
23931 | T |  | Drainage of arm bursa | 0008 | 16.4242 | $974.78 |  | $194.96
23935 | T |  | Drain arm/elbow bone lesion | 0049 | 20.2784 | $1,203.52 |  | $240.70
24000 | T |  | Exploratory elbow surgery | 0050 | 23.7998 | $1,412.52 |  | $282.50
24006 | T |  | Release elbow joint | 0050 | 23.7998 | $1,412.52 |  | $282.50
24065 | T |  | Biopsy arm/elbow soft tissue | 0021 | 14.9098 | $884.90 | $219.48 | $176.98
24066 | T |  | Biopsy arm/elbow soft tissue | 0021 | 14.9098 | $884.90 | $219.48 | $176.98
24075 | T |  | Remove arm/elbow lesion | 0021 | 14.9098 | $884.90 | $219.48 | $176.98
24076 | T |  | Remove arm/elbow lesion | 0022 | 19.5582 | $1,160.78 | $354.45 | $232.16
24077 | T |  | Remove tumor of arm/elbow | 0022 | 19.5582 | $1,160.78 | $354.45 | $232.16
24100 | T |  | Biopsy elbow joint lining | 0049 | 20.2784 | $1,203.52 |  | $240.70
24101 | T |  | Explore/treat elbow joint | 0050 | 23.7998 | $1,412.52 |  | $282.50
24102 | T |  | Remove elbow joint lining | 0050 | 23.7998 | $1,412.52 |  | $282.50
24105 | T |  | Removal of elbow bursa | 0049 | 20.2784 | $1,203.52 |  | $240.70
24110 | T |  | Remove humerus lesion | 0049 | 20.2784 | $1,203.52 |  | $240.70
24115 | T |  | Remove/graft bone lesion | 0050 | 23.7998 | $1,412.52 |  | $282.50
24116 | T |  | Remove/graft bone lesion | 0050 | 23.7998 | $1,412.52 |  | $282.50
24120 | T |  | Remove elbow lesion | 0049 | 20.2784 | $1,203.52 |  | $240.70
24125 | T |  | Remove/graft bone lesion | 0050 | 23.7998 | $1,412.52 |  | $282.50
24126 | T |  | Remove/graft bone lesion | 0050 | 23.7998 | $1,412.52 |  | $282.50
24130 | T |  | Removal of head of radius | 0050 | 23.7998 | $1,412.52 |  | $282.50
24134 | T |  | Removal of arm bone lesion | 0050 | 23.7998 | $1,412.52 |  | $282.50
24136 | T |  | Remove radius bone lesion | 0050 | 23.7998 | $1,412.52 |  | $282.50
24138 | T |  | Remove elbow bone lesion | 0050 | 23.7998 | $1,412.52 |  | $282.50
24140 | T |  | Partial removal of arm bone | 0050 | 23.7998 | $1,412.52 |  | $282.50
24145 | T |  | Partial removal of radius | 0050 | 23.7998 | $1,412.52 |  | $282.50
24147 | T |  | Partial removal of elbow | 0050 | 23.7998 | $1,412.52 |  | $282.50
24149 | T |  | Radical resection of elbow | 0050 | 23.7998 | $1,412.52 |  | $282.50
24150 | T |  | Extensive humerus surgery | 0052 | 43.7388 | $2,595.90 |  | $519.18
24151 | T |  | Extensive humerus surgery | 0052 | 43.7388 | $2,595.90 |  | $519.18
24152 | T |  | Extensive radius surgery | 0052 | 43.7388 | $2,595.90 |  | $519.18
24153 | T |  | Extensive radius surgery | 0052 | 43.7388 | $2,595.90 |  | $519.18
24155 | T |  | Removal of elbow joint | 0051 | 36.3617 | $2,158.07 |  | $431.61
24160 | T |  | Remove elbow joint implant | 0050 | 23.7998 | $1,412.52 |  | $282.50
24164 | T |  | Remove radius head implant | 0050 | 23.7998 | $1,412.52 |  | $282.50
24200 | T |  | Removal of arm foreign body | 0019 | 4.0363 | $239.55 | $71.87 | $47.91
24201 | T |  | Removal of arm foreign body | 0021 | 14.9098 | $884.90 | $219.48 | $176.98
24220 | N |  | Injection for elbow x-ray |  |  |  |  |
24300 | T |  | Manipulate elbow w/anesth | 0045 | 14.4289 | $856.36 | $268.47 | $171.27
24301 | T |  | Muscle/tendon transfer | 0050 | 23.7998 | $1,412.52 |  | $282.50
24305 | T |  | Arm tendon lengthening | 0050 | 23.7998 | $1,412.52 |  | $282.50
24310 | T |  | Revision of arm tendon | 0049 | 20.2784 | $1,203.52 |  | $240.70
24320 | T |  | Repair of arm tendon | 0051 | 36.3617 | $2,158.07 |  | $431.61
24330 | T |  | Revision of arm muscles | 0051 | 36.3617 | $2,158.07 |  | $431.61
24331 | T |  | Revision of arm muscles | 0051 | 36.3617 | $2,158.07 |  | $431.61
24332 | T |  | Tenolysis, triceps | 0049 | 20.2784 | $1,203.52 |  | $240.70
24340 | T |  | Repair of biceps tendon | 0051 | 36.3617 | $2,158.07 |  | $431.61
24341 | T |  | Repair arm tendon/muscle | 0051 | 36.3617 | $2,158.07 |  | $431.61
24342 | T |  | Repair of ruptured tendon | 0051 | 36.3617 | $2,158.07 |  | $431.61
24343 | T |  | Repr elbow lat ligmnt w/tiss | 0050 | 23.7998 | $1,412.52 |  | $282.50
24344 | T |  | Reconstruct elbow lat ligmnt | 0051 | 36.3617 | $2,158.07 |  | $431.61
24345 | T |  | Repr elbw med ligmnt w/tissu | 0050 | 23.7998 | $1,412.52 |  | $282.50
24346 | T |  | Reconstruct elbow med ligmnt | 0051 | 36.3617 | $2,158.07 |  | $431.61
24350 | T |  | Repair of tennis elbow | 0050 | 23.7998 | $1,412.52 |  | $282.50
24351 | T |  | Repair of tennis elbow | 0050 | 23.7998 | $1,412.52 |  | $282.50
24352 | T |  | Repair of tennis elbow | 0050 | 23.7998 | $1,412.52 |  | $282.50
24354 | T |  | Repair of tennis elbow | 0050 | 23.7998 | $1,412.52 |  | $282.50
24356 | T |  | Revision of tennis elbow | 0050 | 23.7998 | $1,412.52 |  | $282.50
24360 | T |  | Reconstruct elbow joint | 0047 | 31.4675 | $1,867.60 | $537.03 | $373.52
24361 | T |  | Reconstruct elbow joint | 0425 | 99.7520 | $5,920.28 | $1,378.01 | $1,184.06
24362 | T |  | Reconstruct elbow joint | 0048 | 42.9335 | $2,548.10 | $570.30 | $509.62
24363 | T |  | Replace elbow joint | 0425 | 99.7520 | $5,920.28 | $1,378.01 | $1,184.06
24365 | T |  | Reconstruct head of radius | 0047 | 31.4675 | $1,867.60 | $537.03 | $373.52
24366 | T |  | Reconstruct head of radius | 0425 | 99.7520 | $5,920.28 | $1,378.01 | $1,184.06
24400 | T |  | Revision of humerus | 0050 | 23.7998 | $1,412.52 |  | $282.50
24410 | T |  | Revision of humerus | 0050 | 23.7998 | $1,412.52 |  | $282.50
24420 | T |  | Revision of humerus | 0051 | 36.3617 | $2,158.07 |  | $431.61
24430 | T |  | Repair of humerus | 0051 | 36.3617 | $2,158.07 |  | $431.61
24435 | T |  | Repair humerus with graft | 0051 | 36.3617 | $2,158.07 |  | $431.61
24470 | T |  | Revision of elbow joint | 0051 | 36.3617 | $2,158.07 |  | $431.61
24495 | T |  | Decompression of forearm | 0050 | 23.7998 | $1,412.52 |  | $282.50
24498 | T |  | Reinforce humerus | 0051 | 36.3617 | $2,158.07 |  | $431.61
24500 | T |  | Treat humerus fracture | 0043 | 1.7614 | $104.54 |  | $20.91
24505 | T |  | Treat humerus fracture | 0043 | 1.7614 | $104.54 |  | $20.91
24515 | T |  | Treat humerus fracture | 0046 | 37.5315 | $2,227.49 | $535.76 | $445.50
24516 | T |  | Treat humerus fracture | 0046 | 37.5315 | $2,227.49 | $535.76 | $445.50
24530 | T |  | Treat humerus fracture | 0043 | 1.7614 | $104.54 |  | $20.91
24535 | T |  | Treat humerus fracture | 0043 | 1.7614 | $104.54 |  | $20.91
24538 | T |  | Treat humerus fracture | 0046 | 37.5315 | $2,227.49 | $535.76 | $445.50
24545 | T |  | Treat humerus fracture | 0046 | 37.5315 | $2,227.49 | $535.76 | $445.50
24546 | T |  | Treat humerus fracture | 0046 | 37.5315 | $2,227.49 | $535.76 | $445.50
24560 | T |  | Treat humerus fracture | 0043 | 1.7614 | $104.54 |  | $20.91
24565 | T |  | Treat humerus fracture | 0043 | 1.7614 | $104.54 |  | $20.91
24566 | T |  | Treat humerus fracture | 0046 | 37.5315 | $2,227.49 | $535.76 | $445.50
24575 | T |  | Treat humerus fracture | 0046 | 37.5315 | $2,227.49 | $535.76 | $445.50
24576 | T |  | Treat humerus fracture | 0043 | 1.7614 | $104.54 |  | $20.91
24577 | T |  | Treat humerus fracture | 0043 | 1.7614 | $104.54 |  | $20.91
24579 | T |  | Treat humerus fracture | 0046 | 37.5315 | $2,227.49 | $535.76 | $445.50
24582 | T |  | Treat humerus fracture | 0046 | 37.5315 | $2,227.49 | $535.76 | $445.50
24586 | T |  | Treat elbow fracture | 0046 | 37.5315 | $2,227.49 | $535.76 | $445.50
24587 | T |  | Treat elbow fracture | 0046 | 37.5315 | $2,227.49 | $535.76 | $445.50
24600 | T |  | Treat elbow dislocation | 0043 | 1.7614 | $104.54 |  | $20.91
24605 | T |  | Treat elbow dislocation | 0045 | 14.4289 | $856.36 | $268.47 | $171.27
24615 | T |  | Treat elbow dislocation | 0046 | 37.5315 | $2,227.49 | $535.76 | $445.50
24620 | T |  | Treat elbow fracture | 0043 | 1.7614 | $104.54 |  | $20.91
24635 | T |  | Treat elbow fracture | 0046 | 37.5315 | $2,227.49 | $535.76 | $445.50
24640 | T |  | Treat elbow dislocation | 0043 | 1.7614 | $104.54 |  | $20.91
24650 | T |  | Treat radius fracture | 0043 | 1.7614 | $104.54 |  | $20.91
24655 | T |  | Treat radius fracture | 0043 | 1.7614 | $104.54 |  | $20.91
24665 | T |  | Treat radius fracture | 0046 | 37.5315 | $2,227.49 | $535.76 | $445.50
24666 | T |  | Treat radius fracture | 0046 | 37.5315 | $2,227.49 | $535.76 | $445.50
24670 | T |  | Treat ulnar fracture | 0043 | 1.7614 | $104.54 |  | $20.91
24675 | T |  | Treat ulnar fracture | 0043 | 1.7614 | $104.54 |  | $20.91
24685 | T |  | Treat ulnar fracture | 0046 | 37.5315 | $2,227.49 | $535.76 | $445.50
24800 | T |  | Fusion of elbow joint | 0051 | 36.3617 | $2,158.07 |  | $431.61
24802 | T |  | Fusion/graft of elbow joint | 0051 | 36.3617 | $2,158.07 |  | $431.61
24900 | C |  | Amputation of upper arm |  |  |  |  |
24920 | C |  | Amputation of upper arm |  |  |  |  |
24925 | T |  | Amputation follow-up surgery | 0049 | 20.2784 | $1,203.52 |  | $240.70
24930 | C |  | Amputation follow-up surgery |  |  |  |  |
24931 | C |  | Amputate upper arm & implant |  |  |  |  |
24935 | T |  | Revision of amputation | 0052 | 43.7388 | $2,595.90 |  | $519.18
24940 | C |  | Revision of upper arm |  |  |  |  |
24999 | T |  | Upper arm/elbow surgery | 0043 | 1.7614 | $104.54 |  | $20.91
25000 | T |  | Incision of tendon sheath | 0049 | 20.2784 | $1,203.52 |  | $240.70
25001 | T |  | Incise flexor carpi radialis | 0049 | 20.2784 | $1,203.52 |  | $240.70
25020 | T |  | Decompress forearm 1 space | 0049 | 20.2784 | $1,203.52 |  | $240.70
25023 | T |  | Decompress forearm 1 space | 0050 | 23.7998 | $1,412.52 |  | $282.50
25024 | T |  | Decompress forearm 2 spaces | 0050 | 23.7998 | $1,412.52 |  | $282.50
25025 | T |  | Decompress forearm 2 spaces | 0050 | 23.7998 | $1,412.52 |  | $282.50
25028 | T |  | Drainage of forearm lesion | 0049 | 20.2784 | $1,203.52 |  | $240.70
25031 | T |  | Drainage of forearm bursa | 0049 | 20.2784 | $1,203.52 |  | $240.70
25035 | T |  | Treat forearm bone lesion | 0049 | 20.2784 | $1,203.52 |  | $240.70
25040 | T |  | Explore/treat wrist joint | 0050 | 23.7998 | $1,412.52 |  | $282.50
25065 | T |  | Biopsy forearm soft tissues | 0021 | 14.9098 | $884.90 | $219.48 | $176.98
25066 | T |  | Biopsy forearm soft tissues | 0022 | 19.5582 | $1,160.78 | $354.45 | $232.16
25075 | T |  | Removel forearm lesion subcu | 0021 | 14.9098 | $884.90 | $219.48 | $176.98
25076 | T |  | Removel forearm lesion deep | 0022 | 19.5582 | $1,160.78 | $354.45 | $232.16
25077 | T |  | Remove tumor, forearm/wrist | 0022 | 19.5582 | $1,160.78 | $354.45 | $232.16
25085 | T |  | Incision of wrist capsule | 0049 | 20.2784 | $1,203.52 |  | $240.70
25100 | T |  | Biopsy of wrist joint | 0049 | 20.2784 | $1,203.52 |  | $240.70
25101 | T |  | Explore/treat wrist joint | 0050 | 23.7998 | $1,412.52 |  | $282.50
25105 | T |  | Remove wrist joint lining | 0050 | 23.7998 | $1,412.52 |  | $282.50
25107 | T |  | Remove wrist joint cartilage | 0050 | 23.7998 | $1,412.52 |  | $282.50
25110 | T |  | Remove wrist tendon lesion | 0049 | 20.2784 | $1,203.52 |  | $240.70
25111 | T |  | Remove wrist tendon lesion | 0053 | 15.6085 | $926.36 | $253.49 | $185.27
25112 | T |  | Reremove wrist tendon lesion | 0053 | 15.6085 | $926.36 | $253.49 | $185.27
25115 | T |  | Remove wrist/forearm lesion | 0049 | 20.2784 | $1,203.52 |  | $240.70
25116 | T |  | Remove wrist/forearm lesion | 0049 | 20.2784 | $1,203.52 |  | $240.70
25118 | T |  | Excise wrist tendon sheath | 0050 | 23.7998 | $1,412.52 |  | $282.50
25119 | T |  | Partial removal of ulna | 0050 | 23.7998 | $1,412.52 |  | $282.50
25120 | T |  | Removal of forearm lesion | 0050 | 23.7998 | $1,412.52 |  | $282.50
25125 | T |  | Remove/graft forearm lesion | 0050 | 23.7998 | $1,412.52 |  | $282.50
25126 | T |  | Remove/graft forearm lesion | 0050 | 23.7998 | $1,412.52 |  | $282.50
25130 | T |  | Removal of wrist lesion | 0050 | 23.7998 | $1,412.52 |  | $282.50
25135 | T |  | Remove & graft wrist lesion | 0050 | 23.7998 | $1,412.52 |  | $282.50
25136 | T |  | Remove & graft wrist lesion | 0050 | 23.7998 | $1,412.52 |  | $282.50
25145 | T |  | Remove forearm bone lesion | 0050 | 23.7998 | $1,412.52 |  | $282.50
25150 | T |  | Partial removal of ulna | 0050 | 23.7998 | $1,412.52 |  | $282.50
25151 | T |  | Partial removal of radius | 0050 | 23.7998 | $1,412.52 |  | $282.50
25170 | T |  | Extensive forearm surgery | 0052 | 43.7388 | $2,595.90 |  | $519.18
25210 | T |  | Removal of wrist bone | 0054 | 25.2562 | $1,498.96 |  | $299.79
25215 | T |  | Removal of wrist bones | 0054 | 25.2562 | $1,498.96 |  | $299.79
25230 | T |  | Partial removal of radius | 0050 | 23.7998 | $1,412.52 |  | $282.50
25240 | T |  | Partial removal of ulna | 0050 | 23.7998 | $1,412.52 |  | $282.50
25246 | N |  | Injection for wrist x-ray |  |  |  |  |
25248 | T |  | Remove forearm foreign body | 0049 | 20.2784 | $1,203.52 |  | $240.70
25250 | T |  | Removal of wrist prosthesis | 0050 | 23.7998 | $1,412.52 |  | $282.50
25251 | T |  | Removal of wrist prosthesis | 0050 | 23.7998 | $1,412.52 |  | $282.50
25259 | T |  | Manipulate wrist w/anesthes | 0043 | 1.7614 | $104.54 |  | $20.91
25260 | T |  | Repair forearm tendon/muscle | 0050 | 23.7998 | $1,412.52 |  | $282.50
25263 | T |  | Repair forearm tendon/muscle | 0050 | 23.7998 | $1,412.52 |  | $282.50
25265 | T |  | Repair forearm tendon/muscle | 0050 | 23.7998 | $1,412.52 |  | $282.50
25270 | T |  | Repair forearm tendon/muscle | 0050 | 23.7998 | $1,412.52 |  | $282.50
25272 | T |  | Repair forearm tendon/muscle | 0050 | 23.7998 | $1,412.52 |  | $282.50
25274 | T |  | Repair forearm tendon/muscle | 0050 | 23.7998 | $1,412.52 |  | $282.50
25275 | T |  | Repair forearm tendon sheath | 0050 | 23.7998 | $1,412.52 |  | $282.50
25280 | T |  | Revise wrist/forearm tendon | 0050 | 23.7998 | $1,412.52 |  | $282.50
25290 | T |  | Incise wrist/forearm tendon | 0050 | 23.7998 | $1,412.52 |  | $282.50
25295 | T |  | Release wrist/forearm tendon | 0049 | 20.2784 | $1,203.52 |  | $240.70
25300 | T |  | Fusion of tendons at wrist | 0050 | 23.7998 | $1,412.52 |  | $282.50
25301 | T |  | Fusion of tendons at wrist | 0050 | 23.7998 | $1,412.52 |  | $282.50
25310 | T |  | Transplant forearm tendon | 0051 | 36.3617 | $2,158.07 |  | $431.61
25312 | T |  | Transplant forearm tendon | 0051 | 36.3617 | $2,158.07 |  | $431.61
25315 | T |  | Revise palsy hand tendon(s) | 0051 | 36.3617 | $2,158.07 |  | $431.61
25316 | T |  | Revise palsy hand tendon(s) | 0051 | 36.3617 | $2,158.07 |  | $431.61
25320 | T |  | Repair/revise wrist joint | 0051 | 36.3617 | $2,158.07 |  | $431.61
25332 | T |  | Revise wrist joint | 0047 | 31.4675 | $1,867.60 | $537.03 | $373.52
25335 | T |  | Realignment of hand | 0051 | 36.3617 | $2,158.07 |  | $431.61
25337 | T |  | Reconstruct ulna/radioulnar | 0051 | 36.3617 | $2,158.07 |  | $431.61
25350 | T |  | Revision of radius | 0051 | 36.3617 | $2,158.07 |  | $431.61
25355 | T |  | Revision of radius | 0051 | 36.3617 | $2,158.07 |  | $431.61
25360 | T |  | Revision of ulna | 0050 | 23.7998 | $1,412.52 |  | $282.50
25365 | T |  | Revise radius & ulna | 0050 | 23.7998 | $1,412.52 |  | $282.50
25370 | T |  | Revise radius or ulna | 0051 | 36.3617 | $2,158.07 |  | $431.61
25375 | T |  | Revise radius & ulna | 0051 | 36.3617 | $2,158.07 |  | $431.61
25390 | T |  | Shorten radius or ulna | 0050 | 23.7998 | $1,412.52 |  | $282.50
25391 | T |  | Lengthen radius or ulna | 0051 | 36.3617 | $2,158.07 |  | $431.61
25392 | T |  | Shorten radius & ulna | 0050 | 23.7998 | $1,412.52 |  | $282.50
25393 | T |  | Lengthen radius & ulna | 0051 | 36.3617 | $2,158.07 |  | $431.61
25394 | T |  | Repair carpal bone, shorten | 0053 | 15.6085 | $926.36 | $253.49 | $185.27
25400 | T |  | Repair radius or ulna | 0050 | 23.7998 | $1,412.52 |  | $282.50
25405 | T |  | Repair/graft radius or ulna | 0050 | 23.7998 | $1,412.52 |  | $282.50
25415 | T |  | Repair radius & ulna | 0050 | 23.7998 | $1,412.52 |  | $282.50
25420 | T |  | Repair/graft radius & ulna | 0051 | 36.3617 | $2,158.07 |  | $431.61
25425 | T |  | Repair/graft radius or ulna | 0051 | 36.3617 | $2,158.07 |  | $431.61
25426 | T |  | Repair/graft radius & ulna | 0051 | 36.3617 | $2,158.07 |  | $431.61
25430 | T |  | Vasc graft into carpal bone | 0054 | 25.2562 | $1,498.96 |  | $299.79
25431 | T |  | Repair nonunion carpal bone | 0054 | 25.2562 | $1,498.96 |  | $299.79
25440 | T |  | Repair/graft wrist bone | 0051 | 36.3617 | $2,158.07 |  | $431.61
25441 | T |  | Reconstruct wrist joint | 0425 | 99.7520 | $5,920.28 | $1,378.01 | $1,184.06
25442 | T |  | Reconstruct wrist joint | 0425 | 99.7520 | $5,920.28 | $1,378.01 | $1,184.06
25443 | T |  | Reconstruct wrist joint | 0048 | 42.9335 | $2,548.10 | $570.30 | $509.62
25444 | T |  | Reconstruct wrist joint | 0048 | 42.9335 | $2,548.10 | $570.30 | $509.62
25445 | T |  | Reconstruct wrist joint | 0048 | 42.9335 | $2,548.10 | $570.30 | $509.62
25446 | T |  | Wrist replacement | 0425 | 99.7520 | $5,920.28 | $1,378.01 | $1,184.06
25447 | T |  | Repair wrist joint(s) | 0047 | 31.4675 | $1,867.60 | $537.03 | $373.52
25449 | T |  | Remove wrist joint implant | 0047 | 31.4675 | $1,867.60 | $537.03 | $373.52
25450 | T |  | Revision of wrist joint | 0051 | 36.3617 | $2,158.07 |  | $431.61
25455 | T |  | Revision of wrist joint | 0051 | 36.3617 | $2,158.07 |  | $431.61
25490 | T |  | Reinforce radius | 0051 | 36.3617 | $2,158.07 |  | $431.61
25491 | T |  | Reinforce ulna | 0051 | 36.3617 | $2,158.07 |  | $431.61
25492 | T |  | Reinforce radius and ulna | 0051 | 36.3617 | $2,158.07 |  | $431.61
25500 | T |  | Treat fracture of radius | 0043 | 1.7614 | $104.54 |  | $20.91
25505 | T |  | Treat fracture of radius | 0043 | 1.7614 | $104.54 |  | $20.91
25515 | T |  | Treat fracture of radius | 0046 | 37.5315 | $2,227.49 | $535.76 | $445.50
25520 | T |  | Treat fracture of radius | 0043 | 1.7614 | $104.54 |  | $20.91
25525 | T |  | Treat fracture of radius | 0046 | 37.5315 | $2,227.49 | $535.76 | $445.50
25526 | T |  | Treat fracture of radius | 0046 | 37.5315 | $2,227.49 | $535.76 | $445.50
25530 | T |  | Treat fracture of ulna | 0043 | 1.7614 | $104.54 |  | $20.91
25535 | T |  | Treat fracture of ulna | 0043 | 1.7614 | $104.54 |  | $20.91
25545 | T |  | Treat fracture of ulna | 0046 | 37.5315 | $2,227.49 | $535.76 | $445.50
25560 | T |  | Treat fracture radius & ulna | 0043 | 1.7614 | $104.54 |  | $20.91
25565 | T |  | Treat fracture radius & ulna | 0043 | 1.7614 | $104.54 |  | $20.91
25574 | T |  | Treat fracture radius & ulna | 0046 | 37.5315 | $2,227.49 | $535.76 | $445.50
25575 | T |  | Treat fracture radius/ulna | 0046 | 37.5315 | $2,227.49 | $535.76 | $445.50
25600 | T |  | Treat fracture radius/ulna | 0043 | 1.7614 | $104.54 |  | $20.91
25605 | T |  | Treat fracture radius/ulna | 0043 | 1.7614 | $104.54 |  | $20.91
25611 | T |  | Treat fracture radius/ulna | 0046 | 37.5315 | $2,227.49 | $535.76 | $445.50
25620 | T |  | Treat fracture radius/ulna | 0046 | 37.5315 | $2,227.49 | $535.76 | $445.50
25622 | T |  | Treat wrist bone fracture | 0043 | 1.7614 | $104.54 |  | $20.91
25624 | T |  | Treat wrist bone fracture | 0043 | 1.7614 | $104.54 |  | $20.91
25628 | T |  | Treat wrist bone fracture | 0046 | 37.5315 | $2,227.49 | $535.76 | $445.50
25630 | T |  | Treat wrist bone fracture | 0043 | 1.7614 | $104.54 |  | $20.91
25635 | T |  | Treat wrist bone fracture | 0043 | 1.7614 | $104.54 |  | $20.91
25645 | T |  | Treat wrist bone fracture | 0046 | 37.5315 | $2,227.49 | $535.76 | $445.50
25650 | T |  | Treat wrist bone fracture | 0043 | 1.7614 | $104.54 |  | $20.91
25651 | T |  | Pin ulnar styloid fracture | 0046 | 37.5315 | $2,227.49 | $535.76 | $445.50
25652 | T |  | Treat fracture ulnar styloid | 0046 | 37.5315 | $2,227.49 | $535.76 | $445.50
25660 | T |  | Treat wrist dislocation | 0043 | 1.7614 | $104.54 |  | $20.91
25670 | T |  | Treat wrist dislocation | 0046 | 37.5315 | $2,227.49 | $535.76 | $445.50
25671 | T |  | Pin radioulnar dislocation | 0046 | 37.5315 | $2,227.49 | $535.76 | $445.50
25675 | T |  | Treat wrist dislocation | 0043 | 1.7614 | $104.54 |  | $20.91
25676 | T |  | Treat wrist dislocation | 0046 | 37.5315 | $2,227.49 | $535.76 | $445.50
25680 | T |  | Treat wrist fracture | 0043 | 1.7614 | $104.54 |  | $20.91
25685 | T |  | Treat wrist fracture | 0046 | 37.5315 | $2,227.49 | $535.76 | $445.50
25690 | T |  | Treat wrist dislocation | 0043 | 1.7614 | $104.54 |  | $20.91
25695 | T |  | Treat wrist dislocation | 0046 | 37.5315 | $2,227.49 | $535.76 | $445.50
25800 | T |  | Fusion of wrist joint | 0051 | 36.3617 | $2,158.07 |  | $431.61
25805 | T |  | Fusion/graft of wrist joint | 0051 | 36.3617 | $2,158.07 |  | $431.61
25810 | T |  | Fusion/graft of wrist joint | 0051 | 36.3617 | $2,158.07 |  | $431.61
25820 | T |  | Fusion of hand bones | 0053 | 15.6085 | $926.36 | $253.49 | $185.27
25825 | T |  | Fuse hand bones with graft | 0054 | 25.2562 | $1,498.96 |  | $299.79
25830 | T |  | Fusion, radioulnar jnt/ulna | 0051 | 36.3617 | $2,158.07 |  | $431.61
25900 | C |  | Amputation of forearm |  |  |  |  |
25905 | C |  | Amputation of forearm |  |  |  |  |
25907 | T |  | Amputation follow-up surgery | 0049 | 20.2784 | $1,203.52 |  | $240.70
25909 | C |  | Amputation follow-up surgery |  |  |  |  |
25915 | C |  | Amputation of forearm |  |  |  |  |
25920 | C |  | Amputate hand at wrist |  |  |  |  |
25922 | T |  | Amputate hand at wrist | 0049 | 20.2784 | $1,203.52 |  | $240.70
25924 | C |  | Amputation follow-up surgery |  |  |  |  |
25927 | C |  | Amputation of hand |  |  |  |  |
25929 | T |  | Amputation follow-up surgery | 0686 | 13.7661 | $817.02 |  | $163.40
25931 | C |  | Amputation follow-up surgery |  |  |  |  |
25999 | T |  | Forearm or wrist surgery | 0043 | 1.7614 | $104.54 |  | $20.91
26010 | T |  | Drainage of finger abscess | 0006 | 1.5430 | $91.58 | $22.18 | $18.32
26011 | T |  | Drainage of finger abscess | 0007 | 11.3983 | $676.49 |  | $135.30
26020 | T |  | Drain hand tendon sheath | 0053 | 15.6085 | $926.36 | $253.49 | $185.27
26025 | T |  | Drainage of palm bursa | 0053 | 15.6085 | $926.36 | $253.49 | $185.27
26030 | T |  | Drainage of palm bursa(s) | 0053 | 15.6085 | $926.36 | $253.49 | $185.27
26034 | T |  | Treat hand bone lesion | 0053 | 15.6085 | $926.36 | $253.49 | $185.27
26035 | T |  | Decompress fingers/hand | 0053 | 15.6085 | $926.36 | $253.49 | $185.27
26037 | T |  | Decompress fingers/hand | 0053 | 15.6085 | $926.36 | $253.49 | $185.27
26040 | T |  | Release palm contracture | 0054 | 25.2562 | $1,498.96 |  | $299.79
26045 | T |  | Release palm contracture | 0054 | 25.2562 | $1,498.96 |  | $299.79
26055 | T |  | Incise finger tendon sheath | 0053 | 15.6085 | $926.36 | $253.49 | $185.27
26060 | T |  | Incision of finger tendon | 0053 | 15.6085 | $926.36 | $253.49 | $185.27
26070 | T |  | Explore/treat hand joint | 0053 | 15.6085 | $926.36 | $253.49 | $185.27
26075 | T |  | Explore/treat finger joint | 0053 | 15.6085 | $926.36 | $253.49 | $185.27
26080 | T |  | Explore/treat finger joint | 0053 | 15.6085 | $926.36 | $253.49 | $185.27
26100 | T |  | Biopsy hand joint lining | 0053 | 15.6085 | $926.36 | $253.49 | $185.27
26105 | T |  | Biopsy finger joint lining | 0053 | 15.6085 | $926.36 | $253.49 | $185.27
26110 | T |  | Biopsy finger joint lining | 0053 | 15.6085 | $926.36 | $253.49 | $185.27
26115 | T |  | Removel hand lesion subcut | 0022 | 19.5582 | $1,160.78 | $354.45 | $232.16
26116 | T |  | Removel hand lesion, deep | 0022 | 19.5582 | $1,160.78 | $354.45 | $232.16
26117 | T |  | Remove tumor, hand/finger | 0022 | 19.5582 | $1,160.78 | $354.45 | $232.16
26121 | T |  | Release palm contracture | 0054 | 25.2562 | $1,498.96 |  | $299.79
26123 | T |  | Release palm contracture | 0054 | 25.2562 | $1,498.96 |  | $299.79
26125 | T |  | Release palm contracture | 0053 | 15.6085 | $926.36 | $253.49 | $185.27
26130 | T |  | Remove wrist joint lining | 0053 | 15.6085 | $926.36 | $253.49 | $185.27
26135 | T |  | Revise finger joint, each | 0054 | 25.2562 | $1,498.96 |  | $299.79
26140 | T |  | Revise finger joint, each | 0053 | 15.6085 | $926.36 | $253.49 | $185.27
26145 | T |  | Tendon excision, palm/finger | 0053 | 15.6085 | $926.36 | $253.49 | $185.27
26160 | T |  | Remove tendon sheath lesion | 0053 | 15.6085 | $926.36 | $253.49 | $185.27
26170 | T |  | Removal of palm tendon, each | 0053 | 15.6085 | $926.36 | $253.49 | $185.27
26180 | T |  | Removal of finger tendon | 0053 | 15.6085 | $926.36 | $253.49 | $185.27
26185 | T |  | Remove finger bone | 0053 | 15.6085 | $926.36 | $253.49 | $185.27
26200 | T |  | Remove hand bone lesion | 0053 | 15.6085 | $926.36 | $253.49 | $185.27
26205 | T |  | Remove/graft bone lesion | 0054 | 25.2562 | $1,498.96 |  | $299.79
26210 | T |  | Removal of finger lesion | 0053 | 15.6085 | $926.36 | $253.49 | $185.27
26215 | T |  | Remove/graft finger lesion | 0053 | 15.6085 | $926.36 | $253.49 | $185.27
26230 | T |  | Partial removal of hand bone | 0053 | 15.6085 | $926.36 | $253.49 | $185.27
26235 | T |  | Partial removal, finger bone | 0053 | 15.6085 | $926.36 | $253.49 | $185.27
26236 | T |  | Partial removal, finger bone | 0053 | 15.6085 | $926.36 | $253.49 | $185.27
26250 | T |  | Extensive hand surgery | 0053 | 15.6085 | $926.36 | $253.49 | $185.27
26255 | T |  | Extensive hand surgery | 0054 | 25.2562 | $1,498.96 |  | $299.79
26260 | T |  | Extensive finger surgery | 0053 | 15.6085 | $926.36 | $253.49 | $185.27
26261 | T |  | Extensive finger surgery | 0053 | 15.6085 | $926.36 | $253.49 | $185.27
26262 | T |  | Partial removal of finger | 0053 | 15.6085 | $926.36 | $253.49 | $185.27
26320 | T |  | Removal of implant from hand | 0021 | 14.9098 | $884.90 | $219.48 | $176.98
26340 | T |  | Manipulate finger w/anesth | 0043 | 1.7614 | $104.54 |  | $20.91
26350 | T |  | Repair finger/hand tendon | 0054 | 25.2562 | $1,498.96 |  | $299.79
26352 | T |  | Repair/graft hand tendon | 0054 | 25.2562 | $1,498.96 |  | $299.79
26356 | T |  | Repair finger/hand tendon | 0054 | 25.2562 | $1,498.96 |  | $299.79
26357 | T |  | Repair finger/hand tendon | 0054 | 25.2562 | $1,498.96 |  | $299.79
26358 | T |  | Repair/graft hand tendon | 0054 | 25.2562 | $1,498.96 |  | $299.79
26370 | T |  | Repair finger/hand tendon | 0054 | 25.2562 | $1,498.96 |  | $299.79
26372 | T |  | Repair/graft hand tendon | 0054 | 25.2562 | $1,498.96 |  | $299.79
26373 | T |  | Repair finger/hand tendon | 0054 | 25.2562 | $1,498.96 |  | $299.79
26390 | T |  | Revise hand/finger tendon | 0054 | 25.2562 | $1,498.96 |  | $299.79
26392 | T |  | Repair/graft hand tendon | 0054 | 25.2562 | $1,498.96 |  | $299.79
26410 | T |  | Repair hand tendon | 0053 | 15.6085 | $926.36 | $253.49 | $185.27
26412 | T |  | Repair/graft hand tendon | 0054 | 25.2562 | $1,498.96 |  | $299.79
26415 | T |  | Excision, hand/finger tendon | 0054 | 25.2562 | $1,498.96 |  | $299.79
26416 | T |  | Graft hand or finger tendon | 0054 | 25.2562 | $1,498.96 |  | $299.79
26418 | T |  | Repair finger tendon | 0053 | 15.6085 | $926.36 | $253.49 | $185.27
26420 | T |  | Repair/graft finger tendon | 0054 | 25.2562 | $1,498.96 |  | $299.79
26426 | T |  | Repair finger/hand tendon | 0054 | 25.2562 | $1,498.96 |  | $299.79
26428 | T |  | Repair/graft finger tendon | 0054 | 25.2562 | $1,498.96 |  | $299.79
26432 | T |  | Repair finger tendon | 0053 | 15.6085 | $926.36 | $253.49 | $185.27
26433 | T |  | Repair finger tendon | 0053 | 15.6085 | $926.36 | $253.49 | $185.27
26434 | T |  | Repair/graft finger tendon | 0054 | 25.2562 | $1,498.96 |  | $299.79
26437 | T |  | Realignment of tendons | 0053 | 15.6085 | $926.36 | $253.49 | $185.27
26440 | T |  | Release palm/finger tendon | 0053 | 15.6085 | $926.36 | $253.49 | $185.27
26442 | T |  | Release palm & finger tendon | 0054 | 25.2562 | $1,498.96 |  | $299.79
26445 | T |  | Release hand/finger tendon | 0053 | 15.6085 | $926.36 | $253.49 | $185.27
26449 | T |  | Release forearm/hand tendon | 0054 | 25.2562 | $1,498.96 |  | $299.79
26450 | T |  | Incision of palm tendon | 0053 | 15.6085 | $926.36 | $253.49 | $185.27
26455 | T |  | Incision of finger tendon | 0053 | 15.6085 | $926.36 | $253.49 | $185.27
26460 | T |  | Incise hand/finger tendon | 0053 | 15.6085 | $926.36 | $253.49 | $185.27
26471 | T |  | Fusion of finger tendons | 0053 | 15.6085 | $926.36 | $253.49 | $185.27
26474 | T |  | Fusion of finger tendons | 0053 | 15.6085 | $926.36 | $253.49 | $185.27
26476 | T |  | Tendon lengthening | 0053 | 15.6085 | $926.36 | $253.49 | $185.27
26477 | T |  | Tendon shortening | 0053 | 15.6085 | $926.36 | $253.49 | $185.27
26478 | T |  | Lengthening of hand tendon | 0053 | 15.6085 | $926.36 | $253.49 | $185.27
26479 | T |  | Shortening of hand tendon | 0053 | 15.6085 | $926.36 | $253.49 | $185.27
26480 | T |  | Transplant hand tendon | 0054 | 25.2562 | $1,498.96 |  | $299.79
26483 | T |  | Transplant/graft hand tendon | 0054 | 25.2562 | $1,498.96 |  | $299.79
26485 | T |  | Transplant palm tendon | 0054 | 25.2562 | $1,498.96 |  | $299.79
26489 | T |  | Transplant/graft palm tendon | 0054 | 25.2562 | $1,498.96 |  | $299.79
26490 | T |  | Revise thumb tendon | 0054 | 25.2562 | $1,498.96 |  | $299.79
26492 | T |  | Tendon transfer with graft | 0054 | 25.2562 | $1,498.96 |  | $299.79
26494 | T |  | Hand tendon/muscle transfer | 0054 | 25.2562 | $1,498.96 |  | $299.79
26496 | T |  | Revise thumb tendon | 0054 | 25.2562 | $1,498.96 |  | $299.79
26497 | T |  | Finger tendon transfer | 0054 | 25.2562 | $1,498.96 |  | $299.79
26498 | T |  | Finger tendon transfer | 0054 | 25.2562 | $1,498.96 |  | $299.79
26499 | T |  | Revision of finger | 0054 | 25.2562 | $1,498.96 |  | $299.79
26500 | T |  | Hand tendon reconstruction | 0053 | 15.6085 | $926.36 | $253.49 | $185.27
26502 | T |  | Hand tendon reconstruction | 0054 | 25.2562 | $1,498.96 |  | $299.79
26504 | T |  | Hand tendon reconstruction | 0054 | 25.2562 | $1,498.96 |  | $299.79
26508 | T |  | Release thumb contracture | 0053 | 15.6085 | $926.36 | $253.49 | $185.27
26510 | T |  | Thumb tendon transfer | 0054 | 25.2562 | $1,498.96 |  | $299.79
26516 | T |  | Fusion of knuckle joint | 0054 | 25.2562 | $1,498.96 |  | $299.79
26517 | T |  | Fusion of knuckle joints | 0054 | 25.2562 | $1,498.96 |  | $299.79
26518 | T |  | Fusion of knuckle joints | 0054 | 25.2562 | $1,498.96 |  | $299.79
26520 | T |  | Release knuckle contracture | 0053 | 15.6085 | $926.36 | $253.49 | $185.27
26525 | T |  | Release finger contracture | 0053 | 15.6085 | $926.36 | $253.49 | $185.27
26530 | T |  | Revise knuckle joint | 0047 | 31.4675 | $1,867.60 | $537.03 | $373.52
26531 | T |  | Revise knuckle with implant | 0048 | 42.9335 | $2,548.10 | $570.30 | $509.62
26535 | T |  | Revise finger joint | 0047 | 31.4675 | $1,867.60 | $537.03 | $373.52
26536 | T |  | Revise/implant finger joint | 0048 | 42.9335 | $2,548.10 | $570.30 | $509.62
26540 | T |  | Repair hand joint | 0053 | 15.6085 | $926.36 | $253.49 | $185.27
26541 | T |  | Repair hand joint with graft | 0054 | 25.2562 | $1,498.96 |  | $299.79
26542 | T |  | Repair hand joint with graft | 0053 | 15.6085 | $926.36 | $253.49 | $185.27
26545 | T |  | Reconstruct finger joint | 0054 | 25.2562 | $1,498.96 |  | $299.79
26546 | T |  | Repair nonunion hand | 0054 | 25.2562 | $1,498.96 |  | $299.79
26548 | T |  | Reconstruct finger joint | 0054 | 25.2562 | $1,498.96 |  | $299.79
26550 | T |  | Construct thumb replacement | 0054 | 25.2562 | $1,498.96 |  | $299.79
26551 | C |  | Great toe-hand transfer |  |  |  |  |
26553 | C |  | Single transfer, toe-hand |  |  |  |  |
26554 | C |  | Double transfer, toe-hand |  |  |  |  |
26555 | T |  | Positional change of finger | 0054 | 25.2562 | $1,498.96 |  | $299.79
26556 | C |  | Toe joint transfer |  |  |  |  |
26560 | T |  | Repair of web finger | 0053 | 15.6085 | $926.36 | $253.49 | $185.27
26561 | T |  | Repair of web finger | 0054 | 25.2562 | $1,498.96 |  | $299.79
26562 | T |  | Repair of web finger | 0054 | 25.2562 | $1,498.96 |  | $299.79
26565 | T |  | Correct metacarpal flaw | 0054 | 25.2562 | $1,498.96 |  | $299.79
26567 | T |  | Correct finger deformity | 0054 | 25.2562 | $1,498.96 |  | $299.79
26568 | T |  | Lengthen metacarpal/finger | 0054 | 25.2562 | $1,498.96 |  | $299.79
26580 | T |  | Repair hand deformity | 0053 | 15.6085 | $926.36 | $253.49 | $185.27
26587 | T |  | Reconstruct extra finger | 0053 | 15.6085 | $926.36 | $253.49 | $185.27
26590 | T |  | Repair finger deformity | 0053 | 15.6085 | $926.36 | $253.49 | $185.27
26591 | T |  | Repair muscles of hand | 0054 | 25.2562 | $1,498.96 |  | $299.79
26593 | T |  | Release muscles of hand | 0053 | 15.6085 | $926.36 | $253.49 | $185.27
26596 | T |  | Excision constricting tissue | 0053 | 15.6085 | $926.36 | $253.49 | $185.27
26600 | T |  | Treat metacarpal fracture | 0043 | 1.7614 | $104.54 |  | $20.91
26605 | T |  | Treat metacarpal fracture | 0043 | 1.7614 | $104.54 |  | $20.91
26607 | T |  | Treat metacarpal fracture | 0043 | 1.7614 | $104.54 |  | $20.91
26608 | T |  | Treat metacarpal fracture | 0046 | 37.5315 | $2,227.49 | $535.76 | $445.50
26615 | T |  | Treat metacarpal fracture | 0046 | 37.5315 | $2,227.49 | $535.76 | $445.50
26641 | T |  | Treat thumb dislocation | 0043 | 1.7614 | $104.54 |  | $20.91
26645 | T |  | Treat thumb fracture | 0043 | 1.7614 | $104.54 |  | $20.91
26650 | T |  | Treat thumb fracture | 0046 | 37.5315 | $2,227.49 | $535.76 | $445.50
26665 | T |  | Treat thumb fracture | 0046 | 37.5315 | $2,227.49 | $535.76 | $445.50
26670 | T |  | Treat hand dislocation | 0043 | 1.7614 | $104.54 |  | $20.91
26675 | T |  | Treat hand dislocation | 0043 | 1.7614 | $104.54 |  | $20.91
26676 | T |  | Pin hand dislocation | 0046 | 37.5315 | $2,227.49 | $535.76 | $445.50
26685 | T |  | Treat hand dislocation | 0046 | 37.5315 | $2,227.49 | $535.76 | $445.50
26686 | T |  | Treat hand dislocation | 0046 | 37.5315 | $2,227.49 | $535.76 | $445.50
26700 | T |  | Treat knuckle dislocation | 0043 | 1.7614 | $104.54 |  | $20.91
26705 | T |  | Treat knuckle dislocation | 0043 | 1.7614 | $104.54 |  | $20.91
26706 | T |  | Pin knuckle dislocation | 0043 | 1.7614 | $104.54 |  | $20.91
26715 | T |  | Treat knuckle dislocation | 0046 | 37.5315 | $2,227.49 | $535.76 | $445.50
26720 | T |  | Treat finger fracture, each | 0043 | 1.7614 | $104.54 |  | $20.91
26725 | T |  | Treat finger fracture, each | 0043 | 1.7614 | $104.54 |  | $20.91
26727 | T |  | Treat finger fracture, each | 0046 | 37.5315 | $2,227.49 | $535.76 | $445.50
26735 | T |  | Treat finger fracture, each | 0046 | 37.5315 | $2,227.49 | $535.76 | $445.50
26740 | T |  | Treat finger fracture, each | 0043 | 1.7614 | $104.54 |  | $20.91
26742 | T |  | Treat finger fracture, each | 0043 | 1.7614 | $104.54 |  | $20.91
26746 | T |  | Treat finger fracture, each | 0046 | 37.5315 | $2,227.49 | $535.76 | $445.50
26750 | T |  | Treat finger fracture, each | 0043 | 1.7614 | $104.54 |  | $20.91
26755 | T |  | Treat finger fracture, each | 0043 | 1.7614 | $104.54 |  | $20.91
26756 | T |  | Pin finger fracture, each | 0046 | 37.5315 | $2,227.49 | $535.76 | $445.50
26765 | T |  | Treat finger fracture, each | 0046 | 37.5315 | $2,227.49 | $535.76 | $445.50
26770 | T |  | Treat finger dislocation | 0043 | 1.7614 | $104.54 |  | $20.91
26775 | T |  | Treat finger dislocation | 0045 | 14.4289 | $856.36 | $268.47 | $171.27
26776 | T |  | Pin finger dislocation | 0046 | 37.5315 | $2,227.49 | $535.76 | $445.50
26785 | T |  | Treat finger dislocation | 0046 | 37.5315 | $2,227.49 | $535.76 | $445.50
26820 | T |  | Thumb fusion with graft | 0054 | 25.2562 | $1,498.96 |  | $299.79
26841 | T |  | Fusion of thumb | 0054 | 25.2562 | $1,498.96 |  | $299.79
26842 | T |  | Thumb fusion with graft | 0054 | 25.2562 | $1,498.96 |  | $299.79
26843 | T |  | Fusion of hand joint | 0054 | 25.2562 | $1,498.96 |  | $299.79
26844 | T |  | Fusion/graft of hand joint | 0054 | 25.2562 | $1,498.96 |  | $299.79
26850 | T |  | Fusion of knuckle | 0054 | 25.2562 | $1,498.96 |  | $299.79
26852 | T |  | Fusion of knuckle with graft | 0054 | 25.2562 | $1,498.96 |  | $299.79
26860 | T |  | Fusion of finger joint | 0054 | 25.2562 | $1,498.96 |  | $299.79
26861 | T |  | Fusion of finger jnt, add-on | 0054 | 25.2562 | $1,498.96 |  | $299.79
26862 | T |  | Fusion/graft of finger joint | 0054 | 25.2562 | $1,498.96 |  | $299.79
26863 | T |  | Fuse/graft added joint | 0054 | 25.2562 | $1,498.96 |  | $299.79
26910 | T |  | Amputate metacarpal bone | 0054 | 25.2562 | $1,498.96 |  | $299.79
26951 | T |  | Amputation of finger/thumb | 0053 | 15.6085 | $926.36 | $253.49 | $185.27
26952 | T |  | Amputation of finger/thumb | 0053 | 15.6085 | $926.36 | $253.49 | $185.27
26989 | T |  | Hand/finger surgery | 0043 | 1.7614 | $104.54 |  | $20.91
26990 | T |  | Drainage of pelvis lesion | 0049 | 20.2784 | $1,203.52 |  | $240.70
26991 | T |  | Drainage of pelvis bursa | 0049 | 20.2784 | $1,203.52 |  | $240.70
26992 | C |  | Drainage of bone lesion |  |  |  |  |
27000 | T |  | Incision of hip tendon | 0049 | 20.2784 | $1,203.52 |  | $240.70
27001 | T |  | Incision of hip tendon | 0050 | 23.7998 | $1,412.52 |  | $282.50
27003 | T |  | Incision of hip tendon | 0050 | 23.7998 | $1,412.52 |  | $282.50
27005 | C |  | Incision of hip tendon |  |  |  |  |
27006 | C |  | Incision of hip tendons |  |  |  |  |
27025 | C |  | Incision of hip/thigh fascia |  |  |  |  |
27030 | C |  | Drainage of hip joint |  |  |  |  |
27033 | T |  | Exploration of hip joint | 0051 | 36.3617 | $2,158.07 |  | $431.61
27035 | T |  | Denervation of hip joint | 0052 | 43.7388 | $2,595.90 |  | $519.18
27036 | C |  | Excision of hip joint/muscle |  |  |  |  |
27040 | T |  | Biopsy of soft tissues | 0020 | 6.9118 | $410.22 | $106.93 | $82.04
27041 | T |  | Biopsy of soft tissues | 0020 | 6.9118 | $410.22 | $106.93 | $82.04
27047 | T |  | Remove hip/pelvis lesion | 0022 | 19.5582 | $1,160.78 | $354.45 | $232.16
27048 | T |  | Remove hip/pelvis lesion | 0022 | 19.5582 | $1,160.78 | $354.45 | $232.16
27049 | T |  | Remove tumor, hip/pelvis | 0022 | 19.5582 | $1,160.78 | $354.45 | $232.16
27050 | T |  | Biopsy of sacroiliac joint | 0049 | 20.2784 | $1,203.52 |  | $240.70
27052 | T |  | Biopsy of hip joint | 0049 | 20.2784 | $1,203.52 |  | $240.70
27054 | C |  | Removal of hip joint lining |  |  |  |  |
27060 | T |  | Removal of ischial bursa | 0049 | 20.2784 | $1,203.52 |  | $240.70
27062 | T |  | Remove femur lesion/bursa | 0049 | 20.2784 | $1,203.52 |  | $240.70
27065 | T |  | Removal of hip bone lesion | 0049 | 20.2784 | $1,203.52 |  | $240.70
27066 | T |  | Removal of hip bone lesion | 0050 | 23.7998 | $1,412.52 |  | $282.50
27067 | T |  | Remove/graft hip bone lesion | 0050 | 23.7998 | $1,412.52 |  | $282.50
27070 | C |  | Partial removal of hip bone |  |  |  |  |
27071 | C |  | Partial removal of hip bone |  |  |  |  |
27075 | C |  | Extensive hip surgery |  |  |  |  |
27076 | C |  | Extensive hip surgery |  |  |  |  |
27077 | C |  | Extensive hip surgery |  |  |  |  |
27078 | C |  | Extensive hip surgery |  |  |  |  |
27079 | C |  | Extensive hip surgery |  |  |  |  |
27080 | T |  | Removal of tail bone | 0050 | 23.7998 | $1,412.52 |  | $282.50
27086 | T |  | Remove hip foreign body | 0020 | 6.9118 | $410.22 | $106.93 | $82.04
27087 | T |  | Remove hip foreign body | 0049 | 20.2784 | $1,203.52 |  | $240.70
27090 | C |  | Removal of hip prosthesis |  |  |  |  |
27091 | C |  | Removal of hip prosthesis |  |  |  |  |
27093 | N |  | Injection for hip x-ray |  |  |  |  |
27095 | N |  | Injection for hip x-ray |  |  |  |  |
27096 | B |  | Inject sacroiliac joint |  |  |  |  |
27097 | T |  | Revision of hip tendon | 0050 | 23.7998 | $1,412.52 |  | $282.50
27098 | T |  | Transfer tendon to pelvis | 0050 | 23.7998 | $1,412.52 |  | $282.50
27100 | T |  | Transfer of abdominal muscle | 0051 | 36.3617 | $2,158.07 |  | $431.61
27105 | T |  | Transfer of spinal muscle | 0051 | 36.3617 | $2,158.07 |  | $431.61
27110 | T |  | Transfer of iliopsoas muscle | 0051 | 36.3617 | $2,158.07 |  | $431.61
27111 | T |  | Transfer of iliopsoas muscle | 0051 | 36.3617 | $2,158.07 |  | $431.61
27120 | C |  | Reconstruction of hip socket |  |  |  |  |
27122 | C |  | Reconstruction of hip socket |  |  |  |  |
27125 | C |  | Partial hip replacement |  |  |  |  |
27130 | C |  | Total hip arthroplasty |  |  |  |  |
27132 | C |  | Total hip arthroplasty |  |  |  |  |
27134 | C |  | Revise hip joint replacement |  |  |  |  |
27137 | C |  | Revise hip joint replacement |  |  |  |  |
27138 | C |  | Revise hip joint replacement |  |  |  |  |
27140 | C |  | Transplant femur ridge |  |  |  |  |
27146 | C |  | Incision of hip bone |  |  |  |  |
27147 | C |  | Revision of hip bone |  |  |  |  |
27151 | C |  | Incision of hip bones |  |  |  |  |
27156 | C |  | Revision of hip bones |  |  |  |  |
27158 | C |  | Revision of pelvis |  |  |  |  |
27161 | C |  | Incision of neck of femur |  |  |  |  |
27165 | C |  | Incision/fixation of femur |  |  |  |  |
27170 | C |  | Repair/graft femur head/neck |  |  |  |  |
27175 | C |  | Treat slipped epiphysis |  |  |  |  |
27176 | C |  | Treat slipped epiphysis |  |  |  |  |
27177 | C |  | Treat slipped epiphysis |  |  |  |  |
27178 | C |  | Treat slipped epiphysis |  |  |  |  |
27179 | C |  | Revise head/neck of femur |  |  |  |  |
27181 | C |  | Treat slipped epiphysis |  |  |  |  |
27185 | C |  | Revision of femur epiphysis |  |  |  |  |
27187 | C |  | Reinforce hip bones |  |  |  |  |
27193 | T |  | Treat pelvic ring fracture | 0043 | 1.7614 | $104.54 |  | $20.91
27194 | T |  | Treat pelvic ring fracture | 0045 | 14.4289 | $856.36 | $268.47 | $171.27
27200 | T |  | Treat tail bone fracture | 0043 | 1.7614 | $104.54 |  | $20.91
27202 | T |  | Treat tail bone fracture | 0046 | 37.5315 | $2,227.49 | $535.76 | $445.50
27215 | C |  | Treat pelvic fracture(s) |  |  |  |  |
27216 | T |  | Treat pelvic ring fracture | 0050 | 23.7998 | $1,412.52 |  | $282.50
27217 | C |  | Treat pelvic ring fracture |  |  |  |  |
27218 | C |  | Treat pelvic ring fracture |  |  |  |  |
27220 | T |  | Treat hip socket fracture | 0043 | 1.7614 | $104.54 |  | $20.91
27222 | C |  | Treat hip socket fracture |  |  |  |  |
27226 | C |  | Treat hip wall fracture |  |  |  |  |
27227 | C |  | Treat hip fracture(s) |  |  |  |  |
27228 | C |  | Treat hip fracture(s) |  |  |  |  |
27230 | T |  | Treat thigh fracture | 0043 | 1.7614 | $104.54 |  | $20.91
27232 | C |  | Treat thigh fracture |  |  |  |  |
27235 | T |  | Treat thigh fracture | 0050 | 23.7998 | $1,412.52 |  | $282.50
27236 | C |  | Treat thigh fracture |  |  |  |  |
27238 | T |  | Treat thigh fracture | 0043 | 1.7614 | $104.54 |  | $20.91
27240 | C |  | Treat thigh fracture |  |  |  |  |
27244 | C |  | Treat thigh fracture |  |  |  |  |
27245 | C |  | Treat thigh fracture |  |  |  |  |
27246 | T |  | Treat thigh fracture | 0043 | 1.7614 | $104.54 |  | $20.91
27248 | C |  | Treat thigh fracture |  |  |  |  |
27250 | T |  | Treat hip dislocation | 0043 | 1.7614 | $104.54 |  | $20.91
27252 | T |  | Treat hip dislocation | 0045 | 14.4289 | $856.36 | $268.47 | $171.27
27253 | C |  | Treat hip dislocation |  |  |  |  |
27254 | C |  | Treat hip dislocation |  |  |  |  |
27256 | T |  | Treat hip dislocation | 0043 | 1.7614 | $104.54 |  | $20.91
27257 | T |  | Treat hip dislocation | 0045 | 14.4289 | $856.36 | $268.47 | $171.27
27258 | C |  | Treat hip dislocation |  |  |  |  |
27259 | C |  | Treat hip dislocation |  |  |  |  |
27265 | T |  | Treat hip dislocation | 0043 | 1.7614 | $104.54 |  | $20.91
27266 | T |  | Treat hip dislocation | 0045 | 14.4289 | $856.36 | $268.47 | $171.27
27275 | T |  | Manipulation of hip joint | 0045 | 14.4289 | $856.36 | $268.47 | $171.27
27280 | C |  | Fusion of sacroiliac joint |  |  |  |  |
27282 | C |  | Fusion of pubic bones |  |  |  |  |
27284 | C |  | Fusion of hip joint |  |  |  |  |
27286 | C |  | Fusion of hip joint |  |  |  |  |
27290 | C |  | Amputation of leg at hip |  |  |  |  |
27295 | C |  | Amputation of leg at hip |  |  |  |  |
27299 | T |  | Pelvis/hip joint surgery | 0043 | 1.7614 | $104.54 |  | $20.91
27301 | T |  | Drain thigh/knee lesion | 0008 | 16.4242 | $974.78 |  | $194.96
27303 | C |  | Drainage of bone lesion |  |  |  |  |
27305 | T |  | Incise thigh tendon & fascia | 0049 | 20.2784 | $1,203.52 |  | $240.70
27306 | T |  | Incision of thigh tendon | 0049 | 20.2784 | $1,203.52 |  | $240.70
27307 | T |  | Incision of thigh tendons | 0049 | 20.2784 | $1,203.52 |  | $240.70
27310 | T |  | Exploration of knee joint | 0050 | 23.7998 | $1,412.52 |  | $282.50
27315 | T |  | Partial removal, thigh nerve | 0220 | 17.2800 | $1,025.57 |  | $205.11
27320 | T |  | Partial removal, thigh nerve | 0220 | 17.2800 | $1,025.57 |  | $205.11
27323 | T |  | Biopsy, thigh soft tissues | 0021 | 14.9098 | $884.90 | $219.48 | $176.98
27324 | T |  | Biopsy, thigh soft tissues | 0022 | 19.5582 | $1,160.78 | $354.45 | $232.16
27327 | T |  | Removal of thigh lesion | 0022 | 19.5582 | $1,160.78 | $354.45 | $232.16
27328 | T |  | Removal of thigh lesion | 0022 | 19.5582 | $1,160.78 | $354.45 | $232.16
27329 | T |  | Remove tumor, thigh/knee | 0022 | 19.5582 | $1,160.78 | $354.45 | $232.16
27330 | T |  | Biopsy, knee joint lining | 0050 | 23.7998 | $1,412.52 |  | $282.50
27331 | T |  | Explore/treat knee joint | 0050 | 23.7998 | $1,412.52 |  | $282.50
27332 | T |  | Removal of knee cartilage | 0050 | 23.7998 | $1,412.52 |  | $282.50
27333 | T |  | Removal of knee cartilage | 0050 | 23.7998 | $1,412.52 |  | $282.50
27334 | T |  | Remove knee joint lining | 0050 | 23.7998 | $1,412.52 |  | $282.50
27335 | T |  | Remove knee joint lining | 0050 | 23.7998 | $1,412.52 |  | $282.50
27340 | T |  | Removal of kneecap bursa | 0049 | 20.2784 | $1,203.52 |  | $240.70
27345 | T |  | Removal of knee cyst | 0049 | 20.2784 | $1,203.52 |  | $240.70
27347 | T |  | Remove knee cyst | 0049 | 20.2784 | $1,203.52 |  | $240.70
27350 | T |  | Removal of kneecap | 0050 | 23.7998 | $1,412.52 |  | $282.50
27355 | T |  | Remove femur lesion | 0050 | 23.7998 | $1,412.52 |  | $282.50
27356 | T |  | Remove femur lesion/graft | 0050 | 23.7998 | $1,412.52 |  | $282.50
27357 | T |  | Remove femur lesion/graft | 0050 | 23.7998 | $1,412.52 |  | $282.50
27358 | T |  | Remove femur lesion/fixation | 0050 | 23.7998 | $1,412.52 |  | $282.50
27360 | T |  | Partial removal, leg bone(s) | 0050 | 23.7998 | $1,412.52 |  | $282.50
27365 | C |  | Extensive leg surgery |  |  |  |  |
27370 | N |  | Injection for knee x-ray |  |  |  |  |
27372 | T |  | Removal of foreign body | 0022 | 19.5582 | $1,160.78 | $354.45 | $232.16
27380 | T |  | Repair of kneecap tendon | 0049 | 20.2784 | $1,203.52 |  | $240.70
27381 | T |  | Repair/graft kneecap tendon | 0049 | 20.2784 | $1,203.52 |  | $240.70
27385 | T |  | Repair of thigh muscle | 0049 | 20.2784 | $1,203.52 |  | $240.70
27386 | T |  | Repair/graft of thigh muscle | 0049 | 20.2784 | $1,203.52 |  | $240.70
27390 | T |  | Incision of thigh tendon | 0049 | 20.2784 | $1,203.52 |  | $240.70
27391 | T |  | Incision of thigh tendons | 0049 | 20.2784 | $1,203.52 |  | $240.70
27392 | T |  | Incision of thigh tendons | 0049 | 20.2784 | $1,203.52 |  | $240.70
27393 | T |  | Lengthening of thigh tendon | 0050 | 23.7998 | $1,412.52 |  | $282.50
27394 | T |  | Lengthening of thigh tendons | 0050 | 23.7998 | $1,412.52 |  | $282.50
27395 | T |  | Lengthening of thigh tendons | 0051 | 36.3617 | $2,158.07 |  | $431.61
27396 | T |  | Transplant of thigh tendon | 0050 | 23.7998 | $1,412.52 |  | $282.50
27397 | T |  | Transplants of thigh tendons | 0051 | 36.3617 | $2,158.07 |  | $431.61
27400 | T |  | Revise thigh muscles/tendons | 0051 | 36.3617 | $2,158.07 |  | $431.61
27403 | T |  | Repair of knee cartilage | 0050 | 23.7998 | $1,412.52 |  | $282.50
27405 | T |  | Repair of knee ligament | 0051 | 36.3617 | $2,158.07 |  | $431.61
27407 | T |  | Repair of knee ligament | 0051 | 36.3617 | $2,158.07 |  | $431.61
27409 | T |  | Repair of knee ligaments | 0051 | 36.3617 | $2,158.07 |  | $431.61
27412 | T |  | Autochondrocyte implant knee | 0042 | 43.7761 | $2,598.11 | $804.74 | $519.62
27415 | T |  | Osteochondral knee allograft | 0042 | 43.7761 | $2,598.11 | $804.74 | $519.62
27418 | T |  | Repair degenerated kneecap | 0051 | 36.3617 | $2,158.07 |  | $431.61
27420 | T |  | Revision of unstable kneecap | 0051 | 36.3617 | $2,158.07 |  | $431.61
27422 | T |  | Revision of unstable kneecap | 0051 | 36.3617 | $2,158.07 |  | $431.61
27424 | T |  | Revision/removal of kneecap | 0051 | 36.3617 | $2,158.07 |  | $431.61
27425 | T |  | Lateral retinacular release | 0050 | 23.7998 | $1,412.52 |  | $282.50
27427 | T |  | Reconstruction, knee | 0052 | 43.7388 | $2,595.90 |  | $519.18
27428 | T |  | Reconstruction, knee | 0052 | 43.7388 | $2,595.90 |  | $519.18
27429 | T |  | Reconstruction, knee | 0052 | 43.7388 | $2,595.90 |  | $519.18
27430 | T |  | Revision of thigh muscles | 0051 | 36.3617 | $2,158.07 |  | $431.61
27435 | T |  | Incision of knee joint | 0051 | 36.3617 | $2,158.07 |  | $431.61
27437 | T |  | Revise kneecap | 0047 | 31.4675 | $1,867.60 | $537.03 | $373.52
27438 | T |  | Revise kneecap with implant | 0048 | 42.9335 | $2,548.10 | $570.30 | $509.62
27440 | T |  | Revision of knee joint | 0047 | 31.4675 | $1,867.60 | $537.03 | $373.52
27441 | T |  | Revision of knee joint | 0047 | 31.4675 | $1,867.60 | $537.03 | $373.52
27442 | T |  | Revision of knee joint | 0047 | 31.4675 | $1,867.60 | $537.03 | $373.52
27443 | T |  | Revision of knee joint | 0047 | 31.4675 | $1,867.60 | $537.03 | $373.52
27445 | C |  | Revision of knee joint |  |  |  |  |
27446 | T |  | Revision of knee joint | 0681 | 136.5417 | $8,103.75 | $2,081.48 | $1,620.75
27447 | C |  | Total knee arthroplasty |  |  |  |  |
27448 | C |  | Incision of thigh |  |  |  |  |
27450 | C |  | Incision of thigh |  |  |  |  |
27454 | C |  | Realignment of thigh bone |  |  |  |  |
27455 | C |  | Realignment of knee |  |  |  |  |
27457 | C |  | Realignment of knee |  |  |  |  |
27465 | C |  | Shortening of thigh bone |  |  |  |  |
27466 | C |  | Lengthening of thigh bone |  |  |  |  |
27468 | C |  | Shorten/lengthen thighs |  |  |  |  |
27470 | C |  | Repair of thigh |  |  |  |  |
27472 | C |  | Repair/graft of thigh |  |  |  |  |
27475 | T |  | Surgery to stop leg growth | 0050 | 23.7998 | $1,412.52 |  | $282.50
27477 | C |  | Surgery to stop leg growth |  |  |  |  |
27479 | C |  | Surgery to stop leg growth |  |  |  |  |
27485 | C |  | Surgery to stop leg growth |  |  |  |  |
27486 | C |  | Revise/replace knee joint |  |  |  |  |
27487 | C |  | Revise/replace knee joint |  |  |  |  |
27488 | C |  | Removal of knee prosthesis |  |  |  |  |
27495 | C |  | Reinforce thigh |  |  |  |  |
27496 | T |  | Decompression of thigh/knee | 0049 | 20.2784 | $1,203.52 |  | $240.70
27497 | T |  | Decompression of thigh/knee | 0049 | 20.2784 | $1,203.52 |  | $240.70
27498 | T |  | Decompression of thigh/knee | 0049 | 20.2784 | $1,203.52 |  | $240.70
27499 | T |  | Decompression of thigh/knee | 0049 | 20.2784 | $1,203.52 |  | $240.70
27500 | T |  | Treatment of thigh fracture | 0043 | 1.7614 | $104.54 |  | $20.91
27501 | T |  | Treatment of thigh fracture | 0043 | 1.7614 | $104.54 |  | $20.91
27502 | T |  | Treatment of thigh fracture | 0043 | 1.7614 | $104.54 |  | $20.91
27503 | T |  | Treatment of thigh fracture | 0043 | 1.7614 | $104.54 |  | $20.91
27506 | C |  | Treatment of thigh fracture |  |  |  |  |
27507 | C |  | Treatment of thigh fracture |  |  |  |  |
27508 | T |  | Treatment of thigh fracture | 0043 | 1.7614 | $104.54 |  | $20.91
27509 | T |  | Treatment of thigh fracture | 0046 | 37.5315 | $2,227.49 | $535.76 | $445.50
27510 | T |  | Treatment of thigh fracture | 0043 | 1.7614 | $104.54 |  | $20.91
27511 | C |  | Treatment of thigh fracture |  |  |  |  |
27513 | C |  | Treatment of thigh fracture |  |  |  |  |
27514 | C |  | Treatment of thigh fracture |  |  |  |  |
27516 | T |  | Treat thigh fx growth plate | 0043 | 1.7614 | $104.54 |  | $20.91
27517 | T |  | Treat thigh fx growth plate | 0043 | 1.7614 | $104.54 |  | $20.91
27519 | C |  | Treat thigh fx growth plate |  |  |  |  |
27520 | T |  | Treat kneecap fracture | 0043 | 1.7614 | $104.54 |  | $20.91
27524 | T |  | Treat kneecap fracture | 0046 | 37.5315 | $2,227.49 | $535.76 | $445.50
27530 | T |  | Treat knee fracture | 0043 | 1.7614 | $104.54 |  | $20.91
27532 | T |  | Treat knee fracture | 0043 | 1.7614 | $104.54 |  | $20.91
27535 | C |  | Treat knee fracture |  |  |  |  |
27536 | C |  | Treat knee fracture |  |  |  |  |
27538 | T |  | Treat knee fracture(s) | 0043 | 1.7614 | $104.54 |  | $20.91
27540 | C |  | Treat knee fracture |  |  |  |  |
27550 | T |  | Treat knee dislocation | 0043 | 1.7614 | $104.54 |  | $20.91
27552 | T |  | Treat knee dislocation | 0045 | 14.4289 | $856.36 | $268.47 | $171.27
27556 | C |  | Treat knee dislocation |  |  |  |  |
27557 | C |  | Treat knee dislocation |  |  |  |  |
27558 | C |  | Treat knee dislocation |  |  |  |  |
27560 | T |  | Treat kneecap dislocation | 0043 | 1.7614 | $104.54 |  | $20.91
27562 | T |  | Treat kneecap dislocation | 0045 | 14.4289 | $856.36 | $268.47 | $171.27
27566 | T |  | Treat kneecap dislocation | 0046 | 37.5315 | $2,227.49 | $535.76 | $445.50
27570 | T |  | Fixation of knee joint | 0045 | 14.4289 | $856.36 | $268.47 | $171.27
27580 | C |  | Fusion of knee |  |  |  |  |
27590 | C |  | Amputate leg at thigh |  |  |  |  |
27591 | C |  | Amputate leg at thigh |  |  |  |  |
27592 | C |  | Amputate leg at thigh |  |  |  |  |
27594 | T |  | Amputation follow-up surgery | 0049 | 20.2784 | $1,203.52 |  | $240.70
27596 | C |  | Amputation follow-up surgery |  |  |  |  |
27598 | C |  | Amputate lower leg at knee |  |  |  |  |
27599 | T |  | Leg surgery procedure | 0043 | 1.7614 | $104.54 |  | $20.91
27600 | T |  | Decompression of lower leg | 0049 | 20.2784 | $1,203.52 |  | $240.70
27601 | T |  | Decompression of lower leg | 0049 | 20.2784 | $1,203.52 |  | $240.70
27602 | T |  | Decompression of lower leg | 0049 | 20.2784 | $1,203.52 |  | $240.70
27603 | T |  | Drain lower leg lesion | 0008 | 16.4242 | $974.78 |  | $194.96
27604 | T |  | Drain lower leg bursa | 0049 | 20.2784 | $1,203.52 |  | $240.70
27605 | T |  | Incision of achilles tendon | 0055 | 19.9783 | $1,185.71 | $355.34 | $237.14
27606 | T |  | Incision of achilles tendon | 0049 | 20.2784 | $1,203.52 |  | $240.70
27607 | T |  | Treat lower leg bone lesion | 0049 | 20.2784 | $1,203.52 |  | $240.70
27610 | T |  | Explore/treat ankle joint | 0050 | 23.7998 | $1,412.52 |  | $282.50
27612 | T |  | Exploration of ankle joint | 0050 | 23.7998 | $1,412.52 |  | $282.50
27613 | T |  | Biopsy lower leg soft tissue | 0020 | 6.9118 | $410.22 | $106.93 | $82.04
27614 | T |  | Biopsy lower leg soft tissue | 0022 | 19.5582 | $1,160.78 | $354.45 | $232.16
27615 | T |  | Remove tumor, lower leg | 0046 | 37.5315 | $2,227.49 | $535.76 | $445.50
27618 | T |  | Remove lower leg lesion | 0021 | 14.9098 | $884.90 | $219.48 | $176.98
27619 | T |  | Remove lower leg lesion | 0022 | 19.5582 | $1,160.78 | $354.45 | $232.16
27620 | T |  | Explore/treat ankle joint | 0050 | 23.7998 | $1,412.52 |  | $282.50
27625 | T |  | Remove ankle joint lining | 0050 | 23.7998 | $1,412.52 |  | $282.50
27626 | T |  | Remove ankle joint lining | 0050 | 23.7998 | $1,412.52 |  | $282.50
27630 | T |  | Removal of tendon lesion | 0049 | 20.2784 | $1,203.52 |  | $240.70
27635 | T |  | Remove lower leg bone lesion | 0050 | 23.7998 | $1,412.52 |  | $282.50
27637 | T |  | Remove/graft leg bone lesion | 0050 | 23.7998 | $1,412.52 |  | $282.50
27638 | T |  | Remove/graft leg bone lesion | 0050 | 23.7998 | $1,412.52 |  | $282.50
27640 | T |  | Partial removal of tibia | 0051 | 36.3617 | $2,158.07 |  | $431.61
27641 | T |  | Partial removal of fibula | 0050 | 23.7998 | $1,412.52 |  | $282.50
27645 | C |  | Extensive lower leg surgery |  |  |  |  |
27646 | C |  | Extensive lower leg surgery |  |  |  |  |
27647 | T |  | Extensive ankle/heel surgery | 0051 | 36.3617 | $2,158.07 |  | $431.61
27648 | N |  | Injection for ankle x-ray |  |  |  |  |
27650 | T |  | Repair achilles tendon | 0051 | 36.3617 | $2,158.07 |  | $431.61
27652 | T |  | Repair/graft achilles tendon | 0051 | 36.3617 | $2,158.07 |  | $431.61
27654 | T |  | Repair of achilles tendon | 0051 | 36.3617 | $2,158.07 |  | $431.61
27656 | T |  | Repair leg fascia defect | 0049 | 20.2784 | $1,203.52 |  | $240.70
27658 | T |  | Repair of leg tendon, each | 0049 | 20.2784 | $1,203.52 |  | $240.70
27659 | T |  | Repair of leg tendon, each | 0049 | 20.2784 | $1,203.52 |  | $240.70
27664 | T |  | Repair of leg tendon, each | 0049 | 20.2784 | $1,203.52 |  | $240.70
27665 | T |  | Repair of leg tendon, each | 0050 | 23.7998 | $1,412.52 |  | $282.50
27675 | T |  | Repair lower leg tendons | 0049 | 20.2784 | $1,203.52 |  | $240.70
27676 | T |  | Repair lower leg tendons | 0050 | 23.7998 | $1,412.52 |  | $282.50
27680 | T |  | Release of lower leg tendon | 0050 | 23.7998 | $1,412.52 |  | $282.50
27681 | T |  | Release of lower leg tendons | 0050 | 23.7998 | $1,412.52 |  | $282.50
27685 | T |  | Revision of lower leg tendon | 0050 | 23.7998 | $1,412.52 |  | $282.50
27686 | T |  | Revise lower leg tendons | 0050 | 23.7998 | $1,412.52 |  | $282.50
27687 | T |  | Revision of calf tendon | 0050 | 23.7998 | $1,412.52 |  | $282.50
27690 | T |  | Revise lower leg tendon | 0051 | 36.3617 | $2,158.07 |  | $431.61
27691 | T |  | Revise lower leg tendon | 0051 | 36.3617 | $2,158.07 |  | $431.61
27692 | T |  | Revise additional leg tendon | 0051 | 36.3617 | $2,158.07 |  | $431.61
27695 | T |  | Repair of ankle ligament | 0050 | 23.7998 | $1,412.52 |  | $282.50
27696 | T |  | Repair of ankle ligaments | 0050 | 23.7998 | $1,412.52 |  | $282.50
27698 | T |  | Repair of ankle ligament | 0050 | 23.7998 | $1,412.52 |  | $282.50
27700 | T |  | Revision of ankle joint | 0047 | 31.4675 | $1,867.60 | $537.03 | $373.52
27702 | C |  | Reconstruct ankle joint |  |  |  |  |
27703 | C |  | Reconstruction, ankle joint |  |  |  |  |
27704 | T |  | Removal of ankle implant | 0049 | 20.2784 | $1,203.52 |  | $240.70
27705 | T |  | Incision of tibia | 0051 | 36.3617 | $2,158.07 |  | $431.61
27707 | T |  | Incision of fibula | 0049 | 20.2784 | $1,203.52 |  | $240.70
27709 | T |  | Incision of tibia & fibula | 0050 | 23.7998 | $1,412.52 |  | $282.50
27712 | C |  | Realignment of lower leg |  |  |  |  |
27715 | C |  | Revision of lower leg |  |  |  |  |
27720 | C |  | Repair of tibia |  |  |  |  |
27722 | C |  | Repair/graft of tibia |  |  |  |  |
27724 | C |  | Repair/graft of tibia |  |  |  |  |
27725 | C |  | Repair of lower leg |  |  |  |  |
27727 | C |  | Repair of lower leg |  |  |  |  |
27730 | T |  | Repair of tibia epiphysis | 0050 | 23.7998 | $1,412.52 |  | $282.50
27732 | T |  | Repair of fibula epiphysis | 0050 | 23.7998 | $1,412.52 |  | $282.50
27734 | T |  | Repair lower leg epiphyses | 0050 | 23.7998 | $1,412.52 |  | $282.50
27740 | T |  | Repair of leg epiphyses | 0050 | 23.7998 | $1,412.52 |  | $282.50
27742 | T |  | Repair of leg epiphyses | 0051 | 36.3617 | $2,158.07 |  | $431.61
27745 | T |  | Reinforce tibia | 0051 | 36.3617 | $2,158.07 |  | $431.61
27750 | T |  | Treatment of tibia fracture | 0043 | 1.7614 | $104.54 |  | $20.91
27752 | T |  | Treatment of tibia fracture | 0043 | 1.7614 | $104.54 |  | $20.91
27756 | T |  | Treatment of tibia fracture | 0046 | 37.5315 | $2,227.49 | $535.76 | $445.50
27758 | T |  | Treatment of tibia fracture | 0046 | 37.5315 | $2,227.49 | $535.76 | $445.50
27759 | T |  | Treatment of tibia fracture | 0046 | 37.5315 | $2,227.49 | $535.76 | $445.50
27760 | T |  | Treatment of ankle fracture | 0043 | 1.7614 | $104.54 |  | $20.91
27762 | T |  | Treatment of ankle fracture | 0043 | 1.7614 | $104.54 |  | $20.91
27766 | T |  | Treatment of ankle fracture | 0046 | 37.5315 | $2,227.49 | $535.76 | $445.50
27780 | T |  | Treatment of fibula fracture | 0043 | 1.7614 | $104.54 |  | $20.91
27781 | T |  | Treatment of fibula fracture | 0043 | 1.7614 | $104.54 |  | $20.91
27784 | T |  | Treatment of fibula fracture | 0046 | 37.5315 | $2,227.49 | $535.76 | $445.50
27786 | T |  | Treatment of ankle fracture | 0043 | 1.7614 | $104.54 |  | $20.91
27788 | T |  | Treatment of ankle fracture | 0043 | 1.7614 | $104.54 |  | $20.91
27792 | T |  | Treatment of ankle fracture | 0046 | 37.5315 | $2,227.49 | $535.76 | $445.50
27808 | T |  | Treatment of ankle fracture | 0043 | 1.7614 | $104.54 |  | $20.91
27810 | T |  | Treatment of ankle fracture | 0043 | 1.7614 | $104.54 |  | $20.91
27814 | T |  | Treatment of ankle fracture | 0046 | 37.5315 | $2,227.49 | $535.76 | $445.50
27816 | T |  | Treatment of ankle fracture | 0043 | 1.7614 | $104.54 |  | $20.91
27818 | T |  | Treatment of ankle fracture | 0043 | 1.7614 | $104.54 |  | $20.91
27822 | T |  | Treatment of ankle fracture | 0046 | 37.5315 | $2,227.49 | $535.76 | $445.50
27823 | T |  | Treatment of ankle fracture | 0046 | 37.5315 | $2,227.49 | $535.76 | $445.50
27824 | T |  | Treat lower leg fracture | 0043 | 1.7614 | $104.54 |  | $20.91
27825 | T |  | Treat lower leg fracture | 0043 | 1.7614 | $104.54 |  | $20.91
27826 | T |  | Treat lower leg fracture | 0046 | 37.5315 | $2,227.49 | $535.76 | $445.50
27827 | T |  | Treat lower leg fracture | 0046 | 37.5315 | $2,227.49 | $535.76 | $445.50
27828 | T |  | Treat lower leg fracture | 0046 | 37.5315 | $2,227.49 | $535.76 | $445.50
27829 | T |  | Treat lower leg joint | 0046 | 37.5315 | $2,227.49 | $535.76 | $445.50
27830 | T |  | Treat lower leg dislocation | 0043 | 1.7614 | $104.54 |  | $20.91
27831 | T |  | Treat lower leg dislocation | 0043 | 1.7614 | $104.54 |  | $20.91
27832 | T |  | Treat lower leg dislocation | 0046 | 37.5315 | $2,227.49 | $535.76 | $445.50
27840 | T |  | Treat ankle dislocation | 0043 | 1.7614 | $104.54 |  | $20.91
27842 | T |  | Treat ankle dislocation | 0045 | 14.4289 | $856.36 | $268.47 | $171.27
27846 | T |  | Treat ankle dislocation | 0046 | 37.5315 | $2,227.49 | $535.76 | $445.50
27848 | T |  | Treat ankle dislocation | 0046 | 37.5315 | $2,227.49 | $535.76 | $445.50
27860 | T |  | Fixation of ankle joint | 0045 | 14.4289 | $856.36 | $268.47 | $171.27
27870 | T |  | Fusion of ankle joint | 0051 | 36.3617 | $2,158.07 |  | $431.61
27871 | T |  | Fusion of tibiofibular joint | 0051 | 36.3617 | $2,158.07 |  | $431.61
27880 | C |  | Amputation of lower leg |  |  |  |  |
27881 | C |  | Amputation of lower leg |  |  |  |  |
27882 | C |  | Amputation of lower leg |  |  |  |  |
27884 | T |  | Amputation follow-up surgery | 0049 | 20.2784 | $1,203.52 |  | $240.70
27886 | C |  | Amputation follow-up surgery |  |  |  |  |
27888 | C |  | Amputation of foot at ankle |  |  |  |  |
27889 | T |  | Amputation of foot at ankle | 0050 | 23.7998 | $1,412.52 |  | $282.50
27892 | T |  | Decompression of leg | 0049 | 20.2784 | $1,203.52 |  | $240.70
27893 | T |  | Decompression of leg | 0049 | 20.2784 | $1,203.52 |  | $240.70
27894 | T |  | Decompression of leg | 0049 | 20.2784 | $1,203.52 |  | $240.70
27899 | T |  | Leg/ankle surgery procedure | 0043 | 1.7614 | $104.54 |  | $20.91
28001 | T |  | Drainage of bursa of foot | 0007 | 11.3983 | $676.49 |  | $135.30
28002 | T |  | Treatment of foot infection | 0049 | 20.2784 | $1,203.52 |  | $240.70
28003 | T |  | Treatment of foot infection | 0049 | 20.2784 | $1,203.52 |  | $240.70
28005 | T |  | Treat foot bone lesion | 0055 | 19.9783 | $1,185.71 | $355.34 | $237.14
28008 | T |  | Incision of foot fascia | 0055 | 19.9783 | $1,185.71 | $355.34 | $237.14
28010 | T |  | Incision of toe tendon | 0055 | 19.9783 | $1,185.71 | $355.34 | $237.14
28011 | T |  | Incision of toe tendons | 0055 | 19.9783 | $1,185.71 | $355.34 | $237.14
28020 | T |  | Exploration of foot joint | 0055 | 19.9783 | $1,185.71 | $355.34 | $237.14
28022 | T |  | Exploration of foot joint | 0055 | 19.9783 | $1,185.71 | $355.34 | $237.14
28024 | T |  | Exploration of toe joint | 0055 | 19.9783 | $1,185.71 | $355.34 | $237.14
28030 | T |  | Removal of foot nerve | 0220 | 17.2800 | $1,025.57 |  | $205.11
28035 | T |  | Decompression of tibia nerve | 0220 | 17.2800 | $1,025.57 |  | $205.11
28043 | T |  | Excision of foot lesion | 0021 | 14.9098 | $884.90 | $219.48 | $176.98
28045 | T |  | Excision of foot lesion | 0055 | 19.9783 | $1,185.71 | $355.34 | $237.14
28046 | T |  | Resection of tumor, foot | 0055 | 19.9783 | $1,185.71 | $355.34 | $237.14
28050 | T |  | Biopsy of foot joint lining | 0055 | 19.9783 | $1,185.71 | $355.34 | $237.14
28052 | T |  | Biopsy of foot joint lining | 0055 | 19.9783 | $1,185.71 | $355.34 | $237.14
28054 | T |  | Biopsy of toe joint lining | 0055 | 19.9783 | $1,185.71 | $355.34 | $237.14
28060 | T |  | Partial removal, foot fascia | 0055 | 19.9783 | $1,185.71 | $355.34 | $237.14
28062 | T |  | Removal of foot fascia | 0055 | 19.9783 | $1,185.71 | $355.34 | $237.14
28070 | T |  | Removal of foot joint lining | 0055 | 19.9783 | $1,185.71 | $355.34 | $237.14
28072 | T |  | Removal of foot joint lining | 0055 | 19.9783 | $1,185.71 | $355.34 | $237.14
28080 | T |  | Removal of foot lesion | 0055 | 19.9783 | $1,185.71 | $355.34 | $237.14
28086 | T |  | Excise foot tendon sheath | 0055 | 19.9783 | $1,185.71 | $355.34 | $237.14
28088 | T |  | Excise foot tendon sheath | 0055 | 19.9783 | $1,185.71 | $355.34 | $237.14
28090 | T |  | Removal of foot lesion | 0055 | 19.9783 | $1,185.71 | $355.34 | $237.14
28092 | T |  | Removal of toe lesions | 0055 | 19.9783 | $1,185.71 | $355.34 | $237.14
28100 | T |  | Removal of ankle/heel lesion | 0055 | 19.9783 | $1,185.71 | $355.34 | $237.14
28102 | T |  | Remove/graft foot lesion | 0056 | 40.1132 | $2,380.72 |  | $476.14
28103 | T |  | Remove/graft foot lesion | 0056 | 40.1132 | $2,380.72 |  | $476.14
28104 | T |  | Removal of foot lesion | 0055 | 19.9783 | $1,185.71 | $355.34 | $237.14
28106 | T |  | Remove/graft foot lesion | 0056 | 40.1132 | $2,380.72 |  | $476.14
28107 | T |  | Remove/graft foot lesion | 0056 | 40.1132 | $2,380.72 |  | $476.14
28108 | T |  | Removal of toe lesions | 0055 | 19.9783 | $1,185.71 | $355.34 | $237.14
28110 | T |  | Part removal of metatarsal | 0055 | 19.9783 | $1,185.71 | $355.34 | $237.14
28111 | T |  | Part removal of metatarsal | 0055 | 19.9783 | $1,185.71 | $355.34 | $237.14
28112 | T |  | Part removal of metatarsal | 0055 | 19.9783 | $1,185.71 | $355.34 | $237.14
28113 | T |  | Part removal of metatarsal | 0055 | 19.9783 | $1,185.71 | $355.34 | $237.14
28114 | T |  | Removal of metatarsal heads | 0055 | 19.9783 | $1,185.71 | $355.34 | $237.14
28116 | T |  | Revision of foot | 0055 | 19.9783 | $1,185.71 | $355.34 | $237.14
28118 | T |  | Removal of heel bone | 0055 | 19.9783 | $1,185.71 | $355.34 | $237.14
28119 | T |  | Removal of heel spur | 0055 | 19.9783 | $1,185.71 | $355.34 | $237.14
28120 | T |  | Part removal of ankle/heel | 0055 | 19.9783 | $1,185.71 | $355.34 | $237.14
28122 | T |  | Partial removal of foot bone | 0055 | 19.9783 | $1,185.71 | $355.34 | $237.14
28124 | T |  | Partial removal of toe | 0055 | 19.9783 | $1,185.71 | $355.34 | $237.14
28126 | T |  | Partial removal of toe | 0055 | 19.9783 | $1,185.71 | $355.34 | $237.14
28130 | T |  | Removal of ankle bone | 0055 | 19.9783 | $1,185.71 | $355.34 | $237.14
28140 | T |  | Removal of metatarsal | 0055 | 19.9783 | $1,185.71 | $355.34 | $237.14
28150 | T |  | Removal of toe | 0055 | 19.9783 | $1,185.71 | $355.34 | $237.14
28153 | T |  | Partial removal of toe | 0055 | 19.9783 | $1,185.71 | $355.34 | $237.14
28160 | T |  | Partial removal of toe | 0055 | 19.9783 | $1,185.71 | $355.34 | $237.14
28171 | T |  | Extensive foot surgery | 0055 | 19.9783 | $1,185.71 | $355.34 | $237.14
28173 | T |  | Extensive foot surgery | 0055 | 19.9783 | $1,185.71 | $355.34 | $237.14
28175 | T |  | Extensive foot surgery | 0055 | 19.9783 | $1,185.71 | $355.34 | $237.14
28190 | T |  | Removal of foot foreign body | 0019 | 4.0363 | $239.55 | $71.87 | $47.91
28192 | T |  | Removal of foot foreign body | 0021 | 14.9098 | $884.90 | $219.48 | $176.98
28193 | T |  | Removal of foot foreign body | 0020 | 6.9118 | $410.22 | $106.93 | $82.04
28200 | T |  | Repair of foot tendon | 0055 | 19.9783 | $1,185.71 | $355.34 | $237.14
28202 | T |  | Repair/graft of foot tendon | 0055 | 19.9783 | $1,185.71 | $355.34 | $237.14
28208 | T |  | Repair of foot tendon | 0055 | 19.9783 | $1,185.71 | $355.34 | $237.14
28210 | T |  | Repair/graft of foot tendon | 0056 | 40.1132 | $2,380.72 |  | $476.14
28220 | T |  | Release of foot tendon | 0055 | 19.9783 | $1,185.71 | $355.34 | $237.14
28222 | T |  | Release of foot tendons | 0055 | 19.9783 | $1,185.71 | $355.34 | $237.14
28225 | T |  | Release of foot tendon | 0055 | 19.9783 | $1,185.71 | $355.34 | $237.14
28226 | T |  | Release of foot tendons | 0055 | 19.9783 | $1,185.71 | $355.34 | $237.14
28230 | T |  | Incision of foot tendon(s) | 0055 | 19.9783 | $1,185.71 | $355.34 | $237.14
28232 | T |  | Incision of toe tendon | 0055 | 19.9783 | $1,185.71 | $355.34 | $237.14
28234 | T |  | Incision of foot tendon | 0055 | 19.9783 | $1,185.71 | $355.34 | $237.14
28238 | T |  | Revision of foot tendon | 0056 | 40.1132 | $2,380.72 |  | $476.14
28240 | T |  | Release of big toe | 0055 | 19.9783 | $1,185.71 | $355.34 | $237.14
28250 | T |  | Revision of foot fascia | 0055 | 19.9783 | $1,185.71 | $355.34 | $237.14
28260 | T |  | Release of midfoot joint | 0055 | 19.9783 | $1,185.71 | $355.34 | $237.14
28261 | T |  | Revision of foot tendon | 0055 | 19.9783 | $1,185.71 | $355.34 | $237.14
28262 | T |  | Revision of foot and ankle | 0055 | 19.9783 | $1,185.71 | $355.34 | $237.14
28264 | T |  | Release of midfoot joint | 0056 | 40.1132 | $2,380.72 |  | $476.14
28270 | T |  | Release of foot contracture | 0055 | 19.9783 | $1,185.71 | $355.34 | $237.14
28272 | T |  | Release of toe joint, each | 0055 | 19.9783 | $1,185.71 | $355.34 | $237.14
28280 | T |  | Fusion of toes | 0055 | 19.9783 | $1,185.71 | $355.34 | $237.14
28285 | T |  | Repair of hammertoe | 0055 | 19.9783 | $1,185.71 | $355.34 | $237.14
28286 | T |  | Repair of hammertoe | 0055 | 19.9783 | $1,185.71 | $355.34 | $237.14
28288 | T |  | Partial removal of foot bone | 0055 | 19.9783 | $1,185.71 | $355.34 | $237.14
28289 | T |  | Repair hallux rigidus | 0055 | 19.9783 | $1,185.71 | $355.34 | $237.14
28290 | T |  | Correction of bunion | 0057 | 27.4246 | $1,627.65 | $475.91 | $325.53
28292 | T |  | Correction of bunion | 0057 | 27.4246 | $1,627.65 | $475.91 | $325.53
28293 | T |  | Correction of bunion | 0057 | 27.4246 | $1,627.65 | $475.91 | $325.53
28294 | T |  | Correction of bunion | 0057 | 27.4246 | $1,627.65 | $475.91 | $325.53
28296 | T |  | Correction of bunion | 0057 | 27.4246 | $1,627.65 | $475.91 | $325.53
28297 | T |  | Correction of bunion | 0057 | 27.4246 | $1,627.65 | $475.91 | $325.53
28298 | T |  | Correction of bunion | 0057 | 27.4246 | $1,627.65 | $475.91 | $325.53
28299 | T |  | Correction of bunion | 0057 | 27.4246 | $1,627.65 | $475.91 | $325.53
28300 | T |  | Incision of heel bone | 0056 | 40.1132 | $2,380.72 |  | $476.14
28302 | T |  | Incision of ankle bone | 0055 | 19.9783 | $1,185.71 | $355.34 | $237.14
28304 | T |  | Incision of midfoot bones | 0056 | 40.1132 | $2,380.72 |  | $476.14
28305 | T |  | Incise/graft midfoot bones | 0056 | 40.1132 | $2,380.72 |  | $476.14
28306 | T |  | Incision of metatarsal | 0055 | 19.9783 | $1,185.71 | $355.34 | $237.14
28307 | T |  | Incision of metatarsal | 0055 | 19.9783 | $1,185.71 | $355.34 | $237.14
28308 | T |  | Incision of metatarsal | 0055 | 19.9783 | $1,185.71 | $355.34 | $237.14
28309 | T |  | Incision of metatarsals | 0056 | 40.1132 | $2,380.72 |  | $476.14
28310 | T |  | Revision of big toe | 0055 | 19.9783 | $1,185.71 | $355.34 | $237.14
28312 | T |  | Revision of toe | 0055 | 19.9783 | $1,185.71 | $355.34 | $237.14
28313 | T |  | Repair deformity of toe | 0055 | 19.9783 | $1,185.71 | $355.34 | $237.14
28315 | T |  | Removal of sesamoid bone | 0055 | 19.9783 | $1,185.71 | $355.34 | $237.14
28320 | T |  | Repair of foot bones | 0056 | 40.1132 | $2,380.72 |  | $476.14
28322 | T |  | Repair of metatarsals | 0056 | 40.1132 | $2,380.72 |  | $476.14
28340 | T |  | Resect enlarged toe tissue | 0055 | 19.9783 | $1,185.71 | $355.34 | $237.14
28341 | T |  | Resect enlarged toe | 0055 | 19.9783 | $1,185.71 | $355.34 | $237.14
28344 | T |  | Repair extra toe(s) | 0055 | 19.9783 | $1,185.71 | $355.34 | $237.14
28345 | T |  | Repair webbed toe(s) | 0055 | 19.9783 | $1,185.71 | $355.34 | $237.14
28360 | T |  | Reconstruct cleft foot | 0056 | 40.1132 | $2,380.72 |  | $476.14
28400 | T |  | Treatment of heel fracture | 0043 | 1.7614 | $104.54 |  | $20.91
28405 | T |  | Treatment of heel fracture | 0043 | 1.7614 | $104.54 |  | $20.91
28406 | T |  | Treatment of heel fracture | 0046 | 37.5315 | $2,227.49 | $535.76 | $445.50
28415 | T |  | Treat heel fracture | 0046 | 37.5315 | $2,227.49 | $535.76 | $445.50
28420 | T |  | Treat/graft heel fracture | 0046 | 37.5315 | $2,227.49 | $535.76 | $445.50
28430 | T |  | Treatment of ankle fracture | 0043 | 1.7614 | $104.54 |  | $20.91
28435 | T |  | Treatment of ankle fracture | 0043 | 1.7614 | $104.54 |  | $20.91
28436 | T |  | Treatment of ankle fracture | 0046 | 37.5315 | $2,227.49 | $535.76 | $445.50
28445 | T |  | Treat ankle fracture | 0046 | 37.5315 | $2,227.49 | $535.76 | $445.50
28450 | T |  | Treat midfoot fracture, each | 0043 | 1.7614 | $104.54 |  | $20.91
28455 | T |  | Treat midfoot fracture, each | 0043 | 1.7614 | $104.54 |  | $20.91
28456 | T |  | Treat midfoot fracture | 0046 | 37.5315 | $2,227.49 | $535.76 | $445.50
28465 | T |  | Treat midfoot fracture, each | 0046 | 37.5315 | $2,227.49 | $535.76 | $445.50
28470 | T |  | Treat metatarsal fracture | 0043 | 1.7614 | $104.54 |  | $20.91
28475 | T |  | Treat metatarsal fracture | 0043 | 1.7614 | $104.54 |  | $20.91
28476 | T |  | Treat metatarsal fracture | 0046 | 37.5315 | $2,227.49 | $535.76 | $445.50
28485 | T |  | Treat metatarsal fracture | 0046 | 37.5315 | $2,227.49 | $535.76 | $445.50
28490 | T |  | Treat big toe fracture | 0043 | 1.7614 | $104.54 |  | $20.91
28495 | T |  | Treat big toe fracture | 0043 | 1.7614 | $104.54 |  | $20.91
28496 | T |  | Treat big toe fracture | 0046 | 37.5315 | $2,227.49 | $535.76 | $445.50
28505 | T |  | Treat big toe fracture | 0046 | 37.5315 | $2,227.49 | $535.76 | $445.50
28510 | T |  | Treatment of toe fracture | 0043 | 1.7614 | $104.54 |  | $20.91
28515 | T |  | Treatment of toe fracture | 0043 | 1.7614 | $104.54 |  | $20.91
28525 | T |  | Treat toe fracture | 0046 | 37.5315 | $2,227.49 | $535.76 | $445.50
28530 | T |  | Treat sesamoid bone fracture | 0043 | 1.7614 | $104.54 |  | $20.91
28531 | T |  | Treat sesamoid bone fracture | 0046 | 37.5315 | $2,227.49 | $535.76 | $445.50
28540 | T |  | Treat foot dislocation | 0043 | 1.7614 | $104.54 |  | $20.91
28545 | T |  | Treat foot dislocation | 0045 | 14.4289 | $856.36 | $268.47 | $171.27
28546 | T |  | Treat foot dislocation | 0046 | 37.5315 | $2,227.49 | $535.76 | $445.50
28555 | T |  | Repair foot dislocation | 0046 | 37.5315 | $2,227.49 | $535.76 | $445.50
28570 | T |  | Treat foot dislocation | 0043 | 1.7614 | $104.54 |  | $20.91
28575 | T |  | Treat foot dislocation | 0043 | 1.7614 | $104.54 |  | $20.91
28576 | T |  | Treat foot dislocation | 0046 | 37.5315 | $2,227.49 | $535.76 | $445.50
28585 | T |  | Repair foot dislocation | 0046 | 37.5315 | $2,227.49 | $535.76 | $445.50
28600 | T |  | Treat foot dislocation | 0043 | 1.7614 | $104.54 |  | $20.91
28605 | T |  | Treat foot dislocation | 0043 | 1.7614 | $104.54 |  | $20.91
28606 | T |  | Treat foot dislocation | 0046 | 37.5315 | $2,227.49 | $535.76 | $445.50
28615 | T |  | Repair foot dislocation | 0046 | 37.5315 | $2,227.49 | $535.76 | $445.50
28630 | T |  | Treat toe dislocation | 0043 | 1.7614 | $104.54 |  | $20.91
28635 | T |  | Treat toe dislocation | 0045 | 14.4289 | $856.36 | $268.47 | $171.27
28636 | T |  | Treat toe dislocation | 0046 | 37.5315 | $2,227.49 | $535.76 | $445.50
28645 | T |  | Repair toe dislocation | 0046 | 37.5315 | $2,227.49 | $535.76 | $445.50
28660 | T |  | Treat toe dislocation | 0043 | 1.7614 | $104.54 |  | $20.91
28665 | T |  | Treat toe dislocation | 0045 | 14.4289 | $856.36 | $268.47 | $171.27
28666 | T |  | Treat toe dislocation | 0046 | 37.5315 | $2,227.49 | $535.76 | $445.50
28675 | T |  | Repair of toe dislocation | 0046 | 37.5315 | $2,227.49 | $535.76 | $445.50
28705 | T |  | Fusion of foot bones | 0056 | 40.1132 | $2,380.72 |  | $476.14
28715 | T |  | Fusion of foot bones | 0056 | 40.1132 | $2,380.72 |  | $476.14
28725 | T |  | Fusion of foot bones | 0056 | 40.1132 | $2,380.72 |  | $476.14
28730 | T |  | Fusion of foot bones | 0056 | 40.1132 | $2,380.72 |  | $476.14
28735 | T |  | Fusion of foot bones | 0056 | 40.1132 | $2,380.72 |  | $476.14
28737 | T |  | Revision of foot bones | 0056 | 40.1132 | $2,380.72 |  | $476.14
28740 | T |  | Fusion of foot bones | 0056 | 40.1132 | $2,380.72 |  | $476.14
28750 | T |  | Fusion of big toe joint | 0056 | 40.1132 | $2,380.72 |  | $476.14
28755 | T |  | Fusion of big toe joint | 0055 | 19.9783 | $1,185.71 | $355.34 | $237.14
28760 | T |  | Fusion of big toe joint | 0056 | 40.1132 | $2,380.72 |  | $476.14
28800 | C |  | Amputation of midfoot |  |  |  |  |
28805 | C |  | Amputation thru metatarsal |  |  |  |  |
28810 | T |  | Amputation toe & metatarsal | 0055 | 19.9783 | $1,185.71 | $355.34 | $237.14
28820 | T |  | Amputation of toe | 0055 | 19.9783 | $1,185.71 | $355.34 | $237.14
28825 | T |  | Partial amputation of toe | 0055 | 19.9783 | $1,185.71 | $355.34 | $237.14
28899 | T |  | Foot/toes surgery procedure | 0043 | 1.7614 | $104.54 |  | $20.91
29000 | S |  | Application of body cast | 0058 | 1.0884 | $64.60 |  | $12.92
29010 | S |  | Application of body cast | 0426 | 2.1147 | $125.51 |  | $25.10
29015 | S |  | Application of body cast | 0426 | 2.1147 | $125.51 |  | $25.10
29020 | S |  | Application of body cast | 0058 | 1.0884 | $64.60 |  | $12.92
29025 | S |  | Application of body cast | 0058 | 1.0884 | $64.60 |  | $12.92
29035 | S |  | Application of body cast | 0426 | 2.1147 | $125.51 |  | $25.10
29040 | S |  | Application of body cast | 0058 | 1.0884 | $64.60 |  | $12.92
29044 | S |  | Application of body cast | 0426 | 2.1147 | $125.51 |  | $25.10
29046 | S |  | Application of body cast | 0426 | 2.1147 | $125.51 |  | $25.10
29049 | S |  | Application of figure eight | 0058 | 1.0884 | $64.60 |  | $12.92
29055 | S |  | Application of shoulder cast | 0426 | 2.1147 | $125.51 |  | $25.10
29058 | S |  | Application of shoulder cast | 0058 | 1.0884 | $64.60 |  | $12.92
29065 | S |  | Application of long arm cast | 0426 | 2.1147 | $125.51 |  | $25.10
29075 | S |  | Application of forearm cast | 0426 | 2.1147 | $125.51 |  | $25.10
29085 | S |  | Apply hand/wrist cast | 0058 | 1.0884 | $64.60 |  | $12.92
29086 | S |  | Apply finger cast | 0058 | 1.0884 | $64.60 |  | $12.92
29105 | S |  | Apply long arm splint | 0058 | 1.0884 | $64.60 |  | $12.92
29125 | S |  | Apply forearm splint | 0058 | 1.0884 | $64.60 |  | $12.92
29126 | S |  | Apply forearm splint | 0058 | 1.0884 | $64.60 |  | $12.92
29130 | S |  | Application of finger splint | 0058 | 1.0884 | $64.60 |  | $12.92
29131 | S |  | Application of finger splint | 0058 | 1.0884 | $64.60 |  | $12.92
29200 | S |  | Strapping of chest | 0058 | 1.0884 | $64.60 |  | $12.92
29220 | S |  | Strapping of low back | 0058 | 1.0884 | $64.60 |  | $12.92
29240 | S |  | Strapping of shoulder | 0058 | 1.0884 | $64.60 |  | $12.92
29260 | S |  | Strapping of elbow or wrist | 0058 | 1.0884 | $64.60 |  | $12.92
29280 | S |  | Strapping of hand or finger | 0058 | 1.0884 | $64.60 |  | $12.92
29305 | S |  | Application of hip cast | 0426 | 2.1147 | $125.51 |  | $25.10
29325 | S |  | Application of hip casts | 0426 | 2.1147 | $125.51 |  | $25.10
29345 | S |  | Application of long leg cast | 0426 | 2.1147 | $125.51 |  | $25.10
29355 | S |  | Application of long leg cast | 0426 | 2.1147 | $125.51 |  | $25.10
29358 | S |  | Apply long leg cast brace | 0426 | 2.1147 | $125.51 |  | $25.10
29365 | S |  | Application of long leg cast | 0426 | 2.1147 | $125.51 |  | $25.10
29405 | S |  | Apply short leg cast | 0426 | 2.1147 | $125.51 |  | $25.10
29425 | S |  | Apply short leg cast | 0426 | 2.1147 | $125.51 |  | $25.10
29435 | S |  | Apply short leg cast | 0426 | 2.1147 | $125.51 |  | $25.10
29440 | S |  | Addition of walker to cast | 0058 | 1.0884 | $64.60 |  | $12.92
29445 | S |  | Apply rigid leg cast | 0426 | 2.1147 | $125.51 |  | $25.10
29450 | S |  | Application of leg cast | 0058 | 1.0884 | $64.60 |  | $12.92
29505 | S |  | Application, long leg splint | 0058 | 1.0884 | $64.60 |  | $12.92
29515 | S |  | Application lower leg splint | 0058 | 1.0884 | $64.60 |  | $12.92
29520 | S |  | Strapping of hip | 0058 | 1.0884 | $64.60 |  | $12.92
29530 | S |  | Strapping of knee | 0058 | 1.0884 | $64.60 |  | $12.92
29540 | S |  | Strapping of ankle | 0058 | 1.0884 | $64.60 |  | $12.92
29550 | S |  | Strapping of toes | 0058 | 1.0884 | $64.60 |  | $12.92
29580 | S |  | Application of paste boot | 0058 | 1.0884 | $64.60 |  | $12.92
29590 | S |  | Application of foot splint | 0058 | 1.0884 | $64.60 |  | $12.92
29700 | S |  | Removal/revision of cast | 0058 | 1.0884 | $64.60 |  | $12.92
29705 | S |  | Removal/revision of cast | 0058 | 1.0884 | $64.60 |  | $12.92
29710 | S |  | Removal/revision of cast | 0426 | 2.1147 | $125.51 |  | $25.10
29715 | S |  | Removal/revision of cast | 0058 | 1.0884 | $64.60 |  | $12.92
29720 | S |  | Repair of body cast | 0058 | 1.0884 | $64.60 |  | $12.92
29730 | S |  | Windowing of cast | 0058 | 1.0884 | $64.60 |  | $12.92
29740 | S |  | Wedging of cast | 0058 | 1.0884 | $64.60 |  | $12.92
29750 | S |  | Wedging of clubfoot cast | 0058 | 1.0884 | $64.60 |  | $12.92
29799 | S |  | Casting/strapping procedure | 0058 | 1.0884 | $64.60 |  | $12.92
29800 | T |  | Jaw arthroscopy/surgery | 0041 | 28.0044 | $1,662.06 |  | $332.41
29804 | T |  | Jaw arthroscopy/surgery | 0041 | 28.0044 | $1,662.06 |  | $332.41
29805 | T |  | Shoulder arthroscopy, dx | 0041 | 28.0044 | $1,662.06 |  | $332.41
29806 | T |  | Shoulder arthroscopy/surgery | 0042 | 43.7761 | $2,598.11 | $804.74 | $519.62
29807 | T |  | Shoulder arthroscopy/surgery | 0042 | 43.7761 | $2,598.11 | $804.74 | $519.62
29819 | T |  | Shoulder arthroscopy/surgery | 0041 | 28.0044 | $1,662.06 |  | $332.41
29820 | T |  | Shoulder arthroscopy/surgery | 0041 | 28.0044 | $1,662.06 |  | $332.41
29821 | T |  | Shoulder arthroscopy/surgery | 0041 | 28.0044 | $1,662.06 |  | $332.41
29822 | T |  | Shoulder arthroscopy/surgery | 0041 | 28.0044 | $1,662.06 |  | $332.41
29823 | T |  | Shoulder arthroscopy/surgery | 0041 | 28.0044 | $1,662.06 |  | $332.41
29824 | T |  | Shoulder arthroscopy/surgery | 0041 | 28.0044 | $1,662.06 |  | $332.41
29825 | T |  | Shoulder arthroscopy/surgery | 0041 | 28.0044 | $1,662.06 |  | $332.41
29826 | T |  | Shoulder arthroscopy/surgery | 0042 | 43.7761 | $2,598.11 | $804.74 | $519.62
29827 | T |  | Arthroscop rotator cuff repr | 0042 | 43.7761 | $2,598.11 | $804.74 | $519.62
29830 | T |  | Elbow arthroscopy | 0041 | 28.0044 | $1,662.06 |  | $332.41
29834 | T |  | Elbow arthroscopy/surgery | 0041 | 28.0044 | $1,662.06 |  | $332.41
29835 | T |  | Elbow arthroscopy/surgery | 0041 | 28.0044 | $1,662.06 |  | $332.41
29836 | T |  | Elbow arthroscopy/surgery | 0041 | 28.0044 | $1,662.06 |  | $332.41
29837 | T |  | Elbow arthroscopy/surgery | 0041 | 28.0044 | $1,662.06 |  | $332.41
29838 | T |  | Elbow arthroscopy/surgery | 0041 | 28.0044 | $1,662.06 |  | $332.41
29840 | T |  | Wrist arthroscopy | 0041 | 28.0044 | $1,662.06 |  | $332.41
29843 | T |  | Wrist arthroscopy/surgery | 0041 | 28.0044 | $1,662.06 |  | $332.41
29844 | T |  | Wrist arthroscopy/surgery | 0041 | 28.0044 | $1,662.06 |  | $332.41
29845 | T |  | Wrist arthroscopy/surgery | 0041 | 28.0044 | $1,662.06 |  | $332.41
29846 | T |  | Wrist arthroscopy/surgery | 0041 | 28.0044 | $1,662.06 |  | $332.41
29847 | T |  | Wrist arthroscopy/surgery | 0041 | 28.0044 | $1,662.06 |  | $332.41
29848 | T |  | Wrist endoscopy/surgery | 0041 | 28.0044 | $1,662.06 |  | $332.41
29850 | T |  | Knee arthroscopy/surgery | 0041 | 28.0044 | $1,662.06 |  | $332.41
29851 | T |  | Knee arthroscopy/surgery | 0042 | 43.7761 | $2,598.11 | $804.74 | $519.62
29855 | T |  | Tibial arthroscopy/surgery | 0042 | 43.7761 | $2,598.11 | $804.74 | $519.62
29856 | T |  | Tibial arthroscopy/surgery | 0041 | 28.0044 | $1,662.06 |  | $332.41
29860 | T |  | Hip arthroscopy, dx | 0041 | 28.0044 | $1,662.06 |  | $332.41
29861 | T |  | Hip arthroscopy/surgery | 0041 | 28.0044 | $1,662.06 |  | $332.41
29862 | T |  | Hip arthroscopy/surgery | 0042 | 43.7761 | $2,598.11 | $804.74 | $519.62
29863 | T |  | Hip arthroscopy/surgery | 0042 | 43.7761 | $2,598.11 | $804.74 | $519.62
29866 | T |  | Autgrft implnt, knee w/scope | 0042 | 43.7761 | $2,598.11 | $804.74 | $519.62
29867 | T |  | Allgrft implnt, knee w/scope | 0042 | 43.7761 | $2,598.11 | $804.74 | $519.62
29868 | T |  | Meniscal trnspl, knee w/scpe | 0042 | 43.7761 | $2,598.11 | $804.74 | $519.62
29870 | T |  | Knee arthroscopy, dx | 0041 | 28.0044 | $1,662.06 |  | $332.41
29871 | T |  | Knee arthroscopy/drainage | 0041 | 28.0044 | $1,662.06 |  | $332.41
29873 | T |  | Knee arthroscopy/surgery | 0041 | 28.0044 | $1,662.06 |  | $332.41
29874 | T |  | Knee arthroscopy/surgery | 0041 | 28.0044 | $1,662.06 |  | $332.41
29875 | T |  | Knee arthroscopy/surgery | 0041 | 28.0044 | $1,662.06 |  | $332.41
29876 | T |  | Knee arthroscopy/surgery | 0041 | 28.0044 | $1,662.06 |  | $332.41
29877 | T |  | Knee arthroscopy/surgery | 0041 | 28.0044 | $1,662.06 |  | $332.41
29879 | T |  | Knee arthroscopy/surgery | 0041 | 28.0044 | $1,662.06 |  | $332.41
29880 | T |  | Knee arthroscopy/surgery | 0041 | 28.0044 | $1,662.06 |  | $332.41
29881 | T |  | Knee arthroscopy/surgery | 0041 | 28.0044 | $1,662.06 |  | $332.41
29882 | T |  | Knee arthroscopy/surgery | 0041 | 28.0044 | $1,662.06 |  | $332.41
29883 | T |  | Knee arthroscopy/surgery | 0041 | 28.0044 | $1,662.06 |  | $332.41
29884 | T |  | Knee arthroscopy/surgery | 0041 | 28.0044 | $1,662.06 |  | $332.41
29885 | T |  | Knee arthroscopy/surgery | 0042 | 43.7761 | $2,598.11 | $804.74 | $519.62
29886 | T |  | Knee arthroscopy/surgery | 0041 | 28.0044 | $1,662.06 |  | $332.41
29887 | T |  | Knee arthroscopy/surgery | 0041 | 28.0044 | $1,662.06 |  | $332.41
29888 | T |  | Knee arthroscopy/surgery | 0042 | 43.7761 | $2,598.11 | $804.74 | $519.62
29889 | T |  | Knee arthroscopy/surgery | 0042 | 43.7761 | $2,598.11 | $804.74 | $519.62
29891 | T |  | Ankle arthroscopy/surgery | 0041 | 28.0044 | $1,662.06 |  | $332.41
29892 | T |  | Ankle arthroscopy/surgery | 0041 | 28.0044 | $1,662.06 |  | $332.41
29893 | T |  | Scope, plantar fasciotomy | 0055 | 19.9783 | $1,185.71 | $355.34 | $237.14
29894 | T |  | Ankle arthroscopy/surgery | 0041 | 28.0044 | $1,662.06 |  | $332.41
29895 | T |  | Ankle arthroscopy/surgery | 0041 | 28.0044 | $1,662.06 |  | $332.41
29897 | T |  | Ankle arthroscopy/surgery | 0041 | 28.0044 | $1,662.06 |  | $332.41
29898 | T |  | Ankle arthroscopy/surgery | 0041 | 28.0044 | $1,662.06 |  | $332.41
29899 | T |  | Ankle arthroscopy/surgery | 0042 | 43.7761 | $2,598.11 | $804.74 | $519.62
29900 | T |  | Mcp joint arthroscopy, dx | 0053 | 15.6085 | $926.36 | $253.49 | $185.27
29901 | T |  | Mcp joint arthroscopy, surg | 0053 | 15.6085 | $926.36 | $253.49 | $185.27
29902 | T |  | Mcp joint arthroscopy, surg | 0053 | 15.6085 | $926.36 | $253.49 | $185.27
29999 | T |  | Arthroscopy of joint | 0041 | 28.0044 | $1,662.06 |  | $332.41
30000 | T |  | Drainage of nose lesion | 0251 | 2.0010 | $118.76 |  | $23.75
30020 | T |  | Drainage of nose lesion | 0251 | 2.0010 | $118.76 |  | $23.75
30100 | T |  | Intranasal biopsy | 0252 | 7.8317 | $464.81 | $113.41 | $92.96
30110 | T |  | Removal of nose polyp(s) | 0253 | 16.0627 | $953.32 | $282.29 | $190.66
30115 | T |  | Removal of nose polyp(s) | 0253 | 16.0627 | $953.32 | $282.29 | $190.66
30117 | T |  | Removal of intranasal lesion | 0253 | 16.0627 | $953.32 | $282.29 | $190.66
30118 | T |  | Removal of intranasal lesion | 0254 | 23.2980 | $1,382.74 | $321.35 | $276.55
30120 | T |  | Revision of nose | 0253 | 16.0627 | $953.32 | $282.29 | $190.66
30124 | T |  | Removal of nose lesion | 0252 | 7.8317 | $464.81 | $113.41 | $92.96
30125 | T |  | Removal of nose lesion | 0256 | 37.1513 | $2,204.93 |  | $440.99
30130 | T |  | Removal of turbinate bones | 0253 | 16.0627 | $953.32 | $282.29 | $190.66
30140 | T |  | Removal of turbinate bones | 0254 | 23.2980 | $1,382.74 | $321.35 | $276.55
30150 | T |  | Partial removal of nose | 0256 | 37.1513 | $2,204.93 |  | $440.99
30160 | T |  | Removal of nose | 0256 | 37.1513 | $2,204.93 |  | $440.99
30200 | T |  | Injection treatment of nose | 0252 | 7.8317 | $464.81 | $113.41 | $92.96
30210 | T |  | Nasal sinus therapy | 0252 | 7.8317 | $464.81 | $113.41 | $92.96
30220 | T |  | Insert nasal septal button | 0252 | 7.8317 | $464.81 | $113.41 | $92.96
30300 | X |  | Remove nasal foreign body | 0340 | 0.6355 | $37.72 |  | $7.54
30310 | T |  | Remove nasal foreign body | 0253 | 16.0627 | $953.32 | $282.29 | $190.66
30320 | T |  | Remove nasal foreign body | 0253 | 16.0627 | $953.32 | $282.29 | $190.66
30400 | T |  | Reconstruction of nose | 0256 | 37.1513 | $2,204.93 |  | $440.99
30410 | T |  | Reconstruction of nose | 0256 | 37.1513 | $2,204.93 |  | $440.99
30420 | T |  | Reconstruction of nose | 0256 | 37.1513 | $2,204.93 |  | $440.99
30430 | T |  | Revision of nose | 0254 | 23.2980 | $1,382.74 | $321.35 | $276.55
30435 | T |  | Revision of nose | 0256 | 37.1513 | $2,204.93 |  | $440.99
30450 | T |  | Revision of nose | 0256 | 37.1513 | $2,204.93 |  | $440.99
30460 | T |  | Revision of nose | 0256 | 37.1513 | $2,204.93 |  | $440.99
30462 | T |  | Revision of nose | 0256 | 37.1513 | $2,204.93 |  | $440.99
30465 | T |  | Repair nasal stenosis | 0256 | 37.1513 | $2,204.93 |  | $440.99
30520 | T |  | Repair of nasal septum | 0254 | 23.2980 | $1,382.74 | $321.35 | $276.55
30540 | T |  | Repair nasal defect | 0256 | 37.1513 | $2,204.93 |  | $440.99
30545 | T |  | Repair nasal defect | 0256 | 37.1513 | $2,204.93 |  | $440.99
30560 | T |  | Release of nasal adhesions | 0251 | 2.0010 | $118.76 |  | $23.75
30580 | T |  | Repair upper jaw fistula | 0256 | 37.1513 | $2,204.93 |  | $440.99
30600 | T |  | Repair mouth/nose fistula | 0256 | 37.1513 | $2,204.93 |  | $440.99
30620 | T |  | Intranasal reconstruction | 0256 | 37.1513 | $2,204.93 |  | $440.99
30630 | T |  | Repair nasal septum defect | 0254 | 23.2980 | $1,382.74 | $321.35 | $276.55
30801 | T |  | Cauterization, inner nose | 0252 | 7.8317 | $464.81 | $113.41 | $92.96
30802 | T |  | Cauterization, inner nose | 0252 | 7.8317 | $464.81 | $113.41 | $92.96
30901 | T |  | Control of nosebleed | 0250 | 1.2838 | $76.19 | $26.67 | $15.24
30903 | T |  | Control of nosebleed | 0250 | 1.2838 | $76.19 | $26.67 | $15.24
30905 | T |  | Control of nosebleed | 0250 | 1.2838 | $76.19 | $26.67 | $15.24
30906 | T |  | Repeat control of nosebleed | 0250 | 1.2838 | $76.19 | $26.67 | $15.24
30915 | T |  | Ligation, nasal sinus artery | 0091 | 28.8685 | $1,713.35 | $348.23 | $342.67
30920 | T |  | Ligation, upper jaw artery | 0092 | 26.3621 | $1,564.59 | $505.37 | $312.92
30930 | T |  | Therapy, fracture of nose | 0253 | 16.0627 | $953.32 | $282.29 | $190.66
30999 | T |  | Nasal surgery procedure | 0251 | 2.0010 | $118.76 |  | $23.75
31000 | T |  | Irrigation, maxillary sinus | 0251 | 2.0010 | $118.76 |  | $23.75
31002 | T |  | Irrigation, sphenoid sinus | 0252 | 7.8317 | $464.81 | $113.41 | $92.96
31020 | T |  | Exploration, maxillary sinus | 0254 | 23.2980 | $1,382.74 | $321.35 | $276.55
31030 | T |  | Exploration, maxillary sinus | 0256 | 37.1513 | $2,204.93 |  | $440.99
31032 | T |  | Explore sinus, remove polyps | 0256 | 37.1513 | $2,204.93 |  | $440.99
31040 | T |  | Exploration behind upper jaw | 0254 | 23.2980 | $1,382.74 | $321.35 | $276.55
31050 | T |  | Exploration, sphenoid sinus | 0256 | 37.1513 | $2,204.93 |  | $440.99
31051 | T |  | Sphenoid sinus surgery | 0256 | 37.1513 | $2,204.93 |  | $440.99
31070 | T |  | Exploration of frontal sinus | 0254 | 23.2980 | $1,382.74 | $321.35 | $276.55
31075 | T |  | Exploration of frontal sinus | 0256 | 37.1513 | $2,204.93 |  | $440.99
31080 | T |  | Removal of frontal sinus | 0256 | 37.1513 | $2,204.93 |  | $440.99
31081 | T |  | Removal of frontal sinus | 0256 | 37.1513 | $2,204.93 |  | $440.99
31084 | T |  | Removal of frontal sinus | 0256 | 37.1513 | $2,204.93 |  | $440.99
31085 | T |  | Removal of frontal sinus | 0256 | 37.1513 | $2,204.93 |  | $440.99
31086 | T |  | Removal of frontal sinus | 0256 | 37.1513 | $2,204.93 |  | $440.99
31087 | T |  | Removal of frontal sinus | 0256 | 37.1513 | $2,204.93 |  | $440.99
31090 | T |  | Exploration of sinuses | 0256 | 37.1513 | $2,204.93 |  | $440.99
31200 | T |  | Removal of ethmoid sinus | 0256 | 37.1513 | $2,204.93 |  | $440.99
31201 | T |  | Removal of ethmoid sinus | 0256 | 37.1513 | $2,204.93 |  | $440.99
31205 | T |  | Removal of ethmoid sinus | 0256 | 37.1513 | $2,204.93 |  | $440.99
31225 | C |  | Removal of upper jaw |  |  |  |  |
31230 | C |  | Removal of upper jaw |  |  |  |  |
31231 | T |  | Nasal endoscopy, dx | 0072 | 1.4296 | $84.85 | $21.27 | $16.97
31233 | T |  | Nasal/sinus endoscopy, dx | 0072 | 1.4296 | $84.85 | $21.27 | $16.97
31235 | T |  | Nasal/sinus endoscopy, dx | 0074 | 15.7042 | $932.04 | $295.70 | $186.41
31237 | T |  | Nasal/sinus endoscopy, surg | 0075 | 21.2460 | $1,260.95 | $445.92 | $252.19
31238 | T |  | Nasal/sinus endoscopy, surg | 0074 | 15.7042 | $932.04 | $295.70 | $186.41
31239 | T |  | Nasal/sinus endoscopy, surg | 0075 | 21.2460 | $1,260.95 | $445.92 | $252.19
31240 | T |  | Nasal/sinus endoscopy, surg | 0074 | 15.7042 | $932.04 | $295.70 | $186.41
31254 | T |  | Revision of ethmoid sinus | 0075 | 21.2460 | $1,260.95 | $445.92 | $252.19
31255 | T |  | Removal of ethmoid sinus | 0075 | 21.2460 | $1,260.95 | $445.92 | $252.19
31256 | T |  | Exploration maxillary sinus | 0075 | 21.2460 | $1,260.95 | $445.92 | $252.19
31267 | T |  | Endoscopy, maxillary sinus | 0075 | 21.2460 | $1,260.95 | $445.92 | $252.19
31276 | T |  | Sinus endoscopy, surgical | 0075 | 21.2460 | $1,260.95 | $445.92 | $252.19
31287 | T |  | Nasal/sinus endoscopy, surg | 0075 | 21.2460 | $1,260.95 | $445.92 | $252.19
31288 | T |  | Nasal/sinus endoscopy, surg | 0075 | 21.2460 | $1,260.95 | $445.92 | $252.19
31290 | C |  | Nasal/sinus endoscopy, surg |  |  |  |  |
31291 | C |  | Nasal/sinus endoscopy, surg |  |  |  |  |
31292 | T |  | Nasal/sinus endoscopy, surg | 0075 | 21.2460 | $1,260.95 | $445.92 | $252.19
31293 | T |  | Nasal/sinus endoscopy, surg | 0075 | 21.2460 | $1,260.95 | $445.92 | $252.19
31294 | T |  | Nasal/sinus endoscopy, surg | 0075 | 21.2460 | $1,260.95 | $445.92 | $252.19
31299 | T |  | Sinus surgery procedure | 0251 | 2.0010 | $118.76 |  | $23.75
31300 | T |  | Removal of larynx lesion | 0254 | 23.2980 | $1,382.74 | $321.35 | $276.55
31320 | T |  | Diagnostic incision, larynx | 0256 | 37.1513 | $2,204.93 |  | $440.99
31360 | C |  | Removal of larynx |  |  |  |  |
31365 | C |  | Removal of larynx |  |  |  |  |
31367 | C |  | Partial removal of larynx |  |  |  |  |
31368 | C |  | Partial removal of larynx |  |  |  |  |
31370 | C |  | Partial removal of larynx |  |  |  |  |
31375 | C |  | Partial removal of larynx |  |  |  |  |
31380 | C |  | Partial removal of larynx |  |  |  |  |
31382 | C |  | Partial removal of larynx |  |  |  |  |
31390 | C |  | Removal of larynx & pharynx |  |  |  |  |
31395 | C |  | Reconstruct larynx & pharynx |  |  |  |  |
31400 | T |  | Revision of larynx | 0256 | 37.1513 | $2,204.93 |  | $440.99
31420 | T |  | Removal of epiglottis | 0256 | 37.1513 | $2,204.93 |  | $440.99
31500 | S |  | Insert emergency airway | 0094 | 2.5248 | $149.85 | $47.41 | $29.97
31502 | T |  | Change of windpipe airway | 0121 | 2.2663 | $134.50 | $43.80 | $26.90
31505 | T |  | Diagnostic laryngoscopy | 0071 | 0.7879 | $46.76 | $11.31 | $9.35
31510 | T |  | Laryngoscopy with biopsy | 0074 | 15.7042 | $932.04 | $295.70 | $186.41
31511 | T |  | Remove foreign body, larynx | 0072 | 1.4296 | $84.85 | $21.27 | $16.97
31512 | T |  | Removal of larynx lesion | 0074 | 15.7042 | $932.04 | $295.70 | $186.41
31513 | T |  | Injection into vocal cord | 0072 | 1.4296 | $84.85 | $21.27 | $16.97
31515 | T |  | Laryngoscopy for aspiration | 0074 | 15.7042 | $932.04 | $295.70 | $186.41
31520 | T |  | Diagnostic laryngoscopy | 0072 | 1.4296 | $84.85 | $21.27 | $16.97
31525 | T |  | Diagnostic laryngoscopy | 0074 | 15.7042 | $932.04 | $295.70 | $186.41
31526 | T |  | Diagnostic laryngoscopy | 0075 | 21.2460 | $1,260.95 | $445.92 | $252.19
31527 | T |  | Laryngoscopy for treatment | 0075 | 21.2460 | $1,260.95 | $445.92 | $252.19
31528 | T |  | Laryngoscopy and dilation | 0074 | 15.7042 | $932.04 | $295.70 | $186.41
31529 | T |  | Laryngoscopy and dilation | 0074 | 15.7042 | $932.04 | $295.70 | $186.41
31530 | T |  | Operative laryngoscopy | 0075 | 21.2460 | $1,260.95 | $445.92 | $252.19
31531 | T |  | Operative laryngoscopy | 0075 | 21.2460 | $1,260.95 | $445.92 | $252.19
31535 | T |  | Operative laryngoscopy | 0075 | 21.2460 | $1,260.95 | $445.92 | $252.19
31536 | T |  | Operative laryngoscopy | 0075 | 21.2460 | $1,260.95 | $445.92 | $252.19
31540 | T |  | Operative laryngoscopy | 0075 | 21.2460 | $1,260.95 | $445.92 | $252.19
31541 | T |  | Operative laryngoscopy | 0075 | 21.2460 | $1,260.95 | $445.92 | $252.19
31545 | T |  | Remove vc lesion w/scope | 0075 | 21.2460 | $1,260.95 | $445.92 | $252.19
31546 | T |  | Remove vc lesion scope/graft | 0075 | 21.2460 | $1,260.95 | $445.92 | $252.19
31560 | T |  | Operative laryngoscopy | 0075 | 21.2460 | $1,260.95 | $445.92 | $252.19
31561 | T |  | Operative laryngoscopy | 0075 | 21.2460 | $1,260.95 | $445.92 | $252.19
31570 | T |  | Laryngoscopy with injection | 0074 | 15.7042 | $932.04 | $295.70 | $186.41
31571 | T |  | Laryngoscopy with injection | 0075 | 21.2460 | $1,260.95 | $445.92 | $252.19
31575 | T |  | Diagnostic laryngoscopy | 0072 | 1.4296 | $84.85 | $21.27 | $16.97
31576 | T |  | Laryngoscopy with biopsy | 0075 | 21.2460 | $1,260.95 | $445.92 | $252.19
31577 | T |  | Remove foreign body, larynx | 0073 | 4.1420 | $245.83 | $73.38 | $49.17
31578 | T |  | Removal of larynx lesion | 0075 | 21.2460 | $1,260.95 | $445.92 | $252.19
31579 | T |  | Diagnostic laryngoscopy | 0073 | 4.1420 | $245.83 | $73.38 | $49.17
31580 | T |  | Revision of larynx | 0256 | 37.1513 | $2,204.93 |  | $440.99
31582 | T |  | Revision of larynx | 0256 | 37.1513 | $2,204.93 |  | $440.99
31584 | C |  | Treat larynx fracture |  |  |  |  |
31585 | T |  | Treat larynx fracture | 0253 | 16.0627 | $953.32 | $282.29 | $190.66
31586 | T |  | Treat larynx fracture | 0256 | 37.1513 | $2,204.93 |  | $440.99
31587 | C |  | Revision of larynx |  |  |  |  |
31588 | T |  | Revision of larynx | 0256 | 37.1513 | $2,204.93 |  | $440.99
31590 | T |  | Reinnervate larynx | 0256 | 37.1513 | $2,204.93 |  | $440.99
31595 | T |  | Larynx nerve surgery | 0256 | 37.1513 | $2,204.93 |  | $440.99
31599 | T |  | Larynx surgery procedure | 0251 | 2.0010 | $118.76 |  | $23.75
31600 | T |  | Incision of windpipe | 0254 | 23.2980 | $1,382.74 | $321.35 | $276.55
31601 | T |  | Incision of windpipe | 0254 | 23.2980 | $1,382.74 | $321.35 | $276.55
31603 | T |  | Incision of windpipe | 0252 | 7.8317 | $464.81 | $113.41 | $92.96
31605 | T |  | Incision of windpipe | 0252 | 7.8317 | $464.81 | $113.41 | $92.96
31610 | T |  | Incision of windpipe | 0254 | 23.2980 | $1,382.74 | $321.35 | $276.55
31611 | T |  | Surgery/speech prosthesis | 0254 | 23.2980 | $1,382.74 | $321.35 | $276.55
31612 | T |  | Puncture/clear windpipe | 0254 | 23.2980 | $1,382.74 | $321.35 | $276.55
31613 | T |  | Repair windpipe opening | 0254 | 23.2980 | $1,382.74 | $321.35 | $276.55
31614 | T |  | Repair windpipe opening | 0256 | 37.1513 | $2,204.93 |  | $440.99
31615 | T |  | Visualization of windpipe | 0076 | 9.4163 | $558.86 | $189.82 | $111.77
31620 | S |  | Endobronchial us add-on | 0670 | 25.2980 | $1,501.44 | $470.38 | $300.29
31622 | T |  | Dx bronchoscope/wash | 0076 | 9.4163 | $558.86 | $189.82 | $111.77
31623 | T |  | Dx bronchoscope/brush | 0076 | 9.4163 | $558.86 | $189.82 | $111.77
31624 | T |  | Dx bronchoscope/lavage | 0076 | 9.4163 | $558.86 | $189.82 | $111.77
31625 | T |  | Bronchoscopy w/biopsy(s) | 0076 | 9.4163 | $558.86 | $189.82 | $111.77
31628 | T |  | Bronchoscopy/lung bx, each | 0076 | 9.4163 | $558.86 | $189.82 | $111.77
31629 | T |  | Bronchoscopy/needle bx, each | 0076 | 9.4163 | $558.86 | $189.82 | $111.77
31630 | T |  | Bronchoscopy dilate/fx repr | 0415 | 21.9955 | $1,305.43 | $459.92 | $261.09
31631 | T |  | Bronchoscopy, dilate w/stent | 0415 | 21.9955 | $1,305.43 | $459.92 | $261.09
31632 | T |  | Bronchoscopy/lung bx, add'l | 0076 | 9.4163 | $558.86 | $189.82 | $111.77
31633 | T |  | Bronchoscopy/needle bx add'l | 0076 | 9.4163 | $558.86 | $189.82 | $111.77
31635 | T |  | Bronchoscopy w/fb removal | 0076 | 9.4163 | $558.86 | $189.82 | $111.77
31636 | T |  | Bronchoscopy, bronch stents | 0415 | 21.9955 | $1,305.43 | $459.92 | $261.09
31637 | T |  | Bronchoscopy, stent add-on | 0076 | 9.4163 | $558.86 | $189.82 | $111.77
31638 | T |  | Bronchoscopy, revise stent | 0415 | 21.9955 | $1,305.43 | $459.92 | $261.09
31640 | T |  | Bronchoscopy w/tumor excise | 0415 | 21.9955 | $1,305.43 | $459.92 | $261.09
31641 | T |  | Bronchoscopy, treat blockage | 0415 | 21.9955 | $1,305.43 | $459.92 | $261.09
31643 | T |  | Diag bronchoscope/catheter | 0076 | 9.4163 | $558.86 | $189.82 | $111.77
31645 | T |  | Bronchoscopy, clear airways | 0076 | 9.4163 | $558.86 | $189.82 | $111.77
31646 | T |  | Bronchoscopy, reclear airway | 0076 | 9.4163 | $558.86 | $189.82 | $111.77
31656 | T |  | Bronchoscopy, inj for x-ray | 0076 | 9.4163 | $558.86 | $189.82 | $111.77
31700 | T |  | Insertion of airway catheter | 0072 | 1.4296 | $84.85 | $21.27 | $16.97
31708 | N |  | Instill airway contrast dye |  |  |  |  |
31710 | N |  | Insertion of airway catheter |  |  |  |  |
31715 | N |  | Injection for bronchus x-ray |  |  |  |  |
31717 | T |  | Bronchial brush biopsy | 0073 | 4.1420 | $245.83 | $73.38 | $49.17
31720 | T |  | Clearance of airways | 0071 | 0.7879 | $46.76 | $11.31 | $9.35
31725 | C |  | Clearance of airways |  |  |  |  |
31730 | T |  | Intro, windpipe wire/tube | 0073 | 4.1420 | $245.83 | $73.38 | $49.17
31750 | T |  | Repair of windpipe | 0256 | 37.1513 | $2,204.93 |  | $440.99
31755 | T |  | Repair of windpipe | 0256 | 37.1513 | $2,204.93 |  | $440.99
31760 | C |  | Repair of windpipe |  |  |  |  |
31766 | C |  | Reconstruction of windpipe |  |  |  |  |
31770 | C |  | Repair/graft of bronchus |  |  |  |  |
31775 | C |  | Reconstruct bronchus |  |  |  |  |
31780 | C |  | Reconstruct windpipe |  |  |  |  |
31781 | C |  | Reconstruct windpipe |  |  |  |  |
31785 | T |  | Remove windpipe lesion | 0254 | 23.2980 | $1,382.74 | $321.35 | $276.55
31786 | C |  | Remove windpipe lesion |  |  |  |  |
31800 | C |  | Repair of windpipe injury |  |  |  |  |
31805 | C |  | Repair of windpipe injury |  |  |  |  |
31820 | T |  | Closure of windpipe lesion | 0253 | 16.0627 | $953.32 | $282.29 | $190.66
31825 | T |  | Repair of windpipe defect | 0254 | 23.2980 | $1,382.74 | $321.35 | $276.55
31830 | T |  | Revise windpipe scar | 0254 | 23.2980 | $1,382.74 | $321.35 | $276.55
31899 | T |  | Airways surgical procedure | 0076 | 9.4163 | $558.86 | $189.82 | $111.77
32000 | T |  | Drainage of chest | 0070 | 3.1956 | $189.66 |  | $37.93
32002 | T |  | Treatment of collapsed lung | 0070 | 3.1956 | $189.66 |  | $37.93
32005 | T |  | Treat lung lining chemically | 0070 | 3.1956 | $189.66 |  | $37.93
32019 | T |  | Insert pleural catheter | 0070 | 3.1956 | $189.66 |  | $37.93
32020 | T |  | Insertion of chest tube | 0070 | 3.1956 | $189.66 |  | $37.93
32035 | C |  | Exploration of chest |  |  |  |  |
32036 | C |  | Exploration of chest |  |  |  |  |
32095 | C |  | Biopsy through chest wall |  |  |  |  |
32100 | C |  | Exploration/biopsy of chest |  |  |  |  |
32110 | C |  | Explore/repair chest |  |  |  |  |
32120 | C |  | Re-exploration of chest |  |  |  |  |
32124 | C |  | Explore chest free adhesions |  |  |  |  |
32140 | C |  | Removal of lung lesion(s) |  |  |  |  |
32141 | C |  | Remove/treat lung lesions |  |  |  |  |
32150 | C |  | Removal of lung lesion(s) |  |  |  |  |
32151 | C |  | Remove lung foreign body |  |  |  |  |
32160 | C |  | Open chest heart massage |  |  |  |  |
32200 | C |  | Drain, open, lung lesion |  |  |  |  |
32201 | T |  | Drain, percut, lung lesion | 0070 | 3.1956 | $189.66 |  | $37.93
32215 | C |  | Treat chest lining |  |  |  |  |
32220 | C |  | Release of lung |  |  |  |  |
32225 | C |  | Partial release of lung |  |  |  |  |
32310 | C |  | Removal of chest lining |  |  |  |  |
32320 | C |  | Free/remove chest lining |  |  |  |  |
32400 | T |  | Needle biopsy chest lining | 0685 | 5.9902 | $355.52 | $115.47 | $71.10
32402 | C |  | Open biopsy chest lining |  |  |  |  |
32405 | T |  | Biopsy, lung or mediastinum | 0685 | 5.9902 | $355.52 | $115.47 | $71.10
32420 | T |  | Puncture/clear lung | 0070 | 3.1956 | $189.66 |  | $37.93
32440 | C |  | Removal of lung |  |  |  |  |
32442 | C |  | Sleeve pneumonectomy |  |  |  |  |
32445 | C |  | Removal of lung |  |  |  |  |
32480 | C |  | Partial removal of lung |  |  |  |  |
32482 | C |  | Bilobectomy |  |  |  |  |
32484 | C |  | Segmentectomy |  |  |  |  |
32486 | C |  | Sleeve lobectomy |  |  |  |  |
32488 | C |  | Completion pneumonectomy |  |  |  |  |
32491 | C |  | Lung volume reduction |  |  |  |  |
32500 | C |  | Partial removal of lung |  |  |  |  |
32501 | C |  | Repair bronchus add-on |  |  |  |  |
32520 | C |  | Remove lung & revise chest |  |  |  |  |
32522 | C |  | Remove lung & revise chest |  |  |  |  |
32525 | C |  | Remove lung & revise chest |  |  |  |  |
32540 | C |  | Removal of lung lesion |  |  |  |  |
32601 | T |  | Thoracoscopy, diagnostic | 0069 | 30.5386 | $1,812.47 | $591.64 | $362.49
32602 | T |  | Thoracoscopy, diagnostic | 0069 | 30.5386 | $1,812.47 | $591.64 | $362.49
32603 | T |  | Thoracoscopy, diagnostic | 0069 | 30.5386 | $1,812.47 | $591.64 | $362.49
32604 | T |  | Thoracoscopy, diagnostic | 0069 | 30.5386 | $1,812.47 | $591.64 | $362.49
32605 | T |  | Thoracoscopy, diagnostic | 0069 | 30.5386 | $1,812.47 | $591.64 | $362.49
32606 | T |  | Thoracoscopy, diagnostic | 0069 | 30.5386 | $1,812.47 | $591.64 | $362.49
32650 | C |  | Thoracoscopy, surgical |  |  |  |  |
32651 | C |  | Thoracoscopy, surgical |  |  |  |  |
32652 | C |  | Thoracoscopy, surgical |  |  |  |  |
32653 | C |  | Thoracoscopy, surgical |  |  |  |  |
32654 | C |  | Thoracoscopy, surgical |  |  |  |  |
32655 | C |  | Thoracoscopy, surgical |  |  |  |  |
32656 | C |  | Thoracoscopy, surgical |  |  |  |  |
32657 | C |  | Thoracoscopy, surgical |  |  |  |  |
32658 | C |  | Thoracoscopy, surgical |  |  |  |  |
32659 | C |  | Thoracoscopy, surgical |  |  |  |  |
32660 | C |  | Thoracoscopy, surgical |  |  |  |  |
32661 | C |  | Thoracoscopy, surgical |  |  |  |  |
32662 | C |  | Thoracoscopy, surgical |  |  |  |  |
32663 | C |  | Thoracoscopy, surgical |  |  |  |  |
32664 | C |  | Thoracoscopy, surgical |  |  |  |  |
32665 | C |  | Thoracoscopy, surgical |  |  |  |  |
32800 | C |  | Repair lung hernia |  |  |  |  |
32810 | C |  | Close chest after drainage |  |  |  |  |
32815 | C |  | Close bronchial fistula |  |  |  |  |
32820 | C |  | Reconstruct injured chest |  |  |  |  |
32850 | C |  | Donor pneumonectomy |  |  |  |  |
32851 | C |  | Lung transplant, single |  |  |  |  |
32852 | C |  | Lung transplant with bypass |  |  |  |  |
32853 | C |  | Lung transplant, double |  |  |  |  |
32854 | C |  | Lung transplant with bypass |  |  |  |  |
32855 | C |  | Prepare donor lung, single |  |  |  |  |
32856 | C |  | Prepare donor lung, double |  |  |  |  |
32900 | C |  | Removal of rib(s) |  |  |  |  |
32905 | C |  | Revise & repair chest wall |  |  |  |  |
32906 | C |  | Revise & repair chest wall |  |  |  |  |
32940 | C |  | Revision of lung |  |  |  |  |
32960 | T |  | Therapeutic pneumothorax | 0070 | 3.1956 | $189.66 |  | $37.93
32997 | C |  | Total lung lavage |  |  |  |  |
32999 | T |  | Chest surgery procedure | 0070 | 3.1956 | $189.66 |  | $37.93
33010 | T |  | Drainage of heart sac | 0070 | 3.1956 | $189.66 |  | $37.93
33011 | T |  | Repeat drainage of heart sac | 0070 | 3.1956 | $189.66 |  | $37.93
33015 | C |  | Incision of heart sac |  |  |  |  |
33020 | C |  | Incision of heart sac |  |  |  |  |
33025 | C |  | Incision of heart sac |  |  |  |  |
33030 | C |  | Partial removal of heart sac |  |  |  |  |
33031 | C |  | Partial removal of heart sac |  |  |  |  |
33050 | C |  | Removal of heart sac lesion |  |  |  |  |
33120 | C |  | Removal of heart lesion |  |  |  |  |
33130 | C |  | Removal of heart lesion |  |  |  |  |
33140 | C |  | Heart revascularize (tmr) |  |  |  |  |
33141 | C |  | Heart tmr w/other procedure |  |  |  |  |
33200 | C |  | Insertion of heart pacemaker |  |  |  |  |
33201 | C |  | Insertion of heart pacemaker |  |  |  |  |
33206 | T |  | Insertion of heart pacemaker | 0089 | 105.1359 | $6,239.82 | $1,681.06 | $1,247.96
33207 | T |  | Insertion of heart pacemaker | 0089 | 105.1359 | $6,239.82 | $1,681.06 | $1,247.96
33208 | T |  | Insertion of heart pacemaker | 0655 | 133.1709 | $7,903.69 |  | $1,580.74
33210 | T |  | Insertion of heart electrode | 0106 | 45.2791 | $2,687.31 |  | $537.46
33211 | T |  | Insertion of heart electrode | 0106 | 45.2791 | $2,687.31 |  | $537.46
33212 | T |  | Insertion of pulse generator | 0090 | 88.7536 | $5,267.53 | $1,612.80 | $1,053.51
33213 | T |  | Insertion of pulse generator | 0654 | 100.4722 | $5,963.03 |  | $1,192.61
33214 | T |  | Upgrade of pacemaker system | 0655 | 133.1709 | $7,903.69 |  | $1,580.74
33215 | T |  | Reposition pacing-defib lead | 0105 | 22.2671 | $1,321.55 | $370.40 | $264.31
33216 | T |  | Revise eltrd pacing-defib | 0106 | 45.2791 | $2,687.31 |  | $537.46
33217 | T |  | Insert lead pace-defib, dual | 0106 | 45.2791 | $2,687.31 |  | $537.46
33218 | T |  | Repair lead pace-defib, one | 0106 | 45.2791 | $2,687.31 |  | $537.46
33220 | T |  | Repair lead pace-defib, dual | 0106 | 45.2791 | $2,687.31 |  | $537.46
33222 | T |  | Revise pocket, pacemaker | 0027 | 18.3348 | $1,088.17 | $329.72 | $217.63
33223 | T |  | Revise pocket, pacing-defib | 0027 | 18.3348 | $1,088.17 | $329.72 | $217.63
33224 | T |  | Insert pacing lead & connect | 0418 | 108.8092 | $6,457.83 |  | $1,291.57
33225 | T |  | L ventric pacing lead add-on | 0418 | 108.8092 | $6,457.83 |  | $1,291.57
33226 | T |  | Reposition l ventric lead | 0105 | 22.2671 | $1,321.55 | $370.40 | $264.31
33233 | T |  | Removal of pacemaker system | 0105 | 22.2671 | $1,321.55 | $370.40 | $264.31
33234 | T |  | Removal of pacemaker system | 0105 | 22.2671 | $1,321.55 | $370.40 | $264.31
33235 | T |  | Removal pacemaker electrode | 0105 | 22.2671 | $1,321.55 | $370.40 | $264.31
33236 | C |  | Remove electrode/thoracotomy |  |  |  |  |
33237 | C |  | Remove electrode/thoracotomy |  |  |  |  |
33238 | C |  | Remove electrode/thoracotomy |  |  |  |  |
33240 | B |  | Insert pulse generator |  |  |  |  |
33241 | T |  | Remove pulse generator | 0105 | 22.2671 | $1,321.55 | $370.40 | $264.31
33243 | C |  | Remove eltrd/thoracotomy |  |  |  |  |
33244 | T |  | Remove eltrd, transven | 0105 | 22.2671 | $1,321.55 | $370.40 | $264.31
33245 | C |  | Insert epic eltrd pace-defib |  |  |  |  |
33246 | C |  | Insert epic eltrd/generator |  |  |  |  |
33249 | B |  | Eltrd/insert pace-defib |  |  |  |  |
33250 | C |  | Ablate heart dysrhythm focus |  |  |  |  |
33251 | C |  | Ablate heart dysrhythm focus |  |  |  |  |
33253 | C |  | Reconstruct atria |  |  |  |  |
33261 | C |  | Ablate heart dysrhythm focus |  |  |  |  |
33282 | S |  | Implant pat-active ht record | 0680 | 62.6232 | $3,716.69 |  | $743.34
33284 | T |  | Remove pat-active ht record | 0109 | 10.9933 | $652.45 | $131.49 | $130.49
33300 | C |  | Repair of heart wound |  |  |  |  |
33305 | C |  | Repair of heart wound |  |  |  |  |
33310 | C |  | Exploratory heart surgery |  |  |  |  |
33315 | C |  | Exploratory heart surgery |  |  |  |  |
33320 | C |  | Repair major blood vessel(s) |  |  |  |  |
33321 | C |  | Repair major vessel |  |  |  |  |
33322 | C |  | Repair major blood vessel(s) |  |  |  |  |
33330 | C |  | Insert major vessel graft |  |  |  |  |
33332 | C |  | Insert major vessel graft |  |  |  |  |
33335 | C |  | Insert major vessel graft |  |  |  |  |
33400 | C |  | Repair of aortic valve |  |  |  |  |
33401 | C |  | Valvuloplasty, open |  |  |  |  |
33403 | C |  | Valvuloplasty, w/cp bypass |  |  |  |  |
33404 | C |  | Prepare heart-aorta conduit |  |  |  |  |
33405 | C |  | Replacement of aortic valve |  |  |  |  |
33406 | C |  | Replacement of aortic valve |  |  |  |  |
33410 | C |  | Replacement of aortic valve |  |  |  |  |
33411 | C |  | Replacement of aortic valve |  |  |  |  |
33412 | C |  | Replacement of aortic valve |  |  |  |  |
33413 | C |  | Replacement of aortic valve |  |  |  |  |
33414 | C |  | Repair of aortic valve |  |  |  |  |
33415 | C |  | Revision, subvalvular tissue |  |  |  |  |
33416 | C |  | Revise ventricle muscle |  |  |  |  |
33417 | C |  | Repair of aortic valve |  |  |  |  |
33420 | C |  | Revision of mitral valve |  |  |  |  |
33422 | C |  | Revision of mitral valve |  |  |  |  |
33425 | C |  | Repair of mitral valve |  |  |  |  |
33426 | C |  | Repair of mitral valve |  |  |  |  |
33427 | C |  | Repair of mitral valve |  |  |  |  |
33430 | C |  | Replacement of mitral valve |  |  |  |  |
33460 | C |  | Revision of tricuspid valve |  |  |  |  |
33463 | C |  | Valvuloplasty, tricuspid |  |  |  |  |
33464 | C |  | Valvuloplasty, tricuspid |  |  |  |  |
33465 | C |  | Replace tricuspid valve |  |  |  |  |
33468 | C |  | Revision of tricuspid valve |  |  |  |  |
33470 | C |  | Revision of pulmonary valve |  |  |  |  |
33471 | C |  | Valvotomy, pulmonary valve |  |  |  |  |
33472 | C |  | Revision of pulmonary valve |  |  |  |  |
33474 | C |  | Revision of pulmonary valve |  |  |  |  |
33475 | C |  | Replacement, pulmonary valve |  |  |  |  |
33476 | C |  | Revision of heart chamber |  |  |  |  |
33478 | C |  | Revision of heart chamber |  |  |  |  |
33496 | C |  | Repair, prosth valve clot |  |  |  |  |
33500 | C |  | Repair heart vessel fistula |  |  |  |  |
33501 | C |  | Repair heart vessel fistula |  |  |  |  |
33502 | C |  | Coronary artery correction |  |  |  |  |
33503 | C |  | Coronary artery graft |  |  |  |  |
33504 | C |  | Coronary artery graft |  |  |  |  |
33505 | C |  | Repair artery w/tunnel |  |  |  |  |
33506 | C |  | Repair artery, translocation |  |  |  |  |
33508 | N |  | Endoscopic vein harvest |  |  |  |  |
33510 | C |  | CABG, vein, single |  |  |  |  |
33511 | C |  | CABG, vein, two |  |  |  |  |
33512 | C |  | CABG, vein, three |  |  |  |  |
33513 | C |  | CABG, vein, four |  |  |  |  |
33514 | C |  | CABG, vein, five |  |  |  |  |
33516 | C |  | Cabg, vein, six or more |  |  |  |  |
33517 | C |  | CABG, artery-vein, single |  |  |  |  |
33518 | C |  | CABG, artery-vein, two |  |  |  |  |
33519 | C |  | CABG, artery-vein, three |  |  |  |  |
33521 | C |  | CABG, artery-vein, four |  |  |  |  |
33522 | C |  | CABG, artery-vein, five |  |  |  |  |
33523 | C |  | Cabg, art-vein, six or more |  |  |  |  |
33530 | C |  | Coronary artery, bypass/reop |  |  |  |  |
33533 | C |  | CABG, arterial, single |  |  |  |  |
33534 | C |  | CABG, arterial, two |  |  |  |  |
33535 | C |  | CABG, arterial, three |  |  |  |  |
33536 | C |  | Cabg, arterial, four or more |  |  |  |  |
33542 | C |  | Removal of heart lesion |  |  |  |  |
33545 | C |  | Repair of heart damage |  |  |  |  |
33572 | C |  | Open coronary endarterectomy |  |  |  |  |
33600 | C |  | Closure of valve |  |  |  |  |
33602 | C |  | Closure of valve |  |  |  |  |
33606 | C |  | Anastomosis/artery-aorta |  |  |  |  |
33608 | C |  | Repair anomaly w/conduit |  |  |  |  |
33610 | C |  | Repair by enlargement |  |  |  |  |
33611 | C |  | Repair double ventricle |  |  |  |  |
33612 | C |  | Repair double ventricle |  |  |  |  |
33615 | C |  | Repair, modified fontan |  |  |  |  |
33617 | C |  | Repair single ventricle |  |  |  |  |
33619 | C |  | Repair single ventricle |  |  |  |  |
33641 | C |  | Repair heart septum defect |  |  |  |  |
33645 | C |  | Revision of heart veins |  |  |  |  |
33647 | C |  | Repair heart septum defects |  |  |  |  |
33660 | C |  | Repair of heart defects |  |  |  |  |
33665 | C |  | Repair of heart defects |  |  |  |  |
33670 | C |  | Repair of heart chambers |  |  |  |  |
33681 | C |  | Repair heart septum defect |  |  |  |  |
33684 | C |  | Repair heart septum defect |  |  |  |  |
33688 | C |  | Repair heart septum defect |  |  |  |  |
33690 | C |  | Reinforce pulmonary artery |  |  |  |  |
33692 | C |  | Repair of heart defects |  |  |  |  |
33694 | C |  | Repair of heart defects |  |  |  |  |
33697 | C |  | Repair of heart defects |  |  |  |  |
33702 | C |  | Repair of heart defects |  |  |  |  |
33710 | C |  | Repair of heart defects |  |  |  |  |
33720 | C |  | Repair of heart defect |  |  |  |  |
33722 | C |  | Repair of heart defect |  |  |  |  |
33730 | C |  | Repair heart-vein defect(s) |  |  |  |  |
33732 | C |  | Repair heart-vein defect |  |  |  |  |
33735 | C |  | Revision of heart chamber |  |  |  |  |
33736 | C |  | Revision of heart chamber |  |  |  |  |
33737 | C |  | Revision of heart chamber |  |  |  |  |
33750 | C |  | Major vessel shunt |  |  |  |  |
33755 | C |  | Major vessel shunt |  |  |  |  |
33762 | C |  | Major vessel shunt |  |  |  |  |
33764 | C |  | Major vessel shunt & graft |  |  |  |  |
33766 | C |  | Major vessel shunt |  |  |  |  |
33767 | C |  | Major vessel shunt |  |  |  |  |
33770 | C |  | Repair great vessels defect |  |  |  |  |
33771 | C |  | Repair great vessels defect |  |  |  |  |
33774 | C |  | Repair great vessels defect |  |  |  |  |
33775 | C |  | Repair great vessels defect |  |  |  |  |
33776 | C |  | Repair great vessels defect |  |  |  |  |
33777 | C |  | Repair great vessels defect |  |  |  |  |
33778 | C |  | Repair great vessels defect |  |  |  |  |
33779 | C |  | Repair great vessels defect |  |  |  |  |
33780 | C |  | Repair great vessels defect |  |  |  |  |
33781 | C |  | Repair great vessels defect |  |  |  |  |
33786 | C |  | Repair arterial trunk |  |  |  |  |
33788 | C |  | Revision of pulmonary artery |  |  |  |  |
33800 | C |  | Aortic suspension |  |  |  |  |
33802 | C |  | Repair vessel defect |  |  |  |  |
33803 | C |  | Repair vessel defect |  |  |  |  |
33813 | C |  | Repair septal defect |  |  |  |  |
33814 | C |  | Repair septal defect |  |  |  |  |
33820 | C |  | Revise major vessel |  |  |  |  |
33822 | C |  | Revise major vessel |  |  |  |  |
33824 | C |  | Revise major vessel |  |  |  |  |
33840 | C |  | Remove aorta constriction |  |  |  |  |
33845 | C |  | Remove aorta constriction |  |  |  |  |
33851 | C |  | Remove aorta constriction |  |  |  |  |
33852 | C |  | Repair septal defect |  |  |  |  |
33853 | C |  | Repair septal defect |  |  |  |  |
33860 | C |  | Ascending aortic graft |  |  |  |  |
33861 | C |  | Ascending aortic graft |  |  |  |  |
33863 | C |  | Ascending aortic graft |  |  |  |  |
33870 | C |  | Transverse aortic arch graft |  |  |  |  |
33875 | C |  | Thoracic aortic graft |  |  |  |  |
33877 | C |  | Thoracoabdominal graft |  |  |  |  |
33910 | C |  | Remove lung artery emboli |  |  |  |  |
33915 | C |  | Remove lung artery emboli |  |  |  |  |
33916 | C |  | Surgery of great vessel |  |  |  |  |
33917 | C |  | Repair pulmonary artery |  |  |  |  |
33918 | C |  | Repair pulmonary atresia |  |  |  |  |
33919 | C |  | Repair pulmonary atresia |  |  |  |  |
33920 | C |  | Repair pulmonary atresia |  |  |  |  |
33922 | C |  | Transect pulmonary artery |  |  |  |  |
33924 | C |  | Remove pulmonary shunt |  |  |  |  |
33930 | C |  | Removal of donor heart/lung |  |  |  |  |
33933 | C |  | Prepare donor heart/lung |  |  |  |  |
33935 | C |  | Transplantation, heart/lung |  |  |  |  |
33940 | C |  | Removal of donor heart |  |  |  |  |
33944 | C |  | Prepare donor heart |  |  |  |  |
33945 | C |  | Transplantation of heart |  |  |  |  |
33960 | C |  | External circulation assist |  |  |  |  |
33961 | C |  | External circulation assist |  |  |  |  |
33967 | C |  | Insert ia percut device |  |  |  |  |
33968 | C |  | Remove aortic assist device |  |  |  |  |
33970 | C |  | Aortic circulation assist |  |  |  |  |
33971 | C |  | Aortic circulation assist |  |  |  |  |
33973 | C |  | Insert balloon device |  |  |  |  |
33974 | C |  | Remove intra-aortic balloon |  |  |  |  |
33975 | C |  | Implant ventricular device |  |  |  |  |
33976 | C |  | Implant ventricular device |  |  |  |  |
33977 | C |  | Remove ventricular device |  |  |  |  |
33978 | C |  | Remove ventricular device |  |  |  |  |
33979 | C |  | Insert intracorporeal device |  |  |  |  |
33980 | C |  | Remove intracorporeal device |  |  |  |  |
33999 | T |  | Cardiac surgery procedure | 0070 | 3.1956 | $189.66 |  | $37.93
34001 | C |  | Removal of artery clot |  |  |  |  |
34051 | C |  | Removal of artery clot |  |  |  |  |
34101 | T |  | Removal of artery clot | 0088 | 36.3961 | $2,160.11 | $655.22 | $432.02
34111 | T |  | Removal of arm artery clot | 0088 | 36.3961 | $2,160.11 | $655.22 | $432.02
34151 | C |  | Removal of artery clot |  |  |  |  |
34201 | T |  | Removal of artery clot | 0088 | 36.3961 | $2,160.11 | $655.22 | $432.02
34203 | T |  | Removal of leg artery clot | 0088 | 36.3961 | $2,160.11 | $655.22 | $432.02
34401 | C |  | Removal of vein clot |  |  |  |  |
34421 | T |  | Removal of vein clot | 0088 | 36.3961 | $2,160.11 | $655.22 | $432.02
34451 | C |  | Removal of vein clot |  |  |  |  |
34471 | T |  | Removal of vein clot | 0088 | 36.3961 | $2,160.11 | $655.22 | $432.02
34490 | T |  | Removal of vein clot | 0088 | 36.3961 | $2,160.11 | $655.22 | $432.02
34501 | T |  | Repair valve, femoral vein | 0088 | 36.3961 | $2,160.11 | $655.22 | $432.02
34502 | C |  | Reconstruct vena cava |  |  |  |  |
34510 | T |  | Transposition of vein valve | 0088 | 36.3961 | $2,160.11 | $655.22 | $432.02
34520 | T |  | Cross-over vein graft | 0088 | 36.3961 | $2,160.11 | $655.22 | $432.02
34530 | T |  | Leg vein fusion | 0088 | 36.3961 | $2,160.11 | $655.22 | $432.02
34800 | C |  | Endovasc abdo repair w/tube |  |  |  |  |
34802 | C |  | Endovasc abdo repr w/device |  |  |  |  |
34803 | C |  | Endovas aaa repr w/3-p part |  |  |  |  |
34804 | C |  | Endovasc abdo repr w/device |  |  |  |  |
34805 | C |  | Endovasc abdo repair w/pros |  |  |  |  |
34808 | C |  | Endovasc abdo occlud device |  |  |  |  |
34812 | C |  | Xpose for endoprosth, aortic |  |  |  |  |
34813 | C |  | Femoral endovas graft add-on |  |  |  |  |
34820 | C |  | Xpose for endoprosth, iliac |  |  |  |  |
34825 | C |  | Endovasc extend prosth, init |  |  |  |  |
34826 | C |  | Endovasc exten prosth, add'l |  |  |  |  |
34830 | C |  | Open aortic tube prosth repr |  |  |  |  |
34831 | C |  | Open aortoiliac prosth repr |  |  |  |  |
34832 | C |  | Open aortofemor prosth repr |  |  |  |  |
34833 | C |  | Xpose for endoprosth, iliac |  |  |  |  |
34834 | C |  | Xpose, endoprosth, brachial |  |  |  |  |
34900 | C |  | Endovasc iliac repr w/graft |  |  |  |  |
35001 | C |  | Repair defect of artery |  |  |  |  |
35002 | C |  | Repair artery rupture, neck |  |  |  |  |
35005 | C |  | Repair defect of artery |  |  |  |  |
35011 | T |  | Repair defect of artery | 0653 | 30.3956 | $1,803.98 |  | $360.80
35013 | C |  | Repair artery rupture, arm |  |  |  |  |
35021 | C |  | Repair defect of artery |  |  |  |  |
35022 | C |  | Repair artery rupture, chest |  |  |  |  |
35045 | C |  | Repair defect of arm artery |  |  |  |  |
35081 | C |  | Repair defect of artery |  |  |  |  |
35082 | C |  | Repair artery rupture, aorta |  |  |  |  |
35091 | C |  | Repair defect of artery |  |  |  |  |
35092 | C |  | Repair artery rupture, aorta |  |  |  |  |
35102 | C |  | Repair defect of artery |  |  |  |  |
35103 | C |  | Repair artery rupture, groin |  |  |  |  |
35111 | C |  | Repair defect of artery |  |  |  |  |
35112 | C |  | Repair artery rupture,spleen |  |  |  |  |
35121 | C |  | Repair defect of artery |  |  |  |  |
35122 | C |  | Repair artery rupture, belly |  |  |  |  |
35131 | C |  | Repair defect of artery |  |  |  |  |
35132 | C |  | Repair artery rupture, groin |  |  |  |  |
35141 | C |  | Repair defect of artery |  |  |  |  |
35142 | C |  | Repair artery rupture, thigh |  |  |  |  |
35151 | C |  | Repair defect of artery |  |  |  |  |
35152 | C |  | Repair artery rupture, knee |  |  |  |  |
35180 | T |  | Repair blood vessel lesion | 0093 | 23.3454 | $1,385.55 | $277.34 | $277.11
35182 | C |  | Repair blood vessel lesion |  |  |  |  |
35184 | T |  | Repair blood vessel lesion | 0093 | 23.3454 | $1,385.55 | $277.34 | $277.11
35188 | T |  | Repair blood vessel lesion | 0088 | 36.3961 | $2,160.11 | $655.22 | $432.02
35189 | C |  | Repair blood vessel lesion |  |  |  |  |
35190 | T |  | Repair blood vessel lesion | 0093 | 23.3454 | $1,385.55 | $277.34 | $277.11
35201 | T |  | Repair blood vessel lesion | 0093 | 23.3454 | $1,385.55 | $277.34 | $277.11
35206 | T |  | Repair blood vessel lesion | 0093 | 23.3454 | $1,385.55 | $277.34 | $277.11
35207 | T |  | Repair blood vessel lesion | 0088 | 36.3961 | $2,160.11 | $655.22 | $432.02
35211 | C |  | Repair blood vessel lesion |  |  |  |  |
35216 | C |  | Repair blood vessel lesion |  |  |  |  |
35221 | C |  | Repair blood vessel lesion |  |  |  |  |
35226 | T |  | Repair blood vessel lesion | 0093 | 23.3454 | $1,385.55 | $277.34 | $277.11
35231 | T |  | Repair blood vessel lesion | 0093 | 23.3454 | $1,385.55 | $277.34 | $277.11
35236 | T |  | Repair blood vessel lesion | 0093 | 23.3454 | $1,385.55 | $277.34 | $277.11
35241 | C |  | Repair blood vessel lesion |  |  |  |  |
35246 | C |  | Repair blood vessel lesion |  |  |  |  |
35251 | C |  | Repair blood vessel lesion |  |  |  |  |
35256 | T |  | Repair blood vessel lesion | 0093 | 23.3454 | $1,385.55 | $277.34 | $277.11
35261 | T |  | Repair blood vessel lesion | 0653 | 30.3956 | $1,803.98 |  | $360.80
35266 | T |  | Repair blood vessel lesion | 0653 | 30.3956 | $1,803.98 |  | $360.80
35271 | C |  | Repair blood vessel lesion |  |  |  |  |
35276 | C |  | Repair blood vessel lesion |  |  |  |  |
35281 | C |  | Repair blood vessel lesion |  |  |  |  |
35286 | T |  | Repair blood vessel lesion | 0653 | 30.3956 | $1,803.98 |  | $360.80
35301 | C |  | Rechanneling of artery |  |  |  |  |
35311 | C |  | Rechanneling of artery |  |  |  |  |
35321 | T |  | Rechanneling of artery | 0093 | 23.3454 | $1,385.55 | $277.34 | $277.11
35331 | C |  | Rechanneling of artery |  |  |  |  |
35341 | C |  | Rechanneling of artery |  |  |  |  |
35351 | C |  | Rechanneling of artery |  |  |  |  |
35355 | C |  | Rechanneling of artery |  |  |  |  |
35361 | C |  | Rechanneling of artery |  |  |  |  |
35363 | C |  | Rechanneling of artery |  |  |  |  |
35371 | C |  | Rechanneling of artery |  |  |  |  |
35372 | C |  | Rechanneling of artery |  |  |  |  |
35381 | C |  | Rechanneling of artery |  |  |  |  |
35390 | C |  | Reoperation, carotid add-on |  |  |  |  |
35400 | C |  | Angioscopy |  |  |  |  |
35450 | C |  | Repair arterial blockage |  |  |  |  |
35452 | C |  | Repair arterial blockage |  |  |  |  |
35454 | C |  | Repair arterial blockage |  |  |  |  |
35456 | C |  | Repair arterial blockage |  |  |  |  |
35458 | T |  | Repair arterial blockage | 0081 | 34.2913 | $2,035.19 |  | $407.04
35459 | T |  | Repair arterial blockage | 0081 | 34.2913 | $2,035.19 |  | $407.04
35460 | T |  | Repair venous blockage | 0081 | 34.2913 | $2,035.19 |  | $407.04
35470 | T |  | Repair arterial blockage | 0081 | 34.2913 | $2,035.19 |  | $407.04
35471 | T |  | Repair arterial blockage | 0081 | 34.2913 | $2,035.19 |  | $407.04
35472 | T |  | Repair arterial blockage | 0081 | 34.2913 | $2,035.19 |  | $407.04
35473 | T |  | Repair arterial blockage | 0081 | 34.2913 | $2,035.19 |  | $407.04
35474 | T |  | Repair arterial blockage | 0081 | 34.2913 | $2,035.19 |  | $407.04
35475 | T |  | Repair arterial blockage | 0081 | 34.2913 | $2,035.19 |  | $407.04
35476 | T |  | Repair venous blockage | 0081 | 34.2913 | $2,035.19 |  | $407.04
35480 | C |  | Atherectomy, open |  |  |  |  |
35481 | C |  | Atherectomy, open |  |  |  |  |
35482 | C |  | Atherectomy, open |  |  |  |  |
35483 | C |  | Atherectomy, open |  |  |  |  |
35484 | T |  | Atherectomy, open | 0081 | 34.2913 | $2,035.19 |  | $407.04
35485 | T |  | Atherectomy, open | 0081 | 34.2913 | $2,035.19 |  | $407.04
35490 | T |  | Atherectomy, percutaneous | 0081 | 34.2913 | $2,035.19 |  | $407.04
35491 | T |  | Atherectomy, percutaneous | 0081 | 34.2913 | $2,035.19 |  | $407.04
35492 | T |  | Atherectomy, percutaneous | 0081 | 34.2913 | $2,035.19 |  | $407.04
35493 | T |  | Atherectomy, percutaneous | 0081 | 34.2913 | $2,035.19 |  | $407.04
35494 | T |  | Atherectomy, percutaneous | 0081 | 34.2913 | $2,035.19 |  | $407.04
35495 | T |  | Atherectomy, percutaneous | 0081 | 34.2913 | $2,035.19 |  | $407.04
35500 | T |  | Harvest vein for bypass | 0081 | 34.2913 | $2,035.19 |  | $407.04
35501 | C |  | Artery bypass graft |  |  |  |  |
35506 | C |  | Artery bypass graft |  |  |  |  |
35507 | C |  | Artery bypass graft |  |  |  |  |
35508 | C |  | Artery bypass graft |  |  |  |  |
35509 | C |  | Artery bypass graft |  |  |  |  |
35510 | C |  | Artery bypass graft |  |  |  |  |
35511 | C |  | Artery bypass graft |  |  |  |  |
35512 | C |  | Artery bypass graft |  |  |  |  |
35515 | C |  | Artery bypass graft |  |  |  |  |
35516 | C |  | Artery bypass graft |  |  |  |  |
35518 | C |  | Artery bypass graft |  |  |  |  |
35521 | C |  | Artery bypass graft |  |  |  |  |
35522 | C |  | Artery bypass graft |  |  |  |  |
35525 | C |  | Artery bypass graft |  |  |  |  |
35526 | C |  | Artery bypass graft |  |  |  |  |
35531 | C |  | Artery bypass graft |  |  |  |  |
35533 | C |  | Artery bypass graft |  |  |  |  |
35536 | C |  | Artery bypass graft |  |  |  |  |
35541 | C |  | Artery bypass graft |  |  |  |  |
35546 | C |  | Artery bypass graft |  |  |  |  |
35548 | C |  | Artery bypass graft |  |  |  |  |
35549 | C |  | Artery bypass graft |  |  |  |  |
35551 | C |  | Artery bypass graft |  |  |  |  |
35556 | C |  | Artery bypass graft |  |  |  |  |
35558 | C |  | Artery bypass graft |  |  |  |  |
35560 | C |  | Artery bypass graft |  |  |  |  |
35563 | C |  | Artery bypass graft |  |  |  |  |
35565 | C |  | Artery bypass graft |  |  |  |  |
35566 | C |  | Artery bypass graft |  |  |  |  |
35571 | C |  | Artery bypass graft |  |  |  |  |
35572 | N |  | Harvest femoropopliteal vein |  |  |  |  |
35583 | C |  | Vein bypass graft |  |  |  |  |
35585 | C |  | Vein bypass graft |  |  |  |  |
35587 | C |  | Vein bypass graft |  |  |  |  |
35600 | C |  | Harvest artery for cabg |  |  |  |  |
35601 | C |  | Artery bypass graft |  |  |  |  |
35606 | C |  | Artery bypass graft |  |  |  |  |
35612 | C |  | Artery bypass graft |  |  |  |  |
35616 | C |  | Artery bypass graft |  |  |  |  |
35621 | C |  | Artery bypass graft |  |  |  |  |
35623 | C |  | Bypass graft, not vein |  |  |  |  |
35626 | C |  | Artery bypass graft |  |  |  |  |
35631 | C |  | Artery bypass graft |  |  |  |  |
35636 | C |  | Artery bypass graft |  |  |  |  |
35641 | C |  | Artery bypass graft |  |  |  |  |
35642 | C |  | Artery bypass graft |  |  |  |  |
35645 | C |  | Artery bypass graft |  |  |  |  |
35646 | C |  | Artery bypass graft |  |  |  |  |
35647 | C |  | Artery bypass graft |  |  |  |  |
35650 | C |  | Artery bypass graft |  |  |  |  |
35651 | C |  | Artery bypass graft |  |  |  |  |
35654 | C |  | Artery bypass graft |  |  |  |  |
35656 | C |  | Artery bypass graft |  |  |  |  |
35661 | C |  | Artery bypass graft |  |  |  |  |
35663 | C |  | Artery bypass graft |  |  |  |  |
35665 | C |  | Artery bypass graft |  |  |  |  |
35666 | C |  | Artery bypass graft |  |  |  |  |
35671 | C |  | Artery bypass graft |  |  |  |  |
35681 | C |  | Composite bypass graft |  |  |  |  |
35682 | C |  | Composite bypass graft |  |  |  |  |
35683 | C |  | Composite bypass graft |  |  |  |  |
35685 | T |  | Bypass graft patency/patch | 0093 | 23.3454 | $1,385.55 | $277.34 | $277.11
35686 | T |  | Bypass graft/av fist patency | 0093 | 23.3454 | $1,385.55 | $277.34 | $277.11
35691 | C |  | Arterial transposition |  |  |  |  |
35693 | C |  | Arterial transposition |  |  |  |  |
35694 | C |  | Arterial transposition |  |  |  |  |
35695 | C |  | Arterial transposition |  |  |  |  |
35697 | C |  | Reimplant artery each |  |  |  |  |
35700 | C |  | Reoperation, bypass graft |  |  |  |  |
35701 | C |  | Exploration, carotid artery |  |  |  |  |
35721 | C |  | Exploration, femoral artery |  |  |  |  |
35741 | C |  | Exploration popliteal artery |  |  |  |  |
35761 | T |  | Exploration of artery/vein | 0115 | 31.3302 | $1,859.45 | $459.35 | $371.89
35800 | C |  | Explore neck vessels |  |  |  |  |
35820 | C |  | Explore chest vessels |  |  |  |  |
35840 | C |  | Explore abdominal vessels |  |  |  |  |
35860 | T |  | Explore limb vessels | 0093 | 23.3454 | $1,385.55 | $277.34 | $277.11
35870 | C |  | Repair vessel graft defect |  |  |  |  |
35875 | T |  | Removal of clot in graft | 0088 | 36.3961 | $2,160.11 | $655.22 | $432.02
35876 | T |  | Removal of clot in graft | 0088 | 36.3961 | $2,160.11 | $655.22 | $432.02
35879 | T |  | Revise graft w/vein | 0088 | 36.3961 | $2,160.11 | $655.22 | $432.02
35881 | T |  | Revise graft w/vein | 0088 | 36.3961 | $2,160.11 | $655.22 | $432.02
35901 | C |  | Excision, graft, neck |  |  |  |  |
35903 | T |  | Excision, graft, extremity | 0115 | 31.3302 | $1,859.45 | $459.35 | $371.89
35905 | C |  | Excision, graft, thorax |  |  |  |  |
35907 | C |  | Excision, graft, abdomen |  |  |  |  |
36000 | N |  | Place needle in vein |  |  |  |  |
36002 | S |  | Pseudoaneurysm injection trt | 0267 | 2.6208 | $155.54 | $62.18 | $31.11
36005 | N |  | Injection ext venography |  |  |  |  |
36010 | N |  | Place catheter in vein |  |  |  |  |
36011 | N |  | Place catheter in vein |  |  |  |  |
36012 | N |  | Place catheter in vein |  |  |  |  |
36013 | N |  | Place catheter in artery |  |  |  |  |
36014 | N |  | Place catheter in artery |  |  |  |  |
36015 | N |  | Place catheter in artery |  |  |  |  |
36100 | N |  | Establish access to artery |  |  |  |  |
36120 | N |  | Establish access to artery |  |  |  |  |
36140 | N |  | Establish access to artery |  |  |  |  |
36145 | N |  | Artery to vein shunt |  |  |  |  |
36160 | N |  | Establish access to aorta |  |  |  |  |
36200 | N |  | Place catheter in aorta |  |  |  |  |
36215 | N |  | Place catheter in artery |  |  |  |  |
36216 | N |  | Place catheter in artery |  |  |  |  |
36217 | N |  | Place catheter in artery |  |  |  |  |
36218 | N |  | Place catheter in artery |  |  |  |  |
36245 | N |  | Place catheter in artery |  |  |  |  |
36246 | N |  | Place catheter in artery |  |  |  |  |
36247 | N |  | Place catheter in artery |  |  |  |  |
36248 | N |  | Place catheter in artery |  |  |  |  |
36260 | T |  | Insertion of infusion pump | 0623 | 26.9877 | $1,601.72 |  | $320.34
36261 | T |  | Revision of infusion pump | 0623 | 26.9877 | $1,601.72 |  | $320.34
36262 | T |  | Removal of infusion pump | 0622 | 21.1708 | $1,256.49 |  | $251.30
36299 | N |  | Vessel injection procedure |  |  |  |  |
36400 | N |  | Bl draw < 3 yrs fem/jugular |  |  |  |  |
36405 | N |  | Bl draw < 3 yrs scalp vein |  |  |  |  |
36406 | N |  | Bl draw < 3 yrs other vein |  |  |  |  |
36410 | N |  | Non-routine bl draw > 3 yrs |  |  |  |  |
36415 | A |  | Drawing blood |  |  |  |  |
36416 | N |  | Capillary blood draw |  |  |  |  |
36420 | T |  | Vein access cutdown < 1 yr | 0035 | 0.7125 | $42.29 |  | $8.46
36425 | T |  | Vein access cutdown > 1 yr | 0035 | 0.7125 | $42.29 |  | $8.46
36430 | S |  | Blood transfusion service | 0110 | 3.6428 | $216.20 |  | $43.24
36440 | S |  | Bl push transfuse, 2 yr or < | 0110 | 3.6428 | $216.20 |  | $43.24
36450 | S |  | Bl exchange/transfuse, nb | 0110 | 3.6428 | $216.20 |  | $43.24
36455 | S |  | Bl exchange/transfuse non-nb | 0110 | 3.6428 | $216.20 |  | $43.24
36460 | S |  | Transfusion service, fetal | 0110 | 3.6428 | $216.20 |  | $43.24
36468 | T |  | Injection(s), spider veins | 0098 | 1.1295 | $67.04 |  | $13.41
36469 | T |  | Injection(s), spider veins | 0098 | 1.1295 | $67.04 |  | $13.41
36470 | T |  | Injection therapy of vein | 0098 | 1.1295 | $67.04 |  | $13.41
36471 | T |  | Injection therapy of veins | 0098 | 1.1295 | $67.04 |  | $13.41
36475 | T |  | Endovenous rf, 1st vein | 0092 | 26.3621 | $1,564.59 | $505.37 | $312.92
36476 | T |  | Endovenous rf, vein add-on | 0092 | 26.3621 | $1,564.59 | $505.37 | $312.92
36478 | T |  | Endovenous laser, 1st vein | 0092 | 26.3621 | $1,564.59 | $505.37 | $312.92
36479 | T |  | Endovenous laser vein addon | 0092 | 26.3621 | $1,564.59 | $505.37 | $312.92
36481 | N |  | Insertion of catheter, vein |  |  |  |  |
36500 | N |  | Insertion of catheter, vein |  |  |  |  |
36510 | N |  | Insertion of catheter, vein |  |  |  |  |
36511 | S |  | Apheresis wbc | 0111 | 12.3394 | $732.34 | $200.18 | $146.47
36512 | S |  | Apheresis rbc | 0111 | 12.3394 | $732.34 | $200.18 | $146.47
36513 | S |  | Apheresis platelets | 0111 | 12.3394 | $732.34 | $200.18 | $146.47
36514 | S |  | Apheresis plasma | 0111 | 12.3394 | $732.34 | $200.18 | $146.47
36515 | S |  | Apheresis, adsorp/reinfuse | 0112 | 26.6734 | $1,583.07 | $437.01 | $316.61
36516 | S |  | Apheresis, selective | 0112 | 26.6734 | $1,583.07 | $437.01 | $316.61
36522 | S |  | Photopheresis | 0112 | 26.6734 | $1,583.07 | $437.01 | $316.61
36540 | N |  | Collect blood venous device |  |  |  |  |
36550 | T |  | Declot vascular device | 0676 | 2.3996 | $142.42 |  | $28.48
36555 | T |  | Insert non-tunnel cv cath | 0621 | 8.2610 | $490.29 |  | $98.06
36556 | T |  | Insert non-tunnel cv cath | 0621 | 8.2610 | $490.29 |  | $98.06
36557 | T |  | Insert tunneled cv cath | 0622 | 21.1708 | $1,256.49 |  | $251.30
36558 | T |  | Insert tunneled cv cath | 0622 | 21.1708 | $1,256.49 |  | $251.30
36560 | T |  | Insert tunneled cv cath | 0623 | 26.9877 | $1,601.72 |  | $320.34
36561 | T |  | Insert tunneled cv cath | 0623 | 26.9877 | $1,601.72 |  | $320.34
36563 | T |  | Insert tunneled cv cath | 0623 | 26.9877 | $1,601.72 |  | $320.34
36565 | T |  | Insert tunneled cv cath | 0623 | 26.9877 | $1,601.72 |  | $320.34
36566 | T |  | Insert tunneled cv cath | 1564 |  | $4,750.00 |  | $950.00
36568 | T |  | Insert tunneled cv cath | 0621 | 8.2610 | $490.29 |  | $98.06
36569 | T |  | Insert tunneled cv cath | 0621 | 8.2610 | $490.29 |  | $98.06
36570 | T |  | Insert tunneled cv cath | 0622 | 21.1708 | $1,256.49 |  | $251.30
36571 | T |  | Insert tunneled cv cath | 0622 | 21.1708 | $1,256.49 |  | $251.30
36575 | T |  | Repair tunneled cv cath | 0621 | 8.2610 | $490.29 |  | $98.06
36576 | T |  | Repair tunneled cv cath | 0621 | 8.2610 | $490.29 |  | $98.06
36578 | T |  | Replace tunneled cv cath | 0622 | 21.1708 | $1,256.49 |  | $251.30
36580 | T |  | Replace tunneled cv cath | 0621 | 8.2610 | $490.29 |  | $98.06
36581 | T |  | Replace tunneled cv cath | 0622 | 21.1708 | $1,256.49 |  | $251.30
36582 | T |  | Replace tunneled cv cath | 0623 | 26.9877 | $1,601.72 |  | $320.34
36583 | T |  | Replace tunneled cv cath | 0623 | 26.9877 | $1,601.72 |  | $320.34
36584 | T |  | Replace tunneled cv cath | 0621 | 8.2610 | $490.29 |  | $98.06
36585 | T |  | Replace tunneled cv cath | 0622 | 21.1708 | $1,256.49 |  | $251.30
36589 | T |  | Removal tunneled cv cath | 0621 | 8.2610 | $490.29 |  | $98.06
36590 | T |  | Removal tunneled cv cath | 0621 | 8.2610 | $490.29 |  | $98.06
36595 | T |  | Mech remov tunneled cv cath | 0622 | 21.1708 | $1,256.49 |  | $251.30
36596 | T |  | Mech remov tunneled cv cath | 0621 | 8.2610 | $490.29 |  | $98.06
36597 | T |  | Reposition venous catheter | 0621 | 8.2610 | $490.29 |  | $98.06
36600 | N |  | Withdrawal of arterial blood |  |  |  |  |
36620 | N |  | Insertion catheter, artery |  |  |  |  |
36625 | N |  | Insertion catheter, artery |  |  |  |  |
36640 | T |  | Insertion catheter, artery | 0623 | 26.9877 | $1,601.72 |  | $320.34
36660 | C |  | Insertion catheter, artery |  |  |  |  |
36680 | T |  | Insert needle, bone cavity | 0002 | 0.9515 | $56.47 |  | $11.29
36800 | T |  | Insertion of cannula | 0115 | 31.3302 | $1,859.45 | $459.35 | $371.89
36810 | T |  | Insertion of cannula | 0115 | 31.3302 | $1,859.45 | $459.35 | $371.89
36815 | T |  | Insertion of cannula | 0115 | 31.3302 | $1,859.45 | $459.35 | $371.89
36818 | T |  | Av fuse, uppr arm, cephalic | 0088 | 36.3961 | $2,160.11 | $655.22 | $432.02
36819 | T |  | Av fusion/uppr arm vein | 0088 | 36.3961 | $2,160.11 | $655.22 | $432.02
36820 | T |  | Av fusion/forearm vein | 0088 | 36.3961 | $2,160.11 | $655.22 | $432.02
36821 | T |  | Av fusion direct any site | 0088 | 36.3961 | $2,160.11 | $655.22 | $432.02
36822 | C |  | Insertion of cannula(s) |  |  |  |  |
36823 | C |  | Insertion of cannula(s) |  |  |  |  |
36825 | T |  | Artery-vein autograft | 0088 | 36.3961 | $2,160.11 | $655.22 | $432.02
36830 | T |  | Artery-vein graft | 0088 | 36.3961 | $2,160.11 | $655.22 | $432.02
36831 | T |  | Open thrombect av fistula | 0088 | 36.3961 | $2,160.11 | $655.22 | $432.02
36832 | T |  | Av fistula revision, open | 0088 | 36.3961 | $2,160.11 | $655.22 | $432.02
36833 | T |  | Av fistula revision | 0088 | 36.3961 | $2,160.11 | $655.22 | $432.02
36834 | T |  | Repair A-V aneurysm | 0088 | 36.3961 | $2,160.11 | $655.22 | $432.02
36835 | T |  | Artery to vein shunt | 0115 | 31.3302 | $1,859.45 | $459.35 | $371.89
36838 | T |  | Dist revas ligation, hemo | 0088 | 36.3961 | $2,160.11 | $655.22 | $432.02
36860 | T |  | External cannula declotting | 0676 | 2.3996 | $142.42 |  | $28.48
36861 | T |  | Cannula declotting | 0115 | 31.3302 | $1,859.45 | $459.35 | $371.89
36870 | T |  | Percut thrombect av fistula | 0653 | 30.3956 | $1,803.98 |  | $360.80
37140 | C |  | Revision of circulation |  |  |  |  |
37145 | C |  | Revision of circulation |  |  |  |  |
37160 | C |  | Revision of circulation |  |  |  |  |
37180 | C |  | Revision of circulation |  |  |  |  |
37181 | C |  | Splice spleen/kidney veins |  |  |  |  |
37182 | C |  | Insert hepatic shunt (tips) |  |  |  |  |
37183 | T |  | Remove hepatic shunt (tips) | 0229 | 64.1626 | $3,808.05 | $771.23 | $761.61
37195 | T |  | Thrombolytic therapy, stroke | 0676 | 2.3996 | $142.42 |  | $28.48
37200 | T |  | Transcatheter biopsy | 0685 | 5.9902 | $355.52 | $115.47 | $71.10
37201 | T |  | Transcatheter therapy infuse | 0676 | 2.3996 | $142.42 |  | $28.48
37202 | T |  | Transcatheter therapy infuse | 0676 | 2.3996 | $142.42 |  | $28.48
37203 | T |  | Transcatheter retrieval | 0103 | 14.6476 | $869.34 | $223.63 | $173.87
37204 | T |  | Transcatheter occlusion | 0115 | 31.3302 | $1,859.45 | $459.35 | $371.89
37205 | T |  | Transcatheter stent | 0229 | 64.1626 | $3,808.05 | $771.23 | $761.61
37206 | T |  | Transcatheter stent add-on | 0229 | 64.1626 | $3,808.05 | $771.23 | $761.61
37207 | T |  | Transcatheter stent | 0229 | 64.1626 | $3,808.05 | $771.23 | $761.61
37208 | T |  | Transcatheter stent add-on | 0229 | 64.1626 | $3,808.05 | $771.23 | $761.61
37209 | T |  | Exchange arterial catheter | 0103 | 14.6476 | $869.34 | $223.63 | $173.87
37215 | C |  | Transcath stent, cca w/eps |  |  |  |  |
37216 | C |  | Transcath stent, cca w/o eps |  |  |  |  |
37250 | S |  | Iv us first vessel add-on | 0416 | 19.4657 | $1,155.29 |  | $231.06
37251 | S |  | Iv us each add vessel add-on | 0416 | 19.4657 | $1,155.29 |  | $231.06
37500 | T |  | Endoscopy ligate perf veins | 0092 | 26.3621 | $1,564.59 | $505.37 | $312.92
37501 | T |  | Vascular endoscopy procedure | 0092 | 26.3621 | $1,564.59 | $505.37 | $312.92
37565 | T |  | Ligation of neck vein | 0093 | 23.3454 | $1,385.55 | $277.34 | $277.11
37600 | T |  | Ligation of neck artery | 0093 | 23.3454 | $1,385.55 | $277.34 | $277.11
37605 | T |  | Ligation of neck artery | 0091 | 28.8685 | $1,713.35 | $348.23 | $342.67
37606 | T |  | Ligation of neck artery | 0091 | 28.8685 | $1,713.35 | $348.23 | $342.67
37607 | T |  | Ligation of a-v fistula | 0092 | 26.3621 | $1,564.59 | $505.37 | $312.92
37609 | T |  | Temporal artery procedure | 0021 | 14.9098 | $884.90 | $219.48 | $176.98
37615 | T |  | Ligation of neck artery | 0091 | 28.8685 | $1,713.35 | $348.23 | $342.67
37616 | C |  | Ligation of chest artery |  |  |  |  |
37617 | C |  | Ligation of abdomen artery |  |  |  |  |
37618 | C |  | Ligation of extremity artery |  |  |  |  |
37620 | T |  | Revision of major vein | 0091 | 28.8685 | $1,713.35 | $348.23 | $342.67
37650 | T |  | Revision of major vein | 0091 | 28.8685 | $1,713.35 | $348.23 | $342.67
37660 | C |  | Revision of major vein |  |  |  |  |
37700 | T |  | Revise leg vein | 0091 | 28.8685 | $1,713.35 | $348.23 | $342.67
37720 | T |  | Removal of leg vein | 0092 | 26.3621 | $1,564.59 | $505.37 | $312.92
37730 | T |  | Removal of leg veins | 0092 | 26.3621 | $1,564.59 | $505.37 | $312.92
37735 | T |  | Removal of leg veins/lesion | 0092 | 26.3621 | $1,564.59 | $505.37 | $312.92
37760 | T |  | Revision of leg veins | 0091 | 28.8685 | $1,713.35 | $348.23 | $342.67
37765 | T |  | Phleb veins - extrem - to 20 | 0091 | 28.8685 | $1,713.35 | $348.23 | $342.67
37766 | T |  | Phleb veins - extrem 20+ | 0091 | 28.8685 | $1,713.35 | $348.23 | $342.67
37780 | T |  | Revision of leg vein | 0091 | 28.8685 | $1,713.35 | $348.23 | $342.67
37785 | T |  | Ligate/divide/excise vein | 0091 | 28.8685 | $1,713.35 | $348.23 | $342.67
37788 | C |  | Revascularization, penis |  |  |  |  |
37790 | T |  | Penile venous occlusion | 0181 | 30.7265 | $1,823.62 | $621.82 | $364.72
37799 | T |  | Vascular surgery procedure | 0103 | 14.6476 | $869.34 | $223.63 | $173.87
38100 | C |  | Removal of spleen, total |  |  |  |  |
38101 | C |  | Removal of spleen, partial |  |  |  |  |
38102 | C |  | Removal of spleen, total |  |  |  |  |
38115 | C |  | Repair of ruptured spleen |  |  |  |  |
38120 | T |  | Laparoscopy, splenectomy | 0131 | 43.1426 | $2,560.51 | $1,001.89 | $512.10
38129 | T |  | Laparoscope proc, spleen | 0130 | 31.7825 | $1,886.29 | $659.53 | $377.26
38200 | N |  | Injection for spleen x-ray |  |  |  |  |
38204 | E |  | Bl donor search management |  |  |  |  |
38205 | S |  | Harvest allogenic stem cells | 0111 | 12.3394 | $732.34 | $200.18 | $146.47
38206 | S |  | Harvest auto stem cells | 0111 | 12.3394 | $732.34 | $200.18 | $146.47
38207 | E |  | Cryopreserve stem cells |  |  |  |  |
38208 | E |  | Thaw preserved stem cells |  |  |  |  |
38209 | E |  | Wash harvest stem cells |  |  |  |  |
38210 | E |  | T-cell depletion of harvest |  |  |  |  |
38211 | E |  | Tumor cell deplete of harvst |  |  |  |  |
38212 | E |  | Rbc depletion of harvest |  |  |  |  |
38213 | E |  | Platelet deplete of harvest |  |  |  |  |
38214 | E |  | Volume deplete of harvest |  |  |  |  |
38215 | E |  | Harvest stem cell concentrte |  |  |  |  |
38220 | T |  | Bone marrow aspiration | 0003 | 2.6410 | $156.74 |  | $31.35
38221 | T |  | Bone marrow biopsy | 0003 | 2.6410 | $156.74 |  | $31.35
38230 | S |  | Bone marrow collection | 0111 | 12.3394 | $732.34 | $200.18 | $146.47
38240 | S |  | Bone marrow/stem transplant | 0123 | 22.8861 | $1,358.29 |  | $271.66
38241 | S |  | Bone marrow/stem transplant | 0123 | 22.8861 | $1,358.29 |  | $271.66
38242 | S |  | Lymphocyte infuse transplant | 0111 | 12.3394 | $732.34 | $200.18 | $146.47
38300 | T |  | Drainage, lymph node lesion | 0007 | 11.3983 | $676.49 |  | $135.30
38305 | T |  | Drainage, lymph node lesion | 0008 | 16.4242 | $974.78 |  | $194.96
38308 | T |  | Incision of lymph channels | 0113 | 21.3681 | $1,268.20 |  | $253.64
38380 | C |  | Thoracic duct procedure |  |  |  |  |
38381 | C |  | Thoracic duct procedure |  |  |  |  |
38382 | C |  | Thoracic duct procedure |  |  |  |  |
38500 | T |  | Biopsy/removal, lymph nodes | 0113 | 21.3681 | $1,268.20 |  | $253.64
38505 | T |  | Needle biopsy, lymph nodes | 0005 | 3.5831 | $212.66 | $71.45 | $42.53
38510 | T |  | Biopsy/removal, lymph nodes | 0113 | 21.3681 | $1,268.20 |  | $253.64
38520 | T |  | Biopsy/removal, lymph nodes | 0113 | 21.3681 | $1,268.20 |  | $253.64
38525 | T |  | Biopsy/removal, lymph nodes | 0113 | 21.3681 | $1,268.20 |  | $253.64
38530 | T |  | Biopsy/removal, lymph nodes | 0113 | 21.3681 | $1,268.20 |  | $253.64
38542 | T |  | Explore deep node(s), neck | 0114 | 40.5805 | $2,408.45 | $485.91 | $481.69
38550 | T |  | Removal, neck/armpit lesion | 0113 | 21.3681 | $1,268.20 |  | $253.64
38555 | T |  | Removal, neck/armpit lesion | 0113 | 21.3681 | $1,268.20 |  | $253.64
38562 | C |  | Removal, pelvic lymph nodes |  |  |  |  |
38564 | C |  | Removal, abdomen lymph nodes |  |  |  |  |
38570 | T |  | Laparoscopy, lymph node biop | 0131 | 43.1426 | $2,560.51 | $1,001.89 | $512.10
38571 | T |  | Laparoscopy, lymphadenectomy | 0132 | 62.7061 | $3,721.61 | $1,239.22 | $744.32
38572 | T |  | Laparoscopy, lymphadenectomy | 0131 | 43.1426 | $2,560.51 | $1,001.89 | $512.10
38589 | T |  | Laparoscope proc, lymphatic | 0130 | 31.7825 | $1,886.29 | $659.53 | $377.26
38700 | T |  | Removal of lymph nodes, neck | 0113 | 21.3681 | $1,268.20 |  | $253.64
38720 | T |  | Removal of lymph nodes, neck | 0113 | 21.3681 | $1,268.20 |  | $253.64
38724 | C |  | Removal of lymph nodes, neck |  |  |  |  |
38740 | T |  | Remove armpit lymph nodes | 0114 | 40.5805 | $2,408.45 | $485.91 | $481.69
38745 | T |  | Remove armpit lymph nodes | 0114 | 40.5805 | $2,408.45 | $485.91 | $481.69
38746 | C |  | Remove thoracic lymph nodes |  |  |  |  |
38747 | C |  | Remove abdominal lymph nodes |  |  |  |  |
38760 | T |  | Remove groin lymph nodes | 0113 | 21.3681 | $1,268.20 |  | $253.64
38765 | C |  | Remove groin lymph nodes |  |  |  |  |
38770 | C |  | Remove pelvis lymph nodes |  |  |  |  |
38780 | C |  | Remove abdomen lymph nodes |  |  |  |  |
38790 | N |  | Inject for lymphatic x-ray |  |  |  |  |
38792 | N |  | Identify sentinel node |  |  |  |  |
38794 | N |  | Access thoracic lymph duct |  |  |  |  |
38999 | S |  | Blood/lymph system procedure | 0110 | 3.6428 | $216.20 |  | $43.24
39000 | C |  | Exploration of chest |  |  |  |  |
39010 | C |  | Exploration of chest |  |  |  |  |
39200 | C |  | Removal chest lesion |  |  |  |  |
39220 | C |  | Removal chest lesion |  |  |  |  |
39400 | T |  | Visualization of chest | 0069 | 30.5386 | $1,812.47 | $591.64 | $362.49
39499 | C |  | Chest procedure |  |  |  |  |
39501 | C |  | Repair diaphragm laceration |  |  |  |  |
39502 | C |  | Repair paraesophageal hernia |  |  |  |  |
39503 | C |  | Repair of diaphragm hernia |  |  |  |  |
39520 | C |  | Repair of diaphragm hernia |  |  |  |  |
39530 | C |  | Repair of diaphragm hernia |  |  |  |  |
39531 | C |  | Repair of diaphragm hernia |  |  |  |  |
39540 | C |  | Repair of diaphragm hernia |  |  |  |  |
39541 | C |  | Repair of diaphragm hernia |  |  |  |  |
39545 | C |  | Revision of diaphragm |  |  |  |  |
39560 | C |  | Resect diaphragm, simple |  |  |  |  |
39561 | C |  | Resect diaphragm, complex |  |  |  |  |
39599 | C |  | Diaphragm surgery procedure |  |  |  |  |
4000F | E |  | Tobacco use txmnt counseling |  |  |  |  |
4001F | E |  | Tobacco use txmnt, pharmacol |  |  |  |  |
4002F | E |  | Statin therapy, rx |  |  |  |  |
4006F | E |  | Beta-blocker therapy, rx |  |  |  |  |
4009F | E |  | Ace inhibitor therapy, rx |  |  |  |  |
4011F | E |  | Oral antiplatelet tx, rx |  |  |  |  |
40490 | T |  | Biopsy of lip | 0251 | 2.0010 | $118.76 |  | $23.75
40500 | T |  | Partial excision of lip | 0253 | 16.0627 | $953.32 | $282.29 | $190.66
40510 | T |  | Partial excision of lip | 0254 | 23.2980 | $1,382.74 | $321.35 | $276.55
40520 | T |  | Partial excision of lip | 0253 | 16.0627 | $953.32 | $282.29 | $190.66
40525 | T |  | Reconstruct lip with flap | 0254 | 23.2980 | $1,382.74 | $321.35 | $276.55
40527 | T |  | Reconstruct lip with flap | 0254 | 23.2980 | $1,382.74 | $321.35 | $276.55
40530 | T |  | Partial removal of lip | 0254 | 23.2980 | $1,382.74 | $321.35 | $276.55
40650 | T |  | Repair lip | 0252 | 7.8317 | $464.81 | $113.41 | $92.96
40652 | T |  | Repair lip | 0252 | 7.8317 | $464.81 | $113.41 | $92.96
40654 | T |  | Repair lip | 0252 | 7.8317 | $464.81 | $113.41 | $92.96
40700 | T |  | Repair cleft lip/nasal | 0256 | 37.1513 | $2,204.93 |  | $440.99
40701 | T |  | Repair cleft lip/nasal | 0256 | 37.1513 | $2,204.93 |  | $440.99
40702 | T |  | Repair cleft lip/nasal | 0256 | 37.1513 | $2,204.93 |  | $440.99
40720 | T |  | Repair cleft lip/nasal | 0256 | 37.1513 | $2,204.93 |  | $440.99
40761 | T |  | Repair cleft lip/nasal | 0256 | 37.1513 | $2,204.93 |  | $440.99
40799 | T |  | Lip surgery procedure | 0251 | 2.0010 | $118.76 |  | $23.75
40800 | T |  | Drainage of mouth lesion | 0251 | 2.0010 | $118.76 |  | $23.75
40801 | T |  | Drainage of mouth lesion | 0252 | 7.8317 | $464.81 | $113.41 | $92.96
40804 | X |  | Removal, foreign body, mouth | 0340 | 0.6355 | $37.72 |  | $7.54
40805 | T |  | Removal, foreign body, mouth | 0252 | 7.8317 | $464.81 | $113.41 | $92.96
40806 | T |  | Incision of lip fold | 0251 | 2.0010 | $118.76 |  | $23.75
40808 | T |  | Biopsy of mouth lesion | 0251 | 2.0010 | $118.76 |  | $23.75
40810 | T |  | Excision of mouth lesion | 0253 | 16.0627 | $953.32 | $282.29 | $190.66
40812 | T |  | Excise/repair mouth lesion | 0253 | 16.0627 | $953.32 | $282.29 | $190.66
40814 | T |  | Excise/repair mouth lesion | 0253 | 16.0627 | $953.32 | $282.29 | $190.66
40816 | T |  | Excision of mouth lesion | 0254 | 23.2980 | $1,382.74 | $321.35 | $276.55
40818 | T |  | Excise oral mucosa for graft | 0251 | 2.0010 | $118.76 |  | $23.75
40819 | T |  | Excise lip or cheek fold | 0252 | 7.8317 | $464.81 | $113.41 | $92.96
40820 | T |  | Treatment of mouth lesion | 0253 | 16.0627 | $953.32 | $282.29 | $190.66
40830 | T |  | Repair mouth laceration | 0251 | 2.0010 | $118.76 |  | $23.75
40831 | T |  | Repair mouth laceration | 0252 | 7.8317 | $464.81 | $113.41 | $92.96
40840 | T |  | Reconstruction of mouth | 0254 | 23.2980 | $1,382.74 | $321.35 | $276.55
40842 | T |  | Reconstruction of mouth | 0254 | 23.2980 | $1,382.74 | $321.35 | $276.55
40843 | T |  | Reconstruction of mouth | 0254 | 23.2980 | $1,382.74 | $321.35 | $276.55
40844 | T |  | Reconstruction of mouth | 0256 | 37.1513 | $2,204.93 |  | $440.99
40845 | T |  | Reconstruction of mouth | 0256 | 37.1513 | $2,204.93 |  | $440.99
40899 | T |  | Mouth surgery procedure | 0251 | 2.0010 | $118.76 |  | $23.75
41000 | T |  | Drainage of mouth lesion | 0253 | 16.0627 | $953.32 | $282.29 | $190.66
41005 | T |  | Drainage of mouth lesion | 0251 | 2.0010 | $118.76 |  | $23.75
41006 | T |  | Drainage of mouth lesion | 0254 | 23.2980 | $1,382.74 | $321.35 | $276.55
41007 | T |  | Drainage of mouth lesion | 0253 | 16.0627 | $953.32 | $282.29 | $190.66
41008 | T |  | Drainage of mouth lesion | 0253 | 16.0627 | $953.32 | $282.29 | $190.66
41009 | T |  | Drainage of mouth lesion | 0251 | 2.0010 | $118.76 |  | $23.75
41010 | T |  | Incision of tongue fold | 0252 | 7.8317 | $464.81 | $113.41 | $92.96
41015 | T |  | Drainage of mouth lesion | 0251 | 2.0010 | $118.76 |  | $23.75
41016 | T |  | Drainage of mouth lesion | 0252 | 7.8317 | $464.81 | $113.41 | $92.96
41017 | T |  | Drainage of mouth lesion | 0252 | 7.8317 | $464.81 | $113.41 | $92.96
41018 | T |  | Drainage of mouth lesion | 0252 | 7.8317 | $464.81 | $113.41 | $92.96
41100 | T |  | Biopsy of tongue | 0252 | 7.8317 | $464.81 | $113.41 | $92.96
41105 | T |  | Biopsy of tongue | 0253 | 16.0627 | $953.32 | $282.29 | $190.66
41108 | T |  | Biopsy of floor of mouth | 0252 | 7.8317 | $464.81 | $113.41 | $92.96
41110 | T |  | Excision of tongue lesion | 0253 | 16.0627 | $953.32 | $282.29 | $190.66
41112 | T |  | Excision of tongue lesion | 0253 | 16.0627 | $953.32 | $282.29 | $190.66
41113 | T |  | Excision of tongue lesion | 0253 | 16.0627 | $953.32 | $282.29 | $190.66
41114 | T |  | Excision of tongue lesion | 0254 | 23.2980 | $1,382.74 | $321.35 | $276.55
41115 | T |  | Excision of tongue fold | 0252 | 7.8317 | $464.81 | $113.41 | $92.96
41116 | T |  | Excision of mouth lesion | 0253 | 16.0627 | $953.32 | $282.29 | $190.66
41120 | T |  | Partial removal of tongue | 0254 | 23.2980 | $1,382.74 | $321.35 | $276.55
41130 | C |  | Partial removal of tongue |  |  |  |  |
41135 | C |  | Tongue and neck surgery |  |  |  |  |
41140 | C |  | Removal of tongue |  |  |  |  |
41145 | C |  | Tongue removal, neck surgery |  |  |  |  |
41150 | C |  | Tongue, mouth, jaw surgery |  |  |  |  |
41153 | C |  | Tongue, mouth, neck surgery |  |  |  |  |
41155 | C |  | Tongue, jaw, & neck surgery |  |  |  |  |
41250 | T |  | Repair tongue laceration | 0251 | 2.0010 | $118.76 |  | $23.75
41251 | T |  | Repair tongue laceration | 0251 | 2.0010 | $118.76 |  | $23.75
41252 | T |  | Repair tongue laceration | 0252 | 7.8317 | $464.81 | $113.41 | $92.96
41500 | T |  | Fixation of tongue | 0254 | 23.2980 | $1,382.74 | $321.35 | $276.55
41510 | T |  | Tongue to lip surgery | 0253 | 16.0627 | $953.32 | $282.29 | $190.66
41520 | T |  | Reconstruction, tongue fold | 0252 | 7.8317 | $464.81 | $113.41 | $92.96
41599 | T |  | Tongue and mouth surgery | 0251 | 2.0010 | $118.76 |  | $23.75
41800 | T |  | Drainage of gum lesion | 0251 | 2.0010 | $118.76 |  | $23.75
41805 | T |  | Removal foreign body, gum | 0254 | 23.2980 | $1,382.74 | $321.35 | $276.55
41806 | T |  | Removal foreign body,jawbone | 0253 | 16.0627 | $953.32 | $282.29 | $190.66
41820 | T |  | Excision, gum, each quadrant | 0252 | 7.8317 | $464.81 | $113.41 | $92.96
41821 | T |  | Excision of gum flap | 0252 | 7.8317 | $464.81 | $113.41 | $92.96
41822 | T |  | Excision of gum lesion | 0253 | 16.0627 | $953.32 | $282.29 | $190.66
41823 | T |  | Excision of gum lesion | 0254 | 23.2980 | $1,382.74 | $321.35 | $276.55
41825 | T |  | Excision of gum lesion | 0253 | 16.0627 | $953.32 | $282.29 | $190.66
41826 | T |  | Excision of gum lesion | 0253 | 16.0627 | $953.32 | $282.29 | $190.66
41827 | T |  | Excision of gum lesion | 0254 | 23.2980 | $1,382.74 | $321.35 | $276.55
41828 | T |  | Excision of gum lesion | 0253 | 16.0627 | $953.32 | $282.29 | $190.66
41830 | T |  | Removal of gum tissue | 0253 | 16.0627 | $953.32 | $282.29 | $190.66
41850 | T |  | Treatment of gum lesion | 0253 | 16.0627 | $953.32 | $282.29 | $190.66
41870 | T |  | Gum graft | 0254 | 23.2980 | $1,382.74 | $321.35 | $276.55
41872 | T |  | Repair gum | 0253 | 16.0627 | $953.32 | $282.29 | $190.66
41874 | T |  | Repair tooth socket | 0254 | 23.2980 | $1,382.74 | $321.35 | $276.55
41899 | T |  | Dental surgery procedure | 0251 | 2.0010 | $118.76 |  | $23.75
42000 | T |  | Drainage mouth roof lesion | 0251 | 2.0010 | $118.76 |  | $23.75
42100 | T |  | Biopsy roof of mouth | 0252 | 7.8317 | $464.81 | $113.41 | $92.96
42104 | T |  | Excision lesion, mouth roof | 0253 | 16.0627 | $953.32 | $282.29 | $190.66
42106 | T |  | Excision lesion, mouth roof | 0253 | 16.0627 | $953.32 | $282.29 | $190.66
42107 | T |  | Excision lesion, mouth roof | 0254 | 23.2980 | $1,382.74 | $321.35 | $276.55
42120 | T |  | Remove palate/lesion | 0256 | 37.1513 | $2,204.93 |  | $440.99
42140 | T |  | Excision of uvula | 0252 | 7.8317 | $464.81 | $113.41 | $92.96
42145 | T |  | Repair palate, pharynx/uvula | 0254 | 23.2980 | $1,382.74 | $321.35 | $276.55
42160 | T |  | Treatment mouth roof lesion | 0253 | 16.0627 | $953.32 | $282.29 | $190.66
42180 | T |  | Repair palate | 0251 | 2.0010 | $118.76 |  | $23.75
42182 | T |  | Repair palate | 0256 | 37.1513 | $2,204.93 |  | $440.99
42200 | T |  | Reconstruct cleft palate | 0256 | 37.1513 | $2,204.93 |  | $440.99
42205 | T |  | Reconstruct cleft palate | 0256 | 37.1513 | $2,204.93 |  | $440.99
42210 | T |  | Reconstruct cleft palate | 0256 | 37.1513 | $2,204.93 |  | $440.99
42215 | T |  | Reconstruct cleft palate | 0256 | 37.1513 | $2,204.93 |  | $440.99
42220 | T |  | Reconstruct cleft palate | 0256 | 37.1513 | $2,204.93 |  | $440.99
42225 | T |  | Reconstruct cleft palate | 0256 | 37.1513 | $2,204.93 |  | $440.99
42226 | T |  | Lengthening of palate | 0256 | 37.1513 | $2,204.93 |  | $440.99
42227 | T |  | Lengthening of palate | 0256 | 37.1513 | $2,204.93 |  | $440.99
42235 | T |  | Repair palate | 0253 | 16.0627 | $953.32 | $282.29 | $190.66
42260 | T |  | Repair nose to lip fistula | 0254 | 23.2980 | $1,382.74 | $321.35 | $276.55
42280 | T |  | Preparation, palate mold | 0251 | 2.0010 | $118.76 |  | $23.75
42281 | T |  | Insertion, palate prosthesis | 0253 | 16.0627 | $953.32 | $282.29 | $190.66
42299 | T |  | Palate/uvula surgery | 0251 | 2.0010 | $118.76 |  | $23.75
42300 | T |  | Drainage of salivary gland | 0253 | 16.0627 | $953.32 | $282.29 | $190.66
42305 | T |  | Drainage of salivary gland | 0253 | 16.0627 | $953.32 | $282.29 | $190.66
42310 | T |  | Drainage of salivary gland | 0251 | 2.0010 | $118.76 |  | $23.75
42320 | T |  | Drainage of salivary gland | 0251 | 2.0010 | $118.76 |  | $23.75
42325 | T |  | Create salivary cyst drain | 0251 | 2.0010 | $118.76 |  | $23.75
42326 | T |  | Create salivary cyst drain | 0252 | 7.8317 | $464.81 | $113.41 | $92.96
42330 | T |  | Removal of salivary stone | 0253 | 16.0627 | $953.32 | $282.29 | $190.66
42335 | T |  | Removal of salivary stone | 0253 | 16.0627 | $953.32 | $282.29 | $190.66
42340 | T |  | Removal of salivary stone | 0253 | 16.0627 | $953.32 | $282.29 | $190.66
42400 | T |  | Biopsy of salivary gland | 0005 | 3.5831 | $212.66 | $71.45 | $42.53
42405 | T |  | Biopsy of salivary gland | 0253 | 16.0627 | $953.32 | $282.29 | $190.66
42408 | T |  | Excision of salivary cyst | 0253 | 16.0627 | $953.32 | $282.29 | $190.66
42409 | T |  | Drainage of salivary cyst | 0253 | 16.0627 | $953.32 | $282.29 | $190.66
42410 | T |  | Excise parotid gland/lesion | 0256 | 37.1513 | $2,204.93 |  | $440.99
42415 | T |  | Excise parotid gland/lesion | 0256 | 37.1513 | $2,204.93 |  | $440.99
42420 | T |  | Excise parotid gland/lesion | 0256 | 37.1513 | $2,204.93 |  | $440.99
42425 | T |  | Excise parotid gland/lesion | 0256 | 37.1513 | $2,204.93 |  | $440.99
42426 | C |  | Excise parotid gland/lesion |  |  |  |  |
42440 | T |  | Excise submaxillary gland | 0256 | 37.1513 | $2,204.93 |  | $440.99
42450 | T |  | Excise sublingual gland | 0254 | 23.2980 | $1,382.74 | $321.35 | $276.55
42500 | T |  | Repair salivary duct | 0254 | 23.2980 | $1,382.74 | $321.35 | $276.55
42505 | T |  | Repair salivary duct | 0256 | 37.1513 | $2,204.93 |  | $440.99
42507 | T |  | Parotid duct diversion | 0256 | 37.1513 | $2,204.93 |  | $440.99
42508 | T |  | Parotid duct diversion | 0256 | 37.1513 | $2,204.93 |  | $440.99
42509 | T |  | Parotid duct diversion | 0256 | 37.1513 | $2,204.93 |  | $440.99
42510 | T |  | Parotid duct diversion | 0256 | 37.1513 | $2,204.93 |  | $440.99
42550 | N |  | Injection for salivary x-ray |  |  |  |  |
42600 | T |  | Closure of salivary fistula | 0253 | 16.0627 | $953.32 | $282.29 | $190.66
42650 | T |  | Dilation of salivary duct | 0252 | 7.8317 | $464.81 | $113.41 | $92.96
42660 | T |  | Dilation of salivary duct | 0251 | 2.0010 | $118.76 |  | $23.75
42665 | T |  | Ligation of salivary duct | 0254 | 23.2980 | $1,382.74 | $321.35 | $276.55
42699 | T |  | Salivary surgery procedure | 0251 | 2.0010 | $118.76 |  | $23.75
42700 | T |  | Drainage of tonsil abscess | 0251 | 2.0010 | $118.76 |  | $23.75
42720 | T |  | Drainage of throat abscess | 0253 | 16.0627 | $953.32 | $282.29 | $190.66
42725 | T |  | Drainage of throat abscess | 0256 | 37.1513 | $2,204.93 |  | $440.99
42800 | T |  | Biopsy of throat | 0253 | 16.0627 | $953.32 | $282.29 | $190.66
42802 | T |  | Biopsy of throat | 0253 | 16.0627 | $953.32 | $282.29 | $190.66
42804 | T |  | Biopsy of upper nose/throat | 0253 | 16.0627 | $953.32 | $282.29 | $190.66
42806 | T |  | Biopsy of upper nose/throat | 0254 | 23.2980 | $1,382.74 | $321.35 | $276.55
42808 | T |  | Excise pharynx lesion | 0253 | 16.0627 | $953.32 | $282.29 | $190.66
42809 | X |  | Remove pharynx foreign body | 0340 | 0.6355 | $37.72 |  | $7.54
42810 | T |  | Excision of neck cyst | 0254 | 23.2980 | $1,382.74 | $321.35 | $276.55
42815 | T |  | Excision of neck cyst | 0256 | 37.1513 | $2,204.93 |  | $440.99
42820 | T |  | Remove tonsils and adenoids | 0258 | 22.1458 | $1,314.35 | $437.25 | $262.87
42821 | T |  | Remove tonsils and adenoids | 0258 | 22.1458 | $1,314.35 | $437.25 | $262.87
42825 | T |  | Removal of tonsils | 0258 | 22.1458 | $1,314.35 | $437.25 | $262.87
42826 | T |  | Removal of tonsils | 0258 | 22.1458 | $1,314.35 | $437.25 | $262.87
42830 | T |  | Removal of adenoids | 0258 | 22.1458 | $1,314.35 | $437.25 | $262.87
42831 | T |  | Removal of adenoids | 0258 | 22.1458 | $1,314.35 | $437.25 | $262.87
42835 | T |  | Removal of adenoids | 0258 | 22.1458 | $1,314.35 | $437.25 | $262.87
42836 | T |  | Removal of adenoids | 0258 | 22.1458 | $1,314.35 | $437.25 | $262.87
42842 | T |  | Extensive surgery of throat | 0254 | 23.2980 | $1,382.74 | $321.35 | $276.55
42844 | T |  | Extensive surgery of throat | 0256 | 37.1513 | $2,204.93 |  | $440.99
42845 | C |  | Extensive surgery of throat |  |  |  |  |
42860 | T |  | Excision of tonsil tags | 0258 | 22.1458 | $1,314.35 | $437.25 | $262.87
42870 | T |  | Excision of lingual tonsil | 0258 | 22.1458 | $1,314.35 | $437.25 | $262.87
42890 | T |  | Partial removal of pharynx | 0256 | 37.1513 | $2,204.93 |  | $440.99
42892 | T |  | Revision of pharyngeal walls | 0256 | 37.1513 | $2,204.93 |  | $440.99
42894 | C |  | Revision of pharyngeal walls |  |  |  |  |
42900 | T |  | Repair throat wound | 0252 | 7.8317 | $464.81 | $113.41 | $92.96
42950 | T |  | Reconstruction of throat | 0254 | 23.2980 | $1,382.74 | $321.35 | $276.55
42953 | C |  | Repair throat, esophagus |  |  |  |  |
42955 | T |  | Surgical opening of throat | 0254 | 23.2980 | $1,382.74 | $321.35 | $276.55
42960 | T |  | Control throat bleeding | 0250 | 1.2838 | $76.19 | $26.67 | $15.24
42961 | C |  | Control throat bleeding |  |  |  |  |
42962 | T |  | Control throat bleeding | 0256 | 37.1513 | $2,204.93 |  | $440.99
42970 | T |  | Control nose/throat bleeding | 0250 | 1.2838 | $76.19 | $26.67 | $15.24
42971 | C |  | Control nose/throat bleeding |  |  |  |  |
42972 | T |  | Control nose/throat bleeding | 0253 | 16.0627 | $953.32 | $282.29 | $190.66
42999 | T |  | Throat surgery procedure | 0251 | 2.0010 | $118.76 |  | $23.75
43020 | T |  | Incision of esophagus | 0252 | 7.8317 | $464.81 | $113.41 | $92.96
43030 | T |  | Throat muscle surgery | 0253 | 16.0627 | $953.32 | $282.29 | $190.66
43045 | C |  | Incision of esophagus |  |  |  |  |
43100 | C |  | Excision of esophagus lesion |  |  |  |  |
43101 | C |  | Excision of esophagus lesion |  |  |  |  |
43107 | C |  | Removal of esophagus |  |  |  |  |
43108 | C |  | Removal of esophagus |  |  |  |  |
43112 | C |  | Removal of esophagus |  |  |  |  |
43113 | C |  | Removal of esophagus |  |  |  |  |
43116 | C |  | Partial removal of esophagus |  |  |  |  |
43117 | C |  | Partial removal of esophagus |  |  |  |  |
43118 | C |  | Partial removal of esophagus |  |  |  |  |
43121 | C |  | Partial removal of esophagus |  |  |  |  |
43122 | C |  | Partial removal of esophagus |  |  |  |  |
43123 | C |  | Partial removal of esophagus |  |  |  |  |
43124 | C |  | Removal of esophagus |  |  |  |  |
43130 | T |  | Removal of esophagus pouch | 0254 | 23.2980 | $1,382.74 | $321.35 | $276.55
43135 | C |  | Removal of esophagus pouch |  |  |  |  |
43200 | T |  | Esophagus endoscopy | 0141 | 8.1464 | $483.49 | $143.38 | $96.70
43201 | T |  | Esoph scope w/submucous inj | 0141 | 8.1464 | $483.49 | $143.38 | $96.70
43202 | T |  | Esophagus endoscopy, biopsy | 0141 | 8.1464 | $483.49 | $143.38 | $96.70
43204 | T |  | Esoph scope w/sclerosis inj | 0141 | 8.1464 | $483.49 | $143.38 | $96.70
43205 | T |  | Esophagus endoscopy/ligation | 0141 | 8.1464 | $483.49 | $143.38 | $96.70
43215 | T |  | Esophagus endoscopy | 0141 | 8.1464 | $483.49 | $143.38 | $96.70
43216 | T |  | Esophagus endoscopy/lesion | 0141 | 8.1464 | $483.49 | $143.38 | $96.70
43217 | T |  | Esophagus endoscopy | 0141 | 8.1464 | $483.49 | $143.38 | $96.70
43219 | T |  | Esophagus endoscopy | 0384 | 22.2381 | $1,319.83 | $286.66 | $263.97
43220 | T |  | Esoph endoscopy, dilation | 0141 | 8.1464 | $483.49 | $143.38 | $96.70
43226 | T |  | Esoph endoscopy, dilation | 0141 | 8.1464 | $483.49 | $143.38 | $96.70
43227 | T |  | Esoph endoscopy, repair | 0141 | 8.1464 | $483.49 | $143.38 | $96.70
43228 | T |  | Esoph endoscopy, ablation | 0422 | 22.8607 | $1,356.78 | $448.81 | $271.36
43231 | T |  | Esoph endoscopy w/us exam | 0141 | 8.1464 | $483.49 | $143.38 | $96.70
43232 | T |  | Esoph endoscopy w/us fn bx | 0141 | 8.1464 | $483.49 | $143.38 | $96.70
43234 | T |  | Upper GI endoscopy, exam | 0141 | 8.1464 | $483.49 | $143.38 | $96.70
43235 | T |  | Uppr gi endoscopy, diagnosis | 0141 | 8.1464 | $483.49 | $143.38 | $96.70
43236 | T |  | Uppr gi scope w/submuc inj | 0141 | 8.1464 | $483.49 | $143.38 | $96.70
43237 | T |  | Endoscopic us exam, esoph | 0141 | 8.1464 | $483.49 | $143.38 | $96.70
43238 | T |  | Uppr gi endoscopy w/us fn bx | 0141 | 8.1464 | $483.49 | $143.38 | $96.70
43239 | T |  | Upper GI endoscopy, biopsy | 0141 | 8.1464 | $483.49 | $143.38 | $96.70
43240 | T |  | Esoph endoscope w/drain cyst | 0141 | 8.1464 | $483.49 | $143.38 | $96.70
43241 | T |  | Upper GI endoscopy with tube | 0141 | 8.1464 | $483.49 | $143.38 | $96.70
43242 | T |  | Uppr gi endoscopy w/us fn bx | 0141 | 8.1464 | $483.49 | $143.38 | $96.70
43243 | T |  | Upper gi endoscopy & inject | 0141 | 8.1464 | $483.49 | $143.38 | $96.70
43244 | T |  | Upper GI endoscopy/ligation | 0141 | 8.1464 | $483.49 | $143.38 | $96.70
43245 | T |  | Uppr gi scope dilate strictr | 0141 | 8.1464 | $483.49 | $143.38 | $96.70
43246 | T |  | Place gastrostomy tube | 0141 | 8.1464 | $483.49 | $143.38 | $96.70
43247 | T |  | Operative upper GI endoscopy | 0141 | 8.1464 | $483.49 | $143.38 | $96.70
43248 | T |  | Uppr gi endoscopy/guide wire | 0141 | 8.1464 | $483.49 | $143.38 | $96.70
43249 | T |  | Esoph endoscopy, dilation | 0141 | 8.1464 | $483.49 | $143.38 | $96.70
43250 | T |  | Upper GI endoscopy/tumor | 0141 | 8.1464 | $483.49 | $143.38 | $96.70
43251 | T |  | Operative upper GI endoscopy | 0141 | 8.1464 | $483.49 | $143.38 | $96.70
43255 | T |  | Operative upper GI endoscopy | 0141 | 8.1464 | $483.49 | $143.38 | $96.70
43256 | T |  | Uppr gi endoscopy w stent | 0384 | 22.2381 | $1,319.83 | $286.66 | $263.97
43257 | T |  | Uppr gi scope w/thrml txmnt | 0422 | 22.8607 | $1,356.78 | $448.81 | $271.36
43258 | T |  | Operative upper GI endoscopy | 0141 | 8.1464 | $483.49 | $143.38 | $96.70
43259 | T |  | Endoscopic ultrasound exam | 0141 | 8.1464 | $483.49 | $143.38 | $96.70
43260 | T |  | Endo cholangiopancreatograph | 0151 | 18.6489 | $1,106.81 | $245.46 | $221.36
43261 | T |  | Endo cholangiopancreatograph | 0151 | 18.6489 | $1,106.81 | $245.46 | $221.36
43262 | T |  | Endo cholangiopancreatograph | 0151 | 18.6489 | $1,106.81 | $245.46 | $221.36
43263 | T |  | Endo cholangiopancreatograph | 0151 | 18.6489 | $1,106.81 | $245.46 | $221.36
43264 | T |  | Endo cholangiopancreatograph | 0151 | 18.6489 | $1,106.81 | $245.46 | $221.36
43265 | T |  | Endo cholangiopancreatograph | 0151 | 18.6489 | $1,106.81 | $245.46 | $221.36
43267 | T |  | Endo cholangiopancreatograph | 0151 | 18.6489 | $1,106.81 | $245.46 | $221.36
43268 | T |  | Endo cholangiopancreatograph | 0384 | 22.2381 | $1,319.83 | $286.66 | $263.97
43269 | T |  | Endo cholangiopancreatograph | 0384 | 22.2381 | $1,319.83 | $286.66 | $263.97
43271 | T |  | Endo cholangiopancreatograph | 0151 | 18.6489 | $1,106.81 | $245.46 | $221.36
43272 | T |  | Endo cholangiopancreatograph | 0151 | 18.6489 | $1,106.81 | $245.46 | $221.36
43280 | T |  | Laparoscopy, fundoplasty | 0132 | 62.7061 | $3,721.61 | $1,239.22 | $744.32
43289 | T |  | Laparoscope proc, esoph | 0130 | 31.7825 | $1,886.29 | $659.53 | $377.26
43300 | C |  | Repair of esophagus |  |  |  |  |
43305 | C |  | Repair esophagus and fistula |  |  |  |  |
43310 | C |  | Repair of esophagus |  |  |  |  |
43312 | C |  | Repair esophagus and fistula |  |  |  |  |
43313 | C |  | Esophagoplasty congenital |  |  |  |  |
43314 | C |  | Tracheo-esophagoplasty cong |  |  |  |  |
43320 | C |  | Fuse esophagus & stomach |  |  |  |  |
43324 | C |  | Revise esophagus & stomach |  |  |  |  |
43325 | C |  | Revise esophagus & stomach |  |  |  |  |
43326 | C |  | Revise esophagus & stomach |  |  |  |  |
43330 | C |  | Repair of esophagus |  |  |  |  |
43331 | C |  | Repair of esophagus |  |  |  |  |
43340 | C |  | Fuse esophagus & intestine |  |  |  |  |
43341 | C |  | Fuse esophagus & intestine |  |  |  |  |
43350 | C |  | Surgical opening, esophagus |  |  |  |  |
43351 | C |  | Surgical opening, esophagus |  |  |  |  |
43352 | C |  | Surgical opening, esophagus |  |  |  |  |
43360 | C |  | Gastrointestinal repair |  |  |  |  |
43361 | C |  | Gastrointestinal repair |  |  |  |  |
43400 | C |  | Ligate esophagus veins |  |  |  |  |
43401 | C |  | Esophagus surgery for veins |  |  |  |  |
43405 | C |  | Ligate/staple esophagus |  |  |  |  |
43410 | C |  | Repair esophagus wound |  |  |  |  |
43415 | C |  | Repair esophagus wound |  |  |  |  |
43420 | C |  | Repair esophagus opening |  |  |  |  |
43425 | C |  | Repair esophagus opening |  |  |  |  |
43450 | T |  | Dilate esophagus | 0140 | 5.4489 | $323.39 | $93.77 | $64.68
43453 | T |  | Dilate esophagus | 0140 | 5.4489 | $323.39 | $93.77 | $64.68
43456 | T |  | Dilate esophagus | 0140 | 5.4489 | $323.39 | $93.77 | $64.68
43458 | T |  | Dilate esophagus | 0140 | 5.4489 | $323.39 | $93.77 | $64.68
43460 | C |  | Pressure treatment esophagus |  |  |  |  |
43496 | C |  | Free jejunum flap, microvasc |  |  |  |  |
43499 | T |  | Esophagus surgery procedure | 0141 | 8.1464 | $483.49 | $143.38 | $96.70
43500 | C |  | Surgical opening of stomach |  |  |  |  |
43501 | C |  | Surgical repair of stomach |  |  |  |  |
43502 | C |  | Surgical repair of stomach |  |  |  |  |
43510 | T |  | Surgical opening of stomach | 0141 | 8.1464 | $483.49 | $143.38 | $96.70
43520 | C |  | Incision of pyloric muscle |  |  |  |  |
43600 | T |  | Biopsy of stomach | 0141 | 8.1464 | $483.49 | $143.38 | $96.70
43605 | C |  | Biopsy of stomach |  |  |  |  |
43610 | C |  | Excision of stomach lesion |  |  |  |  |
43611 | C |  | Excision of stomach lesion |  |  |  |  |
43620 | C |  | Removal of stomach |  |  |  |  |
43621 | C |  | Removal of stomach |  |  |  |  |
43622 | C |  | Removal of stomach |  |  |  |  |
43631 | C |  | Removal of stomach, partial |  |  |  |  |
43632 | C |  | Removal of stomach, partial |  |  |  |  |
43633 | C |  | Removal of stomach, partial |  |  |  |  |
43634 | C |  | Removal of stomach, partial |  |  |  |  |
43635 | C |  | Removal of stomach, partial |  |  |  |  |
43638 | C |  | Removal of stomach, partial |  |  |  |  |
43639 | C |  | Removal of stomach, partial |  |  |  |  |
43640 | C |  | Vagotomy & pylorus repair |  |  |  |  |
43641 | C |  | Vagotomy & pylorus repair |  |  |  |  |
43644 | C |  | Lap gastric bypass/roux-en-y |  |  |  |  |
43645 | C |  | Lap gastr bypass incl smll i |  |  |  |  |
43651 | T |  | Laparoscopy, vagus nerve | 0132 | 62.7061 | $3,721.61 | $1,239.22 | $744.32
43652 | T |  | Laparoscopy, vagus nerve | 0132 | 62.7061 | $3,721.61 | $1,239.22 | $744.32
43653 | T |  | Laparoscopy, gastrostomy | 0131 | 43.1426 | $2,560.51 | $1,001.89 | $512.10
43659 | T |  | Laparoscope proc, stom | 0130 | 31.7825 | $1,886.29 | $659.53 | $377.26
43750 | T |  | Place gastrostomy tube | 0141 | 8.1464 | $483.49 | $143.38 | $96.70
43752 | X |  | Nasal/orogastric w/stent | 0272 | 1.3738 | $81.54 | $32.61 | $16.31
43760 | T |  | Change gastrostomy tube | 0121 | 2.2663 | $134.50 | $43.80 | $26.90
43761 | T |  | Reposition gastrostomy tube | 0122 | 6.9405 | $411.92 | $84.48 | $82.38
43800 | C |  | Reconstruction of pylorus |  |  |  |  |
43810 | C |  | Fusion of stomach and bowel |  |  |  |  |
43820 | C |  | Fusion of stomach and bowel |  |  |  |  |
43825 | C |  | Fusion of stomach and bowel |  |  |  |  |
43830 | T |  | Place gastrostomy tube | 0422 | 22.8607 | $1,356.78 | $448.81 | $271.36
43831 | T |  | Place gastrostomy tube | 0141 | 8.1464 | $483.49 | $143.38 | $96.70
43832 | C |  | Place gastrostomy tube |  |  |  |  |
43840 | C |  | Repair of stomach lesion |  |  |  |  |
43842 | C |  | Gastroplasty for obesity |  |  |  |  |
43843 | C |  | Gastroplasty for obesity |  |  |  |  |
43845 | C |  | Gastroplasty duodenal switch |  |  |  |  |
43846 | C |  | Gastric bypass for obesity |  |  |  |  |
43847 | C |  | Gastric bypass for obesity |  |  |  |  |
43848 | C |  | Revision gastroplasty |  |  |  |  |
43850 | C |  | Revise stomach-bowel fusion |  |  |  |  |
43855 | C |  | Revise stomach-bowel fusion |  |  |  |  |
43860 | C |  | Revise stomach-bowel fusion |  |  |  |  |
43865 | C |  | Revise stomach-bowel fusion |  |  |  |  |
43870 | T |  | Repair stomach opening | 0141 | 8.1464 | $483.49 | $143.38 | $96.70
43880 | C |  | Repair stomach-bowel fistula |  |  |  |  |
43999 | T |  | Stomach surgery procedure | 0141 | 8.1464 | $483.49 | $143.38 | $96.70
44005 | C |  | Freeing of bowel adhesion |  |  |  |  |
44010 | C |  | Incision of small bowel |  |  |  |  |
44015 | C |  | Insert needle cath bowel |  |  |  |  |
44020 | C |  | Explore small intestine |  |  |  |  |
44021 | C |  | Decompress small bowel |  |  |  |  |
44025 | C |  | Incision of large bowel |  |  |  |  |
44050 | C |  | Reduce bowel obstruction |  |  |  |  |
44055 | C |  | Correct malrotation of bowel |  |  |  |  |
44100 | T |  | Biopsy of bowel | 0141 | 8.1464 | $483.49 | $143.38 | $96.70
44110 | C |  | Excise intestine lesion(s) |  |  |  |  |
44111 | C |  | Excision of bowel lesion(s) |  |  |  |  |
44120 | C |  | Removal of small intestine |  |  |  |  |
44121 | C |  | Removal of small intestine |  |  |  |  |
44125 | C |  | Removal of small intestine |  |  |  |  |
44126 | C |  | Enterectomy w/o taper, cong |  |  |  |  |
44127 | C |  | Enterectomy w/taper, cong |  |  |  |  |
44128 | C |  | Enterectomy cong, add-on |  |  |  |  |
44130 | C |  | Bowel to bowel fusion |  |  |  |  |
44132 | C |  | Enterectomy, cadaver donor |  |  |  |  |
44133 | C |  | Enterectomy, live donor |  |  |  |  |
44135 | C |  | Intestine transplnt, cadaver |  |  |  |  |
44136 | C |  | Intestine transplant, live |  |  |  |  |
44137 | C |  | Remove intestinal allograft |  |  |  |  |
44139 | C |  | Mobilization of colon |  |  |  |  |
44140 | C |  | Partial removal of colon |  |  |  |  |
44141 | C |  | Partial removal of colon |  |  |  |  |
44143 | C |  | Partial removal of colon |  |  |  |  |
44144 | C |  | Partial removal of colon |  |  |  |  |
44145 | C |  | Partial removal of colon |  |  |  |  |
44146 | C |  | Partial removal of colon |  |  |  |  |
44147 | C |  | Partial removal of colon |  |  |  |  |
44150 | C |  | Removal of colon |  |  |  |  |
44151 | C |  | Removal of colon/ileostomy |  |  |  |  |
44152 | C |  | Removal of colon/ileostomy |  |  |  |  |
44153 | C |  | Removal of colon/ileostomy |  |  |  |  |
44155 | C |  | Removal of colon/ileostomy |  |  |  |  |
44156 | C |  | Removal of colon/ileostomy |  |  |  |  |
44160 | C |  | Removal of colon |  |  |  |  |
44200 | T |  | Laparoscopy, enterolysis | 0131 | 43.1426 | $2,560.51 | $1,001.89 | $512.10
44201 | T |  | Laparoscopy, jejunostomy | 0131 | 43.1426 | $2,560.51 | $1,001.89 | $512.10
44202 | C |  | Lap resect s/intestine singl |  |  |  |  |
44203 | C |  | Lap resect s/intestine, addl |  |  |  |  |
44204 | C |  | Laparo partial colectomy |  |  |  |  |
44205 | C |  | Lap colectomy part w/ileum |  |  |  |  |
44206 | T |  | Lap part colectomy w/stoma | 0132 | 62.7061 | $3,721.61 | $1,239.22 | $744.32
44207 | T |  | L colectomy/coloproctostomy | 0132 | 62.7061 | $3,721.61 | $1,239.22 | $744.32
44208 | T |  | L colectomy/coloproctostomy | 0132 | 62.7061 | $3,721.61 | $1,239.22 | $744.32
44210 | C |  | Laparo total proctocolectomy |  |  |  |  |
44211 | C |  | Laparo total proctocolectomy |  |  |  |  |
44212 | C |  | Laparo total proctocolectomy |  |  |  |  |
44238 | T |  | Laparoscope proc, intestine | 0130 | 31.7825 | $1,886.29 | $659.53 | $377.26
44239 | T |  | Laparoscope proc, rectum | 0130 | 31.7825 | $1,886.29 | $659.53 | $377.26
44300 | C |  | Open bowel to skin |  |  |  |  |
44310 | C |  | Ileostomy/jejunostomy |  |  |  |  |
44312 | T |  | Revision of ileostomy | 0027 | 18.3348 | $1,088.17 | $329.72 | $217.63
44314 | C |  | Revision of ileostomy |  |  |  |  |
44316 | C |  | Devise bowel pouch |  |  |  |  |
44320 | C |  | Colostomy |  |  |  |  |
44322 | C |  | Colostomy with biopsies |  |  |  |  |
44340 | T |  | Revision of colostomy | 0027 | 18.3348 | $1,088.17 | $329.72 | $217.63
44345 | C |  | Revision of colostomy |  |  |  |  |
44346 | C |  | Revision of colostomy |  |  |  |  |
44360 | T |  | Small bowel endoscopy | 0142 | 9.3063 | $552.33 | $152.78 | $110.47
44361 | T |  | Small bowel endoscopy/biopsy | 0142 | 9.3063 | $552.33 | $152.78 | $110.47
44363 | T |  | Small bowel endoscopy | 0142 | 9.3063 | $552.33 | $152.78 | $110.47
44364 | T |  | Small bowel endoscopy | 0142 | 9.3063 | $552.33 | $152.78 | $110.47
44365 | T |  | Small bowel endoscopy | 0142 | 9.3063 | $552.33 | $152.78 | $110.47
44366 | T |  | Small bowel endoscopy | 0142 | 9.3063 | $552.33 | $152.78 | $110.47
44369 | T |  | Small bowel endoscopy | 0142 | 9.3063 | $552.33 | $152.78 | $110.47
44370 | T |  | Small bowel endoscopy/stent | 0384 | 22.2381 | $1,319.83 | $286.66 | $263.97
44372 | T |  | Small bowel endoscopy | 0142 | 9.3063 | $552.33 | $152.78 | $110.47
44373 | T |  | Small bowel endoscopy | 0142 | 9.3063 | $552.33 | $152.78 | $110.47
44376 | T |  | Small bowel endoscopy | 0142 | 9.3063 | $552.33 | $152.78 | $110.47
44377 | T |  | Small bowel endoscopy/biopsy | 0142 | 9.3063 | $552.33 | $152.78 | $110.47
44378 | T |  | Small bowel endoscopy | 0142 | 9.3063 | $552.33 | $152.78 | $110.47
44379 | T |  | S bowel endoscope w/stent | 0384 | 22.2381 | $1,319.83 | $286.66 | $263.97
44380 | T |  | Small bowel endoscopy | 0142 | 9.3063 | $552.33 | $152.78 | $110.47
44382 | T |  | Small bowel endoscopy | 0142 | 9.3063 | $552.33 | $152.78 | $110.47
44383 | T |  | Ileoscopy w/stent | 0384 | 22.2381 | $1,319.83 | $286.66 | $263.97
44385 | T |  | Endoscopy of bowel pouch | 0143 | 8.6475 | $513.23 | $186.06 | $102.65
44386 | T |  | Endoscopy, bowel pouch/biop | 0143 | 8.6475 | $513.23 | $186.06 | $102.65
44388 | T |  | Colonoscopy | 0143 | 8.6475 | $513.23 | $186.06 | $102.65
44389 | T |  | Colonoscopy with biopsy | 0143 | 8.6475 | $513.23 | $186.06 | $102.65
44390 | T |  | Colonoscopy for foreign body | 0143 | 8.6475 | $513.23 | $186.06 | $102.65
44391 | T |  | Colonoscopy for bleeding | 0143 | 8.6475 | $513.23 | $186.06 | $102.65
44392 | T |  | Colonoscopy & polypectomy | 0143 | 8.6475 | $513.23 | $186.06 | $102.65
44393 | T |  | Colonoscopy, lesion removal | 0143 | 8.6475 | $513.23 | $186.06 | $102.65
44394 | T |  | Colonoscopy w/snare | 0143 | 8.6475 | $513.23 | $186.06 | $102.65
44397 | T |  | Colonoscopy w/stent | 0384 | 22.2381 | $1,319.83 | $286.66 | $263.97
44500 | T |  | Intro, gastrointestinal tube | 0121 | 2.2663 | $134.50 | $43.80 | $26.90
44602 | C |  | Suture, small intestine |  |  |  |  |
44603 | C |  | Suture, small intestine |  |  |  |  |
44604 | C |  | Suture, large intestine |  |  |  |  |
44605 | C |  | Repair of bowel lesion |  |  |  |  |
44615 | C |  | Intestinal stricturoplasty |  |  |  |  |
44620 | C |  | Repair bowel opening |  |  |  |  |
44625 | C |  | Repair bowel opening |  |  |  |  |
44626 | C |  | Repair bowel opening |  |  |  |  |
44640 | C |  | Repair bowel-skin fistula |  |  |  |  |
44650 | C |  | Repair bowel fistula |  |  |  |  |
44660 | C |  | Repair bowel-bladder fistula |  |  |  |  |
44661 | C |  | Repair bowel-bladder fistula |  |  |  |  |
44680 | C |  | Surgical revision, intestine |  |  |  |  |
44700 | C |  | Suspend bowel w/prosthesis |  |  |  |  |
44701 | N |  | Intraop colon lavage add-on |  |  |  |  |
44715 | C |  | Prepare donor intestine |  |  |  |  |
44720 | C |  | Prep donor intestine/venous |  |  |  |  |
44721 | C |  | Prep donor intestine/artery |  |  |  |  |
44799 | T |  | Unlisted procedure intestine | 0142 | 9.3063 | $552.33 | $152.78 | $110.47
44800 | C |  | Excision of bowel pouch |  |  |  |  |
44820 | C |  | Excision of mesentery lesion |  |  |  |  |
44850 | C |  | Repair of mesentery |  |  |  |  |
44899 | C |  | Bowel surgery procedure |  |  |  |  |
44900 | C |  | Drain app abscess, open |  |  |  |  |
44901 | T |  | Drain app abscess, percut | 0037 | 9.4322 | $559.80 | $223.91 | $111.96
44950 | C |  | Appendectomy |  |  |  |  |
44955 | C |  | Appendectomy add-on |  |  |  |  |
44960 | C |  | Appendectomy |  |  |  |  |
44970 | T |  | Laparoscopy, appendectomy | 0131 | 43.1426 | $2,560.51 | $1,001.89 | $512.10
44979 | T |  | Laparoscope proc, app | 0130 | 31.7825 | $1,886.29 | $659.53 | $377.26
45000 | T |  | Drainage of pelvic abscess | 0148 | 3.7213 | $220.86 | $56.96 | $44.17
45005 | T |  | Drainage of rectal abscess | 0155 | 16.1810 | $960.34 |  | $192.07
45020 | T |  | Drainage of rectal abscess | 0155 | 16.1810 | $960.34 |  | $192.07
45100 | T |  | Biopsy of rectum | 0149 | 17.9907 | $1,067.75 | $293.06 | $213.55
45108 | T |  | Removal of anorectal lesion | 0150 | 23.7573 | $1,410.00 | $437.12 | $282.00
45110 | C |  | Removal of rectum |  |  |  |  |
45111 | C |  | Partial removal of rectum |  |  |  |  |
45112 | C |  | Removal of rectum |  |  |  |  |
45113 | C |  | Partial proctectomy |  |  |  |  |
45114 | C |  | Partial removal of rectum |  |  |  |  |
45116 | C |  | Partial removal of rectum |  |  |  |  |
45119 | C |  | Remove rectum w/reservoir |  |  |  |  |
45120 | C |  | Removal of rectum |  |  |  |  |
45121 | C |  | Removal of rectum and colon |  |  |  |  |
45123 | C |  | Partial proctectomy |  |  |  |  |
45126 | C |  | Pelvic exenteration |  |  |  |  |
45130 | C |  | Excision of rectal prolapse |  |  |  |  |
45135 | C |  | Excision of rectal prolapse |  |  |  |  |
45136 | C |  | Excise ileoanal reservior |  |  |  |  |
45150 | T |  | Excision of rectal stricture | 0149 | 17.9907 | $1,067.75 | $293.06 | $213.55
45160 | T |  | Excision of rectal lesion | 0150 | 23.7573 | $1,410.00 | $437.12 | $282.00
45170 | T |  | Excision of rectal lesion | 0150 | 23.7573 | $1,410.00 | $437.12 | $282.00
45190 | T |  | Destruction, rectal tumor | 0150 | 23.7573 | $1,410.00 | $437.12 | $282.00
45300 | T |  | Proctosigmoidoscopy dx | 0146 | 4.6164 | $273.98 | $64.40 | $54.80
45303 | T |  | Proctosigmoidoscopy dilate | 0147 | 7.9318 | $470.75 |  | $94.15
45305 | T |  | Proctosigmoidoscopy w/bx | 0147 | 7.9318 | $470.75 |  | $94.15
45307 | T |  | Proctosigmoidoscopy fb | 0428 | 19.8121 | $1,175.85 |  | $235.17
45308 | T |  | Proctosigmoidoscopy removal | 0147 | 7.9318 | $470.75 |  | $94.15
45309 | T |  | Proctosigmoidoscopy removal | 0147 | 7.9318 | $470.75 |  | $94.15
45315 | T |  | Proctosigmoidoscopy removal | 0147 | 7.9318 | $470.75 |  | $94.15
45317 | T |  | Proctosigmoidoscopy bleed | 0147 | 7.9318 | $470.75 |  | $94.15
45320 | T |  | Proctosigmoidoscopy ablate | 0428 | 19.8121 | $1,175.85 |  | $235.17
45321 | T |  | Proctosigmoidoscopy volvul | 0428 | 19.8121 | $1,175.85 |  | $235.17
45327 | T |  | Proctosigmoidoscopy w/stent | 0384 | 22.2381 | $1,319.83 | $286.66 | $263.97
45330 | T |  | Diagnostic sigmoidoscopy | 0146 | 4.6164 | $273.98 | $64.40 | $54.80
45331 | T |  | Sigmoidoscopy and biopsy | 0146 | 4.6164 | $273.98 | $64.40 | $54.80
45332 | T |  | Sigmoidoscopy w/fb removal | 0146 | 4.6164 | $273.98 | $64.40 | $54.80
45333 | T |  | Sigmoidoscopy & polypectomy | 0147 | 7.9318 | $470.75 |  | $94.15
45334 | T |  | Sigmoidoscopy for bleeding | 0147 | 7.9318 | $470.75 |  | $94.15
45335 | T |  | Sigmoidoscopy w/submuc inj | 0146 | 4.6164 | $273.98 | $64.40 | $54.80
45337 | T |  | Sigmoidoscopy & decompress | 0146 | 4.6164 | $273.98 | $64.40 | $54.80
45338 | T |  | Sigmoidoscopy w/tumr remove | 0147 | 7.9318 | $470.75 |  | $94.15
45339 | T |  | Sigmoidoscopy w/ablate tumr | 0147 | 7.9318 | $470.75 |  | $94.15
45340 | T |  | Sig w/balloon dilation | 0147 | 7.9318 | $470.75 |  | $94.15
45341 | T |  | Sigmoidoscopy w/ultrasound | 0147 | 7.9318 | $470.75 |  | $94.15
45342 | T |  | Sigmoidoscopy w/us guide bx | 0147 | 7.9318 | $470.75 |  | $94.15
45345 | T |  | Sigmoidoscopy w/stent | 0384 | 22.2381 | $1,319.83 | $286.66 | $263.97
45355 | T |  | Surgical colonoscopy | 0143 | 8.6475 | $513.23 | $186.06 | $102.65
45378 | T |  | Diagnostic colonoscopy | 0143 | 8.6475 | $513.23 | $186.06 | $102.65
45379 | T |  | Colonoscopy w/fb removal | 0143 | 8.6475 | $513.23 | $186.06 | $102.65
45380 | T |  | Colonoscopy and biopsy | 0143 | 8.6475 | $513.23 | $186.06 | $102.65
45381 | T |  | Colonoscopy, submucous inj | 0143 | 8.6475 | $513.23 | $186.06 | $102.65
45382 | T |  | Colonoscopy/control bleeding | 0143 | 8.6475 | $513.23 | $186.06 | $102.65
45383 | T |  | Lesion removal colonoscopy | 0143 | 8.6475 | $513.23 | $186.06 | $102.65
45384 | T |  | Lesion remove colonoscopy | 0143 | 8.6475 | $513.23 | $186.06 | $102.65
45385 | T |  | Lesion removal colonoscopy | 0143 | 8.6475 | $513.23 | $186.06 | $102.65
45386 | T |  | Colonoscopy dilate stricture | 0143 | 8.6475 | $513.23 | $186.06 | $102.65
45387 | T |  | Colonoscopy w/stent | 0384 | 22.2381 | $1,319.83 | $286.66 | $263.97
45391 | T |  | Colonoscopy w/endoscope us | 0143 | 8.6475 | $513.23 | $186.06 | $102.65
45392 | T |  | Colonoscopy w/endoscopic fnb | 0143 | 8.6475 | $513.23 | $186.06 | $102.65
45500 | T |  | Repair of rectum | 0149 | 17.9907 | $1,067.75 | $293.06 | $213.55
45505 | T |  | Repair of rectum | 0150 | 23.7573 | $1,410.00 | $437.12 | $282.00
45520 | T |  | Treatment of rectal prolapse | 0098 | 1.1295 | $67.04 |  | $13.41
45540 | C |  | Correct rectal prolapse |  |  |  |  |
45541 | T |  | Correct rectal prolapse | 0150 | 23.7573 | $1,410.00 | $437.12 | $282.00
45550 | C |  | Repair rectum/remove sigmoid |  |  |  |  |
45560 | T |  | Repair of rectocele | 0150 | 23.7573 | $1,410.00 | $437.12 | $282.00
45562 | C |  | Exploration/repair of rectum |  |  |  |  |
45563 | C |  | Exploration/repair of rectum |  |  |  |  |
45800 | C |  | Repair rect/bladder fistula |  |  |  |  |
45805 | C |  | Repair fistula w/colostomy |  |  |  |  |
45820 | C |  | Repair rectourethral fistula |  |  |  |  |
45825 | C |  | Repair fistula w/colostomy |  |  |  |  |
45900 | T |  | Reduction of rectal prolapse | 0148 | 3.7213 | $220.86 | $56.96 | $44.17
45905 | T |  | Dilation of anal sphincter | 0149 | 17.9907 | $1,067.75 | $293.06 | $213.55
45910 | T |  | Dilation of rectal narrowing | 0149 | 17.9907 | $1,067.75 | $293.06 | $213.55
45915 | T |  | Remove rectal obstruction | 0148 | 3.7213 | $220.86 | $56.96 | $44.17
45999 | T |  | Rectum surgery procedure | 0148 | 3.7213 | $220.86 | $56.96 | $44.17
46020 | T |  | Placement of seton | 0150 | 23.7573 | $1,410.00 | $437.12 | $282.00
46030 | T |  | Removal of rectal marker | 0148 | 3.7213 | $220.86 | $56.96 | $44.17
46040 | T |  | Incision of rectal abscess | 0149 | 17.9907 | $1,067.75 | $293.06 | $213.55
46045 | T |  | Incision of rectal abscess | 0150 | 23.7573 | $1,410.00 | $437.12 | $282.00
46050 | T |  | Incision of anal abscess | 0148 | 3.7213 | $220.86 | $56.96 | $44.17
46060 | T |  | Incision of rectal abscess | 0150 | 23.7573 | $1,410.00 | $437.12 | $282.00
46070 | T |  | Incision of anal septum | 0155 | 16.1810 | $960.34 |  | $192.07
46080 | T |  | Incision of anal sphincter | 0149 | 17.9907 | $1,067.75 | $293.06 | $213.55
46083 | T |  | Incise external hemorrhoid | 0148 | 3.7213 | $220.86 | $56.96 | $44.17
46200 | T |  | Removal of anal fissure | 0150 | 23.7573 | $1,410.00 | $437.12 | $282.00
46210 | T |  | Removal of anal crypt | 0149 | 17.9907 | $1,067.75 | $293.06 | $213.55
46211 | T |  | Removal of anal crypts | 0150 | 23.7573 | $1,410.00 | $437.12 | $282.00
46220 | T |  | Removal of anal tag | 0149 | 17.9907 | $1,067.75 | $293.06 | $213.55
46221 | T |  | Ligation of hemorrhoid(s) | 0148 | 3.7213 | $220.86 | $56.96 | $44.17
46230 | T |  | Removal of anal tags | 0149 | 17.9907 | $1,067.75 | $293.06 | $213.55
46250 | T |  | Hemorrhoidectomy | 0150 | 23.7573 | $1,410.00 | $437.12 | $282.00
46255 | T |  | Hemorrhoidectomy | 0150 | 23.7573 | $1,410.00 | $437.12 | $282.00
46257 | T |  | Remove hemorrhoids & fissure | 0150 | 23.7573 | $1,410.00 | $437.12 | $282.00
46258 | T |  | Remove hemorrhoids & fistula | 0150 | 23.7573 | $1,410.00 | $437.12 | $282.00
46260 | T |  | Hemorrhoidectomy | 0150 | 23.7573 | $1,410.00 | $437.12 | $282.00
46261 | T |  | Remove hemorrhoids & fissure | 0150 | 23.7573 | $1,410.00 | $437.12 | $282.00
46262 | T |  | Remove hemorrhoids & fistula | 0150 | 23.7573 | $1,410.00 | $437.12 | $282.00
46270 | T |  | Removal of anal fistula | 0150 | 23.7573 | $1,410.00 | $437.12 | $282.00
46275 | T |  | Removal of anal fistula | 0150 | 23.7573 | $1,410.00 | $437.12 | $282.00
46280 | T |  | Removal of anal fistula | 0150 | 23.7573 | $1,410.00 | $437.12 | $282.00
46285 | T |  | Removal of anal fistula | 0150 | 23.7573 | $1,410.00 | $437.12 | $282.00
46288 | T |  | Repair anal fistula | 0150 | 23.7573 | $1,410.00 | $437.12 | $282.00
46320 | T |  | Removal of hemorrhoid clot | 0148 | 3.7213 | $220.86 | $56.96 | $44.17
46500 | T |  | Injection into hemorrhoid(s) | 0155 | 16.1810 | $960.34 |  | $192.07
46600 | X |  | Diagnostic anoscopy | 0340 | 0.6355 | $37.72 |  | $7.54
46604 | T |  | Anoscopy and dilation | 0147 | 7.9318 | $470.75 |  | $94.15
46606 | T |  | Anoscopy and biopsy | 0146 | 4.6164 | $273.98 | $64.40 | $54.80
46608 | T |  | Anoscopy, remove for body | 0147 | 7.9318 | $470.75 |  | $94.15
46610 | T |  | Anoscopy, remove lesion | 0428 | 19.8121 | $1,175.85 |  | $235.17
46611 | T |  | Anoscopy | 0147 | 7.9318 | $470.75 |  | $94.15
46612 | T |  | Anoscopy, remove lesions | 0428 | 19.8121 | $1,175.85 |  | $235.17
46614 | T |  | Anoscopy, control bleeding | 0146 | 4.6164 | $273.98 | $64.40 | $54.80
46615 | T |  | Anoscopy | 0428 | 19.8121 | $1,175.85 |  | $235.17
46700 | T |  | Repair of anal stricture | 0150 | 23.7573 | $1,410.00 | $437.12 | $282.00
46705 | C |  | Repair of anal stricture |  |  |  |  |
46706 | T |  | Repr of anal fistula w/glue | 0150 | 23.7573 | $1,410.00 | $437.12 | $282.00
46715 | C |  | Repair of anovaginal fistula |  |  |  |  |
46716 | C |  | Repair of anovaginal fistula |  |  |  |  |
46730 | C |  | Construction of absent anus |  |  |  |  |
46735 | C |  | Construction of absent anus |  |  |  |  |
46740 | C |  | Construction of absent anus |  |  |  |  |
46742 | C |  | Repair of imperforated anus |  |  |  |  |
46744 | C |  | Repair of cloacal anomaly |  |  |  |  |
46746 | C |  | Repair of cloacal anomaly |  |  |  |  |
46748 | C |  | Repair of cloacal anomaly |  |  |  |  |
46750 | T |  | Repair of anal sphincter | 0150 | 23.7573 | $1,410.00 | $437.12 | $282.00
46751 | C |  | Repair of anal sphincter |  |  |  |  |
46753 | T |  | Reconstruction of anus | 0150 | 23.7573 | $1,410.00 | $437.12 | $282.00
46754 | T |  | Removal of suture from anus | 0149 | 17.9907 | $1,067.75 | $293.06 | $213.55
46760 | T |  | Repair of anal sphincter | 0150 | 23.7573 | $1,410.00 | $437.12 | $282.00
46761 | T |  | Repair of anal sphincter | 0150 | 23.7573 | $1,410.00 | $437.12 | $282.00
46762 | T |  | Implant artificial sphincter | 0150 | 23.7573 | $1,410.00 | $437.12 | $282.00
46900 | T |  | Destruction, anal lesion(s) | 0016 | 2.5717 | $152.63 | $33.42 | $30.53
46910 | T |  | Destruction, anal lesion(s) | 0017 | 18.3377 | $1,088.34 | $227.84 | $217.67
46916 | T |  | Cryosurgery, anal lesion(s) | 0013 | 1.1028 | $65.45 | $14.20 | $13.09
46917 | T |  | Laser surgery, anal lesions | 0695 | 20.2244 | $1,200.32 | $266.59 | $240.06
46922 | T |  | Excision of anal lesion(s) | 0695 | 20.2244 | $1,200.32 | $266.59 | $240.06
46924 | T |  | Destruction, anal lesion(s) | 0695 | 20.2244 | $1,200.32 | $266.59 | $240.06
46934 | T |  | Destruction of hemorrhoids | 0155 | 16.1810 | $960.34 |  | $192.07
46935 | T |  | Destruction of hemorrhoids | 0155 | 16.1810 | $960.34 |  | $192.07
46936 | T |  | Destruction of hemorrhoids | 0149 | 17.9907 | $1,067.75 | $293.06 | $213.55
46937 | T |  | Cryotherapy of rectal lesion | 0149 | 17.9907 | $1,067.75 | $293.06 | $213.55
46938 | T |  | Cryotherapy of rectal lesion | 0150 | 23.7573 | $1,410.00 | $437.12 | $282.00
46940 | T |  | Treatment of anal fissure | 0149 | 17.9907 | $1,067.75 | $293.06 | $213.55
46942 | T |  | Treatment of anal fissure | 0148 | 3.7213 | $220.86 | $56.96 | $44.17
46945 | T |  | Ligation of hemorrhoids | 0155 | 16.1810 | $960.34 |  | $192.07
46946 | T |  | Ligation of hemorrhoids | 0155 | 16.1810 | $960.34 |  | $192.07
46947 | T |  | Hemorrhoidopexy by stapling | 0150 | 23.7573 | $1,410.00 | $437.12 | $282.00
46999 | T |  | Anus surgery procedure | 0148 | 3.7213 | $220.86 | $56.96 | $44.17
47000 | T |  | Needle biopsy of liver | 0685 | 5.9902 | $355.52 | $115.47 | $71.10
47001 | N |  | Needle biopsy, liver add-on |  |  |  |  |
47010 | C |  | Open drainage, liver lesion |  |  |  |  |
47011 | T |  | Percut drain, liver lesion | 0037 | 9.4322 | $559.80 | $223.91 | $111.96
47015 | C |  | Inject/aspirate liver cyst |  |  |  |  |
47100 | C |  | Wedge biopsy of liver |  |  |  |  |
47120 | C |  | Partial removal of liver |  |  |  |  |
47122 | C |  | Extensive removal of liver |  |  |  |  |
47125 | C |  | Partial removal of liver |  |  |  |  |
47130 | C |  | Partial removal of liver |  |  |  |  |
47133 | C |  | Removal of donor liver |  |  |  |  |
47135 | C |  | Transplantation of liver |  |  |  |  |
47136 | C |  | Transplantation of liver |  |  |  |  |
47140 | C |  | Partial removal, donor liver |  |  |  |  |
47141 | C |  | Partial removal, donor liver |  |  |  |  |
47142 | C |  | Partial removal, donor liver |  |  |  |  |
47143 | C |  | Prep donor liver, whole |  |  |  |  |
47144 | C |  | Prep donor liver, 3-segment |  |  |  |  |
47145 | C |  | Prep donor liver, lobe split |  |  |  |  |
47146 | C |  | Prep donor liver/venous |  |  |  |  |
47147 | C |  | Prep donor liver/arterial |  |  |  |  |
47300 | C |  | Surgery for liver lesion |  |  |  |  |
47350 | C |  | Repair liver wound |  |  |  |  |
47360 | C |  | Repair liver wound |  |  |  |  |
47361 | C |  | Repair liver wound |  |  |  |  |
47362 | C |  | Repair liver wound |  |  |  |  |
47370 | T |  | Laparo ablate liver tumor rf | 0131 | 43.1426 | $2,560.51 | $1,001.89 | $512.10
47371 | T |  | Laparo ablate liver cryosurg | 0131 | 43.1426 | $2,560.51 | $1,001.89 | $512.10
47379 | T |  | Laparoscope procedure, liver | 0130 | 31.7825 | $1,886.29 | $659.53 | $377.26
47380 | C |  | Open ablate liver tumor rf |  |  |  |  |
47381 | C |  | Open ablate liver tumor cryo |  |  |  |  |
47382 | T |  | Percut ablate liver rf | 0423 | 40.1041 | $2,380.18 |  | $476.04
47399 | T |  | Liver surgery procedure | 0002 | 0.9515 | $56.47 |  | $11.29
47400 | C |  | Incision of liver duct |  |  |  |  |
47420 | C |  | Incision of bile duct |  |  |  |  |
47425 | C |  | Incision of bile duct |  |  |  |  |
47460 | C |  | Incise bile duct sphincter |  |  |  |  |
47480 | C |  | Incision of gallbladder |  |  |  |  |
47490 | T |  | Incision of gallbladder | 0152 | 12.2277 | $725.71 |  | $145.14
47500 | N |  | Injection for liver x-rays |  |  |  |  |
47505 | N |  | Injection for liver x-rays |  |  |  |  |
47510 | T |  | Insert catheter, bile duct | 0152 | 12.2277 | $725.71 |  | $145.14
47511 | T |  | Insert bile duct drain | 0152 | 12.2277 | $725.71 |  | $145.14
47525 | T |  | Change bile duct catheter | 0427 | 10.1516 | $602.50 | $123.56 | $120.50
47530 | T |  | Revise/reinsert bile tube | 0427 | 10.1516 | $602.50 | $123.56 | $120.50
47550 | C |  | Bile duct endoscopy add-on |  |  |  |  |
47552 | T |  | Biliary endoscopy thru skin | 0152 | 12.2277 | $725.71 |  | $145.14
47553 | T |  | Biliary endoscopy thru skin | 0152 | 12.2277 | $725.71 |  | $145.14
47554 | T |  | Biliary endoscopy thru skin | 0152 | 12.2277 | $725.71 |  | $145.14
47555 | T |  | Biliary endoscopy thru skin | 0152 | 12.2277 | $725.71 |  | $145.14
47556 | T |  | Biliary endoscopy thru skin | 0152 | 12.2277 | $725.71 |  | $145.14
47560 | T |  | Laparoscopy w/cholangio | 0130 | 31.7825 | $1,886.29 | $659.53 | $377.26
47561 | T |  | Laparo w/cholangio/biopsy | 0130 | 31.7825 | $1,886.29 | $659.53 | $377.26
47562 | T |  | Laparoscopic cholecystectomy | 0131 | 43.1426 | $2,560.51 | $1,001.89 | $512.10
47563 | T |  | Laparo cholecystectomy/graph | 0131 | 43.1426 | $2,560.51 | $1,001.89 | $512.10
47564 | T |  | Laparo cholecystectomy/explr | 0131 | 43.1426 | $2,560.51 | $1,001.89 | $512.10
47570 | C |  | Laparo cholecystoenterostomy |  |  |  |  |
47579 | T |  | Laparoscope proc, biliary | 0130 | 31.7825 | $1,886.29 | $659.53 | $377.26
47600 | C |  | Removal of gallbladder |  |  |  |  |
47605 | C |  | Removal of gallbladder |  |  |  |  |
47610 | C |  | Removal of gallbladder |  |  |  |  |
47612 | C |  | Removal of gallbladder |  |  |  |  |
47620 | C |  | Removal of gallbladder |  |  |  |  |
47630 | T |  | Remove bile duct stone | 0152 | 12.2277 | $725.71 |  | $145.14
47700 | C |  | Exploration of bile ducts |  |  |  |  |
47701 | C |  | Bile duct revision |  |  |  |  |
47711 | C |  | Excision of bile duct tumor |  |  |  |  |
47712 | C |  | Excision of bile duct tumor |  |  |  |  |
47715 | C |  | Excision of bile duct cyst |  |  |  |  |
47716 | C |  | Fusion of bile duct cyst |  |  |  |  |
47720 | C |  | Fuse gallbladder & bowel |  |  |  |  |
47721 | C |  | Fuse upper gi structures |  |  |  |  |
47740 | C |  | Fuse gallbladder & bowel |  |  |  |  |
47741 | C |  | Fuse gallbladder & bowel |  |  |  |  |
47760 | C |  | Fuse bile ducts and bowel |  |  |  |  |
47765 | C |  | Fuse liver ducts & bowel |  |  |  |  |
47780 | C |  | Fuse bile ducts and bowel |  |  |  |  |
47785 | C |  | Fuse bile ducts and bowel |  |  |  |  |
47800 | C |  | Reconstruction of bile ducts |  |  |  |  |
47801 | C |  | Placement, bile duct support |  |  |  |  |
47802 | C |  | Fuse liver duct & intestine |  |  |  |  |
47900 | C |  | Suture bile duct injury |  |  |  |  |
47999 | T |  | Bile tract surgery procedure | 0152 | 12.2277 | $725.71 |  | $145.14
48000 | C |  | Drainage of abdomen |  |  |  |  |
48001 | C |  | Placement of drain, pancreas |  |  |  |  |
48005 | C |  | Resect/debride pancreas |  |  |  |  |
48020 | C |  | Removal of pancreatic stone |  |  |  |  |
48100 | C |  | Biopsy of pancreas, open |  |  |  |  |
48102 | T |  | Needle biopsy, pancreas | 0685 | 5.9902 | $355.52 | $115.47 | $71.10
48120 | C |  | Removal of pancreas lesion |  |  |  |  |
48140 | C |  | Partial removal of pancreas |  |  |  |  |
48145 | C |  | Partial removal of pancreas |  |  |  |  |
48146 | C |  | Pancreatectomy |  |  |  |  |
48148 | C |  | Removal of pancreatic duct |  |  |  |  |
48150 | C |  | Partial removal of pancreas |  |  |  |  |
48152 | C |  | Pancreatectomy |  |  |  |  |
48153 | C |  | Pancreatectomy |  |  |  |  |
48154 | C |  | Pancreatectomy |  |  |  |  |
48155 | C |  | Removal of pancreas |  |  |  |  |
48160 | E |  | Pancreas removal/transplant |  |  |  |  |
48180 | C |  | Fuse pancreas and bowel |  |  |  |  |
48400 | C |  | Injection, intraop add-on |  |  |  |  |
48500 | C |  | Surgery of pancreatic cyst |  |  |  |  |
48510 | C |  | Drain pancreatic pseudocyst |  |  |  |  |
48511 | T |  | Drain pancreatic pseudocyst | 0037 | 9.4322 | $559.80 | $223.91 | $111.96
48520 | C |  | Fuse pancreas cyst and bowel |  |  |  |  |
48540 | C |  | Fuse pancreas cyst and bowel |  |  |  |  |
48545 | C |  | Pancreatorrhaphy |  |  |  |  |
48547 | C |  | Duodenal exclusion |  |  |  |  |
48550 | E |  | Donor pancreatectomy |  |  |  |  |
48551 | C |  | Prep donor pancreas |  |  |  |  |
48552 | C |  | Prep donor pancreas/venous |  |  |  |  |
48554 | E |  | Transpl allograft pancreas |  |  |  |  |
48556 | C |  | Removal, allograft pancreas |  |  |  |  |
48999 | T |  | Pancreas surgery procedure | 0004 | 1.7566 | $104.25 | $22.36 | $20.85
49000 | C |  | Exploration of abdomen |  |  |  |  |
49002 | C |  | Reopening of abdomen |  |  |  |  |
49010 | C |  | Exploration behind abdomen |  |  |  |  |
49020 | C |  | Drain abdominal abscess |  |  |  |  |
49021 | T |  | Drain abdominal abscess | 0037 | 9.4322 | $559.80 | $223.91 | $111.96
49040 | C |  | Drain, open, abdom abscess |  |  |  |  |
49041 | T |  | Drain, percut, abdom abscess | 0037 | 9.4322 | $559.80 | $223.91 | $111.96
49060 | C |  | Drain, open, retrop abscess |  |  |  |  |
49061 | T |  | Drain, percut, retroper absc | 0037 | 9.4322 | $559.80 | $223.91 | $111.96
49062 | C |  | Drain to peritoneal cavity |  |  |  |  |
49080 | T |  | Puncture, peritoneal cavity | 0070 | 3.1956 | $189.66 |  | $37.93
49081 | T |  | Removal of abdominal fluid | 0070 | 3.1956 | $189.66 |  | $37.93
49085 | T |  | Remove abdomen foreign body | 0153 | 21.5979 | $1,281.84 | $381.07 | $256.37
49180 | T |  | Biopsy, abdominal mass | 0685 | 5.9902 | $355.52 | $115.47 | $71.10
49200 | T |  | Removal of abdominal lesion | 0130 | 31.7825 | $1,886.29 | $659.53 | $377.26
49201 | C |  | Remove abdom lesion, complex |  |  |  |  |
49215 | C |  | Excise sacral spine tumor |  |  |  |  |
49220 | C |  | Multiple surgery, abdomen |  |  |  |  |
49250 | T |  | Excision of umbilicus | 0153 | 21.5979 | $1,281.84 | $381.07 | $256.37
49255 | C |  | Removal of omentum |  |  |  |  |
49320 | T |  | Diag laparo separate proc | 0130 | 31.7825 | $1,886.29 | $659.53 | $377.26
49321 | T |  | Laparoscopy, biopsy | 0130 | 31.7825 | $1,886.29 | $659.53 | $377.26
49322 | T |  | Laparoscopy, aspiration | 0130 | 31.7825 | $1,886.29 | $659.53 | $377.26
49323 | T |  | Laparo drain lymphocele | 0130 | 31.7825 | $1,886.29 | $659.53 | $377.26
49329 | T |  | Laparo proc, abdm/per/oment | 0130 | 31.7825 | $1,886.29 | $659.53 | $377.26
49400 | N |  | Air injection into abdomen |  |  |  |  |
49419 | T |  | Insrt abdom cath for chemotx | 0115 | 31.3302 | $1,859.45 | $459.35 | $371.89
49420 | T |  | Insert abdom drain, temp | 0652 | 28.7639 | $1,707.14 |  | $341.43
49421 | T |  | Insert abdom drain, perm | 0652 | 28.7639 | $1,707.14 |  | $341.43
49422 | T |  | Remove perm cannula/catheter | 0105 | 22.2671 | $1,321.55 | $370.40 | $264.31
49423 | T |  | Exchange drainage catheter | 0152 | 12.2277 | $725.71 |  | $145.14
49424 | N |  | Assess cyst, contrast inject |  |  |  |  |
49425 | C |  | Insert abdomen-venous drain |  |  |  |  |
49426 | T |  | Revise abdomen-venous shunt | 0153 | 21.5979 | $1,281.84 | $381.07 | $256.37
49427 | N |  | Injection, abdominal shunt |  |  |  |  |
49428 | C |  | Ligation of shunt |  |  |  |  |
49429 | T |  | Removal of shunt | 0105 | 22.2671 | $1,321.55 | $370.40 | $264.31
49491 | T |  | Rpr hern preemie reduc | 0154 | 28.6544 | $1,700.64 | $464.85 | $340.13
49492 | T |  | Rpr ing hern premie, blocked | 0154 | 28.6544 | $1,700.64 | $464.85 | $340.13
49495 | T |  | Rpr ing hernia baby, reduc | 0154 | 28.6544 | $1,700.64 | $464.85 | $340.13
49496 | T |  | Rpr ing hernia baby, blocked | 0154 | 28.6544 | $1,700.64 | $464.85 | $340.13
49500 | T |  | Rpr ing hernia, init, reduce | 0154 | 28.6544 | $1,700.64 | $464.85 | $340.13
49501 | T |  | Rpr ing hernia, init blocked | 0154 | 28.6544 | $1,700.64 | $464.85 | $340.13
49505 | T |  | Prp i/hern init reduc>5 yr | 0154 | 28.6544 | $1,700.64 | $464.85 | $340.13
49507 | T |  | Prp i/hern init block>5 yr | 0154 | 28.6544 | $1,700.64 | $464.85 | $340.13
49520 | T |  | Rerepair ing hernia, reduce | 0154 | 28.6544 | $1,700.64 | $464.85 | $340.13
49521 | T |  | Rerepair ing hernia, blocked | 0154 | 28.6544 | $1,700.64 | $464.85 | $340.13
49525 | T |  | Repair ing hernia, sliding | 0154 | 28.6544 | $1,700.64 | $464.85 | $340.13
49540 | T |  | Repair lumbar hernia | 0154 | 28.6544 | $1,700.64 | $464.85 | $340.13
49550 | T |  | Rpr rem hernia, init, reduce | 0154 | 28.6544 | $1,700.64 | $464.85 | $340.13
49553 | T |  | Rpr fem hernia, init blocked | 0154 | 28.6544 | $1,700.64 | $464.85 | $340.13
49555 | T |  | Rerepair fem hernia, reduce | 0154 | 28.6544 | $1,700.64 | $464.85 | $340.13
49557 | T |  | Rerepair fem hernia, blocked | 0154 | 28.6544 | $1,700.64 | $464.85 | $340.13
49560 | T |  | Rpr ventral hern init, reduc | 0154 | 28.6544 | $1,700.64 | $464.85 | $340.13
49561 | T |  | Rpr ventral hern init, block | 0154 | 28.6544 | $1,700.64 | $464.85 | $340.13
49565 | T |  | Rerepair ventrl hern, reduce | 0154 | 28.6544 | $1,700.64 | $464.85 | $340.13
49566 | T |  | Rerepair ventrl hern, block | 0154 | 28.6544 | $1,700.64 | $464.85 | $340.13
49568 | T |  | Hernia repair w/mesh | 0154 | 28.6544 | $1,700.64 | $464.85 | $340.13
49570 | T |  | Rpr epigastric hern, reduce | 0154 | 28.6544 | $1,700.64 | $464.85 | $340.13
49572 | T |  | Rpr epigastric hern, blocked | 0154 | 28.6544 | $1,700.64 | $464.85 | $340.13
49580 | T |  | Rpr umbil hern, reduc < 5 yr | 0154 | 28.6544 | $1,700.64 | $464.85 | $340.13
49582 | T |  | Rpr umbil hern, block < 5 yr | 0154 | 28.6544 | $1,700.64 | $464.85 | $340.13
49585 | T |  | Rpr umbil hern, reduc > 5 yr | 0154 | 28.6544 | $1,700.64 | $464.85 | $340.13
49587 | T |  | Rpr umbil hern, block > 5 yr | 0154 | 28.6544 | $1,700.64 | $464.85 | $340.13
49590 | T |  | Repair spigilian hernia | 0154 | 28.6544 | $1,700.64 | $464.85 | $340.13
49600 | T |  | Repair umbilical lesion | 0154 | 28.6544 | $1,700.64 | $464.85 | $340.13
49605 | C |  | Repair umbilical lesion |  |  |  |  |
49606 | C |  | Repair umbilical lesion |  |  |  |  |
49610 | C |  | Repair umbilical lesion |  |  |  |  |
49611 | C |  | Repair umbilical lesion |  |  |  |  |
49650 | T |  | Laparo hernia repair initial | 0131 | 43.1426 | $2,560.51 | $1,001.89 | $512.10
49651 | T |  | Laparo hernia repair recur | 0131 | 43.1426 | $2,560.51 | $1,001.89 | $512.10
49659 | T |  | Laparo proc, hernia repair | 0130 | 31.7825 | $1,886.29 | $659.53 | $377.26
49900 | C |  | Repair of abdominal wall |  |  |  |  |
49904 | C |  | Omental flap, extra-abdom |  |  |  |  |
49905 | C |  | Omental flap |  |  |  |  |
49906 | C |  | Free omental flap, microvasc |  |  |  |  |
49999 | T |  | Abdomen surgery procedure | 0153 | 21.5979 | $1,281.84 | $381.07 | $256.37
50010 | C |  | Exploration of kidney |  |  |  |  |
50020 | T |  | Renal abscess, open drain | 0162 | 23.2858 | $1,382.01 |  | $276.40
50021 | T |  | Renal abscess, percut drain | 0037 | 9.4322 | $559.80 | $223.91 | $111.96
50040 | C |  | Drainage of kidney |  |  |  |  |
50045 | C |  | Exploration of kidney |  |  |  |  |
50060 | C |  | Removal of kidney stone |  |  |  |  |
50065 | C |  | Incision of kidney |  |  |  |  |
50070 | C |  | Incision of kidney |  |  |  |  |
50075 | C |  | Removal of kidney stone |  |  |  |  |
50080 | T |  | Removal of kidney stone | 0429 | 42.1231 | $2,500.01 |  | $500.00
50081 | T |  | Removal of kidney stone | 0429 | 42.1231 | $2,500.01 |  | $500.00
50100 | C |  | Revise kidney blood vessels |  |  |  |  |
50120 | C |  | Exploration of kidney |  |  |  |  |
50125 | C |  | Explore and drain kidney |  |  |  |  |
50130 | C |  | Removal of kidney stone |  |  |  |  |
50135 | C |  | Exploration of kidney |  |  |  |  |
50200 | T |  | Biopsy of kidney | 0685 | 5.9902 | $355.52 | $115.47 | $71.10
50205 | C |  | Biopsy of kidney |  |  |  |  |
50220 | C |  | Remove kidney, open |  |  |  |  |
50225 | C |  | Removal kidney open, complex |  |  |  |  |
50230 | C |  | Removal kidney open, radical |  |  |  |  |
50234 | C |  | Removal of kidney & ureter |  |  |  |  |
50236 | C |  | Removal of kidney & ureter |  |  |  |  |
50240 | C |  | Partial removal of kidney |  |  |  |  |
50280 | C |  | Removal of kidney lesion |  |  |  |  |
50290 | C |  | Removal of kidney lesion |  |  |  |  |
50300 | C |  | Removal of donor kidney |  |  |  |  |
50320 | C |  | Removal of donor kidney |  |  |  |  |
50323 | C |  | Prep cadaver renal allograft |  |  |  |  |
50325 | C |  | Prep donor renal graft |  |  |  |  |
50327 | C |  | Prep renal graft/venous |  |  |  |  |
50328 | C |  | Prep renal graft/arterial |  |  |  |  |
50329 | C |  | Prep renal graft/ureteral |  |  |  |  |
50340 | C |  | Removal of kidney |  |  |  |  |
50360 | C |  | Transplantation of kidney |  |  |  |  |
50365 | C |  | Transplantation of kidney |  |  |  |  |
50370 | C |  | Remove transplanted kidney |  |  |  |  |
50380 | C |  | Reimplantation of kidney |  |  |  |  |
50390 | T |  | Drainage of kidney lesion | 0685 | 5.9902 | $355.52 | $115.47 | $71.10
50391 | T |  | Instll rx agnt into rnal tub | 0156 | 2.5635 | $152.14 | $40.52 | $30.43
50392 | T |  | Insert kidney drain | 0161 | 18.4736 | $1,096.41 | $249.36 | $219.28
50393 | T |  | Insert ureteral tube | 0161 | 18.4736 | $1,096.41 | $249.36 | $219.28
50394 | N |  | Injection for kidney x-ray |  |  |  |  |
50395 | T |  | Create passage to kidney | 0161 | 18.4736 | $1,096.41 | $249.36 | $219.28
50396 | T |  | Measure kidney pressure | 0164 | 1.1802 | $70.04 | $17.21 | $14.01
50398 | T |  | Change kidney tube | 0122 | 6.9405 | $411.92 | $84.48 | $82.38
50400 | C |  | Revision of kidney/ureter |  |  |  |  |
50405 | C |  | Revision of kidney/ureter |  |  |  |  |
50500 | C |  | Repair of kidney wound |  |  |  |  |
50520 | C |  | Close kidney-skin fistula |  |  |  |  |
50525 | C |  | Repair renal-abdomen fistula |  |  |  |  |
50526 | C |  | Repair renal-abdomen fistula |  |  |  |  |
50540 | C |  | Revision of horseshoe kidney |  |  |  |  |
50541 | T |  | Laparo ablate renal cyst | 0130 | 31.7825 | $1,886.29 | $659.53 | $377.26
50542 | T |  | Laparo ablate renal mass | 0131 | 43.1426 | $2,560.51 | $1,001.89 | $512.10
50543 | T |  | Laparo partial nephrectomy | 0131 | 43.1426 | $2,560.51 | $1,001.89 | $512.10
50544 | T |  | Laparoscopy, pyeloplasty | 0130 | 31.7825 | $1,886.29 | $659.53 | $377.26
50545 | C |  | Laparo radical nephrectomy |  |  |  |  |
50546 | C |  | Laparoscopic nephrectomy |  |  |  |  |
50547 | C |  | Laparo removal donor kidney |  |  |  |  |
50548 | C |  | Laparo remove w/ ureter |  |  |  |  |
50549 | T |  | Laparoscope proc, renal | 0130 | 31.7825 | $1,886.29 | $659.53 | $377.26
50551 | T |  | Kidney endoscopy | 0160 | 6.6450 | $394.38 | $105.06 | $78.88
50553 | T |  | Kidney endoscopy | 0161 | 18.4736 | $1,096.41 | $249.36 | $219.28
50555 | T |  | Kidney endoscopy & biopsy | 0160 | 6.6450 | $394.38 | $105.06 | $78.88
50557 | T |  | Kidney endoscopy & treatment | 0162 | 23.2858 | $1,382.01 |  | $276.40
50561 | T |  | Kidney endoscopy & treatment | 0161 | 18.4736 | $1,096.41 | $249.36 | $219.28
50562 | T |  | Renal scope w/tumor resect | 0160 | 6.6450 | $394.38 | $105.06 | $78.88
50570 | T |  | Kidney endoscopy | 0160 | 6.6450 | $394.38 | $105.06 | $78.88
50572 | T |  | Kidney endoscopy | 0160 | 6.6450 | $394.38 | $105.06 | $78.88
50574 | T |  | Kidney endoscopy & biopsy | 0160 | 6.6450 | $394.38 | $105.06 | $78.88
50575 | T |  | Kidney endoscopy | 0163 | 33.5826 | $1,993.13 |  | $398.63
50576 | T |  | Kidney endoscopy & treatment | 0161 | 18.4736 | $1,096.41 | $249.36 | $219.28
50580 | C |  | Kidney endoscopy & treatment |  |  |  |  |
50590 | T |  | Fragmenting of kidney stone | 0169 | 42.8184 | $2,541.27 | $1,016.50 | $508.25
50600 | C |  | Exploration of ureter |  |  |  |  |
50605 | C |  | Insert ureteral support |  |  |  |  |
50610 | C |  | Removal of ureter stone |  |  |  |  |
50620 | C |  | Removal of ureter stone |  |  |  |  |
50630 | C |  | Removal of ureter stone |  |  |  |  |
50650 | C |  | Removal of ureter |  |  |  |  |
50660 | C |  | Removal of ureter |  |  |  |  |
50684 | N |  | Injection for ureter x-ray |  |  |  |  |
50686 | T |  | Measure ureter pressure | 0164 | 1.1802 | $70.04 | $17.21 | $14.01
50688 | T |  | Change of ureter tube | 0122 | 6.9405 | $411.92 | $84.48 | $82.38
50690 | N |  | Injection for ureter x-ray |  |  |  |  |
50700 | C |  | Revision of ureter |  |  |  |  |
50715 | C |  | Release of ureter |  |  |  |  |
50722 | C |  | Release of ureter |  |  |  |  |
50725 | C |  | Release/revise ureter |  |  |  |  |
50727 | C |  | Revise ureter |  |  |  |  |
50728 | C |  | Revise ureter |  |  |  |  |
50740 | C |  | Fusion of ureter & kidney |  |  |  |  |
50750 | C |  | Fusion of ureter & kidney |  |  |  |  |
50760 | C |  | Fusion of ureters |  |  |  |  |
50770 | C |  | Splicing of ureters |  |  |  |  |
50780 | C |  | Reimplant ureter in bladder |  |  |  |  |
50782 | C |  | Reimplant ureter in bladder |  |  |  |  |
50783 | C |  | Reimplant ureter in bladder |  |  |  |  |
50785 | C |  | Reimplant ureter in bladder |  |  |  |  |
50800 | C |  | Implant ureter in bowel |  |  |  |  |
50810 | C |  | Fusion of ureter & bowel |  |  |  |  |
50815 | C |  | Urine shunt to intestine |  |  |  |  |
50820 | C |  | Construct bowel bladder |  |  |  |  |
50825 | C |  | Construct bowel bladder |  |  |  |  |
50830 | C |  | Revise urine flow |  |  |  |  |
50840 | C |  | Replace ureter by bowel |  |  |  |  |
50845 | C |  | Appendico-vesicostomy |  |  |  |  |
50860 | C |  | Transplant ureter to skin |  |  |  |  |
50900 | C |  | Repair of ureter |  |  |  |  |
50920 | C |  | Closure ureter/skin fistula |  |  |  |  |
50930 | C |  | Closure ureter/bowel fistula |  |  |  |  |
50940 | C |  | Release of ureter |  |  |  |  |
50945 | T |  | Laparoscopy ureterolithotomy | 0131 | 43.1426 | $2,560.51 | $1,001.89 | $512.10
50947 | T |  | Laparo new ureter/bladder | 0131 | 43.1426 | $2,560.51 | $1,001.89 | $512.10
50948 | T |  | Laparo new ureter/bladder | 0131 | 43.1426 | $2,560.51 | $1,001.89 | $512.10
50949 | T |  | Laparoscope proc, ureter | 0130 | 31.7825 | $1,886.29 | $659.53 | $377.26
50951 | T |  | Endoscopy of ureter | 0160 | 6.6450 | $394.38 | $105.06 | $78.88
50953 | T |  | Endoscopy of ureter | 0160 | 6.6450 | $394.38 | $105.06 | $78.88
50955 | T |  | Ureter endoscopy & biopsy | 0161 | 18.4736 | $1,096.41 | $249.36 | $219.28
50957 | T |  | Ureter endoscopy & treatment | 0161 | 18.4736 | $1,096.41 | $249.36 | $219.28
50961 | T |  | Ureter endoscopy & treatment | 0161 | 18.4736 | $1,096.41 | $249.36 | $219.28
50970 | T |  | Ureter endoscopy | 0160 | 6.6450 | $394.38 | $105.06 | $78.88
50972 | T |  | Ureter endoscopy & catheter | 0160 | 6.6450 | $394.38 | $105.06 | $78.88
50974 | T |  | Ureter endoscopy & biopsy | 0161 | 18.4736 | $1,096.41 | $249.36 | $219.28
50976 | T |  | Ureter endoscopy & treatment | 0161 | 18.4736 | $1,096.41 | $249.36 | $219.28
50980 | T |  | Ureter endoscopy & treatment | 0161 | 18.4736 | $1,096.41 | $249.36 | $219.28
51000 | T |  | Drainage of bladder | 0164 | 1.1802 | $70.04 | $17.21 | $14.01
51005 | T |  | Drainage of bladder | 0164 | 1.1802 | $70.04 | $17.21 | $14.01
51010 | T |  | Drainage of bladder | 0165 | 16.5934 | $984.82 |  | $196.96
51020 | T |  | Incise & treat bladder | 0162 | 23.2858 | $1,382.01 |  | $276.40
51030 | T |  | Incise & treat bladder | 0162 | 23.2858 | $1,382.01 |  | $276.40
51040 | T |  | Incise & drain bladder | 0162 | 23.2858 | $1,382.01 |  | $276.40
51045 | T |  | Incise bladder/drain ureter | 0160 | 6.6450 | $394.38 | $105.06 | $78.88
51050 | T |  | Removal of bladder stone | 0162 | 23.2858 | $1,382.01 |  | $276.40
51060 | C |  | Removal of ureter stone |  |  |  |  |
51065 | T |  | Remove ureter calculus | 0162 | 23.2858 | $1,382.01 |  | $276.40
51080 | T |  | Drainage of bladder abscess | 0008 | 16.4242 | $974.78 |  | $194.96
51500 | T |  | Removal of bladder cyst | 0154 | 28.6544 | $1,700.64 | $464.85 | $340.13
51520 | T |  | Removal of bladder lesion | 0162 | 23.2858 | $1,382.01 |  | $276.40
51525 | C |  | Removal of bladder lesion |  |  |  |  |
51530 | C |  | Removal of bladder lesion |  |  |  |  |
51535 | C |  | Repair of ureter lesion |  |  |  |  |
51550 | C |  | Partial removal of bladder |  |  |  |  |
51555 | C |  | Partial removal of bladder |  |  |  |  |
51565 | C |  | Revise bladder & ureter(s) |  |  |  |  |
51570 | C |  | Removal of bladder |  |  |  |  |
51575 | C |  | Removal of bladder & nodes |  |  |  |  |
51580 | C |  | Remove bladder/revise tract |  |  |  |  |
51585 | C |  | Removal of bladder & nodes |  |  |  |  |
51590 | C |  | Remove bladder/revise tract |  |  |  |  |
51595 | C |  | Remove bladder/revise tract |  |  |  |  |
51596 | C |  | Remove bladder/create pouch |  |  |  |  |
51597 | C |  | Removal of pelvic structures |  |  |  |  |
51600 | N |  | Injection for bladder x-ray |  |  |  |  |
51605 | N |  | Preparation for bladder xray |  |  |  |  |
51610 | N |  | Injection for bladder x-ray |  |  |  |  |
51700 | T |  | Irrigation of bladder | 0164 | 1.1802 | $70.04 | $17.21 | $14.01
51701 | X |  | Insert bladder catheter | 0340 | 0.6355 | $37.72 |  | $7.54
51702 | X |  | Insert temp bladder cath | 0340 | 0.6355 | $37.72 |  | $7.54
51703 | T |  | Insert bladder cath, complex | 0164 | 1.1802 | $70.04 | $17.21 | $14.01
51705 | T |  | Change of bladder tube | 0121 | 2.2663 | $134.50 | $43.80 | $26.90
51710 | T |  | Change of bladder tube | 0122 | 6.9405 | $411.92 | $84.48 | $82.38
51715 | T |  | Endoscopic injection/implant | 0168 | 28.1405 | $1,670.14 | $386.32 | $334.03
51720 | T |  | Treatment of bladder lesion | 0156 | 2.5635 | $152.14 | $40.52 | $30.43
51725 | T |  | Simple cystometrogram | 0156 | 2.5635 | $152.14 | $40.52 | $30.43
51726 | T |  | Complex cystometrogram | 0156 | 2.5635 | $152.14 | $40.52 | $30.43
51736 | T |  | Urine flow measurement | 0164 | 1.1802 | $70.04 | $17.21 | $14.01
51741 | T |  | Electro-uroflowmetry, first | 0164 | 1.1802 | $70.04 | $17.21 | $14.01
51772 | T |  | Urethra pressure profile | 0156 | 2.5635 | $152.14 | $40.52 | $30.43
51784 | T |  | Anal/urinary muscle study | 0164 | 1.1802 | $70.04 | $17.21 | $14.01
51785 | T |  | Anal/urinary muscle study | 0164 | 1.1802 | $70.04 | $17.21 | $14.01
51792 | T |  | Urinary reflex study | 0164 | 1.1802 | $70.04 | $17.21 | $14.01
51795 | T |  | Urine voiding pressure study | 0164 | 1.1802 | $70.04 | $17.21 | $14.01
51797 | T |  | Intraabdominal pressure test | 0164 | 1.1802 | $70.04 | $17.21 | $14.01
51798 | X |  | Us urine capacity measure | 0340 | 0.6355 | $37.72 |  | $7.54
51800 | C |  | Revision of bladder/urethra |  |  |  |  |
51820 | C |  | Revision of urinary tract |  |  |  |  |
51840 | C |  | Attach bladder/urethra |  |  |  |  |
51841 | C |  | Attach bladder/urethra |  |  |  |  |
51845 | C |  | Repair bladder neck |  |  |  |  |
51860 | C |  | Repair of bladder wound |  |  |  |  |
51865 | C |  | Repair of bladder wound |  |  |  |  |
51880 | T |  | Repair of bladder opening | 0162 | 23.2858 | $1,382.01 |  | $276.40
51900 | C |  | Repair bladder/vagina lesion |  |  |  |  |
51920 | C |  | Close bladder-uterus fistula |  |  |  |  |
51925 | C |  | Hysterectomy/bladder repair |  |  |  |  |
51940 | C |  | Correction of bladder defect |  |  |  |  |
51960 | C |  | Revision of bladder & bowel |  |  |  |  |
51980 | C |  | Construct bladder opening |  |  |  |  |
51990 | T |  | Laparo urethral suspension | 0131 | 43.1426 | $2,560.51 | $1,001.89 | $512.10
51992 | T |  | Laparo sling operation | 0132 | 62.7061 | $3,721.61 | $1,239.22 | $744.32
52000 | T |  | Cystoscopy | 0160 | 6.6450 | $394.38 | $105.06 | $78.88
52001 | T |  | Cystoscopy, removal of clots | 0160 | 6.6450 | $394.38 | $105.06 | $78.88
52005 | T |  | Cystoscopy & ureter catheter | 0161 | 18.4736 | $1,096.41 | $249.36 | $219.28
52007 | T |  | Cystoscopy and biopsy | 0161 | 18.4736 | $1,096.41 | $249.36 | $219.28
52010 | T |  | Cystoscopy & duct catheter | 0160 | 6.6450 | $394.38 | $105.06 | $78.88
52204 | T |  | Cystoscopy | 0161 | 18.4736 | $1,096.41 | $249.36 | $219.28
52214 | T |  | Cystoscopy and treatment | 0162 | 23.2858 | $1,382.01 |  | $276.40
52224 | T |  | Cystoscopy and treatment | 0162 | 23.2858 | $1,382.01 |  | $276.40
52234 | T |  | Cystoscopy and treatment | 0162 | 23.2858 | $1,382.01 |  | $276.40
52235 | T |  | Cystoscopy and treatment | 0162 | 23.2858 | $1,382.01 |  | $276.40
52240 | T |  | Cystoscopy and treatment | 0162 | 23.2858 | $1,382.01 |  | $276.40
52250 | T |  | Cystoscopy and radiotracer | 0162 | 23.2858 | $1,382.01 |  | $276.40
52260 | T |  | Cystoscopy and treatment | 0161 | 18.4736 | $1,096.41 | $249.36 | $219.28
52265 | T |  | Cystoscopy and treatment | 0160 | 6.6450 | $394.38 | $105.06 | $78.88
52270 | T |  | Cystoscopy & revise urethra | 0161 | 18.4736 | $1,096.41 | $249.36 | $219.28
52275 | T |  | Cystoscopy & revise urethra | 0161 | 18.4736 | $1,096.41 | $249.36 | $219.28
52276 | T |  | Cystoscopy and treatment | 0161 | 18.4736 | $1,096.41 | $249.36 | $219.28
52277 | T |  | Cystoscopy and treatment | 0162 | 23.2858 | $1,382.01 |  | $276.40
52281 | T |  | Cystoscopy and treatment | 0161 | 18.4736 | $1,096.41 | $249.36 | $219.28
52282 | T |  | Cystoscopy, implant stent | 0163 | 33.5826 | $1,993.13 |  | $398.63
52283 | T |  | Cystoscopy and treatment | 0161 | 18.4736 | $1,096.41 | $249.36 | $219.28
52285 | T |  | Cystoscopy and treatment | 0161 | 18.4736 | $1,096.41 | $249.36 | $219.28
52290 | T |  | Cystoscopy and treatment | 0161 | 18.4736 | $1,096.41 | $249.36 | $219.28
52300 | T |  | Cystoscopy and treatment | 0161 | 18.4736 | $1,096.41 | $249.36 | $219.28
52301 | T |  | Cystoscopy and treatment | 0161 | 18.4736 | $1,096.41 | $249.36 | $219.28
52305 | T |  | Cystoscopy and treatment | 0161 | 18.4736 | $1,096.41 | $249.36 | $219.28
52310 | T |  | Cystoscopy and treatment | 0160 | 6.6450 | $394.38 | $105.06 | $78.88
52315 | T |  | Cystoscopy and treatment | 0161 | 18.4736 | $1,096.41 | $249.36 | $219.28
52317 | T |  | Remove bladder stone | 0162 | 23.2858 | $1,382.01 |  | $276.40
52318 | T |  | Remove bladder stone | 0162 | 23.2858 | $1,382.01 |  | $276.40
52320 | T |  | Cystoscopy and treatment | 0162 | 23.2858 | $1,382.01 |  | $276.40
52325 | T |  | Cystoscopy, stone removal | 0162 | 23.2858 | $1,382.01 |  | $276.40
52327 | T |  | Cystoscopy, inject material | 0162 | 23.2858 | $1,382.01 |  | $276.40
52330 | T |  | Cystoscopy and treatment | 0162 | 23.2858 | $1,382.01 |  | $276.40
52332 | T |  | Cystoscopy and treatment | 0162 | 23.2858 | $1,382.01 |  | $276.40
52334 | T |  | Create passage to kidney | 0162 | 23.2858 | $1,382.01 |  | $276.40
52341 | T |  | Cysto w/ureter stricture tx | 0162 | 23.2858 | $1,382.01 |  | $276.40
52342 | T |  | Cysto w/up stricture tx | 0162 | 23.2858 | $1,382.01 |  | $276.40
52343 | T |  | Cysto w/renal stricture tx | 0162 | 23.2858 | $1,382.01 |  | $276.40
52344 | T |  | Cysto/uretero, stone remove | 0162 | 23.2858 | $1,382.01 |  | $276.40
52345 | T |  | Cysto/uretero w/up stricture | 0162 | 23.2858 | $1,382.01 |  | $276.40
52346 | T |  | Cystouretero w/renal strict | 0162 | 23.2858 | $1,382.01 |  | $276.40
52351 | T |  | Cystouretero & or pyeloscope | 0161 | 18.4736 | $1,096.41 | $249.36 | $219.28
52352 | T |  | Cystouretero w/stone remove | 0162 | 23.2858 | $1,382.01 |  | $276.40
52353 | T |  | Cystouretero w/lithotripsy | 0163 | 33.5826 | $1,993.13 |  | $398.63
52354 | T |  | Cystouretero w/biopsy | 0162 | 23.2858 | $1,382.01 |  | $276.40
52355 | T |  | Cystouretero w/excise tumor | 0162 | 23.2858 | $1,382.01 |  | $276.40
52400 | T |  | Cystouretero w/congen repr | 0162 | 23.2858 | $1,382.01 |  | $276.40
52402 | T |  | Cystourethro cut ejacul duct | 0162 | 23.2858 | $1,382.01 |  | $276.40
52450 | T |  | Incision of prostate | 0162 | 23.2858 | $1,382.01 |  | $276.40
52500 | T |  | Revision of bladder neck | 0162 | 23.2858 | $1,382.01 |  | $276.40
52510 | T |  | Dilation prostatic urethra | 0161 | 18.4736 | $1,096.41 | $249.36 | $219.28
52601 | T |  | Prostatectomy (TURP) | 0163 | 33.5826 | $1,993.13 |  | $398.63
52606 | T |  | Control postop bleeding | 0162 | 23.2858 | $1,382.01 |  | $276.40
52612 | T |  | Prostatectomy, first stage | 0163 | 33.5826 | $1,993.13 |  | $398.63
52614 | T |  | Prostatectomy, second stage | 0163 | 33.5826 | $1,993.13 |  | $398.63
52620 | T |  | Remove residual prostate | 0163 | 33.5826 | $1,993.13 |  | $398.63
52630 | T |  | Remove prostate regrowth | 0163 | 33.5826 | $1,993.13 |  | $398.63
52640 | T |  | Relieve bladder contracture | 0162 | 23.2858 | $1,382.01 |  | $276.40
52647 | T |  | Laser surgery of prostate | 0429 | 42.1231 | $2,500.01 |  | $500.00
52648 | T |  | Laser surgery of prostate | 0429 | 42.1231 | $2,500.01 |  | $500.00
52700 | T |  | Drainage of prostate abscess | 0162 | 23.2858 | $1,382.01 |  | $276.40
53000 | T |  | Incision of urethra | 0166 | 17.5942 | $1,044.22 | $218.73 | $208.84
53010 | T |  | Incision of urethra | 0166 | 17.5942 | $1,044.22 | $218.73 | $208.84
53020 | T |  | Incision of urethra | 0166 | 17.5942 | $1,044.22 | $218.73 | $208.84
53025 | T |  | Incision of urethra | 0166 | 17.5942 | $1,044.22 | $218.73 | $208.84
53040 | T |  | Drainage of urethra abscess | 0166 | 17.5942 | $1,044.22 | $218.73 | $208.84
53060 | T |  | Drainage of urethra abscess | 0166 | 17.5942 | $1,044.22 | $218.73 | $208.84
53080 | T |  | Drainage of urinary leakage | 0166 | 17.5942 | $1,044.22 | $218.73 | $208.84
53085 | T |  | Drainage of urinary leakage | 0166 | 17.5942 | $1,044.22 | $218.73 | $208.84
53200 | T |  | Biopsy of urethra | 0166 | 17.5942 | $1,044.22 | $218.73 | $208.84
53210 | T |  | Removal of urethra | 0168 | 28.1405 | $1,670.14 | $386.32 | $334.03
53215 | T |  | Removal of urethra | 0166 | 17.5942 | $1,044.22 | $218.73 | $208.84
53220 | T |  | Treatment of urethra lesion | 0168 | 28.1405 | $1,670.14 | $386.32 | $334.03
53230 | T |  | Removal of urethra lesion | 0168 | 28.1405 | $1,670.14 | $386.32 | $334.03
53235 | T |  | Removal of urethra lesion | 0166 | 17.5942 | $1,044.22 | $218.73 | $208.84
53240 | T |  | Surgery for urethra pouch | 0168 | 28.1405 | $1,670.14 | $386.32 | $334.03
53250 | T |  | Removal of urethra gland | 0166 | 17.5942 | $1,044.22 | $218.73 | $208.84
53260 | T |  | Treatment of urethra lesion | 0166 | 17.5942 | $1,044.22 | $218.73 | $208.84
53265 | T |  | Treatment of urethra lesion | 0166 | 17.5942 | $1,044.22 | $218.73 | $208.84
53270 | T |  | Removal of urethra gland | 0166 | 17.5942 | $1,044.22 | $218.73 | $208.84
53275 | T |  | Repair of urethra defect | 0166 | 17.5942 | $1,044.22 | $218.73 | $208.84
53400 | T |  | Revise urethra, stage 1 | 0168 | 28.1405 | $1,670.14 | $386.32 | $334.03
53405 | T |  | Revise urethra, stage 2 | 0168 | 28.1405 | $1,670.14 | $386.32 | $334.03
53410 | T |  | Reconstruction of urethra | 0168 | 28.1405 | $1,670.14 | $386.32 | $334.03
53415 | C |  | Reconstruction of urethra |  |  |  |  |
53420 | T |  | Reconstruct urethra, stage 1 | 0168 | 28.1405 | $1,670.14 | $386.32 | $334.03
53425 | T |  | Reconstruct urethra, stage 2 | 0168 | 28.1405 | $1,670.14 | $386.32 | $334.03
53430 | T |  | Reconstruction of urethra | 0168 | 28.1405 | $1,670.14 | $386.32 | $334.03
53431 | T |  | Reconstruct urethra/bladder | 0168 | 28.1405 | $1,670.14 | $386.32 | $334.03
53440 | S |  | Correct bladder function | 0385 | 75.3020 | $4,469.17 |  | $893.83
53442 | T |  | Remove perineal prosthesis | 0168 | 28.1405 | $1,670.14 | $386.32 | $334.03
53444 | S |  | Insert tandem cuff | 0385 | 75.3020 | $4,469.17 |  | $893.83
53445 | S |  | Insert uro/ves nck sphincter | 0386 | 119.6251 | $7,099.75 |  | $1,419.95
53446 | T |  | Remove uro sphincter | 0168 | 28.1405 | $1,670.14 | $386.32 | $334.03
53447 | S |  | Remove/replace ur sphincter | 0386 | 119.6251 | $7,099.75 |  | $1,419.95
53448 | C |  | Remov/replc ur sphinctr comp |  |  |  |  |
53449 | T |  | Repair uro sphincter | 0168 | 28.1405 | $1,670.14 | $386.32 | $334.03
53450 | T |  | Revision of urethra | 0168 | 28.1405 | $1,670.14 | $386.32 | $334.03
53460 | T |  | Revision of urethra | 0166 | 17.5942 | $1,044.22 | $218.73 | $208.84
53500 | T |  | Urethrlys, transvag w/ scope | 0168 | 28.1405 | $1,670.14 | $386.32 | $334.03
53502 | T |  | Repair of urethra injury | 0166 | 17.5942 | $1,044.22 | $218.73 | $208.84
53505 | T |  | Repair of urethra injury | 0168 | 28.1405 | $1,670.14 | $386.32 | $334.03
53510 | T |  | Repair of urethra injury | 0166 | 17.5942 | $1,044.22 | $218.73 | $208.84
53515 | T |  | Repair of urethra injury | 0168 | 28.1405 | $1,670.14 | $386.32 | $334.03
53520 | T |  | Repair of urethra defect | 0168 | 28.1405 | $1,670.14 | $386.32 | $334.03
53600 | T |  | Dilate urethra stricture | 0156 | 2.5635 | $152.14 | $40.52 | $30.43
53601 | T |  | Dilate urethra stricture | 0164 | 1.1802 | $70.04 | $17.21 | $14.01
53605 | T |  | Dilate urethra stricture | 0161 | 18.4736 | $1,096.41 | $249.36 | $219.28
53620 | T |  | Dilate urethra stricture | 0165 | 16.5934 | $984.82 |  | $196.96
53621 | T |  | Dilate urethra stricture | 0164 | 1.1802 | $70.04 | $17.21 | $14.01
53660 | T |  | Dilation of urethra | 0164 | 1.1802 | $70.04 | $17.21 | $14.01
53661 | T |  | Dilation of urethra | 0164 | 1.1802 | $70.04 | $17.21 | $14.01
53665 | T |  | Dilation of urethra | 0166 | 17.5942 | $1,044.22 | $218.73 | $208.84
53850 | T |  | Prostatic microwave thermotx | 0675 | 43.5348 | $2,583.79 |  | $516.76
53852 | T |  | Prostatic rf thermotx | 0675 | 43.5348 | $2,583.79 |  | $516.76
53853 | T |  | Prostatic water thermother | 0162 | 23.2858 | $1,382.01 |  | $276.40
53899 | T |  | Urology surgery procedure | 0164 | 1.1802 | $70.04 | $17.21 | $14.01
54000 | T |  | Slitting of prepuce | 0166 | 17.5942 | $1,044.22 | $218.73 | $208.84
54001 | T |  | Slitting of prepuce | 0166 | 17.5942 | $1,044.22 | $218.73 | $208.84
54015 | T |  | Drain penis lesion | 0008 | 16.4242 | $974.78 |  | $194.96
54050 | T |  | Destruction, penis lesion(s) | 0013 | 1.1028 | $65.45 | $14.20 | $13.09
54055 | T |  | Destruction, penis lesion(s) | 0017 | 18.3377 | $1,088.34 | $227.84 | $217.67
54056 | T |  | Cryosurgery, penis lesion(s) | 0012 | 0.8458 | $50.20 | $11.18 | $10.04
54057 | T |  | Laser surg, penis lesion(s) | 0017 | 18.3377 | $1,088.34 | $227.84 | $217.67
54060 | T |  | Excision of penis lesion(s) | 0017 | 18.3377 | $1,088.34 | $227.84 | $217.67
54065 | T |  | Destruction, penis lesion(s) | 0695 | 20.2244 | $1,200.32 | $266.59 | $240.06
54100 | T |  | Biopsy of penis | 0021 | 14.9098 | $884.90 | $219.48 | $176.98
54105 | T |  | Biopsy of penis | 0022 | 19.5582 | $1,160.78 | $354.45 | $232.16
54110 | T |  | Treatment of penis lesion | 0181 | 30.7265 | $1,823.62 | $621.82 | $364.72
54111 | T |  | Treat penis lesion, graft | 0181 | 30.7265 | $1,823.62 | $621.82 | $364.72
54112 | T |  | Treat penis lesion, graft | 0181 | 30.7265 | $1,823.62 | $621.82 | $364.72
54115 | T |  | Treatment of penis lesion | 0008 | 16.4242 | $974.78 |  | $194.96
54120 | T |  | Partial removal of penis | 0181 | 30.7265 | $1,823.62 | $621.82 | $364.72
54125 | C |  | Removal of penis |  |  |  |  |
54130 | C |  | Remove penis & nodes |  |  |  |  |
54135 | C |  | Remove penis & nodes |  |  |  |  |
54150 | T |  | Circumcision | 0180 | 19.7926 | $1,174.69 | $304.87 | $234.94
54152 | T |  | Circumcision | 0180 | 19.7926 | $1,174.69 | $304.87 | $234.94
54160 | T |  | Circumcision | 0180 | 19.7926 | $1,174.69 | $304.87 | $234.94
54161 | T |  | Circumcision | 0180 | 19.7926 | $1,174.69 | $304.87 | $234.94
54162 | T |  | Lysis penil circumic lesion | 0180 | 19.7926 | $1,174.69 | $304.87 | $234.94
54163 | T |  | Repair of circumcision | 0180 | 19.7926 | $1,174.69 | $304.87 | $234.94
54164 | T |  | Frenulotomy of penis | 0180 | 19.7926 | $1,174.69 | $304.87 | $234.94
54200 | T |  | Treatment of penis lesion | 0156 | 2.5635 | $152.14 | $40.52 | $30.43
54205 | T |  | Treatment of penis lesion | 0181 | 30.7265 | $1,823.62 | $621.82 | $364.72
54220 | T |  | Treatment of penis lesion | 0156 | 2.5635 | $152.14 | $40.52 | $30.43
54230 | N |  | Prepare penis study |  |  |  |  |
54231 | T |  | Dynamic cavernosometry | 0165 | 16.5934 | $984.82 |  | $196.96
54235 | T |  | Penile injection | 0164 | 1.1802 | $70.04 | $17.21 | $14.01
54240 | T |  | Penis study | 0164 | 1.1802 | $70.04 | $17.21 | $14.01
54250 | T |  | Penis study | 0164 | 1.1802 | $70.04 | $17.21 | $14.01
54300 | T |  | Revision of penis | 0181 | 30.7265 | $1,823.62 | $621.82 | $364.72
54304 | T |  | Revision of penis | 0181 | 30.7265 | $1,823.62 | $621.82 | $364.72
54308 | T |  | Reconstruction of urethra | 0181 | 30.7265 | $1,823.62 | $621.82 | $364.72
54312 | T |  | Reconstruction of urethra | 0181 | 30.7265 | $1,823.62 | $621.82 | $364.72
54316 | T |  | Reconstruction of urethra | 0181 | 30.7265 | $1,823.62 | $621.82 | $364.72
54318 | T |  | Reconstruction of urethra | 0181 | 30.7265 | $1,823.62 | $621.82 | $364.72
54322 | T |  | Reconstruction of urethra | 0181 | 30.7265 | $1,823.62 | $621.82 | $364.72
54324 | T |  | Reconstruction of urethra | 0181 | 30.7265 | $1,823.62 | $621.82 | $364.72
54326 | T |  | Reconstruction of urethra | 0181 | 30.7265 | $1,823.62 | $621.82 | $364.72
54328 | T |  | Revise penis/urethra | 0181 | 30.7265 | $1,823.62 | $621.82 | $364.72
54332 | C |  | Revise penis/urethra |  |  |  |  |
54336 | C |  | Revise penis/urethra |  |  |  |  |
54340 | T |  | Secondary urethral surgery | 0181 | 30.7265 | $1,823.62 | $621.82 | $364.72
54344 | T |  | Secondary urethral surgery | 0181 | 30.7265 | $1,823.62 | $621.82 | $364.72
54348 | T |  | Secondary urethral surgery | 0181 | 30.7265 | $1,823.62 | $621.82 | $364.72
54352 | T |  | Reconstruct urethra/penis | 0181 | 30.7265 | $1,823.62 | $621.82 | $364.72
54360 | T |  | Penis plastic surgery | 0181 | 30.7265 | $1,823.62 | $621.82 | $364.72
54380 | T |  | Repair penis | 0181 | 30.7265 | $1,823.62 | $621.82 | $364.72
54385 | T |  | Repair penis | 0181 | 30.7265 | $1,823.62 | $621.82 | $364.72
54390 | C |  | Repair penis and bladder |  |  |  |  |
54400 | S |  | Insert semi-rigid prosthesis | 0385 | 75.3020 | $4,469.17 |  | $893.83
54401 | S |  | Insert self-contd prosthesis | 0386 | 119.6251 | $7,099.75 |  | $1,419.95
54405 | S |  | Insert multi-comp penis pros | 0386 | 119.6251 | $7,099.75 |  | $1,419.95
54406 | T |  | Remove muti-comp penis pros | 0181 | 30.7265 | $1,823.62 | $621.82 | $364.72
54408 | T |  | Repair multi-comp penis pros | 0181 | 30.7265 | $1,823.62 | $621.82 | $364.72
54410 | S |  | Remove/replace penis prosth | 0386 | 119.6251 | $7,099.75 |  | $1,419.95
54411 | C |  | Remov/replc penis pros, comp |  |  |  |  |
54415 | T |  | Remove self-contd penis pros | 0181 | 30.7265 | $1,823.62 | $621.82 | $364.72
54416 | S |  | Remv/repl penis contain pros | 0386 | 119.6251 | $7,099.75 |  | $1,419.95
54417 | C |  | Remv/replc penis pros, compl |  |  |  |  |
54420 | T |  | Revision of penis | 0181 | 30.7265 | $1,823.62 | $621.82 | $364.72
54430 | C |  | Revision of penis |  |  |  |  |
54435 | T |  | Revision of penis | 0181 | 30.7265 | $1,823.62 | $621.82 | $364.72
54440 | T |  | Repair of penis | 0181 | 30.7265 | $1,823.62 | $621.82 | $364.72
54450 | T |  | Preputial stretching | 0156 | 2.5635 | $152.14 | $40.52 | $30.43
54500 | T |  | Biopsy of testis | 0037 | 9.4322 | $559.80 | $223.91 | $111.96
54505 | T |  | Biopsy of testis | 0183 | 23.5344 | $1,396.77 |  | $279.35
54512 | T |  | Excise lesion testis | 0183 | 23.5344 | $1,396.77 |  | $279.35
54520 | T |  | Removal of testis | 0183 | 23.5344 | $1,396.77 |  | $279.35
54522 | T |  | Orchiectomy, partial | 0183 | 23.5344 | $1,396.77 |  | $279.35
54530 | T |  | Removal of testis | 0154 | 28.6544 | $1,700.64 | $464.85 | $340.13
54535 | C |  | Extensive testis surgery |  |  |  |  |
54550 | T |  | Exploration for testis | 0154 | 28.6544 | $1,700.64 | $464.85 | $340.13
54560 | T |  | Exploration for testis | 0183 | 23.5344 | $1,396.77 |  | $279.35
54600 | T |  | Reduce testis torsion | 0183 | 23.5344 | $1,396.77 |  | $279.35
54620 | T |  | Suspension of testis | 0183 | 23.5344 | $1,396.77 |  | $279.35
54640 | T |  | Suspension of testis | 0154 | 28.6544 | $1,700.64 | $464.85 | $340.13
54650 | C |  | Orchiopexy (Fowler-Stephens) |  |  |  |  |
54660 | T |  | Revision of testis | 0183 | 23.5344 | $1,396.77 |  | $279.35
54670 | T |  | Repair testis injury | 0183 | 23.5344 | $1,396.77 |  | $279.35
54680 | T |  | Relocation of testis(es) | 0183 | 23.5344 | $1,396.77 |  | $279.35
54690 | T |  | Laparoscopy, orchiectomy | 0131 | 43.1426 | $2,560.51 | $1,001.89 | $512.10
54692 | T |  | Laparoscopy, orchiopexy | 0132 | 62.7061 | $3,721.61 | $1,239.22 | $744.32
54699 | T |  | Laparoscope proc, testis | 0130 | 31.7825 | $1,886.29 | $659.53 | $377.26
54700 | T |  | Drainage of scrotum | 0183 | 23.5344 | $1,396.77 |  | $279.35
54800 | T |  | Biopsy of epididymis | 0004 | 1.7566 | $104.25 | $22.36 | $20.85
54820 | T |  | Exploration of epididymis | 0183 | 23.5344 | $1,396.77 |  | $279.35
54830 | T |  | Remove epididymis lesion | 0183 | 23.5344 | $1,396.77 |  | $279.35
54840 | T |  | Remove epididymis lesion | 0183 | 23.5344 | $1,396.77 |  | $279.35
54860 | T |  | Removal of epididymis | 0183 | 23.5344 | $1,396.77 |  | $279.35
54861 | T |  | Removal of epididymis | 0183 | 23.5344 | $1,396.77 |  | $279.35
54900 | T |  | Fusion of spermatic ducts | 0183 | 23.5344 | $1,396.77 |  | $279.35
54901 | T |  | Fusion of spermatic ducts | 0183 | 23.5344 | $1,396.77 |  | $279.35
55000 | T |  | Drainage of hydrocele | 0004 | 1.7566 | $104.25 | $22.36 | $20.85
55040 | T |  | Removal of hydrocele | 0154 | 28.6544 | $1,700.64 | $464.85 | $340.13
55041 | T |  | Removal of hydroceles | 0154 | 28.6544 | $1,700.64 | $464.85 | $340.13
55060 | T |  | Repair of hydrocele | 0183 | 23.5344 | $1,396.77 |  | $279.35
55100 | T |  | Drainage of scrotum abscess | 0008 | 16.4242 | $974.78 |  | $194.96
55110 | T |  | Explore scrotum | 0183 | 23.5344 | $1,396.77 |  | $279.35
55120 | T |  | Removal of scrotum lesion | 0183 | 23.5344 | $1,396.77 |  | $279.35
55150 | T |  | Removal of scrotum | 0183 | 23.5344 | $1,396.77 |  | $279.35
55175 | T |  | Revision of scrotum | 0183 | 23.5344 | $1,396.77 |  | $279.35
55180 | T |  | Revision of scrotum | 0183 | 23.5344 | $1,396.77 |  | $279.35
55200 | T |  | Incision of sperm duct | 0183 | 23.5344 | $1,396.77 |  | $279.35
55250 | T |  | Removal of sperm duct(s) | 0183 | 23.5344 | $1,396.77 |  | $279.35
55300 | N |  | Prepare, sperm duct x-ray |  |  |  |  |
55400 | T |  | Repair of sperm duct | 0183 | 23.5344 | $1,396.77 |  | $279.35
55450 | T |  | Ligation of sperm duct | 0183 | 23.5344 | $1,396.77 |  | $279.35
55500 | T |  | Removal of hydrocele | 0183 | 23.5344 | $1,396.77 |  | $279.35
55520 | T |  | Removal of sperm cord lesion | 0183 | 23.5344 | $1,396.77 |  | $279.35
55530 | T |  | Revise spermatic cord veins | 0183 | 23.5344 | $1,396.77 |  | $279.35
55535 | T |  | Revise spermatic cord veins | 0154 | 28.6544 | $1,700.64 | $464.85 | $340.13
55540 | T |  | Revise hernia & sperm veins | 0154 | 28.6544 | $1,700.64 | $464.85 | $340.13
55550 | T |  | Laparo ligate spermatic vein | 0131 | 43.1426 | $2,560.51 | $1,001.89 | $512.10
55559 | T |  | Laparo proc, spermatic cord | 0130 | 31.7825 | $1,886.29 | $659.53 | $377.26
55600 | T |  | Incise sperm duct pouch | 0183 | 23.5344 | $1,396.77 |  | $279.35
55605 | C |  | Incise sperm duct pouch |  |  |  |  |
55650 | C |  | Remove sperm duct pouch |  |  |  |  |
55680 | T |  | Remove sperm pouch lesion | 0183 | 23.5344 | $1,396.77 |  | $279.35
55700 | T |  | Biopsy of prostate | 0184 | 4.3369 | $257.40 | $96.27 | $51.48
55705 | T |  | Biopsy of prostate | 0184 | 4.3369 | $257.40 | $96.27 | $51.48
55720 | T |  | Drainage of prostate abscess | 0162 | 23.2858 | $1,382.01 |  | $276.40
55725 | T |  | Drainage of prostate abscess | 0162 | 23.2858 | $1,382.01 |  | $276.40
55801 | C |  | Removal of prostate |  |  |  |  |
55810 | C |  | Extensive prostate surgery |  |  |  |  |
55812 | C |  | Extensive prostate surgery |  |  |  |  |
55815 | C |  | Extensive prostate surgery |  |  |  |  |
55821 | C |  | Removal of prostate |  |  |  |  |
55831 | C |  | Removal of prostate |  |  |  |  |
55840 | C |  | Extensive prostate surgery |  |  |  |  |
55842 | C |  | Extensive prostate surgery |  |  |  |  |
55845 | C |  | Extensive prostate surgery |  |  |  |  |
55859 | T |  | Percut/needle insert, pros | 0163 | 33.5826 | $1,993.13 |  | $398.63
55860 | T |  | Surgical exposure, prostate | 0165 | 16.5934 | $984.82 |  | $196.96
55862 | C |  | Extensive prostate surgery |  |  |  |  |
55865 | C |  | Extensive prostate surgery |  |  |  |  |
55866 | C |  | Laparo radical prostatectomy |  |  |  |  |
55870 | T |  | Electroejaculation | 0197 | 2.3465 | $139.26 |  | $27.85
55873 | T |  | Cryoablate prostate | 0674 | 95.3518 | $5,659.13 |  | $1,131.83
55899 | T |  | Genital surgery procedure | 0164 | 1.1802 | $70.04 | $17.21 | $14.01
55970 | E |  | Sex transformation, M to F |  |  |  |  |
55980 | E |  | Sex transformation, F to M |  |  |  |  |
56405 | T |  | I & D of vulva/perineum | 0189 | 2.3602 | $140.08 |  | $28.02
56420 | T |  | Drainage of gland abscess | 0189 | 2.3602 | $140.08 |  | $28.02
56440 | T |  | Surgery for vulva lesion | 0194 | 20.6585 | $1,226.08 | $397.84 | $245.22
56441 | T |  | Lysis of labial lesion(s) | 0193 | 14.5183 | $861.66 |  | $172.33
56501 | T |  | Destroy, vulva lesions, sim | 0017 | 18.3377 | $1,088.34 | $227.84 | $217.67
56515 | T |  | Destroy vulva lesion/s compl | 0695 | 20.2244 | $1,200.32 | $266.59 | $240.06
56605 | T |  | Biopsy of vulva/perineum | 0019 | 4.0363 | $239.55 | $71.87 | $47.91
56606 | T |  | Biopsy of vulva/perineum | 0019 | 4.0363 | $239.55 | $71.87 | $47.91
56620 | T |  | Partial removal of vulva | 0195 | 26.5582 | $1,576.23 | $483.80 | $315.25
56625 | T |  | Complete removal of vulva | 0195 | 26.5582 | $1,576.23 | $483.80 | $315.25
56630 | C |  | Extensive vulva surgery |  |  |  |  |
56631 | C |  | Extensive vulva surgery |  |  |  |  |
56632 | C |  | Extensive vulva surgery |  |  |  |  |
56633 | C |  | Extensive vulva surgery |  |  |  |  |
56634 | C |  | Extensive vulva surgery |  |  |  |  |
56637 | C |  | Extensive vulva surgery |  |  |  |  |
56640 | C |  | Extensive vulva surgery |  |  |  |  |
56700 | T |  | Partial removal of hymen | 0194 | 20.6585 | $1,226.08 | $397.84 | $245.22
56720 | T |  | Incision of hymen | 0193 | 14.5183 | $861.66 |  | $172.33
56740 | T |  | Remove vagina gland lesion | 0194 | 20.6585 | $1,226.08 | $397.84 | $245.22
56800 | T |  | Repair of vagina | 0194 | 20.6585 | $1,226.08 | $397.84 | $245.22
56805 | T |  | Repair clitoris | 0193 | 14.5183 | $861.66 |  | $172.33
56810 | T |  | Repair of perineum | 0194 | 20.6585 | $1,226.08 | $397.84 | $245.22
56820 | T |  | Exam of vulva w/scope | 0188 | 1.1348 | $67.35 |  | $13.47
56821 | T |  | Exam/biopsy of vulva w/scope | 0189 | 2.3602 | $140.08 |  | $28.02
57000 | T |  | Exploration of vagina | 0193 | 14.5183 | $861.66 |  | $172.33
57010 | T |  | Drainage of pelvic abscess | 0193 | 14.5183 | $861.66 |  | $172.33
57020 | T |  | Drainage of pelvic fluid | 0192 | 4.2887 | $254.53 |  | $50.91
57022 | T |  | I & d vaginal hematoma, pp | 0007 | 11.3983 | $676.49 |  | $135.30
57023 | T |  | I & d vag hematoma, non-ob | 0008 | 16.4242 | $974.78 |  | $194.96
57061 | T |  | Destroy vag lesions, simple | 0194 | 20.6585 | $1,226.08 | $397.84 | $245.22
57065 | T |  | Destroy vag lesions, complex | 0194 | 20.6585 | $1,226.08 | $397.84 | $245.22
57100 | T |  | Biopsy of vagina | 0192 | 4.2887 | $254.53 |  | $50.91
57105 | T |  | Biopsy of vagina | 0194 | 20.6585 | $1,226.08 | $397.84 | $245.22
57106 | T |  | Remove vagina wall, partial | 0194 | 20.6585 | $1,226.08 | $397.84 | $245.22
57107 | T |  | Remove vagina tissue, part | 0195 | 26.5582 | $1,576.23 | $483.80 | $315.25
57109 | T |  | Vaginectomy partial w/nodes | 0195 | 26.5582 | $1,576.23 | $483.80 | $315.25
57110 | C |  | Remove vagina wall, complete |  |  |  |  |
57111 | C |  | Remove vagina tissue, compl |  |  |  |  |
57112 | C |  | Vaginectomy w/nodes, compl |  |  |  |  |
57120 | T |  | Closure of vagina | 0195 | 26.5582 | $1,576.23 | $483.80 | $315.25
57130 | T |  | Remove vagina lesion | 0194 | 20.6585 | $1,226.08 | $397.84 | $245.22
57135 | T |  | Remove vagina lesion | 0194 | 20.6585 | $1,226.08 | $397.84 | $245.22
57150 | T |  | Treat vagina infection | 0191 | 0.1663 | $9.87 | $2.77 | $1.97
57155 | T |  | Insert uteri tandems/ovoids | 0192 | 4.2887 | $254.53 |  | $50.91
57160 | T |  | Insert pessary/other device | 0188 | 1.1348 | $67.35 |  | $13.47
57170 | T |  | Fitting of diaphragm/cap | 0191 | 0.1663 | $9.87 | $2.77 | $1.97
57180 | T |  | Treat vaginal bleeding | 0189 | 2.3602 | $140.08 |  | $28.02
57200 | T |  | Repair of vagina | 0194 | 20.6585 | $1,226.08 | $397.84 | $245.22
57210 | T |  | Repair vagina/perineum | 0194 | 20.6585 | $1,226.08 | $397.84 | $245.22
57220 | T |  | Revision of urethra | 0202 | 40.2037 | $2,386.09 | $954.43 | $477.22
57230 | T |  | Repair of urethral lesion | 0195 | 26.5582 | $1,576.23 | $483.80 | $315.25
57240 | T |  | Repair bladder & vagina | 0195 | 26.5582 | $1,576.23 | $483.80 | $315.25
57250 | T |  | Repair rectum & vagina | 0195 | 26.5582 | $1,576.23 | $483.80 | $315.25
57260 | T |  | Repair of vagina | 0195 | 26.5582 | $1,576.23 | $483.80 | $315.25
57265 | T |  | Extensive repair of vagina | 0202 | 40.2037 | $2,386.09 | $954.43 | $477.22
57267 | T |  | Insert mesh/pelvic flr addon | 0154 | 28.6544 | $1,700.64 | $464.85 | $340.13
57268 | T |  | Repair of bowel bulge | 0195 | 26.5582 | $1,576.23 | $483.80 | $315.25
57270 | C |  | Repair of bowel pouch |  |  |  |  |
57280 | C |  | Suspension of vagina |  |  |  |  |
57282 | C |  | Repair of vaginal prolapse |  |  |  |  |
57283 | C |  | Colpopexy, intraperitoneal |  |  |  |  |
57284 | T |  | Repair paravaginal defect | 0202 | 40.2037 | $2,386.09 | $954.43 | $477.22
57287 | T |  | Revise/remove sling repair | 0202 | 40.2037 | $2,386.09 | $954.43 | $477.22
57288 | T |  | Repair bladder defect | 0202 | 40.2037 | $2,386.09 | $954.43 | $477.22
57289 | T |  | Repair bladder & vagina | 0195 | 26.5582 | $1,576.23 | $483.80 | $315.25
57291 | T |  | Construction of vagina | 0195 | 26.5582 | $1,576.23 | $483.80 | $315.25
57292 | C |  | Construct vagina with graft |  |  |  |  |
57300 | T |  | Repair rectum-vagina fistula | 0195 | 26.5582 | $1,576.23 | $483.80 | $315.25
57305 | C |  | Repair rectum-vagina fistula |  |  |  |  |
57307 | C |  | Fistula repair & colostomy |  |  |  |  |
57308 | C |  | Fistula repair, transperine |  |  |  |  |
57310 | T |  | Repair urethrovaginal lesion | 0202 | 40.2037 | $2,386.09 | $954.43 | $477.22
57311 | C |  | Repair urethrovaginal lesion |  |  |  |  |
57320 | T |  | Repair bladder-vagina lesion | 0195 | 26.5582 | $1,576.23 | $483.80 | $315.25
57330 | T |  | Repair bladder-vagina lesion | 0195 | 26.5582 | $1,576.23 | $483.80 | $315.25
57335 | C |  | Repair vagina |  |  |  |  |
57400 | T |  | Dilation of vagina | 0194 | 20.6585 | $1,226.08 | $397.84 | $245.22
57410 | T |  | Pelvic examination | 0193 | 14.5183 | $861.66 |  | $172.33
57415 | T |  | Remove vaginal foreign body | 0194 | 20.6585 | $1,226.08 | $397.84 | $245.22
57420 | T |  | Exam of vagina w/scope | 0189 | 2.3602 | $140.08 |  | $28.02
57421 | T |  | Exam/biopsy of vag w/scope | 0189 | 2.3602 | $140.08 |  | $28.02
57425 | T |  | Laparoscopy, surg, colpopexy | 0130 | 31.7825 | $1,886.29 | $659.53 | $377.26
57452 | T |  | Examination of vagina | 0189 | 2.3602 | $140.08 |  | $28.02
57454 | T |  | Vagina examination & biopsy | 0189 | 2.3602 | $140.08 |  | $28.02
57455 | T |  | Biopsy of cervix w/scope | 0189 | 2.3602 | $140.08 |  | $28.02
57456 | T |  | Endocerv curettage w/scope | 0189 | 2.3602 | $140.08 |  | $28.02
57460 | T |  | Cervix excision | 0193 | 14.5183 | $861.66 |  | $172.33
57461 | T |  | Conz of cervix w/scope, leep | 0194 | 20.6585 | $1,226.08 | $397.84 | $245.22
57500 | T |  | Biopsy of cervix | 0192 | 4.2887 | $254.53 |  | $50.91
57505 | T |  | Endocervical curettage | 0189 | 2.3602 | $140.08 |  | $28.02
57510 | T |  | Cauterization of cervix | 0193 | 14.5183 | $861.66 |  | $172.33
57511 | T |  | Cryocautery of cervix | 0189 | 2.3602 | $140.08 |  | $28.02
57513 | T |  | Laser surgery of cervix | 0193 | 14.5183 | $861.66 |  | $172.33
57520 | T |  | Conization of cervix | 0194 | 20.6585 | $1,226.08 | $397.84 | $245.22
57522 | T |  | Conization of cervix | 0195 | 26.5582 | $1,576.23 | $483.80 | $315.25
57530 | T |  | Removal of cervix | 0195 | 26.5582 | $1,576.23 | $483.80 | $315.25
57531 | C |  | Removal of cervix, radical |  |  |  |  |
57540 | C |  | Removal of residual cervix |  |  |  |  |
57545 | C |  | Remove cervix/repair pelvis |  |  |  |  |
57550 | T |  | Removal of residual cervix | 0195 | 26.5582 | $1,576.23 | $483.80 | $315.25
57555 | T |  | Remove cervix/repair vagina | 0195 | 26.5582 | $1,576.23 | $483.80 | $315.25
57556 | T |  | Remove cervix, repair bowel | 0202 | 40.2037 | $2,386.09 | $954.43 | $477.22
57700 | T |  | Revision of cervix | 0194 | 20.6585 | $1,226.08 | $397.84 | $245.22
57720 | T |  | Revision of cervix | 0194 | 20.6585 | $1,226.08 | $397.84 | $245.22
57800 | T |  | Dilation of cervical canal | 0193 | 14.5183 | $861.66 |  | $172.33
57820 | T |  | D & c of residual cervix | 0196 | 17.0200 | $1,010.14 | $338.23 | $202.03
58100 | T |  | Biopsy of uterus lining | 0188 | 1.1348 | $67.35 |  | $13.47
58120 | T |  | Dilation and curettage | 0196 | 17.0200 | $1,010.14 | $338.23 | $202.03
58140 | C |  | Removal of uterus lesion |  |  |  |  |
58145 | T |  | Myomectomy vag method | 0195 | 26.5582 | $1,576.23 | $483.80 | $315.25
58146 | C |  | Myomectomy abdom complex |  |  |  |  |
58150 | C |  | Total hysterectomy |  |  |  |  |
58152 | C |  | Total hysterectomy |  |  |  |  |
58180 | C |  | Partial hysterectomy |  |  |  |  |
58200 | C |  | Extensive hysterectomy |  |  |  |  |
58210 | C |  | Extensive hysterectomy |  |  |  |  |
58240 | C |  | Removal of pelvis contents |  |  |  |  |
58260 | C |  | Vaginal hysterectomy |  |  |  |  |
58262 | C |  | Vag hyst including t/o |  |  |  |  |
58263 | C |  | Vag hyst w/t/o & vag repair |  |  |  |  |
58267 | C |  | Vag hyst w/urinary repair |  |  |  |  |
58270 | C |  | Vag hyst w/enterocele repair |  |  |  |  |
58275 | C |  | Hysterectomy/revise vagina |  |  |  |  |
58280 | C |  | Hysterectomy/revise vagina |  |  |  |  |
58285 | C |  | Extensive hysterectomy |  |  |  |  |
58290 | C |  | Vag hyst complex |  |  |  |  |
58291 | C |  | Vag hyst incl t/o, complex |  |  |  |  |
58292 | C |  | Vag hyst t/o & repair, compl |  |  |  |  |
58293 | C |  | Vag hyst w/uro repair, compl |  |  |  |  |
58294 | C |  | Vag hyst w/enterocele, compl |  |  |  |  |
58300 | E |  | Insert intrauterine device |  |  |  |  |
58301 | T |  | Remove intrauterine device | 0189 | 2.3602 | $140.08 |  | $28.02
58321 | T |  | Artificial insemination | 0197 | 2.3465 | $139.26 |  | $27.85
58322 | T |  | Artificial insemination | 0197 | 2.3465 | $139.26 |  | $27.85
58323 | T |  | Sperm washing | 0197 | 2.3465 | $139.26 |  | $27.85
58340 | N |  | Catheter for hysterography |  |  |  |  |
58345 | T |  | Reopen fallopian tube | 0193 | 14.5183 | $861.66 |  | $172.33
58346 | T |  | Insert heyman uteri capsule | 0193 | 14.5183 | $861.66 |  | $172.33
58350 | T |  | Reopen fallopian tube | 0195 | 26.5582 | $1,576.23 | $483.80 | $315.25
58353 | T |  | Endometr ablate, thermal | 0195 | 26.5582 | $1,576.23 | $483.80 | $315.25
58356 | T |  | Endometrial cryoablation | 0202 | 40.2037 | $2,386.09 | $954.43 | $477.22
58400 | C |  | Suspension of uterus |  |  |  |  |
58410 | C |  | Suspension of uterus |  |  |  |  |
58520 | C |  | Repair of ruptured uterus |  |  |  |  |
58540 | C |  | Revision of uterus |  |  |  |  |
58545 | T |  | Laparoscopic myomectomy | 0130 | 31.7825 | $1,886.29 | $659.53 | $377.26
58546 | T |  | Laparo-myomectomy, complex | 0131 | 43.1426 | $2,560.51 | $1,001.89 | $512.10
58550 | T |  | Laparo-asst vag hysterectomy | 0132 | 62.7061 | $3,721.61 | $1,239.22 | $744.32
58552 | T |  | Laparo-vag hyst incl t/o | 0131 | 43.1426 | $2,560.51 | $1,001.89 | $512.10
58553 | T |  | Laparo-vag hyst, complex | 0131 | 43.1426 | $2,560.51 | $1,001.89 | $512.10
58554 | T |  | Laparo-vag hyst w/t/o, compl | 0131 | 43.1426 | $2,560.51 | $1,001.89 | $512.10
58555 | T |  | Hysteroscopy, dx, sep proc | 0190 | 20.9699 | $1,244.56 | $424.28 | $248.91
58558 | T |  | Hysteroscopy, biopsy | 0190 | 20.9699 | $1,244.56 | $424.28 | $248.91
58559 | T |  | Hysteroscopy, lysis | 0190 | 20.9699 | $1,244.56 | $424.28 | $248.91
58560 | T |  | Hysteroscopy, resect septum | 0387 | 32.3971 | $1,922.77 | $655.55 | $384.55
58561 | T |  | Hysteroscopy, remove myoma | 0387 | 32.3971 | $1,922.77 | $655.55 | $384.55
58562 | T |  | Hysteroscopy, remove fb | 0190 | 20.9699 | $1,244.56 | $424.28 | $248.91
58563 | T |  | Hysteroscopy, ablation | 0387 | 32.3971 | $1,922.77 | $655.55 | $384.55
58565 | T |  | Hysteroscopy, sterilization | 0202 | 40.2037 | $2,386.09 | $954.43 | $477.22
58578 | T |  | Laparo proc, uterus | 0130 | 31.7825 | $1,886.29 | $659.53 | $377.26
58579 | T |  | Hysteroscope procedure | 0190 | 20.9699 | $1,244.56 | $424.28 | $248.91
58600 | T |  | Division of fallopian tube | 0195 | 26.5582 | $1,576.23 | $483.80 | $315.25
58605 | C |  | Division of fallopian tube |  |  |  |  |
58611 | C |  | Ligate oviduct(s) add-on |  |  |  |  |
58615 | T |  | Occlude fallopian tube(s) | 0194 | 20.6585 | $1,226.08 | $397.84 | $245.22
58660 | T |  | Laparoscopy, lysis | 0131 | 43.1426 | $2,560.51 | $1,001.89 | $512.10
58661 | T |  | Laparoscopy, remove adnexa | 0131 | 43.1426 | $2,560.51 | $1,001.89 | $512.10
58662 | T |  | Laparoscopy, excise lesions | 0131 | 43.1426 | $2,560.51 | $1,001.89 | $512.10
58670 | T |  | Laparoscopy, tubal cautery | 0131 | 43.1426 | $2,560.51 | $1,001.89 | $512.10
58671 | T |  | Laparoscopy, tubal block | 0131 | 43.1426 | $2,560.51 | $1,001.89 | $512.10
58672 | T |  | Laparoscopy, fimbrioplasty | 0131 | 43.1426 | $2,560.51 | $1,001.89 | $512.10
58673 | T |  | Laparoscopy, salpingostomy | 0131 | 43.1426 | $2,560.51 | $1,001.89 | $512.10
58679 | T |  | Laparo proc, oviduct-ovary | 0130 | 31.7825 | $1,886.29 | $659.53 | $377.26
58700 | C |  | Removal of fallopian tube |  |  |  |  |
58720 | C |  | Removal of ovary/tube(s) |  |  |  |  |
58740 | C |  | Revise fallopian tube(s) |  |  |  |  |
58750 | C |  | Repair oviduct |  |  |  |  |
58752 | C |  | Revise ovarian tube(s) |  |  |  |  |
58760 | C |  | Remove tubal obstruction |  |  |  |  |
58770 | T |  | Create new tubal opening | 0195 | 26.5582 | $1,576.23 | $483.80 | $315.25
58800 | T |  | Drainage of ovarian cyst(s) | 0193 | 14.5183 | $861.66 |  | $172.33
58805 | C |  | Drainage of ovarian cyst(s) |  |  |  |  |
58820 | T |  | Drain ovary abscess, open | 0195 | 26.5582 | $1,576.23 | $483.80 | $315.25
58822 | C |  | Drain ovary abscess, percut |  |  |  |  |
58823 | T |  | Drain pelvic abscess, percut | 0193 | 14.5183 | $861.66 |  | $172.33
58825 | C |  | Transposition, ovary(s) |  |  |  |  |
58900 | T |  | Biopsy of ovary(s) | 0193 | 14.5183 | $861.66 |  | $172.33
58920 | T |  | Partial removal of ovary(s) | 0195 | 26.5582 | $1,576.23 | $483.80 | $315.25
58925 | T |  | Removal of ovarian cyst(s) | 0195 | 26.5582 | $1,576.23 | $483.80 | $315.25
58940 | C |  | Removal of ovary(s) |  |  |  |  |
58943 | C |  | Removal of ovary(s) |  |  |  |  |
58950 | C |  | Resect ovarian malignancy |  |  |  |  |
58951 | C |  | Resect ovarian malignancy |  |  |  |  |
58952 | C |  | Resect ovarian malignancy |  |  |  |  |
58953 | C |  | Tah, rad dissect for debulk |  |  |  |  |
58954 | C |  | Tah rad debulk/lymph remove |  |  |  |  |
58956 | C |  | Bso, omentectomy w/tah |  |  |  |  |
58960 | C |  | Exploration of abdomen |  |  |  |  |
58970 | T |  | Retrieval of oocyte | 0197 | 2.3465 | $139.26 |  | $27.85
58974 | T |  | Transfer of embryo | 0197 | 2.3465 | $139.26 |  | $27.85
58976 | T |  | Transfer of embryo | 0197 | 2.3465 | $139.26 |  | $27.85
58999 | T |  | Genital surgery procedure | 0191 | 0.1663 | $9.87 | $2.77 | $1.97
59000 | T |  | Amniocentesis, diagnostic | 0198 | 1.3621 | $80.84 | $32.19 | $16.17
59001 | T |  | Amniocentesis, therapeutic | 0192 | 4.2887 | $254.53 |  | $50.91
59012 | T |  | Fetal cord puncture,prenatal | 0198 | 1.3621 | $80.84 | $32.19 | $16.17
59015 | T |  | Chorion biopsy | 0198 | 1.3621 | $80.84 | $32.19 | $16.17
59020 | T |  | Fetal contract stress test | 0192 | 4.2887 | $254.53 |  | $50.91
59025 | T |  | Fetal non-stress test | 0198 | 1.3621 | $80.84 | $32.19 | $16.17
59030 | T |  | Fetal scalp blood sample | 0198 | 1.3621 | $80.84 | $32.19 | $16.17
59050 | E |  | Fetal monitor w/report |  |  |  |  |
59051 | B |  | Fetal monitor/interpret only |  |  |  |  |
59070 | T |  | Transabdom amnioinfus w/ us | 0198 | 1.3621 | $80.84 | $32.19 | $16.17
59072 | T |  | Umbilical cord occlud w/ us | 0198 | 1.3621 | $80.84 | $32.19 | $16.17
59074 | T |  | Fetal fluid drainage w/ us | 0198 | 1.3621 | $80.84 | $32.19 | $16.17
59076 | T |  | Fetal shunt placement, w/ us | 0198 | 1.3621 | $80.84 | $32.19 | $16.17
59100 | T |  | Remove uterus lesion | 0195 | 26.5582 | $1,576.23 | $483.80 | $315.25
59120 | C |  | Treat ectopic pregnancy |  |  |  |  |
59121 | C |  | Treat ectopic pregnancy |  |  |  |  |
59130 | C |  | Treat ectopic pregnancy |  |  |  |  |
59135 | C |  | Treat ectopic pregnancy |  |  |  |  |
59136 | C |  | Treat ectopic pregnancy |  |  |  |  |
59140 | C |  | Treat ectopic pregnancy |  |  |  |  |
59150 | T |  | Treat ectopic pregnancy | 0131 | 43.1426 | $2,560.51 | $1,001.89 | $512.10
59151 | T |  | Treat ectopic pregnancy | 0131 | 43.1426 | $2,560.51 | $1,001.89 | $512.10
59160 | T |  | D & c after delivery | 0196 | 17.0200 | $1,010.14 | $338.23 | $202.03
59200 | T |  | Insert cervical dilator | 0189 | 2.3602 | $140.08 |  | $28.02
59300 | T |  | Episiotomy or vaginal repair | 0193 | 14.5183 | $861.66 |  | $172.33
59320 | T |  | Revision of cervix | 0194 | 20.6585 | $1,226.08 | $397.84 | $245.22
59325 | C |  | Revision of cervix |  |  |  |  |
59350 | C |  | Repair of uterus |  |  |  |  |
59400 | B |  | Obstetrical care |  |  |  |  |
59409 | T |  | Obstetrical care | 0194 | 20.6585 | $1,226.08 | $397.84 | $245.22
59410 | B |  | Obstetrical care |  |  |  |  |
59412 | T |  | Antepartum manipulation | 0700 | 5.3371 | $316.76 |  | $63.35
59414 | T |  | Deliver placenta | 0193 | 14.5183 | $861.66 |  | $172.33
59425 | B |  | Antepartum care only |  |  |  |  |
59426 | B |  | Antepartum care only |  |  |  |  |
59430 | B |  | Care after delivery |  |  |  |  |
59510 | E |  | Cesarean delivery |  |  |  |  |
59514 | C |  | Cesarean delivery only |  |  |  |  |
59515 | E |  | Cesarean delivery |  |  |  |  |
59525 | C |  | Remove uterus after cesarean |  |  |  |  |
59610 | E |  | Vbac delivery |  |  |  |  |
59612 | T |  | Vbac delivery only | 0194 | 20.6585 | $1,226.08 | $397.84 | $245.22
59614 | E |  | Vbac care after delivery |  |  |  |  |
59618 | E |  | Attempted vbac delivery |  |  |  |  |
59620 | C |  | Attempted vbac delivery only |  |  |  |  |
59622 | E |  | Attempted vbac after care |  |  |  |  |
59812 | T |  | Treatment of miscarriage | 0201 | 17.5250 | $1,040.11 | $329.65 | $208.02
59820 | T |  | Care of miscarriage | 0201 | 17.5250 | $1,040.11 | $329.65 | $208.02
59821 | T |  | Treatment of miscarriage | 0201 | 17.5250 | $1,040.11 | $329.65 | $208.02
59830 | C |  | Treat uterus infection |  |  |  |  |
59840 | T |  | Abortion | 0200 | 17.7919 | $1,055.95 | $263.69 | $211.19
59841 | T |  | Abortion | 0200 | 17.7919 | $1,055.95 | $263.69 | $211.19
59850 | C |  | Abortion |  |  |  |  |
59851 | C |  | Abortion |  |  |  |  |
59852 | C |  | Abortion |  |  |  |  |
59855 | C |  | Abortion |  |  |  |  |
59856 | C |  | Abortion |  |  |  |  |
59857 | C |  | Abortion |  |  |  |  |
59866 | T |  | Abortion (mpr) | 0198 | 1.3621 | $80.84 | $32.19 | $16.17
59870 | T |  | Evacuate mole of uterus | 0201 | 17.5250 | $1,040.11 | $329.65 | $208.02
59871 | T |  | Remove cerclage suture | 0194 | 20.6585 | $1,226.08 | $397.84 | $245.22
59897 | T |  | Fetal invas px w/ us | 0198 | 1.3621 | $80.84 | $32.19 | $16.17
59898 | T |  | Laparo proc, ob care/deliver | 0130 | 31.7825 | $1,886.29 | $659.53 | $377.26
59899 | T |  | Maternity care procedure | 0198 | 1.3621 | $80.84 | $32.19 | $16.17
60000 | T |  | Drain thyroid/tongue cyst | 0252 | 7.8317 | $464.81 | $113.41 | $92.96
60001 | T |  | Aspirate/inject thyriod cyst | 0004 | 1.7566 | $104.25 | $22.36 | $20.85
60100 | T |  | Biopsy of thyroid | 0004 | 1.7566 | $104.25 | $22.36 | $20.85
60200 | T |  | Remove thyroid lesion | 0114 | 40.5805 | $2,408.45 | $485.91 | $481.69
60210 | T |  | Partial thyroid excision | 0114 | 40.5805 | $2,408.45 | $485.91 | $481.69
60212 | T |  | Partial thyroid excision | 0114 | 40.5805 | $2,408.45 | $485.91 | $481.69
60220 | T |  | Partial removal of thyroid | 0114 | 40.5805 | $2,408.45 | $485.91 | $481.69
60225 | T |  | Partial removal of thyroid | 0114 | 40.5805 | $2,408.45 | $485.91 | $481.69
60240 | T |  | Removal of thyroid | 0114 | 40.5805 | $2,408.45 | $485.91 | $481.69
60252 | T |  | Removal of thyroid | 0256 | 37.1513 | $2,204.93 |  | $440.99
60254 | C |  | Extensive thyroid surgery |  |  |  |  |
60260 | T |  | Repeat thyroid surgery | 0256 | 37.1513 | $2,204.93 |  | $440.99
60270 | C |  | Removal of thyroid |  |  |  |  |
60271 | C |  | Removal of thyroid |  |  |  |  |
60280 | T |  | Remove thyroid duct lesion | 0114 | 40.5805 | $2,408.45 | $485.91 | $481.69
60281 | T |  | Remove thyroid duct lesion | 0114 | 40.5805 | $2,408.45 | $485.91 | $481.69
60500 | T |  | Explore parathyroid glands | 0256 | 37.1513 | $2,204.93 |  | $440.99
60502 | C |  | Re-explore parathyroids |  |  |  |  |
60505 | C |  | Explore parathyroid glands |  |  |  |  |
60512 | T |  | Autotransplant parathyroid | 0022 | 19.5582 | $1,160.78 | $354.45 | $232.16
60520 | C |  | Removal of thymus gland |  |  |  |  |
60521 | C |  | Removal of thymus gland |  |  |  |  |
60522 | C |  | Removal of thymus gland |  |  |  |  |
60540 | C |  | Explore adrenal gland |  |  |  |  |
60545 | C |  | Explore adrenal gland |  |  |  |  |
60600 | C |  | Remove carotid body lesion |  |  |  |  |
60605 | C |  | Remove carotid body lesion |  |  |  |  |
60650 | C |  | Laparoscopy adrenalectomy |  |  |  |  |
60659 | T |  | Laparo proc, endocrine | 0130 | 31.7825 | $1,886.29 | $659.53 | $377.26
60699 | T |  | Endocrine surgery procedure | 0114 | 40.5805 | $2,408.45 | $485.91 | $481.69
61000 | T |  | Remove cranial cavity fluid | 0212 | 2.9606 | $175.71 | $70.28 | $35.14
61001 | T |  | Remove cranial cavity fluid | 0212 | 2.9606 | $175.71 | $70.28 | $35.14
61020 | T |  | Remove brain cavity fluid | 0212 | 2.9606 | $175.71 | $70.28 | $35.14
61026 | T |  | Injection into brain canal | 0212 | 2.9606 | $175.71 | $70.28 | $35.14
61050 | T |  | Remove brain canal fluid | 0212 | 2.9606 | $175.71 | $70.28 | $35.14
61055 | T |  | Injection into brain canal | 0212 | 2.9606 | $175.71 | $70.28 | $35.14
61070 | T |  | Brain canal shunt procedure | 0212 | 2.9606 | $175.71 | $70.28 | $35.14
61105 | C |  | Twist drill hole |  |  |  |  |
61107 | C |  | Drill skull for implantation |  |  |  |  |
61108 | C |  | Drill skull for drainage |  |  |  |  |
61120 | C |  | Burr hole for puncture |  |  |  |  |
61140 | C |  | Pierce skull for biopsy |  |  |  |  |
61150 | C |  | Pierce skull for drainage |  |  |  |  |
61151 | C |  | Pierce skull for drainage |  |  |  |  |
61154 | C |  | Pierce skull & remove clot |  |  |  |  |
61156 | C |  | Pierce skull for drainage |  |  |  |  |
61210 | C |  | Pierce skull, implant device |  |  |  |  |
61215 | T |  | Insert brain-fluid device | 0224 | 40.4614 | $2,401.38 |  | $480.28
61250 | C |  | Pierce skull & explore |  |  |  |  |
61253 | C |  | Pierce skull & explore |  |  |  |  |
61304 | C |  | Open skull for exploration |  |  |  |  |
61305 | C |  | Open skull for exploration |  |  |  |  |
61312 | C |  | Open skull for drainage |  |  |  |  |
61313 | C |  | Open skull for drainage |  |  |  |  |
61314 | C |  | Open skull for drainage |  |  |  |  |
61315 | C |  | Open skull for drainage |  |  |  |  |
61316 | C |  | Implt cran bone flap to abdo |  |  |  |  |
61320 | C |  | Open skull for drainage |  |  |  |  |
61321 | C |  | Open skull for drainage |  |  |  |  |
61322 | C |  | Decompressive craniotomy |  |  |  |  |
61323 | C |  | Decompressive lobectomy |  |  |  |  |
61330 | T |  | Decompress eye socket | 0256 | 37.1513 | $2,204.93 |  | $440.99
61332 | C |  | Explore/biopsy eye socket |  |  |  |  |
61333 | C |  | Explore orbit/remove lesion |  |  |  |  |
61334 | T |  | Explore orbit/remove object | 0256 | 37.1513 | $2,204.93 |  | $440.99
61340 | C |  | Relieve cranial pressure |  |  |  |  |
61343 | C |  | Incise skull (press relief) |  |  |  |  |
61345 | C |  | Relieve cranial pressure |  |  |  |  |
61440 | C |  | Incise skull for surgery |  |  |  |  |
61450 | C |  | Incise skull for surgery |  |  |  |  |
61458 | C |  | Incise skull for brain wound |  |  |  |  |
61460 | C |  | Incise skull for surgery |  |  |  |  |
61470 | C |  | Incise skull for surgery |  |  |  |  |
61480 | C |  | Incise skull for surgery |  |  |  |  |
61490 | C |  | Incise skull for surgery |  |  |  |  |
61500 | C |  | Removal of skull lesion |  |  |  |  |
61501 | C |  | Remove infected skull bone |  |  |  |  |
61510 | C |  | Removal of brain lesion |  |  |  |  |
61512 | C |  | Remove brain lining lesion |  |  |  |  |
61514 | C |  | Removal of brain abscess |  |  |  |  |
61516 | C |  | Removal of brain lesion |  |  |  |  |
61517 | C |  | Implt brain chemotx add-on |  |  |  |  |
61518 | C |  | Removal of brain lesion |  |  |  |  |
61519 | C |  | Remove brain lining lesion |  |  |  |  |
61520 | C |  | Removal of brain lesion |  |  |  |  |
61521 | C |  | Removal of brain lesion |  |  |  |  |
61522 | C |  | Removal of brain abscess |  |  |  |  |
61524 | C |  | Removal of brain lesion |  |  |  |  |
61526 | C |  | Removal of brain lesion |  |  |  |  |
61530 | C |  | Removal of brain lesion |  |  |  |  |
61531 | C |  | Implant brain electrodes |  |  |  |  |
61533 | C |  | Implant brain electrodes |  |  |  |  |
61534 | C |  | Removal of brain lesion |  |  |  |  |
61535 | C |  | Remove brain electrodes |  |  |  |  |
61536 | C |  | Removal of brain lesion |  |  |  |  |
61537 | C |  | Removal of brain tissue |  |  |  |  |
61538 | C |  | Removal of brain tissue |  |  |  |  |
61539 | C |  | Removal of brain tissue |  |  |  |  |
61540 | C |  | Removal of brain tissue |  |  |  |  |
61541 | C |  | Incision of brain tissue |  |  |  |  |
61542 | C |  | Removal of brain tissue |  |  |  |  |
61543 | C |  | Removal of brain tissue |  |  |  |  |
61544 | C |  | Remove & treat brain lesion |  |  |  |  |
61545 | C |  | Excision of brain tumor |  |  |  |  |
61546 | C |  | Removal of pituitary gland |  |  |  |  |
61548 | C |  | Removal of pituitary gland |  |  |  |  |
61550 | C |  | Release of skull seams |  |  |  |  |
61552 | C |  | Release of skull seams |  |  |  |  |
61556 | C |  | Incise skull/sutures |  |  |  |  |
61557 | C |  | Incise skull/sutures |  |  |  |  |
61558 | C |  | Excision of skull/sutures |  |  |  |  |
61559 | C |  | Excision of skull/sutures |  |  |  |  |
61563 | C |  | Excision of skull tumor |  |  |  |  |
61564 | C |  | Excision of skull tumor |  |  |  |  |
61566 | C |  | Removal of brain tissue |  |  |  |  |
61567 | C |  | Incision of brain tissue |  |  |  |  |
61570 | C |  | Remove foreign body, brain |  |  |  |  |
61571 | C |  | Incise skull for brain wound |  |  |  |  |
61575 | C |  | Skull base/brainstem surgery |  |  |  |  |
61576 | C |  | Skull base/brainstem surgery |  |  |  |  |
61580 | C |  | Craniofacial approach, skull |  |  |  |  |
61581 | C |  | Craniofacial approach, skull |  |  |  |  |
61582 | C |  | Craniofacial approach, skull |  |  |  |  |
61583 | C |  | Craniofacial approach, skull |  |  |  |  |
61584 | C |  | Orbitocranial approach/skull |  |  |  |  |
61585 | C |  | Orbitocranial approach/skull |  |  |  |  |
61586 | C |  | Resect nasopharynx, skull |  |  |  |  |
61590 | C |  | Infratemporal approach/skull |  |  |  |  |
61591 | C |  | Infratemporal approach/skull |  |  |  |  |
61592 | C |  | Orbitocranial approach/skull |  |  |  |  |
61595 | C |  | Transtemporal approach/skull |  |  |  |  |
61596 | C |  | Transcochlear approach/skull |  |  |  |  |
61597 | C |  | Transcondylar approach/skull |  |  |  |  |
61598 | C |  | Transpetrosal approach/skull |  |  |  |  |
61600 | C |  | Resect/excise cranial lesion |  |  |  |  |
61601 | C |  | Resect/excise cranial lesion |  |  |  |  |
61605 | C |  | Resect/excise cranial lesion |  |  |  |  |
61606 | C |  | Resect/excise cranial lesion |  |  |  |  |
61607 | C |  | Resect/excise cranial lesion |  |  |  |  |
61608 | C |  | Resect/excise cranial lesion |  |  |  |  |
61609 | C |  | Transect artery, sinus |  |  |  |  |
61610 | C |  | Transect artery, sinus |  |  |  |  |
61611 | C |  | Transect artery, sinus |  |  |  |  |
61612 | C |  | Transect artery, sinus |  |  |  |  |
61613 | C |  | Remove aneurysm, sinus |  |  |  |  |
61615 | C |  | Resect/excise lesion, skull |  |  |  |  |
61616 | C |  | Resect/excise lesion, skull |  |  |  |  |
61618 | C |  | Repair dura |  |  |  |  |
61619 | C |  | Repair dura |  |  |  |  |
61623 | T |  | Endovasc tempory vessel occl | 0081 | 34.2913 | $2,035.19 |  | $407.04
61624 | C |  | Occlusion/embolization cath |  |  |  |  |
61626 | T |  | Transcath occlusion, non-cns | 0081 | 34.2913 | $2,035.19 |  | $407.04
61680 | C |  | Intracranial vessel surgery |  |  |  |  |
61682 | C |  | Intracranial vessel surgery |  |  |  |  |
61684 | C |  | Intracranial vessel surgery |  |  |  |  |
61686 | C |  | Intracranial vessel surgery |  |  |  |  |
61690 | C |  | Intracranial vessel surgery |  |  |  |  |
61692 | C |  | Intracranial vessel surgery |  |  |  |  |
61697 | C |  | Brain aneurysm repr, complx |  |  |  |  |
61698 | C |  | Brain aneurysm repr, complx |  |  |  |  |
61700 | C |  | Brain aneurysm repr, simple |  |  |  |  |
61702 | C |  | Inner skull vessel surgery |  |  |  |  |
61703 | C |  | Clamp neck artery |  |  |  |  |
61705 | C |  | Revise circulation to head |  |  |  |  |
61708 | C |  | Revise circulation to head |  |  |  |  |
61710 | C |  | Revise circulation to head |  |  |  |  |
61711 | C |  | Fusion of skull arteries |  |  |  |  |
61720 | C |  | Incise skull/brain surgery |  |  |  |  |
61735 | C |  | Incise skull/brain surgery |  |  |  |  |
61750 | C |  | Incise skull/brain biopsy |  |  |  |  |
61751 | C |  | Brain biopsy w/ ct/mr guide |  |  |  |  |
61760 | C |  | Implant brain electrodes |  |  |  |  |
61770 | C |  | Incise skull for treatment |  |  |  |  |
61790 | T |  | Treat trigeminal nerve | 0220 | 17.2800 | $1,025.57 |  | $205.11
61791 | T |  | Treat trigeminal tract | 0206 | 5.4672 | $324.48 | $75.55 | $64.90
61793 | E |  | Focus radiation beam |  |  |  |  |
61795 | S |  | Brain surgery using computer | 0302 | 4.5936 | $272.63 | $103.28 | $54.53
61850 | C |  | Implant neuroelectrodes |  |  |  |  |
61860 | C |  | Implant neuroelectrodes |  |  |  |  |
61863 | C |  | Implant neuroelectrode |  |  |  |  |
61864 | C |  | Implant neuroelectrde, add'l |  |  |  |  |
61867 | C |  | Implant neuroelectrode |  |  |  |  |
61868 | C |  | Implant neuroelectrde, add'l |  |  |  |  |
61870 | C |  | Implant neuroelectrodes |  |  |  |  |
61875 | C |  | Implant neuroelectrodes |  |  |  |  |
61880 | T |  | Revise/remove neuroelectrode | 0687 | 19.1476 | $1,136.41 | $454.56 | $227.28
61885 | S |  | Implant neurostim one array | 0039 | 180.5784 | $10,717.33 |  | $2,143.47
61886 | T |  | Implant neurostim arrays | 0315 | 289.3306 | $17,171.77 |  | $3,434.35
61888 | T |  | Revise/remove neuroreceiver | 0688 | 42.8494 | $2,543.11 | $1,017.24 | $508.62
62000 | C |  | Treat skull fracture |  |  |  |  |
62005 | C |  | Treat skull fracture |  |  |  |  |
62010 | C |  | Treatment of head injury |  |  |  |  |
62100 | C |  | Repair brain fluid leakage |  |  |  |  |
62115 | C |  | Reduction of skull defect |  |  |  |  |
62116 | C |  | Reduction of skull defect |  |  |  |  |
62117 | C |  | Reduction of skull defect |  |  |  |  |
62120 | C |  | Repair skull cavity lesion |  |  |  |  |
62121 | C |  | Incise skull repair |  |  |  |  |
62140 | C |  | Repair of skull defect |  |  |  |  |
62141 | C |  | Repair of skull defect |  |  |  |  |
62142 | C |  | Remove skull plate/flap |  |  |  |  |
62143 | C |  | Replace skull plate/flap |  |  |  |  |
62145 | C |  | Repair of skull & brain |  |  |  |  |
62146 | C |  | Repair of skull with graft |  |  |  |  |
62147 | C |  | Repair of skull with graft |  |  |  |  |
62148 | C |  | Retr bone flap to fix skull |  |  |  |  |
62160 | T |  | Neuroendoscopy add-on | 0122 | 6.9405 | $411.92 | $84.48 | $82.38
62161 | C |  | Dissect brain w/scope |  |  |  |  |
62162 | C |  | Remove colloid cyst w/scope |  |  |  |  |
62163 | C |  | Neuroendoscopy w/fb removal |  |  |  |  |
62164 | C |  | Remove brain tumor w/scope |  |  |  |  |
62165 | C |  | Remove pituit tumor w/scope |  |  |  |  |
62180 | C |  | Establish brain cavity shunt |  |  |  |  |
62190 | C |  | Establish brain cavity shunt |  |  |  |  |
62192 | C |  | Establish brain cavity shunt |  |  |  |  |
62194 | T |  | Replace/irrigate catheter | 0427 | 10.1516 | $602.50 | $123.56 | $120.50
62200 | C |  | Establish brain cavity shunt |  |  |  |  |
62201 | C |  | Establish brain cavity shunt |  |  |  |  |
62220 | C |  | Establish brain cavity shunt |  |  |  |  |
62223 | C |  | Establish brain cavity shunt |  |  |  |  |
62225 | T |  | Replace/irrigate catheter | 0427 | 10.1516 | $602.50 | $123.56 | $120.50
62230 | T |  | Replace/revise brain shunt | 0224 | 40.4614 | $2,401.38 |  | $480.28
62252 | S |  | Csf shunt reprogram | 0691 | 2.5138 | $149.19 | $59.67 | $29.84
62256 | C |  | Remove brain cavity shunt |  |  |  |  |
62258 | C |  | Replace brain cavity shunt |  |  |  |  |
62263 | T |  | Lysis epidural adhesions | 0203 | 10.3544 | $614.53 | $245.81 | $122.91
62264 | T |  | Epidural lysis on single day | 0203 | 10.3544 | $614.53 | $245.81 | $122.91
62268 | T |  | Drain spinal cord cyst | 0212 | 2.9606 | $175.71 | $70.28 | $35.14
62269 | T |  | Needle biopsy, spinal cord | 0685 | 5.9902 | $355.52 | $115.47 | $71.10
62270 | T |  | Spinal fluid tap, diagnostic | 0204 | 2.1811 | $129.45 | $40.13 | $25.89
62272 | T |  | Drain cerebro spinal fluid | 0204 | 2.1811 | $129.45 | $40.13 | $25.89
62273 | T |  | Treat epidural spine lesion | 0206 | 5.4672 | $324.48 | $75.55 | $64.90
62280 | T |  | Treat spinal cord lesion | 0207 | 5.9837 | $355.13 | $86.92 | $71.03
62281 | T |  | Treat spinal cord lesion | 0207 | 5.9837 | $355.13 | $86.92 | $71.03
62282 | T |  | Treat spinal canal lesion | 0207 | 5.9837 | $355.13 | $86.92 | $71.03
62284 | N |  | Injection for myelogram |  |  |  |  |
62287 | T |  | Percutaneous diskectomy | 0221 | 29.7854 | $1,767.76 | $463.62 | $353.55
62290 | N |  | Inject for spine disk x-ray |  |  |  |  |
62291 | N |  | Inject for spine disk x-ray |  |  |  |  |
62292 | T |  | Injection into disk lesion | 0212 | 2.9606 | $175.71 | $70.28 | $35.14
62294 | T |  | Injection into spinal artery | 0212 | 2.9606 | $175.71 | $70.28 | $35.14
62310 | T |  | Inject spine c/t | 0207 | 5.9837 | $355.13 | $86.92 | $71.03
62311 | T |  | Inject spine l/s (cd) | 0207 | 5.9837 | $355.13 | $86.92 | $71.03
62318 | T |  | Inject spine w/cath, c/t | 0207 | 5.9837 | $355.13 | $86.92 | $71.03
62319 | T |  | Inject spine w/cath l/s (cd) | 0207 | 5.9837 | $355.13 | $86.92 | $71.03
62350 | T |  | Implant spinal canal cath | 0223 | 27.9956 | $1,661.54 |  | $332.31
62351 | T |  | Implant spinal canal cath | 0208 | 42.1492 | $2,501.56 |  | $500.31
62355 | T |  | Remove spinal canal catheter | 0203 | 10.3544 | $614.53 | $245.81 | $122.91
62360 | T |  | Insert spine infusion device | 0226 | 138.2406 | $8,204.58 |  | $1,640.92
62361 | T |  | Implant spine infusion pump | 0227 | 135.8740 | $8,064.12 |  | $1,612.82
62362 | T |  | Implant spine infusion pump | 0227 | 135.8740 | $8,064.12 |  | $1,612.82
62365 | T |  | Remove spine infusion device | 0221 | 29.7854 | $1,767.76 | $463.62 | $353.55
62367 | S |  | Analyze spine infusion pump | 0691 | 2.5138 | $149.19 | $59.67 | $29.84
62368 | S |  | Analyze spine infusion pump | 0691 | 2.5138 | $149.19 | $59.67 | $29.84
63001 | T |  | Removal of spinal lamina | 0208 | 42.1492 | $2,501.56 |  | $500.31
63003 | T |  | Removal of spinal lamina | 0208 | 42.1492 | $2,501.56 |  | $500.31
63005 | T |  | Removal of spinal lamina | 0208 | 42.1492 | $2,501.56 |  | $500.31
63011 | T |  | Removal of spinal lamina | 0208 | 42.1492 | $2,501.56 |  | $500.31
63012 | T |  | Removal of spinal lamina | 0208 | 42.1492 | $2,501.56 |  | $500.31
63015 | T |  | Removal of spinal lamina | 0208 | 42.1492 | $2,501.56 |  | $500.31
63016 | T |  | Removal of spinal lamina | 0208 | 42.1492 | $2,501.56 |  | $500.31
63017 | T |  | Removal of spinal lamina | 0208 | 42.1492 | $2,501.56 |  | $500.31
63020 | T |  | Neck spine disk surgery | 0208 | 42.1492 | $2,501.56 |  | $500.31
63030 | T |  | Low back disk surgery | 0208 | 42.1492 | $2,501.56 |  | $500.31
63035 | T |  | Spinal disk surgery add-on | 0208 | 42.1492 | $2,501.56 |  | $500.31
63040 | T |  | Laminotomy, single cervical | 0208 | 42.1492 | $2,501.56 |  | $500.31
63042 | T |  | Laminotomy, single lumbar | 0208 | 42.1492 | $2,501.56 |  | $500.31
63043 | C |  | Laminotomy, add'l cervical |  |  |  |  |
63044 | C |  | Laminotomy, add'l lumbar |  |  |  |  |
63045 | T |  | Removal of spinal lamina | 0208 | 42.1492 | $2,501.56 |  | $500.31
63046 | T |  | Removal of spinal lamina | 0208 | 42.1492 | $2,501.56 |  | $500.31
63047 | T |  | Removal of spinal lamina | 0208 | 42.1492 | $2,501.56 |  | $500.31
63048 | T |  | Remove spinal lamina add-on | 0208 | 42.1492 | $2,501.56 |  | $500.31
63050 | C |  | Cervical laminoplasty |  |  |  |  |
63051 | C |  | C-laminoplasty w/graft/plate |  |  |  |  |
63055 | T |  | Decompress spinal cord | 0208 | 42.1492 | $2,501.56 |  | $500.31
63056 | T |  | Decompress spinal cord | 0208 | 42.1492 | $2,501.56 |  | $500.31
63057 | T |  | Decompress spine cord add-on | 0208 | 42.1492 | $2,501.56 |  | $500.31
63064 | T |  | Decompress spinal cord | 0208 | 42.1492 | $2,501.56 |  | $500.31
63066 | T |  | Decompress spine cord add-on | 0208 | 42.1492 | $2,501.56 |  | $500.31
63075 | C |  | Neck spine disk surgery |  |  |  |  |
63076 | C |  | Neck spine disk surgery |  |  |  |  |
63077 | C |  | Spine disk surgery, thorax |  |  |  |  |
63078 | C |  | Spine disk surgery, thorax |  |  |  |  |
63081 | C |  | Removal of vertebral body |  |  |  |  |
63082 | C |  | Remove vertebral body add-on |  |  |  |  |
63085 | C |  | Removal of vertebral body |  |  |  |  |
63086 | C |  | Remove vertebral body add-on |  |  |  |  |
63087 | C |  | Removal of vertebral body |  |  |  |  |
63088 | C |  | Remove vertebral body add-on |  |  |  |  |
63090 | C |  | Removal of vertebral body |  |  |  |  |
63091 | C |  | Remove vertebral body add-on |  |  |  |  |
63101 | C |  | Removal of vertebral body |  |  |  |  |
63102 | C |  | Removal of vertebral body |  |  |  |  |
63103 | C |  | Remove vertebral body add-on |  |  |  |  |
63170 | C |  | Incise spinal cord tract(s) |  |  |  |  |
63172 | C |  | Drainage of spinal cyst |  |  |  |  |
63173 | C |  | Drainage of spinal cyst |  |  |  |  |
63180 | C |  | Revise spinal cord ligaments |  |  |  |  |
63182 | C |  | Revise spinal cord ligaments |  |  |  |  |
63185 | C |  | Incise spinal column/nerves |  |  |  |  |
63190 | C |  | Incise spinal column/nerves |  |  |  |  |
63191 | C |  | Incise spinal column/nerves |  |  |  |  |
63194 | C |  | Incise spinal column & cord |  |  |  |  |
63195 | C |  | Incise spinal column & cord |  |  |  |  |
63196 | C |  | Incise spinal column & cord |  |  |  |  |
63197 | C |  | Incise spinal column & cord |  |  |  |  |
63198 | C |  | Incise spinal column & cord |  |  |  |  |
63199 | C |  | Incise spinal column & cord |  |  |  |  |
63200 | C |  | Release of spinal cord |  |  |  |  |
63250 | C |  | Revise spinal cord vessels |  |  |  |  |
63251 | C |  | Revise spinal cord vessels |  |  |  |  |
63252 | C |  | Revise spinal cord vessels |  |  |  |  |
63265 | C |  | Excise intraspinal lesion |  |  |  |  |
63266 | C |  | Excise intraspinal lesion |  |  |  |  |
63267 | C |  | Excise intraspinal lesion |  |  |  |  |
63268 | C |  | Excise intraspinal lesion |  |  |  |  |
63270 | C |  | Excise intraspinal lesion |  |  |  |  |
63271 | C |  | Excise intraspinal lesion |  |  |  |  |
63272 | C |  | Excise intraspinal lesion |  |  |  |  |
63273 | C |  | Excise intraspinal lesion |  |  |  |  |
63275 | C |  | Biopsy/excise spinal tumor |  |  |  |  |
63276 | C |  | Biopsy/excise spinal tumor |  |  |  |  |
63277 | C |  | Biopsy/excise spinal tumor |  |  |  |  |
63278 | C |  | Biopsy/excise spinal tumor |  |  |  |  |
63280 | C |  | Biopsy/excise spinal tumor |  |  |  |  |
63281 | C |  | Biopsy/excise spinal tumor |  |  |  |  |
63282 | C |  | Biopsy/excise spinal tumor |  |  |  |  |
63283 | C |  | Biopsy/excise spinal tumor |  |  |  |  |
63285 | C |  | Biopsy/excise spinal tumor |  |  |  |  |
63286 | C |  | Biopsy/excise spinal tumor |  |  |  |  |
63287 | C |  | Biopsy/excise spinal tumor |  |  |  |  |
63290 | C |  | Biopsy/excise spinal tumor |  |  |  |  |
63295 | C |  | Repair of laminectomy defect |  |  |  |  |
63300 | C |  | Removal of vertebral body |  |  |  |  |
63301 | C |  | Removal of vertebral body |  |  |  |  |
63302 | C |  | Removal of vertebral body |  |  |  |  |
63303 | C |  | Removal of vertebral body |  |  |  |  |
63304 | C |  | Removal of vertebral body |  |  |  |  |
63305 | C |  | Removal of vertebral body |  |  |  |  |
63306 | C |  | Removal of vertebral body |  |  |  |  |
63307 | C |  | Removal of vertebral body |  |  |  |  |
63308 | C |  | Remove vertebral body add-on |  |  |  |  |
63600 | T |  | Remove spinal cord lesion | 0220 | 17.2800 | $1,025.57 |  | $205.11
63610 | T |  | Stimulation of spinal cord | 0220 | 17.2800 | $1,025.57 |  | $205.11
63615 | T |  | Remove lesion of spinal cord | 0220 | 17.2800 | $1,025.57 |  | $205.11
63650 | S |  | Implant neuroelectrodes | 0040 | 55.0791 | $3,268.94 |  | $653.79
63655 | S |  | Implant neuroelectrodes | 0040 | 55.0791 | $3,268.94 |  | $653.79
63660 | T |  | Revise/remove neuroelectrode | 0687 | 19.1476 | $1,136.41 | $454.56 | $227.28
63685 | T |  | Implant neuroreceiver | 0222 | 178.2870 | $10,581.33 |  | $2,116.27
63688 | T |  | Revise/remove neuroreceiver | 0688 | 42.8494 | $2,543.11 | $1,017.24 | $508.62
63700 | C |  | Repair of spinal herniation |  |  |  |  |
63702 | C |  | Repair of spinal herniation |  |  |  |  |
63704 | C |  | Repair of spinal herniation |  |  |  |  |
63706 | C |  | Repair of spinal herniation |  |  |  |  |
63707 | C |  | Repair spinal fluid leakage |  |  |  |  |
63709 | C |  | Repair spinal fluid leakage |  |  |  |  |
63710 | C |  | Graft repair of spine defect |  |  |  |  |
63740 | C |  | Install spinal shunt |  |  |  |  |
63741 | T |  | Install spinal shunt | 0228 | 51.4916 | $3,056.03 |  | $611.21
63744 | T |  | Revision of spinal shunt | 0228 | 51.4916 | $3,056.03 |  | $611.21
63746 | T |  | Removal of spinal shunt | 0109 | 10.9933 | $652.45 | $131.49 | $130.49
64400 | T |  | N block inj, trigeminal | 0204 | 2.1811 | $129.45 | $40.13 | $25.89
64402 | T |  | N block inj, facial | 0204 | 2.1811 | $129.45 | $40.13 | $25.89
64405 | T |  | N block inj, occipital | 0204 | 2.1811 | $129.45 | $40.13 | $25.89
64408 | T |  | N block inj, vagus | 0204 | 2.1811 | $129.45 | $40.13 | $25.89
64410 | T |  | N block inj, phrenic | 0206 | 5.4672 | $324.48 | $75.55 | $64.90
64412 | T |  | N block inj, spinal accessor | 0206 | 5.4672 | $324.48 | $75.55 | $64.90
64413 | T |  | N block inj, cervical plexus | 0204 | 2.1811 | $129.45 | $40.13 | $25.89
64415 | T |  | Injection for nerve block | 0204 | 2.1811 | $129.45 | $40.13 | $25.89
64416 | T |  | N block cont infuse, b plex | 0204 | 2.1811 | $129.45 | $40.13 | $25.89
64417 | T |  | N block inj, axillary | 0204 | 2.1811 | $129.45 | $40.13 | $25.89
64418 | T |  | N block inj, suprascapular | 0204 | 2.1811 | $129.45 | $40.13 | $25.89
64420 | T |  | N block inj, intercost, sng | 0204 | 2.1811 | $129.45 | $40.13 | $25.89
64421 | T |  | N block inj, intercost, mlt | 0206 | 5.4672 | $324.48 | $75.55 | $64.90
64425 | T |  | N block inj ilio-ing/hypogi | 0204 | 2.1811 | $129.45 | $40.13 | $25.89
64430 | T |  | N block inj, pudendal | 0204 | 2.1811 | $129.45 | $40.13 | $25.89
64435 | T |  | N block inj, paracervical | 0204 | 2.1811 | $129.45 | $40.13 | $25.89
64445 | T |  | Injection for nerve block | 0204 | 2.1811 | $129.45 | $40.13 | $25.89
64446 | T |  | N blk inj, sciatic, cont inf | 0206 | 5.4672 | $324.48 | $75.55 | $64.90
64447 | T |  | N block inj fem, single | 0204 | 2.1811 | $129.45 | $40.13 | $25.89
64448 | T |  | N block inj fem, cont inf | 0204 | 2.1811 | $129.45 | $40.13 | $25.89
64449 | T |  | N block inj, lumbar plexus | 0204 | 2.1811 | $129.45 | $40.13 | $25.89
64450 | T |  | N block, other peripheral | 0204 | 2.1811 | $129.45 | $40.13 | $25.89
64470 | T |  | Inj paravertebral c/t | 0207 | 5.9837 | $355.13 | $86.92 | $71.03
64472 | T |  | Inj paravertebral c/t add-on | 0206 | 5.4672 | $324.48 | $75.55 | $64.90
64475 | T |  | Inj paravertebral l/s | 0207 | 5.9837 | $355.13 | $86.92 | $71.03
64476 | T |  | Inj paravertebral l/s add-on | 0206 | 5.4672 | $324.48 | $75.55 | $64.90
64479 | T |  | Inj foramen epidural c/t | 0207 | 5.9837 | $355.13 | $86.92 | $71.03
64480 | T |  | Inj foramen epidural add-on | 0207 | 5.9837 | $355.13 | $86.92 | $71.03
64483 | T |  | Inj foramen epidural l/s | 0207 | 5.9837 | $355.13 | $86.92 | $71.03
64484 | T |  | Inj foramen epidural add-on | 0207 | 5.9837 | $355.13 | $86.92 | $71.03
64505 | T |  | N block, spenopalatine gangl | 0204 | 2.1811 | $129.45 | $40.13 | $25.89
64508 | T |  | N block, carotid sinus s/p | 0204 | 2.1811 | $129.45 | $40.13 | $25.89
64510 | T |  | N block, stellate ganglion | 0207 | 5.9837 | $355.13 | $86.92 | $71.03
64517 | T |  | N block inj, hypogas plxs | 0204 | 2.1811 | $129.45 | $40.13 | $25.89
64520 | T |  | N block, lumbar/thoracic | 0207 | 5.9837 | $355.13 | $86.92 | $71.03
64530 | T |  | N block inj, celiac pelus | 0207 | 5.9837 | $355.13 | $86.92 | $71.03
64550 | A |  | Apply neurostimulator |  |  |  |  |
64553 | S |  | Implant neuroelectrodes | 0225 | 233.6295 | $13,865.91 |  | $2,773.18
64555 | S |  | Implant neuroelectrodes | 0040 | 55.0791 | $3,268.94 |  | $653.79
64560 | S |  | Implant neuroelectrodes | 0040 | 55.0791 | $3,268.94 |  | $653.79
64561 | S |  | Implant neuroelectrodes | 0040 | 55.0791 | $3,268.94 |  | $653.79
64565 | S |  | Implant neuroelectrodes | 0040 | 55.0791 | $3,268.94 |  | $653.79
64573 | S |  | Implant neuroelectrodes | 0225 | 233.6295 | $13,865.91 |  | $2,773.18
64575 | S |  | Implant neuroelectrodes | 0040 | 55.0791 | $3,268.94 |  | $653.79
64577 | S |  | Implant neuroelectrodes | 0225 | 233.6295 | $13,865.91 |  | $2,773.18
64580 | S |  | Implant neuroelectrodes | 0040 | 55.0791 | $3,268.94 |  | $653.79
64581 | S |  | Implant neuroelectrodes | 0040 | 55.0791 | $3,268.94 |  | $653.79
64585 | T |  | Revise/remove neuroelectrode | 0687 | 19.1476 | $1,136.41 | $454.56 | $227.28
64590 | T |  | Implant neuroreceiver | 0222 | 178.2870 | $10,581.33 |  | $2,116.27
64595 | T |  | Revise/remove neuroreceiver | 0688 | 42.8494 | $2,543.11 | $1,017.24 | $508.62
64600 | T |  | Injection treatment of nerve | 0203 | 10.3544 | $614.53 | $245.81 | $122.91
64605 | T |  | Injection treatment of nerve | 0203 | 10.3544 | $614.53 | $245.81 | $122.91
64610 | T |  | Injection treatment of nerve | 0203 | 10.3544 | $614.53 | $245.81 | $122.91
64612 | T |  | Destroy nerve, face muscle | 0204 | 2.1811 | $129.45 | $40.13 | $25.89
64613 | T |  | Destroy nerve, spine muscle | 0204 | 2.1811 | $129.45 | $40.13 | $25.89
64614 | T |  | Destroy nerve, extrem musc | 0204 | 2.1811 | $129.45 | $40.13 | $25.89
64620 | T |  | Injection treatment of nerve | 0203 | 10.3544 | $614.53 | $245.81 | $122.91
64622 | T |  | Destr paravertebrl nerve l/s | 0203 | 10.3544 | $614.53 | $245.81 | $122.91
64623 | T |  | Destr paravertebral n add-on | 0207 | 5.9837 | $355.13 | $86.92 | $71.03
64626 | T |  | Destr paravertebrl nerve c/t | 0203 | 10.3544 | $614.53 | $245.81 | $122.91
64627 | T |  | Destr paravertebral n add-on | 0207 | 5.9837 | $355.13 | $86.92 | $71.03
64630 | T |  | Injection treatment of nerve | 0206 | 5.4672 | $324.48 | $75.55 | $64.90
64640 | T |  | Injection treatment of nerve | 0206 | 5.4672 | $324.48 | $75.55 | $64.90
64680 | T |  | Injection treatment of nerve | 0207 | 5.9837 | $355.13 | $86.92 | $71.03
64681 | T |  | Injection treatment of nerve | 0203 | 10.3544 | $614.53 | $245.81 | $122.91
64702 | T |  | Revise finger/toe nerve | 0220 | 17.2800 | $1,025.57 |  | $205.11
64704 | T |  | Revise hand/foot nerve | 0220 | 17.2800 | $1,025.57 |  | $205.11
64708 | T |  | Revise arm/leg nerve | 0220 | 17.2800 | $1,025.57 |  | $205.11
64712 | T |  | Revision of sciatic nerve | 0220 | 17.2800 | $1,025.57 |  | $205.11
64713 | T |  | Revision of arm nerve(s) | 0220 | 17.2800 | $1,025.57 |  | $205.11
64714 | T |  | Revise low back nerve(s) | 0220 | 17.2800 | $1,025.57 |  | $205.11
64716 | T |  | Revision of cranial nerve | 0220 | 17.2800 | $1,025.57 |  | $205.11
64718 | T |  | Revise ulnar nerve at elbow | 0220 | 17.2800 | $1,025.57 |  | $205.11
64719 | T |  | Revise ulnar nerve at wrist | 0220 | 17.2800 | $1,025.57 |  | $205.11
64721 | T |  | Carpal tunnel surgery | 0220 | 17.2800 | $1,025.57 |  | $205.11
64722 | T |  | Relieve pressure on nerve(s) | 0220 | 17.2800 | $1,025.57 |  | $205.11
64726 | T |  | Release foot/toe nerve | 0220 | 17.2800 | $1,025.57 |  | $205.11
64727 | T |  | Internal nerve revision | 0220 | 17.2800 | $1,025.57 |  | $205.11
64732 | T |  | Incision of brow nerve | 0220 | 17.2800 | $1,025.57 |  | $205.11
64734 | T |  | Incision of cheek nerve | 0220 | 17.2800 | $1,025.57 |  | $205.11
64736 | T |  | Incision of chin nerve | 0220 | 17.2800 | $1,025.57 |  | $205.11
64738 | T |  | Incision of jaw nerve | 0220 | 17.2800 | $1,025.57 |  | $205.11
64740 | T |  | Incision of tongue nerve | 0220 | 17.2800 | $1,025.57 |  | $205.11
64742 | T |  | Incision of facial nerve | 0220 | 17.2800 | $1,025.57 |  | $205.11
64744 | T |  | Incise nerve, back of head | 0220 | 17.2800 | $1,025.57 |  | $205.11
64746 | T |  | Incise diaphragm nerve | 0220 | 17.2800 | $1,025.57 |  | $205.11
64752 | C |  | Incision of vagus nerve |  |  |  |  |
64755 | C |  | Incision of stomach nerves |  |  |  |  |
64760 | C |  | Incision of vagus nerve |  |  |  |  |
64761 | T |  | Incision of pelvis nerve | 0220 | 17.2800 | $1,025.57 |  | $205.11
64763 | T |  | Incise hip/thigh nerve | 0220 | 17.2800 | $1,025.57 |  | $205.11
64766 | T |  | Incise hip/thigh nerve | 0221 | 29.7854 | $1,767.76 | $463.62 | $353.55
64771 | T |  | Sever cranial nerve | 0220 | 17.2800 | $1,025.57 |  | $205.11
64772 | T |  | Incision of spinal nerve | 0220 | 17.2800 | $1,025.57 |  | $205.11
64774 | T |  | Remove skin nerve lesion | 0220 | 17.2800 | $1,025.57 |  | $205.11
64776 | T |  | Remove digit nerve lesion | 0220 | 17.2800 | $1,025.57 |  | $205.11
64778 | T |  | Digit nerve surgery add-on | 0220 | 17.2800 | $1,025.57 |  | $205.11
64782 | T |  | Remove limb nerve lesion | 0220 | 17.2800 | $1,025.57 |  | $205.11
64783 | T |  | Limb nerve surgery add-on | 0220 | 17.2800 | $1,025.57 |  | $205.11
64784 | T |  | Remove nerve lesion | 0220 | 17.2800 | $1,025.57 |  | $205.11
64786 | T |  | Remove sciatic nerve lesion | 0221 | 29.7854 | $1,767.76 | $463.62 | $353.55
64787 | T |  | Implant nerve end | 0220 | 17.2800 | $1,025.57 |  | $205.11
64788 | T |  | Remove skin nerve lesion | 0220 | 17.2800 | $1,025.57 |  | $205.11
64790 | T |  | Removal of nerve lesion | 0220 | 17.2800 | $1,025.57 |  | $205.11
64792 | T |  | Removal of nerve lesion | 0221 | 29.7854 | $1,767.76 | $463.62 | $353.55
64795 | T |  | Biopsy of nerve | 0220 | 17.2800 | $1,025.57 |  | $205.11
64802 | T |  | Remove sympathetic nerves | 0220 | 17.2800 | $1,025.57 |  | $205.11
64804 | C |  | Remove sympathetic nerves |  |  |  |  |
64809 | C |  | Remove sympathetic nerves |  |  |  |  |
64818 | C |  | Remove sympathetic nerves |  |  |  |  |
64820 | T |  | Remove sympathetic nerves | 0220 | 17.2800 | $1,025.57 |  | $205.11
64821 | T |  | Remove sympathetic nerves | 0054 | 25.2562 | $1,498.96 |  | $299.79
64822 | T |  | Remove sympathetic nerves | 0054 | 25.2562 | $1,498.96 |  | $299.79
64823 | T |  | Remove sympathetic nerves | 0054 | 25.2562 | $1,498.96 |  | $299.79
64831 | T |  | Repair of digit nerve | 0221 | 29.7854 | $1,767.76 | $463.62 | $353.55
64832 | T |  | Repair nerve add-on | 0221 | 29.7854 | $1,767.76 | $463.62 | $353.55
64834 | T |  | Repair of hand or foot nerve | 0221 | 29.7854 | $1,767.76 | $463.62 | $353.55
64835 | T |  | Repair of hand or foot nerve | 0221 | 29.7854 | $1,767.76 | $463.62 | $353.55
64836 | T |  | Repair of hand or foot nerve | 0221 | 29.7854 | $1,767.76 | $463.62 | $353.55
64837 | T |  | Repair nerve add-on | 0221 | 29.7854 | $1,767.76 | $463.62 | $353.55
64840 | T |  | Repair of leg nerve | 0221 | 29.7854 | $1,767.76 | $463.62 | $353.55
64856 | T |  | Repair/transpose nerve | 0221 | 29.7854 | $1,767.76 | $463.62 | $353.55
64857 | T |  | Repair arm/leg nerve | 0221 | 29.7854 | $1,767.76 | $463.62 | $353.55
64858 | T |  | Repair sciatic nerve | 0221 | 29.7854 | $1,767.76 | $463.62 | $353.55
64859 | T |  | Nerve surgery | 0221 | 29.7854 | $1,767.76 | $463.62 | $353.55
64861 | T |  | Repair of arm nerves | 0221 | 29.7854 | $1,767.76 | $463.62 | $353.55
64862 | T |  | Repair of low back nerves | 0221 | 29.7854 | $1,767.76 | $463.62 | $353.55
64864 | T |  | Repair of facial nerve | 0221 | 29.7854 | $1,767.76 | $463.62 | $353.55
64865 | T |  | Repair of facial nerve | 0221 | 29.7854 | $1,767.76 | $463.62 | $353.55
64866 | C |  | Fusion of facial/other nerve |  |  |  |  |
64868 | C |  | Fusion of facial/other nerve |  |  |  |  |
64870 | T |  | Fusion of facial/other nerve | 0221 | 29.7854 | $1,767.76 | $463.62 | $353.55
64872 | T |  | Subsequent repair of nerve | 0221 | 29.7854 | $1,767.76 | $463.62 | $353.55
64874 | T |  | Repair & revise nerve add-on | 0221 | 29.7854 | $1,767.76 | $463.62 | $353.55
64876 | T |  | Repair nerve/shorten bone | 0221 | 29.7854 | $1,767.76 | $463.62 | $353.55
64885 | T |  | Nerve graft, head or neck | 0221 | 29.7854 | $1,767.76 | $463.62 | $353.55
64886 | T |  | Nerve graft, head or neck | 0221 | 29.7854 | $1,767.76 | $463.62 | $353.55
64890 | T |  | Nerve graft, hand or foot | 0221 | 29.7854 | $1,767.76 | $463.62 | $353.55
64891 | T |  | Nerve graft, hand or foot | 0221 | 29.7854 | $1,767.76 | $463.62 | $353.55
64892 | T |  | Nerve graft, arm or leg | 0221 | 29.7854 | $1,767.76 | $463.62 | $353.55
64893 | T |  | Nerve graft, arm or leg | 0221 | 29.7854 | $1,767.76 | $463.62 | $353.55
64895 | T |  | Nerve graft, hand or foot | 0221 | 29.7854 | $1,767.76 | $463.62 | $353.55
64896 | T |  | Nerve graft, hand or foot | 0221 | 29.7854 | $1,767.76 | $463.62 | $353.55
64897 | T |  | Nerve graft, arm or leg | 0221 | 29.7854 | $1,767.76 | $463.62 | $353.55
64898 | T |  | Nerve graft, arm or leg | 0221 | 29.7854 | $1,767.76 | $463.62 | $353.55
64901 | T |  | Nerve graft add-on | 0221 | 29.7854 | $1,767.76 | $463.62 | $353.55
64902 | T |  | Nerve graft add-on | 0221 | 29.7854 | $1,767.76 | $463.62 | $353.55
64905 | T |  | Nerve pedicle transfer | 0221 | 29.7854 | $1,767.76 | $463.62 | $353.55
64907 | T |  | Nerve pedicle transfer | 0221 | 29.7854 | $1,767.76 | $463.62 | $353.55
64999 | T |  | Nervous system surgery | 0204 | 2.1811 | $129.45 | $40.13 | $25.89
65091 | T |  | Revise eye | 0242 | 30.4081 | $1,804.72 | $597.36 | $360.94
65093 | T |  | Revise eye with implant | 0241 | 23.1980 | $1,376.80 | $384.47 | $275.36
65101 | T |  | Removal of eye | 0242 | 30.4081 | $1,804.72 | $597.36 | $360.94
65103 | T |  | Remove eye/insert implant | 0242 | 30.4081 | $1,804.72 | $597.36 | $360.94
65105 | T |  | Remove eye/attach implant | 0242 | 30.4081 | $1,804.72 | $597.36 | $360.94
65110 | T |  | Removal of eye | 0242 | 30.4081 | $1,804.72 | $597.36 | $360.94
65112 | T |  | Remove eye/revise socket | 0242 | 30.4081 | $1,804.72 | $597.36 | $360.94
65114 | T |  | Remove eye/revise socket | 0242 | 30.4081 | $1,804.72 | $597.36 | $360.94
65125 | T |  | Revise ocular implant | 0240 | 18.0686 | $1,072.37 | $315.31 | $214.47
65130 | T |  | Insert ocular implant | 0241 | 23.1980 | $1,376.80 | $384.47 | $275.36
65135 | T |  | Insert ocular implant | 0241 | 23.1980 | $1,376.80 | $384.47 | $275.36
65140 | T |  | Attach ocular implant | 0242 | 30.4081 | $1,804.72 | $597.36 | $360.94
65150 | T |  | Revise ocular implant | 0241 | 23.1980 | $1,376.80 | $384.47 | $275.36
65155 | T |  | Reinsert ocular implant | 0242 | 30.4081 | $1,804.72 | $597.36 | $360.94
65175 | T |  | Removal of ocular implant | 0240 | 18.0686 | $1,072.37 | $315.31 | $214.47
65205 | S |  | Remove foreign body from eye | 0698 | 1.2381 | $73.48 | $16.48 | $14.70
65210 | S |  | Remove foreign body from eye | 0698 | 1.2381 | $73.48 | $16.48 | $14.70
65220 | S |  | Remove foreign body from eye | 0698 | 1.2381 | $73.48 | $16.48 | $14.70
65222 | S |  | Remove foreign body from eye | 0698 | 1.2381 | $73.48 | $16.48 | $14.70
65235 | T |  | Remove foreign body from eye | 0233 | 14.8995 | $884.29 | $266.33 | $176.86
65260 | T |  | Remove foreign body from eye | 0236 | 16.9458 | $1,005.73 |  | $201.15
65265 | T |  | Remove foreign body from eye | 0237 | 28.8091 | $1,709.82 |  | $341.96
65270 | T |  | Repair of eye wound | 0240 | 18.0686 | $1,072.37 | $315.31 | $214.47
65272 | T |  | Repair of eye wound | 0234 | 21.8746 | $1,298.26 | $511.31 | $259.65
65273 | C |  | Repair of eye wound |  |  |  |  |
65275 | T |  | Repair of eye wound | 0234 | 21.8746 | $1,298.26 | $511.31 | $259.65
65280 | T |  | Repair of eye wound | 0236 | 16.9458 | $1,005.73 |  | $201.15
65285 | T |  | Repair of eye wound | 0672 | 36.7611 | $2,181.77 |  | $436.35
65286 | T |  | Repair of eye wound | 0232 | 6.6429 | $394.26 | $103.17 | $78.85
65290 | T |  | Repair of eye socket wound | 0243 | 22.0667 | $1,309.66 | $431.39 | $261.93
65400 | T |  | Removal of eye lesion | 0233 | 14.8995 | $884.29 | $266.33 | $176.86
65410 | T |  | Biopsy of cornea | 0233 | 14.8995 | $884.29 | $266.33 | $176.86
65420 | T |  | Removal of eye lesion | 0233 | 14.8995 | $884.29 | $266.33 | $176.86
65426 | T |  | Removal of eye lesion | 0234 | 21.8746 | $1,298.26 | $511.31 | $259.65
65430 | S |  | Corneal smear | 0698 | 1.2381 | $73.48 | $16.48 | $14.70
65435 | T |  | Curette/treat cornea | 0239 | 6.8784 | $408.23 |  | $81.65
65436 | T |  | Curette/treat cornea | 0233 | 14.8995 | $884.29 | $266.33 | $176.86
65450 | S |  | Treatment of corneal lesion | 0231 | 1.9191 | $113.90 |  | $22.78
65600 | T |  | Revision of cornea | 0240 | 18.0686 | $1,072.37 | $315.31 | $214.47
65710 | T |  | Corneal transplant | 0244 | 38.1985 | $2,267.08 | $803.26 | $453.42
65730 | T |  | Corneal transplant | 0244 | 38.1985 | $2,267.08 | $803.26 | $453.42
65750 | T |  | Corneal transplant | 0244 | 38.1985 | $2,267.08 | $803.26 | $453.42
65755 | T |  | Corneal transplant | 0244 | 38.1985 | $2,267.08 | $803.26 | $453.42
65760 | E |  | Revision of cornea |  |  |  |  |
65765 | E |  | Revision of cornea |  |  |  |  |
65767 | E |  | Corneal tissue transplant |  |  |  |  |
65770 | T |  | Revise cornea with implant | 0244 | 38.1985 | $2,267.08 | $803.26 | $453.42
65771 | E |  | Radial keratotomy |  |  |  |  |
65772 | T |  | Correction of astigmatism | 0233 | 14.8995 | $884.29 | $266.33 | $176.86
65775 | T |  | Correction of astigmatism | 0233 | 14.8995 | $884.29 | $266.33 | $176.86
65780 | T |  | Ocular reconst, transplant | 0244 | 38.1985 | $2,267.08 | $803.26 | $453.42
65781 | T |  | Ocular reconst, transplant | 0244 | 38.1985 | $2,267.08 | $803.26 | $453.42
65782 | T |  | Ocular reconst, transplant | 0244 | 38.1985 | $2,267.08 | $803.26 | $453.42
65800 | T |  | Drainage of eye | 0233 | 14.8995 | $884.29 | $266.33 | $176.86
65805 | T |  | Drainage of eye | 0233 | 14.8995 | $884.29 | $266.33 | $176.86
65810 | T |  | Drainage of eye | 0234 | 21.8746 | $1,298.26 | $511.31 | $259.65
65815 | T |  | Drainage of eye | 0234 | 21.8746 | $1,298.26 | $511.31 | $259.65
65820 | T |  | Relieve inner eye pressure | 0232 | 6.6429 | $394.26 | $103.17 | $78.85
65850 | T |  | Incision of eye | 0234 | 21.8746 | $1,298.26 | $511.31 | $259.65
65855 | T |  | Laser surgery of eye | 0247 | 5.0102 | $297.36 | $104.31 | $59.47
65860 | T |  | Incise inner eye adhesions | 0247 | 5.0102 | $297.36 | $104.31 | $59.47
65865 | T |  | Incise inner eye adhesions | 0233 | 14.8995 | $884.29 | $266.33 | $176.86
65870 | T |  | Incise inner eye adhesions | 0234 | 21.8746 | $1,298.26 | $511.31 | $259.65
65875 | T |  | Incise inner eye adhesions | 0234 | 21.8746 | $1,298.26 | $511.31 | $259.65
65880 | T |  | Incise inner eye adhesions | 0233 | 14.8995 | $884.29 | $266.33 | $176.86
65900 | T |  | Remove eye lesion | 0233 | 14.8995 | $884.29 | $266.33 | $176.86
65920 | T |  | Remove implant of eye | 0234 | 21.8746 | $1,298.26 | $511.31 | $259.65
65930 | T |  | Remove blood clot from eye | 0234 | 21.8746 | $1,298.26 | $511.31 | $259.65
66020 | T |  | Injection treatment of eye | 0233 | 14.8995 | $884.29 | $266.33 | $176.86
66030 | T |  | Injection treatment of eye | 0232 | 6.6429 | $394.26 | $103.17 | $78.85
66130 | T |  | Remove eye lesion | 0234 | 21.8746 | $1,298.26 | $511.31 | $259.65
66150 | T |  | Glaucoma surgery | 0234 | 21.8746 | $1,298.26 | $511.31 | $259.65
66155 | T |  | Glaucoma surgery | 0234 | 21.8746 | $1,298.26 | $511.31 | $259.65
66160 | T |  | Glaucoma surgery | 0234 | 21.8746 | $1,298.26 | $511.31 | $259.65
66165 | T |  | Glaucoma surgery | 0234 | 21.8746 | $1,298.26 | $511.31 | $259.65
66170 | T |  | Glaucoma surgery | 0234 | 21.8746 | $1,298.26 | $511.31 | $259.65
66172 | T |  | Incision of eye | 0673 | 29.1257 | $1,728.61 | $649.56 | $345.72
66180 | T |  | Implant eye shunt | 0673 | 29.1257 | $1,728.61 | $649.56 | $345.72
66185 | T |  | Revise eye shunt | 0673 | 29.1257 | $1,728.61 | $649.56 | $345.72
66220 | T |  | Repair eye lesion | 0672 | 36.7611 | $2,181.77 |  | $436.35
66225 | T |  | Repair/graft eye lesion | 0673 | 29.1257 | $1,728.61 | $649.56 | $345.72
66250 | T |  | Follow-up surgery of eye | 0233 | 14.8995 | $884.29 | $266.33 | $176.86
66500 | T |  | Incision of iris | 0232 | 6.6429 | $394.26 | $103.17 | $78.85
66505 | T |  | Incision of iris | 0232 | 6.6429 | $394.26 | $103.17 | $78.85
66600 | T |  | Remove iris and lesion | 0234 | 21.8746 | $1,298.26 | $511.31 | $259.65
66605 | T |  | Removal of iris | 0234 | 21.8746 | $1,298.26 | $511.31 | $259.65
66625 | T |  | Removal of iris | 0232 | 6.6429 | $394.26 | $103.17 | $78.85
66630 | T |  | Removal of iris | 0234 | 21.8746 | $1,298.26 | $511.31 | $259.65
66635 | T |  | Removal of iris | 0234 | 21.8746 | $1,298.26 | $511.31 | $259.65
66680 | T |  | Repair iris & ciliary body | 0234 | 21.8746 | $1,298.26 | $511.31 | $259.65
66682 | T |  | Repair iris & ciliary body | 0234 | 21.8746 | $1,298.26 | $511.31 | $259.65
66700 | T |  | Destruction, ciliary body | 0233 | 14.8995 | $884.29 | $266.33 | $176.86
66710 | T |  | Destruction, ciliary body | 0233 | 14.8995 | $884.29 | $266.33 | $176.86
66711 | T |  | Ciliary endoscopic ablation | 0233 | 14.8995 | $884.29 | $266.33 | $176.86
66720 | T |  | Destruction, ciliary body | 0233 | 14.8995 | $884.29 | $266.33 | $176.86
66740 | T |  | Destruction, ciliary body | 0234 | 21.8746 | $1,298.26 | $511.31 | $259.65
66761 | T |  | Revision of iris | 0247 | 5.0102 | $297.36 | $104.31 | $59.47
66762 | T |  | Revision of iris | 0247 | 5.0102 | $297.36 | $104.31 | $59.47
66770 | T |  | Removal of inner eye lesion | 0247 | 5.0102 | $297.36 | $104.31 | $59.47
66820 | T |  | Incision, secondary cataract | 0232 | 6.6429 | $394.26 | $103.17 | $78.85
66821 | T |  | After cataract laser surgery | 0247 | 5.0102 | $297.36 | $104.31 | $59.47
66825 | T |  | Reposition intraocular lens | 0234 | 21.8746 | $1,298.26 | $511.31 | $259.65
66830 | T |  | Removal of lens lesion | 0232 | 6.6429 | $394.26 | $103.17 | $78.85
66840 | T |  | Removal of lens material | 0245 | 13.3020 | $789.47 | $220.91 | $157.89
66850 | T |  | Removal of lens material | 0249 | 27.8103 | $1,650.54 | $524.67 | $330.11
66852 | T |  | Removal of lens material | 0249 | 27.8103 | $1,650.54 | $524.67 | $330.11
66920 | T |  | Extraction of lens | 0249 | 27.8103 | $1,650.54 | $524.67 | $330.11
66930 | T |  | Extraction of lens | 0249 | 27.8103 | $1,650.54 | $524.67 | $330.11
66940 | T |  | Extraction of lens | 0245 | 13.3020 | $789.47 | $220.91 | $157.89
66982 | T |  | Cataract surgery, complex | 0246 | 23.3535 | $1,386.03 | $495.96 | $277.21
66983 | T |  | Cataract surg w/iol, 1 stage | 0246 | 23.3535 | $1,386.03 | $495.96 | $277.21
66984 | T |  | Cataract surg w/iol, 1 stage | 0246 | 23.3535 | $1,386.03 | $495.96 | $277.21
66985 | T |  | Insert lens prosthesis | 0246 | 23.3535 | $1,386.03 | $495.96 | $277.21
66986 | T |  | Exchange lens prosthesis | 0246 | 23.3535 | $1,386.03 | $495.96 | $277.21
66990 | N |  | Ophthalmic endoscope add-on |  |  |  |  |
66999 | T |  | Eye surgery procedure | 0232 | 6.6429 | $394.26 | $103.17 | $78.85
67005 | T |  | Partial removal of eye fluid | 0237 | 28.8091 | $1,709.82 |  | $341.96
67010 | T |  | Partial removal of eye fluid | 0237 | 28.8091 | $1,709.82 |  | $341.96
67015 | T |  | Release of eye fluid | 0237 | 28.8091 | $1,709.82 |  | $341.96
67025 | T |  | Replace eye fluid | 0237 | 28.8091 | $1,709.82 |  | $341.96
67027 | T |  | Implant eye drug system | 0672 | 36.7611 | $2,181.77 |  | $436.35
67028 | T |  | Injection eye drug | 0235 | 4.6382 | $275.28 | $67.10 | $55.06
67030 | T |  | Incise inner eye strands | 0236 | 16.9458 | $1,005.73 |  | $201.15
67031 | T |  | Laser surgery, eye strands | 0247 | 5.0102 | $297.36 | $104.31 | $59.47
67036 | T |  | Removal of inner eye fluid | 0672 | 36.7611 | $2,181.77 |  | $436.35
67038 | T |  | Strip retinal membrane | 0672 | 36.7611 | $2,181.77 |  | $436.35
67039 | T |  | Laser treatment of retina | 0672 | 36.7611 | $2,181.77 |  | $436.35
67040 | T |  | Laser treatment of retina | 0672 | 36.7611 | $2,181.77 |  | $436.35
67101 | T |  | Repair detached retina | 0236 | 16.9458 | $1,005.73 |  | $201.15
67105 | T |  | Repair detached retina | 0248 | 4.6557 | $276.32 | $93.57 | $55.26
67107 | T |  | Repair detached retina | 0672 | 36.7611 | $2,181.77 |  | $436.35
67108 | T |  | Repair detached retina | 0672 | 36.7611 | $2,181.77 |  | $436.35
67110 | T |  | Repair detached retina | 0236 | 16.9458 | $1,005.73 |  | $201.15
67112 | T |  | Rerepair detached retina | 0672 | 36.7611 | $2,181.77 |  | $436.35
67115 | T |  | Release encircling material | 0236 | 16.9458 | $1,005.73 |  | $201.15
67120 | T |  | Remove eye implant material | 0236 | 16.9458 | $1,005.73 |  | $201.15
67121 | T |  | Remove eye implant material | 0237 | 28.8091 | $1,709.82 |  | $341.96
67141 | T |  | Treatment of retina | 0235 | 4.6382 | $275.28 | $67.10 | $55.06
67145 | T |  | Treatment of retina | 0248 | 4.6557 | $276.32 | $93.57 | $55.26
67208 | T |  | Treatment of retinal lesion | 0236 | 16.9458 | $1,005.73 |  | $201.15
67210 | T |  | Treatment of retinal lesion | 0248 | 4.6557 | $276.32 | $93.57 | $55.26
67218 | T |  | Treatment of retinal lesion | 0236 | 16.9458 | $1,005.73 |  | $201.15
67220 | T |  | Treatment of choroid lesion | 0235 | 4.6382 | $275.28 | $67.10 | $55.06
67221 | T |  | Ocular photodynamic ther | 0235 | 4.6382 | $275.28 | $67.10 | $55.06
67225 | T |  | Eye photodynamic ther add-on | 0235 | 4.6382 | $275.28 | $67.10 | $55.06
67227 | T |  | Treatment of retinal lesion | 0236 | 16.9458 | $1,005.73 |  | $201.15
67228 | T |  | Treatment of retinal lesion | 0248 | 4.6557 | $276.32 | $93.57 | $55.26
67250 | T |  | Reinforce eye wall | 0240 | 18.0686 | $1,072.37 | $315.31 | $214.47
67255 | T |  | Reinforce/graft eye wall | 0237 | 28.8091 | $1,709.82 |  | $341.96
67299 | T |  | Eye surgery procedure | 0235 | 4.6382 | $275.28 | $67.10 | $55.06
67311 | T |  | Revise eye muscle | 0243 | 22.0667 | $1,309.66 | $431.39 | $261.93
67312 | T |  | Revise two eye muscles | 0243 | 22.0667 | $1,309.66 | $431.39 | $261.93
67314 | T |  | Revise eye muscle | 0243 | 22.0667 | $1,309.66 | $431.39 | $261.93
67316 | T |  | Revise two eye muscles | 0243 | 22.0667 | $1,309.66 | $431.39 | $261.93
67318 | T |  | Revise eye muscle(s) | 0243 | 22.0667 | $1,309.66 | $431.39 | $261.93
67320 | T |  | Revise eye muscle(s) add-on | 0243 | 22.0667 | $1,309.66 | $431.39 | $261.93
67331 | T |  | Eye surgery follow-up add-on | 0243 | 22.0667 | $1,309.66 | $431.39 | $261.93
67332 | T |  | Rerevise eye muscles add-on | 0243 | 22.0667 | $1,309.66 | $431.39 | $261.93
67334 | T |  | Revise eye muscle w/suture | 0243 | 22.0667 | $1,309.66 | $431.39 | $261.93
67335 | T |  | Eye suture during surgery | 0243 | 22.0667 | $1,309.66 | $431.39 | $261.93
67340 | T |  | Revise eye muscle add-on | 0243 | 22.0667 | $1,309.66 | $431.39 | $261.93
67343 | T |  | Release eye tissue | 0243 | 22.0667 | $1,309.66 | $431.39 | $261.93
67345 | T |  | Destroy nerve of eye muscle | 0238 | 2.5816 | $153.22 |  | $30.64
67350 | T |  | Biopsy eye muscle | 0699 | 9.9723 | $591.86 |  | $118.37
67399 | T |  | Eye muscle surgery procedure | 0243 | 22.0667 | $1,309.66 | $431.39 | $261.93
67400 | T |  | Explore/biopsy eye socket | 0241 | 23.1980 | $1,376.80 | $384.47 | $275.36
67405 | T |  | Explore/drain eye socket | 0241 | 23.1980 | $1,376.80 | $384.47 | $275.36
67412 | T |  | Explore/treat eye socket | 0241 | 23.1980 | $1,376.80 | $384.47 | $275.36
67413 | T |  | Explore/treat eye socket | 0241 | 23.1980 | $1,376.80 | $384.47 | $275.36
67414 | T |  | Explr/decompress eye socket | 0242 | 30.4081 | $1,804.72 | $597.36 | $360.94
67415 | T |  | Aspiration, orbital contents | 0240 | 18.0686 | $1,072.37 | $315.31 | $214.47
67420 | T |  | Explore/treat eye socket | 0242 | 30.4081 | $1,804.72 | $597.36 | $360.94
67430 | T |  | Explore/treat eye socket | 0242 | 30.4081 | $1,804.72 | $597.36 | $360.94
67440 | T |  | Explore/drain eye socket | 0242 | 30.4081 | $1,804.72 | $597.36 | $360.94
67445 | T |  | Explr/decompress eye socket | 0242 | 30.4081 | $1,804.72 | $597.36 | $360.94
67450 | T |  | Explore/biopsy eye socket | 0242 | 30.4081 | $1,804.72 | $597.36 | $360.94
67500 | S |  | Inject/treat eye socket | 0231 | 1.9191 | $113.90 |  | $22.78
67505 | T |  | Inject/treat eye socket | 0238 | 2.5816 | $153.22 |  | $30.64
67515 | T |  | Inject/treat eye socket | 0238 | 2.5816 | $153.22 |  | $30.64
67550 | T |  | Insert eye socket implant | 0242 | 30.4081 | $1,804.72 | $597.36 | $360.94
67560 | T |  | Revise eye socket implant | 0241 | 23.1980 | $1,376.80 | $384.47 | $275.36
67570 | T |  | Decompress optic nerve | 0242 | 30.4081 | $1,804.72 | $597.36 | $360.94
67599 | T |  | Orbit surgery procedure | 0238 | 2.5816 | $153.22 |  | $30.64
67700 | T |  | Drainage of eyelid abscess | 0238 | 2.5816 | $153.22 |  | $30.64
67710 | T |  | Incision of eyelid | 0239 | 6.8784 | $408.23 |  | $81.65
67715 | T |  | Incision of eyelid fold | 0240 | 18.0686 | $1,072.37 | $315.31 | $214.47
67800 | T |  | Remove eyelid lesion | 0238 | 2.5816 | $153.22 |  | $30.64
67801 | T |  | Remove eyelid lesions | 0239 | 6.8784 | $408.23 |  | $81.65
67805 | T |  | Remove eyelid lesions | 0238 | 2.5816 | $153.22 |  | $30.64
67808 | T |  | Remove eyelid lesion(s) | 0240 | 18.0686 | $1,072.37 | $315.31 | $214.47
67810 | T |  | Biopsy of eyelid | 0238 | 2.5816 | $153.22 |  | $30.64
67820 | S |  | Revise eyelashes | 0698 | 1.2381 | $73.48 | $16.48 | $14.70
67825 | T |  | Revise eyelashes | 0238 | 2.5816 | $153.22 |  | $30.64
67830 | T |  | Revise eyelashes | 0239 | 6.8784 | $408.23 |  | $81.65
67835 | T |  | Revise eyelashes | 0240 | 18.0686 | $1,072.37 | $315.31 | $214.47
67840 | T |  | Remove eyelid lesion | 0239 | 6.8784 | $408.23 |  | $81.65
67850 | T |  | Treat eyelid lesion | 0239 | 6.8784 | $408.23 |  | $81.65
67875 | T |  | Closure of eyelid by suture | 0239 | 6.8784 | $408.23 |  | $81.65
67880 | T |  | Revision of eyelid | 0233 | 14.8995 | $884.29 | $266.33 | $176.86
67882 | T |  | Revision of eyelid | 0240 | 18.0686 | $1,072.37 | $315.31 | $214.47
67900 | T |  | Repair brow defect | 0240 | 18.0686 | $1,072.37 | $315.31 | $214.47
67901 | T |  | Repair eyelid defect | 0240 | 18.0686 | $1,072.37 | $315.31 | $214.47
67902 | T |  | Repair eyelid defect | 0240 | 18.0686 | $1,072.37 | $315.31 | $214.47
67903 | T |  | Repair eyelid defect | 0240 | 18.0686 | $1,072.37 | $315.31 | $214.47
67904 | T |  | Repair eyelid defect | 0240 | 18.0686 | $1,072.37 | $315.31 | $214.47
67906 | T |  | Repair eyelid defect | 0240 | 18.0686 | $1,072.37 | $315.31 | $214.47
67908 | T |  | Repair eyelid defect | 0240 | 18.0686 | $1,072.37 | $315.31 | $214.47
67909 | T |  | Revise eyelid defect | 0240 | 18.0686 | $1,072.37 | $315.31 | $214.47
67911 | T |  | Revise eyelid defect | 0240 | 18.0686 | $1,072.37 | $315.31 | $214.47
67912 | T |  | Correction eyelid w/ implant | 0240 | 18.0686 | $1,072.37 | $315.31 | $214.47
67914 | T |  | Repair eyelid defect | 0240 | 18.0686 | $1,072.37 | $315.31 | $214.47
67915 | T |  | Repair eyelid defect | 0240 | 18.0686 | $1,072.37 | $315.31 | $214.47
67916 | T |  | Repair eyelid defect | 0240 | 18.0686 | $1,072.37 | $315.31 | $214.47
67917 | T |  | Repair eyelid defect | 0240 | 18.0686 | $1,072.37 | $315.31 | $214.47
67921 | T |  | Repair eyelid defect | 0240 | 18.0686 | $1,072.37 | $315.31 | $214.47
67922 | T |  | Repair eyelid defect | 0240 | 18.0686 | $1,072.37 | $315.31 | $214.47
67923 | T |  | Repair eyelid defect | 0240 | 18.0686 | $1,072.37 | $315.31 | $214.47
67924 | T |  | Repair eyelid defect | 0240 | 18.0686 | $1,072.37 | $315.31 | $214.47
67930 | T |  | Repair eyelid wound | 0240 | 18.0686 | $1,072.37 | $315.31 | $214.47
67935 | T |  | Repair eyelid wound | 0240 | 18.0686 | $1,072.37 | $315.31 | $214.47
67938 | S |  | Remove eyelid foreign body | 0698 | 1.2381 | $73.48 | $16.48 | $14.70
67950 | T |  | Revision of eyelid | 0240 | 18.0686 | $1,072.37 | $315.31 | $214.47
67961 | T |  | Revision of eyelid | 0240 | 18.0686 | $1,072.37 | $315.31 | $214.47
67966 | T |  | Revision of eyelid | 0240 | 18.0686 | $1,072.37 | $315.31 | $214.47
67971 | T |  | Reconstruction of eyelid | 0241 | 23.1980 | $1,376.80 | $384.47 | $275.36
67973 | T |  | Reconstruction of eyelid | 0241 | 23.1980 | $1,376.80 | $384.47 | $275.36
67974 | T |  | Reconstruction of eyelid | 0241 | 23.1980 | $1,376.80 | $384.47 | $275.36
67975 | T |  | Reconstruction of eyelid | 0240 | 18.0686 | $1,072.37 | $315.31 | $214.47
67999 | T |  | Revision of eyelid | 0238 | 2.5816 | $153.22 |  | $30.64
68020 | T |  | Incise/drain eyelid lining | 0240 | 18.0686 | $1,072.37 | $315.31 | $214.47
68040 | S |  | Treatment of eyelid lesions | 0698 | 1.2381 | $73.48 | $16.48 | $14.70
68100 | T |  | Biopsy of eyelid lining | 0232 | 6.6429 | $394.26 | $103.17 | $78.85
68110 | T |  | Remove eyelid lining lesion | 0699 | 9.9723 | $591.86 |  | $118.37
68115 | T |  | Remove eyelid lining lesion | 0240 | 18.0686 | $1,072.37 | $315.31 | $214.47
68130 | T |  | Remove eyelid lining lesion | 0233 | 14.8995 | $884.29 | $266.33 | $176.86
68135 | T |  | Remove eyelid lining lesion | 0239 | 6.8784 | $408.23 |  | $81.65
68200 | S |  | Treat eyelid by injection | 0230 | 0.7823 | $46.43 | $14.97 | $9.29
68320 | T |  | Revise/graft eyelid lining | 0240 | 18.0686 | $1,072.37 | $315.31 | $214.47
68325 | T |  | Revise/graft eyelid lining | 0242 | 30.4081 | $1,804.72 | $597.36 | $360.94
68326 | T |  | Revise/graft eyelid lining | 0241 | 23.1980 | $1,376.80 | $384.47 | $275.36
68328 | T |  | Revise/graft eyelid lining | 0241 | 23.1980 | $1,376.80 | $384.47 | $275.36
68330 | T |  | Revise eyelid lining | 0234 | 21.8746 | $1,298.26 | $511.31 | $259.65
68335 | T |  | Revise/graft eyelid lining | 0241 | 23.1980 | $1,376.80 | $384.47 | $275.36
68340 | T |  | Separate eyelid adhesions | 0240 | 18.0686 | $1,072.37 | $315.31 | $214.47
68360 | T |  | Revise eyelid lining | 0234 | 21.8746 | $1,298.26 | $511.31 | $259.65
68362 | T |  | Revise eyelid lining | 0234 | 21.8746 | $1,298.26 | $511.31 | $259.65
68371 | T |  | Harvest eye tissue, alograft | 0233 | 14.8995 | $884.29 | $266.33 | $176.86
68399 | T |  | Eyelid lining surgery | 0238 | 2.5816 | $153.22 |  | $30.64
68400 | T |  | Incise/drain tear gland | 0238 | 2.5816 | $153.22 |  | $30.64
68420 | T |  | Incise/drain tear sac | 0240 | 18.0686 | $1,072.37 | $315.31 | $214.47
68440 | T |  | Incise tear duct opening | 0238 | 2.5816 | $153.22 |  | $30.64
68500 | T |  | Removal of tear gland | 0241 | 23.1980 | $1,376.80 | $384.47 | $275.36
68505 | T |  | Partial removal, tear gland | 0241 | 23.1980 | $1,376.80 | $384.47 | $275.36
68510 | T |  | Biopsy of tear gland | 0240 | 18.0686 | $1,072.37 | $315.31 | $214.47
68520 | T |  | Removal of tear sac | 0241 | 23.1980 | $1,376.80 | $384.47 | $275.36
68525 | T |  | Biopsy of tear sac | 0240 | 18.0686 | $1,072.37 | $315.31 | $214.47
68530 | T |  | Clearance of tear duct | 0240 | 18.0686 | $1,072.37 | $315.31 | $214.47
68540 | T |  | Remove tear gland lesion | 0241 | 23.1980 | $1,376.80 | $384.47 | $275.36
68550 | T |  | Remove tear gland lesion | 0242 | 30.4081 | $1,804.72 | $597.36 | $360.94
68700 | T |  | Repair tear ducts | 0241 | 23.1980 | $1,376.80 | $384.47 | $275.36
68705 | T |  | Revise tear duct opening | 0238 | 2.5816 | $153.22 |  | $30.64
68720 | T |  | Create tear sac drain | 0242 | 30.4081 | $1,804.72 | $597.36 | $360.94
68745 | T |  | Create tear duct drain | 0241 | 23.1980 | $1,376.80 | $384.47 | $275.36
68750 | T |  | Create tear duct drain | 0242 | 30.4081 | $1,804.72 | $597.36 | $360.94
68760 | S |  | Close tear duct opening | 0698 | 1.2381 | $73.48 | $16.48 | $14.70
68761 | S |  | Close tear duct opening | 0231 | 1.9191 | $113.90 |  | $22.78
68770 | T |  | Close tear system fistula | 0240 | 18.0686 | $1,072.37 | $315.31 | $214.47
68801 | S |  | Dilate tear duct opening | 0698 | 1.2381 | $73.48 | $16.48 | $14.70
68810 | S |  | Probe nasolacrimal duct | 0231 | 1.9191 | $113.90 |  | $22.78
68811 | T |  | Probe nasolacrimal duct | 0240 | 18.0686 | $1,072.37 | $315.31 | $214.47
68815 | T |  | Probe nasolacrimal duct | 0240 | 18.0686 | $1,072.37 | $315.31 | $214.47
68840 | S |  | Explore/irrigate tear ducts | 0231 | 1.9191 | $113.90 |  | $22.78
68850 | N |  | Injection for tear sac x-ray |  |  |  |  |
68899 | S |  | Tear duct system surgery | 0230 | 0.7823 | $46.43 | $14.97 | $9.29
69000 | T |  | Drain external ear lesion | 0006 | 1.5430 | $91.58 | $22.18 | $18.32
69005 | T |  | Drain external ear lesion | 0008 | 16.4242 | $974.78 |  | $194.96
69020 | T |  | Drain outer ear canal lesion | 0006 | 1.5430 | $91.58 | $22.18 | $18.32
69090 | E |  | Pierce earlobes |  |  |  |  |
69100 | T |  | Biopsy of external ear | 0019 | 4.0363 | $239.55 | $71.87 | $47.91
69105 | T |  | Biopsy of external ear canal | 0253 | 16.0627 | $953.32 | $282.29 | $190.66
69110 | T |  | Remove external ear, partial | 0021 | 14.9098 | $884.90 | $219.48 | $176.98
69120 | T |  | Removal of external ear | 0254 | 23.2980 | $1,382.74 | $321.35 | $276.55
69140 | T |  | Remove ear canal lesion(s) | 0254 | 23.2980 | $1,382.74 | $321.35 | $276.55
69145 | T |  | Remove ear canal lesion(s) | 0021 | 14.9098 | $884.90 | $219.48 | $176.98
69150 | T |  | Extensive ear canal surgery | 0252 | 7.8317 | $464.81 | $113.41 | $92.96
69155 | C |  | Extensive ear/neck surgery |  |  |  |  |
69200 | X |  | Clear outer ear canal | 0340 | 0.6355 | $37.72 |  | $7.54
69205 | T |  | Clear outer ear canal | 0022 | 19.5582 | $1,160.78 | $354.45 | $232.16
69210 | X |  | Remove impacted ear wax | 0340 | 0.6355 | $37.72 |  | $7.54
69220 | T |  | Clean out mastoid cavity | 0012 | 0.8458 | $50.20 | $11.18 | $10.04
69222 | T |  | Clean out mastoid cavity | 0253 | 16.0627 | $953.32 | $282.29 | $190.66
69300 | T |  | Revise external ear | 0254 | 23.2980 | $1,382.74 | $321.35 | $276.55
69310 | T |  | Rebuild outer ear canal | 0256 | 37.1513 | $2,204.93 |  | $440.99
69320 | T |  | Rebuild outer ear canal | 0256 | 37.1513 | $2,204.93 |  | $440.99
69399 | T |  | Outer ear surgery procedure | 0251 | 2.0010 | $118.76 |  | $23.75
69400 | T |  | Inflate middle ear canal | 0251 | 2.0010 | $118.76 |  | $23.75
69401 | T |  | Inflate middle ear canal | 0251 | 2.0010 | $118.76 |  | $23.75
69405 | T |  | Catheterize middle ear canal | 0252 | 7.8317 | $464.81 | $113.41 | $92.96
69410 | T |  | Inset middle ear (baffle) | 0251 | 2.0010 | $118.76 |  | $23.75
69420 | T |  | Incision of eardrum | 0251 | 2.0010 | $118.76 |  | $23.75
69421 | T |  | Incision of eardrum | 0253 | 16.0627 | $953.32 | $282.29 | $190.66
69424 | T |  | Remove ventilating tube | 0252 | 7.8317 | $464.81 | $113.41 | $92.96
69433 | T |  | Create eardrum opening | 0252 | 7.8317 | $464.81 | $113.41 | $92.96
69436 | T |  | Create eardrum opening | 0253 | 16.0627 | $953.32 | $282.29 | $190.66
69440 | T |  | Exploration of middle ear | 0254 | 23.2980 | $1,382.74 | $321.35 | $276.55
69450 | T |  | Eardrum revision | 0256 | 37.1513 | $2,204.93 |  | $440.99
69501 | T |  | Mastoidectomy | 0256 | 37.1513 | $2,204.93 |  | $440.99
69502 | T |  | Mastoidectomy | 0254 | 23.2980 | $1,382.74 | $321.35 | $276.55
69505 | T |  | Remove mastoid structures | 0256 | 37.1513 | $2,204.93 |  | $440.99
69511 | T |  | Extensive mastoid surgery | 0256 | 37.1513 | $2,204.93 |  | $440.99
69530 | T |  | Extensive mastoid surgery | 0256 | 37.1513 | $2,204.93 |  | $440.99
69535 | C |  | Remove part of temporal bone |  |  |  |  |
69540 | T |  | Remove ear lesion | 0253 | 16.0627 | $953.32 | $282.29 | $190.66
69550 | T |  | Remove ear lesion | 0256 | 37.1513 | $2,204.93 |  | $440.99
69552 | T |  | Remove ear lesion | 0256 | 37.1513 | $2,204.93 |  | $440.99
69554 | C |  | Remove ear lesion |  |  |  |  |
69601 | T |  | Mastoid surgery revision | 0256 | 37.1513 | $2,204.93 |  | $440.99
69602 | T |  | Mastoid surgery revision | 0256 | 37.1513 | $2,204.93 |  | $440.99
69603 | T |  | Mastoid surgery revision | 0256 | 37.1513 | $2,204.93 |  | $440.99
69604 | T |  | Mastoid surgery revision | 0256 | 37.1513 | $2,204.93 |  | $440.99
69605 | T |  | Mastoid surgery revision | 0256 | 37.1513 | $2,204.93 |  | $440.99
69610 | T |  | Repair of eardrum | 0254 | 23.2980 | $1,382.74 | $321.35 | $276.55
69620 | T |  | Repair of eardrum | 0254 | 23.2980 | $1,382.74 | $321.35 | $276.55
69631 | T |  | Repair eardrum structures | 0256 | 37.1513 | $2,204.93 |  | $440.99
69632 | T |  | Rebuild eardrum structures | 0256 | 37.1513 | $2,204.93 |  | $440.99
69633 | T |  | Rebuild eardrum structures | 0256 | 37.1513 | $2,204.93 |  | $440.99
69635 | T |  | Repair eardrum structures | 0256 | 37.1513 | $2,204.93 |  | $440.99
69636 | T |  | Rebuild eardrum structures | 0256 | 37.1513 | $2,204.93 |  | $440.99
69637 | T |  | Rebuild eardrum structures | 0256 | 37.1513 | $2,204.93 |  | $440.99
69641 | T |  | Revise middle ear & mastoid | 0256 | 37.1513 | $2,204.93 |  | $440.99
69642 | T |  | Revise middle ear & mastoid | 0256 | 37.1513 | $2,204.93 |  | $440.99
69643 | T |  | Revise middle ear & mastoid | 0256 | 37.1513 | $2,204.93 |  | $440.99
69644 | T |  | Revise middle ear & mastoid | 0256 | 37.1513 | $2,204.93 |  | $440.99
69645 | T |  | Revise middle ear & mastoid | 0256 | 37.1513 | $2,204.93 |  | $440.99
69646 | T |  | Revise middle ear & mastoid | 0256 | 37.1513 | $2,204.93 |  | $440.99
69650 | T |  | Release middle ear bone | 0254 | 23.2980 | $1,382.74 | $321.35 | $276.55
69660 | T |  | Revise middle ear bone | 0256 | 37.1513 | $2,204.93 |  | $440.99
69661 | T |  | Revise middle ear bone | 0256 | 37.1513 | $2,204.93 |  | $440.99
69662 | T |  | Revise middle ear bone | 0256 | 37.1513 | $2,204.93 |  | $440.99
69666 | T |  | Repair middle ear structures | 0256 | 37.1513 | $2,204.93 |  | $440.99
69667 | T |  | Repair middle ear structures | 0256 | 37.1513 | $2,204.93 |  | $440.99
69670 | T |  | Remove mastoid air cells | 0256 | 37.1513 | $2,204.93 |  | $440.99
69676 | T |  | Remove middle ear nerve | 0256 | 37.1513 | $2,204.93 |  | $440.99
69700 | T |  | Close mastoid fistula | 0256 | 37.1513 | $2,204.93 |  | $440.99
69710 | E |  | Implant/replace hearing aid |  |  |  |  |
69711 | T |  | Remove/repair hearing aid | 0256 | 37.1513 | $2,204.93 |  | $440.99
69714 | T |  | Implant temple bone w/stimul | 0256 | 37.1513 | $2,204.93 |  | $440.99
69715 | T |  | Temple bne implnt w/stimulat | 0256 | 37.1513 | $2,204.93 |  | $440.99
69717 | T |  | Temple bone implant revision | 0256 | 37.1513 | $2,204.93 |  | $440.99
69718 | T |  | Revise temple bone implant | 0256 | 37.1513 | $2,204.93 |  | $440.99
69720 | T |  | Release facial nerve | 0256 | 37.1513 | $2,204.93 |  | $440.99
69725 | T |  | Release facial nerve | 0256 | 37.1513 | $2,204.93 |  | $440.99
69740 | T |  | Repair facial nerve | 0256 | 37.1513 | $2,204.93 |  | $440.99
69745 | T |  | Repair facial nerve | 0256 | 37.1513 | $2,204.93 |  | $440.99
69799 | T |  | Middle ear surgery procedure | 0251 | 2.0010 | $118.76 |  | $23.75
69801 | T |  | Incise inner ear | 0256 | 37.1513 | $2,204.93 |  | $440.99
69802 | T |  | Incise inner ear | 0256 | 37.1513 | $2,204.93 |  | $440.99
69805 | T |  | Explore inner ear | 0256 | 37.1513 | $2,204.93 |  | $440.99
69806 | T |  | Explore inner ear | 0256 | 37.1513 | $2,204.93 |  | $440.99
69820 | T |  | Establish inner ear window | 0256 | 37.1513 | $2,204.93 |  | $440.99
69840 | T |  | Revise inner ear window | 0256 | 37.1513 | $2,204.93 |  | $440.99
69905 | T |  | Remove inner ear | 0256 | 37.1513 | $2,204.93 |  | $440.99
69910 | T |  | Remove inner ear & mastoid | 0256 | 37.1513 | $2,204.93 |  | $440.99
69915 | T |  | Incise inner ear nerve | 0256 | 37.1513 | $2,204.93 |  | $440.99
69930 | T |  | Implant cochlear device | 0259 | 364.6725 | $21,643.31 | $8,034.61 | $4,328.66
69949 | T |  | Inner ear surgery procedure | 0251 | 2.0010 | $118.76 |  | $23.75
69950 | C |  | Incise inner ear nerve |  |  |  |  |
69955 | T |  | Release facial nerve | 0256 | 37.1513 | $2,204.93 |  | $440.99
69960 | T |  | Release inner ear canal | 0256 | 37.1513 | $2,204.93 |  | $440.99
69970 | C |  | Remove inner ear lesion |  |  |  |  |
69979 | T |  | Temporal bone surgery | 0251 | 2.0010 | $118.76 |  | $23.75
69990 | N |  | Microsurgery add-on |  |  |  |  |
70010 | S |  | Contrast x-ray of brain | 0274 | 3.0275 | $179.68 | $71.87 | $35.94
70015 | S |  | Contrast x-ray of brain | 0274 | 3.0275 | $179.68 | $71.87 | $35.94
70030 | X |  | X-ray eye for foreign body | 0260 | 0.7521 | $44.64 | $17.85 | $8.93
70100 | X |  | X-ray exam of jaw | 0260 | 0.7521 | $44.64 | $17.85 | $8.93
70110 | X |  | X-ray exam of jaw | 0260 | 0.7521 | $44.64 | $17.85 | $8.93
70120 | X |  | X-ray exam of mastoids | 0260 | 0.7521 | $44.64 | $17.85 | $8.93
70130 | X |  | X-ray exam of mastoids | 0260 | 0.7521 | $44.64 | $17.85 | $8.93
70134 | X |  | X-ray exam of middle ear | 0261 | 1.2843 | $76.22 |  | $15.24
70140 | X |  | X-ray exam of facial bones | 0260 | 0.7521 | $44.64 | $17.85 | $8.93
70150 | X |  | X-ray exam of facial bones | 0260 | 0.7521 | $44.64 | $17.85 | $8.93
70160 | X |  | X-ray exam of nasal bones | 0260 | 0.7521 | $44.64 | $17.85 | $8.93
70170 | X |  | X-ray exam of tear duct | 0264 | 3.5080 | $208.20 | $79.41 | $41.64
70190 | X |  | X-ray exam of eye sockets | 0260 | 0.7521 | $44.64 | $17.85 | $8.93
70200 | X |  | X-ray exam of eye sockets | 0260 | 0.7521 | $44.64 | $17.85 | $8.93
70210 | X |  | X-ray exam of sinuses | 0260 | 0.7521 | $44.64 | $17.85 | $8.93
70220 | X |  | X-ray exam of sinuses | 0260 | 0.7521 | $44.64 | $17.85 | $8.93
70240 | X |  | X-ray exam, pituitary saddle | 0260 | 0.7521 | $44.64 | $17.85 | $8.93
70250 | X |  | X-ray exam of skull | 0260 | 0.7521 | $44.64 | $17.85 | $8.93
70260 | X |  | X-ray exam of skull | 0261 | 1.2843 | $76.22 |  | $15.24
70300 | X |  | X-ray exam of teeth | 0262 | 0.9186 | $54.52 |  | $10.90
70310 | X |  | X-ray exam of teeth | 0262 | 0.9186 | $54.52 |  | $10.90
70320 | X |  | Full mouth x-ray of teeth | 0262 | 0.9186 | $54.52 |  | $10.90
70328 | X |  | X-ray exam of jaw joint | 0260 | 0.7521 | $44.64 | $17.85 | $8.93
70330 | X |  | X-ray exam of jaw joints | 0260 | 0.7521 | $44.64 | $17.85 | $8.93
70332 | S |  | X-ray exam of jaw joint | 0275 | 3.5617 | $211.39 | $69.09 | $42.28
70336 | S |  | Magnetic image, jaw joint | 0335 | 5.1347 | $304.74 | $121.89 | $60.95
70350 | X |  | X-ray head for orthodontia | 0260 | 0.7521 | $44.64 | $17.85 | $8.93
70355 | X |  | Panoramic x-ray of jaws | 0260 | 0.7521 | $44.64 | $17.85 | $8.93
70360 | X |  | X-ray exam of neck | 0260 | 0.7521 | $44.64 | $17.85 | $8.93
70370 | X |  | Throat x-ray & fluoroscopy | 0272 | 1.3738 | $81.54 | $32.61 | $16.31
70371 | X |  | Speech evaluation, complex | 0272 | 1.3738 | $81.54 | $32.61 | $16.31
70373 | X |  | Contrast x-ray of larynx | 0263 | 1.7397 | $103.25 | $24.29 | $20.65
70380 | X |  | X-ray exam of salivary gland | 0260 | 0.7521 | $44.64 | $17.85 | $8.93
70390 | X |  | X-ray exam of salivary duct | 0263 | 1.7397 | $103.25 | $24.29 | $20.65
70450* | S |  | Ct head/brain w/o dye | 0332 | 3.2546 | $193.16 | $77.26 | $38.63
70460* | S |  | Ct head/brain w/dye | 0283 | 4.4053 | $261.45 | $104.58 | $52.29
70470* | S |  | Ct head/brain w/o & w/ dye | 0333 | 5.2596 | $312.16 | $124.86 | $62.43
70480* | S |  | Ct orbit/ear/fossa w/o dye | 0332 | 3.2546 | $193.16 | $77.26 | $38.63
70481* | S |  | Ct orbit/ear/fossa w/dye | 0283 | 4.4053 | $261.45 | $104.58 | $52.29
70482* | S |  | Ct orbit/ear/fossa w/o&w dye | 0333 | 5.2596 | $312.16 | $124.86 | $62.43
70486* | S |  | Ct maxillofacial w/o dye | 0332 | 3.2546 | $193.16 | $77.26 | $38.63
70487* | S |  | Ct maxillofacial w/dye | 0283 | 4.4053 | $261.45 | $104.58 | $52.29
70488* | S |  | Ct maxillofacial w/o & w dye | 0333 | 5.2596 | $312.16 | $124.86 | $62.43
70490* | S |  | Ct soft tissue neck w/o dye | 0332 | 3.2546 | $193.16 | $77.26 | $38.63
70491* | S |  | Ct soft tissue neck w/dye | 0283 | 4.4053 | $261.45 | $104.58 | $52.29
70492* | S |  | Ct sft tsue nck w/o & w/dye | 0333 | 5.2596 | $312.16 | $124.86 | $62.43
70496* | S |  | Ct angiography, head | 0662 | 5.1387 | $304.98 | $121.99 | $61.00
70498* | S |  | Ct angiography, neck | 0662 | 5.1387 | $304.98 | $121.99 | $61.00
70540* | S |  | Mri orbit/face/neck w/o dye | 0336 | 6.0467 | $358.87 | $143.54 | $71.77
70542* | S |  | Mri orbit/face/neck w/dye | 0284 | 6.3910 | $379.31 | $151.72 | $75.86
70543* | S |  | Mri orbt/fac/nck w/o & w dye | 0337 | 8.7547 | $519.59 | $207.83 | $103.92
70544* | S |  | Mr angiography head w/o dye | 0336 | 6.0467 | $358.87 | $143.54 | $71.77
70545* | S |  | Mr angiography head w/dye | 0284 | 6.3910 | $379.31 | $151.72 | $75.86
70546* | S |  | Mr angiograph head w/o&w dye | 0337 | 8.7547 | $519.59 | $207.83 | $103.92
70547* | S |  | Mr angiography neck w/o dye | 0336 | 6.0467 | $358.87 | $143.54 | $71.77
70548* | S |  | Mr angiography neck w/dye | 0284 | 6.3910 | $379.31 | $151.72 | $75.86
70549* | S |  | Mr angiograph neck w/o&w dye | 0337 | 8.7547 | $519.59 | $207.83 | $103.92
70551* | S |  | Mri brain w/o dye | 0336 | 6.0467 | $358.87 | $143.54 | $71.77
70552* | S |  | Mri brain w/ dye | 0284 | 6.3910 | $379.31 | $151.72 | $75.86
70553* | S |  | Mri brain w/o & w/ dye | 0337 | 8.7547 | $519.59 | $207.83 | $103.92
70557 | S |  | Mri brain w/o dye | 0336 | 6.0467 | $358.87 | $143.54 | $71.77
70558 | S |  | Mri brain w/ dye | 0284 | 6.3910 | $379.31 | $151.72 | $75.86
70559 | S |  | Mri brain w/o & w/ dye | 0337 | 8.7547 | $519.59 | $207.83 | $103.92
71010 | X |  | Chest x-ray | 0260 | 0.7521 | $44.64 | $17.85 | $8.93
71015 | X |  | Chest x-ray | 0260 | 0.7521 | $44.64 | $17.85 | $8.93
71020 | X |  | Chest x-ray | 0260 | 0.7521 | $44.64 | $17.85 | $8.93
71021 | X |  | Chest x-ray | 0260 | 0.7521 | $44.64 | $17.85 | $8.93
71022 | X |  | Chest x-ray | 0260 | 0.7521 | $44.64 | $17.85 | $8.93
71023 | X |  | Chest x-ray and fluoroscopy | 0272 | 1.3738 | $81.54 | $32.61 | $16.31
71030 | X |  | Chest x-ray | 0260 | 0.7521 | $44.64 | $17.85 | $8.93
71034 | X |  | Chest x-ray and fluoroscopy | 0272 | 1.3738 | $81.54 | $32.61 | $16.31
71035 | X |  | Chest x-ray | 0260 | 0.7521 | $44.64 | $17.85 | $8.93
71040 | X |  | Contrast x-ray of bronchi | 0263 | 1.7397 | $103.25 | $24.29 | $20.65
71060 | X |  | Contrast x-ray of bronchi | 0263 | 1.7397 | $103.25 | $24.29 | $20.65
71090 | X |  | X-ray & pacemaker insertion | 0272 | 1.3738 | $81.54 | $32.61 | $16.31
71100 | X |  | X-ray exam of ribs | 0260 | 0.7521 | $44.64 | $17.85 | $8.93
71101 | X |  | X-ray exam of ribs/chest | 0260 | 0.7521 | $44.64 | $17.85 | $8.93
71110 | X |  | X-ray exam of ribs | 0260 | 0.7521 | $44.64 | $17.85 | $8.93
71111 | X |  | X-ray exam of ribs/ chest | 0261 | 1.2843 | $76.22 |  | $15.24
71120 | X |  | X-ray exam of breastbone | 0260 | 0.7521 | $44.64 | $17.85 | $8.93
71130 | X |  | X-ray exam of breastbone | 0260 | 0.7521 | $44.64 | $17.85 | $8.93
71250* | S |  | Ct thorax w/o dye | 0332 | 3.2546 | $193.16 | $77.26 | $38.63
71260* | S |  | Ct thorax w/dye | 0283 | 4.4053 | $261.45 | $104.58 | $52.29
71270* | S |  | Ct thorax w/o & w/ dye | 0333 | 5.2596 | $312.16 | $124.86 | $62.43
71275* | S |  | Ct angiography, chest | 0662 | 5.1387 | $304.98 | $121.99 | $61.00
71550* | S |  | Mri chest w/o dye | 0336 | 6.0467 | $358.87 | $143.54 | $71.77
71551* | S |  | Mri chest w/dye | 0284 | 6.3910 | $379.31 | $151.72 | $75.86
71552* | S |  | Mri chest w/o & w/dye | 0337 | 8.7547 | $519.59 | $207.83 | $103.92
71555 | B |  | Mri angio chest w or w/o dye |  |  |  |  |
72010 | X |  | X-ray exam of spine | 0260 | 0.7521 | $44.64 | $17.85 | $8.93
72020 | X |  | X-ray exam of spine | 0260 | 0.7521 | $44.64 | $17.85 | $8.93
72040 | X |  | X-ray exam of neck spine | 0260 | 0.7521 | $44.64 | $17.85 | $8.93
72050 | X |  | X-ray exam of neck spine | 0261 | 1.2843 | $76.22 |  | $15.24
72052 | X |  | X-ray exam of neck spine | 0261 | 1.2843 | $76.22 |  | $15.24
72069 | X |  | X-ray exam of trunk spine | 0260 | 0.7521 | $44.64 | $17.85 | $8.93
72070 | X |  | X-ray exam of thoracic spine | 0260 | 0.7521 | $44.64 | $17.85 | $8.93
72072 | X |  | X-ray exam of thoracic spine | 0260 | 0.7521 | $44.64 | $17.85 | $8.93
72074 | X |  | X-ray exam of thoracic spine | 0260 | 0.7521 | $44.64 | $17.85 | $8.93
72080 | X |  | X-ray exam of trunk spine | 0260 | 0.7521 | $44.64 | $17.85 | $8.93
72090 | X |  | X-ray exam of trunk spine | 0261 | 1.2843 | $76.22 |  | $15.24
72100 | X |  | X-ray exam of lower spine | 0260 | 0.7521 | $44.64 | $17.85 | $8.93
72110 | X |  | X-ray exam of lower spine | 0261 | 1.2843 | $76.22 |  | $15.24
72114 | X |  | X-ray exam of lower spine | 0261 | 1.2843 | $76.22 |  | $15.24
72120 | X |  | X-ray exam of lower spine | 0261 | 1.2843 | $76.22 |  | $15.24
72125* | S |  | Ct neck spine w/o dye | 0332 | 3.2546 | $193.16 | $77.26 | $38.63
72126* | S |  | Ct neck spine w/dye | 0283 | 4.4053 | $261.45 | $104.58 | $52.29
72127* | S |  | Ct neck spine w/o & w/dye | 0333 | 5.2596 | $312.16 | $124.86 | $62.43
72128* | S |  | Ct chest spine w/o dye | 0332 | 3.2546 | $193.16 | $77.26 | $38.63
72129* | S |  | Ct chest spine w/dye | 0283 | 4.4053 | $261.45 | $104.58 | $52.29
72130* | S |  | Ct chest spine w/o & w/dye | 0333 | 5.2596 | $312.16 | $124.86 | $62.43
72131* | S |  | Ct lumbar spine w/o dye | 0332 | 3.2546 | $193.16 | $77.26 | $38.63
72132* | S |  | Ct lumbar spine w/dye | 0283 | 4.4053 | $261.45 | $104.58 | $52.29
72133* | S |  | Ct lumbar spine w/o & w/dye | 0333 | 5.2596 | $312.16 | $124.86 | $62.43
72141* | S |  | Mri neck spine w/o dye | 0336 | 6.0467 | $358.87 | $143.54 | $71.77
72142* | S |  | Mri neck spine w/dye | 0284 | 6.3910 | $379.31 | $151.72 | $75.86
72146* | S |  | Mri chest spine w/o dye | 0336 | 6.0467 | $358.87 | $143.54 | $71.77
72147* | S |  | Mri chest spine w/dye | 0284 | 6.3910 | $379.31 | $151.72 | $75.86
72148* | S |  | Mri lumbar spine w/o dye | 0336 | 6.0467 | $358.87 | $143.54 | $71.77
72149* | S |  | Mri lumbar spine w/dye | 0284 | 6.3910 | $379.31 | $151.72 | $75.86
72156* | S |  | Mri neck spine w/o & w/dye | 0337 | 8.7547 | $519.59 | $207.83 | $103.92
72157* | S |  | Mri chest spine w/o & w/dye | 0337 | 8.7547 | $519.59 | $207.83 | $103.92
72158* | S |  | Mri lumbar spine w/o & w/dye | 0337 | 8.7547 | $519.59 | $207.83 | $103.92
72159 | E |  | Mr angio spine w/o&w/dye |  |  |  |  |
72170 | X |  | X-ray exam of pelvis | 0260 | 0.7521 | $44.64 | $17.85 | $8.93
72190 | X |  | X-ray exam of pelvis | 0260 | 0.7521 | $44.64 | $17.85 | $8.93
72191* | S |  | Ct angiograph pelv w/o&w/dye | 0662 | 5.1387 | $304.98 | $121.99 | $61.00
72192* | S |  | Ct pelvis w/o dye | 0332 | 3.2546 | $193.16 | $77.26 | $38.63
72193* | S |  | Ct pelvis w/dye | 0283 | 4.4053 | $261.45 | $104.58 | $52.29
72194* | S |  | Ct pelvis w/o & w/dye | 0333 | 5.2596 | $312.16 | $124.86 | $62.43
72195* | S |  | Mri pelvis w/o dye | 0336 | 6.0467 | $358.87 | $143.54 | $71.77
72196* | S |  | Mri pelvis w/dye | 0284 | 6.3910 | $379.31 | $151.72 | $75.86
72197* | S |  | Mri pelvis w/o & w/dye | 0337 | 8.7547 | $519.59 | $207.83 | $103.92
72198 | B |  | Mr angio pelvis w/o & w/dye |  |  |  |  |
72200 | X |  | X-ray exam sacroiliac joints | 0260 | 0.7521 | $44.64 | $17.85 | $8.93
72202 | X |  | X-ray exam sacroiliac joints | 0260 | 0.7521 | $44.64 | $17.85 | $8.93
72220 | X |  | X-ray exam of tailbone | 0260 | 0.7521 | $44.64 | $17.85 | $8.93
72240 | S |  | Contrast x-ray of neck spine | 0274 | 3.0275 | $179.68 | $71.87 | $35.94
72255 | S |  | Contrast x-ray, thorax spine | 0274 | 3.0275 | $179.68 | $71.87 | $35.94
72265 | S |  | Contrast x-ray, lower spine | 0274 | 3.0275 | $179.68 | $71.87 | $35.94
72270 | S |  | Contrast x-ray, spine | 0274 | 3.0275 | $179.68 | $71.87 | $35.94
72275 | S |  | Epidurography | 0274 | 3.0275 | $179.68 | $71.87 | $35.94
72285 | S |  | X-ray c/t spine disk | 0388 | 12.2736 | $728.44 | $291.37 | $145.69
72295 | S |  | X-ray of lower spine disk | 0388 | 12.2736 | $728.44 | $291.37 | $145.69
73000 | X |  | X-ray exam of collar bone | 0260 | 0.7521 | $44.64 | $17.85 | $8.93
73010 | X |  | X-ray exam of shoulder blade | 0260 | 0.7521 | $44.64 | $17.85 | $8.93
73020 | X |  | X-ray exam of shoulder | 0260 | 0.7521 | $44.64 | $17.85 | $8.93
73030 | X |  | X-ray exam of shoulder | 0260 | 0.7521 | $44.64 | $17.85 | $8.93
73040 | S |  | Contrast x-ray of shoulder | 0275 | 3.5617 | $211.39 | $69.09 | $42.28
73050 | X |  | X-ray exam of shoulders | 0260 | 0.7521 | $44.64 | $17.85 | $8.93
73060 | X |  | X-ray exam of humerus | 0260 | 0.7521 | $44.64 | $17.85 | $8.93
73070 | X |  | X-ray exam of elbow | 0260 | 0.7521 | $44.64 | $17.85 | $8.93
73080 | X |  | X-ray exam of elbow | 0260 | 0.7521 | $44.64 | $17.85 | $8.93
73085 | S |  | Contrast x-ray of elbow | 0275 | 3.5617 | $211.39 | $69.09 | $42.28
73090 | X |  | X-ray exam of forearm | 0260 | 0.7521 | $44.64 | $17.85 | $8.93
73092 | X |  | X-ray exam of arm, infant | 0260 | 0.7521 | $44.64 | $17.85 | $8.93
73100 | X |  | X-ray exam of wrist | 0260 | 0.7521 | $44.64 | $17.85 | $8.93
73110 | X |  | X-ray exam of wrist | 0260 | 0.7521 | $44.64 | $17.85 | $8.93
73115 | S |  | Contrast x-ray of wrist | 0275 | 3.5617 | $211.39 | $69.09 | $42.28
73120 | X |  | X-ray exam of hand | 0260 | 0.7521 | $44.64 | $17.85 | $8.93
73130 | X |  | X-ray exam of hand | 0260 | 0.7521 | $44.64 | $17.85 | $8.93
73140 | X |  | X-ray exam of finger(s) | 0260 | 0.7521 | $44.64 | $17.85 | $8.93
73200* | S |  | Ct upper extremity w/o dye | 0332 | 3.2546 | $193.16 | $77.26 | $38.63
73201* | S |  | Ct upper extremity w/dye | 0283 | 4.4053 | $261.45 | $104.58 | $52.29
73202* | S |  | Ct uppr extremity w/o&w/dye | 0333 | 5.2596 | $312.16 | $124.86 | $62.43
73206* | S |  | Ct angio upr extrm w/o&w/dye | 0662 | 5.1387 | $304.98 | $121.99 | $61.00
73218* | S |  | Mri upper extremity w/o dye | 0336 | 6.0467 | $358.87 | $143.54 | $71.77
73219* | S |  | Mri upper extremity w/dye | 0284 | 6.3910 | $379.31 | $151.72 | $75.86
73220* | S |  | Mri uppr extremity w/o&w/dye | 0337 | 8.7547 | $519.59 | $207.83 | $103.92
73221* | S |  | Mri joint upr extrem w/o dye | 0336 | 6.0467 | $358.87 | $143.54 | $71.77
73222* | S |  | Mri joint upr extrem w/dye | 0284 | 6.3910 | $379.31 | $151.72 | $75.86
73223* | S |  | Mri joint upr extr w/o&w/dye | 0337 | 8.7547 | $519.59 | $207.83 | $103.92
73225 | E |  | Mr angio upr extr w/o&w/dye |  |  |  |  |
73500 | X |  | X-ray exam of hip | 0260 | 0.7521 | $44.64 | $17.85 | $8.93
73510 | X |  | X-ray exam of hip | 0260 | 0.7521 | $44.64 | $17.85 | $8.93
73520 | X |  | X-ray exam of hips | 0261 | 1.2843 | $76.22 |  | $15.24
73525 | S |  | Contrast x-ray of hip | 0275 | 3.5617 | $211.39 | $69.09 | $42.28
73530 | X |  | X-ray exam of hip | 0261 | 1.2843 | $76.22 |  | $15.24
73540 | X |  | X-ray exam of pelvis & hips | 0260 | 0.7521 | $44.64 | $17.85 | $8.93
73542 | S |  | X-ray exam, sacroiliac joint | 0275 | 3.5617 | $211.39 | $69.09 | $42.28
73550 | X |  | X-ray exam of thigh | 0260 | 0.7521 | $44.64 | $17.85 | $8.93
73560 | X |  | X-ray exam of knee, 1 or 2 | 0260 | 0.7521 | $44.64 | $17.85 | $8.93
73562 | X |  | X-ray exam of knee, 3 | 0260 | 0.7521 | $44.64 | $17.85 | $8.93
73564 | X |  | X-ray exam, knee, 4 or more | 0260 | 0.7521 | $44.64 | $17.85 | $8.93
73565 | X |  | X-ray exam of knees | 0260 | 0.7521 | $44.64 | $17.85 | $8.93
73580 | S |  | Contrast x-ray of knee joint | 0275 | 3.5617 | $211.39 | $69.09 | $42.28
73590 | X |  | X-ray exam of lower leg | 0260 | 0.7521 | $44.64 | $17.85 | $8.93
73592 | X |  | X-ray exam of leg, infant | 0260 | 0.7521 | $44.64 | $17.85 | $8.93
73600 | X |  | X-ray exam of ankle | 0260 | 0.7521 | $44.64 | $17.85 | $8.93
73610 | X |  | X-ray exam of ankle | 0260 | 0.7521 | $44.64 | $17.85 | $8.93
73615 | S |  | Contrast x-ray of ankle | 0275 | 3.5617 | $211.39 | $69.09 | $42.28
73620 | X |  | X-ray exam of foot | 0260 | 0.7521 | $44.64 | $17.85 | $8.93
73630 | X |  | X-ray exam of foot | 0260 | 0.7521 | $44.64 | $17.85 | $8.93
73650 | X |  | X-ray exam of heel | 0260 | 0.7521 | $44.64 | $17.85 | $8.93
73660 | X |  | X-ray exam of toe(s) | 0260 | 0.7521 | $44.64 | $17.85 | $8.93
73700* | S |  | Ct lower extremity w/o dye | 0332 | 3.2546 | $193.16 | $77.26 | $38.63
73701* | S |  | Ct lower extremity w/dye | 0283 | 4.4053 | $261.45 | $104.58 | $52.29
73702* | S |  | Ct lwr extremity w/o&w/dye | 0333 | 5.2596 | $312.16 | $124.86 | $62.43
73706* | S |  | Ct angio lwr extr w/o&w/dye | 0662 | 5.1387 | $304.98 | $121.99 | $61.00
73718* | S |  | Mri lower extremity w/o dye | 0336 | 6.0467 | $358.87 | $143.54 | $71.77
73719* | S |  | Mri lower extremity w/dye | 0284 | 6.3910 | $379.31 | $151.72 | $75.86
73720* | S |  | Mri lwr extremity w/o&w/dye | 0337 | 8.7547 | $519.59 | $207.83 | $103.92
73721* | S |  | Mri jnt of lwr extre w/o dye | 0336 | 6.0467 | $358.87 | $143.54 | $71.77
73722* | S |  | Mri joint of lwr extr w/dye | 0284 | 6.3910 | $379.31 | $151.72 | $75.86
73723* | S |  | Mri joint lwr extr w/o&w/dye | 0337 | 8.7547 | $519.59 | $207.83 | $103.92
73725 | B |  | Mr ang lwr ext w or w/o dye |  |  |  |  |
74000 | X |  | X-ray exam of abdomen | 0260 | 0.7521 | $44.64 | $17.85 | $8.93
74010 | X |  | X-ray exam of abdomen | 0260 | 0.7521 | $44.64 | $17.85 | $8.93
74020 | X |  | X-ray exam of abdomen | 0260 | 0.7521 | $44.64 | $17.85 | $8.93
74022 | X |  | X-ray exam series, abdomen | 0261 | 1.2843 | $76.22 |  | $15.24
74150* | S |  | Ct abdomen w/o dye | 0332 | 3.2546 | $193.16 | $77.26 | $38.63
74160* | S |  | Ct abdomen w/dye | 0283 | 4.4053 | $261.45 | $104.58 | $52.29
74170* | S |  | Ct abdomen w/o &w /dye | 0333 | 5.2596 | $312.16 | $124.86 | $62.43
74175* | S |  | Ct angio abdom w/o & w/dye | 0662 | 5.1387 | $304.98 | $121.99 | $61.00
74181* | S |  | Mri abdomen w/o dye | 0336 | 6.0467 | $358.87 | $143.54 | $71.77
74182* | S |  | Mri abdomen w/dye | 0284 | 6.3910 | $379.31 | $151.72 | $75.86
74183* | S |  | Mri abdomen w/o & w/dye | 0337 | 8.7547 | $519.59 | $207.83 | $103.92
74185 | B |  | Mri angio, abdom w orw/o dye |  |  |  |  |
74190 | X |  | X-ray exam of peritoneum | 0264 | 3.5080 | $208.20 | $79.41 | $41.64
74210 | S |  | Contrst x-ray exam of throat | 0276 | 1.5250 | $90.51 | $36.20 | $18.10
74220 | S |  | Contrast x-ray, esophagus | 0276 | 1.5250 | $90.51 | $36.20 | $18.10
74230 | S |  | Cine/vid x-ray, throat/esoph | 0276 | 1.5250 | $90.51 | $36.20 | $18.10
74235 | S |  | Remove esophagus obstruction | 0296 | 2.2350 | $132.65 | $53.06 | $26.53
74240 | S |  | X-ray exam, upper gi tract | 0276 | 1.5250 | $90.51 | $36.20 | $18.10
74241 | S |  | X-ray exam, upper gi tract | 0276 | 1.5250 | $90.51 | $36.20 | $18.10
74245 | S |  | X-ray exam, upper gi tract | 0277 | 2.3744 | $140.92 | $56.36 | $28.18
74246 | S |  | Contrst x-ray uppr gi tract | 0276 | 1.5250 | $90.51 | $36.20 | $18.10
74247 | S |  | Contrst x-ray uppr gi tract | 0276 | 1.5250 | $90.51 | $36.20 | $18.10
74249 | S |  | Contrst x-ray uppr gi tract | 0277 | 2.3744 | $140.92 | $56.36 | $28.18
74250 | S |  | X-ray exam of small bowel | 0276 | 1.5250 | $90.51 | $36.20 | $18.10
74251 | S |  | X-ray exam of small bowel | 0277 | 2.3744 | $140.92 | $56.36 | $28.18
74260 | S |  | X-ray exam of small bowel | 0277 | 2.3744 | $140.92 | $56.36 | $28.18
74270 | S |  | Contrast x-ray exam of colon | 0276 | 1.5250 | $90.51 | $36.20 | $18.10
74280 | S |  | Contrast x-ray exam of colon | 0277 | 2.3744 | $140.92 | $56.36 | $28.18
74283 | S |  | Contrast x-ray exam of colon | 0276 | 1.5250 | $90.51 | $36.20 | $18.10
74290 | S |  | Contrast x-ray, gallbladder | 0276 | 1.5250 | $90.51 | $36.20 | $18.10
74291 | S |  | Contrast x-rays, gallbladder | 0276 | 1.5250 | $90.51 | $36.20 | $18.10
74300 | X |  | X-ray bile ducts/pancreas | 0263 | 1.7397 | $103.25 | $24.29 | $20.65
74301 | X |  | X-rays at surgery add-on | 0263 | 1.7397 | $103.25 | $24.29 | $20.65
74305 | X |  | X-ray bile ducts/pancreas | 0263 | 1.7397 | $103.25 | $24.29 | $20.65
74320 | X |  | Contrast x-ray of bile ducts | 0264 | 3.5080 | $208.20 | $79.41 | $41.64
74327 | S |  | X-ray bile stone removal | 0296 | 2.2350 | $132.65 | $53.06 | $26.53
74328 | N |  | X-ray bile duct endoscopy |  |  |  |  |
74329 | N |  | X-ray for pancreas endoscopy |  |  |  |  |
74330 | N |  | X-ray bile/panc endoscopy |  |  |  |  |
74340 | X |  | X-ray guide for GI tube | 0272 | 1.3738 | $81.54 | $32.61 | $16.31
74350 | X |  | X-ray guide, stomach tube | 0263 | 1.7397 | $103.25 | $24.29 | $20.65
74355 | X |  | X-ray guide, intestinal tube | 0263 | 1.7397 | $103.25 | $24.29 | $20.65
74360 | S |  | X-ray guide, GI dilation | 0296 | 2.2350 | $132.65 | $53.06 | $26.53
74363 | S |  | X-ray, bile duct dilation | 0297 | 5.2293 | $310.36 | $122.13 | $62.07
74400 | S |  | Contrst x-ray, urinary tract | 0278 | 2.6314 | $156.17 | $62.46 | $31.23
74410 | S |  | Contrst x-ray, urinary tract | 0278 | 2.6314 | $156.17 | $62.46 | $31.23
74415 | S |  | Contrst x-ray, urinary tract | 0278 | 2.6314 | $156.17 | $62.46 | $31.23
74420 | S |  | Contrst x-ray, urinary tract | 0278 | 2.6314 | $156.17 | $62.46 | $31.23
74425 | S |  | Contrst x-ray, urinary tract | 0278 | 2.6314 | $156.17 | $62.46 | $31.23
74430 | S |  | Contrast x-ray, bladder | 0278 | 2.6314 | $156.17 | $62.46 | $31.23
74440 | S |  | X-ray, male genital tract | 0278 | 2.6314 | $156.17 | $62.46 | $31.23
74445 | S |  | X-ray exam of penis | 0278 | 2.6314 | $156.17 | $62.46 | $31.23
74450 | S |  | X-ray, urethra/bladder | 0278 | 2.6314 | $156.17 | $62.46 | $31.23
74455 | S |  | X-ray, urethra/bladder | 0278 | 2.6314 | $156.17 | $62.46 | $31.23
74470 | X |  | X-ray exam of kidney lesion | 0263 | 1.7397 | $103.25 | $24.29 | $20.65
74475 | S |  | X-ray control, cath insert | 0297 | 5.2293 | $310.36 | $122.13 | $62.07
74480 | S |  | X-ray control, cath insert | 0296 | 2.2350 | $132.65 | $53.06 | $26.53
74485 | S |  | X-ray guide, GU dilation | 0296 | 2.2350 | $132.65 | $53.06 | $26.53
74710 | X |  | X-ray measurement of pelvis | 0261 | 1.2843 | $76.22 |  | $15.24
74740 | X |  | X-ray, female genital tract | 0264 | 3.5080 | $208.20 | $79.41 | $41.64
74742 | X |  | X-ray, fallopian tube | 0264 | 3.5080 | $208.20 | $79.41 | $41.64
74775 | S |  | X-ray exam of perineum | 0278 | 2.6314 | $156.17 | $62.46 | $31.23
75552 | S |  | Heart mri for morph w/o dye | 0336 | 6.0467 | $358.87 | $143.54 | $71.77
75553 | S |  | Heart mri for morph w/dye | 0284 | 6.3910 | $379.31 | $151.72 | $75.86
75554 | S |  | Cardiac MRI/function | 0336 | 6.0467 | $358.87 | $143.54 | $71.77
75555 | S |  | Cardiac MRI/limited study | 0336 | 6.0467 | $358.87 | $143.54 | $71.77
75556 | E |  | Cardiac MRI/flow mapping |  |  |  |  |
75600 | S |  | Contrast x-ray exam of aorta | 0280 | 20.6960 | $1,228.31 | $353.85 | $245.66
75605 | S |  | Contrast x-ray exam of aorta | 0280 | 20.6960 | $1,228.31 | $353.85 | $245.66
75625 | S |  | Contrast x-ray exam of aorta | 0280 | 20.6960 | $1,228.31 | $353.85 | $245.66
75630 | S |  | X-ray aorta, leg arteries | 0280 | 20.6960 | $1,228.31 | $353.85 | $245.66
75635* | S |  | Ct angio abdominal arteries | 0662 | 5.1387 | $304.98 | $121.99 | $61.00
75650 | S |  | Artery x-rays, head & neck | 0280 | 20.6960 | $1,228.31 | $353.85 | $245.66
75658 | S |  | Artery x-rays, arm | 0279 | 8.8914 | $527.70 | $150.03 | $105.54
75660 | S |  | Artery x-rays, head & neck | 0668 | 6.4730 | $384.17 | $114.67 | $76.83
75662 | S |  | Artery x-rays, head & neck | 0280 | 20.6960 | $1,228.31 | $353.85 | $245.66
75665 | S |  | Artery x-rays, head & neck | 0280 | 20.6960 | $1,228.31 | $353.85 | $245.66
75671 | S |  | Artery x-rays, head & neck | 0280 | 20.6960 | $1,228.31 | $353.85 | $245.66
75676 | S |  | Artery x-rays, neck | 0280 | 20.6960 | $1,228.31 | $353.85 | $245.66
75680 | S |  | Artery x-rays, neck | 0280 | 20.6960 | $1,228.31 | $353.85 | $245.66
75685 | S |  | Artery x-rays, spine | 0280 | 20.6960 | $1,228.31 | $353.85 | $245.66
75705 | S |  | Artery x-rays, spine | 0668 | 6.4730 | $384.17 | $114.67 | $76.83
75710 | S |  | Artery x-rays, arm/leg | 0280 | 20.6960 | $1,228.31 | $353.85 | $245.66
75716 | S |  | Artery x-rays, arms/legs | 0280 | 20.6960 | $1,228.31 | $353.85 | $245.66
75722 | S |  | Artery x-rays, kidney | 0280 | 20.6960 | $1,228.31 | $353.85 | $245.66
75724 | S |  | Artery x-rays, kidneys | 0280 | 20.6960 | $1,228.31 | $353.85 | $245.66
75726 | S |  | Artery x-rays, abdomen | 0280 | 20.6960 | $1,228.31 | $353.85 | $245.66
75731 | S |  | Artery x-rays, adrenal gland | 0280 | 20.6960 | $1,228.31 | $353.85 | $245.66
75733 | S |  | Artery x-rays, adrenals | 0668 | 6.4730 | $384.17 | $114.67 | $76.83
75736 | S |  | Artery x-rays, pelvis | 0280 | 20.6960 | $1,228.31 | $353.85 | $245.66
75741 | S |  | Artery x-rays, lung | 0279 | 8.8914 | $527.70 | $150.03 | $105.54
75743 | S |  | Artery x-rays, lungs | 0280 | 20.6960 | $1,228.31 | $353.85 | $245.66
75746 | S |  | Artery x-rays, lung | 0279 | 8.8914 | $527.70 | $150.03 | $105.54
75756 | S |  | Artery x-rays, chest | 0279 | 8.8914 | $527.70 | $150.03 | $105.54
75774 | S |  | Artery x-ray, each vessel | 0279 | 8.8914 | $527.70 | $150.03 | $105.54
75790 | S |  | Visualize A-V shunt | 0279 | 8.8914 | $527.70 | $150.03 | $105.54
75801 | X |  | Lymph vessel x-ray, arm/leg | 0264 | 3.5080 | $208.20 | $79.41 | $41.64
75803 | X |  | Lymph vessel x-ray,arms/legs | 0264 | 3.5080 | $208.20 | $79.41 | $41.64
75805 | X |  | Lymph vessel x-ray, trunk | 0264 | 3.5080 | $208.20 | $79.41 | $41.64
75807 | X |  | Lymph vessel x-ray, trunk | 0264 | 3.5080 | $208.20 | $79.41 | $41.64
75809 | X |  | Nonvascular shunt, x-ray | 0263 | 1.7397 | $103.25 | $24.29 | $20.65
75810 | S |  | Vein x-ray, spleen/liver | 0279 | 8.8914 | $527.70 | $150.03 | $105.54
75820 | S |  | Vein x-ray, arm/leg | 0668 | 6.4730 | $384.17 | $114.67 | $76.83
75822 | S |  | Vein x-ray, arms/legs | 0668 | 6.4730 | $384.17 | $114.67 | $76.83
75825 | S |  | Vein x-ray, trunk | 0279 | 8.8914 | $527.70 | $150.03 | $105.54
75827 | S |  | Vein x-ray, chest | 0279 | 8.8914 | $527.70 | $150.03 | $105.54
75831 | S |  | Vein x-ray, kidney | 0279 | 8.8914 | $527.70 | $150.03 | $105.54
75833 | S |  | Vein x-ray, kidneys | 0279 | 8.8914 | $527.70 | $150.03 | $105.54
75840 | S |  | Vein x-ray, adrenal gland | 0280 | 20.6960 | $1,228.31 | $353.85 | $245.66
75842 | S |  | Vein x-ray, adrenal glands | 0280 | 20.6960 | $1,228.31 | $353.85 | $245.66
75860 | S |  | Vein x-ray, neck | 0668 | 6.4730 | $384.17 | $114.67 | $76.83
75870 | S |  | Vein x-ray, skull | 0668 | 6.4730 | $384.17 | $114.67 | $76.83
75872 | S |  | Vein x-ray, skull | 0279 | 8.8914 | $527.70 | $150.03 | $105.54
75880 | S |  | Vein x-ray, eye socket | 0668 | 6.4730 | $384.17 | $114.67 | $76.83
75885 | S |  | Vein x-ray, liver | 0280 | 20.6960 | $1,228.31 | $353.85 | $245.66
75887 | S |  | Vein x-ray, liver | 0279 | 8.8914 | $527.70 | $150.03 | $105.54
75889 | S |  | Vein x-ray, liver | 0280 | 20.6960 | $1,228.31 | $353.85 | $245.66
75891 | S |  | Vein x-ray, liver | 0279 | 8.8914 | $527.70 | $150.03 | $105.54
75893 | N |  | Venous sampling by catheter |  |  |  |  |
75894 | S |  | X-rays, transcath therapy | 0297 | 5.2293 | $310.36 | $122.13 | $62.07
75896 | S |  | X-rays, transcath therapy | 0297 | 5.2293 | $310.36 | $122.13 | $62.07
75898 | X |  | Follow-up angiography | 0263 | 1.7397 | $103.25 | $24.29 | $20.65
75900 | C |  | Arterial catheter exchange |  |  |  |  |
75901 | X |  | Remove cva device obstruct | 0263 | 1.7397 | $103.25 | $24.29 | $20.65
75902 | X |  | Remove cva lumen obstruct | 0263 | 1.7397 | $103.25 | $24.29 | $20.65
75940 | S |  | X-ray placement, vein filter | 0297 | 5.2293 | $310.36 | $122.13 | $62.07
75945 | S |  | Intravascular us | 0267 | 2.6208 | $155.54 | $62.18 | $31.11
75946 | S |  | Intravascular us add-on | 0266 | 1.6319 | $96.85 | $38.74 | $19.37
75952 | C |  | Endovasc repair abdom aorta |  |  |  |  |
75953 | C |  | Abdom aneurysm endovas rpr |  |  |  |  |
75954 | C |  | Iliac aneurysm endovas rpr |  |  |  |  |
75960 | S |  | Transcatheter intro, stent | 0668 | 6.4730 | $384.17 | $114.67 | $76.83
75961 | S |  | Retrieval, broken catheter | 0668 | 6.4730 | $384.17 | $114.67 | $76.83
75962 | S |  | Repair arterial blockage | 0668 | 6.4730 | $384.17 | $114.67 | $76.83
75964 | S |  | Repair artery blockage, each | 0668 | 6.4730 | $384.17 | $114.67 | $76.83
75966 | S |  | Repair arterial blockage | 0668 | 6.4730 | $384.17 | $114.67 | $76.83
75968 | S |  | Repair artery blockage, each | 0668 | 6.4730 | $384.17 | $114.67 | $76.83
75970 | S |  | Vascular biopsy | 0668 | 6.4730 | $384.17 | $114.67 | $76.83
75978 | S |  | Repair venous blockage | 0668 | 6.4730 | $384.17 | $114.67 | $76.83
75980 | S |  | Contrast xray exam bile duct | 0297 | 5.2293 | $310.36 | $122.13 | $62.07
75982 | S |  | Contrast xray exam bile duct | 0297 | 5.2293 | $310.36 | $122.13 | $62.07
75984 | X |  | Xray control catheter change | 0263 | 1.7397 | $103.25 | $24.29 | $20.65
75989 | N |  | Abscess drainage under x-ray |  |  |  |  |
75992 | S |  | Atherectomy, x-ray exam | 0279 | 8.8914 | $527.70 | $150.03 | $105.54
75993 | S |  | Atherectomy, x-ray exam | 0279 | 8.8914 | $527.70 | $150.03 | $105.54
75994 | S |  | Atherectomy, x-ray exam | 0279 | 8.8914 | $527.70 | $150.03 | $105.54
75995 | S |  | Atherectomy, x-ray exam | 0279 | 8.8914 | $527.70 | $150.03 | $105.54
75996 | S |  | Atherectomy, x-ray exam | 0279 | 8.8914 | $527.70 | $150.03 | $105.54
75998 | N |  | Fluoroguide for vein device |  |  |  |  |
76000 | X |  | Fluoroscope examination | 0272 | 1.3738 | $81.54 | $32.61 | $16.31
76001 | N |  | Fluoroscope exam, extensive |  |  |  |  |
76003 | N |  | Needle localization by x-ray |  |  |  |  |
76005 | N |  | Fluoroguide for spine inject |  |  |  |  |
76006 | X |  | X-ray stress view | 0260 | 0.7521 | $44.64 | $17.85 | $8.93
76010 | X |  | X-ray, nose to rectum | 0260 | 0.7521 | $44.64 | $17.85 | $8.93
76012 | S |  | Percut vertebroplasty fluor | 0274 | 3.0275 | $179.68 | $71.87 | $35.94
76013 | S |  | Percut vertebroplasty, ct | 0274 | 3.0275 | $179.68 | $71.87 | $35.94
76020 | X |  | X-rays for bone age | 0260 | 0.7521 | $44.64 | $17.85 | $8.93
76040 | X |  | X-rays, bone evaluation | 0261 | 1.2843 | $76.22 |  | $15.24
76061 | X |  | X-rays, bone survey | 0261 | 1.2843 | $76.22 |  | $15.24
76062 | X |  | X-rays, bone survey | 0261 | 1.2843 | $76.22 |  | $15.24
76065 | X |  | X-rays, bone evaluation | 0261 | 1.2843 | $76.22 |  | $15.24
76066 | X |  | Joint survey, single view | 0260 | 0.7521 | $44.64 | $17.85 | $8.93
76070 | S |  | CT scan, bone density study | 0288 | 1.2511 | $74.25 |  | $14.85
76071 | S |  | Ct bone density, peripheral | 0282 | 1.6467 | $97.73 | $39.09 | $19.55
76075 | S |  | Dexa, axial skeleton study | 0288 | 1.2511 | $74.25 |  | $14.85
76076 | S |  | Dexa, peripheral study | 0665 | 0.6435 | $38.19 |  | $7.64
76077 | X |  | Dxa bone density/v-fracture | 0260 | 0.7521 | $44.64 | $17.85 | $8.93
76078 | X |  | Radiographic absorptiometry | 0260 | 0.7521 | $44.64 | $17.85 | $8.93
76080 | X |  | X-ray exam of fistula | 0263 | 1.7397 | $103.25 | $24.29 | $20.65
76082 | A |  | Computer mammogram add-on |  |  |  |  |
76083 | A |  | Computer mammogram add-on |  |  |  |  |
76086 | X |  | X-ray of mammary duct | 0263 | 1.7397 | $103.25 | $24.29 | $20.65
76088 | X |  | X-ray of mammary ducts | 0263 | 1.7397 | $103.25 | $24.29 | $20.65
76090 | A |  | Mammogram, one breast |  |  |  |  |
76091 | A |  | Mammogram, both breasts |  |  |  |  |
76092 | A |  | Mammogram, screening |  |  |  |  |
76093 | E |  | Magnetic image, breast |  |  |  |  |
76094 | E |  | Magnetic image, both breasts |  |  |  |  |
76095 | X |  | Stereotactic breast biopsy | 0264 | 3.5080 | $208.20 | $79.41 | $41.64
76096 | X |  | X-ray of needle wire, breast | 0263 | 1.7397 | $103.25 | $24.29 | $20.65
76098 | X |  | X-ray exam, breast specimen | 0260 | 0.7521 | $44.64 | $17.85 | $8.93
76100 | X |  | X-ray exam of body section | 0261 | 1.2843 | $76.22 |  | $15.24
76101 | X |  | Complex body section x-ray | 0263 | 1.7397 | $103.25 | $24.29 | $20.65
76102 | X |  | Complex body section x-rays | 0264 | 3.5080 | $208.20 | $79.41 | $41.64
76120 | X |  | Cine/video x-rays | 0272 | 1.3738 | $81.54 | $32.61 | $16.31
76125 | X |  | Cine/video x-rays add-on | 0260 | 0.7521 | $44.64 | $17.85 | $8.93
76140 | E |  | X-ray consultation |  |  |  |  |
76150 | X |  | X-ray exam, dry process | 0260 | 0.7521 | $44.64 | $17.85 | $8.93
76350 | N |  | Special x-ray contrast study |  |  |  |  |
76355 | S |  | Ct scan for localization | 0283 | 4.4053 | $261.45 | $104.58 | $52.29
76360 | S |  | Ct scan for needle biopsy | 0283 | 4.4053 | $261.45 | $104.58 | $52.29
76362 | S |  | Ct guide for tissue ablation | 0332 | 3.2546 | $193.16 | $77.26 | $38.63
76370 | S |  | Ct scan for therapy guide | 0282 | 1.6467 | $97.73 | $39.09 | $19.55
76375 | S |  | 3d/holograph reconstr add-on | 0282 | 1.6467 | $97.73 | $39.09 | $19.55
76380 | S |  | CAT scan follow-up study | 0282 | 1.6467 | $97.73 | $39.09 | $19.55
76390 | E |  | Mr spectroscopy |  |  |  |  |
76393 | S |  | Mr guidance for needle place | 0335 | 5.1347 | $304.74 | $121.89 | $60.95
76394 | S |  | Mri for tissue ablation | 0335 | 5.1347 | $304.74 | $121.89 | $60.95
76400 | S |  | Magnetic image, bone marrow | 0335 | 5.1347 | $304.74 | $121.89 | $60.95
76496 | X |  | Fluoroscopic procedure | 0272 | 1.3738 | $81.54 | $32.61 | $16.31
76497 | S |  | Ct procedure | 0282 | 1.6467 | $97.73 | $39.09 | $19.55
76498 | S |  | Mri procedure | 0335 | 5.1347 | $304.74 | $121.89 | $60.95
76499 | X |  | Radiographic procedure | 0260 | 0.7521 | $44.64 | $17.85 | $8.93
76506 | S |  | Echo exam of head | 0265 | 1.0167 | $60.34 | $24.13 | $12.07
76510 | S |  | Ophth us, b & quant a | 0266 | 1.6319 | $96.85 | $38.74 | $19.37
76511 | S |  | Echo exam of eye | 0266 | 1.6319 | $96.85 | $38.74 | $19.37
76512 | S |  | Echo exam of eye | 0266 | 1.6319 | $96.85 | $38.74 | $19.37
76513 | S |  | Echo exam of eye, water bath | 0266 | 1.6319 | $96.85 | $38.74 | $19.37
76514 | X |  | Echo exam of eye, thickness | 0340 | 0.6355 | $37.72 |  | $7.54
76516 | S |  | Echo exam of eye | 0265 | 1.0167 | $60.34 | $24.13 | $12.07
76519 | S |  | Echo exam of eye | 0266 | 1.6319 | $96.85 | $38.74 | $19.37
76529 | S |  | Echo exam of eye | 0265 | 1.0167 | $60.34 | $24.13 | $12.07
76536 | S |  | Us exam of head and neck | 0266 | 1.6319 | $96.85 | $38.74 | $19.37
76604* | S |  | Us exam, chest, b-scan | 0266 | 1.6319 | $96.85 | $38.74 | $19.37
76645* | S |  | Us exam, breast(s) | 0265 | 1.0167 | $60.34 | $24.13 | $12.07
76700* | S |  | Us exam, abdom, complete | 0266 | 1.6319 | $96.85 | $38.74 | $19.37
76705* | S |  | Echo exam of abdomen | 0266 | 1.6319 | $96.85 | $38.74 | $19.37
76770* | S |  | Us exam abdo back wall, comp | 0266 | 1.6319 | $96.85 | $38.74 | $19.37
76775* | S |  | Us exam abdo back wall, lim | 0266 | 1.6319 | $96.85 | $38.74 | $19.37
76778* | S |  | Us exam kidney transplant | 0266 | 1.6319 | $96.85 | $38.74 | $19.37
76800 | S |  | Us exam, spinal canal | 0266 | 1.6319 | $96.85 | $38.74 | $19.37
76801 | S |  | Ob us < 14 wks, single fetus | 0266 | 1.6319 | $96.85 | $38.74 | $19.37
76802 | S |  | Ob us < 14 wks, add'l fetus | 0265 | 1.0167 | $60.34 | $24.13 | $12.07
76805 | S |  | Us exam, pg uterus, compl | 0266 | 1.6319 | $96.85 | $38.74 | $19.37
76810 | S |  | Us exam, pg uterus, mult | 0266 | 1.6319 | $96.85 | $38.74 | $19.37
76811 | S |  | Ob us, detailed, sngl fetus | 0267 | 2.6208 | $155.54 | $62.18 | $31.11
76812 | S |  | Ob us, detailed, addl fetus | 0266 | 1.6319 | $96.85 | $38.74 | $19.37
76815 | S |  | Us exam, pg uterus limit | 0265 | 1.0167 | $60.34 | $24.13 | $12.07
76816 | S |  | Us exam pg uterus repeat | 0265 | 1.0167 | $60.34 | $24.13 | $12.07
76817 | S |  | Transvaginal us, obstetric | 0266 | 1.6319 | $96.85 | $38.74 | $19.37
76818 | S |  | Fetal biophys profile w/nst | 0266 | 1.6319 | $96.85 | $38.74 | $19.37
76819 | S |  | Fetal biophys profil w/o nst | 0266 | 1.6319 | $96.85 | $38.74 | $19.37
76820 | S |  | Umbilical artery echo | 0096 | 1.6233 | $96.34 | $38.53 | $19.27
76821 | S |  | Middle cerebral artery echo | 0096 | 1.6233 | $96.34 | $38.53 | $19.27
76825 | S |  | Echo exam of fetal heart | 0671 | 1.6951 | $100.60 | $40.24 | $20.12
76826 | S |  | Echo exam of fetal heart | 0697 | 1.5288 | $90.73 | $36.29 | $18.15
76827 | S |  | Echo exam of fetal heart | 0671 | 1.6951 | $100.60 | $40.24 | $20.12
76828 | S |  | Echo exam of fetal heart | 0697 | 1.5288 | $90.73 | $36.29 | $18.15
76830* | S |  | Transvaginal us, non-ob | 0266 | 1.6319 | $96.85 | $38.74 | $19.37
76831* | S |  | Echo exam, uterus | 0267 | 2.6208 | $155.54 | $62.18 | $31.11
76856* | S |  | Us exam, pelvic, complete | 0266 | 1.6319 | $96.85 | $38.74 | $19.37
76857* | S |  | Us exam, pelvic, limited | 0265 | 1.0167 | $60.34 | $24.13 | $12.07
76870 | S |  | Us exam, scrotum | 0266 | 1.6319 | $96.85 | $38.74 | $19.37
76872 | S |  | Us, transrectal | 0266 | 1.6319 | $96.85 | $38.74 | $19.37
76873 | S |  | Echograp trans r, pros study | 0266 | 1.6319 | $96.85 | $38.74 | $19.37
76880 | S |  | Us exam, extremity | 0266 | 1.6319 | $96.85 | $38.74 | $19.37
76885 | S |  | Us exam infant hips, dynamic | 0265 | 1.0167 | $60.34 | $24.13 | $12.07
76886 | S |  | Us exam infant hips, static | 0266 | 1.6319 | $96.85 | $38.74 | $19.37
76930 | S |  | Echo guide, cardiocentesis | 0268 | 1.0562 | $62.69 |  | $12.54
76932 | S |  | Echo guide for heart biopsy | 0268 | 1.0562 | $62.69 |  | $12.54
76936 | S |  | Echo guide for artery repair | 0268 | 1.0562 | $62.69 |  | $12.54
76937 | N |  | Us guide, vascular access |  |  |  |  |
76940 | S |  | Us guide, tissue ablation | 0268 | 1.0562 | $62.69 |  | $12.54
76941 | S |  | Echo guide for transfusion | 0268 | 1.0562 | $62.69 |  | $12.54
76942 | S |  | Echo guide for biopsy | 0268 | 1.0562 | $62.69 |  | $12.54
76945 | S |  | Echo guide, villus sampling | 0268 | 1.0562 | $62.69 |  | $12.54
76946 | S |  | Echo guide for amniocentesis | 0268 | 1.0562 | $62.69 |  | $12.54
76948 | S |  | Echo guide, ova aspiration | 0268 | 1.0562 | $62.69 |  | $12.54
76950 | S |  | Echo guidance radiotherapy | 0268 | 1.0562 | $62.69 |  | $12.54
76965 | S |  | Echo guidance radiotherapy | 0268 | 1.0562 | $62.69 |  | $12.54
76970 | S |  | Ultrasound exam follow-up | 0265 | 1.0167 | $60.34 | $24.13 | $12.07
76975 | S |  | GI endoscopic ultrasound | 0266 | 1.6319 | $96.85 | $38.74 | $19.37
76977 | X |  | Us bone density measure | 0340 | 0.6355 | $37.72 |  | $7.54
76986 | S |  | Ultrasound guide intraoper | 0266 | 1.6319 | $96.85 | $38.74 | $19.37
76999 | S |  | Echo examination procedure | 0265 | 1.0167 | $60.34 | $24.13 | $12.07
77261 | E |  | Radiation therapy planning |  |  |  |  |
77262 | E |  | Radiation therapy planning |  |  |  |  |
77263 | E |  | Radiation therapy planning |  |  |  |  |
77280 | X |  | Set radiation therapy field | 0304 | 1.7658 | $104.80 | $41.52 | $20.96
77285 | X |  | Set radiation therapy field | 0305 | 3.9854 | $236.53 | $91.38 | $47.31
77290 | X |  | Set radiation therapy field | 0305 | 3.9854 | $236.53 | $91.38 | $47.31
77295 | X |  | Set radiation therapy field | 0310 | 13.8858 | $824.12 | $325.27 | $164.82
77299 | E |  | Radiation therapy planning |  |  |  |  |
77300 | X |  | Radiation therapy dose plan | 0304 | 1.7658 | $104.80 | $41.52 | $20.96
77301 | X |  | Radiotherapy dose plan, imrt | 0310 | 13.8858 | $824.12 | $325.27 | $164.82
77305 | X |  | Teletx isodose plan simple | 0304 | 1.7658 | $104.80 | $41.52 | $20.96
77310 | X |  | Teletx isodose plan intermed | 0305 | 3.9854 | $236.53 | $91.38 | $47.31
77315 | X |  | Teletx isodose plan complex | 0305 | 3.9854 | $236.53 | $91.38 | $47.31
77321 | X |  | Special teletx port plan | 0305 | 3.9854 | $236.53 | $91.38 | $47.31
77326 | X |  | Radiation therapy dose plan | 0304 | 1.7658 | $104.80 | $41.52 | $20.96
77327 | X |  | Brachytx isodose calc interm | 0305 | 3.9854 | $236.53 | $91.38 | $47.31
77328 | X |  | Brachytx isodose plan compl | 0305 | 3.9854 | $236.53 | $91.38 | $47.31
77331 | X |  | Special radiation dosimetry | 0304 | 1.7658 | $104.80 | $41.52 | $20.96
77332 | X |  | Radiation treatment aid(s) | 0303 | 2.8228 | $167.53 | $66.95 | $33.51
77333 | X |  | Radiation treatment aid(s) | 0303 | 2.8228 | $167.53 | $66.95 | $33.51
77334 | X |  | Radiation treatment aid(s) | 0303 | 2.8228 | $167.53 | $66.95 | $33.51
77336 | X |  | Radiation physics consult | 0304 | 1.7658 | $104.80 | $41.52 | $20.96
77370 | X |  | Radiation physics consult | 0304 | 1.7658 | $104.80 | $41.52 | $20.96
77399 | X |  | External radiation dosimetry | 0304 | 1.7658 | $104.80 | $41.52 | $20.96
77401 | S |  | Radiation treatment delivery | 0300 | 1.5129 | $89.79 |  | $17.96
77402 | S |  | Radiation treatment delivery | 0300 | 1.5129 | $89.79 |  | $17.96
77403 | S |  | Radiation treatment delivery | 0300 | 1.5129 | $89.79 |  | $17.96
77404 | S |  | Radiation treatment delivery | 0300 | 1.5129 | $89.79 |  | $17.96
77406 | S |  | Radiation treatment delivery | 0300 | 1.5129 | $89.79 |  | $17.96
77407 | S |  | Radiation treatment delivery | 0300 | 1.5129 | $89.79 |  | $17.96
77408 | S |  | Radiation treatment delivery | 0300 | 1.5129 | $89.79 |  | $17.96
77409 | S |  | Radiation treatment delivery | 0300 | 1.5129 | $89.79 |  | $17.96
77411 | S |  | Radiation treatment delivery | 0301 | 2.2094 | $131.13 |  | $26.23
77412 | S |  | Radiation treatment delivery | 0301 | 2.2094 | $131.13 |  | $26.23
77413 | S |  | Radiation treatment delivery | 0301 | 2.2094 | $131.13 |  | $26.23
77414 | S |  | Radiation treatment delivery | 0301 | 2.2094 | $131.13 |  | $26.23
77416 | S |  | Radiation treatment delivery | 0301 | 2.2094 | $131.13 |  | $26.23
77417 | X |  | Radiology port film(s) | 0260 | 0.7521 | $44.64 | $17.85 | $8.93
77418 | S |  | Radiation tx delivery, imrt | 0412 | 5.3400 | $316.93 |  | $63.39
77427 | E |  | Radiation tx management, x5 |  |  |  |  |
77431 | E |  | Radiation therapy management |  |  |  |  |
77432 | E |  | Stereotactic radiation trmt |  |  |  |  |
77470 | S |  | Special radiation treatment | 0299 | 5.8217 | $345.52 |  | $69.10
77499 | E |  | Radiation therapy management |  |  |  |  |
77520 | S |  | Proton trmt, simple w/o comp | 0664 | 12.8853 | $764.74 |  | $152.95
77522 | S |  | Proton trmt, simple w/comp | 0664 | 12.8853 | $764.74 |  | $152.95
77523 | S |  | Proton trmt, intermediate | 0667 | 15.4156 | $914.92 |  | $182.98
77525 | S |  | Proton treatment, complex | 0667 | 15.4156 | $914.92 |  | $182.98
77600 | S |  | Hyperthermia treatment | 0314 | 5.9674 | $354.17 | $98.36 | $70.83
77605 | S |  | Hyperthermia treatment | 0314 | 5.9674 | $354.17 | $98.36 | $70.83
77610 | S |  | Hyperthermia treatment | 0314 | 5.9674 | $354.17 | $98.36 | $70.83
77615 | S |  | Hyperthermia treatment | 0314 | 5.9674 | $354.17 | $98.36 | $70.83
77620 | S |  | Hyperthermia treatment | 0314 | 5.9674 | $354.17 | $98.36 | $70.83
77750 | S |  | Infuse radioactive materials | 0301 | 2.2094 | $131.13 |  | $26.23
77761 | S |  | Apply intrcav radiat simple | 0312 | 4.9806 | $295.60 |  | $59.12
77762 | S |  | Apply intrcav radiat interm | 0312 | 4.9806 | $295.60 |  | $59.12
77763 | S |  | Apply intrcav radiat compl | 0312 | 4.9806 | $295.60 |  | $59.12
77776 | S |  | Apply interstit radiat simpl | 0312 | 4.9806 | $295.60 |  | $59.12
77777 | S |  | Apply interstit radiat inter | 0312 | 4.9806 | $295.60 |  | $59.12
77778 | S |  | Apply interstit radiat compl | 0651 | 12.0898 | $717.53 |  | $143.51
77781 | S |  | High intensity brachytherapy | 0313 | 12.8072 | $760.11 |  | $152.02
77782 | S |  | High intensity brachytherapy | 0313 | 12.8072 | $760.11 |  | $152.02
77783 | S |  | High intensity brachytherapy | 0313 | 12.8072 | $760.11 |  | $152.02
77784 | S |  | High intensity brachytherapy | 0313 | 12.8072 | $760.11 |  | $152.02
77789 | S |  | Apply surface radiation | 0300 | 1.5129 | $89.79 |  | $17.96
77790 | N |  | Radiation handling |  |  |  |  |
77799 | S |  | Radium/radioisotope therapy | 0313 | 12.8072 | $760.11 |  | $152.02
78000 | S |  | Thyroid, single uptake | 0389 | 1.4908 | $88.48 | $35.39 | $17.70
78001 | S |  | Thyroid, multiple uptakes | 0389 | 1.4908 | $88.48 | $35.39 | $17.70
78003 | S |  | Thyroid suppress/stimul | 0389 | 1.4908 | $88.48 | $35.39 | $17.70
78006 | S |  | Thyroid imaging with uptake | 0390 | 2.5446 | $151.02 | $60.40 | $30.20
78007 | S |  | Thyroid image, mult uptakes | 0391 | 2.8643 | $170.00 | $68.00 | $34.00
78010 | S |  | Thyroid imaging | 0390 | 2.5446 | $151.02 | $60.40 | $30.20
78011 | S |  | Thyroid imaging with flow | 0390 | 2.5446 | $151.02 | $60.40 | $30.20
78015 | S |  | Thyroid met imaging | 0406 | 4.2840 | $254.26 | $101.70 | $50.85
78016 | S |  | Thyroid met imaging/studies | 0406 | 4.2840 | $254.26 | $101.70 | $50.85
78018 | S |  | Thyroid met imaging, body | 0406 | 4.2840 | $254.26 | $101.70 | $50.85
78020 | S |  | Thyroid met uptake | 0399 | 1.5123 | $89.76 | $35.90 | $17.95
78070 | S |  | Parathyroid nuclear imaging | 0391 | 2.8643 | $170.00 | $68.00 | $34.00
78075 | S |  | Adrenal nuclear imaging | 0391 | 2.8643 | $170.00 | $68.00 | $34.00
78099 | S |  | Endocrine nuclear procedure | 0390 | 2.5446 | $151.02 | $60.40 | $30.20
78102 | S |  | Bone marrow imaging, ltd | 0400 | 4.1147 | $244.21 | $97.68 | $48.84
78103 | S |  | Bone marrow imaging, mult | 0400 | 4.1147 | $244.21 | $97.68 | $48.84
78104 | S |  | Bone marrow imaging, body | 0400 | 4.1147 | $244.21 | $97.68 | $48.84
78110 | S |  | Plasma volume, single | 0393 | 3.4282 | $203.46 | $81.38 | $40.69
78111 | S |  | Plasma volume, multiple | 0393 | 3.4282 | $203.46 | $81.38 | $40.69
78120 | S |  | Red cell mass, single | 0393 | 3.4282 | $203.46 | $81.38 | $40.69
78121 | S |  | Red cell mass, multiple | 0393 | 3.4282 | $203.46 | $81.38 | $40.69
78122 | S |  | Blood volume | 0393 | 3.4282 | $203.46 | $81.38 | $40.69
78130 | S |  | Red cell survival study | 0393 | 3.4282 | $203.46 | $81.38 | $40.69
78135 | S |  | Red cell survival kinetics | 0393 | 3.4282 | $203.46 | $81.38 | $40.69
78140 | S |  | Red cell sequestration | 0393 | 3.4282 | $203.46 | $81.38 | $40.69
78160 | S |  | Plasma iron turnover | 0393 | 3.4282 | $203.46 | $81.38 | $40.69
78162 | S |  | Radioiron absorption exam | 0393 | 3.4282 | $203.46 | $81.38 | $40.69
78170 | S |  | Red cell iron utilization | 0393 | 3.4282 | $203.46 | $81.38 | $40.69
78172 | S |  | Total body iron estimation | 0393 | 3.4282 | $203.46 | $81.38 | $40.69
78185 | S |  | Spleen imaging | 0400 | 4.1147 | $244.21 | $97.68 | $48.84
78190 | S |  | Platelet survival, kinetics | 0389 | 1.4908 | $88.48 | $35.39 | $17.70
78191 | S |  | Platelet survival | 0389 | 1.4908 | $88.48 | $35.39 | $17.70
78195 | S |  | Lymph system imaging | 0400 | 4.1147 | $244.21 | $97.68 | $48.84
78199 | S |  | Blood/lymph nuclear exam | 0400 | 4.1147 | $244.21 | $97.68 | $48.84
78201 | S |  | Liver imaging | 0394 | 4.4428 | $263.68 | $105.47 | $52.74
78202 | S |  | Liver imaging with flow | 0394 | 4.4428 | $263.68 | $105.47 | $52.74
78205 | S |  | Liver imaging (3D) | 0394 | 4.4428 | $263.68 | $105.47 | $52.74
78206 | S |  | Liver image (3d) with flow | 0394 | 4.4428 | $263.68 | $105.47 | $52.74
78215 | S |  | Liver and spleen imaging | 0394 | 4.4428 | $263.68 | $105.47 | $52.74
78216 | S |  | Liver & spleen image/flow | 0394 | 4.4428 | $263.68 | $105.47 | $52.74
78220 | S |  | Liver function study | 0394 | 4.4428 | $263.68 | $105.47 | $52.74
78223 | S |  | Hepatobiliary imaging | 0394 | 4.4428 | $263.68 | $105.47 | $52.74
78230 | S |  | Salivary gland imaging | 0395 | 3.8523 | $228.63 | $91.45 | $45.73
78231 | S |  | Serial salivary imaging | 0395 | 3.8523 | $228.63 | $91.45 | $45.73
78232 | S |  | Salivary gland function exam | 0395 | 3.8523 | $228.63 | $91.45 | $45.73
78258 | S |  | Esophageal motility study | 0395 | 3.8523 | $228.63 | $91.45 | $45.73
78261 | S |  | Gastric mucosa imaging | 0395 | 3.8523 | $228.63 | $91.45 | $45.73
78262 | S |  | Gastroesophageal reflux exam | 0395 | 3.8523 | $228.63 | $91.45 | $45.73
78264 | S |  | Gastric emptying study | 0395 | 3.8523 | $228.63 | $91.45 | $45.73
78267 | A |  | Breath tst attain/anal c-14 |  |  |  |  |
78268 | A |  | Breath test analysis, c-14 |  |  |  |  |
78270 | S |  | Vit B-12 absorption exam | 0389 | 1.4908 | $88.48 | $35.39 | $17.70
78271 | S |  | Vit b-12 absrp exam, int fac | 0389 | 1.4908 | $88.48 | $35.39 | $17.70
78272 | S |  | Vit B-12 absorp, combined | 0389 | 1.4908 | $88.48 | $35.39 | $17.70
78278 | S |  | Acute GI blood loss imaging | 0395 | 3.8523 | $228.63 | $91.45 | $45.73
78282 | S |  | GI protein loss exam | 0395 | 3.8523 | $228.63 | $91.45 | $45.73
78290 | S |  | Meckel?s divert exam | 0395 | 3.8523 | $228.63 | $91.45 | $45.73
78291 | S |  | Leveen/shunt patency exam | 0395 | 3.8523 | $228.63 | $91.45 | $45.73
78299 | S |  | GI nuclear procedure | 0395 | 3.8523 | $228.63 | $91.45 | $45.73
78300 | S |  | Bone imaging, limited area | 0396 | 4.1238 | $244.75 | $97.90 | $48.95
78305 | S |  | Bone imaging, multiple areas | 0396 | 4.1238 | $244.75 | $97.90 | $48.95
78306 | S |  | Bone imaging, whole body | 0396 | 4.1238 | $244.75 | $97.90 | $48.95
78315 | S |  | Bone imaging, 3 phase | 0396 | 4.1238 | $244.75 | $97.90 | $48.95
78320 | S |  | Bone imaging (3D) | 0396 | 4.1238 | $244.75 | $97.90 | $48.95
78350 | X |  | Bone mineral, single photon | 0260 | 0.7521 | $44.64 | $17.85 | $8.93
78351 | E |  | Bone mineral, dual photon |  |  |  |  |
78399 | S |  | Musculoskeletal nuclear exam | 0396 | 4.1238 | $244.75 | $97.90 | $48.95
78414 | S |  | Non-imaging heart function | 0398 | 4.2898 | $254.60 | $101.84 | $50.92
78428 | S |  | Cardiac shunt imaging | 0398 | 4.2898 | $254.60 | $101.84 | $50.92
78445 | S |  | Vascular flow imaging | 0397 | 2.2543 | $133.79 | $53.51 | $26.76
78455 | S |  | Venous thrombosis study | 0397 | 2.2543 | $133.79 | $53.51 | $26.76
78456 | S |  | Acute venous thrombus image | 0397 | 2.2543 | $133.79 | $53.51 | $26.76
78457 | S |  | Venous thrombosis imaging | 0397 | 2.2543 | $133.79 | $53.51 | $26.76
78458 | S |  | Ven thrombosis images, bilat | 0397 | 2.2543 | $133.79 | $53.51 | $26.76
78459 | S |  | Heart muscle imaging (PET) | 0285 | 17.1020 | $1,015.00 | $318.72 | $203.00
78460 | S |  | Heart muscle blood, single | 0398 | 4.2898 | $254.60 | $101.84 | $50.92
78461 | S |  | Heart muscle blood, multiple | 0377 | 6.8034 | $403.78 | $161.51 | $80.76
78464 | S |  | Heart image (3d), single | 0398 | 4.2898 | $254.60 | $101.84 | $50.92
78465 | S |  | Heart image (3d), multiple | 0377 | 6.8034 | $403.78 | $161.51 | $80.76
78466 | S |  | Heart infarct image | 0398 | 4.2898 | $254.60 | $101.84 | $50.92
78468 | S |  | Heart infarct image (ef) | 0398 | 4.2898 | $254.60 | $101.84 | $50.92
78469 | S |  | Heart infarct image (3D) | 0398 | 4.2898 | $254.60 | $101.84 | $50.92
78472 | S |  | Gated heart, planar, single | 0398 | 4.2898 | $254.60 | $101.84 | $50.92
78473 | S |  | Gated heart, multiple | 0376 | 5.1740 | $307.08 | $121.42 | $61.42
78478 | S |  | Heart wall motion add-on | 0399 | 1.5123 | $89.76 | $35.90 | $17.95
78480 | S |  | Heart function add-on | 0399 | 1.5123 | $89.76 | $35.90 | $17.95
78481 | S |  | Heart first pass, single | 0398 | 4.2898 | $254.60 | $101.84 | $50.92
78483 | S |  | Heart first pass, multiple | 0376 | 5.1740 | $307.08 | $121.42 | $61.42
78491 | S |  | Heart image (pet), single | 0285 | 17.1020 | $1,015.00 | $318.72 | $203.00
78492 | S |  | Heart image (pet), multiple | 0285 | 17.1020 | $1,015.00 | $318.72 | $203.00
78494 | S |  | Heart image, spect | 0398 | 4.2898 | $254.60 | $101.84 | $50.92
78496 | S |  | Heart first pass add-on | 0399 | 1.5123 | $89.76 | $35.90 | $17.95
78499 | S |  | Cardiovascular nuclear exam | 0398 | 4.2898 | $254.60 | $101.84 | $50.92
78580 | S |  | Lung perfusion imaging | 0401 | 3.3995 | $201.76 | $80.70 | $40.35
78584 | S |  | Lung V/Q image single breath | 0378 | 5.4748 | $324.93 | $129.97 | $64.99
78585 | S |  | Lung V/Q imaging | 0378 | 5.4748 | $324.93 | $129.97 | $64.99
78586 | S |  | Aerosol lung image, single | 0401 | 3.3995 | $201.76 | $80.70 | $40.35
78587 | S |  | Aerosol lung image, multiple | 0401 | 3.3995 | $201.76 | $80.70 | $40.35
78588 | S |  | Perfusion lung image | 0378 | 5.4748 | $324.93 | $129.97 | $64.99
78591 | S |  | Vent image, 1 breath, 1 proj | 0401 | 3.3995 | $201.76 | $80.70 | $40.35
78593 | S |  | Vent image, 1 proj, gas | 0401 | 3.3995 | $201.76 | $80.70 | $40.35
78594 | S |  | Vent image, mult proj, gas | 0401 | 3.3995 | $201.76 | $80.70 | $40.35
78596 | S |  | Lung differential function | 0378 | 5.4748 | $324.93 | $129.97 | $64.99
78599 | S |  | Respiratory nuclear exam | 0401 | 3.3995 | $201.76 | $80.70 | $40.35
78600 | S |  | Brain imaging, ltd static | 0402 | 5.1612 | $306.32 | $122.52 | $61.26
78601 | S |  | Brain imaging, ltd w/flow | 0402 | 5.1612 | $306.32 | $122.52 | $61.26
78605 | S |  | Brain imaging, complete | 0402 | 5.1612 | $306.32 | $122.52 | $61.26
78606 | S |  | Brain imaging, compl w/flow | 0402 | 5.1612 | $306.32 | $122.52 | $61.26
78607 | S |  | Brain imaging (3D) | 0402 | 5.1612 | $306.32 | $122.52 | $61.26
78608 | S |  | Brain imaging (PET) | 1513 |  | $1,150.00 |  | $230.00
78609 | S |  | Brain imaging (PET) | 1513 |  | $1,150.00 |  | $230.00
78610 | S |  | Brain flow imaging only | 0402 | 5.1612 | $306.32 | $122.52 | $61.26
78615 | S |  | Cerebral vascular flow image | 0402 | 5.1612 | $306.32 | $122.52 | $61.26
78630 | S |  | Cerebrospinal fluid scan | 0403 | 3.5974 | $213.51 | $85.40 | $42.70
78635 | S |  | CSF ventriculography | 0403 | 3.5974 | $213.51 | $85.40 | $42.70
78645 | S |  | CSF shunt evaluation | 0403 | 3.5974 | $213.51 | $85.40 | $42.70
78647 | S |  | Cerebrospinal fluid scan | 0403 | 3.5974 | $213.51 | $85.40 | $42.70
78650 | S |  | CSF leakage imaging | 0403 | 3.5974 | $213.51 | $85.40 | $42.70
78660 | S |  | Nuclear exam of tear flow | 0403 | 3.5974 | $213.51 | $85.40 | $42.70
78699 | S |  | Nervous system nuclear exam | 0402 | 5.1612 | $306.32 | $122.52 | $61.26
78700 | S |  | Kidney imaging, static | 0267 | 2.6208 | $155.54 | $62.18 | $31.11
78701 | S |  | Kidney imaging with flow | 0404 | 3.8385 | $227.81 | $91.12 | $45.56
78704 | S |  | Imaging renogram | 0404 | 3.8385 | $227.81 | $91.12 | $45.56
78707 | S |  | Kidney flow/function image | 0404 | 3.8385 | $227.81 | $91.12 | $45.56
78708 | S |  | Kidney flow/function image | 0405 | 4.2480 | $252.12 | $100.84 | $50.42
78709 | S |  | Kidney flow/function image | 0405 | 4.2480 | $252.12 | $100.84 | $50.42
78710 | S |  | Kidney imaging (3D) | 0404 | 3.8385 | $227.81 | $91.12 | $45.56
78715 | S |  | Renal vascular flow exam | 0404 | 3.8385 | $227.81 | $91.12 | $45.56
78725 | S |  | Kidney function study | 0389 | 1.4908 | $88.48 | $35.39 | $17.70
78730 | X |  | Urinary bladder retention | 0340 | 0.6355 | $37.72 |  | $7.54
78740 | S |  | Ureteral reflux study | 0404 | 3.8385 | $227.81 | $91.12 | $45.56
78760 | S |  | Testicular imaging | 0404 | 3.8385 | $227.81 | $91.12 | $45.56
78761 | S |  | Testicular imaging/flow | 0404 | 3.8385 | $227.81 | $91.12 | $45.56
78799 | S |  | Genitourinary nuclear exam | 0404 | 3.8385 | $227.81 | $91.12 | $45.56
78800 | S |  | Tumor imaging, limited area | 0406 | 4.2840 | $254.26 | $101.70 | $50.85
78801 | S |  | Tumor imaging, mult areas | 0406 | 4.2840 | $254.26 | $101.70 | $50.85
78802 | S |  | Tumor imaging, whole body | 0406 | 4.2840 | $254.26 | $101.70 | $50.85
78803 | S |  | Tumor imaging (3D) | 0406 | 4.2840 | $254.26 | $101.70 | $50.85
78804 | S |  | Tumor imaging, whole body | 1508 |  | $650.00 |  | $130.00
78805 | S |  | Abscess imaging, ltd area | 0406 | 4.2840 | $254.26 | $101.70 | $50.85
78806 | S |  | Abscess imaging, whole body | 0406 | 4.2840 | $254.26 | $101.70 | $50.85
78807 | S |  | Nuclear localization/abscess | 0406 | 4.2840 | $254.26 | $101.70 | $50.85
78811 | S |  | Tumor imaging (pet), limited | 1513 |  | $1,150.00 |  | $230.00
78812 | S |  | Tumor image (pet)/skul-thigh | 1513 |  | $1,150.00 |  | $230.00
78813 | S |  | Tumor image (pet) full body | 1513 |  | $1,150.00 |  | $230.00
78814 | S |  | Tumor image pet/ct, limited | 1513 |  | $1,150.00 |  | $230.00
78815 | S |  | Tumorimage pet/ct skul-thigh | 1513 |  | $1,150.00 |  | $230.00
78816 | S |  | Tumor image pet/ct full body | 1513 |  | $1,150.00 |  | $230.00
78890 | N |  | Nuclear medicine data proc |  |  |  |  |
78891 | N |  | Nuclear med data proc |  |  |  |  |
78999 | S |  | Nuclear diagnostic exam | 0389 | 1.4908 | $88.48 | $35.39 | $17.70
79005 | S |  | Nuclear rx, oral admin | 0407 | 3.9659 | $235.38 | $94.15 | $47.08
79101 | S |  | Nuclear rx, iv admin | 0407 | 3.9659 | $235.38 | $94.15 | $47.08
79200 | S |  | Intracavitary nuclear trmt | 0407 | 3.9659 | $235.38 | $94.15 | $47.08
79300 | S |  | Interstitial nuclear therapy | 0407 | 3.9659 | $235.38 | $94.15 | $47.08
79403 | S |  | Hematopoetic nuclear therapy | 1507 |  | $550.00 |  | $110.00
79440 | S |  | Nuclear joint therapy | 0407 | 3.9659 | $235.38 | $94.15 | $47.08
79445 | S |  | Nuclear rx, intra-arterial | 0407 | 3.9659 | $235.38 | $94.15 | $47.08
79999 | S |  | Nuclear medicine therapy | 0407 | 3.9659 | $235.38 | $94.15 | $47.08
80048 | A |  | Basic metabolic panel |  |  |  |  |
80050 | E |  | General health panel |  |  |  |  |
80051 | A |  | Electrolyte panel |  |  |  |  |
80053 | A |  | Comprehen metabolic panel |  |  |  |  |
80055 | E |  | Obstetric panel |  |  |  |  |
80061 | A |  | Lipid panel |  |  |  |  |
80069 | A |  | Renal function panel |  |  |  |  |
80074 | A |  | Acute hepatitis panel |  |  |  |  |
80076 | A |  | Hepatic function panel |  |  |  |  |
80100 | A |  | Drug screen, qualitate/multi |  |  |  |  |
80101 | A |  | Drug screen, single |  |  |  |  |
80102 | A |  | Drug confirmation |  |  |  |  |
80103 | N |  | Drug analysis, tissue prep |  |  |  |  |
80150 | A |  | Assay of amikacin |  |  |  |  |
80152 | A |  | Assay of amitriptyline |  |  |  |  |
80154 | A |  | Assay of benzodiazepines |  |  |  |  |
80156 | A |  | Assay, carbamazepine, total |  |  |  |  |
80157 | A |  | Assay, carbamazepine, free |  |  |  |  |
80158 | A |  | Assay of cyclosporine |  |  |  |  |
80160 | A |  | Assay of desipramine |  |  |  |  |
80162 | A |  | Assay of digoxin |  |  |  |  |
80164 | A |  | Assay, dipropylacetic acid |  |  |  |  |
80166 | A |  | Assay of doxepin |  |  |  |  |
80168 | A |  | Assay of ethosuximide |  |  |  |  |
80170 | A |  | Assay of gentamicin |  |  |  |  |
80172 | A |  | Assay of gold |  |  |  |  |
80173 | A |  | Assay of haloperidol |  |  |  |  |
80174 | A |  | Assay of imipramine |  |  |  |  |
80176 | A |  | Assay of lidocaine |  |  |  |  |
80178 | A |  | Assay of lithium |  |  |  |  |
80182 | A |  | Assay of nortriptyline |  |  |  |  |
80184 | A |  | Assay of phenobarbital |  |  |  |  |
80185 | A |  | Assay of phenytoin, total |  |  |  |  |
80186 | A |  | Assay of phenytoin, free |  |  |  |  |
80188 | A |  | Assay of primidone |  |  |  |  |
80190 | A |  | Assay of procainamide |  |  |  |  |
80192 | A |  | Assay of procainamide |  |  |  |  |
80194 | A |  | Assay of quinidine |  |  |  |  |
80196 | A |  | Assay of salicylate |  |  |  |  |
80197 | A |  | Assay of tacrolimus |  |  |  |  |
80198 | A |  | Assay of theophylline |  |  |  |  |
80200 | A |  | Assay of tobramycin |  |  |  |  |
80201 | A |  | Assay of topiramate |  |  |  |  |
80202 | A |  | Assay of vancomycin |  |  |  |  |
80299 | A |  | Quantitative assay, drug |  |  |  |  |
80400 | A |  | Acth stimulation panel |  |  |  |  |
80402 | A |  | Acth stimulation panel |  |  |  |  |
80406 | A |  | Acth stimulation panel |  |  |  |  |
80408 | A |  | Aldosterone suppression eval |  |  |  |  |
80410 | A |  | Calcitonin stimul panel |  |  |  |  |
80412 | A |  | CRH stimulation panel |  |  |  |  |
80414 | A |  | Testosterone response |  |  |  |  |
80415 | A |  | Estradiol response panel |  |  |  |  |
80416 | A |  | Renin stimulation panel |  |  |  |  |
80417 | A |  | Renin stimulation panel |  |  |  |  |
80418 | A |  | Pituitary evaluation panel |  |  |  |  |
80420 | A |  | Dexamethasone panel |  |  |  |  |
80422 | A |  | Glucagon tolerance panel |  |  |  |  |
80424 | A |  | Glucagon tolerance panel |  |  |  |  |
80426 | A |  | Gonadotropin hormone panel |  |  |  |  |
80428 | A |  | Growth hormone panel |  |  |  |  |
80430 | A |  | Growth hormone panel |  |  |  |  |
80432 | A |  | Insulin suppression panel |  |  |  |  |
80434 | A |  | Insulin tolerance panel |  |  |  |  |
80435 | A |  | Insulin tolerance panel |  |  |  |  |
80436 | A |  | Metyrapone panel |  |  |  |  |
80438 | A |  | TRH stimulation panel |  |  |  |  |
80439 | A |  | TRH stimulation panel |  |  |  |  |
80440 | A |  | TRH stimulation panel |  |  |  |  |
80500 | X |  | Lab pathology consultation | 0433 | 0.2569 | $15.25 | $6.10 | $3.05
80502 | X |  | Lab pathology consultation | 0342 | 0.1553 | $9.22 | $3.68 | $1.84
81000 | A |  | Urinalysis, nonauto w/scope |  |  |  |  |
81001 | A |  | Urinalysis, auto w/scope |  |  |  |  |
81002 | A |  | Urinalysis nonauto w/o scope |  |  |  |  |
81003 | A |  | Urinalysis, auto, w/o scope |  |  |  |  |
81005 | A |  | Urinalysis |  |  |  |  |
81007 | A |  | Urine screen for bacteria |  |  |  |  |
81015 | A |  | Microscopic exam of urine |  |  |  |  |
81020 | A |  | Urinalysis, glass test |  |  |  |  |
81025 | A |  | Urine pregnancy test |  |  |  |  |
81050 | A |  | Urinalysis, volume measure |  |  |  |  |
81099 | A |  | Urinalysis test procedure |  |  |  |  |
82000 | A |  | Assay of blood acetaldehyde |  |  |  |  |
82003 | A |  | Assay of acetaminophen |  |  |  |  |
82009 | A |  | Test for acetone/ketones |  |  |  |  |
82010 | A |  | Acetone assay |  |  |  |  |
82013 | A |  | Acetylcholinesterase assay |  |  |  |  |
82016 | A |  | Acylcarnitines, qual |  |  |  |  |
82017 | A |  | Acylcarnitines, quant |  |  |  |  |
82024 | A |  | Assay of acth |  |  |  |  |
82030 | A |  | Assay of adp & amp |  |  |  |  |
82040 | A |  | Assay of serum albumin |  |  |  |  |
82042 | A |  | Assay of urine albumin |  |  |  |  |
82043 | A |  | Microalbumin, quantitative |  |  |  |  |
82044 | A |  | Microalbumin, semiquant |  |  |  |  |
82045 | A |  | Albumin, ischemia modified |  |  |  |  |
82055 | A |  | Assay of ethanol |  |  |  |  |
82075 | A |  | Assay of breath ethanol |  |  |  |  |
82085 | A |  | Assay of aldolase |  |  |  |  |
82088 | A |  | Assay of aldosterone |  |  |  |  |
82101 | A |  | Assay of urine alkaloids |  |  |  |  |
82103 | A |  | Alpha-1-antitrypsin, total |  |  |  |  |
82104 | A |  | Alpha-1-antitrypsin, pheno |  |  |  |  |
82105 | A |  | Alpha-fetoprotein, serum |  |  |  |  |
82106 | A |  | Alpha-fetoprotein, amniotic |  |  |  |  |
82108 | A |  | Assay of aluminum |  |  |  |  |
82120 | A |  | Amines, vaginal fluid qual |  |  |  |  |
82127 | A |  | Amino acid, single qual |  |  |  |  |
82128 | A |  | Amino acids, mult qual |  |  |  |  |
82131 | A |  | Amino acids, single quant |  |  |  |  |
82135 | A |  | Assay, aminolevulinic acid |  |  |  |  |
82136 | A |  | Amino acids, quant, 2-5 |  |  |  |  |
82139 | A |  | Amino acids, quan, 6 or more |  |  |  |  |
82140 | A |  | Assay of ammonia |  |  |  |  |
82143 | A |  | Amniotic fluid scan |  |  |  |  |
82145 | A |  | Assay of amphetamines |  |  |  |  |
82150 | A |  | Assay of amylase |  |  |  |  |
82154 | A |  | Androstanediol glucuronide |  |  |  |  |
82157 | A |  | Assay of androstenedione |  |  |  |  |
82160 | A |  | Assay of androsterone |  |  |  |  |
82163 | A |  | Assay of angiotensin II |  |  |  |  |
82164 | A |  | Angiotensin I enzyme test |  |  |  |  |
82172 | A |  | Assay of apolipoprotein |  |  |  |  |
82175 | A |  | Assay of arsenic |  |  |  |  |
82180 | A |  | Assay of ascorbic acid |  |  |  |  |
82190 | A |  | Atomic absorption |  |  |  |  |
82205 | A |  | Assay of barbiturates |  |  |  |  |
82232 | A |  | Assay of beta-2 protein |  |  |  |  |
82239 | A |  | Bile acids, total |  |  |  |  |
82240 | A |  | Bile acids, cholylglycine |  |  |  |  |
82247 | A |  | Bilirubin, total |  |  |  |  |
82248 | A |  | Bilirubin, direct |  |  |  |  |
82252 | A |  | Fecal bilirubin test |  |  |  |  |
82261 | A |  | Assay of biotinidase |  |  |  |  |
82270 | A |  | Test for blood, feces |  |  |  |  |
82273 | A |  | Test for blood, other source |  |  |  |  |
82274 | A |  | Assay test for blood, fecal |  |  |  |  |
82286 | A |  | Assay of bradykinin |  |  |  |  |
82300 | A |  | Assay of cadmium |  |  |  |  |
82306 | A |  | Assay of vitamin D |  |  |  |  |
82307 | A |  | Assay of vitamin D |  |  |  |  |
82308 | A |  | Assay of calcitonin |  |  |  |  |
82310 | A |  | Assay of calcium |  |  |  |  |
82330 | A |  | Assay of calcium |  |  |  |  |
82331 | A |  | Calcium infusion test |  |  |  |  |
82340 | A |  | Assay of calcium in urine |  |  |  |  |
82355 | A |  | Calculus analysis, qual |  |  |  |  |
82360 | A |  | Calculus assay, quant |  |  |  |  |
82365 | A |  | Calculus spectroscopy |  |  |  |  |
82370 | A |  | X-ray assay, calculus |  |  |  |  |
82373 | A |  | Assay, c-d transfer measure |  |  |  |  |
82374 | A |  | Assay, blood carbon dioxide |  |  |  |  |
82375 | A |  | Assay, blood carbon monoxide |  |  |  |  |
82376 | A |  | Test for carbon monoxide |  |  |  |  |
82378 | A |  | Carcinoembryonic antigen |  |  |  |  |
82379 | A |  | Assay of carnitine |  |  |  |  |
82380 | A |  | Assay of carotene |  |  |  |  |
82382 | A |  | Assay, urine catecholamines |  |  |  |  |
82383 | A |  | Assay, blood catecholamines |  |  |  |  |
82384 | A |  | Assay, three catecholamines |  |  |  |  |
82387 | A |  | Assay of cathepsin-d |  |  |  |  |
82390 | A |  | Assay of ceruloplasmin |  |  |  |  |
82397 | A |  | Chemiluminescent assay |  |  |  |  |
82415 | A |  | Assay of chloramphenicol |  |  |  |  |
82435 | A |  | Assay of blood chloride |  |  |  |  |
82436 | A |  | Assay of urine chloride |  |  |  |  |
82438 | A |  | Assay, other fluid chlorides |  |  |  |  |
82441 | A |  | Test for chlorohydrocarbons |  |  |  |  |
82465 | A |  | Assay, bld/serum cholesterol |  |  |  |  |
82480 | A |  | Assay, serum cholinesterase |  |  |  |  |
82482 | A |  | Assay, rbc cholinesterase |  |  |  |  |
82485 | A |  | Assay, chondroitin sulfate |  |  |  |  |
82486 | A |  | Gas/liquid chromatography |  |  |  |  |
82487 | A |  | Paper chromatography |  |  |  |  |
82488 | A |  | Paper chromatography |  |  |  |  |
82489 | A |  | Thin layer chromatography |  |  |  |  |
82491 | A |  | Chromotography, quant, sing |  |  |  |  |
82492 | A |  | Chromotography, quant, mult |  |  |  |  |
82495 | A |  | Assay of chromium |  |  |  |  |
82507 | A |  | Assay of citrate |  |  |  |  |
82520 | A |  | Assay of cocaine |  |  |  |  |
82523 | A |  | Collagen crosslinks |  |  |  |  |
82525 | A |  | Assay of copper |  |  |  |  |
82528 | A |  | Assay of corticosterone |  |  |  |  |
82530 | A |  | Cortisol, free |  |  |  |  |
82533 | A |  | Total cortisol |  |  |  |  |
82540 | A |  | Assay of creatine |  |  |  |  |
82541 | A |  | Column chromotography, qual |  |  |  |  |
82542 | A |  | Column chromotography, quant |  |  |  |  |
82543 | A |  | Column chromotograph/isotope |  |  |  |  |
82544 | A |  | Column chromotograph/isotope |  |  |  |  |
82550 | A |  | Assay of ck (cpk) |  |  |  |  |
82552 | A |  | Assay of cpk in blood |  |  |  |  |
82553 | A |  | Creatine, MB fraction |  |  |  |  |
82554 | A |  | Creatine, isoforms |  |  |  |  |
82565 | A |  | Assay of creatinine |  |  |  |  |
82570 | A |  | Assay of urine creatinine |  |  |  |  |
82575 | A |  | Creatinine clearance test |  |  |  |  |
82585 | A |  | Assay of cryofibrinogen |  |  |  |  |
82595 | A |  | Assay of cryoglobulin |  |  |  |  |
82600 | A |  | Assay of cyanide |  |  |  |  |
82607 | A |  | Vitamin B-12 |  |  |  |  |
82608 | A |  | B-12 binding capacity |  |  |  |  |
82615 | A |  | Test for urine cystines |  |  |  |  |
82626 | A |  | Dehydroepiandrosterone |  |  |  |  |
82627 | A |  | Dehydroepiandrosterone |  |  |  |  |
82633 | A |  | Desoxycorticosterone |  |  |  |  |
82634 | A |  | Deoxycortisol |  |  |  |  |
82638 | A |  | Assay of dibucaine number |  |  |  |  |
82646 | A |  | Assay of dihydrocodeinone |  |  |  |  |
82649 | A |  | Assay of dihydromorphinone |  |  |  |  |
82651 | A |  | Assay of dihydrotestosterone |  |  |  |  |
82652 | A |  | Assay of dihydroxyvitamin d |  |  |  |  |
82654 | A |  | Assay of dimethadione |  |  |  |  |
82656 | A |  | Pancreatic elastase, fecal |  |  |  |  |
82657 | A |  | Enzyme cell activity |  |  |  |  |
82658 | A |  | Enzyme cell activity, ra |  |  |  |  |
82664 | A |  | Electrophoretic test |  |  |  |  |
82666 | A |  | Assay of epiandrosterone |  |  |  |  |
82668 | A |  | Assay of erythropoietin |  |  |  |  |
82670 | A |  | Assay of estradiol |  |  |  |  |
82671 | A |  | Assay of estrogens |  |  |  |  |
82672 | A |  | Assay of estrogen |  |  |  |  |
82677 | A |  | Assay of estriol |  |  |  |  |
82679 | A |  | Assay of estrone |  |  |  |  |
82690 | A |  | Assay of ethchlorvynol |  |  |  |  |
82693 | A |  | Assay of ethylene glycol |  |  |  |  |
82696 | A |  | Assay of etiocholanolone |  |  |  |  |
82705 | A |  | Fats/lipids, feces, qual |  |  |  |  |
82710 | A |  | Fats/lipids, feces, quant |  |  |  |  |
82715 | A |  | Assay of fecal fat |  |  |  |  |
82725 | A |  | Assay of blood fatty acids |  |  |  |  |
82726 | A |  | Long chain fatty acids |  |  |  |  |
82728 | A |  | Assay of ferritin |  |  |  |  |
82731 | A |  | Assay of fetal fibronectin |  |  |  |  |
82735 | A |  | Assay of fluoride |  |  |  |  |
82742 | A |  | Assay of flurazepam |  |  |  |  |
82746 | A |  | Blood folic acid serum |  |  |  |  |
82747 | A |  | Assay of folic acid, rbc |  |  |  |  |
82757 | A |  | Assay of semen fructose |  |  |  |  |
82759 | A |  | Assay of rbc galactokinase |  |  |  |  |
82760 | A |  | Assay of galactose |  |  |  |  |
82775 | A |  | Assay galactose transferase |  |  |  |  |
82776 | A |  | Galactose transferase test |  |  |  |  |
82784 | A |  | Assay of gammaglobulin igm |  |  |  |  |
82785 | A |  | Assay of gammaglobulin ige |  |  |  |  |
82787 | A |  | Igg 1, 2, 3 or 4, each |  |  |  |  |
82800 | A |  | Blood pH |  |  |  |  |
82803 | A |  | Blood gases pH, pO2 & pCO2 |  |  |  |  |
82805 | A |  | Blood gases W/02 saturation |  |  |  |  |
82810 | A |  | Blood gases, O2 sat only |  |  |  |  |
82820 | A |  | Hemoglobin-oxygen affinity |  |  |  |  |
82926 | A |  | Assay of gastric acid |  |  |  |  |
82928 | A |  | Assay of gastric acid |  |  |  |  |
82938 | A |  | Gastrin test |  |  |  |  |
82941 | A |  | Assay of gastrin |  |  |  |  |
82943 | A |  | Assay of glucagon |  |  |  |  |
82945 | A |  | Glucose other fluid |  |  |  |  |
82946 | A |  | Glucagon tolerance test |  |  |  |  |
82947 | A |  | Assay, glucose, blood quant |  |  |  |  |
82948 | A |  | Reagent strip/blood glucose |  |  |  |  |
82950 | A |  | Glucose test |  |  |  |  |
82951 | A |  | Glucose tolerance test (GTT) |  |  |  |  |
82952 | A |  | GTT-added samples |  |  |  |  |
82953 | A |  | Glucose-tolbutamide test |  |  |  |  |
82955 | A |  | Assay of g6pd enzyme |  |  |  |  |
82960 | A |  | Test for G6PD enzyme |  |  |  |  |
82962 | A |  | Glucose blood test |  |  |  |  |
82963 | A |  | Assay of glucosidase |  |  |  |  |
82965 | A |  | Assay of gdh enzyme |  |  |  |  |
82975 | A |  | Assay of glutamine |  |  |  |  |
82977 | A |  | Assay of GGT |  |  |  |  |
82978 | A |  | Assay of glutathione |  |  |  |  |
82979 | A |  | Assay, rbc glutathione |  |  |  |  |
82980 | A |  | Assay of glutethimide |  |  |  |  |
82985 | A |  | Glycated protein |  |  |  |  |
83001 | A |  | Gonadotropin (FSH) |  |  |  |  |
83002 | A |  | Gonadotropin (LH) |  |  |  |  |
83003 | A |  | Assay, growth hormone (hgh) |  |  |  |  |
83008 | A |  | Assay of guanosine |  |  |  |  |
83009 | A |  | H pylori (c-13), blood |  |  |  |  |
83010 | A |  | Assay of haptoglobin, quant |  |  |  |  |
83012 | A |  | Assay of haptoglobins |  |  |  |  |
83013 | A |  | H pylori analysis |  |  |  |  |
83014 | A |  | H pylori drug admin/collect |  |  |  |  |
83015 | A |  | Heavy metal screen |  |  |  |  |
83018 | A |  | Quantitative screen, metals |  |  |  |  |
83020 | A |  | Hemoglobin electrophoresis |  |  |  |  |
83021 | A |  | Hemoglobin chromotography |  |  |  |  |
83026 | A |  | Hemoglobin, copper sulfate |  |  |  |  |
83030 | A |  | Fetal hemoglobin, chemical |  |  |  |  |
83033 | A |  | Fetal hemoglobin assay, qual |  |  |  |  |
83036 | A |  | Glycated hemoglobin test |  |  |  |  |
83045 | A |  | Blood methemoglobin test |  |  |  |  |
83050 | A |  | Blood methemoglobin assay |  |  |  |  |
83051 | A |  | Assay of plasma hemoglobin |  |  |  |  |
83055 | A |  | Blood sulfhemoglobin test |  |  |  |  |
83060 | A |  | Blood sulfhemoglobin assay |  |  |  |  |
83065 | A |  | Assay of hemoglobin heat |  |  |  |  |
83068 | A |  | Hemoglobin stability screen |  |  |  |  |
83069 | A |  | Assay of urine hemoglobin |  |  |  |  |
83070 | A |  | Assay of hemosiderin, qual |  |  |  |  |
83071 | A |  | Assay of hemosiderin, quant |  |  |  |  |
83080 | A |  | Assay of b hexosaminidase |  |  |  |  |
83088 | A |  | Assay of histamine |  |  |  |  |
83090 | A |  | Assay of homocystine |  |  |  |  |
83150 | A |  | Assay of for hva |  |  |  |  |
83491 | A |  | Assay of corticosteroids |  |  |  |  |
83497 | A |  | Assay of 5-hiaa |  |  |  |  |
83498 | A |  | Assay of progesterone |  |  |  |  |
83499 | A |  | Assay of progesterone |  |  |  |  |
83500 | A |  | Assay, free hydroxyproline |  |  |  |  |
83505 | A |  | Assay, total hydroxyproline |  |  |  |  |
83516 | A |  | Immunoassay, nonantibody |  |  |  |  |
83518 | A |  | Immunoassay, dipstick |  |  |  |  |
83519 | A |  | Immunoassay, nonantibody |  |  |  |  |
83520 | A |  | Immunoassay, RIA |  |  |  |  |
83525 | A |  | Assay of insulin |  |  |  |  |
83527 | A |  | Assay of insulin |  |  |  |  |
83528 | A |  | Assay of intrinsic factor |  |  |  |  |
83540 | A |  | Assay of iron |  |  |  |  |
83550 | A |  | Iron binding test |  |  |  |  |
83570 | A |  | Assay of idh enzyme |  |  |  |  |
83582 | A |  | Assay of ketogenic steroids |  |  |  |  |
83586 | A |  | Assay 17- ketosteroids |  |  |  |  |
83593 | A |  | Fractionation, ketosteroids |  |  |  |  |
83605 | A |  | Assay of lactic acid |  |  |  |  |
83615 | A |  | Lactate (LD) (LDH) enzyme |  |  |  |  |
83625 | A |  | Assay of ldh enzymes |  |  |  |  |
83630 | A |  | Lactoferrin, fecal (qual) |  |  |  |  |
83632 | A |  | Placental lactogen |  |  |  |  |
83633 | A |  | Test urine for lactose |  |  |  |  |
83634 | A |  | Assay of urine for lactose |  |  |  |  |
83655 | A |  | Assay of lead |  |  |  |  |
83661 | A |  | L/s ratio, fetal lung |  |  |  |  |
83662 | A |  | Foam stability, fetal lung |  |  |  |  |
83663 | A |  | Fluoro polarize, fetal lung |  |  |  |  |
83664 | A |  | Lamellar bdy, fetal lung |  |  |  |  |
83670 | A |  | Assay of lap enzyme |  |  |  |  |
83690 | A |  | Assay of lipase |  |  |  |  |
83715 | A |  | Assay of blood lipoproteins |  |  |  |  |
83716 | A |  | Assay of blood lipoproteins |  |  |  |  |
83718 | A |  | Assay of lipoprotein |  |  |  |  |
83719 | A |  | Assay of blood lipoprotein |  |  |  |  |
83721 | A |  | Assay of blood lipoprotein |  |  |  |  |
83727 | A |  | Assay of lrh hormone |  |  |  |  |
83735 | A |  | Assay of magnesium |  |  |  |  |
83775 | A |  | Assay of md enzyme |  |  |  |  |
83785 | A |  | Assay of manganese |  |  |  |  |
83788 | A |  | Mass spectrometry qual |  |  |  |  |
83789 | A |  | Mass spectrometry quant |  |  |  |  |
83805 | A |  | Assay of meprobamate |  |  |  |  |
83825 | A |  | Assay of mercury |  |  |  |  |
83835 | A |  | Assay of metanephrines |  |  |  |  |
83840 | A |  | Assay of methadone |  |  |  |  |
83857 | A |  | Assay of methemalbumin |  |  |  |  |
83858 | A |  | Assay of methsuximide |  |  |  |  |
83864 | A |  | Mucopolysaccharides |  |  |  |  |
83866 | A |  | Mucopolysaccharides screen |  |  |  |  |
83872 | A |  | Assay synovial fluid mucin |  |  |  |  |
83873 | A |  | Assay of csf protein |  |  |  |  |
83874 | A |  | Assay of myoglobin |  |  |  |  |
83880 | A |  | Natriuretic peptide |  |  |  |  |
83883 | A |  | Assay, nephelometry not spec |  |  |  |  |
83885 | A |  | Assay of nickel |  |  |  |  |
83887 | A |  | Assay of nicotine |  |  |  |  |
83890 | A |  | Molecule isolate |  |  |  |  |
83891 | A |  | Molecule isolate nucleic |  |  |  |  |
83892 | A |  | Molecular diagnostics |  |  |  |  |
83893 | A |  | Molecule dot/slot/blot |  |  |  |  |
83894 | A |  | Molecule gel electrophor |  |  |  |  |
83896 | A |  | Molecular diagnostics |  |  |  |  |
83897 | A |  | Molecule nucleic transfer |  |  |  |  |
83898 | A |  | Molecule nucleic ampli |  |  |  |  |
83901 | A |  | Molecule nucleic ampli |  |  |  |  |
83902 | A |  | Molecular diagnostics |  |  |  |  |
83903 | A |  | Molecule mutation scan |  |  |  |  |
83904 | A |  | Molecule mutation identify |  |  |  |  |
83905 | A |  | Molecule mutation identify |  |  |  |  |
83906 | A |  | Molecule mutation identify |  |  |  |  |
83912 | A |  | Genetic examination |  |  |  |  |
83915 | A |  | Assay of nucleotidase |  |  |  |  |
83916 | A |  | Oligoclonal bands |  |  |  |  |
83918 | A |  | Organic acids, total, quant |  |  |  |  |
83919 | A |  | Organic acids, qual, each |  |  |  |  |
83921 | A |  | Organic acid, single, quant |  |  |  |  |
83925 | A |  | Assay of opiates |  |  |  |  |
83930 | A |  | Assay of blood osmolality |  |  |  |  |
83935 | A |  | Assay of urine osmolality |  |  |  |  |
83937 | A |  | Assay of osteocalcin |  |  |  |  |
83945 | A |  | Assay of oxalate |  |  |  |  |
83950 | A |  | Oncoprotein, her-2/neu |  |  |  |  |
83970 | A |  | Assay of parathormone |  |  |  |  |
83986 | A |  | Assay of body fluid acidity |  |  |  |  |
83992 | A |  | Assay for phencyclidine |  |  |  |  |
84022 | A |  | Assay of phenothiazine |  |  |  |  |
84030 | A |  | Assay of blood pku |  |  |  |  |
84035 | A |  | Assay of phenylketones |  |  |  |  |
84060 | A |  | Assay acid phosphatase |  |  |  |  |
84061 | A |  | Phosphatase, forensic exam |  |  |  |  |
84066 | A |  | Assay prostate phosphatase |  |  |  |  |
84075 | A |  | Assay alkaline phosphatase |  |  |  |  |
84078 | A |  | Assay alkaline phosphatase |  |  |  |  |
84080 | A |  | Assay alkaline phosphatases |  |  |  |  |
84081 | A |  | Amniotic fluid enzyme test |  |  |  |  |
84085 | A |  | Assay of rbc pg6d enzyme |  |  |  |  |
84087 | A |  | Assay phosphohexose enzymes |  |  |  |  |
84100 | A |  | Assay of phosphorus |  |  |  |  |
84105 | A |  | Assay of urine phosphorus |  |  |  |  |
84106 | A |  | Test for porphobilinogen |  |  |  |  |
84110 | A |  | Assay of porphobilinogen |  |  |  |  |
84119 | A |  | Test urine for porphyrins |  |  |  |  |
84120 | A |  | Assay of urine porphyrins |  |  |  |  |
84126 | A |  | Assay of feces porphyrins |  |  |  |  |
84127 | A |  | Assay of feces porphyrins |  |  |  |  |
84132 | A |  | Assay of serum potassium |  |  |  |  |
84133 | A |  | Assay of urine potassium |  |  |  |  |
84134 | A |  | Assay of prealbumin |  |  |  |  |
84135 | A |  | Assay of pregnanediol |  |  |  |  |
84138 | A |  | Assay of pregnanetriol |  |  |  |  |
84140 | A |  | Assay of pregnenolone |  |  |  |  |
84143 | A |  | Assay of 17-hydroxypregneno |  |  |  |  |
84144 | A |  | Assay of progesterone |  |  |  |  |
84146 | A |  | Assay of prolactin |  |  |  |  |
84150 | A |  | Assay of prostaglandin |  |  |  |  |
84152 | A |  | Assay of psa, complexed |  |  |  |  |
84153 | A |  | Assay of psa, total |  |  |  |  |
84154 | A |  | Assay of psa, free |  |  |  |  |
84155 | A |  | Assay of protein, serum |  |  |  |  |
84156 | A |  | Assay of protein, urine |  |  |  |  |
84157 | A |  | Assay of protein, other |  |  |  |  |
84160 | A |  | Assay of protein, any source |  |  |  |  |
84163 | A |  | Pappa, serum |  |  |  |  |
84165 | A |  | Electrophoreisis of proteins |  |  |  |  |
84166 | A |  | Protein e-phoresis/urine/csf |  |  |  |  |
84181 | A |  | Western blot test |  |  |  |  |
84182 | A |  | Protein, western blot test |  |  |  |  |
84202 | A |  | Assay RBC protoporphyrin |  |  |  |  |
84203 | A |  | Test RBC protoporphyrin |  |  |  |  |
84206 | A |  | Assay of proinsulin |  |  |  |  |
84207 | A |  | Assay of vitamin b-6 |  |  |  |  |
84210 | A |  | Assay of pyruvate |  |  |  |  |
84220 | A |  | Assay of pyruvate kinase |  |  |  |  |
84228 | A |  | Assay of quinine |  |  |  |  |
84233 | A |  | Assay of estrogen |  |  |  |  |
84234 | A |  | Assay of progesterone |  |  |  |  |
84235 | A |  | Assay of endocrine hormone |  |  |  |  |
84238 | A |  | Assay, nonendocrine receptor |  |  |  |  |
84244 | A |  | Assay of renin |  |  |  |  |
84252 | A |  | Assay of vitamin b-2 |  |  |  |  |
84255 | A |  | Assay of selenium |  |  |  |  |
84260 | A |  | Assay of serotonin |  |  |  |  |
84270 | A |  | Assay of sex hormone globul |  |  |  |  |
84275 | A |  | Assay of sialic acid |  |  |  |  |
84285 | A |  | Assay of silica |  |  |  |  |
84295 | A |  | Assay of serum sodium |  |  |  |  |
84300 | A |  | Assay of urine sodium |  |  |  |  |
84302 | A |  | Assay of sweat sodium |  |  |  |  |
84305 | A |  | Assay of somatomedin |  |  |  |  |
84307 | A |  | Assay of somatostatin |  |  |  |  |
84311 | A |  | Spectrophotometry |  |  |  |  |
84315 | A |  | Body fluid specific gravity |  |  |  |  |
84375 | A |  | Chromatogram assay, sugars |  |  |  |  |
84376 | A |  | Sugars, single, qual |  |  |  |  |
84377 | A |  | Sugars, multiple, qual |  |  |  |  |
84378 | A |  | Sugars, single, quant |  |  |  |  |
84379 | A |  | Sugars multiple quant |  |  |  |  |
84392 | A |  | Assay of urine sulfate |  |  |  |  |
84402 | A |  | Assay of testosterone |  |  |  |  |
84403 | A |  | Assay of total testosterone |  |  |  |  |
84425 | A |  | Assay of vitamin b-1 |  |  |  |  |
84430 | A |  | Assay of thiocyanate |  |  |  |  |
84432 | A |  | Assay of thyroglobulin |  |  |  |  |
84436 | A |  | Assay of total thyroxine |  |  |  |  |
84437 | A |  | Assay of neonatal thyroxine |  |  |  |  |
84439 | A |  | Assay of free thyroxine |  |  |  |  |
84442 | A |  | Assay of thyroid activity |  |  |  |  |
84443 | A |  | Assay thyroid stim hormone |  |  |  |  |
84445 | A |  | Assay of tsi |  |  |  |  |
84446 | A |  | Assay of vitamin e |  |  |  |  |
84449 | A |  | Assay of transcortin |  |  |  |  |
84450 | A |  | Transferase (AST) (SGOT) |  |  |  |  |
84460 | A |  | Alanine amino (ALT) (SGPT) |  |  |  |  |
84466 | A |  | Assay of transferrin |  |  |  |  |
84478 | A |  | Assay of triglycerides |  |  |  |  |
84479 | A |  | Assay of thyroid (t3 or t4) |  |  |  |  |
84480 | A |  | Assay, triiodothyronine (t3) |  |  |  |  |
84481 | A |  | Free assay (FT-3) |  |  |  |  |
84482 | A |  | T3 reverse |  |  |  |  |
84484 | A |  | Assay of troponin, quant |  |  |  |  |
84485 | A |  | Assay duodenal fluid trypsin |  |  |  |  |
84488 | A |  | Test feces for trypsin |  |  |  |  |
84490 | A |  | Assay of feces for trypsin |  |  |  |  |
84510 | A |  | Assay of tyrosine |  |  |  |  |
84512 | A |  | Assay of troponin, qual |  |  |  |  |
84520 | A |  | Assay of urea nitrogen |  |  |  |  |
84525 | A |  | Urea nitrogen semi-quant |  |  |  |  |
84540 | A |  | Assay of urine/urea-n |  |  |  |  |
84545 | A |  | Urea-N clearance test |  |  |  |  |
84550 | A |  | Assay of blood/uric acid |  |  |  |  |
84560 | A |  | Assay of urine/uric acid |  |  |  |  |
84577 | A |  | Assay of feces/urobilinogen |  |  |  |  |
84578 | A |  | Test urine urobilinogen |  |  |  |  |
84580 | A |  | Assay of urine urobilinogen |  |  |  |  |
84583 | A |  | Assay of urine urobilinogen |  |  |  |  |
84585 | A |  | Assay of urine vma |  |  |  |  |
84586 | A |  | Assay of vip |  |  |  |  |
84588 | A |  | Assay of vasopressin |  |  |  |  |
84590 | A |  | Assay of vitamin a |  |  |  |  |
84591 | A |  | Assay of nos vitamin |  |  |  |  |
84597 | A |  | Assay of vitamin k |  |  |  |  |
84600 | A |  | Assay of volatiles |  |  |  |  |
84620 | A |  | Xylose tolerance test |  |  |  |  |
84630 | A |  | Assay of zinc |  |  |  |  |
84681 | A |  | Assay of c-peptide |  |  |  |  |
84702 | A |  | Chorionic gonadotropin test |  |  |  |  |
84703 | A |  | Chorionic gonadotropin assay |  |  |  |  |
84830 | A |  | Ovulation tests |  |  |  |  |
84999 | A |  | Clinical chemistry test |  |  |  |  |
85002 | A |  | Bleeding time test |  |  |  |  |
85004 | A |  | Automated diff wbc count |  |  |  |  |
85007 | A |  | Differential WBC count |  |  |  |  |
85008 | A |  | Nondifferential WBC count |  |  |  |  |
85009 | A |  | Differential WBC count |  |  |  |  |
85013 | A |  | Spun microhematocrit |  |  |  |  |
85014 | A |  | Hematocrit |  |  |  |  |
85018 | A |  | Hemoglobin |  |  |  |  |
85025 | A |  | Automated hemogram |  |  |  |  |
85027 | A |  | Automated hemogram |  |  |  |  |
85032 | A |  | Manual cell count, each |  |  |  |  |
85041 | A |  | Red blood cell (RBC) count |  |  |  |  |
85044 | A |  | Reticulocyte count |  |  |  |  |
85045 | A |  | Reticulocyte count |  |  |  |  |
85046 | A |  | Reticyte/hgb concentrate |  |  |  |  |
85048 | A |  | White blood cell (WBC) count |  |  |  |  |
85049 | A |  | Automated platelet count |  |  |  |  |
85055 | A |  | Reticulated platelet assay |  |  |  |  |
85060 | B |  | Blood smear interpretation |  |  |  |  |
85097 | X |  | Bone marrow interpretation | 0343 | 0.4764 | $28.27 | $11.10 | $5.65
85130 | A |  | Chromogenic substrate assay |  |  |  |  |
85170 | A |  | Blood clot retraction |  |  |  |  |
85175 | A |  | Blood clot lysis time |  |  |  |  |
85210 | A |  | Blood clot factor II test |  |  |  |  |
85220 | A |  | Blood clot factor V test |  |  |  |  |
85230 | A |  | Blood clot factor VII test |  |  |  |  |
85240 | A |  | Blood clot factor VIII test |  |  |  |  |
85244 | A |  | Blood clot factor VIII test |  |  |  |  |
85245 | A |  | Blood clot factor VIII test |  |  |  |  |
85246 | A |  | Blood clot factor VIII test |  |  |  |  |
85247 | A |  | Blood clot factor VIII test |  |  |  |  |
85250 | A |  | Blood clot factor IX test |  |  |  |  |
85260 | A |  | Blood clot factor X test |  |  |  |  |
85270 | A |  | Blood clot factor XI test |  |  |  |  |
85280 | A |  | Blood clot factor XII test |  |  |  |  |
85290 | A |  | Blood clot factor XIII test |  |  |  |  |
85291 | A |  | Blood clot factor XIII test |  |  |  |  |
85292 | A |  | Blood clot factor assay |  |  |  |  |
85293 | A |  | Blood clot factor assay |  |  |  |  |
85300 | A |  | Antithrombin III test |  |  |  |  |
85301 | A |  | Antithrombin III test |  |  |  |  |
85302 | A |  | Blood clot inhibitor antigen |  |  |  |  |
85303 | A |  | Blood clot inhibitor test |  |  |  |  |
85305 | A |  | Blood clot inhibitor assay |  |  |  |  |
85306 | A |  | Blood clot inhibitor test |  |  |  |  |
85307 | A |  | Assay activated protein c |  |  |  |  |
85335 | A |  | Factor inhibitor test |  |  |  |  |
85337 | A |  | Thrombomodulin |  |  |  |  |
85345 | A |  | Coagulation time |  |  |  |  |
85347 | A |  | Coagulation time |  |  |  |  |
85348 | A |  | Coagulation time |  |  |  |  |
85360 | A |  | Euglobulin lysis |  |  |  |  |
85362 | A |  | Fibrin degradation products |  |  |  |  |
85366 | A |  | Fibrinogen test |  |  |  |  |
85370 | A |  | Fibrinogen test |  |  |  |  |
85378 | A |  | Fibrin degradation |  |  |  |  |
85379 | A |  | Fibrin degradation, quant |  |  |  |  |
85380 | A |  | Fibrin degradation, vte |  |  |  |  |
85384 | A |  | Fibrinogen |  |  |  |  |
85385 | A |  | Fibrinogen |  |  |  |  |
85390 | A |  | Fibrinolysins screen |  |  |  |  |
85396 | N |  | Clotting assay, whole blood |  |  |  |  |
85400 | A |  | Fibrinolytic plasmin |  |  |  |  |
85410 | A |  | Fibrinolytic antiplasmin |  |  |  |  |
85415 | A |  | Fibrinolytic plasminogen |  |  |  |  |
85420 | A |  | Fibrinolytic plasminogen |  |  |  |  |
85421 | A |  | Fibrinolytic plasminogen |  |  |  |  |
85441 | A |  | Heinz bodies, direct |  |  |  |  |
85445 | A |  | Heinz bodies, induced |  |  |  |  |
85460 | A |  | Hemoglobin, fetal |  |  |  |  |
85461 | A |  | Hemoglobin, fetal |  |  |  |  |
85475 | A |  | Hemolysin |  |  |  |  |
85520 | A |  | Heparin assay |  |  |  |  |
85525 | A |  | Heparin neutralization |  |  |  |  |
85530 | A |  | Heparin-protamine tolerance |  |  |  |  |
85536 | A |  | Iron stain peripheral blood |  |  |  |  |
85540 | A |  | Wbc alkaline phosphatase |  |  |  |  |
85547 | A |  | RBC mechanical fragility |  |  |  |  |
85549 | A |  | Muramidase |  |  |  |  |
85555 | A |  | RBC osmotic fragility |  |  |  |  |
85557 | A |  | RBC osmotic fragility |  |  |  |  |
85576 | A |  | Blood platelet aggregation |  |  |  |  |
85597 | A |  | Platelet neutralization |  |  |  |  |
85610 | A |  | Prothrombin time |  |  |  |  |
85611 | A |  | Prothrombin test |  |  |  |  |
85612 | A |  | Viper venom prothrombin time |  |  |  |  |
85613 | A |  | Russell viper venom, diluted |  |  |  |  |
85635 | A |  | Reptilase test |  |  |  |  |
85651 | A |  | Rbc sed rate, nonautomated |  |  |  |  |
85652 | A |  | Rbc sed rate, automated |  |  |  |  |
85660 | A |  | RBC sickle cell test |  |  |  |  |
85670 | A |  | Thrombin time, plasma |  |  |  |  |
85675 | A |  | Thrombin time, titer |  |  |  |  |
85705 | A |  | Thromboplastin inhibition |  |  |  |  |
85730 | A |  | Thromboplastin time, partial |  |  |  |  |
85732 | A |  | Thromboplastin time, partial |  |  |  |  |
85810 | A |  | Blood viscosity examination |  |  |  |  |
85999 | A |  | Hematology procedure |  |  |  |  |
86000 | A |  | Agglutinins, febrile |  |  |  |  |
86001 | A |  | Allergen specific igg |  |  |  |  |
86003 | A |  | Allergen specific IgE |  |  |  |  |
86005 | A |  | Allergen specific IgE |  |  |  |  |
86021 | A |  | WBC antibody identification |  |  |  |  |
86022 | A |  | Platelet antibodies |  |  |  |  |
86023 | A |  | Immunoglobulin assay |  |  |  |  |
86038 | A |  | Antinuclear antibodies |  |  |  |  |
86039 | A |  | Antinuclear antibodies (ANA) |  |  |  |  |
86060 | A |  | Antistreptolysin o, titer |  |  |  |  |
86063 | A |  | Antistreptolysin o, screen |  |  |  |  |
86064 | A |  | B cells, total count |  |  |  |  |
86077 | X |  | Physician blood bank service | 0433 | 0.2569 | $15.25 | $6.10 | $3.05
86078 | X |  | Physician blood bank service | 0343 | 0.4764 | $28.27 | $11.10 | $5.65
86079 | X |  | Physician blood bank service | 0433 | 0.2569 | $15.25 | $6.10 | $3.05
86140 | A |  | C-reactive protein |  |  |  |  |
86141 | A |  | C-reactive protein, hs |  |  |  |  |
86146 | A |  | Glycoprotein antibody |  |  |  |  |
86147 | A |  | Cardiolipin antibody |  |  |  |  |
86148 | A |  | Phospholipid antibody |  |  |  |  |
86155 | A |  | Chemotaxis assay |  |  |  |  |
86156 | A |  | Cold agglutinin, screen |  |  |  |  |
86157 | A |  | Cold agglutinin, titer |  |  |  |  |
86160 | A |  | Complement, antigen |  |  |  |  |
86161 | A |  | Complement/function activity |  |  |  |  |
86162 | A |  | Complement, total (CH50) |  |  |  |  |
86171 | A |  | Complement fixation, each |  |  |  |  |
86185 | A |  | Counterimmunoelectrophoresis |  |  |  |  |
86215 | A |  | Deoxyribonuclease, antibody |  |  |  |  |
86225 | A |  | DNA antibody |  |  |  |  |
86226 | A |  | DNA antibody, single strand |  |  |  |  |
86235 | A |  | Nuclear antigen antibody |  |  |  |  |
86243 | A |  | Fc receptor |  |  |  |  |
86255 | A |  | Fluorescent antibody, screen |  |  |  |  |
86256 | A |  | Fluorescent antibody, titer |  |  |  |  |
86277 | A |  | Growth hormone antibody |  |  |  |  |
86280 | A |  | Hemagglutination inhibition |  |  |  |  |
86294 | A |  | Immunoassay, tumor, qual |  |  |  |  |
86300 | A |  | Immunoassay, tumor, ca 15-3 |  |  |  |  |
86301 | A |  | Immunoassay, tumor, ca 19-9 |  |  |  |  |
86304 | A |  | Immunoassay, tumor, ca 125 |  |  |  |  |
86308 | A |  | Heterophile antibodies |  |  |  |  |
86309 | A |  | Heterophile antibodies |  |  |  |  |
86310 | A |  | Heterophile antibodies |  |  |  |  |
86316 | A |  | Immunoassay, tumor other |  |  |  |  |
86317 | A |  | Immunoassay,infectious agent |  |  |  |  |
86318 | A |  | Immunoassay,infectious agent |  |  |  |  |
86320 | A |  | Serum immunoelectrophoresis |  |  |  |  |
86325 | A |  | Other immunoelectrophoresis |  |  |  |  |
86327 | A |  | Immunoelectrophoresis assay |  |  |  |  |
86329 | A |  | Immunodiffusion |  |  |  |  |
86331 | A |  | Immunodiffusion ouchterlony |  |  |  |  |
86332 | A |  | Immune complex assay |  |  |  |  |
86334 | A |  | Immunofixation procedure |  |  |  |  |
86335 | A |  | Immunfix e-phorsis/urine/csf |  |  |  |  |
86336 | A |  | Inhibin A |  |  |  |  |
86337 | A |  | Insulin antibodies |  |  |  |  |
86340 | A |  | Intrinsic factor antibody |  |  |  |  |
86341 | A |  | Islet cell antibody |  |  |  |  |
86343 | A |  | Leukocyte histamine release |  |  |  |  |
86344 | A |  | Leukocyte phagocytosis |  |  |  |  |
86353 | A |  | Lymphocyte transformation |  |  |  |  |
86359 | A |  | T cells, total count |  |  |  |  |
86360 | A |  | T cell, absolute count/ratio |  |  |  |  |
86361 | A |  | T cell, absolute count |  |  |  |  |
86376 | A |  | Microsomal antibody |  |  |  |  |
86378 | A |  | Migration inhibitory factor |  |  |  |  |
86379 | A |  | Nk cells, total count |  |  |  |  |
86382 | A |  | Neutralization test, viral |  |  |  |  |
86384 | A |  | nitroblue tetrazolium dye |  |  |  |  |
86403 | A |  | Particle agglutination test |  |  |  |  |
86406 | A |  | Particle agglutination test |  |  |  |  |
86430 | A |  | Rheumatoid factor test |  |  |  |  |
86431 | A |  | Rheumatoid factor, quant |  |  |  |  |
86485 | X |  | Skin test, candida | 0341 | 0.1107 | $6.57 | $2.62 | $1.31
86490 | X |  | Coccidioidomycosis skin test | 0341 | 0.1107 | $6.57 | $2.62 | $1.31
86510 | X |  | Histoplasmosis skin test | 0341 | 0.1107 | $6.57 | $2.62 | $1.31
86580 | X |  | TB intradermal test | 0341 | 0.1107 | $6.57 | $2.62 | $1.31
86585 | X |  | TB tine test | 0341 | 0.1107 | $6.57 | $2.62 | $1.31
86586 | X |  | Skin test, unlisted | 0341 | 0.1107 | $6.57 | $2.62 | $1.31
86587 | A |  | Stem cells, total count |  |  |  |  |
86590 | A |  | Streptokinase, antibody |  |  |  |  |
86592 | A |  | Blood serology, qualitative |  |  |  |  |
86593 | A |  | Blood serology, quantitative |  |  |  |  |
86602 | A |  | Antinomyces antibody |  |  |  |  |
86603 | A |  | Adenovirus antibody |  |  |  |  |
86606 | A |  | Aspergillus antibody |  |  |  |  |
86609 | A |  | Bacterium antibody |  |  |  |  |
86611 | A |  | Bartonella antibody |  |  |  |  |
86612 | A |  | Blastomyces antibody |  |  |  |  |
86615 | A |  | Bordetella antibody |  |  |  |  |
86617 | A |  | Lyme disease antibody |  |  |  |  |
86618 | A |  | Lyme disease antibody |  |  |  |  |
86619 | A |  | Borrelia antibody |  |  |  |  |
86622 | A |  | Brucella antibody |  |  |  |  |
86625 | A |  | Campylobacter antibody |  |  |  |  |
86628 | A |  | Candida antibody |  |  |  |  |
86631 | A |  | Chlamydia antibody |  |  |  |  |
86632 | A |  | Chlamydia igm antibody |  |  |  |  |
86635 | A |  | Coccidioides antibody |  |  |  |  |
86638 | A |  | Q fever antibody |  |  |  |  |
86641 | A |  | Cryptococcus antibody |  |  |  |  |
86644 | A |  | CMV antibody |  |  |  |  |
86645 | A |  | CMV antibody, IgM |  |  |  |  |
86648 | A |  | Diphtheria antibody |  |  |  |  |
86651 | A |  | Encephalitis antibody |  |  |  |  |
86652 | A |  | Encephalitis antibody |  |  |  |  |
86653 | A |  | Encephalitis antibody |  |  |  |  |
86654 | A |  | Encephalitis antibody |  |  |  |  |
86658 | A |  | Enterovirus antibody |  |  |  |  |
86663 | A |  | Epstein-barr antibody |  |  |  |  |
86664 | A |  | Epstein-barr antibody |  |  |  |  |
86665 | A |  | Epstein-barr antibody |  |  |  |  |
86666 | A |  | Ehrlichia antibody |  |  |  |  |
86668 | A |  | Francisella tularensis |  |  |  |  |
86671 | A |  | Fungus antibody |  |  |  |  |
86674 | A |  | Giardia lamblia antibody |  |  |  |  |
86677 | A |  | Helicobacter pylori |  |  |  |  |
86682 | A |  | Helminth antibody |  |  |  |  |
86684 | A |  | Hemophilus influenza |  |  |  |  |
86687 | A |  | Htlv-i antibody |  |  |  |  |
86688 | A |  | Htlv-ii antibody |  |  |  |  |
86689 | A |  | HTLV/HIV confirmatory test |  |  |  |  |
86692 | A |  | Hepatitis, delta agent |  |  |  |  |
86694 | A |  | Herpes simplex test |  |  |  |  |
86695 | A |  | Herpes simplex test |  |  |  |  |
86696 | A |  | Herpes simplex type 2 |  |  |  |  |
86698 | A |  | Histoplasma |  |  |  |  |
86701 | A |  | HIV-1 |  |  |  |  |
86702 | A |  | HIV-2 |  |  |  |  |
86703 | A |  | HIV-1/HIV-2, single assay |  |  |  |  |
86704 | A |  | Hep b core antibody, total |  |  |  |  |
86705 | A |  | Hep b core antibody, igm |  |  |  |  |
86706 | A |  | Hep b surface antibody |  |  |  |  |
86707 | A |  | Hep be antibody |  |  |  |  |
86708 | A |  | Hep a antibody, total |  |  |  |  |
86709 | A |  | Hep a antibody, igm |  |  |  |  |
86710 | A |  | Influenza virus antibody |  |  |  |  |
86713 | A |  | Legionella antibody |  |  |  |  |
86717 | A |  | Leishmania antibody |  |  |  |  |
86720 | A |  | Leptospira antibody |  |  |  |  |
86723 | A |  | Listeria monocytogenes ab |  |  |  |  |
86727 | A |  | Lymph choriomeningitis ab |  |  |  |  |
86729 | A |  | Lympho venereum antibody |  |  |  |  |
86732 | A |  | Mucormycosis antibody |  |  |  |  |
86735 | A |  | Mumps antibody |  |  |  |  |
86738 | A |  | Mycoplasma antibody |  |  |  |  |
86741 | A |  | Neisseria meningitidis |  |  |  |  |
86744 | A |  | Nocardia antibody |  |  |  |  |
86747 | A |  | Parvovirus antibody |  |  |  |  |
86750 | A |  | Malaria antibody |  |  |  |  |
86753 | A |  | Protozoa antibody nos |  |  |  |  |
86756 | A |  | Respiratory virus antibody |  |  |  |  |
86757 | A |  | Rickettsia antibody |  |  |  |  |
86759 | A |  | Rotavirus antibody |  |  |  |  |
86762 | A |  | Rubella antibody |  |  |  |  |
86765 | A |  | Rubeola antibody |  |  |  |  |
86768 | A |  | Salmonella antibody |  |  |  |  |
86771 | A |  | Shigella antibody |  |  |  |  |
86774 | A |  | Tetanus antibody |  |  |  |  |
86777 | A |  | Toxoplasma antibody |  |  |  |  |
86778 | A |  | Toxoplasma antibody, igm |  |  |  |  |
86781 | A |  | Treponema pallidum, confirm |  |  |  |  |
86784 | A |  | Trichinella antibody |  |  |  |  |
86787 | A |  | Varicella-zoster antibody |  |  |  |  |
86790 | A |  | Virus antibody nos |  |  |  |  |
86793 | A |  | Yersinia antibody |  |  |  |  |
86800 | A |  | Thyroglobulin antibody |  |  |  |  |
86803 | A |  | Hepatitis c ab test |  |  |  |  |
86804 | A |  | Hep c ab test, confirm |  |  |  |  |
86805 | A |  | Lymphocytotoxicity assay |  |  |  |  |
86806 | A |  | Lymphocytotoxicity assay |  |  |  |  |
86807 | A |  | Cytotoxic antibody screening |  |  |  |  |
86808 | A |  | Cytotoxic antibody screening |  |  |  |  |
86812 | A |  | HLA typing, A, B, or C |  |  |  |  |
86813 | A |  | HLA typing, A, B, or C |  |  |  |  |
86816 | A |  | HLA typing, DR/DQ |  |  |  |  |
86817 | A |  | HLA typing, DR/DQ |  |  |  |  |
86821 | A |  | Lymphocyte culture, mixed |  |  |  |  |
86822 | A |  | Lymphocyte culture, primed |  |  |  |  |
86849 | A |  | Immunology procedure |  |  |  |  |
86850 | X |  | RBC antibody screen | 0345 | 0.2266 | $13.45 | $2.99 | $2.69
86860 | X |  | RBC antibody elution | 0346 | 0.3418 | $20.29 | $4.52 | $4.06
86870 | X |  | RBC antibody identification | 0346 | 0.3418 | $20.29 | $4.52 | $4.06
86880 | X |  | Coombs test, direct | 0409 | 0.1252 | $7.43 | $2.22 | $1.49
86885 | X |  | Coombs test, indirect, qual | 0409 | 0.1252 | $7.43 | $2.22 | $1.49
86886 | X |  | Coombs test, indirect, titer | 0409 | 0.1252 | $7.43 | $2.22 | $1.49
86890 | X |  | Autologous blood process | 0347 | 0.8395 | $49.82 | $12.30 | $9.96
86891 | X |  | Autologous blood, op salvage | 0346 | 0.3418 | $20.29 | $4.52 | $4.06
86900 | X |  | Blood typing, ABO | 0409 | 0.1252 | $7.43 | $2.22 | $1.49
86901 | X |  | Blood typing, Rh (D) | 0409 | 0.1252 | $7.43 | $2.22 | $1.49
86903 | X |  | Blood typing, antigen screen | 0345 | 0.2266 | $13.45 | $2.99 | $2.69
86904 | X |  | Blood typing, patient serum | 0346 | 0.3418 | $20.29 | $4.52 | $4.06
86905 | X |  | Blood typing, RBC antigens | 0345 | 0.2266 | $13.45 | $2.99 | $2.69
86906 | X |  | Blood typing, Rh phenotype | 0345 | 0.2266 | $13.45 | $2.99 | $2.69
86910 | E |  | Blood typing, paternity test |  |  |  |  |
86911 | E |  | Blood typing, antigen system |  |  |  |  |
86920 | X |  | Compatibility test | 0346 | 0.3418 | $20.29 | $4.52 | $4.06
86921 | X |  | Compatibility test | 0345 | 0.2266 | $13.45 | $2.99 | $2.69
86922 | X |  | Compatibility test | 0346 | 0.3418 | $20.29 | $4.52 | $4.06
86927 | X |  | Plasma, fresh frozen | 0345 | 0.2266 | $13.45 | $2.99 | $2.69
86930 | X |  | Frozen blood prep | 0347 | 0.8395 | $49.82 | $12.30 | $9.96
86931 | X |  | Frozen blood thaw | 0347 | 0.8395 | $49.82 | $12.30 | $9.96
86932 | X |  | Frozen blood freeze/thaw | 0347 | 0.8395 | $49.82 | $12.30 | $9.96
86940 | A |  | Hemolysins/agglutinins, auto |  |  |  |  |
86941 | A |  | Hemolysins/agglutinins |  |  |  |  |
86945 | X |  | Blood product/irradiation | 0345 | 0.2266 | $13.45 | $2.99 | $2.69
86950 | X |  | Leukacyte transfusion | 0345 | 0.2266 | $13.45 | $2.99 | $2.69
86965 | X |  | Pooling blood platelets | 0345 | 0.2266 | $13.45 | $2.99 | $2.69
86970 | X |  | RBC pretreatment | 0345 | 0.2266 | $13.45 | $2.99 | $2.69
86971 | X |  | RBC pretreatment | 0345 | 0.2266 | $13.45 | $2.99 | $2.69
86972 | X |  | RBC pretreatment | 0346 | 0.3418 | $20.29 | $4.52 | $4.06
86975 | X |  | RBC pretreatment, serum | 0345 | 0.2266 | $13.45 | $2.99 | $2.69
86976 | X |  | RBC pretreatment, serum | 0345 | 0.2266 | $13.45 | $2.99 | $2.69
86977 | X |  | RBC pretreatment, serum | 0345 | 0.2266 | $13.45 | $2.99 | $2.69
86978 | X |  | RBC pretreatment, serum | 0345 | 0.2266 | $13.45 | $2.99 | $2.69
86985 | X |  | Split blood or products | 0345 | 0.2266 | $13.45 | $2.99 | $2.69
86999 | X |  | Transfusion procedure | 0345 | 0.2266 | $13.45 | $2.99 | $2.69
87001 | A |  | Small animal inoculation |  |  |  |  |
87003 | A |  | Small animal inoculation |  |  |  |  |
87015 | A |  | Specimen concentration |  |  |  |  |
87040 | A |  | Blood culture for bacteria |  |  |  |  |
87045 | A |  | Feces culture, bacteria |  |  |  |  |
87046 | A |  | Stool cultr, bacteria, each |  |  |  |  |
87070 | A |  | Culture, bacteria, other |  |  |  |  |
87071 | A |  | Culture bacteri aerobic othr |  |  |  |  |
87073 | A |  | Culture bacteria anaerobic |  |  |  |  |
87075 | A |  | Cultr bacteria, except blood |  |  |  |  |
87076 | A |  | Culture anaerobe ident, each |  |  |  |  |
87077 | A |  | Culture aerobic identify |  |  |  |  |
87081 | A |  | Culture screen only |  |  |  |  |
87084 | A |  | Culture of specimen by kit |  |  |  |  |
87086 | A |  | Urine culture/colony count |  |  |  |  |
87088 | A |  | Urine bacteria culture |  |  |  |  |
87101 | A |  | Skin fungi culture |  |  |  |  |
87102 | A |  | Fungus isolation culture |  |  |  |  |
87103 | A |  | Blood fungus culture |  |  |  |  |
87106 | A |  | Fungi identification, yeast |  |  |  |  |
87107 | A |  | Fungi identification, mold |  |  |  |  |
87109 | A |  | Mycoplasma |  |  |  |  |
87110 | A |  | Chlamydia culture |  |  |  |  |
87116 | A |  | Mycobacteria culture |  |  |  |  |
87118 | A |  | Mycobacteric identification |  |  |  |  |
87140 | A |  | Culture type immunofluoresc |  |  |  |  |
87143 | A |  | Culture typing, glc/hplc |  |  |  |  |
87147 | A |  | Culture type, immunologic |  |  |  |  |
87149 | A |  | Culture type, nucleic acid |  |  |  |  |
87152 | A |  | Culture type pulse field gel |  |  |  |  |
87158 | A |  | Culture typing, added method |  |  |  |  |
87164 | A |  | Dark field examination |  |  |  |  |
87166 | A |  | Dark field examination |  |  |  |  |
87168 | A |  | Macroscopic exam arthropod |  |  |  |  |
87169 | A |  | Macroscopic exam parasite |  |  |  |  |
87172 | A |  | Pinworm exam |  |  |  |  |
87176 | A |  | Tissue homogenization, cultr |  |  |  |  |
87177 | A |  | Ova and parasites smears |  |  |  |  |
87181 | A |  | Microbe susceptible, diffuse |  |  |  |  |
87184 | A |  | Microbe susceptible, disk |  |  |  |  |
87185 | A |  | Microbe susceptible, enzyme |  |  |  |  |
87186 | A |  | Microbe susceptible, mic |  |  |  |  |
87187 | A |  | Microbe susceptible, mlc |  |  |  |  |
87188 | A |  | Microbe suscept, macrobroth |  |  |  |  |
87190 | A |  | Microbe suscept, mycobacteri |  |  |  |  |
87197 | A |  | Bactericidal level, serum |  |  |  |  |
87205 | A |  | Smear, gram stain |  |  |  |  |
87206 | A |  | Smear, fluorescent/acid stai |  |  |  |  |
87207 | A |  | Smear, special stain |  |  |  |  |
87210 | A |  | Smear, wet mount, saline/ink |  |  |  |  |
87220 | A |  | Tissue exam for fungi |  |  |  |  |
87230 | A |  | Assay, toxin or antitoxin |  |  |  |  |
87250 | A |  | Virus inoculate, eggs/animal |  |  |  |  |
87252 | A |  | Virus inoculation, tissue |  |  |  |  |
87253 | A |  | Virus inoculate tissue, addl |  |  |  |  |
87254 | A |  | Virus inoculation, shell via |  |  |  |  |
87255 | A |  | Genet virus isolate, hsv |  |  |  |  |
87260 | A |  | Adenovirus ag, if |  |  |  |  |
87265 | A |  | Pertussis ag, if |  |  |  |  |
87267 | A |  | Enterovirus antibody, dfa |  |  |  |  |
87269 | A |  | Giardia ag, if |  |  |  |  |
87270 | A |  | Chlamydia trachomatis ag, if |  |  |  |  |
87271 | A |  | Cryptosporidum/gardia ag, if |  |  |  |  |
87272 | A |  | Cryptosporidium ag, if |  |  |  |  |
87273 | A |  | Herpes simplex 2, ag, if |  |  |  |  |
87274 | A |  | Herpes simplex 1, ag, if |  |  |  |  |
87275 | A |  | Influenza b, ag, if |  |  |  |  |
87276 | A |  | Influenza a, ag, if |  |  |  |  |
87277 | A |  | Legionella micdadei, ag, if |  |  |  |  |
87278 | A |  | Legion pneumophilia ag, if |  |  |  |  |
87279 | A |  | Parainfluenza, ag, if |  |  |  |  |
87280 | A |  | Respiratory syncytial ag, if |  |  |  |  |
87281 | A |  | Pneumocystis carinii, ag, if |  |  |  |  |
87283 | A |  | Rubeola, ag, if |  |  |  |  |
87285 | A |  | Treponema pallidum, ag, if |  |  |  |  |
87290 | A |  | Varicella zoster, ag, if |  |  |  |  |
87299 | A |  | Antibody detection, nos, if |  |  |  |  |
87300 | A |  | Ag detection, polyval, if |  |  |  |  |
87301 | A |  | Adenovirus ag, eia |  |  |  |  |
87320 | A |  | Chylmd trach ag, eia |  |  |  |  |
87324 | A |  | Clostridium ag, eia |  |  |  |  |
87327 | A |  | Cryptococcus neoform ag, eia |  |  |  |  |
87328 | A |  | Cryptosporidium ag, eia |  |  |  |  |
87329 | A |  | Giardia ag, eia |  |  |  |  |
87332 | A |  | Cytomegalovirus ag, eia |  |  |  |  |
87335 | A |  | E coli 0157 ag, eia |  |  |  |  |
87336 | A |  | Entamoeb hist dispr, ag, eia |  |  |  |  |
87337 | A |  | Entamoeb hist group, ag, eia |  |  |  |  |
87338 | A |  | Hpylori, stool, eia |  |  |  |  |
87339 | A |  | H pylori ag, eia |  |  |  |  |
87340 | A |  | Hepatitis b surface ag, eia |  |  |  |  |
87341 | A |  | Hepatitis b surface, ag, eia |  |  |  |  |
87350 | A |  | Hepatitis be ag, eia |  |  |  |  |
87380 | A |  | Hepatitis delta ag, eia |  |  |  |  |
87385 | A |  | Histoplasma capsul ag, eia |  |  |  |  |
87390 | A |  | Hiv-1 ag, eia |  |  |  |  |
87391 | A |  | Hiv-2 ag, eia |  |  |  |  |
87400 | A |  | Influenza a/b, ag, eia |  |  |  |  |
87420 | A |  | Resp syncytial ag, eia |  |  |  |  |
87425 | A |  | Rotavirus ag, eia |  |  |  |  |
87427 | A |  | Shiga-like toxin ag, eia |  |  |  |  |
87430 | A |  | Strep a ag, eia |  |  |  |  |
87449 | A |  | Ag detect nos, eia, mult |  |  |  |  |
87450 | A |  | Ag detect nos, eia, single |  |  |  |  |
87451 | A |  | Ag detect polyval, eia, mult |  |  |  |  |
87470 | A |  | Bartonella, dna, dir probe |  |  |  |  |
87471 | A |  | Bartonella, dna, amp probe |  |  |  |  |
87472 | A |  | Bartonella, dna, quant |  |  |  |  |
87475 | A |  | Lyme dis, dna, dir probe |  |  |  |  |
87476 | A |  | Lyme dis, dna, amp probe |  |  |  |  |
87477 | A |  | Lyme dis, dna, quant |  |  |  |  |
87480 | A |  | Candida, dna, dir probe |  |  |  |  |
87481 | A |  | Candida, dna, amp probe |  |  |  |  |
87482 | A |  | Candida, dna, quant |  |  |  |  |
87485 | A |  | Chylmd pneum, dna, dir probe |  |  |  |  |
87486 | A |  | Chylmd pneum, dna, amp probe |  |  |  |  |
87487 | A |  | Chylmd pneum, dna, quant |  |  |  |  |
87490 | A |  | Chylmd trach, dna, dir probe |  |  |  |  |
87491 | A |  | Chylmd trach, dna, amp probe |  |  |  |  |
87492 | A |  | Chylmd trach, dna, quant |  |  |  |  |
87495 | A |  | Cytomeg, dna, dir probe |  |  |  |  |
87496 | A |  | Cytomeg, dna, amp probe |  |  |  |  |
87497 | A |  | Cytomeg, dna, quant |  |  |  |  |
87510 | A |  | Gardner vag, dna, dir probe |  |  |  |  |
87511 | A |  | Gardner vag, dna, amp probe |  |  |  |  |
87512 | A |  | Gardner vag, dna, quant |  |  |  |  |
87515 | A |  | Hepatitis b, dna, dir probe |  |  |  |  |
87516 | A |  | Hepatitis b, dna, amp probe |  |  |  |  |
87517 | A |  | Hepatitis b, dna, quant |  |  |  |  |
87520 | A |  | Hepatitis c, rna, dir probe |  |  |  |  |
87521 | A |  | Hepatitis c, rna, amp probe |  |  |  |  |
87522 | A |  | Hepatitis c, rna, quant |  |  |  |  |
87525 | A |  | Hepatitis g, dna, dir probe |  |  |  |  |
87526 | A |  | Hepatitis g, dna, amp probe |  |  |  |  |
87527 | A |  | Hepatitis g, dna, quant |  |  |  |  |
87528 | A |  | Hsv, dna, dir probe |  |  |  |  |
87529 | A |  | Hsv, dna, amp probe |  |  |  |  |
87530 | A |  | Hsv, dna, quant |  |  |  |  |
87531 | A |  | Hhv-6, dna, dir probe |  |  |  |  |
87532 | A |  | Hhv-6, dna, amp probe |  |  |  |  |
87533 | A |  | Hhv-6, dna, quant |  |  |  |  |
87534 | A |  | Hiv-1, dna, dir probe |  |  |  |  |
87535 | A |  | Hiv-1, dna, amp probe |  |  |  |  |
87536 | A |  | Hiv-1, dna, quant |  |  |  |  |
87537 | A |  | Hiv-2, dna, dir probe |  |  |  |  |
87538 | A |  | Hiv-2, dna, amp probe |  |  |  |  |
87539 | A |  | Hiv-2, dna, quant |  |  |  |  |
87540 | A |  | Legion pneumo, dna, dir prob |  |  |  |  |
87541 | A |  | Legion pneumo, dna, amp prob |  |  |  |  |
87542 | A |  | Legion pneumo, dna, quant |  |  |  |  |
87550 | A |  | Mycobacteria, dna, dir probe |  |  |  |  |
87551 | A |  | Mycobacteria, dna, amp probe |  |  |  |  |
87552 | A |  | Mycobacteria, dna, quant |  |  |  |  |
87555 | A |  | M.tuberculo, dna, dir probe |  |  |  |  |
87556 | A |  | M.tuberculo, dna, amp probe |  |  |  |  |
87557 | A |  | M.tuberculo, dna, quant |  |  |  |  |
87560 | A |  | M.avium-intra, dna, dir prob |  |  |  |  |
87561 | A |  | M.avium-intra, dna, amp prob |  |  |  |  |
87562 | A |  | M.avium-intra, dna, quant |  |  |  |  |
87580 | A |  | M.pneumon, dna, dir probe |  |  |  |  |
87581 | A |  | M.pneumon, dna, amp probe |  |  |  |  |
87582 | A |  | M.pneumon, dna, quant |  |  |  |  |
87590 | A |  | N.gonorrhoeae, dna, dir prob |  |  |  |  |
87591 | A |  | N.gonorrhoeae, dna, amp prob |  |  |  |  |
87592 | A |  | N.gonorrhoeae, dna, quant |  |  |  |  |
87620 | A |  | Hpv, dna, dir probe |  |  |  |  |
87621 | A |  | Hpv, dna, amp probe |  |  |  |  |
87622 | A |  | Hpv, dna, quant |  |  |  |  |
87650 | A |  | Strep a, dna, dir probe |  |  |  |  |
87651 | A |  | Strep a, dna, amp probe |  |  |  |  |
87652 | A |  | Strep a, dna, quant |  |  |  |  |
87660 | A |  | Trichomonas vagin, dir probe |  |  |  |  |
87797 | A |  | Detect agent nos, dna, dir |  |  |  |  |
87798 | A |  | Detect agent nos, dna, amp |  |  |  |  |
87799 | A |  | Detect agent nos, dna, quant |  |  |  |  |
87800 | A |  | Detect agnt mult, dna, direc |  |  |  |  |
87801 | A |  | Detect agnt mult, dna, ampli |  |  |  |  |
87802 | A |  | Strep b assay w/optic |  |  |  |  |
87803 | A |  | Clostridium toxin a w/optic |  |  |  |  |
87804 | A |  | Influenza assay w/optic |  |  |  |  |
87807 | A |  | Rsv assay w/optic |  |  |  |  |
87810 | A |  | Chylmd trach assay w/optic |  |  |  |  |
87850 | A |  | N. gonorrhoeae assay w/optic |  |  |  |  |
87880 | A |  | Strep a assay w/optic |  |  |  |  |
87899 | A |  | Agent nos assay w/optic |  |  |  |  |
87901 | A |  | Genotype, dna, hiv reverse t |  |  |  |  |
87902 | A |  | Genotype, dna, hepatitis C |  |  |  |  |
87903 | A |  | Phenotype, dna hiv w/culture |  |  |  |  |
87904 | A |  | Phenotype, dna hiv w/clt add |  |  |  |  |
87999 | A |  | Microbiology procedure |  |  |  |  |
88000 | E |  | Autopsy (necropsy), gross |  |  |  |  |
88005 | E |  | Autopsy (necropsy), gross |  |  |  |  |
88007 | E |  | Autopsy (necropsy), gross |  |  |  |  |
88012 | E |  | Autopsy (necropsy), gross |  |  |  |  |
88014 | E |  | Autopsy (necropsy), gross |  |  |  |  |
88016 | E |  | Autopsy (necropsy), gross |  |  |  |  |
88020 | E |  | Autopsy (necropsy), complete |  |  |  |  |
88025 | E |  | Autopsy (necropsy), complete |  |  |  |  |
88027 | E |  | Autopsy (necropsy), complete |  |  |  |  |
88028 | E |  | Autopsy (necropsy), complete |  |  |  |  |
88029 | E |  | Autopsy (necropsy), complete |  |  |  |  |
88036 | E |  | Limited autopsy |  |  |  |  |
88037 | E |  | Limited autopsy |  |  |  |  |
88040 | E |  | Forensic autopsy (necropsy) |  |  |  |  |
88045 | E |  | Coroner's autopsy (necropsy) |  |  |  |  |
88099 | E |  | Necropsy (autopsy) procedure |  |  |  |  |
88104 | X |  | Cytopathology, fluids | 0433 | 0.2569 | $15.25 | $6.10 | $3.05
88106 | X |  | Cytopathology, fluids | 0433 | 0.2569 | $15.25 | $6.10 | $3.05
88107 | X |  | Cytopathology, fluids | 0433 | 0.2569 | $15.25 | $6.10 | $3.05
88108 | X |  | Cytopath, concentrate tech | 0433 | 0.2569 | $15.25 | $6.10 | $3.05
88112 | X |  | Cytopath, cell enhance tech | 0343 | 0.4764 | $28.27 | $11.10 | $5.65
88125 | X |  | Forensic cytopathology | 0342 | 0.1553 | $9.22 | $3.68 | $1.84
88130 | A |  | Sex chromatin identification |  |  |  |  |
88140 | A |  | Sex chromatin identification |  |  |  |  |
88141 | N |  | Cytopath, c/v, interpret |  |  |  |  |
88142 | A |  | Cytopath, c/v, thin layer |  |  |  |  |
88143 | A |  | Cytopath c/v thin layer redo |  |  |  |  |
88147 | A |  | Cytopath, c/v, automated |  |  |  |  |
88148 | A |  | Cytopath, c/v, auto rescreen |  |  |  |  |
88150 | A |  | Cytopath, c/v, manual |  |  |  |  |
88152 | A |  | Cytopath, c/v, auto redo |  |  |  |  |
88153 | A |  | Cytopath, c/v, redo |  |  |  |  |
88154 | A |  | Cytopath, c/v, select |  |  |  |  |
88155 | A |  | Cytopath, c/v, index add-on |  |  |  |  |
88160 | X |  | Cytopath smear, other source | 0433 | 0.2569 | $15.25 | $6.10 | $3.05
88161 | X |  | Cytopath smear, other source | 0433 | 0.2569 | $15.25 | $6.10 | $3.05
88162 | X |  | Cytopath smear, other source | 0433 | 0.2569 | $15.25 | $6.10 | $3.05
88164 | A |  | Cytopath tbs, c/v, manual |  |  |  |  |
88165 | A |  | Cytopath tbs, c/v, redo |  |  |  |  |
88166 | A |  | Cytopath tbs, c/v, auto redo |  |  |  |  |
88167 | A |  | Cytopath tbs, c/v, select |  |  |  |  |
88172 | X |  | Cytopathology eval of fna | 0343 | 0.4764 | $28.27 | $11.10 | $5.65
88173 | X |  | Cytopath eval, fna, report | 0343 | 0.4764 | $28.27 | $11.10 | $5.65
88174 | A |  | Cytopath, c/v auto, in fluid |  |  |  |  |
88175 | A |  | Cytopath c/v auto fluid redo |  |  |  |  |
88182 | X |  | Cell marker study | 0344 | 0.7960 | $47.24 | $15.66 | $9.45
88184 | X |  | Flowcytometry/ tc, 1 marker | 0344 | 0.7960 | $47.24 | $15.66 | $9.45
88185 | X |  | Flowcytometry/tc, add-on | 0343 | 0.4764 | $28.27 | $11.10 | $5.65
88187 | X |  | Flowcytometry/read, 2-8 | 0433 | 0.2569 | $15.25 | $6.10 | $3.05
88188 | X |  | Flowcytometry/read, 9-15 | 0433 | 0.2569 | $15.25 | $6.10 | $3.05
88189 | X |  | Flowcytometry/read, 16 & > | 0343 | 0.4764 | $28.27 | $11.10 | $5.65
88199 | A |  | Cytopathology procedure |  |  |  |  |
88230 | A |  | Tissue culture, lymphocyte |  |  |  |  |
88233 | A |  | Tissue culture, skin/biopsy |  |  |  |  |
88235 | A |  | Tissue culture, placenta |  |  |  |  |
88237 | A |  | Tissue culture, bone marrow |  |  |  |  |
88239 | A |  | Tissue culture, tumor |  |  |  |  |
88240 | A |  | Cell cryopreserve/storage |  |  |  |  |
88241 | A |  | Frozen cell preparation |  |  |  |  |
88245 | A |  | Chromosome analysis, 20-25 |  |  |  |  |
88248 | A |  | Chromosome analysis, 50-100 |  |  |  |  |
88249 | A |  | Chromosome analysis, 100 |  |  |  |  |
88261 | A |  | Chromosome analysis, 5 |  |  |  |  |
88262 | A |  | Chromosome analysis, 15-20 |  |  |  |  |
88263 | A |  | Chromosome analysis, 45 |  |  |  |  |
88264 | A |  | Chromosome analysis, 20-25 |  |  |  |  |
88267 | A |  | Chromosome analys, placenta |  |  |  |  |
88269 | A |  | Chromosome analys, amniotic |  |  |  |  |
88271 | A |  | Cytogenetics, dna probe |  |  |  |  |
88272 | A |  | Cytogenetics, 3-5 |  |  |  |  |
88273 | A |  | Cytogenetics, 10-30 |  |  |  |  |
88274 | A |  | Cytogenetics, 25-99 |  |  |  |  |
88275 | A |  | Cytogenetics, 100-300 |  |  |  |  |
88280 | A |  | Chromosome karyotype study |  |  |  |  |
88283 | A |  | Chromosome banding study |  |  |  |  |
88285 | A |  | Chromosome count, additional |  |  |  |  |
88289 | A |  | Chromosome study, additional |  |  |  |  |
88291 | A |  | Cyto/molecular report |  |  |  |  |
88299 | X |  | Cytogenetic study | 0342 | 0.1553 | $9.22 | $3.68 | $1.84
88300 | X |  | Surgical path, gross | 0433 | 0.2569 | $15.25 | $6.10 | $3.05
88302 | X |  | Tissue exam by pathologist | 0433 | 0.2569 | $15.25 | $6.10 | $3.05
88304 | X |  | Tissue exam by pathologist | 0343 | 0.4764 | $28.27 | $11.10 | $5.65
88305 | X |  | Tissue exam by pathologist | 0343 | 0.4764 | $28.27 | $11.10 | $5.65
88307 | X |  | Tissue exam by pathologist | 0344 | 0.7960 | $47.24 | $15.66 | $9.45
88309 | X |  | Tissue exam by pathologist | 0344 | 0.7960 | $47.24 | $15.66 | $9.45
88311 | X |  | Decalcify tissue | 0342 | 0.1553 | $9.22 | $3.68 | $1.84
88312 | X |  | Special stains | 0433 | 0.2569 | $15.25 | $6.10 | $3.05
88313 | X |  | Special stains | 0433 | 0.2569 | $15.25 | $6.10 | $3.05
88314 | X |  | Histochemical stain | 0342 | 0.1553 | $9.22 | $3.68 | $1.84
88318 | X |  | Chemical histochemistry | 0433 | 0.2569 | $15.25 | $6.10 | $3.05
88319 | X |  | Enzyme histochemistry | 0343 | 0.4764 | $28.27 | $11.10 | $5.65
88321 | X |  | Microslide consultation | 0433 | 0.2569 | $15.25 | $6.10 | $3.05
88323 | X |  | Microslide consultation | 0343 | 0.4764 | $28.27 | $11.10 | $5.65
88325 | X |  | Comprehensive review of data | 0344 | 0.7960 | $47.24 | $15.66 | $9.45
88329 | X |  | Path consult introp | 0433 | 0.2569 | $15.25 | $6.10 | $3.05
88331 | X |  | Path consult intraop, 1 bloc | 0343 | 0.4764 | $28.27 | $11.10 | $5.65
88332 | X |  | Path consult intraop, add'l | 0433 | 0.2569 | $15.25 | $6.10 | $3.05
88342 | X |  | Immunohistochemistry | 0343 | 0.4764 | $28.27 | $11.10 | $5.65
88346 | X |  | Immunofluorescent study | 0343 | 0.4764 | $28.27 | $11.10 | $5.65
88347 | X |  | Immunofluorescent study | 0343 | 0.4764 | $28.27 | $11.10 | $5.65
88348 | X |  | Electron microscopy | 0661 | 3.3622 | $199.55 | $79.82 | $39.91
88349 | X |  | Scanning electron microscopy | 0661 | 3.3622 | $199.55 | $79.82 | $39.91
88355 | X |  | Analysis, skeletal muscle | 0343 | 0.4764 | $28.27 | $11.10 | $5.65
88356 | X |  | Analysis, nerve | 0344 | 0.7960 | $47.24 | $15.66 | $9.45
88358 | X |  | Analysis, tumor | 0344 | 0.7960 | $47.24 | $15.66 | $9.45
88360 | X |  | Tumor immunohistochem/manual | 0344 | 0.7960 | $47.24 | $15.66 | $9.45
88361 | X |  | Immunohistochemistry, tumor | 0344 | 0.7960 | $47.24 | $15.66 | $9.45
88362 | X |  | Nerve teasing preparations | 0344 | 0.7960 | $47.24 | $15.66 | $9.45
88365 | X |  | Tissue hybridization | 0344 | 0.7960 | $47.24 | $15.66 | $9.45
88367 | X |  | Insitu hybridization, auto | 0344 | 0.7960 | $47.24 | $15.66 | $9.45
88368 | X |  | Insitu hybridization, manual | 0344 | 0.7960 | $47.24 | $15.66 | $9.45
88371 | A |  | Protein, western blot tissue |  |  |  |  |
88372 | A |  | Protein analysis w/probe |  |  |  |  |
88380 | A |  | Microdissection |  |  |  |  |
88399 | A |  | Surgical pathology procedure |  |  |  |  |
88400 | A |  | Bilirubin total transcut |  |  |  |  |
89050 | A |  | Body fluid cell count |  |  |  |  |
89051 | A |  | Body fluid cell count |  |  |  |  |
89055 | A |  | Leukocyte assessment, fecal |  |  |  |  |
89060 | A |  | Exam,synovial fluid crystals |  |  |  |  |
89100 | X |  | Sample intestinal contents | 0360 | 1.4672 | $87.08 | $34.83 | $17.42
89105 | X |  | Sample intestinal contents | 0360 | 1.4672 | $87.08 | $34.83 | $17.42
89125 | A |  | Specimen fat stain |  |  |  |  |
89130 | X |  | Sample stomach contents | 0360 | 1.4672 | $87.08 | $34.83 | $17.42
89132 | X |  | Sample stomach contents | 0360 | 1.4672 | $87.08 | $34.83 | $17.42
89135 | X |  | Sample stomach contents | 0360 | 1.4672 | $87.08 | $34.83 | $17.42
89136 | X |  | Sample stomach contents | 0360 | 1.4672 | $87.08 | $34.83 | $17.42
89140 | X |  | Sample stomach contents | 0360 | 1.4672 | $87.08 | $34.83 | $17.42
89141 | X |  | Sample stomach contents | 0360 | 1.4672 | $87.08 | $34.83 | $17.42
89160 | A |  | Exam feces for meat fibers |  |  |  |  |
89190 | A |  | Nasal smear for eosinophils |  |  |  |  |
89220 | X |  | Sputum specimen collection | 0343 | 0.4764 | $28.27 | $11.10 | $5.65
89225 | A |  | Starch granules, feces |  |  |  |  |
89230 | X |  | Collect sweat for test | 0433 | 0.2569 | $15.25 | $6.10 | $3.05
89235 | A |  | Water load test |  |  |  |  |
89240 | A |  | Pathology lab procedure |  |  |  |  |
89250 | X |  | Cultr oocyte/embryo <4 days | 0348 | 0.7891 | $46.83 |  | $9.37
89251 | X |  | Cultr oocyte/embryo <4 days | 0348 | 0.7891 | $46.83 |  | $9.37
89253 | X |  | Embryo hatching | 0348 | 0.7891 | $46.83 |  | $9.37
89254 | X |  | Oocyte identification | 0348 | 0.7891 | $46.83 |  | $9.37
89255 | X |  | Prepare embryo for transfer | 0348 | 0.7891 | $46.83 |  | $9.37
89257 | X |  | Sperm identification | 0348 | 0.7891 | $46.83 |  | $9.37
89258 | X |  | Cryopreservation embryo(s) | 0348 | 0.7891 | $46.83 |  | $9.37
89259 | X |  | Cryopreservation, sperm | 0348 | 0.7891 | $46.83 |  | $9.37
89260 | X |  | Sperm isolation, simple | 0348 | 0.7891 | $46.83 |  | $9.37
89261 | X |  | Sperm isolation, complex | 0348 | 0.7891 | $46.83 |  | $9.37
89264 | X |  | Identify sperm tissue | 0348 | 0.7891 | $46.83 |  | $9.37
89268 | X |  | Insemination of oocytes | 0348 | 0.7891 | $46.83 |  | $9.37
89272 | X |  | Extended culture of oocytes | 0348 | 0.7891 | $46.83 |  | $9.37
89280 | X |  | Assist oocyte fertilization | 0348 | 0.7891 | $46.83 |  | $9.37
89281 | X |  | Assist oocyte fertilization | 0348 | 0.7891 | $46.83 |  | $9.37
89290 | X |  | Biopsy, oocyte polar body | 0348 | 0.7891 | $46.83 |  | $9.37
89291 | X |  | Biopsy, oocyte polar body | 0348 | 0.7891 | $46.83 |  | $9.37
89300 | A |  | Semen analysis w/huhner |  |  |  |  |
89310 | A |  | Semen analysis |  |  |  |  |
89320 | A |  | Semen analysis, complete |  |  |  |  |
89321 | A |  | Semen analysis & motility |  |  |  |  |
89325 | A |  | Sperm antibody test |  |  |  |  |
89329 | A |  | Sperm evaluation test |  |  |  |  |
89330 | A |  | Evaluation, cervical mucus |  |  |  |  |
89335 | X |  | Cryopreserve testicular tiss | 0348 | 0.7891 | $46.83 |  | $9.37
89342 | X |  | Storage/year embryo(s) | 0348 | 0.7891 | $46.83 |  | $9.37
89343 | X |  | Storage/year sperm/semen | 0348 | 0.7891 | $46.83 |  | $9.37
89344 | X |  | Storage/year reprod tissue | 0348 | 0.7891 | $46.83 |  | $9.37
89346 | X |  | Storage/year oocyte | 0348 | 0.7891 | $46.83 |  | $9.37
89352 | X |  | Thawing cryopresrved embryo | 0348 | 0.7891 | $46.83 |  | $9.37
89353 | X |  | Thawing cryopresrved sperm | 0348 | 0.7891 | $46.83 |  | $9.37
89354 | X |  | Thaw cryoprsvrd reprod tiss | 0348 | 0.7891 | $46.83 |  | $9.37
89356 | X |  | Thawing cryopresrved oocyte | 0348 | 0.7891 | $46.83 |  | $9.37
90281 | E |  | Human ig, im |  |  |  |  |
90283 | E |  | Human ig, iv |  |  |  |  |
90287 | E |  | Botulinum antitoxin |  |  |  |  |
90288 | E |  | Botulism ig, iv |  |  |  |  |
90291 | E |  | Cmv ig, iv |  |  |  |  |
90296 | N |  | Diphtheria antitoxin |  |  |  |  |
90371 | E |  | Hep b ig, im |  |  |  |  |
90375 | K |  | Rabies ig, im/sc | 9133 |  | $64.56 |  | $12.91
90376 | K |  | Rabies ig, heat treated | 9134 |  | $69.78 |  | $13.96
90378 | E |  | Rsv ig, im, 50mg |  |  |  |  |
90379 | E |  | Rsv ig, iv |  |  |  |  |
90384 | E |  | Rh ig, full-dose, im |  |  |  |  |
90385 | N |  | Rh ig, minidose, im |  |  |  |  |
90386 | E |  | Rh ig, iv |  |  |  |  |
90389 | E |  | Tetanus ig, im |  |  |  |  |
90393 | N |  | Vaccina ig, im |  |  |  |  |
90396 | K |  | Varicella-zoster ig, im | 9135 |  | $96.57 |  | $19.31
90399 | E |  | Immune globulin |  |  |  |  |
90465 | B |  | Immune admin 1 inj, < 8 yrs |  |  |  |  |
90466 | B |  | Immune admin addl inj, < 8 y |  |  |  |  |
90467 | B |  | Immune admin o or n, < 8 yrs |  |  |  |  |
90468 | B |  | Immune admin o/n, addl < 8 y |  |  |  |  |
90471 | X |  | Immunization admin | 0353 | 0.3936 | $23.36 |  | $4.67
90472 | X |  | Immunization admin, each add | 0353 | 0.3936 | $23.36 |  | $4.67
90473 | S |  | Immune admin oral/nasal | 1491 |  | $5.00 |  | $1.00
90474 | S |  | Immune admin oral/nasal addl | 1491 |  | $5.00 |  | $1.00
90476 | K |  | Adenovirus vaccine, type 4 | 9136 | 0.9498 | $56.37 |  | $11.27
90477 | N |  | Adenovirus vaccine, type 7 |  |  |  |  |
90581 | K |  | Anthrax vaccine, sc | 9169 |  | $128.94 |  | $25.79
90585 | K |  | Bcg vaccine, percut | 9137 |  | $124.53 |  | $24.91
90586 | B |  | Bcg vaccine, intravesical |  |  |  |  |
90632 | N |  | Hep a vaccine, adult im |  |  |  |  |
90633 | N |  | Hep a vacc, ped/adol, 2 dose |  |  |  |  |
90634 | N |  | Hep a vacc, ped/adol, 3 dose |  |  |  |  |
90636 | K |  | Hep a/hep b vacc, adult im | 9138 | 0.9673 | $57.41 |  | $11.48
90645 | N |  | Hib vaccine, hboc, im |  |  |  |  |
90646 | N |  | Hib vaccine, prp-d, im |  |  |  |  |
90647 | N |  | Hib vaccine, prp-omp, im |  |  |  |  |
90648 | N |  | Hib vaccine, prp-t, im |  |  |  |  |
90655 | L |  | Flu vaccine, 6-35 mo, im |  |  |  |  |
90656 | L |  | Flu vaccine no preserv 3 & > |  |  |  |  |
90657 | L |  | Flu vaccine, 6-35 mo, im |  |  |  |  |
90658 | L |  | Flu vaccine, 3 yrs, im |  |  |  |  |
90660 | E |  | Flu vaccine, nasal |  |  |  |  |
90665 | N |  | Lyme disease vaccine, im |  |  |  |  |
90669 | E |  | Pneumococcal vacc, ped <5 |  |  |  |  |
90675 | K |  | Rabies vaccine, im | 9139 |  | $128.03 |  | $25.61
90676 | K |  | Rabies vaccine, id | 9140 | 1.4957 | $88.77 |  | $17.75
90680 | N |  | Rotovirus vaccine, oral |  |  |  |  |
90690 | N |  | Typhoid vaccine, oral |  |  |  |  |
90691 | N |  | Typhoid vaccine, im |  |  |  |  |
90692 | N |  | Typhoid vaccine, h-p, sc/id |  |  |  |  |
90693 | N |  | Typhoid vaccine, akd, sc |  |  |  |  |
90698 | N |  | Dtap-hib-ip vaccine, im |  |  |  |  |
90700 | N |  | Dtap vaccine, im |  |  |  |  |
90701 | N |  | Dtp vaccine, im |  |  |  |  |
90702 | N |  | Dt vaccine < 7, im |  |  |  |  |
90703 | N |  | Tetanus vaccine, im |  |  |  |  |
90704 | N |  | Mumps vaccine, sc |  |  |  |  |
90705 | N |  | Measles vaccine, sc |  |  |  |  |
90706 | N |  | Rubella vaccine, sc |  |  |  |  |
90707 | N |  | Mmr vaccine, sc |  |  |  |  |
90708 | K |  | Measles-rubella vaccine, sc | 9141 | 0.9466 | $56.18 |  | $11.24
90710 | N |  | Mmrv vaccine, sc |  |  |  |  |
90712 | N |  | Oral poliovirus vaccine |  |  |  |  |
90713 | N |  | Poliovirus, ipv, sc |  |  |  |  |
90715 | N |  | Tdap vaccine >7 im |  |  |  |  |
90716 | K |  | Chicken pox vaccine, sc | 9142 |  | $64.29 |  | $12.86
90717 | N |  | Yellow fever vaccine, sc |  |  |  |  |
90718 | N |  | Td vaccine > 7, im |  |  |  |  |
90719 | N |  | Diphtheria vaccine, im |  |  |  |  |
90720 | N |  | Dtp/hib vaccine, im |  |  |  |  |
90721 | N |  | Dtap/hib vaccine, im |  |  |  |  |
90723 | E |  | Dtap-hep b-ipv vaccine, im |  |  |  |  |
90725 | N |  | Cholera vaccine, injectable |  |  |  |  |
90727 | N |  | Plague vaccine, im |  |  |  |  |
90732 | L |  | Pneumococcal vaccine |  |  |  |  |
90733 | K |  | Meningococcal vaccine, sc | 9143 |  | $56.74 |  | $11.35
90734 | K |  | Meningococcal vaccine, im | 9145 | 0.8947 | $53.10 |  | $10.62
90735 | K |  | Encephalitis vaccine, sc | 9144 |  | $67.72 |  | $13.54
90740 | F |  | Hepb vacc, ill pat 3 dose im |  |  |  |  |
90743 | F |  | Hep b vacc, adol, 2 dose, im |  |  |  |  |
90744 | F |  | Hepb vacc ped/adol 3 dose im |  |  |  |  |
90746 | F |  | Hep b vaccine, adult, im |  |  |  |  |
90747 | F |  | Hepb vacc, ill pat 4 dose im |  |  |  |  |
90748 | E |  | Hep b/hib vaccine, im |  |  |  |  |
90749 | N |  | Vaccine toxoid |  |  |  |  |
90780 | S |  | IV infusion therapy, 1 hour | 0120 | 2.0101 | $119.30 | $28.21 | $23.86
90781 | N |  | IV infusion, additional hour |  |  |  |  |
90782 | X |  | Injection, sc/im | 0353 | 0.3936 | $23.36 |  | $4.67
90783 | X |  | Injection, ia | 0359 | 0.8274 | $49.11 |  | $9.82
90784 | X |  | Injection, iv | 0359 | 0.8274 | $49.11 |  | $9.82
90788 | X |  | Injection of antibiotic | 0359 | 0.8274 | $49.11 |  | $9.82
90799 | X |  | Ther/prophylactic/dx inject | 0352 | 0.1407 | $8.35 |  | $1.67
90801 | S |  | Psy dx interview | 0323 | 1.6153 | $95.87 | $19.99 | $19.17
90802 | S |  | Intac psy dx interview | 0323 | 1.6153 | $95.87 | $19.99 | $19.17
90804 | S |  | Psytx, office, 20-30 min | 0322 | 1.2263 | $72.78 |  | $14.56
90805 | S |  | Psytx, off, 20-30 min w/e&m | 0322 | 1.2263 | $72.78 |  | $14.56
90806 | S |  | Psytx, off, 45-50 min | 0323 | 1.6153 | $95.87 | $19.99 | $19.17
90807 | S |  | Psytx, off, 45-50 min w/e&m | 0323 | 1.6153 | $95.87 | $19.99 | $19.17
90808 | S |  | Psytx, office, 75-80 min | 0323 | 1.6153 | $95.87 | $19.99 | $19.17
90809 | S |  | Psytx, off, 75-80, w/e&m | 0323 | 1.6153 | $95.87 | $19.99 | $19.17
90810 | S |  | Intac psytx, off, 20-30 min | 0322 | 1.2263 | $72.78 |  | $14.56
90811 | S |  | Intac psytx, 20-30, w/e&m | 0322 | 1.2263 | $72.78 |  | $14.56
90812 | S |  | Intac psytx, off, 45-50 min | 0323 | 1.6153 | $95.87 | $19.99 | $19.17
90813 | S |  | Intac psytx, 45-50 min w/e&m | 0323 | 1.6153 | $95.87 | $19.99 | $19.17
90814 | S |  | Intac psytx, off, 75-80 min | 0323 | 1.6153 | $95.87 | $19.99 | $19.17
90815 | S |  | Intac psytx, 75-80 w/e&m | 0323 | 1.6153 | $95.87 | $19.99 | $19.17
90816 | S |  | Psytx, hosp, 20-30 min | 0322 | 1.2263 | $72.78 |  | $14.56
90817 | S |  | Psytx, hosp, 20-30 min w/e&m | 0322 | 1.2263 | $72.78 |  | $14.56
90818 | S |  | Psytx, hosp, 45-50 min | 0323 | 1.6153 | $95.87 | $19.99 | $19.17
90819 | S |  | Psytx, hosp, 45-50 min w/e&m | 0323 | 1.6153 | $95.87 | $19.99 | $19.17
90821 | S |  | Psytx, hosp, 75-80 min | 0323 | 1.6153 | $95.87 | $19.99 | $19.17
90822 | S |  | Psytx, hosp, 75-80 min w/e&m | 0323 | 1.6153 | $95.87 | $19.99 | $19.17
90823 | S |  | Intac psytx, hosp, 20-30 min | 0322 | 1.2263 | $72.78 |  | $14.56
90824 | S |  | Intac psytx, hsp 20-30 w/e&m | 0322 | 1.2263 | $72.78 |  | $14.56
90826 | S |  | Intac psytx, hosp, 45-50 min | 0323 | 1.6153 | $95.87 | $19.99 | $19.17
90827 | S |  | Intac psytx, hsp 45-50 w/e&m | 0323 | 1.6153 | $95.87 | $19.99 | $19.17
90828 | S |  | Intac psytx, hosp, 75-80 min | 0323 | 1.6153 | $95.87 | $19.99 | $19.17
90829 | S |  | Intac psytx, hsp 75-80 w/e&m | 0323 | 1.6153 | $95.87 | $19.99 | $19.17
90845 | S |  | Psychoanalysis | 0323 | 1.6153 | $95.87 | $19.99 | $19.17
90846 | S |  | Family psytx w/o patient | 0324 | 2.0901 | $124.05 |  | $24.81
90847 | S |  | Family psytx w/patient | 0324 | 2.0901 | $124.05 |  | $24.81
90849 | S |  | Multiple family group psytx | 0325 | 1.3130 | $77.93 | $17.03 | $15.59
90853 | S |  | Group psychotherapy | 0325 | 1.3130 | $77.93 | $17.03 | $15.59
90857 | S |  | Intac group psytx | 0325 | 1.3130 | $77.93 | $17.03 | $15.59
90862 | X |  | Medication management | 0374 | 1.0367 | $61.53 |  | $12.31
90865 | S |  | Narcosynthesis | 0323 | 1.6153 | $95.87 | $19.99 | $19.17
90870 | S |  | Electroconvulsive therapy | 0320 | 5.3522 | $317.65 | $80.06 | $63.53
90871 | E |  | Electroconvulsive therapy |  |  |  |  |
90875 | E |  | Psychophysiological therapy |  |  |  |  |
90876 | E |  | Psychophysiological therapy |  |  |  |  |
90880 | S |  | Hypnotherapy | 0323 | 1.6153 | $95.87 | $19.99 | $19.17
90882 | E |  | Environmental manipulation |  |  |  |  |
90885 | N |  | Psy evaluation of records |  |  |  |  |
90887 | N |  | Consultation with family |  |  |  |  |
90889 | N |  | Preparation of report |  |  |  |  |
90899 | S |  | Psychiatric service/therapy | 0322 | 1.2263 | $72.78 |  | $14.56
90901 | A |  | Biofeedback train, any meth |  |  |  |  |
90911 | S |  | Biofeedback peri/uro/rectal | 0321 | 1.3517 | $80.22 | $21.61 | $16.04
90918 | E |  | ESRD related services, month |  |  |  |  |
90919 | E |  | ESRD related services, month |  |  |  |  |
90920 | E |  | ESRD related services, month |  |  |  |  |
90921 | E |  | ESRD related services, month |  |  |  |  |
90922 | E |  | ESRD related services, day |  |  |  |  |
90923 | E |  | Esrd related services, day |  |  |  |  |
90924 | E |  | Esrd related services, day |  |  |  |  |
90925 | E |  | Esrd related services, day |  |  |  |  |
90935 | S |  | Hemodialysis, one evaluation | 0170 | 5.8726 | $348.54 |  | $69.71
90937 | E |  | Hemodialysis, repeated eval |  |  |  |  |
90939 | N |  | Hemodialysis study, transcut |  |  |  |  |
90940 | N |  | Hemodialysis access study |  |  |  |  |
90945 | S |  | Dialysis, one evaluation | 0170 | 5.8726 | $348.54 |  | $69.71
90947 | E |  | Dialysis, repeated eval |  |  |  |  |
90989 | B |  | Dialysis training, complete |  |  |  |  |
90993 | B |  | Dialysis training, incompl |  |  |  |  |
90997 | E |  | Hemoperfusion |  |  |  |  |
90999 | B |  | Dialysis procedure |  |  |  |  |
91000 | X |  | Esophageal intubation | 0361 | 3.6052 | $213.97 | $83.23 | $42.79
91010 | X |  | Esophagus motility study | 0361 | 3.6052 | $213.97 | $83.23 | $42.79
91011 | X |  | Esophagus motility study | 0361 | 3.6052 | $213.97 | $83.23 | $42.79
91012 | X |  | Esophagus motility study | 0361 | 3.6052 | $213.97 | $83.23 | $42.79
91020 | X |  | Gastric motility | 0361 | 3.6052 | $213.97 | $83.23 | $42.79
91030 | X |  | Acid perfusion of esophagus | 0361 | 3.6052 | $213.97 | $83.23 | $42.79
91034 | X |  | Gastroesophageal reflux test | 0361 | 3.6052 | $213.97 | $83.23 | $42.79
91035 | X |  | G-esoph reflx tst w/electrod | 0361 | 3.6052 | $213.97 | $83.23 | $42.79
91037 | X |  | Esoph imped function test | 0361 | 3.6052 | $213.97 | $83.23 | $42.79
91038 | X |  | Esoph imped funct test > 1h | 0361 | 3.6052 | $213.97 | $83.23 | $42.79
91040 | X |  | Esoph balloon distension tst | 0360 | 1.4672 | $87.08 | $34.83 | $17.42
91052 | X |  | Gastric analysis test | 0361 | 3.6052 | $213.97 | $83.23 | $42.79
91055 | X |  | Gastric intubation for smear | 0360 | 1.4672 | $87.08 | $34.83 | $17.42
91060 | X |  | Gastric saline load test | 0360 | 1.4672 | $87.08 | $34.83 | $17.42
91065 | X |  | Breath hydrogen test | 0360 | 1.4672 | $87.08 | $34.83 | $17.42
91100 | X |  | Pass intestine bleeding tube | 0360 | 1.4672 | $87.08 | $34.83 | $17.42
91105 | X |  | Gastric intubation treatment | 0360 | 1.4672 | $87.08 | $34.83 | $17.42
91110 | T |  | Gi tract capsule endoscopy | 0142 | 9.3063 | $552.33 | $152.78 | $110.47
91120 | T |  | Rectal sensation test | 0156 | 2.5635 | $152.14 | $40.52 | $30.43
91122 | T |  | Anal pressure record | 0156 | 2.5635 | $152.14 | $40.52 | $30.43
91123 | N |  | Irrigate fecal impaction |  |  |  |  |
91132 | X |  | Electrogastrography | 0360 | 1.4672 | $87.08 | $34.83 | $17.42
91133 | X |  | Electrogastrography w/test | 0360 | 1.4672 | $87.08 | $34.83 | $17.42
91299 | X |  | Gastroenterology procedure | 0360 | 1.4672 | $87.08 | $34.83 | $17.42
92002 | V |  | Eye exam, new patient | 0601 | 0.9992 | $59.30 |  | $11.86
92004 | V |  | Eye exam, new patient | 0601 | 0.9992 | $59.30 |  | $11.86
92012 | V |  | Eye exam established pat | 0600 | 0.8649 | $51.33 |  | $10.27
92014 | V |  | Eye exam & treatment | 0601 | 0.9992 | $59.30 |  | $11.86
92015 | E |  | Refraction |  |  |  |  |
92018 | T |  | New eye exam & treatment | 0699 | 9.9723 | $591.86 |  | $118.37
92019 | T |  | Eye exam & treatment | 0699 | 9.9723 | $591.86 |  | $118.37
92020 | S |  | Special eye evaluation | 0230 | 0.7823 | $46.43 | $14.97 | $9.29
92060 | S |  | Special eye evaluation | 0230 | 0.7823 | $46.43 | $14.97 | $9.29
92065 | S |  | Orthoptic/pleoptic training | 0698 | 1.2381 | $73.48 | $16.48 | $14.70
92070 | N |  | Fitting of contact lens |  |  |  |  |
92081 | S |  | Visual field examination(s) | 0230 | 0.7823 | $46.43 | $14.97 | $9.29
92082 | S |  | Visual field examination(s) | 0230 | 0.7823 | $46.43 | $14.97 | $9.29
92083 | S |  | Visual field examination(s) | 0230 | 0.7823 | $46.43 | $14.97 | $9.29
92100 | N |  | Serial tonometry exam(s) |  |  |  |  |
92120 | S |  | Tonography & eye evaluation | 0230 | 0.7823 | $46.43 | $14.97 | $9.29
92130 | S |  | Water provocation tonography | 0230 | 0.7823 | $46.43 | $14.97 | $9.29
92135 | S |  | Opthalmic dx imaging | 0230 | 0.7823 | $46.43 | $14.97 | $9.29
92136 | S |  | Ophthalmic biometry | 0698 | 1.2381 | $73.48 | $16.48 | $14.70
92140 | S |  | Glaucoma provocative tests | 0698 | 1.2381 | $73.48 | $16.48 | $14.70
92225 | S |  | Special eye exam, initial | 0230 | 0.7823 | $46.43 | $14.97 | $9.29
92226 | S |  | Special eye exam, subsequent | 0230 | 0.7823 | $46.43 | $14.97 | $9.29
92230 | T |  | Eye exam with photos | 0699 | 9.9723 | $591.86 |  | $118.37
92235 | S |  | Eye exam with photos | 0231 | 1.9191 | $113.90 |  | $22.78
92240 | S |  | Icg angiography | 0231 | 1.9191 | $113.90 |  | $22.78
92250 | S |  | Eye exam with photos | 0230 | 0.7823 | $46.43 | $14.97 | $9.29
92260 | S |  | Ophthalmoscopy/dynamometry | 0698 | 1.2381 | $73.48 | $16.48 | $14.70
92265 | S |  | Eye muscle evaluation | 0230 | 0.7823 | $46.43 | $14.97 | $9.29
92270 | S |  | Electro-oculography | 0230 | 0.7823 | $46.43 | $14.97 | $9.29
92275 | S |  | Electroretinography | 0231 | 1.9191 | $113.90 |  | $22.78
92283 | S |  | Color vision examination | 0230 | 0.7823 | $46.43 | $14.97 | $9.29
92284 | S |  | Dark adaptation eye exam | 0698 | 1.2381 | $73.48 | $16.48 | $14.70
92285 | S |  | Eye photography | 0230 | 0.7823 | $46.43 | $14.97 | $9.29
92286 | S |  | Internal eye photography | 0698 | 1.2381 | $73.48 | $16.48 | $14.70
92287 | S |  | Internal eye photography | 0698 | 1.2381 | $73.48 | $16.48 | $14.70
92310 | E |  | Contact lens fitting |  |  |  |  |
92311 | X |  | Contact lens fitting | 0362 | 2.6486 | $157.19 |  | $31.44
92312 | X |  | Contact lens fitting | 0362 | 2.6486 | $157.19 |  | $31.44
92313 | X |  | Contact lens fitting | 0362 | 2.6486 | $157.19 |  | $31.44
92314 | E |  | Prescription of contact lens |  |  |  |  |
92315 | X |  | Prescription of contact lens | 0362 | 2.6486 | $157.19 |  | $31.44
92316 | X |  | Prescription of contact lens | 0362 | 2.6486 | $157.19 |  | $31.44
92317 | X |  | Prescription of contact lens | 0362 | 2.6486 | $157.19 |  | $31.44
92325 | X |  | Modification of contact lens | 0362 | 2.6486 | $157.19 |  | $31.44
92326 | X |  | Replacement of contact lens | 0362 | 2.6486 | $157.19 |  | $31.44
92330 | S |  | Fitting of artificial eye | 0230 | 0.7823 | $46.43 | $14.97 | $9.29
92335 | N |  | Fitting of artificial eye |  |  |  |  |
92340 | E |  | Fitting of spectacles |  |  |  |  |
92341 | E |  | Fitting of spectacles |  |  |  |  |
92342 | E |  | Fitting of spectacles |  |  |  |  |
92352 | X |  | Special spectacles fitting | 0362 | 2.6486 | $157.19 |  | $31.44
92353 | X |  | Special spectacles fitting | 0362 | 2.6486 | $157.19 |  | $31.44
92354 | X |  | Special spectacles fitting | 0362 | 2.6486 | $157.19 |  | $31.44
92355 | X |  | Special spectacles fitting | 0362 | 2.6486 | $157.19 |  | $31.44
92358 | X |  | Eye prosthesis service | 0362 | 2.6486 | $157.19 |  | $31.44
92370 | E |  | Repair & adjust spectacles |  |  |  |  |
92371 | X |  | Repair & adjust spectacles | 0362 | 2.6486 | $157.19 |  | $31.44
92390 | E |  | Supply of spectacles |  |  |  |  |
92391 | E |  | Supply of contact lenses |  |  |  |  |
92392 | E |  | Supply of low vision aids |  |  |  |  |
92393 | E |  | Supply of artificial eye |  |  |  |  |
92395 | E |  | Supply of spectacles |  |  |  |  |
92396 | E |  | Supply of contact lenses |  |  |  |  |
92499 | S |  | Eye service or procedure | 0230 | 0.7823 | $46.43 | $14.97 | $9.29
92502 | T |  | Ear and throat examination | 0251 | 2.0010 | $118.76 |  | $23.75
92504 | N |  | Ear microscopy examination |  |  |  |  |
92506 | A |  | Speech/hearing evaluation |  |  |  |  |
92507 | A |  | Speech/hearing therapy |  |  |  |  |
92508 | A |  | Speech/hearing therapy |  |  |  |  |
92510 | E |  | Rehab for ear implant |  |  |  |  |
92511 | T |  | Nasopharyngoscopy | 0071 | 0.7879 | $46.76 | $11.31 | $9.35
92512 | X |  | Nasal function studies | 0363 | 0.9087 | $53.93 | $17.44 | $10.79
92516 | X |  | Facial nerve function test | 0660 | 1.6345 | $97.01 | $30.60 | $19.40
92520 | X |  | Laryngeal function studies | 0660 | 1.6345 | $97.01 | $30.60 | $19.40
92526 | A |  | Oral function therapy |  |  |  |  |
92531 | N |  | Spontaneous nystagmus study |  |  |  |  |
92532 | N |  | Positional nystagmus test |  |  |  |  |
92533 | N |  | Caloric vestibular test |  |  |  |  |
92534 | N |  | Optokinetic nystagmus test |  |  |  |  |
92541 | X |  | Spontaneous nystagmus test | 0363 | 0.9087 | $53.93 | $17.44 | $10.79
92542 | X |  | Positional nystagmus test | 0363 | 0.9087 | $53.93 | $17.44 | $10.79
92543 | X |  | Caloric vestibular test | 0660 | 1.6345 | $97.01 | $30.60 | $19.40
92544 | X |  | Optokinetic nystagmus test | 0363 | 0.9087 | $53.93 | $17.44 | $10.79
92545 | X |  | Oscillating tracking test | 0363 | 0.9087 | $53.93 | $17.44 | $10.79
92546 | X |  | Sinusoidal rotational test | 0660 | 1.6345 | $97.01 | $30.60 | $19.40
92547 | X |  | Supplemental electrical test | 0363 | 0.9087 | $53.93 | $17.44 | $10.79
92548 | X |  | Posturography | 0660 | 1.6345 | $97.01 | $30.60 | $19.40
92551 | E |  | Pure tone hearing test, air |  |  |  |  |
92552 | X |  | Pure tone audiometry, air | 0364 | 0.4686 | $27.81 | $9.06 | $5.56
92553 | X |  | Audiometry, air & bone | 0365 | 1.2300 | $73.00 | $18.95 | $14.60
92555 | X |  | Speech threshold audiometry | 0364 | 0.4686 | $27.81 | $9.06 | $5.56
92556 | X |  | Speech audiometry, complete | 0364 | 0.4686 | $27.81 | $9.06 | $5.56
92557 | X |  | Comprehensive hearing test | 0365 | 1.2300 | $73.00 | $18.95 | $14.60
92559 | E |  | Group audiometric testing |  |  |  |  |
92560 | E |  | Bekesy audiometry, screen |  |  |  |  |
92561 | X |  | Bekesy audiometry, diagnosis | 0364 | 0.4686 | $27.81 | $9.06 | $5.56
92562 | X |  | Loudness balance test | 0364 | 0.4686 | $27.81 | $9.06 | $5.56
92563 | X |  | Tone decay hearing test | 0364 | 0.4686 | $27.81 | $9.06 | $5.56
92564 | X |  | Sisi hearing test | 0364 | 0.4686 | $27.81 | $9.06 | $5.56
92565 | X |  | Stenger test, pure tone | 0364 | 0.4686 | $27.81 | $9.06 | $5.56
92567 | X |  | Tympanometry | 0364 | 0.4686 | $27.81 | $9.06 | $5.56
92568 | X |  | Acoustic reflex testing | 0364 | 0.4686 | $27.81 | $9.06 | $5.56
92569 | X |  | Acoustic reflex decay test | 0364 | 0.4686 | $27.81 | $9.06 | $5.56
92571 | X |  | Filtered speech hearing test | 0364 | 0.4686 | $27.81 | $9.06 | $5.56
92572 | X |  | Staggered spondaic word test | 0365 | 1.2300 | $73.00 | $18.95 | $14.60
92573 | X |  | Lombard test | 0364 | 0.4686 | $27.81 | $9.06 | $5.56
92575 | X |  | Sensorineural acuity test | 0364 | 0.4686 | $27.81 | $9.06 | $5.56
92576 | X |  | Synthetic sentence test | 0364 | 0.4686 | $27.81 | $9.06 | $5.56
92577 | X |  | Stenger test, speech | 0366 | 1.7663 | $104.83 | $27.36 | $20.97
92579 | X |  | Visual audiometry (vra) | 0365 | 1.2300 | $73.00 | $18.95 | $14.60
92582 | X |  | Conditioning play audiometry | 0365 | 1.2300 | $73.00 | $18.95 | $14.60
92583 | X |  | Select picture audiometry | 0364 | 0.4686 | $27.81 | $9.06 | $5.56
92584 | X |  | Electrocochleography | 0660 | 1.6345 | $97.01 | $30.60 | $19.40
92585 | S |  | Auditor evoke potent, compre | 0216 | 2.6599 | $157.87 |  | $31.57
92586 | S |  | Auditor evoke potent, limit | 0218 | 1.1356 | $67.40 |  | $13.48
92587 | X |  | Evoked auditory test | 0363 | 0.9087 | $53.93 | $17.44 | $10.79
92588 | X |  | Evoked auditory test | 0363 | 0.9087 | $53.93 | $17.44 | $10.79
92590 | E |  | Hearing aid exam, one ear |  |  |  |  |
92591 | E |  | Hearing aid exam, both ears |  |  |  |  |
92592 | E |  | Hearing aid check, one ear |  |  |  |  |
92593 | E |  | Hearing aid check, both ears |  |  |  |  |
92594 | E |  | Electro hearng aid test, one |  |  |  |  |
92595 | E |  | Electro hearng aid tst, both |  |  |  |  |
92596 | X |  | Ear protector evaluation | 0364 | 0.4686 | $27.81 | $9.06 | $5.56
92597 | A |  | Voice Prosthetic Evaluation |  |  |  |  |
92601 | X |  | Cochlear implt f/up exam < 7 | 0366 | 1.7663 | $104.83 | $27.36 | $20.97
92602 | X |  | Reprogram cochlear implt < 7 | 0366 | 1.7663 | $104.83 | $27.36 | $20.97
92603 | X |  | Cochlear implt f/up exam 7 > | 0366 | 1.7663 | $104.83 | $27.36 | $20.97
92604 | X |  | Reprogram cochlear implt 7 > | 0366 | 1.7663 | $104.83 | $27.36 | $20.97
92605 | A |  | Eval for nonspeech device rx |  |  |  |  |
92606 | A |  | Non-speech device service |  |  |  |  |
92607 | A |  | Ex for speech device rx, 1hr |  |  |  |  |
92608 | A |  | Ex for speech device rx addl |  |  |  |  |
92609 | A |  | Use of speech device service |  |  |  |  |
92610 | A |  | Evaluate swallowing function |  |  |  |  |
92611 | A |  | Motion fluoroscopy/swallow |  |  |  |  |
92612 | A |  | Endoscopy swallow tst (fees) |  |  |  |  |
92613 | E |  | Endoscopy swallow tst (fees) |  |  |  |  |
92614 | A |  | Laryngoscopic sensory test |  |  |  |  |
92615 | E |  | Eval laryngoscopy sense tst |  |  |  |  |
92616 | A |  | Fees w/laryngeal sense test |  |  |  |  |
92617 | E |  | Interprt fees/laryngeal test |  |  |  |  |
92620 | X |  | Auditory function, 60 min | 0364 | 0.4686 | $27.81 | $9.06 | $5.56
92621 | N |  | Auditory function, + 15 min |  |  |  |  |
92625 | X |  | Tinnitus assessment | 0364 | 0.4686 | $27.81 | $9.06 | $5.56
92700 | X |  | Ent procedure/service | 0364 | 0.4686 | $27.81 | $9.06 | $5.56
92950 | S |  | Heart/lung resuscitation cpr | 0094 | 2.5248 | $149.85 | $47.41 | $29.97
92953 | S |  | Temporary external pacing | 0094 | 2.5248 | $149.85 | $47.41 | $29.97
92960 | S |  | Cardioversion electric, ext | 0679 | 5.5521 | $329.52 | $95.30 | $65.90
92961 | S |  | Cardioversion, electric, int | 0679 | 5.5521 | $329.52 | $95.30 | $65.90
92970 | C |  | Cardioassist, internal |  |  |  |  |
92971 | C |  | Cardioassist, external |  |  |  |  |
92973 | T |  | Percut coronary thrombectomy | 0676 | 2.3996 | $142.42 |  | $28.48
92974 | T |  | Cath place, cardio brachytx | 0103 | 14.6476 | $869.34 | $223.63 | $173.87
92975 | C |  | Dissolve clot, heart vessel |  |  |  |  |
92977 | T |  | Dissolve clot, heart vessel | 0676 | 2.3996 | $142.42 |  | $28.48
92978 | S |  | Intravasc us, heart add-on | 0670 | 25.2980 | $1,501.44 | $470.38 | $300.29
92979 | S |  | Intravasc us, heart add-on | 0416 | 19.4657 | $1,155.29 |  | $231.06
92980 | T |  | Insert intracoronary stent | 0104 | 78.6515 | $4,667.97 |  | $933.59
92981 | T |  | Insert intracoronary stent | 0104 | 78.6515 | $4,667.97 |  | $933.59
92982 | T |  | Coronary artery dilation | 0083 | 50.6620 | $3,006.79 |  | $601.36
92984 | T |  | Coronary artery dilation | 0083 | 50.6620 | $3,006.79 |  | $601.36
92986 | T |  | Revision of aortic valve | 0083 | 50.6620 | $3,006.79 |  | $601.36
92987 | T |  | Revision of mitral valve | 0083 | 50.6620 | $3,006.79 |  | $601.36
92990 | T |  | Revision of pulmonary valve | 0083 | 50.6620 | $3,006.79 |  | $601.36
92992 | C |  | Revision of heart chamber |  |  |  |  |
92993 | C |  | Revision of heart chamber |  |  |  |  |
92995 | T |  | Coronary atherectomy | 0082 | 84.6276 | $5,022.65 | $1,080.41 | $1,004.53
92996 | T |  | Coronary atherectomy add-on | 0082 | 84.6276 | $5,022.65 | $1,080.41 | $1,004.53
92997 | T |  | Pul art balloon repr, percut | 0081 | 34.2913 | $2,035.19 |  | $407.04
92998 | T |  | Pul art balloon repr, percut | 0081 | 34.2913 | $2,035.19 |  | $407.04
93000 | B |  | Electrocardiogram, complete |  |  |  |  |
93005 | S |  | Electrocardiogram, tracing | 0099 | 0.3804 | $22.58 |  | $4.52
93010 | A |  | Electrocardiogram report |  |  |  |  |
93012 | N |  | Transmission of ecg |  |  |  |  |
93014 | B |  | Report on transmitted ecg |  |  |  |  |
93015 | B |  | Cardiovascular stress test |  |  |  |  |
93016 | B |  | Cardiovascular stress test |  |  |  |  |
93017 | X |  | Cardiovascular stress test | 0100 | 2.4855 | $147.51 | $41.44 | $29.50
93018 | B |  | Cardiovascular stress test |  |  |  |  |
93024 | X |  | Cardiac drug stress test | 0100 | 2.4855 | $147.51 | $41.44 | $29.50
93025 | X |  | Microvolt t-wave assess | 0100 | 2.4855 | $147.51 | $41.44 | $29.50
93040 | B |  | Rhythm ECG with report |  |  |  |  |
93041 | S |  | Rhythm ECG, tracing | 0099 | 0.3804 | $22.58 |  | $4.52
93042 | B |  | Rhythm ECG, report |  |  |  |  |
93224 | B |  | ECG monitor/report, 24 hrs |  |  |  |  |
93225 | X |  | ECG monitor/record, 24 hrs | 0097 | 1.0177 | $60.40 | $23.79 | $12.08
93226 | X |  | ECG monitor/report, 24 hrs | 0097 | 1.0177 | $60.40 | $23.79 | $12.08
93227 | B |  | ECG monitor/review, 24 hrs |  |  |  |  |
93230 | B |  | ECG monitor/report, 24 hrs |  |  |  |  |
93231 | X |  | Ecg monitor/record, 24 hrs | 0097 | 1.0177 | $60.40 | $23.79 | $12.08
93232 | X |  | ECG monitor/report, 24 hrs | 0097 | 1.0177 | $60.40 | $23.79 | $12.08
93233 | B |  | ECG monitor/review, 24 hrs |  |  |  |  |
93235 | B |  | ECG monitor/report, 24 hrs |  |  |  |  |
93236 | X |  | ECG monitor/report, 24 hrs | 0097 | 1.0177 | $60.40 | $23.79 | $12.08
93237 | B |  | ECG monitor/review, 24 hrs |  |  |  |  |
93268 | B |  | ECG record/review |  |  |  |  |
93270 | X |  | ECG recording | 0097 | 1.0177 | $60.40 | $23.79 | $12.08
93271 | X |  | Ecg/monitoring and analysis | 0097 | 1.0177 | $60.40 | $23.79 | $12.08
93272 | B |  | Ecg/review, interpret only |  |  |  |  |
93278 | S |  | ECG/signal-averaged | 0099 | 0.3804 | $22.58 |  | $4.52
93303 | S |  | Echo transthoracic | 0269 | 3.2290 | $191.64 | $76.65 | $38.33
93304 | S |  | Echo transthoracic | 0697 | 1.5288 | $90.73 | $36.29 | $18.15
93307 | S |  | Echo exam of heart | 0269 | 3.2290 | $191.64 | $76.65 | $38.33
93308 | S |  | Echo exam of heart | 0697 | 1.5288 | $90.73 | $36.29 | $18.15
93312 | S |  | Echo transesophageal | 0270 | 5.9919 | $355.62 | $142.24 | $71.12
93313 | S |  | Echo transesophageal | 0270 | 5.9919 | $355.62 | $142.24 | $71.12
93314 | N |  | Echo transesophageal |  |  |  |  |
93315 | S |  | Echo transesophageal | 0270 | 5.9919 | $355.62 | $142.24 | $71.12
93316 | S |  | Echo transesophageal | 0270 | 5.9919 | $355.62 | $142.24 | $71.12
93317 | N |  | Echo transesophageal |  |  |  |  |
93318 | S |  | Echo transesophageal intraop | 0270 | 5.9919 | $355.62 | $142.24 | $71.12
93320 | S |  | Doppler echo exam, heart | 0671 | 1.6951 | $100.60 | $40.24 | $20.12
93321 | S |  | Doppler echo exam, heart | 0697 | 1.5288 | $90.73 | $36.29 | $18.15
93325 | S |  | Doppler color flow add-on | 0697 | 1.5288 | $90.73 | $36.29 | $18.15
93350 | S |  | Echo transthoracic | 0269 | 3.2290 | $191.64 | $76.65 | $38.33
93501 | T |  | Right heart catheterization | 0080 | 36.9679 | $2,194.04 | $838.92 | $438.81
93503 | T |  | Insert/place heart catheter | 0103 | 14.6476 | $869.34 | $223.63 | $173.87
93505 | T |  | Biopsy of heart lining | 0103 | 14.6476 | $869.34 | $223.63 | $173.87
93508 | T |  | Cath placement, angiography | 0080 | 36.9679 | $2,194.04 | $838.92 | $438.81
93510 | T |  | Left heart catheterization | 0080 | 36.9679 | $2,194.04 | $838.92 | $438.81
93511 | T |  | Left heart catheterization | 0080 | 36.9679 | $2,194.04 | $838.92 | $438.81
93514 | T |  | Left heart catheterization | 0080 | 36.9679 | $2,194.04 | $838.92 | $438.81
93524 | T |  | Left heart catheterization | 0080 | 36.9679 | $2,194.04 | $838.92 | $438.81
93526 | T |  | Rt & Lt heart catheters | 0080 | 36.9679 | $2,194.04 | $838.92 | $438.81
93527 | T |  | Rt & Lt heart catheters | 0080 | 36.9679 | $2,194.04 | $838.92 | $438.81
93528 | T |  | Rt & Lt heart catheters | 0080 | 36.9679 | $2,194.04 | $838.92 | $438.81
93529 | T |  | Rt, lt heart catheterization | 0080 | 36.9679 | $2,194.04 | $838.92 | $438.81
93530 | T |  | Rt heart cath, congenital | 0080 | 36.9679 | $2,194.04 | $838.92 | $438.81
93531 | T |  | R & l heart cath, congenital | 0080 | 36.9679 | $2,194.04 | $838.92 | $438.81
93532 | T |  | R & l heart cath, congenital | 0080 | 36.9679 | $2,194.04 | $838.92 | $438.81
93533 | T |  | R & l heart cath, congenital | 0080 | 36.9679 | $2,194.04 | $838.92 | $438.81
93539 | N |  | Injection, cardiac cath |  |  |  |  |
93540 | N |  | Injection, cardiac cath |  |  |  |  |
93541 | N |  | Injection for lung angiogram |  |  |  |  |
93542 | N |  | Injection for heart x-rays |  |  |  |  |
93543 | N |  | Injection for heart x-rays |  |  |  |  |
93544 | N |  | Injection for aortography |  |  |  |  |
93545 | N |  | Inject for coronary x-rays |  |  |  |  |
93555 | N |  | Imaging, cardiac cath |  |  |  |  |
93556 | N |  | Imaging, cardiac cath |  |  |  |  |
93561 | N |  | Cardiac output measurement |  |  |  |  |
93562 | N |  | Cardiac output measurement |  |  |  |  |
93571 | S |  | Heart flow reserve measure | 0670 | 25.2980 | $1,501.44 | $470.38 | $300.29
93572 | S |  | Heart flow reserve measure | 0416 | 19.4657 | $1,155.29 |  | $231.06
93580 | T |  | Transcath closure of asd | 0434 | 90.3765 | $5,363.85 |  | $1,072.77
93581 | T |  | Transcath closure of vsd | 0434 | 90.3765 | $5,363.85 |  | $1,072.77
93600 | T |  | Bundle of His recording | 0087 | 30.5711 | $1,814.39 |  | $362.88
93602 | T |  | Intra-atrial recording | 0087 | 30.5711 | $1,814.39 |  | $362.88
93603 | T |  | Right ventricular recording | 0087 | 30.5711 | $1,814.39 |  | $362.88
93609 | T |  | Map tachycardia, add-on | 0087 | 30.5711 | $1,814.39 |  | $362.88
93610 | T |  | Intra-atrial pacing | 0087 | 30.5711 | $1,814.39 |  | $362.88
93612 | T |  | Intraventricular pacing | 0087 | 30.5711 | $1,814.39 |  | $362.88
93613 | T |  | Electrophys map 3d, add-on | 0087 | 30.5711 | $1,814.39 |  | $362.88
93615 | T |  | Esophageal recording | 0087 | 30.5711 | $1,814.39 |  | $362.88
93616 | T |  | Esophageal recording | 0087 | 30.5711 | $1,814.39 |  | $362.88
93618 | T |  | Heart rhythm pacing | 0087 | 30.5711 | $1,814.39 |  | $362.88
93619 | T |  | Electrophysiology evaluation | 0085 | 35.0288 | $2,078.96 | $426.25 | $415.79
93620 | T |  | Electrophysiology evaluation | 0085 | 35.0288 | $2,078.96 | $426.25 | $415.79
93621 | T |  | Electrophysiology evaluation | 0085 | 35.0288 | $2,078.96 | $426.25 | $415.79
93622 | T |  | Electrophysiology evaluation | 0085 | 35.0288 | $2,078.96 | $426.25 | $415.79
93623 | T |  | Stimulation, pacing heart | 0087 | 30.5711 | $1,814.39 |  | $362.88
93624 | T |  | Electrophysiologic study | 0085 | 35.0288 | $2,078.96 | $426.25 | $415.79
93631 | T |  | Heart pacing, mapping | 0087 | 30.5711 | $1,814.39 |  | $362.88
93640 | S |  | Evaluation heart device | 0084 | 9.9751 | $592.02 |  | $118.40
93641 | S |  | Electrophysiology evaluation | 0084 | 9.9751 | $592.02 |  | $118.40
93642 | S |  | Electrophysiology evaluation | 0084 | 9.9751 | $592.02 |  | $118.40
93650 | T |  | Ablate heart dysrhythm focus | 0086 | 44.0592 | $2,614.91 | $833.33 | $522.98
93651 | T |  | Ablate heart dysrhythm focus | 0086 | 44.0592 | $2,614.91 | $833.33 | $522.98
93652 | T |  | Ablate heart dysrhythm focus | 0086 | 44.0592 | $2,614.91 | $833.33 | $522.98
93660 | S |  | Tilt table evaluation | 0101 | 4.2593 | $252.79 | $101.11 | $50.56
93662 | S |  | Intracardiac ecg (ice) | 0670 | 25.2980 | $1,501.44 | $470.38 | $300.29
93668 | E |  | Peripheral vascular rehab |  |  |  |  |
93701 | S |  | Bioimpedance, thoracic | 0099 | 0.3804 | $22.58 |  | $4.52
93720 | B |  | Total body plethysmography |  |  |  |  |
93721 | X |  | Plethysmography tracing | 0368 | 0.9716 | $57.66 | $23.06 | $11.53
93722 | B |  | Plethysmography report |  |  |  |  |
93724 | S |  | Analyze pacemaker system | 0690 | 0.3738 | $22.19 | $8.87 | $4.44
93727 | S |  | Analyze ilr system | 0690 | 0.3738 | $22.19 | $8.87 | $4.44
93731 | S |  | Analyze pacemaker system | 0690 | 0.3738 | $22.19 | $8.87 | $4.44
93732 | S |  | Analyze pacemaker system | 0690 | 0.3738 | $22.19 | $8.87 | $4.44
93733 | S |  | Telephone analy, pacemaker | 0690 | 0.3738 | $22.19 | $8.87 | $4.44
93734 | S |  | Analyze pacemaker system | 0690 | 0.3738 | $22.19 | $8.87 | $4.44
93735 | S |  | Analyze pacemaker system | 0690 | 0.3738 | $22.19 | $8.87 | $4.44
93736 | S |  | Telephonic analy, pacemaker | 0690 | 0.3738 | $22.19 | $8.87 | $4.44
93740 | X |  | Temperature gradient studies | 0368 | 0.9716 | $57.66 | $23.06 | $11.53
93741 | S |  | Analyze ht pace device sngl | 0689 | 0.5709 | $33.88 |  | $6.78
93742 | S |  | Analyze ht pace device sngl | 0689 | 0.5709 | $33.88 |  | $6.78
93743 | S |  | Analyze ht pace device dual | 0689 | 0.5709 | $33.88 |  | $6.78
93744 | S |  | Analyze ht pace device dual | 0689 | 0.5709 | $33.88 |  | $6.78
93745 | S |  | Set-up cardiovert-defibrill | 0689 | 0.5709 | $33.88 |  | $6.78
93760 | E |  | Cephalic thermogram |  |  |  |  |
93762 | E |  | Peripheral thermogram |  |  |  |  |
93770 | N |  | Measure venous pressure |  |  |  |  |
93784 | E |  | Ambulatory BP monitoring |  |  |  |  |
93786 | X |  | Ambulatory BP recording | 0097 | 1.0177 | $60.40 | $23.79 | $12.08
93788 | X |  | Ambulatory BP analysis | 0097 | 1.0177 | $60.40 | $23.79 | $12.08
93790 | B |  | Review/report BP recording |  |  |  |  |
93797 | S |  | Cardiac rehab | 0095 | 0.5858 | $34.77 | $13.90 | $6.95
93798 | S |  | Cardiac rehab/monitor | 0095 | 0.5858 | $34.77 | $13.90 | $6.95
93799 | S |  | Cardiovascular procedure | 0096 | 1.6233 | $96.34 | $38.53 | $19.27
93875 | S |  | Extracranial study | 0096 | 1.6233 | $96.34 | $38.53 | $19.27
93880 | S |  | Extracranial study | 0267 | 2.6208 | $155.54 | $62.18 | $31.11
93882 | S |  | Extracranial study | 0267 | 2.6208 | $155.54 | $62.18 | $31.11
93886 | S |  | Intracranial study | 0267 | 2.6208 | $155.54 | $62.18 | $31.11
93888 | S |  | Intracranial study | 0266 | 1.6319 | $96.85 | $38.74 | $19.37
93890 | S |  | Tcd, vasoreactivity study | 0266 | 1.6319 | $96.85 | $38.74 | $19.37
93892 | S |  | Tcd, emboli detect w/o inj | 0266 | 1.6319 | $96.85 | $38.74 | $19.37
93893 | S |  | Tcd, emboli detect w/inj | 0266 | 1.6319 | $96.85 | $38.74 | $19.37
93922 | S |  | Extremity study | 0096 | 1.6233 | $96.34 | $38.53 | $19.27
93923 | S |  | Extremity study | 0096 | 1.6233 | $96.34 | $38.53 | $19.27
93924 | S |  | Extremity study | 0096 | 1.6233 | $96.34 | $38.53 | $19.27
93925 | S |  | Lower extremity study | 0267 | 2.6208 | $155.54 | $62.18 | $31.11
93926 | S |  | Lower extremity study | 0266 | 1.6319 | $96.85 | $38.74 | $19.37
93930 | S |  | Upper extremity study | 0267 | 2.6208 | $155.54 | $62.18 | $31.11
93931 | S |  | Upper extremity study | 0266 | 1.6319 | $96.85 | $38.74 | $19.37
93965 | S |  | Extremity study | 0096 | 1.6233 | $96.34 | $38.53 | $19.27
93970 | S |  | Extremity study | 0267 | 2.6208 | $155.54 | $62.18 | $31.11
93971 | S |  | Extremity study | 0266 | 1.6319 | $96.85 | $38.74 | $19.37
93975 | S |  | Vascular study | 0267 | 2.6208 | $155.54 | $62.18 | $31.11
93976 | S |  | Vascular study | 0267 | 2.6208 | $155.54 | $62.18 | $31.11
93978 | S |  | Vascular study | 0266 | 1.6319 | $96.85 | $38.74 | $19.37
93979 | S |  | Vascular study | 0266 | 1.6319 | $96.85 | $38.74 | $19.37
93980 | S |  | Penile vascular study | 0267 | 2.6208 | $155.54 | $62.18 | $31.11
93981 | S |  | Penile vascular study | 0266 | 1.6319 | $96.85 | $38.74 | $19.37
93990 | S |  | Doppler flow testing | 0266 | 1.6319 | $96.85 | $38.74 | $19.37
94010 | X |  | Breathing capacity test | 0368 | 0.9716 | $57.66 | $23.06 | $11.53
94014 | X |  | Patient recorded spirometry | 0367 | 0.6629 | $39.34 | $14.80 | $7.87
94015 | X |  | Patient recorded spirometry | 0367 | 0.6629 | $39.34 | $14.80 | $7.87
94016 | A |  | Review patient spirometry |  |  |  |  |
94060 | X |  | Evaluation of wheezing | 0368 | 0.9716 | $57.66 | $23.06 | $11.53
94070 | X |  | Evaluation of wheezing | 0369 | 2.7394 | $162.58 | $44.18 | $32.52
94150 | X |  | Vital capacity test | 0367 | 0.6629 | $39.34 | $14.80 | $7.87
94200 | X |  | Lung function test (MBC/MVV) | 0367 | 0.6629 | $39.34 | $14.80 | $7.87
94240 | X |  | Residual lung capacity | 0368 | 0.9716 | $57.66 | $23.06 | $11.53
94250 | X |  | Expired gas collection | 0367 | 0.6629 | $39.34 | $14.80 | $7.87
94260 | X |  | Thoracic gas volume | 0367 | 0.6629 | $39.34 | $14.80 | $7.87
94350 | X |  | Lung nitrogen washout curve | 0367 | 0.6629 | $39.34 | $14.80 | $7.87
94360 | X |  | Measure airflow resistance | 0367 | 0.6629 | $39.34 | $14.80 | $7.87
94370 | X |  | Breath airway closing volume | 0367 | 0.6629 | $39.34 | $14.80 | $7.87
94375 | X |  | Respiratory flow volume loop | 0367 | 0.6629 | $39.34 | $14.80 | $7.87
94400 | X |  | CO2 breathing response curve | 0367 | 0.6629 | $39.34 | $14.80 | $7.87
94450 | X |  | Hypoxia response curve | 0368 | 0.9716 | $57.66 | $23.06 | $11.53
94452 | X |  | Hast w/report | 0368 | 0.9716 | $57.66 | $23.06 | $11.53
94453 | X |  | Hast w/oxygen titrate | 0368 | 0.9716 | $57.66 | $23.06 | $11.53
94620 | X |  | Pulmonary stress test/simple | 0368 | 0.9716 | $57.66 | $23.06 | $11.53
94621 | X |  | Pulm stress test/complex | 0369 | 2.7394 | $162.58 | $44.18 | $32.52
94640 | S |  | Airway inhalation treatment | 0077 | 0.3428 | $20.35 | $7.74 | $4.07
94642 | S |  | Aerosol inhalation treatment | 0078 | 1.0190 | $60.48 | $14.55 | $12.10
94656 | S |  | Initial ventilator mgmt | 0079 | 2.3375 | $138.73 |  | $27.75
94657 | S |  | Continued ventilator mgmt | 0079 | 2.3375 | $138.73 |  | $27.75
94660 | S |  | Pos airway pressure, CPAP | 0068 | 1.2237 | $72.63 | $29.05 | $14.53
94662 | S |  | Neg press ventilation, cnp | 0079 | 2.3375 | $138.73 |  | $27.75
94664 | S |  | Aerosol or vapor inhalations | 0077 | 0.3428 | $20.35 | $7.74 | $4.07
94667 | S |  | Chest wall manipulation | 0077 | 0.3428 | $20.35 | $7.74 | $4.07
94668 | S |  | Chest wall manipulation | 0077 | 0.3428 | $20.35 | $7.74 | $4.07
94680 | X |  | Exhaled air analysis, o2 | 0367 | 0.6629 | $39.34 | $14.80 | $7.87
94681 | X |  | Exhaled air analysis, o2/co2 | 0368 | 0.9716 | $57.66 | $23.06 | $11.53
94690 | X |  | Exhaled air analysis | 0368 | 0.9716 | $57.66 | $23.06 | $11.53
94720 | X |  | Monoxide diffusing capacity | 0368 | 0.9716 | $57.66 | $23.06 | $11.53
94725 | X |  | Membrane diffusion capacity | 0368 | 0.9716 | $57.66 | $23.06 | $11.53
94750 | X |  | Pulmonary compliance study | 0368 | 0.9716 | $57.66 | $23.06 | $11.53
94760 | N |  | Measure blood oxygen level |  |  |  |  |
94761 | N |  | Measure blood oxygen level |  |  |  |  |
94762 | N |  | Measure blood oxygen level |  |  |  |  |
94770 | X |  | Exhaled carbon dioxide test | 0367 | 0.6629 | $39.34 | $14.80 | $7.87
94772 | X |  | Breath recording, infant | 0369 | 2.7394 | $162.58 | $44.18 | $32.52
94799 | X |  | Pulmonary service/procedure | 0367 | 0.6629 | $39.34 | $14.80 | $7.87
95004 | X |  | Percut allergy skin tests | 0381 | 0.1876 | $11.13 | $2.34 | $2.23
95010 | X |  | Percut allergy titrate test | 0381 | 0.1876 | $11.13 | $2.34 | $2.23
95015 | X |  | Id allergy titrate-drug/bug | 0381 | 0.1876 | $11.13 | $2.34 | $2.23
95024 | X |  | Id allergy test, drug/bug | 0381 | 0.1876 | $11.13 | $2.34 | $2.23
95027 | X |  | Skin end point titration | 0381 | 0.1876 | $11.13 | $2.34 | $2.23
95028 | X |  | Id allergy test-delayed type | 0381 | 0.1876 | $11.13 | $2.34 | $2.23
95044 | X |  | Allergy patch tests | 0381 | 0.1876 | $11.13 | $2.34 | $2.23
95052 | X |  | Photo patch test | 0381 | 0.1876 | $11.13 | $2.34 | $2.23
95056 | X |  | Photosensitivity tests | 0370 | 1.1181 | $66.36 |  | $13.27
95060 | X |  | Eye allergy tests | 0370 | 1.1181 | $66.36 |  | $13.27
95065 | X |  | Nose allergy test | 0381 | 0.1876 | $11.13 | $2.34 | $2.23
95070 | X |  | Bronchial allergy tests | 0369 | 2.7394 | $162.58 | $44.18 | $32.52
95071 | X |  | Bronchial allergy tests | 0369 | 2.7394 | $162.58 | $44.18 | $32.52
95075 | X |  | Ingestion challenge test | 0361 | 3.6052 | $213.97 | $83.23 | $42.79
95078 | X |  | Provocative testing | 0370 | 1.1181 | $66.36 |  | $13.27
95115 | X |  | Immunotherapy, one injection | 0352 | 0.1407 | $8.35 |  | $1.67
95117 | X |  | Immunotherapy injections | 0353 | 0.3936 | $23.36 |  | $4.67
95120 | B |  | Immunotherapy, one injection |  |  |  |  |
95125 | B |  | Immunotherapy, many antigens |  |  |  |  |
95130 | B |  | Immunotherapy, insect venom |  |  |  |  |
95131 | B |  | Immunotherapy, insect venoms |  |  |  |  |
95132 | B |  | Immunotherapy, insect venoms |  |  |  |  |
95133 | B |  | Immunotherapy, insect venoms |  |  |  |  |
95134 | B |  | Immunotherapy, insect venoms |  |  |  |  |
95144 | X |  | Antigen therapy services | 0353 | 0.3936 | $23.36 |  | $4.67
95145 | X |  | Antigen therapy services | 0353 | 0.3936 | $23.36 |  | $4.67
95146 | X |  | Antigen therapy services | 0359 | 0.8274 | $49.11 |  | $9.82
95147 | X |  | Antigen therapy services | 0359 | 0.8274 | $49.11 |  | $9.82
95148 | X |  | Antigen therapy services | 0353 | 0.3936 | $23.36 |  | $4.67
95149 | X |  | Antigen therapy services | 0352 | 0.1407 | $8.35 |  | $1.67
95165 | X |  | Antigen therapy services | 0353 | 0.3936 | $23.36 |  | $4.67
95170 | X |  | Antigen therapy services | 0352 | 0.1407 | $8.35 |  | $1.67
95180 | X |  | Rapid desensitization | 0370 | 1.1181 | $66.36 |  | $13.27
95199 | X |  | Allergy immunology services | 0370 | 1.1181 | $66.36 |  | $13.27
95250 | X |  | Glucose monitoring, cont | 0421 | 1.6525 | $98.08 |  | $19.62
95805 | S |  | Multiple sleep latency test | 0209 | 11.5189 | $683.65 | $273.46 | $136.73
95806 | S |  | Sleep study, unattended | 0213 | 2.2828 | $135.48 | $54.19 | $27.10
95807 | S |  | Sleep study, attended | 0209 | 11.5189 | $683.65 | $273.46 | $136.73
95808 | S |  | Polysomnography, 1-3 | 0209 | 11.5189 | $683.65 | $273.46 | $136.73
95810 | S |  | Polysomnography, 4 or more | 0209 | 11.5189 | $683.65 | $273.46 | $136.73
95811 | S |  | Polysomnography w/cpap | 0209 | 11.5189 | $683.65 | $273.46 | $136.73
95812 | S |  | Electroencephalogram (EEG) | 0213 | 2.2828 | $135.48 | $54.19 | $27.10
95813 | S |  | Eeg, over 1 hour | 0213 | 2.2828 | $135.48 | $54.19 | $27.10
95816 | S |  | Electroencephalogram (EEG) | 0213 | 2.2828 | $135.48 | $54.19 | $27.10
95819 | S |  | Electroencephalogram (EEG) | 0213 | 2.2828 | $135.48 | $54.19 | $27.10
95822 | S |  | Sleep electroencephalogram | 0213 | 2.2828 | $135.48 | $54.19 | $27.10
95824 | S |  | Eeg, cerebral death only | 0214 | 1.1302 | $67.08 | $26.83 | $13.42
95827 | S |  | night electroencephalogram | 0213 | 2.2828 | $135.48 | $54.19 | $27.10
95829 | S |  | Surgery electrocorticogram | 0214 | 1.1302 | $67.08 | $26.83 | $13.42
95830 | B |  | Insert electrodes for EEG |  |  |  |  |
95831 | A |  | Limb muscle testing, manual |  |  |  |  |
95832 | A |  | Hand muscle testing, manual |  |  |  |  |
95833 | A |  | Body muscle testing, manual |  |  |  |  |
95834 | A |  | Body muscle testing, manual |  |  |  |  |
95851 | A |  | Range of motion measurements |  |  |  |  |
95852 | A |  | Range of motion measurements |  |  |  |  |
95857 | S |  | Tensilon test | 0218 | 1.1356 | $67.40 |  | $13.48
95858 | S |  | Tensilon test & myogram | 0215 | 0.6087 | $36.13 | $14.45 | $7.23
95860 | S |  | Muscle test, one limb | 0218 | 1.1356 | $67.40 |  | $13.48
95861 | S |  | Muscle test, 2 limbs | 0218 | 1.1356 | $67.40 |  | $13.48
95863 | S |  | Muscle test, 3 limbs | 0218 | 1.1356 | $67.40 |  | $13.48
95864 | S |  | Muscle test, 4 limbs | 0218 | 1.1356 | $67.40 |  | $13.48
95867 | S |  | Muscle test, head or neck | 0218 | 1.1356 | $67.40 |  | $13.48
95868 | S |  | Muscle test cran nerve bilat | 0218 | 1.1356 | $67.40 |  | $13.48
95869 | S |  | Muscle test, thor paraspinal | 0215 | 0.6087 | $36.13 | $14.45 | $7.23
95870 | S |  | Muscle test, nonparaspinal | 0215 | 0.6087 | $36.13 | $14.45 | $7.23
95872 | S |  | Muscle test, one fiber | 0218 | 1.1356 | $67.40 |  | $13.48
95875 | S |  | Limb exercise test | 0215 | 0.6087 | $36.13 | $14.45 | $7.23
95900 | S |  | Motor nerve conduction test | 0215 | 0.6087 | $36.13 | $14.45 | $7.23
95903 | S |  | Motor nerve conduction test | 0215 | 0.6087 | $36.13 | $14.45 | $7.23
95904 | S |  | Sense nerve conduction test | 0215 | 0.6087 | $36.13 | $14.45 | $7.23
95920 | S |  | Intraop nerve test add-on | 0216 | 2.6599 | $157.87 |  | $31.57
95921 | S |  | Autonomic nerv function test | 0218 | 1.1356 | $67.40 |  | $13.48
95922 | S |  | Autonomic nerv function test | 0218 | 1.1356 | $67.40 |  | $13.48
95923 | S |  | Autonomic nerv function test | 0218 | 1.1356 | $67.40 |  | $13.48
95925 | S |  | Somatosensory testing | 0216 | 2.6599 | $157.87 |  | $31.57
95926 | S |  | Somatosensory testing | 0216 | 2.6599 | $157.87 |  | $31.57
95927 | S |  | Somatosensory testing | 0216 | 2.6599 | $157.87 |  | $31.57
95928 | S |  | C motor evoked, uppr limbs | 0218 | 1.1356 | $67.40 |  | $13.48
95929 | S |  | C motor evoked, lwr limbs | 0218 | 1.1356 | $67.40 |  | $13.48
95930 | S |  | Visual evoked potential test | 0216 | 2.6599 | $157.87 |  | $31.57
95933 | S |  | Blink reflex test | 0215 | 0.6087 | $36.13 | $14.45 | $7.23
95934 | S |  | H-reflex test | 0215 | 0.6087 | $36.13 | $14.45 | $7.23
95936 | S |  | H-reflex test | 0215 | 0.6087 | $36.13 | $14.45 | $7.23
95937 | S |  | Neuromuscular junction test | 0218 | 1.1356 | $67.40 |  | $13.48
95950 | S |  | Ambulatory eeg monitoring | 0213 | 2.2828 | $135.48 | $54.19 | $27.10
95951 | S |  | EEG monitoring/videorecord | 0209 | 11.5189 | $683.65 | $273.46 | $136.73
95953 | S |  | EEG monitoring/computer | 0209 | 11.5189 | $683.65 | $273.46 | $136.73
95954 | S |  | EEG monitoring/giving drugs | 0214 | 1.1302 | $67.08 | $26.83 | $13.42
95955 | S |  | EEG during surgery | 0213 | 2.2828 | $135.48 | $54.19 | $27.10
95956 | S |  | Eeg monitoring, cable/radio | 0209 | 11.5189 | $683.65 | $273.46 | $136.73
95957 | S |  | EEG digital analysis | 0214 | 1.1302 | $67.08 | $26.83 | $13.42
95958 | S |  | EEG monitoring/function test | 0213 | 2.2828 | $135.48 | $54.19 | $27.10
95961 | S |  | Electrode stimulation, brain | 0216 | 2.6599 | $157.87 |  | $31.57
95962 | S |  | Electrode stim, brain add-on | 0216 | 2.6599 | $157.87 |  | $31.57
95965 | T |  | Meg, spontaneous | 0430 | 11.3524 | $673.76 |  | $134.75
95966 | T |  | Meg, evoked, single | 0430 | 11.3524 | $673.76 |  | $134.75
95967 | T |  | Meg, evoked, each add'l | 0430 | 11.3524 | $673.76 |  | $134.75
95970 | S |  | Analyze neurostim, no prog | 0218 | 1.1356 | $67.40 |  | $13.48
95971 | S |  | Analyze neurostim, simple | 0692 | 2.0020 | $118.82 | $30.16 | $23.76
95972 | S |  | Analyze neurostim, complex | 0692 | 2.0020 | $118.82 | $30.16 | $23.76
95973 | S |  | Analyze neurostim, complex | 0692 | 2.0020 | $118.82 | $30.16 | $23.76
95974 | S |  | Cranial neurostim, complex | 0692 | 2.0020 | $118.82 | $30.16 | $23.76
95975 | S |  | Cranial neurostim, complex | 0692 | 2.0020 | $118.82 | $30.16 | $23.76
95978 | S |  | Analyze neurostim brain/1h | 0692 | 2.0020 | $118.82 | $30.16 | $23.76
95979 | S |  | Analyz neurostim brain addon | 0692 | 2.0020 | $118.82 | $30.16 | $23.76
95990 | T |  | Spin/brain pump refil & main | 0125 | 1.9244 | $114.21 |  | $22.84
95991 | T |  | Spin/brain pump refil & main | 0125 | 1.9244 | $114.21 |  | $22.84
95999 | S |  | Neurological procedure | 0215 | 0.6087 | $36.13 | $14.45 | $7.23
96000 | S |  | Motion analysis, video/3d | 0216 | 2.6599 | $157.87 |  | $31.57
96001 | S |  | Motion test w/ft press meas | 0216 | 2.6599 | $157.87 |  | $31.57
96002 | S |  | Dynamic surface emg | 0218 | 1.1356 | $67.40 |  | $13.48
96003 | S |  | Dynamic fine wire emg | 0215 | 0.6087 | $36.13 | $14.45 | $7.23
96004 | E |  | Phys review of motion tests |  |  |  |  |
96100 | X |  | Psychological testing | 0373 | 2.1827 | $129.54 |  | $25.91
96105 | A |  | Assessment of aphasia |  |  |  |  |
96110 | X |  | Developmental test, lim | 0373 | 2.1827 | $129.54 |  | $25.91
96111 | X |  | Developmental test, extend | 0373 | 2.1827 | $129.54 |  | $25.91
96115 | X |  | Neurobehavior status exam | 0373 | 2.1827 | $129.54 |  | $25.91
96117 | X |  | Neuropsych test battery | 0373 | 2.1827 | $129.54 |  | $25.91
96150 | S |  | Assess lth/behave, init | 0432 | 0.6918 | $41.06 |  | $8.21
96151 | S |  | Assess hlth/behave, subseq | 0432 | 0.6918 | $41.06 |  | $8.21
96152 | S |  | Intervene hlth/behave, indiv | 0432 | 0.6918 | $41.06 |  | $8.21
96153 | S |  | Intervene hlth/behave, group | 0432 | 0.6918 | $41.06 |  | $8.21
96154 | S |  | Interv hlth/behav, fam w/pt | 0432 | 0.6918 | $41.06 |  | $8.21
96155 | E |  | Interv hlth/behav fam no pt |  |  |  |  |
96400 | S |  | Chemotherapy, sc/im | 0116 | 1.1401 | $67.66 |  | $13.53
96405 | S |  | Intralesional chemo admin | 0116 | 1.1401 | $67.66 |  | $13.53
96406 | S |  | Intralesional chemo admin | 0116 | 1.1401 | $67.66 |  | $13.53
96408 | S |  | Chemotherapy, push technique | 0116 | 1.1401 | $67.66 |  | $13.53
96410 | S |  | Chemotherapy,infusion method | 0117 | 3.2231 | $191.29 | $42.54 | $38.26
96412 | N |  | Chemo, infuse method add-on |  |  |  |  |
96414 | S |  | Chemo, infuse method add-on | 0117 | 3.2231 | $191.29 | $42.54 | $38.26
96420 | S |  | Chemotherapy, push technique | 0116 | 1.1401 | $67.66 |  | $13.53
96422 | S |  | Chemotherapy,infusion method | 0117 | 3.2231 | $191.29 | $42.54 | $38.26
96423 | N |  | Chemo, infuse method add-on |  |  |  |  |
96425 | S |  | Chemotherapy,infusion method | 0117 | 3.2231 | $191.29 | $42.54 | $38.26
96440 | S |  | Chemotherapy, intracavitary | 0116 | 1.1401 | $67.66 |  | $13.53
96445 | S |  | Chemotherapy, intracavitary | 0116 | 1.1401 | $67.66 |  | $13.53
96450 | S |  | Chemotherapy, into CNS | 0116 | 1.1401 | $67.66 |  | $13.53
96520 | T |  | Port pump refill & main | 0125 | 1.9244 | $114.21 |  | $22.84
96530 | T |  | Pump refilling, maintenance | 0125 | 1.9244 | $114.21 |  | $22.84
96542 | S |  | Chemotherapy injection | 0116 | 1.1401 | $67.66 |  | $13.53
96545 | N |  | Provide chemotherapy agent |  |  |  |  |
96549 | S |  | Chemotherapy, unspecified | 0116 | 1.1401 | $67.66 |  | $13.53
96567 | T |  | Photodynamic tx, skin | 0016 | 2.5717 | $152.63 | $33.42 | $30.53
96570 | T |  | Photodynamic tx, 30 min | 0015 | 1.6439 | $97.57 | $20.20 | $19.51
96571 | T |  | Photodynamic tx, addl 15 min | 0015 | 1.6439 | $97.57 | $20.20 | $19.51
96900 | S |  | Ultraviolet light therapy | 0001 | 0.4194 | $24.89 | $7.00 | $4.98
96902 | N |  | Trichogram |  |  |  |  |
96910 | S |  | Photochemotherapy with UV-B | 0001 | 0.4194 | $24.89 | $7.00 | $4.98
96912 | S |  | Photochemotherapy with UV-A | 0001 | 0.4194 | $24.89 | $7.00 | $4.98
96913 | S |  | Photochemotherapy, UV-A or B | 0683 | 1.8920 | $112.29 | $25.23 | $22.46
96920 | T |  | Laser tx, skin < 250 sq cm | 0013 | 1.1028 | $65.45 | $14.20 | $13.09
96921 | T |  | Laser tx, skin 250-500 sq cm | 0013 | 1.1028 | $65.45 | $14.20 | $13.09
96922 | T |  | Laser tx, skin > 500 sq cm | 0013 | 1.1028 | $65.45 | $14.20 | $13.09
96999 | T |  | Dermatological procedure | 0010 | 0.5693 | $33.79 | $9.63 | $6.76
97001 | A |  | Pt evaluation |  |  |  |  |
97002 | A |  | Pt re-evaluation |  |  |  |  |
97003 | A |  | Ot evaluation |  |  |  |  |
97004 | A |  | Ot re-evaluation |  |  |  |  |
97005 | E |  | Athletic train eval |  |  |  |  |
97006 | E |  | Athletic train reeval |  |  |  |  |
97010 | A |  | Hot or cold packs therapy |  |  |  |  |
97012 | A |  | Mechanical traction therapy |  |  |  |  |
97014 | E |  | Electric stimulation therapy |  |  |  |  |
97016 | A |  | Vasopneumatic device therapy |  |  |  |  |
97018 | A |  | Paraffin bath therapy |  |  |  |  |
97020 | A |  | Microwave therapy |  |  |  |  |
97022 | A |  | Whirlpool therapy |  |  |  |  |
97024 | A |  | Diathermy treatment |  |  |  |  |
97026 | A |  | Infrared therapy |  |  |  |  |
97028 | A |  | Ultraviolet therapy |  |  |  |  |
97032 | A |  | Electrical stimulation |  |  |  |  |
97033 | A |  | Electric current therapy |  |  |  |  |
97034 | A |  | Contrast bath therapy |  |  |  |  |
97035 | A |  | Ultrasound therapy |  |  |  |  |
97036 | A |  | Hydrotherapy |  |  |  |  |
97039 | A |  | Physical therapy treatment |  |  |  |  |
97110 | A |  | Therapeutic exercises |  |  |  |  |
97112 | A |  | Neuromuscular reeducation |  |  |  |  |
97113 | A |  | Aquatic therapy/exercises |  |  |  |  |
97116 | A |  | Gait training therapy |  |  |  |  |
97124 | A |  | Massage therapy |  |  |  |  |
97139 | A |  | Physical medicine procedure |  |  |  |  |
97140 | A |  | Manual therapy |  |  |  |  |
97150 | A |  | Group therapeutic procedures |  |  |  |  |
97504 | A |  | Orthotic training |  |  |  |  |
97520 | A |  | Prosthetic training |  |  |  |  |
97530 | A |  | Therapeutic activities |  |  |  |  |
97532 | A |  | Cognitive skills development |  |  |  |  |
97533 | A |  | Sensory integration |  |  |  |  |
97535 | A |  | Self care mngment training |  |  |  |  |
97537 | A |  | Community/work reintegration |  |  |  |  |
97542 | A |  | Wheelchair mngment training |  |  |  |  |
97545 | A |  | Work hardening |  |  |  |  |
97546 | A |  | Work hardening add-on |  |  |  |  |
97597 | A |  | Active wound care/20 cm or < |  |  |  |  |
97598 | A |  | Active wound care > 20 cm |  |  |  |  |
97602 | A |  | Wound(s) care non-selective |  |  |  |  |
97605 | A |  | Neg press wound tx, < 50 cm |  |  |  |  |
97606 | A |  | Neg press wound tx, > 50 cm |  |  |  |  |
97703 | A |  | Prosthetic checkout |  |  |  |  |
97750 | A |  | Physical performance test |  |  |  |  |
97755 | A |  | Assistive technology assess |  |  |  |  |
97799 | A |  | Physical medicine procedure |  |  |  |  |
97802 | A |  | Medical nutrition, indiv, in |  |  |  |  |
97803 | A |  | Med nutrition, indiv, subseq |  |  |  |  |
97804 | A |  | Medical nutrition, group |  |  |  |  |
97810 | E |  | Acupunct w/o stimul 15 min |  |  |  |  |
97811 | E |  | Acupunct w/o stimul addl 15m |  |  |  |  |
97813 | E |  | Acupunct w/stimul 15 min |  |  |  |  |
97814 | E |  | Acupunct w/stimul addl 15m |  |  |  |  |
98925 | S |  | Osteopathic manipulation | 0060 | 0.4913 | $29.16 |  | $5.83
98926 | S |  | Osteopathic manipulation | 0060 | 0.4913 | $29.16 |  | $5.83
98927 | S |  | Osteopathic manipulation | 0060 | 0.4913 | $29.16 |  | $5.83
98928 | S |  | Osteopathic manipulation | 0060 | 0.4913 | $29.16 |  | $5.83
98929 | S |  | Osteopathic manipulation | 0060 | 0.4913 | $29.16 |  | $5.83
98940 | S |  | Chiropractic manipulation | 0060 | 0.4913 | $29.16 |  | $5.83
98941 | S |  | Chiropractic manipulation | 0060 | 0.4913 | $29.16 |  | $5.83
98942 | S |  | Chiropractic manipulation | 0060 | 0.4913 | $29.16 |  | $5.83
98943 | E |  | Chiropractic manipulation |  |  |  |  |
99000 | B |  | Specimen handling |  |  |  |  |
99001 | B |  | Specimen handling |  |  |  |  |
99002 | B |  | Device handling |  |  |  |  |
99024 | B |  | Postop follow-up visit |  |  |  |  |
99026 | E |  | In-hospital on call service |  |  |  |  |
99027 | E |  | Out-of-hosp on call service |  |  |  |  |
99050 | B |  | Medical services after hrs |  |  |  |  |
99052 | B |  | Medical services at night |  |  |  |  |
99054 | B |  | Medical servcs, unusual hrs |  |  |  |  |
99056 | B |  | Non-office medical services |  |  |  |  |
99058 | B |  | Office emergency care |  |  |  |  |
99070 | B |  | Special supplies |  |  |  |  |
99071 | B |  | Patient education materials |  |  |  |  |
99075 | E |  | Medical testimony |  |  |  |  |
99078 | N |  | Group health education |  |  |  |  |
99080 | B |  | Special reports or forms |  |  |  |  |
99082 | B |  | Unusual physician travel |  |  |  |  |
99090 | B |  | Computer data analysis |  |  |  |  |
99091 | E |  | Collect/review data from pt |  |  |  |  |
99100 | B |  | Special anesthesia service |  |  |  |  |
99116 | B |  | Anesthesia with hypothermia |  |  |  |  |
99135 | B |  | Special anesthesia procedure |  |  |  |  |
99140 | B |  | Emergency anesthesia |  |  |  |  |
99141 | N |  | Sedation, iv/im or inhalant |  |  |  |  |
99142 | N |  | Sedation, oral/rectal/nasal |  |  |  |  |
99170 | T |  | Anogenital exam, child | 0191 | 0.1663 | $9.87 | $2.77 | $1.97
99172 | E |  | Ocular function screen |  |  |  |  |
99173 | E |  | Visual acuity screen |  |  |  |  |
99175 | N |  | Induction of vomiting |  |  |  |  |
99183 | B |  | Hyperbaric oxygen therapy |  |  |  |  |
99185 | N |  | Regional hypothermia |  |  |  |  |
99186 | N |  | Total body hypothermia |  |  |  |  |
99190 | C |  | Special pump services |  |  |  |  |
99191 | C |  | Special pump services |  |  |  |  |
99192 | C |  | Special pump services |  |  |  |  |
99195 | X |  | Phlebotomy | 0372 | 0.5675 | $33.68 | $10.09 | $6.74
99199 | B |  | Special service/proc/report |  |  |  |  |
99201 | V |  | Office/outpatient visit, new | 0600 | 0.8649 | $51.33 |  | $10.27
99202 | V |  | Office/outpatient visit, new | 0600 | 0.8649 | $51.33 |  | $10.27
99203 | V |  | Office/outpatient visit, new | 0601 | 0.9992 | $59.30 |  | $11.86
99204 | V |  | Office/outpatient visit, new | 0602 | 1.4220 | $84.40 |  | $16.88
99205 | V |  | Office/outpatient visit, new | 0602 | 1.4220 | $84.40 |  | $16.88
99211 | V |  | Office/outpatient visit, est | 0600 | 0.8649 | $51.33 |  | $10.27
99212 | V |  | Office/outpatient visit, est | 0600 | 0.8649 | $51.33 |  | $10.27
99213 | V |  | Office/outpatient visit, est | 0601 | 0.9992 | $59.30 |  | $11.86
99214 | V |  | Office/outpatient visit, est | 0602 | 1.4220 | $84.40 |  | $16.88
99215 | V |  | Office/outpatient visit, est | 0602 | 1.4220 | $84.40 |  | $16.88
99217 | B |  | Observation care discharge |  |  |  |  |
99218 | B |  | Observation care |  |  |  |  |
99219 | B |  | Observation care |  |  |  |  |
99220 | B |  | Observation care |  |  |  |  |
99221 | E |  | Initial hospital care |  |  |  |  |
99222 | E |  | Initial hospital care |  |  |  |  |
99223 | E |  | Initial hospital care |  |  |  |  |
99231 | E |  | Subsequent hospital care |  |  |  |  |
99232 | E |  | Subsequent hospital care |  |  |  |  |
99233 | E |  | Subsequent hospital care |  |  |  |  |
99234 | B |  | Observ/hosp same date |  |  |  |  |
99235 | B |  | Observ/hosp same date |  |  |  |  |
99236 | B |  | Observ/hosp same date |  |  |  |  |
99238 | E |  | Hospital discharge day |  |  |  |  |
99239 | E |  | Hospital discharge day |  |  |  |  |
99241 | V |  | Office consultation | 0600 | 0.8649 | $51.33 |  | $10.27
99242 | V |  | Office consultation | 0600 | 0.8649 | $51.33 |  | $10.27
99243 | V |  | Office consultation | 0601 | 0.9992 | $59.30 |  | $11.86
99244 | V |  | Office consultation | 0602 | 1.4220 | $84.40 |  | $16.88
99245 | V |  | Office consultation | 0602 | 1.4220 | $84.40 |  | $16.88
99251 | C |  | Initial inpatient consult |  |  |  |  |
99252 | C |  | Initial inpatient consult |  |  |  |  |
99253 | C |  | Initial inpatient consult |  |  |  |  |
99254 | C |  | Initial inpatient consult |  |  |  |  |
99255 | C |  | Initial inpatient consult |  |  |  |  |
99261 | C |  | Follow-up inpatient consult |  |  |  |  |
99262 | C |  | Follow-up inpatient consult |  |  |  |  |
99263 | C |  | Follow-up inpatient consult |  |  |  |  |
99271 | V |  | Confirmatory consultation | 0600 | 0.8649 | $51.33 |  | $10.27
99272 | V |  | Confirmatory consultation | 0600 | 0.8649 | $51.33 |  | $10.27
99273 | V |  | Confirmatory consultation | 0601 | 0.9992 | $59.30 |  | $11.86
99274 | V |  | Confirmatory consultation | 0602 | 1.4220 | $84.40 |  | $16.88
99275 | V |  | Confirmatory consultation | 0602 | 1.4220 | $84.40 |  | $16.88
99281 | V |  | Emergency dept visit | 0610 | 1.2889 | $76.50 | $19.40 | $15.30
99282 | V |  | Emergency dept visit | 0610 | 1.2889 | $76.50 | $19.40 | $15.30
99283 | V |  | Emergency dept visit | 0611 | 2.2615 | $134.22 | $35.60 | $26.84
99284 | V |  | Emergency dept visit | 0612 | 3.9673 | $235.46 | $54.12 | $47.09
99285 | V |  | Emergency dept visit | 0612 | 3.9673 | $235.46 | $54.12 | $47.09
99288 | B |  | Direct advanced life support |  |  |  |  |
99289 | N |  | Pt transport, 30-74 min |  |  |  |  |
99290 | N |  | Pt transport, addl 30 min |  |  |  |  |
99291 | S |  | Critical care, first hour | 0620 | 8.2620 | $490.35 | $135.08 | $98.07
99292 | N |  | Critical care, add'l 30 min |  |  |  |  |
99293 | C |  | Ped critical care, initial |  |  |  |  |
99294 | C |  | Ped critical care, subseq |  |  |  |  |
99295 | C |  | Neonatal critical care |  |  |  |  |
99296 | C |  | Neonatal critical care |  |  |  |  |
99298 | C |  | Neonatal critical care |  |  |  |  |
99299 | C |  | Ic, lbw infant 1500-2500 gm |  |  |  |  |
99301 | B |  | Nursing facility care |  |  |  |  |
99302 | B |  | Nursing facility care |  |  |  |  |
99303 | B |  | Nursing facility care |  |  |  |  |
99311 | B |  | Nursing fac care, subseq |  |  |  |  |
99312 | B |  | Nursing fac care, subseq |  |  |  |  |
99313 | B |  | Nursing fac care, subseq |  |  |  |  |
99315 | B |  | Nursing fac discharge day |  |  |  |  |
99316 | B |  | Nursing fac discharge day |  |  |  |  |
99321 | B |  | Rest home visit, new patient |  |  |  |  |
99322 | B |  | Rest home visit, new patient |  |  |  |  |
99323 | B |  | Rest home visit, new patient |  |  |  |  |
99331 | B |  | Rest home visit, est pat |  |  |  |  |
99332 | B |  | Rest home visit, est pat |  |  |  |  |
99333 | B |  | Rest home visit, est pat |  |  |  |  |
99341 | B |  | Home visit, new patient |  |  |  |  |
99342 | B |  | Home visit, new patient |  |  |  |  |
99343 | B |  | Home visit, new patient |  |  |  |  |
99344 | B |  | Home visit, new patient |  |  |  |  |
99345 | B |  | Home visit, new patient |  |  |  |  |
99347 | B |  | Home visit, est patient |  |  |  |  |
99348 | B |  | Home visit, est patient |  |  |  |  |
99349 | B |  | Home visit, est patient |  |  |  |  |
99350 | B |  | Home visit, est patient |  |  |  |  |
99354 | N |  | Prolonged service, office |  |  |  |  |
99355 | N |  | Prolonged service, office |  |  |  |  |
99356 | C |  | Prolonged service, inpatient |  |  |  |  |
99357 | C |  | Prolonged service, inpatient |  |  |  |  |
99358 | N |  | Prolonged serv, w/o contact |  |  |  |  |
99359 | N |  | Prolonged serv, w/o contact |  |  |  |  |
99360 | B |  | Physician standby services |  |  |  |  |
99361 | E |  | Physician/team conference |  |  |  |  |
99362 | E |  | Physician/team conference |  |  |  |  |
99371 | B |  | Physician phone consultation |  |  |  |  |
99372 | B |  | Physician phone consultation |  |  |  |  |
99373 | B |  | Physician phone consultation |  |  |  |  |
99374 | B |  | Home health care supervision |  |  |  |  |
99375 | E |  | Home health care supervision |  |  |  |  |
99377 | B |  | Hospice care supervision |  |  |  |  |
99378 | E |  | Hospice care supervision |  |  |  |  |
99379 | B |  | Nursing fac care supervision |  |  |  |  |
99380 | B |  | Nursing fac care supervision |  |  |  |  |
99381 | E |  | Prev visit, new, infant |  |  |  |  |
99382 | E |  | Prev visit, new, age 1-4 |  |  |  |  |
99383 | E |  | Prev visit, new, age 5-11 |  |  |  |  |
99384 | E |  | Prev visit, new, age 12-17 |  |  |  |  |
99385 | E |  | Prev visit, new, age 18-39 |  |  |  |  |
99386 | E |  | Prev visit, new, age 40-64 |  |  |  |  |
99387 | E |  | Prev visit, new, 65 & over |  |  |  |  |
99391 | E |  | Prev visit, est, infant |  |  |  |  |
99392 | E |  | Prev visit, est, age 1-4 |  |  |  |  |
99393 | E |  | Prev visit, est, age 5-11 |  |  |  |  |
99394 | E |  | Prev visit, est, age 12-17 |  |  |  |  |
99395 | E |  | Prev visit, est, age 18-39 |  |  |  |  |
99396 | E |  | Prev visit, est, age 40-64 |  |  |  |  |
99397 | E |  | Prev visit, est, 65 & over |  |  |  |  |
99401 | E |  | Preventive counseling, indiv |  |  |  |  |
99402 | E |  | Preventive counseling, indiv |  |  |  |  |
99403 | E |  | Preventive counseling, indiv |  |  |  |  |
99404 | E |  | Preventive counseling, indiv |  |  |  |  |
99411 | E |  | Preventive counseling, group |  |  |  |  |
99412 | E |  | Preventive counseling, group |  |  |  |  |
99420 | E |  | Health risk assessment test |  |  |  |  |
99429 | E |  | Unlisted preventive service |  |  |  |  |
99431 | V |  | Initial care, normal newborn | 0600 | 0.8649 | $51.33 |  | $10.27
99432 | N |  | Newborn care, not in hosp |  |  |  |  |
99433 | C |  | Normal newborn care/hospital |  |  |  |  |
99435 | E |  | Newborn discharge day hosp |  |  |  |  |
99436 | N |  | Attendance, birth |  |  |  |  |
99440 | S |  | Newborn resuscitation | 0094 | 2.5248 | $149.85 | $47.41 | $29.97
99450 | E |  | Life/disability evaluation |  |  |  |  |
99455 | B |  | Disability examination |  |  |  |  |
99456 | B |  | Disability examination |  |  |  |  |
99499 | B |  | Unlisted e&m service |  |  |  |  |
99500 | E |  | Home visit, prenatal |  |  |  |  |
99501 | E |  | Home visit, postnatal |  |  |  |  |
99502 | E |  | Home visit, nb care |  |  |  |  |
99503 | E |  | Home visit, resp therapy |  |  |  |  |
99504 | E |  | Home visit mech ventilator |  |  |  |  |
99505 | E |  | Home visit, stoma care |  |  |  |  |
99506 | E |  | Home visit, im injection |  |  |  |  |
99507 | E |  | Home visit, cath maintain |  |  |  |  |
99509 | E |  | Home visit day life activity |  |  |  |  |
99510 | E |  | Home visit, sing/m/fam couns |  |  |  |  |
99511 | E |  | Home visit, fecal/enema mgmt |  |  |  |  |
99512 | E |  | Home visit for hemodialysis |  |  |  |  |
99600 | E |  | Home visit nos |  |  |  |  |
99601 | E |  | Home infusion/visit, 2 hrs |  |  |  |  |
99602 | E |  | Home infusion, each addtl hr |  |  |  |  |
A0021 | E |  | Outside state ambulance serv |  |  |  |  |
A0080 | E |  | Noninterest escort in non er |  |  |  |  |
A0090 | E |  | Interest escort in non er |  |  |  |  |
A0100 | E |  | Nonemergency transport taxi |  |  |  |  |
A0110 | E |  | Nonemergency transport bus |  |  |  |  |
A0120 | E |  | Noner transport mini-bus |  |  |  |  |
A0130 | E |  | Noner transport wheelch van |  |  |  |  |
A0140 | E |  | Nonemergency transport air |  |  |  |  |
A0160 | E |  | Noner transport case worker |  |  |  |  |
A0170 | E |  | Noner transport parking fees |  |  |  |  |
A0180 | E |  | Noner transport lodgng recip |  |  |  |  |
A0190 | E |  | Noner transport meals recip |  |  |  |  |
A0200 | E |  | Noner transport lodgng escrt |  |  |  |  |
A0210 | E |  | Noner transport meals escort |  |  |  |  |
A0225 | A |  | Neonatal emergency transport |  |  |  |  |
A0380 | A |  | Basic life support mileage |  |  |  |  |
A0382 | A |  | Basic support routine suppls |  |  |  |  |
A0384 | A |  | Bls defibrillation supplies |  |  |  |  |
A0390 | A |  | Advanced life support mileag |  |  |  |  |
A0392 | A |  | Als defibrillation supplies |  |  |  |  |
A0394 | A |  | Als IV drug therapy supplies |  |  |  |  |
A0396 | A |  | Als esophageal intub suppls |  |  |  |  |
A0398 | A |  | Als routine disposble suppls |  |  |  |  |
A0420 | A |  | Ambulance waiting 1/2 hr |  |  |  |  |
A0422 | A |  | Ambulance 02 life sustaining |  |  |  |  |
A0424 | A |  | Extra ambulance attendant |  |  |  |  |
A0425 | A |  | Ground mileage |  |  |  |  |
A0426 | A |  | Als 1 |  |  |  |  |
A0427 | A |  | ALS1-emergency |  |  |  |  |
A0428 | A |  | bls |  |  |  |  |
A0429 | A |  | BLS-emergency |  |  |  |  |
A0430 | A |  | Fixed wing air transport |  |  |  |  |
A0431 | A |  | Rotary wing air transport |  |  |  |  |
A0432 | A |  | PI volunteer ambulance co |  |  |  |  |
A0433 | A |  | als 2 |  |  |  |  |
A0434 | A |  | Specialty care transport |  |  |  |  |
A0435 | A |  | Fixed wing air mileage |  |  |  |  |
A0436 | A |  | Rotary wing air mileage |  |  |  |  |
A0800 | B |  | Amb trans 7pm-7am |  |  |  |  |
A0888 | E |  | Noncovered ambulance mileage |  |  |  |  |
A0999 | A |  | Unlisted ambulance service |  |  |  |  |
A4206 | E |  | 1 CC sterile syringe&needle |  |  |  |  |
A4207 | E |  | 2 CC sterile syringe&needle |  |  |  |  |
A4208 | E |  | 3 CC sterile syringe&needle |  |  |  |  |
A4209 | E |  | 5+ CC sterile syringe&needle |  |  |  |  |
A4210 | E |  | Nonneedle injection device |  |  |  |  |
A4211 | B |  | Supp for self-adm injections |  |  |  |  |
A4212 | B |  | Non coring needle or stylet |  |  |  |  |
A4213 | E |  | 20+ CC syringe only |  |  |  |  |
A4215 | E |  | Sterile needle |  |  |  |  |
A4216 | A |  | Sterile water/saline, 10 ml |  |  |  |  |
A4217 | A |  | Sterile water/saline, 500 ml |  |  |  |  |
A4220 | N |  | Infusion pump refill kit |  |  |  |  |
A4221 | Y |  | Maint drug infus cath per wk |  |  |  |  |
A4222 | Y |  | Drug infusion pump supplies |  |  |  |  |
A4223 | E |  | Infusion supplies w/o pump |  |  |  |  |
A4230 | Y |  | Infus insulin pump non needl |  |  |  |  |
A4231 | Y |  | Infusion insulin pump needle |  |  |  |  |
A4232 | Y |  | Syringe w/needle insulin 3cc |  |  |  |  |
A4244 | E |  | Alcohol or peroxide per pint |  |  |  |  |
A4245 | E |  | Alcohol wipes per box |  |  |  |  |
A4246 | E |  | Betadine/phisohex solution |  |  |  |  |
A4247 | E |  | Betadine/iodine swabs/wipes |  |  |  |  |
A4248 | N |  | Chlorhexidine antisept |  |  |  |  |
A4250 | E |  | Urine reagent strips/tablets |  |  |  |  |
A4253 | Y |  | Blood glucose/reagent strips |  |  |  |  |
A4254 | Y |  | Battery for glucose monitor |  |  |  |  |
A4255 | Y |  | Glucose monitor platforms |  |  |  |  |
A4256 | Y |  | Calibrator solution/chips |  |  |  |  |
A4257 | Y |  | Replace Lensshield Cartridge |  |  |  |  |
A4258 | Y |  | Lancet device each |  |  |  |  |
A4259 | Y |  | Lancets per box |  |  |  |  |
A4260 | E |  | Levonorgestrel implant |  |  |  |  |
A4261 | E |  | Cervical cap contraceptive |  |  |  |  |
A4262 | N |  | Temporary tear duct plug |  |  |  |  |
A4263 | N |  | Permanent tear duct plug |  |  |  |  |
A4265 | Y |  | Paraffin |  |  |  |  |
A4266 | E |  | Diaphragm |  |  |  |  |
A4267 | E |  | Male condom |  |  |  |  |
A4268 | E |  | Female condom |  |  |  |  |
A4269 | E |  | Spermicide |  |  |  |  |
A4270 | A |  | Disposable endoscope sheath |  |  |  |  |
A4280 | A |  | Brst prsths adhsv attchmnt |  |  |  |  |
A4281 | E |  | Replacement breastpump tube |  |  |  |  |
A4282 | E |  | Replacement breastpump adpt |  |  |  |  |
A4283 | E |  | Replacement breastpump cap |  |  |  |  |
A4284 | E |  | Replcmnt breast pump shield |  |  |  |  |
A4285 | E |  | Replcmnt breast pump bottle |  |  |  |  |
A4286 | E |  | Replcmnt breastpump lok ring |  |  |  |  |
A4290 | B |  | Sacral nerve stim test lead |  |  |  |  |
A4300 | N |  | Cath impl vasc access portal |  |  |  |  |
A4301 | N |  | Implantable access syst perc |  |  |  |  |
A4305 | A |  | Drug delivery system >=50 ML |  |  |  |  |
A4306 | A |  | Drug delivery system <=5 ML |  |  |  |  |
A4310 | A |  | Insert tray w/o bag/cath |  |  |  |  |
A4311 | A |  | Catheter w/o bag 2-way latex |  |  |  |  |
A4312 | A |  | Cath w/o bag 2-way silicone |  |  |  |  |
A4313 | A |  | Catheter w/bag 3-way |  |  |  |  |
A4314 | A |  | Cath w/drainage 2-way latex |  |  |  |  |
A4315 | A |  | Cath w/drainage 2-way silcne |  |  |  |  |
A4316 | A |  | Cath w/drainage 3-way |  |  |  |  |
A4320 | A |  | Irrigation tray |  |  |  |  |
A4321 | A |  | Cath therapeutic irrig agent |  |  |  |  |
A4322 | A |  | Irrigation syringe |  |  |  |  |
A4326 | A |  | Male external catheter |  |  |  |  |
A4327 | A |  | Fem urinary collect dev cup |  |  |  |  |
A4328 | A |  | Fem urinary collect pouch |  |  |  |  |
A4330 | A |  | Stool collection pouch |  |  |  |  |
A4331 | A |  | Extension drainage tubing |  |  |  |  |
A4332 | A |  | Lubricant for cath insertion |  |  |  |  |
A4333 | A |  | Urinary cath anchor device |  |  |  |  |
A4334 | A |  | Urinary cath leg strap |  |  |  |  |
A4335 | A |  | Incontinence supply |  |  |  |  |
A4338 | A |  | Indwelling catheter latex |  |  |  |  |
A4340 | A |  | Indwelling catheter special |  |  |  |  |
A4344 | A |  | Cath indw foley 2 way silicn |  |  |  |  |
A4346 | A |  | Cath indw foley 3 way |  |  |  |  |
A4348 | A |  | Male ext cath extended wear |  |  |  |  |
A4349 | A |  | Disposable male external cat |  |  |  |  |
A4351 | A |  | Straight tip urine catheter |  |  |  |  |
A4352 | A |  | Coude tip urinary catheter |  |  |  |  |
A4353 | A |  | Intermittent urinary cath |  |  |  |  |
A4354 | A |  | Cath insertion tray w/bag |  |  |  |  |
A4355 | A |  | Bladder irrigation tubing |  |  |  |  |
A4356 | A |  | Ext ureth clmp or compr dvc |  |  |  |  |
A4357 | A |  | Bedside drainage bag |  |  |  |  |
A4358 | A |  | Urinary leg or abdomen bag |  |  |  |  |
A4359 | A |  | Urinary suspensory w/o leg b |  |  |  |  |
A4361 | A |  | Ostomy face plate |  |  |  |  |
A4362 | A |  | Solid skin barrier |  |  |  |  |
A4364 | A |  | Adhesive, liquid or equal |  |  |  |  |
A4365 | A |  | Adhesive remover wipes |  |  |  |  |
A4366 | A |  | Ostomy vent |  |  |  |  |
A4367 | A |  | Ostomy belt |  |  |  |  |
A4368 | A |  | Ostomy filter |  |  |  |  |
A4369 | A |  | Skin barrier liquid per oz |  |  |  |  |
A4371 | A |  | Skin barrier powder per oz |  |  |  |  |
A4372 | A |  | Skin barrier solid 4x4 equiv |  |  |  |  |
A4373 | A |  | Skin barrier with flange |  |  |  |  |
A4375 | A |  | Drainable plastic pch w fcpl |  |  |  |  |
A4376 | A |  | Drainable rubber pch w fcplt |  |  |  |  |
A4377 | A |  | Drainable plstic pch w/o fp |  |  |  |  |
A4378 | A |  | Drainable rubber pch w/o fp |  |  |  |  |
A4379 | A |  | Urinary plastic pouch w fcpl |  |  |  |  |
A4380 | A |  | Urinary rubber pouch w fcplt |  |  |  |  |
A4381 | A |  | Urinary plastic pouch w/o fp |  |  |  |  |
A4382 | A |  | Urinary hvy plstc pch w/o fp |  |  |  |  |
A4383 | A |  | Urinary rubber pouch w/o fp |  |  |  |  |
A4384 | A |  | Ostomy faceplt/silicone ring |  |  |  |  |
A4385 | A |  | Ost skn barrier sld ext wear |  |  |  |  |
A4387 | A |  | Ost clsd pouch w att st barr |  |  |  |  |
A4388 | A |  | Drainable pch w ex wear barr |  |  |  |  |
A4389 | A |  | Drainable pch w st wear barr |  |  |  |  |
A4390 | A |  | Drainable pch ex wear convex |  |  |  |  |
A4391 | A |  | Urinary pouch w ex wear barr |  |  |  |  |
A4392 | A |  | Urinary pouch w st wear barr |  |  |  |  |
A4393 | A |  | Urine pch w ex wear bar conv |  |  |  |  |
A4394 | A |  | Ostomy pouch liq deodorant |  |  |  |  |
A4395 | A |  | Ostomy pouch solid deodorant |  |  |  |  |
A4396 | A |  | Peristomal hernia supprt blt |  |  |  |  |
A4397 | A |  | Irrigation supply sleeve |  |  |  |  |
A4398 | A |  | Ostomy irrigation bag |  |  |  |  |
A4399 | A |  | Ostomy irrig cone/cath w brs |  |  |  |  |
A4400 | A |  | Ostomy irrigation set |  |  |  |  |
A4402 | A |  | Lubricant per ounce |  |  |  |  |
A4404 | A |  | Ostomy ring each |  |  |  |  |
A4405 | A |  | Nonpectin based ostomy paste |  |  |  |  |
A4406 | A |  | Pectin based ostomy paste |  |  |  |  |
A4407 | A |  | Ext wear ost skn barr <=4sq″ |  |  |  |  |
A4408 | A |  | Ext wear ost skn barr >4sq″ |  |  |  |  |
A4409 | A |  | Ost skn barr w flng <=4 sq″ |  |  |  |  |
A4410 | A |  | Ost skn barr w flng >4sq″ |  |  |  |  |
A4413 | A |  | 2 pc drainable ost pouch |  |  |  |  |
A4414 | A |  | Ostomy sknbarr w flng <=4sq″ |  |  |  |  |
A4415 | A |  | Ostomy skn barr w flng >4sq″ |  |  |  |  |
A4416 | A |  | Ost pch clsd w barrier/filtr |  |  |  |  |
A4417 | A |  | Ost pch w bar/bltinconv/fltr |  |  |  |  |
A4418 | A |  | Ost pch clsd w/o bar w filtr |  |  |  |  |
A4419 | A |  | Ost pch for bar w flange/flt |  |  |  |  |
A4420 | A |  | Ost pch clsd for bar w lk fl |  |  |  |  |
A4421 | E |  | Ostomy supply misc |  |  |  |  |
A4422 | A |  | Ost pouch absorbent material |  |  |  |  |
A4423 | A |  | Ost pch for bar w lk fl/fltr |  |  |  |  |
A4424 | A |  | Ost pch drain w bar & filter |  |  |  |  |
A4425 | A |  | Ost pch drain for barrier fl |  |  |  |  |
A4426 | A |  | Ost pch drain 2 piece system |  |  |  |  |
A4427 | A |  | Ost pch drain/barr lk flng/f |  |  |  |  |
A4428 | A |  | Urine ost pouch w faucet/tap |  |  |  |  |
A4429 | A |  | Urine ost pch bar w lock fln |  |  |  |  |
A4430 | A |  | Ost pch urine w lock flng/ft |  |  |  |  |
A4431 | A |  | Urine ost pch bar w lock fln |  |  |  |  |
A4432 | A |  | Ost pch urine w lock flng/ft |  |  |  |  |
A4433 | A |  | Urine ost pch bar w lock fln |  |  |  |  |
A4434 | A |  | Ost pch urine w lock flng/ft |  |  |  |  |
A4450 | A |  | Non-waterproof tape |  |  |  |  |
A4452 | A |  | Waterproof tape |  |  |  |  |
A4455 | A |  | Adhesive remover per ounce |  |  |  |  |
A4458 | E |  | Reusable enema bag |  |  |  |  |
A4462 | A |  | Abdmnl drssng holder/binder |  |  |  |  |
A4465 | A |  | Non-elastic extremity binder |  |  |  |  |
A4470 | A |  | Gravlee jet washer |  |  |  |  |
A4480 | A |  | Vabra aspirator |  |  |  |  |
A4481 | A |  | Tracheostoma filter |  |  |  |  |
A4483 | A |  | Moisture exchanger |  |  |  |  |
A4490 | E |  | Above knee surgical stocking |  |  |  |  |
A4495 | E |  | Thigh length surg stocking |  |  |  |  |
A4500 | E |  | Below knee surgical stocking |  |  |  |  |
A4510 | E |  | Full length surg stocking |  |  |  |  |
A4520 | E |  | Incontinence garment anytype |  |  |  |  |
A4550 | B |  | Surgical trays |  |  |  |  |
A4554 | E |  | Disposable underpads |  |  |  |  |
A4555 | E |  | Disposable underpad small |  |  |  |  |
A4556 | Y |  | Electrodes, pair |  |  |  |  |
A4557 | Y |  | Lead wires, pair |  |  |  |  |
A4558 | Y |  | Conductive paste or gel |  |  |  |  |
A4561 | N |  | Pessary rubber, any type |  |  |  |  |
A4562 | N |  | Pessary, non rubber,any type |  |  |  |  |
A4565 | A |  | Slings |  |  |  |  |
A4570 | E |  | Splint |  |  |  |  |
A4575 | E |  | Hyperbaric o2 chamber disps |  |  |  |  |
A4580 | E |  | Cast supplies (plaster) |  |  |  |  |
A4590 | E |  | Special casting material |  |  |  |  |
A4595 | Y |  | TENS suppl 2 lead per month |  |  |  |  |
A4605 | Y |  | Trach suction cath close sys |  |  |  |  |
A4606 | A |  | Oxygen probe used w oximeter |  |  |  |  |
A4608 | Y |  | Transtracheal oxygen cath |  |  |  |  |
A4611 | Y |  | Heavy duty battery |  |  |  |  |
A4612 | Y |  | Battery cables |  |  |  |  |
A4613 | Y |  | Battery charger |  |  |  |  |
A4614 | A |  | Hand-held PEFR meter |  |  |  |  |
A4615 | Y |  | Cannula nasal |  |  |  |  |
A4616 | Y |  | Tubing (oxygen) per foot |  |  |  |  |
A4617 | Y |  | Mouth piece |  |  |  |  |
A4618 | Y |  | Breathing circuits |  |  |  |  |
A4619 | Y |  | Face tent |  |  |  |  |
A4620 | Y |  | Variable concentration mask |  |  |  |  |
A4623 | A |  | Tracheostomy inner cannula |  |  |  |  |
A4624 | Y |  | Tracheal suction tube |  |  |  |  |
A4625 | A |  | Trach care kit for new trach |  |  |  |  |
A4626 | A |  | Tracheostomy cleaning brush |  |  |  |  |
A4627 | E |  | Spacer bag/reservoir |  |  |  |  |
A4628 | Y |  | Oropharyngeal suction cath |  |  |  |  |
A4629 | A |  | Tracheostomy care kit |  |  |  |  |
A4630 | Y |  | Repl bat t.e.n.s. own by pt |  |  |  |  |
A4632 | Y |  | Infus pump rplcemnt battery |  |  |  |  |
A4633 | Y |  | Uvl replacement bulb |  |  |  |  |
A4634 | A |  | Replacement bulb th lightbox |  |  |  |  |
A4635 | Y |  | Underarm crutch pad |  |  |  |  |
A4636 | Y |  | Handgrip for cane etc |  |  |  |  |
A4637 | Y |  | Repl tip cane/crutch/walker |  |  |  |  |
A4638 | Y |  | Repl batt pulse gen sys |  |  |  |  |
A4639 | Y |  | Infrared ht sys replcmnt pad |  |  |  |  |
A4640 | Y |  | Alternating pressure pad |  |  |  |  |
A4641 | N |  | Diagnostic imaging agent |  |  |  |  |
A4642 | H |  | Satumomab pendetide per dose | 0704 |  |  |  |
A4643 | B |  | High dose contrast MRI |  |  |  |  |
A4644 | B |  | Contrast 100-199 MGs iodine |  |  |  |  |
A4645 | B |  | Contrast 200-299 MGs iodine |  |  |  |  |
A4646 | B |  | Contrast 300-399 MGs iodine |  |  |  |  |
A4647 | B |  | Supp- paramagnetic contr mat |  |  |  |  |
A4649 | A |  | Surgical supplies |  |  |  |  |
A4651 | A |  | Calibrated microcap tube |  |  |  |  |
A4652 | A |  | Microcapillary tube sealant |  |  |  |  |
A4653 | A |  | PD catheter anchor belt |  |  |  |  |
A4656 | A |  | Dialysis needle |  |  |  |  |
A4657 | A |  | Dialysis syringe w/wo needle |  |  |  |  |
A4660 | A |  | Sphyg/bp app w cuff and stet |  |  |  |  |
A4663 | A |  | Dialysis blood pressure cuff |  |  |  |  |
A4670 | E |  | Automatic bp monitor, dial |  |  |  |  |
A4671 | B |  | Disposable cycler set |  |  |  |  |
A4672 | B |  | Drainage ext line, dialysis |  |  |  |  |
A4673 | B |  | Ext line w easy lock connect |  |  |  |  |
A4674 | B |  | Chem/antisept solution, 8oz |  |  |  |  |
A4680 | A |  | Activated carbon filter, ea |  |  |  |  |
A4690 | A |  | Dialyzer, each |  |  |  |  |
A4706 | A |  | Bicarbonate conc sol per gal |  |  |  |  |
A4707 | A |  | Bicarbonate conc pow per pac |  |  |  |  |
A4708 | A |  | Acetate conc sol per gallon |  |  |  |  |
A4709 | A |  | Acid conc sol per gallon |  |  |  |  |
A4714 | A |  | Treated water per gallon |  |  |  |  |
A4719 | A |  | “Y set” tubing |  |  |  |  |
A4720 | A |  | Dialysat sol fld vol > 249cc |  |  |  |  |
A4721 | A |  | Dialysat sol fld vol > 999cc |  |  |  |  |
A4722 | A |  | Dialys sol fld vol > 1999cc |  |  |  |  |
A4723 | A |  | Dialys sol fld vol > 2999cc |  |  |  |  |
A4724 | A |  | Dialys sol fld vol > 3999cc |  |  |  |  |
A4725 | A |  | Dialys sol fld vol > 4999cc |  |  |  |  |
A4726 | A |  | Dialys sol fld vol > 5999cc |  |  |  |  |
A4728 | B |  | Dialysate solution, non-dex |  |  |  |  |
A4730 | A |  | Fistula cannulation set, ea |  |  |  |  |
A4736 | A |  | Topical anesthetic, per gram |  |  |  |  |
A4737 | A |  | Inj anesthetic per 10 ml |  |  |  |  |
A4740 | A |  | Shunt accessory |  |  |  |  |
A4750 | A |  | Art or venous blood tubing |  |  |  |  |
A4755 | A |  | Comb art/venous blood tubing |  |  |  |  |
A4760 | A |  | Dialysate sol test kit, each |  |  |  |  |
A4765 | A |  | Dialysate conc pow per pack |  |  |  |  |
A4766 | A |  | Dialysate conc sol add 10 ml |  |  |  |  |
A4770 | A |  | Blood collection tube/vacuum |  |  |  |  |
A4771 | A |  | Serum clotting time tube |  |  |  |  |
A4772 | A |  | Blood glucose test strips |  |  |  |  |
A4773 | A |  | Occult blood test strips |  |  |  |  |
A4774 | A |  | Ammonia test strips |  |  |  |  |
A4802 | A |  | Protamine sulfate per 50 mg |  |  |  |  |
A4860 | A |  | Disposable catheter tips |  |  |  |  |
A4870 | A |  | Plumb/elec wk hm hemo equip |  |  |  |  |
A4890 | A |  | Repair/maint cont hemo equip |  |  |  |  |
A4911 | A |  | Drain bag/bottle |  |  |  |  |
A4913 | A |  | Misc dialysis supplies noc |  |  |  |  |
A4918 | A |  | Venous pressure clamp |  |  |  |  |
A4927 | A |  | Non-sterile gloves |  |  |  |  |
A4928 | A |  | Surgical mask |  |  |  |  |
A4929 | A |  | Tourniquet for dialysis, ea |  |  |  |  |
A4930 | A |  | Sterile, gloves per pair |  |  |  |  |
A4931 | A |  | Reusable oral thermometer |  |  |  |  |
A4932 | E |  | Reusable rectal thermometer |  |  |  |  |
A5051 | A |  | Pouch clsd w barr attached |  |  |  |  |
A5052 | A |  | Clsd ostomy pouch w/o barr |  |  |  |  |
A5053 | A |  | Clsd ostomy pouch faceplate |  |  |  |  |
A5054 | A |  | Clsd ostomy pouch w/flange |  |  |  |  |
A5055 | A |  | Stoma cap |  |  |  |  |
A5061 | A |  | Pouch drainable w barrier at |  |  |  |  |
A5062 | A |  | Drnble ostomy pouch w/o barr |  |  |  |  |
A5063 | A |  | Drain ostomy pouch w/flange |  |  |  |  |
A5071 | A |  | Urinary pouch w/barrier |  |  |  |  |
A5072 | A |  | Urinary pouch w/o barrier |  |  |  |  |
A5073 | A |  | Urinary pouch on barr w/flng |  |  |  |  |
A5081 | A |  | Continent stoma plug |  |  |  |  |
A5082 | A |  | Continent stoma catheter |  |  |  |  |
A5093 | A |  | Ostomy accessory convex inse |  |  |  |  |
A5102 | A |  | Bedside drain btl w/wo tube |  |  |  |  |
A5105 | A |  | Urinary suspensory |  |  |  |  |
A5112 | A |  | Urinary leg bag |  |  |  |  |
A5113 | A |  | Latex leg strap |  |  |  |  |
A5114 | A |  | Foam/fabric leg strap |  |  |  |  |
A5119 | A |  | Skin barrier wipes box pr 50 |  |  |  |  |
A5121 | A |  | Solid skin barrier 6x6 |  |  |  |  |
A5122 | A |  | Solid skin barrier 8x8 |  |  |  |  |
A5126 | A |  | Disk/foam pad +or- adhesive |  |  |  |  |
A5131 | A |  | Appliance cleaner |  |  |  |  |
A5200 | A |  | Percutaneous catheter anchor |  |  |  |  |
A5500 | Y |  | Diab shoe for density insert |  |  |  |  |
A5501 | Y |  | Diabetic custom molded shoe |  |  |  |  |
A5503 | Y |  | Diabetic shoe w/roller/rockr |  |  |  |  |
A5504 | Y |  | Diabetic shoe with wedge |  |  |  |  |
A5505 | Y |  | Diab shoe w/metatarsal bar |  |  |  |  |
A5506 | Y |  | Diabetic shoe w/off set heel |  |  |  |  |
A5507 | Y |  | Modification diabetic shoe |  |  |  |  |
A5508 | Y |  | Diabetic deluxe shoe |  |  |  |  |
A5509 | E |  | Direct heat form shoe insert |  |  |  |  |
A5510 | E |  | Compression form shoe insert |  |  |  |  |
A5511 | E |  | Custom fab molded shoe inser |  |  |  |  |
A6000 | E |  | Wound warming wound cover |  |  |  |  |
A6010 | A |  | Collagen based wound filler |  |  |  |  |
A6011 | A |  | Collagen gel/paste wound fil |  |  |  |  |
A6021 | A |  | Collagen dressing <=16 sq in |  |  |  |  |
A6022 | A |  | Collagen drsg>6<=48 sq in |  |  |  |  |
A6023 | A |  | Collagen dressing >48 sq in |  |  |  |  |
A6024 | A |  | Collagen dsg wound filler |  |  |  |  |
A6025 | E |  | Silicone gel sheet, each |  |  |  |  |
A6154 | A |  | Wound pouch each |  |  |  |  |
A6196 | A |  | Alginate dressing <=16 sq in |  |  |  |  |
A6197 | A |  | Alginate drsg >16 <=48 sq in |  |  |  |  |
A6198 | A |  | alginate dressing > 48 sq in |  |  |  |  |
A6199 | A |  | Alginate drsg wound filler |  |  |  |  |
A6200 | A |  | Compos drsg <=16 no border |  |  |  |  |
A6201 | A |  | Compos drsg >16<=48 no bdr |  |  |  |  |
A6202 | A |  | Compos drsg >48 no border |  |  |  |  |
A6203 | A |  | Composite drsg <= 16 sq in |  |  |  |  |
A6204 | A |  | Composite drsg >16<=48 sq in |  |  |  |  |
A6205 | A |  | Composite drsg > 48 sq in |  |  |  |  |
A6206 | A |  | Contact layer <= 16 sq in |  |  |  |  |
A6207 | A |  | Contact layer >16<= 48 sq in |  |  |  |  |
A6208 | A |  | Contact layer > 48 sq in |  |  |  |  |
A6209 | A |  | Foam drsg <=16 sq in w/o bdr |  |  |  |  |
A6210 | A |  | Foam drg >16<=48 sq in w/o b |  |  |  |  |
A6211 | A |  | Foam drg > 48 sq in w/o brdr |  |  |  |  |
A6212 | A |  | Foam drg <=16 sq in w/border |  |  |  |  |
A6213 | A |  | Foam drg >16<=48 sq in w/bdr |  |  |  |  |
A6214 | A |  | Foam drg > 48 sq in w/border |  |  |  |  |
A6215 | A |  | Foam dressing wound filler |  |  |  |  |
A6216 | A |  | Non-sterile gauze<=16 sq in |  |  |  |  |
A6217 | A |  | Non-sterile gauze>16<=48 sq |  |  |  |  |
A6218 | A |  | Non-sterile gauze > 48 sq in |  |  |  |  |
A6219 | A |  | Gauze <= 16 sq in w/border |  |  |  |  |
A6220 | A |  | Gauze >16 <=48 sq in w/bordr |  |  |  |  |
A6221 | A |  | Gauze > 48 sq in w/border |  |  |  |  |
A6222 | A |  | Gauze <=16 in no w/sal w/o b |  |  |  |  |
A6223 | A |  | Gauze >16<=48 no w/sal w/o b |  |  |  |  |
A6224 | A |  | Gauze > 48 in no w/sal w/o b |  |  |  |  |
A6228 | A |  | Gauze <= 16 sq in water/sal |  |  |  |  |
A6229 | A |  | Gauze >16<=48 sq in watr/sal |  |  |  |  |
A6230 | A |  | Gauze > 48 sq in water/salne |  |  |  |  |
A6231 | A |  | Hydrogel dsg<=16 sq in |  |  |  |  |
A6232 | A |  | Hydrogel dsg>16<=48 sq in |  |  |  |  |
A6233 | A |  | Hydrogel dressing >48 sq in |  |  |  |  |
A6234 | A |  | Hydrocolld drg <=16 w/o bdr |  |  |  |  |
A6235 | A |  | Hydrocolld drg >16<=48 w/o b |  |  |  |  |
A6236 | A |  | Hydrocolld drg > 48 in w/o b |  |  |  |  |
A6237 | A |  | Hydrocolld drg <=16 in w/bdr |  |  |  |  |
A6238 | A |  | Hydrocolld drg >16<=48 w/bdr |  |  |  |  |
A6239 | A |  | Hydrocolld drg > 48 in w/bdr |  |  |  |  |
A6240 | A |  | Hydrocolld drg filler paste |  |  |  |  |
A6241 | A |  | Hydrocolloid drg filler dry |  |  |  |  |
A6242 | A |  | Hydrogel drg <=16 in w/o bdr |  |  |  |  |
A6243 | A |  | Hydrogel drg >16<=48 w/o bdr |  |  |  |  |
A6244 | A |  | Hydrogel drg >48 in w/o bdr |  |  |  |  |
A6245 | A |  | Hydrogel drg <= 16 in w/bdr |  |  |  |  |
A6246 | A |  | Hydrogel drg >16<=48 in w/b |  |  |  |  |
A6247 | A |  | Hydrogel drg > 48 sq in w/b |  |  |  |  |
A6248 | A |  | Hydrogel drsg gel filler |  |  |  |  |
A6250 | A |  | Skin seal protect moisturizr |  |  |  |  |
A6251 | A |  | Absorpt drg <=16 sq in w/o b |  |  |  |  |
A6252 | A |  | Absorpt drg >16 <=48 w/o bdr |  |  |  |  |
A6253 | A |  | Absorpt drg > 48 sq in w/o b |  |  |  |  |
A6254 | A |  | Absorpt drg <=16 sq in w/bdr |  |  |  |  |
A6255 | A |  | Absorpt drg >16<=48 in w/bdr |  |  |  |  |
A6256 | A |  | Absorpt drg > 48 sq in w/bdr |  |  |  |  |
A6257 | A |  | Transparent film <= 16 sq in |  |  |  |  |
A6258 | A |  | Transparent film >16<=48 in |  |  |  |  |
A6259 | A |  | Transparent film > 48 sq in |  |  |  |  |
A6260 | A |  | Wound cleanser any type/size |  |  |  |  |
A6261 | A |  | Wound filler gel/paste /oz |  |  |  |  |
A6262 | A |  | Wound filler dry form / gram |  |  |  |  |
A6266 | A |  | Impreg gauze no h20/sal/yard |  |  |  |  |
A6402 | A |  | Sterile gauze <= 16 sq in |  |  |  |  |
A6403 | A |  | Sterile gauze>16 <= 48 sq in |  |  |  |  |
A6404 | A |  | Sterile gauze > 48 sq in |  |  |  |  |
A6407 | A |  | Packing strips, non-impreg |  |  |  |  |
A6410 | A |  | Sterile eye pad |  |  |  |  |
A6411 | A |  | Non-sterile eye pad |  |  |  |  |
A6412 | E |  | Occlusive eye patch |  |  |  |  |
A6441 | A |  | Pad band w>=3″ <5″/yd |  |  |  |  |
A6442 | A |  | Conform band n/s w<3″/yd |  |  |  |  |
A6443 | A |  | Conform band n/s w>=3″<5″/yd |  |  |  |  |
A6444 | A |  | Conform band n/s w>=5″/yd |  |  |  |  |
A6445 | A |  | Conform band s w <3″/yd |  |  |  |  |
A6446 | A |  | Conform band s w>=3″ <5″/yd |  |  |  |  |
A6447 | A |  | Conform band s w >=5″/yd |  |  |  |  |
A6448 | A |  | Lt compres band <3″/yd |  |  |  |  |
A6449 | A |  | Lt compres band >=3″ <5″/yd |  |  |  |  |
A6450 | A |  | Lt compres band >=5″/yd |  |  |  |  |
A6451 | A |  | Mod compres band w>=3″<5″/yd |  |  |  |  |
A6452 | A |  | High compres band w>=3″<5″yd |  |  |  |  |
A6453 | A |  | Self-adher band w <3″/yd |  |  |  |  |
A6454 | A |  | Self-adher band w>=3″ <5″/yd |  |  |  |  |
A6455 | A |  | Self-adher band >=5″/yd |  |  |  |  |
A6456 | A |  | Zinc paste band w >=3″<5″/yd |  |  |  |  |
A6501 | A |  | Compres burngarment bodysuit |  |  |  |  |
A6502 | A |  | Compres burngarment chinstrp |  |  |  |  |
A6503 | A |  | Compres burngarment facehood |  |  |  |  |
A6504 | A |  | Cmprsburngarment glove-wrist |  |  |  |  |
A6505 | A |  | Cmprsburngarment glove-elbow |  |  |  |  |
A6506 | A |  | Cmprsburngrmnt glove-axilla |  |  |  |  |
A6507 | A |  | Cmprs burngarment foot-knee |  |  |  |  |
A6508 | A |  | Cmprs burngarment foot-thigh |  |  |  |  |
A6509 | A |  | Compres burn garment jacket |  |  |  |  |
A6510 | A |  | Compres burn garment leotard |  |  |  |  |
A6511 | A |  | Compres burn garment panty |  |  |  |  |
A6512 | A |  | Compres burn garment, noc |  |  |  |  |
A6550 | Y |  | Neg pres wound ther drsg set |  |  |  |  |
A6551 | Y |  | Neg press wound ther canistr |  |  |  |  |
A7000 | Y |  | Disposable canister for pump |  |  |  |  |
A7001 | Y |  | Nondisposable pump canister |  |  |  |  |
A7002 | Y |  | Tubing used w suction pump |  |  |  |  |
A7003 | Y |  | Nebulizer administration set |  |  |  |  |
A7004 | Y |  | Disposable nebulizer sml vol |  |  |  |  |
A7005 | Y |  | Nondisposable nebulizer set |  |  |  |  |
A7006 | Y |  | Filtered nebulizer admin set |  |  |  |  |
A7007 | Y |  | Lg vol nebulizer disposable |  |  |  |  |
A7008 | Y |  | Disposable nebulizer prefill |  |  |  |  |
A7009 | Y |  | Nebulizer reservoir bottle |  |  |  |  |
A7010 | Y |  | Disposable corrugated tubing |  |  |  |  |
A7011 | Y |  | Nondispos corrugated tubing |  |  |  |  |
A7012 | Y |  | Nebulizer water collec devic |  |  |  |  |
A7013 | Y |  | Disposable compressor filter |  |  |  |  |
A7014 | Y |  | Compressor nondispos filter |  |  |  |  |
A7015 | Y |  | Aerosol mask used w nebulize |  |  |  |  |
A7016 | Y |  | Nebulizer dome & mouthpiece |  |  |  |  |
A7017 | Y |  | Nebulizer not used w oxygen |  |  |  |  |
A7018 | Y |  | Water distilled w/nebulizer |  |  |  |  |
A7025 | Y |  | Replace chest compress vest |  |  |  |  |
A7026 | Y |  | Replace chst cmprss sys hose |  |  |  |  |
A7030 | Y |  | CPAP full face mask |  |  |  |  |
A7031 | Y |  | Replacement facemask interfa |  |  |  |  |
A7032 | Y |  | Replacement nasal cushion |  |  |  |  |
A7033 | Y |  | Replacement nasal pillows |  |  |  |  |
A7034 | Y |  | Nasal application device |  |  |  |  |
A7035 | Y |  | Pos airway press headgear |  |  |  |  |
A7036 | Y |  | Pos airway press chinstrap |  |  |  |  |
A7037 | Y |  | Pos airway pressure tubing |  |  |  |  |
A7038 | Y |  | Pos airway pressure filter |  |  |  |  |
A7039 | Y |  | Filter, non disposable w pap |  |  |  |  |
A7040 | A |  | One way chest drain valve |  |  |  |  |
A7041 | A |  | Water seal drain container |  |  |  |  |
A7042 | A |  | Implanted pleural catheter |  |  |  |  |
A7043 | A |  | Vacuum drainagebottle/tubing |  |  |  |  |
A7044 | Y |  | PAP oral interface |  |  |  |  |
A7045 | Y |  | Repl exhalation port for PAP |  |  |  |  |
A7046 | Y |  | Repl water chamber, PAP dev |  |  |  |  |
A7501 | A |  | Tracheostoma valve w diaphra |  |  |  |  |
A7502 | A |  | Replacement diaphragm/fplate |  |  |  |  |
A7503 | A |  | HMES filter holder or cap |  |  |  |  |
A7504 | A |  | Tracheostoma HMES filter |  |  |  |  |
A7505 | A |  | HMES or trach valve housing |  |  |  |  |
A7506 | A |  | HMES/trachvalve adhesivedisk |  |  |  |  |
A7507 | A |  | Integrated filter & holder |  |  |  |  |
A7508 | A |  | Housing & Integrated Adhesiv |  |  |  |  |
A7509 | A |  | Heat & moisture exchange sys |  |  |  |  |
A7520 | A |  | Trach/laryn tube non-cuffed |  |  |  |  |
A7521 | A |  | Trach/laryn tube cuffed |  |  |  |  |
A7522 | A |  | Trach/laryn tube stainless |  |  |  |  |
A7523 | A |  | Tracheostomy shower protect |  |  |  |  |
A7524 | A |  | Tracheostoma stent/stud/bttn |  |  |  |  |
A7525 | A |  | Tracheostomy mask |  |  |  |  |
A7526 | A |  | Tracheostomy tube collar |  |  |  |  |
A7527 | A |  | Trach/laryn tube plug/stop |  |  |  |  |
A9150 | B |  | Misc/exper non-prescript dru |  |  |  |  |
A9152 | E |  | Single vitamin nos |  |  |  |  |
A9153 | E |  | Multi-vitamin nos |  |  |  |  |
A9180 | E |  | Lice treatment, topical |  |  |  |  |
A9270 | E |  | Non-covered item or service |  |  |  |  |
A9280 | E |  | Alert device, noc |  |  |  |  |
A9300 | E |  | Exercise equipment |  |  |  |  |
A9500 | H |  | Technetium TC 99m sestamibi | 1600 |  |  |  |
A9502 | H |  | Technetium TC99M tetrofosmin | 0705 |  |  |  |
A9503 | N |  | Technetium TC 99m medronate |  |  |  |  |
A9504 | N |  | Technetium tc 99m apcitide |  |  |  |  |
A9505 | H |  | Thallous chloride TL 201/mci | 1603 |  |  |  |
A9507 | H |  | Indium/111 capromab pendetid | 1604 |  |  |  |
A9508 | H |  | Iobenguane sulfate I-131, pe | 1045 |  |  |  |
A9510 | H |  | Technetium TC99m Disofenin | 9146 |  |  |  |
A9511 | H |  | Technetium TC 99m depreotide | 9147 |  |  |  |
A9512 | N |  | Technetiumtc99mpertechnetate |  |  |  |  |
A9513 | N |  | Technetium tc-99m mebrofenin |  |  |  |  |
A9514 | N |  | Technetiumtc99mpyrophosphate |  |  |  |  |
A9515 | N |  | Technetium tc-99m pentetate |  |  |  |  |
A9516 | H |  | I-123 sodium iodide capsule | 9148 |  |  |  |
A9517 | H |  | Th I131 so iodide cap millic | 1064 |  |  |  |
A9519 | N |  | Technetiumtc-99mmacroag albu |  |  |  |  |
A9520 | N |  | Technetiumtc-99m sulfur clld |  |  |  |  |
A9521 | H |  | Technetiumtc-99m exametazine | 1096 |  |  |  |
A9522 | B |  | Indium111ibritumomabtiuxetan |  |  |  |  |
A9523 | B |  | Yttrium90ibritumomabtiuxetan |  |  |  |  |
A9524 | H |  | Iodinated I-131 serumalbumin | 9100 |  |  |  |
A9525 | E |  | Low/iso-osmolar contrast mat |  |  |  |  |
A9526 | H |  | Ammonia N-13, per dose | 0737 |  |  |  |
A9528 | H |  | Dx I131 so iodide cap millic | 1088 |  |  |  |
A9529 | H |  | Dx I131 so iodide sol millic | 1065 |  |  |  |
A9530 | H |  | Th I131 so iodide sol millic | 1150 |  |  |  |
A9531 | H |  | Dx I131 so iodide microcurie | 9149 |  |  |  |
A9532 | H |  | I-125 serum albumin micro | 9150 |  |  |  |
A9533 | B |  | I-131 tositumomab diagnostic |  |  |  |  |
A9534 | B |  | I-131 tositumomab therapeut |  |  |  |  |
A9600 | H |  | Strontium-89 chloride | 0701 |  |  |  |
A9605 | H |  | Samarium sm153 lexidronamm | 0702 |  |  |  |
A9699 | N |  | Noc therapeutic radiopharm |  |  |  |  |
A9700 | B |  | Echocardiography Contrast |  |  |  |  |
A9900 | A |  | Supply/accessory/service |  |  |  |  |
A9901 | A |  | Delivery/set up/dispensing |  |  |  |  |
A9999 | Y |  | DME supply or accessory, nos |  |  |  |  |
B4034 | A |  | Enter feed supkit syr by day |  |  |  |  |
B4035 | A |  | Enteral feed supp pump per d |  |  |  |  |
B4036 | A |  | Enteral feed sup kit grav by |  |  |  |  |
B4081 | A |  | Enteral ng tubing w/ stylet |  |  |  |  |
B4082 | A |  | Enteral ng tubing w/o stylet |  |  |  |  |
B4083 | A |  | Enteral stomach tube levine |  |  |  |  |
B4086 | A |  | Gastrostomy/jejunostomy tube |  |  |  |  |
B4100 | E |  | Food thickener oral |  |  |  |  |
B4102 | Y |  | EF adult fluids and electro |  |  |  |  |
B4103 | Y |  | EF ped fluid and electrolyte |  |  |  |  |
B4104 | E |  | Additive for enteral formula |  |  |  |  |
B4149 | Y |  | EF blenderized foods |  |  |  |  |
B4150 | A |  | Enteral formulae category i |  |  |  |  |
B4152 | A |  | Enteral formulae category ii |  |  |  |  |
B4153 | A |  | Enteral formulae categoryIII |  |  |  |  |
B4154 | A |  | Enteral formulae category IV |  |  |  |  |
B4155 | A |  | Enteral formulae category v |  |  |  |  |
B4157 | Y |  | EF special metabolic inherit |  |  |  |  |
B4158 | Y |  | EF ped complete intact nut |  |  |  |  |
B4159 | Y |  | EF ped complete soy based |  |  |  |  |
B4160 | Y |  | EF ped calorie dense>/=0.7kc |  |  |  |  |
B4161 | Y |  | EF ped hydrolyzed/amino acid |  |  |  |  |
B4162 | Y |  | EF ped specmetabolic inherit |  |  |  |  |
B4164 | A |  | Parenteral 50% dextrose solu |  |  |  |  |
B4168 | A |  | Parenteral sol amino acid 3. |  |  |  |  |
B4172 | A |  | Parenteral sol amino acid 5. |  |  |  |  |
B4176 | A |  | Parenteral sol amino acid 7- |  |  |  |  |
B4178 | A |  | Parenteral sol amino acid > |  |  |  |  |
B4180 | A |  | Parenteral sol carb > 50% |  |  |  |  |
B4184 | A |  | Parenteral sol lipids 10% |  |  |  |  |
B4186 | A |  | Parenteral sol lipids 20% |  |  |  |  |
B4189 | A |  | Parenteral sol amino acid & |  |  |  |  |
B4193 | A |  | Parenteral sol 52-73 gm prot |  |  |  |  |
B4197 | A |  | Parenteral sol 74-100 gm pro |  |  |  |  |
B4199 | A |  | Parenteral sol > 100gm prote |  |  |  |  |
B4216 | A |  | Parenteral nutrition additiv |  |  |  |  |
B4220 | A |  | Parenteral supply kit premix |  |  |  |  |
B4222 | A |  | Parenteral supply kit homemi |  |  |  |  |
B4224 | A |  | Parenteral administration ki |  |  |  |  |
B5000 | A |  | Parenteral sol renal-amirosy |  |  |  |  |
B5100 | A |  | Parenteral sol hepatic-fream |  |  |  |  |
B5200 | A |  | Parenteral sol stres-brnch c |  |  |  |  |
B9000 | A |  | Enter infusion pump w/o alrm |  |  |  |  |
B9002 | A |  | Enteral infusion pump w/ ala |  |  |  |  |
B9004 | A |  | Parenteral infus pump portab |  |  |  |  |
B9006 | A |  | Parenteral infus pump statio |  |  |  |  |
B9998 | A |  | Enteral supp not otherwise c |  |  |  |  |
B9999 | A |  | Parenteral supp not othrws c |  |  |  |  |
C1079 | N |  | CO 57/58 per 0.5 uCi |  |  |  |  |
C1080 | H |  | I-131 tositumomab, dx | 1080 |  |  |  |
C1081 | H |  | I-131 tositumomab, tx | 1081 |  |  |  |
C1082 | H |  | In-111 ibritumomab tiuxetan | 9118 |  |  |  |
C1083 | H |  | Yttrium 90 ibritumomab tiuxe | 9117 |  |  |  |
C1091 | H |  | IN111 oxyquinoline,per0.5mCi | 1091 |  |  |  |
C1092 | H |  | IN 111 pentetate per 0.5 mCi | 1092 |  |  |  |
C1093 | H |  | TC99M fanolesomab | 1093 |  |  |  |
C1122 | H |  | Tc 99M ARCITUMOMAB PER VIAL | 9151 |  |  |  |
C1178 | K |  | BUSULFAN IV, 6 Mg | 1178 | 0.2851 | $16.92 |  | $3.38
C1200 | N |  | TC 99M Sodium Glucoheptonat |  |  |  |  |
C1201 | H |  | TC 99M SUCCIMER, PER Vial | 1201 |  |  |  |
C1300 | S |  | HYPERBARIC Oxygen | 0659 | 1.5403 | $91.42 |  | $18.28
C1305 | K |  | Apligraf, 44cm2 | 1305 | 12.9206 | $766.84 |  | $153.37
C1713 | N |  | Anchor/screw bn/bn,tis/bn |  |  |  |  |
C1714 | N |  | Cath, trans atherectomy, dir |  |  |  |  |
C1715 | N |  | Brachytherapy needle |  |  |  |  |
C1716 | H |  | Brachytx source, Gold 198 | 1716 |  |  |  |
C1717 | H |  | Brachytx source, HDR Ir-192 | 1717 |  |  |  |
C1718 | H |  | Brachytx source, Iodine 125 | 1718 |  |  |  |
C1719 | H |  | Brachytx sour,Non-HDR Ir-192 | 1719 |  |  |  |
C1720 | H |  | Brachytx sour, Palladium 103 | 1720 |  |  |  |
C1721 | N |  | AICD, dual chamber |  |  |  |  |
C1722 | N |  | AICD, single chamber |  |  |  |  |
C1724 | N |  | Cath, trans atherec,rotation |  |  |  |  |
C1725 | N |  | Cath, translumin non-laser |  |  |  |  |
C1726 | N |  | Cath, bal dil, non-vascular |  |  |  |  |
C1727 | N |  | Cath, bal tis dis, non-vas |  |  |  |  |
C1728 | N |  | Cath, brachytx seed adm |  |  |  |  |
C1729 | N |  | Cath, drainage |  |  |  |  |
C1730 | N |  | Cath, EP, 19 or few elect |  |  |  |  |
C1731 | N |  | Cath, EP, 20 or more elec |  |  |  |  |
C1732 | N |  | Cath, EP, diag/abl, 3D/vect |  |  |  |  |
C1733 | N |  | Cath, EP, othr than cool-tip |  |  |  |  |
C1750 | N |  | Cath, hemodialysis,long-term |  |  |  |  |
C1751 | N |  | Cath, inf, per/cent/midline |  |  |  |  |
C1752 | N |  | Cath,hemodialysis,short-term |  |  |  |  |
C1753 | N |  | Cath, intravas ultrasound |  |  |  |  |
C1754 | N |  | Catheter, intradiscal |  |  |  |  |
C1755 | N |  | Catheter, intraspinal |  |  |  |  |
C1756 | N |  | Cath, pacing, transesoph |  |  |  |  |
C1757 | N |  | Cath, thrombectomy/embolect |  |  |  |  |
C1758 | N |  | Catheter, ureteral |  |  |  |  |
C1759 | N |  | Cath, intra echocardiography |  |  |  |  |
C1760 | N |  | Closure dev, vasc |  |  |  |  |
C1762 | N |  | Conn tiss, human(inc fascia) |  |  |  |  |
C1763 | N |  | Conn tiss, non-human |  |  |  |  |
C1764 | N |  | Event recorder, cardiac |  |  |  |  |
C1765 | N |  | Adhesion barrier |  |  |  |  |
C1766 | N |  | Intro/sheath,strble,non-peel |  |  |  |  |
C1767 | N |  | Generator, neurostim, imp |  |  |  |  |
C1768 | N |  | Graft, vascular |  |  |  |  |
C1769 | N |  | Guide wire |  |  |  |  |
C1770 | N |  | Imaging coil, MR, insertable |  |  |  |  |
C1771 | N |  | Rep dev, urinary, w/sling |  |  |  |  |
C1772 | N |  | Infusion pump, programmable |  |  |  |  |
C1773 | N |  | Ret dev, insertable |  |  |  |  |
C1775 | H |  | FDG, per dose (4-40 mCi/ml) | 1775 |  |  |  |
C1776 | N |  | Joint device (implantable) |  |  |  |  |
C1777 | N |  | Lead, AICD, endo single coil |  |  |  |  |
C1778 | N |  | Lead, neurostimulator |  |  |  |  |
C1779 | N |  | Lead, pmkr, transvenous VDD |  |  |  |  |
C1780 | N |  | Lens, intraocular (new tech) |  |  |  |  |
C1781 | N |  | Mesh (implantable) |  |  |  |  |
C1782 | N |  | Morcellator |  |  |  |  |
C1783 | N |  | Ocular imp, aqueous drain de |  |  |  |  |
C1784 | N |  | Ocular dev, intraop, det ret |  |  |  |  |
C1785 | N |  | Pmkr, dual, rate-resp |  |  |  |  |
C1786 | N |  | Pmkr, single, rate-resp |  |  |  |  |
C1787 | N |  | Patient progr, neurostim |  |  |  |  |
C1788 | N |  | Port, indwelling, imp |  |  |  |  |
C1789 | N |  | Prosthesis, breast, imp |  |  |  |  |
C1813 | N |  | Prosthesis, penile, inflatab |  |  |  |  |
C1814 | N |  | Retinal tamp, silicone oil |  |  |  |  |
C1815 | N |  | Pros, urinary sph, imp |  |  |  |  |
C1816 | N |  | Receiver/transmitter, neuro |  |  |  |  |
C1817 | N |  | Septal defect imp sys |  |  |  |  |
C1818 | N |  | Integrated keratoprosthesis |  |  |  |  |
C1819 | N |  | Tissue local excision |  |  |  |  |
C1874 | N |  | Stent, coated/cov w/del sys |  |  |  |  |
C1875 | N |  | Stent, coated/cov w/o del sy |  |  |  |  |
C1876 | N |  | Stent, non-coa/non-cov w/del |  |  |  |  |
C1877 | N |  | Stent, non-coat/cov w/o del |  |  |  |  |
C1878 | N |  | Matrl for vocal cord |  |  |  |  |
C1879 | N |  | Tissue marker, implantable |  |  |  |  |
C1880 | N |  | Vena cava filter |  |  |  |  |
C1881 | N |  | Dialysis access system |  |  |  |  |
C1882 | N |  | AICD, other than sing/dual |  |  |  |  |
C1883 | N |  | Adapt/ext, pacing/neuro lead |  |  |  |  |
C1884 | N |  | Embolization Protect syst |  |  |  |  |
C1885 | N |  | Cath, translumin angio laser |  |  |  |  |
C1887 | N |  | Catheter, guiding |  |  |  |  |
C1888 | N |  | Endovas non-cardiac abl cath |  |  |  |  |
C1891 | N |  | Infusion pump,non-prog, perm |  |  |  |  |
C1892 | N |  | Intro/sheath,fixed,peel-away |  |  |  |  |
C1893 | N |  | Intro/sheath, fixed,non-peel |  |  |  |  |
C1894 | N |  | Intro/sheath, non-laser |  |  |  |  |
C1895 | N |  | Lead, AICD, endo dual coil |  |  |  |  |
C1896 | N |  | Lead, AICD, non sing/dual |  |  |  |  |
C1897 | N |  | Lead, neurostim test kit |  |  |  |  |
C1898 | N |  | Lead, pmkr, other than trans |  |  |  |  |
C1899 | N |  | Lead, pmkr/AICD combination |  |  |  |  |
C1900 | N |  | Lead coronary venous |  |  |  |  |
C2614 | N |  | Probe, perc lumb disc |  |  |  |  |
C2615 | N |  | Sealant, pulmonary, liquid |  |  |  |  |
C2616 | H |  | Brachytx source, Yttrium-90 | 2616 |  |  |  |
C2617 | N |  | Stent, non-cor, tem w/o del |  |  |  |  |
C2618 | N |  | Probe, cryoablation |  |  |  |  |
C2619 | N |  | Pmkr, dual, non rate-resp |  |  |  |  |
C2620 | N |  | Pmkr, single, non rate-resp |  |  |  |  |
C2621 | N |  | Pmkr, other than sing/dual |  |  |  |  |
C2622 | N |  | Prosthesis, penile, non-inf |  |  |  |  |
C2625 | N |  | Stent, non-cor, tem w/del sy |  |  |  |  |
C2626 | N |  | Infusion pump, non-prog,temp |  |  |  |  |
C2627 | N |  | Cath, suprapubic/cystoscopic |  |  |  |  |
C2628 | N |  | Catheter, occlusion |  |  |  |  |
C2629 | N |  | Intro/sheath, laser |  |  |  |  |
C2630 | N |  | Cath, EP, cool-tip |  |  |  |  |
C2631 | N |  | Rep dev, urinary, w/o sling |  |  |  |  |
C2632 | H |  | Brachytx sol, I-125, per mCi | 2632 |  |  |  |
C2633 | H |  | Brachytx source, Cesium-131 | 2633 |  |  |  |
C2634 | H |  | Brachytx source, HA, I-125 | 2634 |  |  |  |
C2635 | H |  | Brachytx source, HA, P-103 | 2635 |  |  |  |
C2636 | H |  | Brachytx linear source, P-10 | 2636 |  |  |  |
C8900* | S |  | MRA w/cont, abd | 0284 | 6.3910 | $379.31 | $151.72 | $75.86
C8901* | S |  | MRA w/o cont, abd | 0336 | 6.0467 | $358.87 | $143.54 | $71.77
C8902* | S |  | MRA w/o fol w/cont, abd | 0337 | 8.7547 | $519.59 | $207.83 | $103.92
C8903* | S |  | MRI w/cont, breast, uni | 0284 | 6.3910 | $379.31 | $151.72 | $75.86
C8904* | S |  | MRI w/o cont, breast, uni | 0336 | 6.0467 | $358.87 | $143.54 | $71.77
C8905* | S |  | MRI w/o fol w/cont, brst, un | 0337 | 8.7547 | $519.59 | $207.83 | $103.92
C8906* | S |  | MRI w/cont, breast, bi | 0284 | 6.3910 | $379.31 | $151.72 | $75.86
C8907* | S |  | MRI w/o cont, breast, bi | 0336 | 6.0467 | $358.87 | $143.54 | $71.77
C8908* | S |  | MRI w/o fol w/cont, breast, | 0337 | 8.7547 | $519.59 | $207.83 | $103.92
C8909* | S |  | MRA w/cont, chest | 0284 | 6.3910 | $379.31 | $151.72 | $75.86
C8910* | S |  | MRA w/o cont, chest | 0336 | 6.0467 | $358.87 | $143.54 | $71.77
C8911* | S |  | MRA w/o fol w/cont, chest | 0337 | 8.7547 | $519.59 | $207.83 | $103.92
C8912* | S |  | MRA w/cont, lwr ext | 0284 | 6.3910 | $379.31 | $151.72 | $75.86
C8913* | S |  | MRA w/o cont, lwr ext | 0336 | 6.0467 | $358.87 | $143.54 | $71.77
C8914* | S |  | MRA w/o fol w/cont, lwr ext | 0337 | 8.7547 | $519.59 | $207.83 | $103.92
C8918* | S |  | MRA w/cont, pelvis | 0284 | 6.3910 | $379.31 | $151.72 | $75.86
C8919* | S |  | MRA w/o cont, pelvis | 0336 | 6.0467 | $358.87 | $143.54 | $71.77
C8920* | S |  | MRA w/o fol w/cont, pelvis | 0337 | 8.7547 | $519.59 | $207.83 | $103.92
C9000 | H |  | Na chromateCr51, per 0.25mCi | 9130 |  |  |  |
C9003 | K |  | Palivizumab, per 50 mg | 9003 | 4.1486 | $246.22 |  | $49.24
C9007 | K |  | Baclofen Intrathecal kit-1am | 9152 | 0.8561 | $50.81 |  | $10.16
C9008 | K |  | Baclofen Refill Kit-500mcg | 9008 | 0.2447 | $14.52 |  | $2.90
C9009 | K |  | Baclofen Refill Kit-2000mcg | 9009 | 0.7208 | $42.78 |  | $8.56
C9013 | N |  | Co 57 cobaltous chloride |  |  |  |  |
C9102 | H |  | 51 Na Chromate, 50mCi | 9132 |  |  |  |
C9103 | H |  | Na Iothalamate I-125, 10 uCi | 9153 |  |  |  |
C9105 | K |  | Hep B imm glob, per 1 ml | 9105 | 1.8810 | $111.64 |  | $22.33
C9112 | D |  | Perflutren lipid micro, 2ml |  |  |  |  |
C9113 | N |  | Inj pantoprazole sodium, via |  |  |  |  |
C9121 | K |  | Injection, argatroban | 9121 | 0.1897 | $11.26 |  | $2.25
C9123 | K |  | Transcyte, 247cm2 | 9123 |  | $719.36 |  | $143.87
C9127 | K |  | Paclitaxel protein pr | 9127 |  | $8.59 |  | $1.72
C9128 | K |  | Inj pegaptanib sodium | 9128 |  | $1,074.18 |  | $214.84
C9200 | K |  | Orcel, 36 cm2 | 9200 | 2.6890 | $159.59 |  | $31.92
C9201 | K |  | Dermagraft, 37.5cm2 | 9201 | 6.2059 | $368.32 |  | $73.66
C9202 | D |  | Octafluoropropane |  |  |  |  |
C9203 | D |  | Perflexane lipid micro |  |  |  |  |
C9205 | K |  | Oxaliplatin | 9205 |  | $84.05 |  | $16.81
C9206 | K |  | Integra, per cm2 | 9206 |  | $9.23 |  | $1.85
C9211 | K |  | Inj, alefacept, IV | 9211 |  | $570.97 |  | $114.19
C9212 | K |  | Inj, alefacept, IM | 9212 |  | $401.97 |  | $80.39
C9218 | K |  | Injection, Azacitidine | 9218 |  | $4.03 |  | $.81
C9220 | G |  | Sodium hyaluronate | 9220 |  | $203.82 |  | $40.76
C9221 | G |  | Graftjacket Reg Matrix | 9221 |  | $1,234.26 |  | $246.85
C9222 | G |  | Graftjacket SftTis | 9222 |  | $890.67 |  | $178.13
C9223 | D |  | Inj adenosine, tx dx |  |  |  |  |
C9399 | A |  | Unclass drugs/biologicals |  |  |  |  |
C9400 | D |  | Thallous chloride, brand |  |  |  |  |
C9401 | D |  | Strontium-89 chloride, brand |  |  |  |  |
C9402 | D |  | Th I131 so iodide cap, brand |  |  |  |  |
C9403 | D |  | Dx I131 so iodide cap, brand |  |  |  |  |
C9404 | D |  | Dx I131 so iodide sol, brand |  |  |  |  |
C9405 | D |  | Th I131 so iodide sol, brand |  |  |  |  |
C9410 | D |  | Dexrazoxane HCl inj, brand |  |  |  |  |
C9411 | D |  | Pamidronate disodium, brand |  |  |  |  |
C9413 | D |  | Na hyaluronate bran |  |  |  |  |
C9414 | D |  | Etoposide oral, brand |  |  |  |  |
C9415 | D |  | Doxorubic hcl chemo, brand |  |  |  |  |
C9417 | D |  | Bleomycin sulfate inj, brand |  |  |  |  |
C9418 | D |  | Cisplatin inj, brand |  |  |  |  |
C9419 | D |  | Inj cladribine, brand |  |  |  |  |
C9420 | D |  | Cyclophosphamide inj, brand |  |  |  |  |
C9421 | D |  | Cyclophosphamide lyo, brand |  |  |  |  |
C9422 | D |  | Cytarabine hcl inj, brand |  |  |  |  |
C9423 | D |  | Dacarbazine inj, brand |  |  |  |  |
C9424 | D |  | Daunorubicin, brand |  |  |  |  |
C9425 | D |  | Etoposide inj, brand |  |  |  |  |
C9426 | D |  | Floxuridine inj, brand |  |  |  |  |
C9427 | D |  | Ifosfomide inj, brand |  |  |  |  |
C9428 | D |  | Mesna injection, brand |  |  |  |  |
C9429 | D |  | Idarubicin hcl inj, brand |  |  |  |  |
C9430 | D |  | Leuprolide acetate bran |  |  |  |  |
C9431 | D |  | Paclitaxel inj, brand |  |  |  |  |
C9432 | D |  | Mitomycin inj, brand |  |  |  |  |
C9433 | D |  | Thiotepa inj, brand |  |  |  |  |
C9435 | D |  | Gonadorelin hydroch, brand |  |  |  |  |
C9436 | D |  | Azathioprine parenteral,brnd |  |  |  |  |
C9437 | D |  | Carmus bischl nitro inj |  |  |  |  |
C9438 | D |  | Cyclosporine oral, brand |  |  |  |  |
C9439 | D |  | Diethylstilbestrol injection |  |  |  |  |
C9440 | D |  | Vinorelbine tar,brand |  |  |  |  |
C9704 | T |  | Inj inert subs upper GI | 1556 |  | $1,750.00 |  | $350.00
C9713 | T |  | Non-contact laser vap prosta | 0429 | 42.1231 | $2,500.01 |  | $500.00
C9716 | S |  | RF Energy to Anus | 1519 |  | $1,750.00 |  | $350.00
C9718 | T |  | Kyphoplasty, first vertebra | 0051 | 36.3617 | $2,158.07 |  | $431.61
C9719 | T |  | Kyphoplasty, each addl | 0051 | 36.3617 | $2,158.07 |  | $431.61
C9720 | T |  | HE ESW tx, tennis elbow | 1547 |  | $850.00 |  | $170.00
C9721 | T |  | HE ESW tx, plantar fasciitis | 1547 |  | $850.00 |  | $170.00
C9722 | S |  | KV imaging w/IR tracking | 1502 |  | $75.00 |  | $15.00
C9723 | S |  | Dyn IR Perf Img | 1502 |  | $75.00 |  | $15.00
C9724 | T |  | EPS gast cardia plic | 0422 | 22.8607 | $1,356.78 | $448.81 | $271.36
D0120 | E |  | Periodic oral evaluation |  |  |  |  |
D0140 | E |  | Limit oral eval problm focus |  |  |  |  |
D0150 | S |  | Comprehensve oral evaluation | 0330 | 7.1431 | $423.94 |  | $84.79
D0160 | E |  | Extensv oral eval prob focus |  |  |  |  |
D0170 | E |  | Re-eval,est pt,problem focus |  |  |  |  |
D0180 | E |  | Comp periodontal evaluation |  |  |  |  |
D0210 | E |  | Intraor complete film series |  |  |  |  |
D0220 | E |  | Intraoral periapical first f |  |  |  |  |
D0230 | E |  | Intraoral periapical ea add |  |  |  |  |
D0240 | S |  | Intraoral occlusal film | 0330 | 7.1431 | $423.94 |  | $84.79
D0250 | S |  | Extraoral first film | 0330 | 7.1431 | $423.94 |  | $84.79
D0260 | S |  | Extraoral ea additional film | 0330 | 7.1431 | $423.94 |  | $84.79
D0270 | S |  | Dental bitewing single film | 0330 | 7.1431 | $423.94 |  | $84.79
D0272 | S |  | Dental bitewings two films | 0330 | 7.1431 | $423.94 |  | $84.79
D0274 | S |  | Dental bitewings four films | 0330 | 7.1431 | $423.94 |  | $84.79
D0277 | S |  | Vert bitewings-sev to eight | 0330 | 7.1431 | $423.94 |  | $84.79
D0290 | E |  | Dental film skull/facial bon |  |  |  |  |
D0310 | E |  | Dental saliography |  |  |  |  |
D0320 | E |  | Dental tmj arthrogram incl i |  |  |  |  |
D0321 | E |  | Dental other tmj films |  |  |  |  |
D0322 | E |  | Dental tomographic survey |  |  |  |  |
D0330 | E |  | Dental panoramic film |  |  |  |  |
D0340 | E |  | Dental cephalometric film |  |  |  |  |
D0350 | E |  | Oral/facial images |  |  |  |  |
D0415 | E |  | Bacteriologic study |  |  |  |  |
D0416 | B |  | Viral culture |  |  |  |  |
D0421 | B |  | Gen tst suscept oral disease |  |  |  |  |
D0425 | E |  | Caries susceptibility test |  |  |  |  |
D0431 | B |  | Diag tst detect mucos abnorm |  |  |  |  |
D0460 | S |  | Pulp vitality test | 0330 | 7.1431 | $423.94 |  | $84.79
D0470 | E |  | Diagnostic casts |  |  |  |  |
D0472 | B |  | Gross exam, prep & report |  |  |  |  |
D0473 | B |  | Micro exam, prep & report |  |  |  |  |
D0474 | B |  | Micro w exam of surg margins |  |  |  |  |
D0475 | B |  | Decalcification procedure |  |  |  |  |
D0476 | B |  | Spec stains for microorganis |  |  |  |  |
D0477 | B |  | Spec stains not for microorg |  |  |  |  |
D0478 | B |  | Immunohistochemical stains |  |  |  |  |
D0479 | B |  | Tissue in-situ hybridization |  |  |  |  |
D0480 | B |  | Cytopath smear prep & report |  |  |  |  |
D0481 | B |  | Electron microscopy diagnost |  |  |  |  |
D0482 | B |  | Direct immunofluorescence |  |  |  |  |
D0483 | B |  | Indirect immunofluorescence |  |  |  |  |
D0484 | B |  | Consult slides prep elsewher |  |  |  |  |
D0485 | B |  | Consult inc prep of slides |  |  |  |  |
D0502 | B |  | Other oral pathology procedu |  |  |  |  |
D0999 | B |  | Unspecified diagnostic proce |  |  |  |  |
D1110 | E |  | Dental prophylaxis adult |  |  |  |  |
D1120 | E |  | Dental prophylaxis child |  |  |  |  |
D1201 | E |  | Topical fluor w prophy child |  |  |  |  |
D1203 | E |  | Topical fluor w/o prophy chi |  |  |  |  |
D1204 | E |  | Topical fluor w/o prophy adu |  |  |  |  |
D1205 | E |  | Topical fluoride w/ prophy a |  |  |  |  |
D1310 | E |  | Nutri counsel-control caries |  |  |  |  |
D1320 | E |  | Tobacco counseling |  |  |  |  |
D1330 | E |  | Oral hygiene instruction |  |  |  |  |
D1351 | E |  | Dental sealant per tooth |  |  |  |  |
D1510 | S |  | Space maintainer fxd unilat | 0330 | 7.1431 | $423.94 |  | $84.79
D1515 | S |  | Fixed bilat space maintainer | 0330 | 7.1431 | $423.94 |  | $84.79
D1520 | S |  | Remove unilat space maintain | 0330 | 7.1431 | $423.94 |  | $84.79
D1525 | S |  | Remove bilat space maintain | 0330 | 7.1431 | $423.94 |  | $84.79
D1550 | S |  | Recement space maintainer | 0330 | 7.1431 | $423.94 |  | $84.79
D2140 | E |  | Amalgam one surface permanen |  |  |  |  |
D2150 | E |  | Amalgam two surfaces permane |  |  |  |  |
D2160 | E |  | Amalgam three surfaces perma |  |  |  |  |
D2161 | E |  | Amalgam 4 or > surfaces perm |  |  |  |  |
D2330 | E |  | Resin one surface-anterior |  |  |  |  |
D2331 | E |  | Resin two surfaces-anterior |  |  |  |  |
D2332 | E |  | Resin three surfaces-anterio |  |  |  |  |
D2335 | E |  | Resin 4/> surf or w incis an |  |  |  |  |
D2390 | E |  | Ant resin-based cmpst crown |  |  |  |  |
D2391 | E |  | Post 1 srfc resinbased cmpst |  |  |  |  |
D2392 | E |  | Post 2 srfc resinbased cmpst |  |  |  |  |
D2393 | E |  | Post 3 srfc resinbased cmpst |  |  |  |  |
D2394 | E |  | Post >=4srfc resinbase cmpst |  |  |  |  |
D2410 | E |  | Dental gold foil one surface |  |  |  |  |
D2420 | E |  | Dental gold foil two surface |  |  |  |  |
D2430 | E |  | Dental gold foil three surfa |  |  |  |  |
D2510 | E |  | Dental inlay metalic 1 surf |  |  |  |  |
D2520 | E |  | Dental inlay metallic 2 surf |  |  |  |  |
D2530 | E |  | Dental inlay metl 3/more sur |  |  |  |  |
D2542 | E |  | Dental onlay metallic 2 surf |  |  |  |  |
D2543 | E |  | Dental onlay metallic 3 surf |  |  |  |  |
D2544 | E |  | Dental onlay metl 4/more sur |  |  |  |  |
D2610 | E |  | Inlay porcelain/ceramic 1 su |  |  |  |  |
D2620 | E |  | Inlay porcelain/ceramic 2 su |  |  |  |  |
D2630 | E |  | Dental onlay porc 3/more sur |  |  |  |  |
D2642 | E |  | Dental onlay porcelin 2 surf |  |  |  |  |
D2643 | E |  | Dental onlay porcelin 3 surf |  |  |  |  |
D2644 | E |  | Dental onlay porc 4/more sur |  |  |  |  |
D2650 | E |  | Inlay composite/resin one su |  |  |  |  |
D2651 | E |  | Inlay composite/resin two su |  |  |  |  |
D2652 | E |  | Dental inlay resin 3/mre sur |  |  |  |  |
D2662 | E |  | Dental onlay resin 2 surface |  |  |  |  |
D2663 | E |  | Dental onlay resin 3 surface |  |  |  |  |
D2664 | E |  | Dental onlay resin 4/mre sur |  |  |  |  |
D2710 | E |  | Crown resin laboratory |  |  |  |  |
D2712 | E |  | Crown 3/4 resin-based compos |  |  |  |  |
D2720 | E |  | Crown resin w/ high noble me |  |  |  |  |
D2721 | E |  | Crown resin w/ base metal |  |  |  |  |
D2722 | E |  | Crown resin w/ noble metal |  |  |  |  |
D2740 | E |  | Crown porcelain/ceramic subs |  |  |  |  |
D2750 | E |  | Crown porcelain w/ h noble m |  |  |  |  |
D2751 | E |  | Crown porcelain fused base m |  |  |  |  |
D2752 | E |  | Crown porcelain w/ noble met |  |  |  |  |
D2780 | E |  | Crown 3/4 cast hi noble met |  |  |  |  |
D2781 | E |  | Crown 3/4 cast base metal |  |  |  |  |
D2782 | E |  | Crown 3/4 cast noble metal |  |  |  |  |
D2783 | E |  | Crown 3/4 porcelain/ceramic |  |  |  |  |
D2790 | E |  | Crown full cast high noble m |  |  |  |  |
D2791 | E |  | Crown full cast base metal |  |  |  |  |
D2792 | E |  | Crown full cast noble metal |  |  |  |  |
D2794 | E |  | Crown-titanium |  |  |  |  |
D2799 | E |  | Provisional crown |  |  |  |  |
D2910 | E |  | Dental recement inlay |  |  |  |  |
D2915 | E |  | Recement cast or prefab post |  |  |  |  |
D2920 | E |  | Dental recement crown |  |  |  |  |
D2930 | E |  | Prefab stnlss steel crwn pri |  |  |  |  |
D2931 | E |  | Prefab stnlss steel crown pe |  |  |  |  |
D2932 | E |  | Prefabricated resin crown |  |  |  |  |
D2933 | E |  | Prefab stainless steel crown |  |  |  |  |
D2934 | E |  | Prefab steel crown primary |  |  |  |  |
D2940 | E |  | Dental sedative filling |  |  |  |  |
D2950 | E |  | Core build-up incl any pins |  |  |  |  |
D2951 | E |  | Tooth pin retention |  |  |  |  |
D2952 | E |  | Post and core cast + crown |  |  |  |  |
D2953 | E |  | Each addtnl cast post |  |  |  |  |
D2954 | E |  | Prefab post/core + crown |  |  |  |  |
D2955 | E |  | Post removal |  |  |  |  |
D2957 | E |  | Each addtnl prefab post |  |  |  |  |
D2960 | E |  | Laminate labial veneer |  |  |  |  |
D2961 | E |  | Lab labial veneer resin |  |  |  |  |
D2962 | E |  | Lab labial veneer porcelain |  |  |  |  |
D2971 | E |  | Add proc construct new crown |  |  |  |  |
D2975 | E |  | Coping |  |  |  |  |
D2980 | E |  | Crown repair |  |  |  |  |
D2999 | S |  | Dental unspec restorative pr | 0330 | 7.1431 | $423.94 |  | $84.79
D3110 | E |  | Pulp cap direct |  |  |  |  |
D3120 | E |  | Pulp cap indirect |  |  |  |  |
D3220 | E |  | Therapeutic pulpotomy |  |  |  |  |
D3221 | E |  | Gross pulpal debridement |  |  |  |  |
D3230 | E |  | Pulpal therapy anterior prim |  |  |  |  |
D3240 | E |  | Pulpal therapy posterior pri |  |  |  |  |
D3310 | E |  | Anterior |  |  |  |  |
D3320 | E |  | Root canal therapy 2 canals |  |  |  |  |
D3330 | E |  | Root canal therapy 3 canals |  |  |  |  |
D3331 | E |  | Non-surg tx root canal obs |  |  |  |  |
D3332 | E |  | Incomplete endodontic tx |  |  |  |  |
D3333 | E |  | Internal root repair |  |  |  |  |
D3346 | E |  | Retreat root canal anterior |  |  |  |  |
D3347 | E |  | Retreat root canal bicuspid |  |  |  |  |
D3348 | E |  | Retreat root canal molar |  |  |  |  |
D3351 | E |  | Apexification/recalc initial |  |  |  |  |
D3352 | E |  | Apexification/recalc interim |  |  |  |  |
D3353 | E |  | Apexification/recalc final |  |  |  |  |
D3410 | E |  | Apicoect/perirad surg anter |  |  |  |  |
D3421 | E |  | Root surgery bicuspid |  |  |  |  |
D3425 | E |  | Root surgery molar |  |  |  |  |
D3426 | E |  | Root surgery ea add root |  |  |  |  |
D3430 | E |  | Retrograde filling |  |  |  |  |
D3450 | E |  | Root amputation |  |  |  |  |
D3460 | S |  | Endodontic endosseous implan | 0330 | 7.1431 | $423.94 |  | $84.79
D3470 | E |  | Intentional replantation |  |  |  |  |
D3910 | E |  | Isolation- tooth w rubb dam |  |  |  |  |
D3920 | E |  | Tooth splitting |  |  |  |  |
D3950 | E |  | Canal prep/fitting of dowel |  |  |  |  |
D3999 | S |  | Endodontic procedure | 0330 | 7.1431 | $423.94 |  | $84.79
D4210 | E |  | Gingivectomy/plasty per quad |  |  |  |  |
D4211 | E |  | Gingivectomy/plasty per toot |  |  |  |  |
D4240 | E |  | Gingival flap proc w/ planin |  |  |  |  |
D4241 | E |  | Gngvl flap w rootplan 1-3 th |  |  |  |  |
D4245 | E |  | Apically positioned flap |  |  |  |  |
D4249 | E |  | Crown lengthen hard tissue |  |  |  |  |
D4260 | S |  | Osseous surgery per quadrant | 0330 | 7.1431 | $423.94 |  | $84.79
D4261 | E |  | Osseous surgl-3teethperquad |  |  |  |  |
D4263 | S |  | Bone replce graft first site | 0330 | 7.1431 | $423.94 |  | $84.79
D4264 | S |  | Bone replce graft each add | 0330 | 7.1431 | $423.94 |  | $84.79
D4265 | E |  | Bio mtrls to aid soft/os reg |  |  |  |  |
D4266 | E |  | Guided tiss regen resorble |  |  |  |  |
D4267 | E |  | Guided tiss regen nonresorb |  |  |  |  |
D4268 | S |  | Surgical revision procedure | 0330 | 7.1431 | $423.94 |  | $84.79
D4270 | S |  | Pedicle soft tissue graft pr | 0330 | 7.1431 | $423.94 |  | $84.79
D4271 | S |  | Free soft tissue graft proc | 0330 | 7.1431 | $423.94 |  | $84.79
D4273 | S |  | Subepithelial tissue graft | 0330 | 7.1431 | $423.94 |  | $84.79
D4274 | E |  | Distal/proximal wedge proc |  |  |  |  |
D4275 | E |  | Soft tissue allograft |  |  |  |  |
D4276 | E |  | Con tissue w dble ped graft |  |  |  |  |
D4320 | E |  | Provision splnt intracoronal |  |  |  |  |
D4321 | E |  | Provisional splint extracoro |  |  |  |  |
D4341 | E |  | Periodontal scaling & root |  |  |  |  |
D4342 | E |  | Periodontal scaling 1-3teeth |  |  |  |  |
D4355 | S |  | Full mouth debridement | 0330 | 7.1431 | $423.94 |  | $84.79
D4381 | S |  | Localized chemo delivery | 0330 | 7.1431 | $423.94 |  | $84.79
D4910 | E |  | Periodontal maint procedures |  |  |  |  |
D4920 | E |  | Unscheduled dressing change |  |  |  |  |
D4999 | E |  | Unspecified periodontal proc |  |  |  |  |
D5110 | E |  | Dentures complete maxillary |  |  |  |  |
D5120 | E |  | Dentures complete mandible |  |  |  |  |
D5130 | E |  | Dentures immediat maxillary |  |  |  |  |
D5140 | E |  | Dentures immediat mandible |  |  |  |  |
D5211 | E |  | Dentures maxill part resin |  |  |  |  |
D5212 | E |  | Dentures mand part resin |  |  |  |  |
D5213 | E |  | Dentures maxill part metal |  |  |  |  |
D5214 | E |  | Dentures mandibl part metal |  |  |  |  |
D5225 | E |  | Maxillary part denture flex |  |  |  |  |
D5226 | E |  | Mandibular part denture flex |  |  |  |  |
D5281 | E |  | Removable partial denture |  |  |  |  |
D5410 | E |  | Dentures adjust cmplt maxil |  |  |  |  |
D5411 | E |  | Dentures adjust cmplt mand |  |  |  |  |
D5421 | E |  | Dentures adjust part maxill |  |  |  |  |
D5422 | E |  | Dentures adjust part mandbl |  |  |  |  |
D5510 | E |  | Dentur repr broken compl bas |  |  |  |  |
D5520 | E |  | Replace denture teeth complt |  |  |  |  |
D5610 | E |  | Dentures repair resin base |  |  |  |  |
D5620 | E |  | Rep part denture cast frame |  |  |  |  |
D5630 | E |  | Rep partial denture clasp |  |  |  |  |
D5640 | E |  | Replace part denture teeth |  |  |  |  |
D5650 | E |  | Add tooth to partial denture |  |  |  |  |
D5660 | E |  | Add clasp to partial denture |  |  |  |  |
D5670 | E |  | Replc tth&acrlc on mtl frmwk |  |  |  |  |
D5671 | E |  | Replc tth&acrlc mandibular |  |  |  |  |
D5710 | E |  | Dentures rebase cmplt maxil |  |  |  |  |
D5711 | E |  | Dentures rebase cmplt mand |  |  |  |  |
D5720 | E |  | Dentures rebase part maxill |  |  |  |  |
D5721 | E |  | Dentures rebase part mandbl |  |  |  |  |
D5730 | E |  | Denture reln cmplt maxil ch |  |  |  |  |
D5731 | E |  | Denture reln cmplt mand chr |  |  |  |  |
D5740 | E |  | Denture reln part maxil chr |  |  |  |  |
D5741 | E |  | Denture reln part mand chr |  |  |  |  |
D5750 | E |  | Denture reln cmplt max lab |  |  |  |  |
D5751 | E |  | Denture reln cmplt mand lab |  |  |  |  |
D5760 | E |  | Denture reln part maxil lab |  |  |  |  |
D5761 | E |  | Denture reln part mand lab |  |  |  |  |
D5810 | E |  | Denture interm cmplt maxill |  |  |  |  |
D5811 | E |  | Denture interm cmplt mandbl |  |  |  |  |
D5820 | E |  | Denture interm part maxill |  |  |  |  |
D5821 | E |  | Denture interm part mandbl |  |  |  |  |
D5850 | E |  | Denture tiss conditn maxill |  |  |  |  |
D5851 | E |  | Denture tiss condtin mandbl |  |  |  |  |
D5860 | E |  | Overdenture complete |  |  |  |  |
D5861 | E |  | Overdenture partial |  |  |  |  |
D5862 | E |  | Precision attachment |  |  |  |  |
D5867 | E |  | Replacement of precision att |  |  |  |  |
D5875 | E |  | Prosthesis modification |  |  |  |  |
D5899 | E |  | Removable prosthodontic proc |  |  |  |  |
D5911 | S |  | Facial moulage sectional | 0330 | 7.1431 | $423.94 |  | $84.79
D5912 | S |  | Facial moulage complete | 0330 | 7.1431 | $423.94 |  | $84.79
D5913 | E |  | Nasal prosthesis |  |  |  |  |
D5914 | E |  | Auricular prosthesis |  |  |  |  |
D5915 | E |  | Orbital prosthesis |  |  |  |  |
D5916 | E |  | Ocular prosthesis |  |  |  |  |
D5919 | E |  | Facial prosthesis |  |  |  |  |
D5922 | E |  | Nasal septal prosthesis |  |  |  |  |
D5923 | E |  | Ocular prosthesis interim |  |  |  |  |
D5924 | E |  | Cranial prosthesis |  |  |  |  |
D5925 | E |  | Facial augmentation implant |  |  |  |  |
D5926 | E |  | Replacement nasal prosthesis |  |  |  |  |
D5927 | E |  | Auricular replacement |  |  |  |  |
D5928 | E |  | Orbital replacement |  |  |  |  |
D5929 | E |  | Facial replacement |  |  |  |  |
D5931 | E |  | Surgical obturator |  |  |  |  |
D5932 | E |  | Postsurgical obturator |  |  |  |  |
D5933 | E |  | Refitting of obturator |  |  |  |  |
D5934 | E |  | Mandibular flange prosthesis |  |  |  |  |
D5935 | E |  | Mandibular denture prosth |  |  |  |  |
D5936 | E |  | Temp obturator prosthesis |  |  |  |  |
D5937 | E |  | Trismus appliance |  |  |  |  |
D5951 | E |  | Feeding aid |  |  |  |  |
D5952 | E |  | Pediatric speech aid |  |  |  |  |
D5953 | E |  | Adult speech aid |  |  |  |  |
D5954 | E |  | Superimposed prosthesis |  |  |  |  |
D5955 | E |  | Palatal lift prosthesis |  |  |  |  |
D5958 | E |  | Intraoral con def inter plt |  |  |  |  |
D5959 | E |  | Intraoral con def mod palat |  |  |  |  |
D5960 | E |  | Modify speech aid prosthesis |  |  |  |  |
D5982 | E |  | Surgical stent |  |  |  |  |
D5983 | S |  | Radiation applicator | 0330 | 7.1431 | $423.94 |  | $84.79
D5984 | S |  | Radiation shield | 0330 | 7.1431 | $423.94 |  | $84.79
D5985 | S |  | Radiation cone locator | 0330 | 7.1431 | $423.94 |  | $84.79
D5986 | E |  | Fluoride applicator |  |  |  |  |
D5987 | S |  | Commissure splint | 0330 | 7.1431 | $423.94 |  | $84.79
D5988 | E |  | Surgical splint |  |  |  |  |
D5999 | E |  | Maxillofacial prosthesis |  |  |  |  |
D6010 | E |  | Odontics endosteal implant |  |  |  |  |
D6040 | E |  | Odontics eposteal implant |  |  |  |  |
D6050 | E |  | Odontics transosteal implnt |  |  |  |  |
D6053 | E |  | Implnt/abtmnt spprt remv dnt |  |  |  |  |
D6054 | E |  | Implnt/abtmnt spprt remvprtl |  |  |  |  |
D6055 | E |  | Implant connecting bar |  |  |  |  |
D6056 | E |  | Prefabricated abutment |  |  |  |  |
D6057 | E |  | Custom abutment |  |  |  |  |
D6058 | E |  | Abutment supported crown |  |  |  |  |
D6059 | E |  | Abutment supported mtl crown |  |  |  |  |
D6060 | E |  | Abutment supported mtl crown |  |  |  |  |
D6061 | E |  | Abutment supported mtl crown |  |  |  |  |
D6062 | E |  | Abutment supported mtl crown |  |  |  |  |
D6063 | E |  | Abutment supported mtl crown |  |  |  |  |
D6064 | E |  | Abutment supported mtl crown |  |  |  |  |
D6065 | E |  | Implant supported crown |  |  |  |  |
D6066 | E |  | Implant supported mtl crown |  |  |  |  |
D6067 | E |  | Implant supported mtl crown |  |  |  |  |
D6068 | E |  | Abutment supported retainer |  |  |  |  |
D6069 | E |  | Abutment supported retainer |  |  |  |  |
D6070 | E |  | Abutment supported retainer |  |  |  |  |
D6071 | E |  | Abutment supported retainer |  |  |  |  |
D6072 | E |  | Abutment supported retainer |  |  |  |  |
D6073 | E |  | Abutment supported retainer |  |  |  |  |
D6074 | E |  | Abutment supported retainer |  |  |  |  |
D6075 | E |  | Implant supported retainer |  |  |  |  |
D6076 | E |  | Implant supported retainer |  |  |  |  |
D6077 | E |  | Implant supported retainer |  |  |  |  |
D6078 | E |  | Implnt/abut suprtd fixd dent |  |  |  |  |
D6079 | E |  | Implnt/abut suprtd fixd dent |  |  |  |  |
D6080 | E |  | Implant maintenance |  |  |  |  |
D6090 | E |  | Repair implant |  |  |  |  |
D6094 | E |  | Abut support crown titanium |  |  |  |  |
D6095 | E |  | Odontics repr abutment |  |  |  |  |
D6100 | E |  | Removal of implant |  |  |  |  |
D6190 | E |  | Radio/surgical implant index |  |  |  |  |
D6194 | E |  | Abut support retainer titani |  |  |  |  |
D6199 | E |  | Implant procedure |  |  |  |  |
D6205 | E |  | Pontic-indirect resin based |  |  |  |  |
D6210 | E |  | Prosthodont high noble metal |  |  |  |  |
D6211 | E |  | Bridge base metal cast |  |  |  |  |
D6212 | E |  | Bridge noble metal cast |  |  |  |  |
D6214 | E |  | Pontic titanium |  |  |  |  |
D6240 | E |  | Bridge porcelain high noble |  |  |  |  |
D6241 | E |  | Bridge porcelain base metal |  |  |  |  |
D6242 | E |  | Bridge porcelain nobel metal |  |  |  |  |
D6245 | E |  | Bridge porcelain/ceramic |  |  |  |  |
D6250 | E |  | Bridge resin w/high noble |  |  |  |  |
D6251 | E |  | Bridge resin base metal |  |  |  |  |
D6252 | E |  | Bridge resin w/noble metal |  |  |  |  |
D6253 | E |  | Provisional pontic |  |  |  |  |
D6545 | E |  | Dental retainr cast metl |  |  |  |  |
D6548 | E |  | Porcelain/ceramic retainer |  |  |  |  |
D6600 | E |  | Porcelain/ceramic inlay 2srf |  |  |  |  |
D6601 | E |  | Porc/ceram inlay >= 3 surfac |  |  |  |  |
D6602 | E |  | Cst hgh nble mtl inlay 2 srf |  |  |  |  |
D6603 | E |  | Cst hgh nble mtl inlay >=3sr |  |  |  |  |
D6604 | E |  | Cst bse mtl inlay 2 surfaces |  |  |  |  |
D6605 | E |  | Cst bse mtl inlay >= 3 surfa |  |  |  |  |
D6606 | E |  | Cast noble metal inlay 2 sur |  |  |  |  |
D6607 | E |  | Cst noble mtl inlay >=3 surf |  |  |  |  |
D6608 | E |  | Onlay porc/crmc 2 surfaces |  |  |  |  |
D6609 | E |  | Onlay porc/crmc >=3 surfaces |  |  |  |  |
D6610 | E |  | Onlay cst hgh nbl mtl 2 srfc |  |  |  |  |
D6611 | E |  | Onlay cst hgh nbl mtl >=3srf |  |  |  |  |
D6612 | E |  | Onlay cst base mtl 2 surface |  |  |  |  |
D6613 | E |  | Onlay cst base mtl >=3 surfa |  |  |  |  |
D6614 | E |  | Onlay cst nbl mtl 2 surfaces |  |  |  |  |
D6615 | E |  | Onlay cst nbl mtl >=3 surfac |  |  |  |  |
D6624 | E |  | Inlay titanium |  |  |  |  |
D6634 | E |  | Onlay titanium |  |  |  |  |
D6710 | E |  | Crown-indirect resin based |  |  |  |  |
D6720 | E |  | Retain crown resin w hi nble |  |  |  |  |
D6721 | E |  | Crown resin w/base metal |  |  |  |  |
D6722 | E |  | Crown resin w/noble metal |  |  |  |  |
D6740 | E |  | Crown porcelain/ceramic |  |  |  |  |
D6750 | E |  | Crown porcelain high noble |  |  |  |  |
D6751 | E |  | Crown porcelain base metal |  |  |  |  |
D6752 | E |  | Crown porcelain noble metal |  |  |  |  |
D6780 | E |  | Crown 3/4 high noble metal |  |  |  |  |
D6781 | E |  | Crown 3/4 cast based metal |  |  |  |  |
D6782 | E |  | Crown 3/4 cast noble metal |  |  |  |  |
D6783 | E |  | Crown 3/4 porcelain/ceramic |  |  |  |  |
D6790 | E |  | Crown full high noble metal |  |  |  |  |
D6791 | E |  | Crown full base metal cast |  |  |  |  |
D6792 | E |  | Crown full noble metal cast |  |  |  |  |
D6793 | E |  | Provisional retainer crown |  |  |  |  |
D6794 | E |  | Crown titanium |  |  |  |  |
D6920 | S |  | Dental connector bar | 0330 | 7.1431 | $423.94 |  | $84.79
D6930 | E |  | Dental recement bridge |  |  |  |  |
D6940 | E |  | Stress breaker |  |  |  |  |
D6950 | E |  | Precision attachment |  |  |  |  |
D6970 | E |  | Post & core plus retainer |  |  |  |  |
D6971 | E |  | Cast post bridge retainer |  |  |  |  |
D6972 | E |  | Prefab post & core plus reta |  |  |  |  |
D6973 | E |  | Core build up for retainer |  |  |  |  |
D6975 | E |  | Coping metal |  |  |  |  |
D6976 | E |  | Each addtnl cast post |  |  |  |  |
D6977 | E |  | Each addtl prefab post |  |  |  |  |
D6980 | E |  | Bridge repair |  |  |  |  |
D6985 | E |  | Pediatric partial denture fx |  |  |  |  |
D6999 | E |  | Fixed prosthodontic proc |  |  |  |  |
D7111 | S |  | Coronal remnants deciduous t | 0330 | 7.1431 | $423.94 |  | $84.79
D7140 | S |  | Extraction erupted tooth/exr | 0330 | 7.1431 | $423.94 |  | $84.79
D7210 | S |  | Rem imp tooth w mucoper flp | 0330 | 7.1431 | $423.94 |  | $84.79
D7220 | S |  | Impact tooth remov soft tiss | 0330 | 7.1431 | $423.94 |  | $84.79
D7230 | S |  | Impact tooth remov part bony | 0330 | 7.1431 | $423.94 |  | $84.79
D7240 | S |  | Impact tooth remov comp bony | 0330 | 7.1431 | $423.94 |  | $84.79
D7241 | S |  | Impact tooth rem bony w/comp | 0330 | 7.1431 | $423.94 |  | $84.79
D7250 | S |  | Tooth root removal | 0330 | 7.1431 | $423.94 |  | $84.79
D7260 | S |  | Oral antral fistula closure | 0330 | 7.1431 | $423.94 |  | $84.79
D7261 | S |  | Primary closure sinus perf | 0330 | 7.1431 | $423.94 |  | $84.79
D7270 | E |  | Tooth reimplantation |  |  |  |  |
D7272 | E |  | Tooth transplantation |  |  |  |  |
D7280 | E |  | Exposure impact tooth orthod |  |  |  |  |
D7282 | E |  | Mobilize erupted/malpos toot |  |  |  |  |
D7283 | B |  | Place device impacted tooth |  |  |  |  |
D7285 | E |  | Biopsy of oral tissue hard |  |  |  |  |
D7286 | E |  | Biopsy of oral tissue soft |  |  |  |  |
D7287 | E |  | Cytology sample collection |  |  |  |  |
D7288 | B |  | Brush biopsy |  |  |  |  |
D7290 | E |  | Repositioning of teeth |  |  |  |  |
D7291 | S |  | Transseptal fiberotomy | 0330 | 7.1431 | $423.94 |  | $84.79
D7310 | E |  | Alveoplasty w/ extraction |  |  |  |  |
D7311 | E |  | Alveoloplasty w/extract 1-3 |  |  |  |  |
D7320 | E |  | Alveoplasty w/o extraction |  |  |  |  |
D7321 | B |  | Alveoloplasty not w/extracts |  |  |  |  |
D7340 | E |  | Vestibuloplasty ridge extens |  |  |  |  |
D7350 | E |  | Vestibuloplasty exten graft |  |  |  |  |
D7410 | E |  | Rad exc lesion up to 1.25 cm |  |  |  |  |
D7411 | E |  | Excision benign lesion>1.25c |  |  |  |  |
D7412 | E |  | Excision benign lesion compl |  |  |  |  |
D7413 | E |  | Excision malig lesion<=1.25c |  |  |  |  |
D7414 | E |  | Excision malig lesion>1.25cm |  |  |  |  |
D7415 | E |  | Excision malig les complicat |  |  |  |  |
D7440 | E |  | Malig tumor exc to 1.25 cm |  |  |  |  |
D7441 | E |  | Malig tumor > 1.25 cm |  |  |  |  |
D7450 | E |  | Rem odontogen cyst to 1.25cm |  |  |  |  |
D7451 | E |  | Rem odontogen cyst > 1.25 cm |  |  |  |  |
D7460 | E |  | Rem nonodonto cyst to 1.25cm |  |  |  |  |
D7461 | E |  | Rem nonodonto cyst > 1.25 cm |  |  |  |  |
D7465 | E |  | Lesion destruction |  |  |  |  |
D7471 | E |  | Rem exostosis any site |  |  |  |  |
D7472 | E |  | Removal of torus palatinus |  |  |  |  |
D7473 | E |  | Remove torus mandibularis |  |  |  |  |
D7485 | E |  | Surg reduct osseoustuberosit |  |  |  |  |
D7490 | E |  | Mandible resection |  |  |  |  |
D7510 | E |  | I&d absc intraoral soft tiss |  |  |  |  |
D7511 | B |  | Incision/drain abscess intra |  |  |  |  |
D7520 | E |  | I&d abscess extraoral |  |  |  |  |
D7521 | B |  | Incision/drain abscess extra |  |  |  |  |
D7530 | E |  | Removal fb skin/areolar tiss |  |  |  |  |
D7540 | E |  | Removal of fb reaction |  |  |  |  |
D7550 | E |  | Removal of sloughed off bone |  |  |  |  |
D7560 | E |  | Maxillary sinusotomy |  |  |  |  |
D7610 | E |  | Maxilla open reduct simple |  |  |  |  |
D7620 | E |  | Clsd reduct simpl maxilla fx |  |  |  |  |
D7630 | E |  | Open red simpl mandible fx |  |  |  |  |
D7640 | E |  | Clsd red simpl mandible fx |  |  |  |  |
D7650 | E |  | Open red simp malar/zygom fx |  |  |  |  |
D7660 | E |  | Clsd red simp malar/zygom fx |  |  |  |  |
D7670 | E |  | Closd rductn splint alveolus |  |  |  |  |
D7671 | E |  | Alveolus open reduction |  |  |  |  |
D7680 | E |  | Reduct simple facial bone fx |  |  |  |  |
D7710 | E |  | Maxilla open reduct compound |  |  |  |  |
D7720 | E |  | Clsd reduct compd maxilla fx |  |  |  |  |
D7730 | E |  | Open reduct compd mandble fx |  |  |  |  |
D7740 | E |  | Clsd reduct compd mandble fx |  |  |  |  |
D7750 | E |  | Open red comp malar/zygma fx |  |  |  |  |
D7760 | E |  | Clsd red comp malar/zygma fx |  |  |  |  |
D7770 | E |  | Open reduc compd alveolus fx |  |  |  |  |
D7771 | E |  | Alveolus clsd reduc stblz te |  |  |  |  |
D7780 | E |  | Reduct compnd facial bone fx |  |  |  |  |
D7810 | E |  | Tmj open reduct-dislocation |  |  |  |  |
D7820 | E |  | Closed tmp manipulation |  |  |  |  |
D7830 | E |  | Tmj manipulation under anest |  |  |  |  |
D7840 | E |  | Removal of tmj condyle |  |  |  |  |
D7850 | E |  | Tmj meniscectomy |  |  |  |  |
D7852 | E |  | Tmj repair of joint disc |  |  |  |  |
D7854 | E |  | Tmj excisn of joint membrane |  |  |  |  |
D7856 | E |  | Tmj cutting of a muscle |  |  |  |  |
D7858 | E |  | Tmj reconstruction |  |  |  |  |
D7860 | E |  | Tmj cutting into joint |  |  |  |  |
D7865 | E |  | Tmj reshaping components |  |  |  |  |
D7870 | E |  | Tmj aspiration joint fluid |  |  |  |  |
D7871 | E |  | Lysis + lavage w catheters |  |  |  |  |
D7872 | E |  | Tmj diagnostic arthroscopy |  |  |  |  |
D7873 | E |  | Tmj arthroscopy lysis adhesn |  |  |  |  |
D7874 | E |  | Tmj arthroscopy disc reposit |  |  |  |  |
D7875 | E |  | Tmj arthroscopy synovectomy |  |  |  |  |
D7876 | E |  | Tmj arthroscopy discectomy |  |  |  |  |
D7877 | E |  | Tmj arthroscopy debridement |  |  |  |  |
D7880 | E |  | Occlusal orthotic appliance |  |  |  |  |
D7899 | E |  | Tmj unspecified therapy |  |  |  |  |
D7910 | E |  | Dent sutur recent wnd to 5cm |  |  |  |  |
D7911 | E |  | Dental suture wound to 5 cm |  |  |  |  |
D7912 | E |  | Suture complicate wnd > 5 cm |  |  |  |  |
D7920 | E |  | Dental skin graft |  |  |  |  |
D7940 | S |  | Reshaping bone orthognathic | 0330 | 7.1431 | $423.94 |  | $84.79
D7941 | E |  | Bone cutting ramus closed |  |  |  |  |
D7943 | E |  | Cutting ramus open w/graft |  |  |  |  |
D7944 | E |  | Bone cutting segmented |  |  |  |  |
D7945 | E |  | Bone cutting body mandible |  |  |  |  |
D7946 | E |  | Reconstruction maxilla total |  |  |  |  |
D7947 | E |  | Reconstruct maxilla segment |  |  |  |  |
D7948 | E |  | Reconstruct midface no graft |  |  |  |  |
D7949 | E |  | Reconstruct midface w/graft |  |  |  |  |
D7950 | E |  | Mandible graft |  |  |  |  |
D7953 | E |  | Bone replacement graft |  |  |  |  |
D7955 | E |  | Repair maxillofacial defects |  |  |  |  |
D7960 | E |  | Frenulectomy/frenulotomy |  |  |  |  |
D7963 | E |  | Frenuloplasty |  |  |  |  |
D7970 | E |  | Excision hyperplastic tissue |  |  |  |  |
D7971 | E |  | Excision pericoronal gingiva |  |  |  |  |
D7972 | E |  | Surg redct fibrous tuberosit |  |  |  |  |
D7980 | E |  | Sialolithotomy |  |  |  |  |
D7981 | E |  | Excision of salivary gland |  |  |  |  |
D7982 | E |  | Sialodochoplasty |  |  |  |  |
D7983 | E |  | Closure of salivary fistula |  |  |  |  |
D7990 | E |  | Emergency tracheotomy |  |  |  |  |
D7991 | E |  | Dental coronoidectomy |  |  |  |  |
D7995 | E |  | Synthetic graft facial bones |  |  |  |  |
D7996 | E |  | Implant mandible for augment |  |  |  |  |
D7997 | E |  | Appliance removal |  |  |  |  |
D7999 | E |  | Oral surgery procedure |  |  |  |  |
D8010 | E |  | Limited dental tx primary |  |  |  |  |
D8020 | E |  | Limited dental tx transition |  |  |  |  |
D8030 | E |  | Limited dental tx adolescent |  |  |  |  |
D8040 | E |  | Limited dental tx adult |  |  |  |  |
D8050 | E |  | Intercep dental tx primary |  |  |  |  |
D8060 | E |  | Intercep dental tx transitn |  |  |  |  |
D8070 | E |  | Compre dental tx transition |  |  |  |  |
D8080 | E |  | Compre dental tx adolescent |  |  |  |  |
D8090 | E |  | Compre dental tx adult |  |  |  |  |
D8210 | E |  | Orthodontic rem appliance tx |  |  |  |  |
D8220 | E |  | Fixed appliance therapy habt |  |  |  |  |
D8660 | E |  | Preorthodontic tx visit |  |  |  |  |
D8670 | E |  | Periodic orthodontc tx visit |  |  |  |  |
D8680 | E |  | Orthodontic retention |  |  |  |  |
D8690 | E |  | Orthodontic treatment |  |  |  |  |
D8691 | E |  | Repair ortho appliance |  |  |  |  |
D8692 | E |  | Replacement retainer |  |  |  |  |
D8999 | E |  | Orthodontic procedure |  |  |  |  |
D9110 | N |  | Tx dental pain minor proc |  |  |  |  |
D9210 | E |  | Dent anesthesia w/o surgery |  |  |  |  |
D9211 | E |  | Regional block anesthesia |  |  |  |  |
D9212 | E |  | Trigeminal block anesthesia |  |  |  |  |
D9215 | E |  | Local anesthesia |  |  |  |  |
D9220 | E |  | General anesthesia |  |  |  |  |
D9221 | E |  | General anesthesia ea ad 15m |  |  |  |  |
D9230 | N |  | Analgesia |  |  |  |  |
D9241 | E |  | Intravenous sedation |  |  |  |  |
D9242 | E |  | IV sedation ea ad 30 m |  |  |  |  |
D9248 | N |  | Sedation (non-iv) |  |  |  |  |
D9310 | E |  | Dental consultation |  |  |  |  |
D9410 | E |  | Dental house call |  |  |  |  |
D9420 | E |  | Hospital call |  |  |  |  |
D9430 | E |  | Office visit during hours |  |  |  |  |
D9440 | E |  | Office visit after hours |  |  |  |  |
D9450 | E |  | Case presentation tx plan |  |  |  |  |
D9610 | E |  | Dent therapeutic drug inject |  |  |  |  |
D9630 | S |  | Other drugs/medicaments | 0330 | 7.1431 | $423.94 |  | $84.79
D9910 | E |  | Dent appl desensitizing med |  |  |  |  |
D9911 | E |  | Appl desensitizing resin |  |  |  |  |
D9920 | E |  | Behavior management |  |  |  |  |
D9930 | S |  | Treatment of complications | 0330 | 7.1431 | $423.94 |  | $84.79
D9940 | S |  | Dental occlusal guard | 0330 | 7.1431 | $423.94 |  | $84.79
D9941 | E |  | Fabrication athletic guard |  |  |  |  |
D9942 | E |  | Repair/reline occlusal guard |  |  |  |  |
D9950 | S |  | Occlusion analysis | 0330 | 7.1431 | $423.94 |  | $84.79
D9951 | S |  | Limited occlusal adjustment | 0330 | 7.1431 | $423.94 |  | $84.79
D9952 | S |  | Complete occlusal adjustment | 0330 | 7.1431 | $423.94 |  | $84.79
D9970 | E |  | Enamel microabrasion |  |  |  |  |
D9971 | E |  | Odontoplasty 1-2 teeth |  |  |  |  |
D9972 | E |  | Extrnl bleaching per arch |  |  |  |  |
D9973 | E |  | Extrnl bleaching per tooth |  |  |  |  |
D9974 | E |  | Intrnl bleaching per tooth |  |  |  |  |
D9999 | E |  | Adjunctive procedure |  |  |  |  |
E0100 | Y |  | Cane adjust/fixed with tip |  |  |  |  |
E0105 | Y |  | Cane adjust/fixed quad/3 pro |  |  |  |  |
E0110 | Y |  | Crutch forearm pair |  |  |  |  |
E0111 | Y |  | Crutch forearm each |  |  |  |  |
E0112 | Y |  | Crutch underarm pair wood |  |  |  |  |
E0113 | Y |  | Crutch underarm each wood |  |  |  |  |
E0114 | Y |  | Crutch underarm pair no wood |  |  |  |  |
E0116 | Y |  | Crutch underarm each no wood |  |  |  |  |
E0117 | Y |  | Underarm springassist crutch |  |  |  |  |
E0118 | E |  | Crutch substitute |  |  |  |  |
E0130 | Y |  | Walker rigid adjust/fixed ht |  |  |  |  |
E0135 | Y |  | Walker folding adjust/fixed |  |  |  |  |
E0140 | Y |  | Walker w trunk support |  |  |  |  |
E0141 | Y |  | Rigid wheeled walker adj/fix |  |  |  |  |
E0143 | Y |  | Walker folding wheeled w/o s |  |  |  |  |
E0144 | Y |  | Enclosed walker w rear seat |  |  |  |  |
E0147 | Y |  | Walker variable wheel resist |  |  |  |  |
E0148 | Y |  | Heavyduty walker no wheels |  |  |  |  |
E0149 | Y |  | Heavy duty wheeled walker |  |  |  |  |
E0153 | Y |  | Forearm crutch platform atta |  |  |  |  |
E0154 | Y |  | Walker platform attachment |  |  |  |  |
E0155 | Y |  | Walker wheel attachment,pair |  |  |  |  |
E0156 | Y |  | Walker seat attachment |  |  |  |  |
E0157 | Y |  | Walker crutch attachment |  |  |  |  |
E0158 | Y |  | Walker leg extenders set of4 |  |  |  |  |
E0159 | Y |  | Brake for wheeled walker |  |  |  |  |
E0160 | Y |  | Sitz type bath or equipment |  |  |  |  |
E0161 | Y |  | Sitz bath/equipment w/faucet |  |  |  |  |
E0162 | Y |  | Sitz bath chair |  |  |  |  |
E0163 | Y |  | Commode chair stationry fxd |  |  |  |  |
E0164 | Y |  | Commode chair mobile fixed a |  |  |  |  |
E0166 | Y |  | Commode chair mobile detach |  |  |  |  |
E0167 | Y |  | Commode chair pail or pan |  |  |  |  |
E0168 | Y |  | Heavyduty/wide commode chair |  |  |  |  |
E0169 | Y |  | Seatlift incorp commodechair |  |  |  |  |
E0175 | Y |  | Commode chair foot rest |  |  |  |  |
E0180 | Y |  | Press pad alternating w pump |  |  |  |  |
E0181 | Y |  | Press pad alternating w/ pum |  |  |  |  |
E0182 | Y |  | Pressure pad alternating pum |  |  |  |  |
E0184 | Y |  | Dry pressure mattress |  |  |  |  |
E0185 | Y |  | Gel pressure mattress pad |  |  |  |  |
E0186 | Y |  | Air pressure mattress |  |  |  |  |
E0187 | Y |  | Water pressure mattress |  |  |  |  |
E0188 | Y |  | Synthetic sheepskin pad |  |  |  |  |
E0189 | Y |  | Lambswool sheepskin pad |  |  |  |  |
E0190 | E |  | Positioning cushion |  |  |  |  |
E0191 | Y |  | Protector heel or elbow |  |  |  |  |
E0193 | Y |  | Powered air flotation bed |  |  |  |  |
E0194 | Y |  | Air fluidized bed |  |  |  |  |
E0196 | Y |  | Gel pressure mattress |  |  |  |  |
E0197 | Y |  | Air pressure pad for mattres |  |  |  |  |
E0198 | Y |  | Water pressure pad for mattr |  |  |  |  |
E0199 | Y |  | Dry pressure pad for mattres |  |  |  |  |
E0200 | Y |  | Heat lamp without stand |  |  |  |  |
E0202 | Y |  | Phototherapy light w/ photom |  |  |  |  |
E0203 | E |  | Therapeutic lightbox tabletp |  |  |  |  |
E0205 | Y |  | Heat lamp with stand |  |  |  |  |
E0210 | Y |  | Electric heat pad standard |  |  |  |  |
E0215 | Y |  | Electric heat pad moist |  |  |  |  |
E0217 | Y |  | Water circ heat pad w pump |  |  |  |  |
E0218 | Y |  | Water circ cold pad w pump |  |  |  |  |
E0220 | Y |  | Hot water bottle |  |  |  |  |
E0221 | E |  | Infrared heating pad system |  |  |  |  |
E0225 | Y |  | Hydrocollator unit |  |  |  |  |
E0230 | Y |  | Ice cap or collar |  |  |  |  |
E0231 | E |  | Wound warming device |  |  |  |  |
E0232 | E |  | Warming card for NWT |  |  |  |  |
E0235 | Y |  | Paraffin bath unit portable |  |  |  |  |
E0236 | Y |  | Pump for water circulating p |  |  |  |  |
E0238 | Y |  | Heat pad non-electric moist |  |  |  |  |
E0239 | Y |  | Hydrocollator unit portable |  |  |  |  |
E0240 | E |  | Bath/shower chair |  |  |  |  |
E0241 | E |  | Bath tub wall rail |  |  |  |  |
E0242 | E |  | Bath tub rail floor |  |  |  |  |
E0243 | E |  | Toilet rail |  |  |  |  |
E0244 | E |  | Toilet seat raised |  |  |  |  |
E0245 | E |  | Tub stool or bench |  |  |  |  |
E0246 | E |  | Transfer tub rail attachment |  |  |  |  |
E0247 | E |  | Trans bench w/wo comm open |  |  |  |  |
E0248 | E |  | HDtrans bench w/wo comm open |  |  |  |  |
E0249 | Y |  | Pad water circulating heat u |  |  |  |  |
E0250 | Y |  | Hosp bed fixed ht w/ mattres |  |  |  |  |
E0251 | Y |  | Hosp bed fixd ht w/o mattres |  |  |  |  |
E0255 | Y |  | Hospital bed var ht w/ mattr |  |  |  |  |
E0256 | Y |  | Hospital bed var ht w/o matt |  |  |  |  |
E0260 | Y |  | Hosp bed semi-electr w/ matt |  |  |  |  |
E0261 | Y |  | Hosp bed semi-electr w/o mat |  |  |  |  |
E0265 | Y |  | Hosp bed total electr w/ mat |  |  |  |  |
E0266 | Y |  | Hosp bed total elec w/o matt |  |  |  |  |
E0270 | E |  | Hospital bed institutional t |  |  |  |  |
E0271 | Y |  | Mattress innerspring |  |  |  |  |
E0272 | Y |  | Mattress foam rubber |  |  |  |  |
E0273 | E |  | Bed board |  |  |  |  |
E0274 | E |  | Over-bed table |  |  |  |  |
E0275 | Y |  | Bed pan standard |  |  |  |  |
E0276 | Y |  | Bed pan fracture |  |  |  |  |
E0277 | Y |  | Powered pres-redu air mattrs |  |  |  |  |
E0280 | Y |  | Bed cradle |  |  |  |  |
E0290 | Y |  | Hosp bed fx ht w/o rails w/m |  |  |  |  |
E0291 | Y |  | Hosp bed fx ht w/o rail w/o |  |  |  |  |
E0292 | Y |  | Hosp bed var ht w/o rail w/o |  |  |  |  |
E0293 | Y |  | Hosp bed var ht w/o rail w/ |  |  |  |  |
E0294 | Y |  | Hosp bed semi-elect w/ mattr |  |  |  |  |
E0295 | Y |  | Hosp bed semi-elect w/o matt |  |  |  |  |
E0296 | Y |  | Hosp bed total elect w/ matt |  |  |  |  |
E0297 | Y |  | Hosp bed total elect w/o mat |  |  |  |  |
E0300 | Y |  | Enclosed ped crib hosp grade |  |  |  |  |
E0301 | Y |  | HD hosp bed, 350-600 lbs |  |  |  |  |
E0302 | Y |  | Ex hd hosp bed > 600 lbs |  |  |  |  |
E0303 | Y |  | Hosp bed hvy dty xtra wide |  |  |  |  |
E0304 | Y |  | Hosp bed xtra hvy dty x wide |  |  |  |  |
E0305 | Y |  | Rails bed side half length |  |  |  |  |
E0310 | Y |  | Rails bed side full length |  |  |  |  |
E0315 | E |  | Bed accessory brd/tbl/supprt |  |  |  |  |
E0316 | Y |  | Bed safety enclosure |  |  |  |  |
E0325 | Y |  | Urinal male jug-type |  |  |  |  |
E0326 | Y |  | Urinal female jug-type |  |  |  |  |
E0350 | E |  | Control unit bowel system |  |  |  |  |
E0352 | E |  | Disposable pack w/bowel syst |  |  |  |  |
E0370 | E |  | Air elevator for heel |  |  |  |  |
E0371 | Y |  | Nonpower mattress overlay |  |  |  |  |
E0372 | Y |  | Powered air mattress overlay |  |  |  |  |
E0373 | Y |  | Nonpowered pressure mattress |  |  |  |  |
E0424 | Y |  | Stationary compressed gas 02 |  |  |  |  |
E0425 | E |  | Gas system stationary compre |  |  |  |  |
E0430 | E |  | Oxygen system gas portable |  |  |  |  |
E0431 | Y |  | Portable gaseous 02 |  |  |  |  |
E0434 | Y |  | Portable liquid 02 |  |  |  |  |
E0435 | E |  | Oxygen system liquid portabl |  |  |  |  |
E0439 | Y |  | Stationary liquid 02 |  |  |  |  |
E0440 | E |  | Oxygen system liquid station |  |  |  |  |
E0441 | Y |  | Oxygen contents, gaseous |  |  |  |  |
E0442 | Y |  | Oxygen contents, liquid |  |  |  |  |
E0443 | Y |  | Portable 02 contents, gas |  |  |  |  |
E0444 | Y |  | Portable 02 contents, liquid |  |  |  |  |
E0445 | A |  | Oximeter non-invasive |  |  |  |  |
E0450 | Y |  | Volume vent stationary/porta |  |  |  |  |
E0455 | Y |  | Oxygen tent excl croup/ped t |  |  |  |  |
E0457 | Y |  | Chest shell |  |  |  |  |
E0459 | Y |  | Chest wrap |  |  |  |  |
E0460 | Y |  | Neg press vent portabl/statn |  |  |  |  |
E0461 | Y |  | Vol vent noninvasive interfa |  |  |  |  |
E0462 | Y |  | Rocking bed w/ or w/o side r |  |  |  |  |
E0463 | Y |  | Press supp vent invasive int |  |  |  |  |
E0464 | Y |  | Press supp vent noninv int |  |  |  |  |
E0470 | Y |  | RAD w/o backup non-inv intfc |  |  |  |  |
E0471 | Y |  | RAD w/backup non inv intrfc |  |  |  |  |
E0472 | Y |  | RAD w backup invasive intrfc |  |  |  |  |
E0480 | Y |  | Percussor elect/pneum home m |  |  |  |  |
E0481 | E |  | Intrpulmnry percuss vent sys |  |  |  |  |
E0482 | Y |  | Cough stimulating device |  |  |  |  |
E0483 | Y |  | Chest compression gen system |  |  |  |  |
E0484 | Y |  | Non-elec oscillatory pep dvc |  |  |  |  |
E0500 | Y |  | Ippb all types |  |  |  |  |
E0550 | Y |  | Humidif extens supple w ippb |  |  |  |  |
E0555 | Y |  | Humidifier for use w/ regula |  |  |  |  |
E0560 | Y |  | Humidifier supplemental w/ i |  |  |  |  |
E0561 | Y |  | Humidifier nonheated w PAP |  |  |  |  |
E0562 | Y |  | Humidifier heated used w PAP |  |  |  |  |
E0565 | Y |  | Compressor air power source |  |  |  |  |
E0570 | Y |  | Nebulizer with compression |  |  |  |  |
E0571 | Y |  | Aerosol compressor for svneb |  |  |  |  |
E0572 | Y |  | Aerosol compressor adjust pr |  |  |  |  |
E0574 | Y |  | Ultrasonic generator w svneb |  |  |  |  |
E0575 | Y |  | Nebulizer ultrasonic |  |  |  |  |
E0580 | Y |  | Nebulizer for use w/ regulat |  |  |  |  |
E0585 | Y |  | Nebulizer w/ compressor & he |  |  |  |  |
E0590 | Y |  | Dispensing fee dme neb drug |  |  |  |  |
E0600 | Y |  | Suction pump portab hom modl |  |  |  |  |
E0601 | Y |  | Cont airway pressure device |  |  |  |  |
E0602 | Y |  | Manual breast pump |  |  |  |  |
E0603 | A |  | Electric breast pump |  |  |  |  |
E0604 | A |  | Hosp grade elec breast pump |  |  |  |  |
E0605 | Y |  | Vaporizer room type |  |  |  |  |
E0606 | Y |  | Drainage board postural |  |  |  |  |
E0607 | Y |  | Blood glucose monitor home |  |  |  |  |
E0610 | Y |  | Pacemaker monitr audible/vis |  |  |  |  |
E0615 | Y |  | Pacemaker monitr digital/vis |  |  |  |  |
E0616 | N |  | Cardiac event recorder |  |  |  |  |
E0617 | Y |  | Automatic ext defibrillator |  |  |  |  |
E0618 | A |  | Apnea monitor |  |  |  |  |
E0619 | A |  | Apnea monitor w recorder |  |  |  |  |
E0620 | Y |  | Cap bld skin piercing laser |  |  |  |  |
E0621 | Y |  | Patient lift sling or seat |  |  |  |  |
E0625 | E |  | Patient lift bathroom or toi |  |  |  |  |
E0627 | Y |  | Seat lift incorp lift-chair |  |  |  |  |
E0628 | Y |  | Seat lift for pt furn-electr |  |  |  |  |
E0629 | Y |  | Seat lift for pt furn-non-el |  |  |  |  |
E0630 | Y |  | Patient lift hydraulic |  |  |  |  |
E0635 | Y |  | Patient lift electric |  |  |  |  |
E0636 | Y |  | PT support & positioning sys |  |  |  |  |
E0637 | E |  | Sit-stand w seatlift wheeled |  |  |  |  |
E0638 | E |  | Standing frame sys wheeled |  |  |  |  |
E0639 | E |  | Moveable patient lift system |  |  |  |  |
E0640 | E |  | Fixed patient lift system |  |  |  |  |
E0650 | Y |  | Pneuma compresor non-segment |  |  |  |  |
E0651 | Y |  | Pneum compressor segmental |  |  |  |  |
E0652 | Y |  | Pneum compres w/cal pressure |  |  |  |  |
E0655 | Y |  | Pneumatic appliance half arm |  |  |  |  |
E0660 | Y |  | Pneumatic appliance full leg |  |  |  |  |
E0665 | Y |  | Pneumatic appliance full arm |  |  |  |  |
E0666 | Y |  | Pneumatic appliance half leg |  |  |  |  |
E0667 | Y |  | Seg pneumatic appl full leg |  |  |  |  |
E0668 | Y |  | Seg pneumatic appl full arm |  |  |  |  |
E0669 | Y |  | Seg pneumatic appli half leg |  |  |  |  |
E0671 | Y |  | Pressure pneum appl full leg |  |  |  |  |
E0672 | Y |  | Pressure pneum appl full arm |  |  |  |  |
E0673 | Y |  | Pressure pneum appl half leg |  |  |  |  |
E0675 | Y |  | Pneumatic compression device |  |  |  |  |
E0691 | Y |  | Uvl pnl 2 sq ft or less |  |  |  |  |
E0692 | Y |  | Uvl sys panel 4 ft |  |  |  |  |
E0693 | Y |  | Uvl sys panel 6 ft |  |  |  |  |
E0694 | Y |  | Uvl md cabinet sys 6 ft |  |  |  |  |
E0700 | E |  | Safety equipment |  |  |  |  |
E0701 | Y |  | Helmet w face guard prefab |  |  |  |  |
E0710 | E |  | Restraints any type |  |  |  |  |
E0720 | Y |  | Tens two lead |  |  |  |  |
E0730 | Y |  | Tens four lead |  |  |  |  |
E0731 | Y |  | Conductive garment for tens/ |  |  |  |  |
E0740 | Y |  | Incontinence treatment systm |  |  |  |  |
E0744 | Y |  | Neuromuscular stim for scoli |  |  |  |  |
E0745 | Y |  | Neuromuscular stim for shock |  |  |  |  |
E0746 | E |  | Electromyograph biofeedback |  |  |  |  |
E0747 | Y |  | Elec osteogen stim not spine |  |  |  |  |
E0748 | Y |  | Elec osteogen stim spinal |  |  |  |  |
E0749 | N |  | Elec osteogen stim implanted |  |  |  |  |
E0752 | B |  | Neurostimulator electrode |  |  |  |  |
E0754 | A |  | Pulsegenerator pt programmer |  |  |  |  |
E0755 | E |  | Electronic salivary reflex s |  |  |  |  |
E0756 | B |  | Implantable pulse generator |  |  |  |  |
E0757 | N |  | Implantable RF receiver |  |  |  |  |
E0758 | A |  | External RF transmitter |  |  |  |  |
E0759 | A |  | Replace rdfrquncy transmittr |  |  |  |  |
E0760 | Y |  | Osteogen ultrasound stimltor |  |  |  |  |
E0761 | E |  | Nontherm electromgntc device |  |  |  |  |
E0765 | Y |  | Nerve stimulator for tx n&v |  |  |  |  |
E0769 | B |  | Electric wound treatment dev |  |  |  |  |
E0776 | Y |  | Iv pole |  |  |  |  |
E0779 | Y |  | Amb infusion pump mechanical |  |  |  |  |
E0780 | Y |  | Mech amb infusion pump <8hrs |  |  |  |  |
E0781 | Y |  | External ambulatory infus pu |  |  |  |  |
E0782 | N |  | Non-programble infusion pump |  |  |  |  |
E0783 | N |  | Programmable infusion pump |  |  |  |  |
E0784 | Y |  | Ext amb infusn pump insulin |  |  |  |  |
E0785 | N |  | Replacement impl pump cathet |  |  |  |  |
E0786 | N |  | Implantable pump replacement |  |  |  |  |
E0791 | Y |  | Parenteral infusion pump sta |  |  |  |  |
E0830 | N |  | Ambulatory traction device |  |  |  |  |
E0840 | Y |  | Tract frame attach headboard |  |  |  |  |
E0849 | Y |  | Cervical pneum trac equip |  |  |  |  |
E0850 | Y |  | Traction stand free standing |  |  |  |  |
E0855 | Y |  | Cervical traction equipment |  |  |  |  |
E0860 | Y |  | Tract equip cervical tract |  |  |  |  |
E0870 | Y |  | Tract frame attach footboard |  |  |  |  |
E0880 | Y |  | Trac stand free stand extrem |  |  |  |  |
E0890 | Y |  | Traction frame attach pelvic |  |  |  |  |
E0900 | Y |  | Trac stand free stand pelvic |  |  |  |  |
E0910 | Y |  | Trapeze bar attached to bed |  |  |  |  |
E0920 | Y |  | Fracture frame attached to b |  |  |  |  |
E0930 | Y |  | Fracture frame free standing |  |  |  |  |
E0935 | Y |  | Exercise device passive moti |  |  |  |  |
E0940 | Y |  | Trapeze bar free standing |  |  |  |  |
E0941 | Y |  | Gravity assisted traction de |  |  |  |  |
E0942 | Y |  | Cervical head harness/halter |  |  |  |  |
E0944 | Y |  | Pelvic belt/harness/boot |  |  |  |  |
E0945 | Y |  | Belt/harness extremity |  |  |  |  |
E0946 | Y |  | Fracture frame dual w cross |  |  |  |  |
E0947 | Y |  | Fracture frame attachmnts pe |  |  |  |  |
E0948 | Y |  | Fracture frame attachmnts ce |  |  |  |  |
E0950 | E |  | Tray |  |  |  |  |
E0951 | E |  | Loop heel |  |  |  |  |
E0952 | E |  | Toe loop/holder, each |  |  |  |  |
E0953 | E |  | Pneumatic tire |  |  |  |  |
E0954 | E |  | Wheelchair semi-pneumatic ca |  |  |  |  |
E0955 | Y |  | Cushioned headrest |  |  |  |  |
E0956 | Y |  | W/c lateral trunk/hip suppor |  |  |  |  |
E0957 | Y |  | W/c medial thigh support |  |  |  |  |
E0958 | A |  | Whlchr att- conv 1 arm drive |  |  |  |  |
E0959 | B |  | Amputee adapter |  |  |  |  |
E0960 | Y |  | W/c shoulder harness/straps |  |  |  |  |
E0961 | B |  | Wheelchair brake extension |  |  |  |  |
E0966 | B |  | Wheelchair head rest extensi |  |  |  |  |
E0967 | Y |  | Wheelchair hand rims |  |  |  |  |
E0968 | Y |  | Wheelchair commode seat |  |  |  |  |
E0969 | Y |  | Wheelchair narrowing device |  |  |  |  |
E0970 | B |  | Wheelchair no. 2 footplates |  |  |  |  |
E0971 | B |  | Wheelchair anti-tipping devi |  |  |  |  |
E0972 | A |  | Transfer board or device |  |  |  |  |
E0973 | B |  | W/Ch access det adj armrest |  |  |  |  |
E0974 | B |  | W/Ch access anti-rollback |  |  |  |  |
E0977 | Y |  | Wheelchair wedge cushion |  |  |  |  |
E0978 | B |  | W/C acc,saf belt pelv strap |  |  |  |  |
E0980 | Y |  | Wheelchair safety vest |  |  |  |  |
E0981 | Y |  | Seat upholstery, replacement |  |  |  |  |
E0982 | Y |  | Back upholstery, replacement |  |  |  |  |
E0983 | Y |  | Add pwr joystick |  |  |  |  |
E0984 | Y |  | Add pwr tiller |  |  |  |  |
E0985 | Y |  | W/c seat lift mechanism |  |  |  |  |
E0986 | Y |  | Man w/c push-rim pow assist |  |  |  |  |
E0990 | B |  | Whellchair elevating leg res |  |  |  |  |
E0992 | B |  | Wheelchair solid seat insert |  |  |  |  |
E0994 | Y |  | Wheelchair arm rest |  |  |  |  |
E0995 | B |  | Wheelchair calf rest |  |  |  |  |
E0996 | B |  | Wheelchair tire solid |  |  |  |  |
E0997 | Y |  | Wheelchair caster w/ a fork |  |  |  |  |
E0998 | Y |  | Wheelchair caster w/o a fork |  |  |  |  |
E0999 | Y |  | Wheelchr pneumatic tire w/wh |  |  |  |  |
E1000 | B |  | Wheelchair tire pneumatic ca |  |  |  |  |
E1001 | Y |  | Wheelchair wheel |  |  |  |  |
E1002 | Y |  | Pwr seat tilt |  |  |  |  |
E1003 | Y |  | Pwr seat recline |  |  |  |  |
E1004 | Y |  | Pwr seat recline mech |  |  |  |  |
E1005 | Y |  | Pwr seat recline pwr |  |  |  |  |
E1006 | Y |  | Pwr seat combo w/o shear |  |  |  |  |
E1007 | Y |  | Pwr seat combo w/shear |  |  |  |  |
E1008 | Y |  | Pwr seat combo pwr shear |  |  |  |  |
E1009 | Y |  | Add mech leg elevation |  |  |  |  |
E1010 | Y |  | Add pwr leg elevation |  |  |  |  |
E1011 | Y |  | Ped wc modify width adjustm |  |  |  |  |
E1014 | Y |  | Reclining back add ped w/c |  |  |  |  |
E1015 | Y |  | Shock absorber for man w/c |  |  |  |  |
E1016 | Y |  | Shock absorber for power w/c |  |  |  |  |
E1017 | Y |  | HD shck absrbr for hd man wc |  |  |  |  |
E1018 | Y |  | HD shck absrber for hd powwc |  |  |  |  |
E1019 | E |  | HD feature power seat |  |  |  |  |
E1020 | Y |  | Residual limb support system |  |  |  |  |
E1021 | E |  | Ex hd feature power seat |  |  |  |  |
E1025 | E |  | Pedwc lat/thor sup nocontour |  |  |  |  |
E1026 | E |  | Pedwc contoured lat/thor sup |  |  |  |  |
E1027 | E |  | Ped wc lat/ant support |  |  |  |  |
E1028 | Y |  | W/c manual swingaway |  |  |  |  |
E1029 | Y |  | W/c vent tray fixed |  |  |  |  |
E1030 | Y |  | W/c vent tray gimbaled |  |  |  |  |
E1031 | Y |  | Rollabout chair with casters |  |  |  |  |
E1035 | Y |  | Patient transfer system |  |  |  |  |
E1037 | Y |  | Transport chair, ped size |  |  |  |  |
E1038 | Y |  | Transport chair, adult size |  |  |  |  |
E1039 | Y |  | Transport chair pt wt>=250lb |  |  |  |  |
E1050 | A |  | Whelchr fxd full length arms |  |  |  |  |
E1060 | A |  | Wheelchair detachable arms |  |  |  |  |
E1070 | A |  | Wheelchair detachable foot r |  |  |  |  |
E1083 | A |  | Hemi-wheelchair fixed arms |  |  |  |  |
E1084 | A |  | Hemi-wheelchair detachable a |  |  |  |  |
E1085 | A |  | Hemi-wheelchair fixed arms |  |  |  |  |
E1086 | A |  | Hemi-wheelchair detachable a |  |  |  |  |
E1087 | A |  | Wheelchair lightwt fixed arm |  |  |  |  |
E1088 | A |  | Wheelchair lightweight det a |  |  |  |  |
E1089 | A |  | Wheelchair lightwt fixed arm |  |  |  |  |
E1090 | A |  | Wheelchair lightweight det a |  |  |  |  |
E1092 | A |  | Wheelchair wide w/ leg rests |  |  |  |  |
E1093 | A |  | Wheelchair wide w/ foot rest |  |  |  |  |
E1100 | A |  | Whchr s-recl fxd arm leg res |  |  |  |  |
E1110 | A |  | Wheelchair semi-recl detach |  |  |  |  |
E1130 | A |  | Whlchr stand fxd arm ft rest |  |  |  |  |
E1140 | A |  | Wheelchair standard detach a |  |  |  |  |
E1150 | Y |  | Wheelchair standard w/ leg r |  |  |  |  |
E1160 | A |  | Wheelchair fixed arms |  |  |  |  |
E1161 | A |  | Manual adult wc w tiltinspac |  |  |  |  |
E1170 | A |  | Whlchr ampu fxd arm leg rest |  |  |  |  |
E1171 | A |  | Wheelchair amputee w/o leg r |  |  |  |  |
E1172 | A |  | Wheelchair amputee detach ar |  |  |  |  |
E1180 | A |  | Wheelchair amputee w/ foot r |  |  |  |  |
E1190 | A |  | Wheelchair amputee w/ leg re |  |  |  |  |
E1195 | A |  | Wheelchair amputee heavy dut |  |  |  |  |
E1200 | A |  | Wheelchair amputee fixed arm |  |  |  |  |
E1210 | Y |  | Whlchr moto ful arm leg rest |  |  |  |  |
E1211 | Y |  | Wheelchair motorized w/ det |  |  |  |  |
E1212 | A |  | Wheelchair motorized w full |  |  |  |  |
E1213 | A |  | Wheelchair motorized w/ det |  |  |  |  |
E1220 | A |  | Whlchr special size/constrc |  |  |  |  |
E1221 | A |  | Wheelchair spec size w foot |  |  |  |  |
E1222 | A |  | Wheelchair spec size w/ leg |  |  |  |  |
E1223 | A |  | Wheelchair spec size w foot |  |  |  |  |
E1224 | A |  | Wheelchair spec size w/ leg |  |  |  |  |
E1225 | Y |  | Wheelchair spec sz semi-recl |  |  |  |  |
E1226 | B |  | W/C access fully reclineback |  |  |  |  |
E1227 | Y |  | Wheelchair spec sz spec ht a |  |  |  |  |
E1228 | Y |  | Wheelchair spec sz spec ht b |  |  |  |  |
E1229 | Y |  | Pediatric wheelchair NOS |  |  |  |  |
E1230 | Y |  | Power operated vehicle |  |  |  |  |
E1231 | Y |  | Rigid ped w/c tilt-in-space |  |  |  |  |
E1232 | Y |  | Folding ped wc tilt-in-space |  |  |  |  |
E1233 | Y |  | Rig ped wc tltnspc w/o seat |  |  |  |  |
E1234 | Y |  | Fld ped wc tltnspc w/o seat |  |  |  |  |
E1235 | Y |  | Rigid ped wc adjustable |  |  |  |  |
E1236 | Y |  | Folding ped wc adjustable |  |  |  |  |
E1237 | Y |  | Rgd ped wc adjstabl w/o seat |  |  |  |  |
E1238 | Y |  | Fld ped wc adjstabl w/o seat |  |  |  |  |
E1239 | Y |  | Ped power wheelchair NOS |  |  |  |  |
E1240 | A |  | Whchr litwt det arm leg rest |  |  |  |  |
E1250 | A |  | Wheelchair lightwt fixed arm |  |  |  |  |
E1260 | A |  | Wheelchair lightwt foot rest |  |  |  |  |
E1270 | A |  | Wheelchair lightweight leg r |  |  |  |  |
E1280 | A |  | Whchr h-duty det arm leg res |  |  |  |  |
E1285 | A |  | Wheelchair heavy duty fixed |  |  |  |  |
E1290 | A |  | Wheelchair hvy duty detach a |  |  |  |  |
E1295 | A |  | Wheelchair heavy duty fixed |  |  |  |  |
E1296 | Y |  | Wheelchair special seat heig |  |  |  |  |
E1297 | Y |  | Wheelchair special seat dept |  |  |  |  |
E1298 | Y |  | Wheelchair spec seat depth/w |  |  |  |  |
E1300 | E |  | Whirlpool portable |  |  |  |  |
E1310 | Y |  | Whirlpool non-portable |  |  |  |  |
E1340 | Y |  | Repair for DME, per 15 min |  |  |  |  |
E1353 | Y |  | Oxygen supplies regulator |  |  |  |  |
E1355 | Y |  | Oxygen supplies stand/rack |  |  |  |  |
E1372 | Y |  | Oxy suppl heater for nebuliz |  |  |  |  |
E1390 | Y |  | Oxygen concentrator |  |  |  |  |
E1391 | Y |  | Oxygen concentrator, dual |  |  |  |  |
E1399 | N |  | Durable medical equipment mi |  |  |  |  |
E1405 | Y |  | O2/water vapor enrich w/heat |  |  |  |  |
E1406 | Y |  | O2/water vapor enrich w/o he |  |  |  |  |
E1500 | A |  | Centrifuge |  |  |  |  |
E1510 | A |  | Kidney dialysate delivry sys |  |  |  |  |
E1520 | A |  | Heparin infusion pump |  |  |  |  |
E1530 | A |  | Replacement air bubble detec |  |  |  |  |
E1540 | A |  | Replacement pressure alarm |  |  |  |  |
E1550 | A |  | Bath conductivity meter |  |  |  |  |
E1560 | A |  | Replace blood leak detector |  |  |  |  |
E1570 | A |  | Adjustable chair for esrd pt |  |  |  |  |
E1575 | A |  | Transducer protect/fld bar |  |  |  |  |
E1580 | A |  | Unipuncture control system |  |  |  |  |
E1590 | A |  | Hemodialysis machine |  |  |  |  |
E1592 | A |  | Auto interm peritoneal dialy |  |  |  |  |
E1594 | A |  | Cycler dialysis machine |  |  |  |  |
E1600 | A |  | Deli/install chrg hemo equip |  |  |  |  |
E1610 | A |  | Reverse osmosis h2o puri sys |  |  |  |  |
E1615 | A |  | Deionizer H2O puri system |  |  |  |  |
E1620 | A |  | Replacement blood pump |  |  |  |  |
E1625 | A |  | Water softening system |  |  |  |  |
E1630 | A |  | Reciprocating peritoneal dia |  |  |  |  |
E1632 | A |  | Wearable artificial kidney |  |  |  |  |
E1634 | B |  | Peritoneal dialysis clamp |  |  |  |  |
E1635 | A |  | Compact travel hemodialyzer |  |  |  |  |
E1636 | A |  | Sorbent cartridges per 10 |  |  |  |  |
E1637 | A |  | Hemostats for dialysis, each |  |  |  |  |
E1639 | A |  | Dialysis scale |  |  |  |  |
E1699 | A |  | Dialysis equipment noc |  |  |  |  |
E1700 | Y |  | Jaw motion rehab system |  |  |  |  |
E1701 | Y |  | Repl cushions for jaw motion |  |  |  |  |
E1702 | Y |  | Repl measr scales jaw motion |  |  |  |  |
E1800 | Y |  | Adjust elbow ext/flex device |  |  |  |  |
E1801 | Y |  | SPS elbow device |  |  |  |  |
E1802 | Y |  | Adjst forearm pro/sup device |  |  |  |  |
E1805 | Y |  | Adjust wrist ext/flex device |  |  |  |  |
E1806 | Y |  | SPS wrist device |  |  |  |  |
E1810 | Y |  | Adjust knee ext/flex device |  |  |  |  |
E1811 | Y |  | SPS knee device |  |  |  |  |
E1815 | Y |  | Adjust ankle ext/flex device |  |  |  |  |
E1816 | Y |  | SPS ankle device |  |  |  |  |
E1818 | Y |  | SPS forearm device |  |  |  |  |
E1820 | Y |  | Soft interface material |  |  |  |  |
E1821 | Y |  | Replacement interface SPSD |  |  |  |  |
E1825 | Y |  | Adjust finger ext/flex devc |  |  |  |  |
E1830 | Y |  | Adjust toe ext/flex device |  |  |  |  |
E1840 | Y |  | Adj shoulder ext/flex device |  |  |  |  |
E1841 | Y |  | Static str shldr dev rom adj |  |  |  |  |
E1902 | A |  | AAC non-electronic board |  |  |  |  |
E2000 | Y |  | Gastric suction pump hme mdl |  |  |  |  |
E2100 | Y |  | Bld glucose monitor w voice |  |  |  |  |
E2101 | Y |  | Bld glucose monitor w lance |  |  |  |  |
E2120 | Y |  | Pulse gen sys tx endolymp fl |  |  |  |  |
E2201 | Y |  | Man w/ch acc seat w>=20″<24″ |  |  |  |  |
E2202 | Y |  | Seat width 24-27 in |  |  |  |  |
E2203 | Y |  | Frame depth less than 22 in |  |  |  |  |
E2204 | Y |  | Frame depth 22 to 25 in |  |  |  |  |
E2205 | Y |  | Manual wc accessory, handrim |  |  |  |  |
E2206 | Y |  | Complete wheel lock assembly |  |  |  |  |
E2291 | E |  | Planar back for ped size wc |  |  |  |  |
E2292 | E |  | Planar seat for ped size wc |  |  |  |  |
E2293 | E |  | Contour back for ped size wc |  |  |  |  |
E2294 | E |  | Contour seat for ped size wc |  |  |  |  |
E2300 | Y |  | Pwr seat elevation sys |  |  |  |  |
E2301 | Y |  | Pwr standing |  |  |  |  |
E2310 | Y |  | Electro connect btw control |  |  |  |  |
E2311 | Y |  | Electro connect btw 2 sys |  |  |  |  |
E2320 | Y |  | Hand chin control |  |  |  |  |
E2321 | Y |  | Hand interface joystick |  |  |  |  |
E2322 | Y |  | Mult mech switches |  |  |  |  |
E2323 | Y |  | Special joystick handle |  |  |  |  |
E2324 | Y |  | Chin cup interface |  |  |  |  |
E2325 | Y |  | Sip and puff interface |  |  |  |  |
E2326 | Y |  | Breath tube kit |  |  |  |  |
E2327 | Y |  | Head control interface mech |  |  |  |  |
E2328 | Y |  | Head/extremity control inter |  |  |  |  |
E2329 | Y |  | Head control nonproportional |  |  |  |  |
E2330 | Y |  | Head control proximity switc |  |  |  |  |
E2331 | Y |  | Attendant control |  |  |  |  |
E2340 | Y |  | W/c wdth 20-23 in seat frame |  |  |  |  |
E2341 | Y |  | W/c wdth 24-27 in seat frame |  |  |  |  |
E2342 | Y |  | W/c dpth 20-21 in seat frame |  |  |  |  |
E2343 | Y |  | W/c dpth 22-25 in seat frame |  |  |  |  |
E2351 | Y |  | Electronic SGD interface |  |  |  |  |
E2360 | Y |  | 22nf nonsealed leadacid |  |  |  |  |
E2361 | Y |  | 22nf sealed leadacid battery |  |  |  |  |
E2362 | Y |  | Gr24 nonsealed leadacid |  |  |  |  |
E2363 | Y |  | Gr24 sealed leadacid battery |  |  |  |  |
E2364 | Y |  | U1nonsealed leadacid battery |  |  |  |  |
E2365 | Y |  | U1 sealed leadacid battery |  |  |  |  |
E2366 | Y |  | Battery charger, single mode |  |  |  |  |
E2367 | Y |  | Battery charger, dual mode |  |  |  |  |
E2368 | Y |  | Power wc motor replacement |  |  |  |  |
E2369 | Y |  | Pwr wc gear box replacement |  |  |  |  |
E2370 | Y |  | Pwr wc motor/gear box combo |  |  |  |  |
E2399 | Y |  | Noc interface |  |  |  |  |
E2402 | Y |  | Neg press wound therapy pump |  |  |  |  |
E2500 | Y |  | SGD digitized pre-rec <=8min |  |  |  |  |
E2502 | Y |  | SGD prerec msg >8min <=20min |  |  |  |  |
E2504 | Y |  | SGD prerec msg>20min <=40min |  |  |  |  |
E2506 | Y |  | SGD prerec msg > 40 min |  |  |  |  |
E2508 | Y |  | SGD spelling phys contact |  |  |  |  |
E2510 | Y |  | SGD w multi methods msg/accs |  |  |  |  |
E2511 | Y |  | SGD sftwre prgrm for PC/PDA |  |  |  |  |
E2512 | Y |  | SGD accessory, mounting sys |  |  |  |  |
E2599 | Y |  | SGD accessory noc |  |  |  |  |
E2601 | Y |  | Gen w/c cushion wdth < 22 in |  |  |  |  |
E2602 | Y |  | Gen w/c cushion wdth >=22 in |  |  |  |  |
E2603 | Y |  | Skin protect wc cus wd <22in |  |  |  |  |
E2604 | Y |  | Skin protect wc cus wd>=22in |  |  |  |  |
E2605 | Y |  | Position wc cush wdth <22 in |  |  |  |  |
E2606 | Y |  | Position wc cush wdth>=22 in |  |  |  |  |
E2607 | Y |  | Skin pro/pos wc cus wd <22in |  |  |  |  |
E2608 | Y |  | Skin pro/pos wc cus wd>=22in |  |  |  |  |
E2609 | Y |  | Custom fabricate w/c cushion |  |  |  |  |
E2610 | B |  | Powered w/c cushion |  |  |  |  |
E2611 | Y |  | Gen use back cush wdth <22in |  |  |  |  |
E2612 | Y |  | Gen use back cush wdth>=22in |  |  |  |  |
E2613 | Y |  | Position back cush wd <22in |  |  |  |  |
E2614 | Y |  | Position back cush wd>=22in |  |  |  |  |
E2615 | Y |  | Pos back post/lat wdth <22in |  |  |  |  |
E2616 | Y |  | Pos back post/lat wdth>=22in |  |  |  |  |
E2617 | Y |  | Custom fab w/c back cushion |  |  |  |  |
E2618 | Y |  | Wc acc solid seat supp base |  |  |  |  |
E2619 | Y |  | Replace cover w/c seat cush |  |  |  |  |
E2620 | Y |  | WC planar back cush wd <22in |  |  |  |  |
E2621 | Y |  | WC planar back cush wd>=22in |  |  |  |  |
E8000 | E |  | Posterior gait trainer |  |  |  |  |
E8001 | E |  | Upright gait trainer |  |  |  |  |
E8002 | E |  | Anterior gait trainer |  |  |  |  |
G0008 | X |  | Admin influenza virus vac | 0350 | 0.3936 | $23.36 | $.00 | $.00
G0009 | X |  | Admin pneumococcal vaccine | 0350 | 0.3936 | $23.36 | $.00 | $.00
G0010 | B |  | Admin hepatitis b vaccine |  |  |  |  |
G0027 | A |  | Semen analysis |  |  |  |  |
G0101 | V |  | CA screen pelvic/breast exam | 0600 | 0.8649 | $51.33 |  | $10.27
G0102 | N |  | Prostate ca screening dre |  |  |  |  |
G0103 | A |  | Psa, total screening |  |  |  |  |
G0104 | S |  | CA screen flexi sigmoidscope | 0159 | 3.1312 | $185.84 |  | $46.46
G0105 | T |  | Colorectal scrn hi risk ind | 0158 | 7.6242 | $452.50 |  | $113.13
G0106 | S |  | Colon CA screen barium enema | 0157 | 2.2800 | $135.32 |  | $27.06
G0107 | A |  | CA screen fecal blood test |  |  |  |  |
G0108 | A |  | Diab manage trn per indiv |  |  |  |  |
G0109 | A |  | Diab manage trn ind/group |  |  |  |  |
G0110 | A |  | Nett pulm-rehab educ ind |  |  |  |  |
G0111 | A |  | Nett pulm-rehab educ group |  |  |  |  |
G0112 | A |  | Nett nutrition guid, initial |  |  |  |  |
G0113 | A |  | Nett nutrition guid,subseqnt |  |  |  |  |
G0114 | A |  | Nett psychosocial consult |  |  |  |  |
G0115 | A |  | Nett psychological testing |  |  |  |  |
G0116 | A |  | Nett psychosocial counsel |  |  |  |  |
G0117 | S |  | Glaucoma scrn hgh risk direc | 0230 | 0.7823 | $46.43 | $14.97 | $9.29
G0118 | S |  | Glaucoma scrn hgh risk direc | 0230 | 0.7823 | $46.43 | $14.97 | $9.29
G0120 | S |  | Colon ca scrn barium enema | 0157 | 2.2800 | $135.32 |  | $27.06
G0121 | T |  | Colon ca scrn not hi rsk ind | 0158 | 7.6242 | $452.50 |  | $113.13
G0122 | E |  | Colon ca scrn barium enema |  |  |  |  |
G0123 | A |  | Screen cerv/vag thin layer |  |  |  |  |
G0124 | A |  | Screen c/v thin layer by MD |  |  |  |  |
G0127 | T |  | Trim nail(s) | 0009 | 0.6650 | $39.47 | $8.34 | $7.89
G0128 | B |  | CORF skilled nursing service |  |  |  |  |
G0129 | P |  | Partial hosp prog service | 0033 | 4.0524 | $240.51 |  | $48.10
G0130 | X |  | Single energy x-ray study | 0260 | 0.7521 | $44.64 | $17.85 | $8.93
G0141 | E |  | Scr c/v cyto,autosys and md |  |  |  |  |
G0143 | A |  | Scr c/v cyto,thinlayer,rescr |  |  |  |  |
G0144 | A |  | Scr c/v cyto,thinlayer,rescr |  |  |  |  |
G0145 | A |  | Scr c/v cyto,thinlayer,rescr |  |  |  |  |
G0147 | A |  | Scr c/v cyto, automated sys |  |  |  |  |
G0148 | A |  | Scr c/v cyto, autosys, rescr |  |  |  |  |
G0151 | B |  | HHCP-serv of pt,ea 15 min |  |  |  |  |
G0152 | B |  | HHCP-serv of ot,ea 15 min |  |  |  |  |
G0153 | B |  | HHCP-svs of s/l path,ea 15mn |  |  |  |  |
G0154 | B |  | HHCP-svs of rn,ea 15 min |  |  |  |  |
G0155 | B |  | HHCP-svs of csw,ea 15 min |  |  |  |  |
G0156 | B |  | HHCP-svs of aide,ea 15 min |  |  |  |  |
G0166 | T |  | Extrnl counterpulse, per tx | 0678 | 1.7197 | $102.06 |  | $20.41
G0168 | N |  | Wound closure by adhesive |  |  |  |  |
G0173 | S |  | Linear acc stereo radsur com | 1528 |  | $5,250.00 |  | $1,050.00
G0175 | V |  | OPPS Service,sched team conf | 0602 | 1.4220 | $84.40 |  | $16.88
G0176 | P |  | OPPS/PHP activity therapy | 0033 | 4.0524 | $240.51 |  | $48.10
G0177 | P |  | OPPS/PHP train & educ serv | 0033 | 4.0524 | $240.51 |  | $48.10
G0179 | E |  | MD recertification HHA PT |  |  |  |  |
G0180 | E |  | MD certification HHA patient |  |  |  |  |
G0181 | E |  | Home health care supervision |  |  |  |  |
G0182 | E |  | Hospice care supervision |  |  |  |  |
G0186 | T |  | Dstry eye lesn,fdr vssl tech | 0235 | 4.6382 | $275.28 | $67.10 | $55.06
G0202 | A |  | Screeningmammographydigital |  |  |  |  |
G0204 | A |  | Diagnosticmammographydigital |  |  |  |  |
G0206 | A |  | Diagnosticmammographydigital |  |  |  |  |
G0219 | E |  | PET img whbd ring noncov ind |  |  |  |  |
G0235 | E |  | PET not otherwise specified |  |  |  |  |
G0237 | S |  | Therapeutic procd strg endur | 0411 | 0.3852 | $22.86 |  | $4.57
G0238 | S |  | Oth resp proc, indiv | 0411 | 0.3852 | $22.86 |  | $4.57
G0239 | S |  | Oth resp proc, group | 0411 | 0.3852 | $22.86 |  | $4.57
G0243 | S |  | Multisour photon stero treat | 1528 |  | $5,250.00 |  | $1,050.00
G0244 | B |  | Observ care by facility topt |  |  |  |  |
G0245 | V |  | Initial Foot Exam PTLOPS | 0600 | 0.8649 | $51.33 |  | $10.27
G0246 | V |  | Followup eval of foot pt lop | 0600 | 0.8649 | $51.33 |  | $10.27
G0247 | T |  | Routine footcare pt w lops | 0009 | 0.6650 | $39.47 | $8.34 | $7.89
G0248 | S |  | Demonstrate use home inr mon | 1503 |  | $150.00 |  | $30.00
G0249 | S |  | Provide test material,equipm | 1503 |  | $150.00 |  | $30.00
G0250 | E |  | MD review interpret of test |  |  |  |  |
G0251 | S |  | Linear acc based stero radio | 1513 |  | $1,150.00 |  | $230.00
G0252 | E |  | PET imaging initial dx |  |  |  |  |
G0255 | E |  | Current percep threshold tst |  |  |  |  |
G0257 | S |  | Unsched dialysis ESRD pt hos | 0170 | 5.8726 | $348.54 |  | $69.71
G0258 | X |  | IV infusion during obs stay | 0340 | 0.6355 | $37.72 |  | $7.54
G0259 | N |  | Inject for sacroiliac joint |  |  |  |  |
G0260 | T |  | Inj for sacroiliac jt anesth | 0206 | 5.4672 | $324.48 | $75.55 | $64.90
G0263 | B |  | Adm with CHF, CP, asthma |  |  |  |  |
G0264 | B |  | Assmt otr CHF, CP, asthma |  |  |  |  |
G0265 | A |  | Cryopresevation Freeze+stora |  |  |  |  |
G0266 | A |  | Thawing + expansion froz cel |  |  |  |  |
G0267 | S |  | Bone marrow or psc harvest | 0110 | 3.6428 | $216.20 |  | $43.24
G0268 | X |  | Removal of impacted wax md | 0340 | 0.6355 | $37.72 |  | $7.54
G0269 | N |  | Occlusive device in vein art |  |  |  |  |
G0270 | A |  | MNT subs tx for change dx |  |  |  |  |
G0271 | A |  | Group MNT 2 or more 30 mins |  |  |  |  |
G0275 | N |  | Renal angio, cardiac cath |  |  |  |  |
G0278 | N |  | Iliac art angio,cardiac cath |  |  |  |  |
G0279 | A |  | Excorp shock tx, elbow epi |  |  |  |  |
G0280 | A |  | Excorp shock tx other than |  |  |  |  |
G0281 | A |  | Elec stim unattend for press |  |  |  |  |
G0282 | E |  | Elect stim wound care not pd |  |  |  |  |
G0283 | A |  | Elec stim other than wound |  |  |  |  |
G0288 | S |  | Recon, CTA for pre & post su | 0417 | 4.0566 | $240.76 |  | $48.15
G0289 | N |  | Arthro, loose body + chondro |  |  |  |  |
G0290 | T |  | Drug-eluting stents, single | 0656 | 109.4258 | $6,494.42 |  | $1,298.88
G0291 | T |  | Drug-eluting stents,each add | 0656 | 109.4258 | $6,494.42 |  | $1,298.88
G0293 | S |  | Non-cov surg proc,clin trial | 1505 |  | $350.00 |  | $70.00
G0294 | S |  | Non-cov proc, clinical trial | 1502 |  | $75.00 |  | $15.00
G0295 | E |  | Electromagnetic therapy onc |  |  |  |  |
G0297 | T |  | Insert single chamber/cd | 0107 | 258.8517 | $15,362.85 | $3,089.53 | $3,072.57
G0298 | T |  | Insert dual chamber/cd | 0107 | 258.8517 | $15,362.85 | $3,089.53 | $3,072.57
G0299 | T |  | Inser/repos single icd+leads | 0108 | 347.5867 | $20,629.27 |  | $4,125.85
G0300 | T |  | Insert reposit lead dual+gen | 0108 | 347.5867 | $20,629.27 |  | $4,125.85
G0302 | S |  | Pre-op service LVRS complete | 1509 |  | $750.00 |  | $150.00
G0303 | S |  | Pre-op service LVRS 10-15dos | 1507 |  | $550.00 |  | $110.00
G0304 | S |  | Pre-op service LVRS 1-9 dos | 1504 |  | $250.00 |  | $50.00
G0305 | S |  | Post op service LVRS min 6 | 1504 |  | $250.00 |  | $50.00
G0306 | A |  | CBC/diffwbc w/o platelet |  |  |  |  |
G0307 | A |  | CBC without platelet |  |  |  |  |
G0308 | A |  | ESRD related svc 4+mo<2yrs |  |  |  |  |
G0309 | A |  | ESRD related svc 2-3mo<2yrs |  |  |  |  |
G0310 | A |  | ESRD related svc 1vst<2yr |  |  |  |  |
G0311 | A |  | ESRD related svs 4+mo 2-11yr |  |  |  |  |
G0312 | A |  | ESRD relate svs 2-3 mo 2-11y |  |  |  |  |
G0313 | A |  | ESRD related svs 1 mon 2-11y |  |  |  |  |
G0314 | A |  | ESRD relate svs 4+mo 12-19 |  |  |  |  |
G0315 | A |  | ESRD related svs 2-3 mo 12-1 |  |  |  |  |
G0316 | A |  | ESRD related svs 1 vis/12-19 |  |  |  |  |
G0317 | A |  | ESRD related svs 4+mo 20+yrs |  |  |  |  |
G0318 | A |  | ESRD related svs 2-3 mo 20+y |  |  |  |  |
G0319 | A |  | ESRD related svs 1visit 20+y |  |  |  |  |
G0320 | A |  | ESRD related svs home under |  |  |  |  |
G0321 | A |  | ESRDrelatedsvs home mo 2-11y |  |  |  |  |
G0322 | A |  | ESRD related svs home mo12-1 |  |  |  |  |
G0323 | A |  | ESRD related svs home mo 20+ |  |  |  |  |
G0324 | A |  | ESRD related svs home/dy/2y |  |  |  |  |
G0325 | A |  | ESRD relate home/dy 2-11yr |  |  |  |  |
G0326 | A |  | ESRD relate home/dy 12-19y |  |  |  |  |
G0327 | A |  | ESRD relate home/dy 20+yrs |  |  |  |  |
G0328 | A |  | Fecal blood scrn immunoassay |  |  |  |  |
G0329 | A |  | Electromagntic tx for ulcers |  |  |  |  |
G0337 | A |  | Hospice evaluation preelecti |  |  |  |  |
G0339 | S |  | Robot lin-radsurg com, first | 1528 |  | $5,250.00 |  | $1,050.00
G0340 | S |  | Robt lin-radsurg fractx 2-5 | 1525 |  | $3,750.00 |  | $750.00
G0341 | C |  | Percutaneous islet celltrans |  |  |  |  |
G0342 | C |  | Laparoscopy Islet cell Trans |  |  |  |  |
G0343 | C |  | Laparotomy Islet cell tranp |  |  |  |  |
G0344 | V |  | Initial preventive exam | 0601 | 0.9992 | $59.30 |  | $11.86
G0345 | M |  | IV infuse hydration initial |  |  |  |  |
G0346 | M |  | Each additional infuse hours |  |  |  |  |
G0347 | M |  | IV infusion therapy/diagnost |  |  |  |  |
G0348 | M |  | each additional hr up to 8hr |  |  |  |  |
G0349 | M |  | additional sequential infuse |  |  |  |  |
G0350 | M |  | concurrent infusion |  |  |  |  |
G0351 | M |  | therapeutic/diagnostic injec |  |  |  |  |
G0353 | M |  | IV push,single orinitial dru |  |  |  |  |
G0354 | M |  | each addition sequential IV |  |  |  |  |
G0355 | M |  | chemo administrate subcut/IM |  |  |  |  |
G0356 | M |  | hormonal anti-neoplastic |  |  |  |  |
G0357 | M |  | IV push single/initial subst |  |  |  |  |
G0358 | M |  | IV push each additional drug |  |  |  |  |
G0359 | M |  | chemotherapy IV one hr initi |  |  |  |  |
G0360 | M |  | each additional hr 1-8 hrs |  |  |  |  |
G0361 | M |  | prolong chemo Infuse>8hrs pu |  |  |  |  |
G0362 | M |  | each add sequential infusion |  |  |  |  |
G0363 | M |  | irrigate implanted venous de |  |  |  |  |
G0364 | X |  | Bone marrow aspirate & biops | 0342 | 0.1553 | $9.22 | $3.68 | $1.84
G0365 | S |  | Vessel mapping hemo access | 0267 | 2.6208 | $155.54 | $62.18 | $31.11
G0366 | B |  | EKG for initial prevent exam |  |  |  |  |
G0367 | S |  | EKG tracing for initial prev | 0099 | 0.3804 | $22.58 |  | $4.52
G0368 | M |  | EKG interpret & report preve |  |  |  |  |
G0369 | M |  | Pharm fee 1st month transpla |  |  |  |  |
G0370 | M |  | Pharmacy fee oral cancer etc |  |  |  |  |
G0371 | M |  | Pharm dispense inhalation 30 |  |  |  |  |
G0374 | M |  | Pharm dispense inhalation 90 |  |  |  |  |
G0375 | S |  | Smoke/Tobacco counseling 3-1 | 1491 |  | $5.00 |  | $1.00
G0376 | S |  | Smoke/Tobacco counseling >10 | 1491 |  | $5.00 |  | $1.00
G3001 | S |  | Admin + supply, tositumomab | 1522 |  | $2,250.00 |  | $450.00
G9001 | B |  | MCCD, initial rate |  |  |  |  |
G9002 | B |  | MCCD,maintenance rate |  |  |  |  |
G9003 | B |  | MCCD, risk adj hi, initial |  |  |  |  |
G9004 | B |  | MCCD, risk adj lo, initial |  |  |  |  |
G9005 | B |  | MCCD, risk adj, maintenance |  |  |  |  |
G9006 | B |  | MCCD, Home monitoring |  |  |  |  |
G9007 | B |  | MCCD, sch team conf |  |  |  |  |
G9008 | B |  | Mccd,phys coor-care ovrsght |  |  |  |  |
G9009 | E |  | MCCD, risk adj, level 3 |  |  |  |  |
G9010 | E |  | MCCD, risk adj, level 4 |  |  |  |  |
G9011 | E |  | MCCD, risk adj, level 5 |  |  |  |  |
G9012 | E |  | Other Specified Case Mgmt |  |  |  |  |
G9013 | E |  | ESRD demo bundle level I |  |  |  |  |
G9014 | E |  | ESRD demo bundle-level II |  |  |  |  |
G9016 | E |  | Demo-smoking cessation coun |  |  |  |  |
G9017 | A |  | Amantadine HCL,oral |  |  |  |  |
G9018 | A |  | Zanamivir, inh pwdr |  |  |  |  |
G9019 | A |  | Oseltamivir phosp |  |  |  |  |
G9020 | A |  | Rimantadine HCL |  |  |  |  |
G9021 | M |  | Chemo assess nausea vomit L1 |  |  |  |  |
G9022 | M |  | Chemo assess nausea vomit L2 |  |  |  |  |
G9023 | M |  | Chemo assess nausea vomit L3 |  |  |  |  |
G9024 | M |  | Chemo assess nausea vomit L4 |  |  |  |  |
G9025 | M |  | Chemo assessment pain level1 |  |  |  |  |
G9026 | M |  | Chemo assessment pain level2 |  |  |  |  |
G9027 | M |  | Chemo assessment pain level3 |  |  |  |  |
G9028 | M |  | Chemo assessment pain level4 |  |  |  |  |
G9029 | M |  | Chemo assess for fatigue L1 |  |  |  |  |
G9030 | M |  | Chemo assess for fatigue L2 |  |  |  |  |
G9031 | M |  | Chemo assess for fatigue L3 |  |  |  |  |
G9032 | M |  | Chemo assess for fatigue L4 |  |  |  |  |
G9033 | A |  | Amantadine HCL, oral, brand |  |  |  |  |
G9034 | A |  | Zanamivir, inh pwdr, brand |  |  |  |  |
G9035 | A |  | Oseltamivir phosp, brand |  |  |  |  |
G9036 | A |  | Rimantadine HCL, brand |  |  |  |  |
G9041 | A |  | Low vision serv occupational |  |  |  |  |
G9042 | A |  | Low vision orient/mobility |  |  |  |  |
G9043 | A |  | Low vision rehab therapist |  |  |  |  |
G9044 | A |  | Low vision rehab teacher |  |  |  |  |
J0120 | N |  | Tetracyclin injection |  |  |  |  |
J0128 | G |  | Abarelix injection | 9216 |  | $66.96 |  | $13.39
J0130 | K |  | Abciximab injection | 1605 |  | $450.56 |  | $90.11
J0135 | K |  | Adalimumab injection | 1083 |  | $300.07 |  | $60.01
J0150 | K |  | Injection adenosine 6 MG | 0379 |  | $33.44 |  | $6.69
J0152 | K |  | Adenosine injection | 0917 |  | $71.52 |  | $14.30
J0170 | N |  | Adrenalin epinephrin inject |  |  |  |  |
J0180 | K |  | Agalsidase beta injection | 9208 |  | $123.35 |  | $24.67
J0190 | N |  | Inj biperiden lactate/5 mg |  |  |  |  |
J0200 | N |  | Alatrofloxacin mesylate |  |  |  |  |
J0205 | K |  | Alglucerase injection | 0900 |  | $39.94 |  | $7.99
J0207 | K |  | Amifostine | 7000 |  | $435.98 |  | $87.20
J0210 | K |  | Methyldopate hcl injection | 2210 |  | $9.58 |  | $1.92
J0215 | B |  | Alefacept |  |  |  |  |
J0256 | K |  | Alpha 1 proteinase inhibitor | 0901 |  | $3.30 |  | $.66
J0270 | B |  | Alprostadil for injection |  |  |  |  |
J0275 | B |  | Alprostadil urethral suppos |  |  |  |  |
J0280 | N |  | Aminophyllin 250 MG inj |  |  |  |  |
J0282 | N |  | Amiodarone HCl |  |  |  |  |
J0285 | K |  | Amphotericin B | 9030 |  | $30.70 |  | $6.14
J0287 | K |  | Amphotericin b lipid complex | 9024 |  | $11.95 |  | $2.39
J0288 | K |  | Ampho b cholesteryl sulfate | 0735 |  | $12.24 |  | $2.45
J0289 | K |  | Amphotericin b liposome inj | 0736 |  | $21.91 |  | $4.38
J0290 | N |  | Ampicillin 500 MG inj |  |  |  |  |
J0295 | N |  | Ampicillin sodium per 1.5 gm |  |  |  |  |
J0300 | N |  | Amobarbital 125 MG inj |  |  |  |  |
J0330 | N |  | Succinycholine chloride inj |  |  |  |  |
J0350 | N |  | Injection anistreplase 30 u |  |  |  |  |
J0360 | N |  | Hydralazine hcl injection |  |  |  |  |
J0380 | N |  | Inj metaraminol bitartrate |  |  |  |  |
J0390 | N |  | Chloroquine injection |  |  |  |  |
J0395 | K |  | Arbutamine HCl injection | 9031 |  | $163.13 |  | $32.63
J0456 | N |  | Azithromycin |  |  |  |  |
J0460 | N |  | Atropine sulfate injection |  |  |  |  |
J0470 | N |  | Dimecaprol injection |  |  |  |  |
J0475 | K |  | Baclofen 10 MG injection | 9032 |  | $188.00 |  | $37.60
J0476 | B |  | Baclofen intrathecal trial |  |  |  |  |
J0500 | N |  | Dicyclomine injection |  |  |  |  |
J0515 | N |  | Inj benztropine mesylate |  |  |  |  |
J0520 | N |  | Bethanechol chloride inject |  |  |  |  |
J0530 | N |  | Penicillin g benzathine inj |  |  |  |  |
J0540 | N |  | Penicillin g benzathine inj |  |  |  |  |
J0550 | N |  | Penicillin g benzathine inj |  |  |  |  |
J0560 | N |  | Penicillin g benzathine inj |  |  |  |  |
J0570 | N |  | Penicillin g benzathine inj |  |  |  |  |
J0580 | K |  | Penicillin g benzathine inj | 0880 |  | $72.25 |  | $14.45
J0583 | N |  | Bivalirudin |  |  |  |  |
J0585 | K |  | Botulinum toxin a per unit | 0902 |  | $4.80 |  | $.96
J0587 | K |  | Botulinum toxin type B | 9018 |  | $7.89 |  | $1.58
J0592 | N |  | Buprenorphine hydrochloride |  |  |  |  |
J0595 | N |  | Butorphanol tartrate 1 mg |  |  |  |  |
J0600 | K |  | Edetate calcium disodium inj | 0892 |  | $40.34 |  | $8.07
J0610 | N |  | Calcium gluconate injection |  |  |  |  |
J0620 | N |  | Calcium glycer & lact/10 ML |  |  |  |  |
J0630 | K |  | Calcitonin salmon injection | 0893 |  | $35.68 |  | $7.14
J0636 | N |  | Inj calcitriol per 0.1 mcg |  |  |  |  |
J0637 | K |  | Caspofungin acetate | 9019 |  | $32.35 |  | $6.47
J0640 | N |  | Leucovorin calcium injection |  |  |  |  |
J0670 | N |  | Inj mepivacaine HCL/10 ml |  |  |  |  |
J0690 | N |  | Cefazolin sodium injection |  |  |  |  |
J0692 | N |  | Cefepime HCl for injection |  |  |  |  |
J0694 | N |  | Cefoxitin sodium injection |  |  |  |  |
J0696 | N |  | Ceftriaxone sodium injection |  |  |  |  |
J0697 | N |  | Sterile cefuroxime injection |  |  |  |  |
J0698 | N |  | Cefotaxime sodium injection |  |  |  |  |
J0702 | N |  | Betamethasone acet&sod phosp |  |  |  |  |
J0704 | N |  | Betamethasone sod phosp/4 MG |  |  |  |  |
J0706 | K |  | Caffeine citrate injection | 0876 |  | $3.34 |  | $.67
J0710 | N |  | Cephapirin sodium injection |  |  |  |  |
J0713 | N |  | Inj ceftazidime per 500 mg |  |  |  |  |
J0715 | N |  | Ceftizoxime sodium / 500 MG |  |  |  |  |
J0720 | N |  | Chloramphenicol sodium injec |  |  |  |  |
J0725 | N |  | Chorionic gonadotropin/1000u |  |  |  |  |
J0735 | K |  | Clonidine hydrochloride | 0935 |  | $57.46 |  | $11.49
J0740 | K |  | Cidofovir injection | 9033 |  | $782.91 |  | $156.58
J0743 | N |  | Cilastatin sodium injection |  |  |  |  |
J0744 | N |  | Ciprofloxacin iv |  |  |  |  |
J0745 | N |  | Inj codeine phosphate /30 MG |  |  |  |  |
J0760 | N |  | Colchicine injection |  |  |  |  |
J0770 | N |  | Colistimethate sodium inj |  |  |  |  |
J0780 | N |  | Prochlorperazine injection |  |  |  |  |
J0800 | K |  | Corticotropin injection | 1280 |  | $95.43 |  | $19.09
J0835 | K |  | Inj cosyntropin per 0.25 MG | 0835 |  | $69.27 |  | $13.85
J0850 | K |  | Cytomegalovirus imm IV /vial | 0903 |  | $683.02 |  | $136.60
J0878 | G |  | Daptomycin injection | 9124 |  | $.30 |  | $.06
J0880 | E |  | Darbepoetin alfa injection |  |  |  |  |
J0895 | K |  | Deferoxamine mesylate inj | 0895 |  | $14.91 |  | $2.98
J0900 | N |  | Testosterone enanthate inj |  |  |  |  |
J0945 | N |  | Brompheniramine maleate inj |  |  |  |  |
J0970 | N |  | Estradiol valerate injection |  |  |  |  |
J1000 | N |  | Depo-estradiol cypionate inj |  |  |  |  |
J1020 | N |  | Methylprednisolone 20 MG inj |  |  |  |  |
J1030 | N |  | Methylprednisolone 40 MG inj |  |  |  |  |
J1040 | N |  | Methylprednisolone 80 MG inj |  |  |  |  |
J1051 | N |  | Medroxyprogesterone inj |  |  |  |  |
J1055 | E |  | Medrxyprogester acetate inj |  |  |  |  |
J1056 | E |  | MA/EC contraceptiveinjection |  |  |  |  |
J1060 | N |  | Testosterone cypionate 1 ML |  |  |  |  |
J1070 | N |  | Testosterone cypionat 100 MG |  |  |  |  |
J1080 | N |  | Testosterone cypionat 200 MG |  |  |  |  |
J1094 | N |  | Inj dexamethasone acetate |  |  |  |  |
J1100 | N |  | Dexamethasone sodium phos |  |  |  |  |
J1110 | K |  | Inj dihydroergotamine mesylt | 1210 |  | $27.82 |  | $5.56
J1120 | N |  | Acetazolamid sodium injectio |  |  |  |  |
J1160 | N |  | Digoxin injection |  |  |  |  |
J1165 | N |  | Phenytoin sodium injection |  |  |  |  |
J1170 | N |  | Hydromorphone injection |  |  |  |  |
J1180 | K |  | Dyphylline injection | 9166 |  | $7.74 |  | $1.55
J1190 | K |  | Dexrazoxane HCl injection | 0726 |  | $216.38 |  | $43.28
J1200 | N |  | Diphenhydramine hcl injectio |  |  |  |  |
J1205 | N |  | Chlorothiazide sodium inj |  |  |  |  |
J1212 | N |  | Dimethyl sulfoxide 50% 50 ML |  |  |  |  |
J1230 | N |  | Methadone injection |  |  |  |  |
J1240 | N |  | Dimenhydrinate injection |  |  |  |  |
J1245 | N |  | Dipyridamole injection |  |  |  |  |
J1250 | N |  | Inj dobutamine HCL/250 mg |  |  |  |  |
J1260 | K |  | Dolasetron mesylate | 0750 |  | $6.55 |  | $1.31
J1270 | N |  | Injection, doxercalciferol |  |  |  |  |
J1320 | N |  | Amitriptyline injection |  |  |  |  |
J1325 | N |  | Epoprostenol injection |  |  |  |  |
J1327 | K |  | Eptifibatide injection | 1607 |  | $12.73 |  | $2.55
J1330 | K |  | Ergonovine maleate injection | 1330 | 0.5262 | $31.23 |  | $6.25
J1335 | N |  | Ertapenem injection |  |  |  |  |
J1364 | N |  | Erythro lactobionate /500 MG |  |  |  |  |
J1380 | N |  | Estradiol valerate 10 MG inj |  |  |  |  |
J1390 | N |  | Estradiol valerate 20 MG inj |  |  |  |  |
J1410 | K |  | Inj estrogen conjugate 25 MG | 9038 |  | $57.76 |  | $11.55
J1435 | N |  | Injection estrone per 1 MG |  |  |  |  |
J1436 | K |  | Etidronate disodium inj | 1436 |  | $68.69 |  | $13.74
J1438 | K |  | Etanercept injection | 1608 |  | $152.10 |  | $30.42
J1440 | K |  | Filgrastim 300 mcg injection | 0728 |  | $178.38 |  | $35.68
J1441 | K |  | Filgrastim 480 mcg injection | 7049 |  | $282.27 |  | $56.45
J1450 | N |  | Fluconazole |  |  |  |  |
J1452 | K |  | Intraocular Fomivirsen na | 9040 |  | $203.91 |  | $40.78
J1455 | N |  | Foscarnet sodium injection |  |  |  |  |
J1457 | K |  | Gallium nitrate injection | 1085 |  | $1.30 |  | $.26
J1460 | N |  | Gamma globulin 1 CC inj |  |  |  |  |
J1470 | B |  | Gamma globulin 2 CC inj |  |  |  |  |
J1480 | B |  | Gamma globulin 3 CC inj |  |  |  |  |
J1490 | B |  | Gamma globulin 4 CC inj |  |  |  |  |
J1500 | B |  | Gamma globulin 5 CC inj |  |  |  |  |
J1510 | B |  | Gamma globulin 6 CC inj |  |  |  |  |
J1520 | B |  | Gamma globulin 7 CC inj |  |  |  |  |
J1530 | B |  | Gamma globulin 8 CC inj |  |  |  |  |
J1540 | B |  | Gamma globulin 9 CC inj |  |  |  |  |
J1550 | B |  | Gamma globulin 10 CC inj |  |  |  |  |
J1560 | B |  | Gamma globulin > 10 CC inj |  |  |  |  |
J1563 | E |  | IV immune globulin |  |  |  |  |
J1564 | E |  | Immune globulin 10 mg |  |  |  |  |
J1565 | K |  | RSV-ivig | 0906 |  | $15.56 |  | $3.11
J1570 | N |  | Ganciclovir sodium injection |  |  |  |  |
J1580 | N |  | Garamycin gentamicin inj |  |  |  |  |
J1590 | N |  | Gatifloxacin injection |  |  |  |  |
J1595 | N |  | Injection glatiramer acetate |  |  |  |  |
J1600 | N |  | Gold sodium thiomaleate inj |  |  |  |  |
J1610 | K |  | Glucagon hydrochloride/1 MG | 9042 |  | $62.16 |  | $12.43
J1620 | K |  | Gonadorelin hydroch/ 100 mcg | 7005 |  | $173.42 |  | $34.68
J1626 | K |  | Granisetron HCl injection | 0764 |  | $7.24 |  | $1.45
J1630 | N |  | Haloperidol injection |  |  |  |  |
J1631 | N |  | Haloperidol decanoate inj |  |  |  |  |
J1642 | N |  | Inj heparin sodium per 10 u |  |  |  |  |
J1644 | N |  | Inj heparin sodium per 1000u |  |  |  |  |
J1645 | N |  | Dalteparin sodium |  |  |  |  |
J1650 | N |  | Inj enoxaparin sodium |  |  |  |  |
J1652 | N |  | Fondaparinux sodium |  |  |  |  |
J1655 | K |  | Tinzaparin sodium injection | 1655 |  | $2.53 |  | $.51
J1670 | K |  | Tetanus immune globulin inj | 1670 |  | $76.89 |  | $15.38
J1700 | N |  | Hydrocortisone acetate inj |  |  |  |  |
J1710 | N |  | Hydrocortisone sodium ph inj |  |  |  |  |
J1720 | N |  | Hydrocortisone sodium succ i |  |  |  |  |
J1730 | K |  | Diazoxide injection | 1740 |  | $113.85 |  | $22.77
J1742 | K |  | Ibutilide fumarate injection | 9044 |  | $243.32 |  | $48.66
J1745 | K |  | Infliximab injection | 7043 |  | $54.19 |  | $10.84
J1750 | K |  | Iron dextran | 9045 |  | $11.43 |  | $2.29
J1756 | K |  | Iron sucrose injection | 9046 |  | $.38 |  | $.08
J1785 | K |  | Injection imiglucerase /unit | 0916 |  | $3.98 |  | $.80
J1790 | N |  | Droperidol injection |  |  |  |  |
J1800 | N |  | Propranolol injection |  |  |  |  |
J1810 | E |  | Droperidol/fentanyl inj |  |  |  |  |
J1815 | N |  | Insulin injection |  |  |  |  |
J1817 | N |  | Insulin for insulin pump use |  |  |  |  |
J1825 | E |  | Interferon beta-1a |  |  |  |  |
J1830 | K |  | Interferon beta-1b / .25 MG | 0910 |  | $81.94 |  | $16.39
J1835 | K |  | Itraconazole injection | 9047 |  | $36.93 |  | $7.39
J1840 | N |  | Kanamycin sulfate 500 MG inj |  |  |  |  |
J1850 | N |  | Kanamycin sulfate 75 MG inj |  |  |  |  |
J1885 | N |  | Ketorolac tromethamine inj |  |  |  |  |
J1890 | N |  | Cephalothin sodium injection |  |  |  |  |
J1931 | K |  | Laronidase injection | 9209 |  | $23.16 |  | $4.63
J1940 | N |  | Furosemide injection |  |  |  |  |
J1950 | K |  | Leuprolide acetate /3.75 MG | 0800 |  | $441.74 |  | $88.35
J1955 | B |  | Inj levocarnitine per 1 gm |  |  |  |  |
J1956 | N |  | Levofloxacin injection |  |  |  |  |
J1960 | N |  | Levorphanol tartrate inj |  |  |  |  |
J1980 | N |  | Hyoscyamine sulfate inj |  |  |  |  |
J1990 | N |  | Chlordiazepoxide injection |  |  |  |  |
J2001 | N |  | Lidocaine injection |  |  |  |  |
J2010 | N |  | Lincomycin injection |  |  |  |  |
J2020 | K |  | Linezolid injection | 9001 |  | $24.15 |  | $4.83
J2060 | N |  | Lorazepam injection |  |  |  |  |
J2150 | N |  | Mannitol injection |  |  |  |  |
J2175 | N |  | Meperidine hydrochl /100 MG |  |  |  |  |
J2180 | N |  | Meperidine/promethazine inj |  |  |  |  |
J2185 | N |  | Meropenem |  |  |  |  |
J2210 | N |  | Methylergonovin maleate inj |  |  |  |  |
J2250 | N |  | Inj midazolam hydrochloride |  |  |  |  |
J2260 | N |  | Inj milrinone lactate / 5 MG |  |  |  |  |
J2270 | N |  | Morphine sulfate injection |  |  |  |  |
J2271 | N |  | Morphine so4 injection 100mg |  |  |  |  |
J2275 | N |  | Morphine sulfate injection |  |  |  |  |
J2280 | N |  | Inj, moxifloxacin 100 mg |  |  |  |  |
J2300 | N |  | Inj nalbuphine hydrochloride |  |  |  |  |
J2310 | N |  | Inj naloxone hydrochloride |  |  |  |  |
J2320 | N |  | Nandrolone decanoate 50 MG |  |  |  |  |
J2321 | N |  | Nandrolone decanoate 100 MG |  |  |  |  |
J2322 | N |  | Nandrolone decanoate 200 MG |  |  |  |  |
J2324 | K |  | Nesiritide | 9114 |  | $75.18 |  | $15.04
J2353 | K |  | Octreotide injection, depot | 1207 |  | $87.39 |  | $17.48
J2354 | N |  | Octreotide inj, non-depot |  |  |  |  |
J2355 | K |  | Oprelvekin injection | 7011 |  | $249.04 |  | $49.81
J2357 | G |  | Omalizumab injection | 9300 |  | $15.98 |  | $3.20
J2360 | N |  | Orphenadrine injection |  |  |  |  |
J2370 | N |  | Phenylephrine hcl injection |  |  |  |  |
J2400 | N |  | Chloroprocaine hcl injection |  |  |  |  |
J2405 | K |  | Ondansetron hcl injection | 0768 |  | $3.80 |  | $.76
J2410 | N |  | Oxymorphone hcl injection |  |  |  |  |
J2430 | K |  | Pamidronate disodium /30 MG | 0730 |  | $58.41 |  | $11.68
J2440 | N |  | Papaverin hcl injection |  |  |  |  |
J2460 | N |  | Oxytetracycline injection |  |  |  |  |
J2469 | K |  | Palonosetron HCl | 9210 |  | $18.42 |  | $3.68
J2501 | N |  | Paricalcitol |  |  |  |  |
J2505 | K |  | Injection, pegfilgrastim 6mg | 9119 |  | $2,178.11 |  | $435.62
J2510 | N |  | Penicillin g procaine inj |  |  |  |  |
J2515 | N |  | Pentobarbital sodium inj |  |  |  |  |
J2540 | N |  | Penicillin g potassium inj |  |  |  |  |
J2543 | N |  | Piperacillin/tazobactam |  |  |  |  |
J2545 | Y |  | Pentamidine isethionte/300mg |  |  |  |  |
J2550 | N |  | Promethazine hcl injection |  |  |  |  |
J2560 | N |  | Phenobarbital sodium inj |  |  |  |  |
J2590 | N |  | Oxytocin injection |  |  |  |  |
J2597 | N |  | Inj desmopressin acetate |  |  |  |  |
J2650 | N |  | Prednisolone acetate inj |  |  |  |  |
J2670 | N |  | Totazoline hcl injection |  |  |  |  |
J2675 | N |  | Inj progesterone per 50 MG |  |  |  |  |
J2680 | N |  | Fluphenazine decanoate 25 MG |  |  |  |  |
J2690 | N |  | Procainamide hcl injection |  |  |  |  |
J2700 | N |  | Oxacillin sodium injeciton |  |  |  |  |
J2710 | N |  | Neostigmine methylslfte inj |  |  |  |  |
J2720 | N |  | Inj protamine sulfate/10 MG |  |  |  |  |
J2725 | N |  | Inj protirelin per 250 mcg |  |  |  |  |
J2730 | K |  | Pralidoxime chloride inj | 2730 |  | $76.67 |  | $15.33
J2760 | N |  | Phentolaine mesylate inj |  |  |  |  |
J2765 | N |  | Metoclopramide hcl injection |  |  |  |  |
J2770 | K |  | Quinupristin/dalfopristin | 2770 |  | $105.48 |  | $21.10
J2780 | N |  | Ranitidine hydrochloride inj |  |  |  |  |
J2783 | G |  | Rasburicase | 0738 |  | $109.17 |  | $21.83
J2788 | K |  | Rho d immune globulin 50 mcg | 9023 |  | $25.08 |  | $5.02
J2790 | K |  | Rho d immune globulin inj | 0884 |  | $113.90 |  | $22.78
J2792 | K |  | Rho(D) immune globulin h, sd | 1609 |  | $12.04 |  | $2.41
J2794 | G |  | Risperidone, long acting | 9125 |  | $4.71 |  | $.94
J2795 | N |  | Ropivacaine HCl injection |  |  |  |  |
J2800 | N |  | Methocarbamol injection |  |  |  |  |
J2810 | N |  | Inj theophylline per 40 MG |  |  |  |  |
J2820 | K |  | Sargramostim injection | 0731 |  | $21.11 |  | $4.22
J2910 | N |  | Aurothioglucose injeciton |  |  |  |  |
J2912 | N |  | Sodium chloride injection |  |  |  |  |
J2916 | N |  | Na ferric gluconate complex |  |  |  |  |
J2920 | N |  | Methylprednisolone injection |  |  |  |  |
J2930 | N |  | Methylprednisolone injection |  |  |  |  |
J2940 | K |  | Somatrem injection | 2940 |  | $43.13 |  | $8.63
J2941 | K |  | Somatropin injection | 7034 |  | $42.93 |  | $8.59
J2950 | N |  | Promazine hcl injection |  |  |  |  |
J2993 | K |  | Reteplase injection | 9005 |  | $898.74 |  | $179.75
J2995 | K |  | Inj streptokinase /250000 IU | 0911 |  | $83.35 |  | $16.67
J2997 | K |  | Alteplase recombinant | 7048 |  | $30.65 |  | $6.13
J3000 | N |  | Streptomycin injection |  |  |  |  |
J3010 | N |  | Fentanyl citrate injeciton |  |  |  |  |
J3030 | K |  | Sumatriptan succinate / 6 MG | 3030 |  | $51.03 |  | $10.21
J3070 | N |  | Pentazocine hcl injection |  |  |  |  |
J3100 | K |  | Tenecteplase injection | 9002 |  | $2,052.60 |  | $410.52
J3105 | N |  | Terbutaline sulfate inj |  |  |  |  |
J3110 | B |  | Teriparatide injection |  |  |  |  |
J3120 | N |  | Testosterone enanthate inj |  |  |  |  |
J3130 | N |  | Testosterone enanthate inj |  |  |  |  |
J3140 | N |  | Testosterone suspension inj |  |  |  |  |
J3150 | N |  | Testosteron propionate inj |  |  |  |  |
J3230 | N |  | Chlorpromazine hcl injection |  |  |  |  |
J3240 | K |  | Thyrotropin injection | 9108 |  | $712.52 |  | $142.50
J3246 | K |  | Tirofiban HCl | 7041 |  | $7.89 |  | $1.58
J3250 | N |  | Trimethobenzamide hcl inj |  |  |  |  |
J3260 | N |  | Tobramycin sulfate injection |  |  |  |  |
J3265 | N |  | Injection torsemide 10 mg/ml |  |  |  |  |
J3280 | N |  | Thiethylperazine maleate inj |  |  |  |  |
J3301 | N |  | Triamcinolone acetonide inj |  |  |  |  |
J3302 | N |  | Triamcinolone diacetate inj |  |  |  |  |
J3303 | N |  | Triamcinolone hexacetonl inj |  |  |  |  |
J3305 | K |  | Inj trimetrexate glucoronate | 7045 |  | $139.84 |  | $27.97
J3310 | N |  | Perphenazine injeciton |  |  |  |  |
J3315 | K |  | Triptorelin pamoate | 9122 |  | $369.95 |  | $73.99
J3320 | N |  | Spectinomycn di-hcl inj |  |  |  |  |
J3350 | K |  | Urea injection | 9051 | 1.0453 | $62.04 |  | $12.41
J3360 | N |  | Diazepam injection |  |  |  |  |
J3364 | N |  | Urokinase 5000 IU injection |  |  |  |  |
J3365 | K |  | Urokinase 250,000 IU inj | 7036 |  | $415.66 |  | $83.13
J3370 | N |  | Vancomycin hcl injection |  |  |  |  |
J3396 | K |  | Verteporfin injection | 1203 |  | $9.16 |  | $1.83
J3400 | N |  | Triflupromazine hcl inj |  |  |  |  |
J3410 | N |  | Hydroxyzine hcl injection |  |  |  |  |
J3411 | N |  | Thiamine hcl 100 mg |  |  |  |  |
J3415 | N |  | Pyridoxine hcl 100 mg |  |  |  |  |
J3420 | N |  | Vitamin b12 injection |  |  |  |  |
J3430 | N |  | Vitamin k phytonadione inj |  |  |  |  |
J3465 | K |  | Injection, voriconazole | 1052 |  | $4.63 |  | $.93
J3470 | N |  | Hyaluronidase injection |  |  |  |  |
J3475 | N |  | Inj magnesium sulfate |  |  |  |  |
J3480 | N |  | Inj potassium chloride |  |  |  |  |
J3485 | N |  | Zidovudine |  |  |  |  |
J3486 | N |  | Ziprasidone mesylate |  |  |  |  |
J3487 | K |  | Zoledronic acid | 9115 |  | $202.39 |  | $40.48
J3490 | N |  | Drugs unclassified injection |  |  |  |  |
J3520 | E |  | Edetate disodium per 150 mg |  |  |  |  |
J3530 | N |  | Nasal vaccine inhalation |  |  |  |  |
J3535 | E |  | Metered dose inhaler drug |  |  |  |  |
J3570 | E |  | Laetrile amygdalin vit B17 |  |  |  |  |
J3590 | N |  | Unclassified biologics |  |  |  |  |
J7030 | N |  | Normal saline solution infus |  |  |  |  |
J7040 | N |  | Normal saline solution infus |  |  |  |  |
J7042 | N |  | 5% dextrose/normal saline |  |  |  |  |
J7050 | N |  | Normal saline solution infus |  |  |  |  |
J7051 | N |  | Sterile saline/water |  |  |  |  |
J7060 | N |  | 5% dextrose/water |  |  |  |  |
J7070 | N |  | D5w infusion |  |  |  |  |
J7100 | N |  | Dextran 40 infusion |  |  |  |  |
J7110 | N |  | Dextran 75 infusion |  |  |  |  |
J7120 | N |  | Ringers lactate infusion |  |  |  |  |
J7130 | N |  | Hypertonic saline solution |  |  |  |  |
J7190 | K |  | Factor viii | 0925 |  | $.51 |  | $.10
J7191 | K |  | Factor VIII (porcine) | 0926 |  | $1.75 |  | $.35
J7192 | K |  | Factor viii recombinant | 0927 |  | $.94 |  | $.19
J7193 | K |  | Factor IX non-recombinant | 0931 |  | $.75 |  | $.15
J7194 | K |  | Factor ix complex | 0928 |  | $.52 |  | $.10
J7195 | K |  | Factor IX recombinant | 0932 |  | $.86 |  | $.17
J7197 | N |  | Antithrombin iii injection |  |  |  |  |
J7198 | K |  | Anti-inhibitor | 0929 |  | $1.12 |  | $.22
J7199 | B |  | Hemophilia clot factor noc |  |  |  |  |
J7300 | E |  | Intraut copper contraceptive |  |  |  |  |
J7302 | E |  | Levonorgestrel iu contracept |  |  |  |  |
J7303 | E |  | Contraceptive vaginal ring |  |  |  |  |
J7304 | E |  | Contraceptive hormone patch |  |  |  |  |
J7308 | K |  | Aminolevulinic acid hcl top | 7308 |  | $96.79 |  | $19.36
J7310 | K |  | Ganciclovir long act implant | 0913 |  | $4,318.33 |  | $863.67
J7317 | K |  | Sodium hyaluronate injection | 7316 |  | $110.64 |  | $22.13
J7320 | K |  | Hylan G-F 20 injection | 1611 |  | $203.13 |  | $40.63
J7330 | B |  | Cultured chondrocytes implnt |  |  |  |  |
J7340 | E |  | Metabolic active D/E tissue |  |  |  |  |
J7342 | K |  | Metabolically active tissue | 9054 |  | $15.69 |  | $3.14
J7343 | B |  | Nonmetabolic act d/e tissue |  |  |  |  |
J7344 | K |  | Nonmetabolic active tissue | 9156 |  | $53.75 |  | $10.75
J7350 | K |  | Injectable human tissue | 9055 |  | $3.54 |  | $.71
J7500 | N |  | Azathioprine oral 50mg |  |  |  |  |
J7501 | K |  | Azathioprine parenteral | 0887 |  | $47.39 |  | $9.48
J7502 | K |  | Cyclosporine oral 100 mg | 0888 |  | $3.94 |  | $.79
J7504 | K |  | Lymphocyte immune globulin | 0890 |  | $290.28 |  | $58.06
J7505 | K |  | Monoclonal antibodies | 7038 |  | $885.29 |  | $177.06
J7506 | N |  | Prednisone oral |  |  |  |  |
J7507 | K |  | Tacrolimus oral per 1 MG | 0891 |  | $3.37 |  | $.67
J7509 | N |  | Methylprednisolone oral |  |  |  |  |
J7510 | N |  | Prednisolone oral per 5 mg |  |  |  |  |
J7511 | K |  | Antithymocyte globuln rabbit | 9104 |  | $299.45 |  | $59.89
J7513 | K |  | Daclizumab, parenteral | 1612 |  | $381.45 |  | $76.29
J7515 | K |  | Cyclosporine oral 25 mg | 7515 |  | $1.00 |  | $.20
J7516 | N |  | Cyclosporin parenteral 250mg |  |  |  |  |
J7517 | K |  | Mycophenolate mofetil oral | 9015 |  | $2.50 |  | $.50
J7518 | G |  | Mycophenolic acid | 9219 |  | $2.47 |  | $.49
J7520 | K |  | Sirolimus, oral | 9020 |  | $6.85 |  | $1.37
J7525 | K |  | Tacrolimus injection | 9006 |  | $126.61 |  | $25.32
J7599 | N |  | Immunosuppressive drug noc |  |  |  |  |
J7608 | Y |  | Acetylcysteine inh sol u d |  |  |  |  |
J7611 | Y |  | Albuterol concentrated form |  |  |  |  |
J7612 | Y |  | Levalbuterol concentrated |  |  |  |  |
J7613 | Y |  | Albuterol unit dose |  |  |  |  |
J7614 | Y |  | Levalbuterol unit dose |  |  |  |  |
J7616 | Y |  | Albuterol compound solution |  |  |  |  |
J7617 | Y |  | Levalbuterol compounded sol |  |  |  |  |
J7622 | A |  | Beclomethasone inhalatn sol |  |  |  |  |
J7624 | A |  | Betamethasone inhalation sol |  |  |  |  |
J7626 | A |  | Budesonide inhalation sol |  |  |  |  |
J7628 | Y |  | Bitolterol mes inhal sol con |  |  |  |  |
J7629 | Y |  | Bitolterol mes inh sol u d |  |  |  |  |
J7631 | Y |  | Cromolyn sodium inh sol u d |  |  |  |  |
J7633 | N |  | Budesonide concentrated sol |  |  |  |  |
J7635 | Y |  | Atropine inhal sol con |  |  |  |  |
J7636 | Y |  | Atropine inhal sol unit dose |  |  |  |  |
J7637 | Y |  | Dexamethasone inhal sol con |  |  |  |  |
J7638 | Y |  | Dexamethasone inhal sol u d |  |  |  |  |
J7639 | Y |  | Dornase alpha inhal sol u d |  |  |  |  |
J7641 | A |  | Flunisolide, inhalation sol |  |  |  |  |
J7642 | Y |  | Glycopyrrolate inhal sol con |  |  |  |  |
J7643 | Y |  | Glycopyrrolate inhal sol u d |  |  |  |  |
J7644 | Y |  | Ipratropium brom inh sol u d |  |  |  |  |
J7648 | Y |  | Isoetharine hcl inh sol con |  |  |  |  |
J7649 | Y |  | Isoetharine hcl inh sol u d |  |  |  |  |
J7658 | Y |  | Isoproterenolhcl inh sol con |  |  |  |  |
J7659 | Y |  | Isoproterenol hcl inh sol ud |  |  |  |  |
J7668 | Y |  | Metaproterenol inh sol con |  |  |  |  |
J7669 | Y |  | Metaproterenol inh sol u d |  |  |  |  |
J7674 | N |  | Methacholine chloride, neb |  |  |  |  |
J7680 | Y |  | Terbutaline so4 inh sol con |  |  |  |  |
J7681 | Y |  | Terbutaline so4 inh sol u d |  |  |  |  |
J7682 | Y |  | Tobramycin inhalation sol |  |  |  |  |
J7683 | Y |  | Triamcinolone inh sol con |  |  |  |  |
J7684 | Y |  | Triamcinolone inh sol u d |  |  |  |  |
J7699 | Y |  | Inhalation solution for DME |  |  |  |  |
J7799 | Y |  | Non-inhalation drug for DME |  |  |  |  |
J8499 | E |  | Oral prescrip drug non chemo |  |  |  |  |
J8501 | G |  | Oral aprepitant | 0868 |  | $4.75 |  | $.95
J8510 | K |  | Oral busulfan | 7015 |  | $1.98 |  | $.40
J8520 | K |  | Capecitabine, oral, 150 mg | 7042 |  | $3.30 |  | $.66
J8521 | E |  | Capecitabine, oral, 500 mg |  |  |  |  |
J8530 | N |  | Cyclophosphamide oral 25 MG |  |  |  |  |
J8560 | K |  | Etoposide oral 50 MG | 0802 |  | $41.12 |  | $8.22
J8565 | E |  | Gefitinib oral |  |  |  |  |
J8600 | N |  | Melphalan oral 2 MG |  |  |  |  |
J8610 | N |  | Methotrexate oral 2.5 MG |  |  |  |  |
J8700 | K |  | Temozolomide | 1086 |  | $7.28 |  | $1.46
J8999 | B |  | Oral prescription drug chemo |  |  |  |  |
J9000 | N |  | Doxorubic hcl 10 MG vl chemo |  |  |  |  |
J9001 | K |  | Doxorubicin hcl liposome inj | 7046 |  | $365.61 |  | $73.12
J9010 | K |  | Alemtuzumab injection | 9110 |  | $516.83 |  | $103.37
J9015 | K |  | Aldesleukin/single use vial | 0807 |  | $701.71 |  | $140.34
J9017 | K |  | Arsenic trioxide | 9012 |  | $33.76 |  | $6.75
J9020 | K |  | Asparaginase injection | 0814 |  | $55.41 |  | $11.08
J9031 | K |  | Bcg live intravesical vac | 0809 |  | $121.74 |  | $24.35
J9035 | G |  | Bevacizumab injection | 9214 |  | $58.17 |  | $11.63
J9040 | K |  | Bleomycin sulfate injection | 0857 |  | $54.17 |  | $10.83
J9041 | K |  | Bortezomib injection | 9207 |  | $28.90 |  | $5.78
J9045 | K |  | Carboplatin injection | 0811 |  | $77.15 |  | $15.43
J9050 | K |  | Carmus bischl nitro inj | 0812 |  | $141.27 |  | $28.25
J9055 | G |  | Cetuximab injection | 9215 |  | $50.58 |  | $10.12
J9060 | N |  | Cisplatin 10 MG injection |  |  |  |  |
J9062 | B |  | Cisplatin 50 MG injection |  |  |  |  |
J9065 | K |  | Inj cladribine per 1 MG | 0858 |  | $39.37 |  | $7.87
J9070 | N |  | Cyclophosphamide 100 MG inj |  |  |  |  |
J9080 | B |  | Cyclophosphamide 200 MG inj |  |  |  |  |
J9090 | B |  | Cyclophosphamide 500 MG inj |  |  |  |  |
J9091 | B |  | Cyclophosphamide 1.0 grm inj |  |  |  |  |
J9092 | B |  | Cyclophosphamide 2.0 grm inj |  |  |  |  |
J9093 | N |  | Cyclophosphamide lyophilized |  |  |  |  |
J9094 | B |  | Cyclophosphamide lyophilized |  |  |  |  |
J9095 | B |  | Cyclophosphamide lyophilized |  |  |  |  |
J9096 | B |  | Cyclophosphamide lyophilized |  |  |  |  |
J9097 | B |  | Cyclophosphamide lyophilized |  |  |  |  |
J9098 | K |  | Cytarabine liposome | 1166 |  | $366.40 |  | $73.28
J9100 | N |  | Cytarabine hcl 100 MG inj |  |  |  |  |
J9110 | B |  | Cytarabine hcl 500 MG inj |  |  |  |  |
J9120 | N |  | Dactinomycin actinomycin d |  |  |  |  |
J9130 | K |  | Dacarbazine 100 mg inj | 0819 |  | $6.20 |  | $1.24
J9140 | B |  | Dacarbazine 200 MG inj |  |  |  |  |
J9150 | K |  | Daunorubicin | 0820 |  | $35.28 |  | $7.06
J9151 | K |  | Daunorubicin citrate liposom | 0821 |  | $57.55 |  | $11.51
J9160 | K |  | Denileukin diftitox, 300 mcg | 1084 |  | $1,235.23 |  | $247.05
J9165 | N |  | Diethylstilbestrol injection |  |  |  |  |
J9170 | K |  | Docetaxel | 0823 |  | $301.15 |  | $60.23
J9178 | K |  | Inj, epirubicin hcl, 2 mg | 1167 |  | $25.15 |  | $5.03
J9181 | N |  | Etoposide 10 MG inj |  |  |  |  |
J9182 | B |  | Etoposide 100 MG inj |  |  |  |  |
J9185 | K |  | Fludarabine phosphate inj | 0842 |  | $262.39 |  | $52.48
J9190 | N |  | Fluorouracil injection |  |  |  |  |
J9200 | K |  | Floxuridine injection | 0827 |  | $60.16 |  | $12.03
J9201 | K |  | Gemcitabine HCl | 0828 |  | $117.44 |  | $23.49
J9202 | K |  | Goserelin acetate implant | 0810 |  | $196.24 |  | $39.25
J9206 | K |  | Irinotecan injection | 0830 |  | $129.07 |  | $25.81
J9208 | K |  | Ifosfomide injection | 0831 |  | $53.53 |  | $10.71
J9209 | K |  | Mesna injection | 0732 |  | $13.68 |  | $2.74
J9211 | K |  | Idarubicin hcl injection | 0832 |  | $313.97 |  | $62.79
J9212 | K |  | Interferon alfacon-1 | 0912 |  | $3.91 |  | $.78
J9213 | K |  | Interferon alfa-2a inj | 0834 |  | $31.75 |  | $6.35
J9214 | K |  | Interferon alfa-2b inj | 0836 |  | $13.22 |  | $2.64
J9215 | K |  | Interferon alfa-n3 inj | 0865 |  | $8.77 |  | $1.75
J9216 | K |  | Interferon gamma 1-b inj | 0838 |  | $277.77 |  | $55.55
J9217 | K |  | Leuprolide acetate suspnsion | 9217 |  | $230.85 |  | $46.17
J9218 | K |  | Leuprolide acetate injeciton | 0861 |  | $10.96 |  | $2.19
J9219 | K |  | Leuprolide acetate implant | 7051 |  | $2,262.01 |  | $452.40
J9230 | N |  | Mechlorethamine hcl inj |  |  |  |  |
J9245 | K |  | Inj melphalan hydrochl 50 MG | 0840 |  | $523.18 |  | $104.64
J9250 | N |  | Methotrexate sodium inj |  |  |  |  |
J9260 | B |  | Methotrexate sodium inj |  |  |  |  |
J9263 | B |  | Oxaliplatin |  |  |  |  |
J9265 | K |  | Paclitaxel injection | 0863 |  | $19.11 |  | $3.82
J9266 | K |  | Pegaspargase/singl dose vial | 0843 |  | $1,528.67 |  | $305.73
J9268 | K |  | Pentostatin injection | 0844 |  | $1,868.76 |  | $373.75
J9270 | K |  | Plicamycin (mithramycin) inj | 0860 |  | $80.54 |  | $16.11
J9280 | K |  | Mitomycin 5 MG inj | 0862 |  | $26.36 |  | $5.27
J9290 | B |  | Mitomycin 20 MG inj |  |  |  |  |
J9291 | B |  | Mitomycin 40 MG inj |  |  |  |  |
J9293 | K |  | Mitoxantrone hydrochl / 5 MG | 0864 |  | $329.66 |  | $65.93
J9300 | K |  | Gemtuzumab ozogamicin | 9004 |  | $2,244.86 |  | $448.97
J9305 | G |  | Pemetrexed injection | 9213 |  | $41.29 |  | $8.26
J9310 | K |  | Rituximab cancer treatment | 0849 |  | $447.93 |  | $89.59
J9320 | K |  | Streptozocin injection | 0850 |  | $153.31 |  | $30.66
J9340 | K |  | Thiotepa injection | 0851 |  | $44.55 |  | $8.91
J9350 | K |  | Topotecan | 0852 |  | $755.44 |  | $151.09
J9355 | K |  | Trastuzumab | 1613 |  | $53.97 |  | $10.79
J9357 | K |  | Valrubicin, 200 mg | 9167 |  | $376.83 |  | $75.37
J9360 | N |  | Vinblastine sulfate inj |  |  |  |  |
J9370 | N |  | Vincristine sulfate 1 MG inj |  |  |  |  |
J9375 | B |  | Vincristine sulfate 2 MG inj |  |  |  |  |
J9380 | B |  | Vincristine sulfate 5 MG inj |  |  |  |  |
J9390 | K |  | Vinorelbine tartrate/10 mg | 0855 |  | $62.84 |  | $12.57
J9395 | K |  | Injection, Fulvestrant | 9120 |  | $82.90 |  | $16.58
J9600 | K |  | Porfimer sodium | 0856 |  | $2,457.78 |  | $491.56
J9999 | N |  | Chemotherapy drug |  |  |  |  |
K0001 | Y |  | Standard wheelchair |  |  |  |  |
K0002 | Y |  | Stnd hemi (low seat) whlchr |  |  |  |  |
K0003 | Y |  | Lightweight wheelchair |  |  |  |  |
K0004 | Y |  | High strength ltwt whlchr |  |  |  |  |
K0005 | Y |  | Ultralightweight wheelchair |  |  |  |  |
K0006 | Y |  | Heavy duty wheelchair |  |  |  |  |
K0007 | Y |  | Extra heavy duty wheelchair |  |  |  |  |
K0009 | Y |  | Other manual wheelchair/base |  |  |  |  |
K0010 | Y |  | Stnd wt frame power whlchr |  |  |  |  |
K0011 | Y |  | Stnd wt pwr whlchr w control |  |  |  |  |
K0012 | Y |  | Ltwt portbl power whlchr |  |  |  |  |
K0014 | Y |  | Other power whlchr base |  |  |  |  |
K0015 | Y |  | Detach non-adjus hght armrst |  |  |  |  |
K0017 | Y |  | Detach adjust armrest base |  |  |  |  |
K0018 | Y |  | Detach adjust armrst upper |  |  |  |  |
K0019 | Y |  | Arm pad each |  |  |  |  |
K0020 | Y |  | Fixed adjust armrest pair |  |  |  |  |
K0037 | Y |  | High mount flip-up footrest |  |  |  |  |
K0038 | Y |  | Leg strap each |  |  |  |  |
K0039 | Y |  | Leg strap h style each |  |  |  |  |
K0040 | Y |  | Adjustable angle footplate |  |  |  |  |
K0041 | Y |  | Large size footplate each |  |  |  |  |
K0042 | Y |  | Standard size footplate each |  |  |  |  |
K0043 | Y |  | Ftrst lower extension tube |  |  |  |  |
K0044 | Y |  | Ftrst upper hanger bracket |  |  |  |  |
K0045 | Y |  | Footrest complete assembly |  |  |  |  |
K0046 | Y |  | Elevat legrst low extension |  |  |  |  |
K0047 | Y |  | Elevat legrst up hangr brack |  |  |  |  |
K0050 | Y |  | Ratchet assembly |  |  |  |  |
K0051 | Y |  | Cam relese assem ftrst/lgrst |  |  |  |  |
K0052 | Y |  | Swingaway detach footrest |  |  |  |  |
K0053 | Y |  | Elevate footrest articulate |  |  |  |  |
K0056 | Y |  | Seat ht >17 or <=21 ltwt wc |  |  |  |  |
K0064 | Y |  | Zero pressure tube flat free |  |  |  |  |
K0065 | Y |  | Spoke protectors |  |  |  |  |
K0066 | Y |  | Solid tire any size each |  |  |  |  |
K0067 | Y |  | Pneumatic tire any size each |  |  |  |  |
K0068 | Y |  | Pneumatic tire tube each |  |  |  |  |
K0069 | Y |  | Rear whl complete solid tire |  |  |  |  |
K0070 | Y |  | Rear whl compl pneum tire |  |  |  |  |
K0071 | Y |  | Front castr compl pneum tire |  |  |  |  |
K0072 | Y |  | Frnt cstr cmpl sem-pneum tir |  |  |  |  |
K0073 | Y |  | Caster pin lock each |  |  |  |  |
K0074 | Y |  | Pneumatic caster tire each |  |  |  |  |
K0075 | Y |  | Semi-pneumatic caster tire |  |  |  |  |
K0076 | Y |  | Solid caster tire each |  |  |  |  |
K0077 | Y |  | Front caster assem complete |  |  |  |  |
K0078 | Y |  | Pneumatic caster tire tube |  |  |  |  |
K0090 | Y |  | Rear tire power wheelchair |  |  |  |  |
K0091 | Y |  | Rear tire tube power whlchr |  |  |  |  |
K0092 | Y |  | Rear assem cmplt powr whlchr |  |  |  |  |
K0093 | Y |  | Rear zero pressure tire tube |  |  |  |  |
K0094 | Y |  | Wheel tire for power base |  |  |  |  |
K0095 | Y |  | Wheel tire tube each base |  |  |  |  |
K0096 | Y |  | Wheel assem powr base complt |  |  |  |  |
K0097 | Y |  | Wheel zero presure tire tube |  |  |  |  |
K0098 | Y |  | Drive belt power wheelchair |  |  |  |  |
K0099 | Y |  | Pwr wheelchair front caster |  |  |  |  |
K0102 | Y |  | Crutch and cane holder |  |  |  |  |
K0104 | Y |  | Cylinder tank carrier |  |  |  |  |
K0105 | Y |  | Iv hanger |  |  |  |  |
K0106 | Y |  | Arm trough each |  |  |  |  |
K0108 | Y |  | W/c component-accessory NOS |  |  |  |  |
K0195 | Y |  | Elevating whlchair leg rests |  |  |  |  |
K0415 | B |  | RX antiemetic drg, oral NOS |  |  |  |  |
K0416 | B |  | Rx antiemetic drg,rectal NOS |  |  |  |  |
K0452 | Y |  | Wheelchair bearings |  |  |  |  |
K0455 | Y |  | Pump uninterrupted infusion |  |  |  |  |
K0462 | Y |  | Temporary replacement eqpmnt |  |  |  |  |
K0552 | Y |  | Supply/Ext inf pump syr type |  |  |  |  |
K0600 | Y |  | Functional neuromuscularstim |  |  |  |  |
K0601 | Y |  | Repl batt silver oxide 1.5 v |  |  |  |  |
K0602 | Y |  | Repl batt silver oxide 3 v |  |  |  |  |
K0603 | Y |  | Repl batt alkaline 1.5 v |  |  |  |  |
K0604 | Y |  | Repl batt lithium 3.6 v |  |  |  |  |
K0605 | Y |  | Repl batt lithium 4.5 v |  |  |  |  |
K0606 | Y |  | AED garment w/elec analysis |  |  |  |  |
K0607 | Y |  | Repl batt for AED |  |  |  |  |
K0608 | Y |  | Repl garment for AED |  |  |  |  |
K0609 | Y |  | Repl electrode for AED |  |  |  |  |
K0618 | A |  | TLSO 2 piece rigid shell |  |  |  |  |
K0619 | A |  | TLSO 3 piece rigid shell |  |  |  |  |
K0620 | A |  | Tubular elastic dressing |  |  |  |  |
K0628 | Y |  | Mult dens insert direct form |  |  |  |  |
K0629 | Y |  | Mult dens insert custom mold |  |  |  |  |
K0630 | Y |  | SIO flex pelvisacral prefab |  |  |  |  |
K0631 | Y |  | SIO flex pelvisacral custom |  |  |  |  |
K0632 | Y |  | SIO panel prefab |  |  |  |  |
K0633 | Y |  | SIO panel custom |  |  |  |  |
K0634 | Y |  | LO flexibl L1 - below L5 pre |  |  |  |  |
K0635 | Y |  | LO sag stays/panels pre-fab |  |  |  |  |
K0636 | Y |  | LO sagitt rigid panel prefab |  |  |  |  |
K0637 | Y |  | LO flex w/o rigid stays pre |  |  |  |  |
K0638 | Y |  | LSO flex w/rigid stays cust |  |  |  |  |
K0639 | Y |  | LSO post rigid panel pre |  |  |  |  |
K0640 | Y |  | LSO sag-coro rigid frame pre |  |  |  |  |
K0641 | Y |  | LSO sag-cor rigid frame cust |  |  |  |  |
K0642 | Y |  | LSO flexion control prefab |  |  |  |  |
K0643 | Y |  | LSO flexion control custom |  |  |  |  |
K0644 | Y |  | LSO sagit rigid panel prefab |  |  |  |  |
K0645 | Y |  | LSO sagittal rigid panel cus |  |  |  |  |
K0646 | Y |  | LSO sag-coronal panel prefab |  |  |  |  |
K0647 | Y |  | LSO sag-coronal panel custom |  |  |  |  |
K0648 | Y |  | LSO s/c shell/panel prefab |  |  |  |  |
K0649 | Y |  | LSO s/c shell/panel custom |  |  |  |  |
K0669 | Y |  | W/c seat/back no CVR SADMERC |  |  |  |  |
K0670 | A |  | Stance phase only |  |  |  |  |
K0671 | Y |  | Portable oxygen concentrator |  |  |  |  |
L0100 | A |  | Cranial orthosis/helmet mold |  |  |  |  |
L0110 | A |  | Cranial orthosis/helmet nonm |  |  |  |  |
L0112 | A |  | Cranial cervical orthosis |  |  |  |  |
L0120 | A |  | Cerv flexible non-adjustable |  |  |  |  |
L0130 | A |  | Flex thermoplastic collar mo |  |  |  |  |
L0140 | A |  | Cervical semi-rigid adjustab |  |  |  |  |
L0150 | A |  | Cerv semi-rig adj molded chn |  |  |  |  |
L0160 | A |  | Cerv semi-rig wire occ/mand |  |  |  |  |
L0170 | A |  | Cervical collar molded to pt |  |  |  |  |
L0172 | A |  | Cerv col thermplas foam 2 pi |  |  |  |  |
L0174 | A |  | Cerv col foam 2 piece w thor |  |  |  |  |
L0180 | A |  | Cer post col occ/man sup adj |  |  |  |  |
L0190 | A |  | Cerv collar supp adj cerv ba |  |  |  |  |
L0200 | A |  | Cerv col supp adj bar & thor |  |  |  |  |
L0210 | A |  | Thoracic rib belt |  |  |  |  |
L0220 | A |  | Thor rib belt custom fabrica |  |  |  |  |
L0430 | A |  | Dewall posture protector |  |  |  |  |
L0450 | A |  | TLSO flex prefab thoracic |  |  |  |  |
L0452 | A |  | tlso flex custom fab thoraci |  |  |  |  |
L0454 | A |  | TLSO flex prefab sacrococ-T9 |  |  |  |  |
L0456 | A |  | TLSO flex prefab |  |  |  |  |
L0458 | A |  | TLSO 2Mod symphis-xipho pre |  |  |  |  |
L0460 | A |  | TLSO2Mod symphysis-stern pre |  |  |  |  |
L0462 | A |  | TLSO 3Mod sacro-scap pre |  |  |  |  |
L0464 | A |  | TLSO 4Mod sacro-scap pre |  |  |  |  |
L0466 | A |  | TLSO rigid frame pre soft ap |  |  |  |  |
L0468 | A |  | TLSO rigid frame prefab pelv |  |  |  |  |
L0470 | A |  | TLSO rigid frame pre subclav |  |  |  |  |
L0472 | A |  | TLSO rigid frame hyperex pre |  |  |  |  |
L0480 | A |  | TLSO rigid plastic custom fa |  |  |  |  |
L0482 | A |  | TLSO rigid lined custom fab |  |  |  |  |
L0484 | A |  | TLSO rigid plastic cust fab |  |  |  |  |
L0486 | A |  | TLSO rigidlined cust fab two |  |  |  |  |
L0488 | A |  | TLSO rigid lined pre one pie |  |  |  |  |
L0490 | A |  | TLSO rigid plastic pre one |  |  |  |  |
L0700 | A |  | Ctlso a-p-l control molded |  |  |  |  |
L0710 | A |  | Ctlso a-p-l control w/ inter |  |  |  |  |
L0810 | A |  | Halo cervical into jckt vest |  |  |  |  |
L0820 | A |  | Halo cervical into body jack |  |  |  |  |
L0830 | A |  | Halo cerv into milwaukee typ |  |  |  |  |
L0860 | A |  | Magnetic resonanc image comp |  |  |  |  |
L0861 | A |  | Halo repl liner/interface |  |  |  |  |
L0960 | E |  | Post surgical support pads |  |  |  |  |
L0970 | A |  | Tlso corset front |  |  |  |  |
L0972 | A |  | Lso corset front |  |  |  |  |
L0974 | A |  | Tlso full corset |  |  |  |  |
L0976 | A |  | Lso full corset |  |  |  |  |
L0978 | A |  | Axillary crutch extension |  |  |  |  |
L0980 | A |  | Peroneal straps pair |  |  |  |  |
L0982 | A |  | Stocking supp grips set of f |  |  |  |  |
L0984 | A |  | Protective body sock each |  |  |  |  |
L0999 | A |  | Add to spinal orthosis NOS |  |  |  |  |
L1000 | A |  | Ctlso milwauke initial model |  |  |  |  |
L1005 | A |  | Tension based scoliosis orth |  |  |  |  |
L1010 | A |  | Ctlso axilla sling |  |  |  |  |
L1020 | A |  | Kyphosis pad |  |  |  |  |
L1025 | A |  | Kyphosis pad floating |  |  |  |  |
L1030 | A |  | Lumbar bolster pad |  |  |  |  |
L1040 | A |  | Lumbar or lumbar rib pad |  |  |  |  |
L1050 | A |  | Sternal pad |  |  |  |  |
L1060 | A |  | Thoracic pad |  |  |  |  |
L1070 | A |  | Trapezius sling |  |  |  |  |
L1080 | A |  | Outrigger |  |  |  |  |
L1085 | A |  | Outrigger bil w/ vert extens |  |  |  |  |
L1090 | A |  | Lumbar sling |  |  |  |  |
L1100 | A |  | Ring flange plastic/leather |  |  |  |  |
L1110 | A |  | Ring flange plas/leather mol |  |  |  |  |
L1120 | A |  | Covers for upright each |  |  |  |  |
L1200 | A |  | Furnsh initial orthosis only |  |  |  |  |
L1210 | A |  | Lateral thoracic extension |  |  |  |  |
L1220 | A |  | Anterior thoracic extension |  |  |  |  |
L1230 | A |  | Milwaukee type superstructur |  |  |  |  |
L1240 | A |  | Lumbar derotation pad |  |  |  |  |
L1250 | A |  | Anterior asis pad |  |  |  |  |
L1260 | A |  | Anterior thoracic derotation |  |  |  |  |
L1270 | A |  | Abdominal pad |  |  |  |  |
L1280 | A |  | Rib gusset (elastic) each |  |  |  |  |
L1290 | A |  | Lateral trochanteric pad |  |  |  |  |
L1300 | A |  | Body jacket mold to patient |  |  |  |  |
L1310 | A |  | Post-operative body jacket |  |  |  |  |
L1499 | A |  | Spinal orthosis NOS |  |  |  |  |
L1500 | A |  | Thkao mobility frame |  |  |  |  |
L1510 | A |  | Thkao standing frame |  |  |  |  |
L1520 | A |  | Thkao swivel walker |  |  |  |  |
L1600 | A |  | Abduct hip flex frejka w cvr |  |  |  |  |
L1610 | A |  | Abduct hip flex frejka covr |  |  |  |  |
L1620 | A |  | Abduct hip flex pavlik harne |  |  |  |  |
L1630 | A |  | Abduct control hip semi-flex |  |  |  |  |
L1640 | A |  | Pelv band/spread bar thigh c |  |  |  |  |
L1650 | A |  | HO abduction hip adjustable |  |  |  |  |
L1652 | A |  | HO bi thighcuffs w sprdr bar |  |  |  |  |
L1660 | A |  | HO abduction static plastic |  |  |  |  |
L1680 | A |  | Pelvic & hip control thigh c |  |  |  |  |
L1685 | A |  | Post-op hip abduct custom fa |  |  |  |  |
L1686 | A |  | HO post-op hip abduction |  |  |  |  |
L1690 | A |  | Combination bilateral HO |  |  |  |  |
L1700 | A |  | Leg perthes orth toronto typ |  |  |  |  |
L1710 | A |  | Legg perthes orth newington |  |  |  |  |
L1720 | A |  | Legg perthes orthosis trilat |  |  |  |  |
L1730 | A |  | Legg perthes orth scottish r |  |  |  |  |
L1750 | A |  | Legg perthes sling |  |  |  |  |
L1755 | A |  | Legg perthes patten bottom t |  |  |  |  |
L1800 | A |  | Knee orthoses elas w stays |  |  |  |  |
L1810 | A |  | Ko elastic with joints |  |  |  |  |
L1815 | A |  | Elastic with condylar pads |  |  |  |  |
L1820 | A |  | Ko elas w/ condyle pads & jo |  |  |  |  |
L1825 | A |  | Ko elastic knee cap |  |  |  |  |
L1830 | A |  | Ko immobilizer canvas longit |  |  |  |  |
L1831 | A |  | Knee orth pos locking joint |  |  |  |  |
L1832 | A |  | KO adj jnt pos rigid support |  |  |  |  |
L1834 | A |  | Ko w/0 joint rigid molded to |  |  |  |  |
L1836 | A |  | Rigid KO wo joints |  |  |  |  |
L1840 | A |  | Ko derot ant cruciate custom |  |  |  |  |
L1843 | A |  | KO single upright custom fit |  |  |  |  |
L1844 | A |  | Ko w/adj jt rot cntrl molded |  |  |  |  |
L1845 | A |  | Ko w/ adj flex/ext rotat cus |  |  |  |  |
L1846 | A |  | Ko w adj flex/ext rotat mold |  |  |  |  |
L1847 | A |  | KO adjustable w air chambers |  |  |  |  |
L1850 | A |  | Ko swedish type |  |  |  |  |
L1855 | A |  | Ko plas doub upright jnt mol |  |  |  |  |
L1858 | A |  | Ko polycentric pneumatic pad |  |  |  |  |
L1860 | A |  | Ko supracondylar socket mold |  |  |  |  |
L1870 | A |  | Ko doub upright lacers molde |  |  |  |  |
L1880 | A |  | Ko doub upright cuffs/lacers |  |  |  |  |
L1900 | A |  | Afo sprng wir drsflx calf bd |  |  |  |  |
L1901 | A |  | Prefab ankle orthosis |  |  |  |  |
L1902 | A |  | Afo ankle gauntlet |  |  |  |  |
L1904 | A |  | Afo molded ankle gauntlet |  |  |  |  |
L1906 | A |  | Afo multiligamentus ankle su |  |  |  |  |
L1907 | A |  | AFO supramalleolar custom |  |  |  |  |
L1910 | A |  | Afo sing bar clasp attach sh |  |  |  |  |
L1920 | A |  | Afo sing upright w/ adjust s |  |  |  |  |
L1930 | A |  | Afo plastic |  |  |  |  |
L1932 | A |  | Afo rig ant tib prefab TCF/= |  |  |  |  |
L1940 | A |  | Afo molded to patient plasti |  |  |  |  |
L1945 | A |  | Afo molded plas rig ant tib |  |  |  |  |
L1950 | A |  | Afo spiral molded to pt plas |  |  |  |  |
L1951 | A |  | AFO spiral prefabricated |  |  |  |  |
L1960 | A |  | Afo pos solid ank plastic mo |  |  |  |  |
L1970 | A |  | Afo plastic molded w/ankle j |  |  |  |  |
L1971 | A |  | AFO w/ankle joint, prefab |  |  |  |  |
L1980 | A |  | Afo sing solid stirrup calf |  |  |  |  |
L1990 | A |  | Afo doub solid stirrup calf |  |  |  |  |
L2000 | A |  | Kafo sing fre stirr thi/calf |  |  |  |  |
L2005 | A |  | KAFO sng/dbl mechanical act |  |  |  |  |
L2010 | A |  | Kafo sng solid stirrup w/o j |  |  |  |  |
L2020 | A |  | Kafo dbl solid stirrup band/ |  |  |  |  |
L2030 | A |  | Kafo dbl solid stirrup w/o j |  |  |  |  |
L2035 | A |  | KAFO plastic pediatric size |  |  |  |  |
L2036 | A |  | Kafo plas doub free knee mol |  |  |  |  |
L2037 | A |  | Kafo plas sing free knee mol |  |  |  |  |
L2038 | A |  | Kafo w/o joint multi-axis an |  |  |  |  |
L2039 | A |  | KAFO,plstic,medlat rotat con |  |  |  |  |
L2040 | A |  | Hkafo torsion bil rot straps |  |  |  |  |
L2050 | A |  | Hkafo torsion cable hip pelv |  |  |  |  |
L2060 | A |  | Hkafo torsion ball bearing j |  |  |  |  |
L2070 | A |  | Hkafo torsion unilat rot str |  |  |  |  |
L2080 | A |  | Hkafo unilat torsion cable |  |  |  |  |
L2090 | A |  | Hkafo unilat torsion ball br |  |  |  |  |
L2106 | A |  | Afo tib fx cast plaster mold |  |  |  |  |
L2108 | A |  | Afo tib fx cast molded to pt |  |  |  |  |
L2112 | A |  | Afo tibial fracture soft |  |  |  |  |
L2114 | A |  | Afo tib fx semi-rigid |  |  |  |  |
L2116 | A |  | Afo tibial fracture rigid |  |  |  |  |
L2126 | A |  | Kafo fem fx cast thermoplas |  |  |  |  |
L2128 | A |  | Kafo fem fx cast molded to p |  |  |  |  |
L2132 | A |  | Kafo femoral fx cast soft |  |  |  |  |
L2134 | A |  | Kafo fem fx cast semi-rigid |  |  |  |  |
L2136 | A |  | Kafo femoral fx cast rigid |  |  |  |  |
L2180 | A |  | Plas shoe insert w ank joint |  |  |  |  |
L2182 | A |  | Drop lock knee |  |  |  |  |
L2184 | A |  | Limited motion knee joint |  |  |  |  |
L2186 | A |  | Adj motion knee jnt lerman t |  |  |  |  |
L2188 | A |  | Quadrilateral brim |  |  |  |  |
L2190 | A |  | Waist belt |  |  |  |  |
L2192 | A |  | Pelvic band & belt thigh fla |  |  |  |  |
L2200 | A |  | Limited ankle motion ea jnt |  |  |  |  |
L2210 | A |  | Dorsiflexion assist each joi |  |  |  |  |
L2220 | A |  | Dorsi & plantar flex ass/res |  |  |  |  |
L2230 | A |  | Split flat caliper stirr & p |  |  |  |  |
L2232 | A |  | Rocker bottom, contact AFO |  |  |  |  |
L2240 | A |  | Round caliper and plate atta |  |  |  |  |
L2250 | A |  | Foot plate molded stirrup at |  |  |  |  |
L2260 | A |  | Reinforced solid stirrup |  |  |  |  |
L2265 | A |  | Long tongue stirrup |  |  |  |  |
L2270 | A |  | Varus/valgus strap padded/li |  |  |  |  |
L2275 | A |  | Plastic mod low ext pad/line |  |  |  |  |
L2280 | A |  | Molded inner boot |  |  |  |  |
L2300 | A |  | Abduction bar jointed adjust |  |  |  |  |
L2310 | A |  | Abduction bar-straight |  |  |  |  |
L2320 | A |  | Non-molded lacer |  |  |  |  |
L2330 | A |  | Lacer molded to patient mode |  |  |  |  |
L2335 | A |  | Anterior swing band |  |  |  |  |
L2340 | A |  | Pre-tibial shell molded to p |  |  |  |  |
L2350 | A |  | Prosthetic type socket molde |  |  |  |  |
L2360 | A |  | Extended steel shank |  |  |  |  |
L2370 | A |  | Patten bottom |  |  |  |  |
L2375 | A |  | Torsion ank & half solid sti |  |  |  |  |
L2380 | A |  | Torsion straight knee joint |  |  |  |  |
L2385 | A |  | Straight knee joint heavy du |  |  |  |  |
L2390 | A |  | Offset knee joint each |  |  |  |  |
L2395 | A |  | Offset knee joint heavy duty |  |  |  |  |
L2397 | A |  | Suspension sleeve lower ext |  |  |  |  |
L2405 | A |  | Knee joint drop lock ea jnt |  |  |  |  |
L2415 | A |  | Knee joint cam lock each joi |  |  |  |  |
L2425 | A |  | Knee disc/dial lock/adj flex |  |  |  |  |
L2430 | A |  | Knee jnt ratchet lock ea jnt |  |  |  |  |
L2492 | A |  | Knee lift loop drop lock rin |  |  |  |  |
L2500 | A |  | Thi/glut/ischia wgt bearing |  |  |  |  |
L2510 | A |  | Th/wght bear quad-lat brim m |  |  |  |  |
L2520 | A |  | Th/wght bear quad-lat brim c |  |  |  |  |
L2525 | A |  | Th/wght bear nar m-l brim mo |  |  |  |  |
L2526 | A |  | Th/wght bear nar m-l brim cu |  |  |  |  |
L2530 | A |  | Thigh/wght bear lacer non-mo |  |  |  |  |
L2540 | A |  | Thigh/wght bear lacer molded |  |  |  |  |
L2550 | A |  | Thigh/wght bear high roll cu |  |  |  |  |
L2570 | A |  | Hip clevis type 2 posit jnt |  |  |  |  |
L2580 | A |  | Pelvic control pelvic sling |  |  |  |  |
L2600 | A |  | Hip clevis/thrust bearing fr |  |  |  |  |
L2610 | A |  | Hip clevis/thrust bearing lo |  |  |  |  |
L2620 | A |  | Pelvic control hip heavy dut |  |  |  |  |
L2622 | A |  | Hip joint adjustable flexion |  |  |  |  |
L2624 | A |  | Hip adj flex ext abduct cont |  |  |  |  |
L2627 | A |  | Plastic mold recipro hip & c |  |  |  |  |
L2628 | A |  | Metal frame recipro hip & ca |  |  |  |  |
L2630 | A |  | Pelvic control band & belt u |  |  |  |  |
L2640 | A |  | Pelvic control band & belt b |  |  |  |  |
L2650 | A |  | Pelv & thor control gluteal |  |  |  |  |
L2660 | A |  | Thoracic control thoracic ba |  |  |  |  |
L2670 | A |  | Thorac cont paraspinal uprig |  |  |  |  |
L2680 | A |  | Thorac cont lat support upri |  |  |  |  |
L2750 | A |  | Plating chrome/nickel pr bar |  |  |  |  |
L2755 | A |  | Carbon graphite lamination |  |  |  |  |
L2760 | A |  | Extension per extension per |  |  |  |  |
L2768 | A |  | Ortho sidebar disconnect |  |  |  |  |
L2770 | A |  | Low ext orthosis per bar/jnt |  |  |  |  |
L2780 | A |  | Non-corrosive finish |  |  |  |  |
L2785 | A |  | Drop lock retainer each |  |  |  |  |
L2795 | A |  | Knee control full kneecap |  |  |  |  |
L2800 | A |  | Knee cap medial or lateral p |  |  |  |  |
L2810 | A |  | Knee control condylar pad |  |  |  |  |
L2820 | A |  | Soft interface below knee se |  |  |  |  |
L2830 | A |  | Soft interface above knee se |  |  |  |  |
L2840 | A |  | Tibial length sock fx or equ |  |  |  |  |
L2850 | A |  | Femoral lgth sock fx or equa |  |  |  |  |
L2860 | A |  | Torsion mechanism knee/ankle |  |  |  |  |
L2999 | A |  | Lower extremity orthosis NOS |  |  |  |  |
L3000 | B |  | Ft insert ucb berkeley shell |  |  |  |  |
L3001 | B |  | Foot insert remov molded spe |  |  |  |  |
L3002 | B |  | Foot insert plastazote or eq |  |  |  |  |
L3003 | B |  | Foot insert silicone gel eac |  |  |  |  |
L3010 | B |  | Foot longitudinal arch suppo |  |  |  |  |
L3020 | B |  | Foot longitud/metatarsal sup |  |  |  |  |
L3030 | B |  | Foot arch support remov prem |  |  |  |  |
L3031 | E |  | Foot lamin/prepreg composite |  |  |  |  |
L3040 | B |  | Ft arch suprt premold longit |  |  |  |  |
L3050 | B |  | Foot arch supp premold metat |  |  |  |  |
L3060 | B |  | Foot arch supp longitud/meta |  |  |  |  |
L3070 | B |  | Arch suprt att to sho longit |  |  |  |  |
L3080 | B |  | Arch supp att to shoe metata |  |  |  |  |
L3090 | B |  | Arch supp att to shoe long/m |  |  |  |  |
L3100 | B |  | Hallus-valgus nght dynamic s |  |  |  |  |
L3140 | B |  | Abduction rotation bar shoe |  |  |  |  |
L3150 | B |  | Abduct rotation bar w/o shoe |  |  |  |  |
L3160 | B |  | Shoe styled positioning dev |  |  |  |  |
L3170 | B |  | Foot plastic heel stabilizer |  |  |  |  |
L3201 | B |  | Oxford w supinat/pronat inf |  |  |  |  |
L3202 | B |  | Oxford w/ supinat/pronator c |  |  |  |  |
L3203 | B |  | Oxford w/ supinator/pronator |  |  |  |  |
L3204 | B |  | Hightop w/ supp/pronator inf |  |  |  |  |
L3206 | B |  | Hightop w/ supp/pronator chi |  |  |  |  |
L3207 | B |  | Hightop w/ supp/pronator jun |  |  |  |  |
L3208 | B |  | Surgical boot each infant |  |  |  |  |
L3209 | B |  | Surgical boot each child |  |  |  |  |
L3211 | B |  | Surgical boot each junior |  |  |  |  |
L3212 | B |  | Benesch boot pair infant |  |  |  |  |
L3213 | B |  | Benesch boot pair child |  |  |  |  |
L3214 | B |  | Benesch boot pair junior |  |  |  |  |
L3215 | B |  | Orthopedic ftwear ladies oxf |  |  |  |  |
L3216 | B |  | Orthoped ladies shoes dpth i |  |  |  |  |
L3217 | B |  | Ladies shoes hightop depth i |  |  |  |  |
L3219 | B |  | Orthopedic mens shoes oxford |  |  |  |  |
L3221 | B |  | Orthopedic mens shoes dpth i |  |  |  |  |
L3222 | B |  | Mens shoes hightop depth inl |  |  |  |  |
L3224 | A |  | Womans shoe oxford brace |  |  |  |  |
L3225 | A |  | Mans shoe oxford brace |  |  |  |  |
L3230 | B |  | Custom shoes depth inlay |  |  |  |  |
L3250 | B |  | Custom mold shoe remov prost |  |  |  |  |
L3251 | B |  | Shoe molded to pt silicone s |  |  |  |  |
L3252 | B |  | Shoe molded plastazote cust |  |  |  |  |
L3253 | B |  | Shoe molded plastazote cust |  |  |  |  |
L3254 | B |  | Orth foot non-stndard size/w |  |  |  |  |
L3255 | B |  | Orth foot non-standard size/ |  |  |  |  |
L3257 | B |  | Orth foot add charge split s |  |  |  |  |
L3260 | B |  | Ambulatory surgical boot eac |  |  |  |  |
L3265 | B |  | Plastazote sandal each |  |  |  |  |
L3300 | B |  | Sho lift taper to metatarsal |  |  |  |  |
L3310 | B |  | Shoe lift elev heel/sole neo |  |  |  |  |
L3320 | B |  | Shoe lift elev heel/sole cor |  |  |  |  |
L3330 | B |  | Lifts elevation metal extens |  |  |  |  |
L3332 | B |  | Shoe lifts tapered to one-ha |  |  |  |  |
L3334 | B |  | Shoe lifts elevation heel /i |  |  |  |  |
L3340 | B |  | Shoe wedge sach |  |  |  |  |
L3350 | B |  | Shoe heel wedge |  |  |  |  |
L3360 | B |  | Shoe sole wedge outside sole |  |  |  |  |
L3370 | B |  | Shoe sole wedge between sole |  |  |  |  |
L3380 | B |  | Shoe clubfoot wedge |  |  |  |  |
L3390 | B |  | Shoe outflare wedge |  |  |  |  |
L3400 | B |  | Shoe metatarsal bar wedge ro |  |  |  |  |
L3410 | B |  | Shoe metatarsal bar between |  |  |  |  |
L3420 | B |  | Full sole/heel wedge btween |  |  |  |  |
L3430 | B |  | Sho heel count plast reinfor |  |  |  |  |
L3440 | B |  | Heel leather reinforced |  |  |  |  |
L3450 | B |  | Shoe heel sach cushion type |  |  |  |  |
L3455 | B |  | Shoe heel new leather standa |  |  |  |  |
L3460 | B |  | Shoe heel new rubber standar |  |  |  |  |
L3465 | B |  | Shoe heel thomas with wedge |  |  |  |  |
L3470 | B |  | Shoe heel thomas extend to b |  |  |  |  |
L3480 | B |  | Shoe heel pad & depress for |  |  |  |  |
L3485 | B |  | Shoe heel pad removable for |  |  |  |  |
L3500 | B |  | Ortho shoe add leather insol |  |  |  |  |
L3510 | B |  | Orthopedic shoe add rub insl |  |  |  |  |
L3520 | B |  | O shoe add felt w leath insl |  |  |  |  |
L3530 | B |  | Ortho shoe add half sole |  |  |  |  |
L3540 | B |  | Ortho shoe add full sole |  |  |  |  |
L3550 | B |  | O shoe add standard toe tap |  |  |  |  |
L3560 | B |  | O shoe add horseshoe toe tap |  |  |  |  |
L3570 | B |  | O shoe add instep extension |  |  |  |  |
L3580 | B |  | O shoe add instep velcro clo |  |  |  |  |
L3590 | B |  | O shoe convert to sof counte |  |  |  |  |
L3595 | B |  | Ortho shoe add march bar |  |  |  |  |
L3600 | B |  | Trans shoe calip plate exist |  |  |  |  |
L3610 | B |  | Trans shoe caliper plate new |  |  |  |  |
L3620 | B |  | Trans shoe solid stirrup exi |  |  |  |  |
L3630 | B |  | Trans shoe solid stirrup new |  |  |  |  |
L3640 | B |  | Shoe dennis browne splint bo |  |  |  |  |
L3649 | B |  | Orthopedic shoe modifica NOS |  |  |  |  |
L3650 | A |  | Shlder fig 8 abduct restrain |  |  |  |  |
L3651 | A |  | Prefab shoulder orthosis |  |  |  |  |
L3652 | A |  | Prefab dbl shoulder orthosis |  |  |  |  |
L3660 | A |  | Abduct restrainer canvas&web |  |  |  |  |
L3670 | A |  | Acromio/clavicular canvas&we |  |  |  |  |
L3675 | A |  | Canvas vest SO |  |  |  |  |
L3677 | E |  | SO hard plastic stabilizer |  |  |  |  |
L3700 | A |  | Elbow orthoses elas w stays |  |  |  |  |
L3701 | A |  | Prefab elbow orthosis |  |  |  |  |
L3710 | A |  | Elbow elastic with metal joi |  |  |  |  |
L3720 | A |  | Forearm/arm cuffs free motio |  |  |  |  |
L3730 | A |  | Forearm/arm cuffs ext/flex a |  |  |  |  |
L3740 | A |  | Cuffs adj lock w/ active con |  |  |  |  |
L3760 | A |  | EO withjoint, Prefabricated |  |  |  |  |
L3762 | A |  | Rigid EO wo joints |  |  |  |  |
L3800 | A |  | Whfo short opponen no attach |  |  |  |  |
L3805 | A |  | Whfo long opponens no attach |  |  |  |  |
L3807 | A |  | WHFO,no joint, prefabricated |  |  |  |  |
L3810 | A |  | Whfo thumb abduction bar |  |  |  |  |
L3815 | A |  | Whfo second m.p. abduction a |  |  |  |  |
L3820 | A |  | Whfo ip ext asst w/ mp ext s |  |  |  |  |
L3825 | A |  | Whfo m.p. extension stop |  |  |  |  |
L3830 | A |  | Whfo m.p. extension assist |  |  |  |  |
L3835 | A |  | Whfo m.p. spring extension a |  |  |  |  |
L3840 | A |  | Whfo spring swivel thumb |  |  |  |  |
L3845 | A |  | Whfo thumb ip ext ass w/ mp |  |  |  |  |
L3850 | A |  | Action wrist w/ dorsiflex as |  |  |  |  |
L3855 | A |  | Whfo adj m.p. flexion contro |  |  |  |  |
L3860 | A |  | Whfo adj m.p. flex ctrl & i. |  |  |  |  |
L3890 | B |  | Torsion mechanism wrist/elbo |  |  |  |  |
L3900 | A |  | Hinge extension/flex wrist/f |  |  |  |  |
L3901 | A |  | Hinge ext/flex wrist finger |  |  |  |  |
L3902 | E |  | Whfo ext power compress gas |  |  |  |  |
L3904 | A |  | Whfo electric custom fitted |  |  |  |  |
L3906 | A |  | Wrist gauntlet molded to pt |  |  |  |  |
L3907 | A |  | Whfo wrst gauntlt thmb spica |  |  |  |  |
L3908 | A |  | Wrist cock-up non-molded |  |  |  |  |
L3909 | A |  | Prefab wrist orthosis |  |  |  |  |
L3910 | A |  | Whfo swanson design |  |  |  |  |
L3911 | A |  | Prefab hand finger orthosis |  |  |  |  |
L3912 | A |  | Flex glove w/elastic finger |  |  |  |  |
L3914 | A |  | WHO wrist extension cock-up |  |  |  |  |
L3916 | A |  | Whfo wrist extens w/ outrigg |  |  |  |  |
L3917 | A |  | Prefab metacarpl fx orthosis |  |  |  |  |
L3918 | A |  | HFO knuckle bender |  |  |  |  |
L3920 | A |  | Knuckle bender with outrigge |  |  |  |  |
L3922 | A |  | Knuckle bend 2 seg to flex j |  |  |  |  |
L3923 | A |  | HFO, no joint, prefabricated |  |  |  |  |
L3924 | A |  | Oppenheimer |  |  |  |  |
L3926 | A |  | Thomas suspension |  |  |  |  |
L3928 | A |  | Finger extension w/ clock sp |  |  |  |  |
L3930 | A |  | Finger extension with wrist |  |  |  |  |
L3932 | A |  | Safety pin spring wire |  |  |  |  |
L3934 | A |  | Safety pin modified |  |  |  |  |
L3936 | A |  | Palmer |  |  |  |  |
L3938 | A |  | Dorsal wrist |  |  |  |  |
L3940 | A |  | Dorsal wrist w/ outrigger at |  |  |  |  |
L3942 | A |  | Reverse knuckle bender |  |  |  |  |
L3944 | A |  | Reverse knuckle bend w/ outr |  |  |  |  |
L3946 | A |  | HFO composite elastic |  |  |  |  |
L3948 | A |  | Finger knuckle bender |  |  |  |  |
L3950 | A |  | Oppenheimer w/ knuckle bend |  |  |  |  |
L3952 | A |  | Oppenheimer w/ rev knuckle 2 |  |  |  |  |
L3954 | A |  | Spreading hand |  |  |  |  |
L3956 | A |  | Add joint upper ext orthosis |  |  |  |  |
L3960 | A |  | Sewho airplan desig abdu pos |  |  |  |  |
L3962 | A |  | Sewho erbs palsey design abd |  |  |  |  |
L3963 | A |  | Molded w/ articulating elbow |  |  |  |  |
L3964 | Y |  | Seo mobile arm sup att to wc |  |  |  |  |
L3965 | Y |  | Arm supp att to wc rancho ty |  |  |  |  |
L3966 | Y |  | Mobile arm supports reclinin |  |  |  |  |
L3968 | Y |  | Friction dampening arm supp |  |  |  |  |
L3969 | Y |  | Monosuspension arm/hand supp |  |  |  |  |
L3970 | Y |  | Elevat proximal arm support |  |  |  |  |
L3972 | Y |  | Offset/lat rocker arm w/ ela |  |  |  |  |
L3974 | Y |  | Mobile arm support supinator |  |  |  |  |
L3980 | A |  | Upp ext fx orthosis humeral |  |  |  |  |
L3982 | A |  | Upper ext fx orthosis rad/ul |  |  |  |  |
L3984 | A |  | Upper ext fx orthosis wrist |  |  |  |  |
L3985 | A |  | Forearm hand fx orth w/ wr h |  |  |  |  |
L3986 | A |  | Humeral rad/ulna wrist fx or |  |  |  |  |
L3995 | A |  | Sock fracture or equal each |  |  |  |  |
L3999 | A |  | Upper limb orthosis NOS |  |  |  |  |
L4000 | A |  | Repl girdle milwaukee orth |  |  |  |  |
L4002 | A |  | Replace strap, any orthosis |  |  |  |  |
L4010 | A |  | Replace trilateral socket br |  |  |  |  |
L4020 | A |  | Replace quadlat socket brim |  |  |  |  |
L4030 | A |  | Replace socket brim cust fit |  |  |  |  |
L4040 | A |  | Replace molded thigh lacer |  |  |  |  |
L4045 | A |  | Replace non-molded thigh lac |  |  |  |  |
L4050 | A |  | Replace molded calf lacer |  |  |  |  |
L4055 | A |  | Replace non-molded calf lace |  |  |  |  |
L4060 | A |  | Replace high roll cuff |  |  |  |  |
L4070 | A |  | Replace prox & dist upright |  |  |  |  |
L4080 | A |  | Repl met band kafo-afo prox |  |  |  |  |
L4090 | A |  | Repl met band kafo-afo calf/ |  |  |  |  |
L4100 | A |  | Repl leath cuff kafo prox th |  |  |  |  |
L4110 | A |  | Repl leath cuff kafo-afo cal |  |  |  |  |
L4130 | A |  | Replace pretibial shell |  |  |  |  |
L4205 | A |  | Ortho dvc repair per 15 min |  |  |  |  |
L4210 | A |  | Orth dev repair/repl minor p |  |  |  |  |
L4350 | A |  | Ankle control orthosi prefab |  |  |  |  |
L4360 | A |  | Pneumati walking boot prefab |  |  |  |  |
L4370 | A |  | Pneumatic full leg splint |  |  |  |  |
L4380 | A |  | Pneumatic knee splint |  |  |  |  |
L4386 | A |  | Non-pneum walk boot prefab |  |  |  |  |
L4392 | A |  | Replace AFO soft interface |  |  |  |  |
L4394 | A |  | Replace foot drop spint |  |  |  |  |
L4396 | A |  | Static AFO |  |  |  |  |
L4398 | A |  | Foot drop splint recumbent |  |  |  |  |
L5000 | A |  | Sho insert w arch toe filler |  |  |  |  |
L5010 | A |  | Mold socket ank hgt w/ toe f |  |  |  |  |
L5020 | A |  | Tibial tubercle hgt w/ toe f |  |  |  |  |
L5050 | A |  | Ank symes mold sckt sach ft |  |  |  |  |
L5060 | A |  | Symes met fr leath socket ar |  |  |  |  |
L5100 | A |  | Molded socket shin sach foot |  |  |  |  |
L5105 | A |  | Plast socket jts/thgh lacer |  |  |  |  |
L5150 | A |  | Mold sckt ext knee shin sach |  |  |  |  |
L5160 | A |  | Mold socket bent knee shin s |  |  |  |  |
L5200 | A |  | Kne sing axis fric shin sach |  |  |  |  |
L5210 | A |  | No knee/ankle joints w/ ft b |  |  |  |  |
L5220 | A |  | No knee joint with artic ali |  |  |  |  |
L5230 | A |  | Fem focal defic constant fri |  |  |  |  |
L5250 | A |  | Hip canad sing axi cons fric |  |  |  |  |
L5270 | A |  | Tilt table locking hip sing |  |  |  |  |
L5280 | A |  | Hemipelvect canad sing axis |  |  |  |  |
L5301 | A |  | BK mold socket SACH ft endo |  |  |  |  |
L5311 | A |  | Knee disart, SACH ft, endo |  |  |  |  |
L5321 | A |  | AK open end SACH |  |  |  |  |
L5331 | A |  | Hip disart canadian SACH ft |  |  |  |  |
L5341 | A |  | Hemipelvectomy canadian SACH |  |  |  |  |
L5400 | A |  | Postop dress & 1 cast chg bk |  |  |  |  |
L5410 | A |  | Postop dsg bk ea add cast ch |  |  |  |  |
L5420 | A |  | Postop dsg & 1 cast chg ak/d |  |  |  |  |
L5430 | A |  | Postop dsg ak ea add cast ch |  |  |  |  |
L5450 | A |  | Postop app non-wgt bear dsg |  |  |  |  |
L5460 | A |  | Postop app non-wgt bear dsg |  |  |  |  |
L5500 | A |  | Init bk ptb plaster direct |  |  |  |  |
L5505 | A |  | Init ak ischal plstr direct |  |  |  |  |
L5510 | A |  | Prep BK ptb plaster molded |  |  |  |  |
L5520 | A |  | Perp BK ptb thermopls direct |  |  |  |  |
L5530 | A |  | Prep BK ptb thermopls molded |  |  |  |  |
L5535 | A |  | Prep BK ptb open end socket |  |  |  |  |
L5540 | A |  | Prep BK ptb laminated socket |  |  |  |  |
L5560 | A |  | Prep AK ischial plast molded |  |  |  |  |
L5570 | A |  | Prep AK ischial direct form |  |  |  |  |
L5580 | A |  | Prep AK ischial thermo mold |  |  |  |  |
L5585 | A |  | Prep AK ischial open end |  |  |  |  |
L5590 | A |  | Prep AK ischial laminated |  |  |  |  |
L5595 | A |  | Hip disartic sach thermopls |  |  |  |  |
L5600 | A |  | Hip disart sach laminat mold |  |  |  |  |
L5610 | A |  | Above knee hydracadence |  |  |  |  |
L5611 | A |  | Ak 4 bar link w/fric swing |  |  |  |  |
L5613 | A |  | Ak 4 bar ling w/hydraul swig |  |  |  |  |
L5614 | A |  | 4-bar link above knee w/swng |  |  |  |  |
L5616 | A |  | Ak univ multiplex sys frict |  |  |  |  |
L5617 | A |  | AK/BK self-aligning unit ea |  |  |  |  |
L5618 | A |  | Test socket symes |  |  |  |  |
L5620 | A |  | Test socket below knee |  |  |  |  |
L5622 | A |  | Test socket knee disarticula |  |  |  |  |
L5624 | A |  | Test socket above knee |  |  |  |  |
L5626 | A |  | Test socket hip disarticulat |  |  |  |  |
L5628 | A |  | Test socket hemipelvectomy |  |  |  |  |
L5629 | A |  | Below knee acrylic socket |  |  |  |  |
L5630 | A |  | Syme typ expandabl wall sckt |  |  |  |  |
L5631 | A |  | Ak/knee disartic acrylic soc |  |  |  |  |
L5632 | A |  | Symes type ptb brim design s |  |  |  |  |
L5634 | A |  | Symes type poster opening so |  |  |  |  |
L5636 | A |  | Symes type medial opening so |  |  |  |  |
L5637 | A |  | Below knee total contact |  |  |  |  |
L5638 | A |  | Below knee leather socket |  |  |  |  |
L5639 | A |  | Below knee wood socket |  |  |  |  |
L5640 | A |  | Knee disarticulat leather so |  |  |  |  |
L5642 | A |  | Above knee leather socket |  |  |  |  |
L5643 | A |  | Hip flex inner socket ext fr |  |  |  |  |
L5644 | A |  | Above knee wood socket |  |  |  |  |
L5645 | A |  | Bk flex inner socket ext fra |  |  |  |  |
L5646 | A |  | Below knee cushion socket |  |  |  |  |
L5647 | A |  | Below knee suction socket |  |  |  |  |
L5648 | A |  | Above knee cushion socket |  |  |  |  |
L5649 | A |  | Isch containmt/narrow m-l so |  |  |  |  |
L5650 | A |  | Tot contact ak/knee disart s |  |  |  |  |
L5651 | A |  | Ak flex inner socket ext fra |  |  |  |  |
L5652 | A |  | Suction susp ak/knee disart |  |  |  |  |
L5653 | A |  | Knee disart expand wall sock |  |  |  |  |
L5654 | A |  | Socket insert symes |  |  |  |  |
L5655 | A |  | Socket insert below knee |  |  |  |  |
L5656 | A |  | Socket insert knee articulat |  |  |  |  |
L5658 | A |  | Socket insert above knee |  |  |  |  |
L5661 | A |  | Multi-durometer symes |  |  |  |  |
L5665 | A |  | Multi-durometer below knee |  |  |  |  |
L5666 | A |  | Below knee cuff suspension |  |  |  |  |
L5668 | A |  | Socket insert w/o lock lower |  |  |  |  |
L5670 | A |  | Bk molded supracondylar susp |  |  |  |  |
L5671 | A |  | BK/AK locking mechanism |  |  |  |  |
L5672 | A |  | Bk removable medial brim sus |  |  |  |  |
L5673 | A |  | Socket insert w lock mech |  |  |  |  |
L5676 | A |  | Bk knee joints single axis p |  |  |  |  |
L5677 | A |  | Bk knee joints polycentric p |  |  |  |  |
L5678 | A |  | Bk joint covers pair |  |  |  |  |
L5679 | A |  | Socket insert w/o lock mech |  |  |  |  |
L5680 | A |  | Bk thigh lacer non-molded |  |  |  |  |
L5681 | A |  | Intl custm cong/latyp insert |  |  |  |  |
L5682 | A |  | Bk thigh lacer glut/ischia m |  |  |  |  |
L5683 | A |  | Initial custom socket insert |  |  |  |  |
L5684 | A |  | Bk fork strap |  |  |  |  |
L5685 | A |  | Below knee sus/seal sleeve |  |  |  |  |
L5686 | A |  | Bk back check |  |  |  |  |
L5688 | A |  | Bk waist belt webbing |  |  |  |  |
L5690 | A |  | Bk waist belt padded and lin |  |  |  |  |
L5692 | A |  | Ak pelvic control belt light |  |  |  |  |
L5694 | A |  | Ak pelvic control belt pad/l |  |  |  |  |
L5695 | A |  | Ak sleeve susp neoprene/equa |  |  |  |  |
L5696 | A |  | Ak/knee disartic pelvic join |  |  |  |  |
L5697 | A |  | Ak/knee disartic pelvic band |  |  |  |  |
L5698 | A |  | Ak/knee disartic silesian ba |  |  |  |  |
L5699 | A |  | Shoulder harness |  |  |  |  |
L5700 | A |  | Replace socket below knee |  |  |  |  |
L5701 | A |  | Replace socket above knee |  |  |  |  |
L5702 | A |  | Replace socket hip |  |  |  |  |
L5704 | A |  | Custom shape cover BK |  |  |  |  |
L5705 | A |  | Custom shape cover AK |  |  |  |  |
L5706 | A |  | Custom shape cvr knee disart |  |  |  |  |
L5707 | A |  | Custom shape cvr hip disart |  |  |  |  |
L5710 | A |  | Kne-shin exo sng axi mnl loc |  |  |  |  |
L5711 | A |  | Knee-shin exo mnl lock ultra |  |  |  |  |
L5712 | A |  | Knee-shin exo frict swg & st |  |  |  |  |
L5714 | A |  | Knee-shin exo variable frict |  |  |  |  |
L5716 | A |  | Knee-shin exo mech stance ph |  |  |  |  |
L5718 | A |  | Knee-shin exo frct swg & sta |  |  |  |  |
L5722 | A |  | Knee-shin pneum swg frct exo |  |  |  |  |
L5724 | A |  | Knee-shin exo fluid swing ph |  |  |  |  |
L5726 | A |  | Knee-shin ext jnts fld swg e |  |  |  |  |
L5728 | A |  | Knee-shin fluid swg & stance |  |  |  |  |
L5780 | A |  | Knee-shin pneum/hydra pneum |  |  |  |  |
L5781 | A |  | Lower limb pros vacuum pump |  |  |  |  |
L5782 | A |  | HD low limb pros vacuum pump |  |  |  |  |
L5785 | A |  | Exoskeletal bk ultralt mater |  |  |  |  |
L5790 | A |  | Exoskeletal ak ultra-light m |  |  |  |  |
L5795 | A |  | Exoskel hip ultra-light mate |  |  |  |  |
L5810 | A |  | Endoskel knee-shin mnl lock |  |  |  |  |
L5811 | A |  | Endo knee-shin mnl lck ultra |  |  |  |  |
L5812 | A |  | Endo knee-shin frct swg & st |  |  |  |  |
L5814 | A |  | Endo knee-shin hydral swg ph |  |  |  |  |
L5816 | A |  | Endo knee-shin polyc mch sta |  |  |  |  |
L5818 | A |  | Endo knee-shin frct swg & st |  |  |  |  |
L5822 | A |  | Endo knee-shin pneum swg frc |  |  |  |  |
L5824 | A |  | Endo knee-shin fluid swing p |  |  |  |  |
L5826 | A |  | Miniature knee joint |  |  |  |  |
L5828 | A |  | Endo knee-shin fluid swg/sta |  |  |  |  |
L5830 | A |  | Endo knee-shin pneum/swg pha |  |  |  |  |
L5840 | A |  | Multi-axial knee/shin system |  |  |  |  |
L5845 | A |  | Knee-shin sys stance flexion |  |  |  |  |
L5848 | A |  | Knee-shin sys hydraul stance |  |  |  |  |
L5850 | A |  | Endo ak/hip knee extens assi |  |  |  |  |
L5855 | A |  | Mech hip extension assist |  |  |  |  |
L5856 | A |  | Elec knee-shin swing/stance |  |  |  |  |
L5857 | A |  | Elec knee-shin swing only |  |  |  |  |
L5910 | A |  | Endo below knee alignable sy |  |  |  |  |
L5920 | A |  | Endo ak/hip alignable system |  |  |  |  |
L5925 | A |  | Above knee manual lock |  |  |  |  |
L5930 | A |  | High activity knee frame |  |  |  |  |
L5940 | A |  | Endo bk ultra-light material |  |  |  |  |
L5950 | A |  | Endo ak ultra-light material |  |  |  |  |
L5960 | A |  | Endo hip ultra-light materia |  |  |  |  |
L5962 | A |  | Below knee flex cover system |  |  |  |  |
L5964 | A |  | Above knee flex cover system |  |  |  |  |
L5966 | A |  | Hip flexible cover system |  |  |  |  |
L5968 | A |  | Multiaxial ankle w dorsiflex |  |  |  |  |
L5970 | A |  | Foot external keel sach foot |  |  |  |  |
L5972 | A |  | Flexible keel foot |  |  |  |  |
L5974 | A |  | Foot single axis ankle/foot |  |  |  |  |
L5975 | A |  | Combo ankle/foot prosthesis |  |  |  |  |
L5976 | A |  | Energy storing foot |  |  |  |  |
L5978 | A |  | Ft prosth multiaxial ankl/ft |  |  |  |  |
L5979 | A |  | Multi-axial ankle/ft prosth |  |  |  |  |
L5980 | A |  | Flex foot system |  |  |  |  |
L5981 | A |  | Flex-walk sys low ext prosth |  |  |  |  |
L5982 | A |  | Exoskeletal axial rotation u |  |  |  |  |
L5984 | A |  | Endoskeletal axial rotation |  |  |  |  |
L5985 | A |  | Lwr ext dynamic prosth pylon |  |  |  |  |
L5986 | A |  | Multi-axial rotation unit |  |  |  |  |
L5987 | A |  | Shank ft w vert load pylon |  |  |  |  |
L5988 | A |  | Vertical shock reducing pylo |  |  |  |  |
L5990 | A |  | User adjustable heel height |  |  |  |  |
L5995 | A |  | Lower ext pros heavyduty fea |  |  |  |  |
L5999 | A |  | Lowr extremity prosthes NOS |  |  |  |  |
L6000 | A |  | Par hand robin-aids thum rem |  |  |  |  |
L6010 | A |  | Hand robin-aids little/ring |  |  |  |  |
L6020 | A |  | Part hand robin-aids no fing |  |  |  |  |
L6025 | A |  | Part hand disart myoelectric |  |  |  |  |
L6050 | A |  | Wrst MLd sck flx hng tri pad |  |  |  |  |
L6055 | A |  | Wrst mold sock w/exp interfa |  |  |  |  |
L6100 | A |  | Elb mold sock flex hinge pad |  |  |  |  |
L6110 | A |  | Elbow mold sock suspension t |  |  |  |  |
L6120 | A |  | Elbow mold doub splt soc ste |  |  |  |  |
L6130 | A |  | Elbow stump activated lock h |  |  |  |  |
L6200 | A |  | Elbow mold outsid lock hinge |  |  |  |  |
L6205 | A |  | Elbow molded w/ expand inter |  |  |  |  |
L6250 | A |  | Elbow inter loc elbow forarm |  |  |  |  |
L6300 | A |  | Shlder disart int lock elbow |  |  |  |  |
L6310 | A |  | Shoulder passive restor comp |  |  |  |  |
L6320 | A |  | Shoulder passive restor cap |  |  |  |  |
L6350 | A |  | Thoracic intern lock elbow |  |  |  |  |
L6360 | A |  | Thoracic passive restor comp |  |  |  |  |
L6370 | A |  | Thoracic passive restor cap |  |  |  |  |
L6380 | A |  | Postop dsg cast chg wrst/elb |  |  |  |  |
L6382 | A |  | Postop dsg cast chg elb dis/ |  |  |  |  |
L6384 | A |  | Postop dsg cast chg shlder/t |  |  |  |  |
L6386 | A |  | Postop ea cast chg & realign |  |  |  |  |
L6388 | A |  | Postop applicat rigid dsg on |  |  |  |  |
L6400 | A |  | Below elbow prosth tiss shap |  |  |  |  |
L6450 | A |  | Elb disart prosth tiss shap |  |  |  |  |
L6500 | A |  | Above elbow prosth tiss shap |  |  |  |  |
L6550 | A |  | Shldr disar prosth tiss shap |  |  |  |  |
L6570 | A |  | Scap thorac prosth tiss shap |  |  |  |  |
L6580 | A |  | Wrist/elbow bowden cable mol |  |  |  |  |
L6582 | A |  | Wrist/elbow bowden cbl dir f |  |  |  |  |
L6584 | A |  | Elbow fair lead cable molded |  |  |  |  |
L6586 | A |  | Elbow fair lead cable dir fo |  |  |  |  |
L6588 | A |  | Shdr fair lead cable molded |  |  |  |  |
L6590 | A |  | Shdr fair lead cable direct |  |  |  |  |
L6600 | A |  | Polycentric hinge pair |  |  |  |  |
L6605 | A |  | Single pivot hinge pair |  |  |  |  |
L6610 | A |  | Flexible metal hinge pair |  |  |  |  |
L6615 | A |  | Disconnect locking wrist uni |  |  |  |  |
L6616 | A |  | Disconnect insert locking wr |  |  |  |  |
L6620 | A |  | Flexion/extension wrist unit |  |  |  |  |
L6623 | A |  | Spring-ass rot wrst w/ latch |  |  |  |  |
L6625 | A |  | Rotation wrst w/ cable lock |  |  |  |  |
L6628 | A |  | Quick disconn hook adapter o |  |  |  |  |
L6629 | A |  | Lamination collar w/ couplin |  |  |  |  |
L6630 | A |  | Stainless steel any wrist |  |  |  |  |
L6632 | A |  | Latex suspension sleeve each |  |  |  |  |
L6635 | A |  | Lift assist for elbow |  |  |  |  |
L6637 | A |  | Nudge control elbow lock |  |  |  |  |
L6638 | A |  | Elec lock on manual pw elbow |  |  |  |  |
L6640 | A |  | Shoulder abduction joint pai |  |  |  |  |
L6641 | A |  | Excursion amplifier pulley t |  |  |  |  |
L6642 | A |  | Excursion amplifier lever ty |  |  |  |  |
L6645 | A |  | Shoulder flexion-abduction j |  |  |  |  |
L6646 | A |  | Multipo locking shoulder jnt |  |  |  |  |
L6647 | A |  | Shoulder lock actuator |  |  |  |  |
L6648 | A |  | Ext pwrd shlder lock/unlock |  |  |  |  |
L6650 | A |  | Shoulder universal joint |  |  |  |  |
L6655 | A |  | Standard control cable extra |  |  |  |  |
L6660 | A |  | Heavy duty control cable |  |  |  |  |
L6665 | A |  | Teflon or equal cable lining |  |  |  |  |
L6670 | A |  | Hook to hand cable adapter |  |  |  |  |
L6672 | A |  | Harness chest/shlder saddle |  |  |  |  |
L6675 | A |  | Harness figure of 8 sing con |  |  |  |  |
L6676 | A |  | Harness figure of 8 dual con |  |  |  |  |
L6680 | A |  | Test sock wrist disart/bel e |  |  |  |  |
L6682 | A |  | Test sock elbw disart/above |  |  |  |  |
L6684 | A |  | Test socket shldr disart/tho |  |  |  |  |
L6686 | A |  | Suction socket |  |  |  |  |
L6687 | A |  | Frame typ socket bel elbow/w |  |  |  |  |
L6688 | A |  | Frame typ sock above elb/dis |  |  |  |  |
L6689 | A |  | Frame typ socket shoulder di |  |  |  |  |
L6690 | A |  | Frame typ sock interscap-tho |  |  |  |  |
L6691 | A |  | Removable insert each |  |  |  |  |
L6692 | A |  | Silicone gel insert or equal |  |  |  |  |
L6693 | A |  | Lockingelbow forearm cntrbal |  |  |  |  |
L6694 | A |  | Elbow socket ins use w/lock |  |  |  |  |
L6695 | A |  | Elbow socket ins use w/o lck |  |  |  |  |
L6696 | A |  | Cus elbo skt in for con/atyp |  |  |  |  |
L6697 | A |  | Cus elbo skt in not con/atyp |  |  |  |  |
L6698 | A |  | Below/above elbow lock mech |  |  |  |  |
L6700 | A |  | Terminal device model #3 |  |  |  |  |
L6705 | A |  | Terminal device model #5 |  |  |  |  |
L6710 | A |  | Terminal device model #5x |  |  |  |  |
L6715 | A |  | Terminal device model #5xa |  |  |  |  |
L6720 | A |  | Terminal device model #6 |  |  |  |  |
L6725 | A |  | Terminal device model #7 |  |  |  |  |
L6730 | A |  | Terminal device model #7lo |  |  |  |  |
L6735 | A |  | Terminal device model #8 |  |  |  |  |
L6740 | A |  | Terminal device model #8x |  |  |  |  |
L6745 | A |  | Terminal device model #88x |  |  |  |  |
L6750 | A |  | Terminal device model #10p |  |  |  |  |
L6755 | A |  | Terminal device model #10x |  |  |  |  |
L6765 | A |  | Terminal device model #12p |  |  |  |  |
L6770 | A |  | Terminal device model #99x |  |  |  |  |
L6775 | A |  | Terminal device model #555 |  |  |  |  |
L6780 | A |  | Terminal device model #ss555 |  |  |  |  |
L6790 | A |  | Hooks-accu hook or equal |  |  |  |  |
L6795 | A |  | Hooks-2 load or equal |  |  |  |  |
L6800 | A |  | Hooks-aprl vc or equal |  |  |  |  |
L6805 | A |  | Modifier wrist flexion unit |  |  |  |  |
L6806 | A |  | Trs grip vc or equal |  |  |  |  |
L6807 | A |  | Term device grip1/2 or equal |  |  |  |  |
L6808 | A |  | Term device infant or child |  |  |  |  |
L6809 | A |  | Trs super sport passive |  |  |  |  |
L6810 | A |  | Pincher tool otto bock or eq |  |  |  |  |
L6825 | A |  | Hands dorrance vo |  |  |  |  |
L6830 | A |  | Hand aprl vc |  |  |  |  |
L6835 | A |  | Hand sierra vo |  |  |  |  |
L6840 | A |  | Hand becker imperial |  |  |  |  |
L6845 | A |  | Hand becker lock grip |  |  |  |  |
L6850 | A |  | Term dvc-hand becker plylite |  |  |  |  |
L6855 | A |  | Hand robin-aids vo |  |  |  |  |
L6860 | A |  | Hand robin-aids vo soft |  |  |  |  |
L6865 | A |  | Hand passive hand |  |  |  |  |
L6867 | A |  | Hand detroit infant hand |  |  |  |  |
L6868 | A |  | Passive inf hand steeper/hos |  |  |  |  |
L6870 | A |  | Hand child mitt |  |  |  |  |
L6872 | A |  | Hand nyu child hand |  |  |  |  |
L6873 | A |  | Hand mech inf steeper or equ |  |  |  |  |
L6875 | A |  | Hand bock vc |  |  |  |  |
L6880 | A |  | Hand bock vo |  |  |  |  |
L6881 | A |  | Autograsp feature ul term dv |  |  |  |  |
L6882 | A |  | Microprocessor control uplmb |  |  |  |  |
L6890 | A |  | Production glove |  |  |  |  |
L6895 | A |  | Custom glove |  |  |  |  |
L6900 | A |  | Hand restorat thumb/1 finger |  |  |  |  |
L6905 | A |  | Hand restoration multiple fi |  |  |  |  |
L6910 | A |  | Hand restoration no fingers |  |  |  |  |
L6915 | A |  | Hand restoration replacmnt g |  |  |  |  |
L6920 | A |  | Wrist disarticul switch ctrl |  |  |  |  |
L6925 | A |  | Wrist disart myoelectronic c |  |  |  |  |
L6930 | A |  | Below elbow switch control |  |  |  |  |
L6935 | A |  | Below elbow myoelectronic ct |  |  |  |  |
L6940 | A |  | Elbow disarticulation switch |  |  |  |  |
L6945 | A |  | Elbow disart myoelectronic c |  |  |  |  |
L6950 | A |  | Above elbow switch control |  |  |  |  |
L6955 | A |  | Above elbow myoelectronic ct |  |  |  |  |
L6960 | A |  | Shldr disartic switch contro |  |  |  |  |
L6965 | A |  | Shldr disartic myoelectronic |  |  |  |  |
L6970 | A |  | Interscapular-thor switch ct |  |  |  |  |
L6975 | A |  | Interscap-thor myoelectronic |  |  |  |  |
L7010 | A |  | Hand otto back steeper/eq sw |  |  |  |  |
L7015 | A |  | Hand sys teknik village swit |  |  |  |  |
L7020 | A |  | Electronic greifer switch ct |  |  |  |  |
L7025 | A |  | Electron hand myoelectronic |  |  |  |  |
L7030 | A |  | Hand sys teknik vill myoelec |  |  |  |  |
L7035 | A |  | Electron greifer myoelectro |  |  |  |  |
L7040 | A |  | Prehensile actuator hosmer s |  |  |  |  |
L7045 | A |  | Electron hook child michigan |  |  |  |  |
L7170 | A |  | Electronic elbow hosmer swit |  |  |  |  |
L7180 | A |  | Electronic elbow utah myoele |  |  |  |  |
L7181 | A |  | Electronic elbo simultaneous |  |  |  |  |
L7185 | A |  | Electron elbow adolescent sw |  |  |  |  |
L7186 | A |  | Electron elbow child switch |  |  |  |  |
L7190 | A |  | Elbow adolescent myoelectron |  |  |  |  |
L7191 | A |  | Elbow child myoelectronic ct |  |  |  |  |
L7260 | A |  | Electron wrist rotator otto |  |  |  |  |
L7261 | A |  | Electron wrist rotator utah |  |  |  |  |
L7266 | A |  | Servo control steeper or equ |  |  |  |  |
L7272 | A |  | Analogue control unb or equa |  |  |  |  |
L7274 | A |  | Proportional ctl 12 volt uta |  |  |  |  |
L7360 | A |  | Six volt bat otto bock/eq ea |  |  |  |  |
L7362 | A |  | Battery chrgr six volt otto |  |  |  |  |
L7364 | A |  | Twelve volt battery utah/equ |  |  |  |  |
L7366 | A |  | Battery chrgr 12 volt utah/e |  |  |  |  |
L7367 | A |  | Replacemnt lithium ionbatter |  |  |  |  |
L7368 | A |  | Lithium ion battery charger |  |  |  |  |
L7499 | A |  | Upper extremity prosthes NOS |  |  |  |  |
L7500 | A |  | Prosthetic dvc repair hourly |  |  |  |  |
L7510 | A |  | Prosthetic device repair rep |  |  |  |  |
L7520 | A |  | Repair prosthesis per 15 min |  |  |  |  |
L7900 | A |  | Male vacuum erection system |  |  |  |  |
L8000 | A |  | Mastectomy bra |  |  |  |  |
L8001 | A |  | Breast prosthesis bra & form |  |  |  |  |
L8002 | A |  | Brst prsth bra & bilat form |  |  |  |  |
L8010 | A |  | Mastectomy sleeve |  |  |  |  |
L8015 | A |  | Ext breastprosthesis garment |  |  |  |  |
L8020 | A |  | Mastectomy form |  |  |  |  |
L8030 | A |  | Breast prosthesis silicone/e |  |  |  |  |
L8035 | A |  | Custom breast prosthesis |  |  |  |  |
L8039 | A |  | Breast prosthesis NOS |  |  |  |  |
L8040 | A |  | Nasal prosthesis |  |  |  |  |
L8041 | A |  | Midfacial prosthesis |  |  |  |  |
L8042 | A |  | Orbital prosthesis |  |  |  |  |
L8043 | A |  | Upper facial prosthesis |  |  |  |  |
L8044 | A |  | Hemi-facial prosthesis |  |  |  |  |
L8045 | A |  | Auricular prosthesis |  |  |  |  |
L8046 | A |  | Partial facial prosthesis |  |  |  |  |
L8047 | A |  | Nasal septal prosthesis |  |  |  |  |
L8048 | A |  | Unspec maxillofacial prosth |  |  |  |  |
L8049 | A |  | Repair maxillofacial prosth |  |  |  |  |
L8100 | E |  | Compression stocking BK18-30 |  |  |  |  |
L8110 | A |  | Compression stocking BK30-40 |  |  |  |  |
L8120 | A |  | Compression stocking BK40-50 |  |  |  |  |
L8130 | E |  | Gc stocking thighlngth 18-30 |  |  |  |  |
L8140 | E |  | Gc stocking thighlngth 30-40 |  |  |  |  |
L8150 | E |  | Gc stocking thighlngth 40-50 |  |  |  |  |
L8160 | E |  | Gc stocking full lngth 18-30 |  |  |  |  |
L8170 | E |  | Gc stocking full lngth 30-40 |  |  |  |  |
L8180 | E |  | Gc stocking full lngth 40-50 |  |  |  |  |
L8190 | E |  | Gc stocking waistlngth 18-30 |  |  |  |  |
L8195 | E |  | Gc stocking waistlngth 30-40 |  |  |  |  |
L8200 | E |  | Gc stocking waistlngth 40-50 |  |  |  |  |
L8210 | E |  | Gc stocking custom made |  |  |  |  |
L8220 | E |  | Gc stocking lymphedema |  |  |  |  |
L8230 | E |  | Gc stocking garter belt |  |  |  |  |
L8239 | E |  | G compression stocking NOS |  |  |  |  |
L8300 | A |  | Truss single w/ standard pad |  |  |  |  |
L8310 | A |  | Truss double w/ standard pad |  |  |  |  |
L8320 | A |  | Truss addition to std pad wa |  |  |  |  |
L8330 | A |  | Truss add to std pad scrotal |  |  |  |  |
L8400 | A |  | Sheath below knee |  |  |  |  |
L8410 | A |  | Sheath above knee |  |  |  |  |
L8415 | A |  | Sheath upper limb |  |  |  |  |
L8417 | A |  | Pros sheath/sock w gel cushn |  |  |  |  |
L8420 | A |  | Prosthetic sock multi ply BK |  |  |  |  |
L8430 | A |  | Prosthetic sock multi ply AK |  |  |  |  |
L8435 | A |  | Pros sock multi ply upper lm |  |  |  |  |
L8440 | A |  | Shrinker below knee |  |  |  |  |
L8460 | A |  | Shrinker above knee |  |  |  |  |
L8465 | A |  | Shrinker upper limb |  |  |  |  |
L8470 | A |  | Pros sock single ply BK |  |  |  |  |
L8480 | A |  | Pros sock single ply AK |  |  |  |  |
L8485 | A |  | Pros sock single ply upper l |  |  |  |  |
L8499 | A |  | Unlisted misc prosthetic ser |  |  |  |  |
L8500 | A |  | Artificial larynx |  |  |  |  |
L8501 | A |  | Tracheostomy speaking valve |  |  |  |  |
L8505 | A |  | Artificial larynx, accessory |  |  |  |  |
L8507 | A |  | Trach-esoph voice pros pt in |  |  |  |  |
L8509 | A |  | Trach-esoph voice pros md in |  |  |  |  |
L8510 | A |  | Voice amplifier |  |  |  |  |
L8511 | A |  | Indwelling trach insert |  |  |  |  |
L8512 | A |  | Gel cap for trach voice pros |  |  |  |  |
L8513 | A |  | Trach pros cleaning device |  |  |  |  |
L8514 | A |  | Repl trach puncture dilator |  |  |  |  |
L8515 | A |  | Gel cap app device for trach |  |  |  |  |
L8600 | N |  | Implant breast silicone/eq |  |  |  |  |
L8603 | N |  | Collagen imp urinary 2.5 ml |  |  |  |  |
L8606 | N |  | Synthetic implnt urinary 1ml |  |  |  |  |
L8610 | N |  | Ocular implant |  |  |  |  |
L8612 | N |  | Aqueous shunt prosthesis |  |  |  |  |
L8613 | N |  | Ossicular implant |  |  |  |  |
L8614 | N |  | Cochlear device/system |  |  |  |  |
L8615 | A |  | Coch implant headset replace |  |  |  |  |
L8616 | A |  | Coch implant microphone repl |  |  |  |  |
L8617 | A |  | Coch implant trans coil repl |  |  |  |  |
L8618 | A |  | Coch implant tran cable repl |  |  |  |  |
L8619 | A |  | Replace cochlear processor |  |  |  |  |
L8620 | A |  | Repl lithium ion battery |  |  |  |  |
L8621 | A |  | Repl zinc air battery |  |  |  |  |
L8622 | A |  | Repl alkaline battery |  |  |  |  |
L8630 | N |  | Metacarpophalangeal implant |  |  |  |  |
L8631 | N |  | MCP joint repl 2 pc or more |  |  |  |  |
L8641 | N |  | Metatarsal joint implant |  |  |  |  |
L8642 | N |  | Hallux implant |  |  |  |  |
L8658 | N |  | Interphalangeal joint spacer |  |  |  |  |
L8659 | N |  | Interphalangeal joint repl |  |  |  |  |
L8670 | N |  | Vascular graft, synthetic |  |  |  |  |
L8699 | N |  | Prosthetic implant NOS |  |  |  |  |
L9900 | A |  | O&P supply/accessory/service |  |  |  |  |
M0064 | X |  | Visit for drug monitoring | 0374 | 1.0367 | $61.53 |  | $12.31
M0075 | E |  | Cellular therapy |  |  |  |  |
M0076 | E |  | Prolotherapy |  |  |  |  |
M0100 | E |  | Intragastric hypothermia |  |  |  |  |
M0300 | E |  | IV chelationtherapy |  |  |  |  |
M0301 | E |  | Fabric wrapping of aneurysm |  |  |  |  |
P2028 | A |  | Cephalin floculation test |  |  |  |  |
P2029 | A |  | Congo red blood test |  |  |  |  |
P2031 | E |  | Hair analysis |  |  |  |  |
P2033 | A |  | Blood thymol turbidity |  |  |  |  |
P2038 | A |  | Blood mucoprotein |  |  |  |  |
P3000 | A |  | Screen pap by tech w md supv |  |  |  |  |
P3001 | B |  | Screening pap smear by phys |  |  |  |  |
P7001 | E |  | Culture bacterial urine |  |  |  |  |
P9010 | K |  | Whole blood for transfusion | 0950 | 2.0032 | $118.89 |  | $23.78
P9011 | K |  | Blood split unit | 0967 | 1.2641 | $75.02 |  | $15.00
P9012 | K |  | Cryoprecipitate each unit | 0952 | 0.7361 | $43.69 |  | $8.74
P9016 | K |  | RBC leukocytes reduced | 0954 | 2.7246 | $161.71 |  | $32.34
P9017 | K |  | Plasma 1 donor frz w/in 8 hr | 9508 | 1.1983 | $71.12 |  | $14.22
P9019 | K |  | Platelets, each unit | 0957 | 0.8279 | $49.14 |  | $9.83
P9020 | K |  | Plaelet rich plasma unit | 0958 | 5.1580 | $306.13 |  | $61.23
P9021 | K |  | Red blood cells unit | 0959 | 2.0209 | $119.94 |  | $23.99
P9022 | K |  | Washed red blood cells unit | 0960 | 2.9573 | $175.52 |  | $35.10
P9023 | K |  | Frozen plasma, pooled, sd | 0949 | 1.1902 | $70.64 |  | $14.13
P9031 | K |  | Platelets leukocytes reduced | 1013 | 1.5950 | $94.66 |  | $18.93
P9032 | K |  | Platelets, irradiated | 9500 | 1.3527 | $80.28 |  | $16.06
P9033 | K |  | Platelets leukoreduced irrad | 0968 | 2.3532 | $139.66 |  | $27.93
P9034 | K |  | Platelets, pheresis | 9507 | 6.8676 | $407.59 |  | $81.52
P9035 | K |  | Platelet pheres leukoreduced | 9501 | 8.1126 | $481.48 |  | $96.30
P9036 | K |  | Platelet pheresis irradiated | 9502 | 5.1660 | $306.60 |  | $61.32
P9037 | K |  | Plate pheres leukoredu irrad | 1019 | 9.4700 | $562.04 |  | $112.41
P9038 | K |  | RBC irradiated | 9505 | 2.3768 | $141.06 |  | $28.21
P9039 | K |  | RBC deglycerolized | 9504 | 6.4022 | $379.97 |  | $75.99
P9040 | K |  | RBC leukoreduced irradiated | 0969 | 3.6286 | $215.36 |  | $43.07
P9041 | K |  | Albumin (human),5%, 50ml | 0961 | 0.5119 | $30.38 |  | $6.08
P9043 | K |  | Plasma protein fract,5%,50ml | 0956 | 1.1175 | $66.32 |  | $13.26
P9044 | K |  | Cryoprecipitatereducedplasma | 1009 | 1.3003 | $77.17 |  | $15.43
P9045 | K |  | Albumin (human), 5%, 250 ml | 0963 | 1.3867 | $82.30 |  | $16.46
P9046 | K |  | Albumin (human), 25%, 20 ml | 0964 | 0.4878 | $28.95 |  | $5.79
P9047 | K |  | Albumin (human), 25%, 50ml | 0965 | 1.1115 | $65.97 |  | $13.19
P9048 | K |  | Plasmaprotein fract,5%,250ml | 0966 | 4.9340 | $292.83 |  | $58.57
P9050 | K |  | Granulocytes, pheresis unit | 9506 | 15.5448 | $922.58 |  | $184.52
P9051 | K |  | Blood, l/r, cmv-neg | 1010 | 2.9558 | $175.43 |  | $35.09
P9052 | K |  | Platelets, hla-m, l/r, unit | 1011 | 10.9193 | $648.06 |  | $129.61
P9053 | K |  | Plt, pher, l/r cmv-neg, irr | 1020 | 10.1091 | $599.98 |  | $120.00
P9054 | K |  | Blood, l/r, froz/degly/wash | 1016 | 5.2392 | $310.95 |  | $62.19
P9055 | K |  | Plt, aph/pher, l/r, cmv-neg | 1017 | 8.5608 | $508.08 |  | $101.62
P9056 | K |  | Blood, l/r, irradiated | 1018 | 2.7877 | $165.45 |  | $33.09
P9057 | K |  | RBC, frz/deg/wsh, l/r, irrad | 1021 | 4.8566 | $288.24 |  | $57.65
P9058 | K |  | RBC, l/r, cmv-neg, irrad | 1022 | 4.2707 | $253.47 |  | $50.69
P9059 | K |  | Plasma, frz between 8-24hour | 0955 | 1.2876 | $76.42 |  | $15.28
P9060 | K |  | Fr frz plasma donor retested | 9503 | 1.6167 | $95.95 |  | $19.19
P9603 | A |  | One-way allow prorated miles |  |  |  |  |
P9604 | A |  | One-way allow prorated trip |  |  |  |  |
P9612 | N |  | Catheterize for urine spec |  |  |  |  |
P9615 | N |  | Urine specimen collect mult |  |  |  |  |
Q0035 | X |  | Cardiokymography | 0100 | 2.4855 | $147.51 | $41.44 | $29.50
Q0081 | B |  | Infusion ther other than che |  |  |  |  |
Q0083 | B |  | Chemo by other than infusion |  |  |  |  |
Q0084 | B |  | Chemotherapy by infusion |  |  |  |  |
Q0085 | B |  | Chemo by both infusion and o |  |  |  |  |
Q0091 | T |  | Obtaining screen pap smear | 0191 | 0.1663 | $9.87 | $2.77 | $1.97
Q0092 | N |  | Set up port xray equipment |  |  |  |  |
Q0111 | A |  | Wet mounts/ w preparations |  |  |  |  |
Q0112 | A |  | Potassium hydroxide preps |  |  |  |  |
Q0113 | A |  | Pinworm examinations |  |  |  |  |
Q0114 | A |  | Fern test |  |  |  |  |
Q0115 | A |  | Post-coital mucous exam |  |  |  |  |
Q0136 | K |  | Non esrd epoetin alpha inj | 0733 |  | $9.99 |  | $2.00
Q0137 | K |  | Darbepoetin alfa, non esrd | 0734 |  | $3.28 |  | $.66
Q0144 | E |  | Azithromycin dihydrate, oral |  |  |  |  |
Q0163 | N |  | Diphenhydramine HCl 50mg |  |  |  |  |
Q0164 | N |  | Prochlorperazine maleate 5mg |  |  |  |  |
Q0165 | B |  | Prochlorperazine maleate10mg |  |  |  |  |
Q0166 | K |  | Granisetron HCl 1 mg oral | 0765 |  | $33.50 |  | $6.70
Q0167 | N |  | Dronabinol 2.5mg oral |  |  |  |  |
Q0168 | B |  | Dronabinol 5mg oral |  |  |  |  |
Q0169 | N |  | Promethazine HCl 12.5mg oral |  |  |  |  |
Q0170 | B |  | Promethazine HCl 25 mg oral |  |  |  |  |
Q0171 | N |  | Chlorpromazine HCl 10mg oral |  |  |  |  |
Q0172 | B |  | Chlorpromazine HCl 25mg oral |  |  |  |  |
Q0173 | N |  | Trimethobenzamide HCl 250mg |  |  |  |  |
Q0174 | N |  | Thiethylperazine maleate10mg |  |  |  |  |
Q0175 | N |  | Perphenazine 4mg oral |  |  |  |  |
Q0176 | B |  | Perphenazine 8mg oral |  |  |  |  |
Q0177 | N |  | Hydroxyzine pamoate 25mg |  |  |  |  |
Q0178 | B |  | Hydroxyzine pamoate 50mg |  |  |  |  |
Q0179 | K |  | Ondansetron HCl 8mg oral | 0769 |  | $32.02 |  | $6.40
Q0180 | K |  | Dolasetron mesylate oral | 0763 |  | $48.54 |  | $9.71
Q0181 | E |  | Unspecified oral anti-emetic |  |  |  |  |
Q0187 | K |  | Factor viia recombinant | 1409 |  | $1,080.03 |  | $216.01
Q1001 | N |  | Ntiol category 1 |  |  |  |  |
Q1002 | N |  | Ntiol category 2 |  |  |  |  |
Q1003 | N |  | Ntiol category 3 |  |  |  |  |
Q1004 | N |  | Ntiol category 4 |  |  |  |  |
Q1005 | N |  | Ntiol category 5 |  |  |  |  |
Q2001 | E |  | Oral cabergoline 0.5 mg |  |  |  |  |
Q2002 | N |  | Elliotts b solution per ml |  |  |  |  |
Q2003 | K |  | Aprotinin, 10,000 kiu | 7019 |  | $2.20 |  | $.44
Q2004 | N |  | Bladder calculi irrig sol |  |  |  |  |
Q2005 | K |  | Corticorelin ovine triflutat | 7024 |  | $386.49 |  | $77.30
Q2006 | K |  | Digoxin immune fab (ovine) | 7025 |  | $552.14 |  | $110.43
Q2007 | K |  | Ethanolamine oleate 100 mg | 7026 |  | $64.53 |  | $12.91
Q2008 | K |  | Fomepizole, 15 mg | 7027 |  | $12.31 |  | $2.46
Q2009 | K |  | Fosphenytoin, 50 mg | 7028 |  | $5.19 |  | $1.04
Q2011 | K |  | Hemin, per 1 mg | 7030 |  | $6.51 |  | $1.30
Q2012 | K |  | Pegademase bovine, 25 iu | 9168 |  | $161.15 |  | $32.23
Q2013 | K |  | Pentastarch 10% solution | 7040 |  | $12.45 |  | $2.49
Q2014 | N |  | Sermorelin acetate, 0.5 mg |  |  |  |  |
Q2017 | K |  | Teniposide, 50 mg | 7035 |  | $266.21 |  | $53.24
Q2018 | K |  | Urofollitropin, 75 iu | 7037 |  | $44.73 |  | $8.95
Q2019 | K |  | Basiliximab | 1615 |  | $1,473.45 |  | $294.69
Q2020 | E |  | Histrelin acetate |  |  |  |  |
Q2021 | K |  | Lepirudin | 9057 |  | $128.16 |  | $25.63
Q2022 | K |  | VonWillebrandFactrCmplxperIU | 1618 |  | $.74 |  | $.15
Q3000 | H |  | Rubidium-Rb-82 | 9025 |  |  |  |
Q3001 | B |  | Brachytherapy Radioelements |  |  |  |  |
Q3002 | H |  | Gallium ga 67 | 1619 |  |  |  |
Q3003 | H |  | Technetium tc99m bicisate | 1620 |  |  |  |
Q3004 | N |  | Xenon xe 133 |  |  |  |  |
Q3005 | H |  | Technetium tc99m ertiatide | 1622 |  |  |  |
Q3006 | H |  | Technetium tc99m glucepatate | 9154 |  |  |  |
Q3007 | H |  | Sodium phosphate p32 | 1624 |  |  |  |
Q3008 | H |  | Indium 111-in pentetreotide | 1625 |  |  |  |
Q3009 | N |  | Technetium tc99m oxidronate |  |  |  |  |
Q3010 | H |  | Technetium tc99mlabeledrbcs | 9155 |  |  |  |
Q3011 | H |  | Chromic phosphate p32 | 1628 |  |  |  |
Q3012 | N |  | Cyanocobalamin cobalt co57 |  |  |  |  |
Q3014 | A |  | Telehealth facility fee |  |  |  |  |
Q3019 | A |  | ALS emer trans no ALS serv |  |  |  |  |
Q3020 | A |  | ALS nonemer trans no ALS se |  |  |  |  |
Q3025 | K |  | IM inj interferon beta 1-a | 9022 |  | $89.09 |  | $17.82
Q3026 | E |  | Subc inj interferon beta-1a |  |  |  |  |
Q3031 | N |  | Collagen skin test |  |  |  |  |
Q4001 | B |  | Cast sup body cast plaster |  |  |  |  |
Q4002 | B |  | Cast sup body cast fiberglas |  |  |  |  |
Q4003 | B |  | Cast sup shoulder cast plstr |  |  |  |  |
Q4004 | B |  | Cast sup shoulder cast fbrgl |  |  |  |  |
Q4005 | B |  | Cast sup long arm adult plst |  |  |  |  |
Q4006 | B |  | Cast sup long arm adult fbrg |  |  |  |  |
Q4007 | B |  | Cast sup long arm ped plster |  |  |  |  |
Q4008 | B |  | Cast sup long arm ped fbrgls |  |  |  |  |
Q4009 | B |  | Cast sup sht arm adult plstr |  |  |  |  |
Q4010 | B |  | Cast sup sht arm adult fbrgl |  |  |  |  |
Q4011 | B |  | Cast sup sht arm ped plaster |  |  |  |  |
Q4012 | B |  | Cast sup sht arm ped fbrglas |  |  |  |  |
Q4013 | B |  | Cast sup gauntlet plaster |  |  |  |  |
Q4014 | B |  | Cast sup gauntlet fiberglass |  |  |  |  |
Q4015 | B |  | Cast sup gauntlet ped plster |  |  |  |  |
Q4016 | B |  | Cast sup gauntlet ped fbrgls |  |  |  |  |
Q4017 | B |  | Cast sup lng arm splint plst |  |  |  |  |
Q4018 | B |  | Cast sup lng arm splint fbrg |  |  |  |  |
Q4019 | B |  | Cast sup lng arm splnt ped p |  |  |  |  |
Q4020 | B |  | Cast sup lng arm splnt ped f |  |  |  |  |
Q4021 | B |  | Cast sup sht arm splint plst |  |  |  |  |
Q4022 | B |  | Cast sup sht arm splint fbrg |  |  |  |  |
Q4023 | B |  | Cast sup sht arm splnt ped p |  |  |  |  |
Q4024 | B |  | Cast sup sht arm splnt ped f |  |  |  |  |
Q4025 | B |  | Cast sup hip spica plaster |  |  |  |  |
Q4026 | B |  | Cast sup hip spica fiberglas |  |  |  |  |
Q4027 | B |  | Cast sup hip spica ped plstr |  |  |  |  |
Q4028 | B |  | Cast sup hip spica ped fbrgl |  |  |  |  |
Q4029 | B |  | Cast sup long leg plaster |  |  |  |  |
Q4030 | B |  | Cast sup long leg fiberglass |  |  |  |  |
Q4031 | B |  | Cast sup lng leg ped plaster |  |  |  |  |
Q4032 | B |  | Cast sup lng leg ped fbrgls |  |  |  |  |
Q4033 | B |  | Cast sup lng leg cylinder pl |  |  |  |  |
Q4034 | B |  | Cast sup lng leg cylinder fb |  |  |  |  |
Q4035 | B |  | Cast sup lngleg cylndr ped p |  |  |  |  |
Q4036 | B |  | Cast sup lngleg cylndr ped f |  |  |  |  |
Q4037 | B |  | Cast sup shrt leg plaster |  |  |  |  |
Q4038 | B |  | Cast sup shrt leg fiberglass |  |  |  |  |
Q4039 | B |  | Cast sup shrt leg ped plster |  |  |  |  |
Q4040 | B |  | Cast sup shrt leg ped fbrgls |  |  |  |  |
Q4041 | B |  | Cast sup lng leg splnt plstr |  |  |  |  |
Q4042 | B |  | Cast sup lng leg splnt fbrgl |  |  |  |  |
Q4043 | B |  | Cast sup lng leg splnt ped p |  |  |  |  |
Q4044 | B |  | Cast sup lng leg splnt ped f |  |  |  |  |
Q4045 | B |  | Cast sup sht leg splnt plstr |  |  |  |  |
Q4046 | B |  | Cast sup sht leg splnt fbrgl |  |  |  |  |
Q4047 | B |  | Cast sup sht leg splnt ped p |  |  |  |  |
Q4048 | B |  | Cast sup sht leg splnt ped f |  |  |  |  |
Q4049 | B |  | Finger splint, static |  |  |  |  |
Q4050 | B |  | Cast supplies unlisted |  |  |  |  |
Q4051 | B |  | Splint supplies misc |  |  |  |  |
Q4054 | A |  | Darbepoetin alfa, esrd use |  |  |  |  |
Q4055 | A |  | Epoetin alfa, esrd use |  |  |  |  |
Q4075 | N |  | Acyclovir, 5 mg |  |  |  |  |
Q4076 | N |  | Dopamine hcl, 40 mg |  |  |  |  |
Q4077 | K |  | Treprostinil, 1 mg | 1082 |  | $55.02 |  | $11.00
Q4079 | G |  | Injection, natalizumab | 9126 |  | $6.51 |  | $1.30
Q9941 | K |  | IVIG lyophil 1g | 0869 |  | $39.46 |  | $7.89
Q9942 | K |  | IVIG lyophil 10 mg | 0870 |  | $.40 |  | $.08
Q9943 | K |  | IVIG non-lyophil 1g | 0871 |  | $57.26 |  | $11.45
Q9944 | K |  | IVIG non-lyophil 10 mg | 0872 |  | $.57 |  | $.11
Q9945 | K |  | LOCM <=149 mg/ml iodine, 1ml | 9157 |  | $.51 |  | $.10
Q9946 | K |  | LOCM 150-199mg/ml iodine,1ml | 9158 |  | $2.00 |  | $.40
Q9947 | K |  | LOCM 200-249mg/ml iodine,1ml | 9159 |  | $.78 |  | $.16
Q9948 | K |  | LOCM 250-299mg/ml iodine,1ml | 9160 |  | $.66 |  | $.13
Q9949 | K |  | LOCM 300-349mg/ml iodine,1ml | 9161 |  | $.41 |  | $.08
Q9950 | K |  | LOCM 350-399mg/ml iodine,1ml | 9162 |  | $.27 |  | $.05
Q9951 | K |  | LOCM >= 400 mg/ml iodine,1ml | 9163 |  | $.20 |  | $.04
Q9952 | K |  | Inj Gad-base MR contrast, ml | 9164 |  | $3.01 |  | $.60
Q9953 | N |  | Inj Fe-based MR contrast, ml |  |  |  |  |
Q9954 | K |  | Oral MR contrast, 100 ml | 9165 |  | $9.01 |  | $1.80
Q9955 | K |  | Inj perflexane lip micros, m | 9203 |  | $13.49 |  | $2.70
Q9956 | K |  | Inj octafluoropropane mic,ml | 9202 |  | $41.42 |  | $8.28
Q9957 | K |  | Inj perflutren lip micros, m | 9112 |  | $63.50 |  | $12.70
R0070 | N |  | Transport portable x-ray |  |  |  |  |
R0075 | N |  | Transport port x-ray multipl |  |  |  |  |
R0076 | N |  | Transport portable EKG |  |  |  |  |
V2020 | A |  | Vision svcs frames purchases |  |  |  |  |
V2025 | E |  | Eyeglasses delux frames |  |  |  |  |
V2100 | A |  | Lens spher single plano 4.00 |  |  |  |  |
V2101 | A |  | Single visn sphere 4.12-7.00 |  |  |  |  |
V2102 | A |  | Singl visn sphere 7.12-20.00 |  |  |  |  |
V2103 | A |  | Spherocylindr 4.00d/12-2.00d |  |  |  |  |
V2104 | A |  | Spherocylindr 4.00d/2.12-4d |  |  |  |  |
V2105 | A |  | Spherocylinder 4.00d/4.25-6d |  |  |  |  |
V2106 | A |  | Spherocylinder 4.00d/>6.00d |  |  |  |  |
V2107 | A |  | Spherocylinder 4.25d/12-2d |  |  |  |  |
V2108 | A |  | Spherocylinder 4.25d/2.12-4d |  |  |  |  |
V2109 | A |  | Spherocylinder 4.25d/4.25-6d |  |  |  |  |
V2110 | A |  | Spherocylinder 4.25d/over 6d |  |  |  |  |
V2111 | A |  | Spherocylindr 7.25d/.25-2.25 |  |  |  |  |
V2112 | A |  | Spherocylindr 7.25d/2.25-4d |  |  |  |  |
V2113 | A |  | Spherocylindr 7.25d/4.25-6d |  |  |  |  |
V2114 | A |  | Spherocylinder over 12.00d |  |  |  |  |
V2115 | A |  | Lens lenticular bifocal |  |  |  |  |
V2118 | A |  | Lens aniseikonic single |  |  |  |  |
V2121 | A |  | Lenticular lens, single |  |  |  |  |
V2199 | A |  | Lens single vision not oth c |  |  |  |  |
V2200 | A |  | Lens spher bifoc plano 4.00d |  |  |  |  |
V2201 | A |  | Lens sphere bifocal 4.12-7.0 |  |  |  |  |
V2202 | A |  | Lens sphere bifocal 7.12-20. |  |  |  |  |
V2203 | A |  | Lens sphcyl bifocal 4.00d/.1 |  |  |  |  |
V2204 | A |  | Lens sphcy bifocal 4.00d/2.1 |  |  |  |  |
V2205 | A |  | Lens sphcy bifocal 4.00d/4.2 |  |  |  |  |
V2206 | A |  | Lens sphcy bifocal 4.00d/ove |  |  |  |  |
V2207 | A |  | Lens sphcy bifocal 4.25-7d/. |  |  |  |  |
V2208 | A |  | Lens sphcy bifocal 4.25-7/2. |  |  |  |  |
V2209 | A |  | Lens sphcy bifocal 4.25-7/4. |  |  |  |  |
V2210 | A |  | Lens sphcy bifocal 4.25-7/ov |  |  |  |  |
V2211 | A |  | Lens sphcy bifo 7.25-12/.25- |  |  |  |  |
V2212 | A |  | Lens sphcyl bifo 7.25-12/2.2 |  |  |  |  |
V2213 | A |  | Lens sphcyl bifo 7.25-12/4.2 |  |  |  |  |
V2214 | A |  | Lens sphcyl bifocal over 12. |  |  |  |  |
V2215 | A |  | Lens lenticular bifocal |  |  |  |  |
V2218 | A |  | Lens aniseikonic bifocal |  |  |  |  |
V2219 | A |  | Lens bifocal seg width over |  |  |  |  |
V2220 | A |  | Lens bifocal add over 3.25d |  |  |  |  |
V2221 | A |  | Lenticular lens, bifocal |  |  |  |  |
V2299 | A |  | Lens bifocal speciality |  |  |  |  |
V2300 | A |  | Lens sphere trifocal 4.00d |  |  |  |  |
V2301 | A |  | Lens sphere trifocal 4.12-7. |  |  |  |  |
V2302 | A |  | Lens sphere trifocal 7.12-20 |  |  |  |  |
V2303 | A |  | Lens sphcy trifocal 4.0/.12- |  |  |  |  |
V2304 | A |  | Lens sphcy trifocal 4.0/2.25 |  |  |  |  |
V2305 | A |  | Lens sphcy trifocal 4.0/4.25 |  |  |  |  |
V2306 | A |  | Lens sphcyl trifocal 4.00/>6 |  |  |  |  |
V2307 | A |  | Lens sphcy trifocal 4.25-7/. |  |  |  |  |
V2308 | A |  | Lens sphc trifocal 4.25-7/2. |  |  |  |  |
V2309 | A |  | Lens sphc trifocal 4.25-7/4. |  |  |  |  |
V2310 | A |  | Lens sphc trifocal 4.25-7/>6 |  |  |  |  |
V2311 | A |  | Lens sphc trifo 7.25-12/.25- |  |  |  |  |
V2312 | A |  | Lens sphc trifo 7.25-12/2.25 |  |  |  |  |
V2313 | A |  | Lens sphc trifo 7.25-12/4.25 |  |  |  |  |
V2314 | A |  | Lens sphcyl trifocal over 12 |  |  |  |  |
V2315 | A |  | Lens lenticular trifocal |  |  |  |  |
V2318 | A |  | Lens aniseikonic trifocal |  |  |  |  |
V2319 | A |  | Lens trifocal seg width > 28 |  |  |  |  |
V2320 | A |  | Lens trifocal add over 3.25d |  |  |  |  |
V2321 | A |  | Lenticular lens, trifocal |  |  |  |  |
V2399 | A |  | Lens trifocal speciality |  |  |  |  |
V2410 | A |  | Lens variab asphericity sing |  |  |  |  |
V2430 | A |  | Lens variable asphericity bi |  |  |  |  |
V2499 | A |  | Variable asphericity lens |  |  |  |  |
V2500 | A |  | Contact lens pmma spherical |  |  |  |  |
V2501 | A |  | Cntct lens pmma-toric/prism |  |  |  |  |
V2502 | A |  | Contact lens pmma bifocal |  |  |  |  |
V2503 | A |  | Cntct lens pmma color vision |  |  |  |  |
V2510 | A |  | Cntct gas permeable sphericl |  |  |  |  |
V2511 | A |  | Cntct toric prism ballast |  |  |  |  |
V2512 | A |  | Cntct lens gas permbl bifocl |  |  |  |  |
V2513 | A |  | Contact lens extended wear |  |  |  |  |
V2520 | A |  | Contact lens hydrophilic |  |  |  |  |
V2521 | A |  | Cntct lens hydrophilic toric |  |  |  |  |
V2522 | A |  | Cntct lens hydrophil bifocl |  |  |  |  |
V2523 | A |  | Cntct lens hydrophil extend |  |  |  |  |
V2530 | A |  | Contact lens gas impermeable |  |  |  |  |
V2531 | A |  | Contact lens gas permeable |  |  |  |  |
V2599 | A |  | Contact lens/es other type |  |  |  |  |
V2600 | A |  | Hand held low vision aids |  |  |  |  |
V2610 | A |  | Single lens spectacle mount |  |  |  |  |
V2615 | A |  | Telescop/othr compound lens |  |  |  |  |
V2623 | A |  | Plastic eye prosth custom |  |  |  |  |
V2624 | A |  | Polishing artifical eye |  |  |  |  |
V2625 | A |  | Enlargemnt of eye prosthesis |  |  |  |  |
V2626 | A |  | Reduction of eye prosthesis |  |  |  |  |
V2627 | A |  | Scleral cover shell |  |  |  |  |
V2628 | A |  | Fabrication & fitting |  |  |  |  |
V2629 | A |  | Prosthetic eye other type |  |  |  |  |
V2630 | N |  | Anter chamber intraocul lens |  |  |  |  |
V2631 | N |  | Iris support intraoclr lens |  |  |  |  |
V2632 | N |  | Post chmbr intraocular lens |  |  |  |  |
V2700 | A |  | Balance lens |  |  |  |  |
V2702 | E |  | Deluxe lens feature |  |  |  |  |
V2710 | A |  | Glass/plastic slab off prism |  |  |  |  |
V2715 | A |  | Prism lens/es |  |  |  |  |
V2718 | A |  | Fresnell prism press-on lens |  |  |  |  |
V2730 | A |  | Special base curve |  |  |  |  |
V2744 | A |  | Tint photochromatic lens/es |  |  |  |  |
V2745 | A |  | Tint, any color/solid/grad |  |  |  |  |
V2750 | A |  | Anti-reflective coating |  |  |  |  |
V2755 | A |  | UV lens/es |  |  |  |  |
V2756 | E |  | Eye glass case |  |  |  |  |
V2760 | A |  | Scratch resistant coating |  |  |  |  |
V2761 | B |  | Mirror coating |  |  |  |  |
V2762 | A |  | Polarization, any lens |  |  |  |  |
V2770 | A |  | Occluder lens/es |  |  |  |  |
V2780 | A |  | Oversize lens/es |  |  |  |  |
V2781 | B |  | Progressive lens per lens |  |  |  |  |
V2782 | A |  | Lens, 1.54-1.65 p/1.60-1.79g |  |  |  |  |
V2783 | A |  | Lens, >= 1.66 p/>=1.80 g |  |  |  |  |
V2784 | A |  | Lens polycarb or equal |  |  |  |  |
V2785 | F |  | Corneal tissue processing |  |  |  |  |
V2786 | A |  | Occupational multifocal lens |  |  |  |  |
V2790 | N |  | Amniotic membrane |  |  |  |  |
V2797 | A |  | Vis item/svc in other code |  |  |  |  |
V2799 | A |  | Miscellaneous vision service |  |  |  |  |
V5008 | E |  | Hearing screening |  |  |  |  |
V5010 | E |  | Assessment for hearing aid |  |  |  |  |
V5011 | E |  | Hearing aid fitting/checking |  |  |  |  |
V5014 | E |  | Hearing aid repair/modifying |  |  |  |  |
V5020 | E |  | Conformity evaluation |  |  |  |  |
V5030 | E |  | Body-worn hearing aid air |  |  |  |  |
V5040 | E |  | Body-worn hearing aid bone |  |  |  |  |
V5050 | E |  | Hearing aid monaural in ear |  |  |  |  |
V5060 | E |  | Behind ear hearing aid |  |  |  |  |
V5070 | E |  | Glasses air conduction |  |  |  |  |
V5080 | E |  | Glasses bone conduction |  |  |  |  |
V5090 | E |  | Hearing aid dispensing fee |  |  |  |  |
V5095 | E |  | Implant mid ear hearing pros |  |  |  |  |
V5100 | E |  | Body-worn bilat hearing aid |  |  |  |  |
V5110 | E |  | Hearing aid dispensing fee |  |  |  |  |
V5120 | E |  | Body-worn binaur hearing aid |  |  |  |  |
V5130 | E |  | In ear binaural hearing aid |  |  |  |  |
V5140 | E |  | Behind ear binaur hearing ai |  |  |  |  |
V5150 | E |  | Glasses binaural hearing aid |  |  |  |  |
V5160 | E |  | Dispensing fee binaural |  |  |  |  |
V5170 | E |  | Within ear cros hearing aid |  |  |  |  |
V5180 | E |  | Behind ear cros hearing aid |  |  |  |  |
V5190 | E |  | Glasses cros hearing aid |  |  |  |  |
V5200 | E |  | Cros hearing aid dispens fee |  |  |  |  |
V5210 | E |  | In ear bicros hearing aid |  |  |  |  |
V5220 | E |  | Behind ear bicros hearing ai |  |  |  |  |
V5230 | E |  | Glasses bicros hearing aid |  |  |  |  |
V5240 | E |  | Dispensing fee bicros |  |  |  |  |
V5241 | E |  | Dispensing fee, monaural |  |  |  |  |
V5242 | E |  | Hearing aid, monaural, cic |  |  |  |  |
V5243 | E |  | Hearing aid, monaural, itc |  |  |  |  |
V5244 | E |  | Hearing aid, prog, mon, cic |  |  |  |  |
V5245 | E |  | Hearing aid, prog, mon, itc |  |  |  |  |
V5246 | E |  | Hearing aid, prog, mon, ite |  |  |  |  |
V5247 | E |  | Hearing aid, prog, mon, bte |  |  |  |  |
V5248 | E |  | Hearing aid, binaural, cic |  |  |  |  |
V5249 | E |  | Hearing aid, binaural, itc |  |  |  |  |
V5250 | E |  | Hearing aid, prog, bin, cic |  |  |  |  |
V5251 | E |  | Hearing aid, prog, bin, itc |  |  |  |  |
V5252 | E |  | Hearing aid, prog, bin, ite |  |  |  |  |
V5253 | E |  | Hearing aid, prog, bin, bte |  |  |  |  |
V5254 | E |  | Hearing id, digit, mon, cic |  |  |  |  |
V5255 | E |  | Hearing aid, digit, mon, itc |  |  |  |  |
V5256 | E |  | Hearing aid, digit, mon, ite |  |  |  |  |
V5257 | E |  | Hearing aid, digit, mon, bte |  |  |  |  |
V5258 | E |  | Hearing aid, digit, bin, cic |  |  |  |  |
V5259 | E |  | Hearing aid, digit, bin, itc |  |  |  |  |
V5260 | E |  | Hearing aid, digit, bin, ite |  |  |  |  |
V5261 | E |  | Hearing aid, digit, bin, bte |  |  |  |  |
V5262 | E |  | Hearing aid, disp, monaural |  |  |  |  |
V5263 | E |  | Hearing aid, disp, binaural |  |  |  |  |
V5264 | E |  | Ear mold/insert |  |  |  |  |
V5265 | E |  | Ear mold/insert, disp |  |  |  |  |
V5266 | E |  | Battery for hearing device |  |  |  |  |
V5267 | E |  | Hearing aid supply/accessory |  |  |  |  |
V5268 | E |  | ALD Telephone Amplifier |  |  |  |  |
V5269 | E |  | Alerting device, any type |  |  |  |  |
V5270 | E |  | ALD, TV amplifier, any type |  |  |  |  |
V5271 | E |  | ALD, TV caption decoder |  |  |  |  |
V5272 | E |  | Tdd |  |  |  |  |
V5273 | E |  | ALD for cochlear implant |  |  |  |  |
V5274 | E |  | ALD unspecified |  |  |  |  |
V5275 | E |  | Ear impression |  |  |  |  |
V5298 | E |  | Hearing aid noc |  |  |  |  |
V5299 | B |  | Hearing service |  |  |  |  |
V5336 | E |  | Repair communication device |  |  |  |  |
V5362 | E |  | Speech screening |  |  |  |  |
V5363 | E |  | Language screening |  |  |  |  |
V5364 | E |  | Dysphagia screening |  |  |  |  |
*Code is subject to contiguous body area imaging discount policy discussed in Section XIV of this proposed rule.
CPT codes and descriptions only are copyright American Medical Association. All Rights Reserved. Applicable FARS/DFARS Apply.
Copyright American Dental Association. All rights reserved.

Addendum D1.—Payment Status Indicators for the Hospital Outpatient Prospective Payment System
Indicator | Item/code/service | OPPS payment status
A | Services furnished to a hospital outpatient that are paid under a fee schedule or payment system other than OPPS, for example: | Not paid under OPPS. Paid by fiscal intermediaries under a fee schedule or payment system other than OPPS.
| • Ambulance Services
| • Clinical Diagnostic Laboratory Services
| • Non-Implantable Prosthetic and Orthotic Devices
| • EPO for ESRD Patients
| • Physical, Occupational, and Speech Therapy
| • Routine Dialysis Services for ESRD Patients Provided in a Certified Dialysis Unit of a Hospital
| • Diagnostic Mammography
| • Screening Mammography
B | Codes that are not recognized by OPPS when submitted on an outpatient hospital Part B bill type (12x,13x, and 14x) | Not paid under OPPS • May be paid by intermediaries when submitted on a different bill type, for example, 75x (CORF), but not paid under OPPS. • An alternate code that is recognized by OPPS when submitted on an outpatient hospital Part B bill type (12x, 13x, and 14x) may be available.
C | Inpatient Procedures | Not paid under OPPS. Admit patient. Bill as inpatient.
D | Discontinued Codes | Not paid under OPPS.
E | Items, Codes, and Services: | Not paid under OPPS.
| • That are not covered by Medicare based on statutory exclusion
| • That are not covered by Medicare for reasons other than statutory exclusion
| • That are not recognized by Medicare but for which an alternate code for the same item or service may be available
| • For which separate payment is not provided by Medicare
F | Corneal Tissue Acquisition; Certain CRNA Services and Hepatitis B Vaccines | Not paid under OPPS. Paid at reasonable cost.
G | Pass-Through Drugs and Biologicals | Paid under OPPS; Separate APC payment includes passπthrough amount.
H | (1) Pass-Through Device Categories (2) Brachytherapy Sources (3) Radiopharmaceutical Agents | Paid under OPPS; (1) Separate cost-based pass-through payment. (2) Separate cost-based non-pass-through payment. (3) Separate cost-based non-pass-through payment.
K | Non-Pass-Through Drugs, Biologicals, and Radiopharmaceuticals Agents | Paid under OPPS; Separate APC payment.
L | Influenza Vaccine; Pneumococcal Pneumonia Vaccine | Not paid under OPPS. Paid at reasonable cost; Not subject to deductible or coinsurance.
M | Items and Services Not Billable to the Fiscal Intermediary | Not paid under OPPS.
N | Items and Services Packaged into APC Rates | Paid under OPPS; Payment is packaged into payment for other services, including outliers. Therefore, there is no separate APC payment.
P | Partial Hospitalization | Paid under OPPS; Per diem APC payment.
Q | Packaged Services Subject to Separate Payment Based on Criteria | Paid under OPPS; (1) Separate APC payment based on criteria. (2) If criteria are not met, payment is packaged into payment for other services, including outliers. Therefore, there is no separate APC payment.
S | Significant Service, Separately Payable | Paid under OPPS; Separate APC payment.
T | Significant Procedure, Multiple Reduction Applies | Paid under OPPS; Separate APC payment.
V | Clinic or Emergency Department Visit | Paid under OPPS; Separate APC payment.
Y | Non-Implantable Durable Medical Equipment | Not paid under OPPS. All institutional providers other than home health agencies bill to DMERC.
X | Ancillary Services | Paid under OPPS; Separate APC payment.

Addendum D2.—Comment Indicators
Comment indicator | Descriptor
NF | New code, final APC assignment; Comments were accepted on a proposed APC assignment in the proposed rule; APC assignment is no longer open to comment.
NI | New code, interim APC assignment; Comments will be accepted on the interim APC assignment for the new code.

Addendum E.—CPT Codes That Are Paid Only as Inpatient Procedures
CPT/ HCPCS | Proposed CY 2006 status indicator | Description
00176 | C | Anesth, pharyngeal surgery
00192 | C | Anesth, facial bone surgery
00214 | C | Anesth, skull drainage
00215 | C | Anesth, skull repair/fract
0021T | C | Fetal oximetry, trnsvag/cerv
0024T | C | Transcath cardiac reduction
0033T | C | Endovasc taa repr incl subcl
0034T | C | Endovasc taa repr w/o subcl
0035T | C | Insert endovasc prosth, taa
0036T | C | Endovasc prosth, taa, add-on
0037T | C | Artery transpose/endovas taa
0038T | C | Rad endovasc taa rpr w/cover
0039T | C | Rad s/i, endovasc taa repair
00404 | C | Anesth, surgery of breast
00406 | C | Anesth, surgery of breast
0040T | C | Rad s/i, endovasc taa prosth
00452 | C | Anesth, surgery of shoulder
00474 | C | Anesth, surgery of rib(s)
0048T | C | Implant ventricular device
0049T | C | External circulation assist
0050T | C | Removal circulation assist
0051T | C | Implant total heart system
00524 | C | Anesth, chest drainage
0052T | C | Replace component heart syst
0053T | C | Replace component heart syst
00540 | C | Anesth, chest surgery
00542 | C | Anesth, release of lung
00546 | C | Anesth, lung,chest wall surg
00560 | C | Anesth, open heart surgery
00561 | C | Anesth, heart surg < age 1
00562 | C | Anesth, open heart surgery
00580 | C | Anesth, heart/lung transplnt
00604 | C | Anesth, sitting procedure
00622 | C | Anesth, removal of nerves
00632 | C | Anesth, removal of nerves
00670 | C | Anesth, spine, cord surgery
0075T | C | Perq stent/chest vert art
0076T | C | S&i stent/chest vert art
0077T | C | Cereb therm perfusion probe
0078T | C | Endovasc aort repr w/device
0079T | C | Endovasc visc extnsn repr
00792 | C | Anesth, hemorr/excise liver
00794 | C | Anesth, pancreas removal
00796 | C | Anesth, for liver transplant
0080T | C | Endovasc aort repr rad s&i
00802 | C | Anesth, fat layer removal
0081T | C | Endovasc visc extnsn s&i
00844 | C | Anesth, pelvis surgery
00846 | C | Anesth, hysterectomy
00848 | C | Anesth, pelvic organ surg
00864 | C | Anesth, removal of bladder
00865 | C | Anesth, removal of prostate
00866 | C | Anesth, removal of adrenal
00868 | C | Anesth, kidney transplant
00882 | C | Anesth, major vein ligation
00904 | C | Anesth, perineal surgery
00908 | C | Anesth, removal of prostate
00932 | C | Anesth, amputation of penis
00934 | C | Anesth, penis, nodes removal
00936 | C | Anesth, penis, nodes removal
00944 | C | Anesth, vaginal hysterectomy
01140 | C | Anesth, amputation at pelvis
01150 | C | Anesth, pelvic tumor surgery
01212 | C | Anesth, hip disarticulation
01214 | C | Anesth, hip arthroplasty
01232 | C | Anesth, amputation of femur
01234 | C | Anesth, radical femur surg
01272 | C | Anesth, femoral artery surg
01274 | C | Anesth, femoral embolectomy
01402 | C | Anesth, knee arthroplasty
01404 | C | Anesth, amputation at knee
01442 | C | Anesth, knee artery surg
01444 | C | Anesth, knee artery repair
01486 | C | Anesth, ankle replacement
01502 | C | Anesth, lwr leg embolectomy
01632 | C | Anesth, surgery of shoulder
01634 | C | Anesth, shoulder joint amput
01636 | C | Anesth, forequarter amput
01638 | C | Anesth, shoulder replacement
01652 | C | Anesth, shoulder vessel surg
01654 | C | Anesth, shoulder vessel surg
01656 | C | Anesth, arm-leg vessel surg
01756 | C | Anesth, radical humerus surg
01990 | C | Support for organ donor
11004 | C | Debride genitalia & perineum
11005 | C | Debride abdom wall
11006 | C | Debride genit/per/abdom wall
11008 | C | Remove mesh from abd wall
15756 | C | Free muscle flap, microvasc
15757 | C | Free skin flap, microvasc
15758 | C | Free fascial flap, microvasc
16035 | C | Incision of burn scab, initi
16036 | C | Escharotomy addl incision
19200 | C | Removal of breast
19220 | C | Removal of breast
19271 | C | Revision of chest wall
19272 | C | Extensive chest wall surgery
19361 | C | Breast reconstruction
19364 | C | Breast reconstruction
19367 | C | Breast reconstruction
19368 | C | Breast reconstruction
19369 | C | Breast reconstruction
20660 | C | Apply, rem fixation device
20661 | C | Application of head brace
20664 | C | Halo brace application
20802 | C | Replantation, arm, complete
20805 | C | Replant forearm, complete
20808 | C | Replantation hand, complete
20816 | C | Replantation digit, complete
20824 | C | Replantation thumb, complete
20827 | C | Replantation thumb, complete
20838 | C | Replantation foot, complete
20930 | C | Spinal bone allograft
20931 | C | Spinal bone allograft
20936 | C | Spinal bone autograft
20937 | C | Spinal bone autograft
20938 | C | Spinal bone autograft
20955 | C | Fibula bone graft, microvasc
20956 | C | Iliac bone graft, microvasc
20957 | C | Mt bone graft, microvasc
20962 | C | Other bone graft, microvasc
20969 | C | Bone/skin graft, microvasc
20970 | C | Bone/skin graft, iliac crest
21045 | C | Extensive jaw surgery
21141 | C | Reconstruct midface, lefort
21142 | C | Reconstruct midface, lefort
21143 | C | Reconstruct midface, lefort
21145 | C | Reconstruct midface, lefort
21146 | C | Reconstruct midface, lefort
21147 | C | Reconstruct midface, lefort
21151 | C | Reconstruct midface, lefort
21154 | C | Reconstruct midface, lefort
21155 | C | Reconstruct midface, lefort
21159 | C | Reconstruct midface, lefort
21160 | C | Reconstruct midface, lefort
21172 | C | Reconstruct orbit/forehead
21179 | C | Reconstruct entire forehead
21180 | C | Reconstruct entire forehead
21182 | C | Reconstruct cranial bone
21183 | C | Reconstruct cranial bone
21184 | C | Reconstruct cranial bone
21188 | C | Reconstruction of midface
21193 | C | Reconst lwr jaw w/o graft
21194 | C | Reconst lwr jaw w/graft
21196 | C | Reconst lwr jaw w/fixation
21247 | C | Reconstruct lower jaw bone
21255 | C | Reconstruct lower jaw bone
21256 | C | Reconstruction of orbit
21268 | C | Revise eye sockets
21343 | C | Treatment of sinus fracture
21344 | C | Treatment of sinus fracture
21346 | C | Treat nose/jaw fracture
21347 | C | Treat nose/jaw fracture
21348 | C | Treat nose/jaw fracture
21360 | C | Treat cheek bone fracture
21365 | C | Treat cheek bone fracture
21366 | C | Treat cheek bone fracture
21385 | C | Treat eye socket fracture
21386 | C | Treat eye socket fracture
21387 | C | Treat eye socket fracture
21395 | C | Treat eye socket fracture
21422 | C | Treat mouth roof fracture
21423 | C | Treat mouth roof fracture
21431 | C | Treat craniofacial fracture
21432 | C | Treat craniofacial fracture
21433 | C | Treat craniofacial fracture
21435 | C | Treat craniofacial fracture
21436 | C | Treat craniofacial fracture
21510 | C | Drainage of bone lesion
21615 | C | Removal of rib
21616 | C | Removal of rib and nerves
21620 | C | Partial removal of sternum
21627 | C | Sternal debridement
21630 | C | Extensive sternum surgery
21632 | C | Extensive sternum surgery
21705 | C | Revision of neck muscle/rib
21740 | C | Reconstruction of sternum
21750 | C | Repair of sternum separation
21810 | C | Treatment of rib fracture(s)
21825 | C | Treat sternum fracture
22110 | C | Remove part of neck vertebra
22112 | C | Remove part, thorax vertebra
22114 | C | Remove part, lumbar vertebra
22116 | C | Remove extra spine segment
22210 | C | Revision of neck spine
22212 | C | Revision of thorax spine
22214 | C | Revision of lumbar spine
22216 | C | Revise, extra spine segment
22220 | C | Revision of neck spine
22224 | C | Revision of lumbar spine
22226 | C | Revise, extra spine segment
22318 | C | Treat odontoid fx w/o graft
22319 | C | Treat odontoid fx w/graft
22325 | C | Treat spine fracture
22326 | C | Treat neck spine fracture
22327 | C | Treat thorax spine fracture
22328 | C | Treat each add spine fx
22532 | C | Lat thorax spine fusion
22533 | C | Lat lumbar spine fusion
22534 | C | Lat thor/lumb, add'l seg
22548 | C | Neck spine fusion
22554 | C | Neck spine fusion
22556 | C | Thorax spine fusion
22558 | C | Lumbar spine fusion
22585 | C | Additional spinal fusion
22590 | C | Spine & skull spinal fusion
22595 | C | Neck spinal fusion
22600 | C | Neck spine fusion
22610 | C | Thorax spine fusion
22630 | C | Lumbar spine fusion
22632 | C | Spine fusion, extra segment
22800 | C | Fusion of spine
22802 | C | Fusion of spine
22804 | C | Fusion of spine
22808 | C | Fusion of spine
22810 | C | Fusion of spine
22812 | C | Fusion of spine
22818 | C | Kyphectomy, 1-2 segments
22819 | C | Kyphectomy, 3 or more
22830 | C | Exploration of spinal fusion
22840 | C | Insert spine fixation device
22841 | C | Insert spine fixation device
22842 | C | Insert spine fixation device
22843 | C | Insert spine fixation device
22844 | C | Insert spine fixation device
22845 | C | Insert spine fixation device
22846 | C | Insert spine fixation device
22847 | C | Insert spine fixation device
22848 | C | Insert pelv fixation device
22849 | C | Reinsert spinal fixation
22850 | C | Remove spine fixation device
22851 | C | Apply spine prosth device
22852 | C | Remove spine fixation device
22855 | C | Remove spine fixation device
23200 | C | Removal of collar bone
23210 | C | Removal of shoulder blade
23220 | C | Partial removal of humerus
23221 | C | Partial removal of humerus
23222 | C | Partial removal of humerus
23332 | C | Remove shoulder foreign body
23472 | C | Reconstruct shoulder joint
23900 | C | Amputation of arm & girdle
23920 | C | Amputation at shoulder joint
24900 | C | Amputation of upper arm
24920 | C | Amputation of upper arm
24930 | C | Amputation follow-up surgery
24931 | C | Amputate upper arm & implant
24940 | C | Revision of upper arm
25900 | C | Amputation of forearm
25905 | C | Amputation of forearm
25909 | C | Amputation follow-up surgery
25915 | C | Amputation of forearm
25920 | C | Amputate hand at wrist
25924 | C | Amputation follow-up surgery
25927 | C | Amputation of hand
25931 | C | Amputation follow-up surgery
26551 | C | Great toe-hand transfer
26553 | C | Single transfer, toe-hand
26554 | C | Double transfer, toe-hand
26556 | C | Toe joint transfer
26992 | C | Drainage of bone lesion
27005 | C | Incision of hip tendon
27006 | C | Incision of hip tendons
27025 | C | Incision of hip/thigh fascia
27030 | C | Drainage of hip joint
27036 | C | Excision of hip joint/muscle
27054 | C | Removal of hip joint lining
27070 | C | Partial removal of hip bone
27071 | C | Partial removal of hip bone
27075 | C | Extensive hip surgery
27076 | C | Extensive hip surgery
27077 | C | Extensive hip surgery
27078 | C | Extensive hip surgery
27079 | C | Extensive hip surgery
27090 | C | Removal of hip prosthesis
27091 | C | Removal of hip prosthesis
27120 | C | Reconstruction of hip socket
27122 | C | Reconstruction of hip socket
27125 | C | Partial hip replacement
27130 | C | Total hip arthroplasty
27132 | C | Total hip arthroplasty
27134 | C | Revise hip joint replacement
27137 | C | Revise hip joint replacement
27138 | C | Revise hip joint replacement
27140 | C | Transplant femur ridge
27146 | C | Incision of hip bone
27147 | C | Revision of hip bone
27151 | C | Incision of hip bones
27156 | C | Revision of hip bones
27158 | C | Revision of pelvis
27161 | C | Incision of neck of femur
27165 | C | Incision/fixation of femur
27170 | C | Repair/graft femur head/neck
27175 | C | Treat slipped epiphysis
27176 | C | Treat slipped epiphysis
27177 | C | Treat slipped epiphysis
27178 | C | Treat slipped epiphysis
27179 | C | Revise head/neck of femur
27181 | C | Treat slipped epiphysis
27185 | C | Revision of femur epiphysis
27187 | C | Reinforce hip bones
27215 | C | Treat pelvic fracture(s)
27217 | C | Treat pelvic ring fracture
27218 | C | Treat pelvic ring fracture
27222 | C | Treat hip socket fracture
27226 | C | Treat hip wall fracture
27227 | C | Treat hip fracture(s)
27228 | C | Treat hip fracture(s)
27232 | C | Treat thigh fracture
27236 | C | Treat thigh fracture
27240 | C | Treat thigh fracture
27244 | C | Treat thigh fracture
27245 | C | Treat thigh fracture
27248 | C | Treat thigh fracture
27253 | C | Treat hip dislocation
27254 | C | Treat hip dislocation
27258 | C | Treat hip dislocation
27259 | C | Treat hip dislocation
27280 | C | Fusion of sacroiliac joint
27282 | C | Fusion of pubic bones
27284 | C | Fusion of hip joint
27286 | C | Fusion of hip joint
27290 | C | Amputation of leg at hip
27295 | C | Amputation of leg at hip
27303 | C | Drainage of bone lesion
27365 | C | Extensive leg surgery
27445 | C | Revision of knee joint
27447 | C | Total knee arthroplasty
27448 | C | Incision of thigh
27450 | C | Incision of thigh
27454 | C | Realignment of thigh bone
27455 | C | Realignment of knee
27457 | C | Realignment of knee
27465 | C | Shortening of thigh bone
27466 | C | Lengthening of thigh bone
27468 | C | Shorten/lengthen thighs
27470 | C | Repair of thigh
27472 | C | Repair/graft of thigh
27477 | C | Surgery to stop leg growth
27479 | C | Surgery to stop leg growth
27485 | C | Surgery to stop leg growth
27486 | C | Revise/replace knee joint
27487 | C | Revise/replace knee joint
27488 | C | Removal of knee prosthesis
27495 | C | Reinforce thigh
27506 | C | Treatment of thigh fracture
27507 | C | Treatment of thigh fracture
27511 | C | Treatment of thigh fracture
27513 | C | Treatment of thigh fracture
27514 | C | Treatment of thigh fracture
27519 | C | Treat thigh fx growth plate
27535 | C | Treat knee fracture
27536 | C | Treat knee fracture
27540 | C | Treat knee fracture
27556 | C | Treat knee dislocation
27557 | C | Treat knee dislocation
27558 | C | Treat knee dislocation
27580 | C | Fusion of knee
27590 | C | Amputate leg at thigh
27591 | C | Amputate leg at thigh
27592 | C | Amputate leg at thigh
27596 | C | Amputation follow-up surgery
27598 | C | Amputate lower leg at knee
27645 | C | Extensive lower leg surgery
27646 | C | Extensive lower leg surgery
27702 | C | Reconstruct ankle joint
27703 | C | Reconstruction, ankle joint
27712 | C | Realignment of lower leg
27715 | C | Revision of lower leg
27720 | C | Repair of tibia
27722 | C | Repair/graft of tibia
27724 | C | Repair/graft of tibia
27725 | C | Repair of lower leg
27727 | C | Repair of lower leg
27880 | C | Amputation of lower leg
27881 | C | Amputation of lower leg
27882 | C | Amputation of lower leg
27886 | C | Amputation follow-up surgery
27888 | C | Amputation of foot at ankle
28800 | C | Amputation of midfoot
28805 | C | Amputation thru metatarsal
31225 | C | Removal of upper jaw
31230 | C | Removal of upper jaw
31290 | C | Nasal/sinus endoscopy, surg
31291 | C | Nasal/sinus endoscopy, surg
31360 | C | Removal of larynx
31365 | C | Removal of larynx
31367 | C | Partial removal of larynx
31368 | C | Partial removal of larynx
31370 | C | Partial removal of larynx
31375 | C | Partial removal of larynx
31380 | C | Partial removal of larynx
31382 | C | Partial removal of larynx
31390 | C | Removal of larynx & pharynx
31395 | C | Reconstruct larynx & pharynx
31584 | C | Treat larynx fracture
31587 | C | Revision of larynx
31725 | C | Clearance of airways
31760 | C | Repair of windpipe
31766 | C | Reconstruction of windpipe
31770 | C | Repair/graft of bronchus
31775 | C | Reconstruct bronchus
31780 | C | Reconstruct windpipe
31781 | C | Reconstruct windpipe
31786 | C | Remove windpipe lesion
31800 | C | Repair of windpipe injury
31805 | C | Repair of windpipe injury
32035 | C | Exploration of chest
32036 | C | Exploration of chest
32095 | C | Biopsy through chest wall
32100 | C | Exploration/biopsy of chest
32110 | C | Explore/repair chest
32120 | C | Re-exploration of chest
32124 | C | Explore chest free adhesions
32140 | C | Removal of lung lesion(s)
32141 | C | Remove/treat lung lesions
32150 | C | Removal of lung lesion(s)
32151 | C | Remove lung foreign body
32160 | C | Open chest heart massage
32200 | C | Drain, open, lung lesion
32215 | C | Treat chest lining
32220 | C | Release of lung
32225 | C | Partial release of lung
32310 | C | Removal of chest lining
32320 | C | Free/remove chest lining
32402 | C | Open biopsy chest lining
32440 | C | Removal of lung
32442 | C | Sleeve pneumonectomy
32445 | C | Removal of lung
32480 | C | Partial removal of lung
32482 | C | Bilobectomy
32484 | C | Segmentectomy
32486 | C | Sleeve lobectomy
32488 | C | Completion pneumonectomy
32491 | C | Lung volume reduction
32500 | C | Partial removal of lung
32501 | C | Repair bronchus add-on
32520 | C | Remove lung & revise chest
32522 | C | Remove lung & revise chest
32525 | C | Remove lung & revise chest
32540 | C | Removal of lung lesion
32650 | C | Thoracoscopy, surgical
32651 | C | Thoracoscopy, surgical
32652 | C | Thoracoscopy, surgical
32653 | C | Thoracoscopy, surgical
32654 | C | Thoracoscopy, surgical
32655 | C | Thoracoscopy, surgical
32656 | C | Thoracoscopy, surgical
32657 | C | Thoracoscopy, surgical
32658 | C | Thoracoscopy, surgical
32659 | C | Thoracoscopy, surgical
32660 | C | Thoracoscopy, surgical
32661 | C | Thoracoscopy, surgical
32662 | C | Thoracoscopy, surgical
32663 | C | Thoracoscopy, surgical
32664 | C | Thoracoscopy, surgical
32665 | C | Thoracoscopy, surgical
32800 | C | Repair lung hernia
32810 | C | Close chest after drainage
32815 | C | Close bronchial fistula
32820 | C | Reconstruct injured chest
32850 | C | Donor pneumonectomy
32851 | C | Lung transplant, single
32852 | C | Lung transplant with bypass
32853 | C | Lung transplant, double
32854 | C | Lung transplant with bypass
32855 | C | Prepare donor lung, single
32856 | C | Prepare donor lung, double
32900 | C | Removal of rib(s)
32905 | C | Revise & repair chest wall
32906 | C | Revise & repair chest wall
32940 | C | Revision of lung
32997 | C | Total lung lavage
33015 | C | Incision of heart sac
33020 | C | Incision of heart sac
33025 | C | Incision of heart sac
33030 | C | Partial removal of heart sac
33031 | C | Partial removal of heart sac
33050 | C | Removal of heart sac lesion
33120 | C | Removal of heart lesion
33130 | C | Removal of heart lesion
33140 | C | Heart revascularize (tmr)
33141 | C | Heart tmr w/other procedure
33200 | C | Insertion of heart pacemaker
33201 | C | Insertion of heart pacemaker
33236 | C | Remove electrode/thoracotomy
33237 | C | Remove electrode/thoracotomy
33238 | C | Remove electrode/thoracotomy
33243 | C | Remove eltrd/thoracotomy
33245 | C | Insert epic eltrd pace-defib
33246 | C | Insert epic eltrd/generator
33250 | C | Ablate heart dysrhythm focus
33251 | C | Ablate heart dysrhythm focus
33253 | C | Reconstruct atria
33261 | C | Ablate heart dysrhythm focus
33300 | C | Repair of heart wound
33305 | C | Repair of heart wound
33310 | C | Exploratory heart surgery
33315 | C | Exploratory heart surgery
33320 | C | Repair major blood vessel(s)
33321 | C | Repair major vessel
33322 | C | Repair major blood vessel(s)
33330 | C | Insert major vessel graft
33332 | C | Insert major vessel graft
33335 | C | Insert major vessel graft
33400 | C | Repair of aortic valve
33401 | C | Valvuloplasty, open
33403 | C | Valvuloplasty, w/cp bypass
33404 | C | Prepare heart-aorta conduit
33405 | C | Replacement of aortic valve
33406 | C | Replacement of aortic valve
33410 | C | Replacement of aortic valve
33411 | C | Replacement of aortic valve
33412 | C | Replacement of aortic valve
33413 | C | Replacement of aortic valve
33414 | C | Repair of aortic valve
33415 | C | Revision, subvalvular tissue
33416 | C | Revise ventricle muscle
33417 | C | Repair of aortic valve
33420 | C | Revision of mitral valve
33422 | C | Revision of mitral valve
33425 | C | Repair of mitral valve
33426 | C | Repair of mitral valve
33427 | C | Repair of mitral valve
33430 | C | Replacement of mitral valve
33460 | C | Revision of tricuspid valve
33463 | C | Valvuloplasty, tricuspid
33464 | C | Valvuloplasty, tricuspid
33465 | C | Replace tricuspid valve
33468 | C | Revision of tricuspid valve
33470 | C | Revision of pulmonary valve
33471 | C | Valvotomy, pulmonary valve
33472 | C | Revision of pulmonary valve
33474 | C | Revision of pulmonary valve
33475 | C | Replacement, pulmonary valve
33476 | C | Revision of heart chamber
33478 | C | Revision of heart chamber
33496 | C | Repair, prosth valve clot
33500 | C | Repair heart vessel fistula
33501 | C | Repair heart vessel fistula
33502 | C | Coronary artery correction
33503 | C | Coronary artery graft
33504 | C | Coronary artery graft
33505 | C | Repair artery w/tunnel
33506 | C | Repair artery, translocation
33510 | C | CABG, vein, single
33511 | C | CABG, vein, two
33512 | C | CABG, vein, three
33513 | C | CABG, vein, four
33514 | C | CABG, vein, five
33516 | C | Cabg, vein, six or more
33517 | C | CABG, artery-vein, single
33518 | C | CABG, artery-vein, two
33519 | C | CABG, artery-vein, three
33521 | C | CABG, artery-vein, four
33522 | C | CABG, artery-vein, five
33523 | C | Cabg, art-vein, six or more
33530 | C | Coronary artery, bypass/reop
33533 | C | CABG, arterial, single
33534 | C | CABG, arterial, two
33535 | C | CABG, arterial, three
33536 | C | Cabg, arterial, four or more
33542 | C | Removal of heart lesion
33545 | C | Repair of heart damage
33572 | C | Open coronary endarterectomy
33600 | C | Closure of valve
33602 | C | Closure of valve
33606 | C | Anastomosis/artery-aorta
33608 | C | Repair anomaly w/conduit
33610 | C | Repair by enlargement
33611 | C | Repair double ventricle
33612 | C | Repair double ventricle
33615 | C | Repair, modified fontan
33617 | C | Repair single ventricle
33619 | C | Repair single ventricle
33641 | C | Repair heart septum defect
33645 | C | Revision of heart veins
33647 | C | Repair heart septum defects
33660 | C | Repair of heart defects
33665 | C | Repair of heart defects
33670 | C | Repair of heart chambers
33681 | C | Repair heart septum defect
33684 | C | Repair heart septum defect
33688 | C | Repair heart septum defect
33690 | C | Reinforce pulmonary artery
33692 | C | Repair of heart defects
33694 | C | Repair of heart defects
33697 | C | Repair of heart defects
33702 | C | Repair of heart defects
33710 | C | Repair of heart defects
33720 | C | Repair of heart defect
33722 | C | Repair of heart defect
33730 | C | Repair heart-vein defect(s)
33732 | C | Repair heart-vein defect
33735 | C | Revision of heart chamber
33736 | C | Revision of heart chamber
33737 | C | Revision of heart chamber
33750 | C | Major vessel shunt
33755 | C | Major vessel shunt
33762 | C | Major vessel shunt
33764 | C | Major vessel shunt & graft
33766 | C | Major vessel shunt
33767 | C | Major vessel shunt
33770 | C | Repair great vessels defect
33771 | C | Repair great vessels defect
33774 | C | Repair great vessels defect
33775 | C | Repair great vessels defect
33776 | C | Repair great vessels defect
33777 | C | Repair great vessels defect
33778 | C | Repair great vessels defect
33779 | C | Repair great vessels defect
33780 | C | Repair great vessels defect
33781 | C | Repair great vessels defect
33786 | C | Repair arterial trunk
33788 | C | Revision of pulmonary artery
33800 | C | Aortic suspension
33802 | C | Repair vessel defect
33803 | C | Repair vessel defect
33813 | C | Repair septal defect
33814 | C | Repair septal defect
33820 | C | Revise major vessel
33822 | C | Revise major vessel
33824 | C | Revise major vessel
33840 | C | Remove aorta constriction
33845 | C | Remove aorta constriction
33851 | C | Remove aorta constriction
33852 | C | Repair septal defect
33853 | C | Repair septal defect
33860 | C | Ascending aortic graft
33861 | C | Ascending aortic graft
33863 | C | Ascending aortic graft
33870 | C | Transverse aortic arch graft
33875 | C | Thoracic aortic graft
33877 | C | Thoracoabdominal graft
33910 | C | Remove lung artery emboli
33915 | C | Remove lung artery emboli
33916 | C | Surgery of great vessel
33917 | C | Repair pulmonary artery
33918 | C | Repair pulmonary atresia
33919 | C | Repair pulmonary atresia
33920 | C | Repair pulmonary atresia
33922 | C | Transect pulmonary artery
33924 | C | Remove pulmonary shunt
33930 | C | Removal of donor heart/lung
33933 | C | Prepare donor heart/lung
33935 | C | Transplantation, heart/lung
33940 | C | Removal of donor heart
33944 | C | Prepare donor heart
33945 | C | Transplantation of heart
33960 | C | External circulation assist
33961 | C | External circulation assist
33967 | C | Insert ia percut device
33968 | C | Remove aortic assist device
33970 | C | Aortic circulation assist
33971 | C | Aortic circulation assist
33973 | C | Insert balloon device
33974 | C | Remove intra-aortic balloon
33975 | C | Implant ventricular device
33976 | C | Implant ventricular device
33977 | C | Remove ventricular device
33978 | C | Remove ventricular device
33979 | C | Insert intracorporeal device
33980 | C | Remove intracorporeal device
34001 | C | Removal of artery clot
34051 | C | Removal of artery clot
34151 | C | Removal of artery clot
34401 | C | Removal of vein clot
34451 | C | Removal of vein clot
34502 | C | Reconstruct vena cava
34800 | C | Endovasc abdo repair w/tube
34802 | C | Endovasc abdo repr w/device
34803 | C | Endovas aaa repr w/3-p part
34804 | C | Endovasc abdo repr w/device
34805 | C | Endovasc abdo repair w/pros
34808 | C | Endovasc abdo occlud device
34812 | C | Xpose for endoprosth, aortic
34813 | C | Femoral endovas graft add-on
34820 | C | Xpose for endoprosth, iliac
34825 | C | Endovasc extend prosth, init
34826 | C | Endovasc exten prosth, add'l
34830 | C | Open aortic tube prosth repr
34831 | C | Open aortoiliac prosth repr
34832 | C | Open aortofemor prosth repr
34833 | C | Xpose for endoprosth, iliac
34834 | C | Xpose, endoprosth, brachial
34900 | C | Endovasc iliac repr w/graft
35001 | C | Repair defect of artery
35002 | C | Repair artery rupture, neck
35005 | C | Repair defect of artery
35013 | C | Repair artery rupture, arm
35021 | C | Repair defect of artery
35022 | C | Repair artery rupture, chest
35045 | C | Repair defect of arm artery
35081 | C | Repair defect of artery
35082 | C | Repair artery rupture, aorta
35091 | C | Repair defect of artery
35092 | C | Repair artery rupture, aorta
35102 | C | Repair defect of artery
35103 | C | Repair artery rupture, groin
35111 | C | Repair defect of artery
35112 | C | Repair artery rupture,spleen
35121 | C | Repair defect of artery
35122 | C | Repair artery rupture, belly
35131 | C | Repair defect of artery
35132 | C | Repair artery rupture, groin
35141 | C | Repair defect of artery
35142 | C | Repair artery rupture, thigh
35151 | C | Repair defect of artery
35152 | C | Repair artery rupture, knee
35182 | C | Repair blood vessel lesion
35189 | C | Repair blood vessel lesion
35211 | C | Repair blood vessel lesion
35216 | C | Repair blood vessel lesion
35221 | C | Repair blood vessel lesion
35241 | C | Repair blood vessel lesion
35246 | C | Repair blood vessel lesion
35251 | C | Repair blood vessel lesion
35271 | C | Repair blood vessel lesion
35276 | C | Repair blood vessel lesion
35281 | C | Repair blood vessel lesion
35301 | C | Rechanneling of artery
35311 | C | Rechanneling of artery
35331 | C | Rechanneling of artery
35341 | C | Rechanneling of artery
35351 | C | Rechanneling of artery
35355 | C | Rechanneling of artery
35361 | C | Rechanneling of artery
35363 | C | Rechanneling of artery
35371 | C | Rechanneling of artery
35372 | C | Rechanneling of artery
35381 | C | Rechanneling of artery
35390 | C | Reoperation, carotid add-on
35400 | C | Angioscopy
35450 | C | Repair arterial blockage
35452 | C | Repair arterial blockage
35454 | C | Repair arterial blockage
35456 | C | Repair arterial blockage
35480 | C | Atherectomy, open
35481 | C | Atherectomy, open
35482 | C | Atherectomy, open
35483 | C | Atherectomy, open
35501 | C | Artery bypass graft
35506 | C | Artery bypass graft
35507 | C | Artery bypass graft
35508 | C | Artery bypass graft
35509 | C | Artery bypass graft
35510 | C | Artery bypass graft
35511 | C | Artery bypass graft
35512 | C | Artery bypass graft
35515 | C | Artery bypass graft
35516 | C | Artery bypass graft
35518 | C | Artery bypass graft
35521 | C | Artery bypass graft
35522 | C | Artery bypass graft
35525 | C | Artery bypass graft
35526 | C | Artery bypass graft
35531 | C | Artery bypass graft
35533 | C | Artery bypass graft
35536 | C | Artery bypass graft
35541 | C | Artery bypass graft
35546 | C | Artery bypass graft
35548 | C | Artery bypass graft
35549 | C | Artery bypass graft
35551 | C | Artery bypass graft
35556 | C | Artery bypass graft
35558 | C | Artery bypass graft
35560 | C | Artery bypass graft
35563 | C | Artery bypass graft
35565 | C | Artery bypass graft
35566 | C | Artery bypass graft
35571 | C | Artery bypass graft
35583 | C | Vein bypass graft
35585 | C | Vein bypass graft
35587 | C | Vein bypass graft
35600 | C | Harvest artery for cabg
35601 | C | Artery bypass graft
35606 | C | Artery bypass graft
35612 | C | Artery bypass graft
35616 | C | Artery bypass graft
35621 | C | Artery bypass graft
35623 | C | Bypass graft, not vein
35626 | C | Artery bypass graft
35631 | C | Artery bypass graft
35636 | C | Artery bypass graft
35641 | C | Artery bypass graft
35642 | C | Artery bypass graft
35645 | C | Artery bypass graft
35646 | C | Artery bypass graft
35647 | C | Artery bypass graft
35650 | C | Artery bypass graft
35651 | C | Artery bypass graft
35654 | C | Artery bypass graft
35656 | C | Artery bypass graft
35661 | C | Artery bypass graft
35663 | C | Artery bypass graft
35665 | C | Artery bypass graft
35666 | C | Artery bypass graft
35671 | C | Artery bypass graft
35681 | C | Composite bypass graft
35682 | C | Composite bypass graft
35683 | C | Composite bypass graft
35691 | C | Arterial transposition
35693 | C | Arterial transposition
35694 | C | Arterial transposition
35695 | C | Arterial transposition
35697 | C | Reimplant artery each
35700 | C | Reoperation, bypass graft
35701 | C | Exploration, carotid artery
35721 | C | Exploration, femoral artery
35741 | C | Exploration popliteal artery
35800 | C | Explore neck vessels
35820 | C | Explore chest vessels
35840 | C | Explore abdominal vessels
35870 | C | Repair vessel graft defect
35901 | C | Excision, graft, neck
35905 | C | Excision, graft, thorax
35907 | C | Excision, graft, abdomen
36660 | C | Insertion catheter, artery
36822 | C | Insertion of cannula(s)
36823 | C | Insertion of cannula(s)
37140 | C | Revision of circulation
37145 | C | Revision of circulation
37160 | C | Revision of circulation
37180 | C | Revision of circulation
37181 | C | Splice spleen/kidney veins
37182 | C | Insert hepatic shunt (tips)
37215 | C | Transcath stent, cca w/eps
37216 | C | Transcath stent, cca w/o eps
37616 | C | Ligation of chest artery
37617 | C | Ligation of abdomen artery
37618 | C | Ligation of extremity artery
37660 | C | Revision of major vein
37788 | C | Revascularization, penis
38100 | C | Removal of spleen, total
38101 | C | Removal of spleen, partial
38102 | C | Removal of spleen, total
38115 | C | Repair of ruptured spleen
38380 | C | Thoracic duct procedure
38381 | C | Thoracic duct procedure
38382 | C | Thoracic duct procedure
38562 | C | Removal, pelvic lymph nodes
38564 | C | Removal, abdomen lymph nodes
38724 | C | Removal of lymph nodes, neck
38746 | C | Remove thoracic lymph nodes
38747 | C | Remove abdominal lymph nodes
38765 | C | Remove groin lymph nodes
38770 | C | Remove pelvis lymph nodes
38780 | C | Remove abdomen lymph nodes
39000 | C | Exploration of chest
39010 | C | Exploration of chest
39200 | C | Removal chest lesion
39220 | C | Removal chest lesion
39499 | C | Chest procedure
39501 | C | Repair diaphragm laceration
39502 | C | Repair paraesophageal hernia
39503 | C | Repair of diaphragm hernia
39520 | C | Repair of diaphragm hernia
39530 | C | Repair of diaphragm hernia
39531 | C | Repair of diaphragm hernia
39540 | C | Repair of diaphragm hernia
39541 | C | Repair of diaphragm hernia
39545 | C | Revision of diaphragm
39560 | C | Resect diaphragm, simple
39561 | C | Resect diaphragm, complex
39599 | C | Diaphragm surgery procedure
41130 | C | Partial removal of tongue
41135 | C | Tongue and neck surgery
41140 | C | Removal of tongue
41145 | C | Tongue removal, neck surgery
41150 | C | Tongue, mouth, jaw surgery
41153 | C | Tongue, mouth, neck surgery
41155 | C | Tongue, jaw, & neck surgery
42426 | C | Excise parotid gland/lesion
42845 | C | Extensive surgery of throat
42894 | C | Revision of pharyngeal walls
42953 | C | Repair throat, esophagus
42961 | C | Control throat bleeding
42971 | C | Control nose/throat bleeding
43045 | C | Incision of esophagus
43100 | C | Excision of esophagus lesion
43101 | C | Excision of esophagus lesion
43107 | C | Removal of esophagus
43108 | C | Removal of esophagus
43112 | C | Removal of esophagus
43113 | C | Removal of esophagus
43116 | C | Partial removal of esophagus
43117 | C | Partial removal of esophagus
43118 | C | Partial removal of esophagus
43121 | C | Partial removal of esophagus
43122 | C | Partial removal of esophagus
43123 | C | Partial removal of esophagus
43124 | C | Removal of esophagus
43135 | C | Removal of esophagus pouch
43300 | C | Repair of esophagus
43305 | C | Repair esophagus and fistula
43310 | C | Repair of esophagus
43312 | C | Repair esophagus and fistula
43313 | C | Esophagoplasty congenital
43314 | C | Tracheo-esophagoplasty cong
43320 | C | Fuse esophagus & stomach
43324 | C | Revise esophagus & stomach
43325 | C | Revise esophagus & stomach
43326 | C | Revise esophagus & stomach
43330 | C | Repair of esophagus
43331 | C | Repair of esophagus
43340 | C | Fuse esophagus & intestine
43341 | C | Fuse esophagus & intestine
43350 | C | Surgical opening, esophagus
43351 | C | Surgical opening, esophagus
43352 | C | Surgical opening, esophagus
43360 | C | Gastrointestinal repair
43361 | C | Gastrointestinal repair
43400 | C | Ligate esophagus veins
43401 | C | Esophagus surgery for veins
43405 | C | Ligate/staple esophagus
43410 | C | Repair esophagus wound
43415 | C | Repair esophagus wound
43420 | C | Repair esophagus opening
43425 | C | Repair esophagus opening
43460 | C | Pressure treatment esophagus
43496 | C | Free jejunum flap, microvasc
43500 | C | Surgical opening of stomach
43501 | C | Surgical repair of stomach
43502 | C | Surgical repair of stomach
43520 | C | Incision of pyloric muscle
43605 | C | Biopsy of stomach
43610 | C | Excision of stomach lesion
43611 | C | Excision of stomach lesion
43620 | C | Removal of stomach
43621 | C | Removal of stomach
43622 | C | Removal of stomach
43631 | C | Removal of stomach, partial
43632 | C | Removal of stomach, partial
43633 | C | Removal of stomach, partial
43634 | C | Removal of stomach, partial
43635 | C | Removal of stomach, partial
43638 | C | Removal of stomach, partial
43639 | C | Removal of stomach, partial
43640 | C | Vagotomy & pylorus repair
43641 | C | Vagotomy & pylorus repair
43644 | C | Lap gastric bypass/roux-en-y
43645 | C | Lap gastr bypass incl smll i
43800 | C | Reconstruction of pylorus
43810 | C | Fusion of stomach and bowel
43820 | C | Fusion of stomach and bowel
43825 | C | Fusion of stomach and bowel
43832 | C | Place gastrostomy tube
43840 | C | Repair of stomach lesion
43842 | C | Gastroplasty for obesity
43843 | C | Gastroplasty for obesity
43845 | C | Gastroplasty duodenal switch
43846 | C | Gastric bypass for obesity
43847 | C | Gastric bypass for obesity
43848 | C | Revision gastroplasty
43850 | C | Revise stomach-bowel fusion
43855 | C | Revise stomach-bowel fusion
43860 | C | Revise stomach-bowel fusion
43865 | C | Revise stomach-bowel fusion
43880 | C | Repair stomach-bowel fistula
44005 | C | Freeing of bowel adhesion
44010 | C | Incision of small bowel
44015 | C | Insert needle cath bowel
44020 | C | Explore small intestine
44021 | C | Decompress small bowel
44025 | C | Incision of large bowel
44050 | C | Reduce bowel obstruction
44055 | C | Correct malrotation of bowel
44110 | C | Excise intestine lesion(s)
44111 | C | Excision of bowel lesion(s)
44120 | C | Removal of small intestine
44121 | C | Removal of small intestine
44125 | C | Removal of small intestine
44126 | C | Enterectomy w/o taper, cong
44127 | C | Enterectomy w/taper, cong
44128 | C | Enterectomy cong, add-on
44130 | C | Bowel to bowel fusion
44132 | C | Enterectomy, cadaver donor
44133 | C | Enterectomy, live donor
44135 | C | Intestine transplnt, cadaver
44136 | C | Intestine transplant, live
44137 | C | Remove intestinal allograft
44139 | C | Mobilization of colon
44140 | C | Partial removal of colon
44141 | C | Partial removal of colon
44143 | C | Partial removal of colon
44144 | C | Partial removal of colon
44145 | C | Partial removal of colon
44146 | C | Partial removal of colon
44147 | C | Partial removal of colon
44150 | C | Removal of colon
44151 | C | Removal of colon/ileostomy
44152 | C | Removal of colon/ileostomy
44153 | C | Removal of colon/ileostomy
44155 | C | Removal of colon/ileostomy
44156 | C | Removal of colon/ileostomy
44160 | C | Removal of colon
44202 | C | Lap resect s/intestine singl
44203 | C | Lap resect s/intestine, addl
44204 | C | Laparo partial colectomy
44205 | C | Lap colectomy part w/ileum
44210 | C | Laparo total proctocolectomy
44211 | C | Laparo total proctocolectomy
44212 | C | Laparo total proctocolectomy
44300 | C | Open bowel to skin
44310 | C | Ileostomy/jejunostomy
44314 | C | Revision of ileostomy
44316 | C | Devise bowel pouch
44320 | C | Colostomy
44322 | C | Colostomy with biopsies
44345 | C | Revision of colostomy
44346 | C | Revision of colostomy
44602 | C | Suture, small intestine
44603 | C | Suture, small intestine
44604 | C | Suture, large intestine
44605 | C | Repair of bowel lesion
44615 | C | Intestinal stricturoplasty
44620 | C | Repair bowel opening
44625 | C | Repair bowel opening
44626 | C | Repair bowel opening
44640 | C | Repair bowel-skin fistula
44650 | C | Repair bowel fistula
44660 | C | Repair bowel-bladder fistula
44661 | C | Repair bowel-bladder fistula
44680 | C | Surgical revision, intestine
44700 | C | Suspend bowel w/prosthesis
44715 | C | Prepare donor intestine
44720 | C | Prep donor intestine/venous
44721 | C | Prep donor intestine/artery
44800 | C | Excision of bowel pouch
44820 | C | Excision of mesentery lesion
44850 | C | Repair of mesentery
44899 | C | Bowel surgery procedure
44900 | C | Drain app abscess, open
44950 | C | Appendectomy
44955 | C | Appendectomy add-on
44960 | C | Appendectomy
45110 | C | Removal of rectum
45111 | C | Partial removal of rectum
45112 | C | Removal of rectum
45113 | C | Partial proctectomy
45114 | C | Partial removal of rectum
45116 | C | Partial removal of rectum
45119 | C | Remove rectum w/reservoir
45120 | C | Removal of rectum
45121 | C | Removal of rectum and colon
45123 | C | Partial proctectomy
45126 | C | Pelvic exenteration
45130 | C | Excision of rectal prolapse
45135 | C | Excision of rectal prolapse
45136 | C | Excise ileoanal reservior
45540 | C | Correct rectal prolapse
45550 | C | Repair rectum/remove sigmoid
45562 | C | Exploration/repair of rectum
45563 | C | Exploration/repair of rectum
45800 | C | Repair rect/bladder fistula
45805 | C | Repair fistula w/colostomy
45820 | C | Repair rectourethral fistula
45825 | C | Repair fistula w/colostomy
46705 | C | Repair of anal stricture
46715 | C | Repair of anovaginal fistula
46716 | C | Repair of anovaginal fistula
46730 | C | Construction of absent anus
46735 | C | Construction of absent anus
46740 | C | Construction of absent anus
46742 | C | Repair of imperforated anus
46744 | C | Repair of cloacal anomaly
46746 | C | Repair of cloacal anomaly
46748 | C | Repair of cloacal anomaly
46751 | C | Repair of anal sphincter
47010 | C | Open drainage, liver lesion
47015 | C | Inject/aspirate liver cyst
47100 | C | Wedge biopsy of liver
47120 | C | Partial removal of liver
47122 | C | Extensive removal of liver
47125 | C | Partial removal of liver
47130 | C | Partial removal of liver
47133 | C | Removal of donor liver
47135 | C | Transplantation of liver
47136 | C | Transplantation of liver
47140 | C | Partial removal, donor liver
47141 | C | Partial removal, donor liver
47142 | C | Partial removal, donor liver
47143 | C | Prep donor liver, whole
47144 | C | Prep donor liver, 3-segment
47145 | C | Prep donor liver, lobe split
47146 | C | Prep donor liver/venous
47147 | C | Prep donor liver/arterial
47300 | C | Surgery for liver lesion
47350 | C | Repair liver wound
47360 | C | Repair liver wound
47361 | C | Repair liver wound
47362 | C | Repair liver wound
47380 | C | Open ablate liver tumor rf
47381 | C | Open ablate liver tumor cryo
47400 | C | Incision of liver duct
47420 | C | Incision of bile duct
47425 | C | Incision of bile duct
47460 | C | Incise bile duct sphincter
47480 | C | Incision of gallbladder
47550 | C | Bile duct endoscopy add-on
47570 | C | Laparo cholecystoenterostomy
47600 | C | Removal of gallbladder
47605 | C | Removal of gallbladder
47610 | C | Removal of gallbladder
47612 | C | Removal of gallbladder
47620 | C | Removal of gallbladder
47700 | C | Exploration of bile ducts
47701 | C | Bile duct revision
47711 | C | Excision of bile duct tumor
47712 | C | Excision of bile duct tumor
47715 | C | Excision of bile duct cyst
47716 | C | Fusion of bile duct cyst
47720 | C | Fuse gallbladder & bowel
47721 | C | Fuse upper gi structures
47740 | C | Fuse gallbladder & bowel
47741 | C | Fuse gallbladder & bowel
47760 | C | Fuse bile ducts and bowel
47765 | C | Fuse liver ducts & bowel
47780 | C | Fuse bile ducts and bowel
47785 | C | Fuse bile ducts and bowel
47800 | C | Reconstruction of bile ducts
47801 | C | Placement, bile duct support
47802 | C | Fuse liver duct & intestine
47900 | C | Suture bile duct injury
48000 | C | Drainage of abdomen
48001 | C | Placement of drain, pancreas
48005 | C | Resect/debride pancreas
48020 | C | Removal of pancreatic stone
48100 | C | Biopsy of pancreas, open
48120 | C | Removal of pancreas lesion
48140 | C | Partial removal of pancreas
48145 | C | Partial removal of pancreas
48146 | C | Pancreatectomy
48148 | C | Removal of pancreatic duct
48150 | C | Partial removal of pancreas
48152 | C | Pancreatectomy
48153 | C | Pancreatectomy
48154 | C | Pancreatectomy
48155 | C | Removal of pancreas
48180 | C | Fuse pancreas and bowel
48400 | C | Injection, intraop add-on
48500 | C | Surgery of pancreatic cyst
48510 | C | Drain pancreatic pseudocyst
48520 | C | Fuse pancreas cyst and bowel
48540 | C | Fuse pancreas cyst and bowel
48545 | C | Pancreatorrhaphy
48547 | C | Duodenal exclusion
48551 | C | Prep donor pancreas
48552 | C | Prep donor pancreas/venous
48556 | C | Removal, allograft pancreas
49000 | C | Exploration of abdomen
49002 | C | Reopening of abdomen
49010 | C | Exploration behind abdomen
49020 | C | Drain abdominal abscess
49040 | C | Drain, open, abdom abscess
49060 | C | Drain, open, retrop abscess
49062 | C | Drain to peritoneal cavity
49201 | C | Remove abdom lesion, complex
49215 | C | Excise sacral spine tumor
49220 | C | Multiple surgery, abdomen
49255 | C | Removal of omentum
49425 | C | Insert abdomen-venous drain
49428 | C | Ligation of shunt
49605 | C | Repair umbilical lesion
49606 | C | Repair umbilical lesion
49610 | C | Repair umbilical lesion
49611 | C | Repair umbilical lesion
49900 | C | Repair of abdominal wall
49904 | C | Omental flap, extra-abdom
49905 | C | Omental flap
49906 | C | Free omental flap, microvasc
50010 | C | Exploration of kidney
50040 | C | Drainage of kidney
50045 | C | Exploration of kidney
50060 | C | Removal of kidney stone
50065 | C | Incision of kidney
50070 | C | Incision of kidney
50075 | C | Removal of kidney stone
50100 | C | Revise kidney blood vessels
50120 | C | Exploration of kidney
50125 | C | Explore and drain kidney
50130 | C | Removal of kidney stone
50135 | C | Exploration of kidney
50205 | C | Biopsy of kidney
50220 | C | Remove kidney, open
50225 | C | Removal kidney open, complex
50230 | C | Removal kidney open, radical
50234 | C | Removal of kidney & ureter
50236 | C | Removal of kidney & ureter
50240 | C | Partial removal of kidney
50280 | C | Removal of kidney lesion
50290 | C | Removal of kidney lesion
50300 | C | Removal of donor kidney
50320 | C | Removal of donor kidney
50323 | C | Prep cadaver renal allograft
50325 | C | Prep donor renal graft
50327 | C | Prep renal graft/venous
50328 | C | Prep renal graft/arterial
50329 | C | Prep renal graft/ureteral
50340 | C | Removal of kidney
50360 | C | Transplantation of kidney
50365 | C | Transplantation of kidney
50370 | C | Remove transplanted kidney
50380 | C | Reimplantation of kidney
50400 | C | Revision of kidney/ureter
50405 | C | Revision of kidney/ureter
50500 | C | Repair of kidney wound
50520 | C | Close kidney-skin fistula
50525 | C | Repair renal-abdomen fistula
50526 | C | Repair renal-abdomen fistula
50540 | C | Revision of horseshoe kidney
50545 | C | Laparo radical nephrectomy
50546 | C | Laparoscopic nephrectomy
50547 | C | Laparo removal donor kidney
50548 | C | Laparo remove w/ ureter
50580 | C | Kidney endoscopy & treatment
50600 | C | Exploration of ureter
50605 | C | Insert ureteral support
50610 | C | Removal of ureter stone
50620 | C | Removal of ureter stone
50630 | C | Removal of ureter stone
50650 | C | Removal of ureter
50660 | C | Removal of ureter
50700 | C | Revision of ureter
50715 | C | Release of ureter
50722 | C | Release of ureter
50725 | C | Release/revise ureter
50727 | C | Revise ureter
50728 | C | Revise ureter
50740 | C | Fusion of ureter & kidney
50750 | C | Fusion of ureter & kidney
50760 | C | Fusion of ureters
50770 | C | Splicing of ureters
50780 | C | Reimplant ureter in bladder
50782 | C | Reimplant ureter in bladder
50783 | C | Reimplant ureter in bladder
50785 | C | Reimplant ureter in bladder
50800 | C | Implant ureter in bowel
50810 | C | Fusion of ureter & bowel
50815 | C | Urine shunt to intestine
50820 | C | Construct bowel bladder
50825 | C | Construct bowel bladder
50830 | C | Revise urine flow
50840 | C | Replace ureter by bowel
50845 | C | Appendico-vesicostomy
50860 | C | Transplant ureter to skin
50900 | C | Repair of ureter
50920 | C | Closure ureter/skin fistula
50930 | C | Closure ureter/bowel fistula
50940 | C | Release of ureter
51060 | C | Removal of ureter stone
51525 | C | Removal of bladder lesion
51530 | C | Removal of bladder lesion
51535 | C | Repair of ureter lesion
51550 | C | Partial removal of bladder
51555 | C | Partial removal of bladder
51565 | C | Revise bladder & ureter(s)
51570 | C | Removal of bladder
51575 | C | Removal of bladder & nodes
51580 | C | Remove bladder/revise tract
51585 | C | Removal of bladder & nodes
51590 | C | Remove bladder/revise tract
51595 | C | Remove bladder/revise tract
51596 | C | Remove bladder/create pouch
51597 | C | Removal of pelvic structures
51800 | C | Revision of bladder/urethra
51820 | C | Revision of urinary tract
51840 | C | Attach bladder/urethra
51841 | C | Attach bladder/urethra
51845 | C | Repair bladder neck
51860 | C | Repair of bladder wound
51865 | C | Repair of bladder wound
51900 | C | Repair bladder/vagina lesion
51920 | C | Close bladder-uterus fistula
51925 | C | Hysterectomy/bladder repair
51940 | C | Correction of bladder defect
51960 | C | Revision of bladder & bowel
51980 | C | Construct bladder opening
53415 | C | Reconstruction of urethra
53448 | C | Remov/replc ur sphinctr comp
54125 | C | Removal of penis
54130 | C | Remove penis & nodes
54135 | C | Remove penis & nodes
54332 | C | Revise penis/urethra
54336 | C | Revise penis/urethra
54390 | C | Repair penis and bladder
54411 | C | Remov/replc penis pros, comp
54417 | C | Remv/replc penis pros, compl
54430 | C | Revision of penis
54535 | C | Extensive testis surgery
54650 | C | Orchiopexy (Fowler-Stephens)
55605 | C | Incise sperm duct pouch
55650 | C | Remove sperm duct pouch
55801 | C | Removal of prostate
55810 | C | Extensive prostate surgery
55812 | C | Extensive prostate surgery
55815 | C | Extensive prostate surgery
55821 | C | Removal of prostate
55831 | C | Removal of prostate
55840 | C | Extensive prostate surgery
55842 | C | Extensive prostate surgery
55845 | C | Extensive prostate surgery
55862 | C | Extensive prostate surgery
55865 | C | Extensive prostate surgery
55866 | C | Laparo radical prostatectomy
56630 | C | Extensive vulva surgery
56631 | C | Extensive vulva surgery
56632 | C | Extensive vulva surgery
56633 | C | Extensive vulva surgery
56634 | C | Extensive vulva surgery
56637 | C | Extensive vulva surgery
56640 | C | Extensive vulva surgery
57110 | C | Remove vagina wall, complete
57111 | C | Remove vagina tissue, compl
57112 | C | Vaginectomy w/nodes, compl
57270 | C | Repair of bowel pouch
57280 | C | Suspension of vagina
57282 | C | Repair of vaginal prolapse
57283 | C | Colpopexy, intraperitoneal
57292 | C | Construct vagina with graft
57305 | C | Repair rectum-vagina fistula
57307 | C | Fistula repair & colostomy
57308 | C | Fistula repair, transperine
57311 | C | Repair urethrovaginal lesion
57335 | C | Repair vagina
57531 | C | Removal of cervix, radical
57540 | C | Removal of residual cervix
57545 | C | Remove cervix/repair pelvis
58140 | C | Removal of uterus lesion
58146 | C | Myomectomy abdom complex
58150 | C | Total hysterectomy
58152 | C | Total hysterectomy
58180 | C | Partial hysterectomy
58200 | C | Extensive hysterectomy
58210 | C | Extensive hysterectomy
58240 | C | Removal of pelvis contents
58260 | C | Vaginal hysterectomy
58262 | C | Vag hyst including t/o
58263 | C | Vag hyst w/t/o & vag repair
58267 | C | Vag hyst w/urinary repair
58270 | C | Vag hyst w/enterocele repair
58275 | C | Hysterectomy/revise vagina
58280 | C | Hysterectomy/revise vagina
58285 | C | Extensive hysterectomy
58290 | C | Vag hyst complex
58291 | C | Vag hyst incl t/o, complex
58292 | C | Vag hyst t/o & repair, compl
58293 | C | Vag hyst w/uro repair, compl
58294 | C | Vag hyst w/enterocele, compl
58400 | C | Suspension of uterus
58410 | C | Suspension of uterus
58520 | C | Repair of ruptured uterus
58540 | C | Revision of uterus
58605 | C | Division of fallopian tube
58611 | C | Ligate oviduct(s) add-on
58700 | C | Removal of fallopian tube
58720 | C | Removal of ovary/tube(s)
58740 | C | Revise fallopian tube(s)
58750 | C | Repair oviduct
58752 | C | Revise ovarian tube(s)
58760 | C | Remove tubal obstruction
58805 | C | Drainage of ovarian cyst(s)
58822 | C | Drain ovary abscess, percut
58825 | C | Transposition, ovary(s)
58940 | C | Removal of ovary(s)
58943 | C | Removal of ovary(s)
58950 | C | Resect ovarian malignancy
58951 | C | Resect ovarian malignancy
58952 | C | Resect ovarian malignancy
58953 | C | Tah, rad dissect for debulk
58954 | C | Tah rad debulk/lymph remove
58956 | C | Bso, omentectomy w/tah
58960 | C | Exploration of abdomen
59120 | C | Treat ectopic pregnancy
59121 | C | Treat ectopic pregnancy
59130 | C | Treat ectopic pregnancy
59135 | C | Treat ectopic pregnancy
59136 | C | Treat ectopic pregnancy
59140 | C | Treat ectopic pregnancy
59325 | C | Revision of cervix
59350 | C | Repair of uterus
59514 | C | Cesarean delivery only
59525 | C | Remove uterus after cesarean
59620 | C | Attempted vbac delivery only
59830 | C | Treat uterus infection
59850 | C | Abortion
59851 | C | Abortion
59852 | C | Abortion
59855 | C | Abortion
59856 | C | Abortion
59857 | C | Abortion
60254 | C | Extensive thyroid surgery
60270 | C | Removal of thyroid
60271 | C | Removal of thyroid
60502 | C | Re-explore parathyroids
60505 | C | Explore parathyroid glands
60520 | C | Removal of thymus gland
60521 | C | Removal of thymus gland
60522 | C | Removal of thymus gland
60540 | C | Explore adrenal gland
60545 | C | Explore adrenal gland
60600 | C | Remove carotid body lesion
60605 | C | Remove carotid body lesion
60650 | C | Laparoscopy adrenalectomy
61105 | C | Twist drill hole
61107 | C | Drill skull for implantation
61108 | C | Drill skull for drainage
61120 | C | Burr hole for puncture
61140 | C | Pierce skull for biopsy
61150 | C | Pierce skull for drainage
61151 | C | Pierce skull for drainage
61154 | C | Pierce skull & remove clot
61156 | C | Pierce skull for drainage
61210 | C | Pierce skull, implant device
61250 | C | Pierce skull & explore
61253 | C | Pierce skull & explore
61304 | C | Open skull for exploration
61305 | C | Open skull for exploration
61312 | C | Open skull for drainage
61313 | C | Open skull for drainage
61314 | C | Open skull for drainage
61315 | C | Open skull for drainage
61316 | C | Implt cran bone flap to abdo
61320 | C | Open skull for drainage
61321 | C | Open skull for drainage
61322 | C | Decompressive craniotomy
61323 | C | Decompressive lobectomy
61332 | C | Explore/biopsy eye socket
61333 | C | Explore orbit/remove lesion
61340 | C | Relieve cranial pressure
61343 | C | Incise skull (press relief)
61345 | C | Relieve cranial pressure
61440 | C | Incise skull for surgery
61450 | C | Incise skull for surgery
61458 | C | Incise skull for brain wound
61460 | C | Incise skull for surgery
61470 | C | Incise skull for surgery
61480 | C | Incise skull for surgery
61490 | C | Incise skull for surgery
61500 | C | Removal of skull lesion
61501 | C | Remove infected skull bone
61510 | C | Removal of brain lesion
61512 | C | Remove brain lining lesion
61514 | C | Removal of brain abscess
61516 | C | Removal of brain lesion
61517 | C | Implt brain chemotx add-on
61518 | C | Removal of brain lesion
61519 | C | Remove brain lining lesion
61520 | C | Removal of brain lesion
61521 | C | Removal of brain lesion
61522 | C | Removal of brain abscess
61524 | C | Removal of brain lesion
61526 | C | Removal of brain lesion
61530 | C | Removal of brain lesion
61531 | C | Implant brain electrodes
61533 | C | Implant brain electrodes
61534 | C | Removal of brain lesion
61535 | C | Remove brain electrodes
61536 | C | Removal of brain lesion
61537 | C | Removal of brain tissue
61538 | C | Removal of brain tissue
61539 | C | Removal of brain tissue
61540 | C | Removal of brain tissue
61541 | C | Incision of brain tissue
61542 | C | Removal of brain tissue
61543 | C | Removal of brain tissue
61544 | C | Remove & treat brain lesion
61545 | C | Excision of brain tumor
61546 | C | Removal of pituitary gland
61548 | C | Removal of pituitary gland
61550 | C | Release of skull seams
61552 | C | Release of skull seams
61556 | C | Incise skull/sutures
61557 | C | Incise skull/sutures
61558 | C | Excision of skull/sutures
61559 | C | Excision of skull/sutures
61563 | C | Excision of skull tumor
61564 | C | Excision of skull tumor
61566 | C | Removal of brain tissue
61567 | C | Incision of brain tissue
61570 | C | Remove foreign body, brain
61571 | C | Incise skull for brain wound
61575 | C | Skull base/brainstem surgery
61576 | C | Skull base/brainstem surgery
61580 | C | Craniofacial approach, skull
61581 | C | Craniofacial approach, skull
61582 | C | Craniofacial approach, skull
61583 | C | Craniofacial approach, skull
61584 | C | Orbitocranial approach/skull
61585 | C | Orbitocranial approach/skull
61586 | C | Resect nasopharynx, skull
61590 | C | Infratemporal approach/skull
61591 | C | Infratemporal approach/skull
61592 | C | Orbitocranial approach/skull
61595 | C | Transtemporal approach/skull
61596 | C | Transcochlear approach/skull
61597 | C | Transcondylar approach/skull
61598 | C | Transpetrosal approach/skull
61600 | C | Resect/excise cranial lesion
61601 | C | Resect/excise cranial lesion
61605 | C | Resect/excise cranial lesion
61606 | C | Resect/excise cranial lesion
61607 | C | Resect/excise cranial lesion
61608 | C | Resect/excise cranial lesion
61609 | C | Transect artery, sinus
61610 | C | Transect artery, sinus
61611 | C | Transect artery, sinus
61612 | C | Transect artery, sinus
61613 | C | Remove aneurysm, sinus
61615 | C | Resect/excise lesion, skull
61616 | C | Resect/excise lesion, skull
61618 | C | Repair dura
61619 | C | Repair dura
61624 | C | Occlusion/embolization cath
61680 | C | Intracranial vessel surgery
61682 | C | Intracranial vessel surgery
61684 | C | Intracranial vessel surgery
61686 | C | Intracranial vessel surgery
61690 | C | Intracranial vessel surgery
61692 | C | Intracranial vessel surgery
61697 | C | Brain aneurysm repr, complx
61698 | C | Brain aneurysm repr, complx
61700 | C | Brain aneurysm repr, simple
61702 | C | Inner skull vessel surgery
61703 | C | Clamp neck artery
61705 | C | Revise circulation to head
61708 | C | Revise circulation to head
61710 | C | Revise circulation to head
61711 | C | Fusion of skull arteries
61720 | C | Incise skull/brain surgery
61735 | C | Incise skull/brain surgery
61750 | C | Incise skull/brain biopsy
61751 | C | Brain biopsy w/ ct/mr guide
61760 | C | Implant brain electrodes
61770 | C | Incise skull for treatment
61850 | C | Implant neuroelectrodes
61860 | C | Implant neuroelectrodes
61863 | C | Implant neuroelectrode
61864 | C | Implant neuroelectrde, add'l
61867 | C | Implant neuroelectrode
61868 | C | Implant neuroelectrde, add'l
61870 | C | Implant neuroelectrodes
61875 | C | Implant neuroelectrodes
62000 | C | Treat skull fracture
62005 | C | Treat skull fracture
62010 | C | Treatment of head injury
62100 | C | Repair brain fluid leakage
62115 | C | Reduction of skull defect
62116 | C | Reduction of skull defect
62117 | C | Reduction of skull defect
62120 | C | Repair skull cavity lesion
62121 | C | Incise skull repair
62140 | C | Repair of skull defect
62141 | C | Repair of skull defect
62142 | C | Remove skull plate/flap
62143 | C | Replace skull plate/flap
62145 | C | Repair of skull & brain
62146 | C | Repair of skull with graft
62147 | C | Repair of skull with graft
62148 | C | Retr bone flap to fix skull
62161 | C | Dissect brain w/scope
62162 | C | Remove colloid cyst w/scope
62163 | C | Neuroendoscopy w/fb removal
62164 | C | Remove brain tumor w/scope
62165 | C | Remove pituit tumor w/scope
62180 | C | Establish brain cavity shunt
62190 | C | Establish brain cavity shunt
62192 | C | Establish brain cavity shunt
62200 | C | Establish brain cavity shunt
62201 | C | Establish brain cavity shunt
62220 | C | Establish brain cavity shunt
62223 | C | Establish brain cavity shunt
62256 | C | Remove brain cavity shunt
62258 | C | Replace brain cavity shunt
63043 | C | Laminotomy, add'l cervical
63044 | C | Laminotomy, add'l lumbar
63050 | C | Cervical laminoplasty
63051 | C | C-laminoplasty w/graft/plate
63075 | C | Neck spine disk surgery
63076 | C | Neck spine disk surgery
63077 | C | Spine disk surgery, thorax
63078 | C | Spine disk surgery, thorax
63081 | C | Removal of vertebral body
63082 | C | Remove vertebral body add-on
63085 | C | Removal of vertebral body
63086 | C | Remove vertebral body add-on
63087 | C | Removal of vertebral body
63088 | C | Remove vertebral body add-on
63090 | C | Removal of vertebral body
63091 | C | Remove vertebral body add-on
63101 | C | Removal of vertebral body
63102 | C | Removal of vertebral body
63103 | C | Remove vertebral body add-on
63170 | C | Incise spinal cord tract(s)
63172 | C | Drainage of spinal cyst
63173 | C | Drainage of spinal cyst
63180 | C | Revise spinal cord ligaments
63182 | C | Revise spinal cord ligaments
63185 | C | Incise spinal column/nerves
63190 | C | Incise spinal column/nerves
63191 | C | Incise spinal column/nerves
63194 | C | Incise spinal column & cord
63195 | C | Incise spinal column & cord
63196 | C | Incise spinal column & cord
63197 | C | Incise spinal column & cord
63198 | C | Incise spinal column & cord
63199 | C | Incise spinal column & cord
63200 | C | Release of spinal cord
63250 | C | Revise spinal cord vessels
63251 | C | Revise spinal cord vessels
63252 | C | Revise spinal cord vessels
63265 | C | Excise intraspinal lesion
63266 | C | Excise intraspinal lesion
63267 | C | Excise intraspinal lesion
63268 | C | Excise intraspinal lesion
63270 | C | Excise intraspinal lesion
63271 | C | Excise intraspinal lesion
63272 | C | Excise intraspinal lesion
63273 | C | Excise intraspinal lesion
63275 | C | Biopsy/excise spinal tumor
63276 | C | Biopsy/excise spinal tumor
63277 | C | Biopsy/excise spinal tumor
63278 | C | Biopsy/excise spinal tumor
63280 | C | Biopsy/excise spinal tumor
63281 | C | Biopsy/excise spinal tumor
63282 | C | Biopsy/excise spinal tumor
63283 | C | Biopsy/excise spinal tumor
63285 | C | Biopsy/excise spinal tumor
63286 | C | Biopsy/excise spinal tumor
63287 | C | Biopsy/excise spinal tumor
63290 | C | Biopsy/excise spinal tumor
63295 | C | Repair of laminectomy defect
63300 | C | Removal of vertebral body
63301 | C | Removal of vertebral body
63302 | C | Removal of vertebral body
63303 | C | Removal of vertebral body
63304 | C | Removal of vertebral body
63305 | C | Removal of vertebral body
63306 | C | Removal of vertebral body
63307 | C | Removal of vertebral body
63308 | C | Remove vertebral body add-on
63700 | C | Repair of spinal herniation
63702 | C | Repair of spinal herniation
63704 | C | Repair of spinal herniation
63706 | C | Repair of spinal herniation
63707 | C | Repair spinal fluid leakage
63709 | C | Repair spinal fluid leakage
63710 | C | Graft repair of spine defect
63740 | C | Install spinal shunt
64752 | C | Incision of vagus nerve
64755 | C | Incision of stomach nerves
64760 | C | Incision of vagus nerve
64804 | C | Remove sympathetic nerves
64809 | C | Remove sympathetic nerves
64818 | C | Remove sympathetic nerves
64866 | C | Fusion of facial/other nerve
64868 | C | Fusion of facial/other nerve
65273 | C | Repair of eye wound
69155 | C | Extensive ear/neck surgery
69535 | C | Remove part of temporal bone
69554 | C | Remove ear lesion
69950 | C | Incise inner ear nerve
69970 | C | Remove inner ear lesion
75900 | C | Arterial catheter exchange
75952 | C | Endovasc repair abdom aorta
75953 | C | Abdom aneurysm endovas rpr
75954 | C | Iliac aneurysm endovas rpr
92970 | C | Cardioassist, internal
92971 | C | Cardioassist, external
92975 | C | Dissolve clot, heart vessel
92992 | C | Revision of heart chamber
92993 | C | Revision of heart chamber
99190 | C | Special pump services
99191 | C | Special pump services
99192 | C | Special pump services
99251 | C | Initial inpatient consult
99252 | C | Initial inpatient consult
99253 | C | Initial inpatient consult
99254 | C | Initial inpatient consult
99255 | C | Initial inpatient consult
99261 | C | Follow-up inpatient consult
99262 | C | Follow-up inpatient consult
99263 | C | Follow-up inpatient consult
99293 | C | Ped critical care, initial
99294 | C | Ped critical care, subseq
99295 | C | Neonatal critical care
99296 | C | Neonatal critical care
99298 | C | Neonatal critical care
99299 | C | Ic, lbw infant 1500-2500 gm
99356 | C | Prolonged service, inpatient
99357 | C | Prolonged service, inpatient
99433 | C | Normal newborn care/hospital
G0341 | C | Percutaneous islet cell trans
G0342 | C | Laparoscopy Islet cell Trans
G0343 | C | Laparotomy Islet cell tranp

Addendum H.—Wage Index for Urban Areas by CBSA
CBSA code | Urban area (constituent counties) | Wage index
10180 | ² Abilene, TX | 0.8038
| Callahan County, TX
| Jones County, TX
| Taylor County, TX
10380 | Aguadilla-Isabela-San Sebastián, PR | 0.4736
| Aguada Municipio, PR
| Aguadilla Municipio, PR
| Añasco Municipio, PR
| Isabela Municipio, PR
| Lares Municipio, PR
| Moca Municipio, PR
| Rincón Municipio, PR
| San Sebastián Municipio, PR
10420 | Akron, OH | 0.8979
| Portage County, OH
| Summit County, OH
10500 | Albany, GA | 0.8645
| Baker County, GA
| Dougherty County, GA
| Lee County, GA
| Terrell County, GA
| Worth County, GA
10580 | Albany-Schenectady-Troy, NY | 0.8565
| Albany County, NY
| Rensselaer County, NY
| Saratoga County, NY
| Schenectady County, NY
| Schoharie County, NY
10740 | Albuquerque, NM | 0.9696
| Bernalillo County, NM
| Sandoval County, NM
| Torrance County, NM
| Valencia County, NM
10780 | Alexandria, LA | 0.8048
| Grant Parish, LA
| Rapides Parish, LA
10900 | Allentown-Bethlehem-Easton, PA-NJ (PA Hospitals) | 0.9844
| Warren County, NJ
| Carbon County, PA
| Lehigh County, PA
| Northampton County, PA
10900 | ² Allentown-Bethlehem-Easton, PA-NJ (NJ Hospitals) | 1.1253
| Warren County, NJ
| Carbon County, PA
| Lehigh County, PA
| Northampton County, PA
11020 | Altoona, PA | 0.8942
| Blair County, PA
11100 | Amarillo, TX | 0.9165
| Armstrong County, TX
| Carson County, TX
| Potter County, TX
| Randall County, TX
11180 | Ames, IA | 0.9546
| Story County, IA
11260 | Anchorage, AK | 1.2110
| Anchorage Municipality, AK
| Matanuska-Susitna Borough, AK
11300 | Anderson, IN | 0.8634
| Madison County, IN
11340 | Anderson, SC | 0.8887
| Anderson County, SC
11460 | Ann Arbor, MI | 1.0885
| Washtenaw County, MI
11500 | Anniston-Oxford, AL | 0.7702
| Calhoun County, AL
11540 | ² Appleton, WI | 0.9478
| Calumet County, WI
| Outagamie County, WI
11700 | Asheville, NC | 0.9312
| Buncombe County, NC
| Haywood County, NC
| Henderson County, NC
| Madison County, NC
12020 | Athens-Clarke County, GA | 0.9813
| Clarke County, GA
| Madison County, GA
| Oconee County, GA
| Oglethorpe County, GA
12060 | ¹ Atlanta-Sandy Springs-Marietta, GA | 0.9637
| Barrow County, GA
| Bartow County, GA
| Butts County, GA
| Carroll County, GA
| Cherokee County, GA
| Clayton County, GA
| Cobb County, GA
| Coweta County, GA
| Dawson County, GA
| DeKalb County, GA
| Douglas County, GA
| Fayette County, GA
| Forsyth County, GA
| Fulton County, GA
| Gwinnett County, GA
| Haralson County, GA
| Heard County, GA
| Henry County, GA
| Jasper County, GA
| Lamar County, GA
| Meriwether County, GA
| Newton County, GA
| Paulding County, GA
| Pickens County, GA
| Pike County, GA
| Rockdale County, GA
| Spalding County, GA
| Walton County, GA
12100 | Atlantic City, NJ | 1.1618
| Atlantic County, NJ
12220 | Auburn-Opelika, AL | 0.8113
| Lee County, AL
12260 | Augusta-Richmond County, GA-SC | 0.9567
| Burke County, GA
| Columbia County, GA
| McDuffie County, GA
| Richmond County, GA
| Aiken County, SC
| Edgefield County, SC
12420 | ¹ Austin-Round Rock, TX | 0.9451
| Bastrop County, TX
| Caldwell County, TX
| Hays County, TX
| Travis County, TX
| Williamson County, TX
12540 | ¹ Bakersfield, CA | 1.0848
| Kern County, CA
12580 | ¹ Baltimore-Towson, MD | 0.9892
| Anne Arundel County, MD
| Baltimore County, MD
| Carroll County, MD
| Harford County, MD
| Howard County, MD
| Queen Anne's County, MD
| Baltimore City, MD
12620 | Bangor, ME | 0.9985
| Penobscot County, ME
12700 | Barnstable Town, MA | 1.2518
| Barnstable County, MA
12940 | Baton Rouge, LA | 0.8605
| Ascension Parish, LA
| East Baton Rouge Parish, LA
| East Feliciana Parish, LA
| Iberville Parish, LA
| Livingston Parish, LA
| Pointe Coupee Parish, LA
| St. Helena Parish, LA
| West Baton Rouge Parish, LA
| West Feliciana Parish, LA
12980 | Battle Creek, MI | 0.9492
| Calhoun County, MI
13020 | Bay City, MI | 0.9535
| Bay County, MI
13140 | Beaumont-Port Arthur, TX | 0.8422
| Hardin County, TX
| Jefferson County, TX
| Orange County, TX
13380 | Bellingham, WA | 1.1705
| Whatcom County, WA
13460 | Bend, OR | 1.0783
| Deschutes County, OR
13644 | ¹ Bethesda-Gaithersburg-Frederick, MD | 1.1471
| Frederick County, MD
| Montgomery County, MD
13740 | Billings, MT | 0.8855
| Carbon County, MT
| Yellowstone County, MT
13780 | Binghamton, NY | 0.8588
| Broome County, NY
| Tioga County, NY
13820 | ¹ Birmingham-Hoover, AL | 0.8979
| Bibb County, AL
| Blount County, AL
| Chilton County, AL
| Jefferson County, AL
| St. Clair County, AL
| Shelby County, AL
| Walker County, AL
13900 | Bismarck, ND | 0.7519
| Burleigh County, ND
| Morton County, ND
13980 | ² Blacksburg-Christiansburg-Radford, VA | 0.8024
| Giles County, VA
| Montgomery County, VA
| Pulaski County, VA
| Radford City, VA
14020 | ² Bloomington, IN | 0.8632
| Greene County, IN
| Monroe County, IN
| Owen County, IN
14060 | Bloomington-Normal, IL | 0.9083
| McLean County, IL
14260 | Boise City-Nampa, ID | 0.9048
| Ada County, ID
| Boise County, ID
| Canyon County, ID
| Gem County, ID
| Owyhee County, ID
14484 | ¹ Boston-Quincy, MA | 1.1537
| Norfolk County, MA
| Plymouth County, MA
| Suffolk County, MA
14500 | Boulder, CO | 0.9743
| Boulder County, CO
14540 | Bowling Green, KY | 0.8222
| Edmonson County, KY
| Warren County, KY
14740 | Bremerton-Silverdale, WA | 1.0681
| Kitsap County, WA
14860 | Bridgeport-Stamford-Norwalk, CT | 1.2607
| Fairfield County, CT
15180 | Brownsville-Harlingen, TX | 0.9853
| Cameron County, TX
15260 | Brunswick, GA | 0.9341
| Brantley County, GA
| Glynn County, GA
| McIntosh County, GA
15380 | ¹ Buffalo-Niagara Falls, NY | 0.8888
| Erie County, NY
| Niagara County, NY
15500 | Burlington, NC | 0.8902
| Alamance County, NC
15540 | ² Burlington-South Burlington, VT | 1.0199
| Chittenden County, VT
| Franklin County, VT
| Grand Isle County, VT
15764 | ¹ Cambridge-Newton-Framingham, MA | 1.1078
| Middlesex County, MA
15804 | ¹, ² Camden, NJ | 1.1253
| Burlington County, NJ
| Camden County, NJ
| Gloucester County, NJ
15940 | Canton-Massillon, OH | 0.8957
| Carroll County, OH
| Stark County, OH
15980 | Cape Coral-Fort Myers, FL | 0.9333
| Lee County, FL
16180 | Carson City, NV | 1.0229
| Carson City, NV
16220 | ² Casper, WY | 0.9207
| Natrona County, WY
16300 | Cedar Rapids, IA | 0.8605
| Benton County, IA
| Jones County, IA
| Linn County, IA
16580 | Champaign-Urbana, IL | 0.9591
| Champaign County, IL
| Ford County, IL
| Piatt County, IL
16620 | Charleston, WV | 0.8429
| Boone County, WV
| Clay County, WV
| Kanawha County, WV
| Lincoln County, WV
| Putnam County, WV
16700 | Charleston-North Charleston, SC | 0.9433
| Berkeley County, SC
| Charleston County, SC
| Dorchester County, SC
16740 | ¹ Charlotte-Gastonia-Concord, NC-SC | 0.9717
| Anson County, NC
| Cabarrus County, NC
| Gaston County, NC
| Mecklenburg County, NC
| Union County, NC
| York County, SC
16820 | Charlottesville, VA | 1.0230
| Albemarle County, VA
| Fluvanna County, VA
| Greene County, VA
| Nelson County, VA
| Charlottesville City, VA
16860 | Chattanooga, TN-GA | 0.9099
| Catoosa County, GA
| Dade County, GA
| Walker County, GA
| Hamilton County, TN
| Marion County, TN
| Sequatchie County, TN
16940 | ² Cheyenne, WY | 0.9207
| Laramie County, WY
16974 | ¹ Chicago-Naperville-Joliet, IL | 1.0846
| Cook County, IL
| DeKalb County, IL
| DuPage County, IL
| Grundy County, IL
| Kane County, IL
| Kendall County, IL
| McHenry County, IL
| Will County, IL
17020 | ² Chico, CA | 1.0848
| Butte County, CA
17140 | ¹ Cincinnati-Middletown, OH-KY-IN | 0.9604
| Dearborn County, IN
| Franklin County, IN
| Ohio County, IN
| Boone County, KY
| Bracken County, KY
| Campbell County, KY
| Gallatin County, KY
| Grant County, KY
| Kenton County, KY
| Pendleton County, KY
| Brown County, OH
| Butler County, OH
| Clermont County, OH
| Hamilton County, OH
| Warren County, OH
17300 | Clarksville, TN-KY | 0.8272
| Christian County, KY
| Trigg County, KY
| Montgomery County, TN
| Stewart County, TN
17420 | Cleveland, TN | 0.8160
| Bradley County, TN
| Polk County, TN
17460 | ¹ Cleveland-Elyria-Mentor, OH | 0.9197
| Cuyahoga County, OH
| Geauga County, OH
| Lake County, OH
| Lorain County, OH
| Medina County, OH
17660 | Coeur d'Alene, ID | 0.9642
| Kootenai County, ID
17780 | College Station-Bryan, TX | 0.8911
| Brazos County, TX
| Burleson County, TX
| Robertson County, TX
17820 | Colorado Springs, CO | 0.9457
| El Paso County, CO
| Teller County, CO
17860 | Columbia, MO | 0.8346
| Boone County, MO
| Howard County, MO
17900 | Columbia, SC | 0.9057
| Calhoun County, SC
| Fairfield County, SC
| Kershaw County, SC
| Lexington County, SC
| Richland County, SC
| Saluda County, SC
17980 | Columbus, GA-AL | 0.8570
| Russell County, AL
| Chattahoochee County, GA
| Harris County, GA
| Marion County, GA
| Muscogee County, GA
18020 | Columbus, IN | 0.9596
| Bartholomew County, IN
18140 | ¹ Columbus, OH | 0.9848
| Delaware County, OH
| Fairfield County, OH
| Franklin County, OH
| Licking County, OH
| Madison County, OH
| Morrow County, OH
| Pickaway County, OH
| Union County, OH
18580 | Corpus Christi, TX | 0.8557
| Aransas County, TX
| Nueces County, TX
| San Patricio County, TX
18700 | Corvallis, OR | 1.0711
| Benton County, OR
19060 | Cumberland, MD-WV | 0.9310
| Allegany County, MD
| Mineral County, WV
19124 | ¹ Dallas-Plano-Irving, TX | 1.0226
| Collin County, TX
| Dallas County, TX
| Delta County, TX
| Denton County, TX
| Ellis County, TX
| Hunt County, TX
| Kaufman County, TX
| Rockwall County, TX
19140 | Dalton, GA | 0.9033
| Murray County, GA
| Whitfield County, GA
19180 | Danville, IL | 0.9048
| Vermilion County, IL
19260 | Danville, VA | 0.8514
| Pittsylvania County, VA
| Danville City, VA
19340 | Davenport-Moline-Rock Island, IA-IL | 0.8716
| Henry County, IL
| Mercer County, IL
| Rock Island County, IL
| Scott County, IA
19380 | Dayton, OH | 0.9069
| Greene County, OH
| Miami County, OH
| Montgomery County, OH
| Preble County, OH
19460 | Decatur, AL | 0.8517
| Lawrence County, AL
| Morgan County, AL
19500 | ² Decatur, IL | 0.8285
| Macon County, IL
19660 | Deltona-Daytona Beach-Ormond Beach, FL | 0.9307
| Volusia County, FL
19740 | ¹ Denver-Aurora, CO | 1.0710
| Adams County, CO
| Arapahoe County, CO
| Broomfield County, CO
| Clear Creek County, CO
| Denver County, CO
| Douglas County, CO
| Elbert County, CO
| Gilpin County, CO
| Jefferson County, CO
| Park County, CO
19780 | Des Moines, IA | 0.9650
| Dallas County, IA
| Guthrie County, IA
| Madison County, IA
| Polk County, IA
| Warren County, IA
19804 | ¹ Detroit-Livonia-Dearborn, MI | 1.0453
| Wayne County, MI
20020 | Dothan, AL | 0.7743
| Geneva County, AL
| Henry County, AL
| Houston County, AL
20100 | Dover, DE | 0.9821
| Kent County, DE
20220 | Dubuque, IA | 0.9116
| Dubuque County, IA
20260 | Duluth, MN-WI | 1.0224
| Carlton County, MN
| St. Louis County, MN
| Douglas County, WI
20500 | Durham, NC | 1.0260
| Chatham County, NC
| Durham County, NC
| Orange County, NC
| Person County, NC
20740 | ² Eau Claire, WI | 0.9478
| Chippewa County, WI
| Eau Claire County, WI
20764 | ¹ Edison, NJ | 1.1301
| Middlesex County, NJ
| Monmouth County, NJ
| Ocean County, NJ
| Somerset County, NJ
20940 | ² El Centro, CA | 1.0848
| Imperial County, CA
21060 | Elizabethtown, KY | 0.8816
| Hardin County, KY
| Larue County, KY
21140 | Elkhart-Goshen, IN | 0.9616
| Elkhart County, IN
21300 | Elmira, NY | 0.8276
| Chemung County, NY
21340 | El Paso, TX | 0.8954
| El Paso County, TX
21500 | Erie, PA | 0.8746
| Erie County, PA
21604 | Essex County, MA | 1.0679
| Essex County, MA
21660 | Eugene-Springfield, OR | 1.0810
| Lane County, OR
21780 | Evansville, IN-KY | 0.8735
| Gibson County, IN
| Posey County, IN
| Vanderburgh County, IN
| Warrick County, IN
| Henderson County, KY
| Webster County, KY
21820 | ² Fairbanks, AK | 1.1977
| Fairbanks North Star Borough, AK
21940 | Fajardo, PR | 0.4160
| Ceiba Municipio, PR
| Fajardo Municipio, PR
| Luquillo Municipio, PR
22020 | Fargo, ND-MN (ND Hospitals) | 0.8778
| Clay County, MN
| Cass County, ND
22020 | ² Fargo, ND-MN (MN Hospitals) | 0.9183
| Clay County, MN
| Cass County, ND
22140 | ² Farmington, NM | 0.8649
| San Juan County, NM
22180 | Fayetteville, NC | 0.9426
| Cumberland County, NC
| Hoke County, NC
22220 | Fayetteville-Springdale-Rogers, AR-MO | 0.8615
| Benton County, AR
| Madison County, AR
| Washington County, AR
| McDonald County, MO
22380 | Flagstaff, AZ | 1.2094
| Coconino County, AZ
22420 | Flint, MI
| Genesee County, MI | 1.0654
22500 | Florence, SC | 0.8988
| Darlington County, SC
| Florence County, SC
22520 | Florence-Muscle Shoals, AL | 0.8305
| Colbert County, AL
| Lauderdale County, AL
22540 | Fond du Lac, WI | 0.9649
| Fond du Lac County, WI
22660 | Fort Collins-Loveland, CO | 1.0146
| Larimer County, CO
22744 | ¹ Fort Lauderdale-Pompano Beach-Deerfield Beach, FL | 1.0508
| Broward County, FL
22900 | Fort Smith, AR-OK | 0.8231
| Crawford County, AR
| Franklin County, AR
| Sebastian County, AR
| Le Flore County, OK
| Sequoyah County, OK
23020 | Fort Walton Beach-Crestview-Destin, FL | 0.8877
| Okaloosa County, FL
23060 | Fort Wayne, IN | 0.9797
| Allen County, IN
| Wells County, IN
| Whitley County, IN
23104 | ¹ Fort Worth-Arlington, TX | 0.9514
| Johnson County, TX
| Parker County, TX
| Tarrant County, TX
| Wise County, TX
23420 | ² Fresno, CA | 1.0848
| Fresno County, CA
23460 | Gadsden, AL | 0.7974
| Etowah County, AL
23540 | Gainesville, FL | 0.9461
| Alachua County, FL
| Gilchrist County, FL
23580 | Gainesville, GA | 0.8897
| Hall County, GA
23844 | Gary, IN | 0.9366
| Jasper County, IN
| Lake County, IN
| Newton County, IN
| Porter County, IN
24020 | Glens Falls, NY | 0.8587
| Warren County, NY
| Washington County, NY
24140 | Goldsboro, NC | 0.8781
| Wayne County, NC
24220 | Grand Forks, ND-MN | 1.1521
| Polk County, MN
| Grand Forks County, ND
24300 | Grand Junction, CO | 0.9590
| Mesa County, CO
24340 | Grand Rapids-Wyoming, MI | 0.9398
| Barry County, MI
| Ionia County, MI
| Kent County, MI
| Newaygo County, MI
24500 | Great Falls, MT | 0.9074
| Cascade County, MT
24540 | Greeley, CO | 0.9597
| Weld County, CO
24580 | ² Green Bay, WI | 0.9478
| Brown County, WI
| Kewaunee County, WI
| Oconto County, WI
24660 | Greensboro-High Point, NC | 0.9133
| Guilford County, NC
| Randolph County, NC
| Rockingham County, NC
24780 | Greenville, NC | 0.9414
| Greene County, NC
| Pitt County, NC
24860 | Greenville, SC | 1.0138
| Greenville County, SC
| Laurens County, SC
| Pickens County, SC
25020 | Guayama, PR | 0.3186
| Arroyo Municipio, PR
| Guayama Municipio, PR
| Patillas Municipio, PR
25060 | Gulfport-Biloxi, MS | 0.8922
| Hancock County, MS
| Harrison County, MS
| Stone County, MS
25180 | Hagerstown-Martinsburg, MD-WV | 0.9528
| Washington County, MD
| Berkeley County, WV
| Morgan County, WV
25260 | ² Hanford-Corcoran, CA | 1.0848
| Kings County, CA
25420 | Harrisburg-Carlisle, PA | 0.9317
| Cumberland County, PA
| Dauphin County, PA
| Perry County, PA
25500 | Harrisonburg, VA | 0.9101
| Rockingham County, VA
| Harrisonburg City, VA
25540 | ¹, ² Hartford-West Hartford-East Hartford, CT | 1.1790
| Hartford County, CT
| Litchfield County, CT
| Middlesex County, CT
| Tolland County, CT
25620 | ² Hattiesburg, MS | 0.7685
| Forrest County, MS
| Lamar County, MS
| Perry County, MS
25860 | Hickory-Lenoir-Morganton, NC | 0.8931
| Alexander County, NC
| Burke County, NC
| Caldwell County, NC
| Catawba County, NC
25980 | Hinesville-Fort Stewart, GA | 0.7684
| Liberty County, GA
| Long County, GA
26100 | Holland-Grand Haven, MI | 0.9133
| Ottawa County, MI
26180 | Honolulu, HI | 1.1206
| Honolulu County, HI
26300 | Hot Springs, AR | 0.9066
| Garland County, AR
26380 | Houma-Bayou Cane-Thibodaux, LA | 0.7903
| Lafourche Parish, LA
| Terrebonne Parish, LA
26420 | ¹ Houston-Sugar Land-Baytown, TX | 1.0008
| Austin County, TX
| Brazoria County, TX
| Chambers County, TX
| Fort Bend County, TX
| Galveston County, TX
| Harris County, TX
| Liberty County, TX
| Montgomery County, TX
| San Jacinto County, TX
| Waller County, TX
26580 | Huntington-Ashland, WV-KY-OH | 0.9482
| Boyd County, KY
| Greenup County, KY
| Lawrence County, OH
| Cabell County, WV
| Wayne County, WV
26620 | Huntsville, AL | 0.9124
| Limestone County, AL
| Madison County, AL
26820 | Idaho Falls, ID | 0.9409
| Bonneville County, ID
| Jefferson County, ID
26900 | ¹ Indianapolis, IN | 0.9922
| Boone County, IN
| Brown County, IN
| Hamilton County, IN
| Hancock County, IN
| Hendricks County, IN
| Johnson County, IN
| Marion County, IN
| Morgan County, IN
| Putnam County, IN
| Shelby County, IN
26980 | Iowa City, IA | 0.9751
| Johnson County, IA
| Washington County, IA
27060 | Ithaca, NY | 0.9855
| Tompkins County, NY
27100 | Jackson, MI | 0.9300
| Jackson County, MI
27140 | Jackson, MS | 0.8313
| Copiah County, MS
| Hinds County, MS
| Madison County, MS
| Rankin County, MS
| Simpson County, MS
27180 | Jackson, TN | 0.8964
| Chester County, TN
| Madison County, TN
27260 | ¹ Jacksonville, FL | 0.9303
| Baker County, FL
| Clay County, FL
| Duval County, FL
| Nassau County, FL
| St. Johns County, FL
27340 | ² Jacksonville, NC | 0.8570
| Onslow County, NC
27500 | Janesville, WI | 0.9561
| Rock County, WI
27620 | Jefferson City, MO | 0.8389
| Callaway County, MO
| Cole County, MO
| Moniteau County, MO
| Osage County, MO
27740 | Johnson City, TN | 0.7958
| Carter County, TN
| Unicoi County, TN
| Washington County, TN
27780 | Johnstown, PA | 0.8348
| Cambria County, PA
27860 | Jonesboro, AR | 0.7968
| Craighead County, AR
| Poinsett County, AR
27900 | Joplin, MO | 0.8594
| Jasper County, MO
| Newton County, MO
28020 | Kalamazoo-Portage, MI
| Kalamazoo County, MI
| Van Buren County, MI | 1.0403
28100 | Kankakee-Bradley, IL | 1.0991
| Kankakee County, IL
28140 | ¹Kansas City, MO-KS | 0.9454
| Franklin County, KS
| Johnson County, KS
| Leavenworth County, KS
| Linn County, KS
| Miami County, KS
| Wyandotte County, KS
| Bates County, MO
| Caldwell County, MO
| Cass County, MO
| Clay County, MO
| Clinton County, MO
| Jackson County, MO
| Lafayette County, MO
| Platte County, MO
| Ray County, MO
28420 | Kennewick-Richland-Pasco, WA | 1.0619
| Benton County, WA
| Franklin County, WA
28660 | Killeen-Temple-Fort Hood, TX | 0.8566
| Bell County, TX
| Coryell County, TX
| Lampasas County, TX
28700 | Kingsport-Bristol-Bristol, TN-VA | 0.8095
| Hawkins County, TN
| Sullivan County, TN
| Bristol City, VA
| Scott County, VA
| Washington County, VA
28740 | Kingston, NY | 0.9260
| Ulster County, NY
28940 | Knoxville, TN | 0.8470
| Anderson County, TN
| Blount County, TN
| Knox County, TN
| Loudon County, TN
| Union County, TN
29020 | Kokomo, IN | 0.9555
| Howard County, IN
| Tipton County, IN
29100 | La Crosse, WI-MN | 0.9557
| Houston County, MN
| La Crosse County, WI
29140 | Lafayette, IN | 0.8730
| Benton County, IN
| Carroll County, IN
| Tippecanoe County, IN
29180 | Lafayette, LA | 0.8429
| Lafayette Parish, LA
| St. Martin Parish, LA
29340 | Lake Charles, LA | 0.7847
| Calcasieu Parish, LA
| Cameron Parish, LA
29404 | Lake County-Kenosha County, IL-WI | 1.0444
| Lake County, IL
| Kenosha County, WI
29460 | Lakeland, FL | 0.8934
| Polk County, FL
29540 | Lancaster, PA | 0.9716
| Lancaster County, PA
29620 | Lansing-East Lansing, MI | 0.9786
| Clinton County, MI
| Eaton County, MI
| Ingham County, MI
29700 | Laredo, TX | 0.8101
| Webb County, TX
29740 | ² Las Cruces, NM | 0.8649
| Dona Ana County, NM
29820 | ¹ Las Vegas-Paradise, NV | 1.1416
| Clark County, NV
29940 | Lawrence, KS | 0.8538
| Douglas County, KS
30020 | Lawton, OK | 0.7916
| Comanche County, OK
30140 | Lebanon, PA | 0.8654
| Lebanon County, PA
30300 | Lewiston, ID-WA (ID Hospitals) | 0.9878
| Nez Perce County, ID
| Asotin County, WA
30300 | ² Lewiston, ID-WA (WA Hospitals) | 1.0459
| Nez Perce County, ID
| Asotin County, WA
30340 | Lewiston-Auburn, ME | 0.9332
| Androscoggin County, ME
30460 | Lexington-Fayette, KY | 0.9060
| Bourbon County, KY
| Clark County, KY
| Fayette County, KY
| Jessamine County, KY
| Scott County, KY
| Woodford County, KY
30620 | Lima, OH | 0.9263
| Allen County, OH
30700 | Lincoln, NE | 1.0197
| Lancaster County, NE
| Seward County, NE
30780 | Little Rock-North Little Rock, AR | 0.8768
| Faulkner County, AR
| Grant County, AR
| Lonoke County, AR
| Perry County, AR
| Pulaski County, AR
| Saline County, AR
30860 | Logan, UT-ID | 0.9183
| Franklin County, ID
| Cache County, UT
30980 | Longview, TX | 0.8741
| Gregg County, TX
| Rusk County, TX
| Upshur County, TX
31020 | ² Longview, WA | 1.0459
| Cowlitz County, WA
31084 | ¹ Los Angeles-Long Beach-Glendale, CA | 1.1762
| Los Angeles County, CA
31140 | ¹ Louisville, KY-IN | 0.9264
| Clark County, IN
| Floyd County, IN
| Harrison County, IN
| Washington County, IN
| Bullitt County, KY
| Henry County, KY
| Jefferson County, KY
| Meade County, KY
| Nelson County, KY
| Oldham County, KY
| Shelby County, KY
| Spencer County, KY
| Trimble County, KY
31180 | Lubbock, TX | 0.8790
| Crosby County, TX
| Lubbock County, TX
31340 | Lynchburg, VA | 0.8706
| Amherst County, VA
| Appomattox County, VA
| Bedford County, VA
| Campbell County, VA
| Bedford City, VA
| Lynchburg City, VA
31420 | Macon, GA | 0.9485
| Bibb County, GA
| Crawford County, GA
| Jones County, GA
| Monroe County, GA
| Twiggs County, GA
31460 | ² Madera, CA | 1.0848
| Madera County, CA
31540 | Madison, WI | 1.0629
| Columbia County, WI
| Dane County, WI
| Iowa County, WI
31700 | ² Manchester-Nashua, NH | 1.0668
| Hillsborough County, NH
| Merrimack County, NH
31900 | Mansfield, OH | 0.8788
| Richland County, OH
32420 | Mayagüez, PR | 0.4016
| Hormigueros Municipio, PR
| Mayagüez Municipio, PR
32580 | McAllen-Edinburg-Mission, TX | 0.8945
| Hidalgo County, TX
32780 | ² Medford, OR | 1.0284
| Jackson County, OR
32820 | ¹ Memphis, TN-MS-AR | 0.9346
| Crittenden County, AR
| DeSoto County, MS
| Marshall County, MS
| Tate County, MS
| Tunica County, MS
| Fayette County, TN
| Shelby County, TN
| Tipton County, TN
32900 | Merced, CA | 1.1123
| Merced County, CA
33124 | ¹ Miami-Miami Beach-Kendall, FL | 0.9757
| Miami-Dade County, FL
33140 | Michigan City-La Porte, IN | 0.9409
| LaPorte County, IN
33260 | Midland, TX | 0.9522
| Midland County, TX
33340 | ¹ Milwaukee-Waukesha-West Allis, WI | 1.0111
| Milwaukee County, WI
| Ozaukee County, WI
| Washington County, WI
| Waukesha County, WI
33460 | ¹ Minneapolis-St. Paul-Bloomington, MN-WI | 1.1055
| Anoka County, MN
| Carver County, MN
| Chisago County, MN
| Dakota County, MN
| Hennepin County, MN
| Isanti County, MN
| Ramsey County, MN
| Scott County, MN
| Sherburne County, MN
| Washington County, MN
| Wright County, MN
| Pierce County, WI
| St. Croix County, WI
33540 | Missoula, MT | 0.9535
| Missoula County, MT
33660 | Mobile, AL | 0.7902
| Mobile County, AL
33700 | Modesto, CA | 1.1885
| Stanislaus County, CA
33740 | Monroe, LA | 0.8044
| Ouachita Parish, LA
| Union Parish, LA
33780 | Monroe, MI | 0.9468
| Monroe County, MI
33860 | Montgomery, AL | 0.8600
| Autauga County, AL
| Elmore County, AL
| Lowndes County, AL
| Montgomery County, AL
34060 | Morgantown, WV | 0.8439
| Monongalia County, WV
| Preston County, WV
34100 | Morristown, TN | 0.8758
| Grainger County, TN
| Hamblen County, TN
| Jefferson County, TN
34580 | ² Mount Vernon-Anacortes, WA | 1.0459
| Skagit County, WA
34620 | Muncie, IN | 0.8952
| Delaware County, IN
34740 | Muskegon-Norton Shores, MI | 0.9677
| Muskegon County, MI
34820 | Myrtle Beach-Conway-North Myrtle Beach, SC | 0.8869
| Horry County, SC
34900 | Napa, CA | 1.2643
| Napa County, CA
34940 | Naples-Marco Island, FL | 1.0115
| Collier County, FL
34980 | ¹ Nashville-Davidson--Murfreesboro, TN | 0.9757
| Cannon County, TN
| Cheatham County, TN
| Davidson County, TN
| Dickson County, TN
| Hickman County, TN
| Macon County, TN
| Robertson County, TN
| Rutherford County, TN
| Smith County, TN
| Sumner County, TN
| Trousdale County, TN
| Williamson County, TN
| Wilson County, TN
35004 | ¹ Nassau-Suffolk, NY | 1.2781
| Nassau County, NY
| Suffolk County, NY
35084 | ¹ Newark-Union, NJ-PA | 1.2192
| Essex County, NJ
| Hunterdon County, NJ
| Morris County, NJ
| Sussex County, NJ
| Union County, NJ
| Pike County, PA
35300 | ² New Haven-Milford, CT | 1.1790
| New Haven County, CT
35380 | ¹ New Orleans-Metairie-Kenner, LA | 0.9003
| Jefferson Parish, LA
| Orleans Parish, LA
| Plaquemines Parish, LA
| St. Bernard Parish, LA
| St. Charles Parish, LA
| St. John the Baptist Parish, LA
| St. Tammany Parish, LA
35644 | ¹ New York-White Plains-Wayne, NY-NJ | 1.3191
| Bergen County, NJ
| Hudson County, NJ
| Passaic County, NJ
| Bronx County, NY
| Kings County, NY
| New York County, NY
| Putnam County, NY
| Queens County, NY
| Richmond County, NY
| Rockland County, NY
| Westchester County, NY
35660 | ² Niles-Benton Harbor, MI | 0.8923
| Berrien County, MI
35980 | ² Norwich-New London, CT | 1.1790
| New London County, CT
36084 | ¹ Oakland-Fremont-Hayward, CA | 1.5474
| Alameda County, CA
| Contra Costa County, CA
36100 | Ocala, FL | 0.8955
| Marion County, FL
36140 | Ocean City, NJ | 1.1253
| Cape May County, NJ
36220 | Odessa, TX | 0.9893
| Ector County, TX
36260 | Ogden-Clearfield, UT | 0.9048
| Davis County, UT
| Morgan County, UT
| Weber County, UT
36420 | ¹ Oklahoma City, OK | 0.9043
| Canadian County, OK
| Cleveland County, OK
| Grady County, OK
| Lincoln County, OK
| Logan County, OK
| McClain County, OK
| Oklahoma County, OK
36500 | Olympia, WA | 1.0970
| Thurston County, WA
36540 | Omaha-Council Bluffs, NE-IA | 0.9555
| Harrison County, IA
| Mills County, IA
| Pottawattamie County, IA
| Cass County, NE
| Douglas County, NE
| Sarpy County, NE
| Saunders County, NE
| Washington County, NE
36740 | ¹ Orlando-Kissimmee, FL | 0.9446
| Lake County, FL
| Orange County, FL
| Osceola County, FL
| Seminole County, FL
36780 | ² Oshkosh-Neenah, WI | 0.9478
| Winnebago County, WI
36980 | Owensboro, KY | 0.8806
| Daviess County, KY
| Hancock County, KY
| McLean County, KY
37100 | Oxnard-Thousand Oaks-Ventura, CA | 1.1604
| Ventura County, CA
37340 | Palm Bay-Melbourne-Titusville, FL | 0.9826
| Brevard County, FL
37460 | ² Panama City-Lynn Haven, FL | 0.8613
| Bay County, FL
37620 | Parkersburg-Marietta-Vienna, WV-OH (WV Hospitals) | 0.8303
| Washington County, OH
| Pleasants County, WV
| Wirt County, WV
| Wood County, WV
37620 | ² Parkersburg-Marietta-Vienna, WV-OH (OH Hospitals) | 0.8788
| Washington County, OH
| Pleasants County, WV
| Wirt County, WV
| Wood County, WV
37700 | Pascagoula, MS | 0.8164
| George County, MS
| Jackson County, MS
37860 | ² Pensacola-Ferry Pass-Brent, FL | 0.8613
| Escambia County, FL
| Santa Rosa County, FL
37900 | Peoria, IL | 0.8844
| Marshall County, IL
| Peoria County, IL
| Stark County, IL
| Tazewell County, IL
| Woodford County, IL
37964 | ¹ Philadelphia, PA | 1.1030
| Bucks County, PA
| Chester County, PA
| Delaware County, PA
| Montgomery County, PA
| Philadelphia County, PA
38060 | ¹ Phoenix-Mesa-Scottsdale, AZ | 1.0139
| Maricopa County, AZ
| Pinal County, AZ
38220 | Pine Bluff, AR | 0.8716
| Cleveland County, AR
| Jefferson County, AR
| Lincoln County, AR
38300 | ¹ Pittsburgh, PA | 0.8840
| Allegheny County, PA
| Armstrong County, PA
| Beaver County, PA
| Butler County, PA
| Fayette County, PA
| Washington County, PA
| Westmoreland County, PA
38340 | Pittsfield, MA | 1.0679
| Berkshire County, MA
38540 | Pocatello, ID | 0.9348
| Bannock County, ID
| Power County, ID
38660 | Ponce, PR | 0.5178
| Juana Díaz Municipio, PR
| Ponce Municipio, PR
| Villalba Municipio, PR
38860 | Portland-South Portland-Biddeford, ME | 1.0382
| Cumberland County, ME
| Sagadahoc County, ME
| York County, ME
38900 | ¹ Portland-Vancouver-Beaverton, OR-WA | 1.1229
| Clackamas County, OR
| Columbia County, OR
| Multnomah County, OR
| Washington County, OR
| Yamhill County, OR
| Clark County, WA
| Skamania County, WA
38940 | Port St. Lucie-Fort Pierce, FL | 1.0162
| Martin County, FL
| St. Lucie County, FL
39100 | Poughkeepsie-Newburgh-Middletown, NY | 1.0767
| Dutchess County, NY
| Orange County, NY
39140 | Prescott, AZ | 0.9884
| Yavapai County, AZ
39300 | ¹ Providence-New Bedford-Fall River, RI-MA | 1.0952
| Bristol County, MA
| Bristol County, RI
| Kent County, RI
| Newport County, RI
| Providence County, RI
| Washington County, RI
39340 | Provo-Orem, UT | 0.9578
| Juab County, UT
| Utah County, UT
39380 | ² Pueblo, CO | 0.9379
| Pueblo County, CO
39460 | Punta Gorda, FL | 0.9274
| Charlotte County, FL
39540 | ² Racine, WI | 0.9478
| Racine County, WI
39580 | Raleigh-Cary, NC | 0.9709
| Franklin County, NC
| Johnston County, NC
| Wake County, NC
39660 | Rapid City, SD | 0.9027
| Meade County, SD
| Pennington County, SD
39740 | Reading, PA | 0.9698
| Berks County, PA
39820 | Redding, CA | 1.2207
| Shasta County, CA
39900 | Reno-Sparks, NV | 1.0984
| Storey County, NV
| Washoe County, NV
40060 | ¹ Richmond, VA | 0.9319
| Amelia County, VA
| Caroline County, VA
| Charles City County, VA
| Chesterfield County, VA
| Cumberland County, VA
| Dinwiddie County, VA
| Goochland County, VA
| Hanover County, VA
| Henrico County, VA
| King and Queen County, VA
| King William County, VA
| Louisa County, VA
| New Kent County, VA
| Powhatan County, VA
| Prince George County, VA
| Sussex County, VA
| Colonial Heights City, VA
| Hopewell City, VA
| Petersburg City, VA
| Richmond City, VA
40140 | ¹ Riverside-San Bernardino-Ontario, CA | 1.1021
| Riverside County, CA
| San Bernardino County, CA
40220 | Roanoke, VA | 0.8450
| Botetourt County, VA
| Craig County, VA
| Franklin County, VA
| Roanoke County, VA
| Roanoke City, VA
| Salem City, VA
40340 | Rochester, MN | 1.1128
| Dodge County, MN
| Olmsted County, MN
| Wabasha County, MN
40380 | ¹ Rochester, NY | 0.9117
| Livingston County, NY
| Monroe County, NY
| Ontario County, NY
| Orleans County, NY
| Wayne County, NY
40420 | Rockford, IL | 0.9975
| Boone County, IL
| Winnebago County, IL
40484 | ² Rockingham County-Strafford County, NH | 1.0668
| Rockingham County, NH
| Strafford County, NH
40580 | Rocky Mount, NC | 0.8924
| Edgecombe County, NC
| Nash County, NC
40660 | Rome, GA | 0.9414
| Floyd County, GA
40900 | ¹ Sacramento--Arden-Arcade--Roseville, CA | 1.2953
| El Dorado County, CA
| Placer County, CA
| Sacramento County, CA
| Yolo County, CA
40980 | Saginaw-Saginaw Township North, MI | 0.9474
| Saginaw County, MI
41060 | St. Cloud, MN | 1.0030
| Benton County, MN
| Stearns County, MN
41100 | St. George, UT | 0.9416
| Washington County, UT
41140 | St. Joseph, MO-KS | 0.9565
| Doniphan County, KS
| Andrew County, MO
| Buchanan County, MO
| DeKalb County, MO
41180 | St. Louis, MO-IL | 0.8953
| Bond County, IL
| Calhoun County, IL
| Clinton County, IL
| Jersey County, IL
| Macoupin County, IL
| Madison County, IL
| Monroe County, IL
| St. Clair County, IL
| Crawford County, MO
| Franklin County, MO
| Jefferson County, MO
| Lincoln County, MO
| St. Charles County, MO
| St. Louis County, MO
| Warren County, MO
| Washington County, MO
| St. Louis City, MO
41420 | Salem, OR | 1.0445
| Marion County, OR
| Polk County, OR
41500 | Salinas, CA | 1.4140
| Monterey County, CA
41540 | ² Salisbury, MD | 0.9099
| Somerset County, MD
| Wicomico County, MD
41620 | Salt Lake City, UT | 0.9436
| Salt Lake County, UT
| Summit County, UT
| Tooele County, UT
41660 | San Angelo, TX | 0.8287
| Irion County, TX
| Tom Green County, TX
41700 | ¹ San Antonio, TX | 0.8987
| Atascosa County, TX
| Bandera County, TX
| Bexar County, TX
| Comal County, TX
| Guadalupe County, TX
| Kendall County, TX
| Medina County, TX
| Wilson County, TX
41740 | ¹ San Diego-Carlsbad-San Marcos, CA | 1.1417
| San Diego County, CA
41780 | Sandusky, OH | 0.9033
| Erie County, OH
41884 | ¹ San Francisco-San Mateo-Redwood City, CA | 1.4970
| Marin County, CA
| San Francisco County, CA
| San Mateo County, CA
41900 | San Germán-Cabo Rojo, PR | 0.4646
| Cabo Rojo Municipio, PR
| Lajas Municipio, PR
| Sabana Grande Municipio, PR
| San Germán Municipio, PR
41940 | ¹ San Jose-Sunnyvale-Santa Clara, CA | 1.5114
| San Benito County, CA
| Santa Clara County, CA
41980 | ¹ San Juan-Caguas-Guaynabo, PR | 0.4686
| Aguas Buenas Municipio, PR
| Aibonito Municipio, PR
| Arecibo Municipio, PR
| Barceloneta Municipio, PR
| Barranquitas Municipio, PR
| Bayamón Municipio, PR
| Caguas Municipio, PR
| Camuy Municipio, PR
| Canóvanas Municipio, PR
| Carolina Municipio, PR
| Cataño Municipio, PR
| Cayey Municipio, PR
| Ciales Municipio, PR
| Cidra Municipio, PR
| Comerío Municipio, PR
| Corozal Municipio, PR
| Dorado Municipio, PR
| Florida Municipio, PR
| Guaynabo Municipio, PR
| Gurabo Municipio, PR
| Hatillo Municipio, PR
| Humacao Municipio, PR
| Juncos Municipio, PR
| Las Piedras Municipio, PR
| Loíza Municipio, PR
| Manatí Municipio, PR
| Maunabo Municipio, PR
| Morovis Municipio, PR
| Naguabo Municipio, PR
| Naranjito Municipio, PR
| Orocovis Municipio, PR
| Quebradillas Municipio, PR
| Río Grande Municipio, PR
| San Juan Municipio, PR
| San Lorenzo Municipio, PR
| Toa Alta Municipio, PR
| Toa Baja Municipio, PR
| Trujillo Alto Municipio, PR
| Vega Alta Municipio, PR
| Vega Baja Municipio, PR
| Yabucoa Municipio, PR
42020 | San Luis Obispo-Paso Robles, CA | 1.1357
| San Luis Obispo County, CA
42044 | ¹ Santa Ana-Anaheim-Irvine, CA | 1.1564
| Orange County, CA
42060 | Santa Barbara-Santa Maria, CA | 1.1525
| Santa Barbara County, CA
42100 | Santa Cruz-Watsonville, CA | 1.5159
| Santa Cruz County, CA
42140 | Santa Fe, NM | 1.0908
| Santa Fe County, NM
42220 | Santa Rosa-Petaluma, CA | 1.3480
| Sonoma County, CA
42260 | Sarasota-Bradenton-Venice, FL | 0.9554
| Manatee County, FL
| Sarasota County, FL
42340 | Savannah, GA | 0.9483
| Bryan County, GA
| Chatham County, GA
| Effingham County, GA
42540 | Scranton--Wilkes-Barre, PA | 0.8530
| Lackawanna County, PA
| Luzerne County, PA
| Wyoming County, PA
42644 | ¹ Seattle-Bellevue-Everett, WA | 1.1573
| King County, WA
| Snohomish County, WA
43100 | ² Sheboygan, WI | 0.9478
| Sheboygan County, WI
43300 | Sherman-Denison, TX | 0.9518
| Grayson County, TX
43340 | Shreveport-Bossier City, LA | 0.8767
| Bossier Parish, LA
| Caddo Parish, LA
| De Soto Parish, LA
43580 | Sioux City, IA-NE-SD | 0.9360
| Woodbury County, IA
| Dakota County, NE
| Dixon County, NE
| Union County, SD
43620 | Sioux Falls, SD | 0.9616
| Lincoln County, SD
| McCook County, SD
| Minnehaha County, SD
| Turner County, SD
43780 | South Bend-Mishawaka, IN-MI | 0.9785
| St. Joseph County, IN
| Cass County, MI
43900 | Spartanburg, SC | 0.9183
| Spartanburg County, SC
44060 | Spokane, WA | 1.0898
| Spokane County, WA
44100 | Springfield, IL | 0.8879
| Menard County, IL
| Sangamon County, IL
44140 | Springfield, MA | 1.0679
| Franklin County, MA
| Hampden County, MA
| Hampshire County, MA
44180 | Springfield, MO | 0.8251
| Christian County, MO
| Dallas County, MO
| Greene County, MO
| Polk County, MO
| Webster County, MO
44220 | ² Springfield, OH | 0.8788
| Clark County, OH
44300 | State College, PA | 0.8368
| Centre County, PA
44700 | Stockton, CA | 1.1333
| San Joaquin County, CA
44940 | ² Sumter, SC | 0.8663
| Sumter County, SC
45060 | Syracuse, NY | 0.9595
| Madison County, NY
| Onondaga County, NY
| Oswego County, NY
45104 | Tacoma, WA | 1.0794
| Pierce County, WA
45220 | Tallahassee, FL | 0.8712
| Gadsden County, FL
| Jefferson County, FL
| Leon County, FL
| Wakulla County, FL
45300 | ¹ Tampa-St. Petersburg-Clearwater, FL | 0.9292
| Hernando County, FL
| Hillsborough County, FL
| Pasco County, FL
| Pinellas County, FL
45460 | ² Terre Haute, IN | 0.8632
| Clay County, IN
| Sullivan County, IN
| Vermillion County, IN
| Vigo County, IN
45500 | Texarkana, TX-Texarkana, AR | 0.8293
| Miller County, AR
| Bowie County, TX
45780 | Toledo, OH | 0.9573
| Fulton County, OH
| Lucas County, OH
| Ottawa County, OH
| Wood County, OH
45820 | Topeka, KS | 0.8921
| Jackson County, KS
| Jefferson County, KS
| Osage County, KS
| Shawnee County, KS
| Wabaunsee County, KS
45940 | Trenton-Ewing, NJ | 1.1253
| Mercer County, NJ
46060 | Tucson, AZ | 0.9007
| Pima County, AZ
46140 | Tulsa, OK | 0.8313
| Creek County, OK
| Okmulgee County, OK
| Osage County, OK
| Pawnee County, OK
| Rogers County, OK
| Tulsa County, OK
| Wagoner County, OK
46220 | Tuscaloosa, AL | 0.8724
| Greene County, AL
| Hale County, AL
| Tuscaloosa County, AL
46340 | Tyler, TX | 0.9322
| Smith County, TX
46540 | Utica-Rome, NY | 0.8313
| Herkimer County, NY
| Oneida County, NY
46660 | Valdosta, GA | 0.8873
| Brooks County, GA
| Echols County, GA
| Lanier County, GA
| Lowndes County, GA
46700 | Vallejo-Fairfield, CA | 1.4888
| Solano County, CA
46940 | Vero Beach, FL | 0.9458
| Indian River County, FL
47020 | Victoria, TX | 0.8148
| Calhoun County, TX
| Goliad County, TX
| Victoria County, TX
47220 | ² Vineland-Millville-Bridgeton, NJ | 1.1253
| Cumberland County, NJ
47260 | ¹ Virginia Beach-Norfolk-Newport News, VA-NC | 0.8841
| Currituck County, NC
| Gloucester County, VA
| Isle of Wight County, VA
| James City County, VA
| Mathews County, VA
| Surry County, VA
| York County, VA
| Chesapeake City, VA
| Hampton City, VA
| Newport News City, VA
| Norfolk City, VA
| Poquoson City, VA
| Portsmouth City, VA
| Suffolk City, VA
| Virginia Beach City, VA
| Williamsburg City, VA
47300 | ² Visalia-Porterville, CA | 1.0848
| Tulare County, CA
47380 | Waco, TX | 0.8532
| McLennan County, TX
47580 | Warner Robins, GA | 0.8662
| Houston County, GA
47644 | ¹ Warren-Farmington Hills-Troy, MI | 0.9858
| Lapeer County, MI
| Livingston County, MI
| Macomb County, MI
| Oakland County, MI
| St. Clair County, MI
47894 | ¹ Washington-Arlington-Alexandria, DC-VA-MD-WV | 1.0935
| District of Columbia, DC
| Calvert County, MD
| Charles County, MD
| Prince George's County, MD
| Arlington County, VA
| Clarke County, VA
| Fairfax County, VA
| Fauquier County, VA
| Loudoun County, VA
| Prince William County, VA
| Spotsylvania County, VA
| Stafford County, VA
| Warren County, VA
| Alexandria City, VA
| Fairfax City, VA
| Falls Church City, VA
| Fredericksburg City, VA
| Manassas City, VA
| Manassas Park City, VA
| Jefferson County, WV
47940 | Waterloo-Cedar Falls, IA | 0.8564
| Black Hawk County, IA
| Bremer County, IA
| Grundy County, IA
48140 | Wausau, WI | 0.9964
| Marathon County, WI
48260 | Weirton-Steubenville, WV-OH (WV Hospitals) | 0.7821
| Jefferson County, OH
| Brooke County, WV
| Hancock County, WV
48260 | ² Weirton-Steubenville, WV-OH (OH Hospitals) | 0.8788
| Jefferson County, OH
| Brooke County, WV
| Hancock County, WV
48300 | ² Wenatchee, WA | 1.0459
| Chelan County, WA
| Douglas County, WA
48424 | ¹ West Palm Beach-Boca Raton-Boynton Beach, FL | 1.0061
| Palm Beach County, FL
48540 | ² Wheeling, WV-OH (WV Hospitals) | 0.7742
| Belmont County, OH
| Marshall County, WV
| Ohio County, WV
48540 | ² Wheeling, WV-OH (OH Hospitals) | 0.8788
| Belmont County, OH
| Marshall County, WV
| Ohio County, WV
48620 | Wichita, KS | 0.9156
| Butler County, KS
| Harvey County, KS
| Sedgwick County, KS
| Sumner County, KS
48660 | Wichita Falls, TX | 0.8327
| Archer County, TX
| Clay County, TX
| Wichita County, TX
48700 | Williamsport, PA | 0.8368
| Lycoming County, PA
48864 | Wilmington, DE-MD-NJ | 1.0652
| New Castle County, DE
| Cecil County, MD
| Salem County, NJ
48864 | Wilmington, DE-MD-NJ (NJ Hospitals) | 1.1253
48900 | Wilmington, NC | 0.9580
| Brunswick County, NC
| New Hanover County, NC
| Pender County, NC
49020 | Winchester, VA-WV | 1.0214
| Frederick County, VA
| Winchester City, VA
| Hampshire County, WV
49180 | Winston-Salem, NC | 0.9020
| Davie County, NC
| Forsyth County, NC
| Stokes County, NC
| Yadkin County, NC
49340 | Worcester, MA | 1.1044
| Worcester County, MA
49420 | ² Yakima, WA | 1.0459
| Yakima County, WA
49500 | Yauco, PR | 0.4413
| Guánica Municipio, PR
| Guayanilla Municipio, PR
| Peñuelas Municipio, PR
| Yauco Municipio, PR
49620 | York-Hanover, PA | 0.9422
| York County, PA
49660 | ² Youngstown-Warren-Boardman, OH-PA (OH Hospitals) | 0.8788
| Mahoning County, OH
| Trumbull County, OH
| Mercer County, PA
49660 | Youngstown-Warren-Boardman, OH-PA (PA Hospitals) | 0.8609
| Mahoning County, OH
| Trumbull County, OH
| Mercer County, PA
49700 | Yuba City, CA | 1.0951
| Sutter County, CA
| Yuba County, CA
49740 | Yuma, AZ | 0.9188
| Yuma County, AZ
¹ Large urban area.
² Hospitals geographically located in the area are assigned the statewide rural wage index for FY 2006.

Addendum I.—Wage Index for Rural Areas by CBSA
CBSA code | Rural area | Wage index
01 | Alabama | 0.7495
02 | Alaska | 1.1977
03 | Arizona | 0.8991
04 | Arkansas | 0.7478
05 | California | 1.0848
06 | Colorado | 0.9379
07 | Connecticut | 1.1790
08 | Delaware | 0.9606
10 | Florida | 0.8613
11 | Georgia | 0.7684
12 | Hawaii | 1.0598
13 | Idaho | 0.8810
14 | Illinois | 0.8285
15 | Indiana | 0.8632
16 | Iowa | 0.8563
17 | Kansas | 0.8032
18 | Kentucky | 0.7788
19 | Louisiana | 0.7445
20 | Maine | 0.8840
21 | Maryland | 0.9099
22 | Massachusetts¹ | 1.0679
23 | Michigan | 0.8923
24 | Minnesota | 0.9183
25 | Mississippi | 0.7685
26 | Missouri | 0.7927
27 | Montana | 0.8822
28 | Nebraska | 0.8666
29 | Nevada | 0.9079
30 | New Hampshire | 1.0668
31 | New Jersey¹ | 1.1253
32 | New Mexico | 0.8649
33 | New York | 0.8220
34 | North Carolina | 0.8570
35 | North Dakota | 0.7278
36 | Ohio | 0.8788
37 | Oklahoma | 0.7615
38 | Oregon | 1.0284
39 | Pennsylvania | 0.8300
40 | Puerto Rico¹ |
41 | Rhode Island¹ | 1.0952
42 | South Carolina | 0.8663
43 | South Dakota | 0.8475
44 | Tennessee | 0.7915
45 | Texas | 0.8038
46 | Utah | 0.8134
47 | Vermont | 1.0199
49 | Virginia | 0.8024
50 | Washington | 1.0459
51 | West Virginia | 0.7742
52 | Wisconsin | 0.9478
53 | Wyoming | 0.9207
¹ All counties within the State are classified as urban, with the exception of Massachusetts. Massachusetts has area(s) designated as rural. However, no short-term, acute care hospitals are located in the area(s) for FY 2006. Massachusetts, New Jersey, and Rhode Island rural floors are imputed.

Addendum J.—Wage Index for Hospitals That Are Reclassified by CBSA
CBSA code | Area | Wage index
10180 | Abilene, TX | 0.8038
10420 | Akron, OH | 0.8979
10580 | Albany-Schenectady-Troy, NY | 0.8565
10740 | Albuquerque, NM | 0.9558
10780 | Alexandria, LA | 0.8048
10900 | Allentown-Bethlehem-Easton, PA-NJ | 0.9844
11020 | Altoona, PA | 0.8942
11100 | Amarillo, TX | 0.9165
11180 | Ames, IA | 0.9231
11460 | Ann Arbor, MI | 1.0628
11500 | Anniston-Oxford, AL | 0.7702
11700 | Asheville, NC | 0.9312
12020 | Athens-Clarke County, GA | 0.9684
12060 | Atlanta-Sandy Springs-Marietta, GA | 0.9637
12420 | Austin-Round Rock, TX | 0.9451
12620 | Bangor, ME | 0.9985
12700 | Barnstable Town, MA | 1.2254
12940 | Baton Rouge, LA | 0.8470
13020 | Bay City, MI | 0.9535
13780 | Binghamton, NY | 0.8471
13820 | Birmingham-Hoover, AL | 0.8872
14260 | Boise City-Nampa, ID | 0.9048
14484 | Boston-Quincy, MA | 1.1233
14540 | Bowling Green, KY | 0.8222
15380 | Buffalo-Niagara Falls, NY | 0.8888
15540 | Burlington-South Burlington, VT | 0.9306
15764 | Cambridge-Newton-Framingham, MA | 1.0903
16180 | Carson City, NV | 0.9786
16220 | Casper, WY | 0.9207
16580 | Champaign-Urbana, IL | 0.9335
16620 | Charleston, WV (WV Hospitals) | 0.8274
16620 | Charleston, WV(OH Hospitals) | 0.8788
16700 | Charleston-North Charleston, SC | 0.9317
16740 | Charlotte-Gastonia-Concord, NC-SC | 0.9585
16820 | Charlottesville, VA | 0.9806
16860 | Chattanooga, TN-GA | 0.9099
16974 | Chicago-Naperville-Joliet, IL | 1.0698
17140 | Cincinnati-Middletown, OH-KY-IN | 0.9604
17300 | Clarksville, TN-KY | 0.8092
17460 | Cleveland-Elyria-Mentor, OH | 0.9197
17780 | College Station-Bryan, TX | 0.8911
17860 | Columbia, MO | 0.8346
17900 | Columbia, SC | 0.9057
17980 | Columbus, GA-AL | 0.8402
18140 | Columbus, OH | 0.9848
18700 | Corvallis, OR | 1.0328
19124 | Dallas-Plano-Irving, TX | 0.9955
19380 | Dayton, OH | 0.9069
19460 | Decatur, AL | 0.8517
19740 | Denver-Aurora, CO | 1.0517
19780 | Des Moines, IA | 0.9413
19804 | Detroit-Livonia-Dearborn, MI | 1.0453
20260 | Duluth, MN-WI | 1.0224
20500 | Durham, NC | 0.9993
20764 | Edison, NJ | 1.1301
20940 | El Centro, CA | 0.9102
21060 | Elizabethtown, KY | 0.8286
21500 | Erie, PA | 0.8424
21604 | Essex County, MA | 1.0668
21660 | Eugene-Springfield, OR | 1.0492
21780 | Evansville, IN-KY | 0.8508
22020 | Fargo, ND-MN (ND, SD Hospitals) | 0.8778
22020 | Fargo, ND-MN (MN Hospitals) | 0.9183
22180 | Fayetteville, NC | 0.9193
22220 | Fayetteville-Springdale-Rogers, AR-MO | 0.8615
22380 | Flagstaff, AZ | 1.1713
22420 | Flint, MI | 1.0654
22540 | Fond du Lac, WI | 0.9478
22660 | Fort Collins-Loveland, CO | 1.0146
22744 | Ft Lauderdale-Pompano Beach-Deerfield Beach, FL | 1.0508
22900 | Fort Smith, AR-OK | 0.7986
23020 | Fort Walton Beach-Crestview-Destin, FL | 0.8672
23060 | Fort Wayne, IN | 0.9797
23104 | Fort Worth-Arlington, TX | 0.9514
23540 | Gainesville, FL | 0.9461
23844 | Gary, IN | 0.9366
24340 | Grand Rapids-Wyoming, MI | 0.9398
24500 | Great Falls, MT | 0.9074
24540 | Greeley, CO | 0.9597
24580 | Green Bay, WI (MI Hospitals) | 0.9439
24580 | Green Bay, WI (WI Hospitals) | 0.9478
24780 | Greenville, NC | 0.9414
24860 | Greenville, SC | 0.9807
25060 | Gulfport-Biloxi, MS | 0.8612
25420 | Harrisburg-Carlisle, PA | 0.9145
25500 | Harrisonburg, VA | 0.8998
25540 | Hartford-West Hartford-East Hartford, CT (MA Hospitals) | 1.1085
25540 | Hartford-West Hartford-East Hartford, CT (CT Hospitals) | 1.1790
25860 | Hickory-Lenoir-Morganton, NC | 0.8931
26100 | Holland-Grand Haven, MI | 0.9133
26180 | Honolulu, HI | 1.1206
26420 | Houston-Sugar Land-Baytown, TX | 1.0008
26580 | Huntington-Ashland, WV-KY-OH | 0.9119
26620 | Huntsville, AL | 0.9124
26900 | Indianapolis, IN | 0.9776
26980 | Iowa City, IA | 0.9574
27060 | Ithaca, NY | 0.9204
27140 | Jackson, MS | 0.8182
27180 | Jackson, TN | 0.8799
27260 | Jacksonville, FL | 0.9303
27860 | Jonesboro, AR | 0.7793
27900 | Joplin, MO | 0.8458
28020 | Kalamazoo-Portage, MI | 1.0403
28100 | Kankakee-Bradley, IL | 1.0991
28140 | Kansas City, MO-KS | 0.9454
28420 | Kennewick-Richland-Pasco, WA | 1.0459
28700 | Kingsport-Bristol-Bristol, TN-VA | 0.8095
28740 | Kingston, NY | 0.8904
28940 | Knoxville, TN | 0.8470
29180 | Lafayette, LA | 0.8429
29404 | Lake County-Kenosha County, IL-WI | 1.0444
29460 | Lakeland, FL | 0.8934
29620 | Lansing-East Lansing, MI | 0.9786
29740 | Las Cruces, NM | 0.8649
29820 | Las Vegas-Paradise, NV | 1.1249
30020 | Lawton, OK | 0.7673
30460 | Lexington-Fayette, KY | 0.8830
30620 | Lima, OH | 0.9263
30700 | Lincoln, NE | 0.9666
30780 | Little Rock-North Little Rock, AR | 0.8552
30980 | Longview, TX | 0.8621
31084 | Los Angeles-Long Beach-Santa Ana, CA | 1.1660
31140 | Louisville, KY-IN | 0.9264
31180 | Lubbock, TX | 0.8790
31340 | Lynchburg, VA | 0.8596
31420 | Macon, GA | 0.9087
31540 | Madison, WI | 1.0416
31700 | Manchester-Nashua, NH | 1.0668
32780 | Medford, OR | 1.0284
32820 | Memphis, TN-MS-AR | 0.9108
33124 | Miami-Miami Beach-Kendall, FL | 0.9757
33260 | Midland, TX | 0.9317
33340 | Milwaukee-Waukesha-West Allis, WI | 0.9957
33460 | Minneapolis-St. Paul-Bloomington, MN-WI | 1.0905
33540 | Missoula, MT | 0.9535
33660 | Mobile, AL | 0.7902
33700 | Modesto, CA | 1.1885
33860 | Montgomery, AL | 0.8276
34060 | Morgantown, WV | 0.8332
34980 | Nashville-Davidson--Murfreesboro, TN | 0.9492
35084 | Newark-Union, NJ-PA | 1.2192
35380 | New Orleans-Metairie-Kenner, LA | 0.9003
35644 | New York-White Plains-Wayne, NY-NJ | 1.3191
36084 | Oakland-Fremont-Hayward, CA | 1.5474
36100 | Ocala, FL | 0.8955
36140 | Ocean City, NJ | 1.0289
36220 | Odessa, TX | 0.9593
36260 | Ogden-Clearfield, UT | 0.9048
36420 | Oklahoma City, OK | 0.9043
36500 | Olympia, WA | 1.0970
36540 | Omaha-Council Bluffs, NE-IA | 0.9555
36740 | Orlando-Kissimmee, FL | 0.9446
37860 | Pensacola-Ferry Pass-Brent, FL | 0.8089
37900 | Peoria, IL | 0.8844
37964 | Philadelphia, PA | 1.1030
38220 | Pine Bluff, AR | 0.8099
38300 | Pittsburgh, PA | 0.8840
38340 | Pittsfield, MA | 1.0199
38860 | Portland-South Portland-Biddeford, ME | 0.9884
38900 | Portland-Vancouver-Beaverton, OR-WA | 1.1229
38940 | Port St. Lucie-Fort Pierce, FL | 1.0162
39100 | Poughkeepsie-Newburgh-Middletown, NY | 1.0576
39340 | Provo-Orem, UT | 0.9578
39580 | Raleigh-Cary, NC | 0.9476
39740 | Reading, PA | 0.9500
39820 | Redding, CA | 1.1909
39900 | Reno-Sparks, NV (NV Hospitals) | 1.0805
39900 | Reno-Sparks, NV (CA Hospitals) | 1.0848
40060 | Richmond, VA | 0.9319
40220 | Roanoke, VA | 0.8450
40340 | Rochester, MN | 1.1128
40380 | Rochester, NY | 0.9117
40420 | Rockford, IL | 0.9667
40484 | Rockingham County, NH | 1.0503
40660 | Rome, GA | 0.9414
40900 | Sacramento—Arden-Arcade—Roseville, CA | 1.2953
40980 | Saginaw-Saginaw Township North, MI | 0.9090
41060 | St. Cloud, MN | 0.9785
41100 | St. George, UT | 0.9416
41180 | St. Louis, MO-IL | 0.8953
41620 | Salt Lake City, UT | 0.9436
41700 | San Antonio, TX | 0.8987
41884 | San Francisco-San Mateo-Redwood City,CA | 1.4739
41980 | San Juan-Caguas-Guaynabo, PR | 0.4686
42044 | Santa Ana-Anaheim-Irvine, CA | 1.1297
42140 | Santa Fe, NM | 1.0163
42220 | Santa Rosa-Petaluma, CA | 1.3480
42260 | Sarasota-Bradenton-Venice, FL | 0.9554
42340 | Savannah, GA | 0.9316
42644 | Seattle-Bellevue-Everett, WA | 1.1573
43300 | Sherman-Denison, TX | 0.8971
43340 | Shreveport-Bossier City, LA | 0.8767
43620 | Sioux Falls, SD | 0.9616
43780 | South Bend-Mishawaka, IN-MI | 0.9785
43900 | Spartanburg, SC | 0.9183
44060 | Spokane, WA | 1.0722
44180 | Springfield, MO | 0.8251
44300 | State College, PA | 0.8300]
44940 | Sumter, SC | 0.8663
45060 | Syracuse, NY | 0.9315
45104 | Tacoma, WA | 1.0794
45220 | Tallahassee, FL | 0.8420
45300 | Tampa-St. Petersburg-Clearwater, FL | 0.9292
45500 | Texarkana, TX-Texarkana, AR | 0.8293
45820 | Topeka, KS | 0.8785
46140 | Tulsa, OK | 0.8313
46220 | Tuscaloosa, AL | 0.8614
46340 | Tyler, TX | 0.9164
46660 | Valdosta, GA | 0.8710
46700 | Vallejo-Fairfield, CA | 1.3955
47260 | Virginia Beach-Norfolk-Newport News, VA | 0.8841
47380 | Waco, TX | 0.8532
47894 | Washington-Arlington-Alexandria DC-VA | 1.0813
48140 | Wausau, WI | 0.9964
48620 | Wichita, KS | 0.8946
48700 | Williamsport, PA | 0.8300
48864 | Wilmington, DE-MD-NJ | 1.0652
48864 | Wilmington, DE-MD-NJ (NJ Hospitals) | 1.1253
48900 | Wilmington, NC | 0.9394
49020 | Winchester, VA-WV | 1.0214
49180 | Winston-Salem, NC | 0.9020
49660 | Youngstown-Warren-Boardman, OH-PA (PA Hospitals) | 0.8446
49660 | Youngstown-Warren-Boardman, OH-PA (OH Hospitals) | 0.8788
03 | Rural Arizona | 0.8991
04 | Rural Arkansas | 0.7478
05 | Rural California | 1.0848
07 | Rural Connecticut | 1.0448
10 | Rural Florida | 0.8613
13 | Rural Idaho | 0.8810
14 | Rural Illinois | 0.8285
15 | Rural Indiana | 0.8632
16 | Rural Iowa | 0.8563
17 | Rural Kansas | 0.8032
19 | Rural Louisiana | 0.7445
23 | Rural Michigan | 0.8923
24 | Rural Minnesota | 0.9183
26 | Rural Missouri | 0.7927
30 | Rural New Hampshire | 1.0668
37 | Rural Oklahoma | 0.7615
38 | Rural Oregon | 1.0284
45 | Rural Texas | 0.8038
50 | Rural Washington (ID Hospitals) | 1.0061
50 | Rural Washington (WA Hospitals) | 1.0459
53 | Rural Wyoming | 0.9207

Addendum K.—Puerto Rico Wage Index by CBSA
CBSA code | Area | Wage index | Wage index- reclassified hospitals
10380 | Aguadilla-Isabela-San Sebastián, PR | 1.0196 |
21940 | Fajardo, PR | 0.8956 |
25020 | Guayama, PR | 0.6858 |
32420 | Mayagüez, PR | 0.8647 |
38660 | Ponce, PR | 1.1147 |
41900 | San Germán-Cabo Rojo, PR | 1.0002 |
41980 | San JuanCaguasGuaynabo, PR | 1.0087 | 1.0087
49500 | Yauco, PR | 0.9500 |

Addendum L.—Out-Migration Wage Adjustment—FY 2006 ¹
Provider No. | Out- migration adjustment | Qualifying county name
010009 | 0.0092 | MORGAN
010010 | 0.0259 | MARSHALL
010038 | 0.0062 | CALHOUN
010047 | 0.0155 | BUTLER
010054 | 0.0092 | MORGAN
010061 | 0.0506 | JACKSON
010078 | 0.0062 | CALHOUN
010085 | 0.0092 | MORGAN
010109 | 0.0464 | PICKENS
010115 | 0.0093 | FRANKLIN
010129 | 0.0121 | BALDWIN
010146 | 0.0062 | CALHOUN
040066 | 0.0382 | CLARK
040070 | 0.0140 | MISSISSIPPI
040143 | 0.0026 | JEFFERSON
050008 | 0.0028 | SAN FRANCISCO
050016 | 0.0087 | SAN LUIS OBISPO
050047 | 0.0028 | SAN FRANCISCO
050055 | 0.0028 | SAN FRANCISCO
050084 | 0.0555 | SAN JOAQUIN
050088 | 0.0087 | SAN LUIS OBISPO
050101 | 0.0269 | SOLANO
050117 | 0.0463 | MERCED
050122 | 0.0555 | SAN JOAQUIN
050133 | 0.0170 | YUBA
050152 | 0.0028 | SAN FRANCISCO
050167 | 0.0555 | SAN JOAQUIN
050232 | 0.0087 | SAN LUIS OBISPO
050253 | 0.0029 | ORANGE
050313 | 0.0555 | SAN JOAQUIN
050325 | 0.0176 | TUOLUMNE
050335 | 0.0176 | TUOLUMNE
050336 | 0.0555 | SAN JOAQUIN
050367 | 0.0269 | SOLANO
050407 | 0.0028 | SAN FRANCISCO
050444 | 0.0463 | MERCED
050454 | 0.0028 | SAN FRANCISCO
050457 | 0.0028 | SAN FRANCISCO
050476 | 0.0257 | LAKE
050491 | 0.0029 | ORANGE
050506 | 0.0087 | SAN LUIS OBISPO
050539 | 0.0257 | LAKE
050568 | 0.0062 | MADERA
050633 | 0.0087 | SAN LUIS OBISPO
050680 | 0.0269 | SOLANO
050695 | 0.0555 | SAN JOAQUIN
070020 | 0.0073 | MIDDLESEX
080001 | 0.0062 | NEW CASTLE
080003 | 0.0062 | NEW CASTLE
100014 | 0.0118 | VOLUSIA
100017 | 0.0118 | VOLUSIA
100047 | 0.0021 | CHARLOTTE
100062 | 0.0060 | MARION
100068 | 0.0118 | VOLUSIA
100072 | 0.0118 | VOLUSIA
100077 | 0.0021 | CHARLOTTE
100102 | 0.0133 | COLUMBIA
100156 | 0.0133 | COLUMBIA
100175 | 0.0231 | DE SOTO
100212 | 0.0060 | MARION
100236 | 0.0021 | CHARLOTTE
100290 | 0.0558 | SUMTER
110027 | 0.0387 | FRANKLIN
110063 | 0.0290 | LIBERTY
110120 | 0.0873 | POLK
110124 | 0.0428 | WAYNE
110136 | 0.0261 | BALDWIN
110190 | 0.0182 | MACON
130011 | 0.0218 | LATAH
130024 | 0.0275 | BONNER
140026 | 0.0346 | LA SALLE
140033 | 0.0147 | LAKE
140084 | 0.0147 | LAKE
140100 | 0.0147 | LAKE
140129 | 0.0096 | WABASH
140130 | 0.0147 | LAKE
140173 | 0.0046 | WHITESIDE
140202 | 0.0147 | LAKE
140205 | 0.0163 | BOONE
150022 | 0.0249 | MONTGOMERY
150035 | 0.0083 | PORTER
150045 | 0.0416 | DE KALB
150060 | 0.0052 | VERMILLION
150062 | 0.0153 | DECATUR
150091 | 0.0573 | HUNTINGTON
150122 | 0.0199 | RIPLEY
160013 | 0.0218 | MUSCATINE
160030 | 0.0032 | STORY
160032 | 0.0272 | JASPER
160140 | 0.0364 | PLYMOUTH
180128 | 0.0282 | LAWRENCE
190010 | 0.0401 | TANGIPAHOA
190017 | 0.0235 | ST. LANDRY
190049 | 0.0645 | WASHINGTON
190054 | 0.0107 | IBERIA
190078 | 0.0235 | ST. LANDRY
190088 | 0.0705 | WEBSTER
190133 | 0.0238 | ALLEN
190144 | 0.0705 | WEBSTER
190147 | 0.0401 | TANGIPAHOA
190148 | 0.0390 | AVOYELLES
190184 | 0.0161 | CALDWELL
190190 | 0.0161 | CALDWELL
190246 | 0.0161 | CALDWELL
200013 | 0.0186 | WALDO
200032 | 0.0460 | OXFORD
210001 | 0.0129 | WASHINGTON
210004 | 0.0040 | MONTGOMERY
210016 | 0.0040 | MONTGOMERY
210018 | 0.0040 | MONTGOMERY
210022 | 0.0040 | MONTGOMERY
210023 | 0.0209 | ANNE ARUNDEL
210028 | 0.0512 | ST. MARYS
210043 | 0.0209 | ANNE ARUNDEL
210048 | 0.0287 | HOWARD
210057 | 0.0040 | MONTGOMERY
220006 | 0.0306 | ESSEX
220076 | 0.0249 | MIDDLESEX
230015 | 0.0359 | ST. JOSEPH
230021 | 0.0136 | BERRIEN
230041 | 0.0099 | BAY
230075 | 0.0145 | CALHOUN
230184 | 0.0389 | JACKSON
230222 | 0.0228 | MIDLAND
240011 | 0.0506 | MC LEOD
240014 | 0.0454 | RICE
240021 | 0.0897 | LE SUEUR
240044 | 0.0868 | WINONA
240089 | 0.1196 | GOODHUE
240133 | 0.0319 | MEEKER
240154 | 0.0138 | ITASCA
240205 | 0.0138 | ITASCA
250030 | 0.0318 | LEAKE
250045 | 0.0042 | HANCOCK
250088 | 0.0122 | WILKINSON
250154 | 0.0318 | LEAKE
260097 | 0.0425 | JOHNSON
260127 | 0.0158 | PIKE
280054 | 0.0137 | GAGE
280123 | 0.0137 | GAGE
310010 | 0.0097 | MERCER
310011 | 0.0113 | CAPE MAY
310039 | 0.0350 | MIDDLESEX
310044 | 0.0097 | MERCER
310092 | 0.0097 | MERCER
310108 | 0.0350 | MIDDLESEX
310110 | 0.0097 | MERCER
320003 | 0.0630 | SAN MIGUEL
320011 | 0.0442 | RIO ARRIBA
320018 | 0.0063 | DONA ANA
320085 | 0.0063 | DONA ANA
330167 | 0.0137 | NASSAU
330198 | 0.0137 | NASSAU
330209 | 0.0560 | ORANGE
330222 | 0.0003 | SARATOGA
330224 | 0.0959 | ULSTER
330225 | 0.0137 | NASSAU
330259 | 0.0137 | NASSAU
330276 | 0.0063 | FULTON
330331 | 0.0137 | NASSAU
330332 | 0.0137 | NASSAU
330333 | 0.0137 | NASSAU
330372 | 0.0137 | NASSAU
330402 | 0.0959 | ULSTER
340015 | 0.0267 | ROWAN
340020 | 0.0207 | LEE
340037 | 0.0216 | CLEVELAND
340070 | 0.0448 | ALAMANCE
340085 | 0.0377 | DAVIDSON
340088 | 0.0115 | TRANSYLVANIA
340096 | 0.0377 | DAVIDSON
340104 | 0.0216 | CLEVELAND
340126 | 0.0161 | WILSON
340133 | 0.0302 | MARTIN
360034 | 0.0263 | WAYNE
360070 | 0.0028 | STARK
360084 | 0.0028 | STARK
360093 | 0.0120 | DEFIANCE
360095 | 0.0087 | HANCOCK
360099 | 0.0087 | HANCOCK
360100 | 0.0028 | STARK
360131 | 0.0028 | STARK
360151 | 0.0028 | STARK
360156 | 0.0213 | SANDUSKY
370023 | 0.0084 | STEPHENS
370043 | 0.0294 | MARSHALL
370065 | 0.0121 | CRAIG
370149 | 0.0356 | POTTAWATOMIE
380002 | 0.0130 | JOSEPHINE
380029 | 0.0073 | MARION
380051 | 0.0073 | MARION
380056 | 0.0073 | MARION
390011 | 0.0012 | CAMBRIA
390044 | 0.0200 | BERKS
390046 | 0.0098 | YORK
390056 | 0.0042 | HUNTINGDON
390096 | 0.0200 | BERKS
390101 | 0.0098 | YORK
390130 | 0.0012 | CAMBRIA
390146 | 0.0053 | WARREN
390162 | 0.0207 | NORTHAMPTON
390233 | 0.0098 | YORK
420007 | 0.0001 | SPARTANBURG
420027 | 0.0210 | ANDERSON
420043 | 0.0177 | CHEROKEE
420083 | 0.0001 | SPARTANBURG
420093 | 0.0001 | SPARTANBURG
420098 | 0.0035 | GEORGETOWN
440024 | 0.0387 | BRADLEY
440047 | 0.0499 | GIBSON
440056 | 0.0321 | JEFFERSON
440063 | 0.0011 | WASHINGTON
440105 | 0.0011 | WASHINGTON
440114 | 0.0523 | LAUDERDALE
440115 | 0.0499 | GIBSON
440143 | 0.0448 | MARSHALL
440153 | 0.0145 | COCKE
440174 | 0.0372 | HAYWOOD
440181 | 0.0407 | HARDEMAN
440184 | 0.0011 | WASHINGTON
450050 | 0.0750 | WARD
450113 | 0.0195 | ANDERSON
450163 | 0.0134 | KLEBERG
450362 | 0.0486 | BURNET
450370 | 0.0258 | COLORADO
450395 | 0.0484 | POLK
450465 | 0.0435 | MATAGORDA
450596 | 0.0808 | HOOD
450597 | 0.0077 | DE WITT
450626 | 0.0294 | JACKSON
450763 | 0.0236 | HUTCHINSON
450813 | 0.0195 | ANDERSON
460017 | 0.0392 | BOX ELDER
470018 | 0.0287 | WINDSOR
470023 | 0.0118 | CALEDONIA
490019 | 0.1240 | CULPEPER
490038 | 0.0022 | SMYTH
490084 | 0.0167 | ESSEX
490110 | 0.0082 | MONTGOMERY
500007 | 0.0208 | SKAGIT
500019 | 0.0213 | LEWIS
500021 | 0.0055 | PIERCE
500079 | 0.0055 | PIERCE
500108 | 0.0055 | PIERCE
500118 | 0.0548 | MASON
500129 | 0.0055 | PIERCE
510039 | 0.0112 | OHIO
510050 | 0.0112 | OHIO
510088 | 0.0141 | FAYETTE
520035 | 0.0077 | SHEBOYGAN
520042 | 0.0118 | SAUK
520044 | 0.0077 | SHEBOYGAN
520057 | 0.0118 | SAUK
520132 | 0.0077 | SHEBOYGAN
¹ The above table lists all hospitals that we anticipate will have their wage index increased by the out-migration adjustment. This list includes hospitals designated in Table 4J of FY 2006 hospital IPPS proposed rule (May 5, 2005) as NOT reclassified under section 1886(d)(10) of the Act or redesignated under section 1886(d)(8)(B) of the Act, as well as TEFRA hospitals falling in a designated out-migration county. In the IPPS proposed rule we asked hospitals to notify us if they wish to withdraw their reclassification/redesignation request and receive the out-migration adjustment. Because we are proposing to adopt the final IPPS wage indices for OPPS, we will adopt any changes in eligibility for the out-migration adjustment resulting from requests to waive reclassification

Addendum M.—Hospitals Reclassifications and Redesignations by Individual Hospitals and CBSA—CY 2006
Provider No. | Geographic CBSA | Reclassified CBSA | Lugar
010005 | 01 | 13820
010008 | 01 | 33860
010012 | 01 | 16860
010022 | 01 | 40660 | LUGAR
010025 | 01 | 17980
010029 | 12220 | 17980
010035 | 01 | 13820
010044 | 01 | 13820
010045 | 01 | 13820
010065 | 01 | 33860
010072 | 01 | 11500 | LUGAR
010083 | 01 | 37860
010100 | 01 | 37860
010101 | 01 | 11500 | LUGAR
010118 | 01 | 33860
010120 | 01 | 33660
010126 | 01 | 33860
010143 | 01 | 13820
010158 | 01 | 19460
030013 | 49740 | 20940
030033 | 03 | 22380
040014 | 04 | 30780
040017 | 04 | 44180
040019 | 04 | 32820
040020 | 27860 | 32820
040027 | 04 | 44180
040039 | 04 | 27860
040041 | 04 | 30780
040047 | 04 | 27860
040069 | 04 | 32820
040071 | 38220 | 30780
040072 | 04 | 30780
040076 | 04 | 30780
040078 | 26300 | 30780
040080 | 04 | 27860
040088 | 04 | 43340
040091 | 04 | 45500
040100 | 04 | 30780
040119 | 04 | 30780
050006 | 05 | 39820
050009 | 34900 | 46700
050013 | 34900 | 46700
050014 | 05 | 40900
050022 | 40140 | 42044
050042 | 05 | 39820
050046 | 37100 | 31084
050054 | 40140 | 42044
050065 | 42044 | 31084
050069 | 42044 | 31084
050071 | 41940 | 36084
050073 | 46700 | 36084
050076 | 41884 | 36084
050082 | 37100 | 31084
050089 | 40140 | 31084
050090 | 42220 | 41884
050099 | 40140 | 31084
050102 | 40140 | 42044
050118 | 44700 | 33700
050129 | 40140 | 31084
050136 | 42220 | 41884
050140 | 40140 | 31084
050150 | 05 | 40900
050159 | 37100 | 31084
050168 | 42044 | 31084
050173 | 42044 | 31084
050174 | 42220 | 41884
050177 | 37100 | 31084
050193 | 42044 | 31084
050224 | 42044 | 31084
050226 | 42044 | 31084
050228 | 41884 | 36084
050230 | 42044 | 31084
050236 | 37100 | 31084
050243 | 40140 | 42044
050245 | 40140 | 31084
050251 | 05 | 39900
050272 | 40140 | 31084
050279 | 40140 | 31084
050291 | 42220 | 41884
050292 | 40140 | 42044
050298 | 40140 | 31084
050300 | 40140 | 31084
050327 | 40140 | 31084
050329 | 40140 | 42044
050331 | 42220 | 41884
050348 | 42044 | 31084
050385 | 42220 | 41884
050390 | 40140 | 42044
050394 | 37100 | 31084
050419 | 05 | 39820
050423 | 40140 | 42044
050426 | 42044 | 31084
050430 | 05 | 39900
050510 | 41884 | 36084
050517 | 40140 | 31084
050526 | 42044 | 31084
050534 | 40140 | 42044
050535 | 42044 | 31084
050541 | 41884 | 36084
050543 | 42044 | 31084
050547 | 42220 | 41884
050548 | 42044 | 31084
050550 | 42044 | 31084
050551 | 42044 | 31084
050567 | 42044 | 31084
050569 | 05 | 42220
050570 | 42044 | 31084
050573 | 40140 | 42044
050580 | 42044 | 31084
050584 | 40140 | 31084
050585 | 42044 | 31084
050586 | 40140 | 31084
050589 | 42044 | 31084
050592 | 42044 | 31084
050594 | 42044 | 31084
050603 | 42044 | 31084
050609 | 42044 | 31084
050616 | 37100 | 31084
050667 | 34900 | 46700
050668 | 41884 | 36084
050678 | 42044 | 31084
050684 | 40140 | 42044
050686 | 40140 | 42044
050690 | 42220 | 41884
050693 | 42044 | 31084
050694 | 40140 | 42044
050701 | 40140 | 42044
050709 | 40140 | 31084
050718 | 40140 | 42044
050720 | 42044 | 31084
050728 | 42220 | 41884
060001 | 24540 | 19740
060003 | 14500 | 19740
060023 | 24300 | 39340
060027 | 14500 | 19740
060044 | 06 | 19740
060049 | 06 | 22660
060096 | 06 | 19740
060103 | 14500 | 19740
070003 | 07 | 25540 | LUGAR
070021 | 07 | 25540 | LUGAR
070033 | 14860 | 35644
080004 | 20100 | 48864
080007 | 08 | 36140
100022 | 33124 | 22744
100023 | 10 | 36740
100024 | 10 | 33124
100045 | 19660 | 36740
100049 | 10 | 29460
100081 | 10 | 23020 | LUGAR
100109 | 10 | 36740
100118 | 10 | 27260
100139 | 10 | 23540 | LUGAR
100150 | 10 | 33124
100157 | 29460 | 45300
100176 | 48424 | 38940
100217 | 46940 | 38940
100232 | 10 | 27260
100239 | 45300 | 42260
100249 | 10 | 36100
100252 | 10 | 38940
100292 | 10 | 23020 | LUGAR
110001 | 19140 | 12060
110002 | 11 | 12060
110003 | 11 | 27260
110023 | 11 | 12060
110025 | 15260 | 27260
110029 | 23580 | 12060
110038 | 11 | 45220
110040 | 11 | 12060 | LUGAR
110041 | 11 | 12020
110052 | 11 | 16860 | LUGAR
110054 | 40660 | 12060
110069 | 47580 | 31420
110075 | 11 | 42340
110088 | 11 | 12060 | LUGAR
110095 | 11 | 46660
110117 | 11 | 12060 | LUGAR
110122 | 46660 | 45220
110125 | 11 | 31420
110128 | 11 | 42340
110150 | 11 | 31420
110153 | 47580 | 31420
110168 | 40660 | 12060
110187 | 11 | 12060 | LUGAR
110189 | 11 | 12060
110205 | 11 | 12060
120028 | 12 | 26180
130002 | 13 | 14260
130003 | 30300 | 50
130049 | 17660 | 44060
140012 | 14 | 16974
140015 | 14 | 41180
140032 | 14 | 41180
140034 | 14 | 41180
140040 | 14 | 37900
140043 | 14 | 40420
140046 | 14 | 41180
140058 | 14 | 41180
140061 | 14 | 41180
140064 | 14 | 37900
140110 | 14 | 16974
140143 | 14 | 37900
140160 | 14 | 40420
140161 | 14 | 16974
140164 | 14 | 41180
140189 | 14 | 16580
140233 | 40420 | 16974
140234 | 14 | 37900
140236 | 14 | 28100 | LUGAR
140291 | 29404 | 16974
150002 | 23844 | 16974
150004 | 23844 | 16974
150006 | 33140 | 43780
150008 | 23844 | 16974
150011 | 15 | 26900
150015 | 33140 | 16974
150030 | 15 | 26900 | LUGAR
150048 | 15 | 17140
150065 | 15 | 26900
150069 | 15 | 17140
150076 | 15 | 43780
150088 | 11300 | 26900
150090 | 23844 | 16974
150102 | 15 | 23844 | LUGAR
150112 | 18020 | 26900
150113 | 11300 | 26900
150125 | 23844 | 16974
150126 | 23844 | 16974
150132 | 23844 | 16974
150133 | 15 | 23060
150146 | 15 | 23060
150147 | 23844 | 16974
160001 | 16 | 11180
160016 | 16 | 19780
160026 | 16 | 11180 | LUGAR
160057 | 16 | 26980
160080 | 16 | 40420
160089 | 16 | 19780
160147 | 16 | 11180
170006 | 17 | 27900
170010 | 17 | 46140
170012 | 17 | 48620
170013 | 17 | 48620
170020 | 17 | 48620
170022 | 17 | 28140
170023 | 17 | 48620
170033 | 17 | 48620
170058 | 17 | 28140
170068 | 17 | 11100
170120 | 17 | 27900
170142 | 17 | 45820
170175 | 17 | 48620
180005 | 18 | 26580
180011 | 18 | 30460
180012 | 21060 | 31140
180013 | 14540 | 34980
180017 | 18 | 21060
180018 | 18 | 30460
180019 | 18 | 17140
180024 | 18 | 31140
180027 | 18 | 17300
180028 | 18 | 26580
180029 | 18 | 28700
180044 | 18 | 26580
180048 | 18 | 31140
180066 | 18 | 34980
180069 | 18 | 26580
180075 | 18 | 14540 | LUGAR
180078 | 18 | 26580
180080 | 18 | 28940
180093 | 18 | 21780
180102 | 18 | 17300
180104 | 18 | 17300
180116 | 18 | 14
180124 | 14540 | 34980
180127 | 18 | 31140
180132 | 18 | 30460
180139 | 18 | 30460
190001 | 19 | 35380
190003 | 19 | 29180
190015 | 19 | 35380
190086 | 19 | 43340
190099 | 19 | 12940
190106 | 19 | 10780
190131 | 12940 | 35380
190155 | 19 | 12940 | LUGAR
190164 | 19 | 10780
190191 | 19 | 12940
190223 | 19 | 12940 | LUGAR
200002 | 20 | 38860
200020 | 38860 | 40484
200024 | 30340 | 38860
200034 | 30340 | 38860
200039 | 20 | 38860
200050 | 20 | 12620
200063 | 20 | 38860
220001 | 49340 | 14484
220002 | 15764 | 14484
220003 | 49340 | 14484
220010 | 21604 | 14484
220011 | 15764 | 14484
220019 | 49340 | 14484
220025 | 49340 | 14484
220028 | 49340 | 14484
220029 | 21604 | 14484
220033 | 21604 | 14484
220035 | 21604 | 14484
220049 | 15764 | 14484
220058 | 49340 | 14484
220060 | 14484 | 12700
220062 | 49340 | 14484
220063 | 15764 | 14484
220070 | 15764 | 14484
220077 | 44140 | 25540
220080 | 21604 | 14484
220082 | 15764 | 14484
220084 | 15764 | 14484
220089 | 15764 | 14484
220090 | 49340 | 14484
220095 | 49340 | 14484
220098 | 15764 | 14484
220101 | 15764 | 14484
220105 | 15764 | 14484
220133 | 15764 | 14484
220163 | 49340 | 14484
220171 | 15764 | 14484
220174 | 21604 | 14484
230022 | 23 | 11460
230030 | 23 | 40980
230035 | 23 | 24340 | LUGAR
230037 | 23 | 11460
230042 | 23 | 26100 | LUGAR
230047 | 47644 | 19804
230054 | 23 | 24580
230069 | 47644 | 22420
230077 | 40980 | 22420
230080 | 23 | 40980
230093 | 23 | 24340
230096 | 23 | 28020
230099 | 33780 | 11460
230105 | 23 | 13020
230121 | 23 | 29620 | LUGAR
230134 | 23 | 26100 | LUGAR
230195 | 47644 | 19804
230204 | 47644 | 19804
230208 | 23 | 24340 | LUGAR
230217 | 12980 | 29620
230227 | 47644 | 19804
230235 | 23 | 40980 | LUGAR
230257 | 47644 | 19804
230264 | 47644 | 19804
230279 | 47644 | 22420
230295 | 23 | 26100 | LUGAR
240013 | 24 | 33460
240018 | 24 | 33460
240030 | 24 | 41060
240031 | 41060 | 33460
240036 | 41060 | 33460
240052 | 24 | 22020
240064 | 24 | 20260
240069 | 24 | 40340
240071 | 24 | 40340
240075 | 24 | 41060
240088 | 24 | 41060
240093 | 24 | 33460
240105 | 24 | 40340 | LUGAR
240150 | 24 | 40340 | LUGAR
240152 | 24 | 33460
240187 | 24 | 33460
240211 | 24 | 33460
250004 | 25 | 32820
250006 | 25 | 32820
250009 | 25 | 27180
250023 | 25 | 25060 | LUGAR
250031 | 25 | 27140
250034 | 25 | 32820
250040 | 37700 | 25060
250042 | 25 | 32820
250069 | 25 | 46220
250079 | 25 | 27140
250081 | 25 | 27140
250082 | 25 | 38220
250094 | 25620 | 25060
250097 | 25 | 12940
250099 | 25 | 27140
250100 | 25 | 46220
250104 | 25 | 27140
250117 | 25 | 25060 | LUGAR
260009 | 26 | 28140
260011 | 27620 | 17860
260017 | 26 | 41180
260022 | 26 | 16
260025 | 26 | 41180
260047 | 27620 | 17860
260049 | 26 | 44180 | LUGAR
260064 | 26 | 17860
260074 | 26 | 17860
260094 | 26 | 44180
260110 | 26 | 41180
260113 | 26 | 14
260116 | 26 | 14
260183 | 26 | 41180
260186 | 26 | 17860
270003 | 27 | 24500
270011 | 27 | 24500
270017 | 27 | 33540
270051 | 27 | 33540
280009 | 28 | 30700
280023 | 28 | 30700
280032 | 28 | 30700
280057 | 28 | 30700
280061 | 28 | 53
280065 | 28 | 24540
280077 | 28 | 36540
290002 | 29 | 16180 | LUGAR
290006 | 29 | 39900
290008 | 29 | 29820
290019 | 16180 | 39900
300003 | 30 | 31700
300005 | 30 | 31700
300007 | 31700 | 15764
300011 | 31700 | 15764
300012 | 31700 | 15764
300014 | 40484 | 31700
300017 | 40484 | 21604
300018 | 40484 | 31700
300019 | 30 | 15764
300020 | 31700 | 15764
300023 | 40484 | 21604
300029 | 40484 | 21604
300034 | 31700 | 15764
310002 | 35084 | 35644
310009 | 35084 | 35644
310013 | 35084 | 35644
310015 | 35084 | 35644
310018 | 35084 | 35644
310031 | 15804 | 20764
310032 | 47220 | 48864
310038 | 20764 | 35644
310048 | 20764 | 35084
310054 | 35084 | 35644
310070 | 20764 | 35644
310076 | 35084 | 35644
310078 | 35084 | 35644
310083 | 35084 | 35644
310093 | 35084 | 35644
310096 | 35084 | 35644
310119 | 35084 | 35644
320005 | 22140 | 10740
320006 | 32 | 42140
320013 | 32 | 42140
320014 | 32 | 29740
320033 | 32 | 42140 | LUGAR
320063 | 32 | 36220
320065 | 32 | 36220
330001 | 39100 | 35644
330004 | 28740 | 39100
330008 | 33 | 15380 | LUGAR
330027 | 35004 | 35644
330038 | 33 | 40380 | LUGAR
330062 | 33 | 27060 | LUGAR
330073 | 33 | 40380 | LUGAR
330085 | 33 | 45060
330094 | 33 | 28740
330136 | 33 | 45060
330157 | 33 | 45060
330181 | 35004 | 35644
330182 | 35004 | 35644
330191 | 24020 | 10580
330229 | 27460 | 21500
330235 | 33 | 45060 | LUGAR
330239 | 27460 | 21500
330250 | 33 | 15540
330277 | 33 | 27060
330359 | 33 | 39100 | LUGAR
330386 | 33 | 39100 | LUGAR
340004 | 24660 | 49180
340008 | 34 | 16740
340010 | 24140 | 39580
340013 | 34 | 16740
340018 | 34 | 43900 | LUGAR
340021 | 34 | 16740
340023 | 11700 | 24860
340027 | 34 | 24780
340039 | 34 | 16740
340050 | 34 | 22180
340051 | 34 | 25860
340068 | 34 | 48900
340069 | 39580 | 20500
340071 | 34 | 39580 | LUGAR
340073 | 39580 | 20500
340091 | 24660 | 49180
340109 | 34 | 47260
340114 | 39580 | 20500
340115 | 34 | 20500
340124 | 34 | 39580 | LUGAR
340127 | 34 | 20500 | LUGAR
340129 | 34 | 16740
340131 | 34 | 24780
340136 | 34 | 20500 | LUGAR
340138 | 39580 | 20500
340144 | 34 | 16740
340145 | 34 | 16740 | LUGAR
340147 | 40580 | 39580
340173 | 39580 | 20500
350009 | 35 | 22020
360008 | 36 | 26580
360010 | 36 | 10420
360011 | 36 | 18140
360013 | 36 | 30620
360014 | 36 | 18140
360019 | 10420 | 17460
360020 | 10420 | 17460
360025 | 41780 | 17460
360027 | 10420 | 17460
360036 | 36 | 17460
360039 | 36 | 18140
360054 | 36 | 16620
360065 | 36 | 17460
360078 | 10420 | 17460
360079 | 19380 | 17140
360086 | 44220 | 19380
360096 | 36 | 49660 | LUGAR
360107 | 36 | 17460
360112 | 45780 | 11460
360125 | 36 | 17460 | LUGAR
360150 | 10420 | 17460
360159 | 36 | 18140
360175 | 36 | 18140
360185 | 36 | 49660 | LUGAR
360187 | 44220 | 19380
360197 | 36 | 18140
360211 | 48260 | 38300
360238 | 36 | 49660 | LUGAR
360241 | 10420 | 17460
360245 | 36 | 17460 | LUGAR
370004 | 37 | 27900
370014 | 37 | 43300
370015 | 37 | 46140
370018 | 37 | 46140
370022 | 37 | 30020
370025 | 37 | 46140
370034 | 37 | 22900
370047 | 37 | 43300
370049 | 37 | 36420
370099 | 37 | 46140
370103 | 37 | 45
370113 | 37 | 22220
370179 | 37 | 46140
380001 | 38 | 38900
380008 | 38 | 18700 | LUGAR
380022 | 38 | 18700 | LUGAR
380027 | 38 | 21660
380047 | 13460 | 21660
380050 | 38 | 32780
380070 | 38 | 38900
390006 | 39 | 25420
390013 | 39 | 25420
390016 | 39 | 49660
390030 | 39 | 10900
390031 | 39 | 39740 | LUGAR
390048 | 39 | 25420
390052 | 39 | 11020
390065 | 39 | 47894
390066 | 30140 | 25420
390071 | 39 | 48700 | LUGAR
390079 | 39 | 13780
390081 | 37964 | 48864
390086 | 39 | 44300
390091 | 39 | 49660
390093 | 39 | 49660
390110 | 27780 | 38300
390113 | 39 | 49660
390133 | 10900 | 37964
390138 | 39 | 47894
390150 | 39 | 38300 | LUGAR
390151 | 39 | 47894
390156 | 37964 | 48864
390180 | 37964 | 48864
390222 | 37964 | 48864
390224 | 39 | 13780 | LUGAR
390244 | 39 | 48700 | LUGAR
390246 | 39 | 48700
390249 | 39 | 13780 | LUGAR
400048 | 25020 | 41980
410001 | 39300 | 14484
410004 | 39300 | 14484
410005 | 39300 | 14484
410006 | 39300 | 14484
410007 | 39300 | 14484
410008 | 39300 | 14484
410009 | 39300 | 14484
410011 | 39300 | 14484
410012 | 39300 | 14484
410013 | 39300 | 14484
420009 | 42 | 24860 | LUGAR
420020 | 42 | 16700
420028 | 42 | 44940 | LUGAR
420030 | 42 | 16700
420036 | 42 | 16740
420039 | 42 | 43900 | LUGAR
420067 | 42 | 42340
420068 | 42 | 16700
420069 | 42 | 44940 | LUGAR
420070 | 44940 | 17900
420071 | 42 | 24860
420080 | 42 | 42340
420085 | 34820 | 48900
430012 | 43 | 43620
430014 | 43 | 22020
430094 | 43 | 53
440008 | 44 | 21780
440020 | 44 | 26620
440035 | 17300 | 34980
440050 | 44 | 11700
440058 | 44 | 16860
440059 | 44 | 34980
440060 | 44 | 27180
440067 | 34100 | 28940
440068 | 44 | 16860
440072 | 44 | 32820
440073 | 44 | 34980
440148 | 44 | 34980
440151 | 44 | 34980
440175 | 44 | 34980
440180 | 44 | 28940
440185 | 17420 | 16860
440192 | 44 | 34980
450007 | 45 | 41700
450032 | 45 | 43340
450039 | 23104 | 19124
450059 | 41700 | 12420
450064 | 23104 | 19124
450073 | 45 | 10180
450080 | 45 | 30980
450087 | 23104 | 19124
450098 | 45 | 30980
450099 | 45 | 11100
450121 | 23104 | 19124
450135 | 23104 | 19124
450137 | 23104 | 19124
450144 | 45 | 36220
450148 | 23104 | 19124
450187 | 45 | 26420
450192 | 45 | 19124
450194 | 45 | 19124
450196 | 45 | 19124
450211 | 45 | 26420
450214 | 45 | 26420
450224 | 45 | 46340
450283 | 45 | 19124 | LUGAR
450286 | 45 | 17780 | LUGAR
450347 | 45 | 26420
450351 | 45 | 23104
450389 | 45 | 19124 | LUGAR
450400 | 45 | 47380
450419 | 23104 | 19124
450438 | 45 | 26420
450447 | 45 | 19124
450451 | 45 | 23104
450484 | 45 | 26420
450508 | 45 | 46340
450547 | 45 | 19124
450563 | 23104 | 19124
450623 | 45 | 19124 | LUGAR
450639 | 23104 | 19124
450653 | 45 | 33260
450656 | 45 | 46340
450672 | 23104 | 19124
450675 | 23104 | 19124
450677 | 23104 | 19124
450694 | 45 | 26420
450747 | 45 | 19124
450755 | 45 | 31180
450770 | 45 | 12420 | LUGAR
450779 | 23104 | 19124
450830 | 45 | 36220
450839 | 45 | 43340
450858 | 23104 | 19124
450872 | 23104 | 19124
450880 | 23104 | 19124
460004 | 36260 | 41620
460005 | 36260 | 41620
460007 | 46 | 41100
460011 | 46 | 39340
460021 | 41100 | 29820
460036 | 46 | 39340
460039 | 46 | 36260
460041 | 36260 | 41620
460042 | 36260 | 41620
470001 | 47 | 30
470011 | 47 | 15764
470012 | 47 | 38340
490004 | 25500 | 16820
490005 | 49020 | 47894
490006 | 49 | 49020 | LUGAR
490013 | 49 | 31340
490018 | 49 | 16820
490047 | 49 | 25500 | LUGAR
490079 | 49 | 49180
490092 | 49 | 40060
490105 | 49 | 28700
490106 | 49 | 16820
490109 | 47260 | 40060
500002 | 50 | 28420
500003 | 34580 | 42644
500016 | 48300 | 42644
500024 | 36500 | 45104
500031 | 50 | 36500
500039 | 14740 | 42644
500041 | 31020 | 38900
500072 | 50 | 42644
500139 | 36500 | 45104
500143 | 36500 | 45104
510001 | 34060 | 38300
510002 | 51 | 40220
510006 | 51 | 38300
510018 | 51 | 16620 | LUGAR
510024 | 34060 | 38300
510028 | 51 | 16620
510030 | 51 | 34060
510046 | 51 | 16620
510047 | 51 | 38300
510070 | 51 | 16620
510071 | 51 | 16620
510077 | 51 | 26580
520002 | 52 | 48140
520021 | 29404 | 16974
520028 | 52 | 31540 | LUGAR
520037 | 52 | 48140
520059 | 39540 | 29404
520060 | 52 | 22540 | LUGAR
520066 | 27500 | 31540
520071 | 52 | 33340 | LUGAR
520076 | 52 | 31540
520088 | 22540 | 33340
520094 | 39540 | 33340
520095 | 52 | 31540
520096 | 39540 | 33340
520102 | 52 | 33340 | LUGAR
520107 | 52 | 24580
520113 | 52 | 24580
520116 | 52 | 33340 | LUGAR
520152 | 52 | 24580
520173 | 52 | 20260
520189 | 29404 | 16974
530002 | 53 | 16220
530025 | 53 | 22660

Addendum N.—Hospital Reclassifications and Redesignations by Individual Hospital Under Section 508 of Pub. L. 108-173
Provider No. | Geographic CBSA | Wage index CBSA 508 reclassification | Own wage index
010150 | 01 | 17980 |
020008 | 02 |  | 1.2841
050494 | 05 | 42220 |
050549 | 37100 | 42220 |
060057 | 06 | 19740 |
060075 | 06 |  | 1.1709
070001 | 35300 | 35004 |
070005 | 35300 | 35004 |
070010 | 14860 | 35644 |
070016 | 35300 | 35004 |
070017 | 35300 | 35004 |
070019 | 35300 | 35004 |
070022 | 35300 | 35004 |
070028 | 14860 | 35644 |
070031 | 35300 | 35004 |
070036 | 25540 |  | 1.2926
070039 | 35300 | 35004 |
120025 | 12 | 26180 |
150034 | 23844 | 16974 |
160040 | 47940 | 16300 |
160064 | 16 |  | 1.0228
160067 | 47940 | 16300 |
160110 | 47940 | 16300 |
190218 | 19 | 43340 |
220046 | 38340 | 14484 |
230003 | 26100 | 28020 |
230004 | 34740 | 28020 |
230013 | 47644 | 22420 |
230019 | 47644 | 22420 |
230020 | 19804 | 11460 |
230024 | 19804 | 11460 |
230029 | 47644 | 22420 |
230036 | 23 | 22420 |
230038 | 24340 | 28020 |
230053 | 19804 | 11460 |
230059 | 24340 | 28020 |
230066 | 34740 | 28020 |
230071 | 47644 | 22420 |
230072 | 26100 | 28020 |
230089 | 19804 | 11460 |
230092 | 27100 | 24340 |
230097 | 23 | 28020 |
230104 | 19804 | 11460 |
230106 | 24340 | 28020 |
230119 | 19804 | 11460 |
230130 | 47644 | 22420 |
230135 | 19804 | 11460 |
230146 | 19804 | 11460 |
230151 | 47644 | 22420 |
230165 | 19804 | 11460 |
230174 | 26100 | 28020 |
230176 | 19804 | 11460 |
230207 | 47644 | 22420 |
230223 | 47644 | 22420 |
230236 | 24340 | 28020 |
230254 | 47644 | 22420 |
230269 | 47644 | 22420 |
230270 | 19804 | 11460 |
230273 | 19804 | 11460 |
230277 | 47644 | 22420 |
250002 | 25 | 25060 |
250122 | 25 | 25060 |
270021 | 27 | 13740 |
270023 | 33540 | 13740 |
270032 | 27 | 13740 |
270050 | 27 | 13740 |
270057 | 27 | 13740 |
310021 | 45940 | 35644 |
310028 | 35084 | 35644 |
310050 | 35084 | 35644 |
310051 | 35084 | 35644 |
310060 | 10900 | 35644 |
310115 | 10900 | 35644 |
310120 | 35084 | 35644 |
330049 | 39100 | 35644 |
330067 | 39100 | 35300 |
330106 | 35004 |  | 1.4734
330126 | 39100 | 35644 |
330135 | 39100 | 35644 |
330205 | 39100 | 35644 |
330264 | 39100 | 35004 |
340002 | 11700 | 16740 |
350002 | 13900 | 22020 |
350003 | 35 | 22020 |
350006 | 35 | 22020 |
350010 | 35 | 22020 |
350014 | 35 | 22020 |
350015 | 13900 | 22020 |
350017 | 35 | 22020 |
350030 | 35 | 22020 |
350061 | 35 | 22020 |
380090 | 38 |  | 1.2316
390001 | 42540 | 10900 |
390003 | 39 | 10900 |
390054 | 42540 | 29540 |
390072 | 39 | 10900 |
390095 | 42540 | 10900 |
390109 | 42540 | 10900 |
390119 | 42540 | 10900 |
390137 | 42540 | 10900 |
390169 | 42540 | 10900 |
390185 | 42540 | 29540 |
390192 | 42540 | 10900 |
390237 | 42540 | 10900 |
390270 | 42540 | 29540 |
410010 | 39300 |  | 1.1746
430005 | 43 | 39660 |
430015 | 43 | 43620 |
430048 | 43 | 43620 |
430060 | 43 | 43620 |
430064 | 43 | 43620 |
430077 | 39660 | 43620 |
430091 | 39660 | 43620 |
450010 | 48660 | 32580 |
450072 | 26420 | 26420 |
450591 | 26420 | 26420 |
470003 | 15540 | 14484 |
490001 | 49 | 31340 |
490024 | 40220 | 19260 |
530015 | 53 |  | 0.9897
070006* | 14860 | 35644 |
070018* | 14860 | 35644 |
070034* | 14860 | 35644 |
140155* | 28100 | 16974 |
140186* | 28100 | 16974 |
250078* | 25620 | 25060 |
270002* | 27 | 33540 |
270012* | 24500 | 33540 |
270084* | 27 | 33540 |
330023* | 39100 | 35644 |
330067* | 39100 | 35644 |
350019* | 24220 | 22020 |
430008* | 43 | 43620 |
430013* | 43 | 43620 |
430031* | 43 | 43620 |
530008* | 53 | 16220 |
530010* | 53 | 16220 |
* These hospitals are assigned a wage index value under a special exceptions policy (FY 2005 IPPS final rule, 69 FR 49105).

Addendum O.—Hospitals Redesignated as Rural Under Section 1886(d)(8)(E) of the Act
Provider No. | Geographic CBSA | Redesignated rural area
030007 | 39140 | 03
040075 | 22220 | 04
050192 | 23420 | 05
050469 | 40140 | 05
050528 | 32900 | 05
050618 | 40140 | 05
070004 | 25540 | 07
100048 | 37860 | 10
100134 | 27260 | 10
130018 | 26820 | 13
140167 | 14 | 14
150051 | 14020 | 15
150078 | 23844 | 15
170137 | 29940 | 17
190048 | 26380 | 19
230078 | 35660 | 23
240037 | 33460 | 24
260006 | 41140 | 26
300009 | 31700 | 30
370054 | 36420 | 37
380040 | 13460 | 38
380084 | 41420 | 38
390181 | 39 | 39
390183 | 39 | 39
390201 | 39 | 39
450052 | 45 | 45
450078 | 10180 | 45
450243 | 10180 | 45
450276 | 48660 | 45
450348 | 45 | 45
500023 | 28420 | 50
500037 | 49420 | 50
500122 | 50 | 50
500147 | 42644 | 50
500148 | 48300 | 50

[FR Doc. 05-14448 Filed 7-18-05; 4:10 pm]

BILLING CODE 4120-01-P